DEPARTMENT OF HEALTH AND HUMAN SERVICES

Centers for Medicare & Medicaid Services

42 CFR Parts 409, 410, 412, 413, 424, 485, and 489

[CMS-1488-P]

RIN 0938-AO12

Medicare Program; Proposed Changes to the Hospital Inpatient Prospective Payment Systems and Fiscal Year 2007 Rates

AGENCY: Centers for Medicare & Medicaid Services (CMS), HHS.

ACTION: Proposed rule.

SUMMARY: We are proposing to revise the Medicare hospital inpatient prospective payment systems (IPPS) for operating and capital-related costs to implement changes arising from our continuing experience with these systems, and to implement a number of changes made by the Deficit Reduction Act of 2005 (Pub. L. 109-171). In addition, in the Addendum to this proposed rule, we describe the proposed changes to the amounts and factors used to determine the rates for Medicare hospital inpatient services for operating costs and capital-related costs. We also are setting forth proposed rate-of-increase limits as well as proposed policy changes for hospitals and hospital units excluded from the IPPS that are paid in full or in part on a reasonable cost basis subject to these limits. These proposed changes would be applicable to discharges occurring on or after October 1, 2006.

In this proposed rule, we discuss our proposals to refine the diagnosis-related group (DRG) system under the IPPS to better recognize severity of illness among patients—for FY 2007, we are proposing to use a hospital-specific relative value cost center weighting methodology to adjust DRG relative weights and in FY 2008 (if not earlier), to implement consolidated severity-adjusted DRGs or alternative severity adjustment methods.

Among the other policy changes that we are proposing to make are changes related to: limited revisions of the reclassification of cases to DRGs; the long-term care (LTC)-DRGs and relative weights; the wage data, including the occupational mix data, used to compute the wage index; applications for new technologies and medical services add-on payments; payments to hospitals for the direct and indirect costs of graduate medical education; submission of hospital quality data; payments to sole community hospitals and Medicare-dependent, small rural hospitals; and provisions governing emergency services under the Emergency Medical Treatment and Labor Act of 1986 (EMTALA).

We are also inviting comments on a number of issues including performance-based hospital payments for services and health information technology, as well as how to improve data transparency for consumers.

DATES: To be assured consideration, comments must be received at one of the addresses provided below, no later than 5 p.m. on June 12, 2006.

ADDRESSES: In commenting, please refer to file code CMS-1488-P. Because of staff and resource limitations, we cannot accept comments by facsimile (FAX) transmission.

You may submit comments in one of three ways (no duplicates, please):

1. Electronically. You may submit electronic comments on specific issues in this regulation to http://www.cms.hhs.gov/eRulemaking. Click on the link “Submit electronic comments on CMS regulations with an open comment period”. (Attachments should be in Microsoft Word, WordPerfect, or Excel; however, we prefer Microsoft Word.)

2. By regular mail. You may mail written comments (one original and two copies) to the following address ONLY: Centers for Medicare & Medicaid Services, Department of Health and Human Services, Attention: CMS-1488-P, P.O. Box 8011, Baltimore, MD 21244-1850.

Please allow sufficient time for mailed comments to be received before the close of the comment period.

3. By express or overnight mail. You may send written comments (one original and two copies) to the following address ONLY: Centers for Medicare & Medicaid Services, Department of Health and Human Services, Attention: CMS-1488-P, Mail Stop C4-26-05, 7500 Security Boulevard, Baltimore, MD 21244-1850.

4. By hand or courier. If you prefer, you may deliver (by hand or courier) your written comments (one original and two copies) before the close of the comment period to one of the following addresses. If you intend to deliver your comments to the Baltimore address, please call telephone number (410) 786-7195 in advance to schedule your arrival with one of our staff members. Room 445-G, Hubert H. Humphrey Building, 200 Independence Avenue, SW., Washington, DC 20201, or 7500 Security Boulevard, Baltimore, MD 21244-1850.

(Because access to the interior of the Hubert H. Humphrey Building is not readily available to persons without Federal Government identification, commenters are encouraged to leave their comments in the CMS drop slots located in the main lobby of the building. A stamp-in clock is available for persons wishing to retain proof of filing by stamping in and retaining an extra copy of the comments being filed.)

Comments mailed to the addresses indicated as appropriate for hand or courier delivery may be delayed and received after the comment period.

Submission of comments on paperwork requirements. You may submit comments on this document's paperwork requirements by mailing your comments to the addresses provided at the end of the “Collection of Information Requirements” section in this document.

For information on viewing public comments, see the beginning of the SUPPLEMENTARY INFORMATION section.

FOR FURTHER INFORMATION CONTACT:

Marc Hartstein, (410) 786-4548, Operating Prospective Payment, Diagnosis-Related Groups (DRGs), Wage Index, New Medical Services and Technology Add-On Payments, Hospital Geographic Reclassifications, Sole Community Hospital, Disproportionate Share Hospital, and Medicare-Dependent, Small Rural Hospital Issues.

Tzvi Hefter, (410) 786-4487, Capital Prospective Payment, Excluded Hospitals, Graduate Medical Education, Critical Access Hospitals, and Long-Term Care (LTC)-DRG Issues.

Siddhartha Mazumdar, (410) 786-6673, Rural Community Hospital Demonstration Issues.

Sheila Blackstock, (410) 786-3502, Quality Data for Annual Payment Update Issues.

Thomas Valuck, (410) 786-7479, Hospital Value-Based Purchasing Issues.

Frederick Grabau, (410) 786-0206, Services in Foreign Hospitals Issues.

Brian Reitz, (410) 786-5001, Obsolete Paper Claims Forms Issues.

SUPPLEMENTARY INFORMATION: Submitting Comments: We welcome comments from the public on all issues set forth in this rule to assist us in fully considering issues and developing policies. You can assist us by referencing the file code CMS-1488-P and the specific “issue identifier” that precedes the section on which you choose to comment.

Inspection of Public Comments: All comments received before the close of the comment period are available for viewing by the public, including any personally identifiable or confidential business information that is included in a comment. We post all comments received before the close of the comment period on the following Web site as soon as possible after they have been received: http://www.cms.hhs.gov/eRulemaking. Click on the link “Electronic Comments on CMS Regulations” on that Web site to view public comments.

Comments received timely will also be available for public inspection as they are received, generally beginning approximately 3 weeks after publication of a document, at the headquarters of the Centers for Medicare & Medicaid Services, 7500 Security Boulevard, Baltimore, Maryland 21244, Monday through Friday of each week from 8:30 a.m. to 4 p.m. To schedule an appointment to view public comments, phone 1-800-743-3951.

Electronic Access

This Federal Register document is also available from the Federal Register online database through GPO Access, a service of the U.S. Government Printing Office. Free public access is available on a Wide Area Information Server (WAIS) through the Internet and via asynchronous dial-in. Internet users can access the database by using the World Wide Web; the Superintendent of Documents' home page address is http://www.gpoaccess.gov/, by using local WAIS client software, or by telnet to swais.access.gpo.gov, then login as guest (no password required). Dial-in users should use communications software and modem to call (202) 512-1661; type swais, then login as guest (no password required).

Acronyms

AHA American Hospital Association

AHIMA American Health Information Management Association

AHRO Agency for Health Care Research and Quality

AMI Acute myocardial infarction

AOA American Osteopathic Association

APR DRG All Patient Refined Diagnosis Related Group System

ASC Ambulatory surgical center

ASP Average sales price

AWP Average wholesale price

BBA Balanced Budget Act of 1997, Public Law 105-33

BBRA Medicare, Medicaid, and SCHIP [State Children's Health Insurance Program] Balanced Budget Refinement Act of 1999, Public Law 106-113

BIPA Medicare, Medicaid, and SCHIP [State Children's Health Insurance Program] Benefits Improvement and Protection Act of 2000, Public Law 106-554

BLS Bureau of Labor Statistics

CAH Critical access hospital

CART CMS Abstraction & Reporting Tool

CBSAs Core-based statistical areas

CC Complication or comorbidity

CDAC Clinical Data Abstraction Center

CIPI Capital input price index

CPI Consumer price index

CMI Case-mix index

CMS Centers for Medicare & Medicaid Services

CMSA Consolidated Metropolitan Statistical Area

COBRA Consolidated Omnibus Reconciliation Act of 1985, Public Law 99-272

CPI Consumer price index

CRNA Certified registered nurse anesthetist

CY Calendar year

DRA Deficit Reduction Act of 2005, Public Law 109-171

DRG Diagnosis-related group

DSH Disproportionate share hospital

ECI Employment cost index

EMR Electronic medical record

EMTALA Emergency Medical Treatment and Labor Act of 1986, Public Law 99-272

FDA Food and Drug Administration

FFY Federal fiscal year

FIPS Federal information processing standards

FQHC Federally qualified health center

FTE Full-time equivalent

FY Fiscal year

GAAP Generally Accepted Accounting Principles

GAF Geographic Adjustment Factor

GME Graduate medical education

HCAHPS Hospital Consumer Assessment of Healthcare Providers and Systems

HCFA Health Care Financing Administration

HCRIS Hospital Cost Report Information System

HHA Home health agency

HHS Department of Health and Human Services

HIC Health insurance card

HIPAA Health Insurance Portability and Accountability Act of 1996, Public Law 104-191

HIPC Health Information Policy Council

HIS Health information system

HIT Health information technology

HMO Health maintenance organization

HSA Health savings account

HSCRC Maryland Health Services Cost Review Commission

HSRV Hospital-specific relative value

HSRVcc Hospital-specific relative value cost center

HQA Hospital Quality Alliance

HQI Hospital Quality Initiative

HwH Hospital-within-a-hospital

ICD-9-CM International Classification of Diseases, Ninth Revision, Clinical Modification

ICD-10-PCS International Classification of Diseases, Tenth Edition, Procedure Coding System

ICU Intensive care unit

IHS Indian Health Service

IME Indirect medical education

IOM Institute of Medicine

IPF Inpatient psychiatric facility

IPPS Acute care hospital inpatient prospective payment system

IRF Inpatient rehabilitation facility

JCAHO Joint Commission on Accreditation of Healthcare Organizations

LAMCs Large area metropolitan counties

LTC-DRG Long-term care diagnosis-related group

LTCH Long-term care hospital

MCE Medicare Code Editor

MCO Managed care organization

MCV Major cardiovascular condition

MDC Major diagnostic category

MDH Medicare-dependent, small rural hospital

MedPAC Medicare Payment Advisory Commission

MedPAR Medicare Provider Analysis and Review File

MEI Medicare Economic Index

MGCRB Medicare Geographic Classification Review Board

MMA Medicare Prescription Drug, Improvement, and Modernization Act of 2003, Public Law 108-173

MRHFP Medicare Rural Hospital Flexibility Program

MSA Metropolitan Statistical Area

NAICS North American Industrial Classification System

NCD National coverage determination

NCHS National Center for Health Statistics

NCQA National Committee for Quality Assurance

NCVHS National Committee on Vital and Health Statistics

NECMA New England County Metropolitan Areas

NICU Neonatal intensive care unit

NQF National Quality Forum

NTIS National Technical Information Service

NVHRI National Voluntary Hospital Reporting Initiative

OES Occupational employment statistics

OIG Office of the Inspector General

OMB Executive Office of Management and Budget

O.R. Operating room

OSCAR Online Survey Certification and Reporting (System)

PRM Provider Reimbursement Manual

PPI Producer price index

PMSAs Primary metropolitan statistical areas

PPS Prospective payment system

PRA Per resident amount

ProPAC Prospective Payment Assessment Commission

PRRB Provider Reimbursement Review Board

PS&R Provider Statistical and Reimbursement (System)

QIG Quality Improvement Group, CMS

QIO Quality Improvement Organization

RHC Rural health clinic

RHQDAPU Reporting hospital quality data for annual payment update

RNHCI Religious Nonmedical Health care Institution

RRC Rural referral center

RUCAs Rural-urban commuting area codes

RY Rate year

SAF Standard Analytic File

SCH Sole community hospital

SFY State fiscal year

SIC Standard Industrial Classification

SNF Skilled nursing facility

SOCs Standard occupational classifications

SOM State Operations Manual

SSA Social Security Administration

SSI Supplemental Security Income

TAG Technical Advisory Group

TEFRA Tax Equity and Fiscal Responsibility Act of 1982, Pub. L. 97-248

UHDDS Uniform hospital discharge data set

Table of Contents

I. Background

A. Summary

1. Acute Care Hospital Inpatient Prospective Payment System (IPPS)

2. Hospitals and Hospital Units Excluded From the IPPS

a. Inpatient Rehabilitation Facilities (IRFs)

b. Long-Term Care Hospitals (LTCHs)

c. Inpatient Psychiatric Facilities (IPFs)

3. Critical Access Hospitals (CAHs)

4. Payments for Graduate Medical Education (GME)

B. Provisions of the Deficit Reduction Act of 2005 (DRA)

C. Major Contents of this Proposed Rule

1. Proposed DRG Reclassifications and Recalibrations of Relative Weights

2. Proposed Changes to the Hospital Wage Index

3. Other Decisions and Proposed Changes to the IPPS for Operating Costs and GME Costs

4. Proposed Changes to the PPS for Capital-Related Costs

5. Proposed Changes for Hospitals and Hospital Units Excluded From the IPPS

6. Payment for Services Furnished Outside the United States

7. Payment for Blood Clotting Factor Administered to Inpatients With Hemophilia

8. Limitation on Payments to Skilled Nursing Facilities for Bad Debt

9. Determining Proposed Prospective Payment Operating and Capital Rates and Rate-of-Increase Limits

10. Impact Analysis

11. Recommendation of Update Factors for Operating Cost Rates of Payment for Inpatient Hospital Services

12. Discussion of Medicare Payment Advisory Commission Recommendations

13. Appendix C—Combinations of Consolidated Severity-Adjusted DRGs and Appendix D—Crosswalk of Consolidated Severity-Adjusted DRGs to Respective APR DRGs

II. Proposed Changes to DRG Classifications and Relative Weights

A. Background

B. DRG Reclassifications

1. General

2. Yearly Review for Making DRG Changes

3. Refinement of DRGs Based on Severity of Illness

C. Proposals for Revisions to the DRG System Used Under the IPPS

1. MedPAC Recommendations

2. Refinement of the Relative Weight Calculation

3. Refinement of DRGs Based on Severity of Illness

a. Comparison of the CMS DRG System and the APR DRG System

b. Consolidated Severity-Adjusted DRGs for Use in the IPPS

c. Changes to Case-Mix Index (CMI) From a New DRG System

4. Effect of Consolidated Severity-Adjusted DRGs on the Outlier Threshold

5. Impact of Refinement of DRG System on Payments

6. Conclusions

D. Proposed Changes to Specific DRG Classifications

1. Pre-MDCs: Pancreas Transplants

2. MDC 1 (Diseases and Disorders of the Nervous System)

a. Implantation of Intracranial Neurostimulator System for Deep Brain Stimulation (DBS)

b. Carotid Artery Stents

3. MDC 5 (Diseases and Disorders of the Circulatory System)

a. Insertion of Epicardial Leads for Defibrillator Devices

b. Application of Major Cardiovascular Diagnoses (MCVs) List to Defibrillator DRGs

4. MDC 8 (Diseases and Disorders of the Musculoskeletal System and Connective Tissue)

a. Hip and Knee Replacements

b. Spinal Fusion

c. Charite™ Spinal Disc Replacement Device

5. MDC 18 (Infectious and Parasitic Diseases (Systemic or Unspecified Sites)): Severe Sepsis

6. Medicare Code Editor (MCE) Changes

a. Newborn Diagnoses Edit

b. Diagnoses Allowed for Females Only Edit

c. Diagnoses Allowed for Males Only Edit

d. Manifestations Not Allowed as Principal Diagnosis Edit

e. Nonspecific Principal Diagnosis Edit

f. Unacceptable Principal Diagnosis Edit

g. Nonspecific O.R. Procedures Edit

h. Noncovered Procedures Edit

i. Bilateral Procedure Edit

7. Surgical Hierarchies

8. Refinement of Complications and Comorbidities (CC) List

a. Background

b. Comprehensive Review of the CC List

c. CC Exclusions List Proposed for FY 2007

9. Review of Procedure Codes in DRGs 468, 476, and 477

a. Moving Procedure Codes From DRG 468 or DRG 477 to MDCs

b. Reassignment of Procedures Among DRGs 468, 476, and 477

c. Adding Diagnosis or Procedure Codes to MDCs

10. Changes to the ICD-9-CM Coding System

E. Proposed Recalibration of DRG Weights

F. Proposed LTC-DRG Reclassifications and Relative Weights for LTCHs for FY 2007

1. Background

2. Proposed Changes in the LTC-DRG Classifications

a. Background

b. Patient Classifications into DRGs

3. Development of the Proposed FY 2007 LTC-DRG Relative Weights

a. General Overview of Development of the LTC-DRG Relative Weights

b. Data

c. Hospital-Specific Relative Value Methodology

d. Proposed Low-Volume LTC-DRGs

4. Steps for Determining the Proposed FY 2007 LTC-DRG Relative Weights

G. Proposed Add-On Payments for New Services and Technologies

1. Background

2. Public Input Before Publication of This Notice of Proposed Rulemaking on Add-On Payments

3. FY 2007 Status of Technologies Approved for FY 2006 Add-On Payments

a. Kinetra® Implantable Neurostimulator for Deep Brain Stimulation

b. Endovascular Graft Repair of the Thoracic Aorta

c. Restore® Rechargeable Implantable Neurostimulator

4. FY 2007 Applicants for New Technology Add-On Payments

a. C-Port® Distal Anastomosis System

b. NovoSeven® for Intracerebral Hemorrhage

c. X STOP Interspinous Process Decompression System

III. Proposed Changes to the Hospital Wage Index

A. Background

B. Core-Based Statistical Areas for the Proposed Hospital Wage Index

C. Proposed Occupational Mix Adjustment to the Proposed FY 2007 Index

1. Development of Data for the Proposed Occupational Mix Adjustment

2. Calculation of the Proposed FY 2007 Occupational Mix Adjustment Factor and the Proposed FY 2007 Occupational Mix Adjusted Wage Index

D. Worksheet S-3 Wage Data for the Proposed FY 2007 Wage Index Update

E. Verification of Worksheet S-3 Wage Data

F. Computation of the Proposed FY 2007 Unadjusted Wage Index

G. Computation of the Proposed FY 2007 Blended Wage Index

H. Proposed Revisions to the Wage Index Based on Hospital Redesignations

1. General

2. Effects of Reclassification

3. FY 2007 MGCRB Reclassifications

4. Proposed FY 2007 Redesignations Under Section 1886(d)(8)(B) of the Act

5. Reclassifications Under Section 508 of Pub. L. 108-173

6. Proposed Wage Indices for Reclassified Hospitals and Proposed Reclassification Budget Neutrality Factor

I. Proposed FY 2007 Wage Index Adjustment Based on Commuting Patterns of Hospital Employees

J. Process for Requests for Wage Index Data Corrections

K. Labor-Related Share for the Wage Index for FY 2007

L. Proxy for the Hospital Market Basket

IV. Other Decisions and Proposed Changes to the IPPS for Operating Costs and GME Costs

A. Reporting of Hospital Quality Data for Annual Hospital Payment Update

1. Background

2. New Procedures for Hospital Reporting of Quality Data

3. Electronic Medical Records

B. Value-Based Purchasing

1. Introduction

2. Premier Hospital Quality Incentive Demonstration

3. RHQDAPU Program

a. Section 501(b) of Pub. L. 108-173 (MMA)

b. Section 5001(a) of Pub. L. 109-171 (DRA)

4. Plan for Implementing Hospital Value-Based Purchasing Beginning With FY 2009

a. Measure Development and Refinement

b. Data Infrastructure

c. Incentive Methodology

d. Public Reporting

5. Considerations Related to Certain Conditions, Including Hospital-Acquired Infections

6. Promoting Effective Use of Health Information Technology

C. Sole Community Hospitals (SCHs) and Medicare-Dependent, Small Rural Hospitals (MDHs)

1. Background

2. Volume Decrease Adjustment for SCHs and MDHs

a. HAS/Monitrend Data

b. HAS/Monitrend Data Book Replacement Alternative

3. Mandatory Reporting Requirements for Any Changes in the Circumstances Under Which a Hospital Was Designated as an SCH or MDH

4. Proposed Payment Changes for MDHs Under the DRA of 2005

a. Background

b. Proposed Regulation Changes

5. Proposed Technical Change

D. Rural Referral Centers

1. Case-Mix Index

2. Discharges

E. Indirect Medical Education (IME) Adjustment

1. Background

2. IME Adjustment Factor for FY 2007

3. Technical Change to Revise Cross-Reference

F. Payment Adjustment for Disproportionate Share Hospitals (DSHs)

1. Background

2. Technical Corrections

3. Proposed Reinstatement of Inadvertently Deleted Provisions on DSH Payment Adjustment Factors

4. Enhanced DSH Adjustment for MDHs

G. Geographic Reclassifications

1. Background

2. Reclassifications under Section 508 of Pub. L. 108-173

3. Multicampus Hospitals

4. Urban Group Hospital Reclassifications

5. Effect of Change of Ownership on Urban County Group Reclassifications

6. Requested Reclassification for Hospitals Located in a Single Hospital MSA Surrounded by Rural Counties

H. Payment for Direct Graduate Medical Education

1. Background

2. Determination of Weighted Average Per Resident Amounts (PRAs) for Merged Teaching Hospitals

3. Determination of Per Resident Amounts (PRAs) for New Teaching Hospitals

4. Requirements for Counting and Appropriate Documentation of FTE Residents: Clarification

5. Resident Time Spent in Nonpatient Care Activities as Part of Approved Residency Programs

6. Medicare GME Affiliated Groups: Technical Changes to Regulations

I. Payment for the Costs of Nursing and Allied Health Education Activities: Clarification

J. Hospital Emergency Services Under EMTALA

1. Background

2. Role of the EMTALA Technical Advisory Group (TAG)

3. Definition of “Labor”

4. Application of EMTALA Requirements to Hospitals Without Dedicated Emergency Departments

5. Clarification of Reference to “Referral Centers”

K. Other Proposed Technical Changes

1. Proposed Cross-Reference Correction in Regulations on Limitations on Beneficiary Charges

2. Proposed Cross-Reference Corrections in Regulations on Payment Denials Based on Admissions and Quality Reviews

3. Proposed Cross-Reference Correction in Regulations on Outlier Payments

4. Removing References to Two Paper Claims Forms

L. Rural Community Hospital Demonstration Program

M. Health Care Information Transparency Initiative

V. Proposed Changes to the PPS for Capital-Related Costs

A. Background

B. Treatment of Certain Urban Hospitals Reclassified as Rural Hospitals Under § 412.103

C. Other Technical Corrections Relating to the Capital PPS Geographic Adjustment Factors

VI. Proposed Changes for Hospitals and Hospital Units Excluded From the IPPS

A. Payments to Existing Hospitals and Hospital Units

1. Payments to Existing Excluded Hospitals and Hospital Units

2. Separate PPS for IRFs

3. Separate PPS for LTCHs

4. Separate PPS for IPFs

5. Grandfathering of Hospitals-Within-Hospitals (HwHs) and Satellite Facilities

6. Proposed Changes to the Methodology for Determining LTCH Cost-to-Charge Ratios (CCRs) and the Reconciliation of High-Cost and Short-Stay Outlier Payments Under the LTCH PPS

a. Background

b. High-Cost Outliers

c. Short-Stay Outliers

7. Technical Corrections Relating to LTCHs

8. Proposed Cross-Reference Correction in Authority Citations for 42 CFR 412 and 413

B. Critical Access Hospitals (CAHs)

1. Background

2. Sunset of Designation of CAHs as Necessary Providers: Technical Correction

VII. Payment for Services Furnished Outside the United States

A. Background

B. Proposed Clarification of Regulations

VIII. Payment for Blood Clotting Factor Administered to Inpatients With Hemophilia

IX. Limitation on Payments to Skilled Nursing Facilities for Bad Debt

A. Background

B. Changes Made by Section 5004 of the DRA

C. Proposed Regulation Changes

X. MedPAC Recommendations

XI. Other Required Information

A. Requests for Data From the Public

B. Collection of Information Requirements

C. Public Comments

XII. Regulation Text

Addendum—Proposed Schedule of Standardized Amounts Effective With Discharges Occurring On or After October 1, 2006 and Update Factors and Rate-of-Increase Percentages Effective With Cost Reporting Periods Beginning on or After October 1, 2006

I. Summary and Background

II. Proposed Changes to Prospective Payment Rates for Hospital Inpatient Operating Costs for FY 2007

A. Calculation of the Adjusted Standardized Amount

1. Standardization of Base-Year Costs or Target Amounts

2. Computing the Average Standardized Amount

3. Updating the Average Standardized Amount

4. Other Adjustments to the Average Standardized Amount

a. Recalibration of DRG Weights and Updated Wage Index—Budget Neutrality Adjustment

b. Reclassified Hospitals—Budget Neutrality Adjustment

c. Outliers

d. Rural Community Hospital Demonstration Program Adjustment (Section 410A of Pub. L. 108-173)

5. Proposed FY 2007 Standardized Amount

B. Adjustments for Area Wage Levels and Cost-of-Living

1. Adjustment for Area Wage Levels

2. Adjustment for Cost-of-Living in Alaska and Hawaii

C. DRG Relative Weights

D. Calculation of the Proposed Prospective Payment Rates for FY 2007

1. Federal Rate

2. Hospital-Specific Rate (Applicable Only to SCHs and MDHs)

a. Calculation of Hospital-Specific Rate

b. Updating the FY 1982, FY 1987, FY 1996, and FY 2002 Hospital-Specific Rates for FY 2007

3. General Formula for Calculation of Proposed Prospective Payment Rates for Hospitals Located in Puerto Rico Beginning On or After October 1, 2006 and Before October 1, 2007

a. Puerto Rico Rate

b. National Rate

III. Proposed Changes to Payment Rates for Acute Care Hospital Inpatient Capital-Related Costs for FY 2007

A. Determination of Proposed Federal Hospital Inpatient Capital-Related Prospective Payment Rate Update

1. Projected Capital Standard Federal Rate Update

a. Description of the Update Framework

b. Comparison of CMS and MedPAC Update Recommendation

2. Proposed Outlier Payment Adjustment Factor

3. Proposed Budget Neutrality Adjustment Factor for Changes in DRG Classifications and Weights and the GAF

4. Proposed Exceptions Payment Adjustment Factor

5. Proposed Capital Standard Federal Rate for FY 2007

6. Proposed Special Capital Rate for Puerto Rico Hospitals

B. Calculation of the Proposed Inpatient Capital-Related Prospective Payments for FY 2007

C. Capital Input Price Index

1. Background

2. Forecast of the CIPI for FY 2007

IV. Payment Rates for Excluded Hospitals and Hospital Units: Proposed Rate-of-Increase Percentages

A. Payments to Existing Excluded Hospitals and Units

B. New Excluded Hospitals and Units

V. Proposed Payment for Blood Clotting Factor Administered to Inpatients With Hemophilia

Tables

Table 1A—National Adjusted Operating Standardized Amounts, Labor/Nonlabor (69.7 Percent Labor Share/30.3 Percent Nonlabor Share If Wage Index Is Greater Than 1)

Table 1B—National Adjusted Operating Standardized Amounts, Labor/Nonlabor (62 Percent Labor Share/38 Percent Nonlabor Share If Wage Index Is Less Than or Equal to 1)

Table 1C—Adjusted Operating Standardized Amounts for Puerto Rico, Labor/Nonlabor

Table 1D—Capital Standard Federal Payment Rate

Table 2—Hospital Case-Mix Indexes for Discharges Occurring in Federal Fiscal Year 2005; Hospital Wage Indexes for Federal Fiscal Year 2007; Hospital Average Hourly Wage for Federal Fiscal Years 2005 (2001 Wage Data), 2006 (2002 Wage Data), and 2007 (2003 Wage Data); Wage Indexes and 3-Year Average of Hospital Average Hourly Wages

Table 3A—FY 2007 and 3-Year Average Hourly Wage for Urban Areas by CBSA

Table 3B—FY 2007 and 3-Year Average Hourly Wage for Rural Areas by CBSA

Table 4A-1—Wage Index and Capital Geographic Adjustment Factor (GAF) for Urban Areas by CBSA—FY2007

Table 4A-2—Wage Index and Capital Geographic Adjustment Factor (GAF) for Certain Urban Areas by CBSA for the Period April 1 through September 30, 2007

Table 4B—Wage Index and Capital Geographic Adjustment Factor (GAF) for Rural Areas by CBSA—FY 2007

Table 4C-1—Wage Index and Capital Geographic Adjustment Factor (GAF) for Hospitals That Are Reclassified by CBSA—FY 2007

Table 4C-2—Wage Index and Capital Geographic Adjustment Factor (GAF) for Certain Hospitals That Are Reclassified by CBSA for the Period April 1 Through September 30, 2007

Table 4F—Puerto Rico Wage Index and Capital Geographic Adjustment Factor (GAF) by CBSA—FY 2007

Table 4J—Out-Migration Wage Adjustment—FY 2007

Table 5—List of Diagnosis-Related Groups (DRGs), Relative Weighting Factors, and Geometric and Arithmetic Mean Length of Stay (LOS)

Table 6A—New Diagnosis Codes

Table 6B—New Procedure Codes

Table 6C—Invalid Diagnosis Codes

Table 6D—Invalid Procedure Codes

Table 6E—Revised Diagnosis Code Titles

Table 6F—Revised Procedure Code Titles

Table 6G—Additions to the CC Exclusions List

Table 6H—Deletions from the CC Exclusions List

Table 7A—Medicare Prospective Payment System Selected Percentile Lengths of Stay: FY 2005 MedPAR Update December 2005 GROUPER V23.0

Table 7B—Medicare Prospective Payment System Selected Percentile Lengths of Stay: FY 2005 MedPAR Update December 2005 GROUPER V24.0

Table 8A—Statewide Average Operating Cost-to-Charge Ratios—March 2006

Table 8B—Statewide Average Capital Cost-to-Charge Ratios—March 2006

Table 8C—Proposed Statewide Average Total Cost-to-Charge Ratios for LTCHs—March 2006

Table 9A—Hospital Reclassifications and Redesignations by Individual Hospital and CBSA—FY 2007

Table 9B—Hospital Reclassifications and Redesignation by Individual Hospital Under Section 508 of Pub. L. 108-173—FY 2007

Table 9C—Hospitals Redesignated as Rural Under Section 1886(d)(8)(E) of the Act—FY 2007

Table 10—Geometric Mean Plus the Lesser of .75 of the National Adjusted Operating Standardized Payment Amount (Increased to Reflect the Difference Between Costs and Charges) or .75 of One Standard Deviation of Mean Charges by Diagnosis-Related Groups (DRGs)—March 2006

Table 11—Proposed FY 2007 LTC-DRGs, Relative Weights, Geometric Average Length of Stay, and ⅚ths of the Geometric Average Length of Stay

Appendix A—Regulatory Impact Analysis

I. Overall Impact

II. Objectives

III. Limitations on Our Analysis

IV. Hospitals Included In and Excluded From the IPPS

V. Effects on Excluded Hospitals and Hospital Units

VI. Quantitative Effects of the Proposed Policy Changes Under the IPPS for Operating Costs

A. Basis and Methodology of Estimates

B. Analysis of Table I

C. Effects on the Hospitals that Failed the Quality Data Submission Process (Column 2)

D. Effects of the DRA Provision Related to MDHs (Column 3)

E. Effects of the Changes to the DRG Reclassifications and Relative Cost-Based Weights (Column 4)

F. Effects of Proposed Wage Index Changes (Column 5)

G. Combined Effects of Proposed DRG and Wage Index Changes, Including Budget Neutrality Adjustment (Column 6)

H. Effects of the 3-Year Provision Allowing Urban Hospitals that Were Converted to Rural as a Result of the FY 2005 Labor Market Area Changes to Maintain the Wage Index of the Urban Labor Market Area in Which They Were Formerly Located (Column 7)

I. Effects of MGCRB Reclassifications (Column 8)

J. Effects of the Proposed Wage Index Adjustment for Out-Migration (Column 9)

K. Effects of All Changes (Column 10)

L. Effects of Policy on Payment Adjustments for Low-Volume Hospitals

M. Impact Analysis of Table II

VII. Effects of Other Proposed Policy Changes

A. Effects of LTC-DRG Reclassifications and Relative Weights for LTCHs

B. Effects of Proposed New Technology Add-On Payments

C. Effects of Requirements for Hospital Reporting of Quality Data for Annual Hospital Payment Update

D. Effects of Other Proposed Policy Changes Affecting Sole Community Hospitals (SCHs) and Medicare-Dependent, Small Rural Hospitals (MDHs)

E. Effects of Proposed Policy on Payment for Direct Costs of Graduate Medical Education

1. Determination of Weighted Average GME PRAs for Merged Teaching Hospitals

2. Determination of PRAs for New Teaching Hospitals

3. Requirements for Counting and Appropriate Documentation of FTE Residents

4. Resident Time Spent in Nonpatient Care Activities as Part of an Approved Residency Program

F. Effects of Proposed Policy Changes Relating to Emergency Services Under EMTALA

G. Effects of Policy on Rural Community Hospital Demonstration Program

H. Effects of Proposed Policy on Hospitals-Within-Hospitals and Satellite Facilities

I. Effects of Proposed Policy Changes to the Methodology for Determining LTCH CCRs and the Reconciliation LTCH PPS Outlier Payments

J. Effects of Proposed Policy on Payment for Services Furnished Outside the United States

K. Effects of Proposed Policy on Limitation on Payments to SNFs

VIII. Effects of Proposed Changes in the Capital PPS

A. General Considerations

B. Results

IX. Alternatives Considered

X. Overall Conclusion

XI. Accounting Statement

XII. Executive Order 12866

Appendix B—Recommendation of Update Factors for Operating Cost Rates of Payment for Inpatient Hospital Services

I. Background

II. Inpatient Hospital Update for FY 2007

III. Secretary's Recommendation

IV. MedPAC Recommendation for Assessing Payment Adequacy and Updating Payments in Traditional Medicare

Appendix C—Combinations of Proposed Consolidated Severity-Adjusted DRGs

Appendix D—Crosswalk of Proposed Consolidated Severity-Adjusted DRGs to Respective APR DRGs

I. Background

A. Summary

1. Acute Care Hospital Inpatient Prospective Payment System (IPPS)

Section 1886(d) of the Social Security Act (the Act) sets forth a system of payment for the operating costs of acute care hospital inpatient stays under Medicare Part A (Hospital Insurance) based on prospectively set rates. Section 1886(g) of the Act requires the Secretary to pay for the capital-related costs of hospital inpatient stays under a prospective payment system (PPS). Under these PPSs, Medicare payment for hospital inpatient operating and capital-related costs is made at predetermined, specific rates for each hospital discharge. Discharges are classified according to a list of diagnosis-related groups (DRGs).

The base payment rate is comprised of a standardized amount that is divided into a labor-related share and a nonlabor-related share. The labor-related share is adjusted by the wage index applicable to the area where the hospital is located; and if the hospital is located in Alaska or Hawaii, the nonlabor-related share is adjusted by a cost-of-living adjustment factor. This base payment rate is multiplied by the DRG relative weight.

If the hospital treats a high percentage of low-income patients, it receives a percentage add-on payment applied to the DRG-adjusted base payment rate. This add-on payment, known as the disproportionate share hospital (DSH) adjustment, provides for a percentage increase in Medicare payments to hospitals that qualify under either of two statutory formulas designed to identify hospitals that serve a disproportionate share of low-income patients. For qualifying hospitals, the amount of this adjustment may vary based on the outcome of the statutory calculations.

If the hospital is an approved teaching hospital, it receives a percentage add-on payment for each case paid under the IPPS, known as the indirect medical education (IME) adjustment. This percentage varies, depending on the ratio of residents to beds.

Additional payments may be made for cases that involve new technologies or medical services that have been approved for special add-on payments. To qualify, a new technology or medical service must demonstrate that it is a substantial clinical improvement over technologies or services otherwise available, and that, absent an add-on payment, it would be inadequately paid under the regular DRG payment.

The costs incurred by the hospital for a case are evaluated to determine whether the hospital is eligible for an additional payment as an outlier case. This additional payment is designed to protect the hospital from large financial losses due to unusually expensive cases. Any outlier payment due is added to the DRG-adjusted base payment rate, plus any DSH, IME, and new technology or medical service add-on adjustments.

Although payments to most hospitals under the IPPS are made on the basis of the standardized amounts, some categories of hospitals are paid the higher of a hospital-specific rate based on their costs in a base year (the higher of FY 1982, FY 1987, FY 1996, or FY 2002) or the IPPS rate based on the standardized amount. For example, sole community hospitals (SCHs) are the sole source of care in their areas, and Medicare-dependent, small rural hospitals (MDHs) are a major source of care for Medicare beneficiaries in their areas. Both of these categories of hospitals are afforded this special payment protection in order to maintain access to services for beneficiaries. (Until FY 2007, an MDH has received the IPPS rate plus 50 percent of the difference between the IPPS rate and its hospital-specific rate if the hospital-specific rate is higher than the IPPS rate. In addition, an MDH does not have the option of using FY 1996 as the base year for its hospital-specific rate. As discussed below, for discharges occurring on or after October 1, 2007, but before October 1, 2011, an MDH will receive the IPPS rate plus 75 percent of the difference between the IPPS rate and its hospital-specific rate, if the hospital-specific rate is higher than the IPPS rate.)

Section 1886(g) of the Act requires the Secretary to pay for the capital-related costs of inpatient hospital services “in accordance with a prospective payment system established by the Secretary.” The basic methodology for determining capital prospective payments is set forth in our regulations at 42 CFR 412.308 and 412.312. Under the capital PPS, payments are adjusted by the same DRG for the case as they are under the operating IPPS. Capital PPS payments are also adjusted for IME and DSH, similar to the adjustments made under the operating IPPS. In addition, hospitals may receive outlier payments for those cases that have unusually high costs.

The existing regulations governing payments to hospitals under the IPPS are located in 42 CFR Part 412, Subparts A through M.

2. Hospitals and Hospital Units Excluded From the IPPS

Under section 1886(d)(1)(B) of the Act, as amended, certain specialty hospitals and hospital units are excluded from the IPPS. These hospitals and units are: rehabilitation hospitals and units; long-term care hospitals (LTCHs); psychiatric hospitals and units; children's hospitals; and cancer hospitals. Religious nonmedical health care institutions (RNHCIs) are also excluded from the IPPS. Various sections of the Balanced Budget Act of 1997 (Pub. L. 105-33), the Medicare, Medicaid and SCHIP [State Children's Health Insurance Program] Balanced Budget Refinement Act of 1999 (Pub. L. 106-113), and the Medicare, Medicaid, and SCHIP Benefits Improvement and Protection Act of 2000 (Pub. L. 106-554) provide for the implementation of PPSs for rehabilitation hospitals and units (referred to as inpatient rehabilitation facilities (IRFs)), LTCHs, and psychiatric hospitals and units (referred to as inpatient psychiatric facilities (IPFs)), as discussed below. Children's hospitals, cancer hospitals, and RNHCIs continue to be paid solely under a reasonable cost-based system.

The existing regulations governing payments to excluded hospitals and hospital units are located in 42 CFR Parts 412 and 413.

a. Inpatient Rehabilitation Facilities (IRFs)

Under section 1886(j) of the Act, as amended, rehabilitation hospitals and units (IRFs) have been transitioned from payment based on a blend of reasonable cost reimbursement subject to a hospital-specific annual limit under section 1886(b) of the Act and the adjusted facility Federal prospective payment rate for cost reporting periods beginning on or after January 1, 2002 through September 30, 2002, to payment at 100 percent of the Federal rate effective for cost reporting periods beginning on or after October 1, 2002. IRFs subject to the blend were also permitted to elect payment based on 100 percent of the Federal rate. The existing regulations governing payments under the IRF PPS are located in 42 CFR Part 412, Subpart P.

b. Long-Term Care Hospitals (LTCHs)

Under the authority of sections 123(a) and (c) of Pub. L. 106-113 and section 307(b)(1) of Pub. L. 106-554, LTCHs that do not meet the definition of “new” under § 412.23(e)(4) are being transitioned from being paid for inpatient hospital services based on a blend of reasonable cost-based reimbursement under section 1886(b) of the Act to 100 percent of the Federal rate during a 5-year period, beginning with cost reporting periods that start on or after October 1, 2002. These LTCHs that do not meet the definition of “new” may elect to be paid based on 100 percent of the Federal prospective payment rate instead of a blended payment in any year during the 5-year transition. For cost reporting periods beginning on or after October 1, 2006, LTCHs will be paid 100 percent of the Federal rate. The existing regulations governing payment under the LTCH PPS are located in 42 CFR Part 412, Subpart O.

c. Inpatient Psychiatric Facilities (IPFs)

Under the authority of sections 124(a) and (c) of Pub. L. 106-113, inpatient psychiatric facilities (IPFs) (formerly psychiatric hospitals and psychiatric units of acute care hospitals) are paid under the IPF PPS. Under the IPF PPS, some IPFs are transitioning from being paid for inpatient hospital services based on a blend of reasonable cost-based payment and a Federal per diem payment rate, effective for cost reporting periods beginning on or after January 1, 2005 (November 15, 2004 IPF PPS final rule (69 FR 66922) and January 23, 2006 IPF PPS proposed rule (71 FR 3616)). For cost reporting periods beginning on or after January 1, 2008, all IPFs will be paid 100 percent of the Federal per diem payment amount. The existing regulations governing payment under the IPF PPS are located in 42 CFR 412, Subpart N.

3. Critical Access Hospitals (CAHs)

Under sections 1814, 1820, and 1834(g) of the Act, payments are made to critical access hospitals (CAHs) (that is, rural hospitals or facilities that meet certain statutory requirements) for inpatient and outpatient services based on 101 percent of reasonable cost. Reasonable cost is determined under the provisions of section 1861(v)(1)(A) of the Act and existing regulations under 42 CFR Parts 413 and 415.

4. Payments for Graduate Medical Education (GME)

Under section 1886(a)(4) of the Act, costs of approved educational activities are excluded from the operating costs of inpatient hospital services. Hospitals with approved graduate medical education (GME) programs are paid for the direct costs of GME in accordance with section 1886(h) of the Act; the amount of payment for direct GME costs for a cost reporting period is based on the hospital's number of residents in that period and the hospital's costs per resident in a base year. The existing regulations governing payments to the various types of hospitals are located in 42 CFR Part 413.

B. Provisions of the Deficit Reduction Act of 2005 (DRA)

On February 8, 2006, the Deficit Reduction Act of 2005 (DRA), Pub. L. 109-171, was enacted. Pub. L. 109-171 made a number of changes to the Act relating to prospective payments to hospitals and other providers for inpatient services. This proposed rule would implement amendments made by the following sections of Pub. L. 109-171:

• Section 5001(a), which, effective for FY 2007 and subsequent years, expands the requirements for hospital quality data reporting.

• Section 5003, which makes various improvements to the MDH program. It extends special payment provisions, requires MDHs to use FY 2002 as their base year for determining whether use of their hospital-specific rate enhances payment (but permits them to continue to use either their 1982 or 1987 hospital-specific rate if using either of those rates results in higher payments), and removes the application of the 12-percent cap on the DSH payment adjustment factor for MDHs.

• Section 5004, which reduces certain allowable SNF bad debt payments by 30 percent. Payments for the bad debts of full-benefit, dual eligible individuals are not reduced.

In this proposed rule, we also discuss and invite comments on the requirements of section 5001(b) of Pub. L. 109-171, which require us to develop a plan to implement, beginning with FY 2009, a value-based purchasing plan for section 1886(d) hospitals. This discussion also includes the provisions of section 5001(c) of Pub. L. 109-171, which requires a quality adjustment in DRG payments for certain hospital-acquired conditions, effective for FY 2008.

C. Major Contents of This Proposed Rule

In this proposed rule, we are setting forth proposed changes to the Medicare IPPS for operating costs and for capital-related costs in FY 2007. We also are setting forth proposed changes relating to payments for GME costs, payments to certain hospitals and units that continue to be excluded from the IPPS and paid on a reasonable cost basis, and payments for SCHs and MDHs. The changes being proposed would be effective for discharges occurring on or after October 1, 2006, unless otherwise noted.

The following is a summary of the major changes that we are proposing to make:

1. Proposed DRG Reclassifications and Recalibrations of Relative Weights

In section II. of the preamble to this proposed rule, as required by section 1886(d)(4)(C) of the Act, we are proposing limited revisions to the DRG classifications structure. In this section, we respond to several recommendations made by MedPAC intended to improve the DRG system. We are also proposing to use, for FY 2007, hospital-specific relative values for 10 cost centers to compute DRG relative weights. In addition, we are proposing to use consolidated severity-adjusted DRGs or alternative severity adjustment methods in FY 2008 (if not earlier).

We also are presenting our reevaluation of certain FY 2006 applicants for add-on payments for high-cost new medical services and technologies, and our analysis of FY 2007 applicants (including public input, as directed by Pub. L. 108-173, obtained in a town hall meeting).

We are proposing the annual update of the long-term care diagnosis-related group (LTC-DRG) classifications and relative weights for use under the LTCH PPS for FY 2007.

2. Proposed Changes to the Hospital Wage Index

In section III. of the preamble to this proposed rule, we are proposing revisions to the wage index and the annual update of the wage data. Specific issues addressed include the following:

• The FY 2007 wage index update, using wage data from cost reporting periods that began during FY 2003.

• The proposed FY 2007 occupational mix adjustment to the wage index.

• The proposed revisions to the wage index based on hospital redesignations and reclassifications.

• The proposed adjustment to the wage index for FY 2007 based on commuting patterns of hospital employees who reside in a county and work in a different area with a higher wage index.

• The timetable for reviewing and verifying the wage data that will be in effect for the proposed FY 2007 wage index.

• The labor-related share for the FY 2007 wage index, including the labor-related share for Puerto Rico.

3. Other Decisions and Proposed Changes to the IPPS for Operating Costs, GME Costs, and Promoting Hospitals' Effective Use of Health Information Technology

In section IV. of the preamble to this proposed rule, we discuss a number of provisions of the regulations in 42 CFR Parts 412 and 413 including the following:

• The reporting of hospital quality data as a condition for receiving the full annual payment update increase.

• Proposed changes in payments to SCHs and MDHs.

• Proposed updated national and regional case-mix values and discharges for purposes of determining rural referral center status.

• The statutorily-required IME adjustment factor for FY 2007.

• Proposed changes relating to hospitals' geographic classifications, including reclassifications under section 508 of Pub. L. 108-173, multicampus hospitals, urban group hospital reclassification and the effect of change in ownership on urban county group reclassifications.

• Proposed changes and clarifications relating to GME that address determining the per resident amounts (PRAs) for merged hospitals and new teaching hospitals, counting and appropriate documentation of FTE residents, and counting of resident time spent in nonpatient care activities as part of approved residency programs.

• Proposed changes relating to payment for costs of nursing and allied health education programs.

• Proposed changes relating to requirements for emergency services for hospitals under EMTALA.

• Discussion of the third year of implementation of the Rural Community Hospital Demonstration Program.

We also are inviting comments on promoting hospitals' effective use of health information technology.

4. Proposed Changes to the PPS for Capital-Related Costs

In section V. of the preamble to this proposed rule, we discuss the payment policy requirements for capital-related costs and capital payments to hospitals and propose several technical corrections to the regulations.

5. Proposed Changes for Hospitals and Hospital Units Excluded From the IPPS

In section VI. of the preamble to this proposed rule, we discuss payments to excluded hospitals and hospital units, proposed policy changes regarding increases or decreases in square footage or decreases in the number of beds of the “grandfathering” HwHs and satellite facilities, proposed changes to the methodology for determining LTCH CCRs and the reconciliation of high-cost and short-stay outlier payments under the LTCH PPS, and a proposed technical change relating to the designation of CAHs as necessary providers.

6. Payments for Services Furnished Outside the United States

In section VII. of the preamble to this proposed rule, we set forth proposed changes to clarify what is considered “outside the United States” for Medicare payment purposes.

7. Payment for Blood Clotting Factor Administered to Inpatients With Hemophilia

In section VIII. of the preamble to this proposed rule, we discuss the proposed changes in payment for blood clotting factor administered to Medicare beneficiaries with hemophilia for FY 2007.

8. Limitation on Payments to Skilled Nursing Facilities for Bad Debt

In section IX. of the preamble to this proposed rule, we propose to implement section 5004 of Pub. L. 109-171 relating to reduction in payments to SNFs for bad debt.

9. Determining Proposed Prospective Payment Operating and Capital Rates and Rate-of-Increase Limits

In the Addendum to this proposed rule, we set forth proposed changes to the amounts and factors for determining the FY 2007 prospective payment rates for operating costs and capital-related costs. We also establish the proposed threshold amounts for outlier cases. In addition, we address the proposed update factors for determining the rate-of-increase limits for cost reporting periods beginning in FY 2007 for hospitals and hospital units excluded from the PPS.

10. Impact Analysis

In Appendix A of this proposed rule, we set forth an analysis of the impact that the proposed changes would have on affected hospitals.

11. Recommendation of Update Factors for Operating Cost Rates of Payment for Inpatient Hospital Services

In Appendix B of this proposed rule, as required by sections 1886(e)(4) and (e)(5) of the Act, we provided our recommendations of the appropriate percentage changes for FY 2007 for the following:

• A single average standardized amount for all areas for hospital inpatient services paid under the IPPS for operating costs (and hospital-specific rates applicable to SCHs and MDHs).

• Target rate-of-increase limits to the allowable operating costs of hospital inpatient services furnished by hospitals and hospital units excluded from the IPPS.

12. Discussion of Medicare Payment Advisory Commission Recommendations

Under section 1805(b) of the Act, MedPAC is required to submit a report to Congress, no later than March 1 of each year, in which MedPAC reviews and makes recommendations on Medicare payment policies. MedPAC's March 2006 recommendation concerning hospital inpatient payment policies addressed the update factor for inpatient hospital operating costs and capital-related costs under the IPPS and for hospitals and distinct part hospital units excluded from the IPPS. This recommendation is addressed in Appendix B of this proposed rule. For further information relating specifically to the MedPAC March 2006 reports or to obtain a copy of the reports, contact MedPAC at (202) 220-3700 or visit MedPAC's Web site at: www.medpac.gov.

13. Appendix C and Appendix D

In Appendix C of this proposed rule, we list the combinations of the consolidated severity-adjusted DRGs that we are proposing to implement on FY 2008 (if not earlier), as discussed in section II.C. of the preamble of this proposed rule. In Appendix D of this proposed rule, we provide a crosswalk of the proposed consolidated severity-adjusted DRG system to the respective All Patient Related Diagnosis-Related Group (APR DRG) system.

II. Proposed Changes to DRG Classifications and Relative Weights

(If you choose to comment on issues in this section, please include the caption “DRG Reclassifications” at the beginning of your comment.)

A. Background

Section 1886(d) of the Act specifies that the Secretary shall establish a classification system (referred to as DRGs) for inpatient discharges and adjust payments under the IPPS based on appropriate weighting factors assigned to each DRG. Therefore, under the IPPS, we pay for inpatient hospital services on a rate per discharge basis that varies according to the DRG to which a beneficiary's stay is assigned. The formula used to calculate payment for a specific case multiplies an individual hospital's payment rate per case by the weight of the DRG to which the case is assigned. Each DRG weight represents the average resources required to care for cases in that particular DRG, relative to the average resources used to treat cases in all DRGs.

Congress recognized that it would be necessary to recalculate the DRG relative weights periodically to account for changes in resource consumption. Accordingly, section 1886(d)(4)(C) of the Act requires that the Secretary adjust the DRG classifications and relative weights at least annually. These adjustments are made to reflect changes in treatment patterns, technology, and any other factors that may change the relative use of hospital resources.

B. DRG Reclassifications

1. General

For FY 2007, we are proposing only limited changes to the current DRG classifications, as discussed in section II.D. of the preamble to this proposed rule, that would be applicable to discharges occurring on or after October 1, 2006. We are limiting our proposed changes because, as discussed in detail in section II.C. of the preamble to this proposed rule, we are focusing our efforts on addressing the recommendations made last year by MedPAC to refine the entire CMS DRG system by taking into account severity of illness (if not earlier) and applying hospital-specific relative value (HSRV) weights to DRGs.

Currently, cases are classified into CMS DRGs for payment under the IPPS based on the principal diagnosis, up to eight additional diagnoses, and up to six procedures performed during the stay. In a small number of DRGs, classification is also based on the age, sex, and discharge status of the patient. The diagnosis and procedure information is reported by the hospital using codes from the International Classification of Diseases, Ninth Revision, Clinical Modification (ICD-9-CM).

The process of forming the DRGs was begun by dividing all possible principal diagnoses into mutually exclusive principal diagnosis areas, referred to as Major Diagnostic Categories (MDCs). The MDCs were formed by physician panels as the first step toward ensuring that the DRGs would be clinically coherent. The diagnoses in each MDC correspond to a single organ system or etiology and, in general, are associated with a particular medical specialty. Thus, in order to maintain the requirement of clinical coherence, no final DRG could contain patients in different MDCs. Most MDCs are based on a particular organ system of the body. For example, MDC 6 is Diseases and Disorders of the Digestive System. This approach is used because clinical care is generally organized in accordance with the organ system affected. However, some MDCs are not constructed on this basis because they involve multiple organ systems (for example, MDC 22 (Burns)). For FY 2006, cases are assigned to one of 526 DRGs in 25 MDCs. The table below lists the 25 MDCs.

Major Diagnostic Categories (MDCs)
1 | Diseases and Disorders of the Nervous System.
2 | Diseases and Disorders of the Eye.
3 | Diseases and Disorders of the Ear, Nose, Mouth, and Throat.
4 | Diseases and Disorders of the Respiratory System.
5 | Diseases and Disorders of the Circulatory System.
6 | Diseases and Disorders of the Digestive System.
7 | Diseases and Disorders of the Hepatobiliary System and Pancreas.
8 | Diseases and Disorders of the Musculoskeletal System and Connective Tissue.
9 | Diseases and Disorders of the Skin, Subcutaneous Tissue and Breast.
10 | Endocrine, Nutritional and Metabolic Diseases and Disorders.
11 | Diseases and Disorders of the Kidney and Urinary Tract.
12 | Diseases and Disorders of the Male Reproductive System.
13 | Diseases and Disorders of the Female Reproductive System.
14 | Pregnancy, Childbirth, and the Puerperium.
15 | Newborns and Other Neonates with Conditions Originating in the Perinatal Period.
16 | Diseases and Disorders of the Blood and Blood Forming Organs and Immunological Disorders.
17 | Myeloproliferative Diseases and Disorders and Poorly Differentiated Neoplasms.
18 | Infectious and Parasitic Diseases (Systemic or Unspecified Sites).
19 | Mental Diseases and Disorders.
20 | Alcohol/Drug Use and Alcohol/Drug Induced Organic Mental Disorders.
21 | Injuries, Poisonings, and Toxic Effects of Drugs.
22 | Burns.
23 | Factors Influencing Health Status and Other Contacts with Health Services.
24 | Multiple Significant Trauma.
25 | Human Immunodeficiency Virus Infections.

In general, cases are assigned to an MDC based on the patient's principal diagnosis before assignment to a DRG. However, for FY 2006, there are nine DRGs to which cases are directly assigned on the basis of ICD-9-CM procedure codes. These DRGs are for heart transplant or implant of heart assist systems, liver and/or intestinal transplants, bone marrow transplants, lung transplants, simultaneous pancreas/kidney transplants, and pancreas transplants, and for tracheostomies. Cases are assigned to these DRGs before they are classified to an MDC. The table below lists the nine current pre-MDCs.

Pre-Major Diagnostic Categories (Pre-MDCs)
DRG 103 | Heart Transplant or Implant of Heart Assist System.
DRG 480 | Liver Transplant and/or Intestinal Transplant.
DRG 481 | Bone Marrow Transplant.
DRG 482 | Tracheostomy for Face, Mouth, and Neck Diagnoses.
DRG 495 | Lung Transplant.
DRG 512 | Simultaneous Pancreas/Kidney Transplant.
DRG 513 | Pancreas Transplant.
DRG 541 | ECMO or Tracheostomy with Mechanical Ventilation 96+ Hours or Principal Diagnosis Except for Face, Mouth, and Neck Diagnosis with Major O.R.
DRG 542 | Tracheostomy with Mechanical Ventilation 96+ Hours or Principal Diagnosis Except for Face, Mouth, and Neck Diagnosis without Major O.R.

Once the MDCs were defined, each MDC was evaluated to identify those additional patient characteristics that would have a consistent effect on the consumption of hospital resources. Because the presence of a surgical procedure that required the use of the operating room would have a significant effect on the type of hospital resources used by a patient, most MDCs were initially divided into surgical DRGs and medical DRGs. Surgical DRGs are based on a hierarchy that orders operating room (O.R.) procedures or groups of O.R. procedures by resource intensity. Medical DRGs generally are differentiated on the basis of diagnosis and age (0 to 17 years of age or greater than 17 years of age). Some surgical and medical DRGs are further differentiated based on the presence or absence of a complication or a comorbidity (CC).

Generally, nonsurgical procedures and minor surgical procedures that are not usually performed in an operating room are not treated as O.R. procedures. However, there are a few non-O.R. procedures that do affect DRG assignment for certain principal diagnoses, for example, extracorporeal shock wave lithotripsy for patients with a principal diagnosis of urinary stones.

Once the medical and surgical classes for an MDC were formed, each class of diagnoses was evaluated to determine if complications, comorbidities, or the patient's age would consistently affect the consumption of hospital resources. Physician panels classified each diagnosis code based on whether the diagnosis, when present as a secondary condition, would be considered a substantial CC. A substantial CC was defined as a condition which, because of its presence with a specific principal diagnosis, would cause an increase in the length of stay by at least one day in at least 75 percent of the patients. Each medical and surgical class within an MDC was tested to determine if the presence of any substantial CC would consistently affect the consumption of hospital resources.

A patient's diagnosis, procedure, discharge status, and demographic information is fed into the Medicare claims processing systems and subjected to a series of automated screens called the Medicare Code Editor (MCE). The MCE screens are designed to identify cases that require further review before classification into a DRG.

After patient information is screened through the MCE and any further development of the claim is conducted, the cases are classified into the appropriate DRG by the Medicare GROUPER software program. The GROUPER program was developed as a means of classifying each case into a DRG on the basis of the diagnosis and procedure codes and, for a limited number of DRGs, demographic information (that is, sex, age, and discharge status).

After cases are screened through the MCE and assigned to a DRG by the GROUPER, the PRICER software calculates a base DRG payment. The PRICER calculates the payment for each case covered by the IPPS based on the DRG relative weight and additional factors associated with each hospital, such as IME and DSH adjustments. These additional factors increase the payment amount to hospitals above the base DRG payment.

The records for all Medicare hospital inpatient discharges are maintained in the Medicare Provider Analysis and Review (MedPAR) file. The data in this file are used to evaluate possible DRG classification changes and to recalibrate the DRG weights. However, in the July 30, 1999 IPPS final rule (64 FR 41500), we discussed a process for considering non-MedPAR data in the recalibration process. In order for us to consider using particular non-MedPAR data, we must have sufficient time to evaluate and test the data. The time necessary to do so depends upon the nature and quality of the non-MedPAR data submitted. Generally, however, a significant sample of the non-MedPAR data should be submitted by mid-October for consideration in conjunction with the next year's proposed rule. This allows us time to test the data and make a preliminary assessment as to the feasibility of using the data. Subsequently, a complete database should be submitted by early December for consideration in conjunction with the next year's proposed rule.

The limited changes that we are proposing to the DRG classification system for FY 2007 for the FY 2007 GROUPER, version 24.0 and to the methodology used to recalibrate the DRG weights are set forth under section II.E. of this proposed rule. Unless otherwise noted in this proposed rule, our DRG analysis is based on data from the December 2005 update of the FY 2005 MedPAR file, which contains hospital bills received through December 31, 2005, for discharges occurring in FY 2005.

2. Yearly Review for Making DRG Changes

Many of the changes to the DRG classifications are the result of specific issues brought to our attention by interested parties. We encourage individuals with concerns about DRG classifications to bring those concerns to our attention in a timely manner so they can be carefully considered for possible inclusion in the annual proposed rule and, if included, may be subjected to public review and comment. Therefore, similar to the timetable for interested parties to submit non-MedPAR data for consideration in the DRG recalibration process, concerns about DRG classification issues should be brought to our attention no later than early December in order to be considered and possibly included in the next annual proposed rule updating the IPPS.

The actual process of forming the DRGs was, and continues to be, highly iterative, involving a combination of statistical results from test data combined with clinical judgment. For purposes of this proposed rule, in deciding whether to create a separate DRG, we consider whether the resource consumption and clinical characteristics of the patients with a given set of conditions are significantly different than the remaining patients in the existing DRG. We evaluate patient care costs using average charges and lengths of stay as proxies for costs and rely on the judgment of our medical officers to decide whether patients are clinically distinct or similar to other patients in the DRG. In evaluating resource costs, we consider both the absolute and percentage differences in average charges between the cases we are selecting for review and the remainder of cases in the DRG. We also consider variation in charges within these groups; that is, whether observed average differences are consistent across patients or attributable to cases that are extreme in terms of charges or length of stay, or both. Further, we also consider the number of patients who will have a given set of characteristics and generally prefer not to create a new DRG unless it will include a substantial number of cases.

C. Proposals for Revisions to the DRG System Used Under the IPPS

1. MedPAC Recommendations

In the FY 2006 IPPS final rule, we discussed a number of recommendations made by MedPAC regarding revisions to the DRG system used under the IPPS (70 FR 47473 through 47482).

In Recommendation 1-3 in the 2005 Report to Congress on Physician-Owned Specialty Hospitals, MedPAC recommended that CMS:

• Refine the current DRGs to more fully capture differences in severity of illness among patients, including—

• Base the DRG relative weights on the estimated cost of providing care.

• Base the weights on the national average of the hospital-specific relative values (HSRVs) for each DRG (using hospital-specific costs to derive the HSRVs).

• Adjust the DRG relative weights to account for differences in the prevalence of high-cost outlier cases.

• Implement the case-mix measurement and outlier policies over a transitional period.

As we noted in the FY 2006 IPPS final rule, we had insufficient time to complete a thorough evaluation of these recommendations for full implementation in FY 2006. However, we did adopt severity-weighted cardiac DRGs in FY 2006 to address public comments on this issue and the specific concerns of MedPAC regarding cardiac surgery DRGs. We also indicated that we planned to further consider all of MedPAC's recommendations and thoroughly analyze options and their impacts on the various types of hospitals in the FY 2007 IPPS proposed rule. Following the publication of the FY 2006 IPPS final rule, we contracted with 3M Health Information Systems to assist us in performing this analysis.

Beginning with MedPAC's relative weight recommendations, we analyzed MedPAC's recommendations to move to a cost-based HSRV weighting methodology. In performing this portion of the analysis, we studied hospital cost report data, departmental cost-to-charge ratios (CCRs), MedPAR claims data, and HSRV weighting methodology. Our intention in undertaking this portion of the analysis was to find an administratively feasible approach to improving the accuracy of the DRG weights. As we describe in detail below, we believe some changes can be made to MedPAC's methodology for determining the relative weights that will make it more feasible to replicate on an annual basis but will result in similar impacts.

In conjunction with analyzing MedPAC's relative weight recommendations, we looked at refining the current DRG system to better recognize severity of illness. Starting with the APR DRG GROUPER used by MedPAC in its analysis, we studied Medicare claims data. Based on this analysis, we developed a consolidated severity-adjusted DRG GROUPER that we believe could be a better alternative for recognizing severity of illness among the Medicare population. We note that MedPAC's recommendations with regard to revising the DRGs to better recognize severity of illness may have implications for the outlier threshold, the measurement of real case-mix versus apparent case-mix, and the IME and the DSH adjustments. We will discuss these implications in more detail in the following sections.

As we present below, we believe that the recommendations made by MedPAC, or some variants of them, have significant promise to improve the accuracy of the payment rates in the IPPS. For instance, the percent of DRGs with payment-to-cost ratios between 0.95 and 1.05 will increase substantially from adoption of these recommendations.¹ We agree with MedPAC about exploring possible refinements to our payment methodology even in the absence of concerns about the proliferation of specialty hospitals. In the FY 2006 final rule, we indicated that until we had completed further analysis of the options and their effects, we could not predict the extent to which changing to APR DRGs would provide payment equity between specialty and general hospitals. In fact, we cautioned that any system that groups cases will always present some opportunities for providers to specialize in cases they believe to have higher margins. We believe that improving payment accuracy should reduce these opportunities, and potentially reduce the incentives that Medicare payments may provide for the further development of specialty hospitals.

¹ Medicare Payment Advisory Commission: Report to the Congress; Physician-Owned Specialty Hospitals, March 2005, p. 37.

We considered MedPAC's recommendation to adjust the relative weights to account for differences in the prevalence of outlier cases. However, we placed most of our attention and resources on the recommendations related to refinement of the current DRGs to more fully capture differences in severity of illness among patients as we do not have the statutory authority to make the specific changes to our outlier policy that MedPAC recommended. While we have not made MedPAC's recommendation regarding outliers a central focus of our analysis, we do intend to examine this issue in more detail in the future. In the following sections II.C.2. through C.6. of this proposed rule, we present our analysis and discuss a number of issues related to the MedPAC recommendations. We also present the estimated impacts of implementing the recommendations and conclude with a specific proposal for FY 2007 and some proposed intended actions for implementation for FY 2008. We also are soliciting comments on other possible proposals or actions in FY 2007, FY 2008, or a combination of both.

2. Refinement of the Relative Weight Calculation

(If you choose to comment on issues in this section, please include the caption “HSRV Weights” at the beginning of your comment.)

MedPAC made two recommendations with respect to the DRG relative weight calculation. First, MedPAC recommended that CMS base the DRG relative weights on the estimated cost of providing care. Second, MedPAC recommended that CMS base the weights on the national average of the HSRVs in each DRG (using hospital-specific costs to derive the HSRVs). Because both of these recommendations address the relative weight calculation, we are addressing them together. The work we have done to address these recommendations is discussed below.

MedPAC recommended that CMS replace its charge-based relative weight methodology with cost-based HSRV weights as it believed that the charge-based relative weight methodology that CMS has utilized since 1983 has introduced bias into the weights due to differential markups for ancillary services among the DRGs. In analyzing claims data, it is evident to us that some hospital types (for example, teaching hospitals) are systematically more expensive overall than the average hospital and certain case types are more commonly treated at these more expensive facilities. This fact results in an upward bias in the weights for these types of cases. The HSRV methodology recommended by MedPAC would help reduce the bias that may be present in the national relative weights due to differences in case-mix adjusted costs.

Under the HSRV method recommended by MedPAC, charges are standardized for each provider by converting its charges for each case to hospital-specific relative charge values and then adjusting those values for the hospital's case-mix. The first step in this process involves dividing the charge for each case at the hospital by the average charge for all cases at the hospital in which the case was treated. The hospital-specific relative charge value, by definition, averages 1.0 for each hospital. The resulting ratio is then multiplied by the hospital's case-mix index (CMI). In this way, each hospital's relative charge value is adjusted by its case-mix to an average that reflects the complexity of the cases it treats relative to the complexity of the cases treated by all other hospitals.

Our analysis of departmental-level CCRs from the Medicare cost report data has shown that charges for routine days, intensive care days, and various ancillary services are not marked up by a consistent amount. For example, the markup amounts for cardiology services are higher than average. Because charges are the current basis for the DRG relative weights, the practice of differential markups can lead to bias in the DRG weights because various DRGs use, on average, more or less of particular ancillary services. MedPAC believes that the bias in the national DRG relative weights that may arise as a result of differential markups across various cost centers can be removed by moving from charge-based to cost-based weights.

Based on the analysis we have conducted, we agree that it may be appropriate to adjust the DRG relative weights to account for the differences in charge markups across cost centers and to adopt an HSRV methodology. However, we have several concerns about the methodology used by MedPAC. MedPAC's methodology to reduce hospital charges to cost is administratively burdensome, not only to develop, but also to maintain.

First, MedPAC developed CCRs for individual hospitals at the most detailed department level. Specifically, in calculating costs as the basis for the relative weights, MedPAC applied hospital-specific CCRs from each provider's cost report to the line item charges on the claims that the hospital submitted during the same time period. This methodology required matching cost report data to claims data, and because cost report data take longer to compile and file, the method necessitates using older claims data to set relative weights. The most recent complete set of Medicare cost reports available to us is from FY 2003. Thus, if we were to model the exact approach used by MedPAC and use claims data for a matching year, we would be using claims data from FY 2003. If we set DRG weights for FY 2007 using our current charge-based method, we would use FY 2005 hospital claims to set the proposed relative weights. In addition, MedPAC's hospital-specific approach required detailed cost center distinctions for each hospital that are difficult to define, map, and apply. This approach also required the use of the Standard Analytic File (SAF) because MedPAR data that we currently use to set DRG weights did not have the necessary level of detail. Using the SAF increases processing time and adds further complexity to the process of setting the relative weights.

Second, because MedPAC applied these CCRs at the individual claim level, missing or invalid data resulted in MedPAC deleting a large number of claims (approximately 10 percent) from the relative weight calculation. Lastly, MedPAC acknowledged that its method was too difficult to replicate on an annual basis and suggested that the weights be recalculated once every 5 years with other adjustments based on charges during the intervening years.

We have developed an alternative to MedPAC's approach that we believe would achieve similar results in a more administratively feasible manner. This method involves developing hospital-specific charge relative weights at the cost center level to remove the bias introduced by hospital characteristics (that is, teaching, disproportionate share, location, and size, among others) and then scaling the weights to costs using the national cost center charge ratios developed from the cost report data. After studying Medicare cost report data, we established 10 cost center categories based upon broad hospital accounting definitions. In our cost center categories, there are 8 ancillary cost groups in addition to routine day costs and intensive care day costs, and each category represents at least 5 percent of the charges in the claims data. The specific cost report lines that contribute to each category and the corresponding charge lines from the MedPAR claims data are itemized in Table A below.

We believe this alternative approach, which we are labeling as the HSRV cost center (HSRVcc) methodology, has several advantages. First, the use of national average rather than hospital-specific CCRs avoids the complexity encountered with cost center CCRs at the hospital level and allows us to retain more data for use in the relative weight calculation. In addition, the methodology eliminates the need to match claims to the time period of the CCRs, resulting in the ability to use more timely claims data. Furthermore, the alternative approach makes it more feasible to update the relative weights annually using a single methodology. We do not have to replicate the methodology once every 5 years and make adjustments based on changes in charges in the intervening years.

In developing an alternative method of calculating DRG weights, we utilized two data sources: claims data and cost report data. The claims data are taken from the FY 2004 MedPAR file. This file is based on fully coded diagnostic and procedure data for all Medicare inpatient hospital bills. The FY 2004 MedPAR data include discharges occurring between October 1, 2003, and September 30, 2004, based on bills received by CMS through March 30, 2005, from all hospitals subject to the IPPS. The full FY 2004 MedPAR file includes data for approximately 13,673,607 Medicare discharges. We excluded discharges for Medicare beneficiaries enrolled in a Medicare+Choice managed care plan from the analysis. In addition, we excluded data for any hospital that was paid under the IPPS during FY 2004 but became a CAH at any time before February 28, 2005; data from IPFs, IRFs, and LTCHs; data from Maryland hospitals; data from Indian Health Service hospitals; and data from all-inclusive rate providers. The Medicare cost report data used in the analysis were from FY 2003, the most recent full set of data available. Under our alternative methodology, we calculated DRG weights from MedPAR and cost report data as follows:

a. Step One: Clean the Data

(1) All of the claims were grouped using Version 23.0 of the CMS DRGs.

• The transplant cases that were used to establish the alternative relative weights for heart and heart-lung, liver and/or intestinal, and lung transplants (DRGs 103, 480, and 495 under the current Version 23.0 GROUPER) were limited to those Medicare-approved transplant centers that have cases in the FY 2004 MedPAR file. (Medicare coverage for heart, heart and lung, liver and/or intestinal, and lung transplants is limited to those facilities that have received approval from CMS as transplant centers.)

• Organ acquisition for kidney, heart, heart-lung, liver, lung, pancreas, and intestinal (or multivisceral organs) transplants continue to be paid on a reasonable cost basis. Because these acquisition costs are paid separately from the prospective payment rate, it is necessary to subtract the acquisition charges from the total charges on each transplant bill that showed acquisition charges before adjusting the charges under the HSRVcc methodology and before eliminating statistical outliers.

(2) The FY 2004 MedPAR data were edited to exclude claims for hospitals with no cost report data. Claims with total charges or total length of stay less than or equal to zero were eliminated. Claims that had an amount in the total charge field that differed by more or less than $10 from the sum of charges for routine days, intensive care, pharmacy, special equipment, therapy, operating room, cardiology, laboratory, radiology, and other services were deleted. In addition, we deleted claims for providers that had charges only in the routine days and intensive care days cost centers and had no charges in any of the eight ancillary cost centers. These claims were deleted because we believe the charges for the eight ancillary cost centers were included in the routine days and intensive care days cost centers. Had we included these claims, the charges for the routine days and intensive care days would have been inflated. After applying these edits, we identified 11,142,651 claims that we used in this analysis.

(3) Statistical outliers were eliminated by removing all cases that were beyond 3.0 standard deviations from the mean of the log distribution of both the charges per case and the charges per day for each DRG.

b. Step Two: Compute HSRVs for Each Cost Center for Each DRG

Once the MedPAR data were edited, we sorted the data by provider so that charges could be standardized under the HSRVcc methodology. To do this, an average charge was computed for each provider for each of 10 proposed cost centers (see Table A). The average charge was computed by summing the charges for each cost center and dividing by the transfer-adjusted case count for each provider. A transfer case, identified by discharge code, DRG, and length of stay, was counted as a fraction of a case based on the ratio of its length of stay plus 1 day relative to the geometric mean length of stay for that DRG. That is, a transfer case with a length of stay of 2 days in a DRG with a geometric mean length of stay of 6 days would be counted as 3 (2 days plus 1 extra day) divided by 6 or 0.5 of a total case. This treatment of transfer cases is consistent with payment rules.

After computing the average charge for each provider for each cost center, the cost center charges on each claim were divided by the provider's average charge for the matching cost center across all services. For example, the routine day charges on each individual claim were divided by the average routine day charge for the provider across all services, the intensive care unit charges on the same claim were divided by the average intensive care unit charge for the provider across all services, and so on.

By using a hospital's relative charge structure, we found that the resulting weights did not reflect differences in charges among providers for factors such as location, size, wages, relative efficiency, average markup, IME adjustment, DSH adjustment, and the variety of cases treated. Therefore, once charge weights were computed at the hospital cost center level, they were multiplied by the provider's CMI. We made this adjustment for the CMI to rescale the hospital-specific relative charge values which, by definition, averaged to 1.0 for each cost center. We believed that the CMI was a reasonable scale factor to use to further adjust the relative charges to reflect the complexity of cases treated by the provider. We assigned a starting CMI of 1 to the cost center for each provider. However, an alternative starting CMI could have been assigned because the algorithm is not sensitive to starting values of CMI.

After the relative charges (cost center claim charge divided by the average cost center charge for the provider) were multiplied by the hospital's matching cost center CMI, they were summed by DRG. The transfer adjusted case count for each DRG was also summed. Average charges by DRG were calculated for each cost center by taking the sum of the relative CMI-adjusted charges for that DRG and dividing by the transfer-adjusted case count for that DRG. A national average charge for each cost center was calculated summing all relative CMI-adjusted charges in the trimmed MedPAR data set and dividing by the total transfer-adjusted case count. We then created a set of cost center DRG weights by dividing the national average charge for each DRG for each cost center by the national average charge for that cost center. The result was a set of 10 weights for each DRG. These 10 weights are then assigned to each claim, and a new CMI is created for each provider. Then the relative charges for each cost center on the claim (total charge for cost center is divided by the provider's average charge for that cost center) are multiplied by this new CMI and the weights are iterated until the national average CMI for each cost center stops changing between iterations. In preparing the proposed weights for their simulation, we used a transfer-adjusted CMI that was computed by taking the sum of the transfer-adjusted weights and dividing by a full case count, where the transfer-adjusted weight is computed by multiplying the transfer-adjusted case count (length of stay for the claim plus 1 day divided by geometric mean length of stay for the DRG) by the DRG weight.

Table A below illustrates the charge line items from MedPAR that were included in each cost center charge group. In addition, it shows the corresponding line items from Worksheet C, Part 1, columns 5, 6, and 7 of the Medicare cost reports. The name of each cost report line item appears as it is listed in the Hospital Cost Report Information System (HCRIS) cost report database record layout which is available for download via the Web site: www.cms.hhs.gov.

BILLING CODE 4120-01-P

[BILCOD]BILLING CODE 4120-01-C

c. Step Three: Compute CCRs From the Cost Reports for Each of the 10 Cost Center Groups Identified in Table A

After the iteration process was completed, we removed the effects of differential markups within cost centers. The first step in this process was to develop national cost center CCRs. Taking FY 2003 cost report data, we edited the data to remove data for CAHs, IPFs, IRFs, LTCHs, Maryland hospitals, Indian Health Service hospitals, and all inclusive rate hospitals, and cost reports that represented time periods of less than 1 year (365 days). We then created CCRs for each provider for each group of cost centers (see Table A for line items used in the calculations) while removing any cost center CCRs that were greater than 10 or less than .01, as we believe that these CCRs are outside of a reasonable range. We then took the logs of all of the cost center CCRs and removed any cost center CCRs where the log of the cost center CCR was greater or less than the mean log plus/minus 1.96 standard deviations of the log of that cost center CCR. We used 1.96 standard deviations as a trim factor because the logs of the cost center CCRs are normally distributed and 1.96 standard deviations represent the 95th percentile of the T-Distribution for large sample size, for which 2,000 to 3,000 hospitals qualify. Once the cost report data were trimmed, we calculated the geometric mean CCR for each cost center.

d. Step Four: Sum the Average Charge for Each Cost Center From the MedPAR Data and Apply the National CCRs From the MedPAR File

Once the national average CCRs from Step Three were computed, they were multiplied by the total unadjusted charges for the matching cost centers in the MedPAR file. The estimated costs were then summed to derive a total cost for all cases across the Nation. The percentage that each cost center was contributing to the overall total costs is calculated by dividing the individual cost center cost by the total. For example, the total cost for routine days was divided by the total cost for all cases to arrive at 0.29, which indicated that routine costs were responsible for approximately 29 percent of total costs. The 10 scaling factors sum to 1.0.

e. Step Five: Adjust Relative Weights From Step Two to Cost by Applying Scaling Factors From Step Four

For each DRG, the cost center weights are multiplied by these scaling factors (that is, the routine day weight is multiplied by the routine day scaling factor, the intensive care unit weight is multiplied by the intensive care unit scaling factor, and so on). After the weights are adjusted by the scaling factor, they are summed by DRG to create one final weight for each DRG.

f. Step Six: Normalize the Weights

In order to compare the weights calculated in Step Five to the charge-based weights that are in effect in FY 2006, the weights were normalized by the FY 2006 normalization factor of 1.47462 (70 FR 47332). This factor was applied to the charge-based weights from FY 2006 to ensure that recalibration by itself neither increases nor decreases total payments under the IPPS. We used the same normalization factor that we applied for purposes of calculating the DRG relative weights in the FY 2006 IPPS final rule because we used the same FY 2004 MedPAR data and FY 2003 cost report data that we used to set the FY 2006 DRG relative weights. We note that we likely will have more recent data available when we determine the DRG relative weights for the FY 2007 IPPS final rule.

3. Refinement of DRGs Based on Severity of Illness

(If you choose to comment on issues in this section, please include the caption “DRGs: Severity of Illness” at the beginning of your comment.)

For purposes of the following discussions, the term “CMS DRGs” means the DRG system we currently use under the IPPS; the term “APR DRGs” means the severity DRG system designed by 3M Health Information Systems that currently is used by the State of Maryland; and the term “consolidated severity-adjusted DRGs” means the DRG system based on a consolidated version of the APR DRGs (as described in detail below). Although we discuss the consolidated severity-adjusted DRGs in this proposed rule, we are interested in public comments on whether there are alternative DRG systems that could result in better recognition of severity than the consolidated severity-adjusted DRGs we are proposing. We refer to adopting consolidated severity-adjusted DRGs numerous times in this proposed rule. As we make clear in the detailed discussion below, there are still further changes that we believe may be important to make to this proposed system before it is ready for adoption. In the remainder of this proposed rule, “consolidated severity-adjusted DRGs” refers to the DRG system we have analyzed. However, it is possible that the public comment process will present compelling evidence that there are potential alternatives to the consolidated severity-adjusted DRG system for us to consider that could more effectively recognize severity of illness.

In the FY 2006 IPPS final rule (70 FR 47474), we stated that we would consider making changes to the CMS DRGs to better reflect severity of illness among patients. We indicated that we would conduct a comprehensive review of the CC list as well as consider the possibility of using the APR DRGs for FY 2007. We did not adopt APR DRGs for FY 2006 because such an adoption would represent a significant undertaking that could have a substantial effect on all hospitals. There was insufficient time between the release of the MedPAC reports in March 2005 and the publication of the FY 2006 IPPS final rule for us to analyze fully a change of this magnitude. Instead, we adopted a more limited policy by implementing severity-adjusted cardiac DRGs.

After publication of the FY 2006 IPPS final rule, CMS contracted with 3M Health Information Systems to further analyze the MedPAC recommendations in support of our consideration of possible changes to the IPPS for FY 2007. Under one task of this contract, 3M Health Information Systems analyzed the feasibility of using a revised DRG system under the IPPS that is modeled on the APR DRGs Version 23 to better recognize severity of illness. The APR DRGs have been used successfully as the basis of Belgium's hospital prospective global budgeting system since 2002. The State of Maryland began using APR DRGs as the basis of its all-payer hospital payment system in July 2005. More than a third of the hospitals in the United States are already using APR DRG software to analyze comparative hospital performance. Many major health information system vendors have integrated this system into their products. Several State agencies utilize the APR DRGs for the public dissemination of comparative hospital performance reports. APR DRGs have been widely applied in policy and health services research. In addition to being used in research by MedPAC, the APR DRGs also contain a separate measure of risk of mortality that is used in the Quality Indicators of the Agency for Healthcare Research and Quality, the Premier Hospital Quality Incentive Demonstration discussed in section IV.B. of this preamble, and the Joint Commission on Accreditation of Healthcare Organizations (JCAHO) hospital accreditation survey process (Shared Visions-New Pathways).

Below we present a comparison of the CMS DRG system and the APR DRG system.

a. Comparison of the CMS DRG System and the APR DRG System

The CMS DRG and APR DRG systems have a similar basic structure. There are 25 MDCs in both systems. The DRG assignments for both systems are based on the reporting of ICD-9-CM diagnosis and procedure codes. Both DRG systems are composed of a base DRG that describes the reason for hospital admission and a subdivision of the base DRG based on other patient attributes that affect the care of the patient. For surgical patients, the base DRG is defined based on the type of procedure performed. For medical patients, the base DRG is defined based on the principal diagnosis. In Version 23.0 of the CMS DRG system, there are 367 base DRGs and 526 total DRGs. In Version 23 of the APR DRG system, there are 314 base DRGs and 1,258 total APR DRGs. Some of the base DRGs in the two systems are virtually identical. For example, there is no significant difference between the base DRG under both systems for medical treatment of congestive heart failure. For other base DRGs, there are substantial differences. For example, in the CMS DRG system, there are two base DRGs for appendectomy (simple and complex); in the APR DRG system, there is only one base DRG for appendectomy (the relative complexity of the patient is addressed in the subsequent subdivision of the base DRG into severity of illness subclasses).

The focus of the CMS DRGs is on complexity. Complexity is defined as the relative volume and types of diagnostic, therapeutic, and bed services required for the treatment of a particular illness. Thus, the focus of payment in the CMS DRG system reflects the relative resource use needed by the patient in one DRG group compared to another. Resource use is generally correlated with severity of illness but an intensive resource use does not necessarily indicate a high level of severity in every case. It is possible that some patients will be resource-intensive and require high-cost services even though they are less severely ill than other patients. The CMS DRG system subdivides the base DRGs using age and the presence of a secondary diagnosis that represents a CC. The age subdivisions primarily relate to pediatric patients (those who are less than 18 years of age). Patients are assigned to the CC subgroup if they have at least one secondary diagnosis that is considered a CC. The diagnoses that are designated as CCs are the same across all base DRGs. The subdivisions of the base CMS DRGs are not uniform: some base DRGs have no subdivision; some base DRGs have a two-way subdivision based on the presence of a CC; and other base DRGs have a three-way subdivision based on a pediatric subdivision followed by a CC subdivision of the adult patients. In addition, some base DRGs in MDC 5 (Diseases and Disorders of the Circulatory System) have a subdivision based on the presence of a major cardiovascular condition or complex diagnosis.

The APR DRG system subdivides the base DRGs by adding four severity of illness subclasses to each DRG. Under the APR DRG system, severity of illness is defined as the extent of physiologic decompensation or organ system loss of function. The underlying clinical principle of APR DRGs is that the severity of illness of a patient is highly dependent on the patient's underlying problem and that patients with high severity of illness are usually characterized by multiple serious diseases or illnesses. The assessment of the severity of illness of a patient is specific to the base APR DRG to which a patient is assigned. In other words, the determination of the severity of illness is disease-specific. High severity of illness is primarily determined by the interaction of multiple diseases. Patients with multiple comorbid conditions involving multiple organ systems are assigned to the higher severity of illness subclasses. The four severity of illness subclasses under the APR DRG system are numbered sequentially from 1 to 4, indicating minor (1), moderate (2), major (3), and extreme (4) severity of illness.

The APR DRG system does not subdivide base DRGs based on the age of the patient. Instead, patient age is used in the determination of the severity of illness subclass. In the CMS DRG system, the CC list is generally the same across all base DRGs. However, there are CC list exclusions for secondary diagnoses that are related to the principal diagnosis. In the APR DRG system, the significance of a secondary diagnosis is dependent on the base DRG. For example, an infection is considered more significant for an immune-suppressed patient than for a patient with a broken arm. The logic of the CC subdivision in the CMS DRG system is a simple binary split for the presence or absence of a CC. In the APR DRG system, the determination of the severity subclass is based on an 18-step process that takes into account secondary diagnoses, principal diagnosis, age, and procedures. The 18 steps are divided into three phases. There are six steps in Phase I, three steps in Phase II, and nine steps in Phase III.

The diagram below illustrates the three-phase process for determining patient severity of illness subclass.

BILLING CODE 4120-01-P

BILLING CODE 4120-01-C

Under the CMS DRG system, a patient is assigned to the DRG with CC if there is at least one secondary diagnosis present that is a CC. There is no recognition of the impact of multiple CCs. Under the APR DRG system, high severity of illness is primarily determined by the interaction of multiple diseases. Under the CMS DRG system, patients are assigned to an MDC based on their principal diagnosis. While the principal diagnosis is generally used to assign the patient to an MDC in the APR DRG system, there is a rerouting step that assigns some patients to another MDC. For example, lower leg amputations can be performed for circulatory, endocrine, or musculoskeletal principal diagnoses. Instead of having three separate amputation base DRGs in different MDCs as is done in the CMS DRG system, the APR DRG system reroutes all of these amputation patients into a single base APR DRG in the musculoskeletal MDC. The CMS DRG system uses death as a variable in the DRG definitions but the APR DRG system does not. Both DRG systems are based on the information contained in the Medicare Uniform Bill. The APR DRG system requires the same information used by the current CMS DRG system. No changes to the claims form or the data reported would be necessary if CMS were to adopt APR DRGs or a variant of them.

The CMS DRG structure makes some DRG modifications difficult to accommodate. For example, high severity diseases that occur in low volume are difficult to accommodate because the only choice is to form a separate base DRG with relatively few patients. Such an approach would lead to a proliferation of low-volume DRGs. Alternatively, these cases may be included in DRGs with other patients that are dissimilar clinically or in costs. Requests for new base DRGs formed on the use of a specific technology may also be difficult to accommodate. Base DRGs formed based on the use of a specific technology would result in the payment weight for the DRG being dominated by the price set by the manufacturer for the technology.

The structure of the APR DRGs provides a means of addressing high severity cases that occur in low volume through assignment of the case to a severity of illness subclass. However, the APR DRG structure does not currently accommodate distinctions based on complexity. Technologies that represent increased complexity, but not necessarily greater severity of illness, are not explicitly recognized in the APR DRG system. For example, in the CMS DRGs, there are separate DRGs for coronary angioplasty with or without insertion of stents. The APR DRGs do not make such a differentiation. The insertion of the stent makes the patient's case more complex but does not mean the patient is more severely ill. However, the inability to insert a stent may be indicative of a patient's more advanced coronary artery disease. Although such conflicts are relatively few in number, they do represent an underlying difference between the two systems. If Medicare were to adopt a severity DRG system based on the APR DRG logic but assign cases based on complexity as well as severity as we do under the current Medicare DRG system, such a distinction would represent a departure from the exclusive focus on severity of illness that currently forms the basis of assigning cases in the APR DRG system.

Section 1886(d)(4) of the Act specifies that the Secretary must adjust the classifications and weighting factors at least annually to reflect changes in treatment patterns, technology, and other factors that may change the relative use of hospital resources. Therefore, we believe a method of recognizing technologies that represent increased complexity, but not necessarily greater severity of illness, should be included in the system. We plan to develop criteria for determining when it is appropriate to recognize increased complexity in the structure of the DRG system and how these criteria interact with the existing statutory provisions for new technology add-on payments. We invite public comments on this particular issue.

Another difference between the CMS DRG system and the APR DRG system is the assignment of diagnosis codes in category 996 (Complications peculiar to certain specified procedures). The CMS DRG system treats virtually all of these codes as CCs. With the exceptions of complications of organ transplant and limb reattachments, these complication codes do not contribute to the severity of illness subclass in the APR DRG system. While these codes could be added to the severity logic, the appropriateness of recognizing codes such as code 998.4 (Foreign body accidentally left during a procedure) as a factor in payment calculation could create the appearance of incentives for less than optimal quality. Although there is no direct recognition of the codes under the 996 category, the precise complication, in general, can be coded separately and could contribute to the severity of illness subclass assignment.

Table B below summarizes the differences between the two DRG systems:

Table B.—Comparison of the CMS DRG System and the APR DRG System
Element | CMS DRG system | APR DRG system
Number of base DRGs | 367 | 314.
Total number of DRGs | 526 | 1,258.
Number of CC (severity) subclasses | 2 | 4.
Multiple CCs recognized | No | Yes.
CC assignment specific to base DRG | No | Yes.
Logic of CC subdivision | Presence or absence | 18-step process.
Logic of MDC assignment | Principal diagnosis | Principal diagnosis with rerouting.
Death used in DRG definitions | Yes | No.
Data requirements | Hospital claims | Hospital claims.

To illustrate the differences between the two DRG systems, we compare in Table C below four cases that have been assigned to CMS DRGs and APR DRGs. In all four cases, the patient is a 67-year-old who is admitted for diverticulitis of the colon and who has a multiple segmental resection of the large intestine performed. ICD-9-CM diagnosis code 562.11 (Diverticulitis of colon (without mention of hemorrhage)) and ICD-9-CM procedure code 45.71 (Multiple segmental resection of large intestine) would be reported to capture this case. In both DRG systems, the patient would be assigned to the base DRG for major small and large bowel procedures. These four cases would fall into two different CMS DRGs and four different APR DRGs. We include Medicare average charges in the table to illustrate the differences in hospital resource use.

Case 1: The patient receives only a secondary diagnosis of an ulcer of anus and rectum (ICD-9-CM diagnosis code 569.41). Under the CMS DRG system, the patient is assigned to base DRG 149 (Major Small and Large Bowel Procedures Without CC). Under the APR DRG system, the patient is assigned to base DRG 221 (Major Small and Large Bowel Procedures) with a severity of illness subclass of 1 (minor).

Case 2: The patient receives a secondary diagnosis of an ulcer of anus and rectum and an additional secondary diagnosis of unspecified intestinal obstruction (ICD-9-CM diagnosis code 560.9). Under the CMS DRG system, the patient is assigned to DRG 148 (Major Small and Large Bowel Procedures With CC). Under the APR DRG system, the patient is assigned to base DRG 221 and the severity of illness subclass increases to 2 (moderate).

Case 3: The patient receives multiple secondary diagnoses of an ulcer of anus and rectum, unspecified intestinal obstruction, acute myocarditis (ICD-9-CM diagnosis code 422.99), and atrioventricular block, complete (ICD-9-CM diagnosis code 426.0). Under the CMS DRG system, the patient is assigned to DRG 148. Under the APR DRG system, the patient is assigned to base DRG 221 and the severity of illness subclass increases to 3 (major).

Case 4: The patient receives multiple secondary diagnoses of an ulcer of anus and rectum, unspecified intestinal obstruction, acute myocarditis, atrioventricular block, complete, and the additional diagnosis of acute renal failure, unspecified (ICD-9-CM diagnosis code 584.9). Under the CMS DRG system, the patient is assigned to DRG 148. Under the APR DRG system, the patient is assigned to base DRG 221 and the severity of illness subclass increases to 4 (extreme).

Table C.—Example of Sample Cases Assigned Under the CMS DRG System and Under the APR DRG System
Principal diagnosis code: 562.11 Procedure code: 45.71 | CMS DRG system: DRG assigned | CMS DRG system: Average charge | APR DRG system: DRG assigned | APR DRG system: Average charge
Case 1—Secondary Diagnosis: 569.41 | 149 without CC | $25,147 | 221 with severity of illness subclass 1 | $25,988
Case 2—Secondary Diagnoses: 569.41, 560.9 | 148 with CC | 59,519 | 221 with severity of illness subclass 2 | 38,209
Case 3—Secondary Diagnoses: 569.41, 560.9, 422.99, 426.0 | 148 with CC | 59,519 | 221 with severity of illness subclass 3 | 66,597
Case 4—Secondary Diagnoses: 569.41, 560.9, 422.99, 426.0, 584.9 | 148 with CC | 59,519 | 221 with severity of illness subclass 4 | 130,750

The largest significant difference in average charges is seen in case 4 where the average charge under the APR DRG assigned to the patient ($130,750) is more than double the average charge under the CMS DRG assigned to the patient ($59,519).

b. Consolidated Severity-Adjusted DRGs for Use in the IPPS

APR DRGs were developed to encompass all-payer patient populations. As a result, we found that, for the Medicare population, some of the APR DRGs have very low volume. MedPAC noted that the larger number of DRGs under a severity-weighted system might mean that CMS would be faced with establishing weights in many categories that have few cases and, thus, potentially creating unstable estimates. While volume is an important consideration in evaluating any potential consolidation of APR DRGs for use under the IPPS, we believe that hospital resource use and clinical interpretability also need to be taken into consideration. For example, any consolidation of severity of illness subclasses within a base DRG should be restricted to contiguous severity of illness subclasses. Thus, it would not be reasonable clinically to combine severity of illness subclasses 1 and 4 solely because both consist of low-volume cases. We analyzed consolidating APR DRGs by either combining the base DRGs or the severity of illness subclasses within a base DRG. For consolidation across base APR DRGs, we considered patient volume, similarity of hospital charges across all four severity of illness subclasses and clinical similarity of the base APR DRGs. For consolidations of severity of illness subclasses within a base DRG, we considered patient volume and the similarity of hospital charges between severity of illness subclasses. In considering how to consolidate severity of illness subclasses, we believed it was important to use uniform criteria across all DRGs to avoid creating confusing and difficult to interpret results. That is, we were concerned about inconsistencies in the number of severity levels across different DRGs.

The objective to simultaneously take into consideration patient volume and average charges often produced conflict. Table D below contains the overall patient volume and average charge by APR DRG severity of illness subclass. While severity of illness subclass 4 (extreme) has had the lowest patient volume of 5.80 percent, we found that the dramatically different average charges between severity of illness subclass 3 (major) and subclass 4 (extreme) patients of approximately $32,426 and $81,952, respectively, would make it difficult to consolidate severity of illness subclass 3 and 4 patients. Conversely, we found that, while the average charge difference between severity of illness subclass 1 (minor) and 2 (moderate) patients was much smaller, of approximately $17,649 and $20,021, respectively, the majority of patient volume (68.08 percent) is in these two subclasses. Thus, low patient volume and small average charge differences rarely coincided.

Table D.—Overall Average Charges and Patient Volume by APR DRG Severity of Illness Subclass
| All cases | APR DRG severity of illness subclass 1 | APR DRG severity of illness subclass 2 | APR DRG severity of illness subclass 3 | APR DRG severity of illness subclass 4
Count | 11,142,651 | 21.47% | 46.61% | 26.12% | 5.80%
Average Charges | $26,342 | $17,649 | $20,021 | $32,426 | $81,952

There were also few opportunities to consolidate base DRGs. For base DRGs for which there was a clinical basis for considering a consolidation, there were usually significant differences in average charges for one or more of the severity of illness subclasses. APR DRGs already represented a considerable consolidation of base DRGs (314) compared to CMS DRGs (367). Thus, we expected that further base DRG consolidation would be difficult.

We reviewed the patient volume and average charges across APR DRGs and found that medical cases assigned severity of illness subclass 4 within an MDC have similar average charges. We observed the same pattern in average charges across severity of illness subclass 4 surgical patients within an MDC. The data suggest that, in cases with a severity of illness of subclass 4, the severity of the cases had more impact on hospital resource use than the reason for admission (that is, the base APR DRG within an MDC). Thus, we believe that, within each MDC, the severity of illness subclass 4 medical and surgical patients, respectively, could be consolidated into a single group.

In some MDCs, it was not possible to consolidate into a single medical and a single surgical severity of illness subclass 4 group. In these MDCs, more than one group was necessary. For instance, Table E below contains the patient volume and average charges for severity of illness subclass 4 cases in MDC 11 (Diseases and Disorders of the Kidney and Urinary Tract). Taking into consideration volume and average charges, except for APR DRG 440 (Kidney Transplant), surgical cases assigned severity of illness subclass 4 in MDC 11 could be consolidated into a single group having 5,492 patients and an average charge of $107,258. However, we decided not to include kidney transplant patients in this severity of illness 4 subclass due to their very high average charges (approximately $203,732 or more than $100,000 greater than other patients in MDC 11 having a severity of illness 4 subclass). Average charges within the consolidated severity of illness 4 surgical DRG in MDC 11 show some variation but are much higher than the corresponding average charges for the severity of illness subgroup 3 patients of $48,863. Thus, our analysis suggests that the data support maintaining three severity of illness levels for each base DRG in MDC 11; a separate severity of illness 4 subclass for all patients other than those having kidney transplant; and a separate DRG for kidney transplants.

Table E.—Summary Statistics for Surgical Cases With Severity of Illness Subclass 4 in MDC 11
APR DRG | Number of cases | Average length of stay | Average total charges
440 (Kidney Transplant) | 378 | 18.0 | $203,732
441 (Major Bladder Procedures) | 528 | 21.5 | 128,729
442 (Kidney & Urinary Tract Procedure for Malignancy) | 833 | 16.6 | 101,501
443 (Kidney & Urinary Tract Procedure for Non-Malignancy) | 966 | 18.4 | 103,905
444 (Renal Dialysis Access Device Procedure Only Severity of Illness Subclass 4) | 935 | 18.3 | 104,249
445 (Other Bladder Procedures) | 186 | 15.2 | 80,197
446 (Urethral & Transurethral Procedure—Severity of Illness Subclass 4) | 492 | 13.4 | 73,110
447 (Other Kidney, Urinary Tract & Related Procedures) | 1,552 | 19.3 | 121,011

The consolidation of severity of illness 4 subclass APR DRG into fewer groups was done for all MDCs except MDC 15 (Newborn and Other Neonates With Conditions Originating in the Perinatal Period), MDC 19 (Mental Diseases and Disorders), and MDC 20 (Alcohol/Drug Use and Alcohol/Drug Induced Organic Mental Disorders). In the 22 MDCs in which the severity of illness subclass 4 consolidation was applied, the number of separate severity of illness subclass 4 groups was reduced from 262 to 69.

For MDC 14 (Pregnancy, Childbirth, and Puerperium), the base APR DRGs were consolidated from 12 to 6. Severity of illness subclass 1 through 3 were retained, and severity of illness subclass 4 was consolidated into a single APR DRG, except for cesarean section and vaginal deliveries, which were maintained as separate APR DRGs. This consolidation reduced the total number of obstetric APR DRGs from 48 to 22.

The Medicare patient volume in MDC 15 was very low, allowing for a more aggressive consolidation. For MDC 15, we consolidated 28 base APR DRGs into 7 base consolidated severity-adjusted DRGs. For each of the 7 consolidated base MDC 15 DRGs, we combined severity of illness subclasses 1 and 2 into one DRG and severity of illness subclass 3 and 4 into another one. This consolidation reduced the total number of MDC 15 DRGs from 112 in the APR DRG system to 14 consolidated severity-adjusted DRGs.

In MDC 19, we consolidated 12 base DRGs into 4 base DRGs. We retained the 4 severity of illness subclasses in MDC 19 for each of the 4 base DRGs. In MDC 20, the base APR DRG for patients who left against medical advice has severity of illness subclass 1 and 2 consolidated and severity of illness subclass 3 and 4 consolidated. The remaining 4 base DRGs were consolidated into 1 base DRG and retained in 4 severity of illness subclasses.

We did not consolidate any of the pre-MDC subclass 4 APR DRGs such as Heart Transplant. As explained earlier, pre-MDC DRGs are DRGs to which cases are directly assigned on the basis of ICD-9-CM procedure codes. These DRGs are for liver and/or intestinal transplants, heart and/or lung transplants, bone marrow transplants, pancreas transplants, and tracheotomies. For the pre-MDC DRGs, except for Bone Marrow Transplant, we consolidated severity of illness subclasses 1 and 2 into one DRG. In addition, the three base APR DRGs for Human Immunodeficiency Virus (HIV) with multiple or major HIV-related conditions had severity of illness subclasses 1 and 2 consolidated.

In total, we reduced 1,258 APR DRGs to 861 consolidated severity-adjusted DRGs. In Appendix C of this proposed rule, we present the 861 unique combinations of consolidated severity-adjusted DRGs.

Table F below includes a description of the consolidations that we did within each individual MDC and includes information about the total number of DRGs that were eliminated from the APR DRGs to develop the consolidated severity-adjusted DRGs.

BILLING CODE 4120-01-P

BILLING CODE 4120-01-C

Appendix D of this proposed rule shows the crosswalk of each consolidated severity-adjusted DRG to its respective APR DRG. We numbered the DRGs sequentially and incorporated the severity of illness subclass into the DRG description. However, within the range of sequential numbers used for an MDC, we retained some unused numbers to allow for future DRG expansion. By using a three-digit number for the consolidated severity-adjusted DRGs, we also avoid the need for reprogramming of computer systems that would be necessary to accommodate a change from the current three-digit DRG number to separate fields for the base consolidated severity-adjusted DRG number and the severity of illness subclass.

Severity DRGs represent a significant change from our current DRG system. In addition to changing the way claims are grouped, severity DRGs introduce other issues requiring additional analysis, including possible increases in reported case-mix and changes to the outlier threshold. Our analysis of these issues is outlined below.

c. Changes to CMI From a New DRG System

After the 1983 implementation of the IPPS DRG classification system, CMS observed unanticipated growth in inpatient hospital case-mix (the average relative weight of all inpatient hospital cases) that is used as proxy measurement for severity of illness. There are three factors that determine changes in a hospital's CMI:

(1) Admitting and treating a more resource intensive patient-mix (due, for example, to technical changes that allow treatment of previously untreatable conditions and/or an aging population);

(2) Providing services (such as higher cost surgical treatments, medical devices, and imaging services) on an inpatient basis that previously were more commonly furnished in an outpatient setting; and

(3) Changes in documentation (more complete medical records) and coding practice (more accurate and complete coding of the information contained in the medical record).

Changes in CMI as a result of improved documentation and coding do not represent real increases in underlying resource demands. For the implementation of the IPPS in 1983, improved documentation and coding were found to be the primary cause in the underprojection of CMI increases, accounting for as much as 2 percent in the annual rate of CMI growth observed post-PPS.²

² Carter, Grace M. and Ginsburg, Paul: The Medicare Case Mix Index Increase, Medical Practice Changes, Aging and DRG Creep, Rand, 1985.

We believe that adoption of consolidated severity-adjusted DRGs would create a risk of increased aggregate levels of payment as a result of increased documentation and coding. MedPAC notes that “refinements in DRG definitions have sometimes led to substantial unwarranted increase in payments to hospitals, reflecting more complete reporting of patients' diagnoses and procedures.” MedPAC further notes that “refinements to the DRG definitions and weights would substantially strengthen providers' incentives to accurately report patients' comorbidities and complications.” To address this issue, MedPAC recommended that the Secretary “project the likely effect of reporting improvements on total payments and make an offsetting adjustment to the national average base payment amounts.” ³

³ Medicare Payment Advisory Commission: Report to Congress on Physician-Owned Specialty Hospitals, March 2005, p. 42.

The Secretary has broad discretion under section 1886(d)(3)(A)(vi) of the Act to adjust the standardized amount so as to eliminate the effect of changes in coding or classification of discharges that do not reflect real changes in case-mix. While we modeled the changes to the DRG system and relative weights to ensure budget neutrality, we are concerned that the large increase in the number of DRGs will provide opportunities for hospitals to do more accurate documentation and coding of information contained in the medical record. Coding that has no effect on payment under the current DRG system may result in a case being assigned to a higher paid DRG under the consolidated severity-adjusted system. Thus, more accurate and complete documentation and coding may occur under the consolidated severity-adjusted system because it will result in higher payments under the more sophisticated DRG system. We are soliciting comments on this issue.

4. Effect of Consolidated Severity-Adjusted DRGs on the Outlier Threshold

(If you choose to comment on issues in this section, please include the caption “Cost-Based Weights: Outlier Threshold” at the beginning of your comment.)

In its March 2005 Report to Congress on Physician-Owned Specialty Hospitals, MedPAC recommended that Congress amend the law to give the Secretary authority to adjust the DRG relative weights to account for the differences in the prevalence of high-cost outlier cases. MedPAC recommended DRG-specific outlier thresholds that are financed by each DRG rather than through an across-the-board adjustment to the standardized amounts. Furthermore, in comments that MedPAC submitted during the comment period for the FY 2006 IPPS proposed rule, MedPAC stated its belief that the current policy makes DRGs with a high prevalence of outliers profitable for two reasons: (1) These DRGs receive more in outlier payments than the 5.1 percent that is removed from the national standardized amount; and (2) the relative weight calculation results in these DRGs being overvalued because of the high standardized charges of outlier cases. MedPAC also noted that, under its recommendations, outlier thresholds in each DRG would reduce the distortion in the relative weights that comes from including the outlier cases in the calculation of the weight and would correct the differences in profitability that stem from using a uniform outlier offset for all cases. MedPAC added that its recommendation would help make relative profitability more uniform across all DRGs.

In the FY 2006 IPPS final rule (70 FR 47481), we responded to MedPAC's recommendation on outliers by noting that a change in policy to replace the 5.1 percent offset to the standardized amount would require a change in law. However, because the Secretary has broad discretion to consider all factors that change the relative use of hospital resources in the calculation of the DRG relative weights, we stated we would consider changes that would reduce or eliminate the effect of high-cost outliers on the DRG relative weights. At this time, we have not completed a detailed analysis of MedPAC's outlier recommendation because we do not have the authority to adopt such a change under current law. Instead, we have focused our resources on analyzing MedPAC's recommendations with respect to adopting severity DRGs and calculating cost-based HSRV weights that can be adopted without a change in law. While we intend to study MedPAC's recommendation in more detail at a future date, we note that the changes described above with respect to adopting a consolidated severity-adjusted DRG system would have important implications for the outlier threshold.

As noted above, we have completed a detailed analysis that would increase the number of DRGs from 526 under the current CMS DRG system to 861 under a consolidated severity-adjusted DRG system. Using FY 2004 Medicare charge data, 3M Health Information Systems simulated the effect of adopting consolidated severity-adjusted DRGs in conjunction with cost-based HSRV weights (described below) on the FY 2006 outlier threshold using the same estimation parameters used by CMS in the FY 2006 final rule (that is, the charge inflation factor of 14.94 percent) (70 FR 47494). Under these assumptions, 3M Health Information Systems estimated that the outlier threshold would be reduced from $23,600 under the current system to $18,758 under a consolidated severity-adjusted DRG system. By increasing the number of DRGs to better recognize severity, the DRG system itself would provide better recognition for cases that are currently paid as outliers. That is, many cases that are high-cost outlier cases under the current DRG system would be paid using a severity of illness subclass 3 or 4 under the consolidated severity-adjusted DRGs and could potentially be paid as nonoutlier cases.

5. Impact of Refinement of DRG System on Payments

Using the FY 2004 MedPAR claims data, we simulated the payment impacts of moving to the consolidated severity-adjusted DRG GROUPER and the alternative HSRVcc method for developing HSRV weights. These payment simulations do not make any adjustments for changes in coding or case-mix. For purposes of this analysis, estimated payments were held budget neutral to the estimated FY 2006 payments because we have a statutory requirement to make any changes to the weights or GROUPER budget neutral. Based on the results of this impact analysis, we are proposing to adopt both the HSRVcc weighting methodology and the consolidated severity-adjusted DRGs. However, for reasons described in more detail below, we are proposing to implement the HSRVcc weighting methodology we described above for FY 2007 and future fiscal years and the consolidated severity-adjusted DRG GROUPER for implementation in FY 2008 (if not earlier). Although we are proposing to adopt each of these changes to the IPPS sequentially, the changes should be viewed as part of a unified effort to improve Medicare's inpatient hospital payment system. Our findings in support of these proposals are discussed below.

In examining the effects of moving to consolidated severity-adjusted DRGs with HSRVcc relative weights, the primary impact of the changes generally results from a redistribution of the relative weights from the surgical DRGs to the medical DRGs. In Table G below, we show an analysis of the total case-mix change for the medical and surgical DRGs. We are comparing the percent change in case-mix between the FY 2006 DRGs with HSRVcc relative weights and the FY 2006 GROUPER with the FY 2006 charge-based relative weights. We also show the percent change in case-mix between the consolidated severity-adjusted DRGs with HSRVcc relative weights and the FY 2006 GROUPER with the FY 2006 charge-based relative weights and the percent change between the consolidated severity-adjusted DRGs with HSRVcc relative weights and the FY 2006 DRGs with HSRVcc relative weights.

Table G.—Percent Change in Case-Mix Among Medical and Surgical DRGs by MDC
MDC description | Cases | Percent change in case-mix due to HSRVcc | Percent change in case-mix due to consolidated severity-adjusted DRGs | Total impact all changes (percent)
Medical | 7,832,185 | 6.0 | 1.3 | 7.3
Surgical | 3,301,570 | −5.7 | −1.3 | −6.9

Surgical DRGs experience a decline of 5.7 percent in weights, while medical DRGs overall increase by approximately 6 percent when we apply the HSRVcc method to the FY6 DRGs. Adoption of the consolidated severity-adjusted DRGs also shows a redistribution of payment from the surgical to the medical DRGs, but to a much lesser extent. The redistribution of payments from adopting the HSRVcc weighting methodology can be explained by the much lower CCRs for ancillary cost centers that account for a higher proportion of total charges in the surgical DRGs than the medical DRGs. Table H below shows department charges as a percent of total charges and the CCRs for the two routine cost centers (routine days and intensive care unit) and eight ancillary cost centers that we used to develop the cost-based weights.

Table H.—Departmental Charges as Percent of Total Charges for Medical and Surgical DRGs and Departmental Cost-to-Charge Ratios (CCRs)
[In percent]
| Routine days | Intensive care unit | Supplies & equipment | Therapy | Lab | Radiology | Other | O.R. | Pharmacy | Cardiac
Cost-to-Charge Ratio | 85 | 72 | 34 | 35 | 25 | 24 | 51 | 37 | 26 | 20
Medical | 24 | 12 | 5 | 7 | 14 | 10 | 7 | 1 | 16 | 5
Surgical | 10 | 10 | 23 | 4 | 8 | 5 | 4 | 17 | 13 | 6

As the above Table H shows, the routine cost centers account for 36 percent (24 percent for routine days and 12 percent for intensive care unit) and 20 percent (10 percent for routine days and 10 percent for intensive care unit) of total charges in the medical and surgical DRGs, respectively. These departments have CCRs that range from 85 (routine days) to 72 percent (intensive care unit). However, the markup over costs is much higher in the ancillary than in the routine cost centers. The CCRs in the ancillary departments range from 20 percent (cardiac) to 51 percent (other). Ancillary cost centers account for 64 percent of total charges in the medical and 80 percent of total charges in the surgical DRGs. Thus, because ancillary departments have higher markups and account for a larger proportion of total charges in the medical than the surgical DRGs, adopting HSRVcc redistributes payments to the more routine-intensive medical DRGs. Table H supports the hypothesis that the charge-based relative weight methodology results in high payments to surgical DRGs that use more ancillary services relative to medical DRGs that use more routine services. By changing the relative weight methodology from the charge-based to the HSRVcc method, the weights will more closely reflect actual relative costs.

In addition to examining the change in weights by MDC for the medical and surgical DRGs, we also looked at the percent change to the relative weights for several DRGs that account for the high Medicare spending. Again, the payment impacts illustrate that a change from the charge-based relative weights to the HSRVcc weighting methodology will result in significant payment redistribution for selected DRGs. Table I below also shows payment reductions from adopting HSRVcc for several DRGs where ancillary charges represent a high proportion of total charges and the ancillary department has a low CCR. For instance, Table I shows a 30-percent reduction in payment for DRG 558 from adopting HSRVcc weights. For this DRG, charges for the medical supplies and the cardiac care represent over 60 percent of average total hospital charges. These cost centers have low CCRs (34 and 20 percent for medical supplies and cardiology respectively). For this DRG, routine cost center charges account for only 7 percent of total hospital charges. Thus, similar to the MDC analysis presented above, payment for this DRG can be expected to decline because ancillary departments with higher markups account for a larger proportion of total charges.

The data are similar for many of the other DRGs presented in Table I that are showing large reductions in the relative weights from adopting the HSRVcc weighting methodology. Conversely, Table I shows payment increases from adopting HSRVcc for DRGs where routine charges represent a high proportion of total charges. These departments have high CCRs. Below we illustrate the charges by cost center as a percent of total charges for DRGs 558 and 089.

Illustration
| Routine days (percent) | ICU (percent) | Supplies and equipment (percent) | Therapy (percent) | Laboratory (percent) | Radiology (percent) | Other (percent) | O.R. (percent) | Pharmacy (percent) | Cardiac (percent)
CCRs | 85 | 72 | 34 | 35 | 25 | 24 | 51 | 37 | 26 | 20
DRG 558 | 2 | 5 | 39 | 0 | 3 | 2 | 1 | 2 | 8 | 29
DRG 089 | 25 | 9 | 7 | 9 | 14 | 8 | 6 | 1 | 19 | 3

Table I below shows a 30-percent reduction in payment for DRG 558 from adopting HSRVcc weights. For this DRG, charges for the medical supplies and the cardiac care represent nearly 80 percent of average total hospital charges. These cost centers have low CCRs (34 percent and 20 percent for medical supplies and cardiology, respectively). For this DRG, routine cost center charges account for only 7 percent of total hospital charges. Thus, similar to the MDC analysis presented above, payment for this DRG can be expected to decline because ancillary departments with higher markups account for a larger proportion of total charges. The data are similar for many of the other DRGs presented in Table I that are showing large reductions in the relative weights from adopting HSRVcc. Conversely, routine charges account for a higher proportion of total charges for the DRGs that are showing large increases in payments. For instance, payment for DRG 089 is increasing nearly 10 percent from adoption of HSRVcc weights. Routine day charges account for 34 percent of total charges for DRG 089. Thus, because routine charges represent a high proportion of total charges and these cost centers have relatively low markups, the HSRVcc methodology will lead to higher payments for this DRG.

BILLING CODE 4120-01-P

BILLING CODE 4120-01-C

Our payment impacts were similar to MedPAC's in both magnitude and direction. Table J below compares our impact estimates to those simulated by MedPAC ⁴ using our alternative HSRVcc weighting methodology and the consolidated severity-adjusted DRG GROUPER.

⁴ Medicare Payment Advisory Commission: Report to Congress on Physician-Owned Specialty Hospitals, March 2005, p. 39.

Table J.—Comparison of MedPAC's Table of Combined Payment Impact of Severity-Adjusted DRGs and Cost-Based, Hospital-Specific Relative Values (HSRVs) to the CMS/3M Analysis
[The percent changes estimated by CMS/3M are shown in parenthesis.]
Type of hospital | Decrease greater than −5% | Decrease between −5% and −1% | Decrease/increase between −1% and 1% | Increase between +1% and +5% | Increase greater than +5%
Specialty:
Heart | 87% (95%) | 13% (5%) | 0% (0%) | 0% (0%) | 0% (0%)
Orthopedic | 76% (91%) | 24% (2%) | 0% (2%) | 0% (2%) | 0% (2%)
Surgical | N/A (67%) | N/A (17%) | N/A (0%) | N/A (17%) | N/A (0%)
All Other IPPS:
Urban | 7% (8%) | 22% (25%) | 16% (19%) | 33% (31%) | 22% (17%)
Rural | 8% (11%) | 25% (35%) | 17% (20%) | 33% (26%) | 16% (9%)
High IME/DSH | 8% (10%) | 28% (25%) | 14% (15%) | 25% (28%) | 24% (23%)
**Numbers may not add to 100 percent due to rounding.

As shown in Table J above, the shifts in payment from MedPAC's method compared to the alternative approach that we developed are fairly similar. Both methods introduce refinements to the DRG GROUPER and relative weight methods that expand the DRG groups and create greater homogeneity among the cases within each DRG. These changes will significantly reduce payments to hospitals that specialize in certain DRGs experiencing a reduction in payment. There are also payment impacts across all other hospitals. Although some urban (17 percent) and rural (9 percent) providers are estimated to receive increases of greater than 5 percent from these combined changes, 8 percent of urban hospitals and 11 percent of rural hospitals are expected to experience decreases of greater than 5 percent in payment and an additional 25 percent of urban providers and 35 percent of rural providers are expected to experience a decrease of between 1 and 5 percent.

Table K below shows the impact on specific categories of hospitals of adopting HSRVcc weights and the consolidated severity-adjusted DRGs. As illustrated in Table K, cardiac specialty hospitals and orthopedic specialty hospitals may experience an 11.2 and 4.4 percent decline in payments, respectively, from the move to the HSRVcc weighting method alone. Urban hospitals experience a small decline of 0.3 but rural hospitals experience a gain of 2.7 percent. While urban hospitals as a group are not expected to experience a change in overall payments with the combined introduction of the consolidated severity-adjusted DRGs and the HSRVcc weighting methodology, rural hospitals would likely experience a 0.4 percent decline in payments.

Table K.—Payment Impact of Hospital-Specific Cost Weights and Consolidated Severity-Adjusted DRGs by Hospital Type
| Number of hospitals | Cases | Percent change in case-mix due to HSRVcc | Percent change in case-mix due to consolidated severity-adjusted DRGs | Total impact all changes
Specialty Hospital Type:
Cardiac | 19 | 44,203 | −11.2 | −0.5 | −11.7
Orthopedic | 43 | 11,097 | −4.4 | −5.2 | −9.4
Surgery | 12 | 1,840 | 0.3 | −7.4 | −7.2
All Other IPPS:
Urban | 1,959 | 7,148,362 | −0.3 | 0.3 | 0
Rural | 880 | 1,444,664 | 2.7 | −3.1 | −0.4
High IME/DSH | 734 | 2,492,485 | 0 | 0.4 | 0.4

In Table L, we provide a more detailed impact analysis by hospital type. Column 1 shows the estimated impact of moving from the current charge-based relative weight methodology to the HSRVcc method. Hospitals with more than 60 percent of Medicare patients are projected to receive the greatest benefit in payments with a 7.6 percent increase. Hospitals with less than 50 beds are estimated to experience an additional 4.1 percent increase, and hospitals with 50 to 100 beds are also projected to benefit with a 2.54 percent increase.

Payments to major and other teaching hospitals are estimated to decrease by 1.1 percent and 1 percent, respectively, while payments to nonteaching hospitals are estimated to increase by 1.3 percent. Hospitals with less than 20 percent DSH payments will experience declines in payment from 0.48 to 1.45 percent, while hospitals with DSH payments greater than 50 percent will experience a 2.3 percent increase. Because we are proposing to implement the HSRVcc weighting methodology for FY 2007, we are also showing the impact of this proposal on FY 2007 payments in the impact section in the Addendum to this proposed rule. We note that the impact section models adopting the HSRVcc in isolation using FY 2005 Medicare charge data. The impacts shown here were simulated with FY 2004 Medicare charge data. Thus, the payment changes shown in this section from adopting HSRVcc may differ from those shown in the impact section in the Addendum to this proposed rule.

Column 2 shows the estimated incremental impacts of transitioning from the FY 2006 GROUPER with HSRVcc relative weights to the consolidated severity-adjusted DRG GROUPER with HSRVcc relative weights. Hospitals with high Medicare patient percentages experience the largest payment increases of 1.1 percent, followed by hospitals in the East North Central Region where increases are estimated at 0.9 percent. Hospitals with less than 50 beds, rural hospitals, and hospitals with 50 to 100 beds experience the greatest estimated decreases in payment of 5.2, 3.1, and 2.8 percent, respectively.

Column 3 shows the estimated total impact of moving from the FY 2006 GROUPER with the current charge-based relative weights to the consolidated severity-adjusted DRG GROUPER with HSRVcc relative weights. While large urban hospitals are expected to gain 0.7 percent from the combined changes, other urban hospitals and rural hospitals are projected to experience declines of 0.7 percent and 0.4 percent, respectively. Hospitals with high percentages of Medicare patients would see the greatest increase in payments, while hospitals with low DSH percentages, hospitals with under 50 beds, and hospitals in the West North Central Region are projected to experience the greatest decreases.

Table L.—Payment Impact of Hospital-Specific Cost Weights and Consolidated Severity-Adjusted DRGs by Hospital Category
| Number of hospitals | Cases | Percent change in case mix due to HSRVcc (1) | Percent change in case-mix due to consolidated severity-adjusted DRGs (2) | Total impact all changes (3)
Geographic Location:
Large Urban | 1,454 | 5,159,405 | −0.1 | 0.7 | 0.7
Other Urban | 1,158 | 4,313,598 | −0.7 | 0.0 | −0.7
Rural | 1,035 | 1,669,648 | 2.8 | −3.1 | −0.4
Census:
New England | 150 | 550,391 | 0.3 | −0.5 | −0.2
Middle Atlantic | 473 | 1,750,452 | 0.1 | −0.5 | −0.4
South Atlantic | 556 | 2,191,787 | −0.2 | 0.4 | 0.2
East North Central | 541 | 1,973,092 | −0.1 | 0.9 | 0.8
East South Central | 368 | 973,664 | 0.3 | −1.3 | −1.0
West North Central | 314 | 846,046 | −0.5 | −0.8 | −1.3
West South Central | 572 | 1,332,819 | −0.1 | −0.1 | −0.2
Mountain | 234 | 502,128 | −0.6 | 0.6 | −0.1
Pacific | 439 | 1,022,272 | 0.6 | 0.3 | 0.9
Bed Size:
Less than 50 beds | 761 | 423,096 | 4.1 | −5.2 | −1.3
50-100 beds | 717 | 1,028,840 | 2.5 | −2.8 | −0.3
100-200 beds | 1,096 | 2,895,808 | 1.8 | −0.6 | 1.2
200-300 beds | 509 | 2,396,739 | 0.0 | 0.5 | 0.5
300-400 beds | 269 | 1,666,872 | −0.9 | 0.7 | −0.2
400-500 beds | 138 | 1,017,724 | −1.5 | 0.7 | −0.8
Greater than 500 beds | 157 | 1,713,572 | −1.8 | 0.8 | −1.0
Teaching Status:
Major Teaching | 268 | 1,552,985 | −1.1 | 0.5 | −0.5
Other Teaching | 760 | 3,856,302 | −0.9 | 0.6 | −0.3
Non Teaching | 2,619 | 5,733,364 | 1.3 | −0.8 | 0.5
Disproportionate Share:
%DSH Less than 5% | 202 | 339,171 | −1.4 | −0.8 | −2.2
%DSH 5-10% | 335 | 1,048,420 | −0.6 | −0.1 | −0.7
%DSH 10-15% | 460 | 1,429,319 | −0.6 | 0.1 | −0.4
%DSH 15-20% | 582 | 2,061,387 | −0.5 | −0.1 | −0.6
%DSH 20-25% | 528 | 1,812,743 | 0.1 | −0.1 | 0.0
%DSH 25-30% | 455 | 1,497,940 | 0.0 | 0.2 | 0.2
%DSH 30-40% | 516 | 1,586,376 | 0.0 | 0.0 | −0.1
%DSH 40-50% | 262 | 693,815 | 0.6 | −0.1 | 0.4
%DSH Greater than 50% | 307 | 673,480 | 2.3 | 0.5 | 2.9
Percent Medicare Discharges:
Less than 10% Medicare Cases | 1,194 | 3,210,704 | −0.7 | −0.1 | −0.8
10%-20% Medicare Cases | 1,471 | 5,109,042 | 0.1 | 0.0 | 0.0
20%-30% Medicare Cases | 617 | 1,934,947 | −0.1 | 0.1 | −0.1
30%-40% Medicare Cases | 226 | 617,518 | 0.9 | 0.1 | 1.0
40%-50% Medicare Cases | 86 | 197,882 | 2.0 | 0.8 | 2.8
50%-60% Medicare Cases | 39 | 55,346 | 5.2 | 1.1 | 6.4
Greater than 60% Medicare Cases | 14 | 17,212 | 7.6 | −0.2 | 7.4

6. Conclusions

As we describe in more detail below, we believe that adopting HSRVcc weights and the consolidated severity-adjusted DRGs as recommended by MedPAC has the potential to result in significant improvements to Medicare's IPPS payments. This rule proposes the HSRVcc methodology effective for FY 2007.

Because we believe that accounting more appropriately for severity of illness may significantly improve the effectiveness of the IPPS, we are also proposing implementation of the consolidated severity-adjusted DRGs or alternative severity adjustment methods in FY 2008 (if not earlier). In developing this proposal, we considered a range of alternatives outlined below, and we are soliciting comments on both the proposal and the alternatives. We ask commenters to consider both the consolidated severity-adjusted DRGs and alternative severity adjustment methods for accounting for severity more comprehensively in the DRG payment system. For example, under one alternative, we would implement the consolidated severity-adjusted DRGs in FY 2007 along with the HSRVcc weighting methodology. In this event, as discussed above, to maintain budget neutrality, we would also implement in FY 2007 an adjustment to the standardized amounts to eliminate the effect of changes in coding or classification of discharges that do not reflect real changes in case-mix. Under another alternative, as proposed, we would adopt and implement consolidated severity-adjusted DRGs in FY 2008. Under yet another alternative, we would consider partially implementing the consolidated severity-adjusted DRGs in FY 2007 and complete implementation in FY 2008. However, there are practical difficulties associated with partial implementation of consolidated severity-adjusted DRGs because cases in a single DRG under the current CMS DRG system may group to multiple DRGs and MDCs under a consolidated severity-adjusted DRG system. Conversely, cases that group to multiple MDCs and DRGs under the current system may group to a single MDC and DRG under the current system. We welcome public comments on this issue.

One potential alternative to partially adopting consolidated severity-adjusted DRGs would involve applying a clinical severity concept to an expanded set of DRGs in FY 2007. For example, we have received correspondence that raised the concern that hospitals may have incentives under the current DRG system to avoid severely ill, resource-intensive back and spine surgical cases (as discussed in section II.D.3.b. of this proposed rule; the correspondence specifically requested that we apply a clinical severity concept to DRG 546). Other surgical DRGs may not accurately recognize case severity. Because of the frequency of DRG use and the potential for risk selection, certain DRGs may be particularly important in creating a financial incentive for hospitals to select a less severely ill patient whose case would be assigned to the same DRG as a more severely ill patient.

Therefore, while we are proposing to adopt the consolidated severity-adjusted DRGs in FY 2008, we are considering whether to make more limited changes to the current DRG system to better recognize severity of illness in FY 2007. In the FY 2006 IPPS final rule (70 FR 47474 through 47478), we took steps to better recognize severity of illness among cardiovascular patients. For all DRGs except cardiac DRGs, we currently distinguish between more complex and less complex cases based on the presence or absence of a CC. However, the diagnoses that we designate as CCs are the same across all base DRGs. Because the CC list is not dependent on the patient's underlying condition, CCs may not accurately recognize severity in a given case. The changes we made in FY 2006 to the cardiac DRGs significantly improved recognition of severity between patients by distinguishing between more and less severe cases based on the presence or absence of a major cardiovascular condition (MCV). We are considering whether a similar approach applied to other DRGs would improve payment.

Much like the approach we took last year to identify MCV conditions that represented higher severity in cardiovascular patients, we plan to examine which conditions identify more severely ill cases in selected MDCs and DRGs. We are soliciting comments as to whether it would be appropriate to adopt these types of limited changes in FY 2007 as an intermediate step to adopting consolidated severity-adjusted DRGs in FY 2008. We also encourage commenters to send suggestions regarding this method for modifying the DRGs. Under the final alternative, we would implement the consolidated severity-adjusted DRGs in FY 2007 and the HSRVcc methodology in FY 2008. As the impacts presented in this proposed rule are based on the latest and best available data, we believe the estimated yearly impacts due to implementing the HSRVcc methodology in FY 2007 described in the regulatory impact section of Appendix A of this proposed rule would be similar to the annual impact of adopting the HSRVcc methodology in FY 2008.

With respect to the relative weight calculations, we believe that adopting HSRVcc weights has the potential to significantly improve payment equity between DRGs. As MedPAC notes, “a survey of hospitals' charging practices suggest that hospitals use diverse strategies for setting service charges and raising them over time.” MedPAC found that data from the Medicare cost reports indicate that hospital markups for ancillary services (for example, operating room, radiology, and laboratory) are generally higher than for routine services (for example, intensive care unit and room and board).⁵ Thus, MedPAC has concluded that the relative weights for DRGs that use more ancillary services may be too high compared to other DRGs where the routine costs account for a higher proportion of hospital costs. We agree. The CCRs that we are using to develop the HSRVccs support MedPAC's conclusion. As indicated above, we summarized hospital-level cost and charge information to 2 routine and 8 ancillary departmental cost centers and found that national average routine cost center CCRs ranged from 72 percent (intensive care unit days) to 85 percent (routine days), while ancillary cost center CCRs ranged from 20 percent (cardiology) to 37 percent (operating room).

⁵ Ibid., p. 26.

MedPAC also found that relative profitability ratios were higher among cardiovascular surgical DRGs than the medical DRGs.⁶ We believe the relative profitability of the surgical cardiovascular DRGs has been an important factor in the development of specialty heart hospitals. Our payment impact analysis indicates that this issue will be addressed by adopting HSRVccs. Moving from the current system of charge-based weights to HSRVcc weights increases payment in the medical DRGs relative to the surgical DRGs. We expected this result, given that routine costs will generally account for a higher proportion of total costs in the medical DRGs than in the surgical DRGs. Adopting HSRVcc weights would result in the most significant improvement in hospital payment-to-cost ratios among the changes to the IPPS recommended by MedPAC.⁷ For these reasons described above, we are proposing to adopt HSRVccs for FY 2007.

⁶ Ibid., p. 29.

⁷ Ibid., p. 37.

Based on our analysis, we concur with MedPAC that the modified version of the APR DRGs would account more completely for differences in severity of illness and associated costs among hospitals. MedPAC observed some modest improvements in hospitals' payment-to-cost ratios from adopting APR DRGs.⁸ We modeled the consolidated severity-adjusted DRGs discussed above and observed a 12-percent increase in the explanatory power (or R-square statistic) of the DRG system to explain total hospital charges. That is, we found more uniformity among hospital total charges within the consolidated severity-adjusted DRG system than we did with Medicare's current DRG system. While we believe the consolidated severity-adjusted DRG system that we described above has the potential to improve the IPPS, we have the following concerns about adopting these changes for FY 2007, which is why we have proposed not adopting the changes in FY 2007. However, we recognize that there may be countervailing views, and we specifically seek comment on the wisdom of adopting consolidated severity-adjusted DRGs in FY 2007. Below are our concerns with immediate implementation of consolidated severity-adjusted DRGs:

⁸ Ibid., p. 37.

• These changes would represent a major change to how hospitals are paid for Medicare inpatient services. Given the number of new DRGs and logic for assigning cases in a consolidated severity-adjusted DRG system, we believe it may be appropriate to provide hospitals with additional time to plan for these changes. We also are considering whether hospitals should have more than the 60-day public comment period and the additional 60-day delay between the publication of the final rule and implementation on October 1, 2006, to fully understand and plan for the changes that we are proposing. Further, we welcome public comment on the changes we are proposing;

• If, based on analysis of data and public comments received, we were to make significant revisions in the final rule to the consolidated severity-adjusted DRGs we describe above, hospitals would have only 60 total days between the publication of the final rule and the October 1, 2006 effective date of the IPPS rule to understand and plan for the new DRG system.

• While we modeled the changes to the DRG system and relative weights to reflect budget neutrality, we believe the large increase in the number of DRGs would provide opportunities for hospitals to more accurately and completely code the information contained in the medical record. Coding that has no effect on payment under the current DRG system may result in a case being assigned to a higher paid DRG under the consolidated severity-adjusted DRG system. Thus, more accurate and complete coding may occur under the new system because the more sophisticated DRG system would mean that more comprehensive coding could result in higher payments. Section 1886(d)(3)(A)(vi) of the Act provides the Secretary with the authority to adjust the standardized amounts to account for the effect of coding or classification changes that do not reflect real changes in case-mix. We are interested in public comments on this issue.

• As described above, adoption of a consolidated severity-adjusted DRG system could have implications for the outlier threshold.

• As we indicated in the introduction to this section, adoption of a consolidated severity-adjusted DRG system also raises issues regarding the IME and DSH adjustments. It is possible that a consolidated severity-adjusted DRG system would have important implications for these payment adjustments. We believe further study of this issue is warranted.

• To this point, we have only considered one alternative DRG system to better recognize severity of illness. It is possible that the public comment process will present compelling evidence that there are potential alternatives to the consolidated severity-adjusted DRG system that could also better recognize severity of illness.

Therefore, for the reasons indicated above, we are seeking comment on the most effective approach to address severity of illness in the IPPS. However, we reserve the option to adopt consolidated severity-adjusted DRGs in FY 2007, based upon the comments that we receive. Between now and the eventual implementation, we will carefully study the additional impact of these DRGs on payment accuracy after our proposed refinements in relative weights are implemented, as well as their impact on hospitals before reaching a final decision.

Given the changes we are proposing, we believe that hospitals would be interested in understanding how a given case would be assigned to a consolidated severity-adjusted DRG under the new system. In order to facilitate understanding of the underlying severity DRG concepts and logic, we are providing a link below to 3M's Web site for the duration of the comment period where users can access information related to the proposed consolidated severity-adjusted DRGs. Users will have access to a tool that allows them to build case examples using this proposed DRG classification system. The report produced by the tool will provide a detailed explanation of how the severity of illness was assigned and the diagnostic and demographic factors affecting that assignment. In addition, users will be able to view the APR DRG Definitions Manual, a report showing the mapping from the standard APR DRGs to the consolidated severity-adjusted DRGs, a report showing basic APR DRG statistics, and other APR DRG background and educational materials. This site can be accessed at http://www.aprdrgassign.com.

In addition to the above information, CMS makes available for purchase the Expanded Modified MedPAR data that were used in simulating the policies proposed in the IPPS rule. If readers have already ordered the proposed rule data, we are in the process of filling the orders and will be providing the FY 2005 MedPAR data that were used to model the proposed changes to the DRGs and relative weights for FY 2007 as well as the FY 2004 MedPAR data that we used to model the consolidated severity-adjusted DRGs that we are proposing to implement in FY 2008 (if not earlier). If readers have not ordered the proposed rule MedPAR data but are interested in receiving them, we encourage them to order the data as soon as possible by following the directions provided below. We will process orders in the order they are received. For information on how to order the Expanded Modified MedPAR, go to the following Web site: http://www.cms.hhs.gov/LimitedDataSets/ and click on MedPAR Limited Data Set (LDS)—Hospital (National). This Web page will describe the file and provide directions to further detailed instructions for how to order. Persons placing orders must send the following: Letter of Request, LDS Data Use Agreement and Research Protocol (see Web site for further instructions), LDS Form, and a check for $3,655 to: Centers for Medicare & Medicaid Services, Public Use Files, Accounting Division, P.O. Box 7520, Baltimore, MD 21207-0520.

We are seeking public comments on both of these proposals and whether we should provide a transition to the HSRVcc weights. The proposed changes to the relative weights, in some cases, could result in significant changes to hospital payments. Using FY 2005 MedPAR data, we computed an estimated FY 2006 CMI (based on FY 2006 relative weights) and an estimated FY 2007 CMI (based on the FY 2007 weights that we are proposing in this proposed rule) and looked at the percent change from FY 2006 to FY 2007. Table M shows the number of hospitals in each category that can expect to experience increases or decreases in CMI of more than 5 percent and also shows the number of providers expected to experience smaller changes in case-mix.

Overall, we estimate that 134 providers may experience decreases in payment of greater than 5 percent, while 1,003 providers may expect increases of greater than 5 percent. Approximately 54 percent of rural hospitals may receive increases in their CMI of greater than 5 percent. However, as discussed in the previous section, the eventual implementation of a consolidated severity-adjusted DRG system in FY 2008 (if not earlier) would offset these increases for some types of cases or categories of hospitals. For this reason, we are considering whether to provide a transition to the HSRVcc weights. Under such a transition, we would blend the HSRVcc weights with the charge-based weights over a period of 2, 3, or 4 years. For instance, if we were to implement the HSRVcc methodology over 2 years, we would blend 1/2 of the HSRVcc weights with 1/2 of the charge-based weights. Such a transition would result in an impact of 50 percent of moving directly to the HSRVcc weights. If we were to establish a longer transition to the HSRVcc weights, we would blend charge-based with hospital-specific cost weights calculated under the consolidated severity-adjusted DRGs. As discussed in the previous sentences, we are presenting an example of a 2-year transition because the payment impact of consolidated severity-adjusted DRGs and the HSRVcc weights go in different directions for some types of cases or categories of hospitals. Thus, a 2-year transition provides the shortest time period for achieving the improvements to the IPPS we have analyzed. However, we welcome public comments on this issue.

TABLE M.—Percent Change in Case-Mix Index Between FY 2006 and FY 2007 Based on FY 2005 MedPAR Data
| Number of hospitals | Number of providers with more than 5% loss | Number of providers with loss between 1 and 5% | Number of providers with 1% loss to 1% gain | Number of providers with gain between 1 and 5% | Number of providers with greater than 5% gain
| (1) | (2) | (3) | (4) | (5) | (6)
All Hospitals | 3,522 | 134 | 581 | 394 | 1,410 | 1,003
By Geographic Location:
Urban hospitals | 2,517 | 127 | 540 | 356 | 1,030 | 464
Large urban areas (populations over 1 million) | 1,391 | 63 | 238 | 191 | 639 | 260
Other urban areas (populations of 1 million or fewer) | 1,126 | 64 | 302 | 165 | 391 | 204
Rural hospitals | 1,005 | 7 | 41 | 38 | 380 | 539
Bed Size (Urban):
0-99 beds | 590 | 46 | 58 | 26 | 191 | 269
100-199 beds | 865 | 22 | 103 | 87 | 490 | 163
200-299 beds | 482 | 20 | 133 | 102 | 205 | 22
300-499 beds | 414 | 28 | 164 | 93 | 120 | 9
500 or more beds | 166 | 11 | 82 | 48 | 24 | 1
Bed Size (Rural):
0-49 beds | 349 | 2 | 5 | 3 | 67 | 272
50-99 beds | 366 | 1 | 4 | 5 | 155 | 201
100-149 beds | 179 | 1 | 14 | 10 | 92 | 62
150-199 beds | 64 | 2 | 6 | 14 | 40 | 2
200 or more beds | 47 | 1 | 12 | 6 | 26 | 2
Urban by Region:
New England | 127 | 2 | 22 | 6 | 75 | 22
Middle Atlantic | 353 | 15 | 50 | 39 | 194 | 55
South Atlantic | 381 | 19 | 86 | 39 | 179 | 58
East North Central | 388 | 14 | 100 | 68 | 145 | 61
East South Central | 163 | 8 | 36 | 19 | 51 | 49
West North Central | 156 | 15 | 49 | 28 | 39 | 25
West South Central | 350 | 27 | 85 | 68 | 99 | 71
Mountain | 143 | 12 | 42 | 36 | 42 | 11
Pacific | 404 | 13 | 69 | 51 | 188 | 83
Puerto Rico | 52 | 2 | 1 | 2 | 18 | 29
Rural by Region:
New England | 19 | 0 | 1 | 0 | 15 | 3
Middle Atlantic | 72 | 1 | 2 | 2 | 34 | 33
South Atlantic | 175 | 0 | 2 | 4 | 67 | 102
East North Central | 125 | 3 | 5 | 3 | 69 | 45
East South Central | 181 | 1 | 5 | 9 | 37 | 129
West North Central | 118 | 0 | 15 | 5 | 57 | 41
West South Central | 191 | 1 | 6 | 9 | 40 | 135
Mountain | 80 | 1 | 5 | 4 | 35 | 35
Pacific | 44 | 0 | 0 | 2 | 26 | 16
By Payment Classification:
Urban hospitals | 2,539 | 128 | 538 | 353 | 1,042 | 478
Large urban areas (populations over 1 million) | 1,400 | 63 | 238 | 191 | 644 | 264
Other urban areas (populations of 1 million or fewer) | 1,139 | 65 | 300 | 162 | 398 | 214
Rural areas | 983 | 6 | 43 | 41 | 368 | 525
Teaching Status:
Nonteaching | 2,449 | 80 | 262 | 194 | 1,008 | 905
Fewer than 100 residents | 836 | 42 | 237 | 147 | 318 | 92
100 or more residents | 237 | 12 | 82 | 53 | 84 | 6
Urban DSH:
Non-DSH | 854 | 71 | 165 | 95 | 364 | 159
100 or more beds | 1,513 | 52 | 374 | 256 | 645 | 186
Less than 100 beds | 333 | 8 | 12 | 12 | 98 | 203
Rural DSH:
SCH | 383 | 0 | 6 | 5 | 106 | 266
RRC | 196 | 3 | 23 | 24 | 124 | 22
Other Rural:
100 or more beds | 55 | 0 | 0 | 2 | 26 | 27
Less than 100 beds | 188 | 0 | 1 | 0 | 47 | 140
Urban teaching and DSH:
Both teaching and DSH | 809 | 38 | 248 | 156 | 290 | 77
Teaching and no DSH | 198 | 13 | 57 | 37 | 81 | 10
No teaching and DSH | 1,037 | 22 | 138 | 112 | 453 | 312
No teaching and no DSH | 495 | 55 | 95 | 48 | 218 | 79
Rural Hospital Types:
Non special status hospitals | 288 | 1 | 6 | 5 | 88 | 188
RRC | 140 | 3 | 20 | 18 | 86 | 13
SCH | 341 | 0 | 6 | 7 | 113 | 215
MDH | 126 | 0 | 0 | 1 | 29 | 96
SCH and RRC | 80 | 2 | 10 | 10 | 47 | 11
MDH and RRC | 8 | 0 | 1 | 0 | 5 | 2
Type of Ownership:
Voluntary | 2,087 | 65 | 406 | 248 | 895 | 473
Proprietary | 831 | 61 | 139 | 96 | 292 | 243
Government | 604 | 8 | 36 | 50 | 223 | 287
Medicare Utilization as a Percent of Inpatient Days:
0-25 | 252 | 8 | 26 | 23 | 130 | 65
25-50 | 1,302 | 54 | 312 | 200 | 475 | 261
50-65 | 1,490 | 45 | 210 | 147 | 669 | 419
Over 65 | 459 | 25 | 33 | 24 | 129 | 248
Unknown | 19 | 2 | 0 | 0 | 7 | 10
Urban Hospitals Reclassified by the Medicare Geographic Classification Review Board:
First Half FY 2007 Reclassifications | 319 | 17 | 72 | 37 | 146 | 47
Urban Nonreclassified, First Half FY 2007 | 2,119 | 109 | 444 | 312 | 846 | 408
All Urban Hospitals Reclassified Second Half FY 2007 | 339 | 17 | 75 | 37 | 160 | 50
Urban Nonreclassified Hospitals Second Half FY 2007 | 2,099 | 109 | 441 | 312 | 832 | 405
All Rural Hospitals Reclassified Full Year FY 2007 | 385 | 5 | 30 | 34 | 210 | 106
Rural Nonreclassified Hospitals Full Year FY 2007 | 604 | 2 | 11 | 4 | 163 | 424
All Section 401 Reclassified Hospitals | 38 | 0 | 2 | 3 | 11 | 22
Other Reclassified Hospitals (Section 1886(d)(8)(B)) | 54 | 1 | 0 | 0 | 24 | 29
Section 508 Hospitals | 95 | 1 | 24 | 7 | 45 | 18

We also recognize the change from the current Medicare DRGs to a consolidated severity-adjusted DRG system would represent significant changes for hospitals. While we have considered the possibility of blending the two DRG systems, we do not believe there is a practical and simple mechanism to transition from the CMS DRGs to a consolidated severity-adjusted DRG system. Our payments would be a blend of two different relative weights that would have to be determined using two different DRG systems. The systems and legal implications of such a transition could be significant. First, we believe that the use of two DRG systems would involve significant administrative complexity and expense for the Nation's hospitals, fiscal intermediaries, and CMS. Second, we would likely have to establish two sets of Medicare rates with one set specific to each DRG system. In addition to complicating the ratesetting process and making it unclear to hospitals how Medicare's IPPS rates for a year were determined, we are uncertain how we would:

• Apply the budget neutrality requirement under section 1886(d)(4)(C)(iii) of the Act for changes to DRG classifications and weighting factors.

• Determine the outlier threshold under section 1886(d)(5)(A)(iv) and the amounts removed for outliers from the IPPS standardized amounts under section 1886(d)(3)(B) of the Act.

While we believe there are significant administrative, technical, and legal difficulties associated with making a blended transition from one DRG system to another, we welcome public comments on this issue as well.

D. Proposed Changes to Specific DRG Classifications

1. Pre-MDCs: Pancreas Transplants

(If you choose to comment on issues in this section, please include the caption “Pancreas Transplants” at the beginning of your comment.)

On July 1, 1999, we issued coverage policy which specified that pancreas transplants were only covered when performed simultaneously with or after a Medicare covered kidney transplant. A noncoverage policy for pancreas transplant remained in effect for patients who had not experienced end stage renal failure secondary to diabetes. On July 29, 2005, we opened a national coverage determination (NCD) to determine whether pancreas transplant alone, that is, without a kidney transplant, is a reasonable and necessary service for Medicare beneficiaries. On January 26, 2006, we published the proposed decision memorandum for pancreas transplants on our Web site at http://www.cms.hhs.gov.mcd/viewdraftdecisionmemo.asp?id=166, stating that the evidence is adequate to conclude that pancreas transplant alone is reasonable and necessary for Medicare beneficiaries under limited circumstances.

Medicare coverage of pancreas transplants alone is proposed to be limited to transplants in those facilities that are Medicare-approved for kidney transplantation. A listing of approved transplant centers can be found at http://www.cms.hhs.gov/AprovedTransplantCenters/. In addition to other criteria listed in the draft decision memorandum, patients must have a diagnosis of Type I diabetes.

Because we have issued a proposed NCD and a final NCD is not expected to be completed until late April 2006, which is after the publication date of this proposed rule, we are using this proposed rule to indicate the coding changes that we would make to DRG 513 (Pancreas Transplant) in FY 2007 if limited coverage of pancreas transplants alone is established. If the final NCD indicates that a pancreas transplant alone is not a reasonable and necessary service, in the IPPS final rule, we will not adopt the changes we are currently proposing to make to DRG 513 to implement the NCD. In addition, we are also indicating the conforming changes that we would make to the MCE “NonCovered Procedure” edit if Medicare coverage is established for pancreas transplants alone. That discussion can be found in the section II.D.6. of this preamble, which describes proposed changes to the MCE.

Because of the potential decision to cover pancreas transplants alone, the logic for the determination of patient case assignment to DRG 513 would have to be modified to remove the requirement that patients also have kidney disease. Therefore, if the NDC is finalized, DRG 513 would consist of the following logic: List A (the diabetes codes) of the required principal or secondary diagnosis codes would remain the same, as would the required operating room procedures (codes 52.80 (Pancreatic transplant NOS), and 52.82, (Homotransplant of pancreas)). List B would be removed from the logic; the following codes would no longer be required as a principal or secondary diagnosis:

• 403.01, Hypertensive kidney disease, malignant, with chronic kidney disease.

• 403.11, Hypertensive kidney disease, benign, with chronic kidney disease.

• 403.91, Hypertensive kidney disease, unspecified, with chronic kidney disease.

• 404.02, Hypertensive heart and kidney disease, malignant, with chronic kidney disease.

• 404.03, Hypertensive heart and kidney disease, malignant, with heart failure and chronic kidney disease.

• 404.12, Hypertensive heart and kidney disease, benign, with chronic kidney disease.

• 404.13, Hypertensive heart and kidney disease, benign, with heart failure and chronic kidney disease.

• 404.92, Hypertensive heart and kidney disease, unspecified, with chronic kidney disease.

• 404.93, Hypertensive heart and kidney disease, unspecified, with heart failure and chronic kidney disease.

• 585.1, Chronic kidney disease, Stage I.

• 585.2, Chronic kidney disease, Stage II (mild).

• 585.3, Chronic kidney disease, Stage III (moderate).

• 585.4, Chronic kidney disease, Stage IV (severe).

• 585.5, Chronic kidney disease, Stage V.

• 585.6, End stage renal disease.

• 585.9, Chronic kidney disease, unspecified.

• V42.0, Organ or tissue replaced by transplant, kidney.

• V43.89, Organ or tissue replaced by other means, other organ or tissue, other.

We note that DRG 513 would remain in the Pre-MDC hierarchy.

2. MDC 1 (Diseases and Disorders of the Nervous System)

a. Implantation of Intracranial Neurostimulator System for Deep Brain Stimulation (DBS)

(If you choose to comment on issues in this section, please include the caption “DRGs: Neurostimulators” at the beginning of your comment.)

Deep-brain stimulation (DBS) is designed to deliver electrical stimulation to the subthalamic nucleus or internal globus pallidus to ameliorate symptoms caused by abnormal neurotransmitter levels that lead to abnormal cell-to-cell electrical impulses in Parkinson's disease and essential tremor. DBS implants for essential tremor are unilateral, with neurostimulation leads on one side of the brain. DBS implants for Parkinson's disease are bilateral, requiring implantation of neurostimulation leads in both the left and right sides of the brain.

The implantation of a full DBS system requires two types of procedures. First, surgeons implant leads containing electrodes into the targeted sections of the brain where neurostimulation therapy is to be delivered. Second, a neurostimulator pulse generator is implanted in the pectoral region and extensions from the neurostimulator pulse generator are then tunneled under the skin along the neck and connected with the proximal ends of the leads implanted in the brain. Hospitals stage the two procedures required for a full-system DBS implant.

In FY 2005, to better account for these two types of procedures, we revised procedure code 02.93 (Implantation or replacement of intracranial neurostimulator lead(s)) for the lead placement and created three new procedures codes for the pulse generator: 86.94 (Insertion or replacement of single array neurostimulator pulse generator); 86.95 (Insertion or replacement of dual array neurostimulator pulse generator); and 86.96 (Insertion or replacement of other neurostimulator pulse generator). We published the new procedure codes and revised procedure code titles in Tables 6B and 6F of the FY 2005 IPPS final rule (69 FR 49627 and 49641).

In FY 2006, we made further refinements to the pulse generator codes to identify rechargeable pulse generators. We published the new procedure codes and revised procedure code titles in Tables 6B and 6F of the FY 2006 IPPS final rule (70 FR 47637 and 47639). The current list of pulse generators codes are:

• 86.94 (Insertion or replacement of single array neurostimulator pulse generator, not specified as rechargeable);

• 86.95 (Insertion or replacement of dual array neurostimulator pulse generator, not specified as rechargeable);

• 86.96 (Insertion or replacement of other neurostimulator pulse generator);

• 86.97 (Insertion or replacement of single array neurostimulator rechargeable generator); and

• 86.98 (Insertion or replacement of dual array neurostimulator rechargeable generator).

Kinetra® is an implantable dual array neurostimulator pulse generator that is approved for a new technology add-on payment through FY 2006. For more information about the new technology add-on payment, please refer to section II.G.3.a. of this preamble.

Medtronic, the manufacturer of Kinetra®, argues that the new technology add-on payment provision is designed to recognize the higher costs of new medical innovations for the initial period the technology is available on the market, and until the associated costs and charges related to the technology are available in the MedPAR database and can be used to recalibrate the DRG weights. Medtronic also argues that, once a technology is no longer eligible for new technology add-on payments, the new technology add-on payment provision is designed to support the reclassification of the technology to other clinically coherent DRGs with comparable resource costs.

With the conclusion of the new technology add-on payment, Medtronic is concerned that Kinetra® will be inadequately paid in DRG 1 (Craniotomy Age >17 With CC) or DRG 2 (Craniotomy Age >17 Without CC) under MDC 1. Medtronic recommended that CMS reassign the full-system Kinetra® implants to DRG 543 (Craniotomy with Implant of Chemo Agent or Acute Complex CNS Principal Diagnosis) under MDC 1. To accommodate this recommendation, procedure codes 02.93 and 86.95 would have to be reassigned to DRG 543 and the title for DRG 543 would have to be revised to “Craniotomy with Implantation of Major Device or Acute Complex CNS Principal Diagnosis.” Medtronic argued that DRG 543 would be a “clinically-consistent DRG that more appropriately reflects the resource utilization associated with full-system [deep brain stimulation] procedures.” Medtronic also emphasized that its proposal would only apply to full-system Kinetra® implants when both the leads and generators are implanted during a single inpatient stay or procedure codes 02.93 and 86.95 both appear on the claim. Medtronic believes the current DRG assignment is appropriate for partial system implants.

Medtronic provided an analysis of FY 2004 MedPAR data. Procedure code 86.95 was not created until FY 2005 so Medtronic used procedure codes 02.93 and 86.09 (Other incision of skin and subcutaneous tissue) to identify the full system. It identified 193 cases assigned to DRG 1 with average charges of approximately $69,155, and 532 cases assigned to DRG 2 with average charges of approximately $56,113.

We have reviewed the latest data for the full-system DBS implants assigned to DRG 1 or DRG 2 in the FY 2005 MedPAR file. We identified cases with procedure codes 02.93 and 86.95 for full-system dual array cases. We also identified cases with reported codes 02.93 and 86.96 for those full-system cases where the type of pulse generator was not specified. The following table displays our results:

DRG | Number of cases | Average length of stay | Average charges
DRG 1—All Cases | 23,037 | 9.61 | $55,494
DRG 1—Cases with 02.93 and 86.95 (Kinetra®) | 51 | 5.18 | 73,020
DRG 1—Cases with 02.93 and 86.96 (Unspecified) | 101 | 4.86 | 53,356
DRG 2—All Cases | 9,707 | 4.41 | 32,791
DRG 2—Cases with 02.93 and 86.95 (Kinetra®) | 146 | 2.40 | 59,414
DRG 2—Cases with 02.93 and 86.96 (Unspecified) | 249 | 2.12 | 47,047
DRG 543—All cases | 5,192 | 11.71 | 71,138

The data show that approximately one-quarter of the full-system dual array neurostimulator pulse generator cases are assigned to DRG 1 and approximately three-quarters of these cases are assigned to DRG 2. In both DRGs, the average length of stay was shorter for the full-system array neurostimulator pulse generator cases than for all other cases. However, the average charges for the full-system dual array neurostimulator pulse generator cases are approximately $18,000 and $27,000 higher than the average charges for DRGs 1 and 2, respectively. The average charges for these cases in DRG 1 are comparable to those for DRG 543. However, the more commonly occurring cases in DRG 2 have average charges that are less than those in DRG 543 by nearly $12,000. We reviewed all of the procedures that will result in a case being assigned to DRGs 1 and 2. Unlike the full-system DBS implants, we believe for most of the cases assigned to these DRGs, there will be no device cost to the hospital. For this reason, we believe the higher average charges and lower length of stay for cases involving full-system dual array neurostimulator pulse generators are likely accounted for by the cost of the device. While it is possible that the cost of the device itself will make the full-system DBS implants more expensive than other cases in the DRG, the hospital's charge markup may also explain the higher charges but lower average length of stay. As indicated in section II.G.3.a.of this proposed rule, the national average CCR for medical equipment and supplies is approximately 34 percent. Thus, the actual cost to the hospital of the case including the full-system dual array neurostimulator pulse generator may be much lower than the charges would suggest.

With respect to whether the cost of the technology itself, absent a charge markup, makes the case more expensive, we intend to address this issue as we make further refinements to the severity DRG system we are proposing to implement in FY 2008 (if not earlier), as discussed in section II.C. of this preamble. As we indicate in section II.C. of this proposed rule, the consolidated severity-adjusted DRG system that we are proposing does not currently assign a case to a higher weighted DRG based on use of a technology that represents increased complexity but not necessarily greater severity of illness. The data above indicate that approximately three-quarters of the patients who receive a full-system dual array neurostimulator pulse generator do not have a CC. Thus, it appears that these patients would be more likely to be assigned to a lower severity of illness class based solely on diagnosis. However, the implant of a full-system dual array neurostimulator pulse generator may increase complexity and resource use even though the patient is not more severely ill. As we also explain in section II.C. of this proposed rule, we believe that the consolidated severity-adjusted DRG system we are proposing would need to be further refined to assign cases based on complexity as well as severity to account for technologies like the full-system dual array neurostimulator pulse generator implants that increase costs. We plan to further develop the consolidated severity-adjusted DRGs between now and its implementation to address this issue.

b. Carotid Artery Stents

(If you choose to comment on issues in this section, please include the caption “DRGs: Carotid Artery Stents” at the beginning of your comment.)

Stroke is the third leading cause of death in the United States and the leading cause of serious, long-term disability. Approximately 70 percent of all strokes occur in people age 65 and older. The carotid artery, located in the neck, is the principal artery supplying the head and neck with blood. Accumulation of plaque in the carotid artery can lead to stroke either by decreasing the blood flow to the brain or by having plaque break free and lodge in the brain or in other arteries to the head. The percutaneous transluminal angioplasty (PTA) procedure involves inflating a balloon-like device in the narrowed section of the carotid artery to reopen the vessel. A carotid stent is then deployed in the artery to prevent the vessel from closing or restenosing. A distal filter device (embolic protection device) may also be present, which is intended to prevent pieces of plaque from entering the bloodstream.

Effective July 1, 2001, Medicare covers PTA of the carotid artery concurrent with carotid stent placement when furnished in accordance with the FDA-approved protocols governing Category B Investigational Device Exemption (IDE) clinical trials. PTA of the carotid artery, when provided solely for the purpose of carotid artery dilation concurrent with carotid stent placement, is considered to be a reasonable and necessary service only when provided in the context of such clinical trials and, therefore, is considered a covered service for the purposes of these trials. Performance of PTA in the carotid artery when used to treat obstructive lesions outside of approved protocols governing Category B IDE clinical trials remained noncovered until the release of the October 12, 2004 NCD for PTA of the carotid artery in post-approval studies. This decision extended coverage of PTA in the carotid artery concurrent with placement of an FDA-approved carotid stent for an FDA-approved indication when furnished in accordance with the FDA-approved protocols governing post-approval studies. On March 17, 2005, CMS released the NCD extending coverage to patients at high risk for carotid endarterectomy (CEA) who also have symptomatic carotid artery stenosis ≥ 70 percent. Procedures must be performed in CMS-approved facilities and with FDA-approved carotid artery stenting with distal embolic protection. (Section 20.7 of the NCD manual, which may be viewed at the Web site: http://www.cms.hhs.gov/manuals/downloads/ncd103c1_Part1.pdf.)

We established codes for carotid artery stenting procedures for use with discharges occurring on or after October 1, 2004, for inpatients who are enrolled in an FDA-approved clinical trial and are using on-label FDA-approved stents and embolic protection devices. These codes are as follows:

• 00.61 (Percutaneous angioplasty or atherectomy of precerebral (extracranial vessel(s)); and

• 00.63 (Percutaneous insertion of carotid artery stent(s)).

We assigned procedure code 00.61 to four MDCs and seven DRGs. The most likely scenario is that in which cases are assigned to MDC 1 (Diseases and Disorders of the Nervous System) in DRGs 533 (Extracranial Procedures with CC) and 534 (Extracranial Procedures without CC). Other DRG assignments can be found in Table 6B of the Addendum to the FY 2005 IPPS final rule (69 FR 49624).

As part of our annual DRG review, for the FY 2006 final rule (70 FR 47300), we used proxy codes to evaluate the costs and DRG assignments for carotid artery stenting because codes 00.61 and 00.63 were only approved for use beginning October 1, 2004, and MedPAR data for this period were not yet available. We used procedure code 39.50 (Angioplasty or atherectomy of other noncoronary vessel(s)) in combination with procedure code 39.90 (Insertion of nondrug-eluting peripheral vessel stent(s)) in DRGs 533 and 534 as the proxy codes for carotid artery stenting. For this evaluation, we used principal diagnosis code 433.10 (Occlusion and stenosis of carotid artery, without mention of cerebral infarction) to reflect the clinical trial criteria. Based on the results of our review, for FY 2006, we did not find sufficient evidence to warrant a DRG change at that time.

Manufacturer representatives have suggested that we assign all carotid stenting cases to DRG 533 only, bypassing DRG 534. We have reviewed the FY 2005 MedPAR data on all cases in DRGs 533 and 534 and on those cases containing code 00.61 in combination with 00.63. The following table displays our results:

DRG | Number of cases | Average length of stay (days) | Average charges
DRG 533—All cases | 44,031 | 3.65 | $26,376
DRG 533 with codes 00.61 and 00.63 reported | 2,400 | 2.94 | 33,344
DRG 533 with code 00.61 and without 00.63 | 99 | 5.95 | 46,591
DRG 534—All cases | 40,381 | 1.72 | 17,196
DRG 534 with codes 00.61 and 00.63 reported | 2,056 | 1.52 | 25,000
DRG 534 with code 00.61 and without 00.63 | 55 | 2.31 | 27,895

We found that 5.5 and 5.1 percent of the cases in DRGs 533 and 534, respectively, involved placement of a carotid artery stent. In both DRGs, the average length of stay was shorter for the carotid stenting cases than for all other cases. However, the average charges for the carotid stent cases were higher by $6,968 in DRG 533 and $7,804 in DRG 534. We reviewed all of the procedures that would result in a case being assigned to DRGs 533 and 534. Unlike the carotid artery stent placements, we believe that, for most of the cases assigned to these DRGs, there will be no device cost to the hospital. For this reason, we believe the higher average charges and lower length of stay for the cases involving carotid artery stents are likely accounted for by the cost of the device. While it is possible that the cost of the device itself will make the stent cases more expensive than other cases in the DRG, the hospital's charge markup may also explain the higher charges but lower average length of stay. As indicated elsewhere in this proposed rule, the national average CCR for medical equipment and supplies is approximately 34 percent. Thus, the actual cost to the hospital of the case including the carotid stent may be much lower than the charges would suggest.

With respect to whether the cost of the technology itself, absent a charge markup, makes the case more expensive, we intend to address this issue as we make further refinements to the severity-adjusted DRG system we describe above. As we indicate in section II.C. of the preamble of this proposed rule, the consolidated severity-adjusted DRG system that we are proposing does not currently assign a case to a higher weighted DRG based on use of a technology that represents increased complexity but not necessarily greater severity of illness. The use of a carotid stent or stents may increase complexity and resource use even though the patient is not more severely ill. We believe that the consolidated severity-adjusted DRG system we are proposing would need to be further refined to assign cases based on complexity as well as severity to account for technologies such as carotid stents that increase costs. For this reason, we believe that this issue of assignment of carotid stent cases may be better addressed in the consolidated severity-adjusted DRG system that we are proposing in FY 2008 (if not earlier) than through a change to the current DRG assignment for these cases.

3. MDC 5 (Diseases and Disorders of the Circulatory System)

a. Insertion of Epicardial Leads for Defibrillator Devices

(If you choose to comment on issues in this section, please include the caption “DRGs: Epicardial Leads” at the beginning of your comment.)

We received a comment indicating that a change in coding advice for the insertion of epicardial leads for CRT-D defibrillator devices affects DRG assignment. The commenter noted that the Third Quarter 2005 issue of the American Hospital Association's publication Coding Clinic for ICD-9-CM instructs coders to assign code 37.74 (Insertion or replacement of epicardial lead [electrode] into atrium) for pacemaker or defibrillator leads inserted through use of a thoracotomy into the epicardium. While the use of code 37.74 is standard coding practice for pacemakers, the advice is new for defibrillators. This coding advice was discussed at the ICD-9-CM Coordination and Maintenance Committee meeting held on September 29 and 30, 2005. Participants at the Committee meeting proposed modifications for the code category 37.7 (insertion, revision, replacement, and removal of pacemaker leads; insertion of temporary pacemaker system; and revision of cardiac device pocket). These modifications involved expanding the category so that the codes for leads would no longer be restricted to pacemakers. This change would guide coders to use code 37.74 for the insertion of epicardial leads for both defibrillators and pacemakers. This change was adopted for the ICD-9-CM and will become effective on October 1, 2006.

The commenter pointed out that this coding advice would restrict some defibrillator cases from being assigned to the defibrillator DRGs. Specifically, the commenter expressed concerns about the DRG logic for the following DRGs:

• DRG 515 (Cardiac Defibrillator Implant without Cardiac Catheter.

• DRG 535 (Cardiac Defibrillator Implant with Cardiac Catheter with AMI/Heart Failure/Shock).

• DRG 536 (Cardiac Defibrillator Implant with Cardiac Catheter without AMI/Heart Failure/Shock).

Cases are assigned to one of these three DRGs when a total defibrillator system, including both the device and one or more leads, is implanted. The implant could be represented by the ICD-9-CM codes for the total system, that is, code 00.51 (Implantation of cardiac resynchronization defibrillator, total system [CRT-D]) or code 37.94 (Implantation or replacement of automatic cardioverter/defibrillator, total system [AICD]). Cases can also be assigned to DRGs 515, 535, and 536 when a combination of a device and a lead code is reported. The following combinations of defibrillator device and lead codes are present in the current DRG logic:

• 00.52 (Implantation or replacement of transvenous lead [electrode] into left ventricular coronary venous system) and 00.54 (Implantation or replacement of cardiac resynchronization defibrillator, pulse generator device only [CRT-D]).

• 37.95 (Implantation of automatic cardioverter/defibrillator lead(s) only) and 00.54 (Implantation or replacement of cardiac resynchronization defibrillator, pulse generator device only [CRT-D]).

• 37.95 (Implantation of automatic cardioverter/defibrillator lead(s) only) and 37.96 (Implantation of automatic cardioverter/defibrillator pulse generator only).

• 37.97 (Replacement of automatic cardioverter/defibrillator lead(s) only) and 00.54 (Implantation or replacement of cardiac resynchronization defibrillator, pulse generator device only [CRT-D]).

• 37.97 (Replacement of automatic cardioverter/defibrillator lead(s) only) and 37.98 (Replacement of automatic cardioverter/defibrillator pulse generator only).

A DRG logic issue has arisen concerning the instruction to use code 37.74 to capture epicardial leads inserted with CRT-D defibrillators. The new combination of a defibrillator device with an epicardial lead (code 37.74) is not included in DRGs 515, 535, and 536. The commenter recommended that the following combinations be added to DRGs 515, 535, and 536 so that all types of defibrillator device and lead combinations would be included: code 37.74 and code 00.54; code 37.74 and code 37.96; and code 37.74 and code 37.98.

We agree that these three combinations should be added to the list of combination codes included in DRGs 515, 535, and 536. This would result in all combinations of defibrillator devices and leads being assigned to one of the defibrillator DRGs. Therefore, we are proposing to add these three combinations to the list of procedure combinations under DRGs 515, 535, and 536.

b. Application of Major Cardiovascular Diagnoses (MCVs) List to Defibrillator DRGs

(If you choose to comment on issues in this section, please include the caption “DRGs: MCVs and Defibrillators” at the beginning of your comment.)

In the FY 2006 IPPS final rule (70 FR 47289 and 47474 through 47479), we addressed a comment we had received in response to the FY 2006 proposed rule which noted that section 507(c) of Pub. L. 108-173 required MedPAC to conduct a study to determine how the DRG system should be updated to better reflect the cost of delivering care in a hospital setting. The commenter noted that MedPAC reported that the “cardiac surgery DRGs have high relative profitability ratios.” While the commenter acknowledged that it may take time to conduct and complete a thorough evaluation of the MedPAC payment recommendations for all DRGs, the commenter strongly encouraged CMS to revise the cardiac DRGs through patient severity refinement as part of the IPPS final rule effective for FY 2006.

In response to this comment, we performed an extensive review of the cardiovascular DRGs in MDC 5, particularly those DRGs that were commonly billed by specialty hospitals. We observed that there was some overlap between the lists of cardiovascular complications and complex diagnoses and that these lists were already used to segregate patients into DRGs that use greater resources. Because the hospital industry already was familiar with the major complication and complex diagnosis lists used within the cardiovascular DRGs, we began our analysis with these two overlapping lists.

The two lists were originally developed for the current DRG system because they contained conditions that could have an impact on the resources needed to treat a patient with cardiovascular complications. Many of the conditions were cardiovascular diagnoses and, therefore, would be classified to MDC 5. However, we determined that some of the diagnoses were not cardiovascular, but would still have an impact on a patient with cardiovascular complications. The conditions that were not cardiovascular diagnoses were not assigned to MDC 5 if they were the principal diagnosis.

We reviewed the conditions on the two overlapping lists and identified conditions that we believed would lead to a more complicated patient stay requiring greater resource use. We referred to these conditions as “major cardiovascular conditions (MCVs).” The MCVs could be present as either a principal diagnosis or a secondary diagnosis and lead to greater resource consumption. The complete list of MCVs was published in the FY 2006 IPPS final rule (70 FR 47477 and 47478).

In the FY 2006 IPPS final rule, we also adopted new DRGs 547 through 558, effective October 1, 2006 (70 FR 47475 and 47476). However, we emphasized that the refinements to the DRGs were being taken as an interim step to better recognize severity in the DRG system for FY 2006 until we could complete a more comprehensive analysis of the APR DRG system and the CC list as part of a complete analysis of the MedPAC recommendations that we planned to perform for FY 2007 (and which is addressed in section II.C. of the preamble of this proposed rule).

Since publication of the FY 2006 IPPS final rule, we have received a question from a commenter as to why we did not apply the MCV list to the following defibrillator DRGs: 515, 535, and 536. The commenter noted that the pacemaker DRGs were revised using the MCV list, but the defibrillator DRGs were not.

As noted above, for FY 2006, we created new DRGs 546 through 558 to identify cases with more costly and severely ill patients as an interim step to evaluating severity DRGs. We analyzed for the first time past year data on cases within MDC 5 and presented data that showed significant difference for patients in certain DRGs based on the presence of absence of an MCV. This split did not work for the defibrillator DRGs, as we could not identify groups with significantly different resource use. For instance, splitting DRG 515 based on the presence of an MCV would lead to two groups with differences in charges of only $3,430 ($89,341 for those with an MCV and $85,911 for those without an MCV). In the data we displayed in the FY 2006 IPPS final rule, the differences for DRGs selected for an MCV split ranged from $10,319 to $21,035. Splitting DRG 515 based on an MCV would produce a difference in charges of only 10.1 percent as compared to differences of 28.7 to 47.7 percent for DRGs 547 through 558. Therefore, the data did not support including DRG 515 among those split based on the presence or absence of an MCV. Similar results were found when DRG 536 was split by an MCV. There was only an 8.1 percent difference in charges between the two groups. We also identified other problems with splitting DRG 535 based on the presence or absence of an MCV. Some of the codes a claim must include for the case to be grouped to DRG 535 under our current system are also codes on the MCV list. Therefore, applying the MCV list to DRG 535 would result in all cases being assigned to the DRG with an MCV and none to the DRG without an MCV. For these reasons, we did not subdivide DRGs 515, 535, and 536 based on the presence or absence of an MCV.

We have decided not to propose additional refinements of the DRGs based on MCVs for FY 2007 because of our efforts to propose a broader refinement of the DRG system that would focus on consolidated severity-adjusted DRGs, as discussed in detail in section II.C. of this proposed rule. However, as discussed further in section II.C. of this preamble, we are soliciting comments on whether it would be appropriate in FY 2007 to apply a clinical severity concept to an expanded set of DRGs, similar to the approach we used in FY 2006 to refine cardiac DRGs based on the presence or absence of an MCV.

4. MDC 8 (Diseases and Disorders of the Musculoskeletal System and Connective Tissue)

a. Hip and Knee Replacements

(If you choose to comment on issues in this section, please include the caption “DRGs: Hip and Knee Replacements” at the beginning of your comment.)

In the FY 2006 final rule (70 FR 47303), we deleted DRG 209 (Major Joint and Limb Reattachment Procedures of Lower Extremity) and created new DRGs 544 (Major Joint Replacement or Reattachment of Lower Extremity) and 545 (Revision of Hip or Knee Replacement) to help resolve payment issues for hospitals that perform revisions of joint replacements because we found revisions of joint replacements to be significantly more resource intensive than original hip and knee replacements. DRG 544 includes the following code assignments:

• 81.51, Total hip replacement.

• 81.52, Partial hip replacement.

• 81.54, Total knee replacement.

• 81.56, Total ankle replacement.

• 84.26, Foot reattachment.

• 84.27, Lower leg or ankle reattachment.

• 84.28, Thigh reattachment.

DRG 545 includes the following procedure code assignments:

• 00.70, Revision of hip replacement, both acetabular and femoral components.

• 00.71, Revision of hip replacement, acetabular component.

• 00.72, Revision of hip replacement, femoral component.

• 00.73, Revision of hip replacement, acetabular liner and/or femoral head only.

• 00.80, Revision of knee replacement, total (all components).

• 00.81, Revision of knee replacement, tibial component.

• 00.82, Revision of knee replacement, femoral component.

• 00.83, Revision of knee replacement, patellar component.

• 00.84, Revision of knee replacement, tibial insert (liner).

• 81.53, Revision of hip replacement, not otherwise specified.

• 81.55, Revision of knee replacement, not otherwise specified.

In the FY 2006 IPPS final rule (70 FR 47305), we indicated that the American Association of Orthopaedic Surgeons had requested that, once we receive claims data using the two DRG procedure code assignments, we closely examine data from the use of the codes under the two DRGs to determine if future additional DRG modifications are needed.

After publication of the FY 2006 IPPS final rule, a number of hospitals and coding personnel advised us that the DRG logic for DRG 471 (Bilateral or Multiple Major Joint Procedures of Lower Extremity), which utilizes the new and revised hip and knee procedure codes under DRGs 544 and 545, also includes codes that describe procedures that are not bilateral or that do not involve multiple major joints. DRG 471 was developed to include cases where major joint procedures such as revisions or replacements were performed either bilaterally or on two joints of one lower extremity. We changed the logic for DRG 471 last year for the first time when we added the new and revised codes. The commenters indicated that, by adding the more detailed codes that do not include total revisions or replacements to the list of major joint procedures to DRG 471, we are assigning cases to DRG 471 that do not have bilateral or multiple joint procedures. For example, when a hospital reports a code for revision of the tibial component (code 00.81) and patellar component of the right knee (code 00.83), the current DRG logic assigns the case to DRG 471. The commenters indicated that this code assignment is incorrect because only one joint has undergone surgery, but two components were used. One commenter indicated that ICD-9-CM does not identify left/right laterality. Therefore, it is difficult to use the current coding structure to determine if procedures are performed on the same leg or on both legs. The commenters raised concern about whether CMS intended to pay hospitals using DRG 471 for procedures performed on one joint. The commenters indicated that the DRG assignments for these codes would also make future data analysis misleading. The commenters recommended removing codes from DRG 471 that do not specifically identify bilateral or multiple joint procedures so that DRG 471 will only include cases involving the more resource intensive cases of bilateral or multiple total joint replacements and revisions.

We agree that the new and revised joint procedure codes should not be assigned to DRG 471 unless they include bilateral and multiple joints. Therefore, we are proposing to remove the following codes from DRG 471 that do not capture bilateral and multiple joint revisions or replacements:

• 00.71, Revision of hip replacement, acetabular component.

• 00.72, Revision of hip replacement, femoral component.

• 00.73, Revision of hip replacement, acetabular liner and/or femoral head only.

• 00.81, Revision of knee replacement, tibial component.

• 00.82, Revision of knee replacement, femoral component.

• 00.83, Revision of knee replacement, patellar component.

• 00.84, Revision of total knee replacement, tibial insert (liner).

• 81.53, Revision of hip replacement, not otherwise specified.

• 81.55, Revision of knee replacement, not otherwise specified.

The proposed revised DRG 471 would then contain only the following codes:

• 00.70, Revision of hip replacement, both acetabular and femoral components.

• 00.80, Revision of knee replacement, total (all components).

• 81.51, Total hip replacement.

• 81.52, Partial hip replacement.

• 81.54, Total knee replacement.

• 81.56, Total ankle replacement.

As a result of the proposed removal of the identified codes from DRG 471, we are proposing that one or more of the following hip or knee revision codes would be assigned to DRG 545: 00.71, 00.72, 00.73, 00.81, 00.82, 00.83, 00.84, 81.53, and 81.55. This list includes partial revisions of the knee and hip as well as unspecified joint procedures such as code 81.55 where it is not clear if the revision is total or partial.

We plan to perform extensive data analysis on the new and revised joint procedure codes as we receive billing data to determine if future refinements of these DRGs are needed. In addition, as indicated in section II.C. of this preamble, we are proposing to adopt a consolidated severity-adjusted DRG system for the IPPS. We encourage commenters to evaluate how the new and revised joint procedures are addressed in the consolidated severity-adjusted DRG system. If changes to these procedures are warranted based on public comments and our continuing analysis, we will evaluate them as we further develop our plans for adopting the consolidated severity-adjusted DRGs.

b. Spinal Fusion

(If you choose to comment on issues in this section, please include the caption “DRGs: Spinal Fusion” at the beginning of your comment.)

In the FY 2006 IPPS final rule (70 FR 47307), we created new DRG 546 (Spinal Fusions Except Cervical with Curvature of the Spine or Malignancy). DRG 546 is composed of all noncervical spinal fusions previously assigned to DRGs 497 (Spinal Fusion Except Cervical with CC) and 498 (Spinal Fusion Except Cervical without CC) that have a principal or secondary diagnosis of curvature of the spine or a principal diagnosis of a malignancy. The principal diagnosis codes that lead to DRG 546 assignment are the following:

• 170.2, Malignant neoplasm of vertebral column, excluding sacrum and coccyx.

• 198.5, Secondary malignant neoplasm of bone and bone marrow.

• 213.2, Benign neoplasm of bone and articular cartilage; vertebral column, excluding sacrum and coccyx.

• 238.0, Neoplasm of uncertain behavior of other and unspecified sites and tissues; Bone and articular cartilage.

• 239.2, Neoplasms of unspecified nature; bone, soft tissue, and skin.

• 732.0, Juvenile osteochondrosis of spine.

• 733.13, Pathologic fracture of vertebrae.

• 737.0, Adolescent postural kyphosis.

• 737.10, Kyphosis (acquired) (postural).

• 737.11, Kyphosis due to radiation.

• 737.12, Kyphosis, postlaminectomy.

• 737.19, Kyphosis (acquired), other.

• 737.20, Lordosis (acquired) (postural).

• 737.21, Lordosis, postlaminectomy.

• 737.22, Other postsurgical lordosis.

• 737.29, Lordosis (acquired), other.

• 737.30, Scoliosis [and kyphoscoliosis], idiopathic.

• 737.31, Resolving infantile idiopathic scoliosis.

• 737.32, Progressive infantile idiopathic scoliosis.

• 737.33, Scoliosis due to radiation.

• 737.34, Thoracogenic scoliosis.

• 737.39, Other kyphoscoliosis and scoliosis.

• 737.8, Other curvatures of spine.

• 737.9, Unspecified curvature of spine.

• 754.2, Congenital scoliosis.

• 756.51, Osteogenesis imperfecta.

The secondary diagnoses that will lead to DRG 546 assignment are:

• 737.40, Curvature of spine, unspecified.

• 737.41, Curvature of spine associated with other conditions, kyphosis.

• 737.42, Curvature of spine associated with other conditions, lordosis.

• 737.43, Curvature of spine associated with other conditions, scoliosis.

After publication of the FY 2006 IPPS final rule, we received a comment stating that creating new DRG 546 was insufficient to address clinical severity and resource differences among spinal fusion cases that involve fusing multiple levels of the spine. Specifically, the commenter suggested that the spinal fusion DRGs be further modified to incorporate Bone Morphogenic Protein (BMP), code 84.52 (Insertion of recombinant bone morphogenetic protein). The commenter also suggested that CMS apply a clinical severity concept to all back and spine surgical cases similar to the approach that we used for the MCVs to refine the cardiac DRGs in the final rule for FY 2006. The commenter recommended recognizing additional conditions that reflect higher resource needs, regardless of whether they are principal or secondary diagnoses. The commenter also suggested that the spine DRGs be further subdivided based on the use of specific spinal devices such as artificial discs. These changes would entail the creation of 10 new spine DRGs in addition to other changes requested.

We agree that it is important to recognize severity when classifying patients into specific DRGs. In response to recommendations made by MedPAC last year that are discussed in section II.C. of this proposed rule, we are conducting a comprehensive analysis of the entire DRG system to determine whether to undertake significant reform to better recognize severity of illness. At this time, we believe it is premature to develop a severity adjustment for spine surgeries while we are considering a more systematic approach to capturing severity of illness across all DRGs. We also believe it would be premature to propose revisions to DRG 546 because this DRG was created on October 1, 2005, and we do not yet have data to analyze its impact. Given the number of innovations occurring in spinal surgery over the last several years (for example, artificial spinal disc prostheses, kyphoplasty, and vertebroplasty), we agree that additional analysis of the spine DRGs would be warranted if we were to continue with the current DRG system and not adopt consolidated severity-adjusted DRGs. However, as discussed above, we are proposing to develop a severity-adjusted DRG system. For this reason, we are not further researching this issue for FY 2007. However, we encourage commenters to examine the proposed consolidated severity-adjusted DRG system described in section II.C. of the preamble of this proposed rule to determine whether there is a better recognition of severity of illness and resource use in that system.

c. Charite™ Spinal Disc Replacement Device

(If you choose to comment on issues in this section, please include the caption “DRGs: CHARITE™” at the beginning of your comment.)

CHARITE™ is a prosthetic intervertebral disc. On October 26, 2004, the FDA approved the CHARITE™ Artificial Disc for single level spinal arthroplasty in skeletally mature patients with degenerative disc disease between L4 and S1. On October 1, 2004, we created new procedure codes for the insertion of spinal disc prostheses (codes 84.60 through 84.69). We provided the DRG assignments for these new codes in Table 6B of the FY 2005 IPPS proposed rule (69 FR 28673). We received a number of comments on the proposed rule recommending that we change the assignments for these codes from DRG 499 (Back and Neck Procedures Except Spinal Fusion With CC) and DRG 500 (Back and Neck Procedures Except Spinal Fusion Without CC) to the DRGs for spinal fusion, DRG 497 (Spinal Fusion Except Cervical With CC) and DRG 498 (Spinal Fusion Except Cervical Without CC) for procedures on the lumbar spine and to DRGs 519 and 520 for procedures on the cervical spine. In the FY 2005 IPPS final rule (69 FR 48938), we indicated that DRGs 497 and 498 are limited to spinal fusion procedures. Because the surgery involving the CHARITE™ is not a spinal fusion, we decided not to include this procedure in these DRGs. However, we stated that we would continue to analyze this issue and solicited further public comments on the DRG assignment for spinal disc prostheses.

In the FY 2006 final rule (70 FR 47353), we noted that, if a product meets all of the criteria for Medicare to pay for the product as a new technology under section 1886(d)(5)(K) of the Act, there is a clear preference expressed in the statute for us to assign the technology to a DRG based on similar clinical or anatomical characteristics or costs. However, for FY 2006, we did not find that CHARITE™ met the substantial clinical improvement criterion and, thus, did not qualify as a new technology. Consequently, we did not address the DRG classification request made under the authority of this provision of the Act.

However, we did evaluate whether to reassign CHARITE™ to different DRGs using the Secretary's authority under section 1886(d)(4) of the Act (70 FR 47308). We indicated that we did not have Medicare charge information to evaluate DRG changes for cases involving an implant of a prosthetic intervertebral disc like CHARITE™ and did not make a change in its DRG assignments. We stated that we would consider whether changes to the DRG assignments for CHARITE™ were warranted for FY 2007, once we had information from Medicare's data system that would assist us in evaluating the costs of these patients.

For the FY 2007 IPPS update, we received a comment regarding the DRG assignments for the CHARITE™ Artificial Disc, code 84.65 (Insertion of total spinal disc prosthesis, lumbosacral). The commenter had previously submitted an application for the CHARITE™ Artificial Disc for new technology add-on payments for FY 2006 and had requested a reassignment of cases involving CHARITE™ implantation to DRGs 497 and 498. The commenter asked that we examine claims data for FY 2005 and reassign procedure code 84.65 from DRGs 499 and 500 into DRGs 497 and 498. The commenter again stated the view that cases with the CHARITE™ Artificial Disc reflect comparable resource use and similar clinical indications as do those in DRGs 497 and 498. If CMS were to reject reassignment of the CHARITE™ Artificial Disc to DRGs 497 and 498, the commenter suggested creating two separate DRGs for lumbar disc replacements.

On February 16, 2006, we posted a proposed NCD memorandum regarding lumber artificial disc replacement with a focus of the CHARITE™ Lumber Artificial Disc for public comment on the CMS Web site. This is part of the process for issuing an NCD. In this memorandum, we proposed to issue an NCD. We are seeking public comment on our proposed determination that the evidence is not adequate to conclude that lumbar artificial disc replacement with the CHARITE™ Lumber Artificial Disc is reasonable and necessary. This proposed decision memorandum can be found at: http://www.cms.hhs.gov/mcd/viewnca.asp?where=index&nca_id=170&basket=nca:00292N:170:Lumbar+Artificial+Disc+Replacement:Open:New:5. After considering the public comments and any additional evidence, we will make a final determination and issue a final NCD.

The proposed NCD states that lumber artificial disc replacement with the CHARITE™ Lumber Artificial Disc is generally not indicated in patients over 65 years old. Further, it states that there is insufficient evidence among either the aged or disabled Medicare population to make a reasonable and necessary determination for coverage. With an NCD pending to make spinal arthroplasty with CHARITE™ noncovered, we do not believe it is appropriate at this time to reassign procedure code 84.65 from DRGs 499 and 500 to DRGs 497 and 498.

5. MDC 18 (Infectious and Parasitic Diseases (Systemic or Unspecified Sites)): Severe Sepsis

(If you choose to comment on issues in this section, please include the caption “DRGs: Severe Sepsis” at the beginning of your comment.)

In FYs 2005 and 2006, we considered requests for the creation of a separate DRG for the diagnosis of severe sepsis. Severe sepsis is described by ICD-9-CM code 995.92 (Systemic inflammatory response syndrome due to infection with organ dysfunction). Patients admitted with sepsis as a principal diagnosis currently are assigned to DRG 416 (Septicemia Age > 17) and DRG 417 (Septicemia Age 0-17) in MDC 18 (Infectious and Parasitic Diseases (Systemic or Unspecified Sites)). The commenter requested that all cases in which severe sepsis is present on admission, as well as those cases in which it develops after admission (which are currently classified elsewhere), be included in this new DRG. In both FY 2005 and FY 2006 (69 FR 48975 and 70 FR 47309), we did not believe the current clinical definition of severe sepsis was specific enough to identify a meaningful cohort of patients in terms of clinical coherence and resource utilization to warrant a separate DRG. Sepsis is found across hundreds of medical and surgical DRGs, and the term “organ dysfunction” implicates numerous currently existing diagnosis codes. While we recognize that Medicare beneficiaries with severe sepsis are quite ill and require extensive hospital resources, in the past we have not found that they can be identified adequately to justify removing them from all of the other DRGs in which they appear. For this reason, we did not create a new DRG for severe sepsis for FY 2005 or FY 2006. We indicated that we would continue to work with National Center for Health Statistics (NCHS) to improve the codes so that our data on these patients improve. We also indicated that we would continue to examine data on these patients as we consider future modifications.

For this FY 2007 proposed rule, we again received a request to consider creating a separate DRG for patients diagnosed with severe sepsis. The information and data available to us from hospital bills with respect to identifying patients with severe sepsis have not changed since last year. However, the NCHS discussed modifications to the current ICD-9-CM diagnosis codes for systemic inflammatory response syndrome (SIRS), codes 995.91 through 995.94 (which include severe sepsis) at the September 29-30, 2005 ICD-9-CM Coordination and Maintenance Committee meeting. During the meeting, it became clear that there is still confusion surrounding the use of these codes. As a result of the meeting and the comments received, the Committee made modifications to the set of SIRS codes. These modifications are reflected in Table 6E, Revised Diagnosis Code Titles, of the Addendum to this proposed rule.

We believe that implementation of the modified SIRS diagnosis codes and the updated coding guidelines over the next year could begin the process of improving data for this group of patients. The desired outcome is to be able to better evaluate Medicare beneficiaries with severe sepsis with regard to their clinical coherence, resource utilization, and charges. Therefore, at this time, we are not proposing to create a new DRG for severe sepsis for FY 2007. We also note that we are proposing to adopt a consolidated severity-adjusted DRG system, as discussed in section II.C. of this preamble. The underlying clinical principle of the proposed consolidated severity-adjusted DRG system is that the severity of illness of a patient is highly dependent on the patient's underlying problem and that patients with high severity of illness are usually characterized by multiple serious diseases or illnesses. The assessment of the severity of illness of a patient is specific to the base DRG to which a patient is assigned. In other words, the determination of the severity of illness is disease-specific. High severity of illness is primarily determined by the interaction of multiple diseases. Patients with multiple comorbid conditions involving multiple organ systems are assigned to the higher severity of illness subclasses. Thus, patients with severe sepsis and organ dysfunction are likely to be classified as severity of illness subclass 3 or 4 under the proposed DRG system, depending on the other comorbid conditions or underlying problems the patient may have at that time. It is possible that the consolidated severity-adjusted DRG system that we are planning to adopt would better recognize the extensive resources that hospitals use to treat patients with severe sepsis. We encourage commenters to examine the consolidated severity-adjusted DRGs described in section II.C. of this proposed rule to determine whether there is a better recognition of severity of illness and resource use in that proposed system.

6. Medicare Code Editor (MCE) Changes

(If you choose to comment on issues in this section, please include the caption “Medicare Code Editor” at the beginning of your comment.)

As explained under section II.B.1. of this preamble, the Medicare Code Editor (MCE) is a software program that detects and reports errors in the coding of Medicare claims data. Patient diagnoses, procedure(s), discharge status, and demographic information go into the Medicare claims processing systems and are subjected to a series of automated screens. The MCE screens are designed to identify cases that require further review before classification into a DRG.

For FY 2007, we are proposing to make the following changes to the MCE edits:

a. Newborn Diagnoses Edit

We are proposing to add code 780.92 (Excessive crying of infant (baby)) to the “Newborn Diagnoses” edit in the MCE. This edit is structured for patients with an age of “0”. In the Tabular portion of the ICD-9-CM diagnosis codes, the “excludes” note at code 780.92 states that this code “excludes excessive crying of child, adolescent or adult” and sends the coder to code 780.95 (Other excessive crying. (The new title of this code, shown on Table 6E of the Addendum to this proposed rule is “Excessive crying of child, adolescent, or adult).) To make a conforming change, we also are proposing that code 780.92 be removed from the “Pediatric Diagnoses—Age 0 Through 17” edit.

b. Diagnoses Allowed for Females Only Edit

The following codes are now invalid codes, as shown in Table 6C of the Addendum to this proposed rule. Therefore, we are proposing to remove them from the “Diagnosis Allowed for Females Only” edit in the MCE.

• 616.8, Other specified inflammatory diseases of cervix, vagina, and vulva.

• 629.8, Other specified disorders of female genital organs.

Codes 616.8 and 629.8 have been expanded to the fifth-digit level. Therefore, we are proposing to place the following expanded codes in the “Diagnoses Allowed for Females Only” edit.

• 616.81, Mucositis (ulcerative) of cervix, vagina, and vulva.

• 616.89, Other inflammatory disease of cervix, vagina, and vulva.

• 629.81, Habitual aborter without current pregnancy.

• 629.89, Other specified disorders of female genital organs.

The following two codes have revised descriptions (as shown in Table 6E of the Addendum to this proposed rule) which specify gender. Therefore, we are proposing to add them to “Diagnoses Allowed for Females Only” edit.

• V26.31, Testing of female for genetic disease carrier status.

• V26.32, Other genetic testing of female.

c. Diagnoses Allowed for Males Only Edit

Code 608.2 (Torsion of testis) is now an invalid code (as shown in Table 6C of the Addendum to this proposed rule). Therefore, we are proposing to remove it from the “Diagnoses Allowed for Males Only” edit. This code has been expanded to the fifth-digit level. Therefore, we are proposing to place the following expanded codes in the “Diagnoses Allowed for Males Only” edit:

• 608.20, Torsion of testis, unspecified.

• 608.21, Extravaginal torsion of spermatic cord.

• 608.22 Intravaginal torsion of spermatic cord.

• 608.23, Torsion of appendix testis.

• 608.24, Torsion of appendix epididymis.

The following codes have been created effective for FY 2007 and are gender specific. Therefore, we are proposing to add them to the “Diagnosis Allowed for Males Only” edit.

• V26.34, Testing of male for genetic disease carrier status.

• V26.35, Encounter for testing of male partner of habitual aborter.

• V26.39, Other genetic testing of male.

d. Manifestations Not Allowed as Principal Diagnosis Edit

We are proposing to add the following codes to the “Manifestations Not Allowed as Principal Diagnosis” edit in the MCE:

• 362.03, Nonproliferative diabetic retinopathy, NOS.

• 362.04, Mild nonproliferative diabetic retinopathy.

• 362.05, Moderate nonproliferative diabetic retinopathy.

• 362.06, Severe nonproliferative diabetic retinopathy.

• 362.07, Diabetic macular edema.

In addition, we are proposing to remove code 525.10 (Acquired absence of teeth, unspecified) from this edit in the MCE.

e. Nonspecific Principal Diagnosis Edit

We are proposing to add the following codes to the “Nonspecific Principal Diagnosis” edit in the MCE:

• 255.10, Hyperaldosteronism, unspecified.

• 323.9, Unspecified causes of encephalitis, myelitis, and encephalomyelitis.

• 770.10, Fetal and newborn aspiration, unspecified.

• 780.31, Febrile convulsions (simple), unspecified.

Codes 255.10, 323.9, and 780.31 appear on Table 6E, Revised Diagnosis Codes, and are being included in this edit because of their revised descriptions. Code 770.10 was inadvertently left off this list for FY 2006 when the code was created.

f. Unacceptable Principal Diagnosis Edit

Most V-codes describe an individual's health status, but these codes are not usually a current illness or injury. Therefore, most V-codes are included in the “Unacceptable Principal Diagnosis” edit. The following codes became invalid (as shown in Table 6C of the Addendum to this proposed rule) for FY 2007, and we are proposing to remove them from this edit:

• V18.5, Family history, digestive disorders.

• V58.3, Attention to surgical dressings and sutures.

• V72.1, Examination of ears and hearing.

The following V-codes represent either fifth-digit extensions of the above codes, or new codes that were created effective October 1, 2006 (Table 6A of the Addendum to this proposed rule). Therefore, we are proposing to add the following codes to the “Unacceptable Principal Diagnosis” edit:

• V18.51, Family history, colonic polyps.

• V18.59, Family history, other digestive disorders.

• V26.34, Testing of male for genetic disease carrier status.

• V26.35, Encounter for testing of male partner of habitual aborter.

• V26.39, Other genetic testing of male.

• V45.86, Bariatric surgery status.

• V58.30, Encounter for change or removal of nonsurgical wound dressing.

• V58.31, Encounter for change or removal of surgical wound dressing.

• V58.32, Encounter for removal of sutures.

• V72.11, Encounter for hearing examination following failed hearing screening.

• V72.19, Other examination of ears and hearing.

• V82.71, Screening for genetic disease carrier status.

• V82.79, Other genetic screening.

• V85.51, Body mass index, pediatric, less than 5th percentile for age.

• V85.52, Body mass index, pediatric, 5th percentile to less than 85th percentile for age.

• V85.53, Body mass index, pediatric, 85th percentile to less than 95th percentile for age.

• V85.54, Body mass index, pediatric, greater than or equal to 95th percentile for age.

• V86.0, Estrogen receptor positive status [ER+].

• V86.1, Estrogen receptor negative status [ER−].

g. Nonspecific O.R. Procedures Edit

We are proposing to remove code 00.29 (Intravascular imaging unspecified vessel(s)) from the “Nonspecific O.R. Procedure” edit in the MCE. This code was erroneously placed in this edit; it is not considered an O.R. procedure.

h. Noncovered Procedures Edit

Under the proposed changes to DRG 513 (Pancreas Transplant) under the Pre-MDCs described in section II.D.1. of this preamble, a patient must have a history of medically uncontrollable, insulin-dependent diabetes mellitus, that is, Type I diabetes mellitus. Therefore, to conform the “Noncovered Procedures” Edit in the MCE to these proposed changes, we are proposing to revise Diagnosis List 1 in this edit to include only the following codes:

• 250.01, Diabetes mellitus without mention of complication, type I [juvenile type], not stated as uncontrolled.

• 250.03, Diabetes mellitus without mention of complication, type I [juvenile type], uncontrolled.

• 250.11, Diabetes with ketoacidosis, type I [juvenile type], not stated as uncontrolled.

• 250.13, Diabetes with ketoacidosis, type I [juvenile type], uncontrolled.

• 250.21, Diabetes with hyperosmolarity, type I [juvenile type], not stated as uncontrolled.

• 250.23, Diabetes with hyperosmolarity, type I [juvenile type], uncontrolled.

• 250.31, Diabetes with other coma, type I [juvenile type], not stated as uncontrolled.

• 250.33, Diabetes with other coma, type I [juvenile type], uncontrolled.

• 250.41, Diabetes with renal manifestations, type I [juvenile type], not stated as uncontrolled.

• 250.43, Diabetes with renal manifestations, type I [juvenile type], uncontrolled.

• 250.51, Diabetes with ophthalmic manifestations, type I [juvenile type], not stated as uncontrolled.

• 250.53, Diabetes with ophthalmic manifestations, type I [juvenile type], uncontrolled.

• 250.61, Diabetes with neurological manifestations, type I [juvenile type], not stated as uncontrolled.

• 250.63, Diabetes with neurological manifestations, type I [juvenile type], uncontrolled.

• 250.71, Diabetes with peripheral circulatory disorders, type I [juvenile type], not stated as uncontrolled.

• 250.73, Diabetes with peripheral circulatory disorders, type I [juvenile type], uncontrolled.

• 250.81, Diabetes with other specified manifestations, type I [juvenile type], not stated as uncontrolled.

• 250.83, Diabetes with other specified manifestations, type I [juvenile type], uncontrolled.

• 250.91, Diabetes with unspecified complication, type I [juvenile type], not stated as uncontrolled.

• 250.93, Diabetes with unspecified complication, type I [juvenile type], uncontrolled.

In addition, we are proposing to remove Diagnosis List 2 from the “Noncovered Procedures” edit, which is comprised of the following codes:

• 403.01, Hypertensive kidney disease, malignant, with chronic kidney disease.

• 403.11, Hypertensive kidney disease, benign, with chronic kidney disease.

• 403.91, Hypertensive kidney disease, unspecified, with chronic kidney disease.

• 404.02, Hypertensive heart and kidney disease, malignant, with chronic kidney disease.

• 404.03, Hypertensive heart and kidney disease, malignant, with heart failure and chronic kidney disease.

• 404.12, Hypertensive heart and kidney disease, benign, with chronic kidney disease.

• 404.13, Hypertensive heart and kidney disease, benign, with heart failure and chronic kidney disease.

• 404.92, Hypertensive heart and kidney disease, unspecified, with chronic kidney disease.

• 404.93, Hypertensive heart and kidney disease, unspecified, with heart failure and chronic kidney disease.

• 585.1, Chronic kidney disease, Stage I.

• 585.2, Chronic kidney disease, Stage II (mild).

• 585.3, Chronic kidney disease, Stage III (moderate).

• 585.4, Chronic kidney disease, Stage IV (severe).

• 585.5, Chronic kidney disease, Stage V.

• 585.6, End stage renal disease.

• 585.9, Chronic kidney disease, unspecified.

• V42.0, Organ or tissue replaced by transplant, kidney.

• V43.89, Organ or tissue replaced by other means, other organ or tissue, other.

i. Bilateral Procedure Edit

We are proposing to remove the following codes from the “Bilateral Procedure” edit, as these are adjunct codes. They are not O.R. codes recognized by the GROUPER as procedures, and the edit was created in error last year.

• 00.74, Hip replacement bearing surface, metal on polyethylene.

• 00.75, Hip replacement bearing surface, metal-on-metal.

• 00.76, Hip replacement bearing surface, ceramic-on-ceramic.

7. Surgical Hierarchies

(If you choose to comment on issues in this section, please include the caption “DRGs: Surgical Hierarchies” at the beginning of your comments.)

Some inpatient stays entail multiple surgical procedures, each one of which, occurring by itself, could result in assignment of the case to a different DRG within the MDC to which the principal diagnosis is assigned. Therefore, it is necessary to have a decision rule within the GROUPER by which these cases are assigned to a single DRG. The surgical hierarchy, an ordering of surgical classes from most resource-intensive to least resource-intensive, performs that function. Application of this hierarchy ensures that cases involving multiple surgical procedures are assigned to the DRG associated with the most resource-intensive surgical class.

Because the relative resource intensity of surgical classes can shift as a function of DRG reclassification and recalibrations, we reviewed the surgical hierarchy of each MDC, as we have for previous reclassifications and recalibrations, to determine if the ordering of classes coincides with the intensity of resource utilization.

A surgical class can be composed of one or more DRGs. For example, in MDC 11, the surgical class “kidney transplant” consists of a single DRG (DRG 302) and the class “kidney, ureter and major bladder procedures” consists of three DRGs (DRGs 303, 304, and 305). Consequently, in many cases, the surgical hierarchy has an impact on more than one DRG. The methodology for determining the most resource-intensive surgical class involves weighting the average resources for each DRG by frequency to determine the weighted average resources for each surgical class. For example, assume surgical class A includes DRGs 1 and 2 and surgical class B includes DRGs 3, 4, and 5. Assume also that the average charge of DRG 1 is higher than that of DRG 3, but the average charges of DRGs 4 and 5 are higher than the average charge of DRG 2. To determine whether surgical class A should be higher or lower than surgical class B in the surgical hierarchy, we would weight the average charge of each DRG in the class by frequency (that is, by the number of cases in the DRG) to determine average resource consumption for the surgical class. The surgical classes would then be ordered from the class with the highest average resource utilization to that with the lowest, with the exception of “other O.R. procedures” as discussed below.

This methodology may occasionally result in assignment of a case involving multiple procedures to the lower-weighted DRG (in the highest, most resource-intensive surgical class) of the available alternatives. However, given that the logic underlying the surgical hierarchy provides that the GROUPER search for the procedure in the most resource-intensive surgical class, in cases involving multiple procedures, this result is sometimes unavoidable.

We note that, notwithstanding the foregoing discussion, there are a few instances when a surgical class with a lower average charge is ordered above a surgical class with a higher average charge. For example, the “other O.R. procedures” surgical class is uniformly ordered last in the surgical hierarchy of each MDC in which it occurs, regardless of the fact that the average charge for the DRG or DRGs in that surgical class may be higher than that for other surgical classes in the MDC. The “other O.R. procedures” class is a group of procedures that are only infrequently related to the diagnoses in the MDC, but are still occasionally performed on patients in the MDC with these diagnoses. Therefore, assignment to these surgical classes should only occur if no other surgical class more closely related to the diagnoses in the MDC is appropriate.

A second example occurs when the difference between the average charges for two surgical classes is very small. We have found that small differences generally do not warrant reordering of the hierarchy because, as a result of reassigning cases on the basis of the hierarchy change, the average charges are likely to shift such that the higher-ordered surgical class has a lower average charge than the class ordered below it.

Based on the changes under the HSVRcc weighting methodology that we are proposing for FY 2007, as discussed in section II.C.2. of this preamble, we are proposing to revise the surgical hierarchy for Pre-MDCs, MDC 1 (Diseases and Disorders of the Nervous System), MDC 2 (Diseases and Disorders of the Eye), MDC 3 (Diseases and Disorders of the Ear, Nose, Mouth and Throat), MDC 8 (Diseases and Disorders of the Musculoskeletal System and Connective Tissue), MDC 10 (Endocrine, Nutritional and Metabolic Diseases and Disorders), and MDC 13 (Diseases and Disorders of the Female Reproductive System) as follows. In our analysis, we looked at the number of cases and the arithmetic mean.

In Pre-MDCs, we are proposing to reorder DRG 481 (Bone Marrow Transplant) above DRG 513 (Pancreas Transplant).

In MDC 1, we are proposing to reorder DRGs 531-532 (Spinal Procedures, with CC and without CC, respectively) above DRGs 529-530 (Ventricular Shunt Procedures, with CC and without CC, respectively).

In MDC 2, we are proposing to reorder DRG 42 (Intraocular Procedures Except Retina, Iris and Lens) above DRG 36 (Retinal Procedures).

In MDC 3, we are proposing to reorder DRGs 168-169 (Mouth Procedures, with CC and without CC, respectively) above DRG 57 (T&A Procedures, Except Tonsillectomy and/or Adenoidectomy Only, Age > 17) and DRG 58 (T&A Procedures, Except Tonsillectomy and/or Adenoidectomy Only, Age 0-17).

In MDC 8, we are proposing to reorder DRG 213 (Amputation for Musculoskeletal System and Connective Tissue Disorders) above DRG 216 (Biopsies of Musculoskeletal System and Connective Tissue).

In MDC 10, we are proposing to reorder DRG 285 (Amputation of Lower Limb for Endocrine, Nutritional and Metabolic Diseases and Disorders) above DRG 288 (O.R. Procedures for Obesity).

In MDC 13, we are proposing to reorder DRG 363 (D&C, Conization and Radio-Implant, for Malignancy) and DRG 364 (D&C, Conization and Radio-Implant, Except for Malignancy) above DRG 360 (Vagina, Cervix, and Vulva Procedures).

8. Refinement of Complications and Comorbidities (CC) List

(If you choose to comment on issues in this section, please include the caption “CC List” at the beginning of your comment.)

a. Background

As indicated earlier in this preamble, under the IPPS DRG classification system, we have developed a standard list of diagnoses that are considered complications or comorbidities (CCs). Historically, we developed this list using physician panels that classified each diagnosis code based on whether the diagnosis, when present as a secondary condition, would be considered a substantial complication or comorbidity. A substantial complication or comorbidity was defined as a condition that, because of its presence with a specific principal diagnosis, would cause an increase in the length of stay by at least 1 day in at least 75 percent of the patients.

b. Comprehensive Review of the CC List

In previous years, we have made changes to the standard list of CCs, either by adding new CCs or deleting CCs already on the list, but we have never conducted a comprehensive review of the list. Given the long period of time that had elapsed since the original CC list was developed, the incremental nature of changes to it, and changes in the way inpatient care is delivered, and in partial response to recommendations in MedPAC's March 2005 Report to Congress on Physician-Owned Specialty Hospitals, for the FY 2006 IPPS final rule, we reviewed the 121-paired DRGs that were split on the presence or absence of a CC among the 3,285 diagnosis codes on the CC list. We presented the results of that review and summarized public comments that we received in the FY 2006 proposed rule on the review results in the FY 2006 IPPS final rule (70 FR 47313 through 47315). Further analysis of the CC list and refinement to recognize the effects of differences in severity of illness among patients is discussed in section II.C. of this preamble as part of our efforts to develop a consolidated severity-adjusted DRG system for use in the IPPS. However, as further discussed in section II.C. of the preamble to this proposed rule, we are soliciting comments on whether it would be appropriate in FY 2007 to apply to an expanded set of DRGs a clinical severity concept similar to the approach we used in FY 2006 to refine cardiac DRGs based on the presence or absence of an MCV.

c. CC Exclusions List Proposed for FY 2007

In the September 1, 1987 final notice (52 FR 33143) concerning changes to the DRG classification system, we modified the GROUPER logic so that certain diagnoses included on the standard list of CCs would not be considered valid CCs in combination with a particular principal diagnosis. We created the CC Exclusions List for the following reasons: (1) To preclude coding of CCs for closely related conditions; (2) to preclude duplicative or inconsistent coding from being treated as CCs; and (3) to ensure that cases are appropriately classified between the complicated and uncomplicated DRGs in a pair. As we indicated above, we developed a list of diagnoses, using physician panels, to include those diagnoses that, when present as a secondary condition, would be considered a substantial complication or comorbidity. In previous years, we have made changes to the list of CCs, either by adding new CCs or deleting CCs already on the list. At this time, we are not proposing to delete any of the diagnosis codes on the CC list for FY 2007.

In the May 19, 1987 proposed notice (52 FR 18877) and the September 1, 1987 final notice (52 FR 33154), we explained that the excluded secondary diagnoses were established using the following five principles:

• Chronic and acute manifestations of the same condition should not be considered CCs for one another.

• Specific and nonspecific (that is, not otherwise specified (NOS)) diagnosis codes for the same condition should not be considered CCs for one another.

• Codes for the same condition that cannot coexist, such as partial/total, unilateral/bilateral, obstructed/unobstructed, and benign/malignant, should not be considered CCs for one another.

• Codes for the same condition in anatomically proximal sites should not be considered CCs for one another.

• Closely related conditions should not be considered CCs for one another.

The creation of the CC Exclusions List was a major project involving hundreds of codes. We have continued to review the remaining CCs to identify additional exclusions and to remove diagnoses from the master list that have been shown not to meet the definition of a CC.⁹

⁹ See the FY 1989 final rule (53 FR 38485, September 30, 1988), for the revision made for the discharges occurring in FY 1989; the FY 1990 final rule (54 FR 36552, September 1, 1989), for the FY 1990 revision; the FY 1991 final rule (55 FR 36126, September 4, 1990), for the FY 1991 revision; the FY 1992 final rule (56 FR 43209, August 30, 1991) for the FY 1992 revision; the FY 1993 final rule (57 FR 39753),September 1, 1992), for the FY 1993 revision; the FY 1994 final rule (58 FR 46278, September 1, 1993), for the FY 1994 revisions; the FY 1995 final rule (59 FR 45334, September 1, 1994), for the FY 1995 revisions; the FY 1996 final rule (60 FR 45782, September 1, 1995), for the FY 1996 revisions; the FY 1997 final rule (61 FR 46171, August 30, 1996), for the FY 1997 revisions; the FY 1998 final rule (62 FR 45966, August 29, 1997) for the FY 1998 revisions; the FY 1999 final rule (63 FR 40954, July 31, 1998), for the FY 1999 revisions; the FY 2001 final rule (65 FR 47064, August 1, 2000), for the FY 2001 revisions; the FY 2002 final rule (66 FR 39851, August 1, 2001), for the FY 2002 revisions; the FY 2003 final rule (67 FR 49998, August 1, 2002), for the FY 2003 revisions; the FY 2004 final rule (68 FR 45364, August 1, 2003), for the FY 2004 revisions; the FY 2005 final rule (69 FR 49848, August 11, 2004), for the FY 2005 revisions; and the FY 2006 final rule (70 FR 47640, August 12, 2005), for the FY 2006 revisions. In the FY 2000 final rule (64 FR 41490, July 30, 1999, we did not modify the CC Exclusions List because we did not make any changes to the ICD-9-CM codes for FY 2000.

We are proposing to make limited revisions to the CC Exclusions List to take into account the changes that will be made in the ICD-9-CM diagnosis coding system effective October 1, 2006. (See section II.D.10. of this preamble for a discussion of ICD-9-CM changes.) We are proposing these changes in accordance with the principles established when we created the CC Exclusions List in 1987.

Tables 6G and 6H in the Addendum to this proposed rule contain the revisions to the CC Exclusions List that would be effective for discharges occurring on or after October 1, 2006. Each table shows the principal diagnoses with changes to the excluded CCs. Each of these principal diagnoses is shown with an asterisk, and the additions or deletions to the CC Exclusions List are provided in an indented column immediately following the affected principal diagnosis.

CCs that are added to the list are in Table 6G—Additions to the CC Exclusions List. Beginning with discharges on or after October 1, 2006, the indented diagnoses will not be recognized by the GROUPER as valid CCs for the asterisked principal diagnosis.

CCs that are deleted from the list are in Table 6H—Deletions from the CC Exclusions List. Beginning with discharges on or after October 1, 2006, the indented diagnoses will be recognized by the GROUPER as valid CCs for the asterisked principal diagnosis.

Copies of the original CC Exclusions List applicable to FY 1988 can be obtained from the National Technical Information Service (NTIS) of the Department of Commerce. It is available in hard copy for $152.50 plus shipping and handling. A request for the FY 1988 CC Exclusions List (which should include the identification accession number (PB) 88-133970) should be made to the following address: National Technical Information Service, United States Department of Commerce, 5285 Port Royal Road, Springfield, VA 22161; or by calling (800) 553-6847.

Users should be aware of the fact that all revisions to the CC Exclusions List (FYs 1989, 1990, 1991, 1992, 1993, 1994, 1995, 1996, 1997, 1998, 1999, 2001, 2002, 2003, 2004, 2005, and 2006) and those in Tables 6G and 6H of this proposed rule for FY 2007 must be incorporated into the list purchased from NTIS in order to obtain the CC Exclusions List applicable for discharges occurring on or after October 1, 2006.

(Note: There was no CC Exclusions List in FY 2000 because we did not make changes to the ICD-9-CM codes for FY 2000.)

Alternatively, the complete documentation of the GROUPER logic, including the current CC Exclusions List, is available from 3M/Health Information Systems (HIS), which, under contract with CMS, is responsible for updating and maintaining the GROUPER program. The current DRG Definitions Manual, Version 23.0, is available for $225.00, which includes $15.00 for shipping and handling. Version 24.0 of this manual, which will include the final FY 2007 DRG changes, will be available in hard copy for $250.00. Version 24.0 of the manual is also available on a CD for $200.00; a combination hard copy and CD is available for $400.00. These manuals may be obtained by writing 3M/HIS at the following address: 100 Barnes Road, Wallingford, CT 06492; or by calling (203) 949-0303. Please specify the revision or revisions requested.

9. Review of Procedure Codes in DRGs 468, 476, and 477

Each year, we review cases assigned to DRG 468 (Extensive O.R. Procedure Unrelated to Principal Diagnosis), DRG 476 (Prostatic O.R. Procedure Unrelated to Principal Diagnosis), and DRG 477 (Nonextensive O.R. Procedure Unrelated to Principal Diagnosis) to determine whether it would be appropriate to change the procedures assigned among these DRGs.

DRGs 468, 476, and 477 are reserved for those cases in which none of the O.R. procedures performed are related to the principal diagnosis. These DRGs are intended to capture atypical cases, that is, those cases not occurring with sufficient frequency to represent a distinct, recognizable clinical group. DRG 476 is assigned to those discharges in which one or more of the following prostatic procedures are performed and are unrelated to the principal diagnosis:

• 60.0, Incision of prostate.

• 60.12, Open biopsy of prostate.

• 60.15, Biopsy of periprostatic tissue.

• 60.18, Other diagnostic procedures on prostate and periprostatic tissue.

• 60.21, Transurethral prostatectomy.

• 60.29, Other transurethral prostatectomy.

• 60.61, Local excision of lesion of prostate.

• 60.69, Prostatectomy, not elsewhere classified.

• 60.81, Incision of periprostatic tissue.

• 60.82, Excision of periprostatic tissue.

• 60.93, Repair of prostate.

• 60.94, Control of (postoperative) hemorrhage of prostate.

• 60.95, Transurethral balloon dilation of the prostatic urethra.

• 60.96, Transurethral destruction of prostate tissue by microwave thermotherapy.

• 60.97, Other transurethral destruction of prostate tissue by other thermotherapy.

• 60.99, Other operations on prostate.

All remaining O.R. procedures are assigned to DRGs 468 and 477, with DRG 477 assigned to those discharges in which the only procedures performed are nonextensive procedures that are unrelated to the principal diagnosis.¹⁰

¹⁰ The original list of the ICD-9-CM procedure codes for the procedures we consider nonextensive procedures, if performed with an unrelated principal diagnosis, was published in Table 6C in section IV. of the Addendum to the FY 1989 final rule (53 FR 38591). As part of the FY 1991 final rule (55 FR 36135), the FY 1992 final rule (56 FR 43212), the FY 1993 final rule (57 FR 23625), the FY 1994 final rule (58 FR 46279), the FY 1995 final rule (59 FR 45336), the FY 1996 final rule (60 FR 45783), the FY 1997 final rule (61 FR 46173), and the FY 1998 final rule (62 FR 45981), we moved several other procedures from DRG 468 to DRG 477, and some procedures from DRG 477 to DRG 468. No procedures were moved in FY 1999, as noted in the final rule (63 FR 40962); in FY 2000 (64 FR 41496); in FY 2001 (65 FR 47064); or in FY 2002 (66 FR 39852). In the FY 2003 final rule (67 FR 49999) we did not move any procedures from DRG 477. However, we did move procedure codes from DRG 468 and placed them in more clinically coherent DRGs. In the FY 2004 final rule (68 FR 45365), we moved several procedures from DRG 468 to DRGs 476 and 477 because the procedures are nonextensive. In the FY 2005 final rule (69 FR 48950), we moved one procedure from DRG 468 to 477. In addition, we added several existing procedures to DRGs 476 and 477. In the FY 2006 (70 FR 47317), we moved one procedure from DRG 468 and assigned it to DRG 477.

For FY 2007, we are not proposing to change the procedures assigned among these DRGs.

a. Moving Procedure Codes From DRG 468 or DRG 477 to MDCs

We annually conduct a review of procedures producing assignment to DRG 468 or DRG 477 on the basis of volume, by procedure, to see if it would be appropriate to move procedure codes out of these DRGs into one of the surgical DRGs for the MDC into which the principal diagnosis falls. The data are arrayed two ways for comparison purposes. We look at a frequency count of each major operative procedure code. We also compare procedures across MDCs by volume of procedure codes within each MDC.

We identify those procedures occurring in conjunction with certain principal diagnoses with sufficient frequency to justify adding them to one of the surgical DRGs for the MDC in which the diagnosis falls. Based on this year's review, we are not proposing to remove any procedures in DRGs 468 or 477 to one of the surgical DRGs for FY 2007.

b. Reassignment of Procedures Among DRGs 468, 476, and 477

We also annually review the list of ICD-9-CM procedures that, when in combination with their principal diagnosis code, result in assignment to DRGs 468, 476, and 477, to ascertain if any of those procedures should be reassigned from one of these three DRGs to another of the three DRGs based on average charges and the length of stay. We look at the data for trends such as shifts in treatment practice or reporting practice that would make the resulting DRG assignment illogical. If we find these shifts, we would propose to move cases to keep the DRGs clinically similar or to provide payment for the cases in a similar manner. Generally, we move only those procedures for which we have an adequate number of discharges to analyze the data.

We are not proposing to move any procedure codes from DRG 476 to DRGs 468 or 477, or from DRG 477 to DRGs 468 or 476 for FY 2007.

c. Adding Diagnosis or Procedure Codes to MDCs

Based on our review this year, we are not proposing to add any diagnosis codes to MDCs for FY 2007.

10. Changes to the ICD-9-CM Coding System

As described in section II.B.1. of this preamble, the ICD-9-CM is a coding system used for the reporting of diagnoses and procedures performed on a patient. In September 1985, the ICD-9-CM Coordination and Maintenance Committee was formed. This is a Federal interdepartmental committee, co-chaired by the National Center for Health Statistics (NCHS), the Centers for Disease Control and Prevention, and CMS, charged with maintaining and updating the ICD-9-CM system. The Committee is jointly responsible for approving coding changes, and developing errata, addenda, and other modifications to the ICD-9-CM to reflect newly developed procedures and technologies and newly identified diseases. The Committee is also responsible for promoting the use of Federal and non-Federal educational programs and other communication techniques with a view toward standardizing coding applications and upgrading the quality of the classification system.

The Official Version of the ICD-9-CM contains the list of valid diagnosis and procedure codes. (The Official Version of the ICD-9-CM is available from the Government Printing Office on CD-ROM for $25.00 by calling (202) 512-1800.) The Official Version of the ICD-9-CM is no longer available in printed manual form from the Federal Government; it is only available on CD-ROM. Users who need a paper version are referred to one of the many products available from publishing houses.

The NCHS has lead responsibility for the ICD-9-CM diagnosis codes included in the Tabular List and Alphabetic Index for Diseases, while CMS has lead responsibility for the ICD-9-CM procedure codes included in the Tabular List and Alphabetic Index for Procedures.

The Committee encourages participation in the above process by health-related organizations. In this regard, the Committee holds public meetings for discussion of educational issues and proposed coding changes. These meetings provide an opportunity for representatives of recognized organizations in the coding field, such as the American Health Information Management Association (AHIMA), the American Hospital Association (AHA), and various physician specialty groups, as well as individual physicians, health information management professionals, and other members of the public, to contribute ideas on coding matters. After considering the opinions expressed at the public meetings and in writing, the Committee formulates recommendations, which then must be approved by the agencies.

The Committee presented proposals for coding changes for implementation in FY 2007 at a public meeting held on September 29-30, 2005, and finalized the coding changes after consideration of comments received at the meetings and in writing by December 2, 2005. Those coding changes are announced in Tables 6A through 6F in the Addendum to this proposed rule. The Committee held its 2006 meeting on March 23-24, 2006. Proposed new codes for which there was a consensus of public support and for which complete tabular and indexing changes can be made by May 2006 will be included in the October 1, 2006 update to ICD-9-CM. Code revisions that were discussed at the March 23-24, 2006 Committee meeting could not be finalized in time to include them in this FY 2007 IPPS proposed rule. These additional codes will be included in Tables 6A through 6F of the final rule and will be marked with an asterisk (*).

Copies of the minutes of the procedure codes discussions at the Committee's September 29-30, 2005 meeting can be obtained from the CMS Web site: http://new.cms.hhs.gov/ICD9ProviderDiagnosticCodes/03_meetings.asp. The minutes of the diagnosis codes discussions at the September 29-30, 2005 meeting are found at: http://www.cdc.gov/nchs/icd9.htm. Paper copies of these minutes are no longer available and the mailing list has been discontinued. These Web sites also provide detailed information about the Committee, including information on requesting a new code, attending a Committee meeting, and timeline requirements and meeting dates.

We encourage commenters to address suggestions on coding issues involving diagnosis codes to: Donna Pickett, Co-Chairperson, ICD-9-CM Coordination and Maintenance Committee, NCHS, Room 2402, 3311 Toledo Road, Hyattsville, MD 20782. Comments may be sent by E-mail to: dfp4@cdc.gov.

Questions and comments concerning the procedure codes should be addressed to: Patricia E. Brooks, Co-Chairperson, ICD-9-CM Coordination and Maintenance Committee, CMS, Center for Medicare Management, Hospital and Ambulatory Policy Group, Division of Acute Care, C4-08-06, 7500 Security Boulevard, Baltimore, MD 21244-1850. Comments may be sent by E-mail to: Patricia.Brooks1@cms.hhs.gov.

The ICD-9-CM code changes that have been approved will become effective October 1, 2006. The new ICD-9-CM codes are listed, along with their DRG classifications, in Tables 6A and 6B (New Diagnosis Codes and New Procedure Codes, respectively) in the Addendum to this proposed rule. As we stated above, the code numbers and their titles were presented for public comment at the ICD-9-CM Coordination and Maintenance Committee meetings. Both oral and written comments were considered before the codes were approved. In this proposed rule, we are only soliciting comments on the proposed classification of these new codes.

For codes that have been replaced by new or expanded codes, the corresponding new or expanded diagnosis codes are included in Table 6A. New procedure codes are shown in Table 6B. Diagnosis codes that have been replaced by expanded codes or other codes or have been deleted are in Table 6C (Invalid Diagnosis Codes). These invalid diagnosis codes will not be recognized by the GROUPER beginning with discharges occurring on or after October 1, 2006. Table 6D contains invalid procedure codes. These invalid procedure codes will not be recognized by the GROUPER beginning with discharges occurring on or after October 1, 2006. Revisions to diagnosis code titles are in Table 6E (Revised Diagnosis Code Titles), which also includes the DRG assignments for these revised codes. Table 6F includes revised procedure code titles for FY 2007.

In the September 7, 2001 final rule implementing the IPPS new technology add-on payments (66 FR 46906), we indicated we would attempt to include proposals for procedure codes that would describe new technology discussed and approved at the April meeting as part of the code revisions effective the following October. As stated previously, ICD-9-CM codes discussed at the March 23-24, 2006 Committee meeting that received consensus and that can be finalized by May 2006, will be included in Tables 6A through 6F of the Addendum to the final rule.

Section 503(a) of Pub. L. 108-173 included a requirement for updating ICD-9-CM codes twice a year instead of a single update on October 1 of each year. This requirement was included as part of the amendments to the Act relating to recognition of new technology under the IPPS. Section 503(a) amended section 1886(d)(5)(K) of the Act by adding a clause (vii) which states that the “Secretary shall provide for the addition of new diagnosis and procedure codes in April 1 of each year, but the addition of such codes shall not require the Secretary to adjust the payment (or diagnosis-related group classification) * * * until the fiscal year that begins after such date.” This requirement improves the recognition of new technologies under the IPPS system by providing information on these new technologies at an earlier date. Data will be available 6 months earlier than would be possible with updates occurring only once a year on October 1.

While section 1886(d)(5)(K)(vii) of the Act states that the addition of new diagnosis and procedure codes on April 1 of each year shall not require the Secretary to adjust the payment, or DRG classification under section 1886(d) of the Act until the fiscal year that begins after such date, we have to update the DRG software and other systems in order to recognize and accept the new codes. We also publicize the code changes and the need for a mid-year systems update by providers to capture the new codes. Hospitals also have to obtain the new code books and encoder updates, and make other system changes in order to capture and report the new codes.

The ICD-9-CM Coordination and Maintenance Committee holds its meetings in the Spring and Fall in order to update the codes and the applicable payment and reporting systems by October 1 of each year. Items are placed on the agenda for the ICD-9-CM Coordination and Maintenance Committee meeting if the request is received at least 2 months prior to the meeting. This requirement allows time for staff to review and research the coding issues and prepare material for discussion at the meeting. It also allows time for the topic to be publicized in meeting announcements in the Federal Register as well as on the CMS Web site. The public decides whether or not to attend the meeting based on the topics listed on the agenda. Final decisions on code title revisions are currently made by March 1 so that these titles can be included in the IPPS proposed rule. A complete addendum describing details of all changes to ICD-9-CM, both tabular and index, are publicized on CMS and NCHS Web pages in May of each year. Publishers of coding books and software use this information to modify their products that are used by health care providers. This 5-month time period has proved to be necessary for hospitals and other providers to update their systems.

A discussion of this timeline and the need for changes are included in the December 4-5, 2005 ICD-9-CM Coordination and Maintenance Committee minutes. The public agreed that there was a need to hold the fall meetings earlier, in September or October, in order to meet the new implementation dates. The public provided comment that additional time would be needed to update hospital systems and obtain new code books and coding software. There was considerable concern expressed about the impact this new April update would have on providers.

In the FY 2005 IPPS final rule, we implemented section 1886(d)(5)(K)(vii) of the Act, as added by section 503(a) of Public Law 108-173, by developing a mechanism for approving, in time for the April update, diagnosis and procedure code revisions needed to describe new technologies and medical services for purposes of the new technology add-on payment process. We also established the following process for making these determinations. Topics considered during the Fall ICD-9-CM Coordination and Maintenance Committee meeting are considered for an April 1 update if a strong and convincing case is made by the requester at the Committee's public meeting. The request must identify the reason why a new code is needed in April for purposes of the new technology process. The participants at the meeting and those reviewing the Committee meeting summary report are provided the opportunity to comment on this expedited request. All other topics are considered for the October 1 update. Participants at the Committee meeting are encouraged to comment on all such requests. There were no requests for an expedited April l, 2006 implementation of an ICD-9-CM code at the September 29-30, 2005 Committee meeting. Therefore, there were no new ICD-9-CM codes implemented on April 1, 2006.

We believe that this process captures the intent of section 1886(d)(5)(K)(vii) of the Act. This requirement was included in the provision revising the standards and process for recognizing new technology under the IPPS. In addition, the need for approval of new codes outside the existing cycle (October 1) arises most frequently and most acutely where the new codes will capture new technologies that are (or will be) under consideration for new technology add-on payments. Thus, we believe this provision was intended to expedite data collection through the assignment of new ICD-9-CM codes for new technologies seeking higher payments.

Current addendum and code title information is published on the CMS Web page at: http://www.cms.hhs.gov/icd9ProviderDiagnosticCodes. Information on ICD-9-CM diagnosis codes, along with the Official ICD-9-CM Coding Guidelines, can be found on the Web page at: http://www.cdc.gov/nchs/icd9.htm. Information on new, revised, and deleted ICD-9-CM codes is also provided to the AHA for publication in the Coding Clinic for ICD-9-CM. AHA also distributes information to publishers and software vendors.

CMS also sends copies of all ICD-9-CM coding changes to its contractors for use in updating their systems and providing education to providers.

These same means of disseminating information on new, revised, and deleted ICD-9-CM codes will be used to notify providers, publishers, software vendors, contractors, and others of any changes to the ICD-9-CM codes that are implemented in April. The code titles are adopted as part of the ICD-9-CM Coordination and Maintenance Committee process. Thus, although we publish the code titles in the IPPS proposed and final rules, they are not subject to comment in the proposed or final rules. We will continue to publish the October code updates in this manner within the IPPS proposed and final rules. For codes that are implemented in April, we will assign the new procedure code to the same DRG in which its predecessor code was assigned so there will be no DRG impact as far as DRG assignment. This mapping was specified by section 1886(d)(5)(K)(vii) of the Act as added by section 503(a) of Pub. L. 108-173. Any midyear coding updates will be available through the websites indicated above and through the Coding Clinic for ICD-9-CM. Publishers and software vendors currently obtain code changes through these sources in order to update their code books and software systems. We will strive to have the April 1 updates available through these Web sites 5 months prior to implementation (that is, early November of the previous year), as is the case for the October 1 updates. Codebook publishers are evaluating how they will provide any code updates to their subscribers. Some publishers may decide to publish mid-year book updates. Others may decide to sell an addendum that lists the changes to the October 1 code book. Coding personnel should contact publishers to determine how they will update their books. CMS and its contractors will also consider developing provider education articles concerning this change to the effective date of certain ICD-9-CM codes.

E. Proposed Recalibration of DRG Weights

(If you choose to comment on issues in this section, please include the caption “DRG Weights” at the beginning of your comment.)

We are proposing to change the DRG recalibration process methodology for FY 2007 to move to an HSRV weighting method as discussed in section II.C.2. of the preamble to this proposed rule. For FY 2006 and years prior, we have recalibrated the DRG weights based on charge data for Medicare discharges using the most current charge information available (for example, the FY 2005 MedPAR file would have been used for FY 2007). Our thorough analysis of the March 2005 MedPAC recommendations regarding refinement of the DRG system used for the IPPS (see discussion of the MedPAC recommendations in section II.C.2. of this preamble) has shown that using gross charges as a basis for setting the DRG weights has introduced bias into the weighting process. Specifically, hospitals that are systematically more expensive than others (that is, teaching hospitals and specialty hospitals) tend to treat certain cases more commonly than others, causing the weights for these cases to be artificially high. In addition, hospitals may mark up their charges for routine days, intensive care days, and various ancillary services by different percentages. This practice of differential markups among hospital cost centers may also introduce bias into the weights. For instance, we have observed that ancillary service cost centers generally have higher charge markups than routine services. Thus, the charge-based relative weight methodology may result in high weights for DRGs that use more ancillary services relative to DRGs that use more routine services than would occur under a system where the weights are based on costs.

As discussed in section II.C.2. of this preamble, based on our study of the MedPAC recommendations, we have developed an alternative methodology for recalibrating the DRG weights. This method involves applying the HSRV methodology at the cost center level (HSRVcc) to remove the bias introduced by hospital characteristics (that is, teaching, disproportionate share, location, and size, among others) and then scaling the weights to costs using national cost center CCRs derived from cost report data.

In developing this proposed system of weights, we used two data sources: Claims data and cost report data. As in previous years, the claims data source is the MedPAR file. This file is based on fully coded diagnostic and procedure data for all Medicare inpatient hospital bills. The FY 2005 MedPAR data used in this proposed rule include discharges occurring between October 1, 2004 and September 30, 2005, based on bills received by CMS through December 31, 2005, from all hospitals subject to the IPPS and short-term acute care hospitals in Maryland (which are under a waiver from the IPPS under section 1814(b)(3) of the Act). The FY 2005 MedPAR file used in calculating the relative weights includes data for approximately 12,137,358 Medicare discharges. Discharges for Medicare beneficiaries enrolled in a Medicare+Choice managed care plan are excluded from this analysis. The data exclude CAHs, including hospitals that subsequently became CAHs after the period from which the data were taken. The second data source used in the new HSRVcc weight methodology are the FY 2003 Medicare cost report data files from HCRIS, which represents the most recent full set of cost report data available. We used the December 31, 2005 update of the HCRIS cost report files for FY 2003 in setting the proposed relative weights.

Previously, the charge-based methodology used to calculate the DRG relative weights from the MedPAR data was as follows:

• To the extent possible, all the claims were regrouped using the DRG classification revisions that we would have proposed.

• The transplant cases that were used to establish the proposed relative weight for heart and heart-lung, liver and/or intestinal, and lung transplants (DRGs 103, 480, and 495) were limited to those Medicare-approved transplant centers that have cases in the FY 2005 MedPAR file. (Medicare coverage for heart, heart-lung, liver and/or intestinal, and lung transplants is limited to those facilities that have received approval from CMS as transplant centers.)

• Organ acquisition costs for kidney, heart, heart-lung, liver, lung, pancreas, and intestinal (or multivisceral organs) transplants continue to be paid on a reasonable cost basis. Because these acquisition costs are paid separately from the prospective payment rate, it would have been necessary to subtract the acquisition charges from the total charges on each transplant bill that showed acquisition charges before computing the average charge for the DRG and before eliminating statistical outliers.

• Charges would have been standardized to remove the effects of differences in area wage levels, indirect medical education and disproportionate share payments, and, for hospitals in Alaska and Hawaii, the applicable cost-of-living adjustment.

• The average standardized charge per DRG was calculated by summing the standardized charges for all cases in the DRG and dividing that amount by the number of cases classified in the DRG. A transfer case would have been counted as a fraction of a case based on the ratio of its transfer payment under the per diem payment methodology to the full DRG payment for non-transfer cases. That is, a transfer case receiving payment under the transfer methodology equal to half of what the case would receive as a non-transfer would be counted as 0.5 of a total case.

• Statistical outliers were eliminated by removing all cases that were beyond 3.0 standard deviations from the mean of the log distribution of both the charges per case and the charges per day for each DRG.

• The average charge for each DRG was then recomputed (excluding the statistical outliers) and divided by the national average standardized charge per case to determine the relative weight.

These charge-based weights were then normalized by an adjustment factor so that the average case weight after recalibration is equal to the average case weight before recalibration. We will continue to apply this normalization adjustment as it is intended to ensure that recalibration by itself neither increases nor decreases total payments under the IPPS as required by section 1886(d)(4)(C)(iii) of the Act.

The methodology we are proposing to calculate the DRG weights from the FY 2005 MedPAR and FY 2003 cost report data is as follows:

• To the extent possible, all the claims were regrouped using the proposed DRG classification revisions discussed in section II.D. of this preamble.

• The transplant cases that were used to establish the proposed relative weight for heart and heart-lung, liver and/or intestinal, and lung transplants (DRGs 103, 480, and 495) were limited to those Medicare-approved transplant centers that have cases in the FY 2005 MedPAR file. (Medicare coverage for heart, heart-lung, liver and/or intestinal, and lung transplants is limited to those facilities that have received approval from CMS as transplant centers.)

• Organ acquisition costs for kidney, heart, heart-lung, liver, lung, pancreas, and intestinal (or multivisceral organs) transplants continue to be paid on a reasonable cost basis. Because these acquisition costs are paid separately from the prospective payment rate, it is necessary to subtract the acquisition charges from the total charges on each transplant bill that showed acquisition charges before adjusting the charges under the HSRVcc methodology and before eliminating statistical outliers.

• Claims for IPPS hospitals were used in this analysis (claims for IPFs, IRFs, LTCHs, cancer and children's hospitals, and RNHCIs were dropped). Claims with total charges or total length of stay less than or equal to zero were dropped. Claims that had an amount in the total charge field that differed by more than $10.00 from the sum of the routine day charges, intensive care charges, pharmacy charges, special equipment charges, therapy services charges, operating room charges, cardiology charges, laboratory charges, radiology charges, and other service charges were also dropped. At least 96 percent of the providers in the MedPAR file had charges for 8 of the 10 cost centers. Claims for providers that did not have charges greater than zero for at least 8 of the 10 cost centers were dropped.

• Statistical outliers were eliminated by removing all cases that were beyond 3.0 standard deviations from the mean of the log distribution of both the charges per case and the charges per day for each DRG.

Once the MedPAR data were trimmed, the data were sorted by provider so that charges could be standardized under the HSRVcc methodology (discussed in section II.C.2. of this preamble). To do this, an average charge was computed for each provider for each of 10 proposed cost centers. The average charge was computed by summing the charges for each cost center and dividing by the transfer adjusted case count for each provider. A transfer case, identified by discharge code, DRG, and length of stay, was counted as a fraction of a case based on the ratio of its length of stay plus 1 day relative to the geometric mean length of stay for that DRG. That is, a transfer case with a length of stay of 2 days in a DRG with a geometric mean length of stay of 6 days would be counted as 3 (2 days plus 1 extra day) divided by 6 or 0.5 of a total case as this reflects current payment policy.

The 10 cost centers that we are proposing to use in the HSRV weight calculation are shown in the following table. In addition, the table shows the lines on the cost report that we are proposing to use to create the national cost center CCRs that will be discussed later in this section:

BILLING CODE 4120-01-C

After computing the average charge for each provider for each cost center, the cost center charges on each claim are divided by the provider's average charge for the matching cost center. For example, the routine day charges on the claim are divided by the average routine day charge for the provider, the intensive care unit charges on the claim are divided by the average intensive care unit charge for the provider, and so on. By using a hospital's relative charge structure, the resulting weights from this step do not reflect differences in charges among providers for factors such as location, size, wages, relative efficiency, average markup, IME, DSH and the variety of cases treated. Once these charges are adjusted by the average charge for the cost center, they are then multiplied by the provider's CMI.

This adjustment for CMI is needed to rescale the hospital-specific relative charge values which, by definition, will average to 1.0 for each cost center. Because the average relative weight for a provider is that provider's CMI, we believe CMI is a reasonable scale factor to use to further adjust the relative charges to reflect the complexity of cases treated by the provider. A starting CMI of one was assigned to each cost center for each provider.

After the relative charges (cost center claim charge divided by the average cost center charge for the provider) are multiplied by the hospital's matching cost center CMI, they are summed by DRG. The transfer adjusted case count for each DRG is also summed. Average charges by DRG are calculated for each cost center by taking the sum of the relative, CMI adjusted charges for that DRG and dividing by the transfer adjusted case count for that DRG.

A national average charge is calculated for each cost center by summing all relative CMI adjusted charges in the trimmed MedPAR data set and dividing by the total transfer-adjusted case count. The first set of DRG weights is created by dividing the average charge for each DRG for each cost center by the national average charge for that cost center. The result is a set of 10 weights for each DRG. These 10 weights are then assigned to each claim, a new CMI is created for each provider, the relative charges for each cost center on the claim (total charge for cost center is divided by the provider's average charge for that cost center) are multiplied by the new CMI and the weights are iterated until the national average CMI for each cost center stops changing between iterations. In preparing the proposed weights for this proposed rule, we used a straight CMI calculation where each case was given a full weight and counted as a full case regardless of transfer status.

Alternatively, we could use the method we applied in our study of the MedPAC recommendations (see section II.C. of this preamble) where we used a CMI that was computed by taking the sum of the transfer-adjusted weights and dividing by a full case count, where the transfer-adjusted weight is computed by multiplying the transfer-adjusted case count (length of stay for claim plus one day divided by geometric mean length of stay for the DRG) by the DRG weight. We are soliciting public comment on which CMI calculation would be the most appropriate to use in this weighting methodology.

After the iteration process is completed, we remove the effects of differential markups within cost centers. To do this, we are proposing to use national average departmental CCRs in conjunction with the total charges from the trimmed MedPAR file to create scaling factors for each cost center. The first step in this process is to develop national cost center CCRs.

Taking the FY 2003 cost report data, we removed CAHs, Maryland hospitals, Indian Health Service hospitals, all-inclusive rate hospitals, and cost reports that represented time periods of less than 1 year (365 days). We then created CCRs for each provider for each cost center (see prior table for line items used in the calculations) and removed any cost CCRs that were greater than 10 or less than .01. We then took the logs of all of the cost center CCRs and removed any cost center CCRs where the log of the cost center CCR was greater or less than the mean log plus/minus 1.96 times the standard deviation for the log of that cost center CCR. We are proposing to use 1.96 times the standard deviation as a trim factor because the logs of the cost center CCRs are normally distributed and 1.96 times the standard deviation represents the 95 percentile of the T-Distribution for large sample size, for which 2,000 to 3,000 hospitals should qualify. Once the cost report data was trimmed, we calculated the geometric mean CCR for each cost center.

We are proposing to use these geometric mean CCRs to create cost scaling factors to apply to the DRG weights. Once the national average CCRs are computed, they are multiplied by the total unadjusted charges for the matching group of cost centers in MedPAR. The resulting costs for each group of cost centers are then summed to derive a total cost for all cases across the Nation. The percentage that each cost center is contributing to the overall total costs is calculated by dividing the individual cost center cost by the total amount. For example, the total cost for routine days is divided by the total cost for all cases to arrive at 0.29, which indicates that routine costs are responsible for approximately 29 percent of total cost. We are proposing to use these percentages as scaling factors to apply to the relative weights. For each DRG, the cost center weights are multiplied by these scaling factors (that is, routine day weight is multiplied by the routine day scaling factor, intensive care unit weight is multiplied by the intensive care unit scaling factor, and so on). After the weights are adjusted by the scaling factor, they are summed by DRG to create one final weight for each DRG. Following that, they are normalized by a factor of 1.49216 so that the weights so that the average case weight after recalibration is equal to the average case weight before recalibration. This normalization adjustment was intended to ensure that recalibration by itself neither increases nor decreases total payments under the IPPS.

When we recalibrated the DRG weights for previous years, we set a threshold of 10 cases as the minimum number of cases required to compute a reasonable weight. We are proposing to use that same case threshold in recalibrating the DRG weights for FY 2007. Using the FY 2005 MedPAR data set, there are 40 DRGs that contain fewer than 10 cases. Because we believe that we do not have sufficient MedPAR data to set accurate and stable HSRVcc weights for these low-volume DRGs, we are proposing to assign them the weights of similar DRGs for which we have more complete data. The crosswalk we are proposing to use is shown below. We are soliciting comment on this crosswalk.

Low volume DRG | DRG title | Crosswalk to DRG
3 | Craniotomy Age 0-17 | 2 (Craniotomy Age >17 Without CC).
30 | Traumatic Stupor & Coma, Coma <1 HR Age 0-17 | 29 (Traumatic Stupor & Coma, Coma <1 HR Age >17 Without CC).
33 | Concussion Age 0-17 | 32 (Concussion Age >17 Without CC).
41 | Extraocular Procedures Except Orbit Age 0-17 | 40 (Extraocular Procedures Except Orbit Age >17).
48 | Other Disorders Of The Eye Age 0-17 | 47 (Other Disorders of The Eye Age >17 Without CC).
54 | Sinus and Mastoid Procedures Age 0-17 | 53 (Sinus and Mastoid Procedures Age >17).
58 | T&A Proc, Except Tonsillectomy &/or Adenoidectomy Only, Age 0-17 | 57 (T&A Proc, Except Tonsillectomy &/or Adenoidectomy Only, Age >17).
60 | Tonsillectomy and/or Adenoidectomy Only, Age 0-17 | 59 (Tonsillectomy and/or Adenoidectomy Only, Age >17).
62 | Myringotomy W Tube Insertion Age 0-17 | 61 (Myringotomy With Tube Insertion Age >17).
74 | Other Ear, Nose, Mouth & Throat Diagnoses Age 0-17 | 73 (Other Ear, Nose, Mouth & Throat Diagnoses Age >17).
81 | Respiratory Infections & Inflammations Age 0-17 | 79 (Respiratory Infections & Inflammations Age >17 With CC).
137 | Cardiac Congental & Valvular Disorders Age 0-17 | 135 (Cardiac Congental & Valvular Disorders Age >17 With CC).
156 | Stomach, Esophageal & Duodenal Procedures Age 0-17 | 155 (Stomach, Esophageal & Duodenal Procedures Age >17 Without CC).
163 | Hernia Procedures Age 0-17 | 162 (Inguinal & Femoral Hernia Procedures Age >17 Without CC).
186 | Dental & Oral Disease Except Extractions & Restorations Age 0-17 | 185 (Dental & Oral Disease Except Extractions & Restorations, Age >17).
220 | Lower Extrem & Humer Proc Except Hip, Foot, Femur Age 0-17 | 219 (Lower Extrem & Humer Proc Except Hip, Foot, Femur Age >17 Without CC).
252 | Fx, Sprn, Strn & Disl Of Foreman, Hand, Foot Age 0-17 | 251 (Fx, Sprn, Strn & Disl of Foreman, Hand, Foot Age >17 Without CC).
255 | Fx, Sprn, Strn & Disl Of Uparm, Lowleg Ex Foot Age 0-17 | 254 Fx, Sprn, Strn & Disl of Uparm, Lowleg Ex Foot Age >17 Without CC).
279 | Cellulitis Age 0-17 | 278 (Cellulitis Age >17 Without CC).
282 | Trauma To The Skin, Subcut Tiss & Breast Age 0-17 | 281 (Trauma To The Skin, Subcut Tiss & Breast Age >17 Without CC).
314 | Urethral Procedures, Age 0-17 | 313 (Urethral Procedures, Age >17 Without CC).
330 | Urethral Stricture Age 0-17 | 329 (Urethral Stricture Age >17 Without CC).
340 | Testes Procedures, Non-Malignancy Age 0-17 | 339 (Testes Procedures, Non-Malignancy Age >17).
343 | Circumcism Age 0-17 | 342 (Circumcism Age >17).
351 | Sterilization, Male | 352 (Other Male Reproductive System Diagnoses).
362 | Endoscopic Tubal Interruption | 361 (Laparoscopy & Incisional Tubal Interruption).
385 | Neonates, Died Or Transferred To Another Acute Care Facility | FY 2006 FR weight (adjusted by percent change in average weight of the cases in other DRGs).
386 | Extreme Immaturity Or Respiratory Distress Syndrome, Neonate | FY 2006 FR weight (adjusted by percent change in average weight of the cases in other DRGs).
387 | Prematurity With Major Problems | FY 2006 FR weight (adjusted by percent change in average weight of the cases in other DRGs).
388 | Prematurity Without Major Problems | FY 2006 FR weight (adjusted by percent change in average weight of the cases in other DRGs).
389 | Full Term Neonate With Major Problems | FY 2006 FR weight (adjusted by percent change in average weight of the cases in other DRGs).
390 | Neonate With Other Significant Problems | FY 2006 FR weight (adjusted by percent change in average weight of the cases in other DRGs).
391 | Normal Newborn | FY 2006 FR weight (adjusted by percent change in average weight of the cases in other DRGs).
393 | Splenectomy Age 0-17 | 392 (Splenectomy Age >17).
405 | Acute Leukemia Without Major O.R. Procedure Age 0-17 | 473 (Acute Leukemia Without Major O.R. Procedure Age >17).
411 | History Of Malignancy Without Endoscopy | 465 (Aftercare With History of Malignancy As Secondary Diagnosis).
412 | History Of Malignancy With Endoscopy | 465 (Aftercare With History of Malignancy As Secondary Diagnosis).
446 | Traumatic Injury Age 0-17 | 445 (Traumatic Injury Age >17 Without CC).
448 | Allergic Reactions Age 0-17 | 447 (Allergic Reactions Age >17).
451 | Poisoning and Toxic Effects Of Drugs Age 0-17 | 450 (Poisoning and Toxic Effects of Drugs Age >17 Without CC).

Section 1886(d)(4)(C)(iii) of the Act requires that, beginning with FY 1991, reclassification and recalibration changes be made in a manner that assures that the aggregate payments are neither greater than nor less than the aggregate payments that would have been made without the changes. Although normalization is intended to achieve this effect, equating the average case weight after recalibration to the average case weight before recalibration does not necessarily achieve budget neutrality with respect to aggregate payments to hospitals because payments to hospitals are affected by factors other than average case weight. Therefore, as we have done in past years, and as discussed in section II.A.4.a. of the Addendum to this proposed rule, we are making a budget neutrality adjustment to ensure that the requirement of section 1886(d)(4)(C)(iii) of the Act is met.

F. Proposed LTC-DRG Reclassifications and Relative Weights for LTCHs for FY 2007

(If you choose to comment on issues in this section, please include the caption “LTC-DRGs” at the beginning of your comment.)

1. Background

In the June 6, 2003 LTCH PPS final rule (68 FR 34122), we changed the LTCH PPS annual payment rate update cycle to be effective July 1 through June 30 instead of October 1 through September 30. In addition, because the patient classification system utilized under the LTCH PPS uses the same DRGs as those currently used under the IPPS for acute care hospitals, in that same final rule, we explained that the annual update of the long-term care diagnosis-related group (LTC-DRG) classifications and relative weights will continue to remain linked to the annual reclassification and recalibration of the DRGs used under the IPPS. In that same final rule, we specified that we will continue to update the LTC-DRG classifications and relative weights to be effective for discharges occurring on or after October 1 through September 30 each year. Furthermore, we stated that we will publish the annual update of the LTC-DRGs in the proposed and final rules for the IPPS.

In the past, the annual update to the IPPS DRGs has been based on the annual revisions to the ICD-9-CM codes and was effective each October 1. As discussed in the FY 2006 IPPS final rule (70 FR 47323 through 47341) and in the Rate Year (RY) 2007 LTCH PPS proposed rule (71 FR 4652 through 4658), with the implementation of section 503(a) of Pub. L. 108-173, there is the possibility that one feature of the GROUPER software program may be updated twice during a Federal fiscal year (October 1 and April 1) as required by the statute for the IPPS. Specifically, ICD-9-CM diagnosis and procedure codes for new medical technology may be created and added to existing DRGs in the middle of the Federal fiscal year on April 1. However, this policy change will have no effect on the LTC-DRG relative weights, which will continue to be updated only once a year (October 1), nor will there be any impact on Medicare payments under the LTCH PPS. The use of the ICD-9-CM code set is also compliant with the current requirements of the Transactions and Code Sets Standards regulations at 45 CFR Parts 160 and 162, promulgated in accordance with the Health Insurance Portability and Accountability Act of 1996 (HIPAA), Pub. L. 104-191.

As we explained in the RY 2007 LTCH PPS proposed rule (71 FR 4654 through 4658), in the health care industry, historically annual changes to the ICD-9-CM codes were effective for discharges occurring on or after October 1 each year. Thus, the manual and electronic versions of the GROUPER software, which are based on the ICD-9-CM codes, were also revised annually and effective for discharges occurring on or after October 1 each year. As noted above, the patient classification system used under the LTCH PPS (LTC-DRGs) is based on the patient classification system used under the IPPS (CMS DRGs), which historically had been updated annually and effective for discharges occurring on or after October 1 through September 30 each year. As also mentioned above, the ICD-9-CM coding update process was revised as a result of implementing section 503(a) of Pub. L. 108-173, which includes a requirement for updating ICD-9-CM codes as often as twice a year instead of the current process of annual updates on October 1 of each year (as discussed in greater detail in section II.D.10. of the preamble of this proposed rule). This requirement is included as part of the amendments to the Act relating to recognition of new medical technology under the IPPS. Section 503(a) of Pub. L. 108-173 amended section 1886(d)(5)(K) of the Act by adding a new clause (vii) which states that “the Secretary shall provide for the addition of new diagnosis and procedure codes in [sic] April 1 of each year, but the addition of such codes shall not require the Secretary to adjust the payment (or diagnosis-related group classification) * * * until the fiscal year that begins after such date.” This requirement improves the recognition of new technologies under the IPPS by accounting for those ICD-9-CM codes in the MedPAR claims data at an earlier date.

Despite the fact that aspects of the GROUPER software may be updated to recognize any new technology ICD-9-CM codes, as discussed most recently in the RY 2007 LTCH PPS proposed rule (71 FR 4654 through 4655), there will be no impact on either LTC-DRG assignments or payments under the LTCH PPS at that time. That is, changes to the LTC-DRGs (such as the creation or deletion of LTC-DRGs) and the relative weights will continue to be updated in the manner and timing (October 1) as they are now. As noted above and as described in the RY 2007 LTCH PPS proposed rule (71 FR 4655), updates to the GROUPER for both the IPPS and the LTCH PPS (with respect to relative weights and the creation or deletion of DRGs) are made in the annual IPPS proposed and final rules and are effective each October 1. We also explained that because we do not publish a midyear IPPS rule, any April 1 code updates will not be published in a midyear IPPS rule. Rather, we will assign any new diagnosis or procedure codes to the same DRG in which its predecessor code was assigned, so that there will be no impact on the DRG assignments (as also discussed in section II.D.10. of this preamble). Any coding updates will be available through the Web sites provided in section II.D.10. of this preamble and through the Coding Clinic for ICD-9-CM. Publishers and software vendors currently obtain code changes through these sources in order to update their code books and software system. If new codes are implemented on April 1, revised code books and software systems, including the GROUPER software program, will be necessary because we must use current ICD-9-CM codes. Therefore, for purposes of the LTCH PPS, because each ICD-9-CM code must be included in the GROUPER algorithm to classify each case into a LTC-DRG, the GROUPER software program used under the LTCH PPS would need to be revised to accommodate any new codes.

In implementing section 503(a) of Pub. L. 108-173, there will only be an April 1 update if new technology codes are requested and approved. We note that any new codes created for April 1 implementation will be limited to those diagnosis and procedure code revisions primarily needed to describe new technologies and medical services. However, we reiterate that the process of discussing updates to the ICD-9-CM has been an open process through the ICD-9-CM Coordination and Maintenance Committee since 1995. Requestors will be given the opportunity to present the merits for a new code and make a clear and convincing case for the need to update ICD-9-CM codes for purposes of the IPPS new technology add-on payment process through an April 1 update (as also discussed in section II.D.10. of this preamble).

However, as we discussed in the RY 2007 LTCH PPS proposed rule (71 FR 4655), at the September 29-30, 2005 ICD-9-CM Coordination and Maintenance Committee meeting, there were no requests for an April 1, 2006 implementation of ICD-9-CM codes, and, therefore, the next update to the ICD-9-CM coding system would not occur until October 1, 2006 (FY 2007). Presently, as there were no coding changes suggested for an April 1, 2006 update, the ICD-9-CM coding set implemented on October 1, 2005, will continue through September 30, 2006 (FY 2006). The proposed update to the ICD-9-CM coding system for FY 2007 is discussed above in section II.D.10. of this preamble. Accordingly, in this proposed rule, as discussed in greater detail below, we are proposing revisions to the LTC-DRG classifications and relative weights, and to the extent that they are finalized, we will publish them in the corresponding IPPS final rule, to be effective October 1, 2006 through September 30, 2007 (FY 2007). Furthermore, we would notify LTCHs of any revisions to the GROUPER software used under the IPPS and the LTCH PPS that would be implemented April 1, 2007. The proposed LTC-DRGs and relative weights for FY 2007 in this proposed rule are based on the proposed IPPS DRGs (GROUPER Version 24.0) discussed in section II.B. of the preamble to this proposed rule.

2. Proposed Changes in the LTC-DRG Classifications

a. Background

Section 123 of Pub. L. 106-113 specifically requires that the agency implement a PPS for LTCHs be a per discharge system with a DRG-based patient classification system reflecting the differences in patient resources and costs in LTCHs while maintaining budget neutrality. Section 307(b)(1) of Pub. L. 106-554 modified the requirements of section 123 of Pub. L. 106-113 by specifically requiring that the Secretary examine “the feasibility and the impact of basing payment under such a system [the LTCH PPS] on the use of existing (or refined) hospital diagnosis-related groups (DRGs) that have been modified to account for different resource use of long-term care hospital patients as well as the use of the most recently available hospital discharge data.”

In accordance with section 307(b)(1) of Pub. L. 106-554 and § 412.515 of our existing regulations, the LTCH PPS uses information from LTCH patient records to classify patient cases into distinct LTC-DRGs based on clinical characteristics and expected resource needs. The LTC-DRGs used as the patient classification component of the LTCH PPS correspond to the DRGs under the IPPS for acute care hospitals. Thus, in this proposed rule, we are proposing to use the IPPS GROUPER Version 24.0 for FY 2007 to process LTCH PPS claims for LTCH discharges occurring from October 1, 2006 through September 30, 2007. The proposed changes to the CMS-DRG classification system used under the IPPS for FY 2007 (GROUPER Version 24.0) are discussed in section II.D. of the preamble to this proposed rule.

We note that, as we discuss in section II.C.6. of the preamble to this proposed rule, MedPAC, in its 2005 Report to Congress on Physician-Owned Specialty Hospitals, recommended that CMS, among other things, refine the current DRGs under the IPPS to more fully capture differences in severity of illness among patients. As we also discuss in that same section, in evaluating the MedPAC recommendation for the IPPS, we are evaluating the APR DRG GROUPER used by MedPAC in its analysis. Based on this analysis, we concur with MedPAC that the modified version of the APR DRGs would account more completely for differences in severity of illness and associated costs among hospitals. Therefore, as discussed in greater detail in section II.C.6. of the preamble of this proposed rule, we are proposing to adopt the consolidated severity adjusted DRGs for implementation in the IPPS in FY 2008 (if not earlier). As discussed above in this section, the LTCH PPS uses the same patient classification system (DRGs). In response to MedPAC's recommendation that severity adjusted DRGs, such as the APR DRGs or a modified version of the APR DRGs, be adopted under the IPPS (as discussed in greater detail in section II.C. of this preamble), we are proposing to adopt consolidated severity-adjusted DRGs under the IPPS in FY 2008 (if not earlier). At that time, we would need to consider whether to propose revisions to the patient classification system under the LTCH PPS. Any proposed changes to the patient classification system would be done through notice and comment rulemaking.

Under the LTCH PPS, we determine relative weights for each of the DRGs to account for the difference in resource use by patients exhibiting the case complexity and multiple medical problems characteristic of LTCH patients. In a departure from the IPPS, as we discussed in the August 30, 2002 LTCH PPS final rule (67 FR 55985), which implemented the LTCH PPS, and the FY 2006 IPPS final rule (70 FR 47324), we use low-volume quintiles in determining the LTC-DRG relative weights for LTC-DRGs with less than 25 LTCH cases, because LTCHs do not typically treat the full range of diagnoses as do acute care hospitals. Specifically, we group those low-volume LTC-DRGs (that is, LTC-DRGs with fewer than 25 cases) into 5 quintiles based on average charge per discharge. (A listing of the composition of low-volume quintiles for the FY 2006 LTC-DRGs (based on FY 2004 MedPAR data) appears in section II.G.3. of the FY 2006 IPPS final rule (70 FR 47325 through 47332).) We also adjust for cases in which the stay at the LTCH is less than or equal to five-sixths of the geometric average length of stay; that is, short-stay outlier cases (§ 412.529), as discussed below in section II.F.4. of this preamble.

b. Patient Classifications Into DRGs

Generally, under the LTCH PPS, Medicare payment is made at a predetermined specific rate for each discharge; that is, payment varies by the LTC-DRG to which a beneficiary's stay is assigned. Just as cases are classified into DRGs for acute care hospitals under the IPPS (see section II.B. of this preamble), cases are classified into LTC-DRGs for payment under the LTCH PPS based on the principal diagnosis, up to eight additional diagnoses, and up to six procedures performed during the stay, as well as age, sex, and discharge status of the patient. The diagnosis and procedure information is reported by the hospital using the ICD-9-CM codes.

As discussed in section II.B. of this preamble, the CMS-DRGs are organized into 25 major diagnostic categories (MDCs), most of which are based on a particular organ system of the body; the remainder involve multiple organ systems (such as MDC 22, Burns). Accordingly, the principal diagnosis determines MDC assignment. Within most MDCs, cases are then divided into surgical DRGs and medical DRGs. Some surgical and medical DRGs are further differentiated based on the presence or absence of CCs. (See section II.B. of this preamble for further discussion of surgical DRGs and medical DRGs.)

Because the assignment of a case to a particular LTC-DRG will determine the amount that is paid for the case, it is important that the coding is accurate. As used under the IPPS, classifications and terminology used under the LTCH PPS are consistent with the ICD-9-CM and the Uniform Hospital Discharge Data Set (UHDDS), as recommended to the Secretary by the National Committee on Vital and Health Statistics (“Uniform Hospital Discharge Data: Minimum Data Set, National Center for Health Statistics, April 1980”) and as revised in 1984 by the Health Information Policy Council (HIPC) of the U.S. Department of Health and Human Services. We point out again that the ICD-9-CM coding terminology and the definitions of principal and other diagnoses of the UHDDS are consistent with the requirements of the Transactions and Code Sets Standards under HIPAA (45 CFR Parts 160 and 162).

The emphasis on the need for proper coding cannot be overstated. Inappropriate coding of cases can adversely affect the uniformity of cases in each LTC-DRG and produce inappropriate weighting factors at recalibration and result in inappropriate payments under the LTCH PPS. LTCHs are to follow the same coding guidelines used by acute care hospitals to ensure accuracy and consistency in coding practices. There will be only one LTC-DRG assigned per long-term care hospitalization; it will be assigned at the time of discharge of the patient. Therefore, it is mandatory that the coders continue to report the same principal diagnosis on all claims and include all diagnosis codes for conditions that coexist at the time of admission, for conditions that are subsequently developed, or for conditions that affect the treatment received. Similarly, all procedures performed in a LTCH, or paid for under arrangements by a LTCH, during that stay are to be reported on each claim.

Upon the discharge of the patient from a LTCH, the LTCH must assign appropriate diagnosis and procedure codes from the ICD-9-CM. Completed claim forms are to be submitted electronically to the LTCH's Medicare fiscal intermediary. Medicare fiscal intermediaries enter the clinical and demographic information into their claims processing systems and subject this information to a series of automated screening processes called the Medicare Code Editor (MCE). These screens are designed to identify cases that require further review before assignment into an LTC-DRG can be made.

After screening through the MCE, each LTCH claim will be classified into the appropriate LTC-DRG by the Medicare LTCH GROUPER. The LTCH GROUPER is specialized computer software and is the same GROUPER used under the IPPS. After the LTC-DRG is assigned, the Medicare fiscal intermediary determines the prospective payment by using the Medicare LTCH PPS PRICER program, which accounts for LTCH hospital-specific adjustments and payment rates. As provided for under the IPPS, we provide an opportunity for the LTCH to review the LTC-DRG assignments made by the fiscal intermediary and to submit additional information within a specified timeframe (§ 412.513(c)).

The LTCH GROUPER is used both to classify past cases in order to measure relative hospital resource consumption to establish the LTC-DRG weights and to classify current cases for purposes of determining payment. The records for all Medicare hospital inpatient discharges are maintained in the MedPAR file. The data in this file are used to evaluate possible DRG classification changes and to recalibrate the DRG weights during our annual update (as discussed in section II.E. of this preamble). The LTC-DRG relative weights are based on data for the population of LTCH discharges, reflecting the fact that LTCH patients represent a different patient-mix than patients in short-term acute care hospitals.

3. Development of the Proposed FY 2007 LTC-DRG Relative Weights

a. General Overview of Development of the LTC-DRG Relative Weights

As we stated in the August 30, 2002 LTCH PPS final rule (67 FR 55981), one of the primary goals for the implementation of the LTCH PPS is to pay each LTCH an appropriate amount for the efficient delivery of care to Medicare patients. The system must be able to account adequately for each LTCH's case-mix in order to ensure both fair distribution of Medicare payments and access to adequate care for those Medicare patients whose care is more costly. To accomplish these goals, we adjust the LTCH PPS standard Federal prospective payment system rate by the applicable LTC-DRG relative weight in determining payment to LTCHs for each case. Under the LTCH PPS, relative weights for each LTC-DRG are a primary element used to account for the variations in cost per discharge and resource utilization among the payment groups (§ 412.515). To ensure that Medicare patients classified to each LTC-DRG have access to an appropriate level of services and to encourage efficiency, we calculate a relative weight for each LTC-DRG that represents the resources needed by an average inpatient LTCH case in that LTC-DRG. For example, cases in an LTC-DRG with a relative weight of 2 will, on average, cost twice as much as cases in an LTC-DRG with a weight of 1.

b. Data

To calculate the proposed LTC-DRG relative weights for FY 2007 in this proposed rule, we obtained total Medicare allowable charges from FY 2005 Medicare LTCH bill data from the December 2005 update of the MedPAR file, which are the best available data at this time, and we used the proposed Version 24.0 of the CMS GROUPER used under the IPPS (as discussed in section II.B. of this preamble) to classify cases. To calculate the final LTC-DRG relative weights for FY 2007, we are proposing that, if more recent data are available (that is, data from the March 2006 update of the MedPAR file, for example), we would use that data and use the finalized Version 24.0 of the CMS GROUPER used under the IPPS.

As we discussed in the FY 2006 IPPS final rule (70 FR 47325), we have excluded the data from LTCHs that are all-inclusive rate providers and LTCHs that are reimbursed in accordance with demonstration projects authorized under section 402(a) of Pub. L. 90-248 (42 U.S.C. 1395b-1) or section 222(a) of Pub. L. 92-603 (42 U.S.C. 1395b-1). Therefore, in the development of the proposed FY 2007 LTC-DRG relative weights, we have excluded the data of the 19 all-inclusive rate providers and the 3 LTCHs that are paid in accordance with demonstration projects that had claims in the FY 2005 MedPAR file.

c. Hospital-Specific Relative Value Methodology

By nature, LTCHs often specialize in certain areas, such as ventilator-dependent patients and rehabilitation and wound care. Some case types (DRGs) may be treated, to a large extent, in hospitals that have, from a perspective of charges, relatively high (or low) charges. This nonarbitrary distribution of cases with relatively high (or low) charges in specific LTC-DRGs has the potential to inappropriately distort the measure of average charges. To account for the fact that cases may not be randomly distributed across LTCHs, we use a hospital-specific relative value method to calculate the LTC-DRG relative weights instead of the methodology used to determine the DRG relative weights under the IPPS described in section II.E. of this preamble. We believe this method will remove this hospital-specific source of bias in measuring LTCH average charges. Specifically, we reduce the impact of the variation in charges across providers on any particular LTC-DRG relative weight by converting each LTCH's charge for a case to a relative value based on that LTCH's average charge.

Under the hospital-specific relative value method, we standardize charges for each LTCH by converting its charges for each case to hospital-specific relative charge values and then adjusting those values for the LTCH's case-mix. The adjustment for case-mix is needed to rescale the hospital-specific relative charge values (which, by definition, averages 1.0 for each LTCH). The average relative weight for a LTCH is its case-mix, so it is reasonable to scale each LTCH's average relative charge value by its case-mix. In this way, each LTCH's relative charge value is adjusted by its case-mix to an average that reflects the complexity of the cases it treats relative to the complexity of the cases treated by all other LTCHs (the average case-mix of all LTCHs).

In accordance with the methodology established under § 412.523, as implemented in the August 30, 2002 LTCH PPS final rule (67 FR 55989 through 55991), we standardize charges for each case by first dividing the adjusted charge for the case (adjusted for short-stay outliers under § 412.529 as described in section II.F.4. (step 3) of this preamble) by the average adjusted charge for all cases at the LTCH in which the case was treated. Short-stay outliers under § 412.529 are cases with a length of stay that is less than or equal to five-sixths the average length of stay of the LTC-DRG. The average adjusted charge reflects the average intensity of the health care services delivered by a particular LTCH and the average cost level of that LTCH. The resulting ratio is multiplied by that LTCH's case-mix index to determine the standardized charge for the case.

Multiplying by the LTCH's case-mix index accounts for the fact that the same relative charges are given greater weight at a LTCH with higher average costs than they would at a LTCH with low average costs, which is needed to adjust each LTCH's relative charge value to reflect its case-mix relative to the average case-mix for all LTCHs. Because we standardize charges in this manner, we count charges for a Medicare patient at a LTCH with high average charges as less resource intensive than they would be at a LTCH with low average charges. For example, a $10,000 charge for a case at a LTCH with an average adjusted charge of $17,500 reflects a higher level of relative resource use than a $10,000 charge for a case at a LTCH with the same case-mix, but an average adjusted charge of $35,000. We believe that the adjusted charge of an individual case more accurately reflects actual resource use for an individual LTCH because the variation in charges due to systematic differences in the markup of charges among LTCHs is taken into account.

d. Proposed Low-Volume LTC-DRGs

In order to account for LTC-DRGs with low-volume (that is, with fewer than 25 LTCH cases), in accordance with the methodology established in the August 30, 2002 LTCH PPS final rule (67 FR 55984), we group those “low-volume LTC-DRGs” (that is, DRGs that contained between 1 and 24 cases annually) into one of five categories (quintiles) based on average charges, for the purposes of determining relative weights. For this FY 2007 IPPS proposed rule, we are proposing to continue to employ this treatment of low-volume LTC-DRGs in determining the FY 2007 LTC-DRG relative weights using the best available LTCH data. In this proposed rule, using LTCH cases from the December 2005 update of the FY 2005 MedPAR file, we identified 173 LTC-DRGs that contained between 1 and 24 cases. This list of LTC-DRGs was then divided into one of the 5 low-volume quintiles, each containing a minimum of 34 LTC-DRGs (173/5 = 34 with 3 LTC-DRGs as the remainder). In accordance with our established methodology, we are proposing to make an assignment to a specific low-volume quintile by sorting the low-volume LTC-DRGs in ascending order by average charge. For this proposed rule, this results in an assignment to a specific low-volume quintile of the sorted 173 low-volume LTC-DRGs by ascending order by average charge. Because the number of LTC-DRGs with less than 25 LTCH cases is not evenly divisible by five, the average charge of the low-volume LTC-DRG was used to determine which low-volume quintile received the additional LTC-DRG. After sorting the 173 low-volume LTC-DRGs in ascending order, we are proposing to group the first fifth of low-volume LTC-DRGs with the lowest average charge into Quintile 1. The highest average charge cases would be grouped into Quintile 5. Because the average charge of the 35th LTC-DRG in the sorted list is closer to the 34th proposed LTC-DRG's average charge (assigned to Quintile 1) than to the average charge of the proposed 36th LTC-DRG in the sorted list (to be assigned to Quintile 2), we are proposing to place it into Quintile 1. This process was repeated through the remaining proposed low-volume LTC-DRGs so that 3 proposed low-volume quintile contain 35 proposed LTC-DRGs and 2 proposed low-volume quintiles contain 34 proposed LTC-DRGs.

In order to determine the proposed relative weights for the proposed LTC-DRGs with low volume for FY 2007, in accordance with the methodology established in the August 30, 2002 LTCH PPS final rule (67 FR 55984), we are proposing to use the five low-volume quintiles described above. The composition of each of the proposed five low-volume quintiles shown in the chart below was used in determining the proposed LTC-DRG relative weights for FY 2007. We would determine a proposed relative weight and (geometric) average length of stay for each of the five proposed low-volume quintiles using the formula that we apply to the regular proposed LTC-DRGs (25 or more cases), as described below in section II.F.4. of this preamble. We are proposing to assign the same relative weight and average length of stay to each of the proposed LTC-DRGs that make up that proposed low-volume quintile. We note that, as this system is dynamic, it is possible that the number and specific type of LTC-DRGs with a low volume of LTCH cases will vary in the future. We use the best available claims data in the MedPAR file to identify low-volume LTC-DRGs and to calculate the relative weights based on our methodology.

BILLING CODE 4120-01-P

BILLING CODE 4120-01-C

We note that we will continue to monitor the volume (that is, the number of LTCH cases) in these low-volume quintiles to ensure that our proposed quintile assignment results in appropriate payment for such cases and does not result in an unintended financial incentive for LTCHs to inappropriately admit these types of cases.

4. Steps for Determining the Proposed FY 2007 LTC-DRG Relative Weights

As we noted previously, the proposed FY 2007 LTC-DRG relative weights are determined in accordance with the methodology established in the August 30, 2002 LTCH PPS final rule (67 FR 55989 through 55991). In summary, LTCH cases must be grouped in the appropriate LTD-DRG, while taking into account the proposed low-volume LTD-DRGs as described above, before the proposed FY 2007 LTD-DRG relative weights can be determined. After grouping the cases in the appropriate proposed LTD-DRG, we are proposing to calculate the relative weights for FY 2007 in this proposed rule by first removing statistical outliers and cases with a length of stay of 7 days or less, as discussed in greater detail below. Next, we are proposing to adjust the number of cases in each proposed LTD-DRG for the effect of short-stay outlier cases under § 412.529, as also discussed in greater detail below. The short-stay adjusted discharges and corresponding charges are used to calculate “relative adjusted weights” in each proposed LTD-DRG using the hospital-specific relative value method described above.

Below we discuss in detail the steps for calculating the proposed FY 2007 LTD-DRG relative weights. We note that, as we stated above in section II.F.3.b. of this preamble, we have excluded the data of all-inclusive rate LTCHs and LTCHs that are paid in accordance with demonstration projects that had claims in the FY 2005 MedPAR file.

Step 1—Remove statistical outliers.

The first step in the calculation of the proposed FY 2007 LTD-DRG relative weights is to remove statistical outlier cases. We define statistical outliers as cases that are outside of 3.0 standard deviations from the mean of the log distribution of both charges per case and the charges per day for each proposed LTD-DRG. These statistical outliers are removed prior to calculating the proposed relative weights. As noted above, we believe that they may represent aberrations in the data that distort the measure of average resource use. Including those LTCH cases in the calculation of the proposed relative weights could result in an inaccurate proposed relative weight that does not truly reflect relative resource use among the proposed LTD-DRGs.

Step 2—Remove cases with a length of stay of 7 days or less.

The proposed FY 2007 LTD-DRG relative weights reflect the average of resources used on representative cases of a specific type. Generally, cases with a length of stay 7 days or less do not belong in a LTCH because these stays do not fully receive or benefit from treatment that is typical in a LTCH stay, and full resources are often not used in the earlier stages of admission to a LTCH. As explained above, if we were to include stays of 7 days or less in the computation of the proposed FY 2007 LTD-DRG relative weights, the value of many proposed relative weights would decrease and, therefore, payments would decrease to a level that may no longer be appropriate.

We do not believe that it would be appropriate to compromise the integrity of the payment determination for those LTCH cases that actually benefit from and receive a full course of treatment at a LTCH, in order to include data from these very short-stays.

Thus, as explained above, in determining the proposed FY 2007 LTD-DRG relative weights, we remove LTCH cases with a length of stay of 7 days or less.

Step 3—Adjust charges for the effects of short-stay outliers.

After removing cases with a length of stay of 7 days or less, we are left with cases that have a length of stay of greater than or equal to 8 days. The next step in the calculation of the proposed FY 2007 LTD-DRG relative weights is to adjust each LTCH's charges per discharge for those remaining cases for the effects of short-stay outliers as defined in § 412.529(a). (However, we note that even if a case was removed in Step 2 (that is, cases with a length of stay of 7 days or less), it was paid as a short-stay outlier if its length of stay was less than or equal to five-sixths of the average length of stay of the LTD-DRG, in accordance with § 412.529.)

We make this adjustment by counting a short-stay outlier as a fraction of a discharge based on the ratio of the length of stay of the case to the average length of stay for the proposed LTD-DRG for nonshort-stay outlier cases. This has the effect of proportionately reducing the impact of the lower charges for the short-stay outlier cases in calculating the average charge for the proposed LTD-DRG. This process produces the same result as if the actual charges per discharge of a short-stay outlier case were adjusted to what they would have been had the patient's length of stay been equal to the average length of stay of the proposed LTD-DRG.

As we explained in the FY 2006 IPPS final rule (70 FR 47336), counting short-stay outlier cases as full discharges with no adjustment in determining the proposed LTC-DRG relative weights would lower the proposed LTC-DRG relative weight for affected proposed LTC-DRGs because the relatively lower charges of the short-stay outlier cases would bring down the average charge for all cases within a proposed LTC-DRG. This would result in an “underpayment” for nonshort-stay outlier cases and an “overpayment” for short-stay outlier cases. Therefore, in this proposed rule, we adjust for short-stay outlier cases under § 412.529 in this manner because it results in more appropriate payments for all LTCH cases.

Step 4—Calculate the proposed FY 2007 LTC-DRG relative weights on an iterative basis.

The process of calculating the proposed LTC-DRG relative weights using the hospital-specific relative value methodology is iterative. First, for each LTCH case, we calculate a hospital-specific relative charge value by dividing the short-stay outlier adjusted charge per discharge (see step 3) of the LTCH case (after removing the statistical outliers (see step 1)) and LTCH cases with a length of stay of 7 days or less (see step 2) by the average charge per discharge for the LTCH in which the case occurred. The resulting ratio is then multiplied by the LTCH's case-mix index to produce an adjusted hospital-specific relative charge value for the case. An initial case-mix index value of 1.0 is used for each LTCH.

For each proposed LTC-DRG, the proposed FY 2007 LTC-DRG relative weight is calculated by dividing the average of the adjusted hospital-specific relative charge values (from above) for the proposed LTC-DRG by the overall average hospital-specific relative charge value across all cases for all LTCHs. Using these recalculated proposed LTC-DRG relative weights, each LTCH's average relative weight for all of its cases (case-mix) is calculated by dividing the sum of all the LTCH's proposed LTC-DRG relative weights by its total number of cases. The LTCHs' hospital-specific relative charge values above are multiplied by these hospital-specific case-mix indexes. These hospital-specific case-mix adjusted relative charge values are then used to calculate a new set of proposed LTC-DRG relative weights across all LTCHs. In this proposed rule, this iterative process is continued until there is convergence between the weights produced at adjacent steps, for example, when the maximum difference is less than 0.0001.

Step 5—Adjust the proposed FY 2007 LTC-DRG relative weights to account for nonmonotonically increasing relative weights.

As explained in section II.B. of this preamble, the proposed FY 2007 CMS DRGs, on which the proposed FY 2007 LTC-DRGs are based, contain “pairs” that are differentiated based on the presence or absence of CCs. The proposed LTC-DRGs with CCs are defined by certain secondary diagnoses not related to or inherently a part of the disease process identified by the principal diagnosis, but the presence of additional diagnoses does not automatically generate a CC. As we discussed in the FY 2006 IPPS final rule (70 FR 47336), the value of monotonically increasing relative weights rises as the resource use increases (for example, from uncomplicated to more complicated). The presence of CCs in a proposed LTC-DRG means that cases classified into a “without CC” proposed LTC-DRG are expected to have lower resource use (and lower costs). In other words, resource use (and costs) are expected to decrease across “with CC/without CC” pairs of proposed LTC-DRGs.

For a case to be assigned to a proposed LTC-DRG with CCs, more coded information is called for (that is, at least one relevant secondary diagnosis), than for a case to be assigned to a proposed LTC-DRG “without CCs” (which is based on only one principal diagnosis and no relevant secondary diagnoses). Currently, the LTCH claims data include both accurately coded cases without complications and cases that have complications (and cost more), but were not coded completely. Both types of cases are grouped to a proposed LTC-DRG “without CCs” when only the principal diagnosis was coded. Since the LTCH PPS was only implemented for cost reporting periods beginning on or after October 1, 2002 (FY 2003), and LTCHs were previously paid under cost-based reimbursement, which is not based on patient diagnoses, coding by LTCHs for these cases may not have been as detailed as possible.

Thus, in developing the FY 2003 LTC-DRG relative weights for the LTCH PPS based on FY 2001 claims data, as we discussed in the August 30, 2002 LTCH PPS final rule (67 FR 55990), we found on occasion that the data suggested that cases classified to the LTC-DRG “with CCs” of a “with CC”/“without CC” pair had a lower average charge than the corresponding LTC-DRG “without CCs.” Similarly, as discussed in the FY 2006 IPPS final rule (70 FR 47336 through 47337), based on FY 2004 claims data, we also found on occasion that the data suggested that cases classified to the LTC-DRG “with CCs” of a “with CC”/“without CC” pair have a lower average charge than the corresponding LTC-DRG “without CCs” for the FY 2006 LTC-DRG relative weights.

We believe this anomaly may be due to coding that may not have fully reflected all comorbidities that were present. Specifically, LTCHs may have failed to code relevant secondary diagnoses, which resulted in cases that actually had CCs being classified into a “without CC” LTC-DRG. It would not be appropriate to pay a lower amount for the “with CC” LTC-DRG because, in general, cases classified into a “with CC” LTC-DRG are expected to have higher resource use (and higher cost) as discussed above. Therefore, previously when we determined the LTC-DRG relative weights in accordance with the methodology established in the August 30, 2002 LTCH PPS final rule (67 FR 55990), we grouped both the cases “with CCs” and “without CCs” together for the purpose of calculating the LTC-DRG relative weights since the implementation of the LTCH PPS in FY 2003. As we stated in that same final rule, we will continue to employ this methodology to account for nonmonotonically increasing relative weights until we have adequate data to calculate appropriate separate weights for these anomalous LTC-DRG pairs. We expect that, as was the case when we first implemented the IPPS, this problem will be self-correcting, as LTCHs submit more completely coded data in the future.

There are three types of “with CC” and “without CC” pairs that could be nonmonotonic; that is, where the “without CC” LTC-DRG would have a higher average charge than the “with CC” proposed LTC-DRG. For this proposed rule, using the LTCH cases in the December 2005 update of the FY 2005 MedPAR file (the most recent and complete data available at this time), we identified one of the three types of nonmonotonic LTC-DRG pairs. As we stated in the August 30, 2002 LTCH PPS final rule (67 FR 55990), we believe this anomaly may be due to coding inaccuracies and expect that, as was the case when we first implemented the acute care hospital IPPS, this problem will be self-correcting, as LTCHs submit more completely coded data in the future.

The first category of nonmonotonically increasing relative weights for LTC-DRG pairs “with and without CCs” contains one pair of LTC-DRGs in which both the proposed LTC-DRG “with CCs” and the proposed LTC-DRG “without CCs” had 25 or more LTCH cases and, therefore, did not fall into one of the 5 low-volume quintiles. For those nonmonotonic LTC-DRG pairs, based on our established methodology (67 FR 55983 through 55990), we would combine the LTCH cases and compute a new relative weight based on the case-weighted average of the combined LTCH cases of the LTC-DRGs. The case-weighted average charge is determined by dividing the total charges for all LTCH cases by the total number of LTCH cases for the combined LTC-DRG. This new relative weight would then be assigned to both of the LTC-DRGs in the pair. In this proposed rule, for FY 2007, there were no LTC-DRGs that fell into this category.

The second category of nonmonotonically increasing relative weights for LTC-DRG pairs “with and without CCs” consists of one pair of LTC-DRGs that has fewer than 25 cases, and each LTC-DRG would be grouped to different low-volume quintiles in which the “without CC” LTC-DRG is in a higher-weighted low-volume quintile than the “with CC” LTC-DRG. For those pairs, based on our established methodology, we would combine the LTCH cases and determine the case-weighted average charge for all LTCH cases. The case-weighted average charge is determined by dividing the total charges for all LTCH cases by the total number of LTCH cases for the combined proposed LTC-DRG. Based on the case-weighted average LTCH charge, we determine within which low-volume quintile the “combined LTC-DRG” is grouped. Both LTC-DRGs in the pair are then grouped into the same low-volume quintile, thus have the same relative weight. In this proposed rule, for FY 2007, there are no LTC-DRGs that fell into this category.

The third category of nonmonotonically increasing proposed relative weights for proposed LTC-DRG pairs “with and without CCs” consists of one pair of proposed LTC-DRGs where one of the proposed LTC-DRGs has fewer than 25 LTCH cases and is grouped to a low-volume quintile and the other proposed LTC-DRG has 25 or more LTCH cases and has its own proposed LTC-DRG relative weight, and the proposed LTC-DRG “without CCs” has the proposed higher relative weight. Based on our established methodology, we removed the proposed low-volume LTC-DRG from the proposed low-volume quintile and combined it with the other proposed LTC-DRG for the computation of a proposed new relative weight for each of these proposed LTC-DRGs. This proposed new relative weight is assigned to both proposed LTC-DRGs, so they each have the same proposed relative weight. In this proposed rule, for FY 2007, 4 “pairs” of proposed LTC-DRGs fall into this category: LTC-DRGs 94 and 95; LTC-DRGs 96 and 97; LTC-DRGs 141 and 142; and LTC-DRGs 292 and 293.

Step 6—Determine a proposed FY 2007 LTC-DRG relative weight for proposed LTC-DRGs with no LTCH cases.

As we stated above, we determine the proposed relative weight for each proposed LTC-DRG using charges reported in the December 2005 update of the FY 2005 MedPAR file. Of the 526 proposed LTC-DRGs for FY 2007, we identified 191 proposed LTC-DRGs for which there were no LTCH cases in the database. That is, based on data from the FY 2005 MedPAR file used in this proposed rule, no patients who would have been classified to those proposed LTC-DRGs were treated in LTCHs during FY 2005 and, therefore, no charge data were reported for those proposed LTC-DRGs. Thus, in the process of determining the proposed LTC-DRG relative weights, we are unable to determine weights for these 191 proposed LTC-DRGs using the methodology described in Steps 1 through 5 above. However, because patients with a number of the diagnoses under these proposed LTC-DRGs may be treated at LTCHs beginning in FY 2007, we are proposing to assign proposed relative weights to each of the 191 proposed “no volume” LTC-DRGs based on clinical similarity and relative costliness to one of the remaining 335 (526−191 = 335) proposed LTC-DRGs for which we are able to determine proposed relative weights, based on FY 2005 LTCH claims data.

As there are currently no LTCH cases in these proposed “no volume” LTC-DRGs, we determined proposed relative weights for the 191 proposed LTC-DRGs with no LTCH cases in the FY 2005 MedPAR file used in this proposed rule by grouping them to the appropriate proposed low-volume quintile. This methodology is consistent with our methodology used in determining proposed relative weights to account for the proposed low-volume LTC-DRGs described above.

Our methodology for determining the proposed relative weights for the proposed “no volume” LTC-DRGs is as follows: We crosswalk the proposed no volume LTC-DRGs by matching them to other similar proposed LTC-DRGs for which there were LTCH cases in the FY 2005 MedPAR file based on clinical similarity and intensity of use of resources as determined by care provided during the period of time surrounding surgery, surgical approach (if applicable), length of time of surgical procedure, post-operative care, and length of stay. We assign the proposed relative weight for the applicable proposed low-volume quintile to the proposed no volume LTC-DRG if the proposed LTC-DRG to which it is crosswalked is grouped to one of the proposed low-volume quintiles. If the proposed LTC-DRG to which the proposed no volume LTC-DRG is crosswalked is not one of the proposed LTC-DRGs to be grouped to one of the proposed low-volume quintiles, we compare the proposed relative weight of the proposed LTC-DRG to which the proposed no volume LTC-DRG is crosswalked to the proposed relative weights of each of the proposed five quintiles and we assign the proposed no volume LTC-DRG the relative weight of the proposed low-volume quintile with the closest weight. For this proposed rule, a list of the proposed no volume FY 2007 LTC-DRGs and the proposed FY 2007 LTC-DRG to which it is crosswalked in order to determine the appropriate proposed low-volume quintile for the assignment of a proposed relative weight for FY 2007 is shown in the chart below.

BILLING CODE 4120-01-P

BILLING CODE 4120-01-C

To illustrate this methodology for determining the proposed relative weights for the proposed 191 LTC-DRGs with no LTCH cases, we are providing the following examples, which refer to the proposed no volume LTC-DRGs crosswalk information for FY 2007 provided in the chart above.

Example 1: There were no cases in the FY 2005 MedPAR file used for this proposed rule for proposed LTC-DRG 3 (Craniotomy Age 0-17). Since the procedure is similar in resource use and the length and complexity of the procedures and the length of stay are similar, we determined that proposed LTC-DRG 1 (Craniotomy Age >17 with CC), which is assigned to proposed low-volume Quintile 1 for the purpose of determining the proposed FY 2007 relative weights, would display similar clinical and resource use. Therefore, we assign the same proposed relative weight of proposed LTC-DRG 1 of 1.6479 (Quintile 5) for FY 2007 (Table 11 in the Addendum to this proposed rule) to LTC-DRG 3.

Example 2: There were no LTCH cases in the FY 2005 MedPAR file used in this proposed rule for LTC-DRG 91 (Simple Pneumonia and Pleurisy Age 0-17). Since the severity of illness in patients with bronchitis and asthma is similar in patients regardless of age, we determined that proposed LTC-DRG 90 (Simple Pneumonia and Pleurisy Age >17 Without CC) would display similar clinical and resource use characteristics and have a similar length of stay to proposed LTC-DRG 91. There were over 25 cases in proposed LTC-DRG 90. Therefore, it would not be assigned to a proposed low-volume quintile for the purpose of determining the proposed LTC-DRG relative weights. However, under our established methodology, proposed LTC-DRG 91, with no LTCH cases, would need to be grouped to a proposed low-volume quintile. We determined that the proposed low-volume quintile with the closest weight to proposed LTC-DRG 90 (0.4981) (refer to Table 11 in the Addendum to this proposed rule) would be proposed low-volume Quintile 2 (0.5655) (refer to Table 11 in the Addendum to this proposed rule). Therefore, we assign proposed LTC-DRG 91 a proposed relative weight of 0.5655 for FY 2007. We note that we will continue to monitor the volume (that is, the number of LTCH cases) that have few or no LTCH cases to ensure that our proposed no volume LTC-DRG crosswalking and relative weight assignment results in appropriate payments for such cases and does not result in an unintended financial incentive for LTCHs to inappropriately admit these types of cases.

Furthermore, we are proposing to establish proposed LTC-DRG relative weights of 0.0000 for heart, kidney, liver, lung, pancreas, and simultaneous pancreas/kidney transplants (LTC-DRGs 103, 302, 480, 495, 512, and 513, respectively) for FY 2007 because Medicare will only cover these procedures if they are performed at a hospital that has been certified for the specific procedures by Medicare and presently no LTCH has been so certified. Based on our research, we found that most LTCHs only perform minor surgeries, such as minor small and large bowel procedures, to the extent any surgeries are performed at all. Given the extensive criteria that must be met to become certified as a transplant center for Medicare, we believe it is unlikely that any LTCHs would become certified as a transplant center. In fact, in the nearly 20 years since the implementation of the IPPS, there has never been a LTCH that even expressed an interest in becoming a transplant center.

However, if in the future a LTCH applies for certification as a Medicare-approved transplant center, we believe that the application and approval procedure would allow sufficient time for us to determine appropriate weights for the LTC-DRGs affected. At the present time, we would only include these six transplant LTC-DRGs in the GROUPER program for administrative purposes. Because we use the same GROUPER program for LTCHs as is used under the IPPS, removing these LTC-DRGs would be administratively burdensome.

Again, we note that as this system is dynamic, it is entirely possible that the number of proposed LTC-DRGs with a zero volume of LTCH cases based on the system will vary in the future. We used the best most recent available claims data in the MedPAR file to identify zero volume LTC-DRGs and to determine the proposed relative weights in this proposed rule.

Table 11 in the Addendum to this proposed rule lists the proposed LTC-DRGs and their respective proposed relative weights, geometric mean length of stay, and five-sixths of the geometric mean length of stay (to assist in the determination of short-stay outlier payments under § 412.529) for FY 2007.

We also wish to point out that in section VI.A.5. of the preamble of this proposed rule, we discuss our proposal to revise the regulations for grandfathered HwHs, grandfathered hospital satellite facilities, and grandfathered satellite units at §§ 412.22(f), 412.22(h)(3); and 412.25(e)(3), respectively. In addition, in section VI.A.6. of the preamble of this proposed rule, we discuss our proposal to revise and clarify the existing policies governing the determination of LTCHs' CCRs and the reconciliation of high-cost and short-stay outlier payments under the LTCH PPS. (We note that these proposed changes concerning the determination of LTCHs' CCRs and the reconciliation of LTCH PPS high-cost and short-stay outlier payments are the same as the changes proposed in the RY 2007 LTCH PPS proposed rule (71 FR 674 through 4676 and 4690 through 4692). As discussed in greater detail in that section, in response to comments and requests, in this IPPS proposed rule, we are presenting the same proposed changes to the policies governing the determination of LTCHs' CCRs and the reconciliation of high-cost and short-stay outlier payments, and providing additional information on the values of the proposed LTCH CCR ceiling and the proposed statewide average LTCH CCRs that would be effective October 1, 2006, rather than responding to comments or finalizing any policy changes in the RY 2007 LTCH PPS final rule.)

G. Proposed Add-On Payments for New Services and Technologies

(If you choose to comment on issues in this section, please include the caption “New Technology” at the beginning of your comment.)

1. Background

Sections 1886(d)(5)(K) and (L) of the Act establish a process of identifying and ensuring adequate payment for new medical services and technologies (sometimes collectively referred to in this section as “new technologies”) under the IPPS. Section 1886(d)(5)(K)(vi) of the Act specifies that a medical service or technology will be considered new if it meets criteria established by the Secretary after notice and opportunity for public comment. Section 1886(d)(5)(K)(ii)(I) of the Act specifies that the process must apply to a new medical service or technology if, “based on the estimated costs incurred with respect to discharges involving such service or technology, the DRG prospective payment rate otherwise applicable to such discharges under this subsection is inadequate.”

The regulations implementing this provision establish three criteria for new medical services and technologies to receive an additional payment. First, § 412.87(b)(2) defines when a specific medical service or technology will be considered new for purposes of new medical service or technology add-on payments. The statutory provision contemplated the special payment treatment for new medical services or technologies until such time as data are available to reflect the cost of the technology in the DRG weights through recalibration. There is a lag of 2 to 3 years from the point a new medical service or technology is first introduced on the market and when data reflecting the use of the medical service or technology are used to calculate the DRG weights. For example, data from discharges occurring during FY 2005 are used to calculate the proposed FY 2007 DRG weights in this proposed rule. Section 412.87(b)(2) provides that a “medical service or technology may be considered new within 2 or 3 years after the point at which data begin to become available reflecting the ICD-9-CM code assigned to the new medical service or technology (depending on when a new code is assigned and data on the new medical service or technology become available for DRG recalibration). After CMS has recalibrated the DRGs, based on available data, to reflect the costs of an otherwise new medical service or technology, the medical service or technology will no longer be considered ‘new’ under the criterion for this section.”

The 2-year to 3-year period during which a medical service or technology can be considered new would ordinarily begin with FDA approval, unless there was some documented delay in bringing the product onto the market after that approval (for instance, component production or drug production had been postponed until FDA approval due to shelf life concerns or manufacturing issues). After the DRGs have been recalibrated to reflect the costs of an otherwise new medical service or technology, the special add-on payment for new medical services or technology ceases (§ 412.87(b)(2)).

For example, an approved new technology that received FDA approval in October 2005 and entered the market at that time may be eligible to receive add-on payments as a new technology until FY 2008 (discharges occurring before October 1, 2007), when data reflecting the costs of the technology would be used to recalibrate the DRG weights. Because the FY 2008 DRG weights will be calculated using FY 2006 MedPAR data, the costs of such a new technology would likely be reflected in the FY 2008 DRG weights.

Section 412.87(b)(3) further provides that, to receive special payment treatment, new medical services or technologies must be inadequately paid otherwise under the DRG system. To assess whether technologies would be inadequately paid under the DRGs, we establish thresholds to evaluate applicants for new technology add-on payments. In the FY 2004 IPPS final rule (68 FR 45385, August 1, 2003), we established the threshold at the geometric mean standardized charge for all cases in the DRG plus 75 percent of 1 standard deviation above the geometric mean standardized charge (based on the logarithmic values of the charges and transformed back to charges) for all cases in the DRG to which the new medical service or technology is assigned (or the case-weighted average of all relevant DRGs, if the new medical service or technology occurs in many different DRGs). Table 10 in the Addendum to the FY 2004 IPPS final rule (68 FR 45648) listed the qualifying threshold by DRG, based on the discharge data that we used to calculate the FY 2004 DRG weights.

However, section 503(b)(1) of Pub. L. 108-173 amended section 1886(d)(5)(K)(ii)(I) of the Act to provide for “applying a threshold * * * that is the lesser of 75 percent of the standardized amount (increased to reflect the difference between cost and charges) or 75 percent of 1 standard deviation for the diagnosis-related group involved.” The provisions of section 503(b)(1) apply to classification for fiscal years beginning with FY 2005. We updated Table 10 from the Federal Register document that corrected the FY 2004 final rule (68 FR 57753, October 6, 2003), which contained the thresholds that we used to evaluate applications for new service or technology add-on payments for FY 2005, using the section 503(b)(1) measures stated above, and posted these new thresholds on our Web site at: http://www.cms.hhs.gov/AcuteInpatientPPS/08_newtech.asp. In the FY 2005 IPPS final rule (in Table 10 of the Addendum), we included the final thresholds that were being used to evaluate applicants for new technology add-on payments for FY 2006. (Refer to section IV.D. of the preamble to the FY 2005 IPPS final rule (69 FR 49084, August 11, 2004) for a discussion of a revision of the regulations to incorporate the change made by section 503(b)(1) of Pub. L. 108-173.) Table 10 of the Addendum to the FY 2006 final rule (70 FR 47680) contained the final thresholds that are being used to evaluate applications for new technology add-on payments for FY 2007.

Section 412.87(b)(1) of our existing regulations provides that a new technology is an appropriate candidate for an additional payment when it represents “an advance that substantially improves, relative to technologies previously available, the diagnosis or treatment of Medicare beneficiaries.” For example, a new technology represents a substantial clinical improvement when it reduces mortality, decreases the number of hospitalizations or physician visits, or reduces recovery time compared to the technologies previously available. (Refer to the September 7, 2001 final rule (66 FR 46902) for a complete discussion of this criterion.)

The new medical service or technology add-on payment policy provides additional payments for cases with high costs involving eligible new medical services or technologies while preserving some of the incentives under the average-based payment system. The payment mechanism is based on the cost to hospitals for the new medical service or technology. Under § 412.88, Medicare pays a marginal cost factor of 50 percent for the costs of a new medical service or technology in excess of the full DRG payment. If the actual costs of a new medical service or technology case exceed the DRG payment by more than the 50-percent marginal cost factor of the newmedical service or technology, Medicare payment is limited to the DRG payment plus 50 percent of the estimated costs of the new technology.

The report language accompanying section 533 of Pub. L. 106-554 indicated Congressional intent that the Secretary implement the new mechanism on a budget neutral basis (H.R. Conf. Rep. No. 106-1033, 106th Cong., 2nd Sess. at 897 (2000)). Section 1886(d)(4)(C)(iii) of the Act requires that the adjustments to annual DRG classifications and relative weights must be made in a manner that ensures that aggregate payments to hospitals are not affected. Therefore, in the past, we accounted for projected payments under the new medical service and technology provision during the upcoming fiscal year at the same time we estimated the payment effect of changes to the DRG classifications and recalibration. The impact of additional payments under this provision was then included in the budget neutrality factor, which was applied to the standardized amounts and the hospital-specific amounts.

Section 1886(d)(5)(K)(ii)(III) of the Act, as amended by section 503(d)(2) of Pub. L. 108-173, provides that there shall be no reduction or adjustment in aggregate payments under the IPPS due to add-on payments for new medical services and technologies. Therefore, add-on payments for new medical services or technologies for FY 2005 and later years are not budget neutral.

Applicants for add-on payments for new medical services or technologies for FY 2008 must submit a formal request, including a full description of the clinical applications of the medical service or technology and the results of any clinical evaluations demonstrating that the new medical service or technology represents a substantial clinical improvement, along with a significant sample of data to demonstrate the medical service or technology meets the high-cost threshold, no later than October 15, 2006. Applicants must submit a complete database no later than December 30, 2006. Complete application information, along with final deadlines for submitting a full application, will be available at our Web site: http://www.cms.hhs.gov/AcuteInpatientPPS/08_newtech.asp. To allow interested parties to identify the new medical services or technologies under review before the publication of the proposed rule for FY 2008, the Web site will also list the tracking forms completed by each applicant.

2. Public Input Before Publication of This Notice of Proposed Rulemaking on Add-On Payments

Section 1886(d)(5)(K)(viii) of the Act, as amended by section 503(b)(2) of Pub. L. 108-173, provides for a mechanism for public input before publication of a notice of proposed rulemaking regarding whether a medical service or technology represents a substantial clinical improvement or advancement. The process for evaluating new medical service and technology applications requires the Secretary to—

• Provide, before publication of a proposed rule, for public input regarding whether a new service or technology represents an advance in medical technology that substantially improves the diagnosis or treatment of Medicare beneficiaries.

• Make public and periodically update a list of the services and technologies for which applications for add-on payments are pending.

• Accept comments, recommendations, and data from the public regarding whether a service or technology represents a substantial clinical improvement.

• Provide, before publication of a proposed rule, for a meeting at which organizations representing hospitals, physicians, manufacturers, and any other interested party may present comments, recommendations, and data regarding whether a new service or technology represents a substantial clinical improvement to the clinical staff of CMS.

In order to provide an opportunity for public input regarding add-on payments for new medical services and technologies for FY 2007 before publication of this FY 2007 IPPS proposed rule, we published a notice in the Federal Register on December 23, 2005 (70 FR 76315) and held a town hall meeting at the CMS Headquarters Office in Baltimore, MD, on February 16, 2006. In the announcement notice for the meeting, we stated that the opinions and alternatives provided during the meeting would assist us in our evaluations of applications by allowing public discussions of the substantial clinical improvement criterion for each of the FY 2007 new medical service and technology add-on payment applications before the publication of this FY 2007 IPPS proposed rule.

Approximately 35 participants registered and attended the town hall meeting in person, while additional participants listened over an open telephone line. The participants focused on presenting data on the substantial clinical improvement aspect of their products, as well as the need for additional payments to ensure access to Medicare beneficiaries. In addition, we received written comments regarding the substantial clinical improvement criterion for the applicants. We considered these comments in our evaluation of each new application for FY 2007 in this proposed rule. We have summarized these comments or, if applicable, indicated that no comments were received, at the end of the discussion of the individual applications. We received two general comments about application of the newness and substantial clinical improvement criteria.

Comment: AdvaMed encouraged CMS to amend the definition of substantial clinical improvement for the IPPS new technology provision to conform with the outpatient definition of substantial clinical improvement used in 2001. Specifically, AdvaMed requests that after “decreased pain, bleeding, or other quantifiable symptom,” CMS should insert, the following language: “such as convenience, durability, ease of operation or make other improvements in quality of life.”

Response: We believe we addressed this concern in the FY 2006 IPPS final rule (70 FR 47360). We use similar standards to evaluate substantial clinical improvement in the IPPS and OPPS and, in both systems, we employ identical language to explain and elaborate on the kinds of considerations that are taken into account in determining whether a new technology represents a substantial clinical improvement. We do not believe a change to the regulations text is necessary.

Comment: AdvaMed commented that CMS should not use “substantial similarity” to evaluate newness without also determining whether the product is a substantial clinical improvement. AdvaMed argues that CMS is applying a concept that is not defined in regulations. If CMS applies the concept as part of determining whether a product is new without evaluating substantial clinical improvement, AdvaMed commented that we should define substantial similarity through notice and comment rulemaking.

Response: We addressed this comment in the FY 2006 IPPS final rule (70 FR 47350 through 47351). We refer readers to that final rule for a detailed response to this comment.

Section 1886(d)(5)(K)(ix) of the Act, as added by section 503(c) of Pub. L. 108-173, requires that, before establishing any add-on payment for a new medical service or technology, the Secretary shall seek to identify one or more DRGs associated with the new technology, based on similar clinical or anatomical characteristics and the costs of the technology and assign the new technology into a DRG where the average costs of care most closely approximate the costs of care using the new technology. No add-on payment shall be made if the new technology is assigned to a DRG that most closely approximates its costs.

At the time an application for new technology add-on payments is submitted, the DRGs associated with the new technology are identified. We only determine that a new DRG assignment is necessary or a new technology add-on payment is appropriate when the payment under these currently assigned DRGs is not adequate and the technology otherwise meets the newness, cost, and substantial clinical improvement criteria.

In this proposed rule, we evaluate whether new technology add-on payments will continue in FY 2007 for the three technologies that currently receive such payments. In addition, we present our evaluations of three applications for add-on payments in FY 2007.

3. FY 2007 Status of Technologies Approved for FY 2006 Add-On Payments

a. Kinetra® Implantable Neurostimulator for Deep Brain Stimulation

Medtronic, Inc. submitted an application for approval of the Kinetra® implantable neurostimulator device for new technology add-on payments for FY 2005. In the IPPS final rule for FY 2005 (69 FR 49019, August 11, 2004), we approved Kinetra® for new technology add-on payments.

As noted above, the period for which technologies are eligible to receive new technology add-on payments is 2 to 3 years after the product becomes available on the market and data reflecting the cost of the technology are reflected in the DRG weights. This technology received FDA approval on December 16, 2003. Therefore, the technology will be beyond the 2- to 3-year period during which it can be considered new during FY 2007. Therefore, we are proposing to discontinue add-on payments for the Kinetra® rechargeable, implantable neurostimulator device for FY 2007.

The manufacturer has submitted a request that we consider a higher paying DRG assignment for dual array neurostimulator pulse generator cases. We have taken this request into consideration and have reviewed the FY 2005 Medicare charge data for cases that use implantable neurostimulator for deep brain stimulation. Our findings and a full discussion of this issue can be found in Section II.D.2.a. of the preamble of this proposed rule.

b. Endovascular Graft Repair of the Thoracic Aorta

W. L. Gore & Associates, Inc. submitted an application for consideration of its Endovascular Graft Repair of the Thoracic Aorta (GORE TAG) for new technology add-on payments for FY 2006. The manufacturer argued that endovascular stent-grafting of the descending thoracic aorta provides a less invasive alternative to the traditional open surgical approach required for the management of descending thoracic aortic aneurysms. The GORE TAG device is a tubular stent-graft mounted on a catheter-based delivery system, and it replaces the synthetic graft normally sutured in place during open surgery. The device was initially identified using ICD-9-CM procedure code 39.79 (Other endovascular repair (of aneurysm) of other vessels). The applicant also requested a unique ICD-9-CM procedure code. As noted in Table 6B of the FY 2006 IPPS final rule (70 FR 47637), new procedure code 39.73 (Endovascular implantation of graft in thoracic aorta) was assigned to this technology.

In the FY 2006 IPPS final rule (70 FR 47356), we approved the GORE TAG device for new technology add-on payment for FY 2006. We noted that any substantially similar device that is FDA-approved before or during FY 2006 that uses the same ICD-9-CM procedure code as GORE TAG and falls into the same DRGs as those approved for new technology add-on payments may also receive the new technology add-on payment associated with this technology in FY 2006.

FDA approved GORE TAG on March 23, 2005. The technology remains within the 2-to 3-year period during which it can be considered new. Therefore, we are proposing to continue add-on payments for the endovascular graft repair of the thoracic aorta for FY 2007.

c. Restore® Rechargeable Implantable Neurostimulator

Medtronic Neurological submitted an application for new technology add-on payments for its Restore® Rechargeable Implantable Neurostimulator for FY 2006. The Restore® Rechargeable Implantable Neurostimulator is designed to deliver electrical stimulation to the spinal cord to block the sensation of pain. The technology standard for neurostimulators uses internal sealed batteries as the power source to generate the electrical current. These internal batteries have finite lives, and require replacement when their power has been completely discharged. According to the manufacturer, the Restore® Rechargeable Implantable Neurostimulator “represents the next generation of neurostimulator technology, allowing the physician to set the voltage parameters in such a way that fully meets the patient's requirements to achieve adequate pain relief without fear of premature depletion of the battery.” The applicant stated that the expected life of the Restore rechargeable battery is 9 years, compared to an average life of 3 years for conventional neurostimulator batteries. We approved new technology add-on payments for all rechargeable, implantable neurostimulators for FY 2006. Cases involving these devices, made by any manufacturer, are identified by the presence of newly created ICD-9-CM code 86.98 (Insertion or replacement of dual array rechargeable neurostimulator pulse generator).

As noted above, the period for which technologies are eligible to receive new technology add-on payments is 2 to 3 years after the product becomes available on the market and data reflecting the cost of the technology are reflected in the DRG weights. The FDA approved the Restore® Rechargeable Implantable Neurostimulator in 2005. However, as noted above and in the FY 2006 IPPS final rule (70 FR 47357), at least one similar product was approved by the FDA as early as April 2004. Nevertheless, consistent with current policy (70 FR 47362) and decisions for prior products (that is, bone morphogenetic products and CRT-D devices), we are proposing to continue new technology add-on payments for rechargeable, implantable neurostimulators in FY 2007 because the product will be beyond the 3-year period only in the latter 6 months of the fiscal year.

4. FY 2007 Applications for New Technology Add-On Payments

a. C-Port® Distal Anastomosis System

Cardica, Inc. submitted an application for new technology add-on payments for FY 2007 for its Cardica C-Port® Distal Anastomosis System. The manufacturer states that the C-Port® System is indicated for all patients requiring a vein as a conduit during a coronary bypass operation for bypassing a coronary artery stenosis or occlusion. The manufacturer contends that the C-Port® System is specifically designed to create a reliable and consistent end-to-side anastomosis between a conduit, such as a venous graft, and a small arterial vessel during the bypass surgery. The device consists of eight stainless steel clips and a delivery system. Once the vein graft has been loaded into the device and the device positioned against the target vessel, the anastomosis is created by pushing a single button. Cardica, Inc. states the main purpose of the device is to replace a conventional hand-sewn, distal anastomosis with an automated, compliant, mechanical anastomosis.

The C-Port® System was granted section 510(K) approval from the FDA on November 10, 2005. While the device appears to meet the criteria for being considered new based on its FDA approval date, we are concerned that various forms of surgical staples and clips have been used for more than a decade in a wide range of surgical procedures. In fact, the FDA found that the C-Port® System “is substantially equivalent to the predicate devices with regard to indications, device characteristics, method of use, labeling and materials.” Thus, given its similarity to other devices currently on the market, we are concerned that the C-Port® System may not qualify as new. We welcome comments on whether this device is new and how it can be distinguished from predicate devices that perform the same or a similar function.

We also note that there is currently no ICD-9-CM code used to identify how the anastomosis is performed. The surgical technique used to graft the bypass to the arterial vessel is part of the surgical procedure itself and is not separately identified in our current coding structure. Thus, if a new code is created, we would be creating a code that is a subset of the surgical procedure that identifies whether the graft was performed by hand-sewing or using a device like the C-Port® System, a distinction that has been unnecessary to date for inpatient hospital payments. Furthermore, we note that such a coding distinction would only be necessary for the new technology add-on payment period if the device met all of the criteria. Once the new technology add-on payments are completed, the surgical technique used for the anasotomosis would not need to be identified because the code that describes the grafting procedure would be the same whether or not this technology is used.

The applicant made several arguments in support of the device meeting the cost criterion. Cardica, Inc. estimates that the cost of each device will be approximately $1,200. The applicant assumes a hospital markup of 100 percent, with an average use of 2.5 C-Port devices per case. Therefore it estimates that the total average charge per patient will be $6,000. The C-Port® System would be used when a coronary artery bypass graft is performed. Thus, we are assessing whether it meets the cost criterion in relation to the threshold for DRGs 106 (Coronary Bypass with Percutaneous Transluminal Coronary Angioplasty), 547 (Coronary Bypass with Cardiac Catheter with Major CV Diagnosis), 548 (Coronary Bypass with Cardiac Catheter without Major CV Diagnosis), 549 (Coronary Bypass without Cardiac Catheter with Major CV Diagnosis), and 550 (Coronary Bypass without Cardiac Catheter without Major CV Diagnosis). We note that the data analysis for this technology is slightly unusual, as the DRGs to which the technology would have been assigned in FY 2005 (the MedPAR data we are currently using) are DRGs 107 and 109. These DRGs were terminated in FY 2006, and 4 new coronary bypass DRGs were created for these cases (DRGs 547, 548, 549, and 550). The manufacturer provided estimates showing a case-weighted threshold for DRGs 106, 547, 548, 549 and 550 of $75,373. The applicant projects a 20-percent market penetration for the device in FY 2007 or its use in approximately 23,000 cases across the 5 DRGs. The applicant submitted data showing average standardized charges for cases using the C-Port® System of $80,887. Therefore, the applicant argued that the device meets the cost threshold for a new technology add-on payment. Our internal data analysis of the technology, using the FY 2005 MedPAR data and Table 10 thresholds for FY 2005, shows a case-weighted threshold of $68,416. We identified cases using coronary bypass procedure codes 36.10, 36.11, 36.12, 36.13 and 36.14, and concluded that the case-weighted average standardized charge for these bypass cases was $79,394. Thus, our internal data also suggest that the device may meet the cost threshold.

The applicant made several arguments in support of the device meeting the substantial clinical improvement criterion. The manufacturer argues that the C-Port® creates a reliable and fully compliant end-to-side anastomosis between a vein graft and a coronary artery, in less time than is required to create a hand-sewn distal anastomosis. The applicant also states that the C-Port® System integrates deployment of the anastomotic clips and creation of the arteriotomy, thus enabling deployment to occur without occlusion of blood flow through the target vessel. However, we note that the applicant submitted evidence suggesting that the device does not always produce reliable anastomoses; specifically, a study of 130 patients receiving 132 devices reported 13 incomplete anastomoses in 12 patients, and the study also noted that additional manual stitches were required in the majority of the patients studied. Therefore, we are concerned that these studies suggest that the C-Port® System may not represent a substantial clinical improvement over the traditional hand-sewn technique. At the town hall meeting, the applicant noted that these results were associated with inexperience preparing the target vessel, vein thickness assessment, proper device alignment and anastomosis site selection rather than problems with the device itself. The applicant believes that these problems will become infrequent as surgeons have more experience with the device. We welcome further information from commenters that would suggest how the product meets the substantial clinical improvement criterion.

We received the following public comments at the new technology town hall meeting regarding whether this technology meets the substantial clinical improvement criteria:

Comment: The manufacturer argued that this technology meets the substantial clinical improvement criterion because:

• It achieves higher patency rates at 6 months compared to conventional hand-sown anastomoses.

• Use of the device will result in less surgeon-to-surgeon variability in the quality of the anastomosis compared to hand sewing.

• The device leads to reduced operative time.

• The product allows for the creation of an anastomosis during minimally invasive surgery.

In addition, we received written comments expressing support for approval of new technology add-on payments for the C-Port® System. These commenters noted that:

• The device allows the anastomosis to be completed quickly, reducing patient complications during surgery from ischemia.

• The device will allow for smaller incisions during heart surgery and physicians will not have to position their hands in the chest cavity in order to hand-sew the anastomosis.

• The rapidly deployed anastomosis clamp provides patients with a surgical alternative where one would otherwise not be available due to the comorbidities associated with the more invasive CABG procedures.

Response: We appreciate the time and effort the applicant took to present at the town hall meeting. We will consider the information presented in the written comments and at the town hall meeting, and welcome objective data that will support the assertions presented above by the commenters.

b. NovoSeven® for Intracerebral Hemorrhage

The Pinnacle Health Group in conjunction with Novo Nordisk Inc. (the manufacturer) submitted an application for new technology add-on payments for FY 2007 for NovoSeven® for Intracerebral Hemorrhage. The technology is a drug that promotes hemostasis by activating clotting factors. The applicant is seeking new technology add-on payments for the use of its product in the treatment of intracerebral hemorrhage (ICH) using ICD-9-CM diagnosis code 431 (Intracerebral hemorrhage).

On March 25, 1999, the FDA approved NovoSeven® for the treatment of bleeding episodes in patients with hemophilia A or B with inhibitors to Factor VIII or Factor IX. The applicant is now seeking FDA approval for the additional indication of ICH in patients without hemophilia or other clotting abnormalities. The applicant noted that it expects FDA approval sometime in the first quarter of 2007. Because the technology is not currently FDA approved, we are not presenting our full analysis on whether the technology meets the criteria for the new technology add-on payment in this proposed rule. However, we note that the applicant did submit the information below on the cost and substantial clinical improvement criteria.

Cases using the NovoSeven® are assigned to DRG 14 (Intracranial Hemorrhage or Cerebral Infraction). The applicant expects NovoSeven® to be used in 20 to 35 percent of patients with ICH diagnosis code 431 in FY 2007. The applicant searched the FY 2004 MedPAR and found a total of 31,407 cases with a principal diagnosis code of ICH. The condition was present as a secondary diagnosis in 32,730 cases. The average standardized charge per case was $18,752.12 when ICH was the principal diagnosis and $19,045.58 when ICH was the secondary diagnosis. The applicant submitted data demonstrating that the technology costs a total of $7,265, including the costs for the drug, sterile water, IV supplies, nursing services, pharmaceuticals, and followup CT scan. However, some of these costs (for example, nursing and pharmacy) are not part of the drug or technology itself and are normal operating costs included in the Medicare DRG payment for the inpatient stay and cannot be considered “new.” Therefore, based on data from the applicant, the total cost for this technology is $5,997. We then added the revised cost of the technology to determine a total average standardized charge per case of $24,749.12 when ICH was the principal diagnosis and $25,455.58 when it was the secondary diagnosis. The threshold for DRG 14 is $23,807. Based on the analysis above, the applicant maintains that NovoSeven® meets the cost criterion because the average standardized charge per case exceeds the threshold for DRG 14.

The applicant also maintained that the technology meets the substantial clinical improvement criterion. The applicant explained that several studies have shown a correlation between the size of the intracranial hematoma and the mortality rate of patients with ICH within 30 days. As a result, Recombinant Coagulation Factors VIIa (rFVIIa), such as NovoSeven®, are being explored as a treatment option for ICH.

The applicant further explained that NovoSeven® activates prothrombin to thrombin by binding factor VIIa to exposed tissue factor, which then activates Factor IX into IXa and Factor X into Xa. The applicant noted that use of rFVIIa for hemophilia patients showed an 84-percent efficacy rate, with only one fatality and no major adverse events or evidence of disseminated intravascular coagulation. The applicant stated that the use of rFVIIa in a nonhemophilia population was safe across a wide range of doses.

In addition, a recent randomized trial published in the New England Journal of Medicine ¹¹ researched 399 patients with ICH diagnosed by CT within 3 hours after onset who received either placebo or one of three doses of NovoSeven® (40μg, 80μg, or 160μg). Some of the outcomes reported from the study for those patients treated with NovoSeven® compared to placebo include: Mortality was reduced by 38 percent; the odds of improving by one level on the modified Rankin Scale at 90 days doubled; and the proportion of patients who died or were severely disabled declined from 69 percent in the placebo group to 53 percent in the treatment group (combined for all three levels of doses). The applicant noted that the study concluded that ultra early hemostatic therapy within 4 hours after the onset of ICH with rFVIIa significantly reduced the growth of the hemorrhage, reduced mortality, and improved the functional outcomes at 3 months, thus demonstrating substantial clinical improvement.

¹¹ Mayer, S.A., et al. “Recombinant Activated Factor VII for Acute Intracerebral Hemorrhage.” New England Journal of Medicine, Vol. 352, No. 8, pp. 777-785, 2005.

We received no public comments regarding this application for new technology add-on payments at the town hall meeting.

c. X STOP Interspinous Process Decompression System

St. Francis Medical Technologies submitted an application for new technology add-on payments for the X STOP Interspinous Process Decompression System for FY 2007. Lumbar spinal stenosis describes a condition that occurs when the spaces between bones in the spine become narrowed due to arthritis and other age-related conditions. This narrowing, or stenosis, causes nerves coming from the spinal cord to be compressed, thereby causing symptoms including pain, numbness, and weakness. It particularly causes symptoms when the spine is in extension, as occurs when a patient stands fully upright or leans back. The X STOP device is inserted between the spinous processes of adjacent vertebrae in order to provide a minimally invasive alternative to conservative treatment (exercise and physical therapy) and invasive surgery (spinal fusion). It works by limiting the spine extension that compresses the nerve roots while still preserving as much motion as possible. The device is inserted in a relatively simple, primarily outpatient procedure using local anesthesia. However, in some circumstances, the physician may prefer to admit the patient for an inpatient stay. The manufacturer has described the device as providing “a new minimally invasive, stand-alone alternative treatment for lumbar spinal stenosis.”

The X STOP Interspinous Process Decompression system received premarket approval from the FDA on November 21, 2005. The device is currently described by ICD-9-CM code 84.58 (Implantation of Interspinous process decompression device) (excluding: fusion of spine (codes 81.00 through 81.08, and 81.30 through 81.39)). This ICD-9-CM code went into effect on October 1, 2005.

The manufacturer provided data in support of the device meeting the cost threshold criterion. The applicant stated that there would be an average of 1.6 units used per case. Each unit costs $5,500; therefore, the technology is expected to cost $8,800 per case. The device is currently assigned to DRGs 499 (Back and Neck Procedures Except Spinal Fusion with CC) and 500 (Back and Neck Procedures Except Spinal Fusion without CC). The manufacturer projected that there would be approximately 424 patients eligible to receive the device in DRG 499 in FY 2007, while there may be approximately 1,700 patients who receive the device in DRG 500. The manufacturer also provided data for cases involved in the clinical trials. The average standardized charge for the cases in FY 2004 was $24,065. The weighted threshold for DRGs 499 and 500 is $20,096. However, the manufacturer argued that because significantly less than 20 percent of patients receiving the X STOP experienced complications or had comorbidities, the threshold should be calculated by estimating that 20 percent of patients would be assigned to DRG 499 and 80 percent would to DRG 500. The manufacturer stated in its application that, using this methodology, the applicable threshold should be $19,796. Using either calculation, it appears that the technology meets the cost threshold for new technology add-on payments.

The applicant also submitted information in support of its claim of substantial clinical improvement. The manufacturer stated that the X STOP device is placed between the spinous processes to limit extension of the symptomatic level(s), yet allowing flexion, axial rotation, and lateral bending (that is, the device limits pressure on the spinal nerves and the resulting pain symptoms when the patient is in an upright position or leans backward while also preserving the patient's ability to turn side-to-side, bend forward, and to turn to either side). The applicant contends that this technology provides an alternative with improved clinical outcomes to conservative and surgical treatments. The manufacturer further stated that the device may offer a new alternative to lumbar spinal decompression procedures such as laminectomy and laminotomy. Additional information included in the application suggests that the device preserves spinal motion and is superior to a spinal decompression procedure that requires concomitant fusion (with or without instrumentation). The applicant argued that the advantages over spinal decompression include reduced risk, shorter hospital stay, and earlier improvement in pain and function. The manufacturer further contends that disease progression at adjacent levels is minimal following X STOP implantation compared to the known risk associated with surgical decompression and concomitant fusion. The applicant stated that the X STOP is comparable to traditional surgical decompression of lumbar spinal stenosis with respect to improved quality of life postoperatively. According to the applicant, the device provides advantages over nonoperative care, including better symptom relief, improved function, and increased patient satisfaction.

We believe that the device satisfies the newness and cost threshold criteria for new technology add-on payments. However, we are concerned that the information included with the application may raise issues about substantial clinical improvement. During the FDA approval process, the Center for Devices and Radiological Health (CDRH) Advisory Panel voted against premarket approval (PMA) in August 2004 because of concerns about proper patient selection as well as the lack of objective endpoints, especially radiographic endpoints. The Panel also mentioned the overall low clinical efficacy rate in the study population. The device subsequently received PMA approval, but only on the condition that it be used in the context of a long term (5 year) follow-up study. We welcome information from commenters that addresses the concerns raised by the CDRH Advisory Panel or other information bearing on the issue of whether this product meets the substantial clinical improvement criterion.

We received the following public comments through the new technology town hall meeting process regarding this application for add-on payments.

Comment: The applicant asserted that the X STOP Interspinous Process Decompression system has the following advantages:

• It retains spinal anatomy and all spinal structures.

• The device allows for increased function and less pain after implantation as evidenced by radiographic measures that showed increases in the spinal canal area by 18 percent, diameter by 9 percent, and subarticular diameter (the route that the nerves exit the spine) by 50 percent. In lateral view: area increased by 25 percent and width by 41 percent.

• The X STOP is a reversible procedure that causes no damage to facets or disks.

• The device allows for a treatment option for patients that cannot undergo surgeries with general anesthesia.

• The rate of complications associated with implantation of the device is below 1 percent.

Response: We will evaluate these assertions as we further consider this application for new technology add-on payments for the final rule. We also note that the study that the applicant summarized at the town hall meeting for the X STOP used a randomized study that targeted lumbar spinal stenosis patients with mild to moderate symptoms. The control group did not require operative care. We welcome information from the comments that demonstrates how the study populations showed substantial clinical improvement compared to the control group.

We note that the town hall meeting produced contradictory information regarding whether this procedure is generally performed in inpatient or outpatient settings. The presenter indicated that over 90 percent of his patients were treated as outpatients. The manufacturer noted 90 percent of non-U.S. patients and approximately two-thirds of U.S. patients since FDA approval have been treated in inpatient settings. While the setting where the procedure is typically performed has no bearing on whether the product represents a substantial clinical improvement, we note that we believe the physician should select the most appropriate site to perform the procedure based on the clinical needs of the patient.

III. Proposed Changes to the Hospital Wage Index

A. Background

Section 1886(d)(3)(E) of the Act requires that, as part of the methodology for determining prospective payments to hospitals, the Secretary must adjust the standardized amounts “for area differences in hospital wage levels by a factor (established by the Secretary) reflecting the relative hospital wage level in the geographic area of the hospital compared to the national average hospital wage level.” In accordance with the broad discretion conferred under the Act, we currently define hospital labor market areas based on the definitions of statistical areas established by the Office of Management and Budget (OMB). A discussion of the proposed FY 2007 hospital wage index based on the statistical areas, including OMB's revised definitions of Metropolitan Areas, appears under section III.B. of this preamble.

Beginning October 1, 1993, section 1886(d)(3)(E) of the Act requires that we update the wage index annually. Furthermore, this section provides that the Secretary base the update on a survey of wages and wage-related costs of short-term, acute care hospitals. The survey should measure the earnings and paid hours of employment by occupational category, and must exclude the wages and wage-related costs incurred in furnishing skilled nursing services. This provision also requires us to make any updates or adjustments to the wage index in a manner that ensures that aggregate payments to hospitals are not affected by the change in the wage index. The proposed adjustment for FY 2007 is discussed in section II.B. of the Addendum to this proposed rule.

As discussed below in section III.H. of this preamble, we also take into account the geographic reclassification of hospitals in accordance with sections 1886(d)(8)(B) and 1886(d)(10) of the Act when calculating the wage index. Under section 1886(d)(8)(D) of the Act, the Secretary is required to adjust the standardized amounts so as to ensure that aggregate payments under the IPPS after implementation of the provisions of sections 1886(d)(8)(B) and (C) and 1886(d)(10) of the Act are equal to the aggregate prospective payments that would have been made absent these provisions. The proposed budget neutrality adjustment for FY 2007 is discussed in section II.A.4.b. of the Addendum to this proposed rule.

Section 1886(d)(3)(E) of the Act also provides for the collection of data every 3 years on the occupational mix of employees for short-term, acute care hospitals participating in the Medicare program, in order to construct an occupational mix adjustment to the wage index. A discussion of the occupational mix adjustment that we propose to apply beginning October 1, 2006 (the proposed FY 2007 wage index) appears under section III.C. of this preamble.

B. Core-Based Statistical Areas for the Proposed Hospital Wage Index

(If you choose to comment on issues in this section, please include the caption “CBSAs” at the beginning of your comment.)

The wage index is calculated and assigned to hospitals on the basis of the labor market area in which the hospital is located. In accordance with the broad discretion under section 1886(d)(3)(E) of the Act, beginning with FY 2005, we define hospital labor market areas based on the Core-Based Statistical Areas (CBSAs) established by OMB and announced in December 2003 (69 FR 49027). OMB defines a CBSA, beginning in 2003, as “a geographic entity associated with at least one core of 10,000 or more population, plus adjacent territory that has a high degree of social and economic integration with the core as measured by commuting ties.” The standards designate and define two categories of CBSAs: Metropolitan Statistical Areas (MSAs) and Micropolitan Statistical Areas (65 FR 82235).

According to OMB, MSAs are based on urbanized areas of 50,000 or more population, and Micropolitan Statistical Areas (referred to in this discussion as Micropolitan Areas) are based on urban clusters with a population of at least 10,000 but less than 50,000. Counties that do not fall within CBSAs are deemed “Outside CBSAs.” In the past, OMB defined MSAs around areas with a minimum core population of 50,000, and smaller areas were “Outside MSAs.”

The general concept of the CBSAs is that of an area containing a recognized population nucleus and adjacent communities that have a high degree of integration with that nucleus. The purpose of the standards is to provide nationally consistent definitions for collecting, tabulating, and publishing Federal statistics for a set of geographic areas. CBSAs include adjacent counties that have a minimum of 25 percent commuting to the central counties of the area. (This is an increase over the minimum commuting threshold of 15 percent for outlying counties applied in the previous MSA definition.)

The revised CBSAs established by OMB comprised MSAs and Micropolitan Areas based on Census 2000 data. (A copy of the announcement may be obtained at the following Internet address: http://www.whitehouse.gov/omb/bulletins/fy04/b04-03.html.) The revised definitions recognize 49 MSAs and 565 Micropolitan Areas, and extensively changed the composition of many of the MSAs that existed prior to the revisions.

The revised area designations resulted in a higher wage index for some areas and a lower wage index for others. Further, some hospitals that were previously classified as urban are now in rural areas. Given the significant payment impacts upon some hospitals because of these changes, we provided a transition period to the new labor market areas in the FY 2005 IPPS final rule (69 FR 49027 through 49034). As part of that transition, we allowed urban hospitals that became rural under the new definitions to maintain their assignment to the MSA where they were previously located for the 3-year period of FY 2005, FY 2006, and FY 2007. Specifically, these hospitals were assigned the wage index of the urban area to which they previously belonged. (For purposes of the wage index computation, the wage data of these hospitals remained assigned to the statewide rural area in which they are located.) The hospitals receiving this transition will not be considered urban hospitals; rather, they will maintain their status as rural hospitals. Thus, the hospital would not be eligible, for example, for a large urban add-on payment under the capital PPS. In other words, it is the wage index, but not the urban or rural status, of these hospitals that is being affected by this transition. The higher wage indices that these hospitals are receiving are also being taken into consideration in determining whether they qualify for the out-migration adjustment discussed in section III.I. of this preamble and the amount of any adjustment.

FY 2007 will be the third year of this transition period. We will continue to assign the wage index for the urban area in which the hospital was previously located through FY 2007. In order to ensure this provision remains budget neutral, we will continue to adjust the standardized amount by a transition budget neutrality factor to account for these hospitals. Doing so is consistent with the requirement of section 1886(d)(3)(E) of the Act that any “adjustments or updates [to the adjustment for different area wage levels] * * * shall be made in a manner that assures that aggregate payments * * * are not greater or less than those that would have been made in the year without such adjustment.”

Beginning in FY 2008, these hospitals will receive their statewide rural wage index, although they will be eligible to apply for reclassification by the MGCRB both during this transition period and in subsequent years. These hospitals will be considered rural for reclassification purposes.

Consistent with the FY 2005 and FY 2006 IPPS final rules, as we did beginning in FY 2006, for FY 2007 we are proposing to provide that hospitals receive 100 percent of their wage index based upon the CBSA configurations. Specifically, we will determine for each hospital a proposed wage index for FY 2007 employing wage index data from FY 2003 hospital cost reports and using the CBSA labor market definitions.

C. Proposed Occupational Mix Adjustment to the Proposed FY 2007 Index

(If you choose to comment on issues in this section, please include the caption “Occupational Mix Adjustment” at the beginning of your comment.)

As stated earlier, section 1886(d)(3)(E) of the Act provides for the collection of data every 3 years on the occupational mix of employees for each short-term, acute care hospital participating in the Medicare program, in order to construct an occupational mix adjustment to the wage index, for application beginning October 1, 2004 (the FY 2005 wage index). The purpose of the occupational mix adjustment is to control for the effect of hospitals' employment choices on the wage index. For example, hospitals may choose to employ different combinations of registered nurses, licensed practical nurses, nursing aides, and medical assistants for the purpose of providing nursing care to their patients. The varying labor costs associated with these choices reflect hospital management decisions rather than geographic differences in the costs of labor.

1. Development of Data for the Proposed Occupational Mix Adjustment

In the FY 2005 IPPS final rule (69 FR 49034), we discussed in detail the data we used to calculate the occupational mix adjustment to the FY 2005 wage index. For the proposed FY 2007 wage index, we are proposing to use the same CMS Wage Index Occupational Mix Survey and Bureau of Labor Statistics (BLS) data that we used for the FYs 2005 and 2006 wage indices, with two exceptions. The CMS survey requires hospitals to report the number of total paid hours for directly hired and contract employees in occupations that provide the following services: Nursing, physical therapy, occupational therapy, respiratory therapy, pharmacy, dietary and medical and clinical laboratory. These services each include several standard occupational classifications (SOCs), as defined by the BLS' Occupational Employment Statistics (OES) survey. For the proposed FY 2007 wage index, we are using revised survey data for 16 hospitals that took advantage of the opportunity we afforded hospitals to submit changes to their occupational mix data during the FY 2007 wage index data collection process (see the discussion of wage data corrections process under section III.J. of this preamble). We also excluded survey data for hospitals that became designated as CAHs since the original survey data were collected and for hospitals for which there are no corresponding cost report data for the FY 2007 wage index. The proposed FY 2007 wage index includes occupational mix data from 3,362 out of 3,580 hospitals (93.9 percent response rate). The results of the occupational mix survey are included in the chart below.

BILLING CODE 4120-01-P

BILLING CODE 4120-01-C

2. Calculation of the Proposed FY 2007 Occupational Mix Adjustment Factor and the Proposed FY 2007 Occupational Mix Adjusted Wage Index

For the proposed FY 2007 wage index, we are proposing to use the same methodology that we used to calculate the occupational mix adjustment to the FY 2005 and FY 2006 wage indices (69 FR 49042 and 70 FR 47367). We are proposing to use the following steps for calculating the proposed FY 2007 occupational mix adjustment factor and the proposed FY 2007 occupational mix adjusted wage index:

Step 1—For each hospital, the percentage of the general service category attributable to an SOC is determined by dividing the SOC hours by the general service category's total hours. Repeat this calculation for each of the 19 SOCs.

Step 2—For each hospital, the weighted average hourly rate for an SOC is determined by multiplying the percentage of the general service category (from Step 1) by the national average hourly rate for that SOC from the 2001 BLS OES survey, which was used in calculating the occupational mix adjustment for the FY 2005 wage index. The 2001 OES survey is BLS' latest available hospital-specific survey. (See Chart 4 in the FY 2005 IPPS final rule, 69 FR 49038.) Repeat this calculation for each of the 19 SOCs.

Step 3—For each hospital, the hospital's adjusted average hourly rate for a general service category is computed by summing the weighted hourly rate for each SOC within the general category. Repeat this calculation for each of the seven general service categories.

Step 4—For each hospital, the occupational mix adjustment factor for a general service category is calculated by dividing the national adjusted average hourly rate for the category by the hospital's adjusted average hourly rate for the category. (The national adjusted average hourly rate is computed in the same manner as Steps 1 through 3, using instead, the total SOC and general service category hours for all hospitals in the occupational mix survey database.) Repeat this calculation for each of the seven general service categories. If the hospital's adjusted rate is less than the national adjusted rate (indicating the hospital employs a less costly mix of employees within the category), the occupational mix adjustment factor will be greater than 1.0000. If the hospital's adjusted rate is greater than the national adjusted rate, the occupational mix adjustment factor will be less than 1.0000.

Step 5—For each hospital, the occupational mix adjusted salaries and wage-related costs for a general service category are calculated by multiplying the hospital's total salaries and wage-related costs (from Step 5 of the unadjusted wage index calculation in section III.F. of this preamble) by the percentage of the hospital's total workers attributable to the general service category and by the general service category's occupational mix adjustment factor (from Step 4 above). Repeat this calculation for each of the seven general service categories. The remaining portion of the hospital's total salaries and wage-related costs that is attributable to all other employees of the hospital is not adjusted for occupational mix.

Step 6—For each hospital, the total occupational mix adjusted salaries and wage-related costs for a hospital are calculated by summing the occupational mix adjusted salaries and wage-related costs for the seven general service categories (from Step 5) and the unadjusted portion of the hospital's salaries and wage-related costs for all other employees. To compute a hospital's occupational mix adjusted average hourly wage, divide the hospital's total occupational mix adjusted salaries and wage-related costs by the hospital's total hours (from Step 4 of the unadjusted wage index calculation in section III.F. of this preamble).

Step 7—To compute the occupational mix adjusted average hourly wage for an urban or rural area, sum the total occupational mix adjusted salaries and wage-related costs for all hospitals in the area, then sum the total hours for all hospitals in the area. Next, divide the area's occupational mix adjusted salaries and wage-related costs by the area's hours.

Step 8—To compute the national occupational mix adjusted average hourly wage, sum the total occupational mix adjusted salaries and wage-related costs for all hospitals in the Nation, then sum the total hours for all hospitals in the Nation. Next, divide the national occupational mix adjusted salaries and wage-related costs by the national hours. The proposed national occupational mix adjusted average hourly wage for FY 2007 is $29.6213. (This figure represents a 100 percent adjustment for occupational mix.)

Step 9—To compute the occupational mix adjusted wage index, divide each area's occupational mix adjusted average hourly wage (Step 7) by the national occupational mix adjusted average hourly wage (Step 8).

Step 10—To compute the Puerto Rico specific occupational mix adjusted wage index, follow Steps 1 through 9 above. The proposed Puerto Rico occupational mix adjusted average hourly wage for FY 2007 is $12.9490. (This figure represents a 100 percent adjustment for occupational mix.)

An example of the occupational mix adjustment was included in the FY 2005 IPPS final rule (69 FR 49043).

For the FY 2006 final wage index, we used the unadjusted wage data for hospitals that did not submit occupational mix survey data. For calculation purposes, this equates to applying the national SOC mix to the wage data for these hospitals, because hospitals having the same mix as the Nation would have an occupational mix adjustment factor equaling 1.0000. In the FYs 2005 and 2006 IPPS final rule (69 FR 49035 and 70 FR 47368), we noted that we would revisit this matter with subsequent collections of the occupational mix data. Because we are using essentially the same survey data for the proposed FY 2007 occupational mix adjustment that we used for FYs 2005 and 2006, with the only exceptions as stated in section III.C.1. of this preamble, we are treating the wage data for hospitals that did not respond to the survey in this same manner for the proposed FY 2007 wage index.

In implementing an occupational mix adjusted wage index based on the above calculation, the proposed wage index values for 17 rural areas (36.2 percent) and 204 urban areas (52.8 percent) would decrease as a result of the adjustment. Five rural areas (10.6 percent) and 106 urban areas (27.5 percent) would experience a decrease of 1 percent or greater in their wage index values. The largest negative impact for a rural area would be 1.8 percent and for an urban area, 4.2 percent. Meanwhile, 30 rural areas (63.8 percent) and 178 urban areas (46.1 percent) would experience an increase in their wage index values. Although these results show that rural hospitals would gain the most from an occupational mix adjustment to the wage index, their gains may not be as great as might have been expected. Further, it might not have been anticipated that approximately one-third of rural hospitals would actually fare worse under the adjustment. Overall, a fully implemented occupational mix adjusted wage index would have a redistributive effect on Medicare payments to hospitals.

In the FY 2006 IPPS final rule (70 FR 47368), we indicated that, for future data collections, we would revise the occupational mix survey to allow hospitals to provide both salaries and hours data for each of the employment categories that are included on the survey. We also indicated that we would assess whether future occupational mix surveys should be based on the calendar year or if the data should be collected on a fiscal year basis as part of the Medicare cost report. (One logistical problem is that cost report data are collected yearly, but occupational mix survey data are collected only every 3 years.)

In a document published in the Federal Register on October 14, 2005 (70 FR 60092), we proposed a new survey, the 2006 Medicare Wage Index Occupational Mix Survey. The 2006 survey provides for the collection of data on hospital-specific wages and hours for a 6-month reporting period (January 1, 2006 through June 30, 2006), as well as additional clarification of the definitions for the occupational categories, an expansion of the registered nurse category to include functional subcategories, the exclusion of average hourly rate data associated with advance practice nurses, and the transfer of each general service category that comprised less than 4 percent of total hospital employees in the 2003 survey to the “all other occupations” category. The results of the 2006 occupational mix survey will be used to adjust the IPPS wage index beginning with FY 2008. On February 10, 2006, we published in the Federal Register a notice with a 30-day comment period for the 2006 survey (71 FR 7047). We will provide a full discussion of the 2006 survey design, the survey results, and the methodology for calculating and applying the new occupational mix adjustment in the FY 2008 IPPS proposed rule.

In our continuing efforts to meet the information needs of the public, we are providing via the Internet three additional public use files (PUFs) for the proposed occupational mix adjusted wage index concurrently with the publication of this proposed rule: (1) A file including each hospital's unadjusted and adjusted average hourly wage (FY 2007 Proposed Rule Occupational Mix Adjusted and Unadjusted Average Hourly Wage by Provider); (2) a file including each CBSA's adjusted and unadjusted average hourly wage (FY 2007 Proposed Rule Occupational Mix Adjusted and Unadjusted Average Hourly Wage and Pre-Reclassified Wage Index by CBSA); and (3) a file including each hospital's occupational mix adjustment factors by occupational category (Provider Occupational Mix Adjustment Factors for Each Occupational Category). These additional files are posted on the Internet at http://www.cms.hhs.gov/AcuteInpatientPPS. We also plan to post these files via the Internet with future applications of the occupational mix adjustment.

D. Worksheet S-3 Wage Data for the Proposed FY 2007 Wage Index Update

(If you choose to comment on issues in this section, please include the caption “Wage Data” at the beginning of your comment.)

The proposed FY 2007 wage index values (effective for hospital discharges occurring on or after October 1, 2006 and before October 1, 2007) in section II.B. of the Addendum to this proposed rule are based on the data collected from the Medicare cost reports submitted by hospitals for cost reporting periods beginning in FY 2003 (the FY 2006 wage index was based on FY 2002 wage data).

The proposed FY 2007 wage index includes the following categories of data associated with costs paid under the IPPS (as well as outpatient costs):

• Salaries and hours from short-term, acute care hospitals (including paid lunch hours and hours associated with military leave and jury duty).

• Home office costs and hours.

• Certain contract labor costs and hours (which includes direct patient care, certain top management, pharmacy, laboratory, and nonteaching physician Part A services).

• Wage-related costs, including pensions and other deferred compensation costs.

Consistent with the wage index methodology for FY 2006, the proposed wage index for FY 2007 also excludes the direct and overhead salaries and hours for services not subject to IPPS payment, such as SNF services, home health services, costs related to GME (teaching physicians and residents) and certified registered nurse anesthetists (CRNAs), and other subprovider components that are not paid under the IPPS. The proposed FY 2007 wage index also excludes the salaries, hours, and wage-related costs of hospital-based rural health clinics (RHCs), and Federally qualified health centers (FQHCs) because Medicare pays for these costs outside of the IPPS (68 FR 45395). In addition, salaries, hours, and wage-related costs of CAHs are excluded from the wage index, for the reasons explained in the FY 2004 IPPS final rule (68 FR 45397).

Data collected for the IPPS wage index are also currently used to calculate wage indices applicable to other providers, such as SNFs, home health agencies, and hospices. In addition, they are used for prospective payments to IRFs, IPFs, and LTCHs, and for hospital outpatient services. We note that, in the IPPS rules, we do not address comments pertaining to the wage indices for non-IPPS providers. Such comments should be made in response to separate proposed rules for those providers.

E. Verification of Worksheet S-3 Wage Data

(If you choose to comment on this section, please include the caption “Wage Data” at the beginning of your comment.)

The wage data for the proposed FY 2007 wage index were obtained from Worksheet S-3, Parts II and III of the FY 2003 Medicare cost reports. Instructions for completing the Worksheet S-3, Parts II and III are in the Provider Reimbursement Manual, Part I, sections 3605.2 and 3605.3. The data file used to construct the proposed wage index includes FY 2003 data submitted to us as of March 1, 2006. As in past years, we performed an intensive review of the wage data, mostly through the use of edits designed to identify aberrant data.

We asked our fiscal intermediaries to revise or verify data elements that resulted in specific edit failures. Some unresolved data elements are included in the calculation of the proposed FY 2007 wage index. We instructed the fiscal intermediaries to complete their data verification of questionable data elements and to transmit any changes to the wage data no later than April 14, 2006. We believe all unresolved data elements will be resolved by the date the final rule is issued. The revised data will be reflected in the final rule.

Also, as part of our editing process, we removed the data for 215 hospitals from our database: 178 hospitals designated as CAHs between February 18, 2005, the cutoff date for exclusion of CAHs from the FY 2006 wage index, and February 17, 2006, the cutoff date for CAH exclusion for the FY 2007 wage index (that is, 7 or more days prior to the posting of the preliminary February 24, 2006 PUF), and 30 hospitals were low Medicare utilization hospitals or failed edits that could not be corrected because the hospitals terminated the program or changed ownership. In addition, we removed the wage data for 7 hospitals with incomplete or inaccurate data resulting in zero or negative, or otherwise aberrant, average hourly wages. We have notified the fiscal intermediaries of these hospitals and will continue to work with the fiscal intermediaries to correct these data until we finalize our database to compute the final wage index. The data for these hospitals will be included in the final wage index if we receive corrected data that pass our edits. As a result, the proposed FY 2007 wage index is calculated based on FY 2003 wage data from 3,580 hospitals.

In constructing the proposed FY 2007 wage index, we include the wage data for facilities that were IPPS hospitals in FY 2003, even for those facilities that have since terminated their participation in the program as hospitals, as long as those data do not fail any of our edits for reasonableness. We believe that including the wage data for these hospitals is, in general, appropriate to reflect the economic conditions in the various labor market areas during the relevant past period. However, we exclude the wage data for CAHs as discussed in 68 FR 45397.

Section 4410 of Pub. L. 105-33 provides that, for the purposes of section 1886(d)(3)(E) of the Act, for discharges occurring on or after October 1, 1997, the area wage index applicable to any hospital that is located in an urban area of a State may not be less than the area wage index applicable to hospitals located in rural areas in the State. This provision is commonly referred to as the “rural floor.” In the August 11, 2004 IPPS final rule (69 FR 49109), we discussed situations where a State has only urban areas and no geographically rural areas, or a State has geographically rural areas but no IPPS hospitals are located in those rural areas. As a result, these States did not have rural IPPS hospitals from which to compute and apply a “rural floor.” In that final rule, we developed a policy for imputing a “rural floor” for these States, effective for the FYs 2005, 2006, and 2007 wage indices, so that a “rural floor” could be applicable to IPPS urban hospitals in those States in the same manner that a “rural floor” is applicable to IPPS urban hospitals in States that have IPPS rural hospitals. We revised the regulations at § 412.64(h) to describe the methodology for computing the imputed “rural floors” for these States and to define an all-urban State. Specifically, § 412.64(h)(5) defines an all-urban State as “a State with no rural areas * * * or a State in which there are no hospitals classified as rural. A State with rural areas and with hospitals reclassified as rural under § 412.103 is not an all-urban State.”

We have received questions as to what area wage index CMS would apply in the instance where a new rural IPPS hospital opens in a State that has an imputed “rural floor” because it has rural areas but had no hospitals classified as rural. In addition, we have been asked whether a new IPPS hospital could submit its wages and hours data to be used in computing the wage index, even though the hospital did not file a cost report as an IPPS provider for the cost report base year that is used in calculating that wage index.

A new hospital can be an entirely new facility that did not exist before, or it can be a hospital that participated in Medicare under a previous provider number, but has acquired a new Medicare provider number (such as when a CAH converts to IPPS status, or vice versa). As a new IPPS hospital (in this case, rural), the hospital would not yet have filed any wages and hours data on a Medicare cost report. Even in the situation where a new IPPS hospital previously participated in Medicare as another provider type (such as a CAH) and was able to develop its wages and hours data for the wage index base year, consistent with section 1886(d)(3)(E) of the Act which specifies that the wage index must be based on data from short-term, acute care hospitals, CMS could not include the hospital's wages and hours from a period during which the hospital was not an IPPS provider. Furthermore, even once the hospital files its first Medicare cost report under the new IPPS provider number, that first cost report is not used in computing the wage index for the hospital's geographic area until 4 years later. This is because a current fiscal year's wage index is computed from cost reports that are 4 years prior to that current fiscal year. Consequently, the only wage index that would be available for such a new IPPS rural hospital in the first 3 years of the hospital's existence is the imputed “rural floor.” Therefore, if a new rural IPPS hospital opens in a State that has an imputed “rural floor” and has rural areas, the hospital would receive the imputed “rural floor” as its wage index until its first cost report is contemporaneous with the cost reporting period being used to develop a given fiscal year's wage index.

F. Computation of the Proposed FY 2007 Unadjusted Wage Index

(If you choose to comment on issues in this section, please include the caption “Unadjusted Wage Index” at the beginning of your comment.)

The method used to compute the proposed FY 2007 wage index without an occupational mix adjustment follows:

Step 1—As noted above, we based the proposed FY 2007 wage index on wage data reported on the FY 2003 Medicare cost reports. We gathered data from each of the non-Federal, short-term, acute care hospitals for which data were reported on the Worksheet S-3, Parts II and III of the Medicare cost report for the hospital's cost reporting period beginning on or after October 1, 2002 and before October 1, 2003. In addition, we included data from some hospitals that had cost reporting periods beginning before October 2002 and reported a cost reporting period covering all of FY 2003. These data were included because no other data from these hospitals would be available for the cost reporting period described above, and because particular labor market areas might be affected due to the omission of these hospitals. However, we generally describe these wage data as FY 2003 data. We note that, if a hospital had more than one cost reporting period beginning during FY 2003 (for example, a hospital had two short cost reporting periods beginning on or after October 1, 2002 and before October 1, 2003), we included wage data from only one of the cost reporting periods, the longer, in the wage index calculation. If there was more than one cost reporting period and the periods were equal in length, we included the wage data from the later period in the wage index calculation.

Step 2—Salaries—The method used to compute a hospital's average hourly wage excludes certain costs that are not paid under the IPPS. In calculating a hospital's average salaries plus wage-related costs, we subtracted from Line 1 (total salaries) the GME and CRNA costs reported on Lines 2, 4.01, 6, and 6.01, the Part B salaries reported on Lines 3, 5 and 5.01, home office salaries reported on Line 7, and excluded salaries reported on Lines 8 and 8.01 (that is, direct salaries attributable to SNF services, home health services, and other subprovider components not subject to the IPPS). We also subtracted from Line 1 the salaries for which no hours were reported. To determine total salaries plus wage-related costs, we added to the net hospital salaries the costs of contract labor for direct patient care, certain top management, pharmacy, laboratory, and nonteaching physician Part A services (Lines 9 and 10), home office salaries and wage-related costs reported by the hospital on Lines 11 and 12, and nonexcluded area wage-related costs (Lines 13, 14, and 18).

We note that contract labor and home office salaries for which no corresponding hours are reported were not included. In addition, wage-related costs for nonteaching physician Part A employees (Line 18) are excluded if no corresponding salaries are reported for those employees on Line 4.

Step 3—Hours—With the exception of wage-related costs, for which there are no associated hours, we computed total hours using the same methods as described for salaries in Step 2.

Step 4—For each hospital reporting both total overhead salaries and total overhead hours greater than zero, we then allocated overhead costs to areas of the hospital excluded from the wage index calculation. First, we determined the ratio of excluded area hours (sum of Lines 8 and 8.01 of Worksheet S-3, Part II) to revised total hours (Line 1 minus the sum of Part II, Lines 2, 3, 4.01, 5, 5.01, 6, 6.01, 7, and Part III, Line 13 of Worksheet S-3). We then computed the amounts of overhead salaries and hours to be allocated to excluded areas by multiplying the above ratio by the total overhead salaries and hours reported on Line 13 of Worksheet S-3, Part III. Next, we computed the amounts of overhead wage-related costs to be allocated to excluded areas using three steps: (1) We determined the ratio of overhead hours (Part III, Line 13) to revised hours (Line 1 minus the sum of Lines 2, 3, 4.01, 5, 5.01, 6, 6.01, 7, 8, and 8.01); (2) we computed overhead wage-related costs by multiplying the overhead hours ratio by wage-related costs reported on Part II, Lines 13, 14, and 18; and (3) we multiplied the computed overhead wage-related costs by the above excluded area hours ratio. Finally, we subtracted the computed overhead salaries, wage-related costs, and hours associated with excluded areas from the total salaries (plus wage-related costs) and hours derived in Steps 2 and 3.

Step 5—For each hospital, we adjusted the total salaries plus wage-related costs to a common period to determine total adjusted salaries plus wage-related costs. To make the wage adjustment, we estimated the percentage change in the employment cost index (ECI) for compensation for each 30-day increment from October 14, 2002, through April 15, 2004, for private industry hospital workers from the BLS' Compensation and Working Conditions. We use the ECI because it reflects the price increase associated with total compensation (salaries plus fringes) rather than just the increase in salaries. In addition, the ECI includes managers as well as other hospital workers. This methodology to compute the monthly update factors uses actual quarterly ECI data and assures that the update factors match the actual quarterly and annual percent changes. The factors used to adjust the hospital's data were based on the midpoint of the cost reporting period, as indicated below.

Midpoint of Cost Reporting Period
After | Before | Adjustment factor
10/14/2002 | 11/15/2002 | 1.06058
11/14/2002 | 12/15/2002 | 1.05679
12/14/2002 | 01/15/2003 | 1.05304
01/14/2003 | 02/15/2003 | 1.04915
02/14/2003 | 03/15/2003 | 1.04513
03/14/2003 | 04/15/2003 | 1.04108
04/14/2003 | 05/15/2003 | 1.03713
05/14/2003 | 06/15/2003 | 1.03325
06/14/2003 | 07/15/2003 | 1.02948
07/14/2003 | 08/15/2003 | 1.02584
08/14/2003 | 09/15/2003 | 1.02231
09/14/2003 | 10/15/2003 | 1.01878
10/14/2003 | 11/15/2003 | 1.01510
11/14/2003 | 12/15/2003 | 1.01127
12/14/2003 | 01/15/2004 | 1.00743
01/14/2004 | 02/15/2004 | 1.00367
02/14/2004 | 03/15/2004 | 1.00000
03/14/2004 | 04/15/2004 | 0.99644

For example, the midpoint of a cost reporting period beginning January 1, 2003 and ending December 31, 2003 is June 30, 2003. An adjustment factor of 1.02948 would be applied to the wages of a hospital with such a cost reporting period. In addition, for the data for any cost reporting period that began in FY 2003 and covered a period of less than 360 days or more than 370 days, we annualized the data to reflect a 1-year cost report. Dividing the data by the number of days in the cost report and then multiplying the results by 365 accomplishes annualization.

Step 6—Each hospital was assigned to its appropriate urban or rural labor market area before any reclassifications under section 1886(d)(8)(B), section 1886(d)(8)(E), or section 1886(d)(10) of the Act. Within each urban or rural labor market area, we added the total adjusted salaries plus wage-related costs obtained in Step 5 for all hospitals in that area to determine the total adjusted salaries plus wage-related costs for the labor market area.

Step 7—We divided the total adjusted salaries plus wage-related costs obtained under both methods in Step 6 by the sum of the corresponding total hours (from Step 4) for all hospitals in each labor market area to determine an average hourly wage for the area.

Step 8—We added the total adjusted salaries plus wage-related costs obtained in Step 5 for all hospitals in the Nation and then divided the sum by the national sum of total hours from Step 4 to arrive at a national average hourly wage. Using the data as described above, the proposed national average hourly wage is $29.6008.

Step 9—For each urban or rural labor market area, we calculated the hospital wage index value by dividing the area average hourly wage obtained in Step 7 by the national average hourly wage computed in Step 8.

Step 10—Following the process set forth above, we developed a separate Puerto Rico-specific wage index for purposes of adjusting the Puerto Rico standardized amounts. (The national Puerto Rico standardized amount is adjusted by a wage index calculated for all Puerto Rico labor market areas based on the national average hourly wage as described above.) We added the total adjusted salaries plus wage-related costs (as calculated in Step 5) for all hospitals in Puerto Rico and divided the sum by the total hours for Puerto Rico (as calculated in Step 4) to arrive at an overall proposed average hourly wage of $12.9564 for Puerto Rico. For each labor market area in Puerto Rico, we calculated the Puerto Rico-specific wage index value by dividing the area average hourly wage (as calculated in Step 7) by the overall Puerto Rico average hourly wage.

Step 11—Section 4410 of Pub. L. 105-33 provides that, for discharges on or after October 1, 1997, the area wage index applicable to any hospital that is located in an urban area of a State may not be less than the area wage index applicable to hospitals located in rural areas in that State. (For all-urban States, we established an imputed floor (69 FR 49109). Furthermore, this wage index floor is to be implemented in such a manner as to ensure that aggregate IPPS payments are not greater or less than those that would have been made in the year if this section did not apply. For FY 2007, this change affects 187 hospitals in 62 urban areas. The areas affected by this provision are identified by a footnote in Tables 4A-1 and 4A-2 in the Addendum of this proposed rule.

G. Computation of the Proposed FY 2007 Blended Wage Index

(If you choose to comment on issues in this section, please include the caption “Blended Wage Index” at the beginning of your comment.)

For the final FY 2005 and FY 2006 wage indices, we used a blend of the occupational mix adjusted wage index and the unadjusted wage index. Specifically, we adjusted 10 percent of the FY 2005 and FY 2006 wage index adjustment factor by a factor reflecting occupational mix. We refer readers to the FY 2005 IPPS final rule at 69 FR 49052 and the FY 2006 IPPS final rule at 70 FR 47376 for a detailed discussion of the blended wage index. For FY 2007, we are proposing to apply the same blended wage index as we did in FYs 2005 and 2006, so that 10 percent of the wage index is adjusted by a factor reflecting occupational mix. We believe this is prudent policy because we are relying on the same survey data used in FYs 2005 and 2006.

In computing the occupational mix adjustment for the proposed FY 2007 wage index, we used the occupational mix survey data that we collected for the FY 2006 wage index, replacing the survey data for 16 hospitals that submitted revised data, and excluding the survey data for hospitals with no corresponding Worksheet S-3 wage data for the FY 2007 wage index.

With 10 percent of the proposed FY 2007 wage index adjusted for occupational mix, the proposed national average hourly wage is $29.6029 and the Puerto Rico-specific average hourly wage is $12.9557. The wage index values for 17 rural areas (36.2 percent) and 200 urban areas (51.8 percent) would decrease as a result of the adjustment. These decreases would be minimal; the largest negative impact for a rural area would be 0.18 percent and for an urban area, 0.42 percent. Conversely, 29 rural areas (61.7 percent) and 173 urban areas (44.8 percent) would benefit from this adjustment, with 1 urban area increasing 2.2 percent and 2 rural areas increasing 0.38 percent. As there are no significant differences between the FY 2006 and the FY 2007 occupational mix survey data and results, we believe it is appropriate to again apply the occupational mix to 10 percent of the proposed FY 2007 wage index. (See Appendix A to this proposed rule for further analysis of the impact of the occupational mix adjustment on the proposed FY 2007 wage index.)

The proposed wage index values for FY 2007 (except those for hospitals receiving wage index adjustments under section 505 of Pub. L. 108-173) are shown in Tables 4A-1, 4A-2, 4B, 4C-1, 4C-2, and 4F in the Addendum to this proposed rule.

Tables 3A and 3B in the Addendum to this proposed rule list the 3-year average hourly wage for each labor market area before the redesignation of hospitals, based on FYs 2005, 2006, 2007 cost reporting periods. Table 3A lists these data for urban areas and Table 3B lists these data for rural areas. In addition, Table 2 in the Addendum to this proposed rule includes the adjusted average hourly wage for each hospital from the FY 2001 and FY 2002 cost reporting periods, as well as the FY 2003 period used to calculate the proposed FY 2007 wage index. The 3-year averages are calculated by dividing the sum of the dollars (adjusted to a common reporting period using the method described previously) across all 3 years, by the sum of the hours. If a hospital is missing data for any of the previous years, its average hourly wage for the 3-year period is calculated based on the data available during that period.

The proposed wage index values in Tables 4A-1, 4A-2, 4B, 4C-1, 4C-2, and 4F and the average hourly wages in Tables 2, 3A, and 3B in the Addendum to this proposed rule include the proposed occupational mix adjustment.

H. Proposed Revisions to the Wage Index Based on Hospital Redesignations

(If you choose to comment on issues in this section, please include the caption “Hospital Redesignations and Reclassifications” at the beginning of your comment.)

1. General

Under section 1886(d)(10) of the Act, the Medicare Geographic Classification Review Board (MGCRB) considers applications by hospitals for geographic reclassification for purposes of payment under the IPPS. Hospitals must apply to the MGCRB to reclassify by September 1 of the year preceding the year during which reclassification is sought. Generally, hospitals must be proximate to the labor market area to which they are seeking reclassification and must demonstrate characteristics similar to hospitals located in that area. The MGCRB issues its decisions by the end of February for reclassifications that become effective for the following fiscal year (beginning October 1). The regulations applicable to reclassifications by the MGCRB are located in §§ 412.230 through 412.280.

Section 1886(d)(10)(D)(v) of the Act provides that, beginning with FY 2001, a MGCRB decision on a hospital reclassification for purposes of the wage index is effective for 3 fiscal years, unless the hospital elects to terminate the reclassification. Section 1886(d)(10)(D)(vi) of the Act provides that the MGCRB must use the 3 most recent years' average hourly wage data in evaluating a hospital's reclassification application for FY 2003 and any succeeding fiscal year.

Section 304(b) of Pub. L. 106-554 provides that the Secretary must establish a mechanism under which a statewide entity may apply to have all of the geographic areas in the State treated as a single geographic area for purposes of computing and applying a single wage index, for reclassifications beginning in FY 2003. The implementing regulations for this provision are located at § 412.235.

Section 1886(d)(8)(B) of the Act requires the Secretary to treat a hospital located in a rural county adjacent to one or more urban areas as being located in the MSA to which the greatest number of workers in the county commute, if the rural county would otherwise be considered part of an urban area under the standards for designating MSAs and if the commuting rates used in determining outlying counties were determined on the basis of the aggregate number of resident workers who commute to (and, if applicable under the standards, from) the central county or counties of all contiguous MSAs. In light of the new CBSA definitions and the Census 2000 data that we implemented for FY 2005 (69 FR 49027), we undertook to identify those counties meeting these criteria. The eligible counties are identified under section III.H.4. of this preamble.

2. Effects of Reclassification

Section 1886(d)(8)(C) of the Act provides that the application of the wage index to redesignated hospitals is dependent on the hypothetical impact that the wage data from these hospitals would have on the wage index value for the area to which they have been redesignated. These requirements for determining the wage index values for redesignated hospitals is applicable both to the hospitals located in rural counties deemed urban under section 1886(d)(8)(B) of the Act and hospitals that were reclassified as a result of the MGCRB decisions under section 1886(d)(10) of the Act. Therefore, as provided in section 1886(d)(8)(C) of the Act,¹² the wage index values were determined by considering the following:

¹² Although section 1886(d)(8)(C)(iv)(I) of the Act also provides that the wage index for an urban area may not decrease as a result of redesignated hospitals if the urban area wage index is already below the wage index for rural areas in the State in which the urban area is located, the provision was effectively made moot by section 4410 of Pub. L. 105-33, which provides that the area wage index applicable to any hospital that is located in an urban area of a State may not be less than the area wage index applicable to hospitals located in rural areas in that State. For all-urban States, CMS established an imputed floor (69 FR 49109). Also, section 1886(d)(8)(C)(iv)(II) of the Act provides that an urban area's wage index may not decrease as a result of redesignated hospitals if the urban area is located in a State that is composed of a single urban area.

• If including the wage data for the redesignated hospitals would reduce the wage index value for the area to which the hospitals are redesignated by 1 percentage point or less, the area wage index value determined exclusive of the wage data for the redesignated hospitals applies to the redesignated hospitals.

• If including the wage data for the redesignated hospitals reduces the wage index value for the area to which the hospitals are redesignated by more than 1 percentage point, the area wage index determined inclusive of the wage data for the redesignated hospitals (the combined wage index value) applies to the redesignated hospitals.

• If including the wage data for the redesignated hospitals increases the wage index value for the urban area to which the hospitals are redesignated, both the area and the redesignated hospitals receive the combined wage index value. Otherwise, the hospitals located in the urban area receive a wage index excluding the wage data of hospitals redesignated into the area.

• The wage data for a reclassified urban hospital is included in both the wage index calculation of the area to which the hospital is reclassified (subject to the rules described above) and the wage index calculation of the urban area where the hospital is physically located.

• Rural areas whose wage index values would be reduced by excluding the wage data for hospitals that have been redesignated to another area continue to have their wage index values calculated as if no redesignation had occurred (otherwise, redesignated rural hospitals are excluded from the calculation of the rural wage index).

• The wage index value for a redesignated rural hospital cannot be reduced below the wage index value for the rural areas of the State in which the hospital is located.

• In cases where urban hospitals have reclassified to rural areas under 42 CFR 412.103, the urban hospital wage data are: (a) Included in the rural wage index calculation, unless doing so would reduce the rural wage index; and (b) included in the urban area where the hospital is physically located.

3. FY 2007 MGCRB Reclassifications

At the time this proposed rule was constructed, the MGCRB had completed its review of FY 2007 reclassification requests. There are 214 hospitals approved by the MGCRB for wage index reclassifications for FY 2007. Because MGCRB wage index reclassifications are effective for 3 years, hospitals reclassified during FY 2005 or FY 2006 are eligible to continue to be reclassified based on prior reclassifications to current MSAs during FY 2007. There were 299 hospitals reclassified for wage index for FY 2006, and 395 hospitals reclassified for wage index for FY 2005. Some of the hospitals that reclassified for FY 2005 and FY 2006 have elected not to continue their reclassifications in FY 2007 because, under the revised labor market area definitions, they are now physically located in the areas to which they previously reclassified. Of all of the hospitals approved for reclassification for FY 2005, FY 2006, and FY 2007, 766 hospitals are in a reclassification status for FY 2007.

Prior to FY 2004, hospitals had been able to apply to be reclassified for purposes of either the wage index or the standardized amount. Section 401 of Pub. L. 108-173 established that all hospitals will be paid on the basis of the large urban standardized amount, beginning with FY 2004. Consequently, all hospitals are paid on the basis of the same standardized amount, which made such reclassifications moot. Although there could still be some benefit in terms of payments for some hospitals under the DSH payment adjustment for operating IPPS, section 402 of Pub. L. 108-173 equalized DSH payment adjustments for rural and urban hospitals, with the exception that the rural DSH adjustment is capped at 12 percent (except that RRCs and, effective for discharges occurring on or after October 1, 2006, MDHs have no cap). (A detailed discussion of this application appears in section IV.I. of the preamble of the FY 2005 IPPS final rule (69 FR 49085). The exclusion of MDHs from the 12 percent DSH cap under Pub. L. 109-171 is discussed under Section IV.F.4. of this preamble.)

Under § 412.273, hospitals that have been reclassified by the MGCRB are permitted to withdraw their applications within 45 days of the publication of a proposed rule. The request for withdrawal of an application for reclassification or termination of an existing 3-year reclassification that would be effective in FY 2007 must be received by the MGCRB within 45 days of the publication of this proposed rule. If a hospital elects to withdraw its wage index application after the MGCRB has issued its decision, but within 45 days of the publication of the proposed rule, it may later cancel its withdrawal in a subsequent year and request the MGCRB to reinstate its wage index reclassification for the remaining fiscal year(s) of the 3-year period (§ 412.273(b)(2)(i)). The request to cancel a prior withdrawal must be in writing to the MGCRB no later than the deadline for submitting reclassification applications for the following fiscal year (§ 412.273(d)). For further information about withdrawing, terminating, or canceling a previous withdrawal or termination of a 3-year reclassification for wage index purposes, we refer the reader to § 412.273, as well as the August 1, 2002 IPPS final rule (67 FR 50065) and the August 1, 2001 IPPS final rule (66 FR 39887).

Changes to the wage index that result from withdrawals of requests for reclassification, wage index corrections, appeals, and the Administrator's review process will be incorporated into the wage index values published in the final rule. These changes may affect not only the wage index value for specific geographic areas, but also the wage index value redesignated hospitals receive; that is, whether they receive the wage index that includes the data for both the hospitals already in the area and the redesignated hospitals. Further, the wage index value for the area from which the hospitals are redesignated may be affected.

Applications for FY 2008 reclassifications are due to the MGCRB by September 1, 2006. We note that this is also the deadline for canceling a previous wage index reclassification withdrawal or termination under § 412.273(d). Applications and other information about MGCRB reclassifications may be obtained, beginning in mid-July 2006, via the CMS Internet Web site at: http://www.cms.hhs.gov/mgcrb/, or by calling the MGCRB at (410) 786-1174. The mailing address of the MGCRB is: 2520 Lord Baltimore Drive, Suite L, Baltimore, MD 21244-2670.

4. Proposed FY 2007 Redesignations Under Section 1886(d)(8)(B) of the Act

Beginning October 1, 1988, section 1886(d)(8)(B) of the Act required us to treat a hospital located in a rural county adjacent to one or more urban areas as being located in the MSA if certain criteria were met. Prior to FY 2005, the rule was that a rural county adjacent to one or more urban areas would be treated as being located in the MSA to which the greatest number of workers in the county commute, if the rural county would otherwise be considered part of an urban area under the standards published in the Federal Register on January 3, 1980 (45 FR 956) for designating MSAs (and New England County Metropolitan Areas (NECMAs)), and if the commuting rates used in determining outlying counties (or, for New England, similar recognized areas) were determined on the basis of the aggregate number of resident workers who commute to (and, if applicable under the standards, from) the central county or counties of all contiguous MSAs (or NECMAs). Hospitals that met the criteria using the January 3, 1980 version of these OMB standards were deemed urban for purposes of the standardized amounts and for purposes of assigning the wage data index.

Effective beginning FY 2005, we use OMB's 2000 CBSA standards and the Census 2000 data to identify counties qualifying for redesignation under section 1886(d)(8)(B) for the purpose of assigning the wage index to the urban area. The chart below contains the listing of the rural counties designated as urban under section 1886(d)(8)(B) of the Act that we are proposing to use for FY 2007. For discharges occurring on or after October 1, 2006, hospitals located in the first column of this chart will be redesignated for purposes of using the wage index of the urban area listed in the second column.

Rural Counties Redesignated as Urban Under Section 1886(d)(8)(B) of the Act
[Based on CBSAs and Census 2000 Data]
Rural county | CBSA
Cherokee, AL | Rome, GA.
Macon, AL | Auburn-Opelika, AL.
Talladega, AL | Anniston-Oxford, AL.
Hot Springs, AR | Hot Springs, AR.
Windham, CT | Hartford-West Hartford-East Hartford, CT.
Bradford, FL | Gainesville, FL.
Flagler, FL | Deltona-Daytona Beach-Ormond Beach, FL.
Hendry, FL | West Palm Beach-Boca Raton-Boynton, FL.
Levy, FL | Gainesville, FL.
Walton, FL | Fort Walton Beach-Crestview-Destin, FL.
Banks, GA | Gainesville, GA.
Chattooga, GA | Chattanooga, TN-GA.
Jackson, GA | Atlanta-Sandy Springs-Marietta, GA.
Lumpkin, GA | Atlanta-Sandy Springs-Marietta, GA.
Morgan, GA | Atlanta-Sandy Springs-Marietta, GA.
Peach, GA | Macon, GA.
Polk, GA | Atlanta-Sandy Springs-Marietta, GA.
Talbot, GA | Columbus, GA-AL.
Bingham, ID | Idaho Falls, ID.
Christian, IL | Springfield, IL.
DeWitt, IL | Bloomington-Normal, IL.
Iroquois, IL | Kankakee-Bradley, IL.
Logan, IL | Springfield, IL.
Mason, IL | Peoria, IL.
Ogle, IL | Rockford, IL.
Clinton, IN | Lafayette, IN.
Henry, IN | Indianapolis, IN.
Spencer, IN | Evansville, IN-KY.
Starke, IN | Gary, IN.
Warren, IN | Lafayette, IN.
Boone, IA | Ames, IA.
Buchanan, IA | Waterloo-Cedar Falls, IA.
Cedar, IA | Iowa City, IA.
Allen, KY | Bowling Green, KY.
Assumption Parish, LA | Baton Rouge, LA.
St. James Parish, LA | Baton Rouge, LA.
Allegan, MI | Holland-Grand Haven, MI.
Montcalm, MI | Grand Rapids-Wyoming, MI.
Oceana, MI | Muskegon-Norton Shores, MI.
Shiawassee, MI | Lansing-East Lansing, MI.
Tuscola, MI | Saginaw-Saginaw Township North, MI.
Fillmore, MN | Rochester, MN.
Dade, MO | Springfield, MO.
Pearl River, MS | Gulfport-Biloxi, MS.
Caswell, NC | Burlington, NC.
Granville, NC | Durham, NC.
Harnett, NC | Raleigh-Cary, NC.
Lincoln, NC | Charlotte-Gastonia-Concord, NC-SC.
Polk, NC | Spartanburg, NC.
Los Alamos, NM | Santa Fe, NM.
Lyon, NV | Carson City, NV.
Cayuga, NY | Syracuse, NY.
Columbia, NY | Albany-Schenectady-Troy, NY.
Genesee, NY | Rochester, NY.
Greene, NY | Albany-Schenectady-Troy, NY.
Schuyler, NY | Ithaca, NY.
Sullivan, NY | Poughkeepsie-Newburgh-Middletown, NY.
Wyoming, NY | Buffalo-Niagara Falls, NY.
Ashtabula, OH | Cleveland-Elyria-Mentor, OH.
Champaign, OH | Springfield, OH.
Columbiana, OH | Youngstown-Warren-Boardman, OH-PA.
Cotton, OK | Lawton, OK.
Linn, OR | Corvallis, OR.
Adams, PA | York-Hanover, PA.
Clinton, PA | Williamsport, PA.
Greene, PA | Pittsburgh, PA.
Monroe, PA | Allentown-Bethlehem-Easton, PA-NJ.
Schuylkill, PA | Reading, PA.
Susquehanna, PA | Binghamton, NY.
Clarendon, SC | Sumter, SC.
Lee, SC | Sumter, SC.
Oconee, SC | Greenville, SC.
Union, SC | Spartanburg, SC.
Meigs, TN | Cleveland, TN.
Bosque, TX | Waco, TX.
Falls, TX | Waco, TX.
Fannin, TX | Dallas-Plano-Irving, TX.
Grimes, TX | College Station-Bryan, TX.
Harrison, TX | Longview, TX.
Henderson, TX | Dallas-Plano-Irving, TX.
Milam, TX | Austin-Round Rock, TX.
Van Zandt, TX | Dallas-Plano-Irving, TX.
Willacy, TX | Brownsville-Harlingen, TX.
Buckingham, VA | Charlottesville, VA.
Floyd, VA | Blacksburg-Christiansburg-Radford, VA.
Middlesex, VA | Virginia Beach-Norfolk-Newport News, VA.
Page, VA | Harrisonburg, VA.
Shenandoah, VA | Winchester, VA-WV.
Island, WA | Seattle-Bellevue-Everett, WA.
Mason, WA | Olympia, WA.
Wahkiakum, WA | Longview, WA.
Jackson, WV | Charleston, WV.
Roane, WV | Charleston, WV.
Green, WI | Madison, WI.
Green Lake, WI | Fond du Lac, WI.
Jefferson, WI | Milwaukee-Waukesha-West Allis, WI.
Walworth, WI | Milwaukee-Waukesha-West Allis, WI.

As in the past, hospitals redesignated under section 1886(d)(8)(B) of the Act are also eligible to be reclassified to a different area by the MGCRB. Affected hospitals are permitted to compare the reclassified wage index for the labor market area in Tables 4C-1 and 4C-2 in the Addendum of this proposed rule into which they have been reclassified by the MGCRB to the wage index for the area to which they are redesignated under section 1886(d)(8)(B) of the Act. Hospitals may withdraw from an MGCRB reclassification within 45 days of the publication of this proposed rule.

5. Reclassifications Under Section 508 of Pub. L. 108-173

Under section 508 of Pub. L. 108-173, a qualifying hospital could appeal the wage index classification otherwise applicable to the hospital and apply for reclassification to another area of the State in which the hospital is located (or, at the discretion of the Secretary, to an area within a contiguous State). We implemented this process through notices published in the Federal Register on January 6, 2004 (69 FR 661), and February 13, 2004 (69 FR 7340). Such reclassifications are applicable to discharges occurring during the 3-year period beginning April 1, 2004, and ending March 31, 2007. Under section 508(b), reclassifications under this process do not affect the wage index computation for any area or for any other hospital and cannot be effected in a budget neutral manner.

Some hospitals currently receiving a section 508 reclassification are eligible to reclassify to that same area under the standard reclassification process as a result of the new labor market definitions that we adopted for FY 2005. The governing regulations indicate that “if a hospital is already reclassified to a given geographic area for wage index purposes for a 3-year period, and submits an application to the same area for either the second or third year of the 3-year period, that application will not be approved.” However in the FY 2006 IPPS final rule (70 FR 47382), we stated that hospitals that indicated in their FY 2007 MGCRB applications that they agreed to waive their section 508 reclassification for the first 6 months of FY 2007 if they were granted a 3-year reclassification under the traditional MGCRB process will not be subject to the rule cited above. Thus, in applying for a 3-year MGCRB reclassification beginning in FY 2007, hospitals that are already reclassified to the same area under section 508 should have indicated in their MGCRB reclassification requests that if they receive the MGCRB reclassification, they would forfeit the section 508 reclassification for the first 6 months of FY 2007.

Under 1886(d)(10)(D)(v) of the Act, CMS has the authority to “establish procedures” under which a hospital may elect to terminate a reclassification before the end of a 3-year period. In the FY 2006 IPPS final rule (70 FR 47382), we discussed our decision to exercise this authority to establish a procedural rule for section 508 hospitals to retain their section 508 reclassification through its expiration on March 31, 2007, and reclassify under the regulations at 42 CFR Part 412, Subpart L, for the second half of FY 2007. The following procedural rules will apply for section 508 hospitals that wish to reclassify for the second half of FY 2007 (April 1, 2007, through September 30, 2007):

For section 508 hospitals applying for individual reclassification under § 412.230—

(a) Hospitals must have applied for reclassification through the MGCRB by the September 1, 2005 deadline.

(b) Section 508 hospitals that are approved by the MGCRB for reclassification will have 45 days from the date this FY 2007 IPPS proposed rule is published to cancel their section 1886(d)(10) reclassification for either the first 6 months of FY 2007 or for the entire fiscal year. Hospitals should note that if they fail to cancel their section 1886(d)(10) reclassification by the deadline, they will not receive their section 508 wage adjustment in FY 2007. To further clarify—

• Hospitals that cancel their section 1886(d)(10) reclassification for the first 6 months receive their section 508 reclassification for October 1, 2006, through March 31, 2007, and their section 1886(d)(10) reclassification for April 1, 2007, through September 30, 2009.

• Hospitals that cancel their section 1886(d)(10) reclassification for the entire year will receive their section 508 reclassification for October 1, 2006, through March 31, 2007 and their home area wage index for April 1, 2007, through September 30, 2007.

• Hospitals that do not cancel their section 1886(d)(10) reclassification will receive their section 1886(d)(10) reclassification, not their section 508 reclassification, for the entire fiscal year.

Hospital groups that include a section 508 hospital were also permitted to submit section 1886(d)(10) reclassification applications by the September 1, 2005 deadline. However, in order for a group reclassification to be approved, either of the following conditions needed to be met:

(a) The section 508 hospital that is part of the group waived its section 508 reclassification for the first half of FY 2007. This is necessary because the regulations at §§ 412.232 and 412.234 state that all hospitals in a county must apply for reclassification as a group. The hospitals either agreed to receive the same reclassification or failed to qualify as a group. The Administrator upheld this policy in an MGCRB appeal for FY 2006.

(b) Each member of the group agreed, in writing, at the time the application was submitted September 1, 2005, that they cancelled the group reclassification if granted for the first 6 months of FY 2007. The section 1886(d)(10) reclassification then is effective only from April 1, 2007, through September 30, 2007. In the FY 2006 final rule, we stated that, under this scenario, the section 508 hospital receives its section 508 reclassification from October 1, 2006, through March 31, 2007, and the remainder of the group receives the home wage index for that time period. For April 1, 2007, through September 30, 2009, the section 508 hospital and the remainder of the group receive the group reclassification. The group may also cancel the April 1, 2007 through September 30, 2009 group reclassification within 45 days of publication of this proposed rule.

We will apply a similar rule for purposes of the out-migration adjustment for FY 2007 discussed in section III.I. of this preamble. The statute states that a hospital cannot receive an out-migration adjustment if it is reclassified under section 1886(d)(10) of the Act. Therefore, eligible hospitals that are not reclassified during any part of FY 2007 will, by default, receive an out-migration adjustment during that time period. If the hospital is reclassified for all of FY 2007, the hospital will be ineligible for the out-migration adjustment. If a hospital has a half fiscal year reclassification, the hospital will be eligible for the out-migration adjustment for the portion of the fiscal year that it is not reclassified.

The procedural rules described in the FY 2006 IPPS final rule were intended to address specific circumstances where individual and group reclassifications involve a section 508 hospital. The rules were designed to recognize the special circumstances of section 508 hospital reclassifications ending mid-year during FY 2007 and were intended to provide flexibility in our regulations that would allow previously approved reclassifications to continue through March 31, 2007, and new reclassifications to begin April 1, 2007, upon the conclusion of the section 508 reclassifications. We have received questions about the application of these special procedural rules to non-section 508 hospitals that are part of group applications that previously were awarded an individual reclassification that continues into FY 2007. These hospitals are concerned that the procedural rules imply that such prior reclassification would be terminated beginning October 1, 2006, because the rules specify that “the remainder of the group receives the home wage index” for the period October 1, 2006, through March 31, 2007, if the group reclassification application specified that the section 1886(d)(10) group reclassification would not begin until April 1, 2007. We did not specifically contemplate preexisting individual reclassifications when we drafted the special procedural rules for group reclassifications that involve section 508 hospitals. However, we did not intend to adopt a less favorable policy for non-section 508 hospitals in a group with a pending individual geographic reclassification than we did for section 508 hospitals. Thus, we are clarifying our procedural rule with respect to non-section 508 hospitals with preexisting individual reclassifications that are part of group reclassifications that include a section 508 hospital.

For the first half of FY 2007, we intend to either apply (a) the area wage index where the hospital is physically located if there is no reclassification pending, or (b) the hospital's individual reclassification wage index if the hospital was part of a group awarded a group reclassification and the group followed the procedural rules for postponing reclassification until April 1, 2007. However, once the hospital begins its new section 1886(d)(10) reclassification for the period April 1, 2007, through September 30, 2009, any prior reclassifications are permanently terminated, consistent with 42 CFR 412.274(b)(2)(ii). In fact, because any withdrawal of the group reclassification must be received within 45 days of the publication of this proposed rule, failure to meet this deadline would effectively permanently terminate any remaining years of the individual reclassification. Further, a non-section 508 hospital that is part of a group reclassification that includes a section 508 hospital that will not begin until April 1, 2007, will have the option of canceling its preexisting reclassification for the entire year consistent with section 412.274(b)(1)(ii) within 45 days of publication of this proposed rule. Under this scenario, the hospital would receive its home wage index for the first half of the year and the approved group reclassification wage index for the second half of the year. We are also reiterating that the special procedural rules that we have adopted for half fiscal year reclassifications and terminations are intended only to address the special circumstances created by section 508 of Pub. L. 108-173 with respect to reclassifications beginning and ending mid-way through a fiscal year. These special procedural rules do not change any of the permanent provisions currently in effect with respect to reclassifications under subpart L of 42 CFR Part 412.

As an example: Suppose Hospital A is a non-section 508 hospital that was part of a group reclassification application for FYs 2007 through 2009 and such group contained a section 508 hospital. In accordance with our special section 508 procedural rule, the entire group would be considered to have agreed it would waive its group reclassification for the first half of FY 2007. Hospital A also is currently (for FY 2006) reclassified from Area X to Area Y for FYs 2006 through 2008. For the first half of FY 2007, Hospital A will continue to receive its individual reclassification to Area Y; for the second half of FY 2007, it will receive the group reclassification.

Hospital A may terminate its individual reclassification (termination must be received within 45 days of publication of this proposed rule), in which case it will receive its home wage index for the first half of FY 2007 and the group reclassification for the second half. Acceptance of the group reclassification effectively permanently terminates the individual reclassification to Area Y.

Hospital A's group also has the option of withdrawing its group reclassification (withdrawal must be received within 45 days of publication of this proposed rule and all members of the group must agree). If such withdrawal occurs, the default rule is that Hospital A receives its FYs 2006 through 2008 individual reclassification for all of FY 2007.

If Hospital A wishes to receive its home wage index (plus any out-migration adjustment, if applicable), it must also terminate the individual reclassification for all of FY 2007 (termination must be received within 45 days of publication of this proposed rule).

We show the reclassifications effective under the one-time appeal process in Table 9B in the Addendum to this proposed rule. All section 1886(d)(10) reclassifications are listed in Table 9A in the Addendum to this proposed rule.

6. Proposed Wage Indices for Reclassified Hospitals and Proposed Reclassification Budget Neutrality Factor

Under the procedural rules described under section III.H.5. of this preamble, different wage indices may be in effect for the first 6 months and the second 6 months of FY 2007. Specifically, section 508 hospitals that were approved for individual reclassification under § 412.230 have the opportunity to cancel their section 1886(d)(10) reclassification for the first 6 months within 45 days of the publication of this proposed rule and receive their section 508 reclassifications for October 1, 2006, through March 31, 2007, and their section 1886(d)(10) reclassifications for April 1, 2007, through September 30, 2009. The special procedural rule also applied to urban county group applications including a section 508 hospital. In order for the hospital to retain its section 508 reclassification for the first 6 months, each member of the group must have agreed in writing, at the time the application was submitted, that they cancel the group reclassification if granted for the first 6 months of FY 2007. Under this scenario, the section 508 hospital receives its section 508 reclassification from October 1, 2006, through March 31, 2007, and the remainder of the group receives their preexisting individual reclassification or home wage index for that time period. For April 1, 2007, through September 30, 2009, the section 508 hospital and the remainder of the group receive the group reclassification.

The half fiscal year section 1886(d)(10) reclassifications permitted under these procedural rules present issues related to the calculation of the reclassified wage indices and reclassification budget neutrality factor. Section 1886(d)(8)(C) of the Act provides requirements for determining the wage index values for both hospitals located in rural counties deemed urban under section 1886(d)(8)(B) of the Act and hospitals that were reclassified as a result of the MGCRB decisions under section 1886(d)(10) of the Act. As provided in the statute, we are required to calculate a separate wage index for hospitals reclassified to an area if including the wage data for the reclassified hospitals would reduce the area wage index by more than 1 percent. Conceivably, we could calculate one reclassified wage index for FY 2007 that would include the wage data of hospitals that are reclassified to the area for any part of FY 2007. However, we are aware of situations in which including the wage data from hospitals only reclassifying for the second half of the fiscal year would change the wage index for reclassified hospitals for the entire fiscal year, even though the reclassification would only be in effect during the second half of the fiscal year. We believe it would be unfair to have wage indices affected for the first half of the fiscal year by including the wage data for hospital reclassifications in effect only for the second half of the fiscal year. We believe that the most equitable approach to this issue would be to calculate separate wage indices for reclassified hospitals for the first and second half of FY 2007. Therefore, we are proposing to issue two separate reclassified wage indices for affected areas (one effective from October 1, 2006, through March 31, 2007, and a second reclassified wage index effective April 1, 2007, through September 30, 2007). The reclassified wage indices would be calculated based on the wage data for hospitals reclassified to the area in the respective half of the fiscal year.

The half fiscal year reclassifications also have implications for budget neutrality. The overall effect of geographic reclassification is required by section 1886(d)(8)(D) of the Act to be budget neutral. We apply an adjustment to the IPPS standardized amounts to ensure that the effects of geographic reclassification are budget neutral. Because we are proposing to calculate two separate reclassification wage indices for the first half and the second half of FY 2007, it is conceivable that we could apply budget neutrality separately for first and second half fiscal year reclassifications. Under this scenario, we would issue two separate IPPS standardized amounts for FY 2007. However, we believe this approach would be administratively burdensome and perhaps cause confusion in the provider community. For this reason, we are proposing an alternative approach. We are proposing to calculate one budget neutrality adjustment that reflects the average of the adjustments required for first and second half fiscal year reclassifications, respectively, as discussed in section II.A.4.b. of the Addendum to this proposed rule.

I. Proposed FY 2007 Wage Index Adjustment Based on Commuting Patterns of Hospital Employees

(If you choose to comment on issues in this section, please include the caption “Out-Migration Adjustment” at the beginning of your comment.)

In accordance with the broad discretion under section 1886(d)(13) of the Act, as added by section 505 of Pub. L. 108-173, beginning with FY 2005, we established a process to make adjustments to the hospital wage index based on commuting patterns of hospital employees. The process, outlined in the FY 2005 IPPS final rule (69 FR 49061), provides for an increase in the wage index for hospitals located in certain counties that have a relatively high percentage of hospital employees who reside in the county but work in a different county (or counties) with a higher wage index. Such adjustments to the wage index are effective for 3 years, unless a hospital requests to waive the application of the adjustment. A county will not lose its status as a qualifying county due to wage index changes during the 3-year period, and counties will receive the same wage index increase for those 3 years. However, a county that qualifies in any given year may no longer qualify after the 3-year period, or it may qualify but receive a different adjustment to the wage index level. Hospitals that receive this adjustment to their wage index are not eligible for reclassification under section 1886(d)(8) or section 1886(d)(10) of the Act. Adjustments under this provision are not subject to the IPPS budget neutrality requirements under section 1886(d)(3)(E) or section 1886(d)(8)(D) of the Act.

Hospitals located in counties that qualify for the wage index adjustment are to receive an increase in the wage index that is equal to the average of the differences between the wage indices of the labor market area(s) with higher wage indices and the wage index of the resident county, weighted by the overall percentage of hospital workers residing in the qualifying county who are employed in any labor market area with a higher wage index. We have employed the prereclassified wage indices in making these calculations.

We are proposing that hospitals located in the qualifying counties identified in Table 4J in the Addendum to this proposed rule that have not already reclassified through section 1886(d)(10) of the Act, redesignated through section 1886(d)(8) of the Act, received a section 508 reclassification, or requested to waive the application of the out-migration adjustment will receive the wage index adjustment listed in the table for FY 2007. We used the same formula described in the FY 2005 final rule (69 FR 49064) to calculate the out-migration adjustment. This proposed adjustment was calculated as follows:

Step 1. Subtract the wage index for the qualifying county from the wage index for the higher wage area(s).

Step 2. Divide the number of hospital employees residing in the qualifying county who are employed in such higher wage index area by the total number of hospital employees residing in the qualifying county who are employed in any higher wage index area. Multiply this result by the result obtained in Step 1.

Step 3. Sum the products resulting from Step 2 (if the qualifying county has workers commuting to more than one higher wage area).

Step 4. Multiply the result from Step 3 by the percentage of hospital employees who are residing in the qualifying county and who are employed in any higher wage index area.

The proposed adjustments calculated for qualifying hospitals are listed in Table 4J in the Addendum to this proposed rule. These adjustments would be effective for each county for a period of 3 fiscal years. Hospitals that received the adjustment in FY 2006 will be eligible to retain that same adjustment for FY 2007. For hospitals in newly qualified counties, adjustments to the wage index are effective for 3 years, beginning with discharges occurring on or after October 1, 2006.

As previously noted, hospitals receiving the wage index adjustment under section 1886(d)(13)(F) of the Act are not eligible for reclassification under sections 1886(d)(8) or (d)(10) of the Act, or under section 508 of Pub. L. 108-173, unless they waive such out-migration adjustment. As announced in the FYs 2005 and 2006 final rules, hospitals redesignated under section 1886(d)(8) of the Act or reclassified under section 1886(d)(10) of the Act or under section 508 of Pub. L. 108-173 will be deemed to have chosen to retain their redesignation or reclassification, unless they explicitly notify CMS that they elect to receive the out-migration adjustment instead within 45 days from the publication of this proposed rule. Waiver notification should be sent to the following address: Centers for Medicare and Medicaid Services, Center for Medicare Management, Attention: Wage Index Adjustment Waivers, Division of Acute Care, Room C4-08-06, 7500 Security Boulevard, Baltimore, MD 21244-1850.

In addition, under § 412.273, hospitals that have been reclassified by the MGCRB are permitted to terminate existing 3-year reclassifications within 45 days of publication of this proposed rule. Hospitals that are eligible to receive the out-migration wage index adjustment and that withdraw their application for reclassification automatically receive the wage index adjustment listed in Table 4J in the Addendum to this proposed rule. Requests for withdrawal of an application for reclassification or termination of an existing 3-year reclassification will be effective in FY 2007 and must be received by the MGCRB within 45 days of the publication of this proposed rule. Requests to waive section 1886(d)(8) redesignations for FY 2007 must be received by CMS within 45 days of the publication of this proposed rule. In addition, hospitals that wished to retain their redesignation/reclassification under section 1886(d)(8), section 1886(d)(10), or section 508 (instead of receiving the out-migration adjustment) for FY 2007 do not need to submit a formal request to CMS; they will automatically retain their redesignation/reclassification status for FY 2007. Hospitals should carefully review the wage index adjustment that they would receive under this provision (as listed in Table 2 in the Addendum to this proposed rule) in comparison to the wage index adjustment that they would receive under the MGCRB reclassification (Table 9 in the Addendum to this proposed rule).

J. Process for Requests for Wage Index Data Corrections

(If you choose to comment on issues in this section, please include the caption “Wage Index Data Corrections” at the beginning of your comment.)

In the FY 2005 IPPS final rule (68 FR 27194), we revised the process and timetable for application for development of the wage index, beginning with the FY 2005 wage index. The preliminary and unaudited Worksheet S-3 wage data and occupational mix survey files for FY 2007 were made available on October 7, 2005, through the Internet on the CMS Web site at: http://www.cms.hhs.gov/AcuteInpatientPPS. In a memorandum dated October 7, 2005, we instructed all Medicare fiscal intermediaries to inform the IPPS hospitals they service of the availability of the wage index data files and the process and timeframe for requesting revisions (including the specific deadlines listed below). We also instructed the fiscal intermediaries to advise hospitals that these data are also made available directly through their representative hospital organizations.

If a hospital wished to request a change to its data as shown in the October 7, 2005 wage and occupational mix data files, the hospital was to submit corrections along with complete, detailed supporting documentation to its fiscal intermediary by December 5, 2005. Hospitals were notified of this deadline and of all other possible deadlines and requirements, including the requirement to review and verify their data as posted on the preliminary wage index data file on the Internet, through the October 7, 2005 memorandum referenced above.

In the October 7, 2005 memorandum, we also specified that a hospital could only request revisions to the occupational mix data for the reporting period that the hospital used in its original FY 2005 wage index occupational mix survey. That is, a hospital that submitted occupational mix data for the 12-month reporting period could not switch to submitting data for the 4-week reporting period and vice versa. Further, a hospital could not submit an occupational mix survey for the periods beginning before January 1, 2003, or after January 11, 2004. In addition, a hospital that did not submit an occupational mix survey for the FY 2005 wage index was not permitted to submit a survey for the FY 2007 wage index.

The fiscal intermediaries notified the hospitals by mid-February 2006 of any changes to the wage index data as a result of the desk reviews and the resolution of the hospitals' early December 2005 change requests. The fiscal intermediaries also submitted the revised data to CMS by mid-February 2006. CMS published the proposed wage index PUFs that included hospitals' revised wage data on February 24, 2006. Also, in a memorandum dated February 14, 2006, we instructed fiscal intermediaries to notify all hospitals regarding the availability of the proposed wage index PUFs and the criteria and process for requesting corrections and revisions to the wage index data. Hospitals had until March 13, 2006, to submit requests to the fiscal intermediaries for reconsideration of adjustments made by the fiscal intermediaries as a result of the desk review, and to correct errors due to CMS's or the fiscal intermediary's mishandling of the wage index data. Hospitals were also required to submit sufficient documentation to support their requests.

After reviewing requested changes submitted by hospitals, fiscal intermediaries are to transmit any additional revisions resulting from the hospitals' reconsideration requests by April 14, 2006. The deadline for a hospital to request CMS intervention in cases where the hospital disagreed with the fiscal intermediary's policy interpretations is April 21, 2006.

Hospitals should also examine Table 2 in the Addendum to this proposed rule. Table 2 contains each hospital's adjusted average hourly wage used to construct the wage index values for the past 3 years, including the FY 2003 data used to construct the proposed FY 2007 wage index. We note that the hospital average hourly wages shown in Table 2 only reflect changes made to a hospital's data and transmitted to CMS by March 1, 2006.

We will release a final wage data PUF in early May 2006 to hospital associations and the public on the Internet at http://www.cms.hhs.gov/AcuteInpatientPPS. The May 2006 PUF will be made available solely for the limited purpose of identifying any potential errors made by CMS or the fiscal intermediary in the entry of the final wage data that result from the correction process described above (revisions submitted to CMS by the fiscal intermediaries by April 14, 2006). If, after reviewing the May 2006 final file, a hospital believes that its wage data are incorrect due to a fiscal intermediary or CMS error in the entry or tabulation of the final wage data, it should send a letter to both its fiscal intermediary and CMS outlining why the hospital believes an error exists and to provide all supporting information, including relevant dates (for example, when it first became aware of the error). CMS and the fiscal intermediaries must receive these requests no later than June 12, 2006. (We note that the June 12, 2006 date is revised from the June 9, 2006 date originally specified in the October 7, 2005 letter to hospitals.) Requests mailed to CMS should be sent to: Centers for Medicare & Medicaid Services, Center for Medicare Management, Attention: Wage Index Team, Division of Acute Care, C4-08-06, 7500 Security Boulevard, Baltimore, MD 21244-1850.

Each request also must be sent to the fiscal intermediary. The fiscal intermediary will review requests upon receipt and contact CMS immediately to discuss its findings.

At this point in the process, that is, after the release of the May 2006 wage index data file, changes to the hospital wage data will only be made in those very limited situations involving an error by the fiscal intermediary or CMS that the hospital could not have known about before its review of the final wage index data file. Specifically, neither the intermediary nor CMS will approve the following types of requests:

• Requests for wage data corrections that were submitted too late to be included in the data transmitted to CMS by fiscal intermediaries on or before April 14, 2006.

• Requests for correction of errors that were not, but could have been, identified during the hospital's review of the February 24, 2006 wage index data file.

• Requests to revisit factual determinations or policy interpretations made by the fiscal intermediary or CMS during the wage index data correction process.

Verified corrections to the wage index received timely by CMS and the fiscal intermediaries (that is, by June 12, 2006) will be incorporated into the final wage index to be published by August 1, 2006, to be effective October 1, 2006.

We created the processes described above to resolve all substantive wage index data correction disputes before we finalize the wage and occupational mix data for the FY 2007 payment rates. Accordingly, hospitals that do not meet the procedural deadlines set forth above will not be afforded a later opportunity to submit wage index data corrections or to dispute the fiscal intermediary's decision with respect to requested changes. Specifically, our policy is that hospitals that do not meet the procedural deadlines set forth above will not be permitted to challenge later, before the Provider Reimbursement Review Board, the failure of CMS to make a requested data revision. (See W. A. Foote Memorial Hospital v. Shalala, No. 99-CV-75202-DT (E.D. Mich. 2001) and Palisades General Hospital v. Thompson, No. 99-1230 (D.D.C. 2003.) We refer the reader also to the FY 2000 final rule (64 FR 41513) for a discussion of the parameters for appealing to the Provider Reimbursement Review Board for wage index data corrections.

Again, we believe the wage index data correction process described above provides hospitals with sufficient opportunity to bring errors in their wage index data to the fiscal intermediaries' attention. Moreover, because hospitals will have access to the final wage index data by early May 2006, they have the opportunity to detect any data entry or tabulation errors made by the fiscal intermediary or CMS before the development and publication of the final FY 2007 wage index by August 1, 2006, and the implementation of the FY 2007 wage index on October 1, 2006. If hospitals avail themselves of the opportunities afforded to provide and make corrections to the wage data, the wage index implemented on October 1 should be accurate. Nevertheless, in the event that errors are identified by hospitals and brought to our attention after June 12, 2006, we retain the right to make midyear changes to the wage index under very limited circumstances.

Specifically, in accordance with § 412.64(k)(1) of our existing regulations, we make midyear corrections to the wage index for an area only if a hospital can show that: (1) The fiscal intermediary or CMS made an error in tabulating its data; and (2) the requesting hospital could not have known about the error or did not have an opportunity to correct the error, before the beginning of the fiscal year. For purposes of this provision, “before the beginning of the fiscal year” means by the June deadline for making corrections to the wage data for the following fiscal year's wage index. This provision is not available to a hospital seeking to revise another hospital's data that may be affecting the requesting hospital's wage index for the labor market area. As indicated earlier, since CMS makes the wage data available to a hospital on the CMS Web site prior to publishing both the proposed and final IPPS rules, and the fiscal intermediaries notify hospitals directly of any wage data changes after completing their desk reviews, we do not expect that midyear corrections would be necessary. However, under our current policy, if the correction of a data error changes the wage index value for an area, the revised wage index value will be effective prospectively from the date the correction is made.

In the FY 2006 IPPS final rule (70 FR 47385), we revised § 412.64(k)(2) to specify that, effective on October 1, 2005, that is beginning with the FY 2006 wage index, a change to the wage index can be made retroactive to the beginning of the Federal fiscal year only when: (1) The fiscal intermediary or CMS made an error in tabulating data used for the wage index calculation; (2) the hospital knew about the error and requested that the fiscal intermediary and CMS correct the error using the established process and within the established schedule for requesting corrections to the wage data, before the beginning of the fiscal year for the applicable IPPS update (that is, by the June 12, 2006 deadline for the FY 2007 wage index); and (3) CMS agreed that the fiscal intermediary or CMS made an error in tabulating the hospital's wage data and the wage index should be corrected.

In those circumstances where a hospital requests a correction to its wage data before CMS calculates the final wage index (that is, by the June deadline), and CMS acknowledges that the error in the hospital's wage data was caused by CMS's or the fiscal intermediary's mishandling of the data, we believe that the hospital should not be penalized by our delay in publishing or implementing the correction. As with our current policy, we indicated that the provision is not available to a hospital seeking to revise another hospital's data. In addition, the provision cannot be used to correct prior years' wage data; it can only be used for the current Federal fiscal year. In other situations, we continue to believe that it is appropriate to make prospective corrections to the wage index in those circumstances where a hospital could not have known about or did not have the opportunity to correct the fiscal intermediary's or CMS's error before the beginning of the fiscal year (that is, by the June deadline). We note that, as with prospective changes to the wage index, the final retroactive correction will be made irrespective of whether the change increases or decreases a hospital's payment rate. In addition, we note that the policy of retroactive adjustment will still apply in those instances where a judicial decision reverses a CMS denial of a hospital's wage data revision request.

K. Labor-Related Share for the Wage Index for FY 2007

(If you choose to comment on issues in this section, please include the caption “Labor-Related Share” at the beginning of your comment.)

Section 1886(d)(3)(E) of the Act directs the Secretary to adjust the proportion of the national prospective payment system base payment rates that are attributable to wages and wage-related costs by a factor that reflects the relative differences in labor costs among geographic areas. It also directs the Secretary to estimate from time to time the proportion of hospital costs that are labor-related: “The Secretary shall adjust the proportion (as estimated by the Secretary from time to time) of hospitals' costs which are attributable to wages and wage-related costs of the DRG prospective payment rates * * *” We refer to the portion of hospital costs attributable to wages and wage-related costs as the labor-related share. The labor-related share of the prospective payment rate is adjusted by an index of relative labor costs, which is referred to as the wage index.

In its June 2001 Report to Congress, MedPAC recommended that the Secretary “should reevaluate current assumptions about the proportion of providers’ costs that reflect resources purchased in local and national markets.” (Report to the Congress: Medicare in Rural America, Recommendation 4D, page 80.) MedPAC recommended that the labor-related share include the weights for wages and salaries, fringe benefits, contract labor, and other labor-related costs for locally purchased inputs only. MedPAC noted that this would likely result in a lower labor-related share, which would decrease the amount of the national base payment amount adjusted by the wage index. As a result, hospitals located in low-wage markets (those with a wage index less than 1.0) would receive higher payments, while those located in high-wage labor markets would receive lower payments.

In our proposed and final rules updating the IPPS for FY 2003 (67 FR 31447, May 9, 2002 and 67 FR 50041, August 1, 2002), we discussed the methodology that we have used to determine the labor-related share. We noted that, at that time, the results of employing that methodology suggested that an increase in the labor-related share (from 71.066 percent to 72.495 percent) was warranted. However, we decided not to propose such an increase in the labor-related share until we conducted further research to determine whether a different methodology for determining the labor-related share should be adopted.

Section 403 of Pub. L. 108-173 amended section 1886(d)(3)(E) of the Act to provide that the Secretary must employ 62 percent as the labor-related share unless this “would result in lower payments to a hospital than would otherwise be made.” However, this provision of Pub. L. 108-173 did not change the legal requirement that the Secretary estimate “from time to time” the proportion of hospitals' costs that are “attributable to wages and wage-related costs.” In fact, section 404 of Pub. L. 108-173 required the Secretary to develop a frequency for revising the weights used in the hospital market basket, including the labor-related share, to reflect the most current data more frequently than once every 5 years. We believe that this reflected Congressional intent that hospitals receive payment based on either a 62-percent labor-related share, or the labor-related share estimated from time to time by the Secretary, depending on which labor-related share resulted in a higher payment.

Section 404 further required us to include in the final IPPS rule for FY 2006 an explanation of the reasons for, and options considered, in determining the frequency for revising the weights used in the hospital market basket, including the labor-related share. In addition, we have continued our research into the assumptions employed in calculating the labor-related share. Our research involves analyzing the compensation share separately for urban and rural hospitals, using regression analysis to determine the proportion of costs influenced by the area wage index, and exploring alternative methodologies to determine whether all or only a portion of professional fees and nonlabor intensive services should be considered labor-related.

In the FY 2006 IPPS final rule (70 FR 47392), we presented our analysis and conclusions regarding the frequency and methodology for updating the labor-related share for FY 2006. We also recalculated a labor-related share of 69.731 percent, using the FY 2002-based PPS market basket for discharges occurring on or after October 1, 2005. In addition, we implemented this revised and rebased labor-related share in a budget neutral manner, but consistent with section 1886(d)(3)(E) of the Act, we did not take into account the additional payments that would be made as a result of hospitals with a wage index less than or equal to 1.0 being paid using a labor-related share lower than the labor-related share of hospitals with a wage index greater than 1.0.

The labor-related share is used to determine the proportion of the national PPS base payment rate to which the area wage index is applied. In this proposed rule, we are not making any changes to the national average proportion of operating costs that are attributable to wages and salaries, fringe benefits, professional fees, contract labor, and labor intensive services. Therefore, we are continuing to use a labor-related share of 69.731 percent for discharges occurring on or after October 1, 2006, as reflected in Tables 1A and 1B in the Addendum to this proposed rule. We note that section 403 of Pub. L. 108-173 amended sections 1886(d)(3)(E) and 1886(d)(9)(C)(iv) of the Act to provide that the Secretary must employ 62 percent as the labor-related share unless this employment “would result in lower payments to a hospital than would otherwise be made.”

We also are continuing to use a labor-related share for the Puerto Rico-specific standardized amounts of 58.7 percent for discharges occurring on or after October 1, 2006. Consistent with our methodology for determining the national labor-related share, we added the Puerto Rico-specific relative weights for wages and salaries, fringe benefits, contract labor, nonmedical professional fees, and other labor-intensive services to determine the labor-related share. Puerto Rico hospitals are paid based on 75 percent of the national standardized amounts and 25 percent of the Puerto Rico-specific standardized amounts. For Puerto Rico hospitals, the national labor-related share will always be 62 percent because the wage index for all Puerto Rico hospitals is less than 1.0. A Puerto Rico-specific wage index is applied to the Puerto Rico-specific portion of payments to the hospitals. The labor-related share of a hospital's Puerto Rico-specific rate will be either 62 percent or the Puerto Rico-specific labor-related share depending on which results in higher payments to the hospital. If the hospital has a Puerto Rico-specific wage index of greater than 1.0, we will set the hospital's rates using a labor-related share of 62 percent for the 25 percent portion of the hospital's payment determined by the Puerto Rico standardized amounts because this amount will result in higher payments. Conversely, a hospital with a Puerto Rico-specific wage index of less than 1.0 will be paid using the Puerto Rico-specific labor-related share of 58.7 percent of the Puerto Rico-specific rates because the lower labor-related share will result in higher payments. The Puerto Rico labor-related share of 58.7 percent for FY 2007 is reflected in the Table 1C of the Addendum of this proposed rule.

L. Proxy for the Hospital Market Basket

(If you choose to comment on issues in this section, please include the caption “Hospital Market Basket Proxy” at the beginning of your comment.)

In the FY 2006 IPPS final rule (70 FR 47387), we changed the base year cost structure for the IPPS hospital index for the hospital market basket for operating costs from FY 1997 to FY 2002. As discussed in that final rule, the IPPS hospital index primarily uses the BLS data as price proxies, which are grouped in one of the three BLS categories. The categories are Producer Price Indexes (PPIs), Consumer Price Indexes (CPIs), and Employment Cost Indexes (ECIs), discussed in detail in the FY 2006 IPPS final rule (70 FR 47388 through 47391). We evaluate the price proxies using the criteria of reliability, timeliness, availability, and relevance. The PPIs, CPIs, and ECIs selected by us and used for this proposed rule meet these criteria as described in the FY 2006 IPPS final rule. We believe they continue to be the best measures of price changes for the cost categories.

Beginning April 2006 with the publication of March 2006 data, the BLS' ECI will use a different classification system, the North American Industrial Classification System (NAICS), instead of the Standard Industrial Codes (SIC), which will no longer exist. We have consistently used the ECI as the data source for our wages and salaries and other price proxies in the IPPS market basket and are not making any changes to the usage at this time. However, we are soliciting comments on our continued use of the BLS ECI data in light of the BLS change in system usage to the NAICS-based ECI.

IV. Other Decisions and Proposed Changes to the IPPS for Operating Costs and GME Costs

A. Reporting of Hospital Quality Data for Annual Hospital Payment Update (§ 412.64(d)(2))

(If you choose to comment on issues in this section, please include the caption “Hospital Quality Data” at the beginning of your comment.)

1. Background

Section 5001(a) of Public Law 109-171 (DRA of 2005) sets out new requirements for the Reporting Hospital Quality Data for Annual Payment Update (RHQDAPU) program. The RHQDAPU program was established to implement section 501(b) of Public Law 108-173 (MMA). It builds on our ongoing voluntary Hospital Quality Initiative which is intended to empower consumers with quality of care information to make more informed decisions about their health care while also encouraging hospitals and clinicians to improve the quality of care.

Section 5001(a) of Public Law 109-171 revises the mechanism used to update the standardized amount for payment for hospital inpatient operating costs. New sections 1886(b)(3)(B)(viii)(I) and (II) of the Act provide that the payment update for FY 2007 and each subsequent fiscal year will be reduced by 2.0 percentage points for any “subsection (d) hospital” that does not submit certain quality data in a form and manner, and at a time, specified by the Secretary.

New sections 1886(b)(3)(B)(viii)(III) and (IV) of the Act require that we expand the “starter set” of 10 quality measures that we have used since 2003. In expanding these measures, we must begin to adopt the baseline set of performance measures as set forth in a 2005 report issued by the Institute of Medicine (IOM) of the National Academy of Sciences under section 238(b) of Public Law 108-173, effective for payments beginning with FY 2007. The IOM measures include the Hospital Quality Alliance (HQA) measures, the Hospital Consumer Assessment of Healthcare Providers and Systems (HCAHPS®) patient perspective survey, and three structural measures. We discuss the IOM report more fully in section IV.B. of the preamble to this proposed rule.

New sections 1886(b)(3)(B)(viii)(V) and (VI) of the Act require that, effective for payments beginning with FY 2008, we add other quality measures that reflect consensus among affected parties, and provide the Secretary with the discretion to replace any quality measures or indicators in appropriate cases, such as where all hospitals are effectively in compliance with a measure, or the measures or indicators have been subsequently shown to not represent the best clinical practice. Thus, the Secretary has broad discretion to replace measures on the basis that they are not appropriate.

New section 1886(b)(3)(B)(viii)(VII) of the Act requires that we establish procedures for making quality data available to the public after ensuring that a hospital has the opportunity to review, in advance, its data that are to be made public. In addition, this section requires that we report quality measures of process, structure, outcome, patients' perspective on care, efficiency, and costs of care that relate to services furnished in inpatient settings on the CMS Web site.

Like the provisions of section 501(b) of Public Law 108-173, the provisions of section 5001(a) of Public Law 109-171 do not apply to hospitals and hospital units excluded from the IPPS, or to payments to hospitals under other prospective payment systems such as the hospital outpatient PPS. New section 1886(b)(3)(B(viii)(I) of the Act also provides that any reduction will apply only with respect to the fiscal year involved, and will not be taken into account for computing the applicable percentage increase for a subsequent fiscal year.

Initially, section 1886(b)(3)(B)(vii) of the Act provided for a reduction of 0.4 percentage points to the update percentage increase for each of FYs 2005 through 2007 for any “subsection (d) hospital” that did not submit data on the starter set of 10 quality measures established by the Secretary of Health and Human Services as of November 1, 2003. Section 5001(a) of Public Law 109-171 limits the 0.4 percentage point reduction to FY 2005 and FY 2006, and establishes a 2.0 percentage point reduction for FY 2007 and subsequent fiscal years.

The starter set of 10 quality measures we established as of November 1, 2003 are:

Heart Attack (Acute Myocardial Infarction)

• Was aspirin given to the patient upon arrival to the hospital?

• Was aspirin prescribed when the patient was discharged?

• Was a beta-blocker given to the patient upon arrival to the hospital?

• Was a beta-blocker prescribed when the patient was discharged?

• Was an ACE inhibitor given for the patient with heart failure?

Heart Failure (HF)

• Did the patient get an assessment of his or her heart function?

• Was an ACE inhibitor given to the patient?

Pneumonia (PNE)

• Was an antibiotic given to the patient in a timely way?

• Had the patient received a pneumococcal vaccination?

• Was the patient's oxygen level assessed?

We adopted these measures after the Secretary of HHS initiated a partnership with several collaborators intended to promote hospital quality improvement and public reporting of hospital quality information. These collaborators include the American Hospital Association, the Federation of American Hospitals, the Association of American Medical Colleges, the Joint Commission on Accreditation of Healthcare Organizations (JCAHO), the National Quality Forum (NQF), the American Medical Association, the Consumer-Purchaser Disclosure Project, the American Association of Retired Persons, the American Federation of Labor-Congress of Industrial Organizations, the Agency for Healthcare Research and Quality, as well as CMS, Quality Improvement Organizations (QIOs), and others.

This collaboration, originally known as the National Voluntary Hospital Reporting Initiative, is now known as the HQA. Hospital data are submitted through the QualityNet Exchange secure Web site (www.qnetexchange.org). This Web site meets or exceeds all current Health Insurance Portability and Accountability Act requirements. Data from this initiative were initially used to populate the Hospital Compare Web site, www.hospitalcompare.hhs.gov. This Web site assists beneficiaries and the general public by providing information on hospital quality of care for consumers who need to select a hospital. It further serves to encourage consumers to work with their doctors and hospitals to discuss the quality of care they provide to patients, thereby providing an additional incentive to improve the quality of that care.

This starter set of 10 quality measures has been endorsed by the NQF and is a subset of measures currently collected for the JCAHO as part of its certification program. We chose these 10 quality measures in order to collect data that will: (1) Provide useful and valid information about hospital quality to the public; (2) provide hospitals with a sense of predictability about public reporting expectations; (3) begin to standardize data and data collection mechanisms; and (4) foster hospital quality improvement. Many hospitals have participated in the HQA, and are continuing to submit data to the QIO Clinical Warehouse. Since the HQA released the starter set of 10 quality measures, it has continued to release additional quality measures, and has released 11 additional NQF-endorsed quality measures to date. Many HQA-participating hospitals have been voluntarily reporting on these additional quality measures, although only the starter set of 10 quality measures were subject to potential reductions in hospitals' annual payment update percentages under section 501(b) of Public Law 108-173.

To implement section 501(b) of Public Law 108-173, we created the RHQDAPU program. Originally, the program set out the form, manner, and timeframes for hospitals to submit data regarding the starter set of 10 quality measures. For the FY 2005 payment update, we permitted hospitals to withdraw from the RHQDAPU program at any time up to August 1, 2004. Hospitals that withdrew from the program did not receive the full payment update and, instead, received a reduction of 0.4 percentage points in their payment update. We did not establish a deadline for withdrawal for the FY 2006 payment update.

For FY 2006, in order to receive a full payment update, hospitals were required to continuously submit to the QIO Clinical Warehouse abstracted data regarding the starter set of 10 quality measures each calendar quarter according to the schedule found on the QualityNet Exchange Web site. New participants were required to submit these data using the same schedule, starting with the quarter they began discharging patients. The data for each quarter had to be submitted on time and pass all of the edits and consistency checks required in the QIO Clinical Warehouse. Hospitals that did not treat a condition or that had very few discharges were not penalized, and they received the full payment update if they submitted appropriate data on each of the 10 quality measures that they treated for patients who were discharged during the reporting periods.

2. New Procedures for Hospital Reporting of Quality Data

We are proposing to amend our regulations at § 412.64(d)(2) to reflect the 2.0 percentage point reduction in the payment update for FY 2007 and subsequent fiscal years for hospitals that do not comply with requirements for reporting quality data as provided for under section 5001(a) of Public Law 109-171. We are also revising the RHQDAPU program's procedures to reflect our experience with this program and to implement section 5001(a) of Public Law 109-171, including the new requirement for reporting of an expanded set of quality measures.

In addition to publication in this proposed rule, all revised procedures will be added to the “Reporting Hospital Quality Data for Annual Payment Update Reference Checklist” section of the QualityNet Exchange Web site. This checklist also contains all of the forms to be completed by hospitals participating in the program. In order to participate in the hospital reporting initiative, hospitals must follow these steps:

• Identify a QualityNet Exchange Administrator who follows the registration process and submits the information through the QIO. This must be done regardless of whether the hospital uses a vendor for transmission of data.

• Complete the revised “Reporting Hospital Quality Data for Annual Payment Update Notice of Participation” form. All hospitals must send this form to their QIO, no later than August 1, 2006. In addition, before participating hospitals initially begin reporting data, they must register with the QualityNet Exchange, regardless of the method used for submitting data.

• Continue to collect data for all 10 “starter set” quality measures (or begin collecting such data, if newly participating in the program), and submit the data to the QIO Clinical Warehouse either using the CMS Abstraction & Reporting Tool (CART), the JCAHO ORYX® Core Measures Performance Measurement System, or another third-party vendor tool that has met the measurement specification requirements for data transmission to QualityNet Exchange. The QIO Clinical Warehouse will submit the data to CMS on behalf of the hospitals. The submission will be done through QualityNet Exchange. Because the information in the QIO Clinical Warehouse is considered QIO information, it is subject to the stringent QIO confidentiality regulations in 42 CFR part 480. We are proposing that hospitals continue to submit data regarding the starter set of 10 quality measures because the existing data submission schedule that we will use for the FY 2007 update relies on discharges that occurred in calendar year (CY) 2005. Because the first three quarters of CY 2005 data already have been submitted, we are not proposing to require hospitals to submit any additional CY 2005 data to address the new quality measures in the anticipated expanded 21 quality measures discussed below. However, we again note that many hospitals have been providing data on these additional measures since they were first included in the HQA set, although these measures did not affect hospitals' annual payment adjustment under the RHQDAPU program implementing section 501(b) of Public Law 108-173.

• For the FY 2007 update, hospitals also will be required to complete and return a written form on which they pledge to submit data on the following set of expanded quality measures (anticipated 21 clinical quality measures), starting with discharges that occur in CY 2006. These expanded quality measures are the HQA-released measures that the 2005 IOM report recommended we use as expanded “starter” measures. As discussed above, new section 1886(b)(3)(B)(viii)(IV) of the Act requires us to begin to adopt the baseline set of performance measures set forth in the 2005 IOM report effective for payments beginning with FY 2007. Hospitals will be required to submit data on the expanded measures to the QIO Clinical Warehouse beginning with discharges that occur in the first calendar quarter of 2006 (January through March discharges). The deadline for hospitals to submit their data for first quarter 2006 is August 15, 2006.

The expanded measures are:

Heart Attack (Acute Myocardial Infarction)

• Aspirin at arrival

• Aspirin prescribed at discharge

• ACE inhibitor (ACE-I) or Angiotensin Receptor Blocker (ARBs) for left ventricular systolic dysfunction

• Beta blocker at arrival

• Beta blocker prescribed at discharge

• Thrombolytic agent received within 30 minutes of hospital arrival

• Percutaneous Coronary Intervention (PCI) received within 120 minutes of hospital arrival

• Adult smoking cessation advice/counseling

Heart Failure (HF)

• Left ventricular function assessment

• ACE inhibitor (ACE-I) or Angiotensin Receptor Blocker (ARBs) for left ventricular systolic dysfunction

• Discharge instructions

• Adult smoking cessation advice/counseling

Pneumonia (PNE)

• Initial antibiotic received within 4 hours of hospital arrival

• Oxygenation assessment

• Pneumococcal vaccination status

• Blood culture performed before first antibiotic received in hospital

• Adult smoking cessation advice/counseling

• Appropriate initial antibiotic selection

• Influenza vaccination (collected but not publicly reported—subject to change)

Surgical Infection Prevention (SIP)

• Prophylactic antibiotic received within 1 hour prior to surgical incision

• Prophylactic antibiotics discontinued within 24 hours after surgery end time

Further, as recommended in the IOM report, we will be implementing the HCAHPS® patient survey in October 2006, to measure patients' perspectives of care. HCAHPS® is designed to make “apples to apples” comparisons of patients' perspectives on hospital care including communications with doctors, communications with nurses, responsiveness of hospital staff, cleanliness and quietness of the hospital, pain control, communication about medicines, and discharge information. More information on this survey can be found on our Web site: www.cms.hhs.gov/HospitalQualityInits/downloads/HospitalHCAHPSFactSheet200512.pdf. We intend to report the first three quarters of these survey data in late 2007 on the Web site: www.hospitalcompare.hhs.gov. HCAHPS® was endorsed by the NQF in May 2005. However, at this time, we do not anticipate including HCAHPS® as a part of the revised FY 2007 “Reporting Hospital Quality Data for Annual Payment Update Notice of Participation” form. We believe that our proposed procedure will meet the requirement of section 1886(b)(3)(B)(viii)(IV) of the Act that, “for payments beginning with fiscal year 2007, in expanding the number of measures, under subclause (III), the Secretary shall begin to adopt” the IOM report's set of baseline measures. Section 1886(b)(3)(B)(viii)(III) of the Act states that we must expand, for FY 2007 and each subsequent fiscal year, the set of measures that the Secretary determines to be “appropriate” for the measurement of the quality of care furnished by hospitals in inpatient settings beyond the original quality measures that applied in FY 2005 and FY 2006.

We believe that the statute gives the Secretary the discretion to choose what “begin to adopt” should involve in FY 2007 and the number of additional measures, if any, that would be “appropriate” during that time. In proposing our revised procedures, designing the methods that hospitals will use to report during FY 2007, establishing an anticipated set of expanded measures based on the IOM report, and revising RHQDAPU materials, we believe that we have met the statutory requirements. We will continue to explore the feasibility of adopting additional measures for purpose of the FY 2008 update, including the HCAHPS® and structure measures described in the IOM report and other measures that reflect consensus among affected parties, as required by new section 1886(b)(3)(B)(viii)(III) through (V) of the Act.

For the FY 2007 update, we specify that hospitals must submit these complete data in accordance with the joint CMS/JCAHO sampling requirements located on the QualityNet Exchange Web site. These requirements specify that hospitals are required to submit a random sample or complete population of cases for each of three topics (acute myocardial infarction, heart failure, and pneumonia) covered by the starter set of 10 quality measures. These requirements include all Medicare and non-Medicare patients discharged from hospitals. Hospitals are expected to continuously meet these sampling requirements for the starter set of 10 quality measures for discharges in each quarter.

We do not anticipate significant additional burden on hospitals regarding the starter set of 10 quality measures or the anticipated 21 clinical quality measures because all JCAHO-accredited hospitals are currently required to adhere to these sampling requirements in acute myocardial infarction, heart failure, pneumonia, and surgical infection prevention for accreditation and core measure reporting purposes.

For the FY 2007 update, hospitals may withdraw from the revised RHQDAPU program at any time up to August 1, 2006. If a hospital withdraws from the program, it will receive a 2.0 percentage point reduction in its payment update.

For the FY 2007 update, we will continue to require that hospitals meet the chart validation requirements that we implemented in the FY 2006 IPPS final rule. There were no chart-audit validation criteria in place for FY 2005. Based upon our experience with the FY 2005 submissions and our requirement for reliable and valid data, in the FY 2006 IPPS final rule, we established additional requirements for the data that hospitals were required to submit in order to receive the full FY 2006 payment update (70 FR 47421 and 47422). These requirements, as well as additional information on validation requirements, will continue and are being placed on the QualityNet Exchange Web site.

For the FY 2007 payment update, hospitals must pass our validation requirement of a minimum of 80 percent reliability, based upon our chart-audit validation process, for the first three quarters of data from CY 2005. These data were due to the QIO Clinical Warehouse by July 15, 2005 (first quarter CY 2005 discharges), November 15, 2005 (second quarter CY 2005 discharges), and February 15, 2006 (third quarter CY 2005 discharges).

We use confidence intervals to determine if a hospital has achieved an 80-percent reliability aggregated over the three quarters. The use of confidence intervals allows us to establish an appropriate range below the 80-percent reliability threshold that demonstrates a sufficient level of validity to allow the data to still be considered valid.

We estimate the percent reliability based upon a review of five charts, and then calculate the upper 95-percent confidence limit for that estimate. If this upper limit is above the required 80-percent reliability, the hospital data are considered validated. We are using the design-specific estimate of the variance for the confidence interval calculation, which, in this case, is a stratified single stage cluster sample, with unequal cluster sizes. (For reference, see Cochran, William G.: Sampling Techniques, John Wiley & Sons, New York, chapter 3, section 3.12 (1977); and Kish, Leslie: Survey Sampling, John Wiley & Sons, New York, chapter 3, section 3.3 (1964).) Each quarter is treated as a stratum for variance estimation purposes.

We use a two-step process to determine if a hospital is submitting valid data. In the first step, we calculate the percent agreement for all of the variables submitted in all of the charts. If a hospital falls below the 80-percent cutoff, we restrict the comparison to those variables associated with the starter set of 10 quality measures. We recalculate the percent agreement and the estimated 95-percent confidence interval and again compare to the 80-percent cutoff point. If a hospital passes under this restricted set of variables, the hospital is considered to be submitting valid data for purposes of the revised RHQDAPU program.

Under the standard appeal process, all hospitals are given the detailed results of the Clinical Data Abstraction Center (CDAC) reabstraction along with their estimated percent reliability and the upper bound of the 95-percent confidence interval. If a hospital does not meet the required 80-percent threshold, the hospital has 10 working days to appeal these results to their QIO. The QIO will review the appeal with the hospital and make a final determination on the appeal. The QIO receives from the hospital the element or elements that are to be evaluated during the appeal process, along with the hospital's rationale for the difference between the hospital's abstraction and the CDAC abstraction. In this validation appeal process, the QIO reviews the appeal using the medical record to evaluate the data elements that are being appealed. This process allows for an independent review and is designed to find coding errors on the part of abstractors. QIO appeal decisions are based on the data that the hospital submitted to the QIO Clinical Warehouse. The QIO has 20 calendar days to make a final decision. The QIO can either uphold or reverse the CDAC validation decision. If the QIO does not agree with the hospital's appeal, the original results stand. However, if the QIO agrees with the hospital, new validation results are calculated and provided to the hospital through the usual processes. This validation appeal process is described in detail at the QualityNet Exchange Web site.

In reviewing the hospital data, we plan to combine the samples for first quarter, second quarter, and third quarter (15 cases) into a single stratified sample to determine whether the 80-percent reliability level is met. This gives us the greatest accuracy when estimating the reliability level. The confidence interval approach accounts for the variation in coding among the five charts pulled each quarter and for the entire year around the overall hospital mean score (on all individual data elements compared). The closer each case's reliability score is to the hospital mean score, the tighter the confidence interval established for that hospital. A hospital may code each chart equally inaccurately, achieve a tight confidence interval, and not pass, even though its overall score is just below the passing threshold (75 percent, for example). A hospital with more variation among charts will achieve a broader confidence interval, which may allow it to pass, even though some charts score very low and others score very high.

We believe we have adopted the most suitable statistical tests for the hospital data we are trying to validate. We are particularly interested in comments from hospitals on this passing threshold, the confidence interval, and the sampling approach. Based on analytical results from FY 2006, we found confidence intervals using only five charts widely varied in size. As a result of these findings, we decided to combine multiple quarters of validation samples into a single stratified sample to shrink and/or decrease the variation and produce a more reliable estimate of abstraction reliability to determine if any changes in our methodology are required. We will make any necessary revisions to the sampling methodology and the statistical approach through manual issuances and other guidance to hospitals.

The CMS Quality Improvement Group will continue to study methods for improving the validation process for hospital submission in regard to completeness and adherence to sampling requirements. Current validation sampling assesses abstraction accuracy, but submission completeness and adherence to sampling requirements are critical prerequisites to produce accurate hospital quality measures.

For the FY 2007 update, we plan to revise and post up-to-date confidence interval information on the QualityNet Exchange Web site explaining the application of the confidence interval to the overall validation results. The data are being validated at several levels. There are consistency and internal edit checks to ensure the integrity of the submitted data; there are external edit checks to verify expectations about the volume of the data received.

We are proposing that hospitals attest to the completeness and accuracy of the data submitted to the QIO Clinical Warehouse in order to improve aspects of the validation checks. In order to meet this requirement, for each quarter, hospitals will have to sign off on the volume of the data submitted. We plan to provide additional information to explain the data completeness requirement and as well as a form to be completed on the QualityNet Exchange Web site.

We will continue to display quality information for public viewing as required by new section 1886(b)(3)(B)(viii)(VII) of the Act. Before we display this information, hospitals will be permitted to review their information as we have it recorded.

For hospitals that CMS has determined do not meet the RHQDAPU program requirements for the applicable fiscal year who wish to appeal this determination, the appeals process set forth in 42 CFR Part 405, Subpart R (a Provider Reimbursement Review Board (PRRB) appeal) applies. However, we believe it may be appropriate to establish a structured reconsideration process to precede the PRRB appeal. Currently, hospitals submit letters detailing their reasons for requesting that CMS reconsider its decision that the hospital did not meet the RHQDAPU program requirements. We are proposing to continue this process for FY 2007 RHQDAPU program decisions. However, we are proposing to establish a deadline of November 1, 2006, for hospitals to make such requests related to the FY 2007 RHQDAPU decisions, which will give hospitals a minimum of 30 days to submit reconsideration requests from the dates that the decisions are made public. Further, we are proposing that the November 1, 2006 deadline also would apply to FY 2005 and FY 2006 RHQDAPU program decisions and that a November 1 deadline would apply in all future fiscal years. CMS will officially respond to the letters submitted by hospitals.

Further, we are seeking public comment specifically on the need for a more structured reconsideration process to precede any PRRB appeal for FY 2008 and subsequent fiscal years. We also are seeking comment on what such a process would entail. For example, we would expect that such a process, if established, would include—

• A limited time, such as 30 days from the public release of the decision, for requesting a reconsideration;

• Who in a hospital organization can request such a reconsideration and be notified of its outcome;

• The specific factors that CMS will consider in such a reconsideration, such as an inability to submit data timely due to CMS systems failures;

• Specific requirements for submitting a reconsideration request, such as a written request for reconsideration specifically stating all reasons and factors, including specific data elements, why the hospital believes it did meet the RHQDAPU program requirements;

• Specific CMS components that would participate in the reconsideration process; and

• The timeframe, such as 60 days, for CMS to provide its reconsideration decision to the hospital.

We are also soliciting comments on the reasons for not establishing such a reconsideration process.

3. Electronic Medical Records

In the FY 2006 IPPS final rule, we encouraged hospitals to take steps toward the adoption of electronic medical records (EMRs) that will allow for reporting of clinical quality data from the EMRs directly to a CMS data repository (70 FR 47420). We intend to begin working toward creating measures specifications and a system or mechanism, or both, that will accept the data directly without requiring the transfer of the raw data into an XML file as is currently done. The Department continues to work cooperatively with other Federal agencies in the development of Federal health architecture data standards. We encourage hospitals that are developing systems to conform them to both industry standards and, when developed, the Federal Health Architecture Data standards, and to ensure that the data necessary for quality measures are captured. Ideally, such systems will also provide point-of-care decision support that enables high levels of performance on the measures. Hospitals using EMRs to produce data on quality measures will be held to the same performance expectations as hospitals not using EMRs.

Due to the low volume of comments we received on this issue in response to the FY 2006 IPPS rule, in this proposed rule for FY 2007, we again are inviting comments on these requirements and options. In section IV.B.6. of the preamble to this proposed rule, we are also inviting comments on the potential role of effective, interoperable, health information on technology in value-based purchasing.

B. Value-Based Purchasing

(If you choose to comment on issues in this section, please include the caption “Value-Based Purchasing” at the beginning of your comment.)

1. Introduction

CMS has undertaken a number of activities to improve the quality and efficiency of care delivered to Medicare beneficiaries. Currently, there are several different fee-for-service payment systems under Medicare that are used to pay health professionals and other providers based on the number and complexity of services provided to patients. In general, all providers to which a specific Medicare payment system applies receive the same amount for a service, regardless of its quality or efficiency. As a result, Medicare's payment systems can direct more resources to hospitals that deliver care that is not of the highest quality or include unnecessary services (for example, duplicative tests and services or services to treat avoidable complications). Therefore, we are examining the concept of “value-based purchasing,” which may use a range of incentives to achieve identified quality and efficiency goals, as a means of promoting better quality of care and more effective resource use in the Medicare payment systems. In considering the concept of value-based purchasing, we are working closely with stakeholder partners, including health professionals and providers. In this proposed rule, we are seeking public comment on value-based purchasing as related specifically to hospitals.

In this section, we discuss CMS' and Congress' initial steps toward hospital value-based purchasing, which include the Premier Hospital Quality Incentive Demonstration, the RHQDAPU program authorized by section 501(b) of Public Law 108-173 (MMA), and the extended and expanded RHQDAPU program authorized by section 5001(a) of Public Law 109-171 (DRA). (The RHQDAPU program is also discussed in section IV.A. of the preamble to this proposed rule.) In addition, we discuss the issues that must be considered in developing a plan to implement a value-based purchasing plan beginning with FY 2009 for Medicare payments for subsection (d) hospitals. This plan is required by section 5001(b) of the DRA. For each of the required planning issues (measures, data infrastructure, payment methodology, and public reporting), we discuss CMS' activities to date and solicit comments on outstanding policy questions. Next, we discuss options for implementation of section 5001(c) of Public Law 109-171, which authorizes quality adjustment to DRG payments for certain conditions that were not present on hospital admission. We are soliciting input about detailed design considerations related to each of these issues and the advantages and disadvantages of possible approaches to planning and implementing hospital value-based purchasing.

Finally, we discuss and invite comments on how to encourage hospitals to effectively use health information technology to improve efficiency, processes, and health care outcomes, through, for example, adopting interoperable health information technology.

2. Premier Hospital Quality Incentive Demonstration

One of the ways in which CMS is testing innovative potential approaches to improving quality is through demonstrations and pilot projects. The demonstration most relevant to hospitals is the Premier Hospital Quality Incentive Demonstration. Premier, Inc., a nationwide alliance of not-for-profit hospitals, submitted an unsolicited proposal for consideration by CMS.¹³ We have partnered with Premier to conduct a demonstration that is designed to test whether the quality of inpatient care for Medicare beneficiaries improves when financial incentives are provided. Under the demonstration, about 270 hospitals are voluntarily providing data on 34 quality measures related to 5 clinical conditions: Heart attack, heart failure, pneumonia, coronary artery bypass graft, and hip and knee replacements.

¹³ The Premier Hospital Quality Incentive Demonstration was authorized under section 402 of Public Law 90-248, Social Security Amendments of 1967 (42 U.S.C. 1395b-1). This section authorizes certain types of demonstration projects that waive compliance with the regular payment methods used in the Medicare program.

Using the quality measures, CMS identifies hospitals with the highest quality performance in each of the five clinical areas. Hospitals scoring in the top 10 percent in each clinical area receive a 2-percent bonus payment in addition to the regular Medicare DRG payment for the measured condition. Hospitals in the second highest 10 percent receive a 1-percent bonus payment. In the third year of the demonstration, hospitals that do not achieve absolute improvements above the demonstration's first year composite score baseline (the lowest 20 percent) for that condition will have their DRG payments reduced by 1 or 2 percent, depending on how far their performance is below the baseline.

Following the first year of the demonstration (FY 2004), CMS awarded a total of $8.85 million to participating hospitals in the top two deciles for each clinical area. In the aggregate, quality of care improved in all five clinical areas that were measured. Preliminary information from the second year of the demonstration indicates that quality is continuing to improve, particularly for the poorest performing hospitals. Additional information on the Premier Hospital Quality Incentive Demonstration is available on the CMS Web site at: http://www.cms.hhs.gov/HospitalQualityInits/35_HospitalPremier.asp.

3. RHQDAPU Program

We believe that the acts of collecting and submitting performance data and of publicly reporting comparative information about hospital performance seems to be a strong incentive to encourage hospital accountability. Measurement and reporting can help focus the attention of hospitals and consumers on specific goals and on hospitals' performance relative to those goals.

a. Section 501(b) of Public Law 108-173 (MMA)

Since 2003, we have operated the Hospital Quality Initiative,¹⁴ which is designed to stimulate improvements in hospital care by standardizing hospital performance measures and data transmission to ensure that all payers, hospitals, and oversight and accrediting entities use the same measures when publicly reporting on hospital performance. Section 501(b) of Public Law 108-173 authorized us to link the collection of data for an initial starter set of 10 quality measures to the Medicare annual update of the standardized payment amount for hospital inpatient operating costs (also known as the RHQDAPU program). For FYs 2005 and 2006, hospitals that met the RHQDAPU program's requirements received the full annual payment update to their inpatient operating costs, while hospitals that did not comply received an update that was reduced by 0.4 percentage points. For FY 2005, virtually every hospital in the country that was eligible to participate submitted data (98.3 percent), and approximately 96 percent of all participating hospitals met the requirements to receive the full update. The data regarding the starter set of 10 quality measures as well as additional, voluntarily-reported data on other quality measures, are available to the public through the Hospital Compare Web site at: http://www.hospitalcompare.hhs.gov.

¹⁴ For more information about CMS' Hospital Quality Initiative, see http://www.cms.hhs.gov/HospitalQualityInits/.

b. Section 5001(a) of Public Law 109-171 (DRA)

As discussed in section IV.A. of this preamble, for FY 2007 and each subsequent year, section 5001(a) of Public Law 109-171 amended section 1886(b)(3)(B) of the Act and made changes to the program established under section 501(b) of Public Law 108-173. These changes require us to expand the number of measures for which data must be submitted, and to change the percentage point reduction in the annual payment update from 0.4 percentage points to 2.0 percentage points for subsection (d) hospitals that do not report the required quality measures in a form and manner, and at a time, specified by the Secretary. Effective for payments beginning with FY 2007, new section 1886(b)(3)(B)(viii)(IV) of the Act requires the Secretary to begin to adopt the expanded set of performance measures set forth in the IOM's 2005 report entitled, “Performance Measurement: Accelerating Improvement.” ¹⁵ Those measures include the HQA measures, the HCAHPS® patient perspective survey, and three structural measures.¹⁶ Effective for payments beginning with FY 2008, the Secretary must add other measures that reflect consensus among affected parties and may replace existing measures as appropriate. New section 1886(b)(3)(B)(viii)(VII) of the Act requires the Secretary to post hospital quality data on these measures on the CMS Web site. Additional information on the Hospital Quality Initiative is available on the CMS Web site at: http://www.cms.hhs.gov/HospitalQualityInits.

¹⁵ Institute of Medicine, “Performance Measurement: Accelerating Improvement,” December 1, 2005, available at http://www.iom.edu/CMS/3809/19805/31310.aspx.

¹⁶

The three structural measures are: (1) Computerized provider order entry; (2) intensive care intensivists; and (3) evidence-based hospital referrals.

4. Plan for Implementing Hospital Value-Based Purchasing Beginning with FY 2009

Section 5001(b) of Public Law 109-171 requires us to develop a plan to implement hospital value-based purchasing beginning with FY 2009. The plan must consider the following issues: (a) The ongoing development, selection, and modification process for measures of quality and efficiency in hospital inpatient settings; (b) the reporting, collection, and validation of quality data; (c) the structure of payment adjustments, including the determination of thresholds of improvements in quality that would substantiate a payment adjustment, the size of such payments, and the sources of funding for the payments; and (d) the disclosure of information on hospital performance. Section 5001(b) of Public Law 109-171 also calls for us to consult with affected parties and to consider relevant demonstrations in developing the plan. Each of these issues (measure development and refinement, data infrastructure, incentives, and public reporting) is discussed below, along with our activities to date and outstanding policy questions. We are seeking comments on these issue areas and outstanding policy questions.

a. Measure Development and Refinement

As we explore the potential connections between performance measurement and incentives, we would like to better understand how to develop valid, meaningful, current performance measures that are aligned with other hospital measurement activities, and an enterprise for development, validation, consensus building, and maintenance of these measures. In addition, before measures could be used to compare the relative quality or cost of care provided by hospitals, we believe that the information would need to be appropriately adjusted to account for relevant differences among hospitals and among their patients. The availability of appropriate measures on which consensus might be achieved depends on the state of the art of research on measure development.

We believe that it is desirable for performance measures to be based on appropriate evidence, effectively related to desired outcomes, derived in a transparent fashion involving consultation with experts and affected hospitals, and routinely updated. MedPAC's 2005 Report to Congress ¹⁷ stated that measures should be evidence-based; that collecting and analyzing data should not be unduly burdensome for the provider or for CMS; that risk adjustment should be sufficient to deter providers from avoiding patients who might lower performance scores; that most providers should be able to improve on the measures; that measures should apply to a broad range of care and providers; that measures should capture aspects of care that are under the control of the providers being measured; and that areas of care being measured should be those needing improvement.

¹⁷ Medicare Payment Advisory Commission: Report to Congress: Medicare Payment Policy, March 2005, pp. 186-187, available at: http://www.medpac.gov/publications/generic_report_display.cfm?report_type_id=1&sid=2&subid=0.

The IOM's December 2005 report, “Performance Measurement: Accelerating Improvement” (previously cited under footnote #15) recommended that measure sets should build on the work of key public- and private-sector organizations; that national performance measures that have been approved through ongoing consensus processes led by major stakeholder groups are an appropriate starting point; that the limited scope of current measures should be broadened to address efficiency, equity, and patient-centeredness; that quality, costs, and outcomes of care should be measured over longer time intervals; and that measures be applicable to more than one setting so that providers can share accountability for a patient's care (pp. 8-11).

The plan for hospital value-based purchasing mandated by Pub. L. 109-171 must address the ongoing development, selection, and modification process for measures of quality and efficiency in hospital inpatient settings. We have worked collaboratively in defining consistent, meaningful performance measures for hospitals and other providers for a number of years. The efforts of CMS and its stakeholder partners to develop standardized performance measures increase the likelihood that the measures will be valid, reliable, and widely accepted as viable indicators of performance. Standardized measures also reduce the burden for hospitals that would otherwise have to report different measures to multiple entities, such as accrediting bodies and State agencies.

CMS and the HQA (which includes representatives from consumers, hospitals, health professionals, purchasers, and accreditation organizations) collectively selected a starter set of 10 consensus-derived quality measures for public reporting, which was incorporated into the RHQDAPU program authorized by section 501(b) of Pub. L. 108-173. (See section IV.A. of this preamble for a detailed discussion of the RHQDAPU program.) The measures were endorsed by the NQF, a nonprofit voluntary organization that represents a broad range of health care stakeholders and endorses consensus-based national performance standards. CMS has also worked with the JCAHO to align hospital performance measures that we share in common, thereby reducing hospitals' reporting burden.

In April and September 2005, CMS and the HQA identified additional NQF-endorsed measures of hospital performance. In section IV.A. of the preamble to this proposed rule, we list these measures and propose to require hospital reporting on these measures under an expanded version of the RHQDAPU program authorized by section 5001(a) of Pub. L. 109-171. These measures are discussed in more detail on the CMS Web site at: http://www.cms.hhs.gov/HospitalQualityInits/downloads/HospitalHQA2004_2007200512.pdf.

An additional two outcome measures of 30-day mortality for heart attack and heart failure have been endorsed by the NQF for public reporting. Further, in October 2006, we will be implementing the HCAHPS® survey of inpatient perceptions of their hospital care experiences, with the intention that an aggregate HCAHPS® measure will become a publicly reported performance measure. HCAHPS® was endorsed by the NQF in May 2005. Beyond these, we could also consider including measures from the Surgical Care Improvement Project, measures relating to a hospital's use of information technology that result in improved patient outcomes, implementation of data standards, and preventable readmissions as quality reporting measures under the RHQDAPU program or the hospital value-based purchasing program.

b. Data Infrastructure

Implementing measures on which to base a value-based purchasing system would require an infrastructure that could collect appropriate information from hospitals, store and aggregate it as necessary, and prepare it for use in determining appropriate incentives. Hospitals would likely need to be able to generate appropriate data as input for calculation of the measures. For some measures, data that hospitals already submit with claims for payment or for some other administrative purpose may be sufficient. For other measures, hospitals might need to provide information regarding their structure and resources or about the specifics of medical care provided to patients or the outcomes of that care. For that information, hospitals may need special software to assist with data collection and secure channels by which they can transmit data. We are interested in receiving comments on how to develop an infrastructure that would facilitate the efficient transmission and storage of data, and especially, as discussed in sections IV.A.3. and IV.B.6. of the preamble to this proposed rule, in comments on how electronic medical and health record systems could help improve care and be integrated into or facilitate the data collection process.

Implementation would require communication channels and data warehouses with sufficient capacity and flexibility to acquire and store data from hospitals. We are considering how we might validate the submitted data, determine incentives based on that data, and transmit these values to Medicare's fiscal intermediaries. The potential infrastructure would need to be extremely secure and afford the most privacy protection permitted by law. It would also need to minimize the burden of data collection and transmission on providers. It would need to be accurate, efficient, and cost-effective for CMS to administer.

The plan for hospital value-based purchasing mandated by Pub. L. 109-171 must address the reporting, collection, and validation of quality data. Over the past few years, we have developed a data collection and reporting infrastructure for the RHQDAPU program that can transmit performance measurement data via secure channels for its submission, storage, analysis, validation and reporting. Specifically, to facilitate data collection, we have developed the CART software to assist hospitals in the collection of clinical and administrative data used to measure performance improvement. CART, which is provided to hospitals free of charge, is a powerful application that hospitals and their designees can use to abstract clinical data needed for performance measurement from medical records. This tool was designed and developed by CMS with input from the JCAHO and the Medicare QIOs. We have also developed the QualityNet Exchange system for secure transmission of data to the QIO Clinical Warehouse. QNetExchange.org is the CMS-approved Web site for secure communications and data exchange between two or more of the following: Hospitals, performance measurement system vendors, end stage renal disease networks and facilities, QIOs, and CMS.

For data warehousing, we have a claims warehouse for Medicare Part A data, which maintains the claims for the most recent 42 months. We also have a QIO Clinical Warehouse that currently contains information on the starter set of 10 quality measures collected under the RHQDAPU program, as well as additional voluntarily reported measures. We must assess the validity of the RHQDAPU information because of its use for quality improvement, public reporting, and determining hospitals' annual payment updates under the RHQDAPU program. Validation activities assess the reliability of the data that a hospital has submitted, as evidenced by the consistency between a hospital's abstraction and reabstraction by an independent party.

We are currently using a contractor, the CDAC, to carry out the validation process under the RHQDAPU program. Hospitals are required to submit certain quality data to the QIO Clinical Warehouse within 4.5 months of the end of each quarterly reporting period. The steps in the validation process are: (1) Check for duplicates; (2) draw a sample; (3) obtain copies of medical records; (4) request and complete CDAC abstraction; (5) post results on QualityNet Exchange for hospitals' review; and (6) resolve validation appeals. We are seeking comments on how the data submission and validation processes that we currently use for the RHQDAPU program might be adaptable to a hospital value-based purchasing program.

One of the key challenges we face in considering implementation of hospital value-based purchasing is minimizing the length of time between our receipt of data and our ability to provide feedback to hospitals on the data. Some of the hospitals that are participating in the RHQDAPU program and the Premier Hospital Quality Incentive Demonstration have asked for more timely feedback on their performance. We recognize that a long delay between the provision of services and feedback about the quality of those services may impede both improvement efforts and a hospital's motivation to improve. The current lag time between the end of the quarterly reporting period and the availability of performance feedback under the RHQDAPU program is approximately 9 months. Hospitals have 4.5 months to complete their paper medical records and to submit information to the QIO Clinical Warehouse, which roughly coincides with JCAHO's timeline for submission of data to their ORYX Core Measure Performance Measurement System. Another 4.5 months are required to accomplish the steps in the validation process.

We are considering options to decrease the overall length of time between our receipt of data and our ability to provide feedback to hospitals, and we are interested in comments on these options. First, we are considering whether more frequent data submissions, such as monthly submissions, would decrease the time between the provision of services and feedback about the quality of those services. We are aware that some hospitals and their vendors already submit quality data on a monthly basis to JCAHO. However, unless we reduced the sample size per reporting period, the process of validating each month the same number of records that are currently validated each quarter would increase costs significantly. On the other hand, if we reduced the sample size per reporting period, the monthly numbers might be too small to provide for adequate validation. Second, we could shorten the data submission period, which is a significant source of lag time. This option would require hospitals to submit information to the data warehouse more quickly, which could increase the possibility that hospitals would submit less complete data. In addition, this option would require coordination with JCAHO to keep submission timelines congruent, which reduces hospitals' reporting burden. Third, we could eliminate the validation appeals process, which would reduce the lag time by up to 2 months. Fourth, we could create an expanded role for the third party vendors that assist hospitals with submitting quality data to CMS and JCAHO. For example, CMS could certify third party vendors to also provide standardized validation services and quick performance feedback to their hospital customers.

c. Incentive Methodology

While measurement of the quality of care and of resources use may be advantageous in itself, we are considering whether and what kind of incentives can further improve outcomes. The potential design of incentives in a value-based purchasing system presents many choices. The implementation plan for hospital value-based purchasing mandated by Pub. L. 109-171 must address the structure of payment adjustments, including the determination of thresholds of improvements in quality that would substantiate a payment adjustment, the size of such payments, and the sources of funding for the value-based payments. We are interested in comments on the merits of and alternatives to all of the approaches to the design of a value-based purchasing methodology that are discussed below.

(1) How Should Incentives Be Structured?

A number of options exist for the structure of potential incentives. The incentive methodology could include differential incentives depending on whether hospitals exceed a particular standard of performance. To reflect expectations of continued improvement among hospitals, the standard could be raised in predictable steps over time. Alternatively, incentives could be structured to reward hospitals that improve from a baseline level of performance. These approaches could be combined to develop an incentive methodology that includes both attaining benchmarks and improving care.

(2) What Level of Incentive Is Needed?

Value-based purchasing incentives should be targeted to that needed to achieve a desired level of performance. Our experience with implementing section 501(b) of Pub. L. 108-173 (discussed in section IV.A. of this preamble) indicates that a targeted incentive, coupled with active management by CMS, can encourage reporting on quality measures. Nearly every eligible hospital has been willing and able to submit the required data in order to receive the full payment update under the RHQDAPU program. Similarly, our experience with the Premier Hospital Quality Incentive Demonstration indicates that a 1 or 2 percent bonus, coupled with potential reductions for poor performance, may stimulate improvement. Further experience in ascertaining how hospitals respond to incentives will be important for examining incentives over time.

(3) What Should Be the Source of Incentives?

The President's FY 2007 Budget indicates support for identifying and testing “budget-neutral incentives that will stimulate Medicare providers to improve performance on quality and efficiency measures.” ¹⁸ We do not believe that providing additional aggregate funding to finance performance-based incentives is either supportable or necessary. One approach might be to examine how we could identify and apply measurable savings achieved by reducing care that is unnecessary or otherwise inappropriate. For example, we may examine possibilities of improving care coordination, whether this could produce measurable savings, and whether some of the savings generated in one payment system could be used for incentives in another, as long as these reforms do not provide inappropriate incentives to stop providing necessary care. For instance, appropriate quality of care and effective resource use in hospitals and other institutional providers might generate savings that could be used for incentives for both physicians and facilities.

¹⁸ Budget of the United States Government, Fiscal year 2007, available at: http://www.whitehouse.gov/omb/budget/fy2007/.

(4) What Should The Form Of Incentives Be?

Potential approaches for incentives include making an add-on payment to the base payment for individual inpatient hospital services or providing periodic, lump-sum payments on a monthly, quarterly, or annual basis. Under the RHQDAPU program, hospitals that do not submit the required data receive a decrease in the standardized payment amount made for all inpatient operating costs for the applicable fiscal year. In a hospital value-based purchasing system, per-service payments might be made only in connection with the services directly associated with the particular measure for which the hospital achieved a good result. Alternatively, lump-sum payments might be made on a periodic basis to hospitals that achieve particular performance targets. The preferable approach may depend on operational concerns, the strength of incentive effects, and other aspects of the design. We welcome comments on this issue.

(5) What Should the Timing of Incentives Be in Relation to Performance?

Any value-based purchasing system should seek a balance between rewarding desired performance close to when it occurs and ensuring the accuracy of both performance measurement and incentives. Given the lag times for collecting and reviewing different types of data, some measures may be calculated quickly after the period of performance, while data lag times for other measures may be longer. For instance, structural measures could affect incentives soon after they are collected. Other measures that are based on experience over a time interval may require some time for measured events to manifest. An example of this type of measure would be the rate of mortality within 30 days of hospitalization.

(6) How Should We Develop Composite Scores?

Encouraging improved performance could be facilitated by valid and reliable methods to aggregate performance data into single composite scores. Composite scoring may also improve consumer understanding of complex performance indicators by combining measures of many dimensions of care into a single score. One example of a composite scoring methodology that we used for the Premier Hospital Quality Incentive Demonstration (discussed in detail above) is a modification of the “opportunity model,” which can be used to address individual weighting, missing data, and sensitivity to case volumes. For example, a hospital that has few or no cases for a particular dimension of care could receive a low score, yet that measure is equally weighted with others in the composite. Under the opportunity model, a composite may be developed for a disease category by dividing the total number of successful interventions by the total number of opportunities for the same targeted interventions. Some of the advantages of the opportunity model are that individual measures are weighted by the volume of opportunities for the associated intervention for a particular hospital; missing values for a particular aspect of care provided by an individual hospital would not prevent that hospital from being represented in a public report; and composite measures may easily accommodate the addition of individual measures.

The “appropriate care measure” (ACM) is another composite scoring methodology, which we used in connection with the QIOs. The ACM scoring methodology is patient-centric. For a hospital to receive credit for treating a patient well, the hospital must have met the standard for every measure applicable to that patient's condition. There are also a number of proprietary composite measures, such as those used by Solucient, Healthgrades, CareScience, and U.S. News & World Report. We are interested in comments on the use of composite scoring for hospital value-based purchasing and on the various composite scoring methodologies.

Value-based purchasing methods are still under development, and anticipating their potential effects on the health care system is difficult. We understand that unintended consequences may result from the implementation of these methods. We believe that we will need to assess incentives and evaluate their effects so that we can revise them quickly as we learn more about their impact on hospitals and on inpatient hospital services provided to Medicare beneficiaries.

d. Public Reporting

The plan for hospital value-based purchasing mandated by Pub. L. 109-171 must address the public disclosure of information on hospital performance. CMS currently provides public reporting of quality information through the “Compare” Web sites for hospitals, nursing homes, home health agencies, and dialysis facilities.¹⁹ The Compare Web sites provide comparative quality information to consumers and others to help guide choices and drive improvements in the quality of care delivered in these settings. Besides providing Medicare beneficiaries and their health professionals with information to assist them in making informed health care decisions, public reporting of comparative performance data also provides information that is useful to health care consumers who are not Medicare beneficiaries. For example, a consumer who has a Health Savings Account can access CMS' Hospital Compare Web site to gather comparative quality information to assist in choosing a high quality hospital. CMS is contributing to the Administration's Consumer-Directed Health Care Initiative by working with our private- and public-sector partners to make health care information more transparent and available to consumers than ever before. (Refer to section IV.M. of this preamble for more information.) We are interested in comments on how we can further stimulate public reporting to increase the transparency and meaningfulness of healthcare performance information.

¹⁹ See CMS' Hospital Compare Web site, available at: http://www.hospitalcompare.hhs.gov/; Nursing Home Compare Web site, available at: http://www.medicare.gov/NHCompare; Home Health Compare Web site, available at: http://www.medicare.gov/HHCompare/Home.asp; Dialysis Facility Compare Web site, available at: http://www.medicare.gov/Dialysis.

5. Considerations Related to Certain Conditions, Including Hospital-Acquired Infections

Medicare's IPPS encourages hospitals to treat patients efficiently. Hospitals receive the same DRG payment for stays that vary in length. In many cases, complications acquired in the hospital do not generate higher payments than the hospital would otherwise receive for other cases in the same DRG. To this extent, the IPPS does encourage hospitals to manage their patients well and to avoid complications, when possible. However, complications, such as infections, acquired in the hospital can trigger higher payments in two ways. First, the treatment of complications can increase the cost of hospital stays enough to generate outlier payments. However, the outlier payment methodology requires that hospitals experience large losses on outlier cases (in FY 2006, hospitals must lose $23,600 before a case qualifies for outlier payments, and the hospital would then only receive 80 percent of its costs above the outlier threshold). Second, there are about 121 sets of DRGs that split based on the presence or absence of a complication or comorbidity (CC). The CC DRG in each pair would generate a higher Medicare payment. If an infection acquired during the beneficiary's hospital stay is one of the conditions on the CC list, the result may be a higher payment to the hospital under a CC DRG. (See section II.C. of this preamble for a detailed discussion of proposed DRG reforms.)

Section 5001(c) of Pub. L. 109-171 requires the Secretary to identify, by October 1, 2007, at least two conditions that are (a) high cost or high volume or both, (b) result in the assignment of a case to a DRG that has a higher payment when present as a secondary diagnosis, and (c) could reasonably have been prevented through the application of evidence-based guidelines. For discharges occurring on or after October 1, 2008, hospitals would not receive additional payment for cases in which one of the selected conditions was not present on admission. That is, the case would be paid as though the secondary diagnosis was not present. Section 5001(c) provides that we can revise the list of conditions from time to time, as long as it contains at least two conditions. Section 5001(c) also requires hospitals to submit the secondary diagnoses that are present at admission when reporting payment information for discharges on or after October 1, 2007. We are interested in input about which conditions and which evidence-based guidelines should be selected.

6. Promoting Effective Use of Health Information Technology

We recognize the potential for health information technology (HIT) to facilitate improvements in the quality and efficiency of health care services. One recent RAND study found that broad adoption of electronic health records could save more than $81 billion annually and, at the same time, improve quality of care.²⁰ The largest potential savings that the study identified was in the hospital setting because of shorter hospital stays promoted by better coordinated care; less nursing time spent on administrative tasks; better use of medications in hospitals; and better utilization of drugs, laboratory services, and radiology services in hospital outpatient settings. The study also identified potential quality gains through enhanced patient safety, decision support tools for evidence-based medicine, and reminder mechanisms for screening and preventive care. Despite such large potential benefits, the study found that only about 20 to 25 percent of hospitals have adopted HIT systems.

²⁰ RAND News Release: Rand Study Says Computerizing Medical Records Could Save $81 Billion Annually and Improve the Quality of Medical Care, September 14, 2005, available at: http://rand.org/news/press.05/09.14.html.

It is important to note the caveats to the RAND study. The projected savings are across the health care sector, and any Federal savings would be a reduced percentage. In addition, there are significant assumptions made in the RAND study. National savings are projected in some cases based on one or two small studies. Also, the study assumes patient compliance, in the form of participation in disease management programs and following medical advice. For these reasons, extreme caution should be used in interpreting these results.

In summary, there are mixed signals about the potential of HIT to reduce costs. Some studies have indicated that HIT adoption does not necessarily lead to lower costs and improved quality. In addition, some industry experts have stated that factors such as an aging population, medical advances, and increasing provider expenses would make any projected savings impossible.

In his 2004 State of the Union Address, President Bush announced a plan to ensure that most Americans have electronic health records within 10 years.²¹ One part of this plan involves developing voluntary standards and promoting the adoption of interoperable HIT systems that use these standards. The 2007 Budget states that “The Administration supports the adoption of health information technology (IT) as a normal cost of doing business to ensure patients receive high quality care.”

²¹ Transforming Health Care: The President's Health Information Technology Plan, available at: http://www.whitehouse.gov/infocus/technology/economic_policy200404/chap3.html.

Over the past several years, CMS has undertaken several activities to promote the adoption and effective use of HIT in coordination with other Federal agencies and with the Office of the National Coordinator for Health Information Technology. One of those activities is promotion of data standards for clinical information, as well as for claims and administrative data. In addition, through our 8th Scope of Work contract with the QIOs, we are offering assistance to hospitals on how to adopt and redesign care processes to effectively use HIT to improve the quality of care for Medicare beneficiaries, including computerized physician order entry (CPOE) and bar coding systems. In section IV.A.3. of the preamble to this proposed rule, we again invite comments on streamlining the submission of clinical quality data by using standards-based electronic medical records. (We use the term “electronic medical records” in section IV.A.3. of the preamble to this proposed rule instead of the term “electronic health records” that is used in this section in order to maintain consistency with our request for comments in the FY 2006 IPPS final rule.) Finally, our Premier Hospital Quality Incentive Demonstration provides additional financial payments for hospitals that achieve improvements in quality, which effective HIT systems can facilitate.

We are considering the role of interoperable HIT systems in increasing the quality of hospital services while avoiding unnecessary costs. As noted above, the Administration supports the adoption of HIT as a normal cost of doing business. While payments under the IPPS do not vary depending on the adoption and use of HIT, hospitals that leverage HIT to provide better quality services may more efficiently reap the reward of any resulting cost savings. In addition, the adoption and use of HIT may contribute to improved processes and outcomes of care, including shortened hospital stays and the avoidance of adverse drug reactions. We are seeking comments on our statutory authority to encourage the adoption and use of HIT. We also are seeking comments on the appropriate role of HIT in any value-based purchasing program, beyond the intrinsic incentives of the IPPS, to provide efficient care, encourage the avoidance of unnecessary costs, and increase quality of care. In addition, we are seeking comments on promotion of the use of effective HIT through hospital conditions of participation, perhaps by adding a requirement that hospitals use HIT that is compliant with and certified in its use of the HIT standards adopted by the Secretary. We anticipate that the American Health Information Community will provide advice to the Secretary on these issues.

C. Sole Community Hospitals (SCHs) (§ 412.92) and Medicare-Dependent, Small Rural Hospitals (MDHs) (§ 412.108)

1. Background

Under the IPPS, special payment protections are provided to a sole community hospital (SCH). Section 1886(d)(5)(D)(iii) of the Act defines an SCH as a hospital that, by reason of factors such as isolated location, weather conditions, travel conditions, absence of other like hospitals (as determined by the Secretary), or historical designation by the Secretary as an essential access community hospital, is the sole source of inpatient hospital services reasonably available to Medicare beneficiaries. The regulations that set forth the criteria that a hospital must meet to be classified as an SCH are located in § 412.92.

Under the IPPS, separate special payment protections also are provided to a Medicare-dependent, small rural hospital (MDH). Section 1886(d)(5)(G)(iv) of the Act defines an MDH as a hospital that is located in a rural area, has not more than 100 beds, is not an SCH, and that has a high percentage of Medicare discharges (not less than 60 percent in its 1987 cost reporting year or in 2 of its most recent 3 audited and settled Medicare cost reporting years). The regulations that set forth the criteria that a hospital must meet to be classified as an MDH are located in § 412.108.

Although SCHs and MDHs are paid under special payment methodologies, they are section 1886(d) hospitals. Like all section 1886(d) IPPS hospitals, SCHs and MDHs are paid for their discharges based on the DRG weights calculated under section 1886(d)(4) of the Act.

Effective with hospital cost reporting periods beginning on or after October 1, 2000, section 1886(d)(5)(D)(i) of the Act (as amended by section 6003(e) of Pub. L. 101-239) and section 1886(b)(3)(I) of the Act (as added by section 405 of Pub. L. 106-113 and further amended by section 213 of Pub. L. 106-554), provide that SCHs are paid based on whichever of the following rates yields the greatest aggregate payment to the hospital for the cost reporting period:

• The Federal rate applicable to the hospital;

• The updated hospital-specific rate based on FY 1982 costs per discharge;

• The updated hospital-specific rate based on FY 1987 costs per discharge; or

• The updated hospital-specific rate based on FY 1996 costs per discharge.

For purposes of payment to SCHs for which the FY 1996 hospital-specific rate yields the greatest aggregate payment, payments for discharges during FYs 2001, 2002, and 2003 were based on a blend of the FY 1996 hospital-specific rate and the greater of the Federal rate or the updated FY 1982 or FY 1987 hospital-specific rate. For discharges during FY 2004 and subsequent fiscal years, payments based on the FY 1996 hospital-specific rate are 100 percent of the updated FY 1996 hospital-specific rate.

For each cost reporting period, the fiscal intermediary determines which of the payment options will yield the highest rate of payment to the SCH. Payments are automatically made at the highest rate using the best data available at the time the fiscal intermediary makes the determination. However, it may not be possible for the fiscal intermediary to determine in advance precisely which of the rates will yield the highest payment by year's end. In many instances, it is not possible to forecast the outlier payments, the amount of the DSH adjustment, or the IME adjustment, all of which are applicable only to payments based on the Federal rate. The fiscal intermediary makes a final adjustment at the close of the cost reporting period after it determines precisely which of the payment rates would yield the highest payment to the hospital.

If an SCH disagrees with the fiscal intermediary's determination regarding the final amount of program payment to which it is entitled, it has the right to appeal the fiscal intermediary's decision in accordance with the procedures set forth in Subpart R of Part 405, which concern provider payment determinations and appeals.

Through and including FY 2006, under section 1886(d)(5)(G) of the Act, MDHs are paid based on the Federal national rate or, if higher, the Federal national rate plus 50 percent of the difference between the Federal national rate and the updated hospital-specific rate based on FY 1982 or FY 1987 costs per discharge, whichever is higher. However, section 5003 of Pub. L. 109-171 (DRA) modified these rules for discharges occurring on or after October 1, 2006. Section 5003(c) changed the 50-percent adjustment to 75 percent. Section 5003(b) requires that an MDH use the 2002 cost reporting year as its base year (that is, the FY 2002 hospital-specific rate), if that use results in a higher payment. An MDH does not have the option to use its FY 1996 hospital-specific rate. We discuss our proposed changes to implement section 5003 of the DRA in section IV.C.4 of this preamble.

2. Volume Decrease Adjustment for SCHs and MDHs

(If you choose to comment on the issues in this section, please include the caption (“SCH/MDH Volume Decrease Adjustment” at the beginning of your comment.)

Section 1886(d)(5)(D)(ii) of the Act requires that the Secretary make a payment adjustment to an SCH that experiences a decrease of more than 5 percent in its total number of inpatient discharges from one cost reporting period to the next, if the circumstances leading to the decline in discharges were beyond the SCH's control. Section 1886(d)(5)(G)(iii) of the Act requires that the Secretary make a payment adjustment to an MDH that experiences a decrease of more than 5 percent in its total number of inpatient discharges from one cost reporting period to the next, if the circumstances leading to the decline in discharges were beyond the MDH's control. These adjustments were designed to compensate an SCH or MDH for the fixed costs it incurs in the year following the reduction in discharges (this is, the second year), which it may be unable to reduce. Such costs include the maintenance of necessary core staff and services.

However, we believe that not all staff costs can be considered fixed costs. Using a standardized formula specified by us, the SCH or MDH must demonstrate that it appropriately adjusted the number of staff in inpatient areas of the hospital based on the decrease in the number of inpatient days. This formula examines nursing staff in particular. If an SCH or MDH has an excess number of nursing staff, the cost of maintaining those staff members is deducted from the total adjustment. One exception to this policy is that no SCH or MDH may reduce its number of staff to a level below what is required by State or local law. In other words, an SCH or MDH will not be penalized for maintaining a level of staff that is consistent with State or local requirements.

The process for determining the amount of the volume decrease adjustment can be found in section 2810.1 of the Provider Reimbursement Manual. Fiscal intermediaries are responsible for establishing whether an SCH or MDH is eligible for a volume decrease adjustment and, if so, the amount of the adjustment. To qualify for this adjustment, the SCH or MDH must demonstrate that: (a) A 5 percent or more decrease of total discharges has occurred; and (b) the circumstance that caused the decrease in discharges was beyond the control of the hospital. Once the fiscal intermediary has established that the SCH or MDH satisfies these two requirements, it will calculate the adjustment. The adjustment amount is determined by subtracting the second year's DRG payment from the lesser of: (a) The second year's costs minus any adjustment for excess staff; or (b) the previous year's costs multiplied by the appropriate IPPS update factor minus any adjustment for excess staff. The SCH or MDH receives the difference in a lump-sum payment.

The adjustment for excess staff is currently broken into two parts: The routine acute care area (excluding intensive care unit areas) excess staff adjustment and the intensive care unit excess staff adjustment. (For purposes of this section of the preamble, any subsequent references to the routine acute care area of an SCH or MDH refer to the routine acute care area excluding any intensive care unit areas.) In order to determine whether or not the hospital is appropriately staffing its routine acute care and its intensive care unit area, the fiscal intermediary compares the hospital's actual number of nursing staff in each area with the staffing of like-size hospitals in the same census region.

Currently, fiscal intermediaries obtain average nurse staffing data from the American Hospital Association's HAS/Monitrend Data Book. (More information on the HAS/Monitrend Data Book follows.) If a hospital employs more than the reported average number of nurses in the routine acute care or intensive care unit area for hospitals of its size and census region, the fiscal intermediary reduces the amount of the adjustment by the cost of maintaining the additional staff. The amount of the reduction is calculated by multiplying the actual number of nursing staff above the reported average by the average nurse salary for that hospital as reported on the Medicare cost report. The complete process for determining the amount of the adjustment can be found at section 2810.1 of the Provider Reimbursement Manual.

Representatives from several SCH and MDH hospitals have contacted CMS with concerns regarding the current use of the HAS/Monitrend data for determining the volume decrease adjustment for SCHs and MDHs. Because the most recent HAS/Monitrend Data Book was published in 1989 and is no longer updated, the hospitals expressed concern that the information in the publication is too outdated for current use. Therefore, in this proposed rule, we are presenting for public comment a new methodology for calculating the adjustment for excess staff under section IV.C.2.b. of this preamble.

a. HAS/Monitrend Data

From the mid-1960's to 1989, the Healthcare Administrative Services Division of the American Hospital Association (AHA) published biannually the HAS/Monitrend Data Book, a collection of aggregate hospital statistics. Hospitals completed surveys based on 6 months of data; these data were categorized into one of five bed-size groups and into one of nine census regions. The bed size groups were 0-49, 50-99, 100-199, 200-399, and 400 or more beds. The census regions include: (1) New England (Connecticut, Maine, Massachusetts, New Hampshire, Rhode Island, and Vermont); (2) Middle Atlantic (New Jersey, New York, and Pennsylvania); (3) South Atlantic (Delaware, District of Columbia, Florida, Georgia, Maryland, North Carolina, South Carolina, Virginia, and West Virginia); (4) East North Central (Illinois, Indiana, Michigan, Ohio, and Wisconsin); (5) East South Central (Alabama, Kentucky, Mississippi, and Tennessee); (6) West North Central (Iowa, Kansas, Minnesota, Missouri, Nebraska, North Dakota, and South Dakota); (7) West South Central (Arkansas, Louisiana, Oklahoma, and Texas); (8) Mountain (Arizona, Colorado, Idaho, Montana, Nevada, New Mexico, Utah, and Wyoming); and (9) Pacific (Alaska, California, Hawaii, Oregon, and Washington).

The survey collected data on nearly 400 items pertaining to utilization, resource allocation, departmental productivity, departmental direct expenses, and staffing. In order for aggregate data to be published for a category, at least three hospitals in the same census region and bed-size group had to have responded to the survey. For the final 1989 publication, 996 acute care hospitals completed the survey. CMS has used the HAS/Monitrend Data Book since 1984 to determine the volume decrease adjustment for SCHs; the data also have been used for the volume decrease adjustment for MDHs since 1990. In particular, CMS has used the HAS/Monitrend data on the number of paid nursing hours per patient day (“paid hours/patient day”) in both the general acute care area (“Medical and Surgical Units”) and the intensive care unit (“Med & Surg Intensive Care Unit”). More information on the HAS/Monitrend Data Book is available from the American Hospital Association, 840 North Lake Shore Drive, Chicago, Illinois 60611.

b. HAS/Monitrend Data Book Replacement Alternative

Below, we are proposing an alternative method for determining an SCH's or MDH's target number of core staff using data from the Medicare cost report and the occupational mix survey. However, this methodology would only establish one combined average number of nursing hours per patient day for both the inpatient routine care and the intensive care unit areas. We are proposing to use the Medicare cost report and occupational mix survey data beginning with requests for adjustments for FY 2008 cost reports. We welcome comments from the public on this proposal.

(1) Occupational Mix Survey

As discussed in section III.C. of the preamble to this proposed rule, the CMS occupational mix survey collects from each hospital data on the mix of employees in the areas of the hospital payable under the IPPS for a limited number of hospital occupational categories. These categories (nursing, therapy, medical and clinical laboratory, dietary, and pharmacy) each include several SOCs, as defined by the BLS, that may be used by hospitals with different mixes to provide specific aspects of patient care. For example, hospitals may choose to employ different combinations of registered nurses, licensed practical nurses, and nurses' aides for the purpose of providing nursing care to their patients. The varying labor costs associated with these choices reflect hospital management decisions rather than geographic differences in the costs of labor. The data collected on the survey are used to adjust hospitals' wage data to account for each hospital's SOC mix within the general occupational categories. Hospitals completed the first occupational mix survey using FY 2003 data. A second survey will be completed this year (FY 2006).

Under this proposed method, we would calculate the nursing hours per inpatient day for each SCH or MDH by dividing the number of paid nursing hours (for registered nurses, licensed practical nurses, and nursing aides) reported on the occupational mix survey by the number of inpatient days reported on the Medicare cost report. The results would be grouped into the same bed-size groups and census regions as the HAS/Monitrend Data Book. CMS would publish the mean number of nursing hours per patient day for each census region and bed-size group in the Federal Register. (We are proposing to include licensed practical nurse and nursing aide hours as well as registered nurse hours to reflect the various levels of nursing staff employed by hospitals to provide direct patient care.)

The results that would be published in the Federal Register would be the target number of core nursing hours per patient day. For purposes of the volume decrease adjustment, the published data would be utilized in the same way as the HAS/Monitrend data: the fiscal intermediary would multiply the SCH's or MDH's number of inpatient days by the applicable published hours per patient day. This figure would be divided by the average number of worked hours per year per nurse (for example, 2,080 for a standard 40-hour week). The result would be the target number of core nursing staff for the particular SCH or MDH. If necessary, the cost of any excess staff (number of FTEs that exceed the published number) would be removed from the second year's costs or, if applicable, the previous year's costs multiplied by the IPPS update factor when determining the volume decrease adjustment. Because we are considering registered nurses, licensed practical nurses, and nursing aides, the fiscal intermediary would calculate the excess staff adjustment by multiplying the number of excess staff by the average salary among the three groups, taking into account how many registered nurses, licensed practical nurses, and nursing aides work at the facility. (For instance, if the hospital's average salary for a registered nurse is $50,000 and the hospital's average salary for a licensed practical nurse is $30,000 and the hospital employs 5 registered nurses, 3 licensed practical nurses, and no nursing aides, the calculated average salary would be $42,500 for one FTE (((5 × $50,000) + (3 × $30,000))/8 = $42,500).

We are proposing to use the results of the FY 2006 occupational mix survey and begin applying the proposed methodology for adjustments resulting from a decrease in discharges between FYs 2007 to 2008. Because the occupational mix survey is conducted once every 3 years, we would update the data set every 3 years. We are proposing to use the FY 2006 survey results and not to utilize the FY 2003 survey results to take into account comments we received in response to the first set of results from the occupational mix survey, and to ensure that hospitals have had some experience with the occupational mix survey before it is used in determining these adjustments. Because we have used the HAS/Monitrend data for so many years, we believe it is appropriate to continue to use these data for one more year and wait for the results of the FY 2006 survey. This will give hospitals an opportunity to have some experience with the occupational mix survey before it is used in these adjustments, and will allow us to compare the data from the FY 2006 occupational mix survey with the data reported in the 2003 survey, if necessary. However, for purposes of describing how we would implement this methodology, we have applied the proposed calculation to the FY 2003 occupational mix survey data. While we are not proposing to use the FY 2003 data, we believe that it is the best data available at this time to help explain our proposed methodology.

To calculate the results below, we merged the FY 2003 occupational mix survey results into the FY 2003 cost report file. We eliminated all observations for non-IPPS providers, providers who failed to complete the occupational mix survey, and providers for which provider numbers, bed counts and/or day counts were missing. We also only included providers with 12 months' worth of data. This resulted in a pool of approximately 3,541 providers.

For each provider in this pool, we calculated the number of nursing hours by adding the number of registered nurse, license practical nurse, and nursing aide hours reported on the occupational mix survey. We divided the result of this calculation by the total number of inpatient days reported on the cost report to determine the number of nursing hours per patient day.

For purposes of calculating the census regional averages for the various bed-size groups, we are proposing to only include observations that fall within 3 standard deviations of the mean of all observations, thus removing potential outliers in the data. Below are the results of this calculation.

We realize that, in the chart, some results may appear to be anomalous (for example, 0-49 beds for census regions 4, 6, and 8). We believe a small number of outlier data may have skewed the mean, which was the basis for identifying data within 3 standard deviations to include in the calculations. Therefore, we are soliciting comments on whether we should consider another method for determining the appropriateness of using available data in calculating the average number of nursing hours per patient day. For instance, in this case, the results are based on the inclusion of data within 3 standard deviations of the mean. Alternatively, we could use another measure of central tendency.

Paid Nursing Hours per Patient Day
Number of beds | Census region: 1 | Census region: 2 | Census region: 3 | Census region: 4 | Census region: 5 | Census region: 6 | Census region: 7 | Census region: 8 | Census region: 9
0-49 | 16.38 | 8.33 | 19.26 | 30.76 | 11.72 | 26.70 | 20.50 | 31.00 | 17.39
50-99 | 13.71 | 11.07 | 15.66 | 17.37 | 13.69 | 15.53 | 12.51 | 16.63 | 16.11
100-199 | 11.98 | 10.99 | 14.38 | 13.44 | 11.93 | 17.03 | 13.91 | 14.33 | 13.32
200-399 | 12.40 | 12.19 | 14.19 | 13.00 | 10.57 | 16.20 | 11.35 | 14.06 | 15.33
400 or more | 13.32 | 9.42 | 12.77 | 15.39 | 9.51 | 19.70 | 12.36 | 17.64 | 13.32

(2) American Hospital Association Annual Hospital Survey

In the process of evaluating different sources of data to replace the HAS/Monitrend Data Book, we considered using the results of the AHA's Annual Hospital Survey. This survey includes over 700 data fields that cover facilities and services, utilization, finances, and staffing. On average, 6,000 hospitals complete the survey each year. Section E of the Annual Survey Database includes total facility staffing data. FTE counts are available for registered nurses, practical and vocational nurses, nursing assistive personnel, and other personnel. However, FTEs in outpatient areas, excluded units, and nursing home units within the hospital are also included in the aggregated FTE counts. It is not possible to separately identify how many of the total reported nursing FTEs are attributable to the general acute care facility and how many to a distinct part unit or outpatient facility. Due to varying staffing needs in distinct part units and outpatient areas, we believe that any calculation of average staffing for the inpatient acute care area should consist of data solely from this area of the hospital. Nevertheless, we are requesting comments on this alternative, and possible means for addressing the issue of staffing outside the inpatient acute care area.

3. Mandatory Reporting Requirements for Any Changes in the Circumstances Under Which a Hospital Was Designated as an SCH or MDH

(If you choose to comment on the issues in this section, please include the caption (“SCH/MDH Changes in Qualification Status” at the beginning of your comment.)

Under § 412.92(b)(3) and § 412.108(b)(4) respectively, once a facility has been designated as an SCH or MDH, the classification remains in effect without need for reapproval unless there is a change in the hospital's circumstances. Currently, the regulations do not contain an explicit requirement that an SCH report to CMS a change in circumstances that would affect its status as an SCH. Likewise, the current regulations for MDHs do not contain an explicit requirement that an MDH report to CMS a change in the circumstances affecting its MDH status. However, the fiscal intermediary is required to evaluate on an ongoing basis whether a hospital continues to qualify for MDH status.

We have become aware of several hospitals that have maintained SCH or MDH status after the original circumstances that led to the respective classification changed. We are proposing to amend § 412.92(b)(3) for SCHs and § 412.108(b)(4) for MDHs to require an SCH or MDH to report to its appropriate CMS Regional Office when the circumstances under which the hospital was approved for SCH or MDH status have changed. At that time, the CMS Regional Office will determine whether the SCH or MDH continues to meet the criteria for classification under § 412.92 or § 412.108. If an SCH or MDH no longer meets these criteria, the CMS Regional Office will issue a letter canceling the classification within 30 days of its determination. If the circumstances affecting a hospital's SCH or MDH classification change and the hospital does not disclose the information to the CMS Regional Office, CMS will cancel the hospital's SCH or MDH designation effective on the earliest discernable date on which the fiscal intermediary can determine that the hospital no longer met the criteria for classification.

For MDHs, this reporting requirement is in addition to the fiscal intermediary's ongoing evaluations of whether a hospital continues to qualify for MDH status as set out in our existing regulations at § 412.108(b)(5).

4. Proposed Payment Changes for MDHs Under the DRA of 2005 (Proposed § 412.79 and Existing §§ 412.90(j) and 412.108)

(If you choose to comment on this section, please include the caption “Payments to MDHs” at the beginning of your comment.)

a. Background

Under § 412.108(a) of our regulations, in order to be classified as an MDH, a hospital must: (1) Be located in a rural area (as defined in 42 CFR Part 412, Subpart D); (2) have 100 or fewer beds (as defined at § 412.105(b)) during the cost reporting period; (3) must not be classified as an SCH (as defined in § 412.92); and (4) have no less than 60 percent of its inpatient days or discharges attributable to inpatients receiving Medicare Part A benefits during either its cost reporting period beginning in FY 1987, or in two of the last three of its audited cost reports that have been settled.

MDHs have been eligible for a series of special payment rates under the IPPS. Section 6003(f) of Pub. L. 101-239 created the first IPPS special payment methodology for MDHs. Effective for cost reporting periods beginning on or after April 1, 1990, and ending on or before March 31, 1993, an MDH was paid based on whichever of the following rates yielded the greatest aggregate payment for the cost reporting period:

• The Federal payment rate applicable to the MDH;

• The MDH's updated hospital-specific rate based on its FY 1982 base period costs per discharge; or

• The MDH's updated hospital-specific rate based on its FY 1987 base period costs per discharge.

Section 13501(e)(1) Pub. L. 103-66 extended the MDH payment provisions through 1994 and provided that, for discharges occurring after March 31, 1993, if an MDH's applicable hospital-specific rate exceeded the Federal payment rate, the additional payment was limited to 50 percent of the amount by which the applicable updated hospital-specific rate exceeded the Federal rate. These provisions expired effective for cost reporting periods beginning on or after October 1, 1994.

Section 4204(a)(3) of Pub. L. 105-33 amended sections 1886(d)(5)(G)(i) and (d)(5)(G)(ii)(II) of the Act to reinstate these special MDH payment provisions, including the 50-percent limitation, for cost reporting periods “beginning on or after October 1, 1997, and before October 1, 2001.” Section 321(b)(1) of Pub. L. 106-113 made a technical amendment to these provisions of the Act (which describes the time periods for which some of the special payment provisions apply and the time periods during which a hospital may be considered an MDH under section 1886(d)(1)(G)(iv) of the Act) by striking the language “beginning on or after October 1, 1997, and before October 1, 2001” and replacing it with “discharges occurring on or after October 1, 1997, and before October 1, 2001”. This change was made effective as if included in Pub. L. 105-33. Pub. L. 106-113 also provided for a 5-year extension of the MDH special payment provisions. Section 404(a) of that law further amended sections 1886(d)(1)(G)(i) and (d)(1)(G)(ii)(II) of the Act by striking the phrase “and before October 1, 2001” and inserting the phrase “and before October 1, 2006”.

Section 5003(a) of Pub. L. 109-171 (DRA of 2005) amended the MDH special payment provisions in the Act. It amended section 1886(d)(5)(G) of the Act and made a conforming amendment under section 1886(b)(3)(D) of the Act to provide for another 5-year extension of the special MDH payment methodology. Under this extension, a revised special MDH payment methodology will apply for discharges occurring on or after October 1, 2006, and before October 1, 2011.

As stated earlier, currently, MDHs are paid using whichever rate yields the greatest aggregate payment: The Federal payment rate or, if higher, the Federal payment rate plus 50 percent of the difference between the Federal payment rate and the updated hospital-specific rate based on FY 1982 or FY 1987 base period costs per discharge.

Section 5003(b) of Pub. L. 109-171 provides that, for discharges occurring on or after October 1, 2006, and before October 1, 2011, an MDH's updated hospital-specific rate will be the FY 2002 base period costs per discharges if the FY 2002 based hospital-specific rate results in a payment increase. In cases where no payment increase results from using FY 2002 hospital-specific rate, an MDH will continue to be paid based on the higher of its updated FY 1982 or FY 1987 hospital-specific rates, if using one of those rates results in a payment higher than that under the Federal payment rate. (Unlike an SCH, an MDH does not have the option of using its updated FY 1996 hospital-specific rate.)

Under section 5003(c) of Pub. L. 109-171, for discharges occurring on or after October 1, 2006, and before October 1, 2011, if an MDH's applicable hospital-specific rate exceeded the Federal payment rate, the additional payment is limited to 75 percent (as opposed to the previous 50 percent) of the amount by which the applicable updated hospital-specific rate exceeded the Federal rate.

Section 5003(d) of Pub. L. 109-171 enhances the DSH adjustment for MDHs for discharges occurring on or after October 1, 2006. We discuss our proposals to implement this provision in section IV.F.4. of this preamble.

b. Proposed Regulation Changes

We are proposing to amend our regulations to implement section 5003(a) through (c) of Pub. L. 109-171. We are proposing to add a new § 412.79 that describes how we would compute and update the MDH hospital-specific rate based on its FY 2002 base period. In addition, we are proposing to revise § 412.90(j) to reflect the extension of the MDH special payment provisions to discharges occurring before October 1, 2011. We also are proposing to amend § 412.108 by revising paragraph (a) and adding a new paragraph (c)(2)(iii) to reflect the changes to the special payment methodology effective for discharges occurring on or after October 1, 2006, and before October 1, 2011.

As a part of our proposed amendments to § 412.90(j) and § 412.108(a), we are making two technical corrections. Section 412.90(j) describes when an MDH may receive a special payment adjustments, while § 412.108(a) discusses the definition of an MDH. Each of these sections now refers to “cost reporting periods beginning on or after April 1, 1990 and before October 1, 1994, or beginning on or after October 1, 1997 and before October 1, 2006”. However, as noted above, sections 1886(d)(5)(G)(i) and (d)(5)(G)(ii)(II) of the Act, the provisions of the Act from which these time periods were drawn, were amended by Pub. L. 106-113. Sections 321(b)(1) and 404(a) of Pub. L. 106-113 amended sections 1886(d)(5)(G)(i) and (d)(5)(ii)(II) of the Act so that the phrase in each section “beginning on or after October 1, 1997, and before October 1, 2001” was replaced with the phrase “discharges occurring on or after October 1, 1997, and before October 1, 2006”. (Section 5003(a)(1) of Pub. L. 109-171 changed the ending date in these provisions from “before October 1, 2006” to “before October 1, 2011”.)

Therefore, we are removing the incorrect phrase “beginning on or after October 1, 1997” from each of these regulations and inserting the phrase, “discharges occurring on or after October 1, 1997”, to conform the regulations to the statute.

5. Proposed Technical Change

In paragraph (b)(2)(iv) of § 412.92, we are proposing to correct the spelling of the word “adjustment” by changing it to “adjustment”.

D. Rural Referral Centers (§ 412.96)

(If you choose to comment on issues in this section, please include the caption “Rural Referral Centers” at the beginning of your comment.)

Under the authority of section 1886(d)(5)(C)(i) of the Act, the regulations at § 412.96 set forth the criteria that a hospital must meet in order to qualify under the IPPS as a rural referral center. For discharges occurring before October 1, 1994, rural referral centers received the benefit of payment based on the other urban standardized amount rather than the rural standardized amount. Although the other urban and rural standardized amounts are the same for discharges occurring on or after October 1, 1994, rural referral centers continue to receive special treatment under both the DSH payment adjustment and the criteria for geographic reclassification.

Section 402 of Pub. L. 108-173 raised the DSH adjustment for other rural hospitals with less than 500 beds and rural referral centers. Other rural hospitals with less than 500 beds are subject to a 12 percent cap on DSH payments. Rural referral centers are not subject to the 12 percent cap on DSH payments that is applicable to other rural hospitals (with the exception of rural hospitals with 500 or more beds). Rural referral centers are not subject to the proximity criteria when applying for geographic reclassification, and they do not have to meet the requirement that a hospital's average hourly wage must exceed 106 percent of the average hourly wage of the labor market area where the hospital is located.

Section 4202(b) of Pub. L. 105-33 states, in part, “[a]ny hospital classified as a rural referral center by the Secretary * * * for fiscal year 1991 shall be classified as such a rural referral center for fiscal year 1998 and each subsequent year.” In the August 29, 1997 final rule with comment period (62 FR 45999), we also reinstated rural referral center status for all hospitals that lost the status due to triennial review or MGCRB reclassification, but not to hospitals that lost rural referral center status because they were now urban for all purposes because of the OMB designation of their geographic area as urban. However, subsequently, in the August 1, 2000 final rule (65 FR 47089), we indicated that we were revisiting that decision. Specifically, we stated that we would permit hospitals that previously qualified as a rural referral center and lost their status due to OMB redesignation of the county in which they are located from rural to urban to be reinstated as a rural referral center. Otherwise, a hospital seeking rural referral center status must satisfy the applicable criteria. We used the definitions of “urban” and “rural” specified in Subpart D of 42 CFR Part 412.

One of the criteria under which a hospital may qualify as a rural referral center is to have 275 or more beds available for use (§ 412.96(b)(1)(ii)). A rural hospital that does not meet the bed size requirement can qualify as a rural referral center if the hospital meets two mandatory prerequisites (a minimum CMI and a minimum number of discharges) and at least one of three optional criteria (relating to specialty composition of medical staff, source of inpatients, or referral volume) (§ 412.96(c)(1) through (c)(5)). (See also the September 30, 1988 Federal Register (53 FR 38513).) With respect to the two mandatory prerequisites, a hospital may be classified as a rural referral center if—

• The hospital's CMI is at least equal to the lower of the median CMI for urban hospitals in its census region, excluding hospitals with approved teaching programs, or the median CMI for all urban hospitals nationally; and

• The hospital's number of discharges is at least 5,000 per year, or, if fewer, the median number of discharges for urban hospitals in the census region in which the hospital is located. (The number of discharges criterion for an osteopathic hospital is at least 3,000 discharges per year, as specified in section 1886(d)(5)(C)(i) of the Act.)

1. Case-Mix Index

Section 412.96(c)(1) provides that CMS will establish updated national and regional CMI values in each year's annual notice of prospective payment rates for purposes of determining rural referral center status. The methodology we use to determine the national and regional CMI values is set forth in regulations at § 412.96(c)(1)(ii). The proposed national median CMI value for FY 2007 includes all urban hospitals nationwide, and the proposed regional values for FY 2007 are the median values of urban hospitals within each census region, excluding those hospitals with approved teaching programs (that is, those hospitals receiving indirect medical education payments as provided in § 412.105). These proposed values are based on discharges occurring during FY 2005 (October 1, 2004 through September 30, 2005) and include bills posted to CMS' records through December 2005.

We are proposing that, in addition to meeting other criteria, if they are to qualify for initial rural referral center status for cost reporting periods beginning on or after October 1, 2006, rural hospitals with fewer than 275 beds must have a CMI value for FY 2005 that is at least—

• 1.3365; or

• The median CMI value (not transfer-adjusted) for urban hospitals (excluding hospitals with approved teaching programs as identified in § 412.105) calculated by CMS for the census region in which the hospital is located.

The proposed median CMI values by region are set forth in the following table:

Region | Case-mix index value
1. New England (CT, ME, MA, NH, RI, VT) | 1.2678
2. Middle Atlantic (PA, NJ, NY) | 1.2701
3. South Atlantic (DE, DC, FL, GA, MD, NC, SC, VA, WV) | 1.1781
4. East North Central (IL, IN, MI, OH, WI) | 1.3156
5. East South Central (AL, KY, MS, TN) | 1.2009
6. West North Central (IA, KS, MN, MO, NE, ND, SD) | 1.2856
7. West South Central (AR, LA, OK, TX) | 1.2445
8. Mountain (AZ, CO, ID, MT, NV, NM, UT, WY) | 1.3024
9. Pacific (AK, CA, HI, OR, WA) | 1.3620

The preceding numbers will be revised in the final rule to the extent required to reflect the updated FY 2005 MedPAR file, which will contain data from additional bills received through March 2006.

Hospitals seeking to qualify as rural referral centers or those wishing to know how their CMI value compares to the criteria should obtain hospital-specific CMI values (not transfer-adjusted) from their fiscal intermediaries. Data are available on the Provider Statistical and Reimbursement (PS&R) System. In keeping with our policy on discharges, these CMI values are computed based on all Medicare patient discharges subject to DRG-based payment.

2. Discharges

Section 412.96(c)(2)(i) provides that CMS will set forth the national and regional numbers of discharges in each year's annual notice of prospective payment rates for purposes of determining rural referral center status. As specified in section 1886(d)(5)(C)(ii) of the Act, the national standard is set at 5,000 discharges. We are proposing to update the regional standards based on discharges for urban hospitals' cost reporting periods that began during FY 2003 (that is, October 1, 2002 through September 30, 2003), which is the latest available cost report data we had at that time.

Therefore, we are proposing that, in addition to meeting other criteria, a hospital, if it is to qualify for initial rural referral center status for cost reporting periods beginning on or after October 1, 2006, must have as the number of discharges for its cost reporting period that began during FY 2003 a figure that is at least—

• 5,000 (3,000 for an osteopathic hospital); or

• The median number of discharges for urban hospitals in the census region in which the hospital is located, as indicated in the following table:

Region | Number of discharges
1. New England (CT, ME, MA, NH, RI, VT) | 7,360
2. Middle Atlantic (PA, NJ, NY) | 10,170
3. South Atlantic (DE, DC, FL, GA, MD, NC, SC, VA, WV) | 10,117
4. East North Central (IL, IN, MI, OH, WI) | 8,983
5. East South Central (AL, KY, MS, TN) | 7,427
6. West North Central (IA, KS, MN, MO, NE, ND, SD) | 7,346
7. West South Central (AR, LA, OK, TX) | 7,060
8. Mountain (AZ, CO, ID, MT, NV, NM, UT, WY) | 9,832
9. Pacific (AK, CA, HI, OR, WA) | 7,680

These numbers will be revised in the final rule based on the latest available cost report data.

We note that the median number of discharges for hospitals in each census region is greater than the national standard of 5,000 discharges. Therefore, 5,000 discharges is the minimum criterion for all hospitals.

We reiterate that if an osteopathic hospital is to qualify for rural referral center status for cost reporting periods beginning on or after October 1, 2006, the hospital would be required to have at least 3,000 discharges for its cost reporting period that began during FY 2003.

E. Indirect Medical Education (IME) Adjustment (§ 412.105)

(If you choose to comment on issues in this section, please include the caption “IME Adjustment” at the beginning of your comment.)

1. Background

Section 1886(d)(5)(B) of the Act provides that prospective payment hospitals that have residents in an approved graduate medical education (GME) program receive an additional payment to reflect the higher indirect patient care costs of teaching hospitals relative to nonteaching hospitals. The regulations regarding the calculation of this additional payment, known as the indirect medical education (IME) adjustment, are located at § 412.105.

The Balanced Budget Act of 1997 (Pub. L. 105-33) established a limit on the number of allopathic and osteopathic residents that a hospital may include in its full-time equivalent (FTE) resident count for direct GME and IME payment purposes. Under section 1886(h)(4)(F) of the Act, a hospital's unweighted FTE count of residents may not exceed the hospital's unweighted FTE count for its most recent cost reporting period ending on or before December 31, 1996. Under section 1886(d)(5)(B)(v) of the Act, the limit on the FTE resident count for IME purposes is effective for discharges occurring on or after October 1, 1997. A similar limit is effective for direct GME purposes for cost reporting periods beginning on or after October 1, 1997.

2. IME Adjustment Factor for FY 2007

The IME adjustment to the DRG payment is based in part on the applicable IME adjustment factor. The IME adjustment factor is calculated using a hospital's ratio of residents to beds, which is represented as r, and a formula multiplier, which is represented as c, in the following equation: c × [{1 + r} .405 −1]. The formula is traditionally described in terms of a certain percentage increase in payment for every 10-percent increase in the resident-to-bed ratio.

Section 502(a) of Public Law 108-173 modified the formula multiplier (c) to be used in the calculation of the IME adjustment. Prior to the enactment of Public Law 108-173, the formula multiplier was fixed at 1.35 for discharges occurring during FY 2003 and thereafter. Section 502(a) modified the formula multiplier beginning midway through FY 2004 and provided for a new schedule of formula multipliers for FY 2005 and thereafter. In the FY 2005 IPPS rule, we announced the schedule of formula multiplier to be used in the calculation of the IME adjustment and incorporated the schedule in our regulations at § 412.105(d)(3)(viii) through (d)(3)(xii).

In this proposed rule, we are specifying that for any discharges occurring during FY 2007, the formula multiplier is 1.32. We estimate that application of the mandated formula multiplier for FY 2007 will result in an increase of 5.38 percent in IME payment for every approximately 10-percent increase in the resident-to-bed ratio from FY 2006 to FY 2007.

3. Technical Change To Revise Cross-Reference

We are proposing to revise the cross-references included in paragraph (f)(1)(ii)(C) of § 412.105 that specify the criteria for counting FTE residents who spend time in nonprovider settings for IME payment adjustment purposes. Currently, this paragraph only cites the criteria set forth in §§ 413.78(c) or 413.78(d). We should have also cited the provisions of § 413.78(e), which state that the time residents spend in nonprovider settings such as freestanding clinics, nursing homes, and physicians' offices in connection with approved programs may be included in determining the number of FTE residents in the calculation of a hospital's resident count if other applicable conditions specified in paragraph (e) are met.

We note that in sections IV.H.2., 3., 4., and 5. of the preamble of this proposed rule, we discuss other proposed policy changes and clarifications to the methodology for counting FTE residents for the purposes of direct GME payments, which would be applicable to IME payments also.

F. Payment Adjustment for Disproportionate Share Hospitals (DSHs) (§ 412.106)

(If you choose to comment on issues in this section, please include the caption “DSH Adjustment” at the beginning of your comment.)

1. Background

Section 1886(d)(5)(F) of the Act provides for additional payments to subsection (d) hospitals that serve a disproportionate share of low-income patients. The Act specifies two methods for a hospital to qualify for the Medicare disproportionate share hospital (DSH) adjustment. Under the first method, hospitals that are located in an urban area and have 100 or more beds may receive a DSH payment adjustment if the hospital can demonstrate that, during its cost reporting period, more than 30 percent of its net inpatient care revenues are derived from State and local government payments for care furnished to indigent patients. These hospitals are commonly known as “Pickle hospitals.” The second method, which is also the most commonly used method for a hospital to qualify, is based on a complex statutory formula under which payment adjustments are based on the level of the hospital's DSH patient percentage, which is the sum of two fractions: The “Medicare fraction” and the “Medicaid fraction.” The Medicare fraction is computed by dividing the number of patient days that are furnished to patients who were entitled to both Medicare Part A and Supplemental Security Income (SSI) benefits by the total number of patient days furnished to patients entitled to benefits under Medicare Part A. The Medicaid fraction is computed by dividing the number of patient days furnished to patients who, for those days, were eligible for Medicaid but were not entitled to benefits under Medicare Part A by the number of total hospital patient days in the same period.

2. Technical Corrections

We are proposing to make a technical correction to § 412.106(a)(1)(iii) to reflect the statutory requirement at section 1886(d)(8)(E) of the Act that hospitals reclassified under § 412.103 are considered rural for purposes of this DSH regulation. We are also proposing to correct the regulation to eliminate the reference to § 412.62(f). These corrections reflect current policy and already-existing statutory requirements.

3. Proposed Reinstatement of Inadvertently Deleted Provisions on DSH Payment Adjustment Factors

In an interim final rule published in the Federal Register on June 13, 2001 (66 FR 32174 and 32194) (which was finalized in the Federal Register on August 1, 2001 (66 FR 39827)), we incorporated into our regulations at § 412.106(d)(2) the provisions of section 211(b) of Public Law 106-554. Section 211(b) amended section 1886(d)(5)(F) of the Act to revise the calculation of the disproportionate share percentage adjustment for hospitals affected by the revised DSH qualifying threshold percentages specified in section 211(a) of Public Law 106-554. When the section 211 changes were incorporated into the Code of Federal Regulations at § 412.106(d)(2), the regulation text at § 412.106(d)(2)(v) was inadvertently deleted during the transcribing of the new text into the existing regulations. Section 412.106(d)(2)(v) specifies the payment adjustment factors for hospitals that meet the following criteria under § 412.106(c)(2) for discharges occurring on or after April 1, 1990, and before October 1, 1991, and on or after October 1, 1991: Hospitals located in an urban area, that have 100 or more beds, and that can demonstrate that, during their cost reporting period, more than 30 percent of their net inpatient care revenues are derived from State and local government payments for care furnished to indigent patients.

We are proposing to reinstate the inadvertently deleted text of § 412.106(d)(2)(v). We note that this is a correction to the regulations; we are not proposing to change the payment adjustment factors for hospitals that meet the criteria under § 412.106(c)(2).

4. Enhanced DSH Adjustment for MDHs

The DSH adjustment factor for most categories of hospitals is capped at 12 percent. Urban hospitals with more than 100 beds, rural hospitals with more than 500 beds, and rural referral centers, are exempt from this cap.

Section 5003(d) of Public Law 109-171 (DRA of 2005) amended section 1886(d)(5)(F) of the Act to revise the DSH payment adjustment factor for MDHs, effective for discharges occurring on or after October 1, 2006. Specifically, section 5003(d) amended section 1886(d)(5)(F)(xiv)(II) of the Act to exclude MDHs from the 12-percent DSH adjustment factor cap.

For all discharges occurring on or after October 1, 2006, the fiscal intermediary will not apply the cap when calculating the DSH payments. These payments will be subject to revision upon final settlement of the cost reporting period. We note that this change will not affect the calculation of the disproportionate patient percentage.

We are proposing to amend the regulations at § 412.106 to include this provision under proposed new paragraph (d)(2)(iv)(D).

G. Geographic Reclassifications (§§ 412.103, 412.230, and 412.234)

(If you choose to comment on issues in this section, please include the caption “Geographic Reclassifications” at the beginning of your comment.)

1. Background

With the creation of the MGCRB, beginning in FY 1991, under section 1886(d)(10) of the Act, hospitals could request reclassification from one geographic location to another for the purpose of using the other area's standardized amount for inpatient operating costs or the wage index value, or both (September 6, 1990 interim final rule with comment period (55 FR 36754), June 4, 1991 final rule with comment period (56 FR 25458), and June 4, 1992 proposed rule (57 FR 23631)). As a result of legislative changes under section 402(b) of Public Law 108-7, section 402 of Public Law 108-89, and section 401 of Public Law 108-173, the standardized amount reclassification criterion for large urban and other areas is no longer necessary or appropriate and has been removed from our reclassification policy. We implemented this policy in the FY 2005 IPPS final rule (69 FR 49103). As a result, hospitals can request reclassification for the purposes of the wage index only and not the standardized amount. Implementing regulations in Subpart L of 42 CFR part 412 (§§ 412.230 et seq.) set forth criteria and conditions for reclassifications for purposes of the wage index from rural to urban, rural to rural, or from an urban area to another urban area, with special rules for SCHs and rural referral centers.

Under section 1886(d)(8)(E) of the Act, an urban hospital may file an application to be treated as being located in a rural area if certain conditions are met. The regulations implementing this provision are located under § 412.103.

Effective with reclassifications for FY 2003, section 1886(d)(10)(D)(vi)(II) of the Act provides that the MGCRB must use the average of the 3 years of hourly wage data from the most recently published data for the hospital when evaluating a hospital's request for reclassification. The regulations at § 412.230(d)(2)(ii) stipulate that the wage data are taken from the CMS hospital wage survey used to construct the wage index in effect for prospective payment purposes. To evaluate applications for wage index reclassifications for FY 2007, the MGCRB used the 3-year average hourly wages published in Table 2 of the August 12, 2005 IPPS final rule (70 FR 47508). These average hourly wages are taken from data used to calculate the wage indexes for FY 2004, FY 2005, and FY 2006, based on cost reporting periods beginning during FY 2000, FY 2001, and FY 2002, respectively.

2. Reclassifications Under Section 508 of Public Law 108-173

As we discuss in section III.H.5. of the preamble of this proposed rule, under section 508 of Public Law 108-173, a qualifying hospital could appeal the wage index classification otherwise applicable to the hospital and apply for reclassification to another area of the State in which the hospital is located (or, at the discretion of the Secretary, to an area within a contiguous State). Such reclassifications are applicable to discharges occurring during the 3-year period beginning April 1, 2004, and ending March 31, 2007. Under section 508(b), reclassifications under this process do not affect the wage index computation for any area or for any other hospital and cannot be achieved in a budget neutral manner.

Some hospitals currently receiving a section 508 reclassification are eligible to reclassify to that same area under the standard reclassification process as a result of the new labor market definitions that we adopted for FY 2005. In applying for a 3-year MGCRB reclassification beginning in FY 2007, hospitals that are already reclassified to the same area under section 508 should have indicated in their MGCRB reclassification requests that if they receive the MGCRB reclassification, they would forfeit the section 508 reclassification for the first 6 months of FY 2007.

We refer readers to section III.H.5. of the preamble of this proposed rule for a discussion of our updated procedural rules established under section 1886(d)(10)(D)(v) of the Act in which a section 508 hospital may retain its section 508 reclassification through its expiration on March 31, 2007, and accept a reclassification approved by the MGCRB for the second half of FY 2007 (April 1, 2007, through September 30, 2007). We also clarify the procedural rules for an already individually reclassified hospital that is part of a group that includes a section 508 hospital.

3. Multicampus Hospitals (§ 412.230(d)(2)(iii))

Subsequent to the publication of the FY 2005 IPPS final rule, we became aware of a situation in which, as a result of the new labor market areas implemented in FY 2005 for the IPPS, a multicampus hospital previously located in a single MSA is now located in more than one CBSA. Under our existing policy, a multicampus hospital with campuses located in the same labor market area receives a single wage index. However, if the campuses are located in more than one labor market area, payment for each discharge is determined using the wage index value for the MSA (or Metropolitan Divisions, where applicable) in which the campus of the hospital is located. Prior to FY 2006, the criteria for a hospital being reclassified to another wage area by the MGCRB did not address the circumstances under which a single campus of a multicampus hospital may seek reclassification. The regulations require that a hospital provide data from the CMS hospital wage survey for the average hourly wage comparison that is used to support a request for reclassification. Because a multicampus hospital is required to report data for the entire hospital on a single cost report, there is no wage survey data for the individual hospital campus that can be used in a reclassification application.

In the FY 2006 IPPS final rule (70 FR 47444 through 47446 and 47487), we modified the reclassification rules at § 412.230(d)(2)(iii) to allow campuses of multicampus hospitals located in separate wage index areas to support a reclassification application to an area where another campus is located using the average hourly (composite) wage data submitted on the cost report for the entire multicampus hospital as its hospital-specific data. This special rule applies for reclassification applications for FY 2006, FY 2007, and FY 2008 and will not be in effect for FY 2009 reclassification requests. Because reclassification applications to the MGCRB for FY 2009 must be filed in September 2007, or 1 month before the effective date of the FY 2008 IPPS rule, we are addressing whether to propose to extend the special rule for multicampus hospitals beyond FY 2008 in this FY 2007 proposed rule. In the FY 2006 IPPS final rule, we indicated that we would continue to explore options that would allow individual campuses of multicampus hospitals to submit wage data necessary for geographic reclassification and also monitor the number of multicampus hospitals affected by this provision (70 FR 47445 and 47446).

After reviewing this situation further, we believe that if a campus of a multicampus hospital applies for reclassification, it should be required to support its application with campus specific data. Because a cost report is filed for an entire hospital, the campus would have to obtain a separate provider number and be treated for Medicare payment purposes as an independent entity in order to be able to provide wage data for the specific campus. If a hospital were to make a change in FY 2007 to its organizational structure to provide campus specific data to support a reclassification application, the earliest fiscal year that the campus would be eligible to reclassify would be FY 2012 because the cost report data that are used for geographic reclassification precede the payment year by 5 years (that is, FY 2003 cost report data will be used to determine the FY 2008 geographic reclassifications).

To our knowledge, only one hospital has used the special rule for multicampus hospitals. This hospital has since joined a successful FY 2007 urban county group reclassification application to the same area to which it was approved under the multicampus hospital rule. Thus, this hospital is no longer required to meet the multicampus hospital rule. Given that there is only one hospital that has used this rule and this hospital was able to reclassify under the normal reclassification rules, we believe the special reclassification rule that applies to multicampus hospitals is no longer needed. Therefore, we are proposing not to extend the special rule beyond FY 2008. For reclassification requests for FY 2009 and thereafter, a campus of a multicampus hospital would be required to obtain a separate provider number in order to provide the required wage data from the CMS hospital wage survey for the average hourly wage comparison in its MGCRB reclassification application.

4. Urban Group Hospital Reclassifications (§ 412.234(a)(3)(iii))

Section 412.234(a)(3)(iii) of the regulations sets forth criteria for urban hospitals to be reclassified as a group for FY 2007 and thereafter. Under these criteria, “hospitals located in counties that are in the same Combined Statistical Area (CSA) (under the MSA definitions announced by the OMB on June 6, 2003) as the urban area to which they seek redesignation qualify as meeting the proximity requirement for reclassification to the urban area to which they seek redesignation.”

Last year, several commenters brought to our attention that, while the CSA standard allows for urban county group reclassifications in large urban areas throughout the United States (including 10 of the 11 CBSAs containing Metropolitan Divisions), the CSA standard precludes urban county group reclassifications between three Metropolitan Divisions within one CBSA in Florida. They urged us to modify our policy to also allow hospitals located in counties that are in the same CBSA (in the case of Metropolitan Divisions) as the area to which they seek redesignation to be considered to have met the proximity requirement. We agree with the commenter's proposed modification. The proximity standard for group reclassifications is intended to allow all of a county's hospitals to reclassify to an adjacent area where there is sufficient economic integration that there can be an expectation that both areas are competing in a similar labor market area. We believe there is sufficient economic integration between Metropolitan Divisions within a CBSA that urban county reclassifications within a CBSA or a CSA should be permitted. A CBSA, as defined by the OMB, is a “geographic entity associated with at least one core of 10,000 or more population, plus adjacent territory that has a high degree of social and economic integration with the core as measured by commuting ties.”

Therefore, we are proposing to revise § 412.234(a)(3) by adding a new paragraph (iv) to expand the proximity criteria to allow urban county groups to apply for reclassification to another area within the same CBSA. We are proposing to require that, beginning with FY 2008, hospitals must be located in counties that are in the same CSA or CBSA (under the MSA definitions announced by OMB on June 6, 2003) as the urban area to which they seek redesignation to qualify as meeting the proximity requirement for reclassification to the urban area to which they seek redesignation.

5. Effect of Change of Ownership on Urban County Group Reclassifications (§§ 412.230, 412.234, and 489.18)

We have received questions asking for clarification of our policy regarding whether newly constructed hospitals and hospitals that do not accept assignment of the previous owner's provider agreement can join an urban county group reclassification.

The Medicare regulations at § 412.230 require that, for individual hospital reclassifications, a hospital must provide a weighted 3-year average of its average hourly wages using data from the CMS hospital wage survey used to construct the wage index in effect for prospective payment purposes. Section 489.18(c) of the regulations provides that, when there is a change of ownership, the existing provider agreement will automatically be assigned to the new owner when there is a change of ownership as defined in the rules. Section 412.230(d)(2)(iv) of the regulations specifies that, in situations where a hospital becomes a new provider and the existing hospital's provider agreement is not assigned under § 489.18, the wage data associated with the previous hospital's provider number will not be used in calculating the new hospital's 3-year average hourly wage. This policy is consistent with how we treat hospitals whose ownership has changed for other Medicare payment purposes. The regulations also state that once a new hospital has accumulated at least 1 year of wage data using survey data from the CMS hospital wage survey used to determine the wage index, it is eligible to apply for reclassification on the basis of those data.

While the regulations preclude a new provider from individually reclassifying until the hospital accumulates at least 1 year of wage data from the CMS hospital wage survey used to determine the wage index, a new provider may join a group reclassification under § 412.234. Under § 412.234, all hospitals in an urban county must apply for redesignation as a group. If we did not permit a new hospital to join group reclassifications, all hospitals in the county would not be part of the reclassification application and the urban county group would be precluded from reclassifying for 3 years until the new hospital accumulated at least 1 year of wage data. We believe it would be inequitable to preclude a group reclassification merely because there was one newly constructed hospital or one hospital in the county changed ownership and did not accept the prior owner's provider agreement. Alternatively, we believe that allowing group applications without a new hospital would be inconsistent with our regulations and unfair to new hospitals because it would put them at a competitive disadvantage with other hospitals in the county. Because such reclassifications are effective for 3 years, a new hospital that was not allowed to join a group reclassification would have to accept a lower wage index than all other hospitals in the county with which it competes for labor for up to 3 years.

6. Requested Reclassification for Hospitals Located in a Single Hospital MSA Surrounded by Rural Counties

In the FY 2006 IPPS final rule (70 FR 47448), we presented a commenter's concern about the special circumstances of a hospital located in a single hospital MSA surrounded by rural counties in relation to the wage index and the rules governing geographic reclassification. The commenter stated that an isolated hospital in a single hospital MSA is at a competitive disadvantage because the rural hospitals that surround the hospital have been reclassified to higher wage index areas or have been designated as rural referral centers, SCHs, MDHs, or CAHs. The urban hospital is ineligible for reclassification to a higher wage index area either as an individual hospital or as part of a group under the existing regulations. The commenter emphasized that this concern is especially significant given the fact that an isolated hospital in a single hospital MSA is the only hospital in its urban area, and, therefore, has an even greater obligation to the communities it serves.

The commenter advocated a change to the urban county group reclassification regulations whereby a hospital in a single hospital MSA surrounded by rural counties would be able to reclassify to the closest urban area that is part of a CSA located in the same State as the hospital. We did not adopt this suggested policy under the IPPS for FY 2006 because we did not believe it would be prudent to adopt the suggested policy in a final rule without first soliciting public comment.

The commenter's suggestion presents a number of issues on which we seek comment. First a single hospital in an urban area receives a wage index value that directly reflects the wages it pays, undiluted by those of any other hospital. Thus, it would appear that in such cases, the wage index is operating with substantial precision in adjusting the wage-related portion of the payment to accord with the actual wage experience of the hospital in question. We have sought comment on the circumstances facing single hospitals in urban areas in past rulemaking. The justification for reclassifying a hospital that is receiving a wage index reflecting its own wages in this way is not readily apparent. Second, it is open to question why this hospital's situation provides justification for special treatment under the wage index. We understand it is one of two 1886(d) hospitals located in an urban county entirely surrounded by rural counties and that it is within a modest distance of a number of hospitals that have received one form or another of special payment status relating to their rural locations. We are interested in receiving comment on whether these aspects indicate the need for a special wage index reclassification provision. Third, the commenter's suggested policy would allow a hospital to reclassify to a labor market area that is further away than other, closer urban labor market areas. We are concerned that such a reclassification would be inconsistent with the proximity standard we have generally used to reflect local labor markets. Each of these aspects of the suggested policy might affect a significant number of other hospitals and thus be viewed as having widespread precedent that we invite comment upon.

H. Payment for Direct Graduate Medical Education

1. Background

(If you choose to comment on issues in this section, please include the caption “GME Payments” at the beginning of your comment.)

Section 1886(h) of the Act, as added by section 9202 of the Consolidated Omnibus Budget Reconciliation Act (COBRA) of 1985 (Pub. L. 99-272) and implemented in regulations at existing §§ 413.75 through 413.83, establishes a methodology for determining payments to hospitals for the costs of approved graduate medical education (GME) programs. Section 1886(h)(2) of the Act, as added by COBRA, sets forth a methodology for the determination of a hospital-specific, base-period per resident amount (PRA) that is calculated by dividing a hospital's allowable costs of GME for a base period by its number of residents in the base period. The base period is, for most hospitals, the hospital's cost reporting period beginning in FY 1984 (that is, the period beginning between October 1, 1983, through September 30, 1984). Medicare direct GME payments are calculated by multiplying the PRA times the weighted number of full-time equivalent (FTE) residents working in all areas of the hospital (and nonhospital sites, when applicable), and the hospital's Medicare share of total inpatient days. The base year PRA is updated each year for inflation. However, as specified in section 1886(h)(2)(D)(ii) of the Act, for cost reporting periods beginning on or after October 1, 1993, through September 30, 1995, each hospital-specific PRA for the previous cost reporting period is not updated for inflation for any FTE residents who are not either a primary care or an obstetrics and gynecology resident. As a result, hospitals that train primary care and obstetrics and gynecology residents, as well as nonprimary care residents in FY 1994 or FY 1995, have two separate PRAs: One for primary care and obstetrics and gynecology residents and one for nonprimary care residents.

Pub. L. 106-113 amended section 1886(h)(2) of the Act, effective October 1, 2000, to establish a methodology for the use of a national average PRA in computing direct GME payments for cost reporting periods beginning on or after October 1, 2000. Specifically, Pub. L. 106-113 established a “floor” for FY 2001 such that a hospital-specific PRA should not be less than 70 percent of the locality-adjusted national average PRA. In addition, it established a “ceiling” that froze or limited the annual inflation adjustment to a hospital-specific PRA if the PRA exceeded 140 percent of the locality-adjusted national average PRA. Section 511 of Pub. L. 106-554 increased the “floor” established by Pub. L. 106-113 to equal 85 percent of the locality-adjusted national average PRA for PRAs in existence in FY 2002. Existing regulations at § 413.77(d)(2)(iii) specify that, for purposes of calculating direct GME payments, each hospital-specific PRA is compared to the floor (for FY 2001 and FY 2002) and the ceiling (for FY 2001 through 2013) to determine whether a hospital-specific PRA should be revised. We note that, under existing regulations at § 413.77(c), if a hospital-specific PRA for FY 2001 or FY 2002 is revised due to application of the floor PRA, the revised PRA is the starting point for the PRA in future years, subject to the annual inflation adjustment and any other applicable adjustments.

Section 1886(h)(4)(F) of the Act established caps on the number of allopathic and osteopathic residents that hospitals may count for purposes of calculating direct GME payments. For most hospitals, the caps were the number of allopathic and osteopathic FTE residents training in the hospital's most recent cost reporting period ending on or before December 31, 1996. Section 422 of Pub. L. 108-173 amended section 1886(h)(7) of the Act and provided for reductions to the resident caps of teaching hospitals that were training a number of FTE residents below their cap in a reference period, and authorized a “redistribution” of FTE resident slots to hospitals that could demonstrate a likelihood of using the additional resident slots within the first three cost reporting periods beginning on or after July 1, 2005.

2. Determination of Weighted Average Per Resident Amounts (PRAs) for Merged Teaching Hospitals (§ 413.77)

(If you choose to comment on issues in this section, please include the caption “GME: PRA for Merged Hospitals” at the beginning of your comment.)

As stated in the background section above, in accordance with section 1886(h) of the Act, Medicare pays teaching hospitals for the direct costs of GME based on the per resident direct GME costs in a base year. For most hospitals, the base year is FY 1984 (cost reporting periods beginning between October 1, 1983, and September 30, 1984). Although section 1886(h) of the Act provides for the establishment of a PRA for a hospital that trained residents in the 1984 base year, the statute does not address how to treat the PRA(s) of teaching hospitals that subsequently merge.

Our policy has always been that when two or more teaching hospitals merge, we determine a weighted PRA for the surviving merged hospital using direct GME costs and resident data from the base year cost report for each teaching hospital involved in the merger. This policy was detailed in Questions and Answers on Medicare GME Payments Issued on November 8, 1990: “[When] two hospitals merge * * * the merged hospital's per resident amount * * * [is] based on the weighted average of the per resident amounts of both hospitals.” We believe this is an equitable way to determine a PRA for the surviving merged hospital because it is based on the relative costs and sizes of the GME training programs in the respective facilities. Moreover, we believe this policy minimizes the role Medicare GME payments play in the choice of the surviving hospital entity. For example, there is no incentive to choose the surviving hospital based in part on the hospitals' relative PRAs.

To calculate the weighted average PRA for the merged entity, the fiscal intermediary begins by determining the base year PRAs and the base year FTE resident counts of the hospitals that merge. The weighted average PRA is calculated by adding the product of each hospital's base year PRA and its base year FTE resident count, and dividing that number by the total number of the base year FTE residents for those hospitals.

When our current methodology was first established for calculating the new PRA for a merged hospital, we adopted a policy to use base year PRAs and FTE resident counts. It was appropriate and workable to use data from the PRA base year because the base year data (usually for the 1984 fiscal year) associated with the hospital-specific PRAs were easily accessible. However, these data are now often over 20 years old and it has become administratively burdensome for both CMS and the fiscal intermediaries to access base year information in calculating the weighted average of the PRAs for merged hospitals.

In addition to it being administratively burdensome to use base year cost report data, where a hospital has two PRAs—one for primary care and obstetrics and gynecology residents and another for nonprimary care residents, these two PRAs are not being taken into account in developing the weighted average PRA for the merged hospital. As discussed earlier, hospitals that were training nonprimary care residents in FYs 1994 and 1995 have a separate nonprimary care PRA because there was no update for inflation applied to the PRA for nonprimary care residents in those years (§ 413.77(c)(2)). Accordingly, many teaching hospitals currently have two PRAs: One for primary care and obstetrics and gynecology residents and one for all other residents. (Hospitals that first train residents after FY 1995 would only have a single PRA, even if they train both primary care residents and nonprimary care residents.) Because the current methodology for calculating the weighted average PRA for a merged teaching hospital is based solely on data from the PRA base year (which is usually prior to the years during which the PRAs were not adjusted for inflation to reflect nonprimary care residents), this methodology does not take into account that the merged hospitals may currently have more than one PRA.

Effective for cost reporting periods beginning on or after October 1, 2006, rather than use direct GME count of residents and PRA from hospitals' base year cost reports, we are proposing to simplify and revise the weighted average PRA methodology for determining a merged teaching hospital's PRA by using FTE resident data and PRA data from the most recently settled cost reports of the merging hospitals. It is less administratively burdensome to use these data, since these data are more recent and, therefore, more accessible. In addition, these data would reflect both a primary care and obstetrics and gynecology PRA and, if applicable, a nonprimary care resident PRA.

We note that prior to FY 2003, our policy for calculating the PRA for a new teaching hospital was to calculate the PRA based on the lower of the new teaching hospital's actual cost per resident in its base period or a weighted average of all the PRAs of existing teaching hospitals in the same geographic wage area, as that term is used under the prospective payment system (existing § 413.77(e)(1)). (For ease of discussion, we refer to a hospital that did not participate in Medicare or that did not have any approved medical residency training programs during the period beginning between October 1, 1983, through September 30, 1984, and has since commenced participating in Medicare and begun training residents in an approved program, as a “new teaching hospital.”) The weighted average PRA of teaching hospitals within a particular geographic wage area was determined using the base year PRA and the base year FTE resident count of each respective teaching hospital within the geographic wage area. However, as discussed in the August 1, 2002 IPPS final rule (67 FR 50067) effective October 1, 2002, we revised our policy to use PRAs and FTE resident data from the most recently settled cost reports of teaching hospitals in the same CBSA as the new teaching hospitals, rather than data from the 1984 base year (existing § 413.77(e)(1)(ii)(B)). We revised this policy for establishing PRAs for new teaching hospitals because it is less administratively burdensome to use data from the hospitals' most recently settled cost reports and because the more recent data takes into account that hospitals have a primary care PRA and a nonprimary care PRA. In this proposed rule, we are proposing a similar policy revision for establishing a merged teaching hospital's PRA.

We are proposing that the fiscal intermediaries would use the following steps to calculate the weighted average PRA for the merged teaching hospital:

Step 1: Identify the primary care and obstetrics and gynecology FTE resident count, the nonprimary care FTE resident count for hospitals with two PRAs, or the single FTE resident count for hospitals with a single PRA, for each teaching hospital involved in the merger. (Use the sum of the FTE resident counts from line 3.07, line 3.08, and line 3.11 of the hospital's most recently settled Medicare cost report, CMS 2552-96, Worksheet E-3, Part IV.)

Step 2: Identify the PRAs (either a hospital's primary care and obstetrics and gynecology PRA and nonprimary care PRA or, if applicable, a hospital's single PRA) from the most recently settled cost report for each hospital involved in the merger, and update the PRAs using the CPI-U inflation factor to coincide with the fiscal year end of the surviving teaching hospital. For example, if the surviving teaching hospital's fiscal year end is December 31, 2006, and the most recently settled cost report of the teaching hospital(s) involved in the merger is June 30, 2003, the PRAs from this cost report would be updated for inflation to December 31, 2006.

Step 3: Calculate the weighted average PRA for the single merged hospital using the PRAs and FTE resident counts from Step 1 and Step 2. For each teaching hospital in the merger:

(a) For hospitals with two PRAs, multiply the primary care PRA by the number of primary care and obstetrics and gynecology FTE residents.

(b) For hospitals with two PRAs, multiply the nonprimary care PRA by the number of nonprimary care FTE residents.

(c) For hospitals with a single PRA, multiple the single PRA by the hospital's total number of FTE residents.

(d) Add the products from applicable Steps 3(a), (b), and (c) for all teaching hospitals that merged.

(e) Add the number of FTE residents from Step 1 for all hospitals.

(f) Divide the sum from Step 3(d) by the sum from Step 3(e). The result is the weighted average PRA for the merged hospital.

As mentioned above, many hospitals currently have two PRAs, one for primary care residents and another for nonprimary care residents. An advantage to using data from the most recently settled cost reports of the hospitals involved in a merger is that the two PRAs are taken into account in determining the weighted average PRA for the merged hospital. Because two PRAs would be taken into account under this proposal, we considered whether a primary care PRA and a nonprimary care PRA should therefore be determined for the merged hospital. Although it would be possible to determine and retain two PRAs for a merged hospital when one or more hospitals involved in the merger had two PRAs, we are not proposing to do so. We are proposing that a single PRA also be determined for the merged hospital in this situation because it is more administratively straightforward for the fiscal intermediaries and the merged hospitals and since the merged hospital itself was not in existence in the years that the two PRAs were established (FY 1994 and FY 1995), we do not believe it is necessary to retain the two PRAs. Furthermore, because the two existing PRAs are taken into account when establishing the single PRA for the merged hospital, and the statutory provision that resulted in the creation of two PRAs has no continuing effect (because the updates were prohibited only for FY 1994 and FY 1995), we see no compelling reason to continue to carry two PRAs for a merged hospital.

The following is an example of how to calculate a weighted average PRA under this proposed revised methodology:

Example: Assume that Hospital A, Hospital B, and Hospital C merge and Hospital B with a fiscal year end of December 31, 2006, is the surviving hospital. In their respective most recently settled cost reports, Hospital A has 200 primary care and obstetrics and gynecology FTE residents and 150 nonprimary care FTE residents, and Hospital B has 50 primary care and obstetrics and gynecology FTE residents and 60 nonprimary care FTE residents. Hospital C became a teaching hospital in 2000 and has 25 FTE residents. After updating the primary care and nonprimary care PRAs for inflation by the CPI-U to December 31, 2006, Hospital A has a primary care PRA of $120,000 and a nonprimary care PRA of $115,000, Hospital B has a primary care PRA of $100,000 and a nonprimary care PRA of $97,000, and Hospital C has a single PRA of $90,000.

(a) Primary care:

Hospital A: $120,000 × 200 FTEs = $24,000,000

Hospital B: $100,000 × 50 FTEs = $5,000,000

(b) Nonprimary care:

Hospital A: $115,000 × 150 FTEs = $17,250,000

Hospital B: $97,000 × 60 FTEs = $5,820,000

(c) Single PRA: Hospital C: $90,000 × 25 FTEs = $2,250,000

(d) $24,000,000 + $5,000,000 + $17,250,000 + $5,820,000 + $2,250,000 = $54,320,000

(e) 200 + 50 + 150 + 60 + 25 = 485 total FTEs

(f) $54,320,000/485 FTEs = $112,000, the weighted average of the hospitals involved in the merger for fiscal year end December 31, 2006.

3. Determination of Per Resident Amounts (PRAs) for New Teaching Hospitals (§ 413.77(e))

(If you choose to comment on issues in this section, please include the caption GME: PRA for New Teaching Hospitals” at the beginning of your comment.)

As we discussed earlier in the background portion of this section, the hospital-specific, base-period PRA used in the payment methodology for determining Medicare direct GME payments is calculated by dividing a hospital's allowable direct costs of GME in a base period by its number of residents in that base period. In the case of a hospital that did not train residents in its FY 1984 cost reporting period, a PRA is determined by comparing and taking the lower of a PRA based on direct GME costs and FTE residents in a base year or the updated weighted mean value of PRAs of all hospitals located in the same geographic wage area. For ease of discussion, we refer to a hospital that did not participate in Medicare or have any approved medical residency training programs during the base period beginning between October 1, 1983, through September 30, 1984, and has since commenced participating in Medicare and begun training residents in an approved program, as a “new teaching hospital.” A new teaching hospital's PRA is established by using the lower of its hospital-specific PRA based on the actual allowable direct GME costs and FTE residents during a base period as defined in § 413.77(e) or the updated weighted mean value of PRAs of other teaching hospitals in the same geographic area.

Existing regulations at § 413.77(e) specify that the base year for establishing a PRA for a new teaching hospital is the first cost reporting period in which the new teaching hospital participates in Medicare and the residents are on duty during the first month of that period. If the new teaching hospital begins training residents but does not have residents on duty during the first month of the first cost reporting period in which training occurs, the new teaching hospital is paid on a reasonable cost basis under § 413.77(e) for any GME costs incurred by that hospital during that period. The intent of this policy for new teaching hospitals is to make a more accurate determination of a PRA based on the hospital's per resident direct GME costs in a cost reporting period in which GME costs have been incurred for that entire period. As we noted in a response to comments in a final rule published in the Federal Register on September 29, 1989 (54 FR 40310), we believe that where the new teaching hospital's cost reporting period begins on a date other than July 1 (the beginning of the academic year), for example, October 1 or January 1, the cost reporting period that includes costs and resident counts from the first year of the training program may not be reflective of the actual average costs per resident of the program because the full complement of residents might not be on duty, and those that are on duty might be receiving a salary for as few as 1 or 2 months of the cost reporting period. In the usual case, training in the program would continue into the following cost reporting period and residents would thus be on duty in the first month of this next cost reporting period. Consequently, our existing regulations at § 413.77(e)(1) specify that the PRA is to be determined by using the cost and resident data from the first cost reporting period during which residents are training in the first month of the cost reporting period.

It has come to our attention that, in rare instances, it is possible for a new teaching hospital, either through happenstance or by purposeful gaming of the policy, to continue to be reimbursed for direct GME costs on a reasonable cost basis even beyond the first cost reporting period during which residents begin training at the hospital as long as no residents are on duty at the new teaching hospital in the first month of the subsequent cost reporting period(s). We believe this scenario is contrary to the statutory intent of section 1886(h) of the Act, which instructs that instead of payment on a reasonable cost basis, the Secretary is to determine and base direct GME payments on a PRA for each hospital with a residency program. For that reason, we are proposing to revise § 413.77(e)(1) and (e)(1)(i) to provide that we will make a PRA determination even where residents are not on duty in the first month of a cost reporting period but where residents began training at the hospital in the prior cost reporting period. Effective for cost reporting periods beginning on or after October 1, 2006, if a new teaching hospital begins training residents in a cost reporting period beginning on or after October 1, 2006, and no residents are on duty during the first month of that period, the fiscal intermediary establishes a PRA for the hospital using: (1) The cost and resident data from the cost reporting period immediately following the one for which GME training at the hospital was first reported (that is, the base period); or (2) the updated weighted mean value of PRAs of all hospitals located in the same geographic wage area. We note that, as with existing policy, the proposed base year need not be a full cost reporting year. Even where that cost reporting period may be a short (less than 12 months) cost reporting period, we believe an appropriate PRA will be determined since the number of FTEs will be commensurate with the costs incurred in this short cost reporting period.

4. Requirements for Counting and Appropriate Documentation of FTE Residents: Clarification (§§ 413.75(d), 413.78(b) and (e), 413.80, and 413.81)

(If you choose to comment on issues in this section, please include the caption “FTE Resident Count and Documentation” at the beginning of your comment.)

Despite the fact that current policies concerning the counting of FTE residents for IME and direct GME payment purposes have been in effect since October 1985, we continue to receive questions on the proper counting and appropriate documentation for FTE residents for IME and direct GME payment purposes. As a result of these continuing questions, we are clarifying in this proposed rule the policies that apply in determining hospitals' FTE resident counts for Medicare GME payment purposes.

In the existing regulations at § 413.78(b) for direct GME payments, we specify that no individual may be counted as more than one FTE, and that a hospital cannot claim the time spent by residents training at another hospital. Therefore, if a resident spends time training in more than one hospital or except as provided at § 413.78(e) in a nonprovider setting, the resident counts as a partial FTE based on the proportion of time the resident trains at the hospital or nonprovider setting to the resident's total time worked. (The same provisions apply to part-time residents as specified in § 413.78(b).) A similar policy exists at § 412.105(f)(1)(ii) and (iii) for purposes of counting FTE residents for IME payment purposes. As we have explained in previous Federal Register documents (55 FR 36064, September 4, 1990 and 67 FR 50077, August 1, 2002), these policies apply even when a hospital actually incurs the cost of training the resident(s) at another hospital(s). For example, during a cost reporting year, a full-time resident trains at Hospital A for 6 months and trains at Hospital B for 6 months. Hospital A is paying the salary and fringe benefits of the resident for the entire year. In this case, each hospital would only count 0.5 of an FTE for that resident. Hospital A would not be able to count the entire FTE for that resident, regardless of the fact that it incurred all of the training costs for the resident during that training year.

We also have become aware of issues that have arisen due to a hospital's failure to document the number of FTE residents claimed on its cost report. Proper documentation is required so that Medicare fiscal intermediaries can determine where and when a resident(s) is training and to allow the fiscal intermediary to make payment to the hospital based on the percentage of time the resident(s) spends at each training facility to the total time trained. A rotation schedule is the primary documentation that can support the direct GME and IME resident counts but other similar documentation may be acceptable. The following is a situation of which we learned that illustrates how inadequate documentation resulted in inappropriate counting of FTEs. Two hospitals, Hospital C and D, were “associated” with each other, with residents training at both hospitals. However, instead of differentiating between the number of FTEs and the actual amount of time spent at each hospital, Hospitals C and D totaled their respective FTEs and split them 50/50. Splitting the FTE count 50/50 resulted in inappropriate payment to both hospitals. Hospitals are not permitted to decide among themselves how their FTEs will be counted. A hospital may not count a greater number of FTE residents than is actually training at the hospital (or its nonhospital sites) during the year. Each hospital must maintain its own records which demonstrate, for the entire cost reporting period, the amount of time that the resident trained at the hospital and, if applicable, a nonhospital site. Furthermore, to the extent that residents train in nonhospital sites, the hospital claiming the FTEs in the nonhospital site must meet the requirements at § 413.78(e).

Situations such as the one described above involving Hospital C and Hospital D are particularly harmful when one or more of the hospitals involved incorrectly report FTEs in the cost reporting period used to establish one or more of the hospitals' FTE resident caps, and as a result, the caps are incorrectly established. Unless the incorrect caps are revised pursuant to our regulations regarding review and revision of agency determinations, those caps will be applied to the hospital(s) in future years. For instance, we have learned of situations where a hospital's FTE resident caps were established incorrectly a number of years earlier and, due to administrative finality of settled cost reports, can no longer be adjusted. However, going forward, the hospital's count of FTEs must be based on where the residents are training and can only reflect the number of residents actually training in the hospital (or its nonhospital sites).

In order to ensure that FTEs are being properly counted, hospitals are required to furnish specific documentation to support the number of FTE residents included in the hospital's FTE count. Section 413.75(d) specifies the requirements concerning documentation of FTE residents. Proper documentation must include the following information: The name and social security number of the resident; the type of residency program in which the individual participates and the number of years the resident has completed in all types of residency programs; the dates the resident is assigned to the hospital and any hospital-based providers (similar to the rotation schedule); the dates the resident is assigned to other hospitals, or other freestanding providers, and any nonprovider setting during the cost reporting period, if any; and the name of the employer paying the resident's salary. In addition, the documentation should include the name of the medical, osteopathic, dental, or podiatric school from which the resident graduated and the date of graduation, and whether the resident is a foreign medical graduate, including documentation concerning whether the resident has satisfied the regulatory requirements for foreign medical graduates at § 413.80. The information must be certified by an official of the hospital and, if different, an official responsible for administering the residency program. Again, proper documentation on where and when a FTE resident is training during a cost reporting period is essential in order for the hospital to receive direct GME and IME payments based on the proper number of FTE resident(s). Inaccurate, incomplete, or inappropriate documentation will lead to Medicare disallowing certain FTE residents from being counted for purposes of direct GME and IME payments. We note that we are not expanding or making any changes to current policy for proper documentation of FTEs. Rather, we are clarifying the existing regulations concerning proper counting and documentation of FTEs.

5. Resident Time Spent in Nonpatient Care Activities as Part of Approved Residency Programs (§§ 413.9 and 413.78(a))

In section IV.H.4. of this preamble, we discussed the importance of properly documenting where and when residents are training in a particular hospital or nonhospital site, in order for that hospital to count those FTE residents for purposes of direct GME and IME payment. In addition, it is important for hospitals to be able to document the activities in which residents are engaged because there are certain activities that are not allowable for direct GME or IME payment purposes, even though those activities may be performed as part of an approved residency program. Specifically, it has come to our attention that there may be some confusion in the provider community as to whether the time that residents spend in nonpatient care activities that are part of the approved residency program may be counted for the purpose of direct GME and IME payments. We have most recently received questions as to whether the time residents spend in nonhospital sites in didactic activities such as journal clubs or classroom lectures may be included in determining the allowable FTE resident counts. To respond to these inquiries and to resolve any confusion, we are clarifying our policy concerning the counting of time spent in nonpatient care activities for the purpose of direct GME and IME payments in both hospital and nonhospital settings.

With respect to training in nonhospital settings, the time that residents spend in nonpatient care activities as part of an approved program, including didactic activities, cannot be included in a hospital's direct GME or IME FTE resident count. This longstanding policy is based on the statutory requirements for counting FTE residents training in nonhospital sites. For the purpose of direct GME payments, providers have been allowed since July 1, 1987, to count the time residents spend training in nonhospital sites under certain conditions. Section 1886(h)(4)(E) of the Act specifies that the implementing regulations concerning computation of direct GME for training in nonhospital sites “shall provide that only time spent in activities relating to patient care shall be counted and that all the time so spent by a resident under an approved medical residency training program shall be counted towards the determination of full-time equivalency, without regard to the setting in which the activities are performed, if the hospital incurs all, or substantially all, of the costs for the training program in that setting” (emphasis added).

For IME payment purposes, hospitals were first allowed to count the time residents spend training in nonhospital sites for discharges occurring on or after October 1, 1997. Section 1886(d)(5)(B)(iv) of the Act was amended by Pub. L. 105-33 in 1997 to provide that “all the time spent by an intern or resident in patient care activities under an approved medical residency program at an entity in a nonhospital setting shall be counted towards the determination of full-time equivalency if the hospital incurs all, or substantially all, of the costs for the training program in that setting” (emphasis added).

We understand that, as part of an approved medical residency program, residents are often required to participate in didactic and “scholarly” activities such as educational conferences, journal clubs, and seminars. Some of these activities may take place in nonhospital sites, such as freestanding clinics or physicians' offices, or in conference rooms at nonhospital settings. In implementing section 1886(h)(4)(E) of the Act for direct GME payment purposes, we specifically stated that “only time spent in activities relating to patient care may be counted [in nonhospital sites]” (54 FR 40292, September 29, 1989). In 1998, when we implemented the statute allowing FTE residents to be counted in nonhospital sites for IME, we reiterated that a hospital may only count resident training time “in nonhospital sites for indirect and direct GME, respectively, if the resident is involved in patient care” (63 FR 40986, July 31, 1998). While we have not explicitly defined in regulations “patient care activities,” we have applied the plain meaning of that term. In addition, we note that the scope of the term “patient care” had been well-established in the Medicare program even prior to issuance of the first rules on counting FTE residents for purposes of direct GME and IME payments. For example, prior to the IPPS, acute care hospitals were paid by Medicare for inpatient services based on their reasonable operating costs, or costs relating to the provision of reasonable and necessary “patient care.” The longstanding regulation at 42 CFR 413.9, entitled “Costs related to patient care,” states that “all payments to providers of services must be based on the reasonable cost of services covered under Medicare and related to the care of beneficiaries.” Thus, the scope of costs recognized as reasonable under Medicare had been limited to those relating to “patient care,” or to those relating to covered services for the care of beneficiaries. Although the agency appears to have made a conflicting statement in a letter directed to a particular individual implying that didactic time spent in nonhospital settings could be counted for direct GME and IME, that statement was inaccurate. We have applied and continue to apply the plain meaning of the statutory terms “patient care activities” and “activities relating to patient care” in the context of approved GME programs. That is, the plain meaning of patient care activities would certainly not encompass didactic activities. Rather, the plain meaning refers to the care and treatment of particular patients, or to services for which a physician or other practitioner may bill. Time spent by residents in such patient care activities may be counted for direct GME and IME payment purposes in the nonhospital site. Time spent by residents in other activities in the nonhospital site that do not involve the care and treatment of particular patients, such as didactic or “scholarly” activities, is not allowable for direct GME and IME payment purposes.

We note that there is a difference in the rules for counting FTE resident time for IME and direct GME payments when residents are training in a hospital. For direct GME payment purposes, under § 413.78(a), “residents in an approved program working in all areas of the hospital complex may be counted.” As explained in the September 29, 1989 Federal Register document (54 FR 40286), the hospital complex consist of the hospital and the hospital-based providers and subproviders. Therefore, the distinction between patient care activities and nonpatient care activities is not relevant to direct GME FTE count determinations when the residents are training in the hospital complex. However, for IME payment purposes, consistent with the regulations at § 413.9, only time spent in patient care activities in the hospital may be counted. It has been our longstanding policy that, regardless of the site of training, “* * * we do not include residents in the IME count to the extent that the residents are not involved in furnishing patient care * * *” (66 FR 39897, August 1, 2001).

6. Medicare GME Affiliated Groups: Technical Changes to Regulations

(If you choose to comment on issues in this section, please include the caption “GME Affiliated Group Technical Changes” at the beginning of your comment.)

In the FY 2005 IPPS final rule (69 FR 49112 and 49254 through 49265), we redesignated the contents of § 413.86 (which contained the regulations governing Medicare payment for direct GME) as §§ 413.75 through 413.83 and made corresponding cross-reference changes in the text of these regulations. We have discovered that under the definition of “Medicare GME affiliated group” under § 413.75(b), we incorrectly cited the cross-reference to the rotation requirements for GME affiliated groups in paragraphs (1), (2), and (3), as “§ 413.79(g)(2)”. In this proposed rule, we are proposing to correct the cross-reference for the rotation requirements in paragraphs (2) and (3) of the definition to read “§ 413.79(f)(2)”.

In the FY 2006 IPPS final rule (70 FR 47457 and 47489), we made additional changes in certain sections of the GME redesignated regulations to correct cross-references to other parts of 42 CFR Chapter IV relating to the definitions of the “urban” and “rural” location of a hospital. In one of the corrections, in paragraph (1) under the definition of “Medicare GME affiliated group” under § 413.75(b), we inadvertently dropped the language in that paragraph relating to the rotational requirements for these groups, including the incorrect cross-reference to § 413.79(g)(2). We are proposing to correct the language of paragraph (1) under the definition of “Medicare GME affiliated group” under § 413.75(b) by adding the dropped language and correcting the cross-reference to read “§ 413.79(f)(2).”

In the FY 2006 IPPS final rule (70 FR 47454 and 47489), we revised § 413.79(e)(1)(iv) to provide that a new urban teaching hospital that qualifies for an adjustment to its FTE cap for a newly approved program may enter into a Medicare GME affiliation agreement, but only if the resulting adjustments to its direct GME and IME caps are “positive adjustments.” We specified in the preamble of that final rule that this provision is effective for affiliation agreements entered into on or after October 1, 2005. However, we inadvertently did not include this effective date in the regulation text. We are proposing to revise § 413.79(e)(1)(iv) to include the effective date as part of the text of that section.

In addition, we are proposing to correct a cross-reference in the introductory text of paragraph (f) of § 413.79 relating to Medicare GME affiliated groups. The cross-reference to “paragraph (e)(3)” of § 413.79 should read “paragraph (d)” of that section. This proposed change is necessary to accurately cite the reference to our rules regarding the 3-year rolling average.

I. Payment for the Costs of Nursing and Allied Health Education Activities: Clarification (§ 413.85)

(If you choose to comment on issues in this section, please include the caption “Nursing and Allied Health Education Activities” at the beginning of your comment.)

In addition to direct GME and IME payments to hospitals for the direct and indirect costs incurred for their graduate medical education programs in medicine, osteopathy, dentistry, and podiatry, Medicare makes payments to hospitals for two other categories of education-related costs for which different payment policies apply:

• Approved nursing and allied health education programs operated by the hospital. The costs of these programs are excluded from the definition of inpatient hospital operating costs and are not included in the calculation of the per discharge payment rates for hospitals paid under the IPPS, or in the calculation of payments to hospitals and hospital units excluded from the IPPS that are subject to the rate-of-increase ceiling. These costs are separately identified and “passed through” (that is, paid separately on a reasonable cost basis).

• All other costs that can be categorized as educational programs and activities (for example, continuing education, on the job training, or seminars). These costs are considered to be part of the hospitals' normal operating costs and payment for these costs is included in the per discharge payment amount for hospitals subject to the IPPS, the IRF PPS, or the LTCH PPS and the prospective per diem payment amount for facilities under the IPF PPS. Similarly, these costs are considered to be part of the hospitals' normal operating costs and are included as reasonable costs that are subject to the TEFRA rate-of-increase limits applicable to hospitals that continue to receive payments subject to those limits, including cancer and children's hospitals.

Regulations governing payment for the costs of approved and allied health education activities are located at 42 CFR 413.85.

In the FY 2004 IPPS final rule (68 FR 45429), we revised the regulations at § 413.85(h)(3) to further clarify the difference between provider-operated and continuing education programs. We revised the regulations to state that, effective October 1, 2003, programs in which employees participate that do not lead to the ability to practice and begin employment in a nursing or allied health specialty are also treated as normal operating costs. We now realize that when we revised § 413.85(h)(3) to include this clarification, we inadvertently did not specify that the provision was applicable to trainees as well as employees. In the preamble of the FY 2004 IPPS final rule, we stated that because § 413.85(h)(3) refers to education that will not lead to the ability to practice and begin employment, we intended the provisions to apply not only to employees but to trainees as well. Therefore, in this proposed rule, we are proposing to make a technical change to § 413.85(h)(3) to make it applicable to both employees and trainees. This proposed technical change would clarify that the educational activities in which employees or trainees participate, but that do not lead to the ability to practice and begin employment in a nursing or allied health specialty, are treated as normal operating costs. We note that we are not proposing to expand or make any changes to the current payment policy for nursing and allied health education activities; rather, we are merely proposing to clarify the language of the existing regulations.

J. Hospital Emergency Services Under EMTALA (§ 489.24)

(If you choose to comment on issues in this section, please include the caption “EMTALA” at the beginning of your comment.)

1. Background

Sections 1866(a)(1)(I), 1866(a)(1)(N), and 1867 of the Act impose specific obligations on certain Medicare-participating hospitals and CAHs. (Throughout this section of this proposed rule, when we reference the obligation of a “hospital” under these sections of the Act and in our regulations, we mean to include CAHs as well.) These obligations concern individuals who come to a hospital emergency department and request examination or treatment for medical conditions, and apply to all of these individuals, regardless of whether they are beneficiaries of any program under the Act.

The statutory provisions cited above are frequently referred to as the Emergency Medical Treatment and Labor Act (EMTALA), also known as the patient antidumping statute. EMTALA was passed in 1986 as part of the Consolidated Omnibus Budget Reconciliation Act of 1985 (COBRA), Pub. L. 99-272. Congress enacted these antidumping provisions in the Social Security Act to ensure that individuals with emergency medical conditions are not denied essential lifesaving services because of a perceived inability to pay.

Under section 1866(a)(1)(I)(i) of the Act, a hospital that fails to fulfill its EMTALA obligations under these provisions may be liable for termination of its Medicare provider agreement, which would result in loss of all Medicare and Medicaid payments.

In general, section 1867 of the Act sets forth requirements for medical screening examinations for individuals who come to the hospital and request examination or treatment for a medical condition. The section further provides that if a hospital finds that such an individual has an emergency condition, it is obligated to provide that individual with either necessary stabilizing treatment or an appropriate transfer to another medical facility where stabilization can occur.

The EMTALA statute also outlines the obligation of hospitals to receive appropriate transfers from other hospitals. Section 1867(g) of the Act states that a participating hospital that has specialized capabilities or facilities (such as burn units, shock-trauma units, neonatal intensive care units or (with respect to rural areas) regional referral centers as identified by the Secretary in regulation) shall not refuse to accept an appropriate transfer of an individual who requires these specialized capabilities or facilities if the hospital has the capacity to treat the individual.

The regulations implementing section 1867 of the Act are found at 42 CFR 489.24.

2. Role of the EMTALA Technical Advisory Group (TAG)

Section 945 of Pub. L. 108-173 (MMA) required the Secretary to establish a Technical Advisory Group (TAG) to provide the Secretary with advice concerning issues related to EMTALA regulations and implementation. Section 945 of Pub. L. 108-173 further requires that the EMTALA TAG be composed of 19 members, including the Administrator of CMS, the Inspector General of HHS, hospital representatives and physicians representing various specialties, patient representatives, and representatives of organizations involved in EMTALA enforcement.

The EMTALA TAG was first established in 2005 and held three meetings during that year. At each of its meetings, the EMTALA TAG heard testimony from representatives of physician groups, hospital associations, and others regarding EMTALA issues and concerns. As explained more fully below in sections IV.K.3. and 4. of this preamble, we are proposing to revise the EMTALA regulations at § 489.24 based on the recommendations adopted and forwarded to the Secretary by the EMTALA TAG.

3. Definition of “Labor”

As noted in the background portion of this section, the EMTALA statute and regulations require that if an individual comes to a hospital emergency department and a request is made on the individual's behalf for examination or treatment for a medical condition, the hospital is obligated to provide that individual with an appropriate medical screening examination within the capability of the hospital. If the individual is found to have an emergency medical condition, the hospital is obligated by EMTALA to provide either necessary stabilizing treatment or an appropriate transfer to another medical facility where stabilization can occur.

Section 489.24(b) of the regulations defines the key terms used in the section. The term “emergency medical condition” is defined as—

“A medical condition manifesting itself by acute symptoms of sufficient severity (including severe pain, psychiatric disturbances and/or symptoms of substance abuse) such that the absence of immediate medical attention could reasonably be expected to result in placing the health of the individual (or, with respect to a pregnant woman, the health of the woman or her unborn child) in serious jeopardy; serious impairment to bodily functions; or serious dysfunction of any bodily organ or part; or with respect to a pregnant woman who is having contractions, that there is inadequate time to effect a safe transfer to another hospital before delivery; or that transfer may pose a threat to the health and safety of the woman or the unborn child.”

This definition is identical to the definition of “emergency medical condition” in section 1867(e)(1) of the Act. In recognition of the fact that this definition gives special consideration to women in labor, the term “labor” is itself defined, in paragraph (b) of § 489.24, to mean “the process of childbirth beginning with the latent or early phases of labor and continuing through the delivery of the placenta.” The definition further states: “A woman experiencing contractions is in true labor unless a physician certifies that, after a reasonable period of observation, the woman is in false labor.” A woman found to be in false labor is considered not to have an emergency medical condition and that finding thus means that the hospital has no further EMTALA obligation to her.

The CMS interpretative guidelines used by State surveyors in EMTALA investigations provide that once an individual has presented to a hospital seeking emergency care, the determination as to whether an emergency medical condition exists is made by the examining physician(s) or other qualified medical person actually caring for the individual at the treating facility. The guidelines further provide that the medical screening examination must be conducted by one or more individuals who are determined to be qualified by the hospital bylaws or rules and regulations and who meet the hospital condition of participation in 42 CFR 482.55 regarding emergency services personnel and direction. (Of course, these individuals would not be expected or permitted to perform any screening functions other than those which they are allowed to perform under State scope of practice laws.) However, consistent with the definition of “labor” at § 489.24(b), the guidelines also state that if a qualified medical person other than a physician determines that a woman is in false labor, a physician must certify the diagnosis. The guidelines permit this certification to be made based either on actual examination of the patient or on a telephone consultation with the qualified medical person who actually examined the patient. (Medicare State Operations Manual, Appendix V—Interpretive Guidelines—Responsibility of Participating Hospitals in Emergency Cases, TAG A-406.)

At its meeting held on June 15-17, 2005, the EMTALA TAG heard testimony from representatives of both physician and nonphysician professional societies regarding the competence of practitioners other than physicians to certify false labor. In particular, a representative of the American College of Nurse-Midwives stated that the current requirement that allows only a physician to certify false labor is overly restrictive and does not adequately recognize the training and competence of certified nurse-midwives. Testimony was also presented by the American College of Obstetricians and Gynecologists, which recommended amending the EMTALA regulations to allow certified nurse-midwives and other qualified medical persons to determine whether a woman is in false labor.

After extensive consideration of the issue, the members of the EMTALA TAG voted to recommend to the Secretary that the definition of “labor” at § 489.24(b) be amended to permit certified nurse-midwives and other qualified medical personnel to certify false labor. The TAG recommended deleting the second sentence, which states that a woman experiencing contractions is in true labor unless a physician certifies that, after a reasonable time of observation, the woman is in false labor.

We agree with the TAG's recommendation that other health care practitioners besides physicians should be allowed to certify false labor, and believe that the recommendation is consistent with CMS' current policy regarding who may conduct medical screening examinations. However, we do not believe such a change can be best accomplished by simply deleting the second sentence of the current definition of “labor” in the existing regulations because doing so would also remove the explicit statement that a woman experiencing contractions is in labor unless she has been found to be in false labor. To achieve the principal objective of the EMTALA TAG recommendation without compromising the protections of EMTALA for women having contractions, we are proposing to modify the definition of “labor” in § 489.24(b) by revising the second sentence of that definition to state that a woman experiencing contractions is in true labor unless a physician, certified nurse-midwife, or other qualified medical person acting within his or her scope of practice as defined in hospital medical staff bylaws and State law, certifies that, after a reasonable time of observation, the woman is in false labor. The effect of this change would be to have a single, uniform policy on the personnel who are authorized to make a determination as to whether an individual has an emergency medical condition.

4. Application of EMTALA Requirements to Hospitals Without Dedicated Emergency Departments

Section 489.24(b) of the regulations outlines when a hospital will be considered to be a hospital with a “dedicated emergency department” and makes it clear that only a hospital with a dedicated emergency department has an EMTALA responsibility with respect to an individual for whom no appropriate transfer is sought but who comes to the hospital seeking examination or treatment for a medical condition. However, it has come to CMS' attention that our policy regarding the application of EMTALA to hospitals that have specialized capabilities but are without dedicated emergency departments may be less well understood as it relates to individuals for whom an appropriate transfer is sought.

It has been CMS' longstanding policy that any Medicare-participating hospital with a specialized capability must, in accordance with section 1867(g) of the Act, accept, within the capacity of the hospital, an appropriate transfer from a requesting hospital. This policy has been applied to hospitals without regard to whether they have dedicated emergency departments. In fact, in the past, CMS has taken enforcement actions against hospitals with specialized capabilities that failed to accept appropriate transfers under EMTALA when the hospitals had the capacity to treat the transferred individuals.

At its meeting held on October 26-28, 2005, the EMTALA TAG heard testimony from representatives of physician groups, hospital associations, and others regarding EMTALA compliance by specialty hospitals that typically do not have dedicated emergency departments. After extensive consideration and discussion of the issues raised and views presented, the members of the EMTALA TAG voted to recommend to the Secretary that hospitals with specialized capabilities (as defined in § 489.24(f) of the regulation) that do not have a dedicated emergency department be bound by the same responsibility to accept an appropriate transfer under EMTALA as hospitals with a dedicated emergency department.

We agree with the EMTALA TAG's assessment. We believe that the recommendation is consistent with CMS' current policy and highlights the need to clarify CMS' policy regarding hospitals with specialized capabilities. Therefore, in this proposed rule, we are proposing to modify the regulations at § 489.24(f) to specifically indicate that any participating hospital with specialized capabilities or facilities, even if it does not have a dedicated emergency department, may not refuse to accept an appropriate transfer if the hospital has the capacity to treat the individual. We note that this proposed revision does not reflect any change in current CMS policy. We further note that the revision would not require hospitals without dedicated emergency departments to open dedicated emergency departments nor would it impose any EMTALA obligation on those hospitals with respect to individuals who come to the hospital as their initial point of entry into the medical system seeking a medical screening examination or treatment for a medical condition. Although this proposed revision seeks only to clarify, rather than change, current policy, we nevertheless, welcome comments on what effect, if any, commenters believe this proposed clarification may have on EMTALA compliance and patient health and safety.

5. Clarification of Reference to “Referral Centers”

The language of the existing regulations at § 489.24(f) duplicates the language of section 1867(g) of the Act in that it identifies, as an example of a hospital with specialized capabilities, “(with respect to rural areas) regional referral centers identified by the Secretary in regulation)”. Because the term “regional referral centers” is not used elsewhere in the Medicare regulations, it is unclear whether the reference is to referral centers as defined in 42 CFR 412.96, which must be located in rural areas and meet other criteria spelled out in that section, or to any facilities that are located in rural areas and accept patients on referral. To maintain consistency in the Medicare regulations and avoid confusion as to which facilities are considered to have specialized capabilities for purposes of EMTALA, we are proposing to amend § 489.24 by clarifying that “regional referral centers” are those centers meeting the requirements of § 412.96.

K. Other Proposed Technical Changes

1. Proposed Cross-Reference Correction in Regulations on Limitations on Beneficiary Charges (§ 412.42)

(If you choose to comment on issues in this section, please include the caption “Cross-Reference § 412.42” at the beginning of your comment.)

We are proposing to amend § 412.42 to correct an obsolete cross-reference. Paragraph (d) of § 412.42 contains a cross-reference to “§ 405.310(k).” This section was redesignated as § 411.15(k) in 1989 (54 FR 41737, October 11, 1989). We are proposing to amend paragraph (d) of § 412.42 to delete the obsolete cross-reference and insert the correct cross-reference.

2. Proposed Cross-Reference Corrections in Regulations on Payment Denials Based on Admissions and Quality Reviews (§ 412.48)

(If you choose to comment on issues in this section, please include the caption “Cross-Reference § 412.48” at the beginning of your comment.)

We are proposing to amend § 412.48 to correct an obsolete cross-reference. Paragraph (b) of § 412.48 contains a cross-reference to “§§ 405.330 through 405.332”. Section 405.330 was redesignated as § 411.400, and § 405.332 was redesignated as § 411.402 in 1989 (54 FR 41746, October 11, 1989). (There was no § 405.331.) We are proposing to amend paragraph (b) of § 412.48 to delete the obsolete cross-references and to insert the correct cross-references.

3. Proposed Cross-Reference Correction in Regulations on Outlier Payments (§ 412.84)

(If you choose to comment on issues in this section, please include the caption “Technical Correction: Outliers” at the beginning of your comment.)

On June 9, 2003, we published a final rule in the Federal Register (68 FR 34494) that amended the portion of the hospital IPPS regulations that sets out the methodology for determining payments for extraordinarily high-cost cases (outliers). We changed the methodology because we concluded that, in certain cases, hospitals were dramatically and inappropriately increasing charges, thereby inflating CCRs, resulting in overestimation of these hospitals' costs per case, a critical factor in determining outlier payments.

As a part of these methodology changes, we required that outlier payments be reconciled using a hospital's settled cost report for the cost reporting year in which the outlier discharge occurred. This approach meant that there would be some delay in computing the final outlier payment. To address this issue, we added § 412.84(m), which provided that reconciled outlier payments would be adjusted to account for the time value of any underpayments or overpayments.

We inadvertently included in paragraph (m) of § 412.84 a cross-reference to paragraph (h)(3) of § 412.84. The cross-reference should be to paragraph (i)(4), which sets out the requirement for reconciling outlier payments when the cost report for the year in which the discharge occurred is settled. We are proposing to amend paragraph (m) of § 412.84 to correct the cross-reference to read “paragraph (i)(4)” of § 412.84.

4. Removing References to Two Paper Claims Forms

(If you choose to comment of the issues in this section, please include the caption “Claims Forms References” at the beginning of your comment.)

Section 1862(a)(22) of the Act generally requires electronic submission of initial Medicare claims requesting payment for items and services. Section 1862(h) of the Act provides for limited exceptions when paper claims still may be used. Our existing regulations at 42 CFR 424.32 set out the requirements for submitting electronic and paper claims for payment, as well as when the exceptions apply and paper forms still may be used. Our existing regulations at paragraph (b) of § 424.32 list six forms that are to be used for submitting paper claims.

We have evaluated the use of two of these forms, Form CMS-1490U (Request for Medicare Payment by Organization) and Form CMS-1491 (Request for Medicare Payment—Ambulance). We found that these forms have limited use, we would incur expensive costs in redesigning these forms to comply with other reporting requirements, and that an alternate form is available to claim payments. For these reasons, we intend to no longer use these forms. Therefore, we are proposing to remove the references to these forms from paragraph (b) of § 424.32.

Form CMS-1490U is a paper claim form used by employers, unions, employer-employee organizations that pay physicians and suppliers for their services to employees, group practice prepayment plans, and health maintenance organizations. Form CMS-1490U is used to claim payment from carriers for bills already paid by these entities. We concluded that this form should no longer be used for several reasons. It is duplicative of Form CMS-1500 (Health Insurance Claim Form), which also may be used to claim payment for these services. We have encouraged suppliers to submit their paper claims using the Form CMS-1500. Unlike Form CMS-1500, Form CMS-1490U cannot accommodate an additional reporting requirement, the National Provider Identifier (NPI), without an expensive redesign. Finally, according to our records, relatively few suppliers currently use the form. The CMS component that supplies blank copies of this form for users reported that, between 2002 and 2005, only 2,550 copies of Form CMS-1490U were ordered by carriers. A 2005 survey of Part B carriers indicated that requests for the form are very low and that receipts of the form vary from very few to none.

Form CMS-1491 is a paper claim form used by ambulance suppliers to apply for payment for ambulance services. We concluded that this form should no longer be used for several reasons. It also is duplicative of Form CMS-1500, which also may be used to claim payment for ambulance services. In addition, we have encouraged suppliers to submit their paper ambulance claims using the Form CMS-1500. Unlike Form CMS-1500, Form CMS-1491 cannot accommodate the NPI without an expensive redesign and usage of this form is low. A recent survey of carriers, initiated by Joint Signature Memorandum RO-2324, Request for Information Concerning the CMS-1491, issued October 30, 2003, from the Centers for Medicare Management, was conducted to ascertain the usage of Form CMS-1491. The results of the survey showed that fewer than 2 percent (1.71 percent) of all suppliers of ambulance services currently use the Form CMS-1491. CMS received approximately 240,000 ambulance claims using Form CMS-1491 during the period from October 1, 2002, to September 30, 2003. These data were used for the most recent OMB renewal under the Paperwork Reduction Act. Since the last OMB renewal approval in 2001, CMS has printed a total of 1,620,000 forms at a cost of $42,890.

L. Rural Community Hospital Demonstration Program

(If you choose to comment on issues in this section, please include the caption “Rural Community Hospital Demonstration Program” at the beginning of your comment.)

In accordance with the requirements of section 410A(a) of Pub. L. 108-173, the Secretary has established a 5-year demonstration program (beginning with selected hospitals' first cost reporting period beginning on or after October 1, 2004) to test the feasibility and advisability of establishing “rural community hospitals” for Medicare payment purposes for covered inpatient hospital services furnished to Medicare beneficiaries. A rural community hospital, as defined in section 410A(f)(1), is a hospital that:

• Is located in a rural area (as defined in section 1886(d)(2)(D) of the Act) or is treated as being located in a rural area under section 1886(d)(8)(E) of the Act;

• Has fewer than 51 beds (excluding beds in a distinct part psychiatric or rehabilitation unit) as reported in its most recent cost report;

• Provides 24-hour emergency care services; and

• Is not designated or eligible for designation as a CAH.

As we indicated in the FY 2005 IPPS final rule (69 FR 49078), in accordance with sections 410A(a)(2) and (a)(4) of Pub. L.108-173 and using 2002 data from the U.S. Census Bureau, we identified 10 States with the lowest population density from which to select hospitals: Alaska, Idaho, Montana, Nebraska, Nevada, New Mexico, North Dakota, South Dakota, Utah, and Wyoming (Source: U.S. Census Bureau Statistical Abstract of the United States: 2003). Nine rural community hospitals located within these States are currently participating in the demonstration program for FY 2007. (Of the 13 hospitals that participated in the first 2 years of the demonstration program, 4 hospitals located in Nebraska have withdrawn from the program; they have become CAHs.)

Under the demonstration program, participating hospitals are paid the reasonable costs of providing covered inpatient hospital services (other than services furnished by a psychiatric or rehabilitation unit of a hospital that is a distinct part), applicable for discharges occurring in the first cost reporting period beginning on or after the October 1, 2004, implementation date of the demonstration program. Payments to the participating hospitals will be the lesser amount of the reasonable cost or a target amount in subsequent cost reporting periods. The target amount in the second cost reporting period is defined as the reasonable costs of providing covered inpatient hospital services in the first cost reporting period, increased by the inpatient prospective payment update factor (as defined in section 1886(b)(3)(B) of the Act) for that particular cost reporting period. The target amount in subsequent cost reporting periods is defined as the preceding cost reporting period's target amount, increased by the inpatient prospective payment update factor (as defined in section 1886(b)(3)(B) of the Act) for that particular cost reporting period.

Covered inpatient hospital services are inpatient hospital services (defined in section 1861(b) of the Act), and include extended care services furnished under an agreement under section 1883 of the Act.

Section 410A of Pub. L. 108-173 requires that “in conducting the demonstration program under this section, the Secretary shall ensure that the aggregate payments made by the Secretary do not exceed the amount which the Secretary would have paid if the demonstration program under this section was not implemented.” Generally, when CMS implements a demonstration program on a budget neutral basis, the demonstration program is budget neutral in its own terms; in other words, the aggregate payments to the participating providers do not exceed the amount that would be paid to those same providers in the absence of the demonstration program. This form of budget neutrality is viable when, by changing payments or aligning incentives to improve overall efficiency, or both, a demonstration program may reduce the use of some services or eliminate the need for others, resulting in reduced expenditures for the demonstration program's participants. These reduced expenditures offset increased payments elsewhere under the demonstration program, thus ensuring that the demonstration program as a whole is budget neutral or yields savings. However, the small scale of this demonstration program, in conjunction with the payment methodology, makes it extremely unlikely that this demonstration program could be viable under the usual form of budget neutrality. Specifically, cost-based payments to the nine participating small rural hospitals are likely to increase Medicare outlays without producing any offsetting reduction in Medicare expenditures elsewhere. Therefore, a rural community hospital's participation in this demonstration program is unlikely to yield benefits to the participant if budget neutrality were to be implemented by reducing other payments for these providers.

In order to achieve budget neutrality for this demonstration program for FY 2007, we are proposing to adjust the national inpatient PPS rates by an amount sufficient to account for the added costs of this demonstration program. We are proposing to apply budget neutrality across the payment system as a whole rather than merely across the participants in this demonstration program. As we discussed in the FY 2005 and FY 2006 IPPS final rules (69 FR 49183 and 70 FR 47462), we believe that the language of the statutory budget neutrality requirements permits the agency to implement the budget neutrality provision in this manner. For FY 2007, using the most recent cost report data (that is, data for FY 2004), adjusted to account for the increased estimated costs for the remaining nine participating hospitals, we estimate that the proposed adjusted amount would be $9,197,870. This proposed estimated adjusted amount reflects the estimated difference between the participating hospitals' costs and the IPPS payment based on data from the hospitals' cost reports. We discuss the proposed payment rate adjustment that would be required to ensure the budget neutrality of the demonstration program for FY 2007 in section II.A.4. of the Addendum to this proposed rule.

M. Health Care Information Transparency Initiative

(If you choose to comment of issues in this section, please include the caption “Transparency of Health Care Information” at the beginning of your comment.)

The United States faces a dilemma in health care. Although the rate of increase in health care spending slowed last year, costs are still growing at an unsustainable rate. The United States spends $1.9 trillion on health care, or 16 percent of the gross domestic product (GDP). By 2015, projections are that health care will consume 20 percent of GDP. The Medicare program alone consumes 3.4 percent of the GDP; by 2040, it will consume 8.1 percent of the GDP and by 2070, 14 percent of the GDP.

Part of the reason health care costs are rising so quickly is that most consumers of health care—the patients—are frequently not aware of the actual cost of their care. Health insurance shields them from the full cost of services, and they do have only limited information about the quality and costs of their care. Consequently, consumers do not have the incentive or means to carefully shop for providers offering the best value. Thus, providers of care are not subject to the competitive pressures that exist in other markets for offering quality services at the best possible price. Reducing the rate of increase in health care prices and avoiding health services of little value could help to stem the growth in health care spending, and potentially translate into fewer individuals who are unable to afford health insurance. Part of the President's health care agenda is to expand Health Savings Accounts (HSAs), which would provide consumers with greater financial incentives to compare providers in terms of price and quality, and choose those that offer the best value.

In order to exercise such choices, consumers must have accessible and useful information on price and quality of health care items and services. Typically, health care providers do not publicly quote or publish their prices. Moreover, list prices, or charges, generally differ from the actual prices negotiated and paid by different health plans. Thus, even if consumers were financially motivated to shop for the best price, it would be very difficult at the current time for them to access usable information.

Similarly, individuals have very little information available to them about the quality of care that they receive. Although there are preliminary steps underway to rectify that fact, including the hospital quality reporting initiative in which a significant number of acute care hospitals are participating (see sections IV.A and IV.B of this preamble), those data are nascent and consumers lack sufficient information on which to base a judgment about where to receive care based on quality of care.

For these reasons, the Department intends to launch a major health care information transparency initiative in 2006. This effort will build on steps already taken by CMS to make quality and price information available. For example, we currently collect quality information and publish it through the CMS Hospital Compare Web site, which we reference in other parts of this proposed rule. We also make available unprecedented information on the prices of drugs to beneficiaries in the Medicare prescription drug plan for each pharmacy in the United States.

We intend to take further steps to collect and publish useful information on quality and cost. The Department intends to identify several regions in the United States where health care costs are high, and where there is significant interest in reducing health care costs and improving health care quality. The Department will use its leadership role in health care policy to help lead change in those areas.

The Secretary also has significant regulatory authority as well. In this proposed rule, we are soliciting comments on several proposals that the Secretary might adopt to increase the transparency of quality and pricing information, and how this can be used to attenuate the growth in health care costs. In addition, we are soliciting comments from the public on additional ways that we could use our regulatory authority to enhance transparency of quality and pricing information.

Several possibilities exist. First, we could publish a list of hospital charges either for every region of the country or for selected regions of the country. In addition, we could publish the rates that Medicare actually pays to a particular hospital for every DRG or for selected DRGs that could be adjusted to take into account the hospital's labor market area, teaching hospital status, and DSH status. Some might argue that publishing these payment rates does not provide meaningful information to consumers because Medicare payment rates are not set by the market, but rather by a statutory payment formula. In addition, providing information on hospital payments only does not disclose the true cost of an episode of care because it would not take into account the cost of physician services, laboratory tests, and other procedures that go along with hospital charges. On the other hand, Medicare payment rates may provide a helpful benchmark, especially for uninsured individuals, to determine whether the charges they see on a hospital bill bear any relationship to what third-party fee-for-service payors pay to the hospital.

A second option would be for the Secretary to use his authority to establish conditions of participation for hospitals to propose a rule that relates to charges for uninsured patients. For example, the conditions of participation could include a requirement that hospitals post their prices and/or post their policies regarding discounts or other assistance for uninsured patients.

Yet another alternative to posting Medicare DRG payment rates would be to make publicly available the total Medicare payments for an episode of care. For example, one of the most common inpatient hospital procedures under the Medicare program (based on total dollars spent) is hip replacement surgery. Under this proposal, we could make publicly available the expected total payment for an episode of care for hip replacement surgery, including the inpatient hospital stay, physician payments (including the surgeon and the anesthesiologist), and payments for post-acute care services such as services provided in an IRF, SNF, or LTCH. We are currently assessing methods for making such information available and are seeking comments on how to do so as quickly and effectively as possible.

We are seeking comment on any ways in which the Department can encourage transparency in health care quality and pricing whether through its leadership on voluntary initiative or through regulatory requirements. We also are seeking comment on the Department's statutory authority to impose such requirements. Discussion of particular options in this proposed rule should not be taken as an indication that the Department will adopt any of these proposals. Rather, the proposals are included here to foster comment on possible options to promote the aims of transparency of quality and pricing information and the Department's authority and ability potentially to implement these options. The Department is anxious to receive comments on any of these proposals, or on other options that may be available that the Department could adopt either through voluntary initiatives or through its regulatory authority.

V. Proposed Changes to the PPS for Capital-Related Costs

(If you choose to comment on issues in this section, please include the caption “Capital PPS” at the beginning of your comment.)

A. Background

Section 1886(g) of the Act requires the Secretary to pay for the capital-related costs of inpatient acute hospital services “in accordance with a PPS established by the Secretary.” Under the statute, the Secretary has broad authority in establishing and implementing the PPS for hospital inpatient capital-related costs. We initially implemented the PPS for capital-related costs in the August 30, 1991 IPPS final rule (56 FR 43358), in which we established a 10-year transition period to change the payment methodology for Medicare hospital inpatient capital-related costs from a reasonable cost-based methodology to a prospective methodology (based fully on the Federal rate).

Federal fiscal year (FFY) 2001 was the last year of the 10-year transition period established to phase in the PPS for hospital inpatient capital-related costs. For cost reporting periods beginning in FY 2002, capital PPS payments are based solely on the Federal rate for most acute care hospitals (other than certain new hospitals and hospitals receiving certain exception payments). The basic methodology for determining capital prospective payments using the Federal rate is set forth in § 412.312. For the purpose of calculating payments for each discharge, the standard Federal rate is adjusted as follows:

(Standard Federal Rate) x (DRG Weight) x (Geographic Adjustment Factor (GAF)) x (Large Urban Add-on, if applicable) x (COLA for hospitals located in Alaska and Hawaii) x (1 + Capital DSH Adjustment Factor + Capital IME Adjustment Factor, if applicable).

Hospitals also may receive outlier payments for those cases that qualify under the threshold established for each fiscal year as specified in § 412.312(c) of the regulations.

The regulations at § 412.348(f) provide that a hospital may request an additional payment if the hospital incurs unanticipated capital expenditures in excess of $5 million due to extraordinary circumstances beyond the hospital's control. This policy was originally established for hospitals during the 10-year transition period, but as we discussed in the August 1, 2002 IPPS final rule (67 FR 50102), we revised the regulations at § 412.312 to specify that payments for extraordinary circumstances are also made for cost reporting periods after the transition period (that is, cost reporting periods beginning on or after October 1, 2001). Additional information on the exception payment for extraordinary circumstances in § 412.348(f) can be found in the FY 2005 IPPS final rule (69 FR 49185 and 49186).

During the transition period, under §§ 412.348(b) through (e), eligible hospitals could receive regular exception payments. These exception payments guaranteed a hospital a minimum payment percentage of its Medicare allowable capital-related costs depending on the class of hospital (§ 412.348(c)), but were available only during the 10-year transition period. After the end of the transition period, eligible hospitals can no longer receive this exception payment. However, even after the transition period, eligible hospitals receive additional payments under the special exceptions provisions at § 412.348(g), which guarantees all eligible hospitals a minimum payment of 70 percent of its Medicare allowable capital-related costs provided that special exceptions payments do not exceed 10 percent of total capital IPPS payments. Special exceptions payments may be made only for the 10 years from the cost reporting year in which the hospital completes its qualifying project, and the hospital must have completed the project no later than the hospital's cost reporting period beginning before October 1, 2001. Thus, an eligible hospital may receive special exceptions payments for up to 10 years beyond the end of the capital PPS transition period. Hospitals eligible for special exceptions payments were required to submit documentation to the intermediary indicating the completion date of their project. (For more detailed information regarding the special exceptions policy under § 412.348(g), refer to the August 1, 2001 IPPS final rule (66 FR 39911 through 39914) and the August 1, 2002 IPPS final rule (67 FR 50102).)

Under the PPS for capital-related costs, § 412.300(b) of the regulations defines a new hospital as a hospital that has operated (under current or previous ownership) for less than 2 years. (For more detailed information, see the August 30, 1991 final rule (56 FR 43418).) During the 10-year transition period, a new hospital was exempt from the capital PPS for its first 2 years of operation and was paid 85 percent of its reasonable costs during that period. Originally, this provision was effective only through the transition period and, therefore, ended with cost reporting periods beginning in FY 2002. Because we believe that special protection to new hospitals is also appropriate even after the transition period, as discussed in the August 1, 2002 IPPS final rule (67 FR 50101), we revised the regulations at § 412.304(c)(2) to provide that, for cost reporting periods beginning on or after October 1, 2002, a new hospital (defined under § 412.300(b)) is paid 85 percent of its Medicare allowable capital-related costs through its first 2 years of operation, unless the new hospital elects to receive fully prospective payment based on 100 percent of the Federal rate. (Refer to the August 1, 2001 IPPS final rule (66 FR 39910) for a detailed discussion of the statutory basis for the system, the development and evolution of the system, the methodology used to determine capital-related payments to hospitals both during and after the transition period, and the policy for providing exception payments.)

Section 412.374 provides for the use of a blended payment amount for prospective payments for capital-related costs to hospitals located in Puerto Rico. Accordingly, under the capital PPS, we compute a separate payment rate specific to Puerto Rico hospitals using the same methodology used to compute the national Federal rate for capital-related costs. In general, hospitals located in Puerto Rico are paid a blend of the applicable capital PPS Puerto Rico rate and the applicable capital PPS Federal rate.

Prior to FY 1998, hospitals in Puerto Rico were paid a blended capital PPS rate that consisted of 75 percent of the capital PPS Puerto Rico specific rate and 25 percent of the capital PPS Federal rate. However, effective October 1, 1997 (FY 1998), in conjunction with the change to the operating PPS blend percentage for Puerto Rico hospitals required by section 4406 of Pub. L. 105-33, we revised the methodology for computing capital PPS payments to hospitals in Puerto Rico to be based on a blend of 50 percent of the capital PPS Puerto Rico rate and 50 percent of the capital PPS Federal rate. Similarly, in conjunction with the change in operating PPS payments to hospitals in Puerto Rico for FY 2005 required by section 504 of Pub. L. 108-173, we again revised the methodology for computing capital PPS payments to hospitals in Puerto Rico to be based on a blend of 25 percent of the capital PPS Puerto Rico rate and 75 percent of the capital PPS Federal rate effective for discharges occurring on or after October 1, 2004.

B. Treatment of Certain Urban Hospitals Reclassified as Rural Hospitals Under § 412.103

We are proposing technical changes to §§ 412.316(b) and 412.320(a)(1) to clarify that hospitals reclassified as rural under § 412.103 are not eligible for the large urban add-on payment or for the capital DSH adjustment. These proposed changes would reflect our historic policy that hospitals reclassified as rural under § 412.103 also will be considered rural under the capital PPS. Since the genesis of the capital PPS in FY 1992, the same geographic classifications used under the operating PPS also have been used under the capital PPS.

These proposed changes and clarifications are necessary because we inadvertently made an error when we updated our capital PPS regulations to incorporate OMB's new CBSA definitions for IPPS hospital labor market areas beginning in FY 2005. In the FY 2005 IPPS final rule (69 FR 49187 through 49188), in order to incorporate the new CBSA designations and the provisions of the newly established § 412.64, which incorporated the CBSA-based geographic classifications, we revised § 412.316(b) and § 412.320 to specify that, effective for discharges occurring on or after October 1, 2004, the capital PPS payment adjustments are based on the geographic classifications under § 412.64. However, § 412.64 does not reference the provisions of § 412.103 regarding the urban-to-rural reclassifications, as was previously found in § 412.63(b)(1).

We believe that this error must be corrected in order to maintain our historic policy for treating urban-to-rural hospital reclassifications under the operating PPS the same for purposes of the capital PPS. Therefore, we are proposing to specify under §§ 412.316(b)(2) and (b)(3) and 412.320(a)(1)(ii) and (a)(1)(iii) that, for discharges on or after October 1, 2006, hospitals that are reclassified from urban to rural under § 412.103 would be considered rural.

C. Other Technical Corrections Relating to the Capital PPS Geographic Adjustment Factors

We are proposing to make technical corrections to the regulations under paragraphs (a) and (c) of § 412.316. Specifically, we are proposing to make a technical change under § 412.316(a) to correct the cross-reference to “§ 412.63(k)” to clarify that the same wage index that applies to hospitals under the operating PPS is used to determine the geographic adjustment factor (GAF) under the capital PPS. We would cross-refer instead to subpart D of Part 412 to capture the applicable requirements in their entirety. This technical correction does not change any current payment policies because the regulation, as written, makes clear that the GAF adjustment for local cost variation under the capital PPS is based on a hospital's operating PPS wage index value. Thus, the same payment policies that are in effect prior to FY 2007 (that is, the GAF is based on a hospital's operating PPS wage index value) would continue in effect for FY 2007 and beyond; the only change in the regulation would be a correction of the erroneous cross-reference.

In addition, we are proposing to make a technical correction under § 412.316(c) to correct the cross-reference to “§ 412.115” to clarify that, for hospitals located in Alaska and Hawaii, the same COLA factor that applies to these hospitals under the operating PPS is used to determine the COLA factor under the capital PPS. The existing regulation erroneously references the COLA factor used to determine payment under § 412.115, which is not related to the operating PPS COLA factor or any other payment factors. Again, we would cross-refer instead to subpart D of Part 412 to capture the applicable requirements in their entirety. This proposed technical correction would not change any current payment policy; rather it would make clear that the capital PPS COLA factor is based on the hospital's COLA factor under the operating PPS. This proposed technical correction reflects our historic policy that the COLA factor under the capital PPS is based on the hospital's operating PPS COLA factor, which is how the capital PPS COLA factor has been determined since the implementation of the capital PPS in FY 1992. Thus, the same payment policy that has been in effect prior to FY 2007 (that is, the use of the operating PPS COLA factor as shown in the table in section II.B.2 of the Addendum of this proposed rule in determining a hospital's capital PPS COLA factor) would continue to be in effect for FY 2007 and beyond; the only change in the regulation would be a correction of the erroneous cross-reference.

VI. Proposed Changes for Hospitals and Hospital Units Excluded From the IPPS

(If you choose to comment on issues in this section, please include the caption “Excluded Hospitals and Units” at the beginning of your comment.)

A. Payments to Excluded Hospitals and Hospital Units (§ 413.40)

1. Payments to Existing and New Excluded Hospitals and Hospital Units

Historically, hospitals and hospital units excluded from the prospective payment system received payment for inpatient hospital services they furnished on the basis of reasonable costs, subject to a rate-of-increase ceiling. An annual per discharge limit (the target amount as defined in § 413.40(a)) was set for each hospital or hospital unit based on the hospital's own cost experience in its base year. The target amount was multiplied by the Medicare discharges and applied as an aggregate upper limit (the ceiling as defined in § 413.40(a)) on total inpatient operating costs for a hospital's cost reporting period. Prior to October 1, 1997, these payment provisions applied consistently to all categories of excluded providers (rehabilitation hospitals and units (now referred to as IRFs), psychiatric hospitals and units (now referred to as IPFs), LTCHs, children's hospitals, and cancer hospitals).

Payment for children's hospitals and cancer hospitals that are excluded from the IPPS continues to be subject to the rate-of-increase ceiling based on the hospital's own historical cost experience. (We note that, in accordance with § 403.752(a) of the regulations, RNHCIs are also subject to the rate-of-increase limits established under § 413.40 of the regulations.) For IPFs, IRFs, and LTCHs, reasonable cost payment provisions changed significantly for cost reporting periods beginning on or after October 1, 1997.

Section 1886(b)(3)(H) of the Act established caps on the target amounts for cost reporting periods beginning on or after October 1, 1997, through September 30, 2002, for certain existing hospitals and hospital units excluded from the IPPS. Section 413.40(c)(4)(iii) of the implementing regulations states that “In the case of a psychiatric hospital or unit, rehabilitation hospital or unit, or long-term care hospital, the target amount is the lower of amounts specified in paragraph (c)(4)(iii)(A) or (c)(4)(iii)(B) of this section.” Accordingly, in general, for “existing” IPFs, IRFs, or LTCHs for the applicable 5-year period, the target amount is the lower of: the hospital-specific target amount (§ 413.40(c)(4)(iii)(A)) or the 75th percentile cap (§ 413.40(c)(4)(iii)(B)).

For cost reporting periods beginning on or after October 1, 2002, all IRFs are paid 100 percent of the adjusted Federal rate under the IRF PPS. Therefore, an IRF, considered existing under section 1886(b)(3)(H) of the Act would have no portion of its payment subject to § 413.40(c)(4)(ii) of the regulations for cost reporting periods beginning on or after October 1, 2002.

For cost reporting periods beginning on or after October 1, 2002, to the extent an IPF or LTCH has all or a portion of its payment determined under reasonable cost principles, the target amounts for the reasonable cost-based portion of the payment are determined in accordance with section 1886(b)(3)(A)(ii) of the Act and the regulations at § 413.40(c)(4)(ii). Section 413.40(c)(4)(ii) states, “Subject to the provisions of [§ 413.40] paragraph (c)(4)(iii) of this section, for subsequent cost reporting periods, the target amount equals the hospital's target amount for the previous cost reporting period increased by the update factor for the subject cost reporting period unless the provisions of [§ 413.40] paragraph (c)(5)(ii) of this section apply.” Thus, because § 413.40(c)(4)(ii) indicates that the provisions of that paragraph are subject to the provisions of § 413.40(c)(4)(iii), which are applicable only for cost reporting periods beginning on or after October 1, 1997, through September 30, 2002, the target amount for FY 2003 is determined by updating the target amount for FY 2002 by the applicable update factor. For example, if a provider was paid the cap amount in FY 2002, the target amount for FY 2003 would be the amount paid in FY 2002, updated to FY 2003 (that is, the target amount from the previous year increased by the applicable update factor). As discussed below, IPFs, IRFs, and LTCHs are now paid under separate PPSs, although some are subject to transition payment provisions.

In addition, a new method of determining the payment amount for “new” excluded providers was established under section 1886(b)(7) of the Act. The law was applicable for three classes of excluded providers—IRFs, IPFs, and LTCHs—with a first cost reporting period beginning on or after October 1, 1997. For the first two cost reporting periods, these “new” excluded providers would be paid the lesser of their net inpatient operating costs or 110 percent of the national median of target amounts for its class of hospitals for cost reporting periods ending during FY 1996. This amount was updated to the first cost reporting period the hospital received payment, and adjusted for differences in area wage levels, as implemented in the regulations at § 413.40(f)(2)(ii). For the third and subsequent cost reporting periods, § 413.40(c)(4)(v) applies.

The 110 percent of the national median payment limits for new providers under TEFRA (§ 413.40(f)(2)(ii)) do not apply to those LTCHs or IPFs whose first cost reporting period begins on or after the date the particular class of hospitals implemented their respective PPS because they are paid 100 percent of their Federal PPS rate. IRFs are paid 100 percent of the Federal rate under the IRF PPS for cost reporting periods beginning on or after October 1, 2002. Therefore, the 110 percent of the median payment limitations are not applicable to IRFs for cost reporting periods beginning on or after that date.

2. Separate PPS for IRFs

Section 1886(j) of the Act, as added by section 4421(a) of Pub. L. 105-33, provided for the phase-in of a case-mix adjusted PPS for inpatient hospital services furnished by IRFs for cost reporting periods beginning on or after October 1, 2000, and before October 1, 2002, with payments based entirely on the adjusted Federal prospective payment for cost reporting periods beginning on or after October 1, 2002. Section 1886(j) of the Act was amended by section 125 of Pub. L. 106-113 to require the Secretary to use a discharge as the payment unit under the PPS for inpatient hospital services furnished by IRFs and to establish classes of patient discharges by functional-related groups. Section 305 of Pub. L. 106-554 further amended section 1886(j) of the Act to allow IRFs, subject to the blend methodology, to elect to be paid the full Federal prospective payment rather than the transitional period payments specified in the Act.

On August 7, 2001, we issued a final rule in the Federal Register (66 FR 41316) establishing the PPS for IRFs, effective for cost reporting periods beginning on or after January 1, 2002. There was a transition period for cost reporting periods beginning on or after January 1, 2002, and ending before October 1, 2002. For cost reporting periods beginning on or after October 1, 2002, payments are based entirely on the adjusted Federal prospective payment rate determined under the IRF PPS.

3. Separate PPS for LTCHs

In accordance with the requirements of section 123 of Pub. L. 106-113, as modified by section 307(b) of Pub. L. 106-554, we established a per discharge, DRG-based PPS for LTCHs as described in section 1886(d)(1)(B)(iv) of the Act for cost reporting periods beginning on or after October 1, 2002, in a final rule issued on August 30, 2002 (67 FR 55954). The LTCH PPS uses information from LTCH hospital patient records to classify patients into distinct LTC-DRGs based on clinical characteristics and expected resource needs. Separate payments are calculated for each LTC-DRG with additional adjustments applied.

On May 7, 2004, we issued in the Federal Register a final rule (69 FR 25673) that updated the payment rates for the LTCH PPS and made policy changes effective for a new LTCH PPS rate year of July 1, 2004 through June 30, 2005. For the LTCH PPS rate year of July 1, 2005 through June 30, 2006, we issued in the Federal Register a final rule (70 FR 24168) that further updated the payment rates and made policy changes. The 5-year period for LTCHs to transition from reasonable cost-based reimbursement to the fully Federal prospective rate will end with cost reporting periods beginning on or after October 1, 2005, and before October 1, 2006.

4. Separate PPS for IPFs

In accordance with section 124 of the BBRA and section 405(g)(2) of Pub. L. 108-173, we established a PPS for inpatient hospital services furnished in IPFs (that is, psychiatric hospitals and psychiatric units of acute care hospitals). On November 15, 2004, we issued in the Federal Register a final rule (69 FR 66922) that established the IPF PPS, effective for IPF cost reporting periods beginning on or after January 1, 2005. Under the final rule, we compute a Federal per diem base rate to be paid to all IPFs for inpatient psychiatric services based on the sum of the average routine operating, ancillary, and capital costs for each patient day of psychiatric care in an IPF, adjusted for budget neutrality. The Federal per diem base rate is adjusted to reflect certain patient characteristics, including age, specified DRGs, selected high-cost comorbidities, days of the stay, and certain facility characteristics, including a wage index adjustment, rural location, indirect teaching costs, the presence of a full-service emergency department, and COLAs for IPFs located in Alaska and Hawaii. We have established a 3-year transition period during which IPFs whose first cost reporting periods began before January 1, 2005, will be paid based on a blend of reasonable cost-based payment and IPF PPS payments. For cost reporting periods beginning on or after January 1, 2008, all IPFs will be paid 100 percent of the Federal per diem payment amount.

5. Grandfathering of Hospitals-Within-Hospitals (HwHs) and Satellite Facilities

(If you choose to comment on this section, please include the caption “Hospitals-Within-Hospitals” at the beginning of your comment.)

Existing regulations at 42 CFR 412.22(e) define a hospital-within-a-hospital (HwH) as a hospital that occupies space in a building also used by another hospital, or in one or more separate buildings located on the same campus as buildings used by another hospital. In order to be paid outside of the IPPS as an excluded hospital, a HwH is required to demonstrate compliance with requirements at § 412.22(e)(1) through (e)(3), as applicable, which were established to create operational and organizational separateness between the HwH and the host hospital with which it is co-located.

The existing regulations at § 412.22(h), relating to satellite facilities of hospitals excluded from the IPPS, define a satellite facility as a part of a hospital that provides inpatient services in a building also used by another hospital, or in one or more entire buildings located on the same campus as buildings used by another hospital. Section 412.25(e), relating to satellite facilities of excluded hospital units, defines a satellite facility as a part of a hospital unit that provides inpatient services in a building also used by another hospital, or in one or more entire buildings located on the same campus as buildings used by another hospital.

There are significant similarities between the definition of a satellite facility and the definition of a HwH as it relates to their co-location with other Medicare hospital-level providers (hosts). There are also similarities in our policy concerns about the potential for patient-shifting (and its consequences for the Medicare program) between the co-located entities and their hosts. Regarding HwHs and satellite facilities, particularly LTCH HwHs and satellite facilities of LTCHs, which were the original entities that we regulated beginning with FY 1995, we have repeatedly expressed our concerns (for example, in the FY 2005 IPPS final rule (69 FR 49191)) that a HwH's or a satellite facility's “configuration could result in patient admission, treatment, and discharge patterns that are guided more by attempts to maximize Medicare payments than by patient welfare.” (69 FR 48916 and 49191). We further believe that “the unregulated linking of an IPPS hospital and a hospital excluded from the IPPS could lead to two Medicare payments for what was essentially one episode of patient care.” (69 FR 48916 and 49191). Therefore, we established “separateness and control” criteria to govern these relationships with host hospitals, at § 412.22(e) for HwHs, and at §§ 412.22(h) and 412.25(e) for satellite facilities of excluded hospitals and satellite facilities of hospital units, respectively. Moreover, for each type of entity, we provided for the “grandfathering” of existing facilities, thereby exempting those that were in existence prior to the establishment of the “separateness and control” requirements from compliance with the criteria. At § 412.22(f), we provided for the grandfathering of HwHs that were in existence on or before September 30, 1995 or for HwHs that changed the terms and conditions under which they operated between September 30, 1995 and before October 1, 2003, and continued to operate under the terms and conditions in effect on September 30, 2003. At § 412.22(h)(3) and (h)(4) we grandfathered of satellite facilities that were part of a hospital, that were in existence on September 30, 1999, and that met certain other conditions. Further, at § 412.25(e)(3) and (e)(4), we grandfathered satellite facilities that were part of a hospital unit, were in existence on September 30, 1999, and that met certain other conditions.

The regulations addressing “separateness and control” policies for each of the above types of entities are presently not entirely uniform. This situation has arisen, in part, because the policies were implemented at different times and also because there are differences among the types of entities. (For example, in the FY 2003 IPPS final rule (67 FR 49982 and 50105), we included a detailed discussion of the “performance of basic functions” test utilized for HwHs and how this test was not applicable to satellite facilities.) There are also differences between specific features of the grandfathering provisions for HwHs and satellite facilities, despite the fact that, as noted above, the intent of each of the grandfathering provisions was the same (for HwHs at § 412.22(f), for satellite facilities of hospitals at § 412.22(h)(3)(i) and (h)(4), and for satellite facilities of hospital units at § 412.25(e)(3) and (e)(4)). The regulations exempt certain of these entities from compliance with the “separateness and control” criteria governing the relationships with their host hospitals as long as they continue to operate under the same “terms and conditions,” including the number of beds and square footage considered to be part of the hospital or satellite facility, for purposes of Medicare participation and payment in effect as of the date that they were grandfathered.

This particular policy was adopted because we believed that those entities that were designated as grandfathered, versus those that were required to meet the “separateness and control” requirements, should not be permitted to alter their operations from the “snapshot in time” taken when they were grandfathered and thus benefit even more from this status. (LTCH HwHs and satellite facilities of LTCHs that are not grandfathered are also subject to a payment adjustment at § 412.534 related to Medicare discharges of patients who were admitted from their host hospitals.) In other words, we believed that grandfathered facilities received a benefit not enjoyed by nongrandfathered facilities—namely, they were free from compliance with the “separateness and control” regulations and we did not want to allow these entities to realize additional economic advantages by expansion that would increase their Medicare payments by virtue of their grandfathered status. Furthermore, it has been our policy that if a grandfathered HwH or satellite facility of the HwH chooses not to operate under the same terms and conditions in effect as of its grandfathering, it could still be paid under the applicable excluded hospital payment system if it changed its relationship with its host to the extent that it has come into compliance with the applicable “separateness and control” requirements.

Because the underlying rationale for the grandfathering policies for both HwHs and satellite facilities of HwHs is the same, upon review of these various provisions, we believe that, where appropriate, the grandfathering provisions should be consistent. Under the authority of section 1871(a)(1) of the Act, which authorizes the Secretary to prescribe such regulations as may be necessary to carry out the administration of the Medicare program, we are proposing the following revisions to make the policies consistent. As set forth below, we are proposing to revise the HwH provision at § 412.22(f) to include an exception to the requirement that a grandfathered HwH be operated under the terms and conditions in effect on October 1, 2003, that corresponds to the existing exceptions for HwH satellite facilities and for satellite facilities of hospital units at § 412.22(h)(4) and 412.25(e)(4), respectively. (As provided in § 412.22(f), the original September 1, 1995, “snapshot in time” date for grandfathered HwHs was extended to hospitals that changed the terms and conditions under which they operated between September 1, 1995, and before October 1, 2003, in the FY 2004 IPPS final rule (68 FR 45462).) Specifically, we are proposing a corresponding change to the HwH grandfathering provision at § 412.22(f)(3) that would allow for increases or decreases in square footage, or decreases in the number of beds of the HwH that are needed for specific circumstances beyond the control of the facility. We are specifying that increases or decreases in square footage or decreases in the number of beds that are required because of the relocation of a facility to permit construction or renovation necessary for compliance with Federal, State, or local law affecting the physical facility or because of catastrophic events such as fires, floods, earthquakes, or tornadoes. (64 FR 14535) We are proposing to add some phraseology to the existing provision in § 412.22(h)(4) for consistency with the regulations for grandfathered satellite facilities cited above.

As noted above, our existing grandfathering regulations at §§ 412.22(f), 412.22(h)(3) and (h)(4), and 412.25(e)(3) and (e)(4) require that the grandfathered entity make no change in either its square footage or number of beds in order to retain its grandfathered status. In establishing grandfathering provisions, generally, we intended to protect certain existing hospitals and satellite facilities from “the potentially adverse impact of recent, more specific regulations that we now believe to be essential to the goals of the Medicare program” (68 FR 45463). Moreover, it was our intention that our “snapshot in time” policy prevented grandfathered entities that were advantaged more than their nongrandfathered peer facilities as a result of their protected status from realizing additional benefits by changing their “terms and conditions” that could increase their Medicare reimbursement. However, as noted above, we did provide that a grandfathered HwH or satellite facility would have the option of changing square footage or number of beds if it decided to forego its grandfathered status and comply with the applicable “separateness and control” regulations.

Recently, several grandfathered LTCH HwHs and satellite facilities questioned whether a decrease in their square footage or their number of beds would result in negating their grandfathered status, because compliance with the each of the above cited grandfathering provisions require that they continue to operate under the same terms and conditions, including the number of beds and square footage considered to be part of the hospital, the satellite facility, or the hospital unit in effect on the day that the grandfathering policy was implemented. We also have been urged to modify our policies to allow these grandfathered entities to increase in square footage and number of beds without requiring compliance with the “separateness and control” policies discussed above. Clearly, under existing regulations, a decrease or an increase in square footage or number of beds would result in a loss of status as a grandfathered HwH or hospital satellite facility (unless § 412.22(h)(4) or § 412.25(b)(3) applies) because the existing regulations prohibit any change in the terms and conditions of operation, as described above.

We had two objectives in establishing our grandfathering policy. The first was to allow existing HwHs and satellite facilities to continue to be paid outside of the IPPS, despite the fact that, among other factors, no demonstration of operational or organizational separateness between these grandfathered entities and their host hospitals were required, as they were for HwHs established after September 30, 1995, and for satellite facilities established after September 30, 1999. However, the second objective was to ensure that these entities would not make changes that would lead to increased costs to the Medicare program. The nexus of these two objectives has been the basis of our “snapshot in time” policy discussed above. (For HwHs, as noted above, the “snapshot in time” date for changes in “terms and conditions” was extended to before October 1, 2003, if the HwH changed its terms and conditions under which it operated after September 30, 1995, but before October 1, 2003, in the FY 2004 IPPS final rule (68 FR 45462).)

As a result of the requests that we reconsider our policy for an HwH or satellite facility that decreases or increases square footage or number of beds, we revisited the requirement for grandfathered entities to continue to operate under the “same terms and conditions” in effect when they were grandfathered. We have determined that, although increases in square footage or number of beds would confer additional benefits on grandfathered entities, as compared with those HwHs and satellite facilities that were required to comply with “separateness and control” policies at §§ 412.22(e), 412.22(h), and 412.25(e) by allowing expansion and result in additional costs to the Medicare program, this would not be the case regarding a decrease in either the square footage or the numbers of beds because a decrease in the number of beds or square footage would not result in additional costs to the Medicare program. Therefore, we are proposing revisions to the regulations at § 412.22(f) for grandfathered HwHs and at §§ 412.22(h) and 412.25(e)(5) for grandfathered satellites of hospitals and satellites of hospital units, respectively, to allow these entities to decrease their square footage or number of beds, or both, without jeopardizing their grandfathered status. Specifically, we are proposing to add a new paragraph (f)(3) to § 412.22; a new paragraph (h)(5) to § 412.22(h) (existing paragraphs (h)(5) through (h)(7) would be redesignated as paragraphs (h)(6) through (h)(8), respectively); and a new paragraph (e)(5) to § 412.25 (existing paragraph (e)(5) would be redesignated as paragraph (e)(6)). We are also proposing to revise the introductory text to paragraph (f) of § 412.22; paragraphs (h)(1), (h)(3), and (h)(4) of § 412.22; and paragraph (e)(3) of § 412.25.

Because grandfathered HwHs or grandfathered satellite facilities may be co-located with an acute care hospital or may be co-located with another excluded hospital (69 FR 49198), we want to emphasize that under our proposed policy revisions described above, where the HwH or satellite facility decreases its number of beds or square footage, there could be an impact on the host hospital if it is also grandfathered from compliance with the “separateness and control” requirements. (Because excluded hospitals are prohibited from having excluded hospital units under § 412.25(a)(1)(ii), this discussion is limited to HwHs and satellite facilities of hospitals.) For example, if grandfathered HwH “A” is co-located with another hospital excluded from the IPPS, hospital “B” (which is a rehabilitation hospital), a decrease in the number of beds in hospital “A” could impact the grandfathered status of hospital “B” if hospital “B” absorbed the extra beds. In such a case, if the determination were made that hospital “B” would expand, in order to maintain status as an excluded hospital, hospital “B” would then have to meet the applicable “separateness and control” requirements at § 412.22(e).

6. Proposed Changes to the Methodology for Determining LTCH Cost-to-Charge Ratios (CCRs) and the Reconciliation of High-Cost and Short-Stay Outlier Payments Under the LTCH PPS

a. Background

In the June 9, 2003 high-cost outlier final rule (68 FR 34498), we made revisions to our policies concerning the determination of LTCHs' CCRs and the reconciliation of high-cost and short-stay outlier payments under the LTCH PPS. As we stated in that final rule, (68 FR 34507), because the LTCH PPS high-cost outlier and short-stay outlier policies are modeled after the IPPS outlier policy, we believe they are susceptible to the same payment vulnerabilities and, therefore, merited revision. Specifically, because we believe that a hospital has the ability to inappropriately increase its outlier payments during the time lag between the current charges and the CCR from the settled cost report, through dramatic charge increases, we established new regulations under the LTCH PPS that would allow fiscal intermediaries to use more up-to-date data when determining the CCRs for each LTCH. We revised our regulations to specify that fiscal intermediaries will use either the most recent settled cost report or the most recent tentative settled cost report, whichever is from the later cost reporting period, because, in many cases, using CCRs from tentative settled cost report reduces the time lag for updating CCRs by a year or more.

However, even the later CCRs calculated from the tentative settled cost reports would overestimate costs for hospitals that have continued to increase charges much faster than costs during the time between the tentative settled cost report and the time when the claim is processed. Therefore, we also revised the regulations to specify that, in the event more recent charge data indicate that an alternative CCR would be more appropriate, CMS has the authority to direct the fiscal intermediary to change the LTCH's CCR to reflect the change evidenced by the more recent data. In addition, we further revised the regulations to allow a hospital to contact its fiscal intermediary to request that its CCR, otherwise applicable, be changed if the LTCH presents substantial evidence that its CCR is inaccurate. (68 FR 34497 and 34506 through 34508)

Also in the June 9, 2003 final rule, we noted that as hospitals raise their charges faster than their costs increase, over time their CCRs will decline. If hospitals continue to increase charges at a faster rate than their costs increase over a long period of time, or if they increase charges at extreme rates, their CCRs may fall below the range considered reasonable and fiscal intermediaries may assign a statewide average CCR. These statewide averages are generally considerably higher than the threshold. Therefore, prior to the change in the regulations, these hospitals benefited from an artificially high ratio being applied to their already high charges. Furthermore, hospitals could continue to increase charges faster than costs, without any further downward adjustment to their CCR. Consequently, in that same final rule, we revised the regulations to specify that a fiscal intermediary may use a statewide average CCR if it is unable to determine an accurate CCR in one of three circumstances (discussed in greater detail below). (68 FR 34499 through 34500 and 34506 through 34507)

In addition, in the June 9, 2003 final rule (68 FR 34500 through 34501 and 34506 through 34508), we noted that we had become increasingly aware that some hospitals had taken advantage of the former outlier policy by increasing their charges at extremely high rates, knowing that there would be a time lag before their CCRs would be adjusted to reflect the higher charges. We believed that even the revisions to the regulations described above would not completely eliminate all such opportunity. We explained that we believed that a hospital would still be able to dramatically increase its charges by far above the rate-of-increase in costs during any given year. Because this possibility was of great concern, we added a provision to our regulations to provide that outlier payments would become subject to reconciliation when hospitals' cost reports are settled.

Because we continue to have these same concerns, in the RY 2007 LTCH PPS proposed rule (71 FR 4648, 4674 through 4676, and 4690 through 4692), we discussed our current methodology for determining hospitals' CCRs under the LTCH PPS high-cost and short-stay outlier policies, and we presented proposals to refine our methodology for determining the annual CCR ceiling and statewide average CCRs. In that same proposed rule, we also discussed our existing policy for the reconciliation of LTCH PPS high-cost and short-stay outlier payments, along with our proposal to codify in Subpart O of 42 CFR Part 412 those policies, including proposed modifications and editorial clarifications to those existing policies.

Historically, annual updates to LTCH CCR ceiling and statewide average CCRs have been effective on October 1. In that RY 2007 LTCH PPS proposed rule, we proposed that the proposed revisions to the policies governing the determination of LTCHs' CCRs and the reconciliation of high-cost and short-stay outlier payments would be effective October 1, 2006. In addition, our proposal stated that the LTCH CCR ceiling and statewide average CCRs that would be effective October 1, 2006, would be presented in the annual IPPS proposed and final rules.

We received a few specific comments concerning the proposed changes to the policies governing the determination of LTCHs' CCRs. Several other commenters referenced one of the specific comments on the proposed changes to the methodology for determining LTCH CCRs in their own comments on the RY 2007 LTCH PPS proposed rule. Based on one commenter's synopsis of our proposed changes concerning the determination of LTCH's CCRs, we believe that the commenters clearly understood the nature and purpose of the proposed changes. However, the commenter pointed out that, in the RY 2007 LTCH PPS proposed rule, we did not provide an analysis of the effect of this proposed change, nor did we provide an example of the new CCR values under this proposed methodology. Another commenter did not “object in concept to the proposed combination of [IPPS] operating and capital cost-to-charge ratios” (to compute a “total” CCR for each IPPS hospital by adding together each hospital's operating CCR and its capital CCR) from which to compute the LTCH CCR ceiling and applicable statewide average CCRs. However, the commenter also pointed out that we did not provide any impact data and requested that we defer adoption of that proposed change until such data are provided for comment.

Therefore, we are proposing in this IPPS proposed rule the same changes to the policies governing the determination of LTCHs' CCRs and the reconciliation of high-cost and short-stay outlier payments that we proposed in the RY 2007 LTCH PPS proposed rule. We are including in this proposed rule the values of the proposed LTCH CCR ceiling (discussed below in this section) and the proposed statewide average LTCH CCRs (as shown in Table 8C of the Addendum to this IPPS proposed rule) that would be effective October 1, 2006, based on our proposed policy changes (along with the values of the proposed LTCH CCRs that would be determined under our current methodology).

b. High-Cost Outliers

Under the broad authority conferred upon the Secretary by section 123 of the BBRA as amended by section 307(b) of BIPA, when we implemented the LTCH PPS, we established an adjustment for additional payments for outlier cases that have extraordinarily high-costs relative to the costs of most discharges at § 412.525(a). Providing additional payments for outliers strongly improves the accuracy of the LTCH PPS in determining resource costs at the patient level and hospital level. Specifically, under § 412.525(a), we make outlier payments for any discharge if the estimated cost of the case exceeds the adjusted LTCH PPS payment for the LTC-DRG plus a fixed-loss amount. Under the LTCH PPS high-cost outlier policy, the LTCH's loss is limited to the fixed-loss amount and a fixed percentage of costs above the marginal cost factor. We calculate the estimated cost of a case by multiplying the overall hospital CCR by the Medicare allowable covered charge. In accordance with § 412.525(a)(3), we pay outlier cases 80 percent of the difference between the estimated cost of the patient case and the outlier threshold (the sum of the adjusted Federal prospective payment for the LTC-DRG and the fixed-loss amount).

(1) CCR Ceiling

As noted above, we determine the estimated cost of the case by multiplying the LTCH's overall CCR by the Medicare allowable charges for the case. As we discussed in greater detail in the June 9, 2003 IPPS high-cost outlier final rule (68 FR 34506 through 34516), because the LTCH PPS high-cost outlier policy (§ 412.525) is modeled after the IPPS outlier policy, we believed that it and the short-stay outlier policy (§ 412.529) are susceptible to the same payment vulnerabilities that became evident under the IPPS and, therefore, merited revision. Thus, we revised the high-cost outlier policy at § 412.525(a) and the short-stay policy at § 412.529 in that same final rule for the determination of LTCHs' CCRs and the reconciliation of outlier payments.

Under the LTCH PPS, a single prospective payment per discharge is made for both inpatient operating and capital-related costs. Therefore, we compute a single “overall” or “total” CCR for LTCHs based on the sum of their operating and capital-related costs (as described in Chapter 3, section 150.24, of the Medicare Claims Processing Manual (CMS Pub. 100-4) as compared to total charges. Specifically, a LTCH's CCR is calculated by dividing an LTCH's total Medicare costs (that is, the sum of its operating and capital inpatient routine and ancillary costs) divided by its total Medicare charges (that is, the sum of its operating and capital inpatient routine and ancillary charges). (Instructions regarding the changes established in the June 9, 2003 IPPS high-cost outlier final rule for both LTCHs and IPPS hospitals can be found in Program Transmittal A-03-058 (Change Request 2785; July 3, 2003)).

As a result of the changes established in the June 9, 2003 IPPS high-cost outlier final rule, as we discussed in previous LTCH PPS final rules (RY 2004, 68 FR 34144 through 34146; RY 2005, 69 FR 25687 through 25690; and RY 2006, 70 FR 24192 through 24194), under our current policy, an LTCH is assigned the applicable statewide average CCR if, among other things, an LTCH's CCR is found to be in excess of the applicable maximum CCR threshold (that is, the combined IPPS operating and capital CCR ceiling). As we explained in that same final rule (68 FR 34507), CCRs above this threshold are most likely due to faulty data reporting or entry, and, therefore, these CCRs should not be used to identify and make payments for outlier cases. Such data are clearly errors and should not be relied upon. Thus, under our established policy, if an LTCH's CCR is above the applicable ceiling, the applicable combined IPPS statewide average CCR is assigned to the LTCH instead of the CCR computed from data in its most recent (settled or tentatively settled) cost report.

As we explained in the RY 2006 LTCH PPS final rule (70 FR 24192), we believe it is appropriate to use the combined IPPS operating and capital CCR ceiling and the applicable combined IPPS statewide average CCRs in determining LTCHs' CCRs because LTCHs' cost and charge structures are similar to that of IPPS acute care hospitals. For instance, LTCHs are certified as acute care hospitals, as set forth in section 1861(e) of the Act, to participate as a hospital in the Medicare program, and these hospitals, in general, are paid as LTCHs only because their Medicare average length of stay is greater than 25 days (§ 412.23(e)). Furthermore, as also explained in that same final rule, prior to qualifying as a LTCH under § 412.23(e)(2)(i), a hospital generally is paid as an acute care hospital under the IPPS during the period in which it demonstrates that it has an average length of stay of greater than 25 days. In addition, because there are less than 400 LTCHs, and they are unevenly geographically distributed throughout the United States, there may not be sufficient LTCH CCR data to determine an appropriate LTCH PPS CCR ceiling using LTCH data.

As noted above, under the LTCH PPS, there is a single prospective payment per discharge for both inpatient operating and capital-related costs, and therefore, we compute a single “overall” or “total” CCR for LTCHs based on the sum of their Medicare operating and capital-related costs and charges. However, under the IPPS, Medicare per discharge payments to acute care hospitals for the costs of inpatient operating services are made under the “operating IPPS” and per discharge payments to acute care hospitals for inpatient capital-related costs are made under the “capital IPPS.” Because separate payments are made to acute care hospitals under the IPPS for operating and capital-related costs, separate operating and capital CCRs are calculated and used in determining IPPS high-cost outlier payments. Accordingly, under the IPPS, a separate “operating” CCR ceiling and a “capital” CCR ceiling are determined annually. As we explained above and as stated in annual instructions (Program Transmittal A-02-093 (Change Request 2288, September 27, 2002); Program Transmittal A-03-073 (Change Request 2891, August 22, 2003); Program Transmittal 309 (Change Request 3459, October 1, 2004); and Program Transmittal 692 (Change Request 4046, September 30, 2005)), under our current policy, if a LTCH's CCR is above the applicable “combined” IPPS operating and capital CCR ceiling (that is, adding the separate IPPS operating ceiling and the capital CCR ceiling together), the applicable statewide average CCR is assigned to the LTCH. For instance, for FY 2006, the IPPS operating CCR ceiling is 1.254 and the IPPS capital CCR ceiling is 0.169 (70 FR 47496). Therefore, under our current policy, the “combined” operating and capital CCR ceiling is 1.423 (1.254 + 0.169 = 1.423) as specified in Program Transmittal 692 (Change Request 4046, September 30, 2005).

Because LTCHs have a single “total” CCR (rather than separate operating and capital CCRs), under the broad authority of section 123 of the BBRA and section 307(b)(1) of BIPA, we are proposing to revise § 412.525(a)(4) to specify that, for discharges occurring on or after October 1, 2006, if, among other things, a LTCH's CCR is in excess of the LTCH CCR ceiling (which would be calculated as 3 standard deviations above the corresponding national geometric mean total CCR (established and published annually by CMS)), the fiscal intermediary may use a statewide average CCR (also established annually by CMS and discussed in more detail below). (We note, as discussed in greater detail below in this section, in conjunction with this proposed change in the calculation of the LTCH CCR ceiling, we are also proposing a change in our methodology for calculating the applicable statewide average CCRs under the LTCH PPS to be based on hospital-specific “total” CCRs.)

Specifically, under proposed revised § 412.525(a)(4)(iv)(C)(2), for discharges occurring on or after October 1, 2006, we are proposing that we would determine the single “total” CCR ceiling, based on IPPS CCR data, by first calculating the total (that is, operating and capital) CCR for each hospital and then determining the average total CCR for all hospitals. For example, if a hospital's operating CCR is 0.432 and its capital CCR is 0.027, its total CCR would be 0.459 (0.432 + 0.027 = 0.459). This calculation would be repeated for all hospitals in order to determine total CCRs for all hospitals. Next, those total CCRs would be used to determine the average total CCR and standard deviation across all hospitals. The LTCH CCR ceiling would then be established at 3 standard deviations from the mean total CCR, rather than determining the LTCH total CCR ceiling by adding the separate IPPS operating CCR and capital CCR ceilings, which are each separately determined at 3 standard deviations from the average operating CCR and average capital CCR, respectively, as we do under our current policy (as demonstrated above).

Under this proposed policy, we would use the same IPPS CCR data that we currently use to annually determine the separate IPPS operating CCR and capital CCR ceilings (that we add together under our current policy to determine the annual CCR ceiling for LTCHs) to compute IPPS hospital-specific total CCRs that would be used to determine the single LTCH total CCR ceiling. We believe that determining a LTCH CCR ceiling based on IPPS total (operating and capital-related) Medicare costs and charges rather than adding the separate IPPS CCR ceilings determined from operating CCRs and capital CCRs, respectively, would be more consistent with the LTCH PPS single payment, which does not differentiate payments between operating and capital-related costs. Our rationale for proposing to continue to use IPPS data to determine the LTCH CCR ceiling annually continues to be the same as the one stated above.

To summarize, our current methodology (that is, using the “combined” IPPS CCR ceiling) calculates two separate IPPS CCRs (an operating CCR and a capital CCR) by taking 3 standard deviations from the average of all IPPS operating CCRs and 3 standard deviations from the average of all IPPS capital CCRs separately to determine the IPPS operating CCR ceiling and IPPS capital CCR ceiling, respectively. Then we added the IPPS operating CCR ceiling and the IPPS capital CCR ceiling together to get a combined” LTCH CCR ceiling. The proposed methodology would add each IPPS hospital's operating CCR and its capital CCR together first to get a “total” CCR for each IPPS hospital, and then determine the average (that is, national geometric mean) of all of those total CCRs across all IPPS hospitals. Next we would take 3 standard deviations above the corresponding national geometric mean total CCR to calculate the LTCH CCR ceiling. The underlying data upon which this calculation is based, that is, the IPPS CCRs, would remain the same.

Based on the most recent complete IPPS total CCR data from the December 2005 update to the Provider-Specific File, we are proposing a total CCR ceiling of 1.313 under the LTCH PPS that would be effective October 1, 2006. We note that this proposed ceiling was determined based on the same data used to determine the separate proposed IPPS operating CCR ceiling (1.25) and the proposed IPPS capital CCR ceiling (0.158) discussed in section II.A.4.c. of the Addendum to this proposed rule. Furthermore, we are proposing that, if more recent data are available (that is, data from the March 2006 update to the Provider-Specific File, for example), we would use those data to determine the final total CCR ceiling under the LTCH PPS for FY 2007 using the proposed methodology described above.

The LTCH CCR ceiling determined under our current “combined” methodology would result in a slightly higher LTCH CCR ceiling (that is, 1.25 + 0.158 = 1.408) for FY 2007 compared to the proposed “total” CCR ceiling of 1.313 for FY 2007. However, we note that, based on CCRs from the December 2005 update of the Provider-Specific File, there were no LTCHs that have a CCR that is greater than the proposed ceiling of 1.313 (the highest LTCH CCR in the database of 363 LTCHs is 1.132).

As we explained in the RY 2007 LTCH PPS proposed rule (71 FR 4675), we are proposing to amend § 412.525 by adding a new paragraph (a)(4)(iv)(C)(2) to reflect the refined methodology for determining the annual CCR ceiling under the LTCH PPS. We are proposing that the revision would be effective for discharges occurring on or after October 1, 2006, rather than July 1, 2006, because we are proposing to continue to use the same IPPS data used to determine the individual IPPS operating and capital CCR ceilings established and published annually in the IPPS proposed and final rules. Because both the separate IPPS operating and capital CCRs ceilings and the LTCH “total” CCR ceiling would be determined using the same data, we believe it would be administratively expedient to continue to establish the LTCH CCR ceiling to be effective for discharges occurring on or after October 1 of each year. (As stated previously, this is consistent with our current policy, where the LTCH CCR ceiling is updated annually on October 1.) Therefore, under this proposal, the public would continue to consult the annual IPPS proposed and final rules for changes to the LTCH CCR ceiling that would be effective for discharges occurring on or after October 1. Under this proposal, the current LTCH CCR ceiling established for discharges occurring on or after October 1, 2005, in the FY 2006 IPPS final rule would remain in effect for discharges occurring on or before September 30, 2006.

(2) Statewide Average CCRs

In the June 9, 2003 IPPS high-cost outlier final rule, we also established our existing policy for discharges occurring on or after August 8, 2003, that, in addition to assigning the applicable statewide average CCR to a LTCH whose CCR is above the ceiling, the fiscal intermediary may use the applicable statewide average CCR for LTCHs for whom data with which to calculate a CCR are not available (for example, missing or faulty data) or for new LTCHs that have not yet submitted their first Medicare cost report. (For this purpose, a “new” LTCH is defined as an entity that has not accepted assignment of an existing hospital's provider agreement in accordance with § 489.18.) We note that, consistent with our current policy, either CMS or the hospital may request the use of a different (higher or lower) CCR based on substantial evidence that such a CCR more accurately reflects the hospital's actual costs and charges. This applies to new LTCHs (as defined above) as well. For instance, CMS may determine that the applicable statewide average CCR should not be applied to hospitals that convert from acute care IPPS hospitals to LTCHs (and receive a new LTCH provider number). Rather, the cost and charge data from the IPPS hospital's cost report (even if they are for more or less than a 12-month cost reporting period) would be used to determine the LTCH's CCR.

Thus, in addition to proposing to revise our methodology for determining the annual CCR ceiling under the LTCH PPS for discharges occurring on or after October 1, 2006, under the broad authority of section 123 of the BBRA and section 307(b)(1) of BIPA, we are proposing to revise § 412.525(a)(4), for discharges occurring on or after October 1, 2006, to codify in Subpart O of 42 CFR Part 412 the remaining LTCH PPS high-cost policy changes that were established in the June 9, 2003 IPPS high-cost outlier final rule (68 FR 34506 through 34513), including proposed modifications and editorial clarifications to those existing policies established in that final rule, which are discussed in greater detail below in this section. We are proposing these additional revisions to § 412.525(a)(4) because we believe that making these revisions would more precisely describe the application of those policies as they relate to the determination of LTCH CCRs and because these proposed changes would be consistent with the proposed changes to the calculation of the LTCH CCR ceiling discussed above in this section.

Specifically, we are proposing to specify in new § 412.525(a)(4)(iv)(C) that the fiscal intermediary may use a statewide average CCR, which would be established annually by CMS, if it is unable to determine an accurate CCR for a LTCH in one of the following three circumstances: (1) New LTCHs that have not yet submitted their first Medicare cost report (for this purpose, consistent with current policy, a new LTCH would be defined as an entity that has not accepted assignment of an existing hospital's provider agreement in accordance with § 489.18); (2) LTCHs whose CCR is in excess of the LTCH CCR ceiling (that is, 3 standard deviations above the corresponding national geometric mean total CCR, as discussed in greater detail previously in this proposed rule); and (3) other LTCHs for whom data with which to calculate a CCR are not available (for example, missing or faulty data). (Other sources of data that the fiscal intermediary may consider in determining an LTCH's CCR included data from a different cost reporting period for the LTCH, data from the cost reporting period preceding the period in which the hospital began to be paid as an LTCH (that is, the period of at least 6 months that it was paid as a short-term acute care hospital), or data from other comparable LTCHs, such as LTCHs in the same chain or in the same region.)

In addition, under proposed § 412.525(a)(4)(iv)(C), for discharges occurring on or after October 1, 2006, we are proposing that we would annually establish statewide average “total” CCRs (as explained below in this section) for use under the LTCH PPS based on IPPS data rather than assigning the combined (operating and capital-related) statewide average CCRs (Transmittal 692 (Change Request 4046, September 30, 2005)). Specifically, under this proposed policy, we would use the same IPPS CCR data that we currently use to annually establish the separate IPPS operating and capital statewide CCRs (that we add together under our current policy to determine the applicable “combined” statewide average CCR for LTCHs) to compute statewide average total CCRs by first calculating the total (that is, operating and capital) CCR for each hospital and then determining the weighted average total CCR for all hospitals in each State rather than adding together the separate applicable IPPS operating and capital statewide weighted average CCRs as we do under our current policy.

We also are proposing that these statewide average “total” (operating and capital) CCRs that would be used under the LTCH PPS would continue to be published annually in the IPPS proposed and final rules, and, therefore, the public would continue to consult the annual IPPS proposed and final rules for changes to the applicable statewide average total CCRs that would be effective for discharges occurring on or after October 1. Under this proposal, the current applicable statewide average operating and capital CCRs, established for discharges occurring on or after October 1, 2005, would remain in effect for discharges occurring on or before September 30, 2006. Our rationale for proposing to establish statewide average “total” CCRs (as described above in this section) based on IPPS data under proposed § 412.525(a)(4)(iv)(C) is the same as the one stated above for proposing to use IPPS data to determine a “total” LTCH CCR ceiling.

Under the current methodology, we determine a “combined” statewide average CCRs for LTCHs located in rural areas of a State that accounts for operating and capital costs and charges and a “combined” statewide average CCRs for LTCHs located in urban areas of a State that accounts for operating and capital-related costs and charges. In order to calculate a combined statewide average CCR under our current methodology, we must first calculate separate statewide average operating CCRs and capital CCRs. Under the IPPS, two statewide average operating CCRs are computed for each State: a statewide average CCR for rural areas and a statewide average CCR for urban areas. One statewide average capital CCR is computed for each State (applicable to both urban and rural areas). We use the same capital CCR for urban and rural areas because capital costs are the same regardless of geographic location. Below, we outline our existing methodology for calculating the combined statewide average CCR for a rural LTCH:

Step 1: Calculate the weighted average operating CCR for all IPPS hospitals located in rural areas of the State (as shown in the third column of Table 8A of the Addendum to this proposed rule).

Step 2: Calculate the weighted average capital CCR for all IPPS hospitals located in the State (both rural and urban areas) (as shown in Table 8B of the Addendum to this proposed rule).

Step 3: Add the weighted average rural operating CCR (Step 1) together with the weighted average capital CCR (Step 2) in order to arrive at a “combined” statewide average CCR for LTCHs in rural areas of the State.

For example, for a rural LTCH located in Alabama, under our current methodology, the “combined” statewide average CCR for FY 2007 would be 0.360, computed as the operating statewide rural average CCR of 0.334 (Table 8A of the Addendum to this proposed rule) plus the capital statewide average CCR 0.026 (Table 8B of the Addendum to this proposed rule). This same methodology is applied when determining the “combined” statewide average CCR for LTCHs located in urban areas under our current methodology, except that in Step 1 we substitute the average operating CCR for all rural IPPS hospitals with the weighted average operating CCR for all urban IPPS hospitals for the State (as shown in the second column of Table 8A of the Addendum to this proposed rule) and in Step 3, we add the weighted average urban operating CCR in Step 1 to the weighted average capital CCR in Step 2 in order to arrive at a “combined” statewide average CCR for LTCHs in urban areas of the State.

Under our proposed methodology for calculating a statewide average “total” CCR under the LTCH PPS that accounts for operating and capital-related costs and charges, first, for each IPPS hospital, we would add its operating CCR and its capital CCR together to determine its “total” CCR. Then we would use the “total” CCRs for all urban IPPS hospitals in the State to compute a statewide average total CCR for the urban areas of a State, and we would use the “total” CCR for all rural IPPS hospitals in the State to compute a statewide average CCR for the rural areas of a State. Below, we outline our proposed methodology for calculating the total statewide average CCR for a rural LTCH:

Step 1: Calculate the total CCR for each rural IPPS hospital by adding together its operating CCR and its capital CCR.

Step 2: Calculate the weighted average total CCR for all rural IPPS hospitals in the State (as shown in the third column of Table 8C of the Addendum to this proposed rule). For example, for a rural LTCH located in Alabama, under our proposed methodology, the proposed “total” statewide average CCR for FY 2007 would be 0.365 (Table 8C of the Addendum to this proposed rule). This same proposed methodology would be applied when determining the “total” statewide average CCR for LTCHs located in urban areas, except that we would replace “rural IPPS hospitals” with “urban IPPS hospitals” in Steps 1 and 2. (The total statewide average CCRs for urban LTCHs is shown in the second column of Table 8A of the Addendum to this proposed rule.) Under this proposal, the underlying data, that is, the IPPS CCRs, would remain the same.

Based on the most recent complete IPPS total CCR data from the December 2005 update of the Provider-Specific File, the proposed LTCH PPS statewide average CCRs that would be effective October 1, 2006, are presented in Table 8C of the Addendum to this proposed rule. (We note that, as is the case under the IPPS, all areas in the District of Columbia, New Jersey, Puerto Rico, and Rhode Island are classified as urban, and therefore, there are no proposed rural statewide average total CCRs listed for those jurisdictions in Table 8C of the Addendum to this proposed rule. We also note that, as is the case under the IPPS, although Massachusetts has areas that are designated as rural, there are no short-term acute care IPPS hospitals or LTCHs located in those areas as of March 2006, and therefore, there is no proposed rural statewide average total CCR listed for rural Massachusetts in Table 8C of the Addendum of this proposed rule.) Furthermore, we are proposing that, if more recent data are available (that is, data from the March 2006 update of the Provider-Specific File, for example), we would use those data to determine the final LTCH PPS statewide average CCRs for FY 2007 using the proposed methodology describe above.

Comparing the proposed statewide average “total” CCRs in Table 8C of the Addendum to this proposed rule to the “combined” statewide average CCRs that would be calculated using our existing methodology from the proposed operating PPS statewide average CCRs in Table 8A of the Addendum to this proposed rule and the proposed capital PPS statewide average CCRs in Table 8B of the Addendum to this proposed rule shows that the proposed changes to our methodology for determining LTCH statewide average CCRs would result in only minor changes in the average CCR for each State. In particular, the largest decrease in a statewide average CCR (with the exception of Maryland, as discussed below) would be in urban Indiana (−1.9 percent). However, there are currently no LTCHs located in Indiana. The largest increase in a statewide average CCR would be in urban District of Columbia (2.8 percent), and there are currently only 2 LTCHs located in the District of Columbia.

We are proposing to determine the urban and rural statewide average total CCRs for Maryland LTCHs paid under the LTCH PPS using, as a proxy, the national average total CCR for urban IPPS hospitals and the national average total CCR for rural IPPS hospitals, respectively. We are proposing this proxy because we believe that the CCR data on the Provider-Specific File for Maryland hospitals may not be accurate. We believe that the CCR data based on Maryland hospitals' cost report and charge data may not be accurate because acute care hospitals in Maryland are operating under a waiver of the Medicare's ratesetting methodologies for inpatient and outpatient services under the authorities of sections 1814(b)(3) and 1833(a)(2) of the Act. The State's Health Services Cost Review Commission (HSCRC) is the regulatory body that establishes hospital-specific rates for all hospital services in Maryland.

Because all Maryland short-term acute care hospitals are paid based on the hospital-specific rates set by the HSCRC rather than under the IPPS, CCRs are not required to determine their Medicare payments (as they are for other acute care hospitals that are not governed under the waiver at sections 1814(b)(3) and 1833(a)(2) of the Act, and who are reimbursed for their treatment of Medicare patients under the IPPS). Therefore, CCRs in the Provider-Specific File for Maryland acute care hospitals, for the most part, are missing (because they are not used for payment). Those CCRs that are input into the Provider-Specific File for Maryland acute care hospitals by the fiscal intermediary are most likely unaudited because they are not used for making payments. For all these reasons, we are concerned that CCRs for Medicare acute care hospitals located in Maryland that are in the Provider-Specific File may not be reliable. Therefore, we believe that they should not be used as proxies for setting the statewide average total CCRs for Maryland LTCHs.

We believe it would be more appropriate to establish statewide average total CCRs for Maryland LTCHs based on national average total CCRs of IPPS hospitals that were audited by fiscal intermediaries. We are proposing to establish statewide average total CCRs for Maryland LTCHs based on the national average total CCRs of all IPPS hospitals because we believe that the average of the CCRs of all the IPPS hospitals across the country that were audited by fiscal intermediaries would be based on sufficient rigorous complete data that would be a representative proxy for the ratio of costs-to-charges of LTCHs in Maryland that are subject to LTCH PPS. (We note that, under our proposal, the fiscal intermediary may assign the statewide average CCR in one of three circumstances (that is, “new” LTCHs, as defined above; LTCHs with a CCR that is in excess of the LTCH ceiling; and LTCHs with unavailable data, as discussed above)).

However, we are soliciting comments or suggestions for an alternative proxy statewide average CCR to use for LTCHs that are located in Maryland and are paid under the LTCH PPS.

(3) Data Used to Determine a CCR

Similar to our current policy, we are also proposing to specify under proposed new § 412.525(a)(4)(iv)(B) that, for discharges occurring on or after October 1, 2006, the CCR applied at the time a claim is processed would be based on either the most recent settled cost report or the most recent tentatively settled cost report, whichever is from the latest cost reporting period. Furthermore, we are proposing under proposed new § 412.525(a)(4)(iv)(A) to state that CMS may specify an alternative to the CCR computed under proposed new § 412.525(a)(4)(iv)(B); that is, the CCR computed from the most recent settled cost report or the most recent tentatively settled cost report, whichever is later, or a hospital may also request that the fiscal intermediary use a different (higher or lower) CCR based on substantial evidence presented by the hospital. These proposed revisions to our policy for determining a LTCH's CCR for discharges occurring on or after October 1, 2006, under proposed revised new § 412.525(a)(4)(iv)(A) and (B) are similar to our existing policy established in the June 9, 2003 IPPS high-cost outlier final rule (68 FR 34506 through 34513). In addition, we are proposing a technical correction to existing § 412.525(a)(3) to change the plural reference from cost-to-charge “ratios” to the singular reference to a cost-to-charge “ratio” because, under the LTCH PPS, a single (total) CCR is computed for LTCHs.

(4) Reconciliation of High-Cost Outlier Payments Upon Cost Report Settlement

In the June 9, 2003 high-cost outlier final rule (68 FR 34508 through 34512), we established a policy for LTCHs that provided that, effective for LTCH PPS discharges occurring on or after August 8, 2003, any reconciliation of outlier payments will be based upon the actual CCR computed from the costs and charges incurred in the period during which the discharge occurs. In that same final rule, we also established that, for discharges occurring on or after August 8, 2003, at the time of any reconciliation, outlier payments may be adjusted to account for the time value of any underpayments or overpayments based upon a widely available index to be established in advance by the Secretary and will be applied from the midpoint of the cost reporting period to the date of reconciliation. These changes regarding the reconciliation of outlier payments under the LTCH PPS were made in conjunction with the changes regarding the determination of LTCHs' CCRs that we established under § 412.525(a)(4) in the June 9, 2003 IPPS high-cost outlier final rule, as discussed in greater detail in section IV.D.3.b. of this preamble. (We note that the instructions for implementing these regulations under both the IPPS and the LTCH PPS are discussed in further detail in Program Transmittal A-03-058. Additional information on the administration of the reconciliation process under the IPPS is provided in Program Transmittal 707 (Change Request 3966, October 12, 2005). We note that, in addition to the proposed changes to the high-cost outlier and short-stay outlier policies presented in this proposed rule, we are currently developing additional instructions on the administration of the existing reconciliation process under the LTCH PPS that would be similar to the IPPS reconciliation process.)

As discussed above, we are proposing, for discharges occurring on or after October 1, 2006, to codify into the LTCH PPS section of the regulations (Subpart O of 42 CFR Part 412) the provisions governing the determination of LTCHs' CCRs, including proposed modifications and editorial clarifications to our existing methodology for determining the annual LTCH CCR ceiling and applicable statewide average CCRs under the LTCH PPS.

In this proposed rule, under the broad authority of section 123 of the BBRA and section 307(b)(1) of BIPA, we are also proposing to revise § 412.525(a)(4), for discharges occurring on or after October 1, 2006, to codify in Subpart O of 42 CFR Part 412 the provisions discussed above concerning the reconciliation of LTCH PPS outlier payments, including proposed editorial clarifications discussed in greater detail below in this section, that would more precisely describe the application of those policies. We are proposing the additional revisions to § 412.525(a)(4) concerning the reconciliation of outlier payments, which are discussed in greater detail below in this section, because these proposed changes would be consistent with the proposed changes to the calculation of the LTCH CCR ceiling discussed above.

Specifically, at proposed new § 412.525(a)(4)(iv)(D), similar to our current policy, we are proposing to specify that, for discharges occurring on or after October 1, 2006, any reconciliation of outlier payments would be based on the CCR calculated based on a ratio of costs to charges computed from the relevant cost report and charge data determined at the time the cost report coinciding with the discharge is settled. In addition, at proposed new § 412.525(a)(4)(iv)(E), similar to our current policy, we are proposing to specify that, for discharges occurring on or after October 1, 2006, at the time of any reconciliation, outlier payments may be adjusted to account for the time value of any underpayments or overpayments. Consistent with our current policy, we also are proposing that such an adjustment would be based upon a widely available index to be established in advance by the Secretary and would be applied from the midpoint of the cost reporting period to the date of reconciliation.

We are proposing to make these additions to § 412.525(a)(4) because we believe that such proposed changes reinforce the concept that the LTCH PPS has a single payment rate for inpatient operating and capital-related costs (as discussed in greater detail previously), and because we believe it would be more appropriate and administratively simpler to include all of the regulatory provisions concerning the determination of LTCH PPS outlier payments applicable under the LTCH PPS regulations in Subpart O of 42 CFR Part 412.

c. Short-Stay Outliers

(1) Background

When we implemented the LTCH PPS, under § 412.529, we established a special payment policy for short-stay outlier cases, that is, LTCH PPS cases with a length of stay that is less than or equal to five-sixths of the geometric average length of stay for each LTC-DRG. As noted previously, generally LTCHs are defined by statute as having an average length of stay of greater than 25 days. We believe that a short-stay outlier payment adjustment results in more appropriate payments, because these cases most likely would not receive a full course of a LTCH-level of treatment in such a short period of time and a full LTC-DRG payment may not always be appropriate. Under the existing short-stay outlier policy at § 412.529, for LTCH PPS discharges with a length of stay of up to and including five-sixths the geometric average length of stay for the LTC-DRG, in general, we adjust the per discharge payment under the LTCH PPS by the least of 120 percent of the estimated cost of the case, 120 percent of the LTC-DRG specific per diem amount multiplied by the length of stay of that discharge, or the full LTC-DRG payment. (We note we have proposed changes to this general payment formula in the RY 2007 LTCH PPS proposed rule (71 FR 4679).) Consistent with the LTCH PPS high-cost outlier policy, we calculate the estimated cost of a case by multiplying the overall hospital CCR by the Medicare allowable covered charge.

(2) Determination of LTCH CCRs and Reconciliation

In the June 9, 2003 IPPS outlier final rule (68 FR 34507), we revised the short-stay policy at § 412.529 (and the high-cost outlier policy at § 412.525(a)) because, as we discussed above in this section, we believed that the short-stay outlier (and high-cost outlier) policy are susceptible to the same payment vulnerabilities that became evident under the IPPS and, therefore, merited revision. Therefore, in the regulations under existing § 412.529(c)(5)(ii) and (iii), we established a policy for the determination of LTCH CCRs and the reconciliation of short-stay outlier payments, for discharges occurring on or after August 8, 2003 (§ 412.529(c)(5)(ii)) and October 1, 2003 (§ 412.529(c)(5)(iii)), respectively. (As noted above in this section, in that same final rule, we established the same changes to the high-cost outlier policy at existing § 412.525(a)(4)(ii) and (iii).)

As we discuss above in this section, we are proposing to revise the existing regulations at § 412.525(a)(4) to codify in Subpart O of 42 CFR Part 412 the provisions governing the determination of LTCHs' CCRs, including proposed modifications and editorial clarifications to our existing methodology for determining the annual LTCH CCR ceiling and applicable statewide average CCRs under the LTCH PPS, and the provisions governing the reconciliation of high-cost outlier payments.

We are proposing these changes, as we discuss in greater detail below in this section, because we believe that such proposed changes would be more consistent with the LTCH PPS single payment rate, and because we believe it would be more appropriate and administratively simpler to include the regulatory provisions that pertain only to LTCHs for the determination of LTCH PPS outlier payments applicable under the LTCH PPS regulations in Subpart O of 42 CFR Part 412 (as opposed to Subpart A). Because CCRs are also used in determining short-stay outlier payments under § 412.529, we are proposing, under the broad authority of section 123 of the BBRA as amended by section 307(b)(1) of BIPA, to revise § 412.529(c) consistent with the proposed changes to § 412.525(a)(4) discussed above in this section.

Specifically, we are proposing in new § 412.529(c)(5)(iv)(C)(2) to specify that, for discharges occurring on or after October 1, 2006, if, among other things, a LTCH's CCR is in excess of the LTCH CCR ceiling (which would be calculated as 3 standard deviations above the corresponding national geometric mean CCR (established and published annually by CMS)), the fiscal intermediary may use a statewide average CCR (also established annually by CMS). (We note that, similar to our current policy, we are also proposing under proposed §§ 412.529(c)(5)(iv)(C)(1) and (3) that the fiscal intermediary may use a statewide average CCR in two other circumstances, which are discussed in greater detail below in this section.)

Under our current methodology for determining the LTCH CCR ceiling, we add together the separate IPPS operating CCR ceiling and IPPS capital CCR ceiling, which are determined at 3 standard deviations from the average operating CCR and average capital CCR, respectively. Under proposed § 412.529(c)(5)(iv)(C)(2), for discharges occurring on or after October 1, 2006, we are proposing that we would determine the single “total” CCR ceiling (as we proposed under the high-cost outlier policy at proposed § 412.525(a)(4)(iv)(C)(2), as explained previously in this section) by first calculating the total (that is, operating and capital) CCR for each IPPS hospital and then determining the average total CCR for all IPPS hospitals. For example, if an IPPS hospital's operating CCR is 0.432 and its capital CCR is 0.027, its total CCR would be 0.459 (0.432 + 0.027 = 0.459). This calculation would be repeated for all IPPS hospitals in order to determine a total CCR for each IPPS hospital. Next, those total CCRs would be used to determine the average total CCR. Once the average total CCR across all IPPS hospitals is determined, we would take 3 standard deviations above the corresponding national geometric mean total CCR (in the previous step) to determine the LTCH CCR ceiling. This proposed change is similar to the proposed change to the LTCH PPS high-cost outlier policy discussed previously in this section. (We note, as discussed in greater detail below in this section, in conjunction with this proposed change in the calculation of the LTCH CCR ceiling, we are also proposing a change in our methodology for calculating the applicable statewide average CCRs under the LTCH PPS to be based on “total” hospital-specific CCRs.)

Specifically, we are proposing under the short-stay outlier policy at proposed new § 412.529(c)(5)(iv)(C) to use the same IPPS CCR data that we currently use to annually determine the separate IPPS operating CCR and capital CCR ceilings (that we add together under our current policy to determine the annual CCR ceiling for LTCHs) to compute the single LTCH “total” CCR ceiling based on IPPS hospital-specific total (operating and capital-related) Medicare costs and charges, as explained above in this section.

In other words, our current methodology (that is, using the “combined” IPPS CCR ceiling) calculates two separate IPPS CCRs (an operating CCR and a capital-related CCR) by taking 3 standard deviations from the average of all IPPS operating CCRs and 3 standard deviations from the average of all IPPS capital CCRs separately to determine the IPPS operating CCR ceiling and the IPPS capital CCR ceiling, respectively. Then we added the IPPS operating CCR ceiling and the IPPS capital CCR ceiling together to get a “combined” LTCH PPS ceiling. The proposed methodology would add each IPPS hospital's operating CCR and its capital CCR together first, to get a “total” CCR and then take the average of all of those total CCRs across all IPPS hospitals to calculate a ceiling (that is, 3 standard deviations above the corresponding national geometric mean total CCR). The underlying data, upon which this calculation is based, that is, the IPPS CCRs, would remain the same.

As we explained in the RY 2007 LTCH PPS proposed rule (71 FR 4691), under this proposal, the total CCR ceiling would continue to be published annually in the IPPS proposed and final rules and, therefore, the public should continue to consult the annual IPPS proposed and final rules for changes to the applicable LTCH PPS statewide average total CCRs that would be effective for discharges occurring on or after October 1, 2006 (because, under this proposal the current applicable combined statewide average CCRs, established for discharges occurring on or after October 1, 2005 in the FY 2006 IPPS final rule, would remain in effect for discharges occurring on or before September 30, 2006.) The rationale for this proposed change to the short-stay outlier policy at proposed § 412.529(c)(5)(iv)(C) mirrors the rationale provided for the proposed changes to the high-cost outlier policy at proposed § 412.525(a)(4)(iv)(C) discussed above in this section.

Therefore, in this proposed rule, based on the most recent complete IPPS total CCR data from the December 2005 update of the Provider-Specific File, we are proposing a total CCR ceiling of 1.313 under the LTCH PPS that would be effective October 1, 2006. We note that this proposed ceiling was determined based on the same data used to determine to the separate proposed IPPS operating CCR ceiling (1.25) and the proposed IPPS capital CCR ceiling (0.158) discussed in section II.A.4.c. of the Addendum to this proposed rule. Furthermore, we are proposing that, if more recent data are available (that is, data from the March 2006 update of the Provider-Specific File, for example), we would use that data to determine the final total CCR ceiling under the LTCH PPS for FY 2007 using the proposed methodology described above. As noted previously in this section, the LTCH CCR ceiling determined under our current “combined” methodology would result in a slightly higher LTCH CCR ceiling (that is. 1.25 + 0.158 = 1.408) for FY 2007 compared to the proposed “total” CCR ceiling of 1.313 for FY 2007. However, we note that, based on CCRs from the December 2005 update of the Provider-Specific File, there were no LTCHs that have a CCR that is greater than the proposed ceiling of 1.313 (the highest LTCH CCR in the database of 363 LTCHs is 1.132).

Consistent with the proposed changes to §§ 412.525(a)(4)(iv)(A) through (C), under the broad authority of section 123 of the BBRA and section 307(b)(1) of BIPA, we are also proposing at new §§ 412.529(c)(5)(iv)(A) through (C), for discharges occurring on or after October 1, 2006, to codify in Subpart O of 42 CFR Part 412 the remaining LTCH PPS short-stay outlier policy changes concerning the determination of LTCHs' CCRs that were established in the June 9, 2003 IPPS high-cost outlier final rule (68 FR 34506 through 34513), including proposed modifications and editorial clarifications to those existing policies established in that final rule in order to more precisely describe the application of those policies as they relate to LTCHs.

Specifically, similar to our current policy and consistent with the proposed changes to the high-cost outlier policy at § 412.525(a)(4) discussed previously in this section, we are proposing in § 412.529(c)(5)(iv)(C) to specify that the fiscal intermediary may use a statewide average CCR, which would be established annually by CMS, if it is unable to determine an accurate CCR for a LTCH in one of the following three circumstances: (1) New LTCHs that have not yet submitted their first Medicare cost report (for this purpose, consistent with current policy, a new LTCH would be defined as an entity that has not accepted assignment of an existing hospital's provider agreement in accordance with § 489.18); (2) LTCHs whose CCRs are in excess of the LTCH CCR ceiling (that is, 3 standard deviations above the corresponding national geometric mean total CCR); and (3) other LTCHs for whom data with which to calculate a CCR are not available (for example, missing or faulty data). (As noted above, other sources of data that the fiscal intermediary may consider in determining a LTCH's CCR include data from a different cost reporting period for the LTCH, data from the cost reporting period preceding the period in which the hospital began to be paid as a LTCH (that is, the period of at least 6 months that it was paid as a short-term acute care hospital), or data from other comparable LTCHs, such as other LTCHs in the same chain or in the same region. As also noted above and consistent with our current regulations, either CMS or the hospital may request the use of a different (higher or lower) CCR based on substantial evidence that such a CCR more accurately reflects the hospital's actual costs and charges. This applies to new LTCHs (as defined above) as well. For instance, CMS may determine that the applicable statewide average CCR should not be applied to hospitals that convert from acute care IPPS hospitals to LTCHs (and receive a new LTCH provider number). Rather, the cost and charge data from the IPPS hospital's cost report (even if it is for more or less than a 12-month cost reporting period) would be used to determine the LTCH's CCR.)

In addition, similar to our current practice and consistent with the proposed change to the high-cost outlier policy discussed previously in this proposed rule under § 412.525(a)(4)(iv)(C), we are proposing that, under § 412.529(c)(5)(iv)(C), for discharges occurring on or after October 1, 2006, we would annually establish statewide average “total” CCRs for use under the LTCH PPS based on IPPS data by first calculating the total (that is, operating and capital) CCR for each hospital and then determining the weighted average total CCR for all hospitals in each State rather than assigning the combined (operating and capital) statewide weighted average CCRs, as we do under our current policy. Specifically, in proposing to compute statewide average total CCRs, we would use the same IPPS CCR data that we currently use to annually establish the separate IPPS operating statewide average CCRs and capital statewide CCRs (that we add together under our current policy to determine the applicable “combined” statewide average CCR for LTCHs) to compute statewide average total CCRs as explained above in this section.

To summarize, our current methodology (that is, using the “combined” IPPS operating and capital statewide average CCRs) calculates two separate IPPS average CCRs for each State (an operating statewide average CCR (one average CCR for urban areas and another average CCR for rural areas) and a capital statewide average (for all areas within each State)) by taking the weighted average of all IPPS operating CCRs in each State (for urban areas and for rural areas separately) and the weighted average of all IPPS capital CCRs in each State (for all areas), and then adding the two averages together for the particular State to get a “combined” statewide average CCR (one for urban areas and one for rural areas). The proposed methodology would add each IPPS hospital's operating CCR and its capital CCR together first, and then takes the weighted average of all of those total CCRs for all urban IPPS hospitals in the State to get the urban statewide average CCR and for all rural IPPS hospitals in the State to get the rural statewide average CCR. This process is repeated for each State (except Maryland, as discussed below). The underlying data, that is, the IPPS CCRs, would remain the same. In this proposed rule, based on the most recent complete IPPS total CCR data from the December 2005 update of the Provider-Specific File, the proposed LTCH PPS statewide average CCRs that would be effective October 1, 2006 are presented in Table 8C of the Addendum to this proposed rule. (We note that, as is the case under the IPPS, all areas in the District of Columbia, New Jersey, Puerto Rico, and Rhode Island are classified as urban, and therefore, there are no proposed rural statewide average total CCRs listed for those jurisdictions in Table 8C of the Addendum to this proposed rule. We also note that, as is the case under the IPPS, although Massachusetts has areas that are designated as rural, there are no short-term acute care IPPS hospitals or LTCHs located in those areas as of March 2006, and therefore, there is no proposed rural statewide average total CCR listed for rural Massachusetts in Table 8C of the Addendum of this proposed rule.)

Furthermore, as stated above, we are proposing that, if more recent data are available (that is, data from the March 2006 update of the Provider-Specific File, for example), we would use those data to determine the final LTCH PPS statewide average CCRs for FY 2007 using the proposed methodology described above.

As we also noted above, we are proposing to determine the urban and rural statewide average total CCRs for Maryland LTCHs paid under the LTCH PPS using, as a proxy, the national average total CCR for urban IPPS hospitals and the national average total CCR for rural IPPS hospitals, respectively. We are proposing this proxy because we believe that the CCR data on the Provider-Specific File for Maryland hospitals may not be accurate. As discussed in greater detail above, we believe that the CCR data in the Provider-Specific File based on Maryland short-term acute care hospitals' cost report and charge data may not be reliable because acute care hospitals in Maryland are waived from Medicare's ratesetting methodologies for inpatient and outpatient services under the authorities of sections 1814(b)(3) and 1833(a)(2) of the Act. The State's HSCRC is the regulatory body that establishes hospital-specific rates for all hospital services in Maryland. Because Maryland hospitals are paid based on the hospitals-specific rates set by HSCRC rather than under the IPPS, CCRs are not required to determine their Medicare payments (as they are for other acute care hospitals that are not governed under the waiver in sections 1814(b)(3) and 1833(a)(2) of the Act, and who are reimbursed for their treatment of Medicare patients under the IPPS). Therefore, as discussed above, CCRs in the Provider-Specific File for Maryland acute care hospitals, for the most part, are missing or unaudited (because they are not used for making payments).

Thus, we believe it would be more appropriate to establish statewide average total CCRs for Maryland LTCHs based on a national average total CCRs of IPPS hospitals that were audited by fiscal intermediaries. We are proposing to establish statewide average total CCRs for Maryland based on the national average total CCRs of all IPPS hospitals because we believe that the average of the CCRs of all of the IPPS hospitals across the country that were audited by fiscal intermediaries would be based on sufficient rigorous complete data that would be a representative proxy for the ratio of costs to charges of LTCHs located in Maryland that are subject to the LTCH PPS. (We note, that under our proposal, the fiscal intermediary may assign the statewide average CCR in one of three circumstances (that is, “new” LTCHs, as defined above; LTCHs with a CCR that is in excess of the LTCH CCR ceiling; and LTCHs with unavailable data, as discussed above).) However, we are soliciting comments on suggestions for an alternative proxy statewide average CCR to use for LTCHs that are located in Maryland that are paid under the LTCH PPS.

In addition, under this proposal, the statewide average total CCRs would continue to be published annually in the IPPS proposed and final rules and, therefore, the public would continue to consult the annual IPPS proposed and final rules for changes to the applicable LTCH PPS statewide average total CCRs that would be effective for discharges occurring on or after October 1, 2006 (because, under this proposal, the current applicable combined statewide average CCRs, established for discharges occurring on or after October 1, 2005, in the FY 2006 IPPS final rule, would remain in effect for discharges occurring on or before September 30, 2006). Our rationale for this proposed change to the short-stay outlier policy at proposed § 412.529(c)(5)(iv)(C) mirrors the rationale provided for the proposed changes to the high-cost outlier policy at proposed § 412.525(a)(4)(iv)(C) discussed in greater detail above in this section.

We also are proposing under § 412.529(c)(5)(iv)(B), similar to our current policy and consistent with the proposed change to the high-cost outlier policy discussed above, for discharges occurring on or after October 1, 2006, that the CCR applied at the time a claim is processed would be based on either the most recent settled cost report or the most recent tentative settled cost report, whichever is from the latest cost reporting period. We are proposing under § 412.529(c)(5)(iv)(A) that CMS may specify an alternative to the CCR computed from the most recent settled cost report or the most recent tentative settled cost report, whichever is later, or a hospital may also request that its fiscal intermediary use a different (higher or lower) CCR based on substantial evidence presented by the hospital. As noted previously in this proposed rule, these proposed revisions to our policy for determining a LTCH's CCR for discharges occurring on or after October 1, 2006, under proposed revised § 412.529(c)(5)(iv)(A) and (B) are similar to our existing policy established in the June 9, 2003 IPPS high-cost outlier final rule (68 FR 34506 through 34513) and consistent with the proposed changes to the high-cost outlier policy previously discussed in this proposed rule.

Furthermore, similar to our current policy and consistent with the proposed change to the high-cost outlier policy discussed previously in this section, under the broad authority under section 123 of the BBRA as amended by section 307(b) of BIPA, we are also proposing under § 412.529(c)(5)(iv), for discharges occurring on or after October 1, 2006, to codify in the LTCH PPS regulations (Subpart O of 42 CFR Part 412) the outlier reconciliation provisions that were established in the June 9, 2003 IPPS high-cost outlier final rule (68 FR 34506 through 34513), including proposed editorial clarifications to those provisions (which are the same as the proposed changes to the high-cost outlier policy discussed above in this section).

Specifically, under proposed § 412.529(c)(5)(iv)(D), similar to our current policy and consistent with the proposed change to the high-cost outlier policy, we are proposing to specify that, for discharges occurring on or after October 1, 2006, any reconciliation of outlier payments would be based on the CCR calculated based on a ratio of costs to charges computed from the relevant cost report and charge data determined at the time the cost report coinciding with the discharge is settled. In addition, at proposed § 412.529(c)(5)(iv)(E), similar to our current policy and consistent with the proposed change to the high-cost outlier policy, we are proposing to specify that, for discharges occurring on or after October 1, 2006, at the time of any reconciliation, outlier payments may be adjusted to account for the time value of any underpayments or overpayments. This adjustment would be based upon a widely available index that would be established in advance by the Secretary and would be applied from the midpoint of the cost reporting period to the date of reconciliation. Our rationale for these proposed changes to the short-stay outlier policy at proposed § 412.529(c)(5)(iv)(D) and (E) mirrors the rationale provided for the proposed changes to the high-cost outlier policy at proposed § 412.525(a)(4)(iv)(D) and (E), discussed in greater detail above in this section.

7. Technical Corrections Relating to LTCHs

We are proposing to make the following technical changes to various sections of the regulations relating to LTCHs to update or correct cross-references or to include inadvertently omitted provisions:

a. In the following sections, we are proposing to correct several incorrect cross-references in the existing regulations:

• In § 412.505(b)(1), changing the cross-reference “§ 412.22(e) and (h)(5)” to the phrase “§ 412.22(e)(3) and (h)(6), if applicable”.

• In § 412.508(c)(3), changing the cross-reference “§ 1001.301” to “§ 1001.201.”

• In § 412.541(b)(2)(i), changing the cross-reference “§ 412.533(b)” to “§ 412.533(a)(5) and § 412.533(c)” to correctly refer to the provisions on the determination of the LTCH PPS rates.

b. We are proposing to revise § 412.511 to change the cross-reference “§ 412.22(e) and (h)(5)” to the phrase “§ 412.22(e)(3) and (h)(6)” and to clarify the requirement that LTCHs must meet under §§ 412.22(e)(3) and (h)(6) to report co-location status as part of its overall reporting requirements.

c. We are proposing to revise § 412.525(d) by adding new paragraphs (d)(3) and (d)(4) to specify two additional payment adjustments to the per discharge payments under the LTCH PPS that were inadvertently omitted; that is, the special payment under the onsite transfer and readmission policy at § 412.532 and the special payment provisions for LTCH HwHs and satellites of LTCHs at § 412.534.

d. We are proposing to revise § 412.532(a)(2) to correct the cross-reference to the definition of a satellite facility by changing “§ 412.22(f)” to “§ 412.22(h)”. In addition, we are proposing to revise paragraph (b) of § 412.532 to include satellite facilities and SNFs as part of the definition of entities that may be “co-located” or “onsite” with a hospital. In existing § 412.532, (a)(2) and (a)(3), we include satellite facilities and SNFs, respectively, within the onsite provider payment policy as entities that may be co-located with a LTCH, but omitted to mention them in § 412.533(b) as being included when we defined “co-located or onsite” facilities. We are proposing to conform § 412.532(b) to include their mention.

8. Proposed Cross-Reference Correction in Authority Citations for 42 CFR Parts 412 and 413

As stated earlier, on November 15, 2004, we published in the Federal Registerthe final rule establishing a PPS for IPFs (69 FR 66922). As a part of that rule, we amended the authority citations for 42 CFR parts 412 and 413 to include references to section 124 of Public Law 106-113. Section 124 directed us to take various actions regarding a per diem PPS for IPFs. We included incorrect cross-references to the United States Statutes at Large citation for this provision. We are proposing to amend the authority citations for parts 412 and 413 by removing the incorrect cross-reference to “113 Stat. 1515” and inserting the correct cross-reference “113 Stat. 1501A-332”.

B. Critical Access Hospitals (CAHs)

(If you choose to comment on this section, please include the caption “CAHs” at the beginning of your comment.)

1. Background

Section 1820 of the Act provides for the establishment of Medicare Rural Hospital Flexibility Programs (MRHFPs), under which individual States may designate certain facilities as critical access hospitals (CAHs). Facilities that are so designated and meet the CAH conditions of participation under 42 CFR part 485, Subpart F, will be certified as CAHs by CMS. Regulations governing payments to CAHs for services to Medicare beneficiaries are located in 42 CFR part 413.

2. Sunset of Designation of CAHs as Necessary Providers: Technical Correction

Under section 1820(c)(2)(B)(i) of the Act, a CAH is required to be located more than a 35-mile drive (or in the case of mountainous terrain or only secondary roads, a 15-mile drive) from a hospital or another CAH, unless the CAH is certified by the State as a necessary provider of health care services to residents in the area. Section 405(h) of Public Law 108-173 amended section 1820(c)(2)(B)(i)(II) of the Act by adding language that terminated a State's authority to waive the location requirement for a CAH by designating the CAH as a necessary provider, effective January 1, 2006. As a result of this amendment, as of January 1, 2006, States are no longer able to designate CAH status based upon a determination that an entity is a necessary provider of health care. However, section 405(h) of Public Law 108-173 also included a grandfathering provision for CAHs that are certified as necessary providers prior to January 1, 2006. Under this provision, a CAH that is designated as a necessary provider in its State's rural health plan prior to January 1, 2006, is permitted to maintain its necessary provider designation.

The regulations that specify the location requirements for CAHs described above are set forth at 42 CFR 485.610(c). To implement the amendment made by section 405(h) of Public Law 108-173, we published a final rule in the Federal Register on August 11, 2004 (69 FR 49271) to revise the regulations under paragraph (c) of § 485.610. In that revision, we inadvertently included an erroneous date: In the second sentence of paragraph (c), we stated that a CAH that is designated as a necessary provider as of October 1, 2006, will maintain its necessary provider designation after October 1, 2006. Although a correction notice was published in the Federal Register on October 7, 2004 (69 FR 60252), the notice corrected only the second citation of the date in that paragraph. As a result, the second sentence of § 485.610(c) continues to state, incorrectly, that a CAH that is designated as a necessary provider as of October 1, 2006, will maintain its necessary provider designation as of January 1, 2006.

To avoid further confusion, and to ensure that the regulations implementing the CAH location requirement under section 1820(c)(2)(B)(i)(II) of the Act specify that requirement accurately, we are proposing to revise the second sentence of § 485.610(c) to state that a CAH that was designated as a necessary provider on or before December 31, 2005, will maintain its necessary provider designation as of January 1, 2006. We note that this change would merely correct the previous error and does not reflect any change in our policy as to how the statutory provision is implemented.

VII. Payment for Services Furnished Outside the United States

(If you choose to comment on this section, please include the caption “Services Outside the United States” at the beginning of your comment.)

A. Background

Section 1862(a)(4) of the Act generally prohibits payment under Medicare for items and services furnished outside the United States. Under sections 1861(x) and 210(i) of the Act, “United States” is defined to include the 50 States, the District of Columbia, Puerto Rico, the Virgin Islands, Guam, and America Samoa. Furthermore, under Public Law 94-241, “those laws which provide Federal services and financial assistance programs” apply to the Northern Mariana Islands to the same extent as they do to Guam. In addition, we have interpreted the term “United States” as including U.S. territorial waters. We consider shipboard services furnished in a port of the United States or within 6 hours before arrival at, or departure from, a port of the United States to be furnished in the United States territorial waters. (54 FR 41723) Therefore, in our regulations at § 411.9(a), we define the United States to include the 50 States, the District of Columbia, Puerto Rico, the Virgin Islands, Guam, American Samoa, the Northern Mariana Islands, and for purposes of services furnished on board ship, the territorial waters adjoining the land areas of the United States. This general prohibition has exceptions, under which payment may be made for inpatient hospital services, emergency inpatient hospital services, and for physician and ambulance services associated with these hospital services that are furnished outside the United States.

Payment may be made for inpatient hospital services if a Medicare beneficiary who is a United States resident received these services at a hospital located outside of the United States that either was closer to, or was substantially more accessible from, the beneficiary's residence than the nearest United States hospital that was adequately equipped and available to treat the beneficiary. Payment may be made for emergency inpatient hospital services if a beneficiary was in the United States (or in Canada while traveling between Alaska and another State without unreasonable delay and by the most direct route) when the emergency arose, and the hospital located outside the United States was closer to, or substantially more accessible from, the place where the emergency arose than the nearest available adequately equipped hospital within the United States. Payment may be made for physician and ambulance services furnished in connection with these inpatient and emergency inpatient hospital services. Our existing regulations that implement these statutory provisions are located at 42 CFR 409.3, 409.5, 410.14, 410.66, 411.9, 413.74 and Subparts G and H of Part 424.

B. Proposed Clarification of Regulations

Services that fall under these exceptions typically are furnished in Canada or Mexico. However, in accordance with section 1814(f) of the Act and the definition of the term “United States” (42 CFR 411.9(a)), it is permissible for Medicare to pay for services furnished in foreign countries other than Canada and Mexico. For example, if a Medicare beneficiary who is in Guam needed emergency inpatient hospital services and the nearest available hospital adequately equipped to treat that beneficiary was located in the Philippines, Medicare payment would be permitted for the services.

Several of our existing regulations (§§ 409.3, 409.5, 410.66, and 413.74) specifically refer to services furnished in Canada and Mexico and do not indicate that it is permissible for Medicare payment to be made for services furnished in other foreign countries. The references in these sections also are more limited than the provisions of 42 CFR part 424, subpart H, the portion of our regulations that addresses treatment furnished in a foreign country. Therefore, we are proposing to amend those regulations that refer to Canada and Mexico in order to conform them to the Act and to our other regulations addressing these situations.

We also are proposing to make some related technical changes. In §§ 409.3(e) and 424.123(c)(2), we are proposing to change the references from the Joint Commission on Accreditation of Hospitals (JCAH) to the Joint Commission on Accreditation of Healthcare Organizations (JCAHO), the current name of that organization. In § 424.121(c), we are proposing to change the obsolete cross-reference from § 405.313 to the correct cross-reference, § 411.9.

VIII. Payment for Blood Clotting Factor Administered to Inpatients With Hemophilia

(If you choose to comment on the issues in this section, please add the caption “Blood Clotting Factor” at the beginning of your comment.)

Section 1886(a)(4) of the Act excludes the costs of administering blood clotting factors to inpatients with hemophilia from the definition of “operating costs of inpatient hospital services.” Section 6011(b) of Pub. L. 101-239 states that the Secretary of Health and Human Services shall determine the payment amount made to hospitals under Medicare Part A for the costs of administering blood clotting factors to individuals with hemophilia by multiplying a predetermined price per unit of blood clotting factor by the number of units provided to the individual. The regulations governing payment for blood clotting factors furnished to hospital inpatients and for payment for the furnishing fee are located in §§ 412.2(f)(8) and 412.115(b).

In FY 2005, we made payments for blood clotting factors furnished to inpatients at 95 percent of average wholesale price (AWP), consistent with the rates then paid under section 1842(o) of the Act for Medicare Part B drugs (including blood clotting factor furnished to beneficiaries who are not inpatients).

Section 303 of Pub. L. 108-173 added section 1847A to the Act. Effective January 1, 2005, this section requires that almost all Medicare Part B drugs not paid on a cost or prospective basis be paid at 106 percent of average sales price (ASP), while section 1842(o)(5) of the Act provides for a Medicare Part B payment of a furnishing fee for blood clotting factor. On November 15, 2004, we published regulations in the Federal Register (69 FR 66310 through 66319) that implemented the provisions of section 1847A of the Act. These regulations are codified at Subpart K of Part 414 and § 410.63, respectively.

The furnishing fee is updated each calendar year as specified by section 1842(o)(5) of the Act. The furnishing fee for clotting factor for years after CY 2005 is equal to the fee for the previous year increased by the percentage increase in the consumer price index (CPI) for medical care for the 12-month period ending with June of the previous year. This requirement is set forth in our regulations at § 410.63.

In the FY 2006 IPPS final rule (70 FR 47473), we amended our regulations at §§ 412.2(f)(8) and 412.115(b) to state that, for discharges occurring on or after October 1, 2005, we make payment for blood clotting factor administered to hospital inpatients using the Medicare Part B payment amounts for blood clotting factor as determined under subpart K of 42 CFR part 414 and for the furnishing fee as determined under § 410.63.

On November 21, 2005, we issued regulations in the Federal Register(70 FR 70225) updating the furnishing fee payment amount for CY 2006. We announced that the increase in the CPI for medical care for the 12 months ending June 30, 2005 was 4.2 percent. Consequently, the furnishing fee for CY 2006, initially established effective January 1, 2005, at $0.14 per unit of clotting factor, for CY 2006 was set at $0.146 per individual unit (I.U.) for blood clotting factor. We indicated in the preamble to that rule that while “the furnishing fee payment rate is calculated at 3 digits, the actual amount paid to providers and suppliers is rounded to 2 digits.”

The fiscal intermediaries continue to use the Medicare Part B Drug Pricing File to make payments for blood clotting factor. The furnishing fee is included in the ASP price per unit sent with the Medicare Part B Drug Pricing File that is updated annually. By using the Medicare Part B Drug Pricing File, Medicare will be making consistent payments for blood clotting factor provided to inpatients and outpatients. For further updates on pricing, we refer readers to the Medicare Part B drug pricing regulations.

IX. Limitation on Payments to Skilled Nursing Facilities for Bad Debt

A. Background

Under section 1861(v)(1) of the Act and § 413.89 of our existing regulations, Medicare may pay for uncollectible deductible and coinsurance amounts to those entities eligible to receive payment for bad debt. Under our existing regulations, Medicare generally pays 100 percent of allowable bad debt amounts to SNFs, CAHs, rural health clinics, federally qualified health clinics, community mental health clinics, health maintenance organizations reimbursed on a cost basis, competitive medical plans, and health care prepayment plans. To determine if bad debt amounts are allowable, the requirements at § 413.89 and the Provider Reimbursement Manual (PRM) (CMS Pub.15 Part 1, Chapter 3) must be met.

However, under our existing regulations, Medicare payments for allowable bad debt amounts for hospitals are reduced by 30 percent. Moreover, Medicare does not pay for bad debt amounts arising from anesthetists' services paid under a fee schedule. In addition, although Medicare pays end-stage renal disease (ESRD) facilities 100 percent of allowable bad debt claims, these payments are capped at facilities' unrecovered cost (§ 413.178 of the regulations).

B. Changes Made by Section 5004 of Pub. L. 109-171

Section 5004 of Pub. L. 109-171 (DRA of 2005) amended section 1861(v)(1) of the Act to mandate that, for cost reporting periods beginning on or after October 1, 2005, Medicare payments to SNFs for certain allowable bad debt amounts be reduced. Specifically, for patients that are not full-benefit dual eligible individuals (as defined in section 1935(c)(6)(A)(ii) of the Act), allowable bad debt amounts attributable to the coinsurance amounts under the Medicare program are reduced by 30 percent (deductibles are not applicable to patients in SNFs). Allowable bad debt amounts for patients that are full-benefit dual eligible individuals (as defined in section 1935(c)(6)(A)(ii) of the Act) will continue to be paid at 100 percent.

C. Proposed Regulation Changes

We are proposing to conform the Medicare regulations under § 413.89 to the provisions of section 5004 of Pub. L. 109-171. Specifically, we are proposing to revise paragraph (h) by redesignating the existing contents as paragraph (h)(1) and add a new paragraph (h)(2) to reflect this payment limitation. We are proposing to include in proposed paragraph (h)(2) a cross-reference to the definition of “full-benefit dual eligible individual” found at § 423.772 of our regulations. In addition, we are proposing to revise § 413.89(a) to add a cross-reference to the existing limitations on payments to hospitals and the new limitations on payments to SNFs found in paragraph (h), and to correct the cross-reference to the exception for payments for bad debts arising from anesthetists' services paid under a fee schedule from “paragraph (h)” to “paragraph (i).”

X. MedPAC Recommendations

(If you choose to comment on issues in this section, please include the caption “MedPAC Update Recommendation” at the beginning of your comment.)

We are required by section 1886(e)(4)(B) of the Act to respond to MedPAC's IPPS recommendations in our annual proposed IPPS rule. We have reviewed MedPAC's March 2006 “Report to the Congress: Medicare Payment Policy” and have given it careful consideration in conjunction with the proposed policies set forth in this document. MedPAC's Recommendation 2A states that “The Congress should increase payment rates for the acute inpatient and outpatient prospective payment systems in 2007 by the projected increase in the hospital market basket index less half of the Commission's expectation for productivity growth.” This recommendation is discussed in Appendix B to this proposed rule.

In section II.C. of the preamble of this proposed rule, we further address MedPac's 2005 recommendations included in Recommendation 1 in the March 2005 Report to Congress on Physician-Owned Specialty Hospitals as well as Recommendation 3, which recommended that the Secretary implement MedPAC's recommended policies over a transition period. The recommendations in Recommendation 1 relate to refining the DRGs used under the IPPS to more fully capture differences in severity of illness among patients; basing the DRG relative weights on the estimated cost of providing care rather than on charges; and basing the weights on the national average of hospitals' relative values in each DRG. In section II.E. of the preamble to this proposed rule, we also further address Recommendation 2 of the March 2005 Report on Physician-Owned Specialty Hospitals, which recommended adjusting the DRG relative weights to account for differences in the prevalence of high-cost outlier cases.

For further information relating specifically to the MedPAC reports or to obtain a copy of the reports, contact MedPAC at (202) 653-7220, or visit MedPAC's Web site at: http://www.medpac.gov.

XI. Other Required Information

A. Requests for Data From the Public

In order to respond promptly to public requests for data related to the prospective payment system, we have established a process under which commenters can gain access to raw data on an expedited basis. Generally, the data are available in computer tape or cartridge format; however, some files are available on diskette as well as on the Internet at http://www.cms.hhs.gov/providers/hipps. Data files and the cost for each file, if applicable, are listed below. Anyone wishing to purchase data tapes, cartridges, or diskettes should submit a written request along with a company check or money order (payable to CMS-PUF) to cover the cost to the following address: Centers for Medicare & Medicaid Services, Public Use Files, Accounting Division, P.O. Box 7520, Baltimore, MD 21207-0520, (410) 786-3691. Files on the Internet may be downloaded without charge.

1. CMS Wage Data

This file contains the hospital hours and salaries for FY 2003 used to create the proposed FY 2007 prospective payment system wage index. The file will be available by the beginning of February for the NPRM and the beginning of May for the final rule.

Processing year | Wage data year | PPS fiscal year
2006 | 2003 | 2007
2005 | 2002 | 2006
2004 | 2001 | 2005
2003 | 2000 | 2004
2002 | 1999 | 2003
2001 | 1998 | 2002
2000 | 1997 | 2001
1999 | 1996 | 2000
1998 | 1995 | 1999
1997 | 1994 | 1998
1996 | 1993 | 1997
1995 | 1992 | 1996
1994 | 1991 | 1995
1993 | 1990 | 1994
1992 | 1989 | 1993
1991 | 1988 | 1992

These files support the following:

• NPRM published in the Federal Register.

• Final Rule published in the Federal Register.

Media: Diskette/most recent year on the Internet

File Cost: $165.00 per year

Periods Available: FY 2007 PPS Update

2. CMS Hospital Wages Indices (Formerly: Urban and Rural Wage Index Values Only)

This file contains a history of all wage indices since October 1, 1983.

Media: Diskette/most recent year on the Internet

File Cost: $165.00 per year

Periods Available: FY 2007 PPS Update

3. FY 2007 Proposed Rule Occupational Mix Adjusted and Unadjusted AHW by Provider

This file includes each hospital's adjusted and unadjusted average hourly wage.

Media: Internet

Periods Available: FY 2007 PPS Update

4. FY 2007 Proposed Rule Occupational Mix Adjusted and Unadjusted AHW and Pre-Reclassified Wage Index by CBSA

This file includes each CBSA's adjusted and unadjusted average hourly wage.

Media: Internet

Periods Available: FY 2007 PPS Update

5. Provider Occupational Mix Adjustment Factors for Each Occupational Category

This file contains each hospital's occupational mix adjustment factors by occupational category.

Media: Internet

Periods Available: FY 2007 PPS Update

6. PPS SSA/FIPS MSA State and County Crosswalk

This file contains a crosswalk of State and county codes used by the Social Security Administration (SSA) and the Federal Information Processing Standards (FIPS), county name, and a historical list of Metropolitan Statistical Areas (MSAs).

Media: Diskette/Internet

File Cost: $165.00 per year

Periods Available: FY 2007 PPS Update

7. Reclassified Hospitals New Wage Index (Formerly: Reclassified Hospitals by Provider Only)

This file contains a list of hospitals that were reclassified for the purpose of assigning a new wage index. Two versions of these files are created each year. They support the following:

• NPRM published in the Federal Register.

• Final Rule published in the Federal Register.

Media: Diskette/Internet

File Cost: $165.00 per year

Periods Available: FY 2007 PPS Update

8. PPS-IV to PPS-XII Minimum Data Set

The Minimum Data Set contains cost, statistical, financial, and other information from Medicare hospital cost reports. The data set includes only the most current cost report (as submitted, final settled, or reopened) submitted for a Medicare participating hospital by the Medicare fiscal intermediary to CMS. This data set is updated at the end of each calendar quarter and is available on the last day of the following month.

Media: Tape/Cartridge

File Cost: $770.00 per year

| Periods beginning on or after | and before
PPS-IV | 10/01/86 | 10/01/87
PPS-V | 10/01/87 | 10/01/88
PPS-VI | 10/01/88 | 10/01/89
PPS-VII | 10/01/89 | 10/01/90
PPS-VIII | 10/01/90 | 10/01/91
PPS-IX | 10/01/91 | 10/01/92
PPS-X | 10/01/92 | 10/01/93
PPS-XI | 10/01/93 | 10/01/94
PPS-XII | 10/01/94 | 10/01/95

(Note: The PPS-XIII, PPS-XIV, PPS-XV, PPS-XVI, PPS-XVII, PPS-XVIII, PPS-XIX PPS-XX, and PPS-XXI Minimum Data Sets are part of the PPS-XIII, PPS-XIV, PPS-XV, PPS-XVI, PPS-XVII, PPS-XVIII, PPS-XIX, PPS-XX, and PPS-XXI Hospital Data Set Files (refer to item 10 below).)

9. PPS-IX to PPS-XII Capital Data Set

The Capital Data Set contains selected data for capital-related costs, interest expense and related information and complete balance sheet data from the Medicare hospital cost report. The data set includes only the most current cost report (as submitted, final settled or reopened) submitted for a Medicare certified hospital by the Medicare fiscal intermediary to CMS. This data set is updated at the end of each calendar quarter and is available on the last day of the following month.

Media: Tape/Cartridge

File Cost: $770.00 per year

| Periods beginning on or after | and before
PPS-IX | 10/01/91 | 10/01/92
PPS-X | 10/01/92 | 10/01/93
PPS-XI | 10/01/93 | 10/01/94
PPS-XII | 10/01/94 | 10/01/95

(Note: The PPS-XIII, PPS-XIV, PPS-XV, PPS-XVI, PPS-XVII, PPS-XVIII, PPS-XIX PPS-XX, and PPS-XXI Capital Data Sets are part of the PPS-XIII, PPS-XIV, PPS-XV, PPS-XVI, PPS-XVII, PPS-XVIII, PPS-XIX, PPS XX, and PPS-XXI Hospital Data Set Files (refer to item 10 below).)

10. PPS-XIII to PPS-XXI Hospital Data Set

The file contains cost, statistical, financial, and other data from the Medicare Hospital Cost Report. The data set includes only the most current cost report (as submitted, final settled, or reopened) submitted for a Medicare-certified hospital by the Medicare fiscal intermediary to CMS. The data set is updated at the end of each calendar quarter and is available on the last day of the following month.

Media: Diskette/Internet

File Cost: $2,500.00

| Periods beginning on or after | and before
PPS-XIII | 10/01/95 | 10/01/96
PPS-XIV | 10/01/96 | 10/01/97
PPS-XV | 10/01/97 | 10/01/98
PPS-XVI | 10/01/98 | 10/01/99
PPS-XVII | 10/01/99 | 10/01/00
PPS-XVIII | 10/01/00 | 10/01/01
PPS-XIX | 10/01/01 | 10/01/02
PPS-XX | 10/01/02 | 10/01/03
PPS-XXI | 10/01/03 | 10/01/04

11. Provider-Specific File

This file is a component of the PRICER program used in the fiscal intermediary's system to compute DRG payments for individual bills. The file contains records for all prospective payment system eligible hospitals, including hospitals in waiver States, and data elements used in the prospective payment system recalibration processes and related activities. Beginning with December 1988, the individual records were enlarged to include pass-through per diems and other elements.

Media: Diskette/Internet

File Cost: $265.00

Periods Available: FY 2007 PPS Update

12. CMS Medicare Case-Mix Index File

This file contains the Medicare case-mix index by provider number as published in each year's update of the Medicare hospital inpatient prospective payment system. The case-mix index is a measure of the costliness of cases treated by a hospital relative to the cost of the national average of all Medicare hospital cases, using DRG weights as a measure of relative costliness of cases. Two versions of this file are created each year. They support the following:

• NPRM published in the Federal Register.

• Final rule published in the Federal Register.

Media: Diskette/most recent year on Internet

Price: $165.00 per year/per file

Periods Available: FY 1985 through FY 2007

13. DRG Relative Weights (Formerly Table 5 DRG)

This file contains a listing of DRGs, DRG narrative descriptions, relative weights, and geometric and arithmetic mean lengths of stay as published in the Federal Register. The hard copy image has been copied to diskette. There are two versions of this file as published in the Federal Register:

• NPRM.

• Final rule.

Media: Diskette/Internet

File Cost: $165.00

Periods Available: FY 2007 PPS Update

14. PPS Payment Impact File

This file contains data used to estimate payments under Medicare's hospital inpatient prospective payment systems for operating and capital-related costs. The data are taken from various sources, including the Provider-Specific File, Minimum Data Sets, and prior impact files. The data set is abstracted from an internal file used for the impact analysis of the changes to the prospective payment systems published in the Federal Register. This file is available for release 1 month after the proposed and final rules are published in the Federal Register.

Media: Diskette/Internet

File Cost: $165.00

Periods Available: FY 2007 PPS Update

15. AOR/BOR Tables

This file contains data used to develop the DRG relative weights. It contains mean, maximum, minimum, standard deviation, and coefficient of variation statistics by DRG for length of stay and standardized charges. The BOR tables are “Before Outliers Removed” and the AOR is “After Outliers Removed.” (Outliers refer to statistical outliers, not payment outliers.)

Two versions of this file are created each year. They support the following:

• NPRM published in the Federal Register.

• Final rule published in the Federal Register.

Media: Diskette/Internet

File Cost: $165.00

Periods Available: FY 2007 PPS Update

16. Prospective Payment System (PPS) Standardizing File

This file contains information that standardizes the charges used to calculate relative weights to determine payments under the prospective payment system. Variables include wage index, cost-of-living adjustment (COLA), case-mix index, disproportionate share, and the Metropolitan Statistical Area (MSA). The file supports the following:

• NPRM published in the Federal Register.

• Final rule published in the Federal Register.

Media: Internet.

File Cost: No charge.

Periods Available: FY 2007 PPS Update.

For further information concerning these data tapes, contact the CMS Public Use Files Hotline at (410) 786-3691.

Commenters interested in obtaining or discussing any other data used in constructing this rule should contact Mark Hartstein at (410) 786-4548.

B. Collection of Information Requirements

Under the Paperwork Reduction Act of 1995 (PRA), we are required to provide 60-day notice in the Federal Register and solicit public comment before a collection of information requirement is submitted to the Office of Management and Budget (OMB) for review and approval. In order to fairly evaluate whether an information collection should be approved by OMB, section 3506(c)(2)(A) of the PRA requires that we solicit comment on the following issues:

• The need for the information collection and its usefulness in carrying out the proper functions of our agency.

• The accuracy of our estimate of the information collection burden.

• The quality, utility, and clarity of the information to be collected.

• Recommendations to minimize the information collection burden on the affected public, including automated collection techniques.

The following information collection requirements included in this proposed rule and their associated burdens are subject to the PRA.

We are soliciting public comment on each of the issues for the following sections of this document that contain information collection requirements.

Section 412.64—Reporting of Hospital Quality Data for Annual Hospital Payment Update

Section 412.64(d)(2) requires hospitals, in order to qualify for the full annual market basket update, to submit quality data on a quarterly basis to CMS, as specified by CMS. In this proposed rule, we are setting out the specific requirements related to the data that must be submitted for the update for FY 2007.

The burden associated with this section is the time and effort associated with collecting, copying and submitting the data. We estimate that there will be approximately 4,000 respondents per year. Of this number, approximately 3,600 hospitals are JCAHO-accredited and are currently collecting measures and submitting data to the JCAHO on a quarterly basis. Of the JCAHO-accredited hospitals, approximately 3,300 are collecting the same measures CMS will be collecting for public reporting. Therefore, there will be no additional burden for these hospitals. Only approximately 300 of the JCAHO-accredited hospitals will need to collect an additional topic in addition to the data already collected for maintaining JCAHO accreditation. In addition, there are approximately 400 hospitals that do not participate in the JCAHO accreditation process. These hospitals will have the additional burden of collecting data on all three topics.

For JCAHO-accredited hospitals that are not already collecting all of the required measures, we estimate it will take 25 hours per month per topic for collection. We expect the burden for all of these hospitals to total 102,000 hours per year, including time allotted for overhead. For non-JCAHO accredited hospitals, we estimate the burden to be 136,000 hours per year. This estimate also includes overhead. The total number of burden hours for all hospitals combined is 238,000. The number of respondents will vary according to the level of voluntary participation. One hundred percent of the data may be collected electronically.

Our validation process requires participating hospitals to submit 5 charts per quarter. The burden associated with this requirement is the time and effort associated with collecting, copying, and submitting these charts. It will take approximately 2 hours per hospital to submit the 5 charts per quarter. There will be a total of approximately 19,000 charts (3,800 hospitals × 5 charts per hospital) submitted by the hospitals to CMS per quarter for a total burden of 7,600 hours per quarter and a total annual burden of 30,400 hours.

The burden associated with the requirements under § 412.64 are currently approved under OMB Number 0938-0918. OMB approval will expire on December 31, 2008.

Proposed Revised § 412.92(b)(3) Special Treatment: Sole Community Hospitals

Proposed revised § 412.92(b)(3) would require an approved SCH to notify the appropriate CMS Regional Office of any change which would affect its classification as an SCH.

The burden associated with this requirement is the time and effort it would take for the SCH to provide such notification to the CMS Regional Office. We estimate that on an annual basis it would take an SCH 1 hour to provide notification. While this requirement is subject to the PRA, we believe the requirement is exempt because it impacts less than 10 SCHs.

Proposed Revised § 412.108(b)(4) Special Treatment: Medicare-Dependent, Small Rural Hospitals

Proposed revised § 412.108(b)(4) would require an approved MDH to notify the appropriate CMS Regional Office of any change which would affect its status as an MDH.

The burden associated with this requirement is the time and effort it would take for the MDH to provide such notification to the CMS Regional Office. We estimate that on an annual basis it would take an MDH 1 hour to provide notification. While this requirement is subject to the PRA, we believe the requirement is exempt because it impacts less than 10 MDHs.

If you comment on these information collection and recordkeeping requirements, please mail the copies directly to the following:

Centers for Medicare & Medicaid Services, Office of Strategic Operations and Regulatory Affairs, Regulations Development Group, Attn.: Melissa Musutto, CMS-1488-P. Room C4-26-05, 7500 Security Boulevard, Baltimore, MD 21244-1850; and

Office of Information and Regulatory Affairs, Office of Management and Budget Room 10235, New Executive Office Building, Washington, DC 20503, Attn.: Carolyn Lovett, CMS Desk Officer, CMS-1488-P, carolyn_lovett@omb.eop.gov. Fax (202) 395-5167.

C. Public Comments

Because of the large number of public comments we normally receive on Federal Register documents, we are not able to acknowledge or respond to them individually. We will consider all comments we receive by the date and time specified in the DATES section of this preamble, and, when we proceed with a subsequent document, we will respond to those comments in the preamble to that document.

XII. Regulation Text

List of Subjects

42 CFR Part 409

Health Facilities, Medicare.

42 CFR Part 410

Health facilities, Health professions, Kidney diseases, Laboratories, Medicare, Rural areas, X-rays.

42 CFR Part 412

Administrative practice and procedure, Health facilities, Medicare, Puerto Rico, Reporting and recordkeeping requirements.

42 CFR Part 413

Health facilities, Kidney diseases, Medicare, Puerto Rico, Reporting and recordkeeping requirements.

42 CFR Part 424

Emergency medical services, Health facilities, Health professions, Medicare.

42 CFR Part 485

Grant programs-health, Health facilities, Medicaid, Medicare, Reporting and recordkeeping requirements.

42 CFR Part 489

Health facilities, Medicare, Reporting and recordkeeping requirements.

For the reasons stated in the preamble of this proposed rule, the Centers for Medicare & Medicaid Services is proposing to amend 42 CFR Chapter IV as follows:

PART 409—HOSPITAL INSURANCE BENEFITS

1. The authority citation for part 409 continues to read as follows:

Authority: Secs. 1102 and 1871 of the Social Security Act (42 U.S.C. 1302 and 1395hh).

2. Section 409.3 is amended by revising paragraph (e) under the definition of “Qualified hospital” to read as follows:

§ 409.3 Definitions.

* * * * *

Qualified hospital means a facility that—* * *

(e) If it is a foreign hospital, is licensed, or approved as meeting the standard for licensing, by the appropriate foreign licensing agency, and for purposes of furnishing nonemergency services to U.S. residents, is accredited by the Joint Commission on Accreditation of Healthcare Organizations (JCAHO), or by a foreign program under standards that CMS finds to be equivalent to those of JCAHO.

3. Section 409.5 is revised to read as follows:

§ 409.5 General description of benefits.

Hospital insurance (Part A of Medicare) helps pay for inpatient hospital or inpatient CAH services and posthospital SNF care. It also pays for home health services and hospice care. There are limitations on the number of days of care that Medicare can pay for and there are deductible and coinsurance amounts for which the beneficiary is responsible. For each type of service, certain conditions must be met as specified in the pertinent sections of this subpart and in part 418 of this chapter regarding hospice care. Conditions for payment of emergency inpatient services furnished by a nonparticipating U.S. hospital and for services furnished in a foreign country are set forth in subparts G and H of part 424 of this chapter.

PART 410—SUPPLEMENTARY MEDICAL INSURANCE (SMI) BENEFITS

4. The authority citation for part 410 continues to read as follows:

Authority: Secs. 1102 and 1871 of the Social Security Act (42 U.S.C. 1302 and 1395hh).

5. Section 410.66 is revised to read as follows:

§ 410.66 Emergency outpatient services furnished by a nonparticipating hospital and services furnished in a foreign country.

Conditions for payment of emergency inpatient services furnished by a nonparticipating U.S. hospital and for services furnished in a foreign country are set forth in subparts G and H of part 424 of this chapter.

PART 412—PROSPECTIVE PAYMENT SYSTEMS FOR INPATIENT HOSPITAL SERVICES

6. The authority citation for part 412 is revised to read as follows:

Authority: Secs. 1102 and 1871 of the Social Security Act (42 U.S.C. 1302 and 1395hh), and sec. 124 of Pub. L. 106-113 (113 Stat. 1501A-332).

7. Section 412.22 is amended by—

a. Revising the introductory text of paragraph (f).

b. Adding a new paragraph (f)(3).

c. Revising paragraph (h)(1).

d. In paragraph (h)(2), removing the phrase “(h)(3), (h)(6), and (h)(7) of this section” and adding the phrase “(h)(3), (h)(7), and (h)(8) of this section” in its place.

e. Revising the introductory text of paragraph (h)(3).

f. Revising paragraph (h)(4).

g. Redesignating paragraphs (h)(5), (h)(6), and (h)(7) as paragraphs (h)(6), (h)(7), and (h)(8), respectively.

h. Adding a new paragraph (h)(5).

The revisions and addition read as follows:

§ 412.22 Excluded hospitals and hospital units: General rules.

* * * * *

(f) Application for certain hospitals. Except as provided in paragraph (f)(3) of this section, if a hospital was excluded from the prospective payment systems under the provisions of this section on or before September 30, 1995, and at that time occupied space in a building also used by another hospital, or in one or more buildings located on the same campus as buildings used by another hospital, the criteria in paragraph (e) of this section do not apply to the hospital as long as the hospital—

* * * * *

(3) For cost reporting periods beginning on or after October 1, 2006, in applying the provisions of paragraph (f)(1) or (f)(2) of this section, any hospital that was excluded from the prospective payment systems under the provisions of this section on or before September 30, 1995, and at that time occupied space in a building also used by another hospital, or in one or more buildings located on the same campus as buildings used by another hospital—

(i) May decrease its square footage or number of beds, or both, without affecting the provisions of paragraph (f)(1) or (f)(2) of this section;

(ii) May increase or decrease the square footage or decrease the number of beds considered to be part of the hospital at any time, if these changes are made necessary by relocation of the hospital—

(A) To permit construction or renovation necessary for compliance with changes in Federal, State, or local law affecting the physical facility; or

(B) Because of catastrophic events such as fires, floods, earthquakes, or tornadoes.

* * * * *

(h) Satellite facilities. (1) For purposes of paragraphs (h)(2) through (h)(5) of this section, a satellite facility is a part of a hospital that provides inpatient services in a building also used by another hospital, or in one or more entire buildings located on the same campus as buildings used by another hospital.

* * * * *

(3) Except as provided in paragraphs (h)(4) and (h)(5) of this section, the provisions of paragraph (h)(2) of this section do not apply to—

* * * * *

(4) In applying the provisions of paragraph (h)(3) of this section, any hospital structured as a satellite facility on September 30, 1999, may increase or decrease the square footage of the satellite facility or may decrease the number of beds in the satellite facility considered to be part of the satellite facility at any time, if these changes are made necessary by relocation of a facility —

(i) To permit construction or renovation necessary for compliance with changes in Federal, State, or local law affecting the physical facility; or

(ii) Because of catastrophic events such as fires, floods, earthquakes, or tornadoes.

(5) For cost reporting periods beginning on or after October 1, 2006, in applying the provisions of paragraph (h)(3) of this section, a satellite facility may decrease its number of beds or square footage, or both, without affecting the provisions of paragraph (h)(3) of this section.

* * * * *

8. Section 412.25 is amended by—

a. In paragraph (e)(2), removing the cross-reference “(e)(5)” and adding the cross-reference “(e)(6)” in its place.

b. Revising paragraph (e)(3).

c. Redesignating paragraph (e)(5) as paragraph (e)(6).

d. Adding a new paragraph (e)(5).

The revision and addition read as follows:

§ 412.25 Excluded hospital units: Common requirements.

* * * * *

(e) * * *

(3) Except as specified in paragraphs (e)(4) and (e)(5) of this section, the provisions of paragraph (e)(2) of this section do not apply to any unit structured as a satellite facility on September 30, 1999, and excluded from the prospective payment systems on that date, to the extent the unit continues operating under the same terms and conditions, including the number of beds and square footage considered to be part of the unit, in effect on September 30, 1999.

* * * * *

(5) For cost reporting periods beginning on or after October 1, 2006, in applying the provisions of paragraph (e)(3) of this section, a satellite facility may decrease its number of beds or square footage, or both, without affecting the provision of paragraph (e)(3) of this section.

* * * * *

§ 412.42 [Amended]

9. In paragraph (d) of § 412.42, the cross-reference “§ 405.310(k)” is removed, and the cross-reference “§ 411.15(k)” is added in its place.

§ 412.48 [Amended]

10. In paragraph (b) of § 412.48, the cross-reference “§§ 405.330 through 405.332” is removed and the cross-reference “§ 411.400 and § 411.402” is added in its place.

11. Section 412.64 is amended by—

a. Revising paragraph (d)(2).

b. Adding a new paragraph (h)(6).

The revision and addition read as follows:

§ 412.64 Federal rates for inpatient operating costs for Federal fiscal year 2005 and subsequent fiscal years.

* * * * *

(d) * * *

(2)(i) In the case of a “subsection (d) hospital,” as defined under section 1886(d)(1)(B) of the Act, that does not submit quality data on a quarterly basis to CMS, in the form and manner specified by CMS, the applicable percentage change specified in paragraph (d)(1) of this section is reduced:

(A) For fiscal years 2005 and 2006, by 0.4 percentage points; and

(B) For fiscal year 2007 and subsequent fiscal years, by 2.0 percentage points.

(ii) Any reduction of the percentage change will apply only to the fiscal year involved and will not be taken into account in computing the applicable percentage change for a subsequent fiscal year.

* * * * *

(h) * * *

(6) If a new rural hospital that is subject to the hospital inpatient prospective payment system opens in a State that has an imputed rural floor and has rural areas, CMS uses the imputed floor as the hospital's wage index until the hospital's first cost report as an inpatient prospective payment system provider is contemporaneous with the cost reporting period being used to develop a given fiscal year's wage index.

* * * * *

12. A new § 412.79 is added to Subpart E to read as follows:

§ 412.79 Determination of the hospital-specific rate for inpatient operating costs for Medicare-dependent, small rural hospitals based on a Federal fiscal year 2002 base period.

(a) Base-period costs—(1) General rule. Except as provided in paragraph (a)(2) of this section, for each MDH, the intermediary determines the MDH's Medicare Part A allowable inpatient operating costs, as described in § 412.2(c), for the 12-month or longer cost reporting period ending on or after October 1, 2001, and before October 1, 2002.

(2) Exceptions. (i) If the MDH's last cost reporting period ending before October 1, 2002, is for less than 12 months, the base period is the MDH's most recent 12-month or longer cost reporting period ending before that short cost reporting period.

(ii) If the MDH does not have a cost reporting period ending on or after October 1, 2001, and before October 1, 2002, and does have a cost reporting period beginning on or after October 1, 2000, and before October 1, 2001, that cost reporting period is the base period unless the cost reporting is for less than 12 months. In that case, the base period is the MDH's most recent 12-month or longer cost reporting period ending before that short cost reporting period.

(b) Costs on a per discharge basis. The intermediary determines the MDH's average base-period operating cost per discharge by dividing the total operating costs by the number of discharges in the base period. For purposes of this section, a transfer as described in § 412.4(b) is considered to be a discharge.

(c) Case-mix adjustment. The intermediary divides the average base-period cost per discharge by the MDH's case-mix index for the base period.

(d) Updating base period costs. For purposes of determining the updated base-period costs for cost reporting periods beginning in Federal fiscal year 2002, the update factor is determined using the methodology set forth in § 412.73(c)(14) and (c)(15).

(e) DRG adjustment. The applicable hospital-specific cost per discharge is multiplied by the appropriate DRG weighting factor to determine the hospital-specific base payment amount (target amount) for a particular covered discharge.

(f) Notice of hospital-specific rate. The intermediary furnishes the MDH a notice of its hospital-specific rate which contains a statement of the hospital's Medicare Part A allowable inpatient operating costs, number of Medicare discharges, and case-mix index adjustment factor used to determine the hospital's cost per discharge for the Federal fiscal year 2002 base period.

(g) Right to administrative and judicial review. An intermediary's determination of the hospital-specific rate for a hospital is subject to administrative and judicial review. Review is available to an MDH upon receipt of the notice of the hospital-specific rate. The notice is treated as a final intermediary determination of the amount of program reimbursement for purposes of subpart R of Part 405 of this chapter, governing provider reimbursement determinations and appeals.

(h) Modification of hospital-specific rate. (1) The intermediary recalculates the hospital-specific rate to reflect the following:

(i) Any modifications that are determined as a result of administrative or judicial review of the hospital-specific rate determinations; or

(ii) Any additional costs that are recognized as allowable costs for the MDH's base period as a result of administrative or judicial review of the base-period notice of amount of program reimbursement.

(2) With respect to either the hospital-specific rate determination or the amount of program reimbursement determination, the actions taken on administrative or judicial review that provide a basis for recalculations of the hospital-specific rate include the following:

(i) A reopening and revision of the MDH's base-period notice of amount of program reimbursement under §§ 405.1885 through 405.1889 of this chapter.

(ii) A prehearing order or finding issued during the provider payment appeals process by the appropriate reviewing authority under § 405.1821 or § 405.1853 of this chapter that resolved a matter at issue in the MDH's base-period notice of amount of program reimbursement.

(iii) An affirmation, modification, or reversal of a Provider Reimbursement Review Board decision by the Administrator of CMS under § 405.1875 of this chapter that resolved a matter at issue in the hospital's base-period notice of amount of program reimbursement.

(iv) An administrative or judicial review decision under §§ 405.1831, 405.1871, or 405.1877 of this chapter that is final and no longer subject to review under applicable law or regulations by a higher reviewing authority, and that resolved a matter at issue in the hospital's base-period notice of amount of program reimbursement.

(v) A final, nonappealable court judgment relating to the base-period costs.

(3) The adjustments to the hospital-specific rate made under paragraphs (h)(1) and (2) of this section are effective retroactively to the time of the intermediary's initial determination of the rate.

(i) Maintaining budget neutrality. CMS makes an adjustment to the hospital-specific rate to ensure that changes to the DRG classifications and recalibrations of the DRG relative weights are made in a manner so that aggregate payments to section 1886(d) hospitals are not affected.

§ 412.84 [Amended]

13. In paragraph (m) of § 412.84, the cross-reference “paragraph (h)(3)” is removed and the cross-reference “paragraph (i)(4)” is added in its place.

14. Section 412.90 is amended by revising paragraph (j) to read as follows:

§ 412.90 General rules.

* * * * *

(j) Medicare-dependent, small rural hospitals. For cost reporting periods beginning on or after April 1, 1990, and before October 1, 1994, and for discharges occurring on or after October 1, 1997, and before October 1, 2011, CMS adjusts the prospective payment rates for inpatient operating costs determined under subparts D and E of this part if a hospital is classified as a Medicare-dependent, small rural hospital.

* * * * *

15. Section 412.92 is amended by—

a. In paragraph (b)(2)(iv) of § 412.92, the word “djustment” is removed and the word “adjustment” is added in its place.

b. Revising paragraph (b)(3) to read as follows:

§ 412.92 Special treatment: Sole community hospitals.

* * * * *

(b) * * *

(3) Duration of classification. An approved classification as a sole community hospital remains in effect without need for reapproval unless there is a change in the circumstances under which the classification was approved. An approved sole community hospital must notify the appropriate CMS regional office of any change that would affect its classification as a sole community hospital. If CMS determines that a sole community hospital failed to comply with this requirement, CMS will cancel the hospital's classification as a sole community hospital effective on the earliest discernable date that the fiscal intermediary can determine that the hospital no longer met the criteria for such classification.

* * * * *

§ 412.105 [Amended]

16. In paragraph (f)(1)(ii)(C) of § 412.105, the cross-reference “§ 413.78(c) or § 413.78(d)” is removed and the cross-reference “§ 413.78(c), § 413.78(d), or § 413.78(e)” is added in its place.

17. Section 412.106 is amended by—

a. Revising paragraph (a)(1)(iii).

b. Republishing the introductory text of paragraph (d)(2)(iv).

c. Revising paragraph (d)(2)(iv)(C)(3).

d. Adding a new paragraph (d)(2)(iv)(D).

e. Adding a new paragraph (d)(2)(v).

The revision and additions read as follows:

§ 412.106 Special treatment: Hospitals that serve a disproportionate share of low-income patients.

(a) * * *

(1) * * *

(iii) The hospital's location, in an urban or rural area, is determined in accordance with the definitions in § 412.64, except that a reclassification that results from an urban hospital reclassified as rural as set forth in § 412.103 is classified as rural.

* * * * *

(d) * * *

(2) * * *

(iv) If the hospital meets the criteria of paragraph (c)(1)(iv) of this section—

* * * * *

(C) * * *

(3) Except as provided in paragraph (d)(2)(iv)(D) of this section, the maximum payment adjustment factor is 12 percent.

(D) Effective for discharges occurring on or after October 1, 2006, for a hospital that is classified as a Medicare-dependent, small rural hospital under § 412.108, the payment adjustment factor limitation specified in paragraph (d)(2)(iv)(C)(3) does not apply.

(v) If the hospital meets the criteria of paragraph (c)(2) of this section, the payment adjustment factor is as follows:

(A) 30 percent for discharges occurring on or after April 1, 1990, and before October 1, 1991.

(B) 35 percent for discharges occurring on or after October 1, 1991.

* * * * *

18. Section 412.108 is amended by—

a. Revising paragraph (a)(1) introductory text.

b. Revising paragraph (b)(4).

c. Adding a new paragraph (c)(2)(iii).

The revisions and addition read as follows:

§ 412.108 Special Treatment: Medicare-dependent, small rural hospitals.

(a) Criteria for classification as a Medicare-dependent, small rural hospital.—(1) General considerations. For cost reporting periods beginning on or after April 1, 1990, and ending before October 1, 1994, or for discharges occurring on or after October 1, 1997, and before October 1, 2011, a hospital is classified as a Medicare-dependent, small rural hospital if it is located in a rural area (as defined in subpart D of this part) and meets all of the following conditions:

* * * * *

(b) * * *

(4) A determination of MDH status made by the fiscal intermediary is effective 30 days after the date the fiscal intermediary provides written notification to the hospital. An approved MDH status determination remains in effect unless there is a change in the circumstances under which the status was approved. An approved MDH must notify the appropriate CMS regional office of any change that would affect its status as an MDH. If CMS determines that an MDH failed to comply with this requirement, CMS will cancel the hospital's MDH status effective on the earliest discernable date that the fiscal intermediary can determine that the hospital no longer met the criteria for such status.

* * * * *

(c) * * *

(2) * * *

(iii) For discharges occurring during cost reporting periods (or portions thereof) beginning on or after October 1, 2006, and before October 1, 2011, 75 percent of the amount that the Federal rate determined under paragraph (c)(1) of this section is exceeded by the highest of the following:

(A) The hospital-specific rate as determined under § 412.73.

(B) The hospital-specific rate as determined under § 412.75.

(C) The hospital-specific rate as determined under § 412.79.

* * * * *

19. Section 412.234 is amended by—

a. In paragraph (a)(3)(ii), removing the term “fiscal year” and adding the term “Federal fiscal year” in its place.

b. Revising paragraph (a)(3)(iii).

c. Adding a new paragraph (a)(3)(iv).

The revisions and addition read as follows:

§ 412.234 Criteria for all hospitals in an urban county seeking redesignation to another urban area.

(a) * * *

(3) * * *

(iii) For Federal fiscal year 2007, hospitals located in counties that are in the same Combined Statistical Area (CSA) (under the MSA definitions announced by the OMB on June 6, 2003) as the urban area to which they seek redesignation qualify as meeting the proximity requirement for reclassification to the urban area to which they seek redesignation.

(iv) For Federal fiscal year 2008 and thereafter, hospitals located in counties that are in the same Combined Statistical Area (CSA) or Core-Based Statistical Area (CBSA) (under the MSA definitions announced by the OMB on June 6, 2003) as the urban area to which they seek redesignation qualify as meeting the proximity requirements for reclassification to the urban area to which they seek redesignation.

* * * * *

20. Section 412.316 is amended by—

a. Revising paragraph (a).

b. Revising paragraph (b)(2).

c. Adding a new paragraph (b)(3).

d. Revising paragraph (c).

The revisions and addition read as follows:

§ 412.316 Geographic adjustment factors.

(a) Local cost variation. CMS adjusts for local cost variation based on the hospital wage index value that is applicable to the hospital under subpart D of this part. The adjustment factor equals the hospital wage index value applicable to the hospital raised to the .6848 power and is applied to 100 percent of the Federal rate.

(b) * * *

(2) For discharges occurring on or after October 1, 2004, the definition of large urban area under § 412.63(c)(6) continues to be in effect for purposes of the payment adjustment under this section, based on the geographic classification under § 412.64, except as provided for in paragraph (b)(3) of this section.

(3) For purposes of this section, the geographic classifications specified under § 412.64 apply, except that, effective for discharges occurring on or after October 1, 2006, for an urban hospital that is reclassified as rural as set forth in § 412.103, the geographic classification is rural.

(c) Cost-of-living adjustment. CMS provides an additional payment to a hospital located in Alaska and Hawaii equal to [0.3152 x (the cost-of-living adjustment factor used to determine payments under subpart D of this part−1)] percent.

21. Section 412.320 is amended by—

a. Revising paragraph (a)(1)(ii).

b. Adding a new paragraph (a)(1)(iii).

The revision and addition read as follows:

§ 412.320 Disproportionate share adjustment factor.

(a) * * *

(1) * * *

(ii) For discharges occurring on or after October 1, 2004, the payment adjustment under this section is based on the geographic classifications specified under § 412.64, except as provided for in paragraph (a)(1)(iii) of this section.

(iii) For purposes of this section, the geographic classifications specified under § 412.64 apply, except that, effective for discharges occurring on or after October 1, 2006, for an urban hospital that is reclassified as rural as set forth in § 412.103, the geographic classification is rural.

* * * * *

22. Section 412.505 is amended by revising paragraph (b)(1) to read as follows:

§ 412.505 Conditions for payment under the prospective payment system for long-term care hospitals.

* * * * *

(b) General requirements. (1) Effective for cost reporting periods beginning on or after October 1, 2002, a long-term care hospital must meet the conditions for payment of this section, § 412.22(e)(3) and (h)(6), if applicable, and § 412.507 through § 412.511 to receive payment under the prospective payment system described in this subpart for inpatient hospital services furnished to Medicare beneficiaries.

* * * * *

§ 412.508 [Amended]

23. In paragraph (c)(3) of § 412.508, the cross-reference “§ 1001.301” is removed and the cross-reference “1001.201” is added in its place.

24. Section 412.511 is revised to read as follows:

§ 412.511 Reporting and recordkeeping requirements.

A long-term care hospital participating in the prospective payment system under this subpart must meet the requirement of §§ 412.22(e)(3) and 412.22(h)(6) to report co-located status, if applicable, and the recordkeeping and cost reporting requirements of §§ 413.20 and 413.24 of this subchapter.

25. Section 412.525 is amended by—

a. Revising paragraph (a)(3).

b. Revising paragraph (a)(4)(ii).

c. Revising paragraph (a)(4)(iii).

d. Adding a new paragraph (a)(4)(iv).

e. Adding a new paragraph (d)(3).

f. Adding a new paragraph (d)(4).

The revisions and additions read as follows:

§ 412.525 Adjustments to the Federal prospective payment.

(a) * * *

(3) The additional payment equals 80 percent of the difference between the estimated cost of the patient's care (determined by multiplying the hospital-specific cost-to-charge ratio by the Medicare allowable covered charge) and the sum of the adjusted LTCH PPS Federal prospective payment and the fixed-loss amount.

(4) * * *

(ii) For discharges occurring on or after August 8, 2003, and before October 1, 2006, high-cost outlier payments are subject to the provisions of § 412.84(i)(1), (i)(3), and (i)(4) and (m) for adjustments of cost-to-charge ratios.

(iii) For discharges occurring on or after October 1, 2003, and before October 1, 2006, high-cost outlier payments are subject to the provisions of § 412.84(i)(2) for adjustments to cost-to-charge ratios.

(iv) For discharges occurring on or after October 1, 2006, high-cost outlier payments are subject to the following provisions:

(A) CMS may specify an alternative to the cost-to-charge ratio otherwise applicable under paragraph (a)(4)(iv)(B) of this section. A hospital may also request that its fiscal intermediary use a different (higher or lower) cost-to-charge ratio based on substantial evidence presented by the hospital. A request must be approved by the CMS Regional Office.

(B) The cost-to-charge ratio applied at the time a claim is processed is based on either the most recent settled cost report or the most recent tentatively settled cost report, whichever is from the latest cost reporting period.

(C) The fiscal intermediary may use a statewide average cost-to-charge ratio, which CMS establishes annually, if it is unable to determine an accurate cost-to-charge ratio for a hospital in one of the following circumstances:

(1) A new hospital that has not yet submitted its first Medicare cost report. (For this purpose, a new hospital is defined as an entity that has not accepted assignment of an existing hospital's provider agreement in accordance with § 489.18 of this chapter.)

(2) A hospital whose cost-to-charge ratio is in excess of 3 standard deviations above the corresponding national geometric mean cost to charge ratio. CMS establishes and publishes this mean annually.

(3) Any other hospital for which data to calculate a cost-to-charge ratio are not available.

(D) Any reconciliation of outlier payments is based on the cost-to-charge ratio calculated based on a ratio of costs to charges computed from the relevant cost report and charge data determined at the time the cost report coinciding with the discharge is settled.

(E) At the time of any reconciliation under paragraph (a)(4)(iv)(D) of this section, outlier payments may be adjusted to account for the time value of any underpayments or overpayments. Any adjustment is based upon a widely available index to be established in advance by the Secretary, and is applied from the midpoint of the cost reporting period to the date of reconciliation.

* * * * *

(d) * * *

(3) Patients who are transferred to onsite providers and readmitted to a long-term care hospital, as provided for in § 412.532.

(4) Long-term care hospitals-within-hospitals and satellites of long-term care hospitals as provided in § 412.534.

26. Section 412.529 is amended by revising paragraph (c)(5) to read as follows:

§ 412.529 Special payment provision for short-stay outliers.

* * * * *

(c) * * *

(5)(i) For discharges occurring on or after October 1, 2002, and before August 8, 2003, no reconciliations are made to short-stay outlier payments upon cost report settlement to account for differences between cost-to-charge ratio and the actual cost-to-charge ratio of the case.

(ii) For discharges occurring on or after August 8, 2003, and before October 1, 2006, short-stay outlier payments are subject to the provisions of § 412.84(i)(1), (i)(3), and (i)(4) and (m) for adjustments of cost-to-charge ratios.

(iii) For discharges occurring on or after October 1, 2003, and before October 1, 2006, short-stay outlier payments are subject to the provisions of § 412.84(i)(2) for adjustments to cost-to-charge ratios.

(iv) For discharges occurring on or after October 1, 2006, short-stay outlier payments are subject to the following provisions:

(A) CMS may specify an alternative to the cost-to-charge ratio otherwise applicable under paragraph (c)(5)(iv)(B) of this section. A hospital may also request that its fiscal intermediary use a different (higher or lower) cost-to-charge ratio based on substantial evidence presented by the hospital. This request must be approved by the CMS Regional Office.

(B) The cost-to-charge ratio applied at the time a claim is processed is based on either the most recent settled cost report or the most recent tentatively settled cost report, whichever is from the latest cost reporting period.

(C) The fiscal intermediary may use a statewide average cost-to-charge ratio, which CMS establishes annually, if it is unable to determine an accurate cost-to-charge ratio for a hospital in one of the following circumstances:

(1) A new hospital that has not yet submitted its first Medicare cost report. (For this purpose, a new hospital is defined as an entity that has not accepted assignment of an existing hospital's provider agreement in accordance with § 489.18 of this chapter.)

(2) A hospital whose cost-to-charge ratio is in excess of 3 standard deviations above the corresponding national geometric mean. CMS establishes and publishes this mean annually.

(3) Any other hospital for which data to calculate a cost-to-charge ratio are not available.

(D) Any reconciliation of outlier payments is based on the cost-to-charge ratio calculated based on a ratio of costs to charges computed from the relevant cost report and charge data determined at the time the cost report coinciding with the discharge is settled.

(E) At the time of any reconciliation under paragraph (c)(5)(iv)(D) of this section, outlier payments may be adjusted to account for the time value of any underpayments or overpayments. Any adjustment is based upon a widely available index to be established in advance by the Secretary, and is applied from the midpoint of the cost reporting period to the date of reconciliation.

27. Section 412.532 is amended by—

a. Revising paragraph (a)(2).

b. Revising paragraph (b).

The revisions read as follows:

§ 412.532 Special payment provisions for patients who are transferred to onsite providers and readmitted to a long-term care hospital.

(a) * * *

(2) A satellite facility, as defined in § 412.22(h), that is co-located with the long-term care hospital.

* * * * *

(b) As used in this section, “co-located” or “onsite” facility means a hospital, satellite facility, unit, or SNF that occupies space in a building also used by another hospital or unit or in one or more buildings on the same campus, as defined in § 413.65(a)(2) of this subchapter, as buildings used by another hospital or unit.

* * * * *

§ 412.541 [Amended]

28. In § 412.541, paragraph (b)(2)(i), remove the cross-reference “§ 412.533(b)” and add in its place “§ 412.533(a)(5) and § 412.533(c)”.

PART 413—PRINCIPLES OF REASONABLE COST REIMBURSEMENT; PAYMENT FOR END-STAGE RENAL DISEASE SERVICES; PROSPECTIVELY DETERMINED PAYMENT RATES FOR SKILLED NURSING FACILITIES

29. The authority citation for part 413 is revised to read as follows:

Authority: Secs. 1102, 1812(d), 1814(b), 1815, 1833(a), (i), and (n), 1861(v), 1871, 1881, 1883, and 1886 of the Social Security Act (42 U.S.C. 1302, 1395d(d), 1395f(b), 1395g, 1395l(a), (i), and (n), 1395x(v), 1395hh, 1395rr, 1395tt, and 1395ww); and sec. 124 of Pub. L. 106-133 (113 Stat. 1501A-332).

30. Section 413.74 is amended by revising paragraph (a) to read as follows:

§ 413.74 Payment to a foreign hospital.

(a) Principle. Section 1814(f) of the Act provides for the payment of emergency and nonemergency inpatient hospitals services furnished by foreign hospitals to Medicare beneficiaries. Subpart H of part 424 of this chapter, together with this section, specifies the conditions for payment.

* * * * *

31. Section 413.75 is amended by—

a. In paragraph (b), revising paragraph (1) under the definition of “Medicare GME affiliated group”.

b. In paragraph (b), removing the cross-reference “§ 413.79(g)(2)” under paragraph (2) of the definition of “Medicare GME affiliated group” and adding the cross-reference “§ 413.79(f)(2)” in its place.

c. In paragraph (b), removing the cross-reference “§ 413.79(g)(2)” under paragraph (3) of the definition of “Medicare GME affiliated group” and adding the cross-reference “§ 413.79(f)(2)” in its place.

The revision reads as follows:

§ 413.75 Direct GME payments: General requirements.

* * * * *

(b) * * *

Medicare GME affiliated group means—

(1) Two or more hospitals that are located in the same urban or rural area (as those terms are defined in subpart D of Part 412 of this subchapter) or in a contiguous area and meet the rotation requirements in § 413.79(f)(2).

* * * * *

32. Section 413.77 is amended by revising paragraphs (e)(1) introductory text and (e)(1)(i) to read as follows:

§ 413.77 Direct GME payments: Determination of per resident amounts.

* * * * *

(e) Exceptions—(1) Base period for certain hospitals. If a hospital did not have any approved medical residency training programs or did not participate in Medicare during the base period, but either condition changes in a cost reporting period beginning on or after July 1, 1985, the fiscal intermediary establishes a per resident amount for the hospital using the information from the first cost reporting period during which the hospital participates in Medicare and the residents are on duty during the first month of that period. Effective for cost reporting periods beginning on or after October 1, 2006, if a hospital did not have any approved medical residency training programs or did not participate in Medicare during the base period, but either condition changes in a cost reporting period beginning on or after October 1, 2006, and the residents are not on duty during the first month of that period, the fiscal intermediary establishes a per resident amount for the hospital using the information from the first cost reporting period immediately following the cost reporting period during which the hospital participates in Medicare and residents began training at the hospital. The per resident amount is based on the lower of the amount specified in paragraph (e)(1)(i) or paragraph (e)(1)(ii) of this section, subject to the provisions of paragraph (e)(1)(iii) of this section. Any GME costs incurred by the hospital during the cost reporting period prior to the base period used for calculating the PRA are reimbursed on a reasonable cost basis.

(i) The hospital's actual cost per resident incurred in connection with the GME program(s) based on the cost and resident data from the hospital's base year cost reporting period as established in paragraph (e)(1) of this section.

* * * * *

33. Section 413.79 is amended by—

a. Revising paragraph (e)(1)(iv).

b. In the introductory text of paragraph (f), removing the cross-reference “paragraph (e)(3) of this section” and adding the cross-reference “paragraph (d) of this section” in its place.

The revision reads as follows:

§ 413.79 Direct GME payments: Determination of the weighted number of FTE residents.

* * * * *

(e) * * *

(1) * * *

(iv) Effective for affiliation agreements entered into on or after October 1, 2005, an urban hospital that qualifies for an adjustment to its FTE cap under paragraph (e)(1) of this section is permitted to be part of a Medicare GME affiliated group for purposes of establishing an aggregate FTE cap only if the adjustment that results from the affiliation is an increase to the urban hospital's FTE cap.

* * * * *

34. Section 413.85 is amended by revising paragraph (h)(3) to read as follows:

§ 413.85 Costs of approved nursing and allied health education activities.

* * * * *

(h) * * *

(3) Educational seminars, workshops, and continuing education programs in which the employees or trainees participate that enhance the quality of medical care or operating efficiency of the provider and, effective October 1, 2003, do not lead to the ability to practice and begin employment in a nursing or allied health specialty.

* * * * *

35. Section 413.89 is amended by—

a. Revising paragraph (a).

b. Revising paragraph (h).

The revisions read as follows:

§ 413.89 Bad debts, charity, and courtesy allowances.

(a) Principle. Bad debts, charity, and courtesy allowances are deductions from revenue and are not to be included in allowable cost. However, subject to the limitations described under paragraph (h) of this section and the exception for anesthetists' services described under paragraph (i) of this section, bad debts attributable to the deductibles and coinsurance amounts are reimbursable under the program.

* * * * *

(h) Limitations on bad debts. (1) Hospitals. In determining reasonable costs for hospitals, the amount of bad debt otherwise treated as allowable costs (as defined in paragraph (e) of this section) is reduced by—

(i) For cost reporting periods beginning during fiscal year 1998, by 25 percent;

(ii) For cost reporting periods beginning during fiscal year 1999, by 40 percent;

(iii) For cost reporting periods beginning during fiscal year 2000, by 45 percent; and

(iv) For cost reporting periods beginning during a subsequent fiscal year, by 30 percent.

(2) Skilled nursing facilities. For cost reporting periods beginning during fiscal year 2006 or during a subsequent fiscal year, the amount of skilled nursing facility bad debts for coinsurance otherwise treated as allowable costs (as defined in paragraph (e) of this section) for services furnished to a patient who is not a full-benefit dual eligible individual (as defined in § 423.772) is reduced by 30 percent.

* * * * *

PART 424—CONDITIONS FOR MEDICARE PAYMENT

36. The authority citation for part 424 continues to read as follows:

Authority: Secs. 1102 and 1871 of the Social Security Act (42 U.S.C. 1302 and 1395hh).

§ 424.32 [Amended]

37. In § 424.32, in paragraph (b), the phrase “CMS-1490U-Request for Medicare Payment by Organization. (For use by an organization requesting payment for medical services.)” is removed and the phrase “CMS-1491-Request for Medicare Payment-Ambulance. (For use by an organization requesting payment for ambulance services.)” is removed.

§ 424.121 [Amended]

38. In § 424.121, paragraph (c) is amended by removing the cross-reference “§ 405.313” and adding the cross-reference “§ 411.9” in its place.

39. Section 424.123 is amended by revising paragraph (c)(2) to read as follows:

§ 424.123 Conditions for payment for nonemergency inpatient hospital services furnished by a hospital closer to the individual's residence.

* * * * *

(c) * * *

(2) Accredited by the Joint Commission on Accreditation of Healthcare Organizations (JCAHO) or accredited or approved by a program of the country where it is located under standards the CMS finds to be essentially equivalent to those of the JCAHO.

* * * * *

PART 485—CONDITIONS OF PARTICIPATION: SPECIALIZED PROVIDERS

40. The authority citation for part 485 continues to read as follows:

Authority: Secs. 1102 and 1871 of the Social Security Act (42 U.S.C. 1302 and 1395hh).

§ 485.610 [Amended]

41. In paragraph (c) of § 485.610, the phrase “as of October 1, 2006” is removed and the phrase “on or before December 31, 2005” is added in its place.

PART 489—PROVIDER AGREEMENTS AND SUPPLIER APPROVAL

42. The authority citation for part 489 continues to read as follows:

Authority: Secs. 1102, 1819, 1861, 1864(m), 1866, 1869, and 187l of the Social Security Act (42 U.S.C. 1302, 1395i-3, 1395x, 1395aa(m), 1395cc, 1395ff, and 1395hh).

43. Section 489.24 is amended by—

a. Revising the definition of “Labor” under paragraph (b).

b. Revising paragraph (f).

The revisions read as follows:

§ 489.24 Special responsibilities of Medicare hospitals in emergency cases.

* * * * *

(b) * * *

Labor means the process of childbirth beginning with the latent or early phase of labor and continuing through the delivery of the placenta. A woman experiencing contractions is in true labor unless a physician, certified nurse-midwife, or other qualified medical person acting within his or her scope of practice as defined in hospital medical staff bylaws and State law, certifies that, after a reasonable time of observation, the woman is in false labor.

* * * * *

(f) Recipient hospital responsibilities. A participating hospital that has specialized capabilities or facilities (including, but not limited to, facilities such as burn units, shock-trauma units, neonatal intensive care units, or (with respect to rural areas) regional referral centers, which, for purposes of this subpart, means hospitals meeting the requirements of referral centers found at § 412.96 of this chapter) may not refuse to accept from a referring hospital within the boundaries of the United States an appropriate transfer of an individual who requires such specialized capabilities or facilities if the receiving hospital has the capacity to treat the individual. This requirement applies to any participating hospital with specialized capabilities, regardless of whether the hospital has a dedicated emergency department.

* * * * *

(Catalog of Federal Domestic Assistance Program No. 93.773, Medicare—Hospital Insurance; and Program No. 93.774, Medicare—Supplementary Medical Insurance Program)
Dated: March 30, 2006.
Mark B. McClellan,
Administrator, Centers for Medicare & Medicaid Services.
Dated: April 10, 2006.
Michael O. Leavitt,
Secretary.

[Editorial Note: The following Addendum and appendices will not appear in the Code of Federal Regulations.]

Addendum—Proposed Schedule of Standardized Amounts Effective With Discharges Occurring On or After October 1, 2006 and Update Factors and Rate-of-Increase Percentages Effective With Cost Reporting Periods Beginning On or After October 1, 2006

(If you choose to comment on issues in this section, please include the caption “Operating Payment Rates” at the beginning of your comment.)

I. Summary and Background

In this Addendum, we are setting forth the proposed amounts and factors for determining prospective payment rates for Medicare hospital inpatient operating costs and Medicare hospital inpatient capital-related costs. We are also setting forth the proposed rate-of-increase percentages for updating the target amounts for hospitals and hospital units excluded from the IPPS.

For discharges occurring on or after October 1, 2006, except for SCHs, MDHs, and hospitals located in Puerto Rico, each hospital's payment per discharge under the IPPS has been based on 100 percent of the Federal national rate, which has been based on the national adjusted standardized amount. This amount reflects the national average hospital cost per case from a base year, updated for inflation.

SCHs are paid based on whichever of the following rates yields the greatest aggregate payment: the Federal national rate; the updated hospital-specific rate based on FY 1982 costs per discharge; the updated hospital-specific rate based on FY 1987 costs per discharge; or the updated hospital-specific rate based on FY 1996 costs per discharge.

Under section 1886(d)(5)(G) of the Act, MDHs were paid for FY 2006 based on the Federal national rate or, if higher, the Federal national rate plus 50 percent of the difference between the Federal national rate and the updated hospital-specific rate based on FY 1982 or FY 1987 costs per discharge, whichever is higher. (MDHs do not have the option to use their FY 1996 hospital-specific rate.) Section 5003(a)(1) of Pub. L. 109-171 extended and modified the MDH special payment provision which was previously set to expire on October 1, 2006, to discharges occurring on or after October 1, 2006, but before October 1, 2011. Under section 5003(b) of Pub. L. 109-171, if the change results in an increase to its target amount, MDHs must rebase their hospital-specific rates to their FY 2002 cost reports. In addition, under section 5003(c) of Pub. L. 109-171, MDHs will now be paid based on the Federal national rate or, if higher, the Federal national rate plus 75 percent of the difference between the Federal national rate and the updated hospital-specific rate. Further, based upon section 5003(d) of Pub. L. 109-171, MDHs will no longer be subject to the 12-percent cap on their DSH payment adjustment factor.

For hospitals in Puerto Rico, the payment per discharge is based on the sum of 25 percent of a Puerto Rico rate that reflects base year average costs per case of Puerto Rico hospitals and 75 percent of the Federal national rate. (See section II.D.3. of this Addendum for a complete description.)

As discussed below in section II. of this Addendum, we are proposing to make changes in the determination of the prospective payment rates for Medicare inpatient operating costs for FY 2007. The proposed changes, to be applied effective with discharges occurring on or after October 1, 2006, affect the calculation of the Federal rates. In section III. of this Addendum, we discuss our proposed changes for determining the prospective payment rates for Medicare inpatient capital-related costs for FY 2007. Section IV. of this Addendum sets forth our proposed changes for determining the rate-of-increase limits for hospitals excluded from the IPPS for FY 2007. Section V. of this Addendum sets forth proposed policies on payment for blood clotting factors administered to hemophilia inpatients. The tables to which we refer in the preamble of this proposed rule are presented in section VI. of this Addendum.

II. Proposed Changes to Prospective Payment Rates for Hospital Inpatient Operating Costs for FY 2007

The basic methodology for determining prospective payment rates for hospital inpatient operating costs for FY 2005 and subsequent fiscal years is set forth at § 412.64. The basic methodology for determining the prospective payment rates for hospital inpatient operating costs for hospitals located in Puerto Rico for FY 2005 and subsequent fiscal years is set forth at §§ 412.211 and 412.212. Below we discuss the factors used for determining the prospective payment rates.

In summary, the proposed standardized amounts set forth in Tables 1A, 1B, 1C, and 1D of section VI. of this Addendum reflect—

• Equalization of the standardized amounts for urban and other areas at the level computed for large urban hospitals during FY 2004 and onward, as provided for under section 1886(d)(3)(A)(iv) of the Act, updated by the applicable percentage increase required under sections 1886(b)(3)(B)(i)(XX) and 1886(b)(3)(B)(viii) of the Act.

• The two labor-related shares that are applicable to the standardized amounts and Puerto Rico-specific standardized amounts, depending on whether the hospital's payments would be higher with a lower (in the case of a wage index less than or equal to 1.0000) or higher (in the case of a wage index above 1.0000) labor share, as provided for under sections 1886(d)(3)(E), and 1886(d)(9)(C)(iv) of the Act.

• Proposed updates of 3.4 percent for all areas (that is, the full market basket percentage increase of 3.4 percent), as required by section 1886(b)(3)(B)(i)(XX) of the Act, as amended by section 5001 of Pub. L. 109-171, and reflecting the requirements of section 1886(b)(3)(B)(viii) of the Act, as added by section 5001(a)(3) of Pub. L. 109-171, to reduce the applicable percentage increase by 2.0 percentage points for a hospital that fails to submit data, in a form and manner specified by the Secretary, relating to the quality of inpatient care furnished by the hospital;

• An adjustment to ensure the proposed DRG recalibration and wage index update and changes are budget neutral, as provided for under sections 1886(d)(4)(C)(iii) and 1886(d)(3)(E) of the Act, by applying new budget neutrality adjustment factors to the standardized amount;

• An adjustment to ensure the effects of the special transition measures adopted in relation to the implementation of new labor market areas are budget neutral;

• An adjustment to ensure the effects of geographic reclassification are budget neutral, as provided for in section 1886(d)(8)(D) of the Act, by removing the FY 2006 budget neutrality factor and applying a revised factor;

• An adjustment to apply the new outlier offset by removing the FY 2006 outlier offset and applying a new offset;

• An adjustment to ensure the effects of the rural community hospital demonstration required under section 410A of Pub. L. 108-173 are budget neutral, as required under section 410A(c)(2) of Pub. L. 108-173.

A. Calculation of the Adjusted Standardized Amount

1. Standardization of Base-Year Costs or Target Amounts

The national standardized amount is based on per discharge averages of adjusted hospital costs from a base period (section 1886(d)(2)(A) of the Act) or, for Puerto Rico, adjusted target amounts from a base period (section 1886(d)(9)(B)(i) of the Act), updated and otherwise adjusted in accordance with the provisions of section 1886(d) of the Act. The September 1, 1983 interim final rule (48 FR 39763) contained a detailed explanation of how base-year cost data (from cost reporting periods ending during FY 1981) were established in the initial development of standardized amounts for the IPPS. The September 1, 1987 final rule (52 FR 33043 and 33066) contains a detailed explanation of how the target amounts were determined, and how they are used in computing the Puerto Rico rates.

Sections 1886(d)(2)(B) and (d)(2)(C) of the Act require us to update base-year per discharge costs for FY 1984 and then standardize the cost data in order to remove the effects of certain sources of cost variations among hospitals. These effects include case-mix, differences in area wage levels, cost-of-living adjustments for Alaska and Hawaii, indirect medical education costs, and costs to hospitals serving a disproportionate share of low-income patients.

In accordance with section 1886(d)(3)(E) of the Act, the Secretary estimates, from time-to-time, the proportion of hospitals' costs that are attributable to wages and wage-related costs. The standardized amount is divided into labor-related and nonlabor-related amounts; only the proportion considered the labor-related amount is adjusted by the wage index. Section 1886(d)(3)(E) of the Act requires that 62 percent of the standardized amount be adjusted by the wage index, unless doing so would result in lower payments to a hospital than would otherwise be made. (Section 1886(d)(9)(C)(iv)(II) of the Act extends this provision to the labor-related share for hospitals located in Puerto Rico.)

For FY 2007, we are proposing not to adjust the national and Puerto Rico-specific labor-related and nonlabor-related share from the percentages established in FY 2006. Accordingly, we are proposing to adjust 62 percent of the national standardized amount for all hospitals whose wage indexes are less than or equal to 1.0000. For all hospitals whose wage values are greater than 1.0000, we are proposing to adjust 69.7 percent of the national standardized amount by the hospitals' wage indexes. For hospitals in Puerto Rico, we are proposing to adjust 58.7 percent of the Puerto Rico-specific standardized amount for all hospitals whose Puerto Rico-specific wage indexes are less than or equal to 1.0000. For Puerto Rico hospitals whose Puerto Rico-specific wage index values are greater than 1.0000, we are proposing to adjust 62 percent of the Puerto Rico-specific standardized amount.

The proposed standardized amounts appear in Table 1A, 1B, and 1C of the Addendum to this proposed rule.

2. Computing the Average Standardized Amount

Section 1886(d)(3)(A)(iv) of the Act requires that, beginning with FY 2004 and thereafter, an equal standardized amount is to be computed for all hospitals at the level computed for large urban hospitals during FY 2003, updated by the applicable percentage update. Section 1886(d)(9)(A) of the Act equalizes the Puerto Rico-specific urban and rural area rates. Accordingly, we are using this proposed rule to provide for a single national standardized amount and a single Puerto Rico standardized amount for FY 2007.

3. Updating the Average Standardized Amount

In accordance with section 1886(d)(3)(A)(iv)(II) of the Act, we are proposing to update the equalized standardized amount for FY 2007 by the full estimated market basket percentage increase for hospitals in all areas, as specified in section 1886(b)(3)(B)(i)(XX) of the Act, as amended by section 5001(a)(1) of Pub. L. 109-171. The percentage change in the market basket reflects the average change in the price of goods and services purchased by hospitals to furnish inpatient care. The most recent forecast of the hospital market basket increase for FY 2007 is 3.4 percent. Thus, for FY 2007, the proposed update to the average standardized amount is 3.4 percent for hospitals in all areas.

Section 1886(b)(3)(B) of the Act specifies the mechanism used to update the standardized amount for payment for inpatient hospital operating costs. Section 1886(b)(3)(B)(viii) of the Act, as added by section 5001(a)(3) of Pub. L. 109-171, provides for a reduction of 2.0 percentage points to the update percentage increase (also known as the market basket update) for FY 2007 and each subsequent fiscal year for any “subsection (d) hospital” that does not submit quality data as discussed in section IV.A. of the preamble of this proposed rule. The proposed standardized amounts in Tables 1A through 1C of section VI. of this Addendum reflect these differential amounts.

Although the update factors for FY 2007 are set by law, we are required by section 1886(e)(4) of the Act to recommend, taking into account MedPAC's recommendations, appropriate update factors for FY 2007 for both IPPS hospitals and hospitals and hospital units excluded from the IPPS. Our recommendation on the update factors (which is required by sections 1886(e)(4)(A) and (e)(5)(A) of the Act) is set forth in Appendix B of this proposed rule.

4. Other Adjustments to the Average Standardized Amount

As in the past, we are proposing to adjust the FY 2007 standardized amount to remove the effects of the FY 2006 geographic reclassifications and outlier payments before applying the proposed FY 2007 updates. We then apply the new offsets for outliers and geographic reclassifications to the proposed standardized amount for FY 2007.

We do not remove the prior year's budget neutrality adjustments for reclassification and recalibration of the DRG weights and for updated wage data because, in accordance with sections 1886(d)(4)(C)(iii) and 1886(d)(3)(E) of the Act, estimated aggregate payments after the changes in the DRG relative weights and wage index should equal estimated aggregate payments prior to the changes. If we removed the prior year adjustment, we would not satisfy these conditions.

Budget neutrality is determined by comparing aggregate IPPS payments before and after making the changes that are required to be budget neutral (for example, reclassifying and recalibrating the DRGs, updating the wage data, and geographic reclassifications). We include outlier payments in the payment simulations because outliers may be affected by changes in these payment parameters.

We are also proposing to adjust the standardized amount this year by an amount estimated to ensure that aggregate IPPS payments do not exceed the amount of payments that would have been made in the absence of the rural community hospital demonstration required under section 410A of Pub. L. 108-173. This demonstration is required to be budget neutral under section 410A(c)(2) of Pub. L. 108-173.

a. Recalibration of DRG Weights and Updated Wage Index—Budget Neutrality Adjustment

Section 1886(d)(4)(C)(iii) of the Act specifies that, beginning in FY 1991, the annual DRG reclassification and recalibration of the relative weights must be made in a manner that ensures that aggregate payments to hospitals are not affected. As discussed in section II. of the preamble, we normalized the recalibrated DRG weights by an adjustment factor, so that the average case weight after recalibration is equal to the average case weight prior to recalibration. However, equating the average case weight after recalibration to the average case weight before recalibration does not necessarily achieve budget neutrality with respect to aggregate payments to hospitals because payments to hospitals are affected by factors other than average case weight. Therefore, as we have done in past years, we are proposing to make a budget neutrality adjustment to ensure that the requirement of section 1886(d)(4)(C)(iii) of the Act is met.

Section 1886(d)(3)(E) of the Act requires us to update the hospital wage index on an annual basis beginning October 1, 1993. This provision also requires us to make any updates or adjustments to the wage index in a manner that ensures that aggregate payments to hospitals are not affected by the change in the wage index. For FY 2007, we are proposing to continue to adjust 10 percent of the wage index factor for occupational mix. We describe the proposed occupational mix adjustment in section III.C. of the preamble to this proposed rule. Because section 1886(d)(3)(E) of the Act requires us to update the wage index on a budget neutral basis, we are including the effects of this proposed occupational mix adjustment on the wage index in our budget neutrality calculations.

In FY 2005, those urban hospitals that became rural under the new labor market area definitions were assigned the wage index of the urban area in which they were located under the previous labor market definitions for a 3-year period of FY 2005, FY 2006, and FY 2007. Because we are in the third year of this 3-year transition, we are proposing to adjust the standardized amounts for FY 2007 to ensure budget neutrality for this policy. We discuss this proposed adjustment in section III.B. of the preamble to this proposed rule.

Section 4410 of Pub. L. 105-33 provides that, for discharges on or after October 1, 1997, the area wage index applicable to any hospital that is not located in a rural area may not be less than the area wage index applicable to hospitals located in rural areas in that State. This provision is required by section 4410(b) of Pub. L. 105-33 to be budget neutral. Therefore, we include the effects of this provision in our calculation of the proposed wage update budget neutrality factor. As discussed in the FY 2006 IPPS final rule (70 FR 47493), FY 2007 is the third and final year of the 3-year provision that uses an imputed wage index floor for States that have no rural areas and States that have geographic rural areas, but that have no hospitals actually classified as rural. We are also proposing to adjust for the effects of this provision in our calculation of the wage update budget neutrality factor.

To comply with the requirement that DRG reclassification and recalibration of the relative weights be budget neutral, and the requirement that the updated wage index be budget neutral, we used FY 2005 discharge data to simulate payments and compared aggregate payments using the FY 2006 relative weights and wage indexes to aggregate payments using the proposed FY 2007 relative weights and wage indexes. The same methodology was used for the FY 2006 budget neutrality adjustment.

Based on this comparison, we computed a proposed budget neutrality adjustment factor equal to 0.998363. We also are proposing to adjust the Puerto Rico-specific standardized amount for the effect of DRG reclassification and recalibration. We computed a proposed budget neutrality adjustment factor for the Puerto Rico-specific standardized amount equal to 0.998963. These proposed budget neutrality adjustment factors are applied to the standardized amounts without removing the effects of the FY 2006 budget neutrality adjustments. In addition, as discussed in section IV.E. of the preamble to this proposed rule, we are applying the same proposed DRG reclassification and recalibration budget neutrality factor of 0.998963 to the hospital-specific rates that are to be effective for cost reporting periods beginning on or after October 1, 2006.

Using the same data, we calculated a proposed transition budget neutrality adjustment to account for the “hold harmless” policy under which urban hospitals that became rural under the new labor market area definitions were assigned the wage index of the urban area in which they were located under the previous labor market area definitions for a 3-year period of FY 2005, FY 2006, and FY 2007 (see Table 2 in section VI. of this Addendum). Using the pre-reclassified wage index, we simulated payments under the new labor market area definitions and compared them to simulated payments under the “hold harmless” policy. Based on this comparison, we computed a proposed transition budget neutrality adjustment of 0.999591.

b. Reclassified Hospitals—Budget Neutrality Adjustment

Section 1886(d)(8)(B) of the Act provides that, effective with discharges occurring on or after October 1, 1988, certain rural hospitals are deemed urban. In addition, section 1886(d)(10) of the Act provides for the reclassification of hospitals based on determinations by the MGCRB. Under section 1886(d)(10) of the Act, a hospital may be reclassified for purposes of the wage index.

Under section 1886(d)(8)(D) of the Act, the Secretary is required to adjust the standardized amount to ensure that aggregate payments under the IPPS after implementation of the provisions of sections 1886(d)(8)(B) and (C) and 1886(d)(10) of the Act are equal to the aggregate prospective payments that would have been made absent these provisions. We note that neither the wage index reclassifications provided under section 508 of Pub. L. 108-173 nor the wage index adjustments provided under section 1886(d)(13) of the Act are budget neutral. Section 508(b) of Pub. L. 108-173 provides that the wage index reclassifications approved under section 508(a) of Pub. L. 108-173 “shall not be effected in a budget neutral manner.” Section 1886(d)(13)(H) of the Act similarly provides that any increase in a wage index under section 1886(d)(13) shall not be taken into account “in applying any budget neutrality adjustment with respect to such index” under section 1886(d)(8)(D) of the Act. To calculate this proposed budget neutrality factor, we used FY 2005 discharge data to simulate payments, and compared total IPPS payments prior to any reclassifications under sections 1886(d)(8)(B) and (C) and 1886(d)(10) of the Act to total IPPS payments after such reclassifications. Based on these simulations, we are proposing to apply an adjustment factor of 0.991727 to ensure that the effects of this reclassification are budget neutral.

The proposed adjustment factor is applied to the standardized amount after removing the effects of the FY 2006 budget neutrality adjustment factor. We note that the proposed FY 2007 adjustment reflects FY 2007 wage index reclassifications approved by the MGCRB or the Administrator, and the effects of MGCRB reclassifications approved in FY 2005 and FY 2006 (section 1886(d)(10)(D)(v) of the Act makes wage index reclassifications effective for 3 years).

c. Outliers

Section 1886(d)(5)(A) of the Act provides for payments in addition to the basic prospective payments for “outlier” cases involving extraordinarily high costs. To qualify for outlier payments, a case must have costs greater than the sum of the prospective payment rate for the DRG, any IME and DSH payments, any new technology add-on payments, and the “outlier threshold” or “fixed loss” amount (a dollar amount by which the costs of a case must exceed payments in order to qualify for an outlier payment). We refer to the sum of the prospective payment rate for the DRG, any IME and DSH payments, any new technology add-on payments, and the outlier threshold as the outlier “fixed-loss cost threshold.” To determine whether the costs of a case exceed the fixed-loss cost threshold, a hospital's cost-to-charge ratio is applied to the total covered charges for the case to convert the charges to costs. Payments for eligible cases are then made based on a marginal cost factor, which is a percentage of the costs above the fixed-loss cost threshold. The marginal cost factor for FY 2007 is 80 percent—the same marginal cost factor we have used since FY 1995 (59 FR 45367).

In accordance with section 1886(d)(5)(A)(iv) of the Act, outlier payments for any year are projected to be not less than 5 percent nor more than 6 percent of total operating DRG payments plus outlier payments. Section 1886(d)(3)(B) of the Act requires the Secretary to reduce the average standardized amount by a factor to account for the estimated proportion of total DRG payments made to outlier cases. Similarly, section 1886(d)(9)(B)(iv) of the Act requires the Secretary to reduce the average standardized amount applicable to hospitals in Puerto Rico to account for the estimated proportion of total DRG payments made to outlier cases. More information on outlier payments may be found on the CMS Web site at http://www.cms.hhs.gov/AcuteInpatientPPS/04_outlier.asp#TopOfPage.

i. Proposed FY 2007 Outlier Fixed-Loss Cost Threshold

For FY 2007, we are proposing to use the same methodology used for FY 2006 (70 FR 47493) to calculate the outlier threshold. As we have done in the past, to calculate the proposed FY 2007 outlier threshold, we simulated payments by applying proposed FY 2007 rates and policies using cases from the FY 2005 MedPAR files. Therefore, in order to determine the proposed FY 2007 outlier threshold, we are proposing to inflate the charges on the MedPAR claims by 2 years, from FY 2005 to FY 2007.

In certain years in the past, we have inflated MedPAR claims by calculating a 2-year average annual rate-of-change in charges-per-case using the charge data for the two most recent years for which we had relatively complete MedPAR data. As discussed in the FY 2006 IPPS final rule (70 FR 47494), however, we believe that charge data from FY 2003 may be distorted due to the atypically high rate of hospital charge inflation during FY 2003. Therefore, we are not proposing to inflate charges using a 2-year average annual rate-of-change from FY 2003 to FY 2004 and FY 2004 to FY 2005.

Instead, we are proposing to continue to use a refined methodology that takes into account the lower inflation in hospital charges that is occurring as a result of the outlier final rule (68 FR 34494), which changed our methodology for determining outlier payments by implementing the use of more current and accurate CCRs. Our refined methodology uses more recent data that reflects the rate-of-change in hospital charges under the new outlier policy. Specifically, we are proposing to establish the proposed FY 2007 outlier threshold as follows: Using the latest data available, we propose to calculate the 1-year average annualized rate-of-change in charges-per-case from the last quarter of FY 2004 in combination with the first quarter of FY 2005 (July 1, 2004 through December 31, 2004) to the last quarter of FY 2005 in combination with the first quarter of FY 2006 (July 1, 2005 through December 31, 2005). This rate of change was 7.57 percent (1.0757) or 15.15 percent (1.1515) over 2 years.

As we have done in the past, we are proposing to establish the proposed FY 2007 outlier threshold using hospital cost-to-charge ratios from the December 2005 update to the Provider-Specific File—the most recent available at the time of this proposed rule. This file includes cost-to-charge ratios that reflect implementation of the changes to the policy for determining the applicable cost-to-charge ratios that became effective August 8, 2003 (68 FR 34494).

Using this methodology, we are proposing to establish an outlier fixed-loss cost threshold for FY 2007 equal to the prospective payment rate for the DRG, plus any IME and DSH payments, and any add-on payments for new technology, plus $25,530.

We note that the case-weighted national average cost-to-charge ratio declined by approximately 1 percent from the March 2005 to the December 2005 update of the Provider-Specific File. Hospital charges continue to increase at a steady rate of growth between 7 and 8 percent over each of the last 2 years, resulting in a decline to the cost-to-charge ratios that are used to compute the outlier threshold. Using lower cost-to-charge ratios from the December 2005 Provider-Specific File, in combination with the FY 2005 MedPAR claims and inflated charges, contributes to a higher proposed outlier threshold for FY 2007 compared to FY 2006.

As we did in establishing the FY 2006 outlier threshold (70 FR 47494), in our projection of FY 2007 outlier payments, we are not making an adjustment for the possibility that hospitals' cost-to-charge ratios and outlier payments may be reconciled upon cost report settlement. We continue to believe that, due to the policy implemented in the June 9, 2003 outlier final rule, cost-to-charge ratios will no longer fluctuate significantly and, therefore, few hospitals will actually have these ratios reconciled upon cost report settlement. In addition, it is difficult to predict which specific hospitals will have cost-to-charge ratios and outlier payments reconciled in their cost reports in any given year. We also note that reconciliation occurs because hospitals' actual cost-to-charge ratios for the cost reporting period are different than the interim cost-to-charge ratios used to calculate outlier payments when a bill is processed. Our simulations assume that cost-to-charge ratios accurately measure hospital costs and, therefore, are more indicative of post-reconciliation than pre-reconciliation outlier payments. As a result, we are proposing to continue to omit any assumptions about the effects of reconciliation from the outlier threshold calculation.

ii. Other Changes Concerning Outliers

As stated in the FY 1994 IPPS final rule (58 FR 46348, September 1, 1993), we establish outlier thresholds that are applicable to both hospital inpatient operating costs and hospital inpatient capital-related costs. When we modeled the combined operating and capital outlier payments, we found that using a common set of thresholds resulted in a lower percentage of outlier payments for capital-related costs than for operating costs. We project that the thresholds for FY 2007 will result in outlier payments equal to 5.1 percent of operating DRG payments and 4.87 percent of capital payments based on the Federal rate.

In accordance with section 1886(d)(3)(B) of the Act, we are proposing to reduce the proposed FY 2007 standardized amount by the same percentage to account for the projected proportion of payments paid to outliers.

The proposed outlier adjustment factors that would be applied to the standardized amount for FY 2007 are as follows:

| Operating standardized amounts | Capital Federal rate
National | 0.948984 | 0.951305
Puerto Rico | 0.970984 | 0.968473

We are proposing to apply the outlier adjustment factors to the FY 2007 rates after removing the effects of the FY 2006 outlier adjustment factors on the standardized amount.

To determine whether a case qualifies for outlier payments, we apply hospital-specific cost-to-charge ratios to the total covered charges for the case. Operating and capital costs for the case are calculated separately by applying separate operating and capital cost-to-charge ratios. These costs are then combined and compared with the outlier fixed-loss cost threshold.

The outlier final rule (68 FR 34494) eliminated the application of the statewide average cost-to-charge ratios for hospitals whose cost-to-charge ratios fall below 3 standard deviations from the national mean cost-to-charge ratio. However, for those hospitals for which the fiscal intermediary computes operating cost-to-charge ratios greater than 1.25 or capital cost-to-charge ratios greater than 0.158, or hospitals for whom the fiscal intermediary is unable to calculate a cost-to-charge ratio (as described at § 412.84(i)(3) of our regulations), we are still using statewide average cost-to-charge ratios to determine whether a hospital qualifies for outlier payments.²² Table 8A in section VI. of this Addendum contains the proposed statewide average operating cost-to-charge ratios for urban hospitals and for rural hospitals for which the fiscal intermediary is unable to compute a hospital-specific cost-to-charge ratio within the above range. Effective for discharges occurring on or after October 1, 2006, these proposed statewide average ratios would replace the ratios published in the IPPS final rule for FY 2006 (70 FR 47672). Table 8B in section VI. of this Addendum contains the proposed comparable statewide average capital cost-to-charge ratios. Again, the proposed cost-to-charge ratios in Tables 8A and 8B would be used during FY 2007 when hospital-specific cost-to-charge ratios based on the latest settled cost report are either not available or are outside the range noted above. For an explanation of Table 8C, please see section VI. of this Addendum.

²² These figures represent 3.0 standard deviations from the mean of the log distribution of cost-to-charge ratios for all hospitals.

We finally note that we published a manual update (Change Request 3966) to outliers on October 12, 2005. The manual update covered an array of topics, including cost-to-charge ratios, reconciliation, and the time value of money. To download and view the manual update, please visit http://www.cms.hhs.gov/transmittals/downloads/R707CP.pdf.

iii. FY 2005 and FY 2006 Outlier Payments

In the FY 2006 IPPS final rule (70 FR 47496), we stated that, based on available data, we estimated that actual FY 2005 outlier payments would be approximately 4.1 percent of actual total DRG payments. This estimate was computed based on simulations using the FY 2004 MedPAR file (discharge data for FY 2004 bills). That is, the estimate of actual outlier payments did not reflect actual FY 2005 bills, but instead reflected the application of FY 2005 rates and policies to available FY 2004 bills.

Our current estimate, using available FY 2005 bills, is that actual outlier payments for FY 2005 were approximately 4.10 percent of actual total DRG payments. Thus, the data indicate that, for FY 2005, the percentage of actual outlier payments relative to actual total payments is lower than we projected before FY 2005 (and, thus, is less than the percentage by which we reduced the standardized amounts for FY 2005). We note that, for FY 2006, the outlier threshold was lowered to $23,600 compared to $25,800 for FY 2005. The outlier threshold was lower in FY 2006 than FY 2005 as a result of slower growth in hospital charge inflation following implementation of the outlier final rule that went into effect on August 9, 2003. Nevertheless, consistent with the policy and statutory interpretation we have maintained since the inception of the IPPS, we do not plan to make retroactive adjustments to outlier payments to ensure that total outlier payments for FY 2005 are equal to 5.1 percent of total DRG payments.

We currently estimate that actual outlier payments for FY 2006 will be approximately 4.71 percent of actual total DRG payments, 0.39 percentage point lower than the 5.1 percent we projected in setting the outlier policies for FY 2006. This estimate is based on simulations using the FY 2005 MedPAR file (discharge data for FY 2005 bills). We used these data to calculate an estimate of the actual outlier percentage for FY 2006 by applying FY 2006 rates and policies, including an outlier threshold of $23,600 to available FY 2005 bills. Even though we are estimating payments below the 5.1 percent threshold for FY 2006, our simulations using FY 2005 Medicare data show consistent levels of charge inflation and a need to increase the threshold for FY 2007 to ensure that 5.1 percent of total IPPS payments are paid as outliers. However, our current estimate of the outlier threshold for FY 2007 may change in the final rule based on updated data.

iv. Technical Changes

Subpart F of Part 412 of the existing regulations discusses payment for outlier cases and special payment for new technology. We have become aware of an inadvertent mistake in § 412.84(m). Currently, § 412.84(m) discusses the application of the time value of money when a hospital's outlier payments are reconciled. When referencing reconciliation, the section by mistake references paragraph (h)(3) instead of paragraph (i)(4). We are proposing to revise § 412.84(m) to reference the current policy under paragraph (i)(4).

d. Rural Community Hospital Demonstration Program Adjustment (Section 410A of Pub. L. 108-173)

Section 410A of Pub. L. 108-173 requires the Secretary to establish a demonstration that will modify reimbursement for inpatient services for up to 15 small rural hospitals. Section 410A(c)(2) of Pub. L. 108-173 requires that “in conducting the demonstration program under this section, the Secretary shall ensure that the aggregate payments made by the Secretary do not exceed the amount which the Secretary would have paid if the demonstration program under this section was not implemented.” As discussed in section IV.M. of the preamble to this proposed rule, we are proposing to satisfy this requirement by adjusting national IPPS rates by a factor that is sufficient to account for the added costs of this demonstration. We estimate that the average additional annual payment that will be made to each participating hospital under the demonstration will be approximately $1,021,985. We based this estimate on the recent historical experience of the difference between inpatient cost and payment for hospitals that are participating in the demonstration. For 9 participating hospitals, the total annual impact of the demonstration program is estimated to be $9,197,870. The required adjustment to the Federal rate used in calculating Medicare inpatient prospective payments as a result of the demonstration is 0.999905.

In order to achieve budget neutrality, we are proposing to adjust national IPPS rates by an amount sufficient to account for the added costs of this demonstration. In other words, we are proposing to apply budget neutrality across the payment system as a whole rather than merely across the participants of this demonstration. We believe that the language of the statutory budget neutrality requirement permits the agency to implement the budget neutrality provision in this manner. This is because the statutory language requires that “aggregate payments made by the Secretary do not exceed the amount which the Secretary would have paid if the demonstration * * * was not implemented,” but does not identify the range across which aggregate payments must be held equal.

5. Proposed FY 2007 Standardized Amount

The adjusted standardized amount is divided into labor-related and nonlabor-related portions. Tables 1A and 1B in section VI. of this Addendum contain the national standardized amount that we are proposing to apply to all hospitals, except hospitals in Puerto Rico. The Puerto Rico-specific amounts are shown in Table 1C. The amounts shown in Tables 1A and 1B differ only in that the labor-related share applied to the standardized amounts in Table 1A is 69.7 percent, and the labor-related share applied to the standardized amounts in Table 1B is 62 percent. In accordance with sections 1886(d)(3)(E) and 1886(d)(9)(C)(iv) of the Act, we are applying the labor-related share of 62 percent, unless the application of that percentage would result in lower payments to a hospital than would otherwise be made. The effect of this application is that the labor-related share of the standardized amount is 62 percent for all hospitals (other than those in Puerto Rico) whose wage indexes are less than or equal to 1.0000.

In addition, Tables 1A and 1B include proposed standardized amounts reflecting the full 3.4 percent proposed update for FY 2007, and proposed standardized amounts reflecting the 2.0 percentage point reduction to the proposed update (a 1.4 percent update) applicable for hospitals that fail to submit quality data consistent with section 1886(b)(3)(B)(viii) of the Act.

The following table illustrates the proposed changes from the FY 2006 national average standardized amount. The first column shows the proposed changes from the FY 2006 standardized amounts for hospitals that satisfy the quality data submission requirement for receiving the full update (3.4 percent). The second column shows the proposed changes for hospitals receiving the reduced update (1.4 percent). The first row of the table shows the proposed updated (through FY 2006) average standardized amount after restoring the FY 2006 offsets for outlier payments, demonstration budget neutrality, the wage index transition budget neutrality and geographic reclassification budget neutrality. The DRG reclassification and recalibration and wage index budget neutrality factor is cumulative. Therefore, we did not remove the FY 2006 budget neutrality factors for DRG reclassification and recalibration from the amounts in the table. We have added separate rows to this table to reflect the different labor-related shares that apply to hospitals.

Comparison of FY 2006 Standardized Amounts to Proposed FY 2007 Single Standardized Amount With Full Update and Reduced Update
| Full update (3.4 percent) | Reduced update (1.4 percent)
FY 2006 Base Rate, after removing reclassification budget neutrality, demonstration budget neutrality, wage index transition budget neutrality factors and outlier offset (based on the proposed labor and nonlabor market share percentage for FY 2007) | Labor: $3,505.76 Nonlabor: $1,524.03 | Labor: $3,505.76. Nonlabor: $1,524.03.
Proposed FY 2007 Update Factor | 1.034 | 1.014.
Proposed FY 2007 DRG Recalibrations and Wage Index Budget Neutrality Factor | 0.998363 | 0.998363.
Proposed FY 2007 Reclassification Budget Neutrality Factor | 0.991727 | 0.991727.
Adjusted for Blend of FY 2006 DRG Recalibration and Wage Index Budget Neutrality Factors | Labor: $3,589.08 Nonlabor: $1,560.25 | Labor: $3,519.67. Nonlabor: $1,530.07.
Proposed FY 2007 Outlier Factor | 0.948984 | 0.948984.
Proposed FY 2007 Labor Market Wage Index Transition Budget Neutrality Factor | 0.999591 | 0.999591.
Proposed Rural Demonstration Budget Neutrality Factor | 0.999905 | 0.999905.
Proposed Rate for FY 2007 (after multiplying FY 2006 base rate by above factors) where the wage index is less than or equal to 1.0000 | Labor: $3,028.19 Nonlabor: $1,855.98 | Labor: $2,969.62. Nonlabor: $1,820.08.
Proposed Rate for FY 2007 (after multiplying FY 2006 base rate by above factors) where the wage index is greater than 1.0000 | Labor: $3,404.27 Nonlabor: $1,479.90 | Labor: $3,338.42. Nonlabor: $1,451.28.

Under section 1886(d)(9)(A)(ii) of the Act, the Federal portion of the Puerto Rico payment rate is based on the discharge-weighted average of the national large urban standardized amount (as set forth in Table 1A). The proposed labor-related and nonlabor-related portions of the national average standardized amounts for Puerto Rico hospitals for FY 2007 are set forth in Table 1C of section VI. of this Addendum. This table also includes the Puerto Rico standardized amounts. The labor-related share applied to the Puerto Rico specific standardized amount is 58.7 percent, or 62 percent, depending on which is more advantageous to the hospital. (Section 1886(d)(9)(C)(iv) of the Act, as amended by section 403(b) of Pub. L. 108-173, provides that the labor-related share for hospitals in Puerto Rico will be 62 percent, unless the application of that percentage would result in lower payments to the hospital.)

B. Adjustments for Area Wage Levels and Cost-of-Living

Tables 1A through 1C, as set forth in section VI. of this Addendum, contain the labor-related and nonlabor-related shares that we are proposing to use to calculate the prospective payment rates for hospitals located in the 50 States, the District of Columbia, and Puerto Rico for FY 2007. This section addresses two types of adjustments to the standardized amounts that are made in determining the proposed prospective payment rates as described in this Addendum.

1. Adjustment for Area Wage Levels

Sections 1886(d)(3)(E) and 1886(d)(9)(C)(iv) of the Act require that we make an adjustment to the labor-related portion of the national and Puerto Rico prospective payment rates, respectively, to account for area differences in hospital wage levels. This adjustment is made by multiplying the labor-related portion of the adjusted standardized amounts by the appropriate wage index for the area in which the hospital is located. In section III. of the preamble to this proposed rule, we discuss the data and methodology for the proposed FY 2007 wage index. The proposed FY 2007 wage indexes are set forth in Tables 4A-1, 4A-2, 4B, 4C-1, 4C-2, and 4F of section VI. of this Addendum.

2. Adjustment for Cost-of-Living in Alaska and Hawaii

Section 1886(d)(5)(H) of the Act authorizes an adjustment to take into account the unique circumstances of hospitals in Alaska and Hawaii. Higher labor-related costs for these two States are taken into account in the adjustment for area wages described above. For FY 2007, we are proposing to adjust the payments for hospitals in Alaska and Hawaii by multiplying the nonlabor-related portion of the standardized amount by the appropriate adjustment factor contained in the table below. If the Office of Personnel Management releases revised cost-of-living adjustment factors before July 1, 2006, we will publish them in the final rule and use them in determining FY 2007 payments.

Table of Cost-of-Living Adjustment Factors: Alaska and Hawaii Hospitals
Area | Cost of living adjustment factor
Alaska-All areas | 1.25
Hawaii:
County of Honolulu | 1.25
Hawaii | 1.165
County of Kauai | 1.2325
County of Maui | 1.2375
County of Kalawao | 1.2375

(The above factors are based on data obtained from the U.S. Office of Personnel Management.)

C. DRG Relative Weights

As discussed in section II. of the preamble of this proposed rule, we have developed a classification system for all hospital discharges, assigning them into DRGs, and have developed relative weights for each DRG that reflect the resource utilization of cases in each DRG relative to Medicare cases in other DRGs. Table 5 of section VI. of this Addendum contains the relative weights that we are proposing to use for discharges occurring in FY 2007. These factors have been recalibrated as explained in section II. of the preamble of this proposed rule.

D. Calculation of the Proposed Prospective Payment Rates for FY 2007

General Formula for Calculation of Prospective Payment Rates for FY 2007

The proposed operating prospective payment rate for all hospitals paid under the IPPS located outside of Puerto Rico, except SCHs and MDHs, for FY 2007 equals the Federal rate based on the corresponding amounts in Table 1A or Table 1B in section VI. of this Addendum.

The proposed prospective payment rate for SCHs for FY 2007 equals the higher of the applicable Federal rate (from Table 1A or Table 1B) or the hospital-specific rate as described below. The proposed prospective payment rate for MDHs for FY 2007 equals the higher of the Federal rate, or the Federal rate plus 75 percent of the difference between the Federal rate and the hospital-specific rate as described below. The proposed prospective payment rate for Puerto Rico for FY 2007 equals 25 percent of the Puerto Rico rate from Table 1C in section VI. of this Addendum plus 75 percent of the applicable national rate from Table 1A or Table 1B in section VI. of this Addendum.

1. Federal Rate

For discharges occurring on or after October 1, 2006 and before October 1, 2007, except for SCHs, MDHs, and hospitals in Puerto Rico, payment under the IPPS is based exclusively on the Federal rate.

The Federal rate is determined as follows:

Step 1—Select the appropriate average standardized amount considering the applicable wage index (Table 1A for wage indexes greater than 1.0000 and Table 1B for wage indexes less than or equal to 1.0000) and whether the hospital has submitted qualifying quality data (full update for qualifying hospitals, update minus 2.0 percentage points for nonqualifying hospitals).

Step 2—Multiply the labor-related portion of the standardized amount by the applicable wage index for the geographic area in which the hospital is located or the area to which the hospital is reclassified (see Tables 4A-1, 4A-2, 4B, 4C-1, and 4C-2 of section VI. of this Addendum).

Step 3—For hospitals in Alaska and Hawaii, multiply the nonlabor-related portion of the standardized amount by the appropriate cost-of-living adjustment factor.

Step 4—Add the amount from Step 2 and the nonlabor-related portion of the standardized amount (adjusted, if appropriate, under Step 3).

Step 5—Multiply the final amount from Step 4 by the relative weight corresponding to the appropriate DRG (see Table 5 of section VI. of this Addendum).

The Federal rate as determined in Step 5 may then be further adjusted if the hospital qualifies for either the IME or DSH adjustment. In addition, for hospitals that qualify for a low-volume payment adjustment under section 1886(d)(12) of the Act, the payment in Step 5 would be increased by 25 percent.

2. Hospital-Specific Rate (Applicable Only to SCHs and MDHs)

a. Calculation of Hospital-Specific Rate

Section 1886(b)(3)(C) of the Act provides that SCHs are paid based on whichever of the following rates yields the greatest aggregate payment: the Federal rate; the updated hospital-specific rate based on FY 1982 costs per discharge; the updated hospital-specific rate based on FY 1987 costs per discharge; or the updated hospital-specific rate based on FY 1996 costs per discharge.

As discussed above, MDHs must rebase their hospital-specific rates to their FY 2002 cost reports if doing so results in higher payments. In addition, effective for discharges occurring on or after October 1, 2006, MDHs are paid based on the Federal national rate or, if higher, the Federal national rate plus 75 percent of the difference between the Federal national rate and the greater of the updated hospital-specific rates based on either FY 1982, FY 1987 or FY 2002 costs per discharge. Further, MDHs will no longer be subject to the 12-percent cap on their DSH payment adjustment factor.

Hospital-specific rates have been determined for each of these hospitals based on the FY 1982 costs per discharge, the FY 1987 costs per discharge, or, for SCHs, the FY 1996 costs per discharge or for MDHs the FY 2002 cost per discharge. For a more detailed discussion of the calculation of the hospital-specific rates, we refer the reader to the FY 1984 IPPS interim final rule (September 1, 1983, 48 FR 39772); the April 20, 1990 final rule with comment (55 FR 15150); the FY 1991 IPPS final rule (September 4, 1990, 55 FR 35994); and the FY 2001 IPPS final rule (August 1, 2000, 65 FR 47082). In addition, for both SCHs and MDHs, the hospital-specific rate is adjusted by the budget neutrality adjustment factor (that is, by the proposed recalibration budget neutrality factor of 0.998963) as discussed in section IV.C. of the preamble to this proposed rule. The resulting rate would be used in determining the payment rate an SCH or MDH would receive for its discharges beginning on or after October 1, 2006.

b. Updating the FY 1982, FY 1987, FY 1996, and FY 2002 Hospital-Specific Rates for FY 2007

We are proposing to increase the hospital-specific rates by 3.4 percent (the hospital market basket percentage increase) for SCHs and MDHs for FY 2007. Section 1886(b)(3)(C)(iv) of the Act provides that the update factor applicable to the hospital-specific rates for SCHs is equal to the update factor provided under section 1886(b)(3)(B)(iv) of the Act, which, for SCHs in FY 2007, is the market basket rate-of-increase. Section 1886(b)(3)(D) of the Act provides that the update factor applicable to the hospital-specific rates for MDHs also equals the update factor provided under section 1886(b)(3)(B)(iv) of the Act, which, for FY 2007, is the market basket rate-of-increase.

3. General Formula for Calculation of Proposed Prospective Payment Rates for Hospitals Located in Puerto Rico Beginning On or After October 1, 2006 and Before October 1, 2007

Section 1886(d)(9)(E)(iv) of the Act provides that, effective for discharges occurring on or after October 1, 2004, hospitals located in Puerto Rico are paid based on a blend of 75 percent of the national prospective payment rate and 25 percent of the Puerto Rico-specific rate.

a. Puerto Rico Rate

The Puerto Rico prospective payment rate is determined as follows:

Step 1—Select the appropriate average standardized amount considering the applicable wage index (see Table 1C).

Step 2—Multiply the labor-related portion of the standardized amount by the appropriate Puerto Rico-specific wage index (see Table 4F of section VI. of the Addendum).

Step 3—Add the amount from Step 2 and the nonlabor-related portion of the standardized amount.

Step 4—Multiply the amount from Step 3 by the appropriate DRG relative weight. (see Table 5 of section IV. of the Addendum).

Step 5—Multiply the result in Step 4 by 25 percent.

b. National Rate

The national prospective payment rate is determined as follows:

Step 1—Select the appropriate average standardized amount considering the applicable wage index (see Table 1C).

Step 2—Multiply the labor-related portion of the standardized amount by the applicable wage index for the geographic area in which the hospital is located or the area to which the hospital is reclassified (see Table 4F of section VI. of this Addendum).

Step 3—Add the amount from Step 2 and the nonlabor-related portion of the national average standardized amount.

Step 4—Multiply the amount from Step 3 by the appropriate DRG relative weight (see Table 5 of section VI. of the Addendum).

Step 5—Multiply the result in Step 4 by 75 percent.

The sum of the Puerto Rico rate and the national rate computed above equals the prospective payment for a given discharge for a hospital located in Puerto Rico. This rate may then be further adjusted if the hospital qualifies for either the IME or DSH adjustment.

III. Proposed Changes to Payment Rates for Acute Care Hospital Inpatient Capital-Related Costs for FY 2007

(If you choose to comment on issues in this section, please include the caption “Capital Payment Rate” at the beginning of your comment.)

The PPS for acute care hospital inpatient capital-related costs was implemented for cost reporting periods beginning on or after October 1, 1991. Effective with that cost reporting period, hospitals were paid during a 10-year transition period (which extended through FY 2001) to change the payment methodology for Medicare acute care hospital inpatient capital-related costs from a reasonable cost-based methodology to a prospective methodology (based fully on the Federal rate).

The basic methodology for determining Federal capital prospective rates is set forth in regulations at §§ 412.308 through 412.352. Below we discuss the factors that we are proposing to use to determine the capital Federal rate for FY 2007, which would be effective for discharges occurring on or after October 1, 2006. The 10-year transition period ended with hospital cost reporting periods beginning on or after October 1, 2001 (FY 2002). Therefore, for cost reporting periods beginning in FY 2002, all hospitals (except “new” hospitals under § 412.304(c)(2)) are paid based on 100 percent of the capital Federal rate. For FY 1992, we computed the standard Federal payment rate for capital-related costs under the IPPS by updating the FY 1989 Medicare inpatient capital cost per case by an actuarial estimate of the increase in Medicare inpatient capital costs per case. Each year after FY 1992, we update the capital standard Federal rate, as provided at § 412.308(c)(1), to account for capital input price increases and other factors. The regulations at § 412.308(c)(2) provide that the capital Federal rate is adjusted annually by a factor equal to the estimated proportion of outlier payments under the capital Federal rate to total capital payments under the capital Federal rate. In addition, § 412.308(c)(3) requires that the capital Federal rate be reduced by an adjustment factor equal to the estimated proportion of payments for (regular and special) exceptions under § 412.348. Section 412.308(c)(4)(ii) requires that the capital standard Federal rate be adjusted so that the effects of the annual DRG reclassification and the recalibration of DRG weights and changes in the geographic adjustment factor are budget neutral.

For FYs 1992 through 1995, § 412.352 required that the capital Federal rate also be adjusted by a budget neutrality factor so that aggregate payments for inpatient hospital capital costs were projected to equal 90 percent of the payments that would have been made for capital-related costs on a reasonable cost basis during the fiscal year. That provision expired in FY 1996. Section 412.308(b)(2) describes the 7.4 percent reduction to the capital rate that was made in FY 1994, and § 412.308(b)(3) describes the 0.28 percent reduction to the capital rate made in FY 1996 as a result of the revised policy of paying for transfers. In FY 1998, we implemented section 4402 of Pub. L. 105-33, which required that, for discharges occurring on or after October 1, 1997, and before October 1, 2002, the unadjusted capital standard Federal rate is reduced by 17.78 percent. As we discussed in the FY 2003 IPPS final rule (67 FR 50102) and implemented in § 412.308(b)(6), a small part of that reduction was restored effective October 1, 2002.

To determine the appropriate budget neutrality adjustment factor and the regular exceptions payment adjustment during the 10-year transition period, we developed a dynamic model of Medicare inpatient capital-related costs; that is, a model that projected changes in Medicare inpatient capital-related costs over time. With the expiration of the budget neutrality provision, the capital cost model was only used to estimate the regular exceptions payment adjustment and other factors during the transition period. As we explained in the FY 2002 IPPS final rule (66 FR 39911), beginning in FY 2002, an adjustment for regular exception payments is no longer necessary because regular exception payments were only made for cost reporting periods beginning on or after October 1, 1991, and before October 1, 2001 (see § 412.348(b)). Because payments are no longer being made under the regular exception policy effective with cost reporting periods beginning in FY 2002, we no longer use the capital cost model. The capital cost model and its application during the transition period are described in Appendix B of the FY 2002 IPPS final rule (66 FR 40099).

Section 412.374 provides for the use of a blended payment system for payments to Puerto Rico hospitals under the PPS for acute care hospital inpatient capital-related costs. Accordingly, under the capital PPS, we compute a separate payment rate specific to Puerto Rico hospitals using the same methodology used to compute the national Federal rate for capital-related costs. In accordance with section 1886(d)(9)(A) of the Act, under the PPS for acute care hospital operating costs, hospitals located in Puerto Rico are paid for operating costs under a special payment formula. Prior to FY 1998, hospitals in Puerto Rico were paid a blended operating rate that consisted of 75 percent of the applicable standardized amount specific to Puerto Rico hospitals and 25 percent of the applicable national average standardized amount. Similarly, prior to FY 1998, hospitals in Puerto Rico were paid a blended capital rate that consisted of 75 percent of the applicable capital Puerto Rico-specific rate and 25 percent of the applicable capital Federal rate. However, effective October 1, 1997, in accordance with section 4406 of Pub. L. 105-33, operating payments to hospitals in Puerto Rico were revised to be based on a blend of 50 percent of the applicable standardized amount specific to Puerto Rico hospitals and 50 percent of the applicable national average standardized amount. In conjunction with this change to the operating blend percentage, effective with discharges occurring on or after October 1, 1997, we also revised the methodology for computing capital payments to hospitals in Puerto Rico to be based on a blend of 50 percent of the Puerto Rico capital rate and 50 percent of the capital Federal rate.

As we discussed in the FY 2005 IPPS final rule (69 FR 49185), section 504 of Pub. L. 108-173 increased the national portion of the operating IPPS payments for Puerto Rico hospitals from 50 percent to 62.5 percent and decreased the Puerto Rico portion of the operating IPPS payments from 50 percent to 37.5 percent for discharges occurring on or after April 1, 2004 through September 30, 2004 (see the March 26, 2004 One-Time Notification (Change Request 3158)). In addition, section 504 of Pub. L. 108-173 provided that the national portion of operating IPPS payments for Puerto Rico hospitals is equal to 75 percent and the Puerto Rico portion of operating IPPS payments is equal to 25 percent for discharges occurring on or after October 1, 2004. Consistent with that change in operating IPPS payments to hospitals in Puerto Rico, for FY 2005 (as we discussed in the FY 2005 IPPS final rule), we revised the methodology for computing capital payments to hospitals located in Puerto Rico to be based on a blend of 25 percent of the Puerto Rico capital rate and 75 percent of the capital Federal rate for discharges occurring on or after October 1, 2004.

A. Determination of Proposed Federal Hospital Inpatient Capital-Related Prospective Payment Rate Update

In the FY 2006 IPPS final rule (70 FR 47503), we established a capital Federal rate of $420.65 for FY 2006. In the discussion that follows, we explain the factors that we are proposing to use to determine the FY 2007 capital Federal rate. In particular, we explain why the proposed FY 2007 capital Federal rate would increase approximately 0.9 percent compared to the FY 2006 capital Federal rate. However, we estimate aggregate capital payments would decrease by 0.4 percent during this same period. This decrease is due to a decrease in the estimated total number of Medicare fee-for-service discharges for FY 2007 as compared to the estimated total number of Medicare fee-for-service discharges in FY 2006. We are estimating a decrease in Medicare fee-for-service discharges in FY 2007 as compared to FY 2006, in part because we are projecting an increase in beneficiary Medicare managed care enrollment as a result of the implementation of several provisions of Pub. L. 108-173. Therefore, although we are projecting that capital PPS payments per discharge would increase slightly from FY 2006 to FY 2007, we project that aggregate capital PPS payments would decrease for the same period.

Total payments to hospitals under the IPPS are relatively unaffected by changes in the capital prospective payments. Since capital payments constitute about 10 percent of hospital payments, a 1-percent change in the capital Federal rate yields only about 0.1 percent change in actual payments to hospitals. As noted above, aggregate payments under the capital IPPS are estimated to decrease slightly in FY 2007 compared to FY 2006.

1. Projected Capital Standard Federal Rate Update

a. Description of the Update Framework

Under § 412.308(c)(1), the capital standard Federal rate is updated on the basis of an analytical framework that takes into account changes in a capital input price index (CIPI) and several other policy adjustment factors. Specifically, we have adjusted the projected CIPI rate-of-increase as appropriate each year for case-mix index-related changes, for intensity, and for errors in previous CIPI forecasts. The proposed update factor for FY 2007 under that framework is 0.8 percent based on the best data available at this time. The proposed update factor is based on a projected 0.8 percent increase in the CIPI, a 0.0 percent adjustment for intensity, a 0.0 percent adjustment for case-mix, a 0.0 percent adjustment for the FY 2005 DRG reclassification and recalibration, and a forecast error correction of 0.0 percent. As discussed below in section III.C. of this Addendum, we believe that the CIPI is the most appropriate input price index for capital costs to measure capital price changes in a given year. We also explain the basis for the FY 2007 CIPI projection in that same section of this Addendum. Below we describe the proposed policy adjustments that have been applied.

The case-mix index is the measure of the average DRG weight for cases paid under the IPPS. Because the DRG weight determines the prospective payment for each case, any percentage increase in the case-mix index corresponds to an equal percentage increase in hospital payments.

The case-mix index can change for any of several reasons:

• The average resource use of Medicare patients changes (“real” case-mix change);

• Changes in hospital coding of patient records result in higher weight DRG assignments (“coding effects”); and

• The annual DRG reclassification and recalibration changes may not be budget neutral (“reclassification effect”).

We define real case-mix change as actual changes in the mix (and resource requirements) of Medicare patients as opposed to changes in coding behavior that result in assignment of cases to higher weighted DRGs but do not reflect higher resource requirements. The capital update framework includes the same case-mix index adjustment used in the former operating IPPS update framework (as discussed in the May 18, 2005 IPPS proposed rule for FY 2005 (69 FR 28816)). (We are no longer using an update framework in making a recommendation for updating the operating IPPS standardized amounts as discussed in section II, of Appendix B in the FY 2006 IPPS final rule (70 FR 47707).)

For FY 2007, we are projecting a 1.0 percent total increase in the case-mix index. We estimate that the real case-mix increase would also equal 1.0 percent in FY 2007. The net adjustment for change in case-mix is the difference between the projected increase in case-mix and the projected total increase in case-mix. Therefore, the proposed net adjustment for case-mix change in FY 2007 is 0.0 percentage points.

The capital update framework also contains an adjustment for the effects of DRG reclassification and recalibration. This adjustment is intended to remove the effect on total payments of prior year changes to the DRG classifications and relative weights, in order to retain budget neutrality for all case-mix index-related changes other than those due to patient severity. Due to the lag time in the availability of data, there is a 2-year lag in data used to determine the adjustment for the effects of DRG reclassification and recalibration. For example, we are adjusting for the effects of the FY 2005 DRG reclassification and recalibration as part of our proposed update for FY 2007. We estimate that FY 2005 DRG reclassification and recalibration would result in a 0.0 percent change in the case-mix when compared with the case-mix index that would have resulted if we had not made the reclassification and recalibration changes to the DRGs. Therefore, we are proposing to make a 0.0 percent adjustment for DRG reclassification and recalibration in the update for FY 2007 to maintain budget neutrality.

The capital update framework also contains an adjustment for forecast error. The input price index forecast is based on historical trends and relationships ascertainable at the time the update factor is established for the upcoming year. In any given year, there may be unanticipated price fluctuations that may result in differences between the actual increase in prices and the forecast used in calculating the update factors. In setting a prospective payment rate under the framework, we make an adjustment for forecast error only if our estimate of the change in the capital input price index for any year is off by 0.25 percentage points or more. There is a 2-year lag between the forecast and the measurement of the forecast error. A forecast error of −0.1 percentage point was calculated for the FY 2005 update. That is, current historical data indicate that the forecasted FY 2005 CIPI used in calculating the FY 2005 update factor (0.7 percent) slightly overstated the actual realized price increases (0.6 percent) by 0.1 percentage point. This slight overprediction was mostly due to an underestimation in the deceleration of the average yield of the long-term municipal bonds. The forecast correctly anticipated the deceleration of the municipal bond rates; however, it underestimated the magnitude of the deceleration resulting from the relatively looser Federal monetary policy (that is, delaying interest rate hikes). However, because this estimation of the change in the CIPI is less than 0.25 percentage points, it is not reflected in the update recommended under this framework. Therefore, we are proposing to make a 0.0 percent adjustment for forecast error in the update for FY 2007.

Under the capital IPPS update framework, we also make an adjustment for changes in intensity. We calculate this adjustment using the same methodology and data that were used in the framework used in the past under the operating IPPS. The intensity factor for the operating update framework reflects how hospital services are utilized to produce the final product, that is, the discharge. This component accounts for changes in the use of quality-enhancing services, for changes in within-DRG severity, and for expected modification of practice patterns to remove noncost-effective services.

We calculate case-mix constant intensity as the change in total charges per admission, adjusted for price level changes (the CPI for hospital and related services) and changes in real case-mix. The use of total charges in the calculation of the intensity factor makes it a total intensity factor; that is, charges for capital services are already built into the calculation of the factor. Therefore, we have incorporated the intensity adjustment from the operating update framework into the capital update framework. Without reliable estimates of the proportions of the overall annual intensity increases that are due, respectively, to ineffective practice patterns and to the combination of quality-enhancing new technologies and within-DRG complexity, we assume, as in the operating update framework, that one-half of the annual increase is due to each of these factors. The capital update framework thus provides an add-on to the input price index rate of increase of one-half of the estimated annual increase in intensity, to allow for within-DRG severity increases and the adoption of quality-enhancing technology.

We have developed a Medicare-specific intensity measure based on a 5-year average. Past studies of case-mix change by the RAND Corporation (“Has DRG Creep Crept Up? Decomposing the Case Mix Index Change Between 1987 and 1988” by G. M. Carter, J. P. Newhouse, and D. A. Relles, R-4098-HCFA/ProPAC (1991)) suggest that real case-mix change was not dependent on total change, but was usually a fairly steady 1.0 to 1.4 percent per year. We use 1.4 percent as the upper bound because the RAND study did not take into account that hospitals may have induced doctors to document medical records more completely in order to improve payment.

We calculate case-mix constant intensity as the change in total charges per admission, adjusted for price level changes (the CPI for hospital and related services), and changes in real case-mix. As we noted above, in accordance with § 412.308(c)(1)(ii), we began updating the capital standard Federal rate in FY 1996 using an update framework that takes into account, among other things, allowable changes in the intensity of hospital services. For FYs 1996 through 2001, we found that case-mix constant intensity was declining and we established a 0.0 percent adjustment for intensity in each of those years. For FYs 2002 and 2003, we found that case-mix constant intensity was increasing and we established a 0.3 percent adjustment and 1.0 percent adjustment for intensity, respectively. For FYs 2004 and 2005, we found that the charge data appeared to be skewed (as discussed in greater detail below) and we established a 0.0 percent adjustment in each of those years. Furthermore, we stated that we would continue to apply a 0.0 percent adjustment for intensity until any increase in charges can be tied to intensity rather than attempts to maximize outlier payments.

As noted above, our intensity measure is based on a 5-year average, and therefore, the proposed intensity adjustment for FY 2007 is based on data from the 5-year period FY 2001 through FY 2005. We found a dramatic increase in hospital charges for each of those 5 years without a corresponding increase in the hospital case-mix index. These findings are similar to the considerable increase in hospitals' charges, which we found when we were determining the intensity factor in the FY 2004, FY 2005 and FY 2006 update recommendations as discussed in the FY 2004 IPPS final rule (68 FR 45482), the FY 2005 IPPS final rule (69 FR 49285) and the FY 2006 IPPS final rule (70 FR 47500), respectively. If hospitals were treating new or different types of cases, which would result in an appropriate increase in charges per discharge, then we would expect hospitals' case-mix to increase proportionally.

As we discussed in the FY 2006 IPPS final rule (70 FR 47500), because our intensity calculation relies heavily upon charge data and we believe that these charge data may be inappropriately skewed, we established a 0.0 percent adjustment for intensity for FY 2006.

On June 9, 2003, we published revisions to our outlier policy for determining the additional payment for extraordinarily high-cost cases (68 FR 34494 through 34515). These revised policies were effective on August 8, 2003, and October 1, 2003. While it does appear that a response to these policy changes is beginning to occur, that is, the change in charges for FYs 2004 and 2005 are somewhat less than the previous 4 years, they still show a significant annual increase in charges without a corresponding increase in hospital case-mix. The increase in charges in FY 2004, for example, is approximately 12 percent, which, while less than the increase in the previous 3 years, is still much higher than increases in years prior to FY 2001. In addition, this approximate 12-percent increase in charges for FY 2004 significantly exceeds the case-mix increase for the same period. Based on the approximate 12-percent increase in charges for FY 2004, we believe residual effects of hospitals' charge practices prior to the implementation of the outlier policy revisions established in the June 9, 2003 final rule continue to appear in the data because hospitals may not have had enough time to adopt changes in their behavior in response to the new outlier policy. Thus, we believe that the FY 2004 and FY 2005 charge data may still be skewed. Because the intensity adjustment is based on a 5-year average, and although the new outlier policy was generally effective in FY 2004, we believe it still will be several years before all the effects of hospitals attempting to maximize outlier payments are removed from the intensity calculation. Therefore, we are proposing a 0.0 percent adjustment for intensity for FY 2007. In the past (FYs 1996 through 2001) when we found intensity to be declining, we believed a zero (rather than negative) intensity adjustment was appropriate. Similarly, we believe that it is appropriate to apply a zero intensity adjustment for FY 2007 until any increase in charges can be tied to intensity rather than to attempts to maximize outlier payments.

Above, we described the basis of the components used to develop the proposed 0.8 percent capital update factor for FY 2007 as shown in the table below.

CMS Proposed FY 2007 Update Factor to the Capital Federal Rate
Capital Input Price Index | 0.8
Intensity | 0.0
Case-Mix Adjustment Factors:
Real Across DRG Change | 1.0
Projected Case-Mix Change | −1.0
Subtotal | 0.0
Effect of FY 2005 Reclassification and Recalibration | 0.0
Forecast Error Correction | 0.0
Total Proposed Update | 0.8

b. Comparison of CMS and MedPAC Update Recommendation

In the past, MedPAC has included update recommendations for capital PPS in a Report to Congress. In its March 2006 Report to Congress, MedPAC did not make an update recommendation for capital PPS payments for FY 2007. However, in that same report, MedPAC made an update recommendation for hospital inpatient and outpatient services (page 46). MedPAC reviews inpatient and outpatient services together because they are so closely interrelated. For FY 2007, MedPAC recommended an increase in the payment rate for the operating IPPS by the projected increase in the hospital market basket index, less half of MedPAC's expectation for productivity growth (or 0.45 percent, based on its assessment of beneficiaries' access to care and changes in hospital capacity, volume of services, access to capital, quality of care, and the relationship of Medicare payments and hospitals' costs. In addition, MedPAC recommended combining the annual rate update with an incentive payment policy for quality. (MedPAC's Report to the Congress: Medicare Payment Policy, March 2006, Section 2A.)

2. Proposed Outlier Payment Adjustment Factor

Section 412.312(c) establishes a unified outlier methodology for inpatient operating and inpatient capital-related costs. A single set of thresholds is used to identify outlier cases for both inpatient operating and inpatient capital-related payments. Section 412.308(c)(2) provides that the standard Federal rate for inpatient capital-related costs be reduced by an adjustment factor equal to the estimated proportion of capital-related outlier payments to total inpatient capital-related PPS payments. The outlier thresholds are set so that operating outlier payments are projected to be 5.1 percent of total operating DRG payments.

In the FY 2006 IPPS final rule (70 FR 47501), we estimated that outlier payments for capital would equal 4.85 percent of inpatient capital-related payments based on the capital Federal rate in FY 2006. Based on the thresholds as set forth in section II.A.4.c. of this Addendum, we estimate that outlier payments for capital-related costs would equal 4.87 percent for inpatient capital-related payments based on the Federal rate in FY 2007. Therefore, we are proposing to apply an outlier adjustment factor of 0.9513 to the capital Federal rate. Thus, the percentage of capital outlier payments to total capital standard payments for FY 2007 would be slightly higher than the percentages for FY 2006.

The outlier reduction factors are not built permanently into the capital rates; that is, they are not applied cumulatively in determining the capital Federal rate. The proposed FY 2007 outlier adjustment of 0.9513 is a −0.02 percent change from the FY 2006 outlier adjustment of 0.9515. Therefore, the net change in the outlier adjustment to the proposed capital Federal rate for FY 2007 is 0.9998 (0.9513/0.9915). Thus, the proposed outlier adjustment decreases the proposed FY 2007 capital Federal rate by 0.02 percent compared with the FY 2006 outlier adjustment.

3. Proposed Budget Neutrality Adjustment Factor for Changes in DRG Classifications and Weights and the GAF

Section 412.308(c)(4)(ii) requires that the capital Federal rate be adjusted so that aggregate payments for the fiscal year based on the capital Federal rate after any changes resulting from the annual DRG reclassification and recalibration and changes in the GAF are projected to equal aggregate payments that would have been made on the basis of the capital Federal rate without such changes. Because we implemented a separate GAF for Puerto Rico, we apply separate budget neutrality adjustments for the national GAF and the Puerto Rico GAF. We apply the same budget neutrality factor for DRG reclassifications and recalibration nationally and for Puerto Rico. Separate adjustments were unnecessary for FY 1998 and earlier because the GAF for Puerto Rico was implemented in FY 1998.

In the past, we used the actuarial capital cost model (described in Appendix B of the FY 2002 IPPS final rule (66 FR 40099)) to estimate the aggregate payments that would have been made on the basis of the capital Federal rate with and without changes in the DRG classifications and weights and in the GAF to compute the adjustment required to maintain budget neutrality for changes in DRG weights and in the GAF. During the transition period, the capital cost model was also used to estimate the regular exception payment adjustment factor. As we explain in section III.A.4. of this Addendum, beginning in FY 2002, an adjustment for regular exception payments is no longer necessary. Therefore, we are no longer using the capital cost model. Instead, we are using historical data based on hospitals' actual cost experiences to determine the exceptions payment adjustment factor for special exceptions payments.

To determine the proposed factors for FY 2007, we compared (separately for the national capital rate and the Puerto Rico capital rate) estimated aggregate capital Federal rate payments based on the FY 2006 DRG relative weights and the FY 2006 GAF to estimated aggregate capital Federal rate payments based on the proposed FY 2007 relative weights and the proposed FY 2007 GAF. As we established in the FY 2006 IPPS final rule (70 FR 47503), the budget neutrality factors were 0.9920 for the national capital rate and 0.9959 for the Puerto Rico capital rate. In making the comparison, we set the exceptions reduction factor to 1.00. To achieve budget neutrality for the changes in the national GAF, based on calculations using updated data, we are proposing to apply an incremental budget neutrality adjustment of 1.0003 for FY 2007 to the previous cumulative FY 2006 adjustments of 0.9920, yielding an adjustment of 0.9922, through FY 2007 (calculations done on unrounded numbers). For the Puerto Rico GAF, we are proposing to apply an incremental budget neutrality adjustment of 1.0017 for FY 2007 to the previous cumulative FY 2006 adjustment of 0.9959, yielding a cumulative adjustment of 0.9986 through FY 2007.

We then compared estimated aggregate capital Federal rate payments based on the FY 2006 DRG relative weights and the FY 2006 GAF to estimated aggregate capital Federal rate payments based on the proposed FY 2007 DRG relative weights and the proposed FY 2007 GAF. The proposed incremental adjustment for DRG classifications and changes in relative weights is 1.0009 both nationally and for Puerto Rico. The proposed cumulative adjustments for DRG classifications and changes in relative weights and for changes in the GAF through FY 2007 are 0.9932 nationally and 0.9986 for Puerto Rico. The following table summarizes the adjustment factors for each fiscal year:

BILLING CODE 4120-01-P

BILLING CODE 4120-01-C

The methodology used to determine the proposed recalibration and geographic (DRG/GAF) budget neutrality adjustment factor for FY 2007 is similar to that used in establishing budget neutrality adjustments under the PPS for operating costs. One difference is that, under the operating PPS, the budget neutrality adjustments for the effect of geographic reclassifications are determined separately from the effects of other changes in the hospital wage index and the DRG relative weights. Under the capital PPS, there is a single DRG/GAF budget neutrality adjustment factor (the national capital rate and the Puerto Rico capital rate are determined separately) for changes in the GAF (including geographic reclassification) and the DRG relative weights. In addition, there is no adjustment for the effects that geographic reclassification has on the other payment parameters, such as the payments for serving low-income patients, indirect medical education payments, or the large urban add-on payments.

In the FY 2006 IPPS final rule (70 FR 47503), we calculated a GAF/DRG budget neutrality factor of 1.0008 for FY 2006. For FY 2007, we are proposing to establish a GAF/DRG budget neutrality factor of 1.0012. The GAF/DRG budget neutrality factors are built permanently into the capital rates; that is, they are applied cumulatively in determining the capital Federal rate. This follows from the requirement that estimated aggregate payments each year be no more or less than they would have been in the absence of the annual DRG reclassification and recalibration and changes in the GAF. The incremental change in the proposed adjustment from FY 2006 to FY 2007 is 1.0012. The cumulative change in the proposed capital Federal rate due to this proposed adjustment is 0.9932 (the product of the incremental factors for FYs 1993 though 2006 and the proposed incremental factor of 1.0012 for FY 2007). (We note that averages of the incremental factors that were in effect during FYs 2005 and 2006, respectively, were used in the calculation of the proposed cumulative adjustment of 1.0012 for FY 2007.)

This proposed factor accounts for DRG reclassifications and recalibration and for changes in the GAF. It also incorporates the effects on the proposed GAF of FY 2007 geographic reclassification decisions made by the MGCRB compared to FY 2006 decisions. However, it does not account for changes in payments due to changes in the DSH and IME adjustment factors or in the large urban add-on.

4. Proposed Exceptions Payment Adjustment Factor

Section 412.308(c)(3) requires that the capital standard Federal rate be reduced by an adjustment factor equal to the estimated proportion of additional payments for both regular exceptions and special exceptions under § 412.348 relative to total capital PPS payments. In estimating the proportion of regular exception payments to total capital PPS payments during the transition period, we used the actuarial capital cost model originally developed for determining budget neutrality (described in Appendix B of the FY 2002 IPPS final rule (66 FR 40099)) to determine the exceptions payment adjustment factor, which was applied to both the Federal and hospital-specific capital rates.

An adjustment for regular exception payments is no longer necessary in determining the proposed FY 2007 capital Federal rate because, in accordance with § 412.348(b), regular exception payments were only made for cost reporting periods beginning on or after October 1, 1991 and before October 1, 2001. Accordingly, as we explained in the FY 2002 IPPS final rule (66 FR 39949), in FY 2002 and subsequent fiscal years, no payments will be made under the regular exceptions provision. However, in accordance with § 412.308(c), we still need to compute a budget neutrality adjustment for special exception payments under § 412.348(g). We describe our methodology for determining the exceptions adjustment used in calculating the proposed FY 2007 capital Federal rate below.

Under the special exceptions provision specified at § 412.348(g)(1), eligible hospitals include SCHs, urban hospitals with at least 100 beds that have a disproportionate share percentage of at least 20.2 percent or qualify for DSH payments under § 412.106(c)(2), and hospitals with a combined Medicare and Medicaid inpatient utilization of at least 70 percent. An eligible hospital may receive special exceptions payments if it meets: (1) A project need requirement as described at § 412.348(g)(2), which, in the case of certain urban hospitals, includes an excess capacity test as described at § 412.348(g)(4); (2) an age of assets test as described at § 412.348(g)(3); and (3) a project size requirement as described at § 412.348(g)(5).

Based on information compiled from our fiscal intermediaries, six hospitals have qualified for special exceptions payments under § 412.348(g). Since we have cost reports ending in FY 2005 for all of these hospitals, we calculated the adjustment based on actual cost experience. Using data from cost reports ending in FY 2005 from the December 2005 update of the HCRIS data, we divided the capital special exceptions payment amounts for the six hospitals that qualified for special exceptions by the total capital PPS payment amounts (including special exception payments) for all hospitals. Based on the data from cost reports ending in FY 2005, this ratio is rounded to 0.0003. Because we have not received all cost reports ending in FY 2005, we also divided the FY 2005 special exceptions payments by the total capital PPS payment amounts for all hospitals with cost reports ending in FY 2004. This ratio also rounds to 0.0003. Because special exceptions are budget neutral, we are proposing to offset the capital Federal rate by 0.03 percent for special exceptions payments for FY 2007. Therefore, the proposed exceptions adjustment factor is equal to 0.9997 (1—0.0003) to account for special exceptions payments in FY 2007.

In the FY 2006 IPPS final rule (70 FR 47503), we estimated that total (special) exceptions payments for FY 2006 would equal 0.03 percent of aggregate payments based on the capital Federal rate. Therefore, we applied an exceptions adjustment factor of 0.9997 (1—0.0003) in determining the FY 2006 capital Federal rate. As we stated above, we estimate that exceptions payments in FY 2007 will equal 0.03 percent of aggregate payments based on the proposed FY 2007 capital Federal rate. Therefore, we are proposing to apply an exceptions payment adjustment factor of 0.9997 to the capital Federal rate for FY 2007. The proposed exceptions adjustment factor for FY 2007 is the same as the factor used in determining the FY 2006 capital Federal rate in the FY 2006 IPPS final rule (70 FR 47503). The exceptions reduction factors are not built permanently into the capital rates; that is, the factors are not applied cumulatively in determining the capital Federal rate. Therefore, the net change in the exceptions adjustment factor used in determining the proposed FY 2007 capital Federal rate is 1.0000 (0.9997/0.9997).

5. Proposed Capital Standard Federal Rate for FY 2007

In the FY 2006 IPPS final rule (70 FR 47503), we established a capital Federal rate of $420.65 for FY 2006. In this proposed rule, we are proposing to establish a capital Federal rate of $424.42 for FY 2007. The proposed capital Federal rate for FY 2007 was calculated as follows:

• The proposed FY 2007 update factor is 1.0080; that is, the proposed update is 0.8 percent.

• The proposed FY 2007 budget neutrality adjustment factor that is applied to the capital standard Federal payment rate for proposed changes in the DRG relative weights and in the GAF is 1.0012.

• The proposed FY 2007 outlier adjustment factor is 0.9513.

• The proposed FY 2007 (special) exceptions payment adjustment factor is 0.9997.

Because the proposed capital Federal rate has already been adjusted for differences in case-mix, wages, cost-of-living, indirect medical education costs, and payments to hospitals serving a disproportionate share of low-income patients, we are not proposing to make additional adjustments in the capital standard Federal rate for these factors, other than the budget neutrality factor for changes in the DRG relative weights and the GAF.

We are providing a chart that shows how each of the proposed factors and adjustments for FY 2007 affected the computation of the proposed FY 2007 capital Federal rate in comparison to the average FY 2006 capital Federal rate. The proposed FY 2007 update factor has the effect of increasing the proposed capital Federal rate by 0.80 percent compared to the average FY 2006 Federal rate. The proposed GAF/DRG budget neutrality factor has the effect of increasing the proposed capital Federal rate by 0.12 percent. The proposed FY 2007 outlier adjustment factor has the effect of decreasing the proposed capital Federal rate by 0.02 percent compared to the average FY 2006 capital Federal rate. The proposed FY 2007 exceptions payment adjustment factor remains unchanged from the FY 2006 exceptions payment adjustment factor, and therefore, has a 0.0 percent net effect on the proposed FY 2007 capital Federal rate. The combined effect of all the proposed changes is to increase the proposed capital Federal rate by 0.90 percent compared to the average FY 2006 capital Federal rate.

Comparison of Factors and Adjustments
[FY 2006 Capital Federal Rate and Proposed FY 2007 Capital Federal Rate]
| FY 2006 | Proposed FY 2007 | Change | Percent change
Update Factor ¹ | 1.0080 | 1.0080 | 1.0080 | 0.80
GAF/DRG Adjustment Factor ¹ | 1.0008 | 1.0012 | 1.0012 | 0.12
Outlier Adjustment Factor ² | 0.9515 | 0.9513 | 0.9998 | −0.02
Exceptions Adjustment Factor ² | 0.9997 | 0.9997 | 0.0000 | 0.00
Capital Federal Rate | $420.65 | $424.42 | 1.0090 | 0.90
Outlier Adjustment Factor ² | 0.9515 | 0.9513 | 0.9998 | −0.02
¹ The proposed update factor and the GAF/DRG budget neutrality factors are built permanently into the capital rates. Thus, for example, the incremental change from FY 2006 to FY 2007 resulting from the application of the proposed 1.0012 GAF/DRG budget neutrality factor for FY 2007 is 1.0012.
² The proposed outlier reduction factor and the proposed exceptions adjustment factor are not built permanently into the capital rates; that is, these factors are not applied cumulatively in determining the capital rates. Thus, for example, the net change resulting from the application of the proposed FY 2007 outlier adjustment factor would be 0.9513/0.9515, or 0.9998.

6. Proposed Special Capital Rate for Puerto Rico Hospitals

Section 412.374 provides for the use of a blended payment system for payments to Puerto Rico hospitals under the PPS for acute care hospital inpatient capital-related costs. Accordingly, under the capital PPS, we compute a separate payment rate specific to Puerto Rico hospitals using the same methodology used to compute the national Federal rate for capital-related costs. Under the broad authority of section 1886(g) of the Act, as discussed in section VI. of the preamble of this proposed rule, beginning with discharges occurring on or after October 1, 2004, capital payments to hospitals in Puerto Rico are based on a blend of 25 percent of the Puerto Rico capital rate and 75 percent of the capital Federal rate. The Puerto Rico capital rate is derived from the costs of Puerto Rico hospitals only, while the capital Federal rate is derived from the costs of all acute care hospitals participating in the IPPS (including Puerto Rico).

To adjust hospitals' capital payments for geographic variations in capital costs, we apply a GAF to both portions of the blended capital rate. The GAF is calculated using the operating IPPS wage index and varies, depending on the labor market area or rural area in which the hospital is located. We use the Puerto Rico wage index to determine the GAF for the Puerto Rico part of the capital-blended rate and the national wage index to determine the GAF for the national part of the blended capital rate.

Because we implemented a separate GAF for Puerto Rico in FY 1998, we also apply separate budget neutrality adjustments for the national GAF and for the Puerto Rico GAF. However, we apply the same budget neutrality factor for DRG reclassifications and recalibration nationally and for Puerto Rico. As we stated above in section III.A.4. of this Addendum, for Puerto Rico, the proposed GAF budget neutrality factor is 1.0017, while the proposed DRG adjustment is 1.0009, for a combined proposed cumulative adjustment of 0.9986.

In computing the payment for a particular Puerto Rico hospital, the Puerto Rico portion of the capital rate (25 percent) is multiplied by the Puerto Rico-specific GAF for the labor market area in which the hospital is located, and the national portion of the capital rate (75 percent) is multiplied by the national GAF for the labor market area in which the hospital is located (which is computed from national data for all hospitals in the United States and Puerto Rico). In FY 1998, we implemented a 17.78 percent reduction to the Puerto Rico capital rate as a result of Pub. L. 105-33. In FY 2003, a small part of that reduction was restored.

For FY 2006, before application of the GAF, the special capital rate for Puerto Rico hospitals was $201.93 for discharges occurring on or after October 1, 2005 through September 30, 2006. With the changes we are proposing to make to the factors used to determine the capital rate, the proposed FY 2007 special capital rate for Puerto Rico is $202.98.

B. Calculation of the Proposed Inpatient Capital-Related Prospective Payments for FY 2007

Because the 10-year capital PPS transition period ended in FY 2001, all hospitals (except “new” hospitals under § 412.324(b) and under § 412.304(c)(2)) are paid based on 100 percent of the capital Federal rate in FY 2006. The applicable capital Federal rate was determined by making adjustments as follows:

• For outliers, by dividing the capital standard Federal rate by the outlier reduction factor for that fiscal year; and

• For the payment adjustments applicable to the hospital, by multiplying the hospital's GAF, disproportionate share adjustment factor, and IME adjustment factor, when appropriate.

For purposes of calculating payments for each discharge during FY 2007, the capital standard Federal rate is adjusted as follows: (Standard Federal Rate) × (DRG weight) × (GAF) × (Large Urban Add-on, if applicable) × (COLA for hospitals located in Alaska and Hawaii) × (1 + Disproportionate Share Adjustment Factor + IME Adjustment Factor, if applicable). The result is the adjusted capital Federal rate.

Hospitals also may receive outlier payments for those cases that qualify under the thresholds established for each fiscal year. Section 412.312(c) provides for a single set of thresholds to identify outlier cases for both inpatient operating and inpatient capital-related payments. The proposed outlier thresholds for FY 2007 are in section II.A.4.c. of this Addendum. For FY 2007, a case qualifies as a cost outlier if the cost for the case plus the IME and DSH payments is greater than the prospective payment rate for the DRG plus $25,530.

An eligible hospital may also qualify for a special exceptions payment under § 412.348(g) for up through the 10th year beyond the end of the capital transition period if it meets: (1) A project need requirement described at § 412.348(g)(2), which in the case of certain urban hospitals includes an excess capacity test as described at § 412.348(g)(4); and (2) a project size requirement as described at § 412.348(g)(5). Eligible hospitals include SCHs, urban hospitals with at least 100 beds that have a DSH patient percentage of at least 20.2 percent or qualify for DSH payments under § 412.106(c)(2), and hospitals that have a combined Medicare and Medicaid inpatient utilization of at least 70 percent. Under § 412.348(g)(8), the amount of a special exceptions payment is determined by comparing the cumulative payments made to the hospital under the capital PPS to the cumulative minimum payment level. This amount is offset by: (1) Any amount by which a hospital's cumulative capital payments exceed its cumulative minimum payment levels applicable under the regular exceptions process for cost reporting periods beginning during which the hospital has been subject to the capital PPS; and (2) any amount by which a hospital's current year operating and capital payments (excluding 75 percent of operating DSH payments) exceed its operating and capital costs. Under § 412.348(g)(6), the minimum payment level is 70 percent for all eligible hospitals.

During the transition period, new hospitals (as defined under § 412.300) were exempt from the capital PPS for their first 2 years of operation and were paid 85 percent of their reasonable costs during that period. Effective with the third year of operation through the remainder of the transition period, under § 412.324(b), we paid the hospitals under the appropriate transition methodology (if the hold-harmless methodology were applicable, the hold-harmless payment for assets in use during the base period would extend for 8 years, even if the hold-harmless payments extend beyond the normal transition period).

Under § 412.304(c)(2), for cost reporting periods beginning on or after October 1, 2002, we pay a new hospital 85 percent of its reasonable costs during the first 2 years of operation unless it elects to receive payment based on 100 percent of the capital Federal rate. Effective with the third year of operation, we pay the hospital based on 100 percent of the capital Federal rate (that is, the same methodology used to pay all other hospitals subject to the capital PPS).

C. Capital Input Price Index

1. Background

Like the operating input price index, the capital input price index (CIPI) is a fixed-weight price index that measures the price changes associated with capital costs during a given year. The CIPI differs from the operating input price index in one important aspect—the CIPI reflects the vintage nature of capital, which is the acquisition and use of capital over time. Capital expenses in any given year are determined by the stock of capital in that year (that is, capital that remains on hand from all current and prior capital acquisitions). An index measuring capital price changes needs to reflect this vintage nature of capital. Therefore, the CIPI was developed to capture the vintage nature of capital by using a weighted-average of past capital purchase prices up to and including the current year.

We periodically update the base year for the operating and capital input prices to reflect the changing composition of inputs for operating and capital expenses. The CIPI was last rebased to FY 2002 in the FY 2006 IPPS final rule (70 FR 47387).

2. Forecast of the CIPI for FY 2007

Based on the latest forecast by Global Insight, Inc. (first quarter of 2006), we are forecasting the CIPI to increase 0.8 percent in FY 2007. This reflects a projected 1.4 percent increase in vintage-weighted depreciation prices (building and fixed equipment, and movable equipment) and a 3.0 percent increase in other capital expense prices in FY 2007, partially offset by a 2.3 percent decline in vintage-weighted interest expenses in FY 2007. The weighted average of these three factors produces the 0.8 percent increase for the CIPI as a whole in FY 2007.

IV. Payment Rates for Excluded Hospitals and Hospital Units: Proposed Rate-of-Increase Percentages

(If you choose to comment on issues in this section, please include the caption “Excluded Hospitals Rate of Increase” at the beginning of your comment.)

A. Payments to Existing Excluded Hospitals and Units

As discussed in section VI. of the preamble of this proposed rule, the inpatient operating costs of children's hospitals and cancer hospitals that are excluded from the IPPS are paid on the basis of reasonable cost subject to the rate-of-increase ceiling established under the authority of sections 1886(b)(3)(A)(i) and (ii) of the Act and § 413.40 of the regulations. The ceiling is based on a target amount per discharge under TEFRA. In addition, in accordance with § 403.752(a) of the regulations, RNHCIs also are paid under § 413.40 which uses section 1886(b)(3)(B)(ii) of the Act to update the percentage increase in the rate of increase limits. The most recent proposed projected forecast of the market basket percentage increase for FY 2007 for children's hospitals, cancer hospitals, and RNHCIs using the IPPS market basket (70 FR 47396 through 47405) is 3.4 percent.

LTCHs, rehabilitation hospitals and units, and psychiatric hospitals and units, historically, were excluded from the IPPS and subject to the rate-of-increase limits under § 413.40, as well. However, prospective payment systems have been developed for each of the three types of hospitals, and each kind of hospital is currently paid under its own PPS, either at 100 percent of the Federal rate or according to a transition period methodology, if applicable. (For more detailed discussion of these payment methodologies, see 69 FR 49190; 69 FR 66922; 68 FR 45674; and 67 FR 55954.)

For cost reporting periods beginning on or after October 1, 2002, to the extent a LTCH or a psychiatric hospital or unit has all or a portion of its payment determined under reasonable cost principles, the target amounts for the reasonable cost-based portion of the blended payment are determined in accordance with sections 1886(b)(3)(A)(i) and 1886(b)(3)(B)(ii) of the Act and the regulations at § 413.40(c)(4)(ii). Section 413.40(c)(4)(ii) states, “Subject to the provisions of [§ 413.40], paragraph (c)(4)(iii) of this section, for subsequent cost reporting periods, the target amount equals the hospital's target amount for the previous cost reporting period increased by the update factor for the subject cost reporting period, unless the provisions of [§ 413.40] paragraph (c)(5)(ii) of this section apply.” Thus, because § 413.40(c)(4)(ii) indicates that the provisions of that paragraph are subject to the provisions of § 413.40(c)(4)(iii), which are applicable only for cost reporting periods beginning on or after October 1, 1997 through September 30, 2002, the target amount for FY 2003 is determined by updating the target amount for FY 2002 by the applicable update factor. For example, if a provider was paid the cap amount for FY 2002 (§ 413.40(c)(4)(iii)), the target amount for FY 2003 would be the amount paid in FY 2002, updated to FY 2003 (that is, the target amount from the previous year increased by the applicable update factor).

Effective for cost reporting periods beginning on or after October 1, 2002, IRFs are paid 100 percent of the adjusted Federal prospective payment rate under the IRP PPS.

Effective for cost reporting periods beginning on or after October 1, 2002, LTCHs also are no longer paid on a reasonable cost basis, but are paid under a LTCH DRG-based PPS. In implementing the LTCH PPS, an existing LTCH (that is, not defined as new under § 412.23(e)(4)) could have elected to be paid based on 100 percent of the standard Federal prospective payment rate during the transition period. However, we also established a 5-year transition period from reasonable cost-based payments (subject to the TEFRA limit) to fully Federal prospective payment amounts during which an existing LTCH could receive a PPS-blended payment consisting of two payment components—one based on reasonable cost under the TEFRA payment system, and the other based on the standard Federal prospective payment rate.

Effective for cost reporting periods that will begin on or after October 1, 2006, the LTCHs that receive payment based on a blended payment amount will no longer receive a portion of their payment that is based, in part, on reasonable cost subject to the rate-of-ceiling under § 413.40. This is because, in accordance with § 412.533, LTCHs are paid 100 percent of the adjusted Federal prospective payment amount and zero percent of the amount calculated under reasonable cost principles for cost reporting periods beginning on or after October 1, 2006.

As part of the PPS for existing IPFs, we have established a 3-year transition period during which existing IPFs will be paid based on a blend of reasonable cost-based payment (subject to the TEFRA limit) and the prospective per diem payment rate. IPFs that are paid under a blended methodology will have the reasonable cost-based portion of their payment subject to a hospital target amount. The most recent proposed projected forecast of the market basket percentage increase for FY 2007 for the reasonable cost-based portion of an IPF's payment using the excluded hospital market basket (70 FR 47396 through 47405) is 3.6 percent. For cost reporting periods beginning on or after January 1, 2008, IPFs will be paid 100 percent of the Federal prospective per diem amount.

The proposed market basket percentage increases for FY 2007 are made by CMS' Office of the Actuary and reflect the average change in the price of goods and services purchased by hospitals to furnish inpatient hospital care. As discussed in section IV. of the preamble in the FY 2006 IPPS final rule, we use the IPPS market basket for children's hospitals, cancer hospitals, and RNHCIs, and the excluded hospital market basket for LTCHs, and IPFs for the reasonable cost portion of its payment to the extent a portion of its PPS payment is based on reasonable costs. We are not proposing any changes to our method of calculating the hospital market basket for IPPS or for excluded hospitals. As we indicated above, the proposed IPPS market basket is 3.4 percent and the proposed excluded hospital market basket is 3.6 percent.

B. New Excluded Hospitals and Units

Section 1886(b)(7) of the Act established a payment methodology for new (cost reporting periods beginning on or after October 1, 1997) rehabilitation hospitals and units, psychiatric hospitals and units, and LTCHs. For the first two 12-month cost reporting periods, payment was based on the lower of the hospital's net inpatient operating costs or 110 percent of the national median of target amounts for the particular class of hospital for FY 1996, updated to the applicable cost reporting period, and adjusted for differences in area wage levels. Consequently, beginning with the FY 1998 IPPS final rule, we published annually in the Federal Register, the updated 110 percent median of the wage-neutral national target amounts, divided into the labor and nonlabor-related share, for each of the three classes of providers affected by the payment limitation. As explained in the FY 2006 IPPS final rule (70 FR 47466 through 47467), the charts containing the updated 110 percent median payment amount information are no longer needed and are discontinued.

V. Proposed Payment for Blood Clotting Factor Administered to Inpatient With Hemophilia

(If you choose to comment on issues in this section, please include the caption “Blood Clotting Factor Payment Rate” at the beginning of your comment.)

As discussed in section VIII. of the preamble to this proposed rule, in the FY 2006 IPPS final rule (70 FR 47473), we amended our regulations at §§ 412.2(f)(8) and 412.115(b) to state that, for discharges occurring on or after October 1, 2005, we make payment for blood clotting factor administered to hospital inpatients using the Medicare Part B payment amounts for blood clotting factor as determined under Subpart K of 48 CFR Part 414 and for the furnished fee as determined under § 410.63.

In accordance with § 410.63(c)(2) and our November 21, 2005 regulations (70 FR 70225), the furnishing fee for blood clotting factor for CY 2006 was determined to be $0.146 per individual unit (I.U.). Although the furnishing fee payment rate is calculated at 3 digits, the actual amount paid to providers and suppliers is rounded to 2 digits. In section VIII of the preamble to this proposed rule, we are proposing that the fiscal intermediaries continue to make payment amounts for blood clotting factor administered to hemophilia inpatients using the Medicare Part B payment amounts determined under Subpart K of 42 CFR Part 414 and that payment amounts for the furnishing fee for the blood clotting factor be calculated at 3 digits, currently at $0.146 per I.U. of blood clotting factor.

The fiscal intermediaries continue to use the Medicare Part B Drug Pricing File to make payments for blood clotting factors. The furnishing fee is included in the ASP price per unit sent with the Medicare Part B Drug Pricing File that is updated quarterly. By using the Medicare Part B Drug Pricing File, Medicare will be making consistent payments for blood clotting factor provided to inpatients and outpatients. For further updates on pricing, we refer reader to the Medicare Part B drug pricing regulations.

VI. Tables

This section contains the tables referred to throughout the preamble to this proposed rule and in this Addendum. Tables 1A, 1B, 1C, 1D, 2, 3A, 3B, 4A-1, 4A-2, 4B, 4C-1, 4C-2, 4F, 4J, 5, 6A, 6B, 6C, 6D, 6E, 6F, 6G, 6H, 7A, 7B, 8A, 8B, 8C, 9A, 9B, 9C, 10, and 11 are presented below. The tables presented below are as follows:

Table 1A—National Adjusted Operating Standardized Amounts, Labor/Nonlabor (69.7 Percent Labor Share/30.3 Percent Nonlabor Share If Wage Index Is Greater Than 1)

Table 1B—National Adjusted Operating Standardized Amounts, Labor/Nonlabor (62 Percent Labor Share/38 Percent Nonlabor Share If Wage Index Is Less Than or Equal To 1)

Table 1C—Adjusted Operating Standardized Amounts for Puerto Rico, Labor/Nonlabor

Table 1D—Capital Standard Federal Payment Rate

Table 2—Hospital Case-Mix Indexes for Discharges Occurring in Federal Fiscal Year 2005; Hospital Wage Indexes for Federal Fiscal Year 2007; Hospital Average Hourly Wage for Federal Fiscal Years 2005 (2001 Wage Data), 2006 (2002 Wage Data), and 2007 (2003 Wage Data); Wage Indexes and 3-Year Average of Hospital Average Hourly Wages

Table 3A—FY 2007 and 3-Year Average Hourly Wage for Urban Areas by CBSA

Table 3B—FY 2007 and 3-Year Average Hourly Wage for Rural Areas by CBSA

Table 4A-1—Wage Index and Capital Geographic Adjustment Factor (GAF) for Urban Areas by CBSA—FY 2007

Table 4A-2—Wage Index and Capital Geographic Adjustment Factor (GAF) for Certain Urban Areas by CBSA for the Period April 1 through September 30, 2007

Table 4B—Wage Index and Capital Geographic Adjustment Factor (GAF) for Rural Areas by CBSA—FY 2007

Table 4C-1—Wage Index and Capital Geographic Adjustment Factor (GAF) for Hospitals That Are Reclassified by CBSA—FY 2007

Table 4C-2—Wage Index and Capital Geographic Adjustment Factor (GAF) for Certain Hospitals That Are Reclassified by CBSA for the Period April 1 through September 30, 2007

Table 4F—Puerto Rico Wage Index and Capital Geographic Adjustment Factor (GAF) by CBSA—FY 2007

Table 4J—Out-Migration Adjustment—FY 2007

Table 5—List of Diagnosis-Related Groups (DRGs), Relative Weighting Factors, and Geometric and Arithmetic Mean Length of Stay (LOS)

Table 6A—New Diagnosis Codes

Table 6B—New Procedure Codes

Table 6C—Invalid Diagnosis Codes

Table 6D—Invalid Procedure Codes

Table 6E—Revised Diagnosis Code Titles

Table 6F—Revised Procedure Code Titles

Table 6G—Additions to the CC Exclusions List

Table 6H—Deletions from the CC Exclusions List

Table 7A—Medicare Prospective Payment System Selected Percentile Lengths of Stay: FY 2005 MedPAR Update December 2005 GROUPER V23.0

Table 7B—Medicare Prospective Payment System Selected Percentile Lengths of Stay: FY 2005 MedPAR Update December 2005 GROUPER V24.0

Table 8A—Statewide Average Operating Cost-to-Charge Ratios—March 2006

Table 8B—Statewide Average Capital Cost-to-Charge Ratios—March 2006

Table 8C—Statewide Average Total Cost-to-Charge Ratios for LTCHs—March 2006

Table 9A—Hospital Reclassifications and Redesignations by Individual Hospital and CBSA—FY 2007

Table 9B—Hospital Reclassifications and Redesignations by Individual Hospital Under Section 508 of Pub. L. 108-173—FY 2007

Table 9C—Hospitals Redesignated as Rural under Section 1886(d)(8)(E) of the Act—FY 2007

Table 10—Geometric Mean Plus the Lesser of .75 of the National Adjusted Operating Standardized Payment Amount (Increased to Reflect the Difference Between Costs and Charges) or .75 of One Standard Deviation of Mean Charges by Diagnosis-Related Group (DRG)—March 2006

Table 11—Proposed FY 2007 LTC-DRGs, Relative Weights, Geometric Average Length of Stay, and 5/6ths of the Geometric Average Length of Stay

Table 1A.—National Adjusted Operating Standardized Amounts, Labor/Nonlabor
[69.7 Percent Labor Share/30.3 Percent Nonlabor Share If Wage Index Greater Than 1]
Full update (3.4 percent): Labor-related | Full update (3.4 percent): Nonlabor-related | Reduced update (1.4 percent): Labor-related | Reduced update (1.4 percent): Nonlabor-related
$3,404.27 | $1,479.90 | $3,338.42 | $1,451.28

Table 1B.—National Adjusted Operating Standardized Amounts, Labor/Nonlabor
[62 Percent Labor Share/38 Percent Nonlabor Share If Wage Index Less Than or Equal to 1]
Full update (3.4 percent): Labor-related | Full update (3.4 percent): Nonlabor-related | Reduced update (1.4 percent): Labor-related | Reduced update (1.4 percent): Nonlabor-related
$3,028.19 | $1,855.98 | $2,969.62 | $1,820.08

Table 1C.—Adjusted Operating Standardized Amounts For Puerto Rico, Labor/Nonlabor
| Rates if wage index greater than 1: Labor | Rates if wage index greater than 1: Nonlabor | Rates if wage index less than or equal to 1: Labor | Rates if wage index less than or equal to 1: Nonlabor
National | $3,404.27 | $1,479.90 | $3,028.19 | $1,855.98
Puerto Rico | 1,442.78 | 884.28 | 1,365.99 | 961.07

Table 1D.—Capital Standard Federal Payment Rate
| Rate
National | $424.42
Puerto Rico | 202.98

Table 2.—Hospital Case-Mix Indexes for Discharges Occurring in Federal Fiscal Year 2005; Hospital Wage Indexes for Federal Fiscal Year 2007; Hospital Average Hourly Wages for Federal Fiscal Years 2005 (2001 Wage Data), 2006 (2002 Wage Data), and 2007 (2003 Wage Data); Wage Indexes and 3-Year Average of Hospital Average Hourly Wages
Provider No. | Case-mix index ³ | FY 2007 wage index (10/1/2006-3/31/2007) | FY 2007 wage index (4/1/2007- 9/30/2007) | Average hourly wage FY 2005 ¹ | Average hourly wage FY 2006 ¹ | Average hourly wage FY 2007 ¹ | Average hourly wage** (3 years)
010001 | 1.4947 | 0.7670 | 0.7670 | 20.6563 | 21.6546 | 22.0902 | 21.4932
010004 | *** | * | * | 22.7585 | * | * | 22.7585
010005 ʰ | 1.1314 | 0.8919 | 0.8919 | 20.4937 | 22.4906 | 23.8467 | 22.3126
010006 | 1.4662 | 0.8008 | 0.8008 | 21.0241 | 23.4823 | 23.8950 | 22.7642
010007 | 1.0715 | 0.7670 | 0.7670 | 16.8811 | 18.2430 | 19.0895 | 18.0746
010008 | 0.9849 | 0.8035 | 0.8035 | 23.8333 | 20.4591 | 17.3246 | 20.3331
010009 | 0.9669 | 0.8829 | 0.8829 | 21.6422 | 23.2229 | 23.6476 | 22.8732
010010 ʰ | 1.0466 | 0.9286 | 0.9286 | 22.3021 | 21.4974 | 26.9296 | 23.3707
010011 | 1.6004 | 0.8919 | 0.8919 | 24.8166 | 27.4850 | 28.1598 | 26.8482
010012 | 1.2403 | 0.8841 | 0.8841 | 21.7622 | 22.7020 | 24.7514 | 23.0667
010015 | 1.0209 | 0.7670 | 0.7670 | 20.4732 | 21.5111 | 22.2383 | 21.4475
010016 | 1.5262 | 0.8919 | 0.8919 | 23.0414 | 25.1502 | 25.3918 | 24.5277
010018 | 1.4713 | 0.8919 | 0.8919 | 20.5888 | 22.2990 | 23.4042 | 22.0807
010019 | 1.2326 | 0.8008 | 0.8008 | 20.1336 | 22.0906 | 22.7718 | 21.6962
010021 ʰ | 1.2234 | 0.7670 | 0.7670 | 20.7108 | 18.6785 | 19.2877 | 19.5086
010022 | 0.9812 | 0.9307 | 0.9307 | 25.8797 | 24.5670 | 26.0470 | 25.5065
010023 | 1.9126 | 0.8035 | 0.8035 | 23.7791 | 27.6174 | 25.9797 | 25.7195
010024 | 1.6759 | 0.8035 | 0.8035 | 20.0067 | 20.7265 | 21.9289 | 20.8398
010025 | 1.2800 | 0.8256 | 0.8256 | 19.8561 | 21.2674 | 22.9338 | 21.3262
010027 | 0.7764 | 0.7670 | 0.7670 | 14.9585 | 15.3704 | 16.1874 | 15.4627
010029 | 1.5817 | 0.8256 | 0.8256 | 21.6724 | 22.6976 | 24.0249 | 22.8346
010031 | *** | * | * | 20.9463 | * | * | 20.9463
010032 | 0.8957 | 0.7670 | 0.7670 | 18.5073 | 19.1555 | 17.6770 | 18.4274
010033 | 2.0838 | 0.8919 | 0.8919 | 25.5165 | 26.3784 | 27.2283 | 26.3825
010034 | 0.9964 | 0.8035 | 0.8035 | 17.1625 | 16.9686 | 16.8532 | 16.9851
010035 | 1.2688 | 0.8919 | 0.8919 | 23.1319 | 22.2870 | 24.4137 | 23.2651
010036 | 1.1331 | 0.7670 | 0.7670 | 20.5125 | 22.9747 | 21.3352 | 21.6253
010038 | 1.3544 | 0.8040 | 0.8040 | 20.3935 | 21.4509 | 23.8325 | 21.9490
010039 | 1.6215 | 0.9027 | 0.9027 | 23.4151 | 25.8820 | 26.9189 | 25.4404
010040 | 1.6072 | 0.8107 | 0.8107 | 21.6708 | 22.8851 | 25.2353 | 23.2539
010043 | 1.0549 | 0.8919 | 0.8919 | 19.5422 | 22.5945 | 22.3782 | 21.5638
010044 | 1.0631 | 0.8919 | 0.8919 | 23.0220 | 21.4036 | 23.4140 | 22.5922
010045 | 1.1631 | 0.8919 | 0.8919 | 20.5658 | 19.8803 | 21.3661 | 20.5979
010046 | 1.5002 | 0.8107 | 0.8107 | 20.8935 | 21.6965 | 22.5938 | 21.7035
010047 | 0.8900 | 0.7825 | 0.7825 | 19.5937 | 21.0604 | 24.7497 | 21.7929
010049 | 1.1465 | 0.7670 | 0.7670 | 17.7801 | 20.2413 | 21.7057 | 19.9626
010050 | 1.0283 | 0.8919 | 0.8919 | 21.5625 | 22.1584 | 23.7598 | 22.4501
010051 | 0.8413 | 0.8644 | 0.8644 | 14.7053 | 15.2208 | 16.2672 | 15.4065
010052 | 0.8875 | 0.7791 | 0.7791 | 21.3673 | 16.4959 | 35.3506 | 23.1645
010053 | 1.0530 | * | * | 17.4160 | 19.0108 | * | 18.2193
010054 | 1.0888 | 0.8829 | 0.8829 | 23.1894 | 22.5554 | 23.2781 | 23.0051
010055 | 1.5338 | 0.7670 | 0.7670 | 19.1847 | 22.3800 | 22.4711 | 21.3064
010056 | 1.5870 | 0.8919 | 0.8919 | 22.7183 | 23.7144 | 23.9525 | 23.4706
010058 | 0.9554 | 0.8919 | 0.8919 | 20.3182 | 18.5537 | 18.7069 | 19.3775
010059 | 1.0321 | 0.8829 | 0.8829 | 23.6963 | 21.3237 | 22.9583 | 22.7109
010061 | 1.0134 | 0.8176 | 0.8176 | 20.5683 | 21.9370 | 26.4117 | 23.1046
010062 | 1.0729 | 0.7670 | 0.7670 | 18.1323 | 18.3435 | 20.1842 | 18.8535
010064 | 1.7037 | 0.8919 | 0.8919 | 25.4345 | 26.1110 | 25.8259 | 25.7663
010065 | 1.4924 | 0.8035 | 0.8035 | 20.0108 | 21.3785 | 23.3126 | 21.5967
010066 | 0.8390 | 0.7670 | 0.7670 | 17.0935 | 17.6152 | 19.9192 | 18.2254
010068 | *** | * | * | 17.5690 | 19.0789 | 22.7410 | 19.7954
010069 | 1.0208 | 0.7670 | 0.7670 | 19.6317 | 21.3608 | 22.9841 | 21.2452
010072 | *** | * | * | 21.5419 | 21.8169 | 24.5806 | 22.6157
010073 | 0.9714 | 0.7670 | 0.7670 | 16.4043 | 16.4168 | 17.2624 | 16.6999
010078 | 1.5197 | 0.8040 | 0.8040 | 21.0633 | 21.6857 | 23.2584 | 22.0108
010079 | 1.1653 | 0.9027 | 0.9027 | 20.4254 | 21.8199 | 22.9204 | 21.7330
010083 ʰ | 1.1662 | 0.7999 | 0.7999 | 20.2166 | 22.3041 | 22.2041 | 21.5896
010084 | 1.4968 | 0.8919 | 0.8919 | 22.5219 | 24.7127 | 26.7869 | 24.6686
010085 | 1.3213 | 0.8829 | 0.8829 | 23.7007 | 24.4710 | 24.9367 | 24.3634
010086 | 1.0963 | 0.7670 | 0.7670 | 19.4332 | 18.6081 | 22.6793 | 20.2158
010087 | 1.9768 | 0.7955 | 0.7955 | 21.6226 | 22.5225 | 23.2584 | 22.4539
010089 | 1.2732 | 0.8919 | 0.8919 | 22.2508 | 22.8448 | 25.7005 | 23.6155
010090 | 1.7279 | 0.7955 | 0.7955 | 21.4322 | 23.6948 | 26.3719 | 23.7551
010091 | 0.9676 | 0.7670 | 0.7670 | 19.4222 | 18.6912 | 21.7995 | 19.8855
010092 | 1.6101 | 0.8644 | 0.8644 | 22.0709 | 24.4592 | 26.0211 | 24.1412
010095 | 0.8483 | 0.8644 | 0.8644 | 13.4426 | 13.9326 | 14.2458 | 13.8767
010097 | 0.7214 | 0.8035 | 0.8035 | 17.1735 | 16.7548 | 19.7546 | 17.8691
010098 | 1.0614 | 0.7670 | 0.7670 | 19.6717 | 14.3076 | 19.7314 | 17.4056
010099 | 1.0007 | 0.7670 | 0.7670 | 18.1849 | 18.7909 | 20.5469 | 19.1587
010100 ʰ | 1.6896 | 0.7999 | 0.7999 | 20.0027 | 21.2915 | 23.6080 | 21.6931
010101 | 1.1300 | 0.7978 | 0.7978 | 21.0085 | 21.6593 | 24.1741 | 22.2531
010102 | 0.9498 | 0.7670 | 0.7670 | 19.9196 | 21.0903 | 24.0016 | 21.7005
010103 | 1.9055 | 0.8919 | 0.8919 | 24.2201 | 26.1163 | 27.4955 | 25.9641
010104 | 1.8131 | 0.8919 | 0.8919 | 24.1929 | 24.7394 | 27.7171 | 25.5564
010108 | 1.1587 | 0.8035 | 0.8035 | 23.7803 | 28.4624 | 25.2790 | 25.7731
010109 | 0.9898 | 0.8121 | 0.8121 | 21.7128 | 21.6194 | 17.8168 | 20.3493
010110 | 0.7972 | 0.7670 | 0.7670 | 19.2706 | 17.5957 | 22.8948 | 19.6997
010112 | 1.0411 | 0.7670 | 0.7670 | 17.2963 | 16.8902 | 16.6350 | 16.9597
010113 | 1.6585 | 0.7955 | 0.7955 | 20.4181 | 21.4121 | 22.5051 | 21.4462
010114 | 1.3874 | 0.8919 | 0.8919 | 21.5319 | 22.3752 | 24.9211 | 22.9538
010115 | 0.8657 | * | * | 17.5985 | 21.7478 | * | 19.2200
010118 | 1.2164 | 0.7785 | 0.7785 | 18.8560 | 19.7673 | 21.4598 | 20.1886
010119 | *** | * | * | 21.8215 | * | * | 21.8215
010120 | 0.9951 | 0.7670 | 0.7670 | 20.5855 | 20.9450 | 21.0977 | 20.8812
010121 | *** | * | * | 17.0329 | 24.0867 | * | 19.3686
010125 | 1.0529 | 0.7670 | 0.7670 | 16.8419 | 18.4114 | 21.5078 | 18.8306
010126 | 1.1487 | 0.8035 | 0.8035 | 23.1856 | 23.1381 | 23.4829 | 23.2663
010128 | 0.8668 | 0.7670 | 0.7670 | 17.9354 | 21.4201 | 22.0056 | 20.5563
010129 ʰ | 1.0141 | 0.8076 | 0.8076 | 18.7821 | 21.3555 | 22.7075 | 21.0365
010130 | 0.9442 | 0.8919 | 0.8919 | 18.4944 | 23.2488 | 24.8205 | 21.9717
010131 | 1.3884 | 0.9027 | 0.9027 | 24.2197 | 25.7837 | 27.7993 | 26.0170
010137 | 1.2455 | 0.8919 | 0.8919 | 29.7665 | 24.7366 | 26.6554 | 26.9261
010138 | 0.6116 | 0.7670 | 0.7670 | 13.5082 | 13.8475 | 14.4665 | 13.9564
010139 | 1.5878 | 0.8919 | 0.8919 | 24.9410 | 25.3014 | 26.7377 | 25.6921
010143 | 1.1706 | 0.8919 | 0.8919 | 22.1312 | 22.0215 | 26.1276 | 23.4216
010144 | 1.5785 | 0.7955 | 0.7955 | 20.6425 | 20.8209 | 22.3801 | 21.3097
010145 | 1.3931 | 0.8644 | 0.8644 | 23.1976 | 24.9531 | 25.7002 | 24.6568
010146 | 1.1068 | 0.8040 | 0.8040 | 19.9944 | 20.8917 | 22.8918 | 21.2823
010148 | 0.8957 | 0.7670 | 0.7670 | 18.5309 | 20.5589 | 23.1208 | 20.7425
010149 | 1.2762 | 0.8035 | 0.8035 | 23.1593 | 26.5854 | 25.2688 | 24.9404
010150 | 1.0607 | 0.8035 | 0.8035 | 20.6738 | 21.6377 | 23.5727 | 21.9452
010152 | 1.1816 | 0.7955 | 0.7955 | 22.1626 | 22.6202 | 23.0833 | 22.6354
010157 | 1.1543 | 0.8008 | 0.8008 | 21.3574 | 24.3560 | 24.4951 | 23.3774
010158 | 1.1432 | 0.8220 | 0.8220 | 22.4440 | 24.3531 | 24.3408 | 23.6867
010161 | *** | * | * | 27.5119 | * | * | 27.5119
010162 | *** | * | * | * | * | 30.6197 | 30.6197
010164 | 1.1708 | 0.7978 | 0.7978 | * | * | * | *
010165 | 1.5089 | 0.9027 | 0.9027 | * | * | * | *
010166 | 1.7090 | * | * | * | * | * | *
020001 | 1.6912 | 1.2062 | 1.2062 | 31.6091 | 32.8120 | 35.3482 | 33.3208
020004 | 1.1433 | 1.0669 | 1.0669 | 29.9926 | 32.0966 | 31.4487 | 31.1921
020006 | 1.2733 | 1.2062 | 1.2062 | 33.4210 | 36.0540 | 35.6547 | 35.1161
020008 | 1.2806 | 1.2062 | 1.2062 | 34.5856 | 35.9236 | 36.2733 | 35.6184
020012 | 1.3394 | 1.1063 | 1.1063 | 29.3419 | 31.8995 | 32.7496 | 31.3425
020014 | 1.1853 | 1.0669 | 1.0669 | 32.1233 | 32.0893 | 30.0133 | 31.3617
020017 | 1.9918 | 1.2062 | 1.2062 | 32.9281 | 33.5852 | 36.7983 | 34.4089
020018 | 0.9347 | 1.9343 | 1.9343 | * | * | * | *
020019 | 0.9039 | 1.9343 | 1.9343 | * | * | * | *
020020 | 0.8722 | * | * | * | * | * | *
020024 | 1.1284 | 1.0669 | 1.0669 | 27.9799 | 33.0644 | 29.0436 | 30.0116
020026 | 1.6273 | 1.9343 | 1.9343 | * | * | * | *
020027 | 0.8979 | 1.9343 | 1.9343 | * | * | * | *
030001 | 1.4328 | 1.0307 | 1.0307 | 27.7572 | 29.9840 | 33.2450 | 30.4046
030002 | 2.0991 | 1.0307 | 1.0307 | 27.9628 | 29.0519 | 30.2114 | 29.0057
030006 | 1.6331 | 0.9239 | 0.9239 | 24.0169 | 25.8872 | 26.2503 | 25.4671
030007 | 1.4120 | 1.1121 | 1.1121 | 26.9442 | 29.6174 | 31.2754 | 29.3738
030009 | *** | * | * | 21.4065 | 22.3992 | 26.0201 | 22.5654
030010 | 1.3771 | 0.9239 | 0.9239 | 22.8647 | 24.8275 | 28.0899 | 25.2470
030011 | 1.4547 | 0.9239 | 0.9239 | 22.8422 | 25.1361 | 27.5948 | 25.3205
030012 | 1.3826 | 0.9858 | 0.9858 | 25.5205 | 26.3859 | 27.7968 | 26.6212
030013 | 1.4350 | 0.9179 | 0.9179 | 23.5229 | 25.7050 | 27.1721 | 25.5234
030014 | 1.4890 | 1.0307 | 1.0307 | 25.1189 | 25.6259 | 28.4109 | 26.3536
030016 | 1.2235 | 1.0307 | 1.0307 | 27.1583 | 26.7003 | 28.5953 | 27.4983
030017 | 2.0967 | 1.0307 | 1.0307 | 24.4055 | 26.2452 | 31.2902 | 27.3461
030018 | 1.2445 | 1.0307 | 1.0307 | 24.4308 | 28.9476 | 30.0034 | 27.5160
030019 | 1.3225 | 1.0307 | 1.0307 | 28.4917 | 27.3156 | 30.4092 | 28.8240
030022 | 1.5620 | 1.0307 | 1.0307 | 25.1461 | 26.4404 | 30.9356 | 27.5456
030023 | 1.6994 | 1.1611 | 1.1611 | 28.4112 | 33.8333 | 34.3731 | 32.2119
030024 | 2.0605 | 1.0307 | 1.0307 | 28.3470 | 31.6658 | 33.8834 | 31.3965
030027 | 0.9510 | * | * | 21.0527 | 20.4031 | * | 20.7264
030030 | 1.5508 | 1.0307 | 1.0307 | 24.6005 | 30.2712 | 32.7083 | 29.0268
030033 | 1.2744 | 1.1121 | 1.1121 | 26.6009 | 26.6531 | 28.3920 | 27.2450
030036 | 1.4226 | 1.0307 | 1.0307 | 26.5708 | 30.3521 | 31.8947 | 29.8589
030037 | 2.2721 | 1.0307 | 1.0307 | 30.3907 | 28.6453 | 32.1766 | 30.5501
030038 | 1.6855 | 1.0307 | 1.0307 | 26.5178 | 29.5509 | 30.7744 | 29.0959
030040 | 0.9044 | 0.9158 | 0.9158 | 22.5130 | 24.8145 | 27.0303 | 24.8110
030043 | 1.2719 | 0.9158 | 0.9158 | 26.0825 | 24.7932 | 24.7174 | 25.1254
030044 | 0.8466 | * | * | 19.5714 | * | * | 19.5714
030055 ʰ | 1.4275 | 1.1417 | 1.1417 | 23.1837 | 24.5202 | 27.1476 | 25.0481
030059 | *** | * | * | 24.7676 | * | * | 24.7676
030060 | 1.1831 | 0.9158 | 0.9158 | 22.3551 | 24.3523 | 25.0412 | 23.8848
030061 | 1.6392 | 1.0307 | 1.0307 | 23.4722 | 25.5529 | 28.9415 | 26.0923
030062 | 1.2655 | 0.9158 | 0.9158 | 21.9849 | 23.8068 | 26.5482 | 24.1628
030064 | 1.9610 | 0.9239 | 0.9239 | 24.6732 | 25.4922 | 28.3696 | 26.2797
030065 | 1.6072 | 1.0307 | 1.0307 | 25.6738 | 27.1646 | 29.2736 | 27.4560
030067 | 1.0836 | 0.9158 | 0.9158 | 19.1332 | 20.4376 | 20.6472 | 20.0627
030068 | 1.1530 | 0.9158 | 0.9158 | 19.7030 | 20.8846 | 22.1437 | 20.9244
030069 ʰ | 1.3792 | 1.1417 | 1.1417 | 25.6243 | 26.3518 | 30.5875 | 27.3999
030071 | 0.9063 | 1.4448 | 1.4448 | * | * | * | *
030073 | 0.8491 | 1.4448 | 1.4448 | * | * | * | *
030074 | 0.9153 | 1.4448 | 1.4448 | * | * | * | *
030077 | 0.8067 | 1.4448 | 1.4448 | * | * | * | *
030078 | 0.9638 | 1.4448 | 1.4448 | * | * | * | *
030080 | 1.4675 | 0.9239 | 0.9239 | 24.3573 | 25.2077 | 26.8022 | 25.4224
030083 | 1.3724 | 1.0307 | 1.0307 | 24.9269 | 27.5353 | 28.0562 | 26.8708
030084 | 0.8694 | 1.4448 | 1.4448 | * | * | * | *
030085 | 1.5851 | 0.9239 | 0.9239 | 23.2070 | 24.5792 | 26.3130 | 24.7847
030087 | 1.6022 | 1.0307 | 1.0307 | 26.3878 | 26.6594 | 30.1137 | 27.8776
030088 | 1.3772 | 1.0307 | 1.0307 | 23.2478 | 26.6796 | 28.0619 | 26.0537
030089 | 1.5203 | 1.0307 | 1.0307 | 26.2166 | 27.1835 | 28.3816 | 27.3548
030092 | 1.4300 | 1.0307 | 1.0307 | 25.4127 | 27.3203 | 30.6136 | 27.9388
030093 | 1.2279 | 1.0307 | 1.0307 | 23.5623 | 25.8955 | 27.5072 | 25.9035
030094 | 1.3717 | 1.0307 | 1.0307 | 26.9985 | 29.5948 | 32.6317 | 29.7783
030099 | 0.8328 | 0.9158 | 0.9158 | 26.7996 | 26.3236 | 25.9313 | 26.3941
030100 | 2.0714 | 0.9239 | 0.9239 | * | 29.0691 | 29.5931 | 29.3347
030101 ʰ | 1.4542 | 1.1417 | 1.1417 | 25.0077 | 26.1927 | 27.6535 | 26.3284
030102 | 2.6166 | 1.0307 | 1.0307 | * | 29.0942 | 29.6919 | 29.4041
030103 | 1.6786 | 1.0307 | 1.0307 | 28.2832 | 30.1994 | 32.9960 | 30.4822
030105 | 2.3179 | 1.0307 | 1.0307 | 27.6900 | 31.3094 | 31.9342 | 30.6375
030106 | 1.6852 | 1.0307 | 1.0307 | 30.4791 | 34.7222 | 34.0269 | 32.6905
030107 | 1.9370 | 1.0307 | 1.0307 | * | * | 34.7976 | 34.7976
030108 | 2.1298 | 1.0307 | 1.0307 | * | * | * | *
030109 | 2.6413 | 1.0307 | 1.0307 | * | * | 16.7958 | 16.7958
030110 | 1.4204 | 1.0307 | 1.0307 | * | * | 33.6019 | 33.6019
030111 | 1.0628 | 0.9239 | 0.9239 | * | * | * | *
030112 | 1.9419 | 1.0307 | 1.0307 | * | * | * | *
030113 | 0.9339 | * | * | * | * | * | *
030114 | 1.3901 | * | * | * | * | * | *
030115 | 1.3316 | * | * | * | * | * | *
040001 | 1.0958 | 0.8779 | 0.8779 | 23.1475 | 23.7718 | 21.8122 | 22.8805
040002 | 1.2276 | 0.7366 | 0.7366 | 19.3429 | 20.1384 | 20.4562 | 20.0058
040003 | 1.2375 | * | * | 18.5000 | * | * | 18.5000
040004 | 1.6200 | 0.8779 | 0.8779 | 23.3504 | 25.0286 | 26.2802 | 24.9024
040007 | 1.7125 | 0.8918 | 0.8918 | 23.4565 | 25.7142 | 27.2033 | 25.4311
040010 | 1.3944 | 0.8779 | 0.8779 | 22.0984 | 23.0274 | 24.1107 | 23.1027
040011 | 1.0404 | 0.7366 | 0.7366 | 19.0319 | 20.3970 | 20.3176 | 19.9412
040014 | 1.4709 | 0.8667 | 0.8667 | 24.0846 | 25.3451 | 26.0281 | 25.1431
040015 | 1.0464 | 0.7366 | 0.7366 | 18.0793 | 19.2831 | 20.1555 | 19.1800
040016 | 1.6831 | 0.8918 | 0.8918 | 22.7219 | 22.1228 | 25.7321 | 23.5240
040017 | 1.1298 | 0.8599 | 0.8599 | 19.4365 | 21.9875 | 21.3748 | 20.9608
040018 | 1.0715 | 0.7761 | 0.7761 | 23.8515 | 23.6044 | 24.3463 | 23.9210
040019 | 1.1033 | 0.9032 | 0.9032 | 21.5316 | 23.7328 | 24.6250 | 23.3182
040020 | 1.5722 | 0.9032 | 0.9032 | 20.9136 | 21.6603 | 21.9802 | 21.5335
040021 | 1.2758 | 0.8918 | 0.8918 | 24.7771 | 25.6917 | 25.3027 | 25.2694
040022 | 1.5344 | 0.8779 | 0.8779 | 23.7462 | 25.4052 | 27.5251 | 25.5185
040024 | 0.6960 | * | * | 20.1101 | * | * | 20.1101
040026 | 1.5365 | 0.8812 | 0.8812 | 24.3053 | 25.4072 | 27.5446 | 25.8166
040027 | 1.4625 | 0.8345 | 0.8345 | 19.9348 | 21.1412 | 21.3991 | 20.8293
040029 | 1.5492 | 0.8918 | 0.8918 | 22.8770 | 24.0704 | 24.4352 | 23.8327
040032 | *** | * | * | 18.5171 | * | * | 18.5171
040035 | *** | * | * | 13.4265 | * | * | 13.4265
040036 | 1.6193 | 0.8918 | 0.8918 | 24.2851 | 26.3226 | 26.7026 | 25.8362
040039 | 1.2931 | 0.8206 | 0.8206 | 17.7976 | 19.5998 | 20.6232 | 19.3622
040041 | 1.1459 | 0.8667 | 0.8667 | 22.0188 | 22.1531 | 22.7230 | 22.3095
040042 | 1.3639 | 0.9367 | 0.9367 | 18.9550 | 19.9627 | 20.6357 | 19.8706
040045 | 0.9944 | * | * | 18.7952 | 17.2280 | * | 17.9500
040047 | 1.1045 | 0.8206 | 0.8206 | 21.5334 | 21.9163 | 22.7571 | 22.0400
040050 | 1.1711 | 0.7366 | 0.7366 | 15.4782 | 16.3930 | 17.6674 | 16.5402
040051 | 0.9556 | 0.7366 | 0.7366 | 18.8943 | 19.1401 | * | 19.0196
040053 | 1.0141 | * | * | 20.8153 | 20.7824 | * | 20.7984
040054 | 1.1450 | 0.7366 | 0.7366 | 16.7370 | 18.2684 | 17.8810 | 17.6265
040055 | 1.6026 | 0.7761 | 0.7761 | 22.2237 | 23.3156 | 22.5541 | 22.7083
040062 | 1.7081 | 0.7761 | 0.7761 | 21.6403 | 23.3083 | 23.6394 | 22.8746
040066 | *** | * | * | 23.4616 | * | * | 23.4616
040067 | 1.0279 | 0.7366 | 0.7366 | 15.1441 | 16.8799 | 18.6028 | 16.7821
040069 | 1.0422 | 0.9032 | 0.9032 | 21.7607 | 24.4662 | 24.3733 | 23.5051
040071 | 1.4755 | 0.8667 | 0.8667 | 22.9350 | 24.3824 | 24.5703 | 23.9588
040072 | 1.0619 | 0.7366 | 0.7366 | 20.8269 | 19.9009 | 21.6484 | 20.7448
040074 | 1.1734 | 0.8918 | 0.8918 | 22.6147 | 25.2423 | 24.6178 | 24.0892
040075 | 0.9567 | * | * | 16.2583 | 18.3254 | * | 17.2857
040076 | 1.0182 | 0.8667 | 0.8667 | 21.0442 | 20.6272 | 23.0707 | 21.5644
040077 | 0.9726 | * | * | 18.3261 | 18.2082 | * | 18.2646
040078 | 1.6359 | 0.8812 | 0.8812 | 24.4589 | 24.5378 | 23.6641 | 24.2102
040080 | 1.0378 | 0.7952 | 0.7952 | 21.3483 | 22.3392 | 23.4566 | 22.4402
040081 | 0.8376 | 0.7366 | 0.7366 | 13.7148 | 15.1081 | 15.4211 | 14.7485
040084 | 1.1802 | 0.8918 | 0.8918 | 22.6441 | 24.7225 | 27.5794 | 25.0806
040085 | 1.0444 | 0.7366 | 0.7366 | 18.0756 | 29.8444 | 22.6181 | 22.5790
040088 | 1.3259 | 0.8715 | 0.8715 | 21.2974 | 22.6183 | 23.0136 | 22.3299
040091 | 1.2045 | 0.8133 | 0.8133 | 23.0252 | 23.1320 | 24.5553 | 23.5683
040100 | 1.3571 | 0.8667 | 0.8667 | 19.3560 | 20.0460 | 20.9265 | 20.1488
040105 | 1.0217 | * | * | 15.8171 | 18.2182 | * | 16.9121
040109 | 1.1287 | * | * | 18.8624 | 22.8801 | * | 20.7540
040114 | 1.7651 | 0.8918 | 0.8918 | 23.5628 | 24.8992 | 26.3883 | 24.9878
040118 | 1.4456 | 0.7952 | 0.7952 | 24.2547 | 24.7363 | 25.7793 | 24.8977
040119 | 1.4191 | 0.8667 | 0.8667 | 20.1631 | 21.0103 | 23.4451 | 21.5482
040126 | 0.8957 | * | * | 12.5944 | 14.0701 | 15.4020 | 13.9828
040132 | *** | * | * | 36.5525 | 28.1390 | * | 32.3748
040134 | 2.4406 | 0.8918 | 0.8918 | * | 27.3412 | 30.4316 | 28.9159
040137 | 1.3274 | 0.8918 | 0.8918 | 23.4672 | 25.2907 | 26.4443 | 25.0310
040138 | 1.3548 | 0.8779 | 0.8779 | 23.3615 | 25.7513 | 28.5258 | 26.2151
040140 | *** | * | * | 25.1224 | * | * | 25.1224
040141 | 0.8243 | 0.8779 | 0.8779 | * | 24.0901 | 26.4956 | 25.3872
040142 | 1.4333 | 0.8812 | 0.8812 | * | 27.9695 | 22.2893 | 24.7923
040143 | *** | * | * | * | * | 35.7717 | 35.7717
040144 | *** | * | * | * | * | 21.0608 | 21.0608
040145 | 1.7845 | 0.7952 | 0.7952 | * | * | * | *
040147 | 1.6530 | * | * | * | * | * | *
040302 | 0.7642 | * | * | * | * | * | *
040323 | 0.6969 | * | * | * | * | * | *
040324 | 0.8299 | * | * | * | * | * | *
050002 | 1.3835 | 1.5669 | 1.5669 | 31.9709 | 34.1948 | 36.4919 | 34.3441
050006 | 1.6033 | 1.2884 | 1.2884 | 27.6176 | 30.5373 | 34.9121 | 30.7219
050007 | 1.4652 | 1.5049 | 1.5049 | 37.5804 | 38.7033 | 43.7992 | 40.0756
050008 | 1.3291 | 1.5075 | 1.5075 | 36.9371 | 39.1539 | 44.3345 | 40.2397
050009 | 1.7796 | 1.4527 | 1.4527 | 35.5384 | 39.6393 | 44.6602 | 40.0554
050013 | 1.9303 | 1.4527 | 1.4527 | 31.7637 | 31.9837 | 36.6624 | 33.4866
050014 | 1.1619 | 1.3350 | 1.3350 | 29.5726 | 33.0373 | 34.2931 | 32.4016
050015 | 1.2530 | 1.1291 | 1.1291 | 30.1398 | 30.7940 | 32.9364 | 31.3257
050016 | 1.3081 | 1.1719 | 1.1719 | 25.5735 | 26.2162 | 25.0655 | 25.5928
050017 | 2.0744 | 1.3350 | 1.3350 | 30.5863 | 36.6593 | 41.3084 | 36.1871
050018 | 1.1775 | 1.1762 | 1.1762 | 20.3179 | 22.3472 | 23.5749 | 22.0407
050022 | 1.5578 | 1.1291 | 1.1291 | 28.2773 | 29.8632 | 32.3919 | 30.2730
050024 | 1.1455 | 1.1371 | 1.1371 | 26.9378 | 27.5587 | 29.6260 | 28.0641
050025 | 1.9363 | 1.1371 | 1.1371 | 31.7242 | 36.1622 | 34.1382 | 34.0294
050026 | 1.5437 | 1.1371 | 1.1371 | 26.6406 | 28.3027 | 32.1634 | 29.1587
050028 | 1.2579 | 1.1291 | 1.1291 | 21.5448 | 26.6160 | 27.9303 | 24.9072
050029 | *** | * | * | 34.3934 | * | * | 34.3934
050030 | 1.2571 | 1.1291 | 1.1291 | 22.9148 | 24.9707 | 27.3246 | 25.0300
050036 | 1.6518 | 1.1291 | 1.1291 | 27.4915 | 32.7929 | 33.9665 | 31.5046
050038 | 1.5557 | 1.5281 | 1.5281 | 35.0441 | 38.7527 | 42.3234 | 38.7342
050039 | 1.6694 | 1.1291 | 1.1291 | 29.8179 | 31.6734 | 35.2640 | 32.1617
050040 | 1.3231 | 1.1762 | 1.1762 | 31.8983 | 34.3279 | 35.1377 | 33.7788
050042 | 1.4842 | 1.2884 | 1.2884 | 29.8062 | 33.9415 | 39.2888 | 34.3247
050043 | 1.6420 | 1.5669 | 1.5669 | 39.6054 | 43.1589 | 46.8909 | 43.1599
050045 | 1.2924 | 1.1291 | 1.1291 | 22.7051 | 23.8408 | 25.5028 | 24.0609
050046 | 1.1753 | 1.1739 | 1.1603 | 25.2786 | 25.6875 | 27.3051 | 26.1065
050047 | 1.7513 | 1.5075 | 1.5075 | 39.3993 | 40.9874 | 45.6968 | 42.1673
050054 | 1.2085 | 1.1291 | 1.1291 | 27.1437 | 24.1262 | 21.5112 | 24.0692
050055 | 1.2513 | 1.5075 | 1.5075 | 36.9386 | 37.5879 | 44.0022 | 39.3279
050056 | 1.3372 | 1.1762 | 1.1762 | 29.4829 | 27.9330 | 30.8781 | 29.4498
050057 | 1.6796 | 1.1291 | 1.1291 | 26.2099 | 29.4351 | 29.9720 | 28.5742
050058 | 1.5522 | 1.1762 | 1.1762 | 27.3584 | 33.8215 | 34.2823 | 31.7862
050060 | 1.5248 | 1.1291 | 1.1291 | 26.5515 | 27.3282 | 29.5772 | 27.8373
050061 | *** | * | * | * | 32.2172 | * | 32.2172
050063 | 1.3301 | 1.1762 | 1.1762 | 32.0515 | 33.3039 | 35.3038 | 33.4928
050065 | 1.8339 | 1.1600 | 1.1603 | 33.8223 | 34.0280 | 35.1370 | 34.3436
050067 | 1.1518 | 1.1731 | 1.1731 | 29.6982 | 31.9597 | 34.7752 | 32.3897
050069 | 1.6789 | 1.1600 | 1.1603 | 28.6752 | 31.2172 | 34.9317 | 31.6324
050070 | 1.3261 | 1.5049 | 1.5049 | 40.5645 | 45.3382 | 49.7618 | 45.6981
050071 | 1.2702 | 1.5669 | 1.5669 | 41.1036 | 44.9464 | 51.5757 | 46.4017
050072 | 1.2617 | 1.5669 | 1.5669 | 40.8108 | 44.2651 | 50.8845 | 45.8517
050073 | 1.2713 | 1.5669 | 1.5669 | 41.3430 | 45.9765 | 51.3203 | 46.7321
050075 | 1.1620 | 1.5669 | 1.5669 | 43.7101 | 47.2356 | 55.9906 | 49.6104
050076 | 1.6785 | 1.5669 | 1.5669 | 43.0845 | 46.4990 | 53.7174 | 48.3873
050077 | 1.5579 | 1.1371 | 1.1371 | 29.6264 | 32.0245 | 34.5870 | 32.2078
050078 | 1.2213 | 1.1762 | 1.1762 | 25.6814 | 31.1425 | 32.6611 | 29.5911
050079 | 1.5002 | 1.5669 | 1.5669 | 42.7385 | 47.8597 | 49.6550 | 46.8148
050082 | 1.6455 | 1.1739 | 1.1603 | 28.9139 | 37.7783 | 40.5118 | 36.0157
050084 | 1.5694 | 1.2038 | 1.2038 | 28.2664 | 33.0179 | 35.8900 | 32.2531
050088 | *** | * | * | 26.4093 | 25.7385 | * | 26.0862
050089 | 1.3345 | 1.1600 | 1.1603 | 29.4884 | 33.5323 | 35.0765 | 32.7927
050090 | 1.2940 | 1.5049 | 1.5049 | 31.1774 | 32.9584 | 34.1010 | 32.7532
050091 | 1.1259 | 1.1762 | 1.1762 | 30.1534 | 30.8560 | 32.2866 | 31.1304
050093 | 1.5086 | 1.1291 | 1.1291 | 31.1083 | 33.4119 | 36.3766 | 33.6827
050096 | 1.2678 | 1.1762 | 1.1762 | 24.2277 | 24.6680 | 29.0265 | 26.0314
050097 | *** | * | * | 26.6788 | * | * | 26.6788
050099 | 1.5000 | 1.1600 | 1.1603 | 28.7711 | 31.0437 | 34.0709 | 31.4119
050100 | 1.8497 | 1.1371 | 1.1371 | 28.0303 | 29.6949 | 32.1909 | 30.0363
050101 | 1.3351 | 1.5669 | 1.5669 | 35.4655 | 40.3195 | 42.6624 | 39.6163
050102 | 1.3060 | 1.1291 | 1.1291 | 24.9381 | 29.1364 | 32.5557 | 28.7040
050103 | 1.5640 | 1.1762 | 1.1762 | 28.7375 | 34.2529 | 34.1636 | 32.4158
050104 | 1.3813 | 1.1762 | 1.1762 | 29.1240 | 29.7326 | 33.2730 | 30.7456
050107 | 1.4706 | 1.1291 | 1.1291 | 27.6002 | 33.1358 | 32.9560 | 31.1819
050108 | 1.9403 | 1.3350 | 1.3350 | 31.4271 | 35.5711 | 40.0597 | 35.9841
050110 | 1.2736 | 1.1291 | 1.1291 | 20.0769 | 26.1453 | 27.0752 | 24.1400
050111 | 1.3212 | 1.1762 | 1.1762 | 26.6345 | 28.1588 | 27.7673 | 27.5460
050112 | 1.5308 | 1.1762 | 1.1762 | 34.0258 | 36.8026 | 37.1212 | 36.0398
050113 | 1.3140 | 1.5049 | 1.5049 | 34.2851 | 33.8064 | 38.7793 | 35.6638
050114 | 1.4334 | 1.1762 | 1.1762 | 29.2858 | 31.1294 | 33.7817 | 31.4992
050115 | 1.4811 | 1.1371 | 1.1371 | 27.5207 | 30.9288 | 29.7825 | 29.4457
050116 | 1.6951 | 1.1762 | 1.1762 | 28.8193 | 34.5110 | 37.0771 | 33.5192
050117 | 2.3561 | 1.1884 | 1.1884 | 28.2227 | 32.4414 | 34.3628 | 31.0394
050118 | 1.1866 | 1.1731 | 1.1731 | 33.0650 | 35.4044 | 40.0173 | 36.1567
050121 | 1.2724 | 1.1291 | 1.1291 | 25.5962 | 27.9537 | 30.3495 | 28.0779
050122 | 1.5554 | 1.2038 | 1.2038 | 29.7629 | 34.2416 | 33.7869 | 32.6896
050124 | 1.3010 | 1.1762 | 1.1762 | 26.7065 | 28.0288 | 29.6897 | 28.1843
050125 | 1.3922 | 1.5281 | 1.5281 | 40.9218 | 41.7020 | 40.7957 | 41.1327
050126 | 1.4204 | 1.1762 | 1.1762 | 29.6203 | 29.3360 | 32.5210 | 30.5081
050127 | 1.3341 | 1.3350 | 1.3350 | 23.6208 | 26.1222 | 33.3619 | 26.9264
050128 | 1.5385 | 1.1371 | 1.1371 | 28.3278 | 31.0662 | 32.3557 | 30.6445
050129 | 1.7922 | 1.1600 | 1.1603 | 27.8488 | 32.2680 | 36.3489 | 32.4090
050131 | 1.3140 | 1.5082 | 1.5082 | 38.6834 | 40.5321 | 46.3164 | 41.7664
050132 | 1.3868 | 1.1762 | 1.1762 | 29.4317 | 35.1544 | 37.0147 | 33.9609
050133 | 1.4974 | 1.1461 | 1.1461 | 27.6030 | 31.3530 | 32.6669 | 30.5790
050135 | 1.0165 | 1.1762 | 1.1762 | 24.9415 | 24.3927 | 22.8053 | 23.8553
050136 | 1.2848 | 1.5049 | 1.5049 | 35.2834 | 37.4560 | 43.2698 | 38.6465
050137 | 1.2925 | 1.1762 | 1.1762 | 36.5409 | 38.4827 | 40.4779 | 38.6009
050138 | 2.1552 | 1.1762 | 1.1762 | 43.8671 | 46.9557 | 47.6585 | 46.1884
050139 | 1.3295 | 1.1762 | 1.1762 | 35.1013 | 37.6217 | 39.0103 | 37.2783
050140 | 1.4309 | 1.1600 | 1.1603 | 37.5473 | 39.6269 | 42.1233 | 39.8915
050144 | 1.3888 | 1.1762 | 1.1762 | 32.4042 | 33.5109 | 34.0982 | 33.3800
050145 | 1.3655 | 1.4457 | 1.4457 | 39.5676 | 42.3134 | 48.1345 | 43.3982
050148 | 1.0959 | 1.1291 | 1.1291 | 24.7063 | 27.3005 | 28.8900 | 27.0245
050149 | 1.4738 | 1.1762 | 1.1762 | 30.1596 | 33.2270 | 37.1830 | 33.9364
050150 | 1.2309 | 1.3350 | 1.3350 | 31.5333 | 31.7560 | 33.9978 | 32.4639
050152 | 1.4829 | 1.5075 | 1.5075 | 40.3464 | 43.6487 | 46.4718 | 43.5222
050153 | 1.5515 | 1.5281 | 1.5281 | 40.4446 | 43.3190 | 43.6382 | 42.5499
050155 | *** | * | * | 21.8829 | 21.8550 | 16.9856 | 19.9780
050158 | 1.3045 | 1.1762 | 1.1762 | 33.6400 | 35.1326 | 35.7746 | 34.9077
050159 | 1.2085 | 1.1739 | 1.1603 | 30.8069 | 31.3199 | 32.3724 | 31.5413
050167 | 1.2968 | 1.2038 | 1.2038 | 25.9850 | 28.5179 | 30.6646 | 28.3647
050168 | 1.6582 | 1.1600 | 1.1603 | 30.8036 | 33.2506 | 36.3166 | 33.5327
050169 | 1.4331 | 1.1762 | 1.1762 | 26.2864 | 27.4644 | 30.0990 | 28.0689
050172 | 1.2604 | 1.1291 | 1.1291 | 27.1497 | 28.5604 | 25.7654 | 27.0886
050173 | 1.2462 | 1.1600 | 1.1603 | 27.6097 | 30.3582 | 29.5083 | 29.1194
050174 | 1.6356 | 1.5049 | 1.5049 | 36.3117 | 40.1747 | 43.9133 | 40.1381
050175 | 1.2512 | 1.1762 | 1.1762 | 31.5615 | 30.5733 | 33.4885 | 31.8687
050177 | *** | * | * | 24.7531 | 25.1442 | 24.8662 | 24.9253
050179 | 1.2173 | 1.1731 | 1.1731 | 25.8072 | 27.1155 | 30.1673 | 27.9651
050180 | 1.5914 | 1.5669 | 1.5669 | 40.8101 | 40.2504 | 38.1691 | 39.6057
050188 | 1.4277 | 1.5281 | 1.5281 | 39.3507 | 39.5110 | 41.5956 | 40.1682
050189 | 1.0446 | 1.4457 | 1.4457 | 20.0709 | 29.1280 | 29.5245 | 26.1888
050191 | 1.5168 | 1.1762 | 1.1762 | * | 34.2091 | 38.9681 | 36.4880
050192 | 1.0079 | 1.1291 | 1.1291 | 21.2448 | 27.0424 | 27.1667 | 25.1695
050193 | 1.2523 | 1.1600 | 1.1603 | 30.7341 | 29.6421 | 34.2248 | 31.5406
050194 | 1.3621 | 1.5509 | 1.5509 | 38.6750 | 40.9096 | 45.2123 | 41.6588
050195 | 1.5019 | 1.5669 | 1.5669 | 43.9696 | 48.4358 | 50.0403 | 47.5753
050196 | 1.0951 | 1.1291 | 1.1291 | 25.2168 | 32.1933 | 33.9150 | 30.7046
050197 | 2.0347 | 1.5669 | 1.5669 | 40.8832 | 48.9052 | 51.0016 | 46.9043
050204 | 1.4560 | 1.1762 | 1.1762 | 25.2512 | 28.6423 | 32.1731 | 28.6226
050205 | 1.4361 | 1.1762 | 1.1762 | 28.0504 | 27.8611 | 29.2978 | 28.4343
050207 | 1.2589 | 1.1291 | 1.1291 | 27.0216 | 29.5215 | 30.5777 | 28.9980
050211 | 1.2871 | 1.5669 | 1.5669 | 38.3319 | 41.2166 | 37.1447 | 38.8162
050214 | *** | * | * | 24.4785 | 23.9972 | 25.6142 | 24.6874
050215 | 1.8301 | 1.5281 | 1.5281 | 41.6886 | 43.7985 | 43.1523 | 42.9010
050217 | 1.2241 | * | * | 23.6286 | * | * | 23.6286
050219 | 1.1942 | 1.1762 | 1.1762 | 22.9226 | 22.4065 | 26.6745 | 24.0446
050222 | 1.6433 | 1.1371 | 1.1371 | 26.3882 | 29.1094 | 32.9502 | 29.6111
050224 | 1.6708 | 1.1600 | 1.1603 | 26.7916 | 29.3143 | 28.8640 | 28.3306
050225 | 1.4668 | 1.1291 | 1.1291 | 29.5184 | 29.9656 | 34.0444 | 31.2944
050226 | 1.5929 | 1.1600 | 1.1603 | 29.2259 | 30.5867 | 33.2724 | 31.0874
050228 | 1.3599 | 1.5669 | 1.5669 | 40.1362 | 42.4226 | 42.9194 | 41.8170
050230 | 1.4695 | 1.1600 | 1.1603 | 34.1417 | 32.9555 | 35.0745 | 34.0630
050231 | 1.6381 | 1.1762 | 1.1762 | 30.1298 | 30.9607 | 32.4202 | 31.1914
050232 | 1.6137 | 1.1719 | 1.1719 | 24.4383 | 27.4099 | 27.6649 | 26.4468
050234 | 1.2181 | 1.1371 | 1.1371 | 29.2421 | 29.6560 | 32.7366 | 30.5308
050235 | 1.5375 | 1.1762 | 1.1762 | 27.8965 | 29.2979 | 32.4385 | 29.8741
050236 | 1.3795 | 1.1739 | 1.1603 | 28.1969 | 32.1647 | 34.3346 | 31.5469
050238 | 1.4857 | 1.1762 | 1.1762 | 29.1481 | 31.1764 | 32.8459 | 31.1416
050239 | 1.5990 | 1.1762 | 1.1762 | 28.2327 | 31.0963 | 34.5993 | 31.3400
050240 | 1.6409 | 1.1762 | 1.1762 | 35.2284 | 35.5735 | 36.3640 | 35.7323
050242 | 1.3786 | 1.5509 | 1.5509 | 39.7629 | 44.3130 | 47.8288 | 44.0747
050243 | 1.5396 | 1.1291 | 1.1291 | 31.8153 | 31.4883 | 33.3571 | 32.2620
050245 | 1.3396 | 1.1600 | 1.1603 | 27.0949 | 28.6527 | 26.3353 | 27.3622
050248 | 1.0135 | 1.4457 | 1.4457 | 31.6240 | 35.3864 | 32.9444 | 33.3125
050251 | 1.0330 | 1.1524 | 1.1524 | 26.5021 | 27.2675 | 28.5383 | 27.5142
050253 | *** | * | * | 22.2450 | 24.0044 | 23.7595 | 23.2530
050254 | 1.2518 | 1.3350 | 1.3350 | 24.1512 | 27.0041 | 30.9210 | 27.4105
050256 | 1.6462 | 1.1762 | 1.1762 | 28.4728 | 29.8194 | 30.3954 | 29.5443
050257 | 0.9608 | 1.1291 | 1.1291 | 20.8367 | 21.3216 | 18.4749 | 20.0450
050261 | 1.3115 | 1.1291 | 1.1291 | 25.3005 | 27.3234 | 28.7777 | 27.2755
050262 | 2.0841 | 1.1762 | 1.1762 | 36.1162 | 44.0256 | 39.3464 | 39.8642
050264 | 1.3655 | 1.5669 | 1.5669 | 41.3478 | 41.1211 | 46.2652 | 42.9907
050267 | *** | * | * | 26.7060 | * | * | 26.7060
050270 | 0.8638 | 1.1371 | 1.1371 | 30.0540 | 32.4812 | 34.4844 | 32.3873
050272 | 1.3545 | 1.1600 | 1.1603 | 25.9103 | 27.1989 | 29.5863 | 27.5860
050276 | 1.2458 | 1.5669 | 1.5669 | 41.2251 | 39.3778 | 41.0210 | 40.5582
050277 | 1.0130 | 1.1762 | 1.1762 | 35.8246 | 32.5213 | 35.8637 | 34.5741
050278 | 1.5373 | 1.1762 | 1.1762 | 28.0351 | 29.9244 | 32.1019 | 30.1313
050279 | 1.1861 | 1.1600 | 1.1603 | 25.5299 | 27.6573 | 29.7339 | 27.6818
050280 | 1.6912 | 1.3205 | 1.3205 | 30.6723 | 35.2030 | 40.9920 | 35.5779
050281 | 1.4270 | 1.1762 | 1.1762 | 26.2623 | 27.3824 | 28.5186 | 27.3907
050283 | 1.4222 | 1.5669 | 1.5669 | 38.5600 | 43.0638 | 44.5318 | 42.1410
050286 | *** | * | * | 19.4973 | * | * | 19.4973
050289 | 1.6421 | 1.5049 | 1.5049 | 38.6875 | 41.1774 | 42.7353 | 40.9116
050290 | 1.5832 | 1.1762 | 1.1762 | 32.6388 | 34.5482 | 38.0526 | 35.1131
050291 | 1.8467 | 1.5049 | 1.5049 | 29.6162 | 35.3653 | 39.7762 | 34.7389
050292 | 1.0868 | 1.1291 | 1.1291 | 27.0775 | 26.8879 | 25.7186 | 26.5226
050295 | 1.4657 | 1.1291 | 1.1291 | 31.5960 | 36.1950 | 35.7270 | 34.7452
050296 | 1.1664 | 1.5281 | 1.5281 | 34.9952 | 39.0061 | 42.1606 | 38.8925
050298 | 1.1617 | 1.1600 | 1.1603 | 25.8232 | 27.7416 | 29.5427 | 27.7148
050299 | 1.3599 | 1.1762 | 1.1762 | 27.7535 | 31.5435 | 35.3234 | 31.7208
050300 | 1.4966 | 1.1600 | 1.1603 | 28.3862 | 30.7148 | 30.9822 | 30.1038
050301 | 1.3290 | 1.1291 | 1.1291 | 28.5769 | 31.9995 | 33.4929 | 31.4366
050305 | 1.4188 | 1.5669 | 1.5669 | 40.9978 | 44.8630 | 47.4120 | 44.4443
050308 | 1.4727 | 1.5281 | 1.5281 | 38.0564 | 43.0691 | 45.3244 | 42.1179
050309 | 1.4190 | 1.3350 | 1.3350 | 28.9181 | 34.4145 | 39.0822 | 34.4798
050312 | *** | * | * | 32.6846 | 33.9022 | 39.2083 | 34.8872
050313 | 1.2280 | 1.2038 | 1.2038 | 27.5321 | 31.8003 | 36.4300 | 32.2898
050315 | 1.3061 | 1.1291 | 1.1291 | 26.1224 | 28.5933 | 32.5499 | 29.2160
050320 | 1.2485 | 1.5669 | 1.5669 | 36.3252 | 40.2352 | 44.1674 | 40.1172
050324 | 1.8751 | 1.1371 | 1.1371 | 30.9958 | 32.9792 | 35.1320 | 33.2026
050325 | 1.1433 | 1.1467 | 1.1467 | 30.2280 | 30.6117 | 30.2526 | 30.3712
050327 | 1.7507 | 1.1600 | 1.1603 | 29.8327 | 33.0087 | 35.2380 | 32.7821
050329 | 1.2606 | 1.1291 | 1.1291 | 26.8021 | 26.2120 | 23.5644 | 25.4937
050331 | 1.2324 | * | * | 20.9847 | 20.2692 | 0.0000 | 20.6171
050333 | 1.1135 | 1.1291 | 1.1291 | 15.3119 | 23.4009 | 19.6469 | 18.9090
050334 | 1.6725 | 1.4457 | 1.4457 | 38.7635 | 40.7467 | 44.4184 | 41.3547
050335 | 1.4631 | 1.1467 | 1.1467 | 27.4046 | 28.9403 | 33.3349 | 29.9569
050336 | 1.2386 | 1.2038 | 1.2038 | 25.3062 | 28.5659 | 30.4356 | 28.1945
050342 | 1.2404 | 1.1291 | 1.1291 | 24.7654 | 26.8507 | 29.5020 | 27.1298
050348 | 1.7064 | 1.1600 | 1.1603 | 33.2676 | 37.7898 | 31.6594 | 34.1821
050349 | 0.9631 | 1.1291 | 1.1291 | 16.9251 | 17.4791 | 17.5811 | 17.3402
050350 | 1.3701 | 1.1762 | 1.1762 | 29.4262 | 31.1833 | 31.8456 | 30.8831
050351 | 1.5271 | 1.1762 | 1.1762 | 29.3082 | 30.8661 | 30.9044 | 30.3838
050352 | 1.3579 | 1.3350 | 1.3350 | 24.2931 | 33.9362 | 36.5470 | 31.4422
050353 | 1.5360 | 1.1762 | 1.1762 | 26.6332 | 31.8291 | 29.8341 | 29.3493
050355 | *** | * | * | 11.2498 | * | * | 11.2498
050357 | 1.4425 | 1.1291 | 1.1291 | 26.7265 | 32.3095 | 33.8000 | 30.4700
050359 | 1.2211 | 1.1291 | 1.1291 | 23.6030 | 25.7739 | 28.7656 | 26.1226
050360 | 1.5358 | 1.5082 | 1.5082 | 38.8658 | 37.0769 | 48.6833 | 41.5316
050366 | 1.2149 | 1.1291 | 1.1291 | 25.7692 | 31.1854 | 34.7036 | 30.3816
050367 | 1.4299 | 1.5669 | 1.5669 | 34.4959 | 38.7727 | 39.7345 | 38.0017
050369 | 1.4248 | 1.1762 | 1.1762 | 27.1327 | 29.5697 | 31.1003 | 29.2945
050373 | 1.3683 | 1.1762 | 1.1762 | 32.2315 | 31.9271 | 33.6616 | 32.6188
050376 | 1.5389 | 1.1762 | 1.1762 | 30.7562 | 32.9393 | 33.4664 | 32.3997
050377 | *** | * | * | 20.2484 | * | * | 20.2484
050378 | 0.9845 | 1.1762 | 1.1762 | 33.9087 | 34.2417 | 34.9267 | 34.3818
050379 | *** | * | * | 31.7645 | 32.9575 | * | 32.3515
050380 | 1.6161 | 1.5281 | 1.5281 | 39.1098 | 42.0782 | 47.6500 | 42.7763
050382 | 1.3883 | 1.1762 | 1.1762 | 26.0927 | 29.4323 | 30.3595 | 28.6792
050385 | 1.3188 | 1.5049 | 1.5049 | 25.5735 | 34.5184 | 37.1708 | 32.3860
050390 | 1.1686 | 1.1291 | 1.1291 | 28.7761 | 26.0066 | 28.4859 | 27.6662
050391 | *** | * | * | 21.3012 | 18.1004 | 17.3151 | 18.6962
050392 | 1.2184 | * | * | 22.7209 | * | * | 22.7209
050393 | 1.4363 | 1.1762 | 1.1762 | 28.2369 | 30.0661 | 33.7433 | 30.5690
050394 | 1.5925 | 1.1739 | 1.1603 | 26.0074 | 27.5061 | 28.6006 | 27.4286
050396 | 1.5970 | 1.1291 | 1.1291 | 30.5470 | 33.5699 | 33.2548 | 32.4895
050397 | 0.8840 | 1.1291 | 1.1291 | 27.4716 | 28.1640 | 26.3981 | 27.3054
050407 | 1.1776 | 1.5075 | 1.5075 | 35.6035 | 37.9066 | 41.8534 | 38.5688
050410 | *** | * | * | 19.4995 | 21.3814 | * | 20.4290
050411 | 1.4503 | 1.1762 | 1.1762 | 37.3817 | 37.8064 | 39.9558 | 38.4595
050414 | 1.2989 | 1.3350 | 1.3350 | 28.8561 | 34.6672 | 40.1702 | 34.4823
050417 | 1.2539 | 1.1291 | 1.1291 | 25.2930 | 29.5031 | 35.5015 | 30.1379
050419 | 1.3384 | * | * | 28.4471 | 33.3125 | * | 30.8677
050420 | 1.1790 | 1.1762 | 1.1762 | 26.1838 | 24.9401 | 35.6349 | 28.5400
050423 | 0.9624 | 1.1291 | 1.1291 | 28.5944 | 30.6416 | 27.2663 | 28.9029
050424 | 2.0096 | 1.1371 | 1.1371 | 29.9133 | 31.0730 | 34.8883 | 32.0453
050425 | 1.3417 | 1.3350 | 1.3350 | 38.5317 | 42.4177 | 49.8051 | 44.1546
050426 | 1.3805 | 1.1600 | 1.1603 | 30.0077 | 30.6899 | 33.7075 | 31.4665
050430 | 0.9578 | 1.1524 | 1.1524 | 24.6684 | 25.0607 | 24.1967 | 24.5819
050432 | 1.6517 | 1.1762 | 1.1762 | 30.3547 | 30.8030 | 33.3848 | 31.5269
050433 | 0.9334 | 1.1291 | 1.1291 | 20.7565 | 23.0806 | 21.8447 | 21.8898
050434 | 1.1118 | 1.1291 | 1.1291 | 25.9506 | 26.1621 | 31.5749 | 28.1756
050435 | 1.1492 | 1.1371 | 1.1371 | 32.2183 | 28.0306 | 30.8458 | 30.2661
050438 | 1.5756 | 1.1762 | 1.1762 | 26.4668 | 27.2662 | 35.3830 | 29.8308
050441 | 1.9802 | 1.5281 | 1.5281 | 38.2823 | 42.9765 | 45.2125 | 42.1714
050444 | 1.3356 | 1.1884 | 1.1884 | 27.6971 | 30.5504 | 34.8554 | 31.2912
050447 | 0.9565 | 1.1371 | 1.1371 | 21.8552 | 25.2573 | 27.5371 | 24.9581
050448 | 1.2766 | 1.1291 | 1.1291 | 25.0983 | 27.9759 | 29.4935 | 27.5949
050454 | 1.8575 | 1.5075 | 1.5075 | 36.8383 | 43.5311 | 39.2067 | 39.9010
050455 | 1.5997 | 1.1291 | 1.1291 | 24.5314 | 22.7235 | 27.9979 | 25.1532
050456 | 1.1131 | 1.1762 | 1.1762 | 22.1675 | 22.5630 | 21.7036 | 22.0233
050457 | 1.6072 | 1.5075 | 1.5075 | 40.2725 | 45.5829 | 47.8507 | 44.5817
050464 | 1.6871 | 1.1731 | 1.1731 | 37.1342 | 37.3692 | 39.4867 | 37.9820
050468 | 1.4951 | 1.1762 | 1.1762 | 29.4280 | 29.5448 | 28.0800 | 28.9842
050469 | 1.1606 | 1.1291 | 1.1291 | 27.3281 | 28.9079 | 30.0283 | 28.7511
050470 | 1.0676 | 1.1291 | 1.1291 | 18.4689 | 24.6755 | 27.9194 | 24.0596
050471 | 1.7588 | 1.1762 | 1.1762 | 34.5484 | 34.5211 | 36.7915 | 35.2853
050476 | 1.4381 | 1.1548 | 1.1548 | 30.9974 | 34.6585 | 36.3598 | 33.8764
050477 | 1.3548 | 1.1762 | 1.1762 | 34.6400 | 34.6995 | 38.0704 | 35.8949
050478 | 1.0037 | 1.1291 | 1.1291 | 30.9865 | 33.3998 | 35.2408 | 33.2560
050481 | 1.4293 | 1.1762 | 1.1762 | 31.9177 | 33.7446 | 37.8839 | 34.5090
050485 | 1.6324 | 1.1762 | 1.1762 | 28.8459 | 31.4233 | 36.5912 | 32.2964
050488 | 1.3306 | 1.5669 | 1.5669 | 40.5313 | 42.9904 | 44.2163 | 42.6485
050491 | *** | * | * | 30.6461 | 32.1379 | 34.6829 | 32.1991
050492 | 1.5281 | 1.1291 | 1.1291 | 27.4933 | 27.1540 | 28.5116 | 27.7452
050494 | 1.4219 | 1.4294 | 1.1607 | 35.1457 | 35.9909 | 39.9419 | 37.0297
050496 | 1.7826 | 1.5669 | 1.5669 | 38.2871 | 42.2672 | 43.6264 | 41.5275
050497 | *** | * | * | 15.9501 | * | * | 15.9501
050498 | 1.3331 | 1.3350 | 1.3350 | 28.2667 | 33.0298 | 38.4968 | 33.2353
050502 | 1.7102 | 1.1762 | 1.1762 | 28.7200 | 29.5615 | 29.5347 | 29.2993
050503 | 1.4527 | 1.1371 | 1.1371 | 29.2001 | 31.6418 | 34.6646 | 31.9860
050506 | 1.6799 | 1.1719 | 1.1719 | 32.4509 | 36.0164 | 39.2455 | 36.0522
050510 | 1.1963 | 1.5669 | 1.5669 | 44.3883 | 47.5510 | 53.3925 | 48.9441
050512 | 1.2973 | 1.5669 | 1.5669 | 41.8921 | 46.9233 | 52.5188 | 47.8701
050515 | 1.3889 | 1.1371 | 1.1371 | 37.4251 | 38.9978 | 40.9092 | 39.1963
050516 | 1.4805 | 1.3350 | 1.3350 | 29.4936 | 36.2772 | 41.3786 | 35.5878
050517 | 1.2150 | 1.1600 | 1.1603 | 23.6034 | 23.9007 | 20.4043 | 22.4083
050523 | 1.3334 | 1.5669 | 1.5669 | 34.7491 | 35.5452 | 33.8904 | 34.6993
050526 | 1.2525 | 1.1600 | 1.1603 | 29.9495 | 31.3744 | 28.6212 | 29.8713
050528 | 1.1675 | 1.1291 | 1.1291 | 28.6273 | 29.6838 | 30.6464 | 29.7397
050531 | 1.0277 | 1.1762 | 1.1762 | 25.0157 | 26.9420 | 27.4627 | 26.4967
050534 | 1.4487 | 1.1291 | 1.1291 | 29.7546 | 29.8603 | 33.2952 | 30.9702
050535 | 1.4985 | 1.1600 | 1.1603 | 32.3646 | 32.3723 | 34.8889 | 33.3056
050537 | 1.4722 | 1.3350 | 1.3350 | 27.4196 | 31.3844 | 36.4258 | 31.8666
050539 | 1.2551 | * | * | 28.0586 | 29.8242 | * | 29.0033
050541 | 1.3930 | 1.5669 | 1.5669 | 43.7765 | 46.1121 | 53.9701 | 48.2244
050543 | 0.7326 | 1.1600 | 1.1603 | 25.7161 | 26.1103 | 26.9874 | 26.2597
050545 | 0.7166 | 1.1762 | 1.1762 | 42.9451 | 30.5554 | 31.4513 | 35.1847
050546 | 0.7168 | 1.1291 | 1.1291 | 52.7180 | 30.2329 | 33.9577 | 38.6191
050547 | 0.9861 | 1.5049 | 1.5049 | 45.1842 | 33.2205 | 34.4268 | 37.9709
050548 | 0.7147 | 1.1600 | 1.1603 | 37.1314 | 30.3775 | 33.5332 | 34.1652
050549 | 1.5821 | 1.4294 | 1.1603 | 33.8288 | 34.9818 | 36.8840 | 35.2563
050550 | 1.3092 | 1.1600 | 1.1603 | 31.1918 | 30.2302 | 31.3077 | 30.9052
050551 | 1.3263 | 1.1600 | 1.1603 | 31.6782 | 31.6165 | 34.6310 | 32.6691
050552 | 1.0959 | 1.1762 | 1.1762 | 26.8274 | 27.1744 | 31.8084 | 28.6605
050557 | 1.5467 | 1.1731 | 1.1731 | 28.3111 | 31.8048 | 31.8447 | 30.7712
050559 | *** | * | * | 26.9662 | * | * | 26.9662
050561 | 1.2629 | 1.1762 | 1.1762 | 37.5863 | 38.8651 | 39.1626 | 38.5888
050567 | 1.5546 | 1.1600 | 1.1603 | 30.1167 | 32.9829 | 36.4373 | 33.2519
050568 | 1.1828 | 1.1353 | 1.1353 | 22.5008 | 24.4061 | 24.1895 | 23.7155
050569 | 1.2260 | 1.4294 | 1.4294 | 30.4874 | 33.0259 | 34.1734 | 32.6118
050570 | 1.5499 | 1.1600 | 1.1603 | 32.6896 | 34.0171 | 35.5233 | 34.1290
050571 | 1.2097 | 1.1762 | 1.1762 | 32.1656 | 33.6156 | 34.9236 | 33.5914
050573 | 1.6925 | 1.1291 | 1.1291 | 30.5249 | 34.1991 | 35.5274 | 33.4579
050575 | 1.1724 | 1.1762 | 1.1762 | 23.2447 | 25.2513 | 25.2933 | 24.6933
050577 | *** | * | * | 28.7060 | 30.8841 | 32.5645 | 30.7682
050578 | 1.4960 | 1.1762 | 1.1762 | 31.5953 | 33.8825 | 37.2259 | 34.1510
050579 | *** | * | * | 40.2740 | 39.4976 | 42.9387 | 40.7876
050580 | 1.2568 | 1.1600 | 1.1603 | 29.4337 | 31.6256 | 33.1490 | 31.4028
050581 | 1.4088 | 1.1762 | 1.1762 | 32.0823 | 32.1801 | 35.0108 | 33.1503
050583 | 1.6923 | 1.1371 | 1.1371 | 33.5209 | 33.3697 | 35.7392 | 34.1719
050584 | 1.4362 | 1.1600 | 1.1603 | 24.5757 | 24.8180 | 28.8553 | 26.1102
050585 | 1.2218 | 1.1600 | 1.1603 | 27.2982 | 22.7121 | 22.4887 | 23.8337
050586 | 1.2754 | 1.1600 | 1.1603 | 25.3551 | 27.4173 | 26.3755 | 26.3132
050588 | 1.2773 | 1.1762 | 1.1762 | 32.3603 | 32.8212 | 33.0991 | 32.7769
050589 | 1.2077 | 1.1600 | 1.1603 | 30.6273 | 30.9547 | 35.0014 | 32.2283
050590 | 1.3770 | 1.3350 | 1.3350 | 31.5987 | 32.2142 | 39.4654 | 34.5389
050591 | 1.1729 | 1.1762 | 1.1762 | 28.5915 | 28.8549 | 30.9334 | 29.4952
050592 | 1.1345 | 1.1600 | 1.1603 | 32.5000 | 24.4542 | 27.7236 | 27.9860
050594 | 1.9344 | 1.1600 | 1.1603 | 34.6747 | 34.7946 | 36.8272 | 35.4259
050597 | 1.2248 | 1.1762 | 1.1762 | 25.4868 | 27.5691 | 29.5797 | 27.5512
050599 | 1.9037 | 1.3350 | 1.3350 | 30.8420 | 38.1975 | 33.8834 | 34.3184
050601 | 1.5196 | 1.1762 | 1.1762 | 35.0325 | 34.7409 | 36.6564 | 35.4896
050603 | 1.3875 | 1.1600 | 1.1603 | 28.6982 | 30.2464 | 34.1227 | 31.1484
050604 | 1.2051 | 1.5281 | 1.5281 | 45.4433 | 49.9429 | 56.4414 | 51.0552
050608 | 1.3413 | 1.1291 | 1.1291 | 22.1999 | 23.3630 | 25.9073 | 23.7863
050609 | 1.3376 | 1.1600 | 1.1603 | 38.4561 | 41.1797 | 43.2731 | 41.0915
050613 | 1.0079 | 1.5049 | 1.5049 | * | * | 45.7255 | 45.7255
050615 | 1.1030 | 1.1762 | 1.1762 | 32.8786 | 33.2909 | 36.1435 | 34.1052
050616 | 1.3862 | 1.1739 | 1.1603 | 28.5636 | 36.9017 | 39.1701 | 35.1520
050618 | 0.9803 | 1.1291 | 1.1291 | 25.4500 | 27.4539 | 30.9826 | 28.0403
050623 | *** | * | * | 29.6550 | 32.0627 | * | 30.7447
050624 | 1.2767 | 1.1762 | 1.1762 | 28.1941 | 32.2907 | 34.8735 | 31.8503
050625 | 1.7608 | 1.1762 | 1.1762 | 33.5137 | 36.3631 | 38.7997 | 36.2505
050630 | *** | * | * | 28.0726 | 30.9410 | * | 29.5481
050633 | 1.2327 | 1.1719 | 1.1719 | 33.4771 | 35.3734 | 38.2742 | 35.7436
050636 | 1.3124 | 1.1371 | 1.1371 | 27.2360 | 30.5156 | 33.1069 | 30.3577
050641 | 1.1728 | 1.1762 | 1.1762 | 20.4720 | 21.4612 | 20.4706 | 20.7862
050644 | 0.8979 | 1.1762 | 1.1762 | 25.6614 | 27.6547 | 29.0068 | 27.4716
050662 | 0.8775 | 1.5281 | 1.5281 | 47.5065 | 32.6362 | 33.6809 | 38.4416
050663 | 1.1419 | 1.1762 | 1.1762 | 25.1493 | 25.7747 | 26.8993 | 25.9210
050667 | 0.9036 | 1.4527 | 1.4527 | 25.9250 | 26.3937 | 27.2269 | 26.5042
050668 | 1.1034 | 1.5075 | 1.5075 | * | 31.8065 | 40.9413 | 35.0252
050674 | 1.3084 | 1.3350 | 1.3350 | 38.4454 | 42.6866 | 48.7644 | 43.7800
050677 | 1.4769 | 1.1762 | 1.1762 | 37.3389 | 38.7984 | 39.9638 | 38.8140
050678 | 1.3278 | 1.1600 | 1.1603 | 29.1159 | 30.7220 | 32.1066 | 30.7504
050680 | 1.2190 | 1.5669 | 1.5669 | 35.6614 | 38.3946 | 38.9269 | 37.8867
050681 | 1.7997 | 1.1762 | 1.1762 | * | * | * | *
050682 | 0.9911 | 1.1291 | 1.1291 | 21.7264 | 21.7791 | 17.7264 | 20.0252
050684 | 1.1508 | 1.1291 | 1.1291 | 25.2575 | 26.4234 | 28.9330 | 26.8758
050686 | 1.2563 | 1.1291 | 1.1291 | 38.5595 | 40.9486 | 42.8975 | 40.9700
050688 | 1.2419 | 1.5281 | 1.5281 | 41.3305 | 41.9325 | 44.3596 | 42.6254
050689 | 1.5018 | 1.5669 | 1.5669 | 40.3815 | 42.2018 | 46.1901 | 42.9969
050690 | 1.2765 | 1.5049 | 1.5049 | 43.9228 | 47.2769 | 52.2448 | 48.3299
050693 | 1.3208 | 1.1600 | 1.1603 | 34.8040 | 35.0621 | 35.5736 | 35.1560
050694 | 1.0803 | 1.1291 | 1.1291 | 26.7041 | 28.9544 | 32.3426 | 29.3794
050695 | 1.0920 | 1.2038 | 1.2038 | 30.1226 | 35.6549 | 39.4080 | 35.4440
050696 | 2.1492 | 1.1762 | 1.1762 | 36.9314 | 35.9220 | 38.1340 | 36.9904
050697 | 1.1158 | 1.3205 | 1.3205 | 19.2603 | 25.1984 | 16.9270 | 19.9625
050698 | 1.0543 | * | * | * | * | * | *
050699 | *** | * | * | 25.6818 | 26.8210 | 31.2540 | 27.9556
050701 | 1.3443 | 1.1291 | 1.1291 | 29.6896 | 29.6253 | 33.5009 | 31.4867
050704 | 1.0465 | 1.1762 | 1.1762 | 24.6609 | 25.3488 | 28.9925 | 26.5384
050707 | 1.1989 | 1.5049 | 1.5049 | 32.4877 | 34.0550 | 35.8114 | 34.0977
050708 | 1.7111 | 1.1291 | 1.1291 | 21.2163 | 22.5034 | 32.9787 | 25.2406
050709 | 1.4082 | 1.1600 | 1.1603 | 21.9079 | 25.6119 | 26.9167 | 24.7734
050710 | 1.3359 | 1.1291 | 1.1291 | 34.8311 | 39.9858 | 47.0098 | 41.2427
050713 | *** | * | * | 20.7448 | 20.2803 | 21.3180 | 20.6998
050714 | 1.4106 | 1.5509 | 1.5509 | 32.4491 | 33.6676 | 32.9341 | 33.0470
050717 | 1.6850 | 1.1762 | 1.1762 | 34.5519 | 38.0796 | 38.9983 | 37.0998
050718 | 1.1405 | 1.1291 | 1.1291 | 15.4037 | 21.4996 | 25.9059 | 20.4331
050720 | 0.9455 | 1.1600 | 1.1603 | 24.8117 | 30.0812 | 29.7498 | 28.4890
050722 | 0.9800 | 1.1371 | 1.1371 | * | * | 33.9652 | 33.9652
050723 | 1.3104 | 1.1762 | 1.1762 | 34.9814 | 35.0119 | 39.8595 | 36.7280
050724 | 1.9939 | 1.1291 | 1.1291 | * | 34.4267 | 29.4969 | 31.8092
050725 | 0.9799 | 1.1762 | 1.1762 | 22.0946 | 21.7816 | 24.4527 | 22.7171
050726 | 1.5792 | 1.1731 | 1.1731 | 27.0928 | 27.8433 | 32.0629 | 29.3587
050727 | 1.3104 | 1.1762 | 1.1762 | 23.7179 | 24.3026 | 30.9146 | 26.5349
050728 | 1.3772 | 1.5049 | 1.5049 | 31.4768 | 36.0820 | 39.6245 | 35.3141
050729 | 1.4087 | 1.1762 | 1.1762 | * | 34.2580 | 36.8283 | 35.5529
050730 | 1.1560 | 1.1762 | 1.1762 | * | 51.5425 | 37.2860 | 43.9757
050732 | 2.4527 | 1.1291 | 1.1291 | * | * | * | *
050733 | 1.5564 | 1.3205 | 1.3205 | * | * | * | *
050735 | 1.4593 | * | * | * | * | * | *
050736 | 1.2171 | * | * | * | * | * | *
050737 | 1.4960 | * | * | * | * | * | *
050738 | 1.3749 | * | * | * | * | * | *
050739 | 1.6624 | * | * | * | * | * | *
050740 | 1.2695 | * | * | * | * | * | *
050741 | 1.4605 | * | * | * | * | * | *
050742 | 1.4578 | * | * | * | * | * | *
050743 | 1.1704 | * | * | * | * | * | *
050744 | 2.0392 | * | * | * | * | * | *
050745 | 1.2940 | * | * | * | * | * | *
050746 | 1.7795 | * | * | * | * | * | *
050747 | 1.3787 | * | * | * | * | * | *
050749 | 1.2647 | * | * | * | * | * | *
050750 | 2.2585 | * | * | * | * | * | *
050751 | 2.1455 | * | * | * | * | * | *
050752 | 1.3908 | * | * | * | * | * | *
060001 | 1.5478 | 0.9930 | 0.9930 | 24.9410 | 26.8470 | 28.5246 | 26.7856
060003 | 1.4520 | 1.0805 | 1.0805 | 24.7856 | 24.2224 | 30.1449 | 26.4193
060004 | 1.3094 | 1.0924 | 1.0924 | 28.0656 | 29.9649 | 32.9128 | 30.3597
060006 | 1.4136 | 0.9331 | 0.9331 | 22.7493 | 24.5704 | 25.5300 | 24.3032
060007 | *** | * | * | 21.4792 | * | * | 21.4792
060008 | 1.2525 | 0.9331 | 0.9331 | 21.8037 | 23.3859 | 23.0325 | 22.7676
060009 | 1.4588 | 1.0924 | 1.0924 | 27.0511 | 28.7645 | 31.2466 | 29.0996
060010 | 1.7178 | 0.9689 | 0.9689 | 27.2290 | 28.9850 | 28.4315 | 28.2640
060011 | 1.5317 | 1.0924 | 1.0924 | 26.1958 | 27.2833 | 34.2985 | 29.1788
060012 | 1.4984 | 0.9331 | 0.9331 | 24.1557 | 26.2469 | 27.9068 | 26.0885
060013 | 1.4281 | 0.9331 | 0.9331 | 24.9708 | 24.5994 | 27.6808 | 25.7684
060014 | 1.8075 | 1.0924 | 1.0924 | 29.6744 | 31.2588 | 32.4518 | 31.1092
060015 | 1.6923 | 1.0924 | 1.0924 | 30.1158 | 30.4533 | 33.5968 | 31.2391
060016 | 1.2587 | 0.9331 | 0.9331 | 23.9655 | 25.6527 | 26.9441 | 25.5481
060018 | 1.3005 | 0.9331 | 0.9331 | 23.6620 | 25.7628 | 25.3149 | 24.9213
060020 | 1.5999 | 0.9331 | 0.9331 | 22.2052 | 22.6748 | 23.5825 | 22.8530
060022 | 1.6231 | 0.9697 | 0.9697 | 25.7832 | 26.5238 | 28.8935 | 27.0838
060023 | 1.7032 | 1.0805 | 1.0805 | 26.7285 | 27.7644 | 29.7290 | 28.0786
060024 | 1.8041 | 1.0924 | 1.0924 | 28.7231 | 29.0130 | 30.3956 | 29.4074
060027 | 1.5798 | 1.0805 | 1.0805 | 26.6348 | 28.0909 | 30.2413 | 28.4406
060028 | 1.4361 | 1.0924 | 1.0924 | 27.9686 | 30.0448 | 32.0442 | 30.0599
060030 | 1.3963 | 0.9689 | 0.9689 | 26.0011 | 26.6251 | 27.6439 | 26.7912
060031 | 1.5545 | 0.9697 | 0.9697 | 25.6207 | 26.3650 | 28.4559 | 26.8116
060032 | 1.5252 | 1.0924 | 1.0924 | 28.2234 | 30.4247 | 31.9803 | 30.1845
060034 | 1.6754 | 1.0924 | 1.0924 | 28.4604 | 29.8445 | 31.4601 | 29.9383
060036 | 1.1583 | 0.9331 | 0.9331 | 20.4635 | 20.7131 | 20.8128 | 20.6604
060041 | 0.9165 | 0.9331 | 0.9331 | 22.7123 | 23.4978 | 23.9297 | 23.4036
060043 | 1.0621 | 0.9331 | 0.9331 | 20.0939 | 18.7896 | 17.2960 | 18.6864
060044 | 1.1635 | 1.0805 | 1.0805 | 25.2471 | 25.0360 | 26.8821 | 25.7042
060049 | 1.3952 | 0.9594 | 0.9594 | 26.8089 | 29.0598 | 30.6057 | 28.8870
060050 | *** | * | * | 21.9108 | * | * | 21.9108
060054 | 1.4677 | 1.0037 | 1.0037 | 23.5803 | 22.3490 | 24.3711 | 23.4286
060057 | *** | * | * | 26.9891 | * | * | 26.9891
060064 | 1.6788 | 1.0924 | 1.0924 | 30.0963 | 31.3105 | 33.4859 | 31.6328
060065 | 1.3952 | 1.0924 | 1.0924 | 28.5282 | 31.1987 | 33.7362 | 31.1126
060071 | 1.1650 | 0.9331 | 0.9331 | 20.2706 | 25.7248 | 27.5209 | 24.6844
060075 | 1.2838 | 1.0037 | 1.0037 | 30.7835 | 32.7563 | 33.9644 | 32.5290
060076 | 1.2449 | 0.9331 | 0.9331 | 25.5406 | 26.8236 | 26.4669 | 26.2923
060096 | 1.5490 | 1.0805 | 1.0805 | 27.4085 | 30.0602 | 33.4708 | 30.3136
060100 | 1.7275 | 1.0924 | 1.0924 | 29.7690 | 32.1537 | 33.3856 | 31.7750
060103 | 1.3008 | 1.0805 | 1.0805 | 28.8063 | 30.3002 | 33.2964 | 30.8687
060104 | 1.3986 | 1.0924 | 1.0924 | 30.8625 | 32.0889 | 33.4664 | 32.1175
060107 | 1.4001 | 1.0924 | 1.0924 | 26.8267 | 26.1883 | 27.1594 | 26.7219
060111 | *** | * | * | 31.2571 | * | * | 31.2571
060112 | 1.7095 | 1.0924 | 1.0924 | * | * | 36.1471 | 36.1471
060113 | 1.2832 | 1.0924 | 1.0924 | * | * | * | *
060114 | 1.2889 | 1.0924 | 1.0924 | * | * | * | *
060115 | 0.8453 | * | * | * | * | * | *
060116 | 1.2462 | * | * | * | * | * | *
060117 | 1.2872 | * | * | * | * | * | *
070001 | 1.6340 | 1.2701 | 1.2511 | 32.2718 | 34.0302 | 35.1488 | 33.8080
070002 | 1.8265 | 1.1750 | 1.1750 | 29.0663 | 31.1530 | 32.9351 | 31.0526
070003 | 1.0862 | 1.1750 | 1.1750 | 31.3716 | 32.4197 | 33.5145 | 32.4479
070004 | 1.1975 | 1.1750 | 1.1750 | 27.3004 | 29.2544 | 30.2004 | 28.9166
070005 | 1.3661 | 1.2701 | 1.2511 | 29.3265 | 32.1668 | 33.4862 | 31.7706
070006 ² | 1.3682 | 1.3038 | 1.3008 | 33.9310 | 36.8469 | 38.1568 | 36.3107
070007 | 1.3065 | 1.2020 | 1.2020 | 30.3648 | 31.7125 | 35.6535 | 32.6301
070008 | 1.2465 | 1.1750 | 1.1750 | 24.9176 | 26.4806 | 27.6747 | 26.3851
070009 | 1.2280 | 1.1750 | 1.1750 | 28.8649 | 30.2706 | 32.5288 | 30.5697
070010 | 1.7865 | 1.3038 | 1.3008 | 33.1535 | 32.5798 | 34.7931 | 33.5340
070011 | 1.4018 | 1.1750 | 1.1750 | 27.5391 | 29.9105 | 31.1602 | 29.5355
070012 | 1.1831 | 1.1750 | 1.1750 | 40.3337 | 44.1424 | 30.3498 | 37.0108
070015 | 1.3748 | 1.1750 | 1.1750 | 30.9728 | 33.4595 | 35.2743 | 33.2900
070016 | 1.3865 | 1.2701 | 1.2511 | 29.6662 | 31.0903 | 31.3403 | 30.7038
070017 | 1.3862 | 1.2701 | 1.2511 | 30.3951 | 31.7223 | 33.4075 | 31.8732
070018 ² | 1.3414 | 1.3038 | 1.3008 | 35.7189 | 37.6081 | 39.4816 | 37.7074
070019 | 1.3161 | 1.2701 | 1.2511 | 29.6290 | 31.8148 | 34.6720 | 32.0589
070020 | 1.3759 | 1.1823 | 1.1823 | 29.9507 | 31.0935 | 33.3626 | 31.4683
070021 | 1.2443 | 1.1750 | 1.1750 | 31.4397 | 33.2357 | 36.0196 | 33.5900
070022 | 1.7575 | 1.2701 | 1.2511 | 32.3625 | 35.4120 | 38.9946 | 35.6213
070024 | 1.3670 | 1.2020 | 1.2020 | 31.0243 | 32.0430 | 35.2369 | 32.7950
070025 | 1.8013 | 1.1750 | 1.1750 | 29.2540 | 30.9938 | 31.9792 | 30.7563
070027 | 1.3452 | 1.1750 | 1.1750 | 27.3487 | 31.8018 | 30.8014 | 30.0429
070028 | 1.6360 | 1.3038 | 1.3008 | 29.5653 | 31.5036 | 35.1796 | 32.0982
070029 | 1.3189 | 1.1750 | 1.1750 | 26.3871 | 27.7213 | 30.7435 | 28.2936
070031 | 1.3075 | 1.2701 | 1.2511 | 27.2359 | 28.9190 | 30.4813 | 28.9306
070033 | 1.3631 | 1.3038 | 1.3008 | 35.5355 | 37.1929 | 39.7676 | 37.5730
070034 ² | 1.4079 | 1.3038 | 1.3008 | 35.6831 | 36.3899 | 38.1857 | 36.7733
070035 | 1.2940 | 1.1750 | 1.1750 | 27.1816 | 27.5585 | 30.3920 | 28.3695
070036 | 1.6631 | 1.2093 | 1.2093 | 34.0555 | 36.1610 | 38.8442 | 36.4123
070038 | 1.1294 | 1.2093 | 1.2511 | 31.1133 | 25.7516 | 25.5738 | 26.3181
070039 | 0.9397 | 1.2701 | 1.2511 | 35.0164 | 31.2269 | 32.8867 | 33.0224
080001 | 1.6313 | 1.0941 | 1.0941 | 30.2463 | 30.0242 | 32.7311 | 31.0532
080002 | *** | * | * | 26.4192 | 27.7932 | 29.1393 | 27.8103
080003 | 1.5848 | 1.0941 | 1.0941 | 27.1131 | 29.2266 | 31.1057 | 29.2127
080004 | 1.4833 | 1.0878 | 1.0878 | 26.0092 | 27.4921 | 29.3258 | 27.6577
080006 | 1.2902 | 0.9843 | 0.9843 | 24.4204 | 25.6160 | 27.0472 | 25.7475
080007 | 1.4550 | 1.0254 | 1.0254 | 24.6485 | 27.0074 | 29.7437 | 27.1759
090001 | 1.7661 | 1.1028 | 1.1028 | 31.3552 | 35.0413 | 37.9529 | 34.8066
090002 | *** | * | * | 29.6780 | * | * | 29.6780
090003 | 1.2598 | 1.1076 | 1.1076 | 27.0514 | 29.2660 | 31.2552 | 29.2762
090004 | 1.9157 | 1.1076 | 1.1076 | 29.9785 | 32.2021 | 35.6103 | 32.6016
090005 | 1.3435 | 1.1076 | 1.1076 | 30.2504 | 30.7728 | 32.4581 | 31.1497
090006 | 1.4536 | 1.1076 | 1.1076 | 25.9086 | 29.5590 | 29.1423 | 28.1875
090007 | *** | * | * | 30.1419 | * | * | 30.1419
090008 | 1.3953 | 1.1076 | 1.1076 | 29.6744 | 29.1059 | 32.8342 | 30.3957
090011 | 2.0690 | 1.1076 | 1.1076 | 32.4412 | 34.0693 | 36.3623 | 34.2608
100001 | 1.5529 | 0.9046 | 0.9046 | 25.2381 | 24.4060 | 23.8151 | 24.4521
100002 | 1.4122 | 0.9642 | 0.9642 | 22.1269 | 25.3389 | 26.4462 | 24.6809
100004 | 0.8962 | * | * | 16.2637 | 16.5974 | * | 16.4390
100006 | 1.6390 | 0.9409 | 0.9409 | 26.2372 | 26.3789 | 27.9464 | 26.8585
100007 | 1.6725 | 0.9409 | 0.9409 | 25.4333 | 26.5378 | 28.2465 | 26.8017
100008 | 1.7204 | 0.9825 | 0.9825 | 25.7377 | 27.4314 | 28.9763 | 27.4811
100009 | 1.4625 | 0.9825 | 0.9825 | 24.4666 | 25.9381 | 27.1166 | 25.8395
100010 | *** | * | * | 26.9486 | * | * | 26.9486
100012 | 1.6806 | 0.9339 | 0.9339 | 24.5762 | 26.3788 | 28.0401 | 26.3901
100014 | 1.3972 | 0.9397 | 0.9397 | 22.3054 | 24.5862 | 25.3244 | 24.0840
100015 | 1.3865 | 0.9249 | 0.9249 | 22.5781 | 24.6038 | 25.8553 | 24.2886
100017 | 1.6159 | 0.9397 | 0.9397 | 22.9545 | 26.1580 | 27.5965 | 25.6638
100018 | 1.6523 | 0.9935 | 0.9935 | 27.8582 | 28.1481 | 29.5692 | 28.5441
100019 | 1.6733 | 0.9440 | 0.9440 | 25.5566 | 27.6179 | 28.1170 | 27.1634
100020 | *** | * | * | 23.6106 | 23.9414 | 27.1058 | 24.9057
100022 | 1.6879 | 1.0470 | 1.0470 | 29.0519 | 29.9345 | 33.2813 | 30.8780
100023 | 1.5132 | 0.9409 | 0.9409 | 21.4015 | 23.0074 | 24.6790 | 23.0038
100024 | 1.2661 | 0.9825 | 0.9825 | 27.6476 | 30.2395 | 29.4861 | 29.0764
100025 | 1.6860 | 0.8609 | 0.8609 | 21.1174 | 22.1580 | 23.3147 | 22.2233
100026 | 1.6048 | 0.8609 | 0.8609 | 21.3533 | 21.4703 | 22.9234 | 21.9413
100027 | 0.9126 | 0.8609 | 0.8609 | 12.0314 | 16.1223 | 18.8639 | 15.6138
100028 | 1.3425 | 0.9440 | 0.9440 | 23.7818 | 26.8661 | 27.4585 | 26.0611
100029 | 1.2634 | 0.9825 | 0.9825 | 26.9307 | 27.5844 | 28.4463 | 27.6559
100030 | 1.3103 | 0.9409 | 0.9409 | 22.4887 | 24.0943 | 24.7251 | 23.8482
100032 | 1.7935 | 0.9249 | 0.9249 | 23.0174 | 25.2450 | 26.3898 | 24.9308
100034 | 1.9078 | 0.9825 | 0.9825 | 24.4064 | 25.9415 | 27.9305 | 25.9959
100035 | 1.5645 | 0.9866 | 0.9866 | 25.3590 | 26.9407 | 29.2732 | 27.1757
100038 | 1.9590 | 1.0470 | 1.0470 | 27.4422 | 29.8583 | 31.0393 | 29.4968
100039 | 1.4635 | 1.0470 | 1.0470 | 26.6016 | 28.4627 | 29.5742 | 28.2437
100040 | 1.7080 | 0.9046 | 0.9046 | 23.5372 | 23.6443 | 25.9099 | 24.3687
100043 | 1.3536 | 0.9249 | 0.9249 | 22.8963 | 25.2273 | 26.5006 | 24.9156
100044 | 1.4428 | 0.9857 | 0.9857 | 26.3208 | 28.3596 | 29.7123 | 28.1591
100045 | 1.3397 | 0.9409 | 0.9409 | 23.0520 | 26.9641 | 30.5941 | 27.0017
100046 | 1.2924 | 0.9249 | 0.9249 | 26.6169 | 26.3673 | 27.4887 | 26.8296
100047 | 1.7742 | 0.9453 | 0.9453 | 24.4212 | 25.0404 | 26.1017 | 25.2191
100048 | 0.9448 | 0.8609 | 0.8609 | 18.3767 | 18.8771 | 19.7932 | 19.0265
100049 | 1.2016 | 0.8908 | 0.8908 | 22.9532 | 22.9810 | 23.3622 | 23.1049
100050 | 1.1313 | 0.9825 | 0.9825 | 20.6893 | 19.8713 | 21.7480 | 20.7633
100051 | 1.3495 | 0.9409 | 0.9409 | 22.3311 | 23.1940 | 28.0190 | 24.4952
100052 | 1.3169 | 0.8908 | 0.8908 | 20.9078 | 22.3920 | 23.5420 | 22.3120
100053 | 1.2474 | 0.9825 | 0.9825 | 27.3383 | 27.3224 | 28.0804 | 27.5770
100054 | 1.2414 | 0.8654 | 0.8654 | 25.7279 | 28.0512 | 29.1317 | 27.5948
100055 | 1.3622 | 0.9249 | 0.9249 | 22.1051 | 23.5332 | 25.4970 | 23.6039
100056 | *** | * | * | 25.7945 | * | * | 25.7945
100057 | 1.5600 | 0.9409 | 0.9409 | 22.6038 | 25.3897 | 24.9844 | 24.3593
100061 | 1.5507 | 0.9825 | 0.9825 | 26.7673 | 29.2565 | 31.0039 | 29.0171
100062 | 1.7063 | 0.8964 | 0.8964 | 24.1413 | 25.2340 | 26.5512 | 25.3312
100063 | 1.2658 | 0.9249 | 0.9249 | 21.5566 | 24.7026 | 26.0284 | 24.1067
100067 | 1.4126 | 0.9249 | 0.9249 | 23.9333 | 26.1213 | 26.9257 | 25.6361
100068 | 1.7656 | 0.9397 | 0.9397 | 24.9025 | 25.9202 | 27.0727 | 25.9472
100069 | 1.3348 | 0.9249 | 0.9249 | 22.4386 | 24.7442 | 25.9129 | 24.3174
100070 | 1.7383 | 0.9866 | 0.9866 | 23.7746 | 24.8883 | 27.0935 | 25.1963
100071 | 1.2411 | 0.9249 | 0.9249 | 23.4176 | 24.9682 | 26.4245 | 25.0038
100072 | 1.3793 | 0.9397 | 0.9397 | 24.2934 | 26.0459 | 26.3997 | 25.6529
100073 | 1.7701 | 1.0470 | 1.0470 | 25.3685 | 30.3358 | 30.3162 | 28.6546
100075 | 1.4953 | 0.9249 | 0.9249 | 23.3503 | 25.1691 | 26.0289 | 24.8882
100076 | 1.2143 | 0.9825 | 0.9825 | 21.0777 | 21.9483 | 23.4786 | 22.0898
100077 | 1.3599 | 0.9453 | 0.9453 | 24.3478 | 26.0347 | 29.4683 | 26.5871
100079 | 1.6395 | * | * | * | * | * | *
100080 | 1.8174 | 0.9642 | 0.9642 | 26.3596 | 27.0126 | 28.4894 | 27.3255
100081 | 1.0745 | 0.8609 | 0.8609 | 16.9168 | 15.6662 | 16.8158 | 16.4460
100084 | 1.8081 | 0.9409 | 0.9409 | 25.4140 | 26.3393 | 26.7820 | 26.1607
100086 | 1.2749 | 1.0470 | 1.0470 | 26.4817 | 28.2641 | 29.9772 | 28.2256
100087 | 1.8986 | 0.9866 | 0.9866 | 25.9909 | 27.1531 | 30.3527 | 27.9094
100088 | 1.6439 | 0.9046 | 0.9046 | 24.8729 | 25.9182 | 26.1923 | 25.6760
100090 | 1.5387 | 0.9046 | 0.9046 | 24.0501 | 24.2422 | 25.0930 | 24.4705
100092 | 1.5509 | 0.9440 | 0.9440 | 26.0856 | 28.4789 | 27.9279 | 27.5045
100093 | 1.7611 | 0.8609 | 0.8609 | 21.1547 | 21.3524 | 22.2184 | 21.5835
100098 | *** | * | * | 21.2505 | * | * | 21.2505
100099 | 1.0847 | 0.8908 | 0.8908 | 20.4328 | 21.3036 | 24.7212 | 22.1811
100102 | 1.1374 | 0.8734 | 0.8734 | 22.8850 | 23.8596 | 25.3617 | 24.0415
100103 | 0.9737 | * | * | 21.7494 | * | * | 21.7494
100105 | 1.4783 | 0.9604 | 0.9604 | 24.9503 | 26.8091 | 29.2659 | 27.0006
100106 | 0.9711 | 0.8609 | 0.8609 | 20.2882 | 24.0389 | 23.8545 | 22.7821
100107 | 1.2031 | 0.9339 | 0.9339 | 24.4484 | 26.1337 | 26.1391 | 25.5929
100108 | 0.8066 | 0.8609 | 0.8609 | 16.3757 | 22.0750 | 21.2176 | 19.8907
100109 | 1.3164 | 0.9409 | 0.9409 | 23.8836 | 24.9951 | 25.9430 | 24.9469
100110 | 1.6056 | 0.9409 | 0.9409 | 28.3699 | 29.1494 | 29.4304 | 29.0104
100113 | 1.9725 | 0.9299 | 0.9299 | 25.0067 | 26.3806 | 27.5595 | 26.3652
100114 | 1.3113 | 0.9825 | 0.9825 | 27.7413 | 29.2195 | 29.2327 | 28.7304
100117 | 1.1967 | 0.9046 | 0.9046 | 26.0451 | 26.4536 | 27.5443 | 26.7071
100118 | 1.3392 | 0.9046 | 0.9046 | 23.6669 | 28.0569 | 28.2361 | 27.0580
100121 | 1.1021 | 0.8908 | 0.8908 | 24.0937 | 24.8579 | 26.5604 | 25.1840
100122 | 1.2277 | 0.8654 | 0.8654 | 21.2597 | 23.4751 | 23.9552 | 22.8872
100124 | 1.1827 | 0.8609 | 0.8609 | 21.6483 | 22.7023 | 25.0550 | 23.1604
100125 | 1.2466 | 0.9825 | 0.9825 | 25.3532 | 26.7452 | 29.5003 | 27.3520
100126 | 1.3389 | 0.9249 | 0.9249 | 23.2996 | 24.4515 | 29.0390 | 25.6215
100127 | 1.6178 | 0.9249 | 0.9249 | 21.3223 | 24.4485 | 26.1506 | 24.0288
100128 | 2.1100 | 0.9249 | 0.9249 | 25.6763 | 29.4979 | 29.8875 | 28.4604
100130 | 1.1732 | 0.9642 | 0.9642 | 22.8324 | 24.2046 | 25.2345 | 24.0576
100131 | 1.3335 | 0.9825 | 0.9825 | 25.8316 | 29.2462 | 28.1549 | 27.7421
100132 | 1.2373 | 0.9249 | 0.9249 | 23.0428 | 24.3293 | 26.2877 | 24.6022
100134 | 0.9129 | 0.8609 | 0.8609 | 19.5337 | 20.9244 | 20.4785 | 20.3225
100135 | 1.6218 | 0.9316 | 0.9316 | 22.3071 | 24.0024 | 28.0900 | 24.6354
100137 | 1.2238 | 0.8908 | 0.8908 | 23.3692 | 25.1974 | 24.6076 | 24.4568
100139 | 0.8408 | 0.9299 | 0.9299 | 14.5046 | 17.5489 | 16.6310 | 16.2799
100140 | 1.1473 | 0.9046 | 0.9046 | 24.8165 | 26.4720 | 26.1383 | 25.8508
100142 | 1.2230 | 0.8609 | 0.8609 | 20.7219 | 22.9577 | 23.8571 | 22.5245
100150 | 1.3097 | 0.9825 | 0.9825 | 25.7122 | 26.1990 | 27.5276 | 26.4717
100151 | 1.8299 | 0.9046 | 0.9046 | 26.1848 | 28.1322 | 30.5977 | 28.4241
100154 | 1.5669 | 0.9825 | 0.9825 | 26.3703 | 27.6127 | 28.2710 | 27.4772
100156 | 1.1245 | 0.8734 | 0.8734 | 22.2757 | 26.7092 | 27.4848 | 25.5333
100157 | 1.5980 | 0.9249 | 0.9249 | 25.9133 | 27.3851 | 28.9595 | 27.4711
100160 | 1.2422 | 0.8609 | 0.8609 | 27.2019 | 26.9851 | 31.2701 | 28.5770
100161 | 1.5442 | 0.9409 | 0.9409 | 28.3607 | 28.8077 | 28.6336 | 28.6073
100166 | 1.5055 | 0.9866 | 0.9866 | 24.4251 | 27.9618 | 29.6865 | 27.2716
100167 | 1.2695 | 1.0470 | 1.0470 | 26.8584 | 30.3694 | 30.7365 | 29.3059
100168 | 1.4259 | 0.9642 | 0.9642 | 26.0864 | 27.1292 | 27.9334 | 27.0344
100172 | 1.3322 | 0.9825 | 0.9825 | 18.4651 | 18.2735 | 20.8673 | 19.1957
100173 | 1.7421 | 0.9249 | 0.9249 | 22.4866 | 24.8721 | 26.6141 | 24.6478
100175 | 0.9891 | 0.8840 | 0.8840 | 22.0666 | 23.5455 | 24.0790 | 23.2771
100176 | 1.9676 | 0.9857 | 0.9857 | 29.8326 | 31.2694 | 31.0778 | 30.7413
100177 | 1.2982 | 0.9440 | 0.9440 | 25.3973 | 26.6781 | 27.6011 | 26.6232
100179 | 1.7788 | 0.9046 | 0.9046 | 26.6537 | 29.5619 | 29.6646 | 28.6728
100180 | 1.3332 | 0.9249 | 0.9249 | 26.3299 | 27.1804 | 29.2623 | 27.6555
100181 | 1.0919 | 0.9825 | 0.9825 | 19.5022 | 21.8540 | 21.8409 | 21.1771
100183 | 1.2043 | 0.9825 | 0.9825 | 26.7893 | 27.4951 | 28.1843 | 27.5031
100187 | 1.2393 | 0.9825 | 0.9825 | 26.1394 | 27.3653 | 28.0710 | 27.1892
100189 | 1.2966 | 1.0470 | 1.0470 | 26.5763 | 28.4136 | 29.4643 | 28.2193
100191 | 1.2986 | 0.9249 | 0.9249 | 24.3553 | 26.6340 | 27.8297 | 26.3354
100200 | 1.4276 | 1.0470 | 1.0470 | 28.0926 | 29.8963 | 29.9888 | 29.3614
100204 | 1.5591 | 0.9299 | 0.9299 | 24.4697 | 25.7537 | 27.3984 | 25.9174
100206 | 1.3147 | 0.9249 | 0.9249 | 23.0340 | 25.2196 | 26.6863 | 25.0189
100208 | *** | * | * | 24.9854 | * | * | 24.9854
100209 | 1.3796 | 0.9825 | 0.9825 | 25.0778 | 26.6246 | 26.6405 | 26.1523
100210 | 1.5797 | 1.0470 | 1.0470 | 28.6449 | 28.9486 | 29.7288 | 29.1000
100211 | 1.2015 | 0.9249 | 0.9249 | * | 24.7095 | 23.9827 | 24.3359
100212 | 1.5477 | 0.8964 | 0.8964 | 24.2669 | 24.7566 | 26.0396 | 25.0603
100213 | 1.5951 | 0.9866 | 0.9866 | 25.1893 | 27.1936 | 27.3982 | 26.6057
100217 | 1.2343 | 0.9857 | 0.9857 | 25.2635 | 25.2907 | 25.9973 | 25.5366
100220 | 1.6552 | 0.9339 | 0.9339 | 25.0154 | 26.0905 | 27.8611 | 26.3924
100223 | 1.5470 | 0.8654 | 0.8654 | 23.4556 | 24.7015 | 25.6022 | 24.5922
100224 | 1.2356 | 1.0470 | 1.0470 | 23.3593 | 24.8077 | 26.1308 | 24.8045
100225 | 1.2202 | 1.0470 | 1.0470 | 27.9473 | 28.4316 | 28.6655 | 28.3365
100226 | 1.2371 | 0.9046 | 0.9046 | 27.8003 | 29.3317 | 28.7732 | 28.6694
100228 | 1.3987 | 1.0470 | 1.0470 | 27.2873 | 29.8952 | 28.4669 | 28.6149
100230 | 1.3410 | 1.0470 | 1.0470 | 26.3690 | 28.1703 | 29.6743 | 28.0367
100231 | 1.7304 | 0.8609 | 0.8609 | 24.6994 | 25.5175 | 26.3337 | 25.5418
100232 ʰ | 1.2545 | 0.9046 | 0.9046 | 23.9405 | 24.9322 | 27.3158 | 25.3587
100234 | 1.3964 | 0.9642 | 0.9642 | 25.2574 | 26.3601 | 28.2662 | 26.6107
100236 | 1.4175 | 0.9453 | 0.9453 | 25.9282 | 26.6585 | 28.1991 | 26.9446
100237 | 1.9228 | 1.0470 | 1.0470 | 25.6112 | 31.3543 | 32.3006 | 29.5164
100238 | 1.6275 | 0.9249 | 0.9249 | 27.1748 | 28.4302 | 29.9215 | 28.5609
100239 | 1.2871 | 0.9866 | 0.9866 | 26.9668 | 27.7592 | 28.4351 | 27.7562
100240 | 0.9280 | 0.9825 | 0.9825 | 23.4830 | 25.3265 | 25.7112 | 24.8537
100242 | 1.4467 | 0.8609 | 0.8609 | 21.5130 | 24.0990 | 25.8928 | 23.8355
100243 | 1.5924 | 0.9249 | 0.9249 | 25.2987 | 26.1131 | 27.1058 | 26.2400
100244 | 1.3521 | 0.9339 | 0.9339 | 24.1515 | 25.2584 | 26.5235 | 25.3682
100246 | 1.5959 | 0.9857 | 0.9857 | 27.6382 | 28.9894 | 29.9108 | 28.8806
100248 | 1.5784 | 0.9249 | 0.9249 | 25.9170 | 27.7797 | 28.7311 | 27.5094
100249 | 1.3230 | 0.9249 | 0.9249 | 23.4021 | 23.2084 | 24.0596 | 23.5536
100252 | 1.2232 | 0.9857 | 0.9857 | 24.9860 | 25.8540 | 27.0442 | 25.9795
100253 | 1.3805 | 0.9642 | 0.9642 | 24.4051 | 25.7121 | 27.9291 | 26.0507
100254 | 1.5434 | 0.9316 | 0.9316 | 25.0192 | 25.7338 | 26.1147 | 25.6499
100255 | 1.2809 | 0.9249 | 0.9249 | 22.2341 | 24.4808 | 26.3538 | 24.3804
100256 | 1.8683 | 0.9249 | 0.9249 | 26.0629 | 28.8856 | 29.7926 | 28.2929
100258 | 1.5255 | 1.0470 | 1.0470 | 31.8772 | 31.2482 | 31.3505 | 31.4813
100259 | 1.2692 | 0.9249 | 0.9249 | 24.9404 | 26.0175 | 27.1642 | 26.0636
100260 | 1.3677 | 0.9857 | 0.9857 | 25.2630 | 27.5188 | 27.0181 | 26.6532
100262 | *** | * | * | 26.3954 | * | * | 26.3954
100264 | 1.2637 | 0.9249 | 0.9249 | 25.0250 | 25.5489 | 25.9597 | 25.5115
100265 | 1.3089 | 0.9249 | 0.9249 | 23.4758 | 24.1454 | 25.9086 | 24.5857
100266 | 1.4274 | 0.8609 | 0.8609 | 22.6614 | 23.2340 | 23.7655 | 23.2568
100267 | 1.2996 | 0.9866 | 0.9866 | 26.5059 | 27.3768 | 28.7517 | 27.5078
100268 | 1.1892 | 0.9642 | 0.9642 | 29.8289 | 29.2898 | 29.9909 | 29.7065
100269 | 1.3995 | 0.9642 | 0.9642 | 25.3228 | 26.7450 | 27.3632 | 26.5403
100275 | 1.3040 | 0.9642 | 0.9642 | 24.3059 | 26.0361 | 27.0080 | 25.8478
100276 | 1.2587 | 1.0470 | 1.0470 | 27.2589 | 30.0576 | 31.2531 | 29.5875
100277 | 1.4104 | 0.9825 | 0.9825 | 47.3905 | 16.5427 | 20.7768 | 22.4551
100279 | 1.3178 | 0.9339 | 0.9339 | 25.4909 | 26.8606 | 28.5951 | 27.0996
100281 | 1.3391 | 1.0470 | 1.0470 | 27.0864 | 28.6660 | 29.8789 | 28.6295
100284 | 1.0591 | 0.9825 | 0.9825 | 22.5927 | 23.8170 | 22.3173 | 22.9046
100285 | 1.2194 | * | * | * | * | * | *
100286 | 1.6325 | 0.9935 | 0.9935 | 27.1051 | 29.4284 | 28.4751 | 28.3833
100287 | 1.3417 | 0.9642 | 0.9642 | 28.2229 | 28.3427 | 28.2583 | 28.2764
100288 | 1.5562 | 0.9642 | 0.9642 | 37.4785 | 33.8141 | 29.6965 | 33.2143
100289 | 1.7571 | 1.0470 | 1.0470 | 28.4504 | 29.2915 | 29.5902 | 29.1535
100290 | 1.1732 | 0.9191 | 0.9191 | * | 23.5080 | 25.1300 | 24.3178
100291 | 1.3066 | 0.9440 | 0.9440 | * | * | 28.4799 | 28.4799
100292 | 1.3038 | 0.8609 | 0.8609 | * | * | 26.9608 | 26.9608
100293 | *** | * | * | * | * | 32.7722 | 32.7722
100294 | *** | * | * | * | * | 30.3556 | 30.3556
100295 | *** | * | * | * | * | 26.1791 | 26.1791
100296 | 1.3555 | 0.9825 | 0.9825 | * | * | * | *
100298 | 0.8740 | 0.9316 | 0.9316 | * | * | * | *
100299 | 1.3010 | 0.9866 | 0.9866 | * | * | * | *
110001 | 1.2775 | 0.9644 | 0.9644 | 25.1164 | 25.3102 | 26.6205 | 25.6873
110002 | 1.3523 | 0.9644 | 0.9644 | 21.8616 | 25.3897 | 26.3797 | 24.5871
110003 | 1.2617 | 0.9046 | 0.9046 | 20.0968 | 21.4002 | 22.0049 | 21.1828
110004 | 1.2789 | 0.8965 | 0.8965 | 22.7929 | 23.9911 | 24.4124 | 23.7130
110005 | 1.2301 | 0.9761 | 0.9761 | 22.3645 | 22.9000 | 27.9633 | 24.5295
110006 | 1.4702 | 0.9827 | 0.9827 | 25.0719 | 28.6090 | 28.9119 | 27.4847
110007 | 1.6002 | 0.8969 | 0.8969 | 30.7430 | 23.8729 | 26.3197 | 26.5387
110008 | 1.2995 | 0.9761 | 0.9761 | 23.4662 | 27.1711 | 30.1360 | 26.9747
110010 | 2.1912 | 0.9761 | 0.9761 | 28.7690 | 29.7142 | 31.8635 | 30.1393
110011 | 1.2378 | 0.9761 | 0.9761 | 25.4620 | 26.0899 | 28.0194 | 26.5176
110015 | 1.1303 | 0.9761 | 0.9761 | 25.5661 | 26.6610 | 28.7369 | 27.0953
110016 | 1.1761 | 0.7577 | 0.7577 | 18.8376 | 21.7610 | 20.7638 | 20.4328
110018 | 1.1832 | 0.9761 | 0.9761 | 25.6485 | 28.2431 | 26.4698 | 26.7925
110020 | 1.3269 | 0.9761 | 0.9761 | 24.8735 | 26.8501 | 27.1406 | 26.3040
110023 | 1.3249 | 0.9644 | 0.9644 | 25.3746 | 27.3029 | 30.3424 | 27.7599
110024 | 1.4064 | 0.9089 | 0.9089 | 23.8091 | 25.7205 | 27.3054 | 25.5765
110025 | 1.4741 | 0.9046 | 0.9046 | 31.5253 | 26.1311 | 29.9555 | 28.9712
110026 | 1.1102 | 0.7577 | 0.7577 | 20.5740 | 21.2826 | 21.3621 | 21.0771
110027 | 1.0741 | 0.7964 | 0.7964 | 19.2323 | 20.2175 | 20.8174 | 20.0273
110028 | 1.8298 | 0.9681 | 0.9681 | 25.1836 | 28.1619 | 30.5430 | 27.9386
110029 | 1.7593 | 0.9644 | 0.9644 | 25.2335 | 24.8893 | 26.6096 | 25.6552
110030 | 1.2303 | 0.9761 | 0.9761 | 25.0842 | 26.4770 | 28.1621 | 26.6637
110031 | 1.2875 | 0.9761 | 0.9761 | 24.1711 | 24.7874 | 26.3138 | 25.1188
110032 | 1.1329 | 0.7577 | 0.7577 | 20.7211 | 21.9407 | 22.5419 | 21.7322
110033 | 1.3719 | 0.9761 | 0.9761 | 25.2326 | 28.3210 | 29.6154 | 27.8235
110034 | 1.6774 | 0.9681 | 0.9681 | 24.4141 | 26.9986 | 28.0571 | 26.5634
110035 | 1.6293 | 0.9761 | 0.9761 | 25.7562 | 27.4583 | 28.1179 | 27.1607
110036 | 1.8177 | 0.9089 | 0.9089 | 25.4854 | 26.8789 | 27.7279 | 26.7470
110038 | 1.4966 | 0.8101 | 0.8101 | 20.5880 | 21.2138 | 21.7736 | 21.2085
110039 | 1.4547 | 0.9681 | 0.9681 | 19.4032 | 24.7248 | 25.8629 | 23.0782
110040 | 1.1223 | 0.9644 | 0.9644 | 18.8744 | 19.7509 | 19.1800 | 19.2690
110041 | 1.2552 | 0.9707 | 0.9707 | 21.5402 | 23.4074 | 24.7306 | 23.1719
110042 | 1.0876 | 0.9761 | 0.9761 | 26.8321 | 28.6873 | 34.0887 | 29.8762
110043 | 1.7925 | 0.9089 | 0.9089 | 25.2788 | 26.6323 | 23.9626 | 25.2951
110044 | 1.1525 | 0.7577 | 0.7577 | 19.6940 | 20.9654 | 22.6491 | 21.0788
110045 | 1.1388 | 0.9761 | 0.9761 | 21.3922 | 24.9821 | 23.5532 | 23.2970
110046 | 1.1557 | 0.9761 | 0.9761 | 24.0022 | 23.8292 | 25.5453 | 24.4504
110049 | *** | * | * | 19.8706 | * | * | 19.8706
110050 | 1.1141 | 0.9050 | 0.9050 | 25.6020 | 26.1320 | 28.2504 | 26.6887
110051 | 1.1491 | 0.7577 | 0.7577 | 19.0995 | 19.4276 | * | 19.2687
110054 | 1.4092 | 0.9644 | 0.9644 | 22.2250 | 25.7085 | 26.5180 | 24.8264
110056 | 0.9187 | * | * | 23.0080 | * | * | 23.0080
110059 | 1.1352 | 0.7577 | 0.7577 | 18.7097 | 20.5565 | 20.6838 | 19.8951
110063 | *** | * | * | 20.3760 | * | * | 20.3760
110064 | 1.4874 | 0.8256 | 0.8256 | 23.8739 | 24.2739 | 23.6909 | 23.9385
110069 | 1.2898 | 0.9176 | 0.9176 | 22.3006 | 24.1669 | 24.9679 | 23.8522
110071 | 1.0437 | 0.7577 | 0.7577 | 13.3731 | 18.0224 | 19.7309 | 16.8213
110073 | 1.0751 | 0.7577 | 0.7577 | 16.3610 | 18.6336 | 17.5422 | 17.4505
110074 | 1.5434 | 0.9827 | 0.9827 | 27.5836 | 27.1207 | 29.1532 | 27.9899
110075 | 1.2899 | 0.8958 | 0.8958 | 20.9973 | 22.0935 | 22.7715 | 21.9811
110076 | 1.4276 | 0.9761 | 0.9761 | 25.2424 | 26.3506 | 28.1355 | 26.5899
110078 | 2.0372 | 0.9761 | 0.9761 | 27.8627 | 29.5779 | 30.4031 | 29.3431
110079 | 1.4419 | 0.9761 | 0.9761 | 24.5255 | 23.1024 | 26.4675 | 24.6603
110080 | 1.2829 | 0.9761 | 0.9761 | 21.5482 | 22.3213 | 18.4242 | 20.7532
110082 | 1.9077 | 0.9761 | 0.9761 | 28.9731 | 29.8366 | 30.9276 | 29.9458
110083 | 1.9292 | 0.9761 | 0.9761 | 26.2604 | 27.8245 | 30.3920 | 28.2014
110086 | 1.2886 | 0.7577 | 0.7577 | 20.8557 | 21.1509 | 21.2115 | 21.0747
110087 | 1.4659 | 0.9761 | 0.9761 | 26.2872 | 28.0471 | 28.3256 | 27.5768
110089 | 1.1203 | 0.7577 | 0.7577 | 21.2013 | 21.9509 | 22.3332 | 21.8399
110091 | 1.2844 | 0.9761 | 0.9761 | 26.3857 | 26.5523 | 28.9885 | 27.4113
110092 | 1.0523 | 0.7577 | 0.7577 | 18.7397 | 18.5527 | 20.2520 | 19.1704
110095 | 1.4415 | 0.8101 | 0.8101 | 21.8709 | 23.4846 | 25.7326 | 23.7156
110096 | 0.9724 | * | * | 19.4498 | * | * | 19.4498
110100 | 0.9636 | 0.7577 | 0.7577 | 16.5833 | 16.5600 | 15.1511 | 16.0255
110101 | 1.0753 | 0.7577 | 0.7577 | 14.4630 | 16.4270 | 18.1778 | 16.2572
110104 | 1.0503 | 0.7577 | 0.7577 | 19.5575 | 18.7951 | 19.1452 | 19.1709
110105 | 1.3027 | 0.7577 | 0.7577 | 20.6270 | 21.1077 | 22.7867 | 21.5133
110107 | 1.9366 | 0.9554 | 0.9554 | 26.0763 | 26.2526 | 28.0519 | 26.8480
110109 | 1.0020 | 0.7577 | 0.7577 | 20.4726 | 21.4280 | 21.8210 | 21.2959
110111 | 1.1922 | 0.9681 | 0.9681 | 20.5577 | 29.2190 | 24.6109 | 24.2986
110112 | 0.9195 | 0.7577 | 0.7577 | 21.0612 | 24.2463 | 21.7411 | 22.2315
110113 | 1.0319 | 0.9681 | 0.9681 | 16.7641 | 19.1753 | 18.9512 | 18.3153
110115 | 1.7116 | 0.9761 | 0.9761 | 29.8699 | 32.0197 | 31.9907 | 31.3106
110121 | 1.0279 | 0.7577 | 0.7577 | 21.2534 | 21.6637 | 22.0498 | 21.6648
110122 | 1.5567 | 0.8982 | 0.8982 | 22.0210 | 23.7589 | 24.7846 | 23.5480
110124 | 1.0276 | 0.8005 | 0.8005 | 20.9334 | 22.7058 | 23.4296 | 22.3620
110125 | 1.3252 | 0.9176 | 0.9176 | 22.1458 | 22.4238 | 23.3281 | 22.6254
110128 | 1.2532 | 0.8958 | 0.8958 | 23.2576 | 24.4596 | 25.6176 | 24.4945
110129 | 1.5112 | 0.8256 | 0.8256 | 22.4202 | 23.3631 | 24.4429 | 23.4176
110130 | 0.9251 | 0.7577 | 0.7577 | 17.6529 | 18.7549 | 18.4928 | 18.3190
110132 | 1.0227 | 0.7577 | 0.7577 | 18.9927 | 19.2307 | 20.1060 | 19.4424
110135 | 1.2432 | 0.7577 | 0.7577 | 20.0057 | 20.4411 | 21.8451 | 20.8410
110136 | *** | * | * | 22.7715 | 15.8573 | 18.5125 | 19.1561
110142 | 0.9652 | 0.7577 | 0.7577 | 17.3328 | 18.1980 | 19.4290 | 18.3479
110143 | 1.3959 | 0.9761 | 0.9761 | 25.4932 | 27.7055 | 27.6784 | 26.9990
110146 | 1.0904 | 0.8363 | 0.8363 | 19.9221 | 23.9067 | 24.7255 | 22.8343
110149 | *** | * | * | 24.7686 | 27.1477 | 28.2647 | 26.9026
110150 | 1.2486 | 0.9644 | 0.9644 | 23.8157 | 22.6624 | 25.2397 | 23.8573
110153 | 1.1463 | 0.9176 | 0.9176 | 22.8660 | 24.5368 | 24.4107 | 23.9661
110161 | 1.4911 | 0.9761 | 0.9761 | 27.4435 | 29.3201 | 31.2120 | 29.3628
110163 | 1.3865 | 0.8969 | 0.8969 | 25.5461 | 26.0764 | 28.0288 | 26.5286
110164 | 1.5927 | 0.9554 | 0.9554 | 26.4450 | 27.0600 | 28.5216 | 27.3709
110165 | 1.3817 | 0.9761 | 0.9761 | 24.3897 | 26.8378 | 27.1472 | 26.1300
110166 | *** | * | * | 25.2264 | 26.8070 | * | 26.0253
110168 | 1.8861 | 0.9644 | 0.9644 | 24.6321 | 27.0022 | 28.7602 | 26.8363
110172 | 1.2080 | 0.9761 | 0.9761 | 27.0240 | 29.1703 | 30.7555 | 29.0077
110177 | 1.7219 | 0.9681 | 0.9681 | 25.0129 | 26.7504 | 27.9520 | 26.6015
110179 | *** | * | * | 26.1173 | 26.0759 | * | 26.0961
110183 | 1.2204 | 0.9761 | 0.9761 | 27.6020 | 29.6133 | 29.9753 | 29.1744
110184 | 1.1779 | 0.9761 | 0.9761 | 25.5420 | 26.5240 | 27.0140 | 26.4179
110186 | 1.3488 | 0.8256 | 0.8256 | 23.2348 | 25.0299 | 26.1373 | 24.8057
110187 | 1.2445 | 0.9644 | 0.9644 | 22.5730 | 24.2933 | 24.4380 | 23.8234
110189 | 1.1035 | 0.9644 | 0.9644 | 23.9404 | 26.7653 | 25.5622 | 25.4422
110190 | 1.0679 | 0.7759 | 0.7759 | 19.1054 | 14.2517 | 22.4774 | 18.1909
110191 | 1.2940 | 0.9761 | 0.9761 | 25.8409 | 26.8277 | 27.2171 | 26.6346
110192 | 1.3492 | 0.9761 | 0.9761 | 25.7406 | 26.7852 | 27.9800 | 26.8678
110193 | *** | * | * | 27.8223 | 27.3341 | 27.8180 | 27.6526
110194 | 0.9325 | 0.7577 | 0.7577 | 16.3148 | 18.4776 | 18.8136 | 17.9305
110198 | 1.3451 | 0.9761 | 0.9761 | 30.8014 | 31.7748 | 31.7399 | 31.4753
110200 | 1.8335 | 0.8256 | 0.8256 | 21.2177 | 22.3249 | 24.7384 | 22.6614
110201 | 1.4386 | 0.9554 | 0.9554 | 27.0388 | 28.2232 | 30.6525 | 28.6696
110203 | 0.9744 | 0.9761 | 0.9761 | 25.8951 | 26.8768 | 30.3037 | 27.7533
110205 | 1.1502 | 0.9644 | 0.9644 | 20.6150 | 19.7409 | 21.5043 | 20.6527
110209 | 0.5449 | 0.7577 | 0.7577 | 19.1000 | 19.0450 | 20.6610 | 19.6589
110212 | 1.0965 | 0.8340 | 0.8340 | 20.9365 | 40.5120 | 23.5240 | 28.8400
110214 | *** | * | * | * | * | 38.0916 | 38.0916
110215 | 1.2932 | 0.9761 | 0.9761 | 23.9657 | 25.7886 | 27.6105 | 25.8891
110218 | *** | * | * | 26.1073 | * | * | 26.1073
110219 | 1.3711 | 0.9761 | 0.9761 | 27.1880 | 27.0362 | 28.9963 | 27.7481
110220 | *** | * | * | * | * | 36.3797 | 36.3797
110221 | *** | * | * | * | * | 27.9342 | 27.9342
110222 | *** | * | * | * | * | 35.6600 | 35.6600
110224 | 1.2679 | 0.9554 | 0.9554 | * | * | * | *
110225 | 1.1623 | 0.9761 | 0.9761 | * | * | * | *
110226 | 1.1684 | * | * | * | * | * | *
120001 | 1.7479 | 1.1066 | 1.1066 | 31.7108 | 34.7715 | 36.1455 | 34.2182
120002 | 1.1953 | 1.0502 | 1.0502 | 26.9900 | 29.9913 | 31.1454 | 29.4877
120004 | 1.2414 | 1.1066 | 1.1066 | 28.3569 | 28.6527 | 29.8958 | 28.9336
120005 | 1.2996 | 1.0502 | 1.0502 | 26.9053 | 29.3405 | 30.7655 | 28.9478
120006 | 1.2506 | 1.1066 | 1.1066 | 29.6751 | 31.2285 | 31.6553 | 30.8640
120007 | 1.6798 | 1.1066 | 1.1066 | 28.7964 | 30.4247 | 30.8207 | 30.0248
120010 | 1.8625 | 1.1066 | 1.1066 | 27.1265 | 30.1659 | 29.2456 | 28.7313
120011 | 1.4183 | 1.1066 | 1.1066 | 31.7447 | 34.1643 | 37.6638 | 34.6233
120014 | 1.2906 | 1.0502 | 1.0502 | 28.0786 | 28.6416 | 30.9983 | 29.2759
120016 | *** | * | * | 52.1034 | 19.6034 | * | 31.3542
120019 | 1.1569 | 1.0502 | 1.0502 | 28.9661 | 30.3809 | 30.9024 | 30.1294
120022 | 1.8414 | 1.1066 | 1.1066 | 24.7875 | 26.6100 | 28.3925 | 26.5859
120024 | 0.8882 | * | * | * | * | * | *
120025 | *** | * | * | 48.7148 | 30.2358 | * | 39.4887
120026 | 1.3774 | 1.1066 | 1.1066 | 28.5048 | 30.3293 | 32.6726 | 30.6338
120027 | 1.3041 | 1.1066 | 1.1066 | 26.4630 | 28.6717 | 28.6901 | 27.9388
120028 | 1.3553 | 1.1066 | 1.1066 | 31.3195 | 30.3794 | 32.2641 | 31.3359
120029 | 2.0189 | 1.1066 | 1.1066 | * | * | * | *
130002 | 1.4037 | 0.8674 | 0.8674 | 21.6626 | 23.6078 | 24.8996 | 23.4857
130003 | 1.3819 | 1.0033 | 1.0033 | 25.4904 | 27.6345 | 29.1686 | 27.4795
130005 | *** | * | * | 25.2550 | 25.7523 | * | 25.4954
130006 | 1.7984 | 0.9404 | 0.9404 | 24.3982 | 25.3221 | 27.3657 | 25.7611
130007 | 1.7777 | 0.9404 | 0.9404 | 24.8764 | 24.9562 | 28.8562 | 26.2212
130011 | 1.2032 | * | * | 22.9336 | * | * | 22.9336
130013 | 1.3238 | 0.9404 | 0.9404 | 26.3118 | 27.9209 | 28.4195 | 27.5522
130014 | 1.2962 | 0.9404 | 0.9404 | 23.4789 | 24.3884 | 26.4165 | 24.7517
130018 | 1.6875 | 0.9400 | 0.9400 | 23.9798 | 26.4125 | 27.5137 | 26.0217
130021 | *** | * | * | 18.9400 | 16.1658 | * | 17.6183
130024 | 1.0850 | 0.8949 | 0.8949 | 21.7853 | 23.3347 | 24.5799 | 23.2478
130025 | 1.2211 | 0.8674 | 0.8674 | 19.7066 | 20.1452 | 21.7093 | 20.5485
130026 | *** | * | * | 25.4020 | * | * | 25.4020
130028 | 1.3940 | 0.9400 | 0.9400 | 25.2938 | 26.3443 | 27.8274 | 26.7013
130036 | *** | * | * | 16.7907 | * | * | 16.7907
130049 | 1.5643 | 1.0284 | 1.0284 | 24.5841 | 26.9749 | 27.6683 | 26.4480
130060 | *** | * | * | 26.7516 | * | * | 26.7516
130062 | 0.4992 | * | * | 16.7951 | 20.6642 | 25.4820 | 20.1910
130063 | 1.3226 | 0.9404 | 0.9404 | 20.9502 | 22.5904 | 25.0864 | 22.8539
130065 | 1.8682 | 0.9300 | 0.9300 | * | * | 21.5260 | 21.5260
130066 | 2.0225 | 0.9696 | 0.9696 | * | * | * | *
130067 | 1.1199 | 0.9300 | 0.9300 | * | * | * | *
140001 | 1.0879 | 0.8334 | 0.8334 | 21.4779 | 22.3170 | 22.9464 | 22.2483
140002 | 1.3285 | 0.9017 | 0.9017 | 24.4908 | 24.6954 | 27.0262 | 25.3949
140003 | *** | * | * | 22.6230 | * | * | 22.6230
140007 | 1.3267 | 1.0742 | 1.0742 | 26.7943 | 28.3482 | 30.5555 | 28.5893
140008 | 1.4514 | 1.0742 | 1.0742 | 27.2211 | 28.5297 | 29.4264 | 28.3893
140010 | 1.5134 | 1.0742 | 1.0742 | 31.5774 | 35.1024 | 32.1387 | 32.9542
140011 | 1.1519 | 0.8334 | 0.8334 | 20.6338 | 22.4091 | 23.3923 | 22.1495
140012 | 1.1895 | 1.0596 | 1.0596 | 24.3675 | 28.6564 | 28.7947 | 27.2494
140013 | 1.4139 | 0.8973 | 0.8973 | 22.6022 | 23.3065 | 24.3673 | 23.3996
140015 | 1.4234 | 0.8902 | 0.8902 | 22.2266 | 23.0600 | 24.3516 | 23.2245
140016 | 1.0295 | * | * | 17.1372 | 18.1242 | * | 17.6389
140018 | 1.4130 | 1.0742 | 1.0742 | 27.3334 | 27.7548 | 26.2598 | 27.1177
140019 | 0.9335 | 0.8334 | 0.8334 | 18.4554 | 18.9228 | 20.5469 | 19.2999
140024 | 1.0391 | * | * | 16.9672 | 17.5249 | * | 17.2349
140026 | 1.1460 | 0.8680 | 0.8680 | 21.6847 | 23.0470 | 25.8658 | 23.4929
140027 | *** | * | * | 22.6208 | * | * | 22.6208
140029 | 1.5856 | 1.0742 | 1.0742 | 27.7304 | 28.6565 | 30.4267 | 29.0118
140030 | 1.5703 | 1.0742 | 1.0742 | 28.7623 | 29.7771 | 30.8539 | 29.8244
140032 | 1.2542 | 0.8902 | 0.8902 | 22.8157 | 24.0574 | 26.3265 | 24.4078
140033 | 1.2032 | 1.0596 | 1.0596 | 26.1553 | 25.6068 | 26.6309 | 26.1186
140034 | 1.2202 | 0.8902 | 0.8902 | 22.1003 | 23.0034 | 24.0132 | 23.0492
140040 | 1.1819 | 0.8827 | 0.8827 | 20.0269 | 22.2969 | 23.0412 | 21.6957
140043 | 1.2734 | 0.9773 | 0.9773 | 26.0330 | 26.7996 | 27.2076 | 26.6815
140045 | 1.0786 | * | * | 21.0042 | 20.6548 | * | 20.8316
140046 | 1.4780 | 0.8902 | 0.8902 | 22.5022 | 23.2127 | 25.1403 | 23.7433
140048 | 1.2684 | 1.0742 | 1.0742 | 27.0874 | 28.2222 | 29.4775 | 28.2409
140049 | 1.5191 | 1.0742 | 1.0742 | 26.6533 | 27.4009 | 29.7853 | 27.9674
140051 | 1.5347 | 1.0742 | 1.0742 | 27.9935 | 27.7901 | 30.9784 | 28.8784
140052 | 1.2841 | 0.9017 | 0.9017 | 22.2588 | 23.5662 | 25.9526 | 23.9370
140053 | 1.8913 | 0.8900 | 0.8900 | 23.5477 | 24.8455 | 27.0098 | 25.1043
140054 | 1.4870 | 1.0742 | 1.0742 | 31.7265 | 31.8564 | 33.1231 | 32.2061
140058 | 1.2228 | 0.8902 | 0.8902 | 22.1269 | 22.8423 | 24.5345 | 23.1736
140059 | 1.1165 | 0.9017 | 0.9017 | 22.7121 | 22.4651 | 22.7978 | 22.6554
140061 | 1.0739 | * | * | 30.9925 | 20.8063 | * | 25.9797
140062 | 1.2142 | 1.0742 | 1.0742 | 31.2359 | 34.7704 | 34.9018 | 33.6097
140063 | 1.4093 | 1.0742 | 1.0742 | 26.5584 | 27.8306 | 28.3171 | 27.6213
140064 | 1.1938 | 0.8827 | 0.8827 | 21.7470 | 22.0407 | 23.6796 | 22.5242
140065 | 1.3865 | 1.0742 | 1.0742 | 26.1904 | 29.4678 | 30.5985 | 28.7875
140066 | 1.1297 | 0.9017 | 0.9017 | 20.4353 | 21.9771 | 21.7172 | 21.3717
140067 | 1.8182 | 0.8973 | 0.8973 | 23.5906 | 25.3986 | 27.3723 | 25.4762
140068 | 1.1945 | 1.0742 | 1.0742 | 25.8963 | 27.3956 | 28.3348 | 27.2266
140075 | 1.2767 | 1.0742 | 1.0742 | 26.9257 | 27.9325 | 27.0069 | 27.3106
140077 | 1.0393 | 0.9017 | 0.9017 | 19.0922 | 19.1363 | 20.5654 | 19.5779
140079 | *** | * | * | 29.3040 | * | * | 29.3040
140080 | 1.4417 | 1.0742 | 1.0742 | 26.0109 | 23.2575 | 28.0751 | 25.6089
140082 | 1.4773 | 1.0742 | 1.0742 | 26.8077 | 25.6645 | 29.2173 | 27.2244
140083 | 1.0308 | 1.0742 | 1.0742 | 24.6491 | 26.2972 | 26.7552 | 25.9303
140084 | 1.2289 | 1.0596 | 1.0596 | 27.6819 | 29.2515 | 30.0397 | 29.0292
140088 | 1.8500 | 1.0742 | 1.0742 | 31.0364 | 32.4978 | 30.8245 | 31.4341
140089 | 1.1914 | 0.8334 | 0.8334 | 22.1227 | 23.3401 | 24.5591 | 23.2899
140091 | 1.8250 | 0.9649 | 0.9649 | 26.1075 | 26.8518 | 27.8742 | 26.9776
140093 | 1.1831 | 0.9155 | 0.9155 | 22.1540 | 25.3127 | 27.5152 | 24.7343
140094 | 1.0356 | 1.0742 | 1.0742 | 25.3678 | 27.9273 | 27.9141 | 27.1207
140095 | 1.2507 | 1.0742 | 1.0742 | 29.9746 | 27.6799 | 26.6424 | 28.1556
140100 | 1.3030 | 1.0596 | 1.0596 | 32.8743 | 37.0819 | 37.2217 | 35.8092
140101 | 1.1672 | 1.0742 | 1.0742 | 25.4784 | 28.5365 | 29.2080 | 27.8662
140102 | *** | * | * | 21.2278 | * | * | 21.2278
140103 | 1.1961 | 1.0742 | 1.0742 | 21.7512 | 23.3258 | 23.8866 | 22.9977
140105 | 1.2788 | 1.0742 | 1.0742 | 26.3054 | 27.4531 | 28.4390 | 27.3700
140109 | 1.0917 | * | * | 17.8103 | 19.5675 | * | 18.6923
140110 | 1.0910 | 1.0596 | 1.0596 | 25.6561 | 27.9844 | 29.3202 | 27.6755
140113 | 1.5788 | 0.9649 | 0.9649 | 23.5337 | 26.7969 | 29.9552 | 26.5722
140114 | 1.4160 | 1.0742 | 1.0742 | 25.7968 | 28.3014 | 28.6458 | 27.6452
140115 | 1.0851 | 1.0742 | 1.0742 | 26.3677 | 25.1498 | 25.8357 | 25.7964
140116 | 1.2978 | 1.0742 | 1.0742 | 30.5166 | 31.9902 | 34.3361 | 32.3584
140117 | 1.5416 | 1.0742 | 1.0742 | 25.6314 | 26.8802 | 27.9774 | 26.8349
140118 | 1.6195 | 1.0742 | 1.0742 | 27.7392 | 29.7570 | 32.2213 | 29.8836
140119 | 1.7729 | 1.0742 | 1.0742 | 33.6302 | 36.1419 | 34.7716 | 34.8306
140120 | 1.2239 | 0.8973 | 0.8973 | 22.5795 | 22.7375 | 24.0981 | 23.1900
140122 | 1.4330 | 1.0742 | 1.0742 | 26.4991 | 28.4188 | 31.0736 | 28.6341
140124 | 1.3392 | 1.0742 | 1.0742 | 35.2798 | 36.1327 | 36.4899 | 35.9612
140125 | 1.2398 | 0.9017 | 0.9017 | 20.7189 | 20.4014 | 22.3436 | 21.1516
140127 | 1.6317 | 0.8959 | 0.8959 | 22.8172 | 24.1658 | 25.0102 | 23.9945
140130 | 1.2469 | 1.0596 | 1.0596 | 26.3518 | 29.5247 | 32.9615 | 29.7730
140133 | 1.2969 | 1.0742 | 1.0742 | 26.1599 | 28.0339 | 30.6892 | 28.1483
140135 | 1.4756 | 0.8334 | 0.8334 | 21.2104 | 22.3264 | 23.0885 | 22.2454
140137 | 1.0253 | 0.9017 | 0.9017 | 20.5053 | 21.4700 | 23.4302 | 21.8888
140140 | *** | * | * | 21.4710 | * | * | 21.4710
140141 | 1.0512 | * | * | 23.0515 | 21.7871 | * | 22.4305
140143 | 1.2279 | 0.8827 | 0.8827 | 23.8255 | 26.2954 | 26.2579 | 25.4680
140144 | *** | * | * | 27.8046 | * | * | 27.8046
140145 | 1.0954 | 0.9017 | 0.9017 | 21.6168 | 23.4608 | 25.4576 | 23.5453
140147 | 1.1011 | 0.8334 | 0.8334 | 19.5896 | 19.8541 | 21.5005 | 20.3136
140148 | 1.7345 | 0.8900 | 0.8900 | 23.0022 | 24.7031 | 25.6350 | 24.3700
140150 | 1.6237 | 1.0742 | 1.0742 | 33.9013 | 35.2711 | 53.4891 | 41.2967
140151 | 0.8172 | 1.0742 | 1.0742 | 22.4842 | 23.4879 | 25.1381 | 23.7102
140152 | 1.0879 | 1.0742 | 1.0742 | 29.6882 | 27.6086 | 30.5283 | 29.2513
140155 | 1.2917 | 1.0032 | 1.0032 | 27.6610 | 28.9724 | 29.8350 | 28.8823
140158 | 1.4185 | 1.0742 | 1.0742 | 23.8542 | 27.0986 | 27.3765 | 25.9317
140160 | 1.2622 | 0.9773 | 0.9773 | 22.7002 | 24.5373 | 25.6756 | 24.3339
140161 | 1.1501 | 1.0596 | 1.0596 | 24.1071 | 23.1647 | 24.6442 | 23.9715
140162 | 1.6074 | 0.8959 | 0.8959 | 26.0312 | 27.4472 | 28.9571 | 27.4950
140164 | 1.7902 | 0.8902 | 0.8902 | 22.0424 | 23.7457 | 24.3913 | 23.3924
140165 | 1.0595 | * | * | 15.9312 | 16.6304 | * | 16.2816
140166 | 1.1868 | 0.8334 | 0.8334 | 21.7776 | 23.1005 | 26.5696 | 23.8462
140167 | 1.1260 | 0.9728 | 0.9728 | 19.7610 | 22.8911 | 23.2552 | 21.9523
140168 | *** | * | * | 20.0225 | * | * | 20.0225
140170 | 0.9621 | * | * | 17.1608 | * | * | 17.1608
140172 | 1.4090 | 1.0742 | 1.0742 | 27.1121 | 29.8568 | 32.0491 | 29.9831
140174 | 1.4735 | 1.0742 | 1.0742 | 24.7011 | 27.8131 | 30.6391 | 27.6903
140176 | 1.2059 | 1.0742 | 1.0742 | 28.9378 | 31.3490 | 32.8367 | 31.1310
140177 | 0.9899 | 1.0742 | 1.0742 | 19.3328 | 22.5610 | 25.4042 | 22.6360
140179 | 1.3042 | 1.0742 | 1.0742 | 26.3200 | 27.6376 | 29.1623 | 27.7184
140180 | 1.2048 | 1.0742 | 1.0742 | 27.4366 | 28.3629 | 29.4449 | 28.4116
140181 | 1.2002 | 1.0742 | 1.0742 | 23.6034 | 25.0100 | 24.7902 | 24.4674
140182 | 1.5644 | 1.0742 | 1.0742 | 28.0337 | 28.2211 | 30.4042 | 28.7014
140184 | 1.2402 | 0.8334 | 0.8334 | 20.1279 | 21.1802 | 24.5927 | 22.1636
140185 | 1.4592 | 0.9017 | 0.9017 | 22.0222 | 23.8531 | 24.9794 | 23.6400
140186 | 1.5570 | 1.0032 | 1.0032 | 28.1977 | 30.6951 | 29.4859 | 29.5088
140187 | 1.5360 | 0.9017 | 0.9017 | 22.0674 | 23.2892 | 24.9822 | 23.4667
140189 | 1.1691 | 0.9155 | 0.9155 | 25.6954 | 23.7198 | 22.2803 | 23.9070
140190 | 1.0766 | * | * | 18.8530 | 19.8297 | * | 19.3398
140191 | 1.2997 | 1.0742 | 1.0742 | 25.2817 | 25.8678 | 28.1849 | 26.4367
140193 | *** | * | * | 22.9443 | * | * | 22.9443
140197 | 1.3178 | 1.0742 | 1.0742 | 21.8060 | 23.0684 | 24.2236 | 22.9343
140199 | 1.0459 | * | * | 21.3464 | 22.0315 | * | 21.6914
140200 | 1.4752 | 1.0742 | 1.0742 | 24.9217 | 26.3379 | 28.3720 | 26.5054
140202 | 1.5706 | 1.0596 | 1.0596 | 27.4336 | 29.7870 | 32.1701 | 29.9764
140203 | *** | * | * | 28.2212 | * | * | 28.2212
140205 | 1.7126 | 1.0150 | 1.0150 | * | * | * | *
140206 | 1.0867 | 1.0742 | 1.0742 | 27.5481 | 30.6561 | 29.1294 | 29.1455
140207 | 1.2439 | 1.0742 | 1.0742 | 25.7331 | 24.1048 | 25.1473 | 24.9715
140208 | 1.6564 | 1.0742 | 1.0742 | 27.6586 | 29.4708 | 29.7525 | 28.9886
140209 | 1.5833 | 0.8973 | 0.8973 | 23.3886 | 24.5376 | 26.3371 | 24.7775
140210 | 1.1359 | 0.8334 | 0.8334 | 16.6729 | 19.2639 | 20.5812 | 18.7925
140211 | 1.2974 | 1.0742 | 1.0742 | 29.5114 | 29.7054 | 30.7546 | 30.0426
140213 | 1.2144 | 1.0742 | 1.0742 | 29.1649 | 30.2945 | 31.3811 | 30.2935
140215 | *** | * | * | 22.3097 | * | * | 22.3097
140217 | 1.4968 | 1.0742 | 1.0742 | 29.3711 | 31.5324 | 32.7581 | 31.1722
140223 | 1.4796 | 1.0742 | 1.0742 | 29.2540 | 30.4923 | 31.9618 | 30.5734
140224 | 1.3603 | 1.0742 | 1.0742 | 29.0350 | 28.2177 | 29.8867 | 29.0497
140228 | 1.5725 | 0.9987 | 0.9987 | 25.0074 | 25.6419 | 27.7259 | 26.1206
140231 | 1.4875 | 1.0742 | 1.0742 | 28.3545 | 30.6410 | 30.0920 | 29.7474
140233 | 1.6248 | 1.0596 | 1.0596 | 27.3379 | 28.6305 | 28.3631 | 28.1358
140234 | 1.0969 | 0.8827 | 0.8827 | 23.2604 | 23.6928 | 24.7645 | 23.9187
140239 | 1.5507 | 0.9987 | 0.9987 | 24.2112 | 29.0092 | 31.8210 | 28.3245
140240 | 1.4058 | 1.0742 | 1.0742 | 27.2654 | 28.7310 | 30.1439 | 28.6637
140242 | 1.4891 | 1.0742 | 1.0742 | 30.4005 | 32.0522 | 34.4226 | 32.3743
140245 | *** | * | * | 16.0772 | * | * | 16.0772
140250 | 1.1833 | 1.0742 | 1.0742 | 27.4628 | 28.5971 | 29.9198 | 28.6855
140251 | 1.3420 | 1.0742 | 1.0742 | 26.7266 | 27.1687 | 28.4384 | 27.4435
140252 | 1.3975 | 1.0742 | 1.0742 | 30.2656 | 33.3351 | 34.5410 | 32.7890
140258 | 1.5438 | 1.0742 | 1.0742 | 27.9478 | 30.2639 | 33.6353 | 30.7068
140271 | 0.8939 | * | * | 18.8535 | * | * | 18.8535
140275 | 1.3373 | 0.8569 | 0.8569 | 25.2824 | 26.1473 | 27.9824 | 26.4533
140276 | 1.8331 | 1.0742 | 1.0742 | 27.5936 | 29.8325 | 31.3200 | 29.6123
140280 | 1.4395 | 0.8569 | 0.8569 | 21.9302 | 23.4447 | 22.5604 | 22.6515
140281 | 1.6866 | 1.0742 | 1.0742 | 29.2602 | 30.4838 | 33.7817 | 31.1676
140285 | *** | * | * | 17.7824 | 20.7576 | * | 19.1679
140286 | 1.1273 | 1.0742 | 1.0742 | 28.4378 | 29.1543 | 31.0563 | 29.5696
140288 | 1.5613 | 1.0742 | 1.0742 | 26.9581 | 29.3988 | 31.7089 | 29.3668
140289 | 1.3194 | 0.9017 | 0.9017 | 22.3274 | 22.6211 | 24.5456 | 23.1903
140290 | 1.3527 | 1.0742 | 1.0742 | 28.6926 | 31.7341 | 31.2636 | 30.6196
140291 | 1.5063 | 1.0596 | 1.0596 | 28.2338 | 29.8958 | 31.3199 | 29.9025
140292 | 1.1567 | 1.0742 | 1.0742 | 26.1781 | 27.6285 | 29.2990 | 27.7701
140294 | 1.1615 | 0.8334 | 0.8334 | 22.6123 | 23.4504 | 24.0181 | 23.3722
140300 | 1.1185 | 1.0742 | 1.0742 | 33.3983 | 34.8568 | 35.6231 | 34.6085
140301 | 1.2721 | 1.0742 | 1.0742 | * | 31.7073 | 49.7125 | 37.1819
140303 | 1.8671 | 1.0742 | 1.0742 | * | * | 29.8654 | 29.8654
140344 | 0.7733 | * | * | * | * | * | *
150001 | 1.1131 | 0.9757 | 0.9757 | 27.1021 | 29.6844 | 28.3954 | 28.4082
150002 | 1.4378 | 1.0596 | 1.0596 | 23.3804 | 25.0063 | 26.3713 | 24.8884
150003 | 1.6318 | 0.8957 | 0.8957 | 23.3196 | 25.3458 | 27.0406 | 25.2176
150004 | 1.4953 | 1.0596 | 1.0596 | 24.8884 | 26.8458 | 28.0176 | 26.5920
150005 | 1.1856 | 0.9757 | 0.9757 | 25.4443 | 27.2369 | 29.5025 | 27.5016
150006 | 1.3717 | 0.9543 | 0.9543 | 24.8976 | 26.4061 | 26.1674 | 25.8384
150007 | 1.3603 | 0.9494 | 0.9494 | 23.5841 | 26.6073 | 29.4617 | 26.6700
150008 | 1.4502 | 1.0596 | 1.0596 | 23.6953 | 26.6928 | 27.3400 | 25.9807
150009 | 1.3886 | 0.9137 | 0.9137 | 20.4993 | 22.2147 | 24.9618 | 22.6002
150010 | 1.4176 | 0.9494 | 0.9494 | 23.9740 | 26.8524 | 26.1311 | 25.6410
150011 | 1.1850 | 0.9582 | 0.9582 | 23.2249 | 24.3490 | 25.3748 | 24.3343
150012 | 1.5696 | 0.9677 | 0.9677 | 22.9314 | 27.3029 | 27.7477 | 25.8046
150013 | 1.0122 | * | * | 19.7689 | 21.8465 | * | 20.8053
150014 | *** | * | * | 26.5785 | * | * | 26.5785
150015 | 1.3253 | 1.0596 | 1.0596 | 24.3015 | 26.2434 | 27.7478 | 26.1118
150017 | 1.7827 | 0.9498 | 0.9498 | 23.7180 | 25.2342 | 27.1394 | 25.3937
150018 | 1.6614 | 0.9421 | 0.9421 | 24.7048 | 26.3289 | 27.4616 | 26.1770
150021 | 1.7672 | 0.9498 | 0.9498 | 27.8168 | 29.6967 | 29.5355 | 29.0360
150022 | 1.1171 | 0.8728 | 0.8728 | 22.8035 | 22.6773 | 22.9027 | 22.7977
150023 | 1.5443 | 0.8663 | 0.8663 | 23.1253 | 23.7159 | 26.3792 | 24.2243
150024 | 1.3983 | 0.9757 | 0.9757 | 24.7879 | 27.1589 | 27.5637 | 26.5220
150026 | 1.3092 | 0.9421 | 0.9421 | 23.7185 | 28.1127 | 28.7334 | 26.9980
150027 | 1.0215 | * | * | 21.2855 | 17.4862 | * | 19.1736
150029 | 1.4031 | 0.9677 | 0.9677 | 23.4103 | 26.9680 | 27.8939 | 25.8068
150030 | 1.1595 | 0.9582 | 0.9582 | 24.4361 | 26.9533 | 28.0417 | 26.5118
150033 | 1.6558 | 0.9757 | 0.9757 | 25.8851 | 27.9995 | 29.0207 | 27.6412
150034 | 1.5452 | 1.0596 | 1.0596 | 23.9388 | 26.0465 | 28.1138 | 26.1270
150035 | 1.5489 | 0.9361 | 0.9361 | 26.0952 | 26.6620 | 27.1031 | 26.6373
150037 | 1.3067 | 0.9757 | 0.9757 | 27.7009 | 28.5451 | 30.7071 | 28.9916
150038 | 1.1286 | 0.9757 | 0.9757 | 24.4188 | 28.8054 | 29.0433 | 27.4342
150042 | 1.4612 | 0.8479 | 0.8479 | 21.9917 | 23.0102 | 22.3848 | 22.4673
150044 | 1.3885 | 0.9137 | 0.9137 | 23.1200 | 23.7065 | 24.3939 | 23.7747
150045 ʰ | 1.0516 | 0.9914 | 0.9914 | 24.2899 | 25.2225 | 27.1520 | 25.569
150046 | 1.4240 | 0.8663 | 0.8663 | 21.0417 | 21.9369 | 24.1694 | 22.4186
150047 | 1.7598 | 0.9498 | 0.9498 | 24.5455 | 25.8349 | 25.1553 | 25.1829
150048 | 1.3838 | 0.9599 | 0.9599 | 24.5864 | 27.1817 | 27.4034 | 26.3728
150049 | 1.2142 | * | * | 20.2178 | 22.3370 | * | 21.2543
150051 | 1.5992 | 0.9582 | 0.9582 | 22.6866 | 23.7061 | 25.3577 | 23.9071
150052 | 1.0642 | * | * | 19.6073 | 20.6339 | * | 20.1223
150056 | 1.9057 | 0.9757 | 0.9757 | 27.6754 | 28.2842 | 29.5718 | 28.5127
150057 | 2.0352 | 0.9757 | 0.9757 | 22.7804 | 24.8605 | 29.6310 | 25.6224
150058 | 1.5547 | 0.9677 | 0.9677 | 26.9753 | 27.5341 | 29.3647 | 28.0150
150059 | 1.5388 | 0.9757 | 0.9757 | 27.0792 | 28.5715 | 32.4123 | 29.3673
150060 | 1.0871 | * | * | 23.2409 | 24.8544 | * | 24.0586
150061 | 1.1363 | 0.8479 | 0.8479 | 21.3640 | 22.2822 | 21.7707 | 21.8139
150062 | 1.0931 | * | * | 23.5550 | 24.6088 | * | 24.0884
150063 | *** | * | * | 19.0377 | * | * | 19.0377
150064 | 1.2156 | 0.8479 | 0.8479 | 21.6370 | 23.7707 | 25.1734 | 23.5270
150065 | 1.2414 | 0.9582 | 0.9582 | 24.4451 | 25.9461 | 27.9073 | 26.1176
150069 | 1.2501 | 0.9599 | 0.9599 | 25.3445 | 25.2655 | 25.9517 | 25.5268
150070 | *** | * | * | 22.6260 | * | * | 22.6260
150072 | 1.1595 | 0.8479 | 0.8479 | 20.3191 | 20.5111 | 21.3608 | 20.7440
150074 | 1.4564 | 0.9757 | 0.9757 | 24.4374 | 25.2586 | 25.6634 | 25.1233
150075 | 1.0933 | 0.9498 | 0.9498 | 24.2085 | 24.0745 | 25.6197 | 24.6280
150076 | 1.2852 | 0.9543 | 0.9543 | 24.1434 | 28.1874 | 28.2428 | 26.8000
150078 | 1.0122 | * | * | 21.2476 | * | * | 21.2476
150079 | 1.1145 | * | * | 20.6486 | 21.4067 | * | 21.0466
150082 | 1.7181 | 0.8844 | 0.8844 | 22.2054 | 25.5860 | 28.1847 | 25.2933
150084 | 1.7659 | 0.9757 | 0.9757 | 28.7722 | 29.3905 | 29.5244 | 29.2252
150086 | 1.2036 | 0.9599 | 0.9599 | 22.4471 | 23.9404 | 25.2450 | 23.9229
150088 | 1.2606 | 0.9582 | 0.9582 | 23.0998 | 23.6253 | 26.2241 | 24.3172
150089 | 1.5861 | 0.8479 | 0.8479 | 22.6545 | 25.0449 | 24.6068 | 24.0532
150090 | 1.5494 | 1.0596 | 1.0596 | 24.6758 | 26.2899 | 29.4725 | 26.7855
150091 ʰ | 1.1148 | 1.0071 | 1.0071 | 27.8087 | 30.6209 | 30.7951 | 29.8811
150096 | 0.9023 | * | * | 21.9091 | * | * | 21.9091
150097 | 1.1238 | 0.9757 | 0.9757 | 24.4179 | 25.0367 | 27.1660 | 25.5838
150100 | 1.7215 | 0.8844 | 0.8844 | 22.2687 | 24.3530 | 25.0773 | 23.8670
150101 | 1.0867 | 0.9498 | 0.9498 | 27.9745 | 29.1657 | 29.8966 | 29.0799
150102 | 1.0400 | 0.9278 | 0.9278 | 22.6870 | 24.5923 | 25.3187 | 24.2235
150104 | 1.0401 | 0.9757 | 0.9757 | 21.8172 | 25.5871 | 28.5451 | 25.2739
150106 ʰ | 1.0633 | 0.9498 | 0.9498 | 20.9955 | 20.9387 | 19.9273 | 20.5636
150109 | 1.4441 | 0.8957 | 0.8957 | 24.3786 | 23.5865 | 26.0186 | 24.6513
150112 | 1.4182 | 0.9582 | 0.9582 | 24.7455 | 26.5643 | 27.6269 | 26.3492
150113 | 1.2634 | 0.9582 | 0.9582 | 23.0450 | 24.8760 | 26.0356 | 24.6828
150115 | 1.4534 | 0.8479 | 0.8479 | 20.5215 | 19.3411 | 22.3372 | 20.6746
150122 | 1.1613 | 0.9582 | 0.9582 | 24.2471 | 26.0173 | * | 25.1559
150123 | *** | * | * | 15.3050 | * | * | 15.3050
150124 | 1.1063 | * | * | 18.8218 | 21.3933 | * | 20.1237
150125 | 1.4997 | 1.0596 | 1.0596 | 24.3872 | 26.7666 | 27.1394 | 26.1113
150126 | 1.4372 | 1.0596 | 1.0596 | 25.5585 | 26.9887 | 27.7563 | 26.7967
150128 | 1.4280 | 0.9757 | 0.9757 | 23.1660 | 26.4976 | 28.2773 | 25.9381
150129 | 1.1690 | 0.9757 | 0.9757 | 35.4311 | 29.9099 | 30.1445 | 31.4914
150130 | 1.0939 | * | * | 21.5678 | 21.7399 | * | 21.6494
150132 | *** | * | * | 24.2559 | 25.6257 | 27.7474 | 25.8793
150133 | 1.2322 | 0.9498 | 0.9498 | 21.8839 | 22.7293 | 25.1827 | 23.2488
150134 | 1.0669 | 0.9137 | 0.9137 | 22.1085 | 23.8526 | 26.1958 | 23.9695
150136 | *** | * | * | 25.7004 | 26.2703 | * | 25.9880
150146 | 1.0555 | 0.9498 | 0.9498 | 26.1168 | 29.3383 | 30.2135 | 28.6444
150147 | 1.2950 | 1.0596 | 1.0596 | 32.3336 | 22.8456 | 27.0517 | 26.4997
150148 | *** | * | * | 27.2081 | * | * | 27.2081
150149 | 1.0182 | 0.8844 | 0.8844 | 23.8554 | 23.6361 | 24.7733 | 24.1065
150150 | 1.2596 | 0.9498 | 0.9498 | 26.5138 | 25.5331 | 28.4744 | 26.8947
150151 | *** | * | * | * | 38.1446 | * | 38.1446
150152 | *** | * | * | * | 44.7143 | * | 44.7143
150153 | 2.4953 | 0.9757 | 0.9757 | * | * | 32.2301 | 32.2301
150154 | 2.5331 | 0.9757 | 0.9757 | * | * | 29.2863 | 29.2863
150155 | *** | * | * | * | * | 45.0525 | 45.0525
150156 | *** | * | * | * | * | 25.8304 | 25.8304
150157 | 1.5402 | 0.9757 | 0.9757 | * | * | * | *
150158 | 1.1799 | * | * | * | * | * | *
150159 | 0.9066 | * | * | * | * | * | *
150160 | 1.8672 | * | * | * | * | * | *
150323 | 0.8865 | * | * | * | * | * | *
150325 | 0.8673 | * | * | * | * | * | *
160001 | 1.1633 | 0.8976 | 0.8976 | 23.8657 | 25.1220 | 25.0365 | 24.6447
160003 | 0.8939 | * | * | 19.0037 | * | * | 19.0037
160005 | 1.1884 | 0.8696 | 0.8696 | 21.1745 | 21.8950 | 23.7127 | 22.2743
160008 | 1.0864 | 0.8696 | 0.8696 | 19.8066 | 20.7200 | 22.3526 | 20.9456
160013 | 1.2716 | 0.8914 | 0.8914 | 23.0163 | 23.7163 | 24.6784 | 23.7825
160014 | 0.9604 | * | * | 19.2447 | 20.5882 | * | 19.9190
160016 | 1.5629 | 0.8976 | 0.8976 | 21.2785 | 23.3619 | 24.6900 | 23.1167
160020 | 1.1096 | * | * | 19.0043 | 19.5554 | * | 19.2901
160024 | 1.6059 | 0.9136 | 0.9136 | 24.2385 | 26.2392 | 27.4041 | 25.9650
160026 | 1.0140 | * | * | 24.2045 | 24.7424 | * | 24.4805
160028 | 1.3221 | 0.9453 | 0.9453 | 26.0052 | 26.2948 | 28.0717 | 26.9016
160029 | 1.6161 | 0.9726 | 0.9726 | 24.9493 | 27.9277 | 29.7097 | 27.5319
160030 | 1.4263 | 0.9819 | 0.9819 | 24.9920 | 26.7068 | 28.9474 | 26.8746
160031 | 0.9870 | * | * | 18.5281 | 19.7368 | * | 19.1263
160032 | 1.0729 | 0.8968 | 0.8968 | 22.3837 | 23.4727 | 25.7041 | 23.9167
160033 | 1.7593 | 0.8696 | 0.8696 | 23.4148 | 24.6768 | 26.5814 | 24.9317
160034 | 0.9775 | * | * | 19.4837 | 19.3503 | * | 19.4156
160039 | 0.9863 | * | * | 20.9623 | 22.1180 | * | 21.5414
160040 | 1.2803 | 0.8891 | 0.8696 | 21.8187 | 23.9053 | 25.6843 | 23.8388
160044 | 1.1510 | * | * | 19.5635 | * | * | 19.5635
160045 | 1.7325 | 0.8891 | 0.8891 | 24.4957 | 25.4153 | 26.9819 | 25.6677
160047 | 1.4056 | 0.9453 | 0.9453 | 24.5000 | 25.2072 | 25.6964 | 25.1382
160048 | 1.0401 | * | * | 19.5701 | 19.5832 | * | 19.5767
160050 | 1.1294 | * | * | 23.8830 | 24.5403 | * | 24.2221
160057 | 1.2446 | 0.9568 | 0.9568 | 22.0472 | 23.0937 | 25.1339 | 23.4637
160058 | 1.9653 | 0.9726 | 0.9726 | 25.5244 | 27.1646 | 28.6411 | 27.1442
160064 | 1.5286 | 0.9256 | 0.9256 | 27.6301 | 28.6139 | 28.7718 | 28.4086
160066 | 1.0600 | * | * | 21.4631 | 22.7709 | * | 22.1300
160067 | 1.3137 | 0.8891 | 0.8696 | 21.9418 | 23.4060 | 23.7824 | 23.1319
160069 | 1.5111 | 0.9132 | 0.9132 | 22.7514 | 25.3402 | 27.7295 | 25.2986
160074 | 1.0989 | * | * | 20.2418 | * | * | 20.2418
160076 | *** | * | * | 20.9749 | * | * | 20.9749
160079 | 1.5393 | 0.8891 | 0.8891 | 22.5299 | 23.7234 | 25.4508 | 23.9274
160080 | 1.3064 | 0.8696 | 0.8696 | 23.5721 | 23.1837 | 25.9475 | 24.2696
160081 | 1.1664 | * | * | 21.3614 | 23.1930 | * | 22.2788
160082 | 1.8161 | 0.9136 | 0.9136 | 23.8181 | 26.4398 | 27.2896 | 25.8257
160083 | 1.6913 | 0.9136 | 0.9136 | 25.0617 | 28.2193 | 27.3867 | 26.9189
160089 | 1.2968 | 0.8976 | 0.8976 | 21.5693 | 22.6551 | 23.6643 | 22.6499
160090 | 0.8236 | * | * | 21.2753 | * | * | 21.2753
160091 | 0.9377 | * | * | 18.0630 | 17.9862 | * | 18.0240
160092 | 0.9932 | * | * | 22.0841 | * | * | 22.0841
160101 | 1.1187 | 0.9136 | 0.9136 | 24.2309 | 25.1000 | 23.7690 | 24.3536
160104 | 1.5181 | 0.8696 | 0.8696 | 24.0075 | 24.9134 | 28.0389 | 25.6671
160106 | *** | * | * | 21.4912 | * | * | 21.4912
160107 | *** | * | * | 21.3754 | * | * | 21.3754
160110 | 1.5282 | 0.8891 | 0.8696 | 24.1762 | 24.9434 | 26.9342 | 25.3634
160112 | 1.2386 | 0.8696 | 0.8696 | 21.8901 | 23.0672 | 25.2434 | 23.4606
160113 | *** | * | * | 18.6599 | * | * | 18.6599
160115 | 1.0432 | * | * | 19.5764 | * | * | 19.5764
160116 | 1.0175 | * | * | 22.2019 | * | * | 22.2019
160117 | 1.3193 | 0.9132 | 0.9132 | 23.4250 | 25.0278 | 25.9502 | 24.8152
160118 | *** | * | * | 18.3322 | 19.7764 | * | 19.0436
160122 | 1.1051 | 0.8696 | 0.8696 | 22.9565 | 22.5872 | 23.9298 | 23.1689
160124 | 1.1607 | 0.8696 | 0.8696 | 22.7223 | 23.1690 | 23.1591 | 23.0224
160126 | 1.0173 | * | * | 20.3748 | 19.8323 | * | 20.1046
160140 | 1.0475 | * | * | 22.5230 | * | * | 22.5230
160146 | 1.4589 | 0.9201 | 0.9201 | 20.9583 | 22.9897 | 22.5441 | 22.1450
160147 | 1.3443 | 0.8976 | 0.8976 | 26.6577 | 26.6438 | 28.6722 | 27.3688
160153 | 1.6297 | 0.9201 | 0.9201 | 26.3671 | 28.9881 | 30.5992 | 28.6813
160154 | 0.9033 | * | * | * | * | * | *
160365 | 0.7586 | * | * | * | * | * | *
160366 | 0.8054 | * | * | * | * | * | *
170001 | 1.2262 | 0.8017 | 0.8017 | 20.9837 | 21.9131 | 23.0583 | 21.9743
170006 | 1.2593 | 0.8620 | 0.8620 | 20.6460 | 21.9019 | 24.5553 | 22.4217
170009 | 1.0705 | 0.9501 | 0.9501 | 29.1979 | 29.2588 | 31.2360 | 29.8767
170010 | 1.2077 | 0.8146 | 0.8146 | 21.2131 | 24.0008 | 24.9889 | 23.4347
170012 | 1.6500 | 0.8832 | 0.8832 | 22.6869 | 24.7392 | 25.8453 | 24.4008
170013 | 1.5264 | 0.8832 | 0.8832 | 23.1159 | 25.0419 | 25.9854 | 24.7349
170014 | 1.0386 | 0.9501 | 0.9501 | 22.9772 | 23.5960 | 24.9156 | 23.8535
170015 | 1.0240 | * | * | 19.1902 | 20.2367 | * | 19.7243
170016 | 1.6420 | 0.8738 | 0.8738 | 24.2336 | 25.9482 | 26.3308 | 25.5277
170017 | 1.1104 | 0.9093 | 0.9093 | 23.3030 | 24.7771 | 26.6342 | 24.9721
170018 | 0.9385 | * | * | 17.9497 | * | * | 17.9497
170019 | 1.1619 | * | * | 20.3243 | 22.0251 | * | 21.1885
170020 | 1.5720 | 0.8832 | 0.8832 | 22.2571 | 23.1800 | 22.6799 | 22.7039
170022 | 1.1286 | * | * | 22.9313 | 22.2878 | * | 22.6058
170023 | 1.4438 | 0.8832 | 0.8832 | 23.2690 | 23.9808 | 24.4018 | 23.8806
170027 | 1.4472 | 0.8017 | 0.8017 | 21.4678 | 22.5103 | 22.9256 | 22.2935
170033 | 1.3383 | 0.8832 | 0.8832 | 20.0801 | 20.7865 | 22.0776 | 20.9737
170039 | 0.9534 | 0.9093 | 0.9093 | 20.1983 | 21.5203 | 25.4845 | 22.1744
170040 | 1.9280 | 0.9501 | 0.9501 | 27.1771 | 28.2856 | 28.9419 | 28.1702
170049 | 1.4737 | 0.9501 | 0.9501 | 24.1208 | 24.7895 | 26.3910 | 25.1440
170052 | 1.2142 | * | * | 17.3794 | 18.5291 | * | 17.9769
170054 | *** | * | * | 17.5500 | * | * | 17.5500
170058 | 1.0587 | 0.9501 | 0.9501 | 22.0398 | 23.3398 | 23.1208 | 22.8378
170068 | 1.2219 | 0.9177 | 0.9177 | 20.8771 | 22.6087 | 22.6765 | 22.0710
170070 | 0.9818 | * | * | 16.4767 | 16.0162 | * | 16.2556
170074 | 1.2412 | 0.8017 | 0.8017 | 20.4936 | 21.0565 | 23.2439 | 21.6462
170075 | 0.8380 | 0.8017 | 0.8017 | 16.2047 | 16.5444 | 18.8919 | 17.1984
170085 | 0.9089 | * | * | 18.4867 | * | * | 18.4867
170086 | 1.5716 | 0.8738 | 0.8738 | 22.7737 | 24.0812 | 25.4693 | 24.1433
170090 | *** | * | * | 15.9807 | * | * | 15.9807
170093 | 0.8381 | * | * | 16.8710 | 16.5553 | * | 16.7116
170094 | 0.9782 | 0.8017 | 0.8017 | 20.3678 | 21.3887 | 20.9912 | 20.9361
170097 | *** | * | * | 20.3391 | * | * | 20.3391
170098 | 0.9894 | * | * | 20.0078 | 20.1242 | * | 20.0657
170103 | 1.2387 | 0.9093 | 0.9093 | 21.4985 | 22.8707 | 23.7154 | 22.7347
170104 | 1.5107 | 0.9501 | 0.9501 | 26.1866 | 26.9671 | 27.8829 | 27.0103
170105 | 1.0190 | 0.8017 | 0.8017 | 19.6687 | 21.4422 | 21.9852 | 21.0428
170109 | 1.0433 | 0.9501 | 0.9501 | 22.7166 | 23.2626 | 24.1847 | 23.3947
170110 | 0.9597 | 0.8017 | 0.8017 | 21.8904 | 22.9195 | 22.8693 | 22.5555
170114 | 0.8804 | * | * | 18.1610 | 18.9158 | * | 18.5532
170116 | *** | * | * | 23.1127 | * | * | 23.1127
170120 | 1.3358 | 0.8620 | 0.8620 | 19.8723 | 21.0499 | 22.1507 | 21.0257
170122 | 1.6367 | 0.9093 | 0.9093 | 24.6532 | 25.3981 | 26.6964 | 25.5707
170123 | 1.6568 | 0.9093 | 0.9093 | 26.4676 | 27.2239 | 28.2363 | 27.2774
170133 | 1.0499 | 0.9501 | 0.9501 | 21.7748 | 22.9309 | 22.9094 | 22.5427
170137 | 1.2403 | 0.8017 | 0.8017 | 22.7676 | 23.8863 | 24.7063 | 23.8048
170142 | 1.3495 | 0.8591 | 0.8591 | 22.4095 | 22.5778 | 23.3910 | 22.8083
170143 | 1.2000 | * | * | 19.7643 | 20.4459 | * | 20.1017
170144 | *** | * | * | 24.4259 | 24.6260 | * | 24.5144
170145 | 1.0697 | 0.8017 | 0.8017 | 21.4472 | 21.5756 | 23.1863 | 22.0533
170146 | 1.4687 | 0.9501 | 0.9501 | 28.1965 | 29.1358 | 30.3055 | 29.2105
170147 | 2.0068 | 0.9093 | 0.9093 | 23.1610 | 21.4753 | 22.7160 | 22.4146
170150 | 1.1923 | 0.8017 | 0.8017 | 17.4916 | 18.5744 | 20.1810 | 18.7858
170166 | 1.0396 | 0.8017 | 0.8017 | 18.5978 | 19.2842 | 19.8233 | 19.2265
170175 | 1.3814 | 0.8832 | 0.8832 | 23.6262 | 23.9304 | 25.8196 | 24.4660
170176 | 1.5073 | 0.9501 | 0.9501 | 24.2283 | 26.2366 | 28.0633 | 26.1546
170180 | *** | * | * | * | 25.1366 | * | 25.1366
170182 | 1.4744 | 0.9501 | 0.9501 | 24.3820 | 25.7443 | 28.2886 | 26.1597
170183 | 1.9823 | 0.9093 | 0.9093 | 22.8633 | 24.5539 | 26.0515 | 24.4826
170185 | 1.3263 | 0.9501 | 0.9501 | 24.8478 | 26.7797 | 29.1199 | 27.2051
170186 | 2.6919 | 0.9093 | 0.9093 | 30.5157 | 31.7896 | 33.0190 | 31.8475
170187 | 1.4655 | 0.8017 | 0.8017 | 21.0780 | 23.3702 | 24.4045 | 22.9793
170188 | 2.0410 | 0.9501 | 0.9501 | 27.2225 | 29.9751 | 31.8257 | 29.7873
170190 | 1.0729 | 0.8591 | 0.8591 | 22.4865 | 22.8729 | 22.9911 | 22.7762
170191 | 1.6457 | 0.8017 | 0.8017 | 24.9599 | 21.3069 | 22.2346 | 22.8619
170192 | 2.0073 | 0.9093 | 0.9093 | * | 27.9704 | 27.0735 | 27.4857
170193 | 1.6307 | 0.8832 | 0.8832 | * | 24.7430 | 18.4870 | 21.4458
170194 | 1.3722 | 0.9501 | 0.9501 | * | 27.9904 | 30.7548 | 29.6973
170195 | 2.0069 | 0.9501 | 0.9501 | * | * | 30.6081 | 30.6081
170196 | 2.2556 | 0.9093 | 0.9093 | * | * | * | *
170332 | 0.7372 | * | * | * | * | * | *
170344 | 0.7933 | * | * | * | * | * | *
170374 | 0.8095 | * | * | * | * | * | *
170375 | 0.7667 | * | * | * | * | * | *
180001 | 1.2904 | 0.9599 | 0.9599 | 24.7647 | 25.4217 | 27.4380 | 25.9006
180002 | 1.0856 | 0.7793 | 0.7793 | 21.6843 | 22.9727 | 25.5510 | 23.4521
180004 | 1.0814 | 0.7793 | 0.7793 | 19.0834 | 19.5437 | 21.2755 | 19.9789
180005 | 1.0940 | 0.8759 | 0.8759 | 22.8871 | 24.5561 | 24.9313 | 24.1526
180006 | 0.8701 | * | * | 15.7136 | 14.8011 | * | 15.2405
180007 | 1.4568 | 0.9168 | 0.9168 | 21.8724 | 22.7606 | 26.4901 | 23.7049
180009 | 1.6569 | 0.9009 | 0.9009 | 24.0971 | 25.3837 | 26.6728 | 25.3971
180010 | 1.9267 | 0.9168 | 0.9168 | 26.4116 | 24.7256 | 25.7070 | 25.5805
180011 | 1.3761 | 0.8928 | 0.8928 | 22.3183 | 22.7364 | 25.6662 | 23.5939
180012 | 1.4709 | 0.9137 | 0.9137 | 22.9096 | 24.6642 | 25.8098 | 24.4828
180013 | 1.4693 | 0.9571 | 0.9571 | 21.4728 | 22.9512 | 23.9232 | 22.7868
180016 | 1.3146 | 0.9137 | 0.9137 | 22.2148 | 23.1832 | 24.9302 | 23.4667
180017 | 1.2778 | 0.8207 | 0.8207 | 19.0694 | 20.8630 | 21.9306 | 20.6221
180018 | 1.3860 | 0.8928 | 0.8928 | 18.3314 | 19.0992 | 20.9508 | 19.4438
180019 | 1.1175 | 0.9599 | 0.9599 | 22.0379 | 24.1342 | 24.2365 | 23.4611
180020 | 1.0710 | 0.7793 | 0.7793 | 22.3477 | 21.9494 | 24.3479 | 22.9113
180021 | 0.9567 | 0.7793 | 0.7793 | 17.9346 | 18.5966 | 19.2640 | 18.6011
180024 | 1.1122 | 0.9137 | 0.9137 | 23.6826 | 32.1824 | 31.3281 | 28.9328
180025 | 1.1108 | 0.9137 | 0.9137 | 17.4781 | 19.1543 | 22.8383 | 19.7600
180026 | 1.0695 | * | * | 15.8431 | 18.2120 | * | 17.0401
180027 | 1.1962 | 0.8094 | 0.8094 | 22.1072 | 23.8763 | 21.2891 | 22.3439
180028 | 0.9346 | 0.8759 | 0.8759 | 21.4766 | 24.7968 | 25.4328 | 23.9001
180029 | 1.3805 | 0.8062 | 0.8062 | 21.2110 | 23.0536 | 25.1372 | 23.1824
180035 | 1.6266 | 0.9599 | 0.9599 | 26.7702 | 29.8438 | 31.8857 | 29.5742
180036 | 1.2029 | 0.9009 | 0.9009 | 23.1636 | 25.1154 | 25.8131 | 24.6472
180037 | 1.2572 | 0.9137 | 0.9137 | 24.4451 | 25.7361 | 26.3742 | 25.5161
180038 | 1.4800 | 0.8780 | 0.8780 | 22.2750 | 24.6348 | 25.9911 | 24.2496
180040 | 2.0538 | 0.9137 | 0.9137 | 24.5590 | 26.2125 | 27.7343 | 26.2542
180041 | *** | * | * | 18.5483 | * | * | 18.5483
180043 | 1.1754 | 0.7793 | 0.7793 | 18.8436 | 19.0617 | 20.6947 | 19.5226
180044 | 1.6181 | 0.8759 | 0.8759 | 21.6837 | 23.0971 | 24.6946 | 23.1584
180045 | 1.3355 | 0.9599 | 0.9599 | 24.5856 | 25.8349 | 27.3369 | 25.9400
180046 | 1.0532 | 0.9168 | 0.9168 | 24.7562 | 27.2244 | 27.5609 | 26.5441
180047 | 0.9169 | * | * | 20.4768 | 21.8037 | * | 21.1276
180048 | 1.2720 | 0.9137 | 0.9137 | 22.3601 | 21.6571 | 23.9768 | 22.6449
180049 ʰ | 1.3907 | 0.9744 | 0.9744 | 19.4488 | 23.3407 | 23.1703 | 22.0488
180050 | 1.1591 | 0.7793 | 0.7793 | 21.7150 | 22.6473 | 25.5270 | 23.2474
180051 | 1.2771 | 0.8431 | 0.8431 | 19.2100 | 21.3312 | 23.0986 | 21.2619
180053 | 1.0110 | 0.7793 | 0.7793 | 18.6610 | 19.1578 | 20.0309 | 19.3175
180054 | *** | * | * | 19.0657 | * | * | 19.0657
180055 | 1.1340 | * | * | 21.1989 | 20.7237 | * | 20.9496
180056 | 1.1090 | 0.8844 | 0.8844 | 21.4695 | 22.8910 | 24.9363 | 23.0960
180063 | 1.1323 | * | * | 15.9185 | 17.9741 | * | 17.0063
180064 | 1.2625 | 0.7793 | 0.7793 | 15.3819 | 16.2638 | 17.2395 | 16.3222
180066 | 1.1353 | 0.9571 | 0.9571 | 24.6359 | 24.9543 | 22.6968 | 24.0612
180067 | 2.0454 | 0.9168 | 0.9168 | 24.0551 | 25.4080 | 27.3195 | 25.5822
180069 | 1.0900 | 0.8759 | 0.8759 | 20.8797 | 22.3674 | 24.8052 | 22.7309
180070 | 1.1763 | 0.7793 | 0.7793 | 17.4266 | 20.1308 | 20.6670 | 19.4044
180078 | 1.1205 | 0.8759 | 0.8759 | 25.4196 | 26.2636 | 27.6613 | 26.4740
180079 | 1.1252 | 0.7793 | 0.7793 | 19.5783 | 19.7791 | 20.0616 | 19.8220
180080 | 1.2929 | 0.8278 | 0.8278 | 20.1651 | 21.7380 | 21.3549 | 21.0816
180087 | 1.2016 | 0.7793 | 0.7793 | 17.7758 | 18.4331 | 19.5444 | 18.6024
180088 | 1.6372 | 0.9137 | 0.9137 | 24.6053 | 27.5767 | 28.1804 | 26.8275
180092 | 1.1833 | 0.9168 | 0.9168 | 22.4864 | 22.5679 | 24.2126 | 23.0944
180093 | 1.5187 | 0.8545 | 0.8545 | 19.2748 | 20.5422 | 21.1607 | 20.3257
180095 | 1.0540 | 0.7793 | 0.7793 | 17.1354 | 17.9677 | 17.9541 | 17.6956
180101 | 1.1164 | 0.9168 | 0.9168 | 24.2242 | 25.4796 | 28.3249 | 26.0568
180102 | 1.6318 | 0.8094 | 0.8094 | 19.1136 | 18.4388 | 21.2737 | 19.5783
180103 | 2.1888 | 0.9168 | 0.9168 | 25.1577 | 26.9407 | 28.4766 | 26.8190
180104 | 1.6266 | 0.8094 | 0.8094 | 22.8911 | 24.9441 | 25.9248 | 24.6219
180105 | 0.8701 | 0.7793 | 0.7793 | 19.5364 | 19.7615 | 19.8581 | 19.7194
180106 | 0.9335 | 0.7793 | 0.7793 | 15.7851 | 17.8020 | 19.1634 | 17.6990
180115 | 0.9382 | 0.7793 | 0.7793 | 19.9316 | 20.9831 | 20.2666 | 20.3950
180116 | 1.2247 | 0.8210 | 0.8210 | 21.8698 | 22.7353 | 23.1396 | 22.5915
180117 | 0.9727 | 0.7793 | 0.7793 | 20.5952 | 21.1854 | 22.4436 | 21.4051
180124 | 1.3041 | 0.9571 | 0.9571 | 21.4270 | 23.1917 | 24.9816 | 23.2096
180126 | 1.0703 | * | * | 15.1776 | * | * | 15.1776
180127 | 1.3028 | 0.9137 | 0.9137 | 21.4633 | 23.4765 | 24.8603 | 23.2919
180128 | 0.9146 | 0.8075 | 0.8075 | 20.5575 | 20.8406 | 21.9414 | 21.1232
180130 | 1.6643 | 0.9137 | 0.9137 | 24.8441 | 26.0278 | 27.7053 | 26.2114
180132 | 1.4816 | 0.8928 | 0.8928 | 22.2101 | 23.7652 | 24.5256 | 23.5331
180134 | 1.0218 | * | * | 17.3449 | 18.6779 | * | 18.0324
180138 | 1.2283 | 0.9137 | 0.9137 | 25.1789 | 27.3400 | 28.8157 | 27.1346
180139 | 1.0399 | 0.8928 | 0.8928 | 21.3797 | 23.5363 | 23.3285 | 22.7513
180141 | 1.8300 | 0.9137 | 0.9137 | 24.3140 | 25.3042 | 25.3054 | 24.9917
180143 | 1.6199 | 0.9168 | 0.9168 | 23.9125 | 25.1613 | 28.6078 | 26.0627
180144 | *** | * | * | * | * | 30.3286 | 30.3286
180147 | 1.6674 | 0.8164 | 0.8164 | * | * | * | *
180148 | 1.9111 | 0.7793 | 0.7793 | * | * | * | *
180325 | 0.6167 | * | * | * | * | * | *
190001 | 1.1128 | 0.8855 | 0.8855 | 19.5680 | 19.7516 | 21.5505 | 20.3938
190002 | 1.6807 | 0.8300 | 0.8300 | 21.7000 | 22.0056 | 23.3871 | 22.3593
190003 | 1.4747 | 0.8300 | 0.8300 | 21.8156 | 23.4977 | 25.1210 | 23.4734
190004 | 1.3195 | 0.8003 | 0.8003 | 22.1835 | 23.3290 | 24.5339 | 23.3634
190005 | 1.4444 | 0.8855 | 0.8855 | 20.7987 | 22.3208 | 23.3281 | 22.1604
190006 | 1.3548 | 0.8300 | 0.8300 | 19.4573 | 22.2467 | 22.8415 | 21.4705
190007 | 1.1671 | 0.7487 | 0.7487 | 18.7854 | 19.7528 | 21.6654 | 20.0400
190008 | 1.7539 | 0.8003 | 0.8003 | 21.4137 | 24.0111 | 24.7413 | 23.4477
190009 | 1.1787 | 0.8028 | 0.8028 | 18.8295 | 19.8404 | 21.1607 | 19.8729
190010 | 1.0751 | * | * | 19.9788 | 21.6889 | * | 20.8295
190011 | 1.0542 | 0.8015 | 0.8015 | 18.1525 | 19.7319 | 20.7613 | 19.5483
190013 | 1.5067 | 0.7934 | 0.7934 | 19.6346 | 20.8626 | 21.8582 | 20.7874
190014 | 1.2522 | 0.7487 | 0.7487 | 17.4740 | 22.4596 | 22.4213 | 20.6365
190015 | 1.3280 | 0.8855 | 0.8855 | 22.1046 | 22.8875 | 24.0393 | 23.0562
190017 ʰ | 1.3326 | 0.8535 | 0.8535 | 18.6962 | 21.5033 | 23.9006 | 21.2079
190019 | 1.7368 | 0.8028 | 0.8028 | 23.0704 | 23.7168 | 24.9325 | 23.9113
190020 | 1.1669 | 0.8102 | 0.8102 | 19.8505 | 21.6136 | 21.7393 | 21.0389
190025 | 1.1904 | 0.7487 | 0.7487 | 20.4651 | 20.8950 | 22.7566 | 21.3808
190026 | 1.5893 | 0.8028 | 0.8028 | 21.3386 | 22.5087 | 23.6452 | 22.5325
190027 | 1.7130 | 0.7934 | 0.7934 | 21.2449 | 21.2526 | 24.1159 | 22.1755
190034 | 1.1212 | 0.7487 | 0.7487 | 17.5002 | 19.6943 | 20.1435 | 19.1254
190036 | 1.7154 | 0.8855 | 0.8855 | 23.7356 | 24.8152 | 26.1501 | 24.8932
190037 | 1.0152 | 0.7934 | 0.7934 | 16.7629 | 18.6393 | 19.4805 | 18.2227
190039 | 1.4789 | 0.8855 | 0.8855 | 23.3105 | 25.6665 | 24.8064 | 24.6160
190040 | 1.3347 | 0.8855 | 0.8855 | 23.8076 | 26.7428 | 29.1926 | 26.4378
190041 | 1.4817 | 0.8879 | 0.8879 | 23.9082 | 24.6734 | 28.2604 | 25.5075
190043 | 0.9762 | * | * | 16.8944 | 17.3477 | * | 17.1195
190044 ʰ | 1.2847 | 0.8300 | 0.8300 | 19.5304 | 19.5567 | 19.6876 | 19.5901
190045 | 1.6052 | 0.8855 | 0.8855 | 24.0490 | 25.3854 | 26.1439 | 25.2015
190046 | 1.4230 | 0.8855 | 0.8855 | 22.2884 | 24.2128 | 24.4763 | 23.6621
190048 | 1.0930 | 0.7487 | 0.7487 | 18.6148 | 19.6288 | 24.1444 | 20.4885
190049 | *** | * | * | 20.1229 | * | * | 20.1229
190050 | 1.1065 | 0.7487 | 0.7487 | 18.5287 | 19.1076 | 20.2752 | 19.3127
190053 | 1.0904 | 0.7487 | 0.7487 | 15.7258 | 16.4968 | 17.0974 | 16.4674
190054 | 1.3124 | 0.7594 | 0.7594 | 20.3525 | 20.1108 | 22.5554 | 21.0238
190059 | 0.8305 | * | * | 19.2396 | * | * | 19.2396
190060 | 1.4882 | 0.7934 | 0.7934 | 22.2517 | 23.6278 | 23.7228 | 23.1972
190064 | 1.5792 | 0.8102 | 0.8102 | 21.5514 | 23.3617 | 23.1018 | 22.6984
190065 | 1.5196 | 0.8102 | 0.8102 | 23.0523 | 23.7450 | 23.2052 | 23.3343
190077 | 0.9219 | * | * | 18.4043 | 18.8409 | * | 18.6185
190078 ʰ | 1.0622 | 0.8535 | 0.8535 | 21.5782 | 21.3786 | 21.4302 | 21.4587
190079 | 1.2803 | 0.8855 | 0.8855 | 21.8158 | 21.2546 | 24.5361 | 22.5734
190081 | 0.8857 | 0.7487 | 0.7487 | 14.9141 | 15.6146 | 17.3888 | 15.9862
190083 | 0.8253 | * | * | 19.2683 | * | * | 19.2683
190086 | 1.2411 | 0.8015 | 0.8015 | 18.8306 | 19.8823 | 21.7601 | 20.1681
190088 ʰ | 1.0582 | 0.9584 | 0.9584 | 22.5045 | 22.3480 | 23.7776 | 22.8555
190089 | 1.0009 | * | * | 16.2961 | * | * | 16.2961
190090 | 1.0399 | 0.7487 | 0.7487 | 20.0745 | 20.2045 | 21.9736 | 20.8003
190095 | *** | * | * | 18.7302 | 18.0174 | * | 18.3606
190098 | 1.6321 | 0.8879 | 0.8879 | 23.0802 | 24.6353 | 25.4941 | 24.4176
190099 | 0.9927 | 0.8102 | 0.8102 | 21.1657 | 20.4597 | 21.4308 | 21.0206
190102 | 1.5637 | 0.8300 | 0.8300 | 23.4618 | 25.2267 | 26.2644 | 24.9673
190106 | 1.1741 | 0.8028 | 0.8028 | 21.5643 | 21.7228 | 22.9793 | 22.1017
190109 | 1.1062 | 0.8003 | 0.8003 | 17.4842 | 18.6524 | 19.7946 | 18.5909
190110 | 0.9270 | * | * | 19.0611 | * | * | 19.0611
190111 | 1.6432 | 0.8879 | 0.8879 | 25.2370 | 24.4998 | 26.0669 | 25.2574
190114 | 1.0698 | 0.7487 | 0.7487 | 14.6258 | 15.8031 | 15.8975 | 15.4576
190115 | 1.1109 | 0.8879 | 0.8879 | 26.0272 | 26.6295 | 27.9894 | 26.8610
190116 | 1.2757 | 0.7487 | 0.7487 | 18.6074 | 20.3844 | 21.4300 | 20.1684
190118 | 0.9548 | 0.8879 | 0.8879 | 19.0200 | 19.7025 | 20.6847 | 19.8213
190122 | 1.2678 | 0.8102 | 0.8102 | 19.3131 | 23.7082 | 21.6887 | 21.4626
190124 | 1.5845 | 0.8855 | 0.8855 | 23.4862 | 24.6675 | 26.4280 | 24.8426
190125 | 1.6592 | 0.8015 | 0.8015 | 22.3976 | 23.9649 | 25.7211 | 23.9666
190128 | 1.0106 | 0.8102 | 0.8102 | 24.7842 | 27.9136 | 28.1804 | 26.9928
190130 | 1.0390 | * | * | 16.6910 | * | * | 16.6910
190131 | 1.1810 | 0.8855 | 0.8855 | 22.5032 | 25.1917 | 27.3959 | 25.0842
190133 | 0.9292 | 0.7725 | 0.7725 | 14.3089 | 13.6266 | 17.7890 | 15.7239
190135 | 1.5040 | 0.8855 | 0.8855 | 26.9920 | 26.8238 | 28.2929 | 27.3619
190140 | 1.0098 | 0.7487 | 0.7487 | 17.0371 | 17.6936 | 18.5731 | 17.7798
190144 ʰ | 1.1524 | 0.9584 | 0.9584 | 21.1658 | 21.7547 | 23.1334 | 22.0403
190145 | 0.9656 | 0.7487 | 0.7487 | 17.3361 | 18.9678 | 18.4810 | 18.2716
190146 | 1.5838 | 0.8855 | 0.8855 | 23.7721 | 26.1792 | 27.6317 | 25.7618
190148 | *** | * | * | 20.8321 | * | * | 20.8321
190149 | 0.9370 | * | * | 17.1671 | 18.8819 | * | 17.9835
190151 | 0.9812 | 0.7487 | 0.7487 | 17.8741 | 18.6293 | 17.5239 | 18.0074
190152 | 1.3746 | 0.8855 | 0.8855 | 27.4708 | 27.6099 | 29.4694 | 28.1681
190156 | 0.8864 | * | * | 18.3702 | * | * | 18.3702
190158 | 1.5509 | 0.8855 | 0.8855 | 26.2352 | 26.3042 | 27.1110 | 26.5427
190160 | 1.5748 | 0.8015 | 0.8015 | 20.0025 | 21.6740 | 22.7598 | 21.4114
190161 | 1.0826 | 0.7934 | 0.7934 | 17.8794 | 19.1022 | 22.3359 | 19.6222
190162 | *** | * | * | 22.1781 | 25.0328 | 25.7829 | 24.2603
190164 | 1.0953 | 0.8028 | 0.8028 | 21.4247 | 22.8599 | 24.0576 | 22.8477
190167 | 1.1968 | 0.7487 | 0.7487 | 17.8604 | 24.3185 | 25.8153 | 22.5159
190175 | 1.3812 | 0.8855 | 0.8855 | 24.6790 | 27.1531 | 26.1048 | 26.0265
190176 | 1.7672 | 0.8855 | 0.8855 | 25.8482 | 25.6997 | 26.8503 | 26.1394
190177 | 1.7055 | 0.8855 | 0.8855 | 25.4769 | 27.4621 | 27.9703 | 26.9919
190182 | 1.0531 | 0.8855 | 0.8855 | 25.0837 | 28.4799 | 27.5625 | 26.9440
190183 | 1.1374 | 0.8003 | 0.8003 | 18.3151 | 19.8084 | 22.0079 | 19.9316
190184 | 0.9618 | 0.7648 | 0.7648 | 21.3191 | 23.9609 | 22.4219 | 22.5353
190185 | 1.4457 | 0.8855 | 0.8855 | 24.4176 | 24.7912 | 26.1253 | 25.1793
190190 | 0.8819 | 0.7648 | 0.7648 | 14.0052 | 16.1195 | 22.9091 | 18.5382
190191 ʰ | 1.3219 | 0.8102 | 0.8102 | 22.3755 | 23.5734 | 23.3481 | 23.1104
190196 | 0.9313 | 0.8300 | 0.8300 | 21.9355 | 24.7135 | 24.3478 | 23.6938
190197 | 1.3995 | 0.8015 | 0.8015 | 22.9631 | 24.3735 | 25.2869 | 24.1817
190199 | 1.1332 | 0.8102 | 0.8102 | 18.5317 | 14.1410 | 18.4387 | 16.8503
190200 | *** | * | * | 26.4258 | 27.5681 | 29.3041 | 27.5730
190201 | 1.4773 | 0.7934 | 0.7934 | 22.5588 | 24.5877 | 25.3816 | 24.2106
190202 | 1.3534 | 0.8102 | 0.8102 | 21.8900 | 24.7944 | 26.9337 | 24.6847
190203 | 5.8369 | 0.8855 | 0.8855 | 26.9099 | 26.8795 | 28.7207 | 27.4692
190204 | 1.4705 | 0.8855 | 0.8855 | 28.8777 | 28.3684 | 28.9970 | 28.7443
190205 | 1.7340 | 0.8300 | 0.8300 | 21.7696 | 24.4540 | 25.8360 | 24.0124
190206 | 1.5267 | 0.8855 | 0.8855 | 26.9117 | 26.0139 | 26.9116 | 26.6047
190208 | 0.8148 | 0.7487 | 0.7487 | 24.8409 | 24.2586 | 24.8507 | 24.6578
190218 | 1.1776 | 0.8715 | 0.8715 | 23.9182 | 25.0356 | 26.1218 | 25.0378
190236 | 1.4266 | 0.8879 | 0.8879 | 23.8233 | 23.6824 | 25.3463 | 24.2960
190240 | *** | * | * | 13.9888 | * | * | 13.9888
190241 | 1.4098 | 0.8003 | 0.8003 | 28.9620 | 23.9700 | 24.8072 | 25.7035
190242 | 1.1366 | 0.8102 | 0.8102 | 20.5937 | 23.0072 | 24.3809 | 22.7673
190243 | *** | * | * | 30.6060 | * | * | 30.6060
190245 | 1.6145 | 0.8015 | 0.8015 | * | 27.1786 | 26.0610 | 26.6431
190246 | 1.7005 | 0.7648 | 0.7648 | * | * | * | *
190247 | *** | * | * | * | * | 32.6169 | 32.6169
190248 | *** | * | * | * | * | 22.5610 | 22.5610
190249 | 1.6224 | 0.8102 | 0.8102 | * | * | 19.9654 | 19.9654
190250 | 2.2982 | 0.8855 | 0.8855 | * | * | 30.7776 | 30.7776
190251 | 1.3551 | 0.8102 | 0.8102 | * | * | 22.7409 | 22.7409
190252 | *** | * | * | * | * | 23.5958 | 23.5958
190253 | 1.0067 | 0.8855 | 0.8855 | * | * | 23.2202 | 23.2202
190254 | *** | * | * | * | * | 32.7951 | 32.7951
190255 | 0.7132 | 0.8300 | 0.8300 | * | * | 23.6948 | 23.6948
190256 | 1.0318 | 0.8855 | 0.8855 | * | * | * | *
190257 | 1.6790 | 0.7487 | 0.7487 | * | * | 23.3563 | 23.3563
190258 | 1.6850 | 0.8879 | 0.8879 | * | * | 31.4217 | 31.4217
190259 | 1.6898 | 0.8300 | 0.8300 | * | * | * | *
190260 | 1.4951 | 0.8855 | 0.8855 | * | * | * | *
190261 | 0.8481 | 0.8015 | 0.8015 | * | * | * | *
190262 | 1.3581 | 0.8855 | 0.8855 | * | * | * | *
190263 | 2.3925 | 0.8300 | 0.8300 | * | * | * | *
190264 | 0.8475 | * | * | * | * | * | *
190265 | 1.7577 | * | * | * | * | * | *
190266 | 2.1798 | * | * | * | * | * | *
190267 | 1.1686 | * | * | * | * | * | *
190268 | 1.0792 | * | * | * | * | * | *
190272 | 1.5252 | * | * | * | * | * | *
190315 | 0.6227 | * | * | * | * | * | *
190319 | 0.6636 | * | * | * | * | * | *
190322 | 0.6534 | * | * | * | * | * | *
200001 | 1.3968 | 0.9702 | 0.9702 | 23.2210 | 25.1145 | 25.2214 | 24.5549
200002 | 1.1618 | 0.8528 | 0.8528 | 24.1446 | 25.7478 | 25.8372 | 25.2072
200007 | 1.0634 | * | * | 22.3920 | * | * | 22.3920
200008 | 1.3499 | 0.9916 | 0.9916 | 25.1741 | 27.4412 | 28.1910 | 26.9280
200009 | 1.9130 | 0.9916 | 0.9916 | 28.1409 | 31.1056 | 30.5597 | 29.9288
200012 | 1.2286 | * | * | 24.1243 | 25.7623 | * | 24.9713
200013 | 1.0902 | * | * | 23.9048 | 24.4131 | * | 24.1576
200018 | 1.3112 | 0.8399 | 0.8399 | 24.3294 | 23.6337 | 23.3123 | 23.7070
200019 | 1.2865 | 0.9916 | 0.9916 | 24.0926 | 25.1367 | 25.9081 | 25.0652
200020 | 1.2500 | 1.0309 | 1.0309 | 28.7351 | 31.7083 | 33.4438 | 31.3595
200021 | 1.2371 | 0.9916 | 0.9916 | 25.1027 | 24.5519 | 27.4575 | 25.7589
200024 | 1.5547 | 0.9487 | 0.9487 | 24.6484 | 26.0080 | 26.9002 | 25.9263
200025 | 1.1601 | 0.9916 | 0.9916 | 24.3646 | 26.0573 | 27.0379 | 25.8101
200026 | *** | * | * | 21.9997 | * | * | 21.9997
200027 | 1.2078 | * | * | 23.2912 | 26.3118 | * | 24.7659
200028 | 1.0082 | * | * | 24.3061 | 24.3271 | * | 24.3172
200031 | 1.2800 | 0.8399 | 0.8399 | 20.6202 | 21.9489 | 21.2055 | 21.2587
200032 | 1.1803 | 0.8865 | 0.8865 | 24.2221 | 25.5227 | 26.6057 | 25.4585
200033 | 1.8640 | 0.9702 | 0.9702 | 26.8727 | 28.6479 | 29.5897 | 28.3730
200034 | 1.3356 | 0.9487 | 0.9487 | 26.1150 | 26.2926 | 27.3852 | 26.6073
200037 | 1.1709 | 0.8399 | 0.8399 | 23.3490 | 23.2333 | 24.3927 | 23.6760
200039 | 1.2856 | 0.9487 | 0.9487 | 24.0474 | 25.1196 | 24.9813 | 24.7257
200040 | 1.2411 | 0.9916 | 0.9916 | 23.6791 | 25.5405 | 26.1019 | 25.0872
200041 | 1.1777 | 0.8399 | 0.8399 | 23.6797 | 24.5532 | 24.8537 | 24.3828
200050 | 1.2158 | 0.9702 | 0.9702 | 25.5233 | 26.4992 | 27.7986 | 26.6203
200052 | 1.1205 | 0.8399 | 0.8399 | 22.7763 | 21.8726 | 22.6132 | 22.4260
200063 | 1.1573 | 0.9487 | 0.9487 | 24.7235 | 25.0167 | 25.9508 | 25.2331
200066 | 1.1290 | * | * | 21.6354 | * | * | 21.6354
210001 | 1.4173 | 0.9211 | 0.9211 | 26.3144 | 27.7561 | 27.6008 | 27.2238
210002 | 1.9843 | 1.0090 | 1.0090 | 25.2859 | 26.4992 | 32.7693 | 28.0377
210003 | 1.6774 | 1.1076 | 1.1076 | 32.3042 | 29.8684 | 34.2570 | 32.1281
210004 | 1.4303 | 1.1068 | 1.1068 | 29.4300 | 34.2392 | 33.2835 | 32.3122
210005 | 1.2792 | 1.1028 | 1.1028 | 27.1276 | 28.7557 | 28.9736 | 28.2902
210006 | 1.0955 | 1.0090 | 1.0090 | 25.6396 | 25.4081 | 26.5757 | 25.8788
210007 | 1.9108 | 1.0090 | 1.0090 | 28.4496 | 30.2548 | 32.0607 | 30.2720
210008 | 1.3721 | 1.0090 | 1.0090 | 26.3008 | 25.2833 | 24.6380 | 25.3549
210009 | 1.7671 | 1.0090 | 1.0090 | 24.6332 | 26.2360 | 28.7516 | 26.5487
210010 | *** | * | * | 24.5071 | 25.7775 | * | 25.1483
210011 | 1.4072 | 1.0090 | 1.0090 | 24.8373 | 27.5031 | 29.9956 | 27.5064
210012 | 1.6687 | 1.0090 | 1.0090 | 25.7934 | 27.4103 | 30.3738 | 27.9884
210013 | 1.3016 | 1.0090 | 1.0090 | 23.9875 | 25.1348 | 28.1586 | 25.7366
210015 | 1.3253 | 1.0090 | 1.0090 | 25.8532 | 28.2029 | 30.4000 | 28.1869
210016 | 1.8484 | 1.1068 | 1.1068 | 28.6992 | 32.2081 | 32.9950 | 31.2873
210017 | 1.2333 | 0.8946 | 0.8946 | 21.3983 | 23.2168 | 24.8570 | 23.1911
210018 | 1.2046 | 1.1068 | 1.1068 | 27.5431 | 29.1870 | 29.7414 | 28.8513
210019 | 1.7934 | 0.8958 | 0.8958 | 24.9252 | 26.1824 | 27.6140 | 26.2446
210022 | 1.3768 | 1.1068 | 1.1068 | 30.1470 | 33.8015 | 35.4174 | 33.0730
210023 | 1.4377 | 1.0299 | 1.0299 | 29.0844 | 30.4656 | 32.2959 | 30.6752
210024 | 1.7307 | 1.0090 | 1.0090 | 27.1756 | 29.5579 | 31.0777 | 29.2823
210025 | 1.2602 | 0.8946 | 0.8946 | 23.8943 | 26.0771 | 26.8894 | 25.5852
210027 | 1.4414 | 0.8946 | 0.8946 | 23.9255 | 26.0111 | 25.5623 | 25.2157
210028 | 1.1079 | 0.9458 | 0.9458 | 24.1265 | 25.9221 | 26.5604 | 25.5493
210029 | 1.2797 | 1.0090 | 1.0090 | 31.2888 | 27.9741 | 31.4973 | 30.1510
210030 | 1.3403 | 0.8946 | 0.8946 | 27.5507 | 29.5635 | 27.8221 | 28.3058
210032 | 1.1400 | 1.0878 | 1.0878 | 25.7138 | 26.1829 | 27.3503 | 26.4352
210033 | 1.1879 | 1.0090 | 1.0090 | 26.6113 | 29.0420 | 29.2098 | 28.3156
210034 | 1.3061 | 1.0090 | 1.0090 | 26.3896 | 28.4308 | 30.7435 | 28.5652
210035 | 1.2634 | 1.1076 | 1.1076 | 24.5198 | 26.1082 | 28.2974 | 26.3729
210037 | 1.2148 | 0.8946 | 0.8946 | 24.1913 | 27.0973 | 27.4321 | 26.3569
210038 | 1.1762 | 1.0090 | 1.0090 | 28.3414 | 29.5980 | 30.2311 | 29.4259
210039 | 1.1341 | 1.1076 | 1.1076 | 25.8415 | 27.6940 | 30.6411 | 28.0851
210040 | 1.2321 | 1.0090 | 1.0090 | 28.3723 | 29.3514 | 28.6883 | 28.8196
210043 | 1.3335 | 1.0299 | 1.0299 | 24.3070 | 27.5657 | 28.0237 | 26.6189
210044 | 1.3586 | 1.0090 | 1.0090 | 24.8083 | 28.8700 | 30.1590 | 27.9174
210045 | 1.0603 | 0.8958 | 0.8958 | 15.0867 | 15.6380 | 14.3656 | 15.0218
210048 | 1.3049 | 1.0377 | 1.0377 | 25.0617 | 28.4638 | 27.3793 | 27.0126
210049 | 1.2098 | 1.0090 | 1.0090 | 25.9342 | 26.9656 | 26.7764 | 26.5560
210051 | 1.3106 | 1.1076 | 1.1076 | 27.3692 | 29.2998 | 30.1862 | 28.9788
210054 | 1.3557 | 1.1076 | 1.1076 | 24.6658 | 26.2295 | 27.6137 | 26.2370
210055 | 1.2007 | 1.1076 | 1.1076 | 28.0014 | 29.9708 | 30.8388 | 29.6378
210056 | 1.2815 | 1.0090 | 1.0090 | 26.6884 | 28.6091 | 30.5354 | 28.6855
210057 | 1.4141 | 1.1068 | 1.1068 | 29.2233 | 32.2883 | 31.9780 | 31.2261
210058 | 1.0867 | 1.0090 | 1.0090 | 24.8576 | 29.7841 | 31.7032 | 29.0401
210060 | 1.1523 | 1.1076 | 1.1076 | 28.7531 | 28.5087 | 28.8466 | 28.7138
210061 | 1.3223 | 0.8946 | 0.8946 | 24.1369 | 23.6662 | 23.0523 | 23.5621
220001 | 1.2596 | 1.1318 | 1.1318 | 27.3238 | 29.0014 | 31.2085 | 29.1967
220002 | 1.3298 | 1.1318 | 1.1318 | 28.9722 | 30.3598 | 32.8760 | 30.8268
220003 | 1.0758 | * | * | 20.5790 | 22.0549 | * | 21.3294
220006 | *** | * | * | 29.5946 | 30.8599 | 30.7330 | 30.4422
220008 | 1.2830 | 1.0791 | 1.0791 | 27.1675 | 30.1043 | 30.9345 | 29.4497
220010 | 1.2555 | 1.1318 | 1.1318 | 27.4161 | 29.7998 | 31.4253 | 29.5798
220011 | 1.1836 | 1.1318 | 1.1318 | 32.6624 | 34.4064 | 32.7733 | 33.3053
220012 | 1.5060 | 1.2553 | 1.2553 | 32.9791 | 35.7872 | 37.6096 | 35.5395
220015 | 1.1800 | 1.0664 | 1.0664 | 25.5449 | 28.3397 | 29.7600 | 27.9761
220016 | 1.1151 | 1.0664 | 1.0664 | 26.8798 | 28.0609 | 30.8663 | 28.6310
220017 | 1.2644 | 1.1687 | 1.1687 | 28.8264 | 29.7108 | 31.2550 | 29.9361
220019 | 1.1472 | 1.1318 | 1.1318 | 22.2294 | 23.2544 | 24.9623 | 23.5079
220020 | 1.1731 | 1.0791 | 1.0791 | 24.2279 | 26.5305 | 27.8385 | 26.2353
220024 | 1.3169 | 1.0664 | 1.0664 | 25.5837 | 27.3488 | 28.6898 | 27.1876
220025 | 1.0713 | 1.1318 | 1.1318 | 24.5186 | 23.0637 | 26.0299 | 24.5351
220028 | 1.5243 | 1.1318 | 1.1318 | 31.3592 | 32.0980 | 31.5587 | 31.6664
220029 | 1.1194 | 1.1318 | 1.1318 | 28.1432 | 28.6970 | 31.1099 | 29.3471
220030 | 1.1049 | 1.0664 | 1.0664 | 23.6257 | 24.4289 | 25.9633 | 24.7095
220031 | 1.6617 | 1.1687 | 1.1687 | 32.2660 | 34.8183 | 37.0251 | 34.7408
220033 | 1.1670 | 1.1318 | 1.1318 | 26.8049 | 28.2539 | 31.3862 | 28.8106
220035 | 1.4035 | 1.1318 | 1.1318 | 27.5533 | 28.6238 | 31.2994 | 29.2385
220036 | 1.5300 | 1.1687 | 1.1687 | 29.6296 | 31.5184 | 33.5361 | 31.6091
220041 | *** | * | * | 29.7464 | * | * | 29.7464
220046 | 1.4404 | 1.1318 | 1.0664 | 27.7726 | 28.1396 | 30.3602 | 28.8066
220049 | 1.2204 | 1.1318 | 1.1318 | 27.0464 | 27.7517 | 30.6379 | 28.5150
220050 | 1.1427 | 1.0664 | 1.0664 | 24.9945 | 26.3768 | 28.0886 | 26.5235
220051 | 1.2556 | 1.0664 | 1.0664 | 26.5575 | 29.8380 | 30.6499 | 28.9958
220052 | 1.1658 | 1.1687 | 1.1687 | 28.0925 | 29.8577 | 32.5961 | 30.0602
220058 | 1.0009 | 1.1318 | 1.1318 | 25.0598 | 24.9642 | 26.7206 | 25.5650
220060 | 1.1942 | 1.2181 | 1.2181 | 30.8242 | 32.3362 | 33.0544 | 32.1202
220062 | 0.5772 | 1.1318 | 1.1318 | 21.9489 | 24.2779 | 24.9938 | 23.7495
220063 | 1.2343 | 1.1318 | 1.1318 | 25.5840 | 27.3967 | 29.9941 | 27.6386
220065 | 1.2426 | 1.0664 | 1.0664 | 24.8737 | 26.5513 | 27.5196 | 26.3247
220066 | 1.3716 | 1.0664 | 1.0664 | 26.2561 | 27.1317 | 27.9943 | 27.1639
220067 | 1.1669 | 1.1687 | 1.1687 | 28.5220 | 29.8911 | 30.3267 | 29.6132
220070 | 1.1708 | 1.1318 | 1.1318 | 28.9100 | 31.9283 | 32.8480 | 31.0719
220071 | 1.8540 | 1.1687 | 1.1687 | 31.8322 | 32.2936 | 35.5338 | 33.2847
220073 | 1.2165 | 1.0791 | 1.0791 | 29.2399 | 31.3566 | 33.3418 | 31.2658
220074 | 1.3020 | 1.1687 | 1.1687 | 27.5763 | 28.4930 | 30.0912 | 28.7684
220075 | 1.5634 | 1.1687 | 1.1687 | 27.9503 | 29.1588 | 30.5079 | 29.2027
220076 | *** | * | * | 27.2534 | 29.7507 | 27.4339 | 28.0834
220077 | 1.7189 | 1.0918 | 1.0918 | 28.0935 | 30.2684 | 31.1933 | 29.9019
220080 | 1.2116 | 1.1318 | 1.1318 | 27.1578 | 28.9835 | 29.5970 | 28.6365
220082 | 1.2876 | 1.1318 | 1.1318 | 24.8060 | 26.9841 | 29.8247 | 27.2457
220083 | 1.1521 | 1.1687 | 1.1687 | 29.9001 | 32.9143 | 33.7694 | 32.1442
220084 | 1.2315 | 1.1318 | 1.1318 | 29.0505 | 32.5711 | 31.4451 | 31.0666
220086 | 1.8147 | 1.1687 | 1.1687 | 31.7482 | 34.3667 | 33.7988 | 33.2870
220088 | 1.8495 | 1.1687 | 1.1687 | 28.5711 | 28.5462 | 36.0913 | 30.7044
220089 | 1.3003 | 1.1161 | 1.1161 | 32.4409 | 31.1708 | 32.4915 | 32.0184
220090 | 1.2011 | 1.1318 | 1.1318 | 29.7945 | 30.8685 | 32.9169 | 31.2935
220095 | 1.1330 | 1.1318 | 1.1318 | 24.9871 | 27.4273 | 28.5030 | 27.0085
220098 | 1.1241 | 1.1318 | 1.1318 | 26.8538 | 28.8314 | 30.8540 | 28.8728
220100 | 1.3422 | 1.1687 | 1.1687 | 28.4848 | 29.6912 | 31.4815 | 29.9431
220101 | 1.2661 | 1.1318 | 1.1318 | 31.0834 | 33.1690 | 35.9902 | 33.5726
220105 | 1.2410 | 1.1318 | 1.1318 | 30.0892 | 31.9421 | 33.2654 | 31.8424
220108 | 1.1449 | 1.1687 | 1.1687 | 29.0804 | 30.6252 | 33.0443 | 30.9170
220110 | 2.0017 | 1.1687 | 1.1687 | 35.4242 | 36.6084 | 39.0322 | 37.0923
220111 | 1.1994 | 1.1687 | 1.1687 | 28.9092 | 31.1850 | 33.3309 | 31.2225
220116 | 1.9564 | 1.1687 | 1.1687 | 32.2337 | 32.9988 | 36.5682 | 33.8543
220119 | 1.1193 | 1.1687 | 1.1687 | 27.8372 | 30.1056 | 30.8989 | 29.6743
220126 | 1.1729 | 1.1687 | 1.1687 | 26.7660 | 28.7805 | 31.8676 | 29.1255
220133 | *** | * | * | 31.2981 | 33.6003 | * | 32.4924
220135 | 1.3405 | 1.2553 | 1.2553 | 31.3246 | 33.9866 | 36.0887 | 33.8967
220153 | 0.9848 | 1.0664 | 1.0664 | 18.9267 | * | 14.1334 | 17.1170
220154 | 0.9336 | 1.1687 | 1.1687 | 30.9009 | 28.6462 | 35.5883 | 31.2859
220163 | 1.6470 | 1.1318 | 1.1318 | 30.5056 | 33.6484 | 33.8384 | 32.5869
220171 | 1.7942 | 1.1318 | 1.1318 | 28.9733 | 30.4036 | 32.0101 | 30.5076
220174 | 1.1988 | 1.1318 | 1.1318 | 30.3356 | 31.7572 | 30.7270 | 30.9243
220176 | 1.5414 | * | * | * | * | * | *
230001 | 1.0769 | * | * | 24.3660 | * | * | 24.3660
230002 | 1.2952 | 1.0235 | 1.0391 | 27.0305 | 29.1410 | 28.6090 | 28.2640
230003 | 1.2115 | 1.0737 | 0.9683 | 25.2596 | 26.1278 | 27.3169 | 26.2815
230004 | 1.7321 | 1.0737 | 0.9961 | 25.5573 | 26.7206 | 29.1937 | 27.2248
230005 ʰ | 1.2788 | 1.0853 | 1.0853 | 22.1018 | 24.1902 | 26.3043 | 24.1338
230006 | 1.1218 | * | * | 22.7656 | 23.8835 | * | 23.3472
230013 | 1.3549 | 1.0685 | 1.0235 | 22.7014 | 23.7822 | 24.5785 | 23.6715
230015 | 1.0350 | 0.9414 | 0.9414 | 23.4512 | 24.6570 | 27.0741 | 25.0665
230017 | 1.6823 | 1.0737 | 1.0737 | 27.3259 | 29.5178 | 31.7604 | 29.6143
230019 | 1.5714 | 1.0685 | 1.0235 | 27.6563 | 28.4575 | 32.0970 | 29.3438
230020 | 1.7351 | 1.0630 | 1.0391 | 26.8516 | 29.2869 | 29.1241 | 28.4427
230021 | 1.5640 | 0.9191 | 0.9191 | 23.4663 | 24.9551 | 26.4485 | 24.9904
230022 | 1.2895 | 0.9823 | 0.9823 | 22.2528 | 23.3000 | 25.0800 | 23.5509
230024 | 1.5504 | 1.0630 | 1.0391 | 27.6555 | 30.0813 | 31.5988 | 29.7774
230027 | 1.1269 | * | * | 22.5736 | 23.5511 | * | 23.0457
230029 | 1.6096 | 1.0685 | 1.0235 | 27.9012 | 29.0935 | 32.7314 | 29.8511
230030 | 1.2805 | 0.9055 | 0.9055 | 20.9867 | 22.3174 | 23.5494 | 22.3170
230031 | 1.3726 | 1.0123 | 1.0123 | 23.2910 | 25.4678 | 28.9309 | 25.7151
230034 | 1.3358 | 0.9055 | 0.9055 | 20.9195 | 26.7967 | 24.7096 | 24.1460
230035 | 1.3084 | 0.9469 | 0.9469 | 20.9197 | 21.2317 | 24.6410 | 22.2545
230036 | 1.3873 | 1.0040 | 1.0040 | 26.5854 | 28.3622 | 29.2811 | 28.0601
230037 | 1.2855 | 1.0630 | 1.0391 | 24.7875 | 26.2000 | 28.6435 | 26.5799
230038 | 1.7665 | 1.0737 | 0.9469 | 25.2499 | 26.3480 | 27.9064 | 26.5323
230040 | 1.2170 | 0.9469 | 0.9469 | 21.9813 | 24.2349 | 25.5295 | 23.9840
230041 | 1.5467 | 1.0139 | 1.0139 | 25.2518 | 26.1760 | 27.4599 | 26.3249
230042 | 1.2127 | * | * | 24.3640 | 26.2037 | * | 25.3026
230046 | 1.8770 | 1.0853 | 1.0853 | 29.2683 | 30.3591 | 31.8614 | 30.5717
230047 | 1.4956 | 1.0235 | 1.0235 | 26.2447 | 28.1351 | 30.7000 | 28.4133
230053 | 1.6058 | 1.0630 | 1.0391 | 28.3030 | 29.8703 | 32.3593 | 30.1185
230054 | 2.0040 | 0.9620 | 0.9620 | 24.0137 | 24.9905 | 25.8181 | 24.9538
230055 | 1.2536 | 0.9055 | 0.9055 | 23.7671 | 25.4143 | 26.6932 | 25.2940
230058 | 1.1715 | 0.9055 | 0.9055 | 21.9308 | 24.0657 | 26.0394 | 24.0162
230059 | 1.5561 | 1.0737 | 0.9469 | 23.1451 | 25.5350 | 27.6205 | 25.5084
230060 | 1.2076 | 0.9055 | 0.9055 | 24.5073 | 25.5015 | 28.8932 | 26.2709
230065 | *** | * | * | 27.9179 | 28.4631 | 32.3190 | 29.1033
230066 | 1.3089 | 1.0737 | 0.9961 | 25.8517 | 27.4928 | 29.8291 | 27.8691
230069 | 1.1416 | 1.0630 | 1.0391 | 27.6815 | 29.5556 | 31.3504 | 29.5335
230070 | 1.6546 | 0.9055 | 0.9055 | 25.1587 | 24.2342 | 25.2886 | 24.8787
230071 | 0.8889 | 1.0685 | 1.0235 | 24.7707 | 26.3907 | 28.1751 | 26.4737
230072 | 1.4215 | 1.0737 | 0.9683 | 24.1560 | 24.4933 | 26.3114 | 25.0275
230075 | 1.3157 | 0.9871 | 0.9871 | 24.1482 | 27.6193 | 28.5212 | 26.7496
230077 | 2.0406 | 1.0685 | 1.0685 | 27.3117 | 27.6157 | 28.3061 | 27.7598
230078 | 1.0339 | 0.9055 | 0.9055 | 21.9200 | 23.9901 | 26.2508 | 24.1481
230080 | 1.3081 | 0.9055 | 0.9055 | 21.2840 | 21.2314 | 24.0443 | 22.1966
230081 | 1.2045 | 0.9055 | 0.9055 | 20.6777 | 23.0788 | 24.5396 | 22.7915
230082 | 0.9782 | * | * | 23.1240 | 22.2165 | * | 22.6498
230085 | 1.2286 | 1.0737 | 1.0737 | 22.2569 | 22.7314 | 23.3957 | 22.8121
230086 | 1.1583 | * | * | 20.8759 | * | * | 20.8759
230087 | *** | * | * | * | 16.9168 | * | 16.9168
230089 | 1.3507 | 1.0630 | 1.0391 | 23.9486 | 28.7015 | 30.4100 | 27.6217
230092 | 1.3484 | 0.9823 | 0.9823 | 24.3768 | 26.3584 | 28.1764 | 26.3309
230093 | 1.2207 | 0.9469 | 0.9469 | 24.5055 | 26.4967 | 26.0513 | 25.6772
230095 | 1.3595 | 0.9055 | 0.9055 | 19.2244 | 21.3915 | 22.4323 | 21.0375
230096 | 1.1658 | 1.0737 | 1.0737 | 26.7578 | 28.7681 | 30.6584 | 28.7161
230097 | 1.8024 | 0.9469 | 0.9469 | 25.2104 | 26.5773 | 28.5361 | 26.7964
230099 | 1.2294 | 1.0630 | 1.0391 | 25.0390 | 26.4882 | 28.7593 | 26.7894
230100 | 1.2303 | 0.9055 | 0.9055 | 20.4565 | 21.8895 | 24.1824 | 22.1932
230101 | 1.1612 | 0.9055 | 0.9055 | 23.1349 | 24.3772 | 25.3781 | 24.3329
230103 | 1.0731 | * | * | 18.4304 | 21.6609 | * | 19.9258
230104 | 1.6312 | 1.0630 | 1.0391 | 27.8864 | 30.5570 | 31.7701 | 30.0214
230105 | 1.9789 | 1.0040 | 1.0040 | 24.6853 | 27.2705 | 32.8773 | 28.3242
230106 | 1.0982 | 1.0737 | 0.9499 | 24.1128 | 24.3980 | 25.6113 | 24.7279
230108 | 1.1275 | 0.9055 | 0.9055 | 22.4966 | 18.4063 | 20.8489 | 20.4585
230110 | 1.2929 | 0.9055 | 0.9055 | 22.7621 | 28.7704 | 24.6324 | 25.3971
230117 | 1.8782 | 1.0737 | 1.0737 | 29.6361 | 29.4775 | 32.3796 | 30.4251
230118 | 1.0705 | 0.9055 | 0.9055 | 21.4886 | 22.3636 | 23.4529 | 22.4396
230119 | 1.3083 | 1.0630 | 1.0391 | 29.2509 | 30.2441 | 30.5690 | 30.0291
230120 | 1.1170 | * | * | 21.7894 | 24.1485 | * | 22.9553
230121 | 1.2749 | 0.9823 | 0.9823 | 23.4394 | 24.5220 | 26.7038 | 24.8835
230124 | 1.3714 | * | * | 23.0508 | * | * | 23.0508
230130 | 1.7526 | 1.0685 | 1.0235 | 26.9907 | 26.6076 | 30.4881 | 28.0695
230132 | 1.4085 | 1.0978 | 1.0978 | 29.9106 | 30.5318 | 32.7610 | 31.0442
230133 | 1.3772 | 0.9055 | 0.9055 | 21.2273 | 24.3175 | 24.1542 | 23.2760
230135 | 1.1854 | 1.0630 | 1.0391 | 23.9000 | 25.8406 | 26.3160 | 25.3904
230141 | 1.6360 | 1.0978 | 1.0978 | 30.4643 | 28.6326 | 31.7206 | 30.2602
230142 | 1.2984 | 1.0235 | 1.0391 | 25.6044 | 26.9433 | 27.7390 | 26.7874
230143 | 1.2854 | * | * | 19.5387 | 21.4083 | * | 20.4663
230144 | 1.5305 | 1.0853 | 1.0853 | * | * | * | *
230145 | *** | * | * | 17.2181 | * | * | 17.2181
230146 | 1.3093 | 1.0630 | 1.0391 | 24.3891 | 26.3432 | 27.0190 | 25.9632
230149 | *** | * | * | 21.4753 | * | * | 21.4753
230151 | 1.3162 | 1.0685 | 1.0235 | 26.4669 | 28.2243 | 27.3926 | 27.3632
230153 | 0.9954 | * | * | 22.3404 | 22.8644 | * | 22.6169
230155 | *** | * | * | 24.0404 | * | * | 24.0404
230156 | 1.5931 | 1.0853 | 1.0853 | 29.4855 | 31.1909 | 33.3966 | 31.3733
230165 | 1.7163 | 1.0630 | 1.0391 | 27.3164 | 28.9636 | 29.3983 | 28.5661
230167 | 1.5889 | 1.0096 | 1.0096 | 26.6828 | 27.4562 | 29.4375 | 27.8699
230169 | *** | * | * | 27.1172 | 31.8442 | * | 29.3455
230171 | *** | * | * | 22.0635 | * | * | 22.0635
230172 | 1.2675 | * | * | 24.0236 | 25.7402 | * | 24.8835
230174 | 1.3287 | 1.0737 | 0.9683 | 26.2770 | 27.6920 | 30.2951 | 28.1112
230176 | 1.2860 | 1.0630 | 1.0391 | 25.6777 | 27.3605 | 27.8101 | 27.1746
230180 | 1.0946 | 0.9055 | 0.9055 | 22.5454 | 24.7358 | 26.5277 | 24.6245
230184 | *** | * | * | 21.9346 | 23.6707 | 34.0691 | 23.6789
230186 | *** | * | * | 27.1126 | 26.2282 | * | 26.7039
230189 | 0.9848 | * | * | 20.8605 | 23.0099 | * | 21.9754
230190 | 0.9660 | 1.0737 | 1.0737 | 28.7365 | 29.9604 | 32.4001 | 30.3817
230193 | 1.2369 | 1.0123 | 1.0123 | 24.3181 | 23.3565 | 25.2992 | 24.3281
230195 | 1.4121 | 1.0235 | 1.0235 | 27.1266 | 28.2892 | 29.4364 | 28.3509
230197 | 1.6117 | 1.0978 | 1.0978 | 28.3439 | 30.0367 | 32.8265 | 30.4301
230204 | 1.3256 | 1.0235 | 1.0235 | 25.9871 | 29.1466 | 29.7273 | 28.2022
230207 | 1.3967 | 1.0685 | 1.0235 | 22.2854 | 24.5201 | 25.4131 | 24.0831
230208 | 1.1981 | 0.9469 | 0.9469 | 20.9420 | 21.9651 | 23.1625 | 22.0408
230212 | 1.0156 | 1.0853 | 1.0853 | 27.3686 | 29.7980 | 32.5361 | 29.8062
230216 | 1.6633 | 1.0123 | 1.0123 | 26.1468 | 27.5230 | 29.1364 | 27.6226
230217 | 1.3064 | 0.9823 | 0.9823 | 26.7929 | 28.6075 | 29.7609 | 28.4930
230222 ʰ | 1.3442 | 0.9283 | 0.9283 | 24.8925 | 26.9724 | 30.2084 | 27.4096
230223 | 1.2478 | 1.0685 | 1.0235 | 27.1503 | 29.2853 | 28.7434 | 28.4016
230227 | 1.5190 | 1.0235 | 1.0235 | 28.1105 | 29.5798 | 31.2231 | 29.6698
230230 | 1.5144 | 1.0096 | 1.0096 | 25.4471 | 27.9607 | 30.0898 | 27.8390
230235 | 0.9813 | * | * | 19.6046 | 21.8777 | * | 20.7318
230236 | 1.4603 | 1.0737 | 0.9469 | 26.3988 | 28.4754 | 30.7222 | 28.5769
230239 | 1.2296 | 0.9055 | 0.9055 | 21.1643 | 22.1040 | 21.2172 | 21.5040
230241 | 1.2197 | 1.0123 | 1.0123 | 25.8671 | 27.4890 | 27.5447 | 26.9859
230244 | 1.4048 | 1.0630 | 1.0391 | 25.3817 | 26.4326 | 28.0406 | 26.5791
230254 | 1.4614 | 1.0685 | 1.0235 | 26.4431 | 28.1216 | 28.9407 | 27.8278
230257 | 0.9689 | 1.0235 | 1.0235 | 25.4086 | 27.8197 | 30.1026 | 27.6619
230259 | 1.2083 | 1.0853 | 1.0853 | 24.3067 | 26.8677 | 27.9433 | 26.4486
230264 | 2.1504 | 1.0235 | 1.0235 | 19.9992 | 19.2398 | 22.3532 | 20.5167
230269 | 1.4452 | 1.0685 | 1.0235 | 27.4732 | 28.8187 | 30.9490 | 29.1589
230270 | 1.3222 | 1.0630 | 1.0391 | 26.1113 | 27.8488 | 25.2072 | 26.3816
230273 | 1.5273 | 1.0630 | 1.0391 | 30.2209 | 29.9307 | 31.5014 | 30.5474
230275 | 0.4787 | 0.9055 | 0.9055 | 30.2244 | 23.1095 | 23.7882 | 25.8693
230277 | 1.3945 | 1.0685 | 1.0235 | 26.9231 | 29.1973 | 29.6262 | 28.6272
230279 | 0.5318 | 1.0630 | 1.0391 | 23.1636 | 24.7673 | 27.1158 | 24.8848
230283 | *** | * | * | 24.9272 | 26.2622 | 33.2824 | 26.4188
230289 | *** | * | * | * | 29.7720 | * | 29.7720
230290 | *** | * | * | 29.4792 | * | * | 29.4792
230291 | *** | * | * | * | 30.9655 | * | 30.9655
230292 | *** | * | * | * | 31.8943 | * | 31.8943
230294 | *** | * | * | * | * | 31.3710 | 31.3710
230295 | *** | * | * | * | * | 27.2229 | 27.2229
230296 | 1.6564 | 1.0096 | 1.0096 | * | * | * | *
230328 | 0.6608 | * | * | * | * | * | *
240001 | 1.5162 | 1.0943 | 1.0943 | 29.9123 | 31.5753 | 33.3161 | 31.6280
240002 | 1.8250 | 1.0157 | 1.0157 | 26.9608 | 28.9860 | 30.9011 | 28.9495
240004 | 1.5995 | 1.0943 | 1.0943 | 27.8796 | 30.8072 | 32.7422 | 30.4106
240006 | 1.0882 | 1.1246 | 1.1246 | 30.2330 | 30.1950 | 30.9169 | 30.4586
240007 | 0.9780 | * | * | 23.7588 | * | * | 23.7588
240010 | 2.0356 | 1.1246 | 1.1246 | 30.4139 | 31.3733 | 33.5850 | 31.7910
240011 | *** | * | * | 22.9561 | * | * | 22.9561
240013 | 1.3325 | * | * | 28.7202 | 28.3860 | * | 28.5544
240014 | 1.0328 | 1.0943 | 1.0943 | 28.3788 | 29.8623 | 30.0296 | 29.4562
240016 | 1.2570 | * | * | 24.9211 | 26.7814 | * | 25.9310
240017 | 1.2425 | 0.9256 | 0.9256 | 23.3314 | 24.4417 | 24.2138 | 23.9977
240018 | 1.2809 | 1.0842 | 1.0842 | 27.9218 | 25.6236 | 27.9842 | 27.0238
240019 | 1.0723 | 1.0157 | 1.0157 | 27.5441 | 28.6723 | 32.3927 | 29.5002
240020 | 1.0716 | 1.0943 | 1.0943 | 28.1568 | 31.2443 | 32.7931 | 30.6996
240021 | 0.9533 | * | * | 23.7096 | 27.1235 | * | 25.3021
240022 | 1.1345 | 0.9256 | 0.9256 | 23.7368 | 25.2066 | 27.4658 | 25.4771
240025 | *** | * | * | 27.8656 | * | * | 27.8656
240027 | 0.9013 | * | * | 20.2531 | 18.2481 | * | 19.1090
240029 | 1.1341 | * | * | 24.3017 | 25.3568 | * | 24.8217
240030 | 1.3375 | 0.9971 | 0.9971 | 23.3753 | 24.7154 | 26.4497 | 24.8644
240031 | 0.9645 | * | * | 26.7242 | 26.7778 | * | 26.7517
240036 | 1.6566 | 1.0842 | 1.0842 | 27.0821 | 28.0812 | 30.9000 | 28.6586
240037 | 1.0394 | * | * | 24.3986 | * | * | 24.3986
240038 | 1.5532 | 1.0943 | 1.0943 | 29.8465 | 31.0779 | 33.2288 | 31.4072
240040 | 1.0905 | 1.0157 | 1.0157 | 26.3177 | 27.4895 | 27.3304 | 27.0645
240043 | 1.1406 | 0.9256 | 0.9256 | 20.7155 | 21.8685 | 23.2097 | 21.9560
240044 | 1.1339 | 1.0124 | 1.0124 | 24.3009 | 22.0973 | 25.1529 | 23.8283
240045 | 1.0878 | * | * | 26.1743 | * | * | 26.1743
240047 | 1.5452 | 1.0157 | 1.0157 | 29.1211 | 28.8288 | 28.4908 | 28.7805
240050 | 1.0908 | 1.0943 | 1.0943 | 26.6687 | 26.4854 | 26.8525 | 26.6732
240052 | 1.2502 | 0.9256 | 0.9256 | 24.9870 | 26.4256 | 28.0986 | 26.5338
240053 | 1.4037 | 1.0943 | 1.0943 | 28.4733 | 29.5315 | 31.4458 | 29.8618
240056 | 1.2278 | 1.0943 | 1.0943 | 30.8619 | 31.6623 | 33.3453 | 31.9671
240057 | 1.8040 | 1.0943 | 1.0943 | 29.4870 | 30.6258 | 31.7172 | 30.6390
240059 | 1.0849 | 1.0943 | 1.0943 | 28.6340 | 29.7916 | 31.6035 | 30.0547
240061 | 1.7796 | 1.1246 | 1.1246 | 30.0031 | 30.6383 | 32.8216 | 31.1991
240063 | 1.5489 | 1.0943 | 1.0943 | 29.9603 | 32.3487 | 34.2862 | 32.2192
240064 | 1.2477 | 1.0157 | 1.0157 | 26.6996 | 29.9662 | 33.2930 | 30.5360
240066 | 1.4590 | 1.0943 | 1.0943 | 30.2716 | 33.4532 | 36.4650 | 33.5054
240069 | 1.1852 | 1.1246 | 1.1246 | 27.4990 | 28.9496 | 30.2048 | 28.9405
240071 | 1.1457 | 1.1246 | 1.1246 | 26.4780 | 28.0585 | 29.9094 | 28.1696
240075 | 1.1523 | 0.9971 | 0.9971 | 26.6607 | 26.1956 | 27.9350 | 26.9347
240076 | 1.0765 | 1.0943 | 1.0943 | 28.4519 | 29.8562 | 31.5934 | 30.0582
240078 | 1.6631 | 1.0943 | 1.0943 | 30.5339 | 32.3235 | 32.6859 | 31.8480
240079 | *** | * | * | 20.9220 | * | * | 20.9220
240080 | 1.8436 | 1.0943 | 1.0943 | 29.6274 | 31.6828 | 32.9636 | 31.4183
240083 | 1.2072 | 0.9256 | 0.9256 | 25.0214 | 26.6582 | 26.9625 | 26.2728
240084 | 1.1120 | 1.0157 | 1.0157 | 24.7856 | 26.8142 | 27.5846 | 26.3984
240087 | 1.0241 | * | * | 24.8479 | * | * | 24.8479
240088 | 1.3204 | 0.9971 | 0.9971 | 27.6323 | 28.0825 | 28.0161 | 27.9149
240093 | 1.3161 | 1.0842 | 1.0842 | 23.7785 | 25.5805 | 26.9860 | 25.4182
240094 | 1.1989 | * | * | 27.3974 | * | * | 27.3974
240100 | 1.2983 | 0.9256 | 0.9256 | 25.3269 | 27.6299 | 30.4304 | 27.7995
240101 | 1.1584 | 0.9256 | 0.9256 | 26.6078 | 25.5355 | 26.1979 | 26.0918
240103 | 1.1155 | * | * | 22.5416 | 22.7078 | * | 22.6234
240104 | 1.1722 | 1.0943 | 1.0943 | 30.1392 | 31.4306 | 32.5071 | 31.4775
240106 | 1.5325 | 1.0943 | 1.0943 | 27.5171 | 29.3455 | 30.9325 | 29.3230
240107 | 0.9182 | * | * | 25.5199 | * | * | 25.5199
240109 | 0.9469 | * | * | 15.2076 | 16.5051 | * | 15.8386
240115 | 1.6345 | 1.0943 | 1.0943 | 29.0261 | 31.3869 | 32.6799 | 31.0904
240117 | 1.1572 | 0.9256 | 0.9256 | 22.0463 | 23.6230 | 23.7271 | 23.1567
240123 | 1.1119 | * | * | 20.5755 | 21.7500 | * | 21.1868
240124 | *** | * | * | 23.9297 | * | * | 23.9297
240127 | *** | * | * | 24.4824 | * | * | 24.4824
240128 | 1.0253 | 0.9256 | 0.9256 | 21.2638 | 21.5791 | 23.2704 | 22.0363
240132 | 1.3295 | 1.0943 | 1.0943 | 29.5310 | 31.7139 | 32.8272 | 31.3936
240133 | 1.1376 | * | * | 26.1836 | * | * | 26.1836
240135 | *** | * | * | 16.1837 | * | * | 16.1837
240137 | *** | * | * | 23.8666 | * | * | 23.8666
240139 | *** | * | * | 23.7898 | * | * | 23.7898
240141 | 1.1289 | 1.0943 | 1.0943 | 26.7173 | 26.4016 | 29.8940 | 27.9382
240143 | 0.8821 | * | * | 21.1180 | 21.7416 | * | 21.4375
240152 | 0.9917 | * | * | 27.3445 | 29.6196 | * | 28.5127
240154 | 1.0591 | * | * | 23.9643 | * | * | 23.9643
240162 | 1.1507 | * | * | 22.3136 | 22.2721 | * | 22.2926
240166 | 1.1450 | 0.9256 | 0.9256 | 23.4265 | 25.7509 | 27.1602 | 25.4648
240179 | *** | * | * | 20.8449 | * | * | 20.8449
240187 | 1.2475 | 1.0842 | 1.0842 | 26.5129 | 27.8811 | 28.0014 | 27.4824
240196 | 0.7780 | 1.0943 | 1.0943 | 28.9380 | 30.7719 | 32.4098 | 30.7649
240206 | 0.8192 | 1.4448 | 1.4448 | * | * | * | *
240207 | 1.1912 | 1.0943 | 1.0943 | 29.2395 | 31.7665 | 32.6617 | 31.2871
240210 | 1.2761 | 1.0943 | 1.0943 | 29.7227 | 32.1564 | 33.0565 | 31.6494
240211 | 0.9917 | 1.0842 | 1.0842 | 44.4214 | 18.8503 | 23.5383 | 24.9982
240213 | 1.3747 | 1.0943 | 1.0943 | 31.3974 | 32.7532 | 34.3377 | 32.9080
240366 | 0.8163 | * | * | * | * | * | *
250001 | 1.8600 | 0.8278 | 0.8278 | 21.9176 | 22.7827 | 23.7029 | 22.8415
250002 | 0.9030 | 0.8008 | 0.8008 | 20.1310 | 23.3845 | 23.9358 | 22.3598
250004 | 1.9070 | 0.9032 | 0.9032 | 20.6828 | 24.1065 | 24.9720 | 23.2149
250006 | 1.0729 | 0.9032 | 0.9032 | 21.4038 | 24.0191 | 24.9513 | 23.4457
250007 | 1.2555 | 0.8914 | 0.8914 | 23.6933 | 25.8710 | 25.8218 | 25.1582
250009 | 1.2768 | 0.8640 | 0.8640 | 20.4329 | 22.2323 | 22.2900 | 21.6627
250010 | 1.0392 | 0.7579 | 0.7579 | 19.4130 | 19.4403 | 20.8939 | 19.9016
250012 | 0.9166 | 0.9367 | 0.9367 | 20.0493 | 20.2921 | 20.2685 | 20.2019
250015 | 1.0413 | 0.7579 | 0.7579 | 20.6931 | 20.7555 | 21.4605 | 20.9636
250017 | 1.0388 | 0.7579 | 0.7579 | 18.1013 | 21.3950 | 22.0824 | 20.6762
250018 | 0.8272 | 0.7579 | 0.7579 | 17.0689 | 16.6294 | 16.9042 | 16.8758
250019 | 1.5866 | 0.8914 | 0.8914 | 22.8358 | 23.9741 | 26.3257 | 24.3649
250020 | 0.9684 | 0.7579 | 0.7579 | 19.3390 | 21.4019 | 21.3531 | 20.6951
250021 | *** | * | * | 15.1242 | 20.3559 | * | 16.1481
250023 | 0.8560 | 0.8607 | 0.8607 | 16.1820 | 16.2418 | 17.0598 | 16.5022
250025 | 1.1161 | 0.7579 | 0.7579 | 20.6892 | 20.5258 | 22.4404 | 21.2459
250027 | 0.9523 | 0.7579 | 0.7579 | 17.3313 | 17.3481 | 23.1213 | 19.2559
250031 | 1.3383 | 0.8278 | 0.8278 | 22.0850 | 21.4326 | 24.9777 | 22.6950
250034 | 1.5646 | 0.9032 | 0.9032 | 20.6752 | 24.3189 | 26.4723 | 23.8164
250035 | 0.8603 | 0.7579 | 0.7579 | 14.6149 | 17.2045 | 19.4498 | 17.1103
250036 | 1.0150 | 0.8229 | 0.8229 | 17.8313 | 19.1975 | 19.2912 | 18.8229
250037 | 0.8531 | * | * | 17.4463 | 17.4012 | * | 17.4232
250038 | 0.9812 | 0.8278 | 0.8278 | 18.0209 | 18.9050 | 21.6995 | 19.5148
250039 | 0.9171 | * | * | 15.2939 | 17.3155 | * | 16.2540
250040 | 1.5081 | 0.8607 | 0.8607 | 21.3451 | 23.2285 | 24.9604 | 23.2173
250042 | 1.1719 | 0.9032 | 0.9032 | 21.4117 | 23.4135 | 25.0292 | 23.2557
250043 | 1.0266 | 0.7579 | 0.7579 | 18.3322 | 19.8098 | 18.5069 | 18.8884
250044 | 1.0422 | 0.8008 | 0.8008 | 21.1198 | 23.3862 | 24.1915 | 22.8737
250045 | 1.1328 | * | * | 25.0863 | 26.3831 | * | 25.7497
250048 | 1.6466 | 0.8278 | 0.8278 | 21.6547 | 22.9765 | 25.5576 | 23.4215
250049 | 0.8984 | 0.7579 | 0.7579 | 17.8154 | 17.7005 | 16.6336 | 17.2912
250050 | 1.2572 | 0.7579 | 0.7579 | 18.3170 | 19.1467 | 20.2413 | 19.2614
250051 | 0.8663 | 0.7579 | 0.7579 | 106908 | 106095 | 11.7079 | 109990
250057 | 1.1351 | 0.7579 | 0.7579 | 19.6789 | 20.1900 | 22.5761 | 20.8199
250058 | 1.2384 | 0.7579 | 0.7579 | 17.5160 | 18.1704 | 19.0087 | 18.2438
250059 | 0.9837 | 0.7579 | 0.7579 | 17.7270 | 19.2977 | 20.6556 | 19.2080
250060 | 0.8378 | 0.7579 | 0.7579 | 20.8115 | 16.8247 | 25.4246 | 20.6969
250061 | 0.8786 | 0.7579 | 0.7579 | 15.2515 | 12.8174 | 16.2589 | 14.6266
250065 | *** | * | * | 16.1984 | * | * | 16.1984
250067 | 1.0700 | 0.7579 | 0.7579 | 20.1261 | 21.6911 | 23.4774 | 21.7391
250068 | *** | * | * | 16.9585 | * | * | 16.9585
250069 | 1.5415 | 0.7785 | 0.7785 | 21.6617 | 22.8162 | 16.1304 | 19.3701
250071 | *** | * | * | 17.7149 | * | * | 17.7149
250072 | 1.5965 | 0.8278 | 0.8278 | 22.9316 | 24.6587 | 26.4719 | 24.7138
250077 | 0.9353 | 0.7579 | 0.7579 | 14.2271 | 14.7632 | 17.4410 | 15.4299
250078 ² | 1.6824 | 0.8607 | 0.8914 | 18.6563 | 20.9354 | 21.3612 | 20.3108
250079 | 0.8320 | 0.8278 | 0.8278 | 27.2549 | 38.0031 | 44.8151 | 37.9933
250081 | 1.2341 | 0.7785 | 0.7785 | 21.3830 | 24.7031 | 23.9285 | 23.1846
250082 | 1.4493 | 0.8224 | 0.8224 | 20.5212 | 19.6966 | 23.1859 | 21.1022
250083 | *** | * | * | 19.9484 | * | * | 19.9484
250084 | 1.1750 | 0.7579 | 0.7579 | 21.8001 | 18.5775 | 19.4461 | 19.8188
250085 | 0.9867 | 0.7579 | 0.7579 | 18.7367 | 19.7007 | 21.3859 | 19.9851
250093 | 1.1742 | 0.7579 | 0.7579 | 18.8001 | 21.3237 | 22.3211 | 20.8049
250094 | 1.6054 | 0.8607 | 0.8607 | 22.3312 | 22.7312 | 24.5599 | 23.2045
250095 | 1.0280 | 0.7579 | 0.7579 | 19.9553 | 21.3511 | 20.0315 | 20.4379
250096 | 1.1310 | 0.8278 | 0.8278 | 22.7458 | 22.6298 | 24.4706 | 23.2825
250097 | 1.5757 | 0.8102 | 0.8102 | 19.4534 | 20.1687 | 22.0566 | 20.5452
250099 | 1.2588 | 0.8278 | 0.8278 | 19.0333 | 19.5797 | 20.5324 | 19.7105
250100 | 1.4755 | 0.7785 | 0.7785 | 22.0328 | 24.2209 | 26.2027 | 24.1667
250101 | *** | * | * | 21.2234 | 19.3543 | * | 20.1785
250102 | 1.6047 | 0.8278 | 0.8278 | 22.5518 | 24.2868 | 24.3828 | 23.7712
250104 | 1.4423 | 0.8278 | 0.8278 | 21.4431 | 22.6591 | 23.5992 | 22.6152
250105 | 0.9397 | * | * | 17.9468 | 18.1196 | * | 18.0323
250107 | 0.9189 | * | * | 16.5369 | 17.8999 | * | 17.2381
250112 | 0.9624 | 0.7579 | 0.7579 | 19.6172 | 21.2824 | 23.2090 | 21.4577
250117 | 1.0940 | 0.8607 | 0.8607 | 19.9774 | 23.3673 | 22.2965 | 21.8104
250120 | 1.0796 | 0.7579 | 0.7579 | 22.7607 | 23.4277 | 24.5030 | 23.5079
250122 | 1.0886 | 0.8607 | 0.7579 | 23.7230 | 24.5854 | 27.7136 | 25.3125
250123 | 1.3078 | 0.8914 | 0.8914 | 22.0486 | 24.5115 | 25.8310 | 24.1586
250124 | 0.8426 | 0.8278 | 0.8278 | 15.4343 | 17.2181 | 18.4511 | 17.0346
250125 | 1.3143 | 0.8914 | 0.8914 | 26.8379 | 27.7077 | 27.9165 | 27.4937
250126 | 0.9024 | 0.9367 | 0.9367 | 20.4085 | 21.7111 | 24.0142 | 21.9434
250127 | 0.8488 | 1.4448 | 1.4448 | * | * | * | *
250128 | 0.8921 | 0.7579 | 0.7579 | 15.9344 | 17.6269 | 17.8958 | 17.1308
250134 | 0.7992 | 0.8278 | 0.8278 | 23.5608 | 25.8368 | 23.0509 | 24.1129
250136 | 1.0417 | 0.8278 | 0.8278 | 22.5832 | 23.0637 | 24.6860 | 23.4511
250138 | 1.3056 | 0.8278 | 0.8278 | 22.7902 | 23.8861 | 24.8531 | 23.8880
250141 | 1.6112 | 0.9367 | 0.9367 | 24.5772 | 27.6158 | 29.0066 | 27.2108
250146 | 0.9041 | * | * | 17.2328 | 18.6486 | * | 17.9106
250149 | 0.8797 | 0.7579 | 0.7579 | 15.0367 | 15.0641 | 16.5424 | 15.5525
250151 | 0.4842 | 0.7579 | 0.7579 | 21.8697 | 17.2205 | 19.1595 | 18.6189
250152 | 0.9050 | 0.8278 | 0.8278 | * | 25.7837 | 27.1864 | 26.4345
250153 | *** | * | * | * | 29.0461 | * | 29.0461
250155 | *** | * | * | * | * | 22.3917 | 22.3917
250156 | 1.6598 | 0.7579 | 0.7579 | * | * | * | *
250159 | 0.8786 | * | * | * | * | * | *
250300 | 0.6711 | * | * | * | * | * | *
250302 | 0.7681 | * | * | * | * | * | *
250306 | 0.8875 | * | * | * | * | * | *
250311 | 0.6819 | * | * | * | * | * | *
250314 | 0.8263 | * | * | * | * | * | *
250317 | 0.7015 | * | * | * | * | * | *
250318 | 0.7989 | * | * | * | * | * | *
250319 | 0.7364 | * | * | * | * | * | *
250320 | 0.7176 | * | * | * | * | * | *
260001 | 1.6784 | 0.8620 | 0.8620 | 25.3084 | 25.9250 | 27.1336 | 26.1147
260002 | *** | * | * | 27.2329 | 26.4879 | * | 26.9807
260003 | *** | * | * | 17.6339 | * | * | 17.6339
260004 | 0.9693 | 0.8206 | 0.8206 | 16.7742 | 16.9421 | 17.2699 | 17.0026
260005 | 1.4686 | 0.9017 | 0.9017 | 24.6142 | 26.5773 | 28.1696 | 26.5242
260006 | 1.4688 | 0.8206 | 0.8206 | 26.4948 | 26.7587 | 30.1186 | 27.9482
260008 | *** | * | * | 17.6040 | 18.9522 | * | 18.2612
260009 | 1.2265 | 0.9501 | 0.9501 | 21.2729 | 22.1816 | 23.6333 | 22.3815
260011 | 1.4257 | 0.8550 | 0.8550 | 21.4409 | 22.7061 | 24.4077 | 22.8791
260012 | 1.1452 | * | * | 19.3389 | 20.3061 | * | 19.8719
260013 | 1.0553 | * | * | 19.2065 | 20.5007 | * | 19.8516
260015 | 1.0248 | 0.8206 | 0.8206 | 22.4450 | 22.5409 | 23.5052 | 22.8435
260017 | 1.3611 | 0.8902 | 0.8902 | 21.1359 | 22.7022 | 23.3807 | 22.4549
260018 | 1.0484 | * | * | 14.8425 | 17.0434 | * | 15.9088
260020 | 1.7691 | 0.9017 | 0.9017 | 25.7898 | 26.0407 | 27.6200 | 26.5265
260021 | 1.3788 | 0.9017 | 0.9017 | 27.8332 | 27.6330 | 29.3311 | 28.2357
260022 | 1.2315 | 0.8696 | 0.8696 | 21.7707 | 22.8085 | 23.1569 | 22.5606
260023 | 1.2983 | 0.9017 | 0.9017 | 21.2519 | 21.2077 | 23.3349 | 21.8971
260024 | 1.1077 | 0.8206 | 0.8206 | 17.5351 | 18.4829 | 18.9172 | 18.3027
260025 | 1.3739 | 0.8902 | 0.8902 | 20.0901 | 22.4645 | 22.2246 | 21.6146
260027 | 1.6704 | 0.9501 | 0.9501 | 24.7605 | 25.3348 | 26.9815 | 25.6688
260029 | 1.1287 | * | * | 22.2892 | * | * | 22.2892
260031 | *** | * | * | 24.2877 | * | * | 24.2877
260032 | 1.8631 | 0.9017 | 0.9017 | 23.1125 | 23.9478 | 25.5746 | 24.2130
260034 | 0.9620 | 0.9501 | 0.9501 | 23.3034 | 24.1143 | 23.7530 | 23.7269
260035 | 0.9284 | * | * | 16.8502 | 17.8741 | * | 17.3672
260036 | 0.9601 | * | * | 20.1324 | 22.1912 | * | 21.0403
260039 | 1.0479 | * | * | * | * | * | *
260040 | 1.6510 | 0.8490 | 0.8490 | 21.9452 | 23.3566 | 24.0972 | 23.1582
260044 | 0.9223 | * | * | 20.0686 | * | * | 20.0686
260047 | 1.5031 | 0.8206 | 0.8206 | 22.6169 | 24.4185 | 25.0084 | 24.0413
260048 | 1.2049 | 0.9501 | 0.9501 | 25.8089 | 24.3906 | 27.9464 | 26.0146
260050 | 1.2142 | 0.9993 | 0.9993 | 20.6364 | 23.6849 | 25.0389 | 23.2365
260052 | 1.3392 | 0.9017 | 0.9017 | 22.5809 | 24.5165 | 26.1098 | 24.4028
260053 | 1.1022 | * | * | 20.0051 | 21.6607 | * | 20.8214
260057 | 1.1001 | 0.9501 | 0.9501 | 16.4875 | 19.3335 | 20.6191 | 18.7408
260059 | 1.2035 | 0.8206 | 0.8206 | 18.6379 | 19.7243 | 23.1217 | 20.5682
260061 | 1.1216 | 0.8206 | 0.8206 | 19.6674 | 21.5264 | 22.7333 | 21.2263
260062 | 1.2337 | 0.9501 | 0.9501 | 26.0439 | 26.4539 | 27.6932 | 26.7397
260063 | *** | * | * | 22.0826 | * | * | 22.0826
260064 | 1.3185 | 0.8550 | 0.8550 | 19.1587 | 19.0543 | 21.6891 | 19.9635
260065 | 1.7537 | 0.8490 | 0.8490 | 23.6969 | 23.0015 | 26.9359 | 24.5533
260067 | 0.8877 | * | * | 16.5364 | 17.6256 | * | 17.0827
260068 | 1.7594 | 0.8550 | 0.8550 | 23.9340 | 24.9504 | 25.8172 | 24.9247
260070 | 0.9582 | 0.8206 | 0.8206 | 14.3881 | 18.4779 | 22.5048 | 18.8578
260073 | 0.9941 | 0.8206 | 0.8206 | 19.2744 | 21.6214 | 21.9134 | 20.9434
260074 | 1.2557 | 0.8550 | 0.8550 | 23.9301 | 24.8654 | 25.3754 | 24.7419
260077 | 1.6328 | 0.9017 | 0.9017 | 23.5466 | 25.5782 | 26.2056 | 25.0998
260078 | 1.3444 | 0.8206 | 0.8206 | 18.4017 | 19.0802 | 20.2858 | 19.2623
260080 | 0.9295 | 0.8206 | 0.8206 | 11.2817 | 14.7774 | 16.6581 | 14.1755
260081 | 1.5369 | 0.9017 | 0.9017 | 23.7447 | 26.3969 | 28.6641 | 26.2683
260085 | 1.6015 | 0.9501 | 0.9501 | 24.6046 | 25.6302 | 26.9696 | 25.7362
260086 | 0.8999 | * | * | 17.1202 | 19.1702 | * | 18.1866
260091 | 1.5426 | 0.9017 | 0.9017 | 26.1149 | 27.2407 | 28.9307 | 27.4593
260094 | 1.5689 | 0.8345 | 0.8345 | 20.6805 | 23.2544 | 24.0891 | 22.7688
260095 | 1.3199 | 0.9501 | 0.9501 | 23.8671 | 25.5668 | 24.5424 | 24.6443
260096 | 1.4703 | 0.9501 | 0.9501 | 25.9932 | 27.5592 | 29.7166 | 27.8481
260097 | 1.1816 | 0.8631 | 0.8631 | 21.5077 | 21.3957 | 24.3155 | 22.4793
260102 | 0.9158 | 0.9501 | 0.9501 | 22.9283 | 24.2368 | 27.3752 | 24.9011
260103 | *** | * | * | 23.3175 | * | * | 23.3175
260104 | 1.4999 | 0.9017 | 0.9017 | 24.0038 | 26.2867 | 28.5834 | 26.3843
260105 | 1.7844 | 0.9017 | 0.9017 | 28.4652 | 28.8849 | 30.1547 | 29.1870
260107 | 1.3536 | 0.9501 | 0.9501 | 24.2001 | 26.7782 | 26.1120 | 25.6719
260108 | 1.8031 | 0.9017 | 0.9017 | 24.0936 | 24.9880 | 26.7305 | 25.3112
260110 | 1.7032 | 0.8902 | 0.8902 | 22.2730 | 23.7978 | 24.6033 | 23.5975
260113 | 1.1184 | 0.8210 | 0.8210 | 19.2467 | 20.9644 | 20.3219 | 20.1880
260115 | 1.1842 | 0.9017 | 0.9017 | 21.7450 | 21.9859 | 23.2089 | 22.3429
260116 | 1.1117 | 0.8210 | 0.8210 | 17.2698 | 18.5076 | 20.2843 | 18.6799
260119 | 1.3503 | 0.8206 | 0.8206 | 22.1588 | 24.9937 | 25.3857 | 24.1933
260122 | 1.0867 | * | * | 17.3270 | 20.8015 | * | 19.0424
260123 | *** | * | * | 16.1169 | * | * | 16.1169
260127 | 0.9496 | * | * | 22.5328 | 21.8534 | * | 22.1664
260134 | *** | * | * | 18.1531 | * | * | 18.1531
260137 | 1.6799 | 0.8620 | 0.8620 | 21.3426 | 22.7431 | 23.9849 | 22.7568
260138 | 1.9860 | 0.9501 | 0.9501 | 27.8229 | 28.5610 | 30.1909 | 28.8843
260141 | 1.8731 | 0.8550 | 0.8550 | 21.1511 | 22.4886 | 24.7555 | 22.6828
260142 | 1.0575 | 0.8206 | 0.8206 | 19.6582 | 20.3993 | 21.1102 | 20.4022
260147 | 0.9163 | 0.8206 | 0.8206 | 17.2291 | 18.5153 | 19.8920 | 18.5887
260159 | *** | * | * | 26.8924 | 23.7427 | 23.3667 | 25.0036
260160 | 1.0950 | 0.8206 | 0.8206 | 19.4997 | 21.0544 | 23.2474 | 21.4698
260162 | 1.3128 | 0.9017 | 0.9017 | 24.1246 | 25.1423 | 27.0428 | 25.5018
260163 | 1.1375 | 0.8206 | 0.8206 | 19.2885 | 20.1949 | 21.2854 | 20.2047
260164 | 1.1012 | * | * | 19.5539 | 19.7068 | * | 19.6321
260166 | 1.2031 | 0.9501 | 0.9501 | 25.5151 | 27.0237 | 29.7395 | 27.4350
260172 | *** | * | * | 18.1438 | * | * | 18.1438
260175 | 1.1223 | 0.9501 | 0.9501 | 21.1257 | 22.6171 | 24.1261 | 22.6182
260176 | 1.7007 | 0.9017 | 0.9017 | 29.2184 | 27.4244 | 28.7405 | 28.4251
260177 | 1.2297 | 0.9501 | 0.9501 | 25.0724 | 26.1178 | 27.2209 | 26.1484
260178 | 1.8231 | 0.8550 | 0.8550 | 21.4781 | 22.2251 | 25.8033 | 23.2762
260179 | 1.5349 | 0.9017 | 0.9017 | 24.8541 | 26.1419 | 26.6483 | 25.8935
260180 | 1.5806 | 0.9017 | 0.9017 | 21.9679 | 26.7461 | 27.6875 | 25.4223
260183 | 1.6192 | 0.8902 | 0.8902 | 23.3924 | 26.0418 | 27.4529 | 25.6739
260186 | 1.6356 | 0.8550 | 0.8550 | 23.4317 | 25.3148 | 26.7114 | 25.2113
260189 | 0.5844 | * | * | * | * | * | *
260190 | 1.2092 | 0.9501 | 0.9501 | 25.1653 | 26.4505 | 28.2087 | 26.6613
260191 | 1.2955 | 0.9017 | 0.9017 | 22.4369 | 23.3856 | 24.3589 | 23.4174
260193 | 1.1924 | 0.9501 | 0.9501 | 24.4705 | 26.2979 | 27.6919 | 26.2018
260195 | 1.2645 | 0.8206 | 0.8206 | 20.1327 | 22.3958 | 22.3215 | 21.7669
260198 | 1.1484 | 0.9017 | 0.9017 | 27.6116 | 27.5996 | 28.1088 | 27.7785
260200 | 1.2426 | 0.9017 | 0.9017 | 25.1134 | 24.8624 | 28.8227 | 26.3660
260207 | 1.0751 | 0.8490 | 0.8490 | 19.2467 | 19.7294 | 20.9045 | 20.0908
260209 | 1.1133 | 0.8341 | 0.8341 | 21.8396 | 23.2430 | 24.8878 | 23.3114
260210 | 1.2183 | 0.9017 | 0.9017 | * | 25.3782 | 26.5193 | 26.0224
260211 | 1.6548 | 0.9501 | 0.9501 | * | 33.9109 | 39.2576 | 36.5853
260213 | 1.7185 | 0.9501 | 0.9501 | * | * | * | *
260214 | 1.1966 | * | * | * | * | * | *
260324 | 0.6926 | * | * | * | * | * | *
260326 | 0.8398 | * | * | * | * | * | *
270002 ² | 1.2593 | 0.8909 | 0.8909 | 20.7620 | 22.7322 | 24.3756 | 22.6537
270003 | 1.2545 | 0.8781 | 0.8781 | 24.2823 | 26.4843 | 28.4192 | 26.4146
270004 | 1.7115 | 0.8740 | 0.8740 | 22.9081 | 23.5454 | 25.1806 | 23.8999
270011 | 0.9968 | 0.8781 | 0.8781 | 22.0710 | 22.1394 | 22.5874 | 22.2704
270012 ² | 1.6196 | 0.8909 | 0.8909 | 23.1697 | 25.2873 | 25.5002 | 24.6491
270014 | 1.9153 | 0.8909 | 0.8909 | 25.0650 | 26.2025 | 26.3179 | 25.8695
270017 | 1.3672 | 0.8909 | 0.8909 | 24.6186 | 27.5483 | 26.7552 | 26.3154
270021 | 1.0409 | * | * | 21.6758 | 21.7056 | * | 21.6913
270023 | 1.5356 | 0.8740 | 0.8909 | 25.5525 | 26.7576 | 26.4505 | 26.2685
270032 | 1.0407 | 0.8740 | 0.8591 | 18.2377 | 19.6212 | 21.0457 | 19.6054
270036 | 0.8297 | * | * | 21.8255 | 20.4242 | * | 20.9986
270049 | 1.7342 | 0.8740 | 0.8740 | 24.6556 | 26.3996 | 26.8611 | 25.9770
270050 | 1.1098 | * | * | 22.4195 | * | * | 22.4195
270051 | 1.5813 | 0.8909 | 0.8909 | 26.4457 | 26.6619 | 25.1706 | 26.0404
270057 | 1.2530 | 0.8740 | 0.8591 | 22.6251 | 24.2980 | 26.5171 | 24.5339
270060 | 0.9595 | * | * | 16.6592 | 17.7564 | * | 17.1813
270074 | 0.9013 | 1.4448 | 1.4448 | * | * | * | *
270079 | *** | * | * | 21.6382 | * | * | 21.6382
270081 | 1.0056 | 0.8591 | 0.8591 | 17.3174 | 17.4862 | 18.9628 | 17.9008
270082 | *** | * | * | 19.6173 | * | * | 19.6173
270084 ² | 1.0889 | * | * | 22.2340 | * | * | 22.2340
270086 | 1.1747 | 0.8781 | 0.8781 | * | * | 23.0672 | 23.0672
270087 | 1.1805 | 0.8591 | 0.8591 | * | * | 22.8163 | 22.8163
280003 | 1.7898 | 1.0084 | 1.0084 | 27.2844 | 29.3921 | 30.8267 | 29.2098
280009 | 1.8271 | 0.9746 | 0.9746 | 25.3162 | 26.7678 | 27.6871 | 26.5956
280010 | *** | * | * | 22.6516 | * | * | 22.6516
280013 | 1.7857 | 0.9453 | 0.9453 | 24.5214 | 26.1908 | 27.2546 | 25.9627
280020 | 1.7128 | 1.0084 | 1.0084 | 25.7522 | 26.5068 | 27.6978 | 26.6945
280021 | 1.1344 | * | * | 22.2864 | 22.0489 | * | 22.1652
280023 | 1.3783 | 0.9746 | 0.9746 | 22.7207 | 22.3230 | 26.7240 | 23.8272
280030 | 1.9075 | 0.9453 | 0.9453 | 32.5601 | 30.7481 | 30.4696 | 31.2643
280032 | 1.3256 | 0.9746 | 0.9746 | 22.6510 | 23.6462 | 25.0787 | 23.7853
280040 | 1.6714 | 0.9453 | 0.9453 | 25.2965 | 26.9827 | 28.4619 | 26.9500
280054 | 1.2075 | * | * | 22.4241 | 23.5665 | * | 23.0039
280057 | 0.8525 | * | * | 23.6793 | 20.4830 | * | 21.8581
280060 | 1.6944 | 0.9453 | 0.9453 | 25.2288 | 26.2139 | 27.8379 | 26.5044
280061 | 1.4064 | 0.9154 | 0.9154 | 23.9110 | 24.9482 | 25.9246 | 24.9668
280065 | 1.2249 | 0.9636 | 0.9636 | 27.9937 | 26.0135 | 28.3954 | 27.4121
280077 | 1.3131 | 0.9453 | 0.9453 | 24.0516 | 25.5624 | 27.0934 | 25.5691
280081 | 1.5886 | 0.9453 | 0.9453 | 25.1973 | 26.0541 | 28.7505 | 26.6763
280105 | 1.2640 | 0.9453 | 0.9453 | 25.0445 | 26.7555 | 28.0693 | 26.7054
280108 | 1.0675 | * | * | 22.5584 | 23.2502 | * | 22.8979
280111 | 1.1778 | 0.8691 | 0.8691 | 22.1424 | 23.4770 | 24.5663 | 23.4937
280117 | 1.1313 | * | * | 22.0611 | 24.1521 | * | 23.1088
280119 | 0.8523 | 1.4448 | 1.4448 | * | * | * | *
280123 | 0.9112 | 0.8828 | 0.8828 | 27.5207 | * | 12.1758 | 18.1112
280125 | 1.4971 | 0.8816 | 0.8816 | 21.8385 | 21.7658 | 22.3025 | 21.9721
280127 | 1.8457 | 1.0084 | 1.0084 | * | * | 31.8278 | 31.8278
280128 | 3.0322 | 1.0084 | 1.0084 | * | * | 28.9234 | 28.9234
280129 | 1.9223 | 0.9453 | 0.9453 | * | * | * | *
280130 | 1.3422 | 0.9453 | 0.9453 | * | * | * | *
290001 | 1.8273 | 1.1975 | 1.1975 | 27.3105 | 31.1981 | 35.3981 | 31.2171
290002 | 0.9183 | 0.9569 | 0.9569 | 16.8433 | 18.3469 | 17.0514 | 17.4394
290003 | 1.7512 | 1.1417 | 1.1417 | 27.1099 | 28.1625 | 30.4639 | 28.5720
290005 | 1.4855 | 1.1417 | 1.1417 | 27.1531 | 27.6697 | 28.5735 | 27.8244
290006 | 1.2047 | 1.1524 | 1.1524 | 26.3617 | 27.9502 | 30.0265 | 28.0763
290007 | 1.6530 | 1.1417 | 1.1417 | 35.4193 | 37.5559 | 38.9568 | 37.2981
290008 | 1.1651 | 0.9421 | 0.9421 | 26.4086 | 27.9714 | 28.3311 | 27.5573
290009 | 1.7714 | 1.1975 | 1.1975 | 27.6011 | 29.8019 | 36.2577 | 31.1439
290010 | 1.0541 | * | * | 23.8733 | 23.9654 | * | 23.9192
290012 | 1.3212 | 1.1417 | 1.1417 | 27.2675 | 31.0843 | 33.4690 | 30.7038
290016 | 1.2257 | * | * | 25.1726 | 26.1925 | * | 25.6684
290019 | 1.3891 | 1.1524 | 1.1524 | 27.2484 | 28.6158 | 29.6855 | 28.5533
290020 ʰ | 1.0427 | 1.1417 | 1.1417 | 21.3094 | 21.6993 | 20.9481 | 21.3644
290021 | 1.7971 | 1.1417 | 1.1417 | 28.3837 | 33.2116 | 33.9446 | 31.8430
290022 | 1.5768 | 1.1417 | 1.1417 | 29.8144 | 29.4422 | 30.4581 | 29.9084
290027 | 0.9025 | 0.8967 | 0.8967 | 17.8850 | 15.1448 | 21.6128 | 18.3839
290032 | 1.4163 | 1.1975 | 1.1975 | 29.4164 | 31.7105 | 32.0495 | 31.1084
290039 | 1.5419 | 1.1417 | 1.1417 | 29.6801 | 31.2941 | 33.6718 | 31.6289
290041 | 1.3158 | 1.1417 | 1.1417 | 30.1346 | 33.9878 | 35.5146 | 33.3938
290042 | 0.4555 | 1.1417 | 1.1417 | * | * | * | *
290044 | *** | * | * | * | * | 38.1320 | 38.1320
290045 | 1.5773 | 1.1417 | 1.1417 | 26.9319 | 30.9612 | 34.4022 | 31.2459
290046 | 1.2702 | 1.1417 | 1.1417 | * | * | * | *
290047 | 1.4129 | 1.1417 | 1.1417 | * | * | * | *
290049 | 1.3499 | 1.0054 | 1.0054 | * | * | * | *
290050 | 1.1705 | * | * | * | * | * | *
290051 | 1.5597 | * | * | * | * | * | *
300001 | 1.5726 | 1.1665 | 1.1665 | 29.4130 | 27.5032 | 28.8432 | 28.5481
300003 | 2.0572 | 1.1665 | 1.1665 | 27.8059 | 33.3560 | 34.5310 | 31.9387
300005 | 1.3969 | 1.1665 | 1.1665 | 25.1869 | 25.6699 | 26.7123 | 25.8743
300006 | 1.2070 | * | * | 20.6787 | 23.3200 | * | 21.9235
300007 | 1.2792 | * | * | 25.3125 | * | * | 25.3125
300010 | 1.1835 | * | * | 26.9346 | 27.5028 | * | 27.2341
300011 | 1.2737 | 1.1665 | 1.1665 | 27.3325 | 28.4044 | 31.6428 | 29.1783
300012 | 1.3755 | 1.1665 | 1.1665 | 28.4234 | 30.5198 | 30.3374 | 29.7075
300013 | *** | * | * | 23.1529 | * | * | 23.1529
300014 | 1.1978 | 1.1665 | 1.1665 | 25.5059 | 27.5151 | 29.2605 | 27.5032
300015 | 1.0767 | * | * | 24.0620 | * | * | 24.0620
300016 | *** | * | * | 24.5498 | * | * | 24.5498
300017 | 1.2321 | 1.1665 | 1.1665 | 28.3959 | 29.6957 | 30.3051 | 29.4733
300018 | 1.3845 | 1.1665 | 1.1665 | 28.0308 | 29.7209 | 29.6873 | 29.1985
300019 | 1.2862 | 1.1665 | 1.1665 | 25.3845 | 25.9656 | 27.2631 | 26.2544
300020 | 1.2090 | 1.1665 | 1.1665 | 26.8402 | 28.6723 | 30.5485 | 28.7305
300022 | 1.0801 | * | * | 23.5948 | * | * | 23.5948
300023 | 1.3630 | 1.1665 | 1.1665 | 25.4873 | 28.6309 | 30.9871 | 28.5288
300024 | 1.6816 | * | * | 23.9205 | * | * | 23.9205
300029 | 1.7658 | 1.1665 | 1.1665 | 26.9484 | 29.0806 | 29.9138 | 28.7021
300034 | 2.0425 | 1.1665 | 1.1665 | 28.5375 | 29.7484 | 31.5753 | 29.9856
300308 | 0.6393 | * | * | * | * | * | *
300309 | 0.7909 | * | * | * | * | * | *
300310 | 0.6299 | * | * | * | * | * | *
310001 | 1.7499 | 1.3215 | 1.3215 | 33.9360 | 35.3612 | 41.8952 | 37.1034
310002 | 1.8830 | 1.3038 | 1.3008 | 35.4567 | 37.3461 | 38.9875 | 37.2295
310003 | 1.2035 | 1.3215 | 1.3215 | 31.1040 | 32.8935 | 35.3962 | 33.1810
310005 | 1.3045 | 1.1886 | 1.1886 | 27.5690 | 29.0084 | 31.6992 | 29.4759
310006 | 1.1997 | 1.3215 | 1.3215 | 27.0436 | 27.4545 | 28.9780 | 27.8274
310008 | 1.3218 | 1.3215 | 1.3215 | 29.5857 | 31.2579 | 32.2471 | 31.0509
310009 | 1.2680 | 1.3038 | 1.3008 | 29.7760 | 32.7384 | 33.9105 | 32.0940
310010 | 1.2806 | 1.1318 | 1.1318 | 25.3139 | 28.5852 | 33.1613 | 29.0668
310011 | 1.2514 | 1.1341 | 1.1341 | 28.5241 | 30.8612 | 31.0823 | 30.1687
310012 | 1.6373 | 1.3215 | 1.3215 | 33.1622 | 34.6882 | 38.1712 | 35.4125
310013 | 1.2295 | 1.3038 | 1.3008 | 28.5016 | 30.6248 | 31.4496 | 30.2036
310014 | 1.9216 | 1.1226 | 1.1226 | 32.7222 | 29.7204 | 30.9277 | 30.9970
310015 | 1.9678 | 1.3038 | 1.3008 | 32.4980 | 36.4776 | 37.1869 | 35.4178
310016 | 1.3082 | 1.3215 | 1.3215 | 28.9788 | 33.9862 | 34.3751 | 32.6794
310017 | 1.3290 | 1.3038 | 1.3008 | 28.0930 | 30.9233 | 32.0816 | 30.4154
310018 | 1.1885 | 1.3038 | 1.3008 | 26.9399 | 30.3381 | 31.1747 | 29.5340
310019 | 1.6374 | 1.3215 | 1.3215 | 31.0524 | 29.6592 | 30.9463 | 30.5778
310020 | 1.5424 | 1.3215 | 1.3215 | 29.3392 | 30.6722 | 32.7089 | 30.8843
310021 | 1.6517 | 1.1886 | 1.1886 | 29.6308 | 31.3410 | 33.1764 | 31.3692
310022 | 1.2444 | 1.1226 | 1.1226 | 26.1914 | 28.2024 | 28.9633 | 27.8379
310024 | 1.3630 | 1.1886 | 1.1886 | 27.5278 | 30.9171 | 33.3774 | 30.6108
310025 | 1.3032 | 1.3215 | 1.3215 | 27.7960 | 31.1274 | 34.3920 | 31.3534
310026 | 1.1807 | 1.3215 | 1.3215 | 25.3970 | 27.5171 | 29.3348 | 27.4955
310027 | 1.3584 | 1.1886 | 1.1886 | 27.0982 | 28.8314 | 29.1626 | 28.5991
310028 | 1.2686 | 1.3038 | 1.1886 | 29.1101 | 31.3849 | 31.8631 | 30.8364
310029 | 1.9437 | 1.1226 | 1.1226 | 29.1439 | 30.7707 | 33.7099 | 31.2185
310031 | 3.0821 | 1.1242 | 1.1242 | 30.2345 | 33.9685 | 35.3478 | 33.2165
310032 | 1.3129 | 1.1226 | 1.1226 | 27.8754 | 27.5232 | 29.1612 | 28.2024
310034 | 1.3412 | 1.1242 | 1.1242 | 27.8517 | 29.9162 | 31.8300 | 29.8876
310037 | 1.3580 | 1.3215 | 1.3215 | 32.1471 | 35.0329 | 38.0377 | 35.1550
310038 | 2.0170 | 1.3038 | 1.3008 | 32.1977 | 33.4822 | 35.8746 | 33.9362
310039 | 1.2537 | 1.3038 | 1.3008 | 27.1054 | 28.8292 | 31.8657 | 29.2627
310040 | 1.3533 | 1.3215 | 1.3215 | 28.0068 | 34.1113 | 34.5838 | 32.1930
310041 | 1.2800 | 1.1242 | 1.1242 | 29.7335 | 32.8085 | 33.3980 | 31.9565
310042 | *** | * | * | 29.0207 | 30.7358 | 34.0717 | 31.1859
310044 | 1.3686 | 1.1318 | 1.1318 | 27.7752 | 31.3206 | 31.9267 | 30.3672
310045 | 1.7345 | 1.3215 | 1.3215 | 32.6359 | 34.1060 | 37.3128 | 34.7199
310047 | 1.2988 | 1.1736 | 1.1736 | 28.3415 | 32.7880 | 35.2527 | 32.2796
310048 | 1.3238 | 1.1886 | 1.1886 | 28.4715 | 30.2025 | 32.4064 | 30.4056
310049 | *** | * | * | 32.7666 | 27.8564 | * | 30.6033
310050 | 1.2381 | 1.3038 | 1.3008 | 27.2276 | 27.3033 | 29.5929 | 28.0821
310051 | 1.3966 | 1.3038 | 1.1886 | 32.0113 | 33.7168 | 36.1453 | 33.9634
310052 | 1.3415 | 1.1242 | 1.1242 | 28.1498 | 30.8036 | 32.8650 | 30.5913
310054 | 1.2940 | 1.3038 | 1.3008 | 30.6905 | 34.1860 | 35.7990 | 33.5435
310057 | 1.3251 | 1.1226 | 1.1226 | 26.4606 | 29.5221 | 28.6219 | 28.2552
310058 | 1.0596 | 1.3215 | 1.3215 | 26.4816 | 28.0815 | 27.3745 | 27.2978
310060 | 1.2437 | 1.3038 | 1.1226 | 23.2146 | 25.1575 | 27.6986 | 25.4776
310061 | 1.2606 | 1.1226 | 1.1226 | 27.5400 | 28.2129 | 31.7646 | 29.1214
310063 | 1.3618 | 1.1886 | 1.1886 | 28.3457 | 31.4884 | 32.1212 | 30.6378
310064 | 1.5601 | 1.1736 | 1.1736 | 29.5979 | 33.4440 | 35.3987 | 32.8719
310067 | *** | * | * | 26.8068 | * | * | 26.8068
310069 | 1.2815 | 1.1226 | 1.1226 | 27.9656 | 28.1681 | 29.9598 | 28.7705
310070 | 1.4011 | 1.3038 | 1.3008 | 32.1806 | 33.2310 | 33.7936 | 33.1015
310072 | *** | * | * | 26.3520 | * | * | 26.3520
310073 | 1.8401 | 1.1242 | 1.1242 | 29.6611 | 32.0329 | 33.2615 | 31.6839
310074 | 1.2542 | 1.3215 | 1.3215 | 28.4361 | 29.4834 | 35.6666 | 31.1493
310075 | 1.3069 | 1.1242 | 1.1242 | 26.2479 | 31.6870 | 31.9433 | 29.9126
310076 | 1.6706 | 1.3038 | 1.3008 | 34.9428 | 36.4280 | 38.0720 | 36.4875
310077 | *** | * | * | 30.7465 | 32.6644 | 34.0345 | 32.4516
310078 | *** | * | * | 26.9589 | 29.8014 | 30.7927 | 29.2238
310081 | 1.2351 | 1.1226 | 1.1226 | 26.4259 | 26.6136 | 29.8217 | 27.6431
310083 | 1.2916 | 1.3038 | 1.3008 | 24.6563 | 28.2392 | 30.0128 | 27.5631
310084 | 1.2146 | 1.1242 | 1.1242 | 29.9437 | 32.9001 | 34.3249 | 32.2493
310086 | 1.2372 | 1.1226 | 1.1226 | 27.3601 | 29.3058 | 30.7666 | 29.1619
310088 | 1.1889 | 1.1736 | 1.1736 | 25.5274 | 26.4966 | 29.0942 | 27.0316
310090 | 1.2738 | 1.1886 | 1.1886 | 27.1661 | 30.8941 | 33.3364 | 30.3968
310091 | 1.1950 | 1.1226 | 1.1226 | 27.1115 | 27.7204 | 28.8503 | 27.8956
310092 | 1.4321 | 1.1318 | 1.1318 | 25.7071 | 29.4999 | 29.3843 | 28.2367
310093 | 1.1892 | 1.3038 | 1.3008 | 25.8727 | 28.0401 | 29.9026 | 28.0649
310096 | 2.0353 | 1.3038 | 1.3008 | 30.3675 | 34.4275 | 36.4988 | 33.8387
310105 | 1.2260 | 1.3215 | 1.3215 | 30.9968 | 31.9769 | 29.9797 | 30.9490
310108 | 1.3646 | 1.3038 | 1.3008 | 29.1548 | 30.1002 | 33.0791 | 30.7872
310110 | 1.2908 | 1.1318 | 1.1318 | 27.8707 | 31.2164 | 33.2096 | 31.0583
310111 | 1.2002 | 1.1242 | 1.1242 | 28.8692 | 30.7475 | 31.9533 | 30.6096
310112 | 1.2755 | 1.1242 | 1.1242 | 28.9928 | 30.4192 | 30.9671 | 30.1683
310113 | 1.2386 | 1.1242 | 1.1242 | 27.5203 | 29.6079 | 31.9823 | 29.7520
310115 | 1.2894 | 1.3038 | 1.1226 | 26.2803 | 29.6020 | 30.6848 | 28.9374
310116 | 1.2313 | 1.3215 | 1.3215 | 26.6287 | 25.6976 | 29.5404 | 27.2633
310118 | 1.3298 | 1.3215 | 1.3215 | 28.1238 | 28.8797 | 31.9920 | 29.6477
310119 | 1.8293 | 1.3038 | 1.3008 | 35.6786 | 37.7876 | 42.6911 | 38.8840
310120 | 1.0683 | 1.3038 | 1.1886 | 27.2010 | 31.4110 | 29.5849 | 29.3345
310122 | 1.8284 | 1.1242 | 1.1242 | * | * | * | *
310123 | 2.4750 | 1.2237 | 1.2237 | * | * | * | *
310124 | 1.7405 | 1.1592 | 1.1592 | * | * | * | *
310125 | 3.0573 | 1.1886 | 1.1886 | * | * | * | *
320001 | 1.5398 | 0.9477 | 0.9477 | 26.1962 | 26.9434 | 28.3114 | 27.2210
320002 | 1.4251 | 1.0821 | 1.0821 | 28.6963 | 30.5158 | 32.0322 | 30.4616
320003 | 1.1829 | 0.8982 | 0.8982 | 22.3911 | 28.1402 | 27.4758 | 25.7749
320004 | 1.3224 | 0.8353 | 0.8353 | 24.0362 | 24.9481 | 24.7427 | 24.6089
320005 | 1.3413 | 0.9477 | 0.9477 | 21.2164 | 23.8264 | 25.4686 | 23.5378
320006 | 1.3228 | 0.9814 | 0.9814 | 22.5615 | 24.2812 | 26.6616 | 24.5380
320009 | 1.5558 | 0.9477 | 0.9477 | 24.4237 | 22.8293 | 31.2529 | 25.5999
320011 | 1.1211 | 0.8795 | 0.8795 | 23.1539 | 24.2279 | 25.6322 | 24.4026
320013 | 1.1009 | 0.9814 | 0.9814 | 27.8671 | 28.9276 | 22.6383 | 25.9594
320014 | 1.1072 | 0.9270 | 0.9270 | 26.7112 | 24.5310 | 26.0108 | 25.6452
320016 | 1.1409 | 0.8353 | 0.8353 | 21.7001 | 23.5040 | 24.8595 | 23.3847
320017 | 1.1564 | 0.9477 | 0.9477 | 23.6861 | 25.0286 | 31.3764 | 26.3396
320018 | 1.4337 | 0.9333 | 0.9333 | 23.0915 | 23.2360 | 26.8414 | 24.1413
320019 | 1.6146 | 0.9477 | 0.9477 | 31.2250 | 31.5192 | 29.5311 | 30.6451
320021 | 1.6483 | 0.9477 | 0.9477 | 28.5620 | 27.2357 | 26.6064 | 27.3101
320022 | 1.1318 | 0.8353 | 0.8353 | 22.1492 | 23.7160 | 24.3131 | 23.3995
320030 | 1.0412 | 0.8353 | 0.8353 | 18.0990 | 22.1971 | 20.9229 | 20.3256
320033 | 1.2017 | 0.9814 | 0.9814 | 24.1185 | 27.6393 | 32.4689 | 27.9429
320037 | 1.1385 | 0.9477 | 0.9477 | 21.6080 | 23.3999 | 25.1973 | 23.4459
320038 | 1.2203 | 0.8353 | 0.8353 | 21.2181 | 20.1533 | 21.5104 | 20.9623
320046 | 1.1831 | * | * | 22.9114 | 24.3534 | * | 23.6315
320057 | 0.8052 | 1.4448 | 1.4448 | * | * | * | *
320058 | 0.8101 | 1.4448 | 1.4448 | * | * | * | *
320059 | 0.8615 | 1.4448 | 1.4448 | * | * | * | *
320060 | 0.9188 | 1.4448 | 1.4448 | * | * | * | *
320061 | 0.8690 | 1.4448 | 1.4448 | * | * | * | *
320062 | 0.8781 | 1.4448 | 1.4448 | * | * | * | *
320063 | 1.2764 | 0.9737 | 0.9737 | 24.9141 | 24.4696 | 25.1341 | 24.8572
320065 | 1.1554 | 0.9737 | 0.9737 | 21.6189 | 26.6603 | 26.9856 | 25.3295
320067 | 0.8883 | 0.8353 | 0.8353 | 20.4431 | 23.7745 | 23.0640 | 22.5148
320069 | 1.1144 | 0.8353 | 0.8353 | 19.7296 | 20.9167 | 22.2717 | 20.9948
320070 | 0.9190 | 1.4448 | 1.4448 | * | * | * | *
320074 | 1.1380 | 0.9477 | 0.9477 | 35.5980 | 22.2175 | 31.3214 | 29.3022
320079 | 1.0890 | 0.9477 | 0.9477 | 23.8092 | 25.2105 | 25.7148 | 24.9372
320083 | 2.5979 | 0.9477 | 0.9477 | * | 28.2114 | 24.0257 | 25.7289
320084 | 0.9804 | 0.8353 | 0.8353 | * | 17.2511 | 17.5258 | 17.4008
320085 | 1.6874 | 0.9333 | 0.9333 | * | 24.8752 | 28.5627 | 26.8570
330001 | *** | * | * | 31.3735 | 33.4718 | * | 32.4179
330002 | 1.5005 | 1.3215 | 1.3215 | 29.3459 | 31.1924 | 30.4429 | 30.3409
330003 | 1.3482 | 0.8753 | 0.8753 | 21.6506 | 22.9945 | 23.8448 | 22.8408
330004 | 1.2620 | 1.0583 | 1.0583 | 23.9959 | 26.0445 | 27.5850 | 25.9379
330005 | 1.5873 | 0.9475 | 0.9475 | 25.9287 | 29.0124 | 30.5004 | 28.4063
330006 | 1.2604 | 1.3215 | 1.3215 | 29.7509 | 31.5370 | 32.4887 | 31.2785
330008 | 1.1431 | 0.9475 | 0.9475 | 21.3269 | 21.8198 | 23.2197 | 22.1194
330009 | 1.2062 | 1.3215 | 1.3215 | 35.8367 | 35.4986 | 35.4703 | 35.5997
330010 | *** | * | * | 17.9178 | 19.6920 | 20.6440 | 19.2176
330011 | 1.3098 | 0.8816 | 0.8816 | 20.3641 | 21.8008 | 24.9644 | 22.3720
330013 | 1.9972 | 0.8753 | 0.8753 | 23.9070 | 24.5162 | 26.1086 | 24.8688
330014 | 1.3121 | 1.3215 | 1.3215 | 35.4053 | 38.8123 | 41.9904 | 38.6661
330016 | 0.9857 | 0.8267 | 0.8267 | 18.9388 | 28.4392 | 21.7319 | 22.2994
330019 | 1.2870 | 1.3215 | 1.3215 | 32.3413 | 34.8266 | 36.2560 | 34.4888
330023 ² | 1.5742 | 1.3038 | 1.3215 | 29.2669 | 31.6208 | 35.2521 | 32.2225
330024 | 1.8005 | 1.3215 | 1.3215 | 36.5648 | 37.8398 | 42.0169 | 38.6703
330025 | 1.0804 | 0.9475 | 0.9475 | 19.7561 | 20.2775 | 21.2619 | 20.4337
330027 | 1.4373 | 1.3038 | 1.3008 | 35.1325 | 39.0717 | 41.6731 | 38.5866
330028 | 1.4210 | 1.3215 | 1.3215 | 33.5312 | 34.2709 | 36.1977 | 34.6170
330029 | 0.4427 | 0.9475 | 0.9475 | 18.6623 | 19.1589 | 22.2943 | 19.8291
330030 | 1.2380 | 0.9007 | 0.9007 | 22.4368 | 22.9937 | 24.1393 | 23.1393
330033 | 1.1423 | 0.8267 | 0.8267 | 21.3762 | 22.5681 | 24.4951 | 22.7923
330036 | 1.1271 | 1.3215 | 1.3215 | 27.6813 | 28.9409 | 28.6763 | 28.4126
330037 | 1.1107 | 0.9007 | 0.9007 | 19.6385 | 20.6904 | 22.5429 | 20.9676
330041 | 1.2505 | 1.3215 | 1.3215 | 36.2481 | 36.0286 | 36.9040 | 36.3905
330043 | 1.3834 | 1.2701 | 1.2701 | 34.1039 | 34.7480 | 38.4138 | 35.7957
330044 | 1.2969 | 0.8422 | 0.8422 | 23.1450 | 24.1907 | 25.2654 | 24.2192
330045 | 1.3331 | 1.2701 | 1.2701 | 34.4956 | 36.1893 | 38.2951 | 36.3647
330046 | 1.4281 | 1.3215 | 1.3215 | 42.0900 | 44.8494 | 49.9508 | 45.5451
330047 ʰ | 1.2132 | 0.8753 | 0.8753 | 21.1244 | 24.0678 | 24.2099 | 23.2219
330049 | 1.4505 | 1.3038 | 1.0913 | 25.7022 | 29.2904 | 29.7258 | 28.2859
330053 | 1.0625 | 0.9007 | 0.9007 | 19.6807 | 18.5290 | 20.0581 | 19.4166
330055 | 1.5596 | 1.3215 | 1.3215 | 35.1393 | 38.4839 | 41.2383 | 38.3132
330056 | 1.4423 | 1.3215 | 1.3215 | 32.9295 | 37.8444 | 35.4120 | 35.3946
330057 | 1.7075 | 0.8753 | 0.8753 | 22.6519 | 24.4680 | 26.1030 | 24.4281
330058 | 1.3449 | 0.9007 | 0.9007 | 19.5520 | 21.3727 | 22.2270 | 21.0700
330059 | 1.5303 | 1.3215 | 1.3215 | 38.1019 | 39.7386 | 41.0950 | 39.6782
330061 | 1.2227 | 1.3215 | 1.3215 | 32.7427 | 33.2848 | 35.0321 | 33.7280
330062 | 1.0487 | * | * | 21.4270 | 21.0464 | * | 21.2306
330064 | 1.2592 | 1.3215 | 1.3215 | 38.5719 | 36.4276 | 37.5279 | 37.4900
330065 | 1.0539 | 0.9475 | 0.9475 | 21.9192 | 23.9128 | 24.8627 | 23.5400
330066 | 1.3403 | 0.8753 | 0.8753 | 23.0916 | 24.7941 | 28.5116 | 25.5240
330067 ² | 1.4381 | 1.3038 | 1.3215 | 34.8416 | 26.4243 | 27.2479 | 28.9882
330072 | 1.3269 | 1.3215 | 1.3215 | 32.7905 | 36.4336 | 37.1569 | 35.4529
330073 | 1.1317 | 0.9007 | 0.9007 | 19.0781 | 20.1490 | 22.3706 | 20.5067
330074 | 1.2195 | 0.9007 | 0.9007 | 20.2874 | 21.4274 | 22.6971 | 21.4576
330075 | 1.1127 | 0.9723 | 0.9723 | 22.0240 | 22.4188 | 23.0741 | 22.5194
330078 | 1.4671 | 0.9475 | 0.9475 | 22.7762 | 23.3981 | 25.5249 | 23.9158
330079 | 1.2417 | 0.9974 | 0.9974 | 22.1064 | 22.5237 | 24.6828 | 23.1380
330080 | 1.1802 | 1.3215 | 1.3215 | 36.1171 | 39.1724 | 39.0128 | 38.1206
330084 | 1.0859 | 0.8267 | 0.8267 | 22.6365 | 21.5455 | 21.8844 | 22.0141
330085 | 1.1463 | 0.9428 | 0.9428 | 23.2927 | 23.9568 | 24.6752 | 23.9772
330086 | 1.3556 | 1.3215 | 1.3215 | 28.8424 | 29.1784 | 32.4300 | 30.1863
330088 | 1.0121 | 1.2701 | 1.2701 | 31.2631 | 31.3973 | 33.6229 | 32.0964
330090 | 1.4380 | 0.8267 | 0.8267 | 22.7721 | 23.6174 | 25.2379 | 23.8595
330091 | 1.3451 | 0.9475 | 0.9475 | 22.5796 | 23.8063 | 25.1750 | 23.8763
330094 | 1.2611 | 0.9058 | 0.9058 | 22.1495 | 23.0001 | 24.7488 | 23.2787
330095 | *** | * | * | 28.9914 | 31.9872 | 46.3616 | 32.4322
330096 | 1.2346 | 0.8267 | 0.8267 | 22.4895 | 22.0337 | 22.9866 | 22.5018
330097 | 1.1683 | * | * | 19.2233 | 20.3189 | * | 19.7495
330100 | 0.9820 | 1.3215 | 1.3215 | 32.8406 | 34.4621 | 37.3387 | 34.9547
330101 | 1.9087 | 1.3215 | 1.3215 | 39.2601 | 38.7503 | 40.4612 | 39.5161
330102 | 1.3915 | 0.9475 | 0.9475 | 23.6141 | 24.8184 | 25.2287 | 24.5563
330103 | 1.0850 | 0.8330 | 0.8330 | 18.8763 | 21.1452 | 22.5242 | 20.8126
330104 | 1.3440 | 1.3215 | 1.3215 | 33.7556 | 32.8818 | 33.1903 | 33.2697
330106 | 1.7400 | 1.4485 | 1.3008 | 39.8554 | 41.4561 | 42.8789 | 41.4391
330107 | 1.2734 | 1.2701 | 1.2701 | 31.8528 | 31.3888 | 34.1234 | 32.4908
330108 | 1.1383 | 0.8267 | 0.8267 | 21.4680 | 22.2607 | 22.7058 | 22.1280
330111 | 1.0558 | 0.9475 | 0.9475 | 17.6185 | 20.9387 | 19.9803 | 19.4680
330115 | 1.1814 | 0.9723 | 0.9723 | 20.5101 | 23.3043 | 25.2327 | 23.0156
330119 | 1.7645 | 1.3215 | 1.3215 | 36.5873 | 39.1114 | 38.4828 | 38.0489
330121 | 0.9476 | * | * | 19.7388 | * | * | 19.7388
330122 | *** | * | * | 26.3849 | * | * | 26.3849
330125 | 1.7528 | 0.9007 | 0.9007 | 24.6945 | 26.7118 | 26.7047 | 26.0770
330126 | 1.2994 | 1.3038 | 1.1473 | 28.8299 | 31.6370 | 35.1728 | 33.1208
330127 | 1.3343 | 1.3215 | 1.3215 | 43.7479 | 44.6103 | 44.4572 | 44.2717
330128 | 1.2870 | 1.3215 | 1.3215 | 34.5289 | 37.7166 | 39.5738 | 37.2581
330132 | 1.0988 | 0.8267 | 0.8267 | 16.3088 | 17.4946 | 20.2593 | 18.3351
330133 | 1.3735 | 1.3215 | 1.3215 | 44.0704 | 36.6962 | 40.0269 | 40.0358
330135 | 1.1836 | 1.3038 | 1.1473 | 26.9969 | 29.0837 | 28.2828 | 28.1734
330136 | 1.4932 | 0.9428 | 0.9428 | 22.5447 | 24.2010 | 25.7642 | 24.2296
330140 | 1.7494 | 0.9723 | 0.9723 | 23.5774 | 25.7573 | 27.0648 | 25.4535
330141 | 1.3524 | 1.2701 | 1.2701 | 30.6616 | 34.8902 | 37.7577 | 34.5697
330144 | 1.0534 | 0.8267 | 0.8267 | 20.1805 | 20.9935 | 22.9269 | 21.3429
330148 | 1.0140 | * | * | 18.5443 | * | * | 18.5443
330151 | 1.1572 | 0.8267 | 0.8267 | 17.6782 | 19.1841 | 21.5978 | 19.3648
330152 | 1.2920 | 1.3215 | 1.3215 | 32.0616 | 36.5136 | 36.5762 | 35.0673
330153 | 1.7108 | 0.8753 | 0.8753 | 21.9935 | 24.5219 | 26.2638 | 24.3225
330157 | 1.3554 | 0.9428 | 0.9428 | 23.6939 | 25.2312 | 26.7341 | 25.2451
330158 | 1.5438 | 1.3215 | 1.3215 | 33.0067 | 32.2990 | 37.6639 | 34.3802
330159 | 1.4177 | 0.9723 | 0.9723 | 24.1916 | 28.9094 | 28.5063 | 27.1433
330160 | 1.5992 | 1.3215 | 1.3215 | 34.0373 | 34.1960 | 35.8958 | 34.7339
330162 | 1.3033 | 1.3215 | 1.3215 | 31.3812 | 32.1783 | 34.4443 | 32.6472
330163 | 1.1712 | 0.9475 | 0.9475 | 22.4644 | 24.0200 | 27.0659 | 24.5702
330164 | 1.4565 | 0.9007 | 0.9007 | 24.4306 | 28.8481 | 27.2894 | 26.8505
330166 ʰ | 1.0648 | 0.8267 | 0.8267 | 18.8777 | 19.4360 | 20.4318 | 19.5757
330167 | 1.7599 | 1.2838 | 1.3008 | 33.7365 | 34.4748 | 36.1041 | 34.7272
330169 | 1.4208 | 1.3215 | 1.3215 | 38.3498 | 39.3361 | 44.3462 | 40.5303
330171 | 1.1942 | 1.3215 | 1.3215 | 27.7810 | 30.0122 | 30.0593 | 29.2106
330175 | 1.1464 | 0.8267 | 0.8267 | 21.1944 | 22.2067 | 23.7714 | 22.4153
330177 | 1.0045 | 0.8267 | 0.8267 | 20.1850 | 19.6100 | 19.9735 | 19.9338
330180 | 1.2313 | 0.8753 | 0.8753 | 21.9641 | 22.1920 | 23.7235 | 22.6242
330181 | 1.3007 | 1.2838 | 1.3008 | 35.9334 | 38.5351 | 40.9623 | 38.5235
330182 | 2.3224 | 1.3038 | 1.3008 | 36.3831 | 39.6038 | 40.0238 | 38.7114
330184 | 1.4427 | 1.3215 | 1.3215 | 33.2843 | 34.4044 | 35.1901 | 34.3420
330185 | 1.2291 | 1.2701 | 1.2701 | 31.0179 | 32.3466 | 34.2430 | 32.5908
330188 | 1.2590 | 0.9475 | 0.9475 | 22.6803 | 23.9210 | 25.5586 | 24.0883
330189 | 1.0679 | 0.8753 | 0.8753 | 19.2538 | 21.6229 | 22.9867 | 21.2142
330191 | 1.2924 | 0.8753 | 0.8753 | 22.3719 | 24.0232 | 24.7436 | 23.7211
330193 | 1.2808 | 1.3215 | 1.3215 | 36.9866 | 37.1807 | 38.7230 | 37.6472
330194 | 1.8228 | 1.3215 | 1.3215 | 39.9177 | 43.9910 | 44.2515 | 42.7636
330195 | 1.7332 | 1.3215 | 1.3215 | 38.6867 | 40.0206 | 39.5538 | 39.5038
330196 | 1.3705 | 1.3215 | 1.3215 | 32.5883 | 33.2171 | 35.7930 | 33.8609
330197 | 1.0633 | 0.8267 | 0.8267 | 22.3117 | 23.4291 | 26.7687 | 24.1549
330198 | 1.3856 | 1.2838 | 1.3008 | 29.5359 | 30.5485 | 32.7085 | 30.9857
330199 | 1.1511 | 1.3215 | 1.3215 | 32.7870 | 35.0059 | 38.2030 | 35.2594
330201 | 1.6395 | 1.3215 | 1.3215 | 33.3215 | 39.3682 | 37.4511 | 36.6531
330202 | 1.2806 | 1.3215 | 1.3215 | 34.3545 | 38.0129 | 36.6670 | 36.3901
330203 | 1.4512 | 0.9723 | 0.9723 | 26.2459 | 26.5882 | 31.9331 | 28.1724
330204 | 1.3265 | 1.3215 | 1.3215 | 30.3273 | 37.6849 | 38.9990 | 35.5345
330205 | 1.2915 | 1.3038 | 1.1473 | 30.0101 | 32.1617 | 32.4144 | 31.6042
330208 | 1.1799 | 1.3215 | 1.3215 | 28.2667 | 29.6282 | 31.4344 | 29.9593
330209 | *** | * | * | 28.7213 | 29.7988 | 30.1376 | 29.5534
330211 | 1.1264 | 0.8267 | 0.8267 | 21.1094 | 22.9966 | 24.3905 | 22.8006
330212 | *** | * | * | 27.0585 | 27.2232 | * | 27.1435
330213 | 1.0844 | 0.8267 | 0.8267 | 21.7208 | 22.5191 | 24.9647 | 23.1508
330214 | 1.9477 | 1.3215 | 1.3215 | 33.7670 | 37.8500 | 42.1291 | 37.8343
330215 | 1.2755 | 0.8422 | 0.8422 | 20.6343 | 22.6744 | 23.3466 | 22.2273
330218 | 1.0776 | 0.9723 | 0.9723 | 21.4095 | 24.1106 | 26.2793 | 23.9406
330219 | 1.7056 | 0.9475 | 0.9475 | 27.7400 | 29.3644 | 29.8772 | 28.9747
330221 | 1.3793 | 1.3215 | 1.3215 | 34.7033 | 36.5539 | 39.1877 | 36.8432
330222 | 1.2774 | 0.8753 | 0.8753 | 25.9825 | 23.9746 | 25.6286 | 25.1525
330223 | 1.0219 | 0.8267 | 0.8267 | 18.4291 | 19.4229 | 23.6690 | 20.4211
330224 | 1.3174 | 1.0583 | 1.0583 | 23.9379 | 25.7850 | 28.0293 | 25.9885
330225 | 1.1580 | 1.2838 | 1.3008 | 28.9952 | 29.2719 | 31.9981 | 30.1465
330226 | 1.3178 | 0.9007 | 0.9007 | 23.4783 | 21.8977 | 24.1599 | 23.1859
330229 ʰ | 1.2036 | 0.8360 | 0.8360 | 19.5670 | 20.6095 | 21.8375 | 20.6728
330230 | 0.9991 | 1.3215 | 1.3215 | 32.1101 | 33.3175 | 35.7536 | 33.6689
330231 | 1.0210 | 1.3215 | 1.3215 | 33.9324 | 36.9619 | 39.1585 | 36.5993
330232 | 1.1885 | 0.8753 | 0.8753 | 21.4765 | 24.4531 | 26.2367 | 24.0703
330233 | 1.4774 | 1.3215 | 1.3215 | 41.9968 | 45.5132 | 46.4011 | 44.6873
330234 | 2.2633 | 1.3215 | 1.3215 | 36.8500 | 40.6314 | 48.6802 | 41.8211
330235 | 1.1768 | 0.9428 | 0.9428 | 22.1217 | 23.3866 | 25.6714 | 23.6691
330236 | 1.5550 | 1.3215 | 1.3215 | 32.9391 | 35.6347 | 38.6055 | 35.7449
330238 | 1.1812 | 0.9007 | 0.9007 | 19.2407 | 20.8639 | 21.8941 | 20.6562
330239 ʰ | 1.2433 | 0.8360 | 0.8360 | 20.4936 | 21.5397 | 22.3783 | 21.4691
330240 | 1.2427 | 1.3215 | 1.3215 | 40.7478 | 39.9450 | 42.8856 | 41.1747
330241 | 1.8668 | 0.9723 | 0.9723 | 27.7213 | 29.0882 | 30.2601 | 29.0836
330242 | 1.3276 | 1.3215 | 1.3215 | 32.2178 | 33.6926 | 36.2068 | 34.0089
330245 | 1.8252 | 0.8422 | 0.8422 | 21.6857 | 22.8003 | 25.2401 | 23.2687
330246 | 1.3306 | 1.2701 | 1.2701 | 31.6763 | 34.6329 | 36.8581 | 34.3345
330247 | 0.7996 | 1.3215 | 1.3215 | 32.1733 | 32.2300 | 35.2706 | 33.1804
330249 | 1.2670 | 0.9723 | 0.9723 | 21.4345 | 22.9834 | 24.5819 | 23.0385
330250 | 1.3135 | 0.9355 | 0.9355 | 23.0641 | 25.1664 | 26.8227 | 25.0299
330259 | 1.4044 | 1.2838 | 1.3008 | 30.0488 | 31.9152 | 33.2686 | 31.7934
330261 | 1.3009 | 1.3215 | 1.3215 | 30.9356 | 30.7942 | 33.5583 | 31.7945
330263 | 1.0260 | 0.8267 | 0.8267 | 20.8456 | 22.4675 | 23.6060 | 22.3341
330264 | 1.2873 | 1.2701 | 1.1473 | 28.1501 | 30.0139 | 31.0746 | 29.7061
330265 | 1.1926 | 0.9007 | 0.9007 | 19.9414 | 20.4635 | 21.6198 | 20.6587
330267 | 1.4008 | 1.3215 | 1.3215 | 30.3709 | 31.5478 | 33.1643 | 31.7213
330268 | 0.9452 | 0.8267 | 0.8267 | 18.9142 | 20.9720 | 25.6319 | 21.7316
330270 | 2.0124 | 1.3215 | 1.3215 | 38.2605 | 42.2111 | 53.8973 | 44.3875
330273 | 1.3585 | 1.3215 | 1.3215 | 29.5106 | 30.4720 | 36.3643 | 32.1579
330276 | 1.1335 | 0.8330 | 0.8330 | 21.7826 | 22.2353 | 23.8846 | 22.6430
330277 | 1.1855 | 0.9439 | 0.9439 | 25.1438 | 25.3582 | 26.5151 | 25.7061
330279 | 1.4992 | 0.9475 | 0.9475 | 23.4816 | 25.2130 | 26.7728 | 25.2467
330285 | 2.0268 | 0.9007 | 0.9007 | 27.1260 | 27.9018 | 29.9511 | 28.3309
330286 | 1.3541 | 1.2701 | 1.2701 | 32.3244 | 33.3552 | 34.4498 | 33.4062
330290 | 1.7641 | 1.3215 | 1.3215 | 36.3764 | 36.9981 | 40.0375 | 37.7918
330293 | *** | * | * | 19.0290 | * | * | 19.0290
330304 | 1.3150 | 1.3215 | 1.3215 | 33.4431 | 34.5761 | 36.2311 | 34.7931
330306 | 1.4598 | 1.3215 | 1.3215 | 30.7551 | 35.6640 | 36.3448 | 34.3198
330307 | 1.2821 | 0.9883 | 0.9883 | 25.4128 | 27.5699 | 29.2568 | 27.4840
330314 | 1.2414 | 1.2701 | 1.2701 | 26.0150 | 25.5597 | 25.8968 | 25.8297
330316 | 1.2614 | 1.3215 | 1.3215 | 33.1512 | 34.8623 | 35.1243 | 34.3638
330331 | 1.2609 | 1.2838 | 1.3008 | 34.7052 | 36.1630 | 38.8882 | 36.6631
330332 | 1.2980 | 1.2838 | 1.3008 | 31.8389 | 33.3050 | 34.7704 | 33.3802
330333 | *** | * | * | 33.7637 | 26.1917 | * | 29.6102
330338 | *** | * | * | 27.3859 | 31.3761 | 37.2825 | 32.0071
330339 | 0.9158 | 0.8753 | 0.8753 | 22.2812 | 22.6569 | 24.0829 | 23.0041
330340 | 1.2406 | 1.2701 | 1.2701 | 31.4322 | 33.9358 | 36.7304 | 34.0134
330350 | 1.4882 | 1.3215 | 1.3215 | 39.3541 | 36.6250 | 43.5699 | 39.8450
330353 | 1.1878 | 1.3215 | 1.3215 | 38.6962 | 37.6549 | 43.9114 | 40.1352
330357 | 1.2787 | 1.3215 | 1.3215 | 34.3965 | 35.5975 | 37.5781 | 35.8277
330372 | 1.2829 | 1.2838 | 1.3008 | 30.1505 | 32.6721 | 34.7591 | 32.6538
330385 | 1.1485 | 1.3215 | 1.3215 | 42.6671 | 46.3221 | 47.0402 | 45.3358
330386 | 1.2241 | 1.0583 | 1.0583 | 25.9228 | 27.9943 | 28.7592 | 27.5994
330389 | 1.8452 | 1.3215 | 1.3215 | 34.7552 | 34.7669 | 36.9478 | 35.4956
330390 | 1.2447 | 1.3215 | 1.3215 | 33.2628 | 36.0573 | 34.5945 | 34.5746
330393 | 1.7531 | 1.2701 | 1.2701 | 34.8213 | 34.8095 | 37.6074 | 35.7608
330394 | 1.6481 | 0.8816 | 0.8816 | 23.3505 | 25.2229 | 26.6945 | 25.0944
330395 | 1.3957 | 1.3215 | 1.3215 | 35.4619 | 37.3096 | 35.7217 | 36.1690
330396 | 1.3725 | 1.3215 | 1.3215 | 32.5345 | 35.0297 | 36.8429 | 34.7966
330397 | 1.3754 | 1.3215 | 1.3215 | 34.5110 | 38.4741 | 36.7459 | 36.5053
330399 | 1.1594 | 1.3215 | 1.3215 | 33.6753 | 32.3688 | 34.5604 | 33.5258
330401 | 1.3754 | 1.2701 | 1.2701 | 35.7435 | 40.6249 | 37.3189 | 37.8874
330402 | *** | * | * | 21.3302 | * | * | 21.3302
330403 | *** | * | * | * | 23.1887 | 25.2042 | 24.1429
330404 | 0.8753 | * | * | * | * | * | *
330405 | 0.8833 | * | * | * | * | * | *
330406 | 0.8810 | * | * | * | * | * | *
340001 | 1.5157 | 0.9520 | 0.9520 | 23.2436 | 25.0041 | 27.2111 | 25.1005
340002 | 1.7808 | 0.9520 | 0.9110 | 25.1099 | 27.3349 | 28.4571 | 27.0078
340003 | 1.1318 | 0.8607 | 0.8607 | 21.5562 | 23.3066 | 24.1238 | 22.9768
340004 | 1.4174 | 0.9129 | 0.9129 | 24.2055 | 25.4474 | 26.6506 | 25.4397
340005 | 1.0032 | * | * | 22.9830 | 22.3814 | * | 22.6704
340007 | *** | * | * | 21.1519 | * | * | 21.1519
340008 | 1.1135 | 0.9520 | 0.9520 | 24.2089 | 26.6314 | 26.2698 | 25.7197
340010 | 1.3600 | 0.9570 | 0.9570 | 23.1349 | 24.5666 | 27.1894 | 24.9795
340011 | 1.0750 | 0.8607 | 0.8607 | 18.1843 | 19.9484 | 20.0476 | 19.3757
340012 | 1.3275 | 0.8607 | 0.8607 | 22.0583 | 22.7189 | 23.2312 | 22.6747
340013 | 1.2343 | 0.9286 | 0.9286 | 22.4787 | 23.0261 | 24.3059 | 23.2775
340014 | 1.5855 | 0.8992 | 0.8992 | 24.4831 | 25.1872 | 27.1685 | 25.6433
340015 ʰ | 1.3320 | 0.9787 | 0.9787 | 24.3870 | 26.2276 | 28.1772 | 26.2865
340016 | 1.2923 | 0.8607 | 0.8607 | 22.7574 | 23.0359 | 23.7376 | 23.1810
340017 | 1.3200 | 0.9110 | 0.9110 | 22.8879 | 23.8229 | 22.7039 | 23.1314
340018 | 1.2060 | * | * | 20.3840 | 23.7243 | * | 21.9193
340019 | *** | * | * | 17.8768 | * | * | 17.8768
340020 | 1.2238 | 0.8814 | 0.8814 | 24.1955 | 23.7995 | 26.1419 | 24.7053
340021 | 1.2885 | 0.9520 | 0.9520 | 23.6884 | 26.0995 | 29.3286 | 26.4057
340023 | 1.3674 | 0.9286 | 0.9286 | 23.2844 | 24.4897 | 26.2541 | 24.6946
340024 | 1.1513 | 0.8607 | 0.8607 | 21.2671 | 22.2521 | 23.8742 | 22.4843
340025 | 1.2791 | 0.9110 | 0.9110 | 20.9915 | 21.2276 | 23.1272 | 21.8404
340027 | 1.1485 | 0.9300 | 0.9300 | 22.6107 | 23.6326 | 25.2357 | 23.8877
340028 | 1.5457 | 0.8962 | 0.8962 | 24.6836 | 26.3298 | 26.5301 | 25.8563
340030 | 2.0383 | 0.9805 | 0.9805 | 27.4664 | 29.0122 | 30.0506 | 28.8550
340032 | 1.4184 | 0.9520 | 0.9520 | 24.8031 | 26.7475 | 27.7578 | 26.5096
340035 | 1.0842 | 0.8607 | 0.8607 | 21.2407 | 23.5476 | 24.5596 | 23.1461
340036 | 1.3160 | 0.9855 | 0.9855 | 22.2089 | 25.2077 | 26.3904 | 24.6981
340037 | 1.0334 | 0.8823 | 0.8823 | 22.5089 | 21.6411 | 25.2974 | 23.1980
340038 | 1.2308 | 0.8607 | 0.8607 | 14.0203 | 14.0713 | 23.1194 | 16.2732
340039 | 1.2931 | 0.9520 | 0.9520 | 25.6605 | 27.1275 | 27.9102 | 26.9345
340040 | 1.9365 | 0.9427 | 0.9427 | 24.1523 | 26.3325 | 27.9072 | 26.1644
340041 | 1.2470 | 0.9029 | 0.9029 | 23.0497 | 23.6600 | 24.3510 | 23.7190
340042 | 1.1867 | 0.8607 | 0.8607 | 22.1107 | 23.0236 | 24.3666 | 23.1693
340044 | 1.0102 | * | * | 21.7089 | * | * | 21.7089
340045 | 0.9486 | * | * | 14.5004 | 23.1918 | * | 18.3297
340047 | 1.8343 | 0.8992 | 0.8992 | 25.3727 | 25.0605 | 27.8038 | 26.1074
340049 | 1.8974 | 0.9805 | 0.9805 | 22.3082 | 30.4827 | 31.2630 | 28.1162
340050 | 1.0680 | 0.8962 | 0.8962 | 21.4511 | 24.2533 | 25.6210 | 23.7875
340051 | 1.2225 | 0.8901 | 0.8901 | 21.9069 | 23.4091 | 24.0706 | 23.1553
340053 | 1.5721 | 0.9520 | 0.9520 | 26.9361 | 27.7261 | 28.5758 | 27.7590
340055 | 1.2438 | 0.9029 | 0.9029 | 24.3728 | 24.1057 | 26.4405 | 24.9504
340060 | 1.1227 | 0.8992 | 0.8992 | 22.4303 | 22.8657 | 22.3770 | 22.5569
340061 | 1.7759 | 0.9805 | 0.9805 | 26.6657 | 27.5594 | 27.2893 | 27.1830
340064 | 1.0805 | 0.8607 | 0.8607 | 22.3631 | 22.9143 | 23.9195 | 23.0608
340065 | *** | * | * | 20.8413 | * | * | 20.8413
340068 | 1.1865 | 0.9516 | 0.9516 | 20.8600 | 21.8830 | 22.4484 | 21.7271
340069 | 1.8892 | 0.9805 | 0.9805 | 27.5045 | 27.4473 | 29.8633 | 28.2974
340070 | 1.2950 | 0.8992 | 0.8992 | 23.6045 | 24.9033 | 25.6875 | 24.7454
340071 | 1.0908 | 0.9570 | 0.9570 | 22.1854 | 25.4537 | 26.0452 | 24.6143
340072 | 1.1732 | 0.8607 | 0.8607 | 21.3320 | 23.1163 | 24.8367 | 23.0580
340073 | 1.4358 | 0.9805 | 0.9805 | 29.4189 | 30.2061 | 31.2882 | 30.3321
340075 | 1.2096 | 0.9029 | 0.9029 | 24.1297 | 26.0225 | 25.4646 | 25.1678
340084 | 1.1470 | 0.9520 | 0.9520 | 21.3227 | 21.2580 | 21.3338 | 21.3047
340085 ʰ | 1.2078 | 0.9369 | 0.9369 | 23.0890 | 23.9793 | 25.8265 | 24.2485
340087 | 1.2104 | 0.8607 | 0.8607 | 18.4202 | 22.0070 | 22.5608 | 20.8741
340088 | *** | * | * | 24.3299 | * | * | 24.3299
340090 | 1.3172 | 0.9855 | 0.9855 | 21.7173 | 23.4542 | 25.8788 | 23.8260
340091 | 1.5502 | 0.9129 | 0.9129 | 24.9411 | 25.8266 | 26.0698 | 25.6286
340096 ʰ | 1.2065 | 0.9369 | 0.9369 | 23.6345 | 25.2169 | 25.0546 | 24.6415
340097 | 1.1989 | 0.8607 | 0.8607 | 22.5775 | 24.2127 | 25.6227 | 24.1152
340098 | 1.4802 | 0.9520 | 0.9520 | 25.4823 | 27.3308 | 28.7253 | 27.1943
340099 | 1.2462 | 0.8607 | 0.8607 | 20.0178 | 20.3683 | 21.6077 | 20.6547
340104 | 0.8626 | 0.8823 | 0.8823 | 14.3252 | 15.7521 | 16.5594 | 15.5520
340106 | 1.1004 | 0.8607 | 0.8607 | 22.6979 | 22.4894 | 25.2139 | 23.4325
340107 | 1.1924 | 0.8869 | 0.8869 | 22.5583 | 22.9698 | 24.4751 | 23.3459
340109 | 1.2610 | 0.8840 | 0.8840 | 22.3826 | 23.4419 | 25.4826 | 23.8242
340113 | 1.8335 | 0.9520 | 0.9520 | 26.0776 | 28.2568 | 28.6890 | 27.7109
340114 | 1.6228 | 0.9805 | 0.9805 | 25.4533 | 26.6813 | 28.7016 | 26.9713
340115 | 1.6156 | 0.9805 | 0.9805 | 25.1907 | 25.0212 | 27.0359 | 25.7751
340116 | 1.7312 | 0.9029 | 0.9029 | 26.1641 | 25.3213 | 27.1898 | 26.2312
340119 | 1.2061 | 0.9520 | 0.9520 | 22.4821 | 24.2287 | 24.9657 | 23.9376
340120 | 1.0248 | 0.8607 | 0.8607 | 21.8548 | 23.0916 | 24.7598 | 23.2664
340121 | 1.0763 | 0.9840 | 0.9840 | 20.3701 | 21.7576 | 22.6663 | 21.6117
340123 | 1.2907 | 0.8992 | 0.8992 | 23.1879 | 26.1083 | 25.6790 | 24.9990
340124 | 1.0333 | 0.9570 | 0.9570 | 18.3866 | 20.8018 | 22.2436 | 20.3584
340126 ʰ | 1.2954 | 0.9570 | 0.9570 | 23.5405 | 25.0189 | 26.8953 | 25.1845
340127 | 1.1826 | 0.9805 | 0.9805 | 24.6096 | 25.7831 | 26.6726 | 25.7092
340129 | 1.2866 | 0.9520 | 0.9520 | 24.1356 | 25.4902 | 26.3540 | 25.4160
340130 | 1.3338 | 0.9520 | 0.9520 | 23.0937 | 25.2941 | 26.6451 | 25.1555
340131 | 1.5363 | 0.9300 | 0.9300 | 25.2989 | 27.9358 | 27.8063 | 27.0592
340132 | 1.1937 | 0.8607 | 0.8607 | 20.4222 | 21.3521 | 22.9792 | 21.6047
340133 | 1.0422 | 0.8915 | 0.8915 | 22.1588 | 22.5558 | 22.8049 | 22.5184
340137 | 0.9094 | 0.9029 | 0.9029 | 29.9903 | 21.0642 | 22.2880 | 25.0275
340138 | 0.8891 | 0.9805 | 0.9805 | 27.4767 | 21.3670 | * | 24.4228
340141 | 1.6287 | 0.9840 | 0.9840 | 24.8132 | 27.3355 | 29.5610 | 27.3178
340142 | 1.2086 | 0.8607 | 0.8607 | 22.1298 | 22.9907 | 24.4531 | 23.2199
340143 | 1.5034 | 0.9029 | 0.9029 | 24.8904 | 25.3633 | 28.6528 | 26.2974
340144 | 1.2673 | 0.9520 | 0.9520 | 25.6538 | 27.2686 | 26.6107 | 26.5141
340145 | 1.3036 | 0.9520 | 0.9520 | 23.7028 | 23.7131 | 25.4851 | 24.3247
340146 | *** | * | * | 18.8354 | * | * | 18.8354
340147 | 1.3166 | 0.9570 | 0.9570 | 23.9998 | 25.4534 | 26.6789 | 25.4056
340148 | 1.5957 | 0.8992 | 0.8992 | 22.4205 | 23.5880 | 25.8143 | 23.9131
340151 | 1.0985 | 0.8607 | 0.8607 | 22.2613 | 22.0052 | 22.6662 | 22.3143
340153 | 1.8446 | 0.9520 | 0.9520 | 25.7078 | 26.4896 | 28.2013 | 26.7972
340155 | 1.4243 | 0.9805 | 0.9805 | 28.8758 | 30.4940 | 30.5341 | 30.0011
340156 | 0.8336 | 1.4448 | 1.4448 | * | * | * | *
340158 | 1.1327 | 0.9840 | 0.9840 | 23.4724 | 26.4849 | 28.1593 | 25.9520
340159 | 1.1318 | 0.9805 | 0.9805 | 22.1872 | 23.2991 | 24.4603 | 23.3300
340160 | 1.3065 | 0.8607 | 0.8607 | 19.1330 | 20.7525 | 21.8503 | 20.6086
340166 | 1.3370 | 0.9520 | 0.9520 | 25.7398 | 26.0557 | 27.8366 | 26.5981
340168 | 0.3885 | 0.9840 | 0.9840 | 16.8076 | 17.3249 | * | 17.0785
340171 | 1.1788 | 0.9520 | 0.9520 | 27.2074 | 28.2734 | 29.1675 | 28.2636
340173 | 1.2716 | 0.9805 | 0.9805 | 26.6128 | 27.5072 | 29.0996 | 27.8382
340177 | 1.1493 | 0.8607 | 0.8607 | * | 24.7471 | 26.9929 | 25.8488
340178 | *** | * | * | * | 28.7219 | * | 28.7219
340179 | *** | * | * | * | * | 34.2396 | 34.2396
340182 | *** | * | * | * | * | 28.2372 | 28.2372
340183 | 1.1100 | * | * | * | * | * | *
340322 | 0.7923 | * | * | * | * | * | *
350002 | 1.7713 | 0.8485 | 0.7255 | 20.6474 | 22.0283 | 22.4948 | 21.7317
350003 | 1.2047 | 0.7255 | 0.7255 | 25.3076 | 21.8061 | 23.7797 | 23.5084
350004 | *** | * | * | 27.5891 | * | * | 27.5891
350006 | 1.6121 | 0.7255 | 0.7255 | 19.5870 | 19.4985 | 20.7196 | 19.9754
350009 | 1.1099 | 0.8485 | 0.8485 | 20.7014 | 23.0873 | 23.8524 | 22.5660
350010 | 1.1294 | 0.8485 | 0.7237 | 18.5682 | 19.1965 | 20.2900 | 19.3694
350011 | 2.0043 | 0.8485 | 0.8485 | 22.3896 | 23.1947 | 23.9046 | 23.2095
350014 | 0.9021 | 0.8485 | 0.7237 | 18.5360 | 17.7565 | 17.9617 | 18.0556
350015 | 1.6873 | 0.8485 | 0.7255 | 18.6381 | 20.1161 | 20.4658 | 19.8222
350017 | 1.3520 | 0.8485 | 0.7237 | 20.1943 | 21.0243 | 21.8203 | 21.0001
350019 ² | 1.6973 | 0.8485 | 0.9256 | 24.2382 | 22.1960 | 23.6479 | 23.3102
350027 | *** | * | * | 14.2262 | * | * | 14.2262
350030 | 0.9937 | 0.8485 | 0.7237 | 19.2282 | 18.9978 | 20.0738 | 19.4364
350043 | *** | * | * | 20.9732 | * | * | 20.9732
350061 | 1.0456 | * | * | 18.6546 | 22.0515 | * | 20.3874
350063 | 0.8764 | 1.4448 | 1.4448 | * | * | * | *
350064 | 0.8725 | 1.4448 | 1.4448 | * | * | * | *
350070 | 2.0130 | 0.8485 | 0.8485 | 24.4464 | 25.2836 | 25.9959 | 25.2624
360001 | 1.4368 | 0.9599 | 0.9599 | 23.7750 | 23.9101 | 26.5234 | 24.7144
360002 | 1.2119 | 0.8673 | 0.8673 | 22.6923 | 24.5789 | 25.2297 | 24.2006
360003 | 1.8456 | 0.9599 | 0.9599 | 26.3180 | 27.5029 | 28.8816 | 27.5641
360006 | 1.9839 | 1.0119 | 1.0119 | 25.7041 | 28.1698 | 30.8441 | 28.2373
360008 | 1.3028 | 0.8759 | 0.8759 | 23.2545 | 24.5714 | 25.7859 | 24.5599
360009 | 1.6056 | 0.9060 | 0.9060 | 23.2659 | 23.1012 | 24.8430 | 23.7552
360010 | 1.2454 | 0.8737 | 0.8737 | 22.0262 | 23.1178 | 23.6797 | 22.9911
360011 | 1.3176 | 0.9919 | 0.9919 | 22.4482 | 25.5340 | 27.0031 | 24.9499
360012 | 1.3422 | 1.0119 | 1.0119 | 25.5913 | 27.5470 | 29.9512 | 27.8791
360013 | 1.1193 | 0.9060 | 0.9060 | 25.1588 | 26.8129 | 27.2317 | 26.4104
360014 | 1.1293 | 0.9919 | 0.9919 | 23.8305 | 25.3861 | 26.8524 | 25.3890
360016 | 1.4722 | 0.9599 | 0.9599 | 24.6587 | 26.1283 | 27.7608 | 26.1961
360017 | 1.8024 | 1.0119 | 1.0119 | 25.4969 | 27.2910 | 29.9598 | 27.6052
360019 | 1.3228 | 0.9212 | 0.9212 | 24.1105 | 25.5926 | 26.9051 | 25.5454
360020 | 1.6244 | 0.9212 | 0.9212 | 22.3795 | 24.4343 | 23.8636 | 23.5858
360024 | *** | * | * | 24.0612 | 23.5793 | * | 23.9138
360025 | 1.4743 | 0.9212 | 0.9212 | 23.6574 | 25.5633 | 27.6127 | 25.8025
360026 | 1.3027 | 0.9049 | 0.9049 | 22.3303 | 23.5898 | 25.4053 | 23.7441
360027 | 1.6825 | 0.9212 | 0.9212 | 24.7093 | 25.4894 | 27.1811 | 25.7999
360029 | 1.1410 | 0.9588 | 0.9588 | 20.8778 | 22.7785 | 24.6599 | 22.7997
360031 | *** | * | * | 24.4324 | * | * | 24.4324
360032 ʰ | 1.1695 | 0.9060 | 0.9060 | 22.9759 | 23.2638 | 25.2551 | 23.8405
360034 | *** | * | * | 25.1366 | * | * | 25.1366
360035 | 1.7700 | 1.0119 | 1.0119 | 25.6895 | 27.5220 | 29.8683 | 27.7932
360036 | 1.2134 | 0.9212 | 0.9212 | 25.0910 | 27.6094 | 28.4712 | 27.1094
360037 | 1.4154 | 0.9378 | 0.9378 | 25.1615 | 24.3982 | 28.3912 | 25.9007
360038 | 1.5182 | 0.9599 | 0.9599 | 24.8294 | 22.8009 | 23.6986 | 23.7742
360039 | 1.4811 | 0.9919 | 0.9919 | 22.5921 | 24.0218 | 24.2491 | 23.6541
360040 | 1.1486 | 0.8673 | 0.8673 | 22.8729 | 24.0942 | 25.2894 | 24.0903
360041 | 1.4912 | 0.9378 | 0.9378 | 23.2625 | 24.1080 | 25.5889 | 24.3654
360044 | 1.1134 | 0.8673 | 0.8673 | 20.4724 | 21.8411 | 21.8857 | 21.4070
360046 | 1.2112 | 0.9599 | 0.9599 | 23.8918 | 25.0775 | 25.7145 | 24.9194
360047 | 1.0125 | * | * | 17.1973 | 21.7248 | * | 19.5322
360048 | 1.8468 | 0.9588 | 0.9588 | 27.2274 | 28.8107 | 29.1376 | 28.3862
360049 | *** | * | * | 24.2605 | 25.8367 | 26.2059 | 25.4083
360051 | 1.7024 | 0.9049 | 0.9049 | 25.1785 | 25.7556 | 27.0097 | 26.0022
360052 | 1.6267 | 0.9049 | 0.9049 | 23.3285 | 24.5405 | 25.8613 | 24.5908
360054 | 1.3415 | 0.8759 | 0.8759 | 20.3176 | 23.0376 | 23.1854 | 22.1915
360055 | 1.4208 | 0.8815 | 0.8815 | 25.1475 | 26.3112 | 27.3781 | 26.2760
360056 | 1.6221 | 0.9599 | 0.9599 | 23.4638 | 23.1024 | 27.1657 | 24.5328
360058 | 1.0757 | 0.8673 | 0.8673 | 22.7943 | 23.4429 | 24.6591 | 23.6483
360059 | 1.5786 | 0.9378 | 0.9378 | 25.5222 | 25.3516 | 28.8091 | 26.6068
360062 | 1.4901 | 1.0119 | 1.0119 | 26.8091 | 28.6518 | 31.8334 | 29.2317
360064 | 1.6168 | 0.8815 | 0.8815 | 22.8729 | 22.2393 | 25.2315 | 23.4351
360065 | 1.2521 | 0.9212 | 0.9212 | 24.0868 | 26.3036 | 28.1088 | 26.2426
360066 | 1.5217 | 0.9060 | 0.9060 | 25.2316 | 27.3362 | 27.8899 | 26.8407
360068 | 1.8902 | 0.9588 | 0.9588 | 23.7895 | 25.8414 | 26.5008 | 25.3817
360069 | 1.2137 | * | * | 25.7032 | 24.2444 | * | 24.9438
360070 | 1.6590 | 0.9088 | 0.9088 | 23.1687 | 24.8863 | 26.4994 | 24.8533
360071 ʰ | 1.1279 | 0.9060 | 0.9060 | 21.6176 | 22.0786 | 22.9101 | 22.1868
360072 | 1.4686 | 1.0119 | 1.0119 | 23.0464 | 24.4332 | 25.5498 | 24.3891
360074 | 1.2447 | 0.9588 | 0.9588 | 23.6172 | 24.9055 | 26.1751 | 24.8987
360075 | 1.1859 | 0.9378 | 0.9378 | 24.7610 | 26.8453 | 27.1558 | 26.3365
360076 | 1.4726 | 0.9599 | 0.9599 | 22.5943 | 25.9369 | 27.3636 | 25.2933
360077 | 1.5136 | 0.9378 | 0.9378 | 24.7086 | 25.6505 | 29.2165 | 26.5561
360078 | 1.3049 | 0.9212 | 0.9212 | 24.6821 | 26.1313 | 26.1568 | 25.6598
360079 | 1.8031 | 0.9599 | 0.9599 | 25.8762 | 26.0935 | 26.1253 | 26.0376
360080 | 1.1259 | 0.8673 | 0.8673 | 19.5436 | 20.8309 | 21.0795 | 20.5175
360081 | 1.3277 | 0.9588 | 0.9588 | 25.1439 | 27.5695 | 30.4888 | 27.5972
360082 | 1.3704 | 0.9378 | 0.9378 | 27.4264 | 27.1197 | 29.4729 | 28.0495
360084 | 1.5807 | 0.8737 | 0.8737 | 25.2059 | 25.8415 | 27.7366 | 26.2609
360085 | 2.1063 | 1.0119 | 1.0119 | 27.5792 | 29.0081 | 31.6756 | 29.4421
360086 | 1.5487 | 0.9049 | 0.9049 | 22.3005 | 22.1859 | 24.8676 | 23.1200
360087 | 1.3826 | 0.9378 | 0.9378 | 25.9131 | 25.4040 | 29.6489 | 27.0082
360089 | 1.0966 | 0.8673 | 0.8673 | 21.0253 | 22.7951 | 25.4796 | 23.0814
360090 | 1.5300 | 0.9588 | 0.9588 | 24.4291 | 26.7717 | 28.6236 | 26.5744
360091 | 1.3038 | 0.9378 | 0.9378 | 26.0541 | 27.5067 | 26.2518 | 26.6013
360092 | 1.2227 | 1.0119 | 1.0119 | 23.5100 | 25.6618 | 25.6879 | 24.9879
360093 | 1.0458 | * | * | 24.1238 | * | * | 24.1238
360094 | *** | * | * | 27.1864 | 26.6348 | * | 26.9890
360095 | 1.3013 | 0.9588 | 0.9588 | 24.6984 | 26.1275 | 26.3654 | 25.7726
360096 | 1.1174 | 0.8815 | 0.8815 | 22.2333 | 24.6317 | 25.6497 | 24.1705
360098 | 1.3974 | 0.9378 | 0.9378 | 23.6413 | 24.8447 | 25.7314 | 24.7628
360100 | 1.2146 | 0.9088 | 0.9088 | 19.0616 | 23.0561 | 25.3775 | 22.1813
360101 | 1.3459 | 0.9378 | 0.9378 | 27.7584 | 26.6208 | 28.7561 | 27.7335
360106 | 1.1149 | * | * | 21.6450 | 24.1588 | * | 22.9406
360107 | 1.0901 | 0.9588 | 0.9588 | 24.5365 | 25.9697 | 25.0899 | 25.1975
360109 | 1.0676 | 0.8673 | 0.8673 | 24.3236 | 25.4184 | 26.4649 | 25.4240
360112 | 1.9284 | 0.9588 | 0.9588 | 26.7880 | 28.6784 | 31.4146 | 28.9038
360113 | 1.2716 | 0.9599 | 0.9599 | 23.5138 | 25.6493 | 26.8972 | 25.2973
360115 | 1.2507 | 0.9378 | 0.9378 | 24.0232 | 24.0052 | 25.4614 | 24.5372
360116 | 1.2486 | 0.9599 | 0.9599 | 23.4049 | 18.0655 | 25.1390 | 22.2554
360118 | 1.5454 | 0.9298 | 0.9298 | 24.2526 | 27.7289 | 27.5254 | 26.5502
360121 | 1.2601 | 1.0630 | 1.0391 | 25.2037 | 24.5592 | 27.5575 | 25.7699
360123 | 1.4622 | 0.9378 | 0.9378 | 24.1761 | 22.6523 | 27.1080 | 24.5618
360125 | 1.2312 | 0.9212 | 0.9212 | 22.6871 | 22.1096 | 23.6342 | 22.8051
360128 | 0.9991 | * | * | 18.5954 | 21.0066 | * | 19.7451
360129 | 0.8850 | * | * | 19.5336 | * | * | 19.5336
360130 | 1.4172 | 0.9378 | 0.9378 | 21.7015 | 22.9762 | 25.4768 | 23.6048
360131 | 1.2611 | 0.9088 | 0.9088 | 23.1730 | 24.0495 | 25.7134 | 24.3448
360132 | 1.3086 | 0.9599 | 0.9599 | 25.7991 | 25.9453 | 27.4285 | 26.3954
360133 | 1.6046 | 0.9049 | 0.9049 | 23.9457 | 24.6208 | 28.9439 | 25.8164
360134 | 1.7646 | 0.9599 | 0.9599 | 25.3013 | 29.2975 | 28.4609 | 27.6989
360137 | 1.6613 | 0.9378 | 0.9378 | 25.7647 | 26.9522 | 25.1870 | 25.9473
360141 | 1.5955 | 0.8815 | 0.8815 | 31.0127 | 27.7085 | 30.1241 | 29.6138
360142 | 1.0183 | * | * | 21.2084 | 22.1610 | * | 21.6897
360143 | 1.3785 | 0.9378 | 0.9378 | 23.8938 | 24.6306 | 28.4811 | 25.7432
360144 | 1.2995 | 0.9378 | 0.9378 | 26.7160 | 25.7079 | 28.7129 | 27.0896
360145 | 1.7603 | 0.9378 | 0.9378 | 23.4743 | 25.8268 | 26.3634 | 25.2160
360147 | 1.4037 | 0.8673 | 0.8673 | 22.7172 | 24.1953 | 25.2136 | 24.0757
360148 | 1.0686 | 0.8673 | 0.8673 | 24.4873 | 26.1946 | 26.3049 | 25.7083
360150 | 1.2404 | 0.9212 | 0.9212 | 25.8703 | 24.7667 | 25.2592 | 25.2945
360151 | 1.6537 | 0.9088 | 0.9088 | 22.2179 | 24.8629 | 26.0020 | 24.3233
360152 | 1.5944 | 1.0119 | 1.0119 | 24.9894 | 27.9147 | 30.0354 | 27.4637
360153 | 1.0121 | 0.8673 | 0.8673 | 19.0844 | 19.0226 | 19.1349 | 19.0821
360154 | *** | * | * | 17.1274 | * | * | 17.1274
360155 | 1.5025 | 0.9378 | 0.9378 | 23.9466 | 25.3909 | 26.8044 | 25.3987
360156 | 1.1867 | 0.8886 | 0.8886 | 22.6709 | 24.0510 | 25.3478 | 24.0344
360159 | 1.2285 | 0.9919 | 0.9919 | 25.7108 | 33.1613 | 28.6988 | 28.9897
360161 | 1.3481 | 0.8815 | 0.8815 | 22.6005 | 24.3792 | 25.7944 | 24.2437
360163 | 1.8980 | 0.9599 | 0.9599 | 25.7966 | 26.9728 | 29.1497 | 27.2933
360170 | 1.2814 | 1.0119 | 1.0119 | 22.9359 | 24.3620 | 27.3245 | 25.1144
360172 | 1.4157 | 0.9378 | 0.9378 | 23.4727 | 26.3501 | 27.9941 | 25.9423
360174 | 1.2911 | 0.9049 | 0.9049 | 22.8167 | 24.9990 | 26.5821 | 24.8252
360175 | 1.2853 | 0.9919 | 0.9919 | 24.6152 | 26.5949 | 27.7409 | 26.3745
360177 | 1.1829 | * | * | 23.4256 | 24.4712 | * | 23.9572
360179 | 1.6031 | 0.9599 | 0.9599 | 25.9429 | 28.8645 | 30.2960 | 28.4358
360180 | 2.2529 | 0.9378 | 0.9378 | 26.8720 | 26.1514 | 29.5742 | 27.5212
360185 | 1.2223 | 0.8815 | 0.8815 | 21.8641 | 23.7173 | 24.8364 | 23.4838
360187 | 1.6071 | 0.9049 | 0.9049 | 23.8362 | 24.8173 | 25.1844 | 24.6459
360189 | 1.1205 | 1.0119 | 1.0119 | 24.2512 | 24.2136 | 26.6418 | 25.0335
360192 | 1.3080 | 0.9378 | 0.9378 | 26.2976 | 26.7577 | 26.6802 | 26.5811
360194 | 1.4943 | * | * | 22.3297 | * | * | 22.3297
360195 | 1.1127 | 0.9378 | 0.9378 | 25.8043 | 26.1280 | 25.5865 | 25.8335
360197 | 1.1514 | 0.9919 | 0.9919 | 24.7539 | 27.0896 | 28.6572 | 26.8812
360203 | 1.1904 | 0.8673 | 0.8673 | 21.5564 | 22.1414 | 23.2702 | 22.3580
360210 | 1.1799 | 1.0119 | 1.0119 | 26.5665 | 27.8415 | 28.7970 | 27.7707
360211 | 1.5528 | 0.8673 | 0.8673 | 23.0884 | 22.5449 | 25.6367 | 23.6870
360212 | 1.3402 | 0.9378 | 0.9378 | 24.5310 | 25.2756 | 26.3396 | 25.4049
360218 | 1.1646 | 1.0119 | 1.0119 | 24.4720 | 27.4288 | 29.1835 | 27.0945
360230 | 1.5362 | 0.9378 | 0.9378 | 26.6444 | 27.0223 | 29.3334 | 27.7442
360234 | 1.3735 | 0.9599 | 0.9599 | 23.3325 | 24.3625 | 26.6945 | 24.6936
360236 | 1.2075 | 0.9599 | 0.9599 | 21.3795 | 35.8144 | 25.7297 | 25.5205
360239 | 1.3163 | 0.9049 | 0.9049 | 24.4398 | 25.2474 | 25.9671 | 25.2853
360241 | *** | * | * | 24.8089 | 24.7001 | 23.4843 | 24.1955
360245 | 0.5410 | 0.9212 | 0.9212 | 18.7966 | 19.1885 | 20.0683 | 19.3751
360247 | 0.3827 | 1.0119 | 1.0119 | 25.1083 | 19.8892 | 19.3874 | 21.2446
360253 | 2.3855 | 0.9599 | 0.9599 | 28.2555 | 30.4276 | 31.4677 | 30.0805
360257 | *** | * | * | 17.9652 | * | * | 17.9652
360258 | 1.4162 | * | * | * | * | * | *
360259 | 1.2048 | 0.9588 | 0.9588 | * | 25.1338 | 26.3472 | 25.7673
360260 | *** | * | * | * | 27.3903 | * | 27.3903
360261 | 1.7902 | 0.9009 | 0.9009 | * | 22.5431 | 23.2578 | 22.9224
360262 | 1.3180 | 0.9588 | 0.9588 | * | 27.1680 | 29.8320 | 28.5152
360263 | 1.6984 | 0.9060 | 0.9060 | * | 20.8884 | 22.6737 | 21.7835
360264 | *** | * | * | * | * | 36.4427 | 36.4427
360265 | *** | * | * | * | * | 36.5621 | 36.5621
360266 | 2.0048 | 1.0119 | 1.0119 | * | * | * | *
360268 | 2.3692 | 0.9049 | 0.9049 | * | * | * | *
360269 | 1.8533 | * | * | * | * | * | *
360270 | 1.0574 | * | * | * | * | * | *
360271 | 1.2708 | * | * | * | * | * | *
360272 | 1.3839 | * | * | * | * | * | *
360319 | 0.7559 | * | * | * | * | * | *
360325 | 0.8727 | * | * | * | * | * | *
360327 | 0.8846 | * | * | * | * | * | *
360328 | 0.6787 | * | * | * | * | * | *
360330 | 0.7444 | * | * | * | * | * | *
370001 | 1.7930 | 0.8146 | 0.8146 | 26.2391 | 27.7245 | 24.5650 | 26.1351
370002 | 1.1799 | 0.7663 | 0.7663 | 19.7718 | 20.1479 | 21.1078 | 20.3588
370004 | 1.0870 | 0.8620 | 0.8620 | 24.7694 | 25.3919 | 26.9577 | 25.6751
370006 | 1.2934 | 0.8017 | 0.8017 | 16.9469 | 20.1063 | 22.7149 | 19.9948
370007 | 1.0616 | 0.7663 | 0.7663 | 17.2084 | 17.6547 | 18.3587 | 17.7447
370008 | 1.4174 | 0.8857 | 0.8857 | 22.7419 | 24.2978 | 25.3440 | 24.2102
370011 | 0.9999 | 0.8857 | 0.8857 | 19.2266 | 19.7821 | 21.7538 | 20.1606
370013 | 1.5053 | 0.8857 | 0.8857 | 22.6451 | 24.9295 | 26.7257 | 24.7559
370014 | 1.0129 | 0.8376 | 0.8376 | 24.8138 | 25.3576 | 25.6283 | 25.2744
370015 | 0.9407 | 0.8146 | 0.8146 | 21.1833 | 23.6693 | 24.1384 | 22.9965
370016 ʰ | 1.5363 | 0.8857 | 0.8857 | 24.2737 | 25.4062 | 26.2547 | 25.3515
370018 | 1.4528 | 0.8146 | 0.8146 | 23.4286 | 23.5336 | 25.0566 | 24.0042
370019 | 1.2391 | 0.7663 | 0.7663 | 19.6761 | 21.4474 | 21.8628 | 20.9956
370020 | 1.3420 | 0.7663 | 0.7663 | 17.4835 | 18.5046 | 19.0473 | 18.3584
370022 | 1.2433 | 0.8116 | 0.8116 | 18.4217 | 19.6495 | 23.6102 | 20.4747
370023 | 1.2712 | 0.7747 | 0.7747 | 20.6002 | 21.5762 | 23.0397 | 21.7646
370025 | 1.2655 | 0.8146 | 0.8146 | 22.0287 | 23.5659 | 24.0174 | 23.2102
370026 ʰ | 1.5216 | 0.8857 | 0.8857 | 22.5734 | 23.0848 | 25.8863 | 23.8389
370028 | 1.8296 | 0.8857 | 0.8857 | 24.8661 | 26.6153 | 27.3471 | 26.2811
370029 | 1.0748 | 0.7663 | 0.7663 | 22.1163 | 23.9956 | 26.2124 | 24.0953
370030 | 1.0261 | 0.7663 | 0.7663 | 20.3315 | 23.3037 | 23.5362 | 22.4100
370032 | 1.4505 | 0.8857 | 0.8857 | 21.6029 | 23.4843 | 24.9755 | 23.3829
370034 | 1.2289 | 0.7663 | 0.7663 | 17.6247 | 18.2341 | 18.7092 | 18.1945
370036 | 1.0525 | 0.7663 | 0.7663 | 16.9222 | 17.7576 | 18.8545 | 17.8650
370037 | 1.6593 | 0.8857 | 0.8857 | 23.1256 | 23.9685 | 25.2235 | 24.1678
370039 | 1.1293 | 0.8146 | 0.8146 | 21.0793 | 21.8220 | 23.1526 | 22.0252
370040 | 1.0032 | 0.7761 | 0.7761 | 21.1061 | 22.4048 | 22.4840 | 21.9813
370041 | 0.8640 | 0.8146 | 0.8146 | 22.0082 | 22.3496 | 21.1950 | 21.8627
370042 | 0.8638 | * | * | 15.3613 | * | * | 15.3613
370043 | *** | * | * | 21.5588 | * | * | 21.5588
370045 | *** | * | * | 14.6370 | * | * | 14.6370
370047 | 1.4165 | 0.8376 | 0.8376 | 19.7112 | 20.4657 | 23.1490 | 21.1519
370048 | 1.1155 | 0.7663 | 0.7663 | 17.7273 | 19.2464 | 20.7363 | 19.2180
370049 | 1.3251 | 0.8857 | 0.8857 | 21.6878 | 23.2171 | 23.8712 | 22.9296
370051 | 1.0947 | 0.7663 | 0.7663 | 14.6254 | 17.2618 | 18.0757 | 16.5780
370054 | 1.2331 | 0.7663 | 0.7663 | 21.5521 | 21.5043 | 22.3399 | 21.8038
370056 | 1.8115 | 0.8116 | 0.8116 | 21.7647 | 22.0312 | 23.9116 | 22.5937
370057 | 0.9668 | 0.8146 | 0.8146 | 18.0426 | 19.7284 | 19.2372 | 19.0104
370060 | 0.9205 | 0.8146 | 0.8146 | 23.8007 | 18.7592 | 18.0984 | 20.1632
370064 | 0.9620 | * | * | 14.1879 | 14.2053 | * | 14.1969
370065 | 1.0168 | 0.7784 | 0.7784 | 20.6537 | 20.0226 | 20.4496 | 20.3712
370072 | 0.7997 | 0.7663 | 0.7663 | 14.6387 | 99616 | 101559 | 109922
370076 | *** | * | * | 21.5461 | * | * | 21.5461
370078 | 1.5644 | 0.8146 | 0.8146 | 23.9507 | 25.4068 | 26.2455 | 25.2147
370080 | 0.8779 | 0.7663 | 0.7663 | 17.4857 | 18.0665 | 18.5141 | 17.9718
370083 | 0.9436 | 0.7663 | 0.7663 | 15.3447 | 16.8836 | 17.8617 | 16.5924
370084 | 0.9721 | 0.7663 | 0.7663 | 17.2735 | 16.6514 | 17.2101 | 17.0695
370089 | 1.1406 | 0.7663 | 0.7663 | 19.9021 | 20.4699 | 20.8401 | 20.4021
370091 | 1.5557 | 0.8146 | 0.8146 | 22.9893 | 23.3357 | 24.0027 | 23.4438
370093 | 1.5136 | 0.8857 | 0.8857 | 25.7296 | 26.9774 | 26.8853 | 26.5217
370094 | 1.3850 | 0.8857 | 0.8857 | 22.0591 | 23.1191 | 23.7154 | 22.9859
370095 | 0.9994 | * | * | 16.5310 | * | * | 16.5310
370097 | 1.2947 | 0.8116 | 0.8116 | 21.7150 | 22.3267 | 24.1980 | 22.8129
370099 | 1.0477 | 0.8146 | 0.8146 | 20.5217 | 20.5075 | 23.8980 | 21.5269
370100 | 0.9904 | 0.7663 | 0.7663 | 14.1883 | 14.7712 | 15.5623 | 14.8564
370103 | 0.9691 | 0.8003 | 0.8003 | 16.1408 | 17.8018 | 17.5353 | 17.2277
370105 | 1.8529 | 0.8857 | 0.8857 | 22.1584 | 23.8978 | 25.8829 | 24.0992
370106 | 1.3478 | 0.8857 | 0.8857 | 24.2393 | 26.5867 | 28.0721 | 26.3986
370112 | 0.9375 | 0.7761 | 0.7761 | 15.4941 | 15.4471 | 16.0671 | 15.6827
370113 | 1.1592 | 0.8599 | 0.8599 | 23.3011 | 25.3565 | 27.2827 | 25.2470
370114 | 1.5625 | 0.8146 | 0.8146 | 21.0603 | 21.7880 | 22.5180 | 21.8058
370123 | *** | * | * | 22.8174 | 25.4733 | * | 24.1041
370125 | 0.8725 | * | * | 17.2013 | 17.1361 | * | 17.1678
370138 | 1.0856 | 0.7663 | 0.7663 | 19.8308 | 18.3113 | 19.9220 | 19.3246
370139 | 0.9531 | 0.7663 | 0.7663 | 17.8900 | 18.5225 | 18.3822 | 18.2581
370148 | 1.5590 | 0.8857 | 0.8857 | 24.6194 | 25.2348 | 27.4012 | 25.7936
370149 ʰ | 1.2268 | 0.9213 | 0.9213 | 21.0608 | 22.3537 | 23.1753 | 22.3280
370153 | 1.0613 | 0.7663 | 0.7663 | 18.5417 | 19.8349 | 20.5204 | 19.6637
370156 | 0.9835 | 0.7663 | 0.7663 | 16.6572 | 19.4743 | 22.3167 | 19.3770
370158 | 1.0107 | 0.8857 | 0.8857 | 17.3161 | 18.5578 | 19.5733 | 18.4941
370166 | 0.9240 | 0.8146 | 0.8146 | 21.9070 | 23.1681 | 22.8021 | 22.6015
370169 | 0.9628 | 0.7663 | 0.7663 | 15.7686 | 15.8002 | 16.3268 | 15.9549
370170 | 0.9292 | 1.4448 | 1.4448 | * | * | * | *
370171 | 0.8716 | 1.4448 | 1.4448 | * | * | * | *
370172 | 0.8898 | 1.4448 | 1.4448 | * | * | * | *
370173 | 0.8800 | 1.4448 | 1.4448 | * | * | * | *
370174 | 0.8491 | 1.4448 | 1.4448 | * | * | * | *
370176 | 1.1636 | 0.8146 | 0.8146 | 23.0324 | 25.0509 | 25.4392 | 24.5212
370177 | 0.9561 | * | * | 15.6723 | 14.7193 | * | 15.1880
370178 | 0.8982 | 0.7663 | 0.7663 | 14.9767 | 14.6070 | 14.9388 | 14.8411
370179 | 0.9100 | * | * | 22.8322 | 23.5794 | * | 23.1700
370180 | 1.1306 | 1.4448 | 1.4448 | * | * | * | *
370183 | 0.9428 | 0.8146 | 0.8146 | 20.5025 | 21.8147 | 24.2286 | 22.1884
370190 | 1.3439 | 0.8146 | 0.8146 | 24.9455 | 33.1137 | 29.7322 | 29.3472
370192 | 1.9008 | 0.8857 | 0.8857 | 26.1338 | 31.4930 | 27.7061 | 28.3751
370196 | 0.8029 | 0.8857 | 0.8857 | 29.4383 | 22.6824 | 22.4776 | 24.9992
370199 | 0.8699 | 0.8857 | 0.8857 | 23.7340 | 26.0451 | 25.0077 | 24.9496
370200 | 1.2036 | 0.7663 | 0.7663 | 18.1008 | 17.6317 | 20.2539 | 18.6878
370201 | 1.5499 | 0.8857 | 0.8857 | 23.1240 | 23.3550 | 25.7424 | 24.0321
370202 | 1.5608 | 0.8146 | 0.8146 | 24.4920 | 25.1181 | 25.9091 | 25.2121
370203 | 1.9071 | 0.8857 | 0.8857 | 21.2426 | 23.5190 | 23.1328 | 22.6893
370206 | 1.6057 | 0.8857 | 0.8857 | 27.4495 | 26.0912 | 26.1889 | 26.4826
370209 | *** | * | * | 32.8278 | * | * | 32.8278
370210 | 2.0675 | 0.8146 | 0.8146 | 20.0360 | 21.2682 | 22.8799 | 21.4986
370211 | 1.0016 | 0.8857 | 0.8857 | * | 26.5344 | 27.6884 | 27.1417
370212 | 1.5926 | 0.8857 | 0.8857 | * | 21.0758 | 19.8743 | 20.4250
370213 | *** | * | * | * | 29.3777 | * | 29.3777
370214 | 1.0348 | 0.7663 | 0.7663 | * | * | 19.9843 | 19.9843
370215 | 2.4607 | 0.8857 | 0.8857 | * | 32.3589 | 32.1819 | 32.2582
370216 | 1.9400 | 0.8146 | 0.8146 | * | * | 26.6205 | 26.6205
370217 | *** | * | * | * | * | 26.0370 | 26.0370
370218 | 2.5671 | 0.8146 | 0.8146 | * | * | * | *
370219 | 1.9097 | * | * | * | * | * | *
370220 | 1.8202 | * | * | * | * | * | *
370222 | 1.5520 | * | * | * | * | * | *
370223 | 0.8668 | * | * | * | * | * | *
380001 | 1.3171 | 1.1405 | 1.1405 | 27.8554 | 30.0103 | 30.4600 | 29.5050
380002 | 1.2551 | 0.9956 | 0.9956 | 26.3348 | 27.1861 | 30.2136 | 27.9532
380004 | 1.7168 | 1.1405 | 1.1405 | 28.2466 | 30.5172 | 33.6461 | 30.8486
380005 | 1.3327 | 1.0836 | 1.0836 | 28.0682 | 30.2211 | 31.3173 | 29.9539
380006 | *** | * | * | 26.0475 | * | * | 26.0475
380007 | 1.9152 | 1.1405 | 1.1405 | 31.5207 | 33.9969 | 34.7305 | 33.4267
380008 | 1.2553 | * | * | 25.4494 | 25.8356 | * | 25.6457
380009 | 1.9941 | 1.1405 | 1.1405 | 30.4198 | 31.7042 | 32.6878 | 31.6241
380010 | *** | * | * | 27.5291 | 30.2957 | 35.0551 | 30.7377
380014 | 1.9349 | 1.1536 | 1.1536 | 27.7255 | 29.9648 | 34.1502 | 30.6441
380017 | 1.8577 | 1.1405 | 1.1405 | 31.7440 | 32.2447 | 34.4728 | 32.7888
380018 | 1.9551 | 1.0836 | 1.0836 | 27.8952 | 28.0701 | 31.2271 | 29.1079
380020 | 1.3797 | 1.0877 | 1.0877 | 25.8320 | 28.3563 | 30.3555 | 28.2037
380021 | 1.4905 | 1.1405 | 1.1405 | 29.3001 | 29.3295 | 29.8854 | 29.5193
380022 | 1.2577 | 1.1175 | 1.1175 | 27.8683 | 29.2642 | 30.8763 | 29.3903
380023 | 1.2202 | * | * | 23.7073 | 26.5439 | * | 25.1052
380025 | 1.3250 | 1.1405 | 1.1405 | 30.2628 | 33.2105 | 35.9576 | 33.1887
380026 | 1.1244 | * | * | 26.5217 | * | * | 26.5217
380027 | 1.2795 | 1.0525 | 1.0525 | 23.8758 | 25.5161 | 26.1995 | 25.2490
380029 | 1.2944 | 1.0527 | 1.0527 | 26.2070 | 26.9966 | 29.4873 | 27.6967
380033 | 1.7377 | 1.0877 | 1.0877 | 29.7995 | 30.8767 | 32.8129 | 31.1892
380035 | *** | * | * | 26.4784 | * | * | 26.4784
380037 | 1.3326 | 1.1405 | 1.1405 | 27.1884 | 30.5818 | 33.5871 | 30.5447
380038 | 1.3226 | 1.1405 | 1.1405 | 30.5903 | 34.2303 | 36.0814 | 33.6061
380039 | *** | * | * | 30.1544 | 32.3959 | 38.8009 | 33.4979
380040 | 1.2511 | 0.9826 | 0.9826 | 28.4373 | 32.0103 | 32.4278 | 31.1380
380047 | 1.7738 | 1.0749 | 1.0749 | 27.8385 | 29.8627 | 31.7128 | 29.8785
380050 | 1.4281 | 1.0450 | 1.0450 | 24.2416 | 25.6190 | 26.9246 | 25.6371
380051 | 1.5533 | 1.0527 | 1.0527 | 28.1305 | 29.7219 | 31.3732 | 29.7992
380052 | 1.3106 | 0.9826 | 0.9826 | 22.6799 | 24.9476 | 26.0940 | 24.5630
380056 | 1.0282 | 1.0527 | 1.0527 | 25.0068 | 25.1475 | 27.0740 | 25.8845
380060 | 1.4189 | 1.1405 | 1.1405 | 30.2507 | 30.7041 | 32.3036 | 31.1160
380061 | 1.6466 | 1.1405 | 1.1405 | 29.5145 | 29.8217 | 32.7612 | 30.7533
380066 | *** | * | * | 27.5412 | * | * | 27.5412
380071 | 1.3347 | 1.1405 | 1.1405 | 29.5740 | 30.2304 | 32.7599 | 30.8825
380072 | *** | * | * | 22.5275 | * | * | 22.5275
380075 | 1.3200 | 1.0836 | 1.0836 | 27.4795 | 29.0368 | 33.8954 | 30.0591
380081 | 1.1954 | 0.9826 | 0.9826 | 21.0708 | 21.8850 | 26.7699 | 23.2864
380082 | 1.2101 | 1.1405 | 1.1405 | 30.2721 | 32.3002 | 36.3613 | 33.0576
380089 | 1.3636 | 1.1405 | 1.1405 | 30.8396 | 33.4214 | 35.0697 | 33.0748
380090 | 1.2605 | 1.0525 | 1.0525 | 33.6822 | 34.4536 | 33.0782 | 33.7148
380091 | 1.3973 | 1.1405 | 1.1405 | 35.7002 | 33.8950 | 40.6515 | 36.7344
380100 | 1.7000 | * | * | * | * | * | *
390001 | 1.6581 | 0.9927 | 0.8503 | 22.4407 | 22.5309 | 24.2592 | 23.0730
390002 | 1.2561 | 0.8671 | 0.8671 | 23.0113 | 22.4388 | 24.6765 | 23.3793
390003 ʰ | 1.1504 | 0.9927 | 0.8503 | 21.3182 | 21.6478 | 23.1149 | 22.0126
390004 | 1.6415 | 0.9413 | 0.9413 | 23.4063 | 24.3249 | 24.8914 | 24.2683
390005 | 0.9824 | * | * | 19.0318 | * | * | 19.0318
390006 | 1.8717 | 0.9263 | 0.9263 | 23.3960 | 25.1216 | 26.9964 | 25.2038
390008 ʰ | 1.1526 | 0.8671 | 0.8671 | 21.0021 | 22.2680 | 23.1784 | 22.1394
390009 | 1.7280 | 0.8705 | 0.8705 | 24.2789 | 25.5482 | 26.4813 | 25.4517
390010 | 1.1892 | 0.8671 | 0.8671 | 21.6273 | 23.5390 | 24.0078 | 23.0255
390011 | 1.2880 | 0.8633 | 0.8633 | 19.8602 | 21.9279 | 21.5963 | 21.1099
390012 | 1.2958 | 1.1009 | 1.1009 | * | 28.5076 | 30.8519 | 29.6959
390013 | 1.2264 | 0.9263 | 0.9263 | 23.3180 | 24.0044 | 24.9820 | 24.0935
390016 ʰ | 1.2685 | 0.8671 | 0.8671 | 19.9899 | 21.9549 | 23.1263 | 21.8591
390017 | *** | * | * | 20.6575 | * | * | 20.6575
390019 | 1.1329 | 0.9927 | 0.9927 | 21.5137 | 23.4636 | 24.4718 | 23.1613
390022 | *** | * | * | 31.0971 | 29.0710 | 31.6841 | 30.5765
390023 | 1.2172 | 1.1009 | 1.1009 | 27.1600 | 31.7149 | 34.4844 | 31.2591
390024 | 0.9546 | 1.1009 | 1.1009 | 37.4330 | 35.3959 | 31.7173 | 34.4317
390025 | 0.5440 | 1.1009 | 1.1009 | 15.0282 | 17.2977 | 18.1275 | 16.8452
390026 | 1.2123 | 1.1009 | 1.1009 | 27.0802 | 29.5157 | 31.6801 | 29.4675
390027 | 1.5991 | 1.1009 | 1.1009 | 28.9159 | 35.8381 | 35.9249 | 33.5685
390028 | 1.5682 | 0.8671 | 0.8671 | 23.6616 | 25.7246 | 27.8863 | 25.7953
390029 | *** | * | * | 24.4276 | * | * | 24.4276
390030 | 1.1912 | 0.9927 | 0.9927 | 20.9859 | 22.1581 | 23.3532 | 22.1863
390031 | 1.2239 | 0.9534 | 0.9534 | 21.2949 | 22.6828 | 25.7851 | 23.2238
390032 | 1.1807 | 0.8671 | 0.8671 | 20.9971 | 22.7205 | 24.1017 | 22.5468
390035 | 1.2551 | 1.1009 | 1.1009 | 24.7281 | 26.2647 | 28.4959 | 26.5693
390036 | 1.4696 | 0.8671 | 0.8671 | 23.3858 | 24.6032 | 22.6528 | 23.5100
390037 | 1.3125 | 0.8671 | 0.8671 | 22.9008 | 24.7820 | 26.1465 | 24.6214
390039 ʰ | 1.1700 | 0.8621 | 0.8621 | 17.8461 | 20.3787 | 21.9402 | 20.0570
390040 | *** | * | * | 23.1807 | * | * | 23.1807
390041 | 1.3108 | 0.8671 | 0.8671 | 20.6789 | 21.5925 | 23.2044 | 21.7988
390042 | 1.3745 | 0.8671 | 0.8671 | 23.9632 | 25.6328 | 27.9366 | 25.8129
390043 | 1.2148 | 0.8330 | 0.8330 | 20.9835 | 22.2549 | 23.4652 | 22.2302
390044 | 1.6474 | 0.9842 | 0.9842 | 24.2586 | 27.1505 | 28.4484 | 26.6625
390045 | 1.6290 | 0.8330 | 0.8330 | 22.2582 | 23.0712 | 24.0257 | 23.1327
390046 | 1.6172 | 0.9768 | 0.9768 | 25.0825 | 27.2630 | 29.4366 | 27.2659
390048 | 1.1056 | 0.9263 | 0.9263 | 23.6622 | 24.9759 | 27.4528 | 25.4111
390049 | 1.6272 | 0.9927 | 0.9927 | 25.4056 | 27.1366 | 29.2676 | 27.3436
390050 | 1.9670 | 0.8671 | 0.8671 | 24.5424 | 26.6931 | 27.8306 | 26.3967
390052 | 1.1532 | 0.8330 | 0.8330 | 21.6736 | 23.3474 | 24.7791 | 23.2785
390054 | 1.2022 | 0.9768 | 0.8503 | 21.4983 | 22.8087 | 24.6768 | 22.9563
390055 | *** | * | * | 25.5675 | 25.6945 | * | 25.6356
390056 | 1.0719 | 0.8372 | 0.8372 | * | 19.5537 | 23.5619 | 21.4544
390057 | 1.3152 | 1.1009 | 1.1009 | 25.1901 | 27.9583 | 30.2759 | 27.8737
390058 | 1.3058 | 0.9413 | 0.9413 | 25.3415 | 27.4799 | 26.7884 | 26.4926
390061 | 1.4913 | 0.9768 | 0.9768 | 25.5012 | 28.4538 | 28.6399 | 27.5670
390062 | 1.1330 | 0.8717 | 0.8717 | 19.0692 | 21.4052 | 21.7605 | 20.7628
390063 | 1.7744 | 0.8705 | 0.8705 | 23.5469 | 24.7614 | 25.8275 | 24.7403
390065 | 1.3030 | 1.1076 | 1.1076 | 23.4021 | 25.2188 | 28.1081 | 25.5499
390066 | 1.2757 | 0.9263 | 0.9263 | 23.0891 | 24.2087 | 26.3047 | 24.5398
390067 | 1.8178 | 0.9413 | 0.9413 | 25.4576 | 26.3287 | 28.9773 | 26.8680
390068 | 1.3160 | 0.9768 | 0.9768 | 25.9890 | 25.8291 | 26.8043 | 26.1705
390070 | 1.4291 | 1.1009 | 1.1009 | 26.9235 | 30.9499 | 34.2332 | 30.7526
390071 | 0.9947 | 0.8330 | 0.8330 | 20.9443 | 21.8366 | 25.0434 | 22.4830
390072 ʰ | 1.0662 | 0.9927 | 0.8503 | 22.0155 | 24.9388 | 24.8220 | 23.8819
390073 | 1.6664 | 0.8717 | 0.8717 | 24.8013 | 26.3698 | 26.1445 | 25.7871
390074 | 1.1018 | 0.8671 | 0.8671 | 21.0941 | 22.8545 | 23.9206 | 22.6224
390075 | *** | * | * | 22.6530 | 24.6359 | * | 23.6261
390076 | 1.3847 | 1.1009 | 1.1009 | 18.1276 | 27.9004 | 31.8947 | 25.1241
390079 | 1.8657 | 0.8499 | 0.8499 | 21.4323 | 23.3053 | 22.3152 | 22.3289
390080 | 1.2658 | 1.1009 | 1.1009 | 25.0921 | 27.2616 | 29.3486 | 27.3026
390081 | 1.2210 | 1.0878 | 1.0878 | 28.7974 | 30.3840 | 32.2244 | 30.4889
390084 | 1.1741 | 0.8330 | 0.8330 | 20.7799 | 19.8605 | 21.8951 | 20.8513
390086 | 1.7187 | 0.8361 | 0.8361 | 20.7383 | 22.5317 | 23.6719 | 22.3560
390090 | 1.8335 | 0.8671 | 0.8671 | 20.7474 | 25.2014 | 27.8713 | 24.6921
390091 | 1.1438 | 0.8671 | 0.8671 | 20.8243 | 21.5586 | 22.0398 | 21.4679
390093 | 1.2262 | 0.8330 | 0.8330 | 21.0427 | 21.4401 | 22.8098 | 21.7808
390095 | 1.1833 | 0.9927 | 0.8503 | 21.0754 | 23.6240 | 21.9985 | 22.1929
390096 | 1.5833 | 0.9842 | 0.9842 | 24.4145 | 27.0763 | 28.7966 | 26.8107
390097 | 1.2509 | 1.1009 | 1.1009 | 25.3012 | 25.6660 | 26.8698 | 25.9841
390100 | 1.7379 | 0.9768 | 0.9768 | 26.7267 | 27.7208 | 28.9921 | 27.8855
390101 | 1.2730 | 0.9514 | 0.9514 | 20.1694 | 21.9418 | 22.6003 | 21.6003
390102 | 1.4104 | 0.8671 | 0.8671 | 21.6629 | 24.8898 | 25.2152 | 24.0444
390103 | 0.9404 | 0.8671 | 0.8671 | 18.6703 | 20.6775 | 20.7796 | 20.0065
390104 | 1.0839 | 0.8330 | 0.8330 | 19.1803 | 19.6428 | 19.2769 | 19.3701
390107 | 1.3848 | 0.8671 | 0.8671 | 23.1023 | 24.1386 | 24.5076 | 23.9477
390108 | 1.2431 | 1.1009 | 1.1009 | 24.7486 | 27.2661 | 27.2284 | 26.4403
390109 | 1.0688 | * | * | 18.7558 | 19.9156 | * | 19.3329
390110 | 1.6421 | 0.8671 | 0.8671 | 23.3355 | 23.9808 | 27.8192 | 24.9894
390111 | 2.0459 | 1.1009 | 1.1009 | 30.6809 | 32.6510 | 34.1737 | 32.5475
390112 ʰ | 1.1876 | 0.8621 | 0.8621 | 16.6113 | 19.2126 | 20.1316 | 18.6193
390113 | 1.3210 | 0.8673 | 0.8673 | 21.7729 | 22.2591 | 23.2491 | 22.4294
390114 | 1.3855 | 0.8671 | 0.8671 | 22.6630 | 24.0473 | 26.9445 | 24.5624
390115 | 1.4625 | 1.1009 | 1.1009 | 26.4751 | 27.7333 | 29.2480 | 27.8215
390116 | 1.2624 | 1.1009 | 1.1009 | 28.5563 | 30.2722 | 31.7572 | 30.2754
390117 | 1.1777 | 0.8330 | 0.8330 | 20.0040 | 20.3946 | 21.0086 | 20.4770
390118 | 1.1753 | 0.8330 | 0.8330 | 19.3332 | 21.5001 | 20.4058 | 20.3988
390119 | 1.2890 | 0.9927 | 0.8503 | 21.2761 | 22.2746 | 22.7221 | 22.1033
390121 | 1.7647 | 0.8717 | 0.8717 | 22.0556 | 23.1408 | 26.3071 | 23.7780
390122 | 1.1273 | 0.8330 | 0.8330 | 21.6981 | 22.5785 | 23.9861 | 22.7470
390123 | 1.1806 | 1.1009 | 1.1009 | 25.2209 | 28.6269 | 32.0389 | 28.5662
390125 | 1.2652 | 0.8330 | 0.8330 | 19.4406 | 20.9456 | 21.8553 | 20.7713
390127 | 1.2773 | 1.1009 | 1.1009 | 28.9238 | 30.9374 | 32.5496 | 30.8978
390128 | 1.1996 | 0.8671 | 0.8671 | 21.8837 | 23.1539 | 24.3440 | 23.1405
390130 | 1.2097 | 0.8633 | 0.8633 | 21.0694 | 24.0685 | 23.7197 | 22.9210
390131 | 1.3556 | 0.8671 | 0.8671 | 21.2164 | 22.6306 | 22.8611 | 22.2247
390132 | 1.4330 | 1.1009 | 1.1009 | 26.8153 | 27.7250 | 28.9482 | 27.8442
390133 | 1.6813 | 1.1009 | 1.1009 | 26.1458 | 28.7162 | 29.6905 | 28.2740
390135 | *** | * | * | * | 24.4738 | * | 24.4738
390136 | *** | * | * | 24.8042 | 22.1415 | 24.2200 | 23.7599
390137 | 1.4828 | 0.9927 | 0.8503 | 21.8830 | 23.4877 | 24.4118 | 23.2305
390138 | 1.2362 | 0.8330 | 0.8330 | 22.7210 | 24.2769 | 25.8021 | 24.2858
390139 | 1.3183 | 1.1009 | 1.1009 | 28.2089 | 30.4246 | 33.4122 | 30.7557
390142 | 1.4259 | 1.1009 | 1.1009 | 32.0827 | 32.5786 | 33.7285 | 32.8151
390145 | 1.4891 | 0.8671 | 0.8671 | 22.4255 | 23.8041 | 24.9495 | 23.7235
390146 | 1.2802 | 0.8330 | 0.8330 | 22.3260 | 25.2460 | 22.6594 | 23.4555
390147 | 1.3039 | 0.8671 | 0.8671 | 23.6380 | 25.0971 | 26.5534 | 25.0934
390150 | 1.1581 | 0.8330 | 0.8330 | 24.5256 | 24.1855 | 23.5572 | 24.0979
390151 | 1.3329 | 1.1028 | 1.1028 | 25.1422 | 27.1539 | 29.9832 | 27.4878
390152 | *** | * | * | 11.7774 | * | * | 11.7774
390153 | 1.4275 | 1.1009 | 1.1009 | 27.5167 | 30.0586 | 32.4096 | 30.1880
390154 | 1.2257 | 0.8330 | 0.8330 | 20.4408 | 20.6982 | 23.0482 | 21.3878
390156 | 1.3466 | 1.0878 | 1.0878 | 27.8096 | 31.2571 | 32.2600 | 30.3947
390157 | 1.3458 | 0.8671 | 0.8671 | 22.0222 | 22.7493 | 21.6936 | 22.1545
390160 | 1.1891 | 0.8671 | 0.8671 | 19.5942 | 21.4877 | 24.3824 | 21.8172
390162 | 1.4444 | 1.0127 | 1.0127 | * | 30.0900 | 35.4117 | 32.5988
390163 | 1.2443 | 0.8671 | 0.8671 | 19.8863 | 22.1741 | 23.0960 | 21.6744
390164 | 2.1047 | 0.8671 | 0.8671 | 25.1277 | 26.4971 | 26.4272 | 26.0933
390166 | 1.1405 | 0.8671 | 0.8671 | 20.9510 | 24.9810 | 21.2366 | 22.3853
390168 | 1.4614 | 0.8671 | 0.8671 | 21.9344 | 24.5820 | 26.1248 | 24.3161
390169 | 1.4501 | 0.9927 | 0.8503 | 24.1682 | 27.2242 | 32.0181 | 27.6964
390173 | 1.1370 | 0.8330 | 0.8330 | 21.6562 | 22.8220 | 24.2832 | 22.9513
390174 | 1.6414 | 1.1009 | 1.1009 | 30.3725 | 32.6265 | 34.7231 | 32.5879
390176 | 1.1087 | 0.8671 | 0.8671 | 17.1387 | * | 24.2733 | 19.5548
390178 | 1.3316 | 0.8815 | 0.8815 | 19.2731 | 20.7270 | 22.5141 | 20.8263
390179 | 1.4585 | 1.1009 | 1.1009 | 24.8350 | 27.2222 | 28.3835 | 26.8460
390180 | 1.4150 | 1.0878 | 1.0878 | 30.4264 | 32.4375 | 35.3578 | 32.7463
390181 | 1.0829 | 0.8330 | 0.8330 | 25.7357 | 24.4573 | 26.0384 | 25.3889
390183 | 1.1072 | 0.8330 | 0.8330 | 22.0117 | 25.6554 | 27.5253 | 24.9187
390184 | 1.2051 | 0.8671 | 0.8671 | 21.3407 | 22.5519 | 23.0254 | 22.3289
390185 | 1.2931 | 0.9768 | 0.8503 | 21.8871 | 23.0202 | 25.8770 | 23.6157
390189 | 1.1310 | 0.8330 | 0.8330 | 21.2711 | 22.3722 | 23.2078 | 22.3630
390191 | 1.1347 | * | * | 19.2308 | 20.8761 | * | 20.0637
390192 | 1.0319 | 0.9927 | 0.8503 | 20.0395 | 21.2620 | 21.2310 | 20.8428
390193 | *** | * | * | 18.5516 | 20.1024 | * | 19.3425
390194 | 1.1231 | 0.9927 | 0.9927 | 23.1814 | 25.4235 | 27.5277 | 25.4082
390195 | 1.5955 | 1.1009 | 1.1009 | 28.3480 | 31.0019 | 33.2707 | 30.9412
390197 | 1.3853 | 0.9927 | 0.9927 | 24.9234 | 25.7739 | 26.2868 | 25.6606
390198 | 1.1139 | 0.8705 | 0.8705 | 16.8529 | 18.7222 | 20.8448 | 18.7246
390199 | 1.1937 | 0.8330 | 0.8330 | 19.9653 | 21.3157 | 22.4727 | 21.2413
390200 | *** | * | * | 23.1486 | 23.7471 | * | 23.4231
390201 | 1.2935 | 0.8330 | 0.8330 | 24.8222 | 26.3658 | 27.5466 | 26.2970
390203 | 1.6839 | 1.1009 | 1.1009 | 28.2741 | 28.9054 | 30.2714 | 29.1517
390204 | 1.2831 | 1.1009 | 1.1009 | 25.6342 | 28.6829 | 29.6658 | 28.0375
390211 | 1.2440 | 0.8815 | 0.8815 | 22.4472 | 23.1450 | 24.3990 | 23.3310
390215 | *** | * | * | 26.4180 | 28.0402 | * | 27.0961
390217 | 1.2022 | 0.8671 | 0.8671 | 21.3281 | 24.3610 | 23.6716 | 23.0524
390219 | 1.3065 | 0.8671 | 0.8671 | 22.8559 | 25.1705 | 25.2892 | 24.4016
390220 | 1.0838 | 1.1009 | 1.1009 | 24.7553 | 41.6138 | 28.3573 | 30.6553
390222 | 1.2542 | 1.0878 | 1.0878 | 27.0954 | 28.7488 | 30.5995 | 28.8443
390223 | 1.9980 | 1.1009 | 1.1009 | 28.2538 | 27.6407 | 29.4647 | 28.4678
390224 | 0.8611 | * | * | 18.1226 | 18.7624 | * | 18.4428
390225 | 1.1891 | 0.9768 | 0.9768 | 23.4945 | 24.9391 | 27.2964 | 25.3940
390226 | 1.7575 | 1.1009 | 1.1009 | 27.0061 | 28.5890 | 32.2766 | 29.3055
390228 | 1.3685 | 0.8671 | 0.8671 | 22.5999 | 23.3078 | 24.5021 | 23.4828
390231 | 1.4447 | 1.1009 | 1.1009 | 27.0576 | 29.2653 | 30.8464 | 29.0891
390233 | 1.3526 | 0.9514 | 0.9514 | 22.8667 | 24.8690 | 25.3424 | 24.3814
390236 | 1.1748 | 0.8330 | 0.8330 | 21.9199 | 21.9169 | 22.6902 | 22.1761
390237 | 1.5683 | 0.9927 | 0.8503 | 24.6316 | 26.9533 | 27.0591 | 26.1468
390238 | *** | * | * | 26.4748 | * | * | 26.4748
390246 | 1.1657 | 0.8330 | 0.8330 | 23.3275 | 20.1581 | 25.5357 | 22.7908
390256 | 1.8697 | 0.9413 | 0.9413 | 24.2331 | 26.3619 | 28.6363 | 26.4469
390258 | 1.5418 | 1.1009 | 1.1009 | 27.2038 | 29.4626 | 30.3079 | 29.0897
390263 | 1.4554 | 0.9927 | 0.9927 | 23.4202 | 26.0170 | 27.8037 | 25.8192
390265 | 1.4944 | 0.8671 | 0.8671 | 21.6751 | 23.4836 | 24.6360 | 23.2649
390266 | 1.1801 | 0.8815 | 0.8815 | 19.2836 | 20.3918 | 21.2245 | 20.3113
390267 | 1.1852 | 0.8671 | 0.8671 | 22.5464 | 23.1051 | 24.4937 | 23.3733
390268 | 1.3621 | 0.8804 | 0.8804 | 24.2050 | 25.0021 | 26.0621 | 25.1256
390270 | 1.4700 | 0.9768 | 0.8503 | 24.0837 | 24.1496 | 25.6462 | 24.6744
390272 | 0.5282 | 1.1009 | 1.1009 | * | * | * | *
390278 | 0.5405 | 1.1009 | 1.1009 | 21.6893 | 23.6843 | 24.1725 | 23.1303
390279 | 1.1033 | * | * | 15.3569 | 17.0012 | * | 16.1698
390285 | 1.4961 | 1.1009 | 1.1009 | 33.5347 | 35.0427 | 37.2793 | 35.2062
390286 | 1.1710 | 1.1009 | 1.1009 | 27.4090 | 28.1761 | 29.6638 | 28.3830
390287 | *** | * | * | 35.7147 | 37.6569 | 38.9525 | 37.4292
390288 | *** | * | * | 28.5267 | 29.7287 | 30.9493 | 29.7053
390289 | *** | * | * | 28.4577 | 28.8826 | 30.7464 | 29.2939
390290 | 1.9127 | 1.1009 | 1.1009 | 36.4991 | 37.9040 | 37.9834 | 37.4690
390291 | *** | * | * | 21.3015 | * | * | 21.3015
390298 | *** | * | * | 26.8290 | * | * | 26.8290
390299 | *** | * | * | 31.9423 | * | * | 31.9423
390300 | *** | * | * | 40.4697 | * | * | 40.4697
390301 | *** | * | * | * | 30.9838 | * | 30.9838
390302 | 2.1291 | * | * | * | * | * | *
390303 | *** | * | * | * | * | 27.8974 | 27.8974
390304 | 1.2893 | 1.1009 | 1.1009 | * | * | 30.8572 | 30.8572
390307 | 2.0672 | 0.8815 | 0.8815 | * | * | * | *
390308 | 0.8968 | 1.1009 | 1.1009 | * | * | * | *
390309 | 1.1904 | 1.1009 | 1.1009 | * | * | * | *
390310 | 2.5154 | 0.8330 | 0.8330 | * | * | * | *
400001 | 1.3197 | 0.4396 | 0.4396 | 16.1114 | 13.1847 | 13.9703 | 14.2429
400002 | 1.7815 | 0.4852 | 0.4852 | 14.8607 | 16.7583 | 15.8300 | 15.7293
400003 | 1.2707 | 0.4852 | 0.4852 | 13.0776 | 12.8329 | 14.2278 | 13.3681
400004 | 1.2677 | 0.4396 | 0.4396 | 104716 | 14.3108 | 12.0952 | 12.1371
400005 | 1.1979 | 0.4396 | 0.4396 | 102878 | 107207 | 108193 | 106148
400006 | 1.1645 | 0.4396 | 0.4396 | 89919 | 92265 | 81860 | 87958
400007 | 1.2128 | 0.4396 | 0.4396 | 87152 | 92463 | 102084 | 93717
400009 | 1.0167 | 0.3242 | 0.3242 | 92007 | 93116 | 93834 | 93007
400010 | 0.8436 | 0.3917 | 0.3917 | 109354 | 100962 | 100781 | 103657
400011 | 1.0360 | 0.4396 | 0.4396 | 85868 | 85534 | 97022 | 89770
400012 | 1.4590 | 0.4396 | 0.4396 | 83580 | 83802 | 11.9435 | 93674
400013 | 1.2317 | 0.4396 | 0.4396 | 95584 | 103347 | 108428 | 102803
400014 | 1.3296 | 0.3856 | 0.3856 | 11.7023 | 12.2169 | 105871 | 11.4707
400015 | 1.3552 | 0.4396 | 0.4396 | 15.6066 | 15.6349 | 13.7075 | 14.9492
400016 | 1.4419 | 0.4396 | 0.4396 | 15.3497 | 14.7607 | 16.5449 | 15.5555
400017 | 1.1236 | 0.4396 | 0.4396 | 101238 | 102734 | 103148 | 102269
400018 | 1.1948 | 0.4396 | 0.4396 | 107948 | 11.6165 | 11.7496 | 11.4151
400019 | 1.4382 | 0.4396 | 0.4396 | 14.9892 | 12.8029 | 12.8992 | 13.4598
400021 | 1.3198 | 0.4884 | 0.4884 | 13.8643 | 14.1533 | 14.4649 | 14.1568
400022 | 1.3733 | 0.4852 | 0.4852 | 16.0539 | 15.9246 | 15.3806 | 15.7699
400024 | 0.8278 | 0.3856 | 0.3856 | 91316 | 12.4649 | 105851 | 104594
400026 | 1.0863 | 0.3242 | 0.3242 | 5.2085 | 5.8200 | 99034 | 6.4832
400028 | 1.2282 | 0.4852 | 0.4852 | 103354 | 109808 | 11.4583 | 109391
400032 | 1.1613 | 0.4396 | 0.4396 | 107195 | 102652 | 103523 | 104470
400044 | 1.2533 | 0.4852 | 0.4852 | 107890 | 13.7509 | 15.0643 | 13.2982
400048 | 1.1305 | 0.4396 | 0.4396 | 14.0887 | 104266 | 96590 | 11.4085
400061 | 1.8741 | 0.4396 | 0.4396 | 15.1639 | 18.9123 | 18.1083 | 17.4205
400079 | 1.1751 | 0.3917 | 0.3917 | 94218 | 12.7825 | 97136 | 104627
400087 | 1.2553 | 0.4396 | 0.4396 | 95860 | 106849 | 11.1382 | 104923
400094 | *** | * | * | 88646 | * | * | 88646
400098 | 1.3208 | 0.4396 | 0.4396 | 13.7938 | 12.8230 | 14.0632 | 13.4998
400102 | 1.2898 | 0.4396 | 0.4396 | 101795 | 102677 | 105904 | 103382
400103 | 1.6742 | 0.3856 | 0.3856 | 12.8288 | 93859 | 108059 | 106890
400104 | 1.1455 | 0.4396 | 0.4396 | 82758 | 93854 | 11.4349 | 97084
400105 | 1.1547 | 0.4396 | 0.4396 | 12.7725 | 14.0219 | 15.6682 | 14.1165
400106 | 1.1415 | 0.4396 | 0.4396 | 96902 | 11.4507 | 107533 | 106057
400109 | 1.4063 | 0.4396 | 0.4396 | 14.2169 | 14.2111 | 14.3015 | 14.2434
400110 | 1.1588 | 0.3861 | 0.3861 | 11.8458 | 12.3449 | 11.4297 | 11.8994
400111 | 1.0981 | 0.3917 | 0.3917 | 13.4777 | 14.5029 | 14.5980 | 14.1786
400112 | 1.1494 | 0.4396 | 0.4396 | 89469 | 19.3945 | 101536 | 11.4865
400113 | 1.2376 | 0.4852 | 0.4852 | 100830 | 96778 | 108360 | 101888
400114 | 1.1480 | 0.4396 | 0.4396 | 12.1920 | 11.5478 | 101147 | 11.2106
400115 | 1.1597 | 0.4396 | 0.4396 | 91132 | 13.7392 | 12.3253 | 11.4989
400117 | 1.1245 | 0.4396 | 0.4396 | 102911 | 12.7600 | 102910 | 11.0109
400118 | 1.2557 | 0.4396 | 0.4396 | 11.9324 | 12.5743 | 12.8655 | 12.4718
400120 | 1.3081 | 0.4396 | 0.4396 | 11.9714 | 12.7955 | 13.5787 | 12.8169
400121 | 1.0060 | 0.4396 | 0.4396 | 86665 | 82197 | 97450 | 88283
400122 | 1.9098 | 0.4396 | 0.4396 | 96463 | 11.2325 | 89500 | 101687
400123 | 1.2218 | 0.3856 | 0.3856 | 11.8135 | 12.3041 | 13.1036 | 12.4082
400124 | 2.9200 | 0.4396 | 0.4396 | 17.2258 | 16.1812 | 17.5453 | 16.9794
400125 | 1.1716 | 0.4047 | 0.4047 | 107425 | 11.6386 | 11.9805 | 11.4266
400126 | 1.2506 | 0.4884 | 0.4884 | 13.3932 | 98008 | 14.4278 | 11.9045
400127 | 1.6978 | 0.4396 | 0.4396 | * | * | * | *
400128 | 1.0326 | * | * | * | * | * | *
410001 | 1.2798 | 1.0791 | 1.0791 | 27.0309 | 28.0816 | 28.7232 | 27.9407
410004 | 1.2554 | 1.0791 | 1.0791 | 25.4578 | 27.4209 | 29.8160 | 27.5282
410005 | 1.2518 | 1.0791 | 1.0791 | 27.1171 | 30.1606 | 28.0170 | 28.4104
410006 | 1.3408 | 1.0791 | 1.0791 | 27.1842 | 29.4395 | 30.4938 | 29.0529
410007 | 1.6795 | 1.0791 | 1.0791 | 30.1360 | 31.8548 | 33.2082 | 31.8053
410008 | 1.2437 | 1.0791 | 1.0791 | 28.4245 | 29.6092 | 30.7042 | 29.5882
410009 | 1.2546 | 1.0791 | 1.0791 | 27.7337 | 29.4094 | 31.8827 | 29.7343
410010 | 1.2153 | 1.1318 | 1.1318 | 30.7826 | 32.8599 | 33.1837 | 32.3515
410011 | 1.3425 | 1.0791 | 1.0791 | 28.5875 | 30.3787 | 34.1277 | 30.9611
410012 | 1.7592 | 1.1318 | 1.1318 | 32.1679 | 32.6009 | 34.2578 | 33.0696
410013 | 1.2452 | 1.2020 | 1.2020 | 31.7482 | 35.4624 | 36.1627 | 34.4667
420002 | 1.5071 | 0.9520 | 0.9520 | 27.9312 | 28.2848 | 29.6120 | 28.6309
420004 | 1.9971 | 0.9168 | 0.9168 | 26.0279 | 27.2620 | 28.2541 | 27.2127
420005 | 1.0520 | 0.8604 | 0.8604 | 19.8167 | 23.1943 | 24.2198 | 22.4053
420006 | *** | * | * | 22.8920 | 24.0811 | 24.5609 | 23.8460
420007 | 1.6133 | 0.9286 | 0.9286 | 25.0395 | 25.2650 | 27.2262 | 25.8946
420009 | 1.4085 | 0.9286 | 0.9286 | 23.8668 | 25.5079 | 27.3791 | 25.6316
420010 | 1.1727 | 0.8604 | 0.8604 | 21.6478 | 23.4562 | 24.2841 | 23.1799
420011 | 1.2007 | 0.9708 | 0.9708 | 20.8895 | 21.4030 | 21.7568 | 21.3667
420014 | *** | * | * | 21.5658 | * | * | 21.5658
420015 | 1.3233 | 0.9708 | 0.9708 | 24.7383 | 26.2154 | 21.2872 | 23.9502
420016 | 0.9804 | 0.8604 | 0.8604 | 17.3837 | 17.1229 | 20.8597 | 18.3791
420018 | 1.7486 | 0.8604 | 0.8604 | 23.6356 | 24.8024 | 21.8989 | 23.4144
420019 | 1.0789 | 0.8604 | 0.8604 | 20.5472 | 22.5312 | 21.4165 | 21.4730
420020 | 1.2657 | 0.9168 | 0.9168 | 24.6592 | 25.8883 | 27.8386 | 26.1025
420023 | 1.7023 | 0.9708 | 0.9708 | 25.1035 | 26.7263 | 27.9657 | 26.5640
420026 | 1.9244 | 0.8604 | 0.8604 | 29.2961 | 27.4814 | 28.0609 | 28.2225
420027 | 1.6213 | 0.9286 | 0.9286 | 22.8322 | 25.1692 | 26.4925 | 24.8853
420030 | 1.2546 | 0.9168 | 0.9168 | 24.2847 | 26.0079 | 27.0672 | 25.7933
420033 | 1.1348 | 0.9708 | 0.9708 | 27.5740 | 31.8759 | 31.3764 | 30.3043
420036 | 1.2159 | 0.9520 | 0.9520 | 21.9641 | 22.8294 | 23.9791 | 22.9381
420037 | 1.3078 | 0.9708 | 0.9708 | 26.8750 | 29.4156 | 30.4783 | 28.9942
420038 | 1.2810 | 0.9708 | 0.9708 | 22.6741 | 24.2259 | 26.1603 | 24.3482
420039 | 1.0969 | 0.9192 | 0.9192 | 24.0637 | 25.1148 | 27.2085 | 25.4527
420043 ʰ | 1.1624 | 0.9369 | 0.9369 | 22.9764 | 23.0555 | 23.3824 | 23.1477
420048 | 1.2633 | 0.8604 | 0.8604 | 23.1515 | 24.1923 | 26.0899 | 24.4888
420049 | 1.2698 | 0.8819 | 0.8819 | 23.2156 | 23.9722 | 25.5048 | 24.2429
420051 | 1.5632 | 0.8604 | 0.8604 | 23.9455 | 24.8026 | 24.8652 | 24.5591
420053 | 1.1371 | 0.8604 | 0.8604 | 21.1177 | 22.2825 | 22.7135 | 22.0833
420054 | 1.0765 | 0.8604 | 0.8604 | 24.0653 | 24.8931 | 24.8011 | 24.5877
420055 | 1.0631 | 0.8604 | 0.8604 | 20.3599 | 21.9764 | 23.3168 | 21.9025
420056 | 1.3401 | 0.8604 | 0.8604 | 21.1640 | 21.6963 | 23.9218 | 22.2405
420057 | 1.2668 | 0.8604 | 0.8604 | 19.7653 | 23.4311 | 22.2186 | 21.7975
420059 | 1.0763 | * | * | 21.4260 | * | * | 21.4260
420061 | *** | * | * | 20.8684 | * | * | 20.8684
420062 | 1.0673 | 0.8739 | 0.8739 | 25.6683 | 25.9526 | 26.9629 | 26.2354
420064 | 1.2144 | 0.8819 | 0.8819 | 22.1290 | 23.3610 | 24.2786 | 23.2388
420065 | 1.4215 | 0.9168 | 0.9168 | 22.8674 | 24.5715 | 25.3741 | 24.2923
420066 | 0.9904 | 0.8604 | 0.8604 | 20.5893 | 23.9048 | 24.4148 | 22.9867
420067 | 1.3417 | 0.8958 | 0.8958 | 24.6038 | 25.0345 | 25.3722 | 25.0243
420068 | 1.3345 | 0.9554 | 0.9554 | 22.2638 | 23.4248 | 25.2900 | 23.6594
420069 | 1.1105 | 0.8604 | 0.8604 | 19.6959 | 20.5546 | 21.6426 | 20.6460
420070 | 1.3141 | 0.8604 | 0.8604 | 22.4370 | 23.4355 | 23.9471 | 23.3117
420071 | 1.4059 | 0.9286 | 0.9286 | 23.1727 | 24.9418 | 25.6422 | 24.6317
420072 | 1.0863 | 0.8604 | 0.8604 | 17.5899 | 18.6742 | 17.2143 | 17.8091
420073 | 1.3790 | 0.8604 | 0.8604 | 24.0274 | 24.5813 | 25.8074 | 24.8472
420075 | 0.9046 | * | * | 16.4816 | * | * | 16.4816
420078 | 1.8782 | 0.9708 | 0.9708 | 25.3032 | 28.9112 | 30.1670 | 28.1072
420079 | 1.5771 | 0.9168 | 0.9168 | 25.2939 | 25.4935 | 26.9725 | 25.9340
420080 | 1.4619 | 0.8958 | 0.8958 | 28.4569 | 28.4734 | 29.0327 | 28.6601
420082 | 1.5148 | 0.9681 | 0.9681 | 26.1221 | 29.8528 | 30.7503 | 28.8866
420083 | 1.4829 | 0.9286 | 0.9286 | 25.3043 | 27.1322 | 26.9176 | 26.4627
420085 | 1.5804 | 0.9516 | 0.9516 | 25.3180 | 26.8692 | 27.7993 | 26.6577
420086 | 1.4224 | 0.8604 | 0.8604 | 25.1372 | 25.8869 | 21.7594 | 24.0808
420087 | 1.8048 | 0.9168 | 0.9168 | 23.2230 | 24.3609 | 25.4810 | 24.3588
420088 | *** | * | * | 23.1273 | * | * | 23.1273
420089 | 1.3305 | 0.9168 | 0.9168 | 25.2729 | 26.0074 | 28.9297 | 26.7899
420091 | 1.3534 | 0.8604 | 0.8604 | 23.4710 | 26.9214 | 26.0435 | 25.5227
420093 | *** | * | * | 25.1457 | 27.4766 | 28.6727 | 27.2207
420097 | *** | * | * | 24.7809 | * | * | 24.7809
420098 | 1.1589 | 0.8639 | 0.8639 | * | * | 31.3940 | 31.3940
420100 | 1.9085 | * | * | * | * | * | *
420101 | 1.0458 | * | * | * | * | * | *
430005 | 1.3298 | 1.0359 | 0.8485 | 19.9454 | 22.3272 | 23.0896 | 21.7517
430008 ² | 1.0746 | 0.9456 | 0.9559 | 20.9442 | 23.3790 | 24.6127 | 22.8729
430011 | *** | * | * | 20.6597 | * | * | 20.6597
430012 | 1.2579 | 0.9456 | 0.9456 | 22.7530 | 24.0850 | 24.9285 | 23.9166
430013 ² | 1.1791 | 0.9456 | 0.9559 | 22.9675 | 25.1378 | 26.5894 | 24.8973
430014 | 1.3196 | 0.8485 | 0.8485 | 25.5387 | 26.4964 | 27.4732 | 26.5372
430015 | 1.1709 | 0.9456 | 0.8485 | 23.2035 | 22.7947 | 23.8702 | 23.2928
430016 | 1.6875 | 0.9559 | 0.9559 | 26.1495 | 27.8453 | 30.2136 | 28.0429
430027 | 1.7911 | 0.9559 | 0.9559 | 23.8477 | 26.2139 | 26.9443 | 25.7330
430029 | 0.8746 | * | * | 20.2708 | * | * | 20.2708
430031 ² | 0.9582 | * | * | 15.6112 | 16.0346 | * | 15.8232
430043 | *** | * | * | 17.2722 | * | * | 17.2722
430047 | 1.0053 | * | * | 21.9116 | 18.8982 | * | 20.4712
430048 | 1.3110 | 0.9456 | 0.8485 | 21.1718 | 23.0783 | 24.1611 | 22.8614
430060 | 0.9031 | 0.9456 | 0.8485 | 102704 | * | 11.7945 | 109543
430064 | 1.0621 | 0.9456 | 0.8485 | 16.4314 | 17.5376 | 17.2636 | 17.0895
430077 | 1.7585 | 0.9456 | 1.0359 | 23.4835 | 25.1763 | 31.1834 | 26.6659
430081 | 0.8530 | 1.4448 | 1.4448 | * | * | * | *
430082 | 0.7949 | 1.4448 | 1.4448 | * | * | * | *
430083 | 0.8473 | 1.4448 | 1.4448 | * | * | * | *
430084 | 0.9005 | 1.4448 | 1.4448 | * | * | * | *
430085 | 0.8408 | 1.4448 | 1.4448 | * | * | * | *
430089 | 1.6831 | 0.9201 | 0.9201 | 21.1109 | 22.5625 | 23.6025 | 22.5500
430090 | 1.4802 | 0.9559 | 0.9559 | 26.0851 | 25.8460 | 28.9461 | 27.1155
430091 | 2.1668 | 0.9456 | 1.0359 | 23.8897 | 24.3021 | 25.8667 | 24.7276
430092 | 1.8623 | 0.8485 | 0.8485 | 20.2570 | 20.9486 | 23.4758 | 21.5566
430093 | 0.9304 | 1.0359 | 1.0359 | 23.1526 | 29.5244 | 30.0783 | 27.8638
430094 | 1.4722 | 0.9154 | 0.9154 | 18.5429 | 18.9099 | 22.5333 | 19.9282
430095 | 2.4917 | 0.9559 | 0.9559 | 24.7074 | 28.1749 | 29.8113 | 27.7110
430096 | 1.9427 | 0.8485 | 0.8485 | * | 21.6998 | 22.6901 | 22.1655
440001 | 1.1169 | 0.8070 | 0.8070 | 17.4802 | 19.3100 | 20.2649 | 19.0060
440002 | 1.7066 | 0.9032 | 0.9032 | 23.2177 | 24.6664 | 25.9742 | 24.6541
440003 | 1.2347 | 0.9853 | 0.9853 | 24.5168 | 25.9209 | 28.8489 | 26.4731
440006 | 1.4887 | 0.9853 | 0.9853 | 26.7983 | 28.5951 | 29.6894 | 28.3900
440007 | 0.9516 | 0.7957 | 0.7957 | 13.7042 | 25.8236 | 19.4053 | 18.8359
440008 | 1.0250 | 0.8640 | 0.8640 | 22.1405 | 23.4301 | 23.3316 | 22.9571
440009 | 1.1899 | 0.7957 | 0.7957 | 21.1274 | 21.5970 | 23.1758 | 22.0061
440010 | 0.9646 | 0.7957 | 0.7957 | 16.9060 | 17.1803 | 18.2555 | 17.4628
440011 | 1.3341 | 0.8278 | 0.8278 | 21.6861 | 22.5068 | 23.9451 | 22.7588
440012 | 1.5557 | 0.8078 | 0.8078 | 21.4769 | 22.3029 | 23.7400 | 22.4984
440015 | 1.8501 | 0.8278 | 0.8278 | 22.5583 | 23.7422 | 25.0126 | 23.7907
440016 | 1.0145 | 0.7957 | 0.7957 | 20.0982 | 22.1646 | 22.6177 | 21.6373
440017 | 1.8336 | 0.8078 | 0.8078 | 22.5313 | 22.9364 | 24.4189 | 23.3049
440018 | 1.1147 | 0.8070 | 0.8070 | 21.7239 | 23.3444 | 23.3049 | 22.8330
440019 | 1.7779 | 0.8278 | 0.8278 | 23.8802 | 25.2553 | 25.8265 | 24.9572
440020 | 1.0317 | 0.8829 | 0.8829 | 23.1718 | 23.9475 | 23.5480 | 23.5575
440023 | 0.9906 | * | * | 17.0335 | * | * | 17.0335
440024 | 1.3361 | 0.8841 | 0.8841 | 20.3658 | 23.2716 | 23.6564 | 22.4300
440025 | 1.1289 | 0.8607 | 0.8607 | 19.5995 | 20.6798 | 21.4831 | 20.6130
440026 | 0.6849 | * | * | 26.9149 | 26.8986 | 28.1548 | 27.3132
440029 | 1.3750 | 0.9853 | 0.9853 | 25.8538 | 28.0779 | 29.2583 | 27.8141
440030 | 1.3551 | 0.8013 | 0.8013 | 20.0586 | 22.1217 | 23.8651 | 22.0702
440031 | 1.1563 | 0.7957 | 0.7957 | 18.0944 | 19.6685 | 20.3131 | 19.3798
440032 | 1.1223 | 0.8062 | 0.8062 | 16.0734 | 18.5277 | 19.6994 | 18.1087
440033 | 1.0675 | 0.7957 | 0.7957 | 18.7749 | 20.7917 | 20.0504 | 19.8739
440034 | 1.6231 | 0.8278 | 0.8278 | 23.1121 | 23.5403 | 24.4772 | 23.7187
440035 | 1.3627 | 0.9571 | 0.9571 | 22.3230 | 24.3752 | 26.2379 | 24.3199
440039 | 2.1248 | 0.9853 | 0.9853 | 26.4647 | 28.4678 | 29.9015 | 28.3486
440040 | 0.9305 | 0.7957 | 0.7957 | 17.7647 | 17.8510 | 18.2335 | 17.9564
440041 | 0.9605 | * | * | 17.4074 | 17.9409 | * | 17.6972
440046 | 1.1823 | 0.9853 | 0.9853 | 25.5329 | 26.1341 | 27.6435 | 26.4633
440047 | 0.8929 | 0.8456 | 0.8456 | 20.4812 | 21.4280 | 22.3132 | 21.4112
440048 | 1.8553 | 0.9367 | 0.9367 | 24.3283 | 27.7560 | 29.3776 | 27.0718
440049 | 1.6271 | 0.9367 | 0.9367 | 22.9755 | 25.3043 | 26.9042 | 25.0712
440050 | 1.3256 | 0.9110 | 0.9110 | 21.8972 | 23.1362 | 24.6283 | 23.2518
440051 | 0.9873 | 0.8061 | 0.8061 | 20.7948 | 21.9108 | 23.7561 | 22.1363
440052 | 1.0493 | 0.7957 | 0.7957 | 20.1875 | 21.1133 | 21.8224 | 21.0640
440053 | 1.2859 | 0.9853 | 0.9853 | 23.9083 | 25.4345 | 27.2143 | 25.5366
440054 | 1.1108 | 0.7957 | 0.7957 | 20.5992 | 21.4400 | 22.9137 | 21.6206
440056 | 1.1517 | 0.8278 | 0.8278 | 20.4088 | 22.1068 | 22.6402 | 21.8021
440057 | 1.0894 | 0.7957 | 0.7957 | 14.6242 | 16.4451 | 16.2043 | 15.7807
440058 | 1.1733 | 0.8841 | 0.8841 | 22.6014 | 22.9263 | 24.5733 | 23.3536
440059 | 1.5230 | 0.9571 | 0.9571 | 23.9301 | 26.3551 | 27.0398 | 25.7416
440060 | 1.1113 | 0.8640 | 0.8640 | 22.7133 | 23.3014 | 24.2289 | 23.4440
440061 | 1.0612 | 0.7957 | 0.7957 | 21.2085 | 21.8274 | 23.7972 | 22.1762
440063 | 1.5519 | 0.8081 | 0.8081 | 21.8578 | 22.3256 | 24.2436 | 22.8424
440064 | 1.0269 | 0.8965 | 0.8965 | 20.9742 | 22.0955 | 23.2881 | 22.0874
440065 | 1.2273 | 0.9853 | 0.9853 | 21.4794 | 22.3247 | 24.5839 | 22.8185
440067 | 1.1704 | 0.8278 | 0.8278 | 22.1410 | 23.1089 | 23.6433 | 22.9820
440068 | 1.1108 | 0.8841 | 0.8841 | 23.1705 | 24.5971 | 25.5084 | 24.4008
440070 | 0.9767 | 0.7957 | 0.7957 | 19.0240 | 19.4372 | 19.0125 | 19.1532
440072 | 1.1510 | 0.9032 | 0.9032 | 20.9294 | 27.1443 | 24.1118 | 23.7250
440073 | 1.4478 | 0.9571 | 0.9571 | 22.2959 | 23.9198 | 26.0153 | 24.0664
440081 ʰ | 1.1987 | 0.8278 | 0.8278 | 19.0328 | 19.7878 | 20.6628 | 19.8630
440082 | 2.1349 | 0.9853 | 0.9853 | 28.7828 | 27.9724 | 30.5997 | 29.1230
440083 | 0.9462 | 0.7957 | 0.7957 | 16.0956 | 17.3329 | 23.4452 | 18.9853
440084 | 1.2049 | 0.7957 | 0.7957 | 15.2825 | 16.3738 | 17.5206 | 16.4229
440091 | 1.6877 | 0.8965 | 0.8965 | 26.1122 | 25.6797 | 26.8144 | 26.2154
440102 | 1.1120 | 0.7957 | 0.7957 | 17.5140 | 17.5261 | 20.0410 | 18.3603
440104 | 1.8282 | 0.8965 | 0.8965 | 23.3731 | 25.3739 | 26.5346 | 25.1499
440105 | 1.0151 | 0.8081 | 0.8081 | 20.7821 | 22.3438 | 22.6923 | 21.9737
440109 | 0.9889 | 0.7957 | 0.7957 | 18.2508 | 18.6720 | 19.6599 | 18.8870
440110 | 1.1019 | 0.8278 | 0.8278 | 20.9039 | 21.3287 | 21.2955 | 21.1604
440111 | 1.2995 | 0.9853 | 0.9853 | 25.8821 | 28.5705 | 29.5053 | 27.9706
440114 | 1.0157 | * | * | 21.4271 | 24.0147 | * | 22.7665
440115 | 0.9925 | 0.8456 | 0.8456 | 20.0642 | 21.7830 | 22.4307 | 21.4405
440120 | 1.5709 | 0.8278 | 0.8278 | 23.9003 | 25.5961 | 26.0172 | 25.1825
440125 | 1.6399 | 0.8278 | 0.8278 | 21.9337 | 22.4196 | 22.9618 | 22.4439
440130 | 1.1653 | 0.7957 | 0.7957 | 21.6480 | 23.4517 | 24.3338 | 23.1392
440131 | 1.1555 | 0.9367 | 0.9367 | 22.4119 | 24.9598 | 26.2835 | 24.5883
440132 | 1.2915 | 0.7957 | 0.7957 | 20.5716 | 21.5085 | 23.0374 | 21.6966
440133 | 1.6608 | 0.9853 | 0.9853 | 27.5019 | 26.2422 | 28.9034 | 27.5284
440135 | 1.0517 | 0.7957 | 0.7957 | 25.3928 | 26.6615 | 28.4307 | 26.8611
440137 | 1.0820 | 0.7957 | 0.7957 | 18.2073 | 20.6663 | 21.9678 | 20.1924
440141 | 1.0091 | 0.7957 | 0.7957 | 19.4528 | 21.3313 | 22.2645 | 21.1533
440143 | 0.9346 | * | * | 21.0374 | * | * | 21.0374
440144 | 1.2554 | 0.7957 | 0.7957 | 22.3671 | 23.3828 | 23.6094 | 23.1261
440145 | 0.9924 | * | * | 20.9863 | 20.7875 | * | 20.8882
440147 | *** | * | * | 28.9038 | 31.4012 | 33.3608 | 31.2464
440148 | 1.1184 | 0.9571 | 0.9571 | 23.0697 | 24.6412 | 24.2554 | 23.9966
440149 | 1.0243 | * | * | 19.8020 | 20.4562 | * | 20.1312
440150 | 1.3664 | 0.9853 | 0.9853 | 25.4952 | 26.8308 | 28.3249 | 26.8782
440151 | 1.0878 | 0.9571 | 0.9571 | 23.3037 | 23.9808 | 26.7603 | 24.6946
440152 | 1.8573 | 0.9367 | 0.9367 | 25.9495 | 26.5513 | 27.0829 | 26.5411
440153 | 1.0530 | 0.7964 | 0.7964 | 22.7744 | 22.2846 | 22.7501 | 22.6002
440156 | 1.5372 | 0.8965 | 0.8965 | 25.6333 | 26.9689 | 27.8265 | 26.8113
440159 | 1.4567 | 0.9367 | 0.9367 | 21.1073 | 22.8645 | 24.4882 | 22.9041
440161 | 1.7891 | 0.9853 | 0.9853 | 28.6774 | * | 29.5526 | 29.1459
440162 | *** | * | * | 16.5305 | 21.1418 | 28.0859 | 21.5406
440166 | *** | * | * | 27.1355 | 31.0779 | 35.4275 | 30.5015
440168 | 0.9738 | 0.9367 | 0.9367 | 22.1764 | 22.8768 | 27.8781 | 24.3442
440173 | 1.6130 | 0.8278 | 0.8278 | 20.8723 | 22.8846 | 22.9918 | 22.2791
440174 | 0.8839 | 0.8329 | 0.8329 | 20.7960 | 22.0974 | 24.1697 | 22.3179
440175 | 1.0159 | 0.9571 | 0.9571 | 24.0005 | 22.7299 | 24.6413 | 23.7639
440176 | 1.2251 | 0.8078 | 0.8078 | 22.0079 | 23.6659 | 23.1222 | 22.9749
440180 | 1.2535 | 0.8278 | 0.8278 | 21.9781 | 23.3808 | 25.2167 | 23.6141
440181 | 0.9526 | 0.8364 | 0.8364 | 21.1406 | 22.7150 | 24.3293 | 22.7527
440182 | 0.9870 | 0.7957 | 0.7957 | 20.2630 | 22.3612 | 23.2013 | 21.9586
440183 | 1.6248 | 0.9367 | 0.9367 | 27.7769 | 27.1515 | 28.8310 | 27.9092
440184 | 1.0336 | 0.8081 | 0.8081 | 20.8219 | 22.3475 | 24.3699 | 22.4690
440185 | 1.1495 | 0.8841 | 0.8841 | 23.4172 | 23.9052 | 25.1022 | 24.2246
440186 | 1.0327 | 0.9853 | 0.9853 | 24.6773 | 25.7445 | 27.3448 | 25.9302
440187 | 1.1095 | 0.7957 | 0.7957 | 21.7637 | 21.3252 | 22.8652 | 21.9897
440189 | 1.3834 | 0.8860 | 0.8860 | 24.7851 | 27.5435 | 27.8595 | 26.7516
440192 | 1.0715 | 0.9571 | 0.9571 | 25.1119 | 25.7495 | 26.7266 | 25.8889
440193 | 1.2853 | 0.9853 | 0.9853 | 24.3911 | 24.4299 | 24.8439 | 24.5603
440194 | 1.3338 | 0.9853 | 0.9853 | 26.2498 | 26.6527 | 29.9809 | 27.7279
440197 | 1.3107 | 0.9853 | 0.9853 | 26.4999 | 27.1534 | 29.6975 | 27.7361
440200 | 0.9957 | 0.9853 | 0.9853 | 17.0633 | 17.7491 | 19.9962 | 18.2529
440203 | 0.9226 | 0.7957 | 0.7957 | 17.7639 | 19.3864 | 23.2355 | 19.8845
440217 | 1.3383 | 0.9367 | 0.9367 | 25.9667 | 28.5968 | 29.4892 | 28.0654
440218 | 1.7741 | 0.9853 | 0.9853 | 26.3741 | 24.6465 | 24.3645 | 25.3056
440222 | 0.9844 | 0.9367 | 0.9367 | 28.3879 | 29.7292 | 29.2515 | 29.1278
440225 | 0.8475 | 0.8278 | 0.8278 | * | * | 26.4444 | 26.4444
440226 | 1.5408 | 0.8278 | 0.8278 | * | * | 26.5721 | 26.5721
440227 | 1.2278 | 0.9853 | 0.9853 | * | * | * | *
440228 | 1.3652 | 0.9367 | 0.9367 | * | * | * | *
450002 | 1.4375 | 0.9101 | 0.9101 | 25.4975 | 25.7171 | 28.0968 | 26.4037
450005 | 1.0954 | 0.8612 | 0.8612 | 23.4049 | 23.5576 | 24.8874 | 23.9095
450007 | 1.3241 | 0.8859 | 0.8859 | 19.2875 | 20.7321 | 22.7681 | 20.9365
450008 | 1.2987 | 0.9131 | 0.9131 | 22.0934 | 22.9669 | 25.4507 | 23.5297
450010 | 1.6039 | 0.8790 | 0.8360 | 22.4133 | 23.7529 | 25.0592 | 23.7488
450011 | 1.7202 | 0.9064 | 0.9064 | 24.1576 | 24.8831 | 27.0743 | 25.3503
450014 | *** | * | * | 22.5001 | * | * | 22.5001
450015 | 1.5860 | 1.0087 | 1.0087 | 24.0730 | 27.4012 | 29.3737 | 26.9851
450016 | *** | * | * | 22.1368 | * | * | 22.1368
450018 | 1.5062 | 1.0030 | 1.0030 | 24.6443 | 26.7999 | 28.5226 | 26.6104
450020 | 0.9622 | * | * | 17.7148 | 18.3047 | * | 18.0203
450021 | 1.8322 | 1.0087 | 1.0087 | 28.5578 | 29.1350 | 30.1831 | 29.2883
450023 | 1.4320 | 0.8554 | 0.8554 | 20.9278 | 22.0558 | 25.5410 | 22.7444
450024 | 1.4841 | 0.9101 | 0.9101 | 22.4178 | 24.4195 | 25.4622 | 24.1268
450028 | 1.5344 | 0.9474 | 0.9474 | 25.6030 | 26.8250 | 27.7693 | 26.7175
450029 | 1.5535 | 0.8003 | 0.8003 | 23.9709 | 23.2995 | 23.7005 | 23.6494
450031 | 1.4013 | 1.0087 | 1.0087 | 27.0328 | 27.9626 | 29.4827 | 28.2223
450032 | 1.1925 | 0.8715 | 0.8715 | 20.8306 | 27.0748 | 21.2720 | 22.8525
450033 | 1.6629 | 0.9474 | 0.9474 | 29.0541 | 28.4781 | 28.5174 | 28.6719
450034 | 1.5793 | 0.8612 | 0.8612 | 23.4615 | 24.1589 | 26.2069 | 24.5798
450035 | 1.5477 | 1.0030 | 1.0030 | 25.4580 | 26.2838 | 28.3361 | 26.6364
450037 | 1.5982 | 0.8905 | 0.8905 | 23.1176 | 24.2684 | 26.3292 | 24.6149
450039 | 1.3819 | 0.9870 | 0.9870 | 23.3034 | 24.7347 | 26.2041 | 24.8293
450040 | 1.7828 | 0.8626 | 0.8626 | 23.8047 | 24.9590 | 25.9125 | 24.8722
450042 | 1.7951 | 0.8653 | 0.8653 | 22.6936 | 24.1181 | 26.6885 | 24.5021
450044 | 1.7267 | 1.0087 | 1.0087 | 25.8403 | 29.4308 | 32.4768 | 29.3230
450046 | 1.5874 | 0.8578 | 0.8578 | 22.0695 | 23.4907 | 25.3629 | 23.6516
450047 | 0.8361 | 0.9474 | 0.9474 | 22.7242 | 19.8221 | 21.2384 | 21.2173
450050 | 0.9114 | * | * | 21.6933 | 23.3044 | * | 22.5039
450051 | 1.8871 | 1.0087 | 1.0087 | 27.2523 | 28.0411 | 29.5795 | 28.3261
450052 | 0.9776 | 0.8003 | 0.8003 | 19.7185 | 19.7774 | 21.1995 | 20.1263
450053 | 0.9826 | 0.8003 | 0.8003 | 19.4978 | 21.9082 | 20.4980 | 20.6324
450054 | 1.7608 | 0.9131 | 0.9131 | 25.1229 | 24.2782 | 27.7869 | 25.6677
450055 | 1.1174 | 0.8003 | 0.8003 | 20.5235 | 22.1979 | 22.4127 | 21.7257
450056 | 1.8144 | 0.9360 | 0.9360 | 25.6685 | 27.0530 | 28.2252 | 26.8936
450058 | 1.5775 | 0.8859 | 0.8859 | 24.7442 | 25.9653 | 26.8533 | 25.8582
450059 | 1.3376 | 0.9360 | 0.9360 | 26.8209 | 26.6535 | 27.4391 | 26.9795
450064 | 1.4386 | 0.9870 | 0.9870 | 24.2920 | 23.8748 | 27.5350 | 25.2944
450068 | 2.0792 | 1.0030 | 1.0030 | 26.2864 | 27.9633 | 29.9491 | 28.0965
450072 | 1.1764 | 1.0030 | 1.0030 | 22.5010 | 24.0166 | 25.3658 | 23.9560
450073 | 0.9681 | 0.8051 | 0.8051 | 20.0464 | 21.7337 | 24.6840 | 22.0875
450078 | 0.9553 | 0.8003 | 0.8003 | 17.2196 | 15.8968 | 18.2067 | 17.0494
450079 | 1.6954 | 1.0087 | 1.0087 | 27.0443 | 28.1096 | 29.8969 | 28.2854
450080 | 1.2691 | 0.8905 | 0.8905 | 21.2482 | 22.9835 | 27.2213 | 23.6862
450082 | 1.0789 | 0.8003 | 0.8003 | 20.9113 | 22.0442 | 23.3125 | 22.0908
450083 | 1.7780 | 0.8854 | 0.8854 | 24.9182 | 25.8214 | 27.2160 | 26.0725
450085 | 1.0382 | 0.8003 | 0.8003 | 19.4524 | 22.0840 | 23.4732 | 21.7012
450087 | 1.4483 | 0.9870 | 0.9870 | 26.4203 | 29.1587 | 30.0371 | 28.5792
450090 | 1.2044 | 0.8003 | 0.8003 | 17.6506 | 19.4244 | 20.9803 | 19.3653
450092 | 1.2084 | 0.8003 | 0.8003 | 20.4921 | 23.2071 | 23.9641 | 22.5714
450094 | *** | * | * | 25.3618 | 25.2434 | * | 25.3030
450096 | 1.4283 | 0.8612 | 0.8612 | 22.8722 | 24.1619 | 26.1563 | 24.3175
450097 | 1.4526 | 1.0030 | 1.0030 | 24.9380 | 26.4965 | 28.2316 | 26.5557
450098 | 0.9594 | * | * | 22.9005 | 22.6626 | * | 22.7778
450099 | 1.2289 | 0.9177 | 0.9177 | 24.0293 | 26.6796 | 28.8288 | 26.4791
450101 | 1.5872 | 0.8653 | 0.8653 | 20.6575 | 23.6905 | 24.8496 | 23.0430
450102 | 1.8228 | 0.8854 | 0.8854 | 23.1773 | 24.5503 | 25.3756 | 24.3986
450104 | 1.2091 | 0.8859 | 0.8859 | 22.5165 | 23.8469 | 23.3944 | 23.2732
450107 | 1.4218 | 0.9101 | 0.9101 | 23.8770 | 25.9326 | 27.9184 | 25.8765
450108 | 1.1901 | 0.8859 | 0.8859 | 19.3561 | 19.4935 | 20.2479 | 19.7198
450112 | *** | * | * | 22.5552 | * | * | 22.5552
450113 | *** | * | * | * | 54.6681 | * | 54.6681
450119 | 1.2924 | 0.8790 | 0.8790 | 24.1392 | 25.7008 | 27.6154 | 25.8461
450121 | 1.4829 | 0.9870 | 0.9870 | 25.8826 | 25.7051 | 29.0897 | 26.9221
450123 | 1.0580 | 0.8612 | 0.8612 | 19.5872 | 21.2154 | 23.0469 | 21.1313
450124 | 1.8874 | 0.9360 | 0.9360 | 26.0280 | 27.4198 | 28.1018 | 27.2284
450126 | 1.3432 | 1.0030 | 1.0030 | 27.3021 | 28.3033 | 28.8116 | 28.2181
450128 | 1.2314 | 0.8790 | 0.8790 | 21.4190 | 23.3633 | 24.1195 | 22.9163
450130 | 1.2180 | 0.8859 | 0.8859 | 20.2777 | 21.5226 | 23.5398 | 21.8292
450131 | *** | * | * | 23.2317 | 23.7098 | 26.3279 | 24.2678
450132 | 1.5414 | 1.0119 | 1.0119 | 26.8476 | 28.6954 | 30.2134 | 28.5936
450133 | 1.6337 | 0.9802 | 0.9802 | 25.0972 | 26.8344 | 29.2478 | 27.1707
450135 | 1.6922 | 0.9870 | 0.9870 | 24.3858 | 26.0755 | 27.9663 | 26.2251
450137 | 1.6056 | 0.9870 | 0.9870 | 27.0081 | 30.4254 | 31.4048 | 29.7868
450140 | *** | * | * | 22.4695 | * | * | 22.4695
450143 | 1.0146 | 0.9360 | 0.9360 | 19.7487 | 21.8705 | 22.5280 | 21.4534
450144 | 1.0731 | 0.9737 | 0.9737 | 20.9599 | 21.3289 | 25.6368 | 22.5854
450147 | 1.4387 | 0.8554 | 0.8554 | 24.6203 | 23.9771 | 25.0247 | 24.5527
450148 | 1.1848 | 0.9870 | 0.9870 | 23.5037 | 25.3498 | 27.5125 | 25.5034
450151 | 1.2027 | 0.8003 | 0.8003 | 20.1356 | 22.2915 | 23.2545 | 21.9494
450152 | 1.2274 | 0.9131 | 0.9131 | 21.6351 | 22.7463 | 24.1970 | 22.8540
450154 | 1.3702 | 0.8003 | 0.8003 | 18.6058 | 21.2021 | 20.7952 | 20.1904
450155 | 1.0271 | 0.8003 | 0.8003 | 17.9306 | 18.0589 | 21.3482 | 19.0936
450157 | *** | * | * | 17.8812 | * | * | 17.8812
450160 | 0.8255 | * | * | 21.9118 | * | * | 21.9118
450162 | 1.3087 | 0.8626 | 0.8626 | 31.0645 | 30.9903 | 31.9964 | 31.3817
450163 | 1.0883 | 0.8137 | 0.8137 | 20.3280 | 23.1400 | 23.4148 | 22.2842
450165 | 1.0794 | 0.8859 | 0.8859 | 20.2414 | 24.3242 | 27.6487 | 24.0511
450176 | 1.3564 | 0.8790 | 0.8790 | 20.9392 | 20.9297 | 23.6030 | 21.8256
450177 | 1.1934 | 0.8003 | 0.8003 | 19.7657 | 21.3322 | 22.6615 | 21.2531
450178 | 0.9382 | 0.8003 | 0.8003 | 20.2992 | 24.7301 | 23.9597 | 22.8868
450184 | 1.5480 | 1.0030 | 1.0030 | 25.3935 | 26.7821 | 28.4921 | 26.9217
450185 | *** | * | * | 15.5838 | * | * | 15.5838
450187 | 1.1744 | 1.0030 | 1.0030 | 24.2400 | 25.6786 | 28.2045 | 26.0900
450188 | 0.9551 | 0.8003 | 0.8003 | 18.9586 | 20.4070 | 21.4250 | 20.3073
450191 | 1.1747 | 0.9360 | 0.9360 | 25.9078 | 26.0298 | 27.2533 | 26.4251
450192 | 1.1719 | 0.9870 | 0.9870 | 22.5118 | 22.5880 | 23.8534 | 22.9951
450193 | 2.0371 | 1.0030 | 1.0030 | 29.2751 | 32.2964 | 34.3517 | 32.0480
450194 | 1.3875 | 0.9870 | 0.9870 | 22.3348 | 24.8972 | 23.5660 | 23.5448
450196 | 1.4334 | 0.9870 | 0.9870 | 23.6170 | 24.7557 | 24.6006 | 24.3267
450200 | 1.4680 | 0.8133 | 0.8133 | 22.0923 | 23.5344 | 24.2489 | 23.3064
450201 | 0.9908 | 0.8003 | 0.8003 | 20.3350 | 20.9809 | 21.3642 | 20.8932
450203 | 1.1593 | 0.9591 | 0.9591 | 23.3953 | 24.1675 | 25.9236 | 24.5529
450209 | 1.9505 | 0.9177 | 0.9177 | 24.4977 | 26.0958 | 27.3634 | 25.9724
450210 | 0.9811 | 0.8003 | 0.8003 | 19.6340 | 19.9832 | 21.1245 | 20.2859
450211 | 1.3657 | 1.0030 | 1.0030 | 20.7982 | 23.8230 | 26.8071 | 23.6708
450213 | 1.7804 | 0.8859 | 0.8859 | 21.7930 | 23.9676 | 25.1261 | 23.6580
450214 | 1.1756 | 1.0030 | 1.0030 | 23.9112 | 25.9598 | 27.1030 | 25.6581
450219 | 0.9943 | 0.8003 | 0.8003 | 20.8255 | 21.7934 | 22.0150 | 21.5883
450221 | 1.1342 | 0.8003 | 0.8003 | 20.6887 | 20.3186 | 18.7121 | 19.9030
450222 | 1.6242 | 1.0030 | 1.0030 | 26.2975 | 27.4426 | 30.3939 | 28.0745
450224 | 1.3688 | 0.8854 | 0.8854 | 22.2250 | 24.1956 | 26.8950 | 24.3799
450229 | 1.6311 | 0.8051 | 0.8051 | 19.8279 | 21.4459 | 23.2333 | 21.5168
450231 | 1.6305 | 0.9177 | 0.9177 | 23.9532 | 25.2852 | 26.9729 | 25.4493
450234 | 1.0419 | 0.8003 | 0.8003 | 23.6695 | 18.4451 | 19.9093 | 20.4175
450235 | 1.0212 | 0.8003 | 0.8003 | 19.1453 | 21.5138 | 22.5969 | 21.1410
450236 | 1.1103 | 0.8003 | 0.8003 | 19.2987 | 22.0788 | 22.4149 | 21.2880
450237 | 1.6433 | 0.8859 | 0.8859 | 25.1504 | 24.8901 | 26.2898 | 25.4597
450239 | 0.9627 | 0.9131 | 0.9131 | 21.8595 | 21.1945 | 21.1113 | 21.3735
450241 | 1.0459 | 0.8003 | 0.8003 | 18.1155 | 18.7957 | 19.3886 | 18.7815
450243 | 0.9884 | 0.8003 | 0.8003 | 14.0589 | 15.4636 | 13.3360 | 14.2632
450249 | *** | * | * | 16.5616 | * | * | 16.5616
450253 | 0.9522 | 1.0030 | 1.0030 | 19.6379 | 20.6124 | 23.1000 | 21.1869
450264 | *** | * | * | 15.4111 | * | * | 15.4111
450269 | *** | * | * | 14.8204 | * | * | 14.8204
450270 | 1.2028 | 0.8003 | 0.8003 | 15.0879 | 14.4325 | 14.7319 | 14.7323
450271 | 1.1409 | 0.9591 | 0.9591 | 19.4299 | 21.7719 | 23.0668 | 21.5257
450272 | 1.2287 | 0.9360 | 0.9360 | 23.7933 | 25.7392 | 26.1100 | 25.2204
450276 | 0.9774 | * | * | 16.0264 | 16.6319 | * | 16.3591
450280 | 1.4735 | 1.0087 | 1.0087 | 27.4523 | 28.7233 | 29.7601 | 28.6474
450283 | 1.0773 | 0.9870 | 0.9870 | 20.0069 | 20.9680 | 22.1481 | 21.1023
450289 | 1.3615 | 1.0030 | 1.0030 | 27.3864 | 28.5665 | 31.2375 | 29.0702
450292 | 1.2387 | 1.0087 | 1.0087 | 23.5330 | 25.0411 | 26.9725 | 25.1945
450293 | 0.9057 | 0.8003 | 0.8003 | 20.0898 | 21.3136 | 21.3044 | 20.9173
450296 | 1.0558 | 1.0030 | 1.0030 | 29.2006 | 27.9690 | 29.3120 | 28.8474
450299 | 1.5796 | 0.9064 | 0.9064 | 25.8183 | 26.4933 | 28.2325 | 26.8807
450306 | 0.9244 | 0.8051 | 0.8051 | 14.6699 | 15.9854 | 18.7874 | 16.2370
450315 | 2.5813 | * | * | 27.9780 | * | 37.5788 | 29.8209
450324 | 1.5411 | 0.8677 | 0.8677 | 23.6362 | 24.9128 | 25.2508 | 24.6392
450330 | 1.1740 | 1.0030 | 1.0030 | 24.4310 | 25.5820 | 26.3863 | 25.4943
450340 | 1.4257 | 0.8385 | 0.8385 | 22.7826 | 24.0636 | 24.9329 | 23.9318
450346 | 1.4440 | 0.8612 | 0.8612 | 21.9717 | 22.2469 | 23.2733 | 22.5272
450347 | 1.1769 | 1.0030 | 1.0030 | 22.8133 | 27.2203 | 28.3157 | 26.0371
450348 | 1.0382 | 0.8003 | 0.8003 | 17.0198 | 18.7675 | 20.1752 | 18.7139
450351 | 1.3031 | 0.9591 | 0.9591 | 23.5895 | 25.6859 | 27.1819 | 25.5145
450352 | 1.1235 | 1.0087 | 1.0087 | 23.4297 | 24.8012 | 26.8535 | 24.9931
450353 | *** | * | * | 20.9271 | 24.4454 | 26.2804 | 23.7695
450358 | 1.9767 | 1.0030 | 1.0030 | 29.3408 | 30.4280 | 31.6216 | 30.5511
450362 | 1.0967 | * | * | 22.0223 | 25.4372 | * | 23.7705
450369 | 1.0336 | 0.8003 | 0.8003 | 17.5360 | 18.4848 | 18.6148 | 18.2736
450370 | 1.2149 | 0.8261 | 0.8261 | 22.6815 | 20.0832 | 23.1229 | 21.8052
450372 | 1.3337 | 1.0087 | 1.0087 | 26.8019 | 28.3359 | 31.1141 | 28.7696
450373 | 0.9464 | 0.8003 | 0.8003 | 20.5789 | 22.2213 | 24.4712 | 22.5214
450374 | 0.9179 | * | * | 17.4509 | 23.2285 | * | 19.8412
450378 | 1.4503 | 1.0030 | 1.0030 | 29.5108 | 30.7684 | 31.4184 | 30.5485
450379 | 1.3615 | 1.0087 | 1.0087 | 31.1573 | 30.6072 | 33.2816 | 31.6637
450381 | 0.8992 | * | * | 20.9200 | 22.0482 | * | 21.4845
450388 | 1.6213 | 0.8859 | 0.8859 | 24.1598 | 25.8674 | 26.9369 | 25.8147
450389 | 1.2133 | 0.9870 | 0.9870 | 22.3803 | 23.8764 | 25.8283 | 24.1448
450393 | 0.6586 | * | * | 24.6872 | 18.4551 | 21.5604 | 21.5244
450395 | 1.0000 | 1.0030 | 1.0030 | 23.9689 | 24.8656 | 25.9571 | 25.0000
450399 | 0.9374 | 0.8003 | 0.8003 | 19.5928 | 18.2074 | 19.0372 | 18.9411
450400 | 1.2473 | 0.8653 | 0.8653 | 22.0103 | 23.1739 | 23.2029 | 22.8044
450403 | 1.3393 | 1.0087 | 1.0087 | 27.8138 | 29.3063 | 29.0923 | 28.7792
450411 | 0.9521 | 0.8003 | 0.8003 | 17.6570 | 19.6086 | 19.9183 | 19.1051
450417 | 0.8854 | * | * | 17.8078 | 20.0350 | * | 18.9286
450418 | 1.1696 | 1.0030 | 1.0030 | 27.0283 | 26.8434 | 28.2373 | 27.2737
450419 | 1.2390 | 0.9870 | 0.9870 | 28.4122 | 31.0404 | 32.0315 | 30.5226
450422 | 0.8834 | 1.0087 | 1.0087 | 29.5592 | 30.6659 | 33.8259 | 31.3662
450424 | 1.3624 | 1.0030 | 1.0030 | 23.1253 | 28.3149 | 28.0195 | 26.6839
450431 | 1.5063 | 0.9360 | 0.9360 | 24.7346 | 25.2477 | 26.9028 | 25.6684
450438 | 1.1610 | 1.0030 | 1.0030 | 22.0476 | 21.9351 | 24.2571 | 22.6852
450446 | 0.6285 | 1.0030 | 1.0030 | 14.9983 | 14.3132 | 17.4158 | 15.4882
450447 | 1.2969 | 0.9870 | 0.9870 | 22.5602 | 23.5047 | 25.6376 | 23.9060
450451 | 1.0902 | 0.9591 | 0.9591 | 22.3834 | 23.3042 | 24.3091 | 23.3428
450460 | 0.9462 | 0.8003 | 0.8003 | 19.5709 | 20.5812 | 20.8068 | 20.3488
450462 | 1.6945 | 1.0087 | 1.0087 | 25.6952 | 27.8923 | 29.2836 | 27.6909
450465 | 1.1297 | 0.8438 | 0.8438 | 23.0130 | 22.4183 | 25.7148 | 23.7820
450469 | 1.5249 | 0.8677 | 0.8677 | 26.6781 | 28.7890 | 25.4635 | 27.0045
450475 | 1.0410 | 0.8905 | 0.8905 | 20.7983 | 23.5596 | 22.5480 | 22.3012
450484 | 1.3812 | 0.8905 | 0.8905 | 23.0604 | 25.3527 | 27.0061 | 25.1666
450488 | 1.0576 | 0.8905 | 0.8905 | 22.3949 | 23.9144 | 21.6331 | 22.6563
450489 | 1.0092 | 0.8003 | 0.8003 | 19.6884 | 21.4771 | 21.5002 | 20.9158
450497 | 1.0331 | 0.8003 | 0.8003 | 17.6614 | 18.8344 | 20.3909 | 18.9764
450498 | 0.8847 | 0.8003 | 0.8003 | 16.4358 | 17.7822 | 17.2624 | 17.1563
450508 | 1.4788 | 0.8854 | 0.8854 | 23.5066 | 23.9572 | 27.4558 | 25.0231
450514 | 1.1107 | 0.8612 | 0.8612 | 21.4034 | 22.6552 | 25.9817 | 23.3480
450517 | 0.9001 | * | * | 15.2707 | * | * | 15.2707
450518 | 1.5203 | 0.8612 | 0.8612 | 22.2587 | 24.1194 | 27.9953 | 24.8239
450523 | *** | * | * | 28.6387 | * | * | 28.6387
450530 | 1.2387 | 1.0030 | 1.0030 | 26.1998 | 28.7451 | 28.7154 | 27.9282
450534 | *** | * | * | 20.4715 | * | * | 20.4715
450535 | *** | * | * | 29.4427 | * | * | 29.4427
450537 | 1.4256 | 1.0087 | 1.0087 | 23.9256 | 27.5856 | 29.2821 | 26.9543
450539 | 1.1901 | 0.8003 | 0.8003 | 20.0343 | 21.0442 | 22.4081 | 21.1538
450545 | *** | * | * | 22.8130 | * | * | 22.8130
450547 | 0.9991 | 0.9870 | 0.9870 | 21.8106 | 21.6542 | 23.5794 | 22.4240
450558 | 1.8627 | 0.8051 | 0.8051 | 25.0837 | 26.1551 | 27.2223 | 26.1445
450563 | 1.4314 | 0.9870 | 0.9870 | 27.9427 | 28.7289 | 31.4753 | 29.4391
450565 | 1.3311 | 0.8489 | 0.8489 | 22.1971 | 23.8847 | 25.0379 | 23.7440
450571 | 1.5740 | 0.8385 | 0.8385 | 20.9651 | 22.7703 | 24.7674 | 22.8421
450573 | 1.1346 | 0.8003 | 0.8003 | 21.6974 | 20.1479 | 21.0286 | 20.9450
450578 | 0.9184 | 0.8003 | 0.8003 | 20.0454 | 20.2695 | 22.5427 | 20.9417
450580 | 1.0999 | 0.8003 | 0.8003 | 20.4293 | 21.1574 | 21.0151 | 20.8713
450584 | 1.0160 | 0.8003 | 0.8003 | 19.0373 | 21.0808 | 20.0078 | 20.0299
450586 | 0.9542 | 0.8003 | 0.8003 | 14.6574 | 16.1003 | 16.9880 | 15.9586
450587 | 1.2144 | 0.8003 | 0.8003 | 19.9712 | 20.4512 | 22.8245 | 21.1183
450591 | 1.1954 | 1.0030 | 1.0030 | 22.4991 | 23.9992 | 24.9309 | 23.8280
450596 ʰ | 1.2159 | 1.0399 | 1.0399 | 24.7477 | 25.3317 | 27.4357 | 25.8078
450597 | 0.9663 | 0.8080 | 0.8080 | 22.9337 | 23.1711 | 24.0480 | 23.3921
450604 | 1.3085 | 0.8003 | 0.8003 | 20.5273 | 20.9514 | 23.5413 | 21.7183
450605 | 1.0415 | 0.8578 | 0.8578 | 23.8820 | 22.2205 | 21.2497 | 22.3978
450609 | *** | * | * | 18.3856 | * | * | 18.3856
450610 | 1.6427 | 1.0030 | 1.0030 | 22.5451 | 26.8710 | 28.0329 | 25.7712
450615 | 0.9957 | 0.8003 | 0.8003 | 18.2166 | 20.3028 | 20.8595 | 19.8661
450617 | 1.5118 | 1.0030 | 1.0030 | 25.2211 | 26.5026 | 28.0634 | 26.6443
450620 | 0.9569 | 0.8003 | 0.8003 | 18.1819 | 17.7138 | 18.2630 | 18.0543
450623 | 1.1273 | * | * | 28.3354 | 28.3552 | * | 28.3456
450626 | 0.8874 | * | * | 21.4445 | 26.8375 | * | 23.9299
450630 | 1.5750 | 1.0030 | 1.0030 | 27.8856 | 29.6796 | 29.5706 | 29.0278
450631 | *** | * | * | 24.5409 | * | * | 24.5409
450634 | 1.6821 | 1.0087 | 1.0087 | 27.0412 | 28.1705 | 28.8277 | 28.0452
450638 | 1.6272 | 1.0030 | 1.0030 | 29.5385 | 29.6184 | 31.5382 | 30.2289
450639 | 1.4555 | 0.9870 | 0.9870 | 27.3593 | 29.2669 | 30.5176 | 29.1141
450641 | 1.0274 | 0.8003 | 0.8003 | 17.0805 | 17.5845 | 18.0724 | 17.5796
450643 | 1.3388 | 0.8003 | 0.8003 | 20.9674 | 21.1205 | 22.0843 | 21.4069
450644 | 1.5418 | 1.0030 | 1.0030 | 27.2047 | 29.0186 | 30.0261 | 28.8421
450646 | 1.3775 | 0.9101 | 0.9101 | 22.6541 | 23.8908 | 25.2251 | 23.9445
450647 | 1.8824 | 1.0087 | 1.0087 | 28.8881 | 30.7334 | 31.6069 | 30.4271
450648 | *** | * | * | 18.2826 | * | * | 18.2826
450649 | *** | * | * | 18.1118 | * | * | 18.1118
450651 | 1.5268 | 1.0087 | 1.0087 | 28.9829 | 32.4822 | 31.4063 | 30.9883
450653 | 1.1680 | 0.9602 | 0.9602 | 21.8654 | 23.2603 | 24.9719 | 23.3175
450654 | 0.9380 | 0.8003 | 0.8003 | 19.6054 | 19.9992 | 20.3563 | 20.0116
450656 | 1.4785 | 0.8854 | 0.8854 | 22.7284 | 23.8280 | 24.8352 | 23.7707
450658 | 0.9159 | 0.8003 | 0.8003 | 19.9597 | 20.5398 | 22.5532 | 21.0378
450659 | 1.4296 | 1.0030 | 1.0030 | 28.8671 | 30.1727 | 30.9251 | 30.0073
450661 | 1.0957 | 1.0119 | 1.0119 | 21.5537 | 23.2989 | 30.1358 | 25.0485
450662 | 1.5098 | 0.9474 | 0.9474 | 24.5815 | 28.0913 | 28.8369 | 27.1837
450665 | 0.9162 | * | * | 17.2566 | 18.6054 | * | 17.9420
450668 | 1.5089 | 0.9101 | 0.9101 | 26.4508 | 26.2375 | 28.4134 | 27.0380
450669 | 1.2095 | 1.0087 | 1.0087 | 25.6411 | 27.4507 | 28.4801 | 27.2455
450670 | 1.3966 | 1.0030 | 1.0030 | 22.0495 | 25.1575 | 25.6979 | 24.2873
450672 | 1.7679 | 0.9870 | 0.9870 | 26.7785 | 27.6359 | 29.8113 | 28.0976
450673 | *** | * | * | 19.4030 | * | * | 19.4030
450674 | 0.9764 | 1.0030 | 1.0030 | 26.8081 | * | 29.9733 | 28.3959
450675 | 1.4004 | 0.9870 | 0.9870 | 26.1555 | 28.7765 | 29.1940 | 28.1661
450677 | 1.3370 | 0.9870 | 0.9870 | 24.0218 | 27.3728 | 26.2333 | 25.8722
450678 | 1.4692 | 1.0087 | 1.0087 | 30.1134 | 30.1500 | 31.5997 | 30.6214
450683 | 1.1779 | 1.0087 | 1.0087 | 24.0080 | 24.6609 | 27.8588 | 25.4486
450684 | 1.2365 | 1.0030 | 1.0030 | 26.2906 | 27.6789 | 29.5071 | 27.8823
450686 | 1.6848 | 0.8626 | 0.8626 | 21.0565 | 23.2367 | 24.1869 | 22.8496
450688 | 1.1915 | 1.0087 | 1.0087 | 23.7796 | 27.9057 | 27.1644 | 26.2965
450690 | 1.4400 | 0.8854 | 0.8854 | 28.7529 | 28.2531 | 26.2559 | 27.8629
450694 | 1.0611 | 1.0030 | 1.0030 | 22.3081 | 23.5790 | 23.7874 | 23.2343
450697 | 1.4245 | 0.8859 | 0.8859 | 21.2662 | 23.7155 | 25.2110 | 23.5525
450698 | 0.8804 | 0.8003 | 0.8003 | 18.5436 | 18.6494 | 18.9770 | 18.7269
450700 | 0.9190 | * | * | 18.6373 | * | * | 18.6373
450702 | 1.5435 | 0.8905 | 0.8905 | 24.8628 | 25.6147 | 27.5215 | 26.0104
450709 | 1.2686 | 1.0030 | 1.0030 | 25.0932 | 25.4855 | 27.0908 | 25.8993
450711 | 1.5506 | 0.8790 | 0.8790 | 24.8277 | 28.0104 | 26.9466 | 26.5934
450713 | 1.5698 | 0.9360 | 0.9360 | 26.7190 | 27.2801 | 28.2291 | 27.4332
450715 | 1.2907 | 1.0087 | 1.0087 | 16.1897 | 28.0365 | 16.2866 | 18.8856
450716 | 1.2709 | 1.0030 | 1.0030 | 28.8043 | 30.8440 | 32.5978 | 30.7792
450718 | 1.2315 | 0.9360 | 0.9360 | 27.6672 | 27.3408 | 28.2838 | 27.7793
450723 | 1.4898 | 1.0087 | 1.0087 | 27.0055 | 28.0812 | 29.0905 | 28.0969
450730 | 1.1844 | 1.0087 | 1.0087 | 30.7567 | 29.9430 | 31.7101 | 30.8172
450733 | *** | * | * | 25.5624 | 26.4976 | * | 26.0340
450742 | 1.2041 | 1.0087 | 1.0087 | 26.3414 | 26.1190 | 26.9752 | 26.5000
450743 | 1.5163 | 1.0087 | 1.0087 | 24.7397 | 27.3213 | 28.8273 | 27.0434
450746 | 0.9459 | 0.8003 | 0.8003 | 16.9209 | 12.4748 | 18.6717 | 15.8396
450747 | 1.2804 | 0.9870 | 0.9870 | 24.2674 | 22.2870 | 24.3035 | 23.6023
450749 | 1.0008 | 0.8003 | 0.8003 | 18.4095 | 17.8227 | 19.0712 | 18.4140
450751 | *** | * | * | 22.9070 | 19.3265 | 18.5972 | 20.2183
450754 | 0.9187 | 0.8003 | 0.8003 | 21.3043 | 20.8968 | 21.5435 | 21.2570
450755 | 0.9654 | 0.8626 | 0.8626 | 19.5168 | 18.0092 | 18.3374 | 18.5256
450758 | 1.9150 | 1.0087 | 1.0087 | 24.0226 | 25.6548 | 29.3846 | 26.3194
450760 | 1.0178 | 0.9101 | 0.9101 | 25.7453 | 24.6349 | 24.2669 | 24.8052
450761 | 0.8560 | * | * | 16.2605 | 15.7483 | * | 16.0004
450763 | 1.0996 | * | * | 21.4171 | 22.4905 | * | 21.9641
450766 | 1.9890 | 1.0087 | 1.0087 | 28.8576 | 30.0441 | 31.9184 | 30.2287
450770 | 1.1856 | 0.9360 | 0.9360 | 20.1763 | 20.3656 | 23.9370 | 21.5080
450771 | 1.7688 | 1.0087 | 1.0087 | 26.0618 | 31.3924 | 31.8002 | 29.9828
450774 | 1.8338 | 1.0030 | 1.0030 | 24.8562 | 24.9683 | 28.2450 | 26.1216
450775 | 1.2578 | 1.0030 | 1.0030 | 25.3924 | 24.4006 | 28.4183 | 25.9897
450779 | 1.2479 | 0.9870 | 0.9870 | 22.5857 | 26.9908 | 29.7868 | 26.4311
450780 | 1.8456 | 0.8859 | 0.8859 | 22.8688 | 23.9516 | 25.9821 | 24.3116
450788 | 1.5907 | 0.8578 | 0.8578 | 24.2643 | 25.4172 | 26.4470 | 25.3993
450795 | 1.4008 | 1.0030 | 1.0030 | 28.1448 | 23.7510 | 24.1271 | 24.947
450796 | 1.8052 | 0.9177 | 0.9177 | 24.7564 | 27.9734 | 33.1303 | 28.4434
450797 | *** | * | * | 23.8708 | 20.5379 | 25.4943 | 23.0765
450801 | 1.4998 | 0.8133 | 0.8133 | 22.2426 | 23.0373 | 24.0387 | 23.1400
450803 | 1.1764 | 1.0030 | 1.0030 | 26.3054 | 30.6093 | 28.7427 | 28.4813
450804 | 1.8999 | 1.0030 | 1.0030 | 26.0003 | 26.0980 | 27.6508 | 26.5919
450808 | 1.5092 | 0.9360 | 0.9360 | 22.8247 | 23.8067 | 23.2037 | 23.2780
450809 | 1.5817 | 0.9360 | 0.9360 | 24.7763 | 26.3659 | 26.8214 | 26.0351
450811 | 1.7444 | 0.8790 | 0.8790 | 23.1022 | 25.8491 | 27.3501 | 25.5331
450813 | 1.1556 | 0.8859 | 0.8859 | 22.1326 | 25.5949 | 19.7649 | 22.3615
450820 | 1.2973 | 1.0030 | 1.0030 | 27.9187 | 30.5288 | 31.7443 | 30.4578
450822 | 1.2957 | 1.0087 | 1.0087 | 29.7067 | 31.1431 | 32.3722 | 31.1755
450824 | 2.5318 | 0.9360 | 0.9360 | * | 26.7803 | 29.4735 | 28.1465
450825 | 1.4848 | 0.8790 | 0.8790 | 18.7069 | 20.2959 | 20.8107 | 19.9847
450827 | 1.3902 | 0.8360 | 0.8360 | 21.1788 | 20.9704 | 21.6247 | 21.2706
450828 | 1.2653 | 0.8003 | 0.8003 | 21.4128 | 22.3667 | 23.8184 | 22.5374
450829 | *** | * | * | 18.2860 | 19.5014 | 20.2816 | 19.3397
450830 | 0.9567 | 0.9737 | 0.9737 | 26.9917 | 28.1617 | 27.4306 | 27.5236
450831 | 1.5156 | 1.0030 | 1.0030 | 20.0581 | 22.7885 | 23.2295 | 22.2337
450832 | 1.1631 | 1.0030 | 1.0030 | 26.4725 | 26.6628 | 27.5752 | 26.9176
450833 | 1.1639 | 1.0087 | 1.0087 | 26.1256 | 26.0044 | 26.7732 | 26.3344
450834 | 1.5529 | 0.9064 | 0.9064 | 22.7691 | 21.2204 | 21.6657 | 21.8609
450838 | 1.1295 | 0.8003 | 0.8003 | 15.0454 | 15.8026 | 18.9487 | 16.8622
450839 | 0.9411 | 0.8715 | 0.8715 | 21.1905 | 22.9711 | 24.5796 | 22.8436
450840 | 1.0994 | 1.0087 | 1.0087 | 29.5215 | 31.1914 | 31.7263 | 30.9017
450841 | 1.6187 | 0.9474 | 0.9474 | 17.6635 | 18.9468 | 21.5306 | 19.5628
450842 | *** | * | * | 23.0945 | * | * | 23.0945
450844 | 1.3022 | 1.0030 | 1.0030 | 34.4235 | 28.7296 | 30.9678 | 30.6606
450845 | 1.9081 | 0.9101 | 0.9101 | 26.5040 | 27.7461 | 29.4977 | 28.0285
450846 | *** | * | * | 24.0791 | * | * | 24.0791
450847 | 1.2480 | 1.0030 | 1.0030 | 26.8892 | 27.6854 | 29.1327 | 27.9406
450848 | 1.2400 | 1.0030 | 1.0030 | 26.5609 | 27.8100 | 29.8391 | 28.0986
450849 | 2.1291 | * | * | * | * | * | *
450850 | 1.2694 | 0.9802 | 0.9802 | * | 22.1334 | 21.4794 | 21.7993
450851 | 2.5587 | 1.0087 | 1.0087 | * | 30.1213 | 32.3361 | 31.2575
450852 | *** | * | * | * | 30.0191 | * | 30.0191
450853 | 1.9067 | 1.0087 | 1.0087 | * | * | 36.5119 | 36.5119
450854 | *** | * | * | * | * | 26.3165 | 26.3165
450855 | 1.5514 | 0.9474 | 0.9474 | * | * | 29.0580 | 29.0580
450856 | 1.7966 | 0.8859 | 0.8859 | * | * | 35.3051 | 35.3051
450857 | *** | * | * | * | * | 31.2379 | 31.2379
450860 | 2.0577 | 1.0030 | 1.0030 | * | * | 23.8491 | 23.8491
450861 | *** | * | * | * | * | 34.7198 | 34.7198
450862 | 1.2197 | 1.0030 | 1.0030 | * | * | 31.8895 | 31.8895
450863 | *** | * | * | * | * | 24.9637 | 24.9637
450864 | 2.0286 | 0.8854 | 0.8854 | * | * | 23.3931 | 23.3931
450865 | 1.1195 | 0.9360 | 0.9360 | * | * | 30.1339 | 30.1339
450866 | *** | * | * | * | * | 15.5314 | 15.5314
450867 | 1.3274 | 0.9360 | 0.9360 | * | * | 28.5160 | 28.5160
450868 | 1.8150 | 1.0119 | 1.0119 | * | * | 28.5693 | 28.5693
450869 | 1.9116 | 0.8790 | 0.8790 | * | * | 22.5945 | 22.5945
450870 | *** | * | * | * | * | 37.1748 | 37.1748
450871 | 1.8656 | 0.9360 | 0.9360 | * | * | * | *
450872 | 1.4150 | 0.9870 | 0.9870 | * | * | * | *
450874 | 1.4412 | 1.0087 | 1.0087 | * | * | * | *
450875 | 1.6727 | 0.9177 | 0.9177 | * | * | * | *
450876 | 2.2693 | 0.8626 | 0.8626 | * | * | * | *
450877 | 1.4111 | 0.9101 | 0.9101 | * | * | * | *
450878 | 2.7773 | 0.8859 | 0.8859 | * | * | * | *
450879 | 1.2140 | 0.8003 | 0.8003 | * | * | * | *
450880 | 1.6144 | 0.9870 | 0.9870 | * | * | * | *
450881 | 1.1914 | 0.8578 | 0.8578 | * | * | * | *
450882 | 1.7221 | 0.8854 | 0.8854 | * | * | * | *
450883 | 1.7263 | 1.0087 | 1.0087 | * | * | * | *
450884 | 1.0379 | 0.8905 | 0.8905 | * | * | * | *
450885 | 1.4615 | 1.0087 | 1.0087 | * | * | * | *
450886 | 1.5918 | * | * | * | * | * | *
450887 | 1.4961 | * | * | * | * | * | *
450888 | 1.3795 | * | * | * | * | * | *
450889 | 1.0565 | * | * | * | * | * | *
450890 | 2.0428 | * | * | * | * | * | *
450891 | 1.3902 | * | * | * | * | * | *
450892 | 1.5347 | * | * | * | * | * | *
450893 | 1.4462 | * | * | * | * | * | *
450895 | 1.4125 | * | * | * | * | * | *
460001 | 1.8808 | 0.9537 | 0.9537 | 25.6932 | 27.0757 | 28.7686 | 27.1707
460003 | 1.5603 | 0.9421 | 0.9421 | 24.3527 | 26.1372 | 31.2768 | 27.1512
460004 | 1.7146 | 0.9421 | 0.9421 | 25.2191 | 26.4498 | 27.8490 | 26.5381
460005 | 1.3478 | 0.9421 | 0.9421 | 22.6809 | 23.5633 | 24.6804 | 23.6496
460006 | 1.3807 | 0.9421 | 0.9421 | 24.4350 | 25.4787 | 26.8666 | 25.6213
460007 | 1.3872 | 0.9295 | 0.9295 | 24.2875 | 25.6686 | 26.9107 | 25.6767
460008 | 1.3859 | 0.9421 | 0.9421 | 24.4453 | 26.5672 | 29.9748 | 26.8870
460009 | 1.8418 | 0.9421 | 0.9421 | 25.0984 | 26.2833 | 26.7990 | 26.0960
460010 | 2.0585 | 0.9421 | 0.9421 | 26.2331 | 27.4648 | 28.9206 | 27.5686
460011 | 1.2849 | 0.9537 | 0.9537 | 22.3601 | 23.4023 | 25.0983 | 23.5591
460013 | 1.4239 | 0.9537 | 0.9537 | 23.4765 | 25.2448 | 27.5186 | 25.4104
460014 | 1.0606 | 0.9421 | 0.9421 | 23.9400 | 24.1412 | 27.2777 | 25.1819
460015 | 1.3717 | 0.9049 | 0.9049 | 24.0939 | 25.6576 | 27.1745 | 25.6692
460017 | 1.3339 | 0.8555 | 0.8555 | 21.7082 | 23.0388 | 24.4174 | 22.9891
460018 ʰ | 0.9103 | 1.1611 | 1.1611 | 18.8942 | 20.3755 | 20.3940 | 19.9191
460019 | 1.3095 | 0.8163 | 0.8163 | 20.3625 | 19.9900 | 23.5051 | 21.2559
460020 | 1.0267 | 0.8163 | 0.8163 | 19.4960 | 19.5669 | 19.3185 | 19.4673
460021 | 1.7313 | 1.1240 | 1.1240 | 24.9725 | 26.3420 | 27.5173 | 26.3816
460023 | 1.2110 | 0.9537 | 0.9537 | 25.0376 | 25.3094 | 26.8796 | 25.7898
460025 | *** | * | * | 18.7978 | * | * | 18.7978
460026 | 1.0018 | 0.8163 | 0.8163 | 22.7589 | 24.1547 | 26.3509 | 24.3848
460030 | 1.2733 | 0.8163 | 0.8163 | 22.6129 | 23.4679 | 23.7148 | 23.2667
460032 | *** | * | * | 22.8987 | * | * | 22.8987
460033 | 0.8966 | 0.8163 | 0.8163 | 22.7816 | 22.0248 | 23.5580 | 22.7910
460035 | 0.9428 | 0.8163 | 0.8163 | 16.9019 | 17.5723 | 19.3857 | 18.0032
460036 | 1.2276 | * | * | 25.2647 | 27.2865 | * | 26.2960
460037 | 0.9296 | * | * | 19.8478 | 21.1035 | * | 20.4672
460039 | 1.0985 | 0.9021 | 0.9021 | 27.5912 | 28.5656 | 29.9657 | 28.7173
460041 | 1.3476 | 0.9421 | 0.9421 | 24.0431 | 25.2744 | 26.7893 | 25.3668
460042 | 1.3789 | 0.9421 | 0.9421 | 23.5819 | 22.9949 | 24.7532 | 23.7828
460043 | 1.2960 | 0.9537 | 0.9537 | 26.6870 | 28.2089 | 29.4175 | 28.1330
460044 | 1.3067 | 0.9421 | 0.9421 | 25.7342 | 26.6795 | 27.5967 | 26.7083
460047 | 1.6867 | 0.9421 | 0.9421 | 25.1721 | 25.7920 | 28.0524 | 26.3519
460049 | 1.9512 | 0.9421 | 0.9421 | 23.0683 | 24.5164 | 26.6558 | 24.8008
460051 | 1.1320 | 0.9421 | 0.9421 | 23.4970 | 25.5881 | 27.8380 | 25.7324
460052 | 1.4773 | 0.9537 | 0.9537 | 24.0797 | 25.3163 | 26.8923 | 25.5154
460054 | 1.7394 | 0.9049 | 0.9049 | 23.5227 | 25.8668 | 25.1386 | 24.8669
470001 | 1.2603 | 1.1381 | 1.1381 | 24.5499 | 27.7329 | 29.1057 | 27.1069
470003 | 1.9722 | 1.1318 | 1.0986 | 24.6660 | 26.4919 | 28.1869 | 26.4264
470005 | 1.3563 | 1.0986 | 1.0986 | 25.7288 | 29.8255 | 32.5203 | 29.3642
470006 | 1.1527 | * | * | 26.0884 | 26.9651 | * | 26.5397
470008 | 1.2850 | * | * | 21.8951 | * | * | 21.8951
470010 | 1.2545 | * | * | 22.9777 | 26.1273 | * | 24.5339
470011 | 1.1897 | 1.0986 | 1.0986 | 25.9246 | 28.3911 | 29.2637 | 27.8893
470012 | 1.2567 | 1.0986 | 1.0986 | 22.9159 | 24.3425 | 25.6468 | 24.3436
470018 | 1.1212 | * | * | 25.9300 | 28.3419 | * | 27.1737
470023 | *** | * | * | 26.7486 | * | * | 26.7486
470024 | 1.2067 | 1.0986 | 1.0986 | 23.7745 | 25.2427 | 27.3942 | 25.5325
470302 | 0.9778 | * | * | * | * | * | *
490001 | 1.0802 | 0.8716 | 0.7966 | 21.7111 | 21.9953 | 22.9269 | 22.2279
490002 | 1.0693 | 0.7966 | 0.7966 | 18.5220 | 19.5613 | 20.6251 | 19.6010
490003 | *** | * | * | 23.8112 | 27.3456 | * | 25.4279
490004 | 1.3075 | 0.9732 | 0.9732 | 24.4580 | 25.4597 | 26.9175 | 25.6513
490005 | 1.6397 | 1.1076 | 1.1076 | 27.6425 | 28.5744 | 29.8963 | 28.7056
490006 | *** | * | * | 16.7679 | * | * | 16.7679
490007 | 2.2239 | 0.8840 | 0.8840 | 24.9533 | 26.2481 | 27.6665 | 26.3324
490009 | 2.0155 | 1.0140 | 1.0140 | 27.5905 | 29.0740 | 30.6705 | 29.0947
490011 | 1.4501 | 0.8840 | 0.8840 | 22.4410 | 24.5687 | 26.3250 | 24.4894
490012 | 1.0263 | 0.7966 | 0.7966 | 18.3697 | 19.2275 | 20.4238 | 19.3376
490013 | 1.3599 | 0.8716 | 0.8716 | 21.4838 | 22.4772 | 23.9524 | 22.6144
490015 | *** | * | * | 22.5641 | * | * | 22.5641
490017 | 1.4225 | 0.8840 | 0.8840 | 22.9632 | 24.6845 | 25.5899 | 24.4194
490018 | 1.2773 | 0.9732 | 0.9732 | 23.2215 | 24.5196 | 25.5210 | 24.4582
490019 ʰ | 1.1723 | 1.2316 | 1.2316 | 24.4524 | 25.9761 | 26.7428 | 25.7803
490020 | 1.2380 | 0.9174 | 0.9174 | 23.6611 | 24.8001 | 26.6396 | 25.0712
490021 | 1.4653 | 0.8716 | 0.8716 | 23.5930 | 24.6440 | 26.1509 | 24.8426
490022 | 1.4931 | 1.1076 | 1.1076 | 25.0277 | 28.0749 | 32.2985 | 28.4160
490023 | 1.2456 | 1.1076 | 1.1076 | 28.8354 | 29.7774 | 31.1609 | 29.9671
490024 | 1.7466 | 0.8483 | 0.8677 | 21.7268 | 23.0982 | 25.7005 | 23.5054
490027 | 1.1045 | 0.7966 | 0.7966 | 19.8345 | 18.9409 | 23.7402 | 20.7964
490031 | *** | * | * | 22.4300 | 22.0579 | * | 22.2427
490032 | 1.9877 | 0.9174 | 0.9174 | 22.8942 | 25.1381 | 25.6281 | 24.5660
490033 | 1.0717 | 1.1076 | 1.1076 | 27.6355 | 30.0909 | 31.5482 | 29.8331
490037 | 1.1924 | 0.7966 | 0.7966 | 19.0583 | 21.3035 | 23.3679 | 21.2221
490038 | 1.2207 | 0.7988 | 0.7988 | 19.6427 | 22.3976 | 22.3842 | 21.4601
490040 | 1.5159 | 1.1076 | 1.1076 | 30.1820 | 32.8738 | 33.5638 | 32.1968
490041 | 1.3928 | 0.8840 | 0.8840 | 22.2955 | 24.5738 | 26.1445 | 24.3175
490042 | 1.3030 | 0.8677 | 0.8677 | 20.5845 | 21.8749 | 24.4229 | 22.3975
490043 | 1.1470 | 1.1076 | 1.1076 | 28.2969 | 30.8871 | 31.2740 | 30.3070
490044 | 1.4671 | 0.8840 | 0.8840 | 22.1324 | 20.8351 | 23.3012 | 22.0713
490045 | 1.2905 | 1.1076 | 1.1076 | 27.2132 | 28.8279 | 32.4604 | 29.4320
490046 | 1.5680 | 0.8840 | 0.8840 | 24.6391 | 25.6328 | 26.6811 | 25.6856
490047 | 1.0319 | * | * | 21.9156 | 22.5424 | * | 22.2282
490048 | 1.4274 | 0.8716 | 0.8716 | 24.1639 | 25.0097 | 25.8371 | 25.0464
490050 | 1.4890 | 1.1076 | 1.1076 | 29.4660 | 30.5037 | 31.8461 | 30.6123
490052 | 1.6157 | 0.8840 | 0.8840 | 21.4035 | 22.8889 | 23.7544 | 22.6886
490053 | 1.2486 | 0.8062 | 0.8062 | 20.9367 | 21.8432 | 22.7902 | 21.8500
490057 | 1.6003 | 0.8840 | 0.8840 | 25.1898 | 26.1128 | 26.9303 | 26.0974
490059 | 1.6024 | 0.9174 | 0.9174 | 26.1518 | 28.7276 | 28.7481 | 27.9332
490060 | 1.0394 | 0.7966 | 0.7966 | 21.0828 | 22.4200 | 23.6087 | 22.3825
490063 | 1.8203 | 1.1076 | 1.1076 | 29.4216 | 30.3632 | 32.4155 | 30.7714
490066 | 1.3509 | 0.8840 | 0.8840 | 23.3835 | 24.7146 | 28.4793 | 25.5572
490067 | 1.1965 | 0.9174 | 0.9174 | 21.8730 | 22.9188 | 24.5806 | 23.1010
490069 | 1.5765 | 0.9174 | 0.9174 | 24.4542 | 26.8791 | 27.7682 | 26.4176
490071 | 1.3096 | 0.9174 | 0.9174 | 27.0374 | 28.4381 | 29.7235 | 28.4129
490073 | 1.7271 | 1.1076 | 1.1076 | 25.2859 | 31.7743 | 34.4692 | 29.6891
490075 | 1.4710 | 0.8483 | 0.8483 | 22.8303 | 23.8191 | 25.1134 | 23.9198
490077 | 1.4157 | 1.0140 | 1.0140 | 24.8309 | 26.0800 | 27.1434 | 26.0560
490079 | 1.2785 | 0.8992 | 0.8992 | 19.8100 | 23.4728 | 23.3244 | 22.0780
490084 | 1.1836 | 0.8133 | 0.8133 | 22.7945 | 24.5965 | 25.5067 | 24.2420
490088 | 1.0918 | 0.8716 | 0.8716 | 21.4818 | 22.4186 | 24.1339 | 22.6632
490089 | 1.0530 | 0.8677 | 0.8677 | 21.2123 | 22.6461 | 24.5879 | 22.9250
490090 | 1.1113 | 0.7966 | 0.7966 | 21.3410 | 22.2907 | 24.3011 | 22.5541
490092 | 1.0744 | 0.9174 | 0.9174 | 21.6466 | 23.8656 | 23.2472 | 22.8995
490093 | 1.4535 | 0.8840 | 0.8840 | 23.6779 | 25.0751 | 26.1524 | 25.0724
490094 | 0.9768 | 0.9174 | 0.9174 | 26.0755 | 26.5726 | 28.7249 | 27.1409
490097 | 1.0622 | 0.7966 | 0.7966 | 23.5366 | 23.8005 | 25.7117 | 24.3445
490098 | 1.1704 | 0.7966 | 0.7966 | 20.9805 | 21.7231 | 23.3102 | 22.0052
490101 | 1.3361 | 1.1076 | 1.1076 | 30.1800 | 30.4285 | 31.9879 | 30.8879
490104 | 0.8061 | 0.9174 | 0.9174 | 33.1215 | 17.3295 | * | 22.8307
490105 | 0.9463 | 0.8062 | 0.8062 | 38.2813 | 24.7923 | 25.7327 | 29.8754
490106 | 0.9937 | 0.9732 | 0.9732 | 30.1492 | 23.0199 | 23.7549 | 26.2572
490107 | 1.3553 | 1.1076 | 1.1076 | 28.7296 | 29.7000 | 31.8461 | 30.1409
490108 | 0.9836 | 0.8716 | 0.8716 | 27.9090 | 22.4345 | 22.7419 | 24.3793
490109 | 0.9090 | 0.9174 | 0.9174 | 28.0548 | 21.9878 | 22.9347 | 24.2712
490110 | 1.2759 | 0.8324 | 0.8324 | 21.3126 | 22.5974 | 24.4586 | 22.8433
490111 | 1.2769 | 0.7966 | 0.7966 | 20.6373 | 22.0199 | 22.2094 | 21.6419
490112 | 1.6505 | 0.9174 | 0.9174 | 25.8312 | 26.6453 | 27.5555 | 26.7023
490113 | 1.2628 | 1.1076 | 1.1076 | 29.1786 | 29.5698 | 32.8354 | 30.5878
490114 | 1.0602 | 0.7966 | 0.7966 | 20.0555 | 20.9116 | 21.8633 | 20.9404
490115 | 1.1886 | 0.7966 | 0.7966 | 20.3615 | 21.4666 | 22.0483 | 21.3080
490116 | 1.1906 | 0.8242 | 0.8242 | 21.3083 | 22.9017 | 24.2616 | 22.8382
490117 | 1.1508 | 0.7966 | 0.7966 | 17.4111 | 18.0277 | 19.2372 | 18.2401
490118 | 1.6833 | 0.9174 | 0.9174 | 26.8810 | 27.4050 | 28.6297 | 27.7063
490119 | 1.2525 | 0.8840 | 0.8840 | 23.7813 | 25.2549 | 27.1954 | 25.4840
490120 | 1.3625 | 0.8840 | 0.8840 | 23.1535 | 24.4434 | 26.2560 | 24.6055
490122 | 1.4721 | 1.1076 | 1.1076 | 28.7020 | 31.0449 | 32.5825 | 30.7435
490123 | 1.0815 | 0.7966 | 0.7966 | 22.9511 | 23.9233 | 25.0086 | 23.9568
490124 | *** | * | * | 29.7939 | * | * | 29.7939
490126 | 1.2231 | 0.7966 | 0.7966 | 23.1423 | 22.2859 | 22.9757 | 22.7925
490127 | 1.1735 | 0.7966 | 0.7966 | 19.4005 | 20.4289 | 21.4512 | 20.3942
490130 | 1.2008 | 0.8840 | 0.8840 | 22.0769 | 22.8512 | 24.2270 | 23.0561
490133 | *** | * | * | * | 26.5683 | * | 26.5683
490134 | 0.8128 | 0.7966 | 0.7966 | * | * | * | *
490135 | 0.6911 | 0.8677 | 0.8677 | * | * | * | *
490136 | 1.0827 | * | * | * | * | * | *
500001 | 1.6186 | 1.1438 | 1.1438 | 26.7502 | 29.3707 | 31.2869 | 29.1920
500002 | 1.4423 | 1.0440 | 1.0440 | 25.0665 | 25.3347 | 27.7842 | 26.0658
500003 | 1.3380 | 1.1255 | 1.1255 | 28.4174 | 29.6341 | 31.5127 | 29.8891
500005 | 1.7822 | 1.1438 | 1.1438 | 31.4415 | 32.0972 | 33.3329 | 32.2891
500007 | 1.3787 | 1.0722 | 1.0722 | 26.1318 | 28.0476 | 30.0980 | 28.1844
500008 | 1.9554 | 1.1438 | 1.1438 | 31.0128 | 31.8837 | 33.3228 | 32.1022
500011 | 1.3253 | 1.1438 | 1.1438 | 28.3391 | 30.6508 | 32.0074 | 30.3834
500012 | 1.6684 | 1.0440 | 1.0440 | 29.2045 | 30.6856 | 30.4076 | 30.0653
500014 | 1.6420 | 1.1438 | 1.1438 | 30.1061 | 33.7536 | 36.3225 | 33.4938
500015 | 1.4667 | 1.1438 | 1.1438 | 30.1596 | 32.0592 | 34.5308 | 32.3201
500016 | 1.7023 | 1.1255 | 1.1255 | 29.3634 | 31.4221 | 31.8609 | 30.9249
500019 | 1.2686 | 1.0653 | 1.0653 | 26.9702 | 28.6669 | 30.4632 | 28.6734
500021 | 1.3488 | 1.1255 | 1.1255 | 28.5926 | 30.1690 | 30.0500 | 29.6659
500023 | 1.2010 | * | * | 27.3823 | * | * | 27.3823
500024 | 1.7921 | 1.0907 | 1.0907 | 29.3946 | 30.7917 | 32.9554 | 31.0696
500025 | 1.7858 | 1.1438 | 1.1438 | 31.7335 | 34.7252 | 38.5672 | 34.8346
500026 | 1.4412 | 1.1438 | 1.1438 | 31.4152 | 33.2937 | 34.0225 | 32.9380
500027 | 1.5753 | 1.1438 | 1.1438 | 29.5939 | 34.2175 | 35.7683 | 33.2591
500030 | 1.7399 | 1.1088 | 1.1088 | 30.5926 | 32.7446 | 32.8247 | 32.0831
500031 | 1.2764 | 1.0440 | 1.0440 | 28.5398 | 31.2186 | 33.2070 | 31.0095
500033 | 1.3088 | 1.0440 | 1.0440 | 26.6704 | 29.4627 | 30.0929 | 28.7252
500036 | 1.3769 | 1.0440 | 1.0440 | 26.0223 | 27.0072 | 28.5158 | 27.2093
500037 | 1.0398 | 1.0440 | 1.0440 | 24.6548 | 26.9969 | 28.6509 | 26.6844
500039 | 1.4810 | 1.1255 | 1.1255 | 27.9651 | 29.8809 | 32.3485 | 30.1316
500041 | 1.3811 | 1.1405 | 1.1405 | 26.9101 | 26.7829 | 29.6411 | 27.7279
500044 | 1.9738 | 1.0448 | 1.0448 | 26.9323 | 30.3164 | 28.5880 | 28.6194
500049 | 1.3205 | 1.0440 | 1.0440 | 25.6104 | 27.1819 | 28.3014 | 27.1121
500050 | 1.4378 | 1.1405 | 1.1405 | 26.8971 | 29.9791 | 32.5722 | 29.8732
500051 | 1.7550 | 1.1438 | 1.1438 | 29.0100 | 31.9406 | 33.4078 | 31.5494
500052 | 1.4362 | 1.1438 | 1.1438 | * | * | * | *
500053 | 1.2978 | 1.0440 | 1.0440 | 26.8074 | 28.4130 | 29.2529 | 28.1462
500054 | 1.9895 | 1.0448 | 1.0448 | 28.8062 | 30.8067 | 32.1392 | 30.6203
500057 | *** | * | * | 21.4393 | * | * | 21.4393
500058 | 1.6738 | 1.0440 | 1.0440 | 28.4247 | 30.4699 | 31.3325 | 30.1884
500060 | 1.3057 | 1.0440 | 1.0440 | 33.5169 | 34.1523 | 37.1307 | 34.9415
500064 | 1.7930 | 1.1438 | 1.1438 | 31.1459 | 31.5371 | 32.0554 | 31.6041
500065 | *** | * | * | 26.0960 | * | * | 26.0960
500072 | 1.2016 | 1.1255 | 1.1255 | 29.3087 | 33.4863 | 31.8127 | 31.5390
500077 | 1.4749 | 1.0448 | 1.0448 | 27.8819 | 29.4199 | 30.9414 | 29.4486
500079 | 1.3526 | 1.1255 | 1.1255 | 28.4934 | 29.6623 | 31.8986 | 30.0378
500084 | 1.3269 | 1.1438 | 1.1438 | 27.6306 | 29.3484 | 31.1336 | 29.4235
500088 | 1.4147 | 1.1438 | 1.1438 | 31.2757 | 33.4302 | 34.7384 | 33.2062
500092 | *** | * | * | 23.2466 | * | * | 23.2466
500104 | 1.1367 | * | * | 27.0034 | * | * | 27.0034
500108 | 1.6392 | 1.1255 | 1.1255 | 28.7206 | 29.4244 | 31.8504 | 30.0479
500110 | *** | * | * | 25.4785 | * | * | 25.4785
500118 | 1.0815 | * | * | 28.1074 | * | * | 28.1074
500119 | 1.3571 | 1.0448 | 1.0448 | 27.2335 | 30.9999 | 29.2153 | 29.1384
500122 | 1.2515 | * | * | 27.4405 | 30.1396 | * | 28.8217
500124 | 1.3893 | 1.1438 | 1.1438 | 28.6598 | 31.5438 | 32.2351 | 30.8456
500129 | 1.5958 | 1.1255 | 1.1255 | 30.0223 | 30.7536 | 32.5779 | 31.1547
500134 | 0.5017 | 1.1438 | 1.1438 | 24.2990 | 26.8608 | 25.0035 | 25.4134
500139 | 1.5171 | 1.0907 | 1.0907 | 29.2357 | 31.6591 | 34.6120 | 31.8023
500141 | 1.3234 | 1.1438 | 1.1438 | 30.7478 | 30.5456 | 32.1853 | 31.2034
500143 | 0.4565 | 1.1119 | 1.1119 | 20.7093 | 22.1419 | 22.6867 | 21.8786
500147 | 0.9626 | * | * | 16.3669 | 24.5807 | * | 16.9814
500148 | 1.1035 | 1.0440 | 1.0440 | 18.2168 | 22.2161 | 27.0350 | 21.6967
500150 | 1.1543 | * | * | * | * | * | *
500329 | 0.7676 | * | * | * | * | * | *
500334 | 0.6580 | * | * | * | * | * | *
500337 | 0.8865 | * | * | * | * | * | *
510001 | 1.8662 | 0.8671 | 0.8671 | 22.9351 | 23.4477 | 24.9395 | 23.8162
510002 | 1.2073 | 0.8677 | 0.8677 | 22.4751 | 25.9597 | 24.0032 | 24.1436
510006 | 1.3300 | 0.8671 | 0.8671 | 22.2947 | 23.5727 | 24.5450 | 23.4754
510007 | 1.6577 | 0.9009 | 0.9009 | 24.3499 | 25.2835 | 25.2802 | 24.9834
510008 | 1.2502 | 0.9082 | 0.9082 | 24.5293 | 24.6959 | 25.5366 | 24.9190
510012 | 0.9616 | 0.7637 | 0.7637 | 18.5816 | 18.2845 | 18.8211 | 18.5638
510013 | 1.1563 | 0.7637 | 0.7637 | 19.9710 | 20.8782 | 22.7404 | 21.1637
510018 | 1.0576 | 0.8294 | 0.8294 | 21.8475 | 20.5556 | 22.8201 | 21.7432
510022 | 1.8746 | 0.8559 | 0.8559 | 24.1481 | 24.2125 | 26.2125 | 24.8409
510023 | 1.3100 | 0.8072 | 0.8072 | 19.4321 | 20.4908 | 20.7734 | 20.2347
510024 | 1.8007 | 0.8671 | 0.8671 | 23.3115 | 24.0444 | 25.2181 | 24.1883
510026 | 0.9938 | 0.7637 | 0.7637 | 18.0855 | 16.6192 | 17.3777 | 17.2853
510028 | 0.9801 | * | * | 23.0518 | 21.7134 | * | 22.3847
510029 | 1.2865 | 0.8559 | 0.8559 | 21.7527 | 22.4556 | 23.3861 | 22.5557
510030 | 1.1233 | 0.8449 | 0.8449 | 22.3658 | 21.5583 | 23.3535 | 22.4378
510031 | 1.4609 | 0.8559 | 0.8559 | 21.6294 | 21.7637 | 23.0714 | 22.1614
510033 | 1.5615 | 0.7964 | 0.7964 | 21.0707 | 23.0305 | 22.5839 | 22.2245
510038 | 1.0077 | 0.7637 | 0.7637 | 16.8744 | 17.2832 | 19.0992 | 17.7660
510039 | 1.2424 | 0.7749 | 0.7749 | 19.1280 | 19.5468 | 19.9164 | 19.5208
510043 | *** | * | * | 16.0586 | * | * | 16.0586
510046 | 1.3517 | 0.8294 | 0.8294 | 21.2792 | 21.2540 | 21.5642 | 21.3655
510047 | 1.1634 | 0.8671 | 0.8671 | 23.2093 | 24.0954 | 26.2033 | 24.4801
510048 | 1.1421 | 0.7637 | 0.7637 | 17.6785 | 17.5096 | 19.0606 | 18.0744
510050 | 1.5568 | 0.7749 | 0.7749 | 20.1943 | 19.9766 | 20.8188 | 20.3257
510053 | 1.1301 | 0.7637 | 0.7637 | 20.7538 | 20.8609 | 22.6334 | 21.4364
510055 | 1.5283 | 0.9009 | 0.9009 | 29.3962 | 30.7868 | 29.1387 | 29.7610
510058 | 1.3632 | 0.7964 | 0.7964 | 21.9352 | 22.6976 | 23.0760 | 22.5822
510059 | 1.2304 | 0.8559 | 0.8559 | 18.8712 | 21.9550 | 21.8993 | 20.7922
510061 | *** | * | * | 15.3355 | * | * | 15.3355
510062 | 1.1472 | 0.8294 | 0.8294 | 21.1568 | 23.3216 | 24.8582 | 23.0758
510067 | 1.1583 | 0.7637 | 0.7637 | 22.1582 | 21.2099 | 24.1938 | 22.5714
510068 | 1.1019 | * | * | 20.0007 | 23.1011 | * | 21.5379
510070 | 1.2161 | 0.8294 | 0.8294 | 21.1895 | 23.2382 | 23.1691 | 22.5946
510071 | 1.2876 | 0.8294 | 0.8294 | 21.5439 | 23.1685 | 23.8043 | 22.8368
510072 | 1.0728 | 0.7637 | 0.7637 | 19.7990 | 20.1997 | 20.8822 | 20.3279
510077 | 1.1020 | 0.8759 | 0.8759 | 22.8104 | 23.6585 | 24.6316 | 23.7056
510082 | 1.0846 | 0.7637 | 0.7637 | 16.4742 | 19.1878 | 19.8764 | 18.3863
510085 | 1.3124 | 0.8559 | 0.8559 | 22.6563 | 23.7173 | 25.8288 | 24.1309
510086 | 1.1062 | 0.7637 | 0.7637 | 17.8234 | 17.5933 | 19.0144 | 18.1416
510088 | *** | * | * | 18.3401 | * | * | 18.3401
510089 | *** | * | * | * | 27.7062 | * | 27.7062
510090 | 2.2681 | * | * | * | * | * | *
520002 | 1.3605 | 0.9625 | 0.9625 | 23.7316 | 24.9950 | 26.5869 | 25.1359
520003 | *** | * | * | 21.8662 | * | * | 21.8662
520004 | 1.4679 | 0.9466 | 0.9466 | 24.4711 | 25.4639 | 27.0690 | 25.6990
520008 | 1.5872 | 1.0241 | 1.0241 | 27.8127 | 29.8354 | 31.0949 | 29.6152
520009 | 1.7236 | 0.9466 | 0.9466 | 23.4265 | 26.1503 | 27.7845 | 25.7871
520010 | 1.1151 | * | * | 28.5569 | * | * | 28.5569
520011 | 1.3314 | 0.9466 | 0.9466 | 23.7785 | 25.2747 | 27.1311 | 25.4700
520013 | 1.4452 | 0.9644 | 0.9644 | 24.4766 | 26.6225 | 29.2111 | 26.8019
520014 | *** | * | * | 22.1064 | * | * | 22.1064
520015 | *** | * | * | 23.0403 | * | * | 23.0403
520017 | 1.1783 | 0.9644 | 0.9644 | 23.4044 | 24.6676 | 28.0839 | 25.3651
520019 | 1.3160 | 0.9466 | 0.9466 | 24.9871 | 26.7433 | 29.3066 | 27.0110
520021 | 1.3354 | 1.0596 | 1.0596 | 25.4872 | 26.6935 | 28.1218 | 26.8573
520024 | 1.0407 | * | * | 18.5072 | * | * | 18.5072
520026 | *** | * | * | 26.1056 | * | * | 26.1056
520027 | 1.2653 | 1.0241 | 1.0241 | 26.2516 | 27.6771 | 30.8126 | 28.3796
520028 | 1.2954 | 1.0502 | 1.0502 | 25.7778 | 25.4164 | 26.5754 | 25.9267
520030 | 1.7625 | 0.9799 | 0.9799 | 25.3807 | 27.0185 | 29.0074 | 27.1779
520032 | 1.1081 | * | * | 25.3059 | * | * | 25.3059
520033 | 1.2354 | 0.9466 | 0.9466 | 23.9791 | 25.0854 | 27.3306 | 25.5391
520034 | 1.2062 | 0.9466 | 0.9466 | 23.6563 | 23.9850 | 25.9625 | 24.5645
520035 | 1.3268 | 0.9543 | 0.9543 | 23.2625 | 24.7767 | 26.8252 | 24.9975
520037 | 1.8330 | 0.9625 | 0.9625 | 28.6984 | 29.7234 | 28.7221 | 29.0476
520038 | 1.2465 | 1.0241 | 1.0241 | 24.6650 | 26.6470 | 29.7288 | 27.0582
520040 | 1.4799 | 1.0241 | 1.0241 | 23.8501 | 27.2325 | 28.7706 | 26.5424
520041 | 1.0916 | 1.0731 | 1.0731 | 22.8236 | 22.7596 | 23.3086 | 22.9766
520042 | 1.0028 | * | * | 24.0788 | * | * | 24.0788
520044 | 1.3404 | 0.9543 | 0.9543 | 24.9387 | 26.0191 | 27.4740 | 26.1760
520045 | 1.5980 | 0.9466 | 0.9466 | 24.5844 | 26.0030 | 27.9444 | 26.1871
520047 | *** | * | * | 25.5346 | * | * | 25.5346
520048 | 1.6307 | 0.9466 | 0.9466 | 23.1653 | 25.1724 | 27.0266 | 25.0694
520049 | 2.1099 | 0.9791 | 0.9791 | 24.1083 | 25.9256 | 27.4599 | 25.7460
520051 | 1.6916 | 1.0241 | 1.0241 | 28.8249 | 28.4880 | 31.5274 | 29.7523
520057 | 1.2115 | 0.9584 | 0.9584 | 23.3205 | 25.3745 | 27.6395 | 25.5004
520059 | 1.2603 | 1.0408 | 1.0408 | 26.5596 | 28.0906 | 29.8632 | 28.1945
520060 | 1.2808 | 0.9489 | 0.9489 | 22.0132 | 23.8817 | 24.7482 | 23.5443
520062 | 1.2708 | 1.0241 | 1.0241 | 24.9988 | 28.2215 | 29.4194 | 27.5670
520063 | 1.1386 | 1.0241 | 1.0241 | 25.3674 | 27.4101 | 28.9251 | 27.2413
520064 | 1.5155 | 1.0241 | 1.0241 | 27.1120 | 28.6101 | 30.2879 | 28.6292
520066 | 1.4918 | 1.0502 | 1.0502 | 25.8812 | 27.1657 | 28.3573 | 27.1367
520068 | 0.9097 | * | * | 23.4746 | 24.8184 | * | 24.1554
520070 | 1.7287 | 0.9644 | 0.9644 | 23.9908 | 24.8935 | 27.5457 | 25.5329
520071 | 1.2004 | 1.0098 | 1.0098 | 26.3154 | 27.6202 | 29.3878 | 27.7380
520075 | 1.4697 | 0.9791 | 0.9791 | 26.0600 | 27.1699 | 29.8136 | 27.6374
520076 | 1.2383 | 1.0502 | 1.0502 | 24.0879 | 26.1698 | 28.1355 | 26.1183
520078 | 1.5311 | 1.0241 | 1.0241 | 25.7662 | 27.5989 | 29.6321 | 27.7034
520083 | 1.7261 | 1.0731 | 1.0731 | 27.0012 | 28.8407 | 31.3634 | 29.1629
520084 | *** | * | * | 25.5777 | * | * | 25.5777
520087 | 1.7272 | 0.9466 | 0.9466 | 24.5280 | 27.3374 | 28.2823 | 26.6696
520088 | 1.2906 | 1.0098 | 1.0098 | 26.0882 | 26.9936 | 29.8417 | 27.7181
520089 | 1.5216 | 1.0731 | 1.0731 | 26.6013 | 30.0448 | 33.3398 | 30.0450
520091 | 1.2880 | 0.9466 | 0.9466 | 24.8269 | 24.6320 | 25.9623 | 25.1681
520092 | *** | * | * | 23.4043 | * | * | 23.4043
520094 | *** | * | * | 25.3166 | 25.7567 | * | 25.5399
520095 | 1.2375 | 1.0502 | 1.0502 | 28.6376 | 26.7863 | 28.5877 | 27.9986
520096 | 1.3505 | 1.0098 | 1.0098 | 22.9929 | 24.5758 | 26.8566 | 25.0076
520097 | 1.3955 | 0.9791 | 0.9791 | 25.1135 | 26.3321 | 29.8400 | 27.1169
520098 | 1.9798 | 1.0731 | 1.0731 | 28.0730 | 30.6150 | 31.9008 | 30.2555
520100 | 1.2806 | 0.9685 | 0.9685 | 24.5914 | 26.2161 | 29.0461 | 26.6330
520102 | 1.1190 | 1.0098 | 1.0098 | 25.6146 | 26.8234 | 28.8280 | 27.1398
520103 | 1.5698 | 1.0241 | 1.0241 | 25.5361 | 27.9147 | 29.8746 | 27.9295
520107 | 1.2555 | 0.9620 | 0.9620 | 27.7413 | 28.3431 | 29.2809 | 28.4726
520109 | 1.0588 | 0.9466 | 0.9466 | 22.4048 | 23.3271 | 24.2510 | 23.3292
520111 | *** | * | * | 26.3095 | * | * | 26.3095
520112 | *** | * | * | 20.4034 | * | * | 20.4034
520113 | 1.2862 | 0.9620 | 0.9620 | 26.7926 | 27.4135 | 30.6517 | 28.3197
520114 | *** | * | * | 22.0536 | * | * | 22.0536
520116 | 1.2845 | 1.0098 | 1.0098 | 26.3057 | 26.9902 | 28.3092 | 27.2488
520117 | *** | * | * | 22.0023 | * | * | 22.0023
520123 | *** | * | * | 22.2430 | * | * | 22.2430
520132 | 0.9607 | 0.9543 | 0.9543 | 21.6025 | 23.1941 | 24.6842 | 23.1837
520135 | *** | * | * | 18.5618 | * | * | 18.5618
520136 | 1.6741 | 1.0241 | 1.0241 | 25.5145 | 27.7703 | 30.5973 | 27.9356
520138 | 1.8704 | 1.0241 | 1.0241 | 26.9047 | 28.4394 | 30.1937 | 28.5333
520139 | 1.2833 | 1.0241 | 1.0241 | 25.4424 | 26.5110 | 28.5712 | 26.9062
520140 | 1.6566 | 1.0241 | 1.0241 | 26.1616 | 28.4433 | 30.7141 | 28.4902
520148 | 1.3242 | * | * | 26.2258 | * | * | 26.2258
520151 | *** | * | * | 22.9592 | * | * | 22.9592
520152 | 1.0783 | 0.9466 | 0.9466 | 23.2493 | 24.9392 | 28.9787 | 25.8522
520154 | *** | * | * | 23.7160 | * | * | 23.7160
520156 | *** | * | * | 24.9258 | * | * | 24.9258
520160 | 1.8305 | 0.9466 | 0.9466 | 24.3528 | 25.7588 | 28.0219 | 26.0815
520161 | *** | * | * | 24.0673 | * | * | 24.0673
520170 | 1.4056 | 1.0241 | 1.0241 | 25.6124 | 27.2221 | 29.9758 | 27.6579
520173 | 1.1252 | 1.0157 | 1.0157 | 26.2224 | 28.0995 | 29.7080 | 28.0206
520177 | 1.6429 | 1.0241 | 1.0241 | 28.4663 | 30.7317 | 31.0104 | 30.1346
520178 | 0.9970 | * | * | 23.0419 | 20.2666 | * | 21.6760
520189 | 1.1658 | 1.0596 | 1.0596 | 26.3172 | 28.4720 | 28.1690 | 27.7706
520193 | 1.6544 | 0.9791 | 0.9791 | * | 26.0885 | 28.6187 | 27.4400
520194 | 1.3272 | 1.0241 | 1.0241 | * | 24.9408 | 31.0546 | 27.9475
520195 | *** | * | * | * | 36.6973 | 36.6166 | 36.6568
520196 | 1.6814 | 0.9644 | 0.9644 | * | 35.1043 | 40.4421 | 37.6718
520197 | 2.6191 | 1.0241 | 1.0241 | * | * | * | *
520198 | 1.3597 | 0.9466 | 0.9466 | * | * | * | *
520199 | 2.3566 | 1.0241 | 1.0241 | * | * | * | *
520200 | 1.5982 | * | * | * | * | * | *
520343 | 0.8070 | * | * | * | * | * | *
520344 | 0.6245 | * | * | * | * | * | *
520353 | 0.6538 | * | * | * | * | * | *
530002 | 1.0826 | 0.9303 | 0.9303 | 25.2983 | 26.8356 | 28.6510 | 26.9256
530006 | 1.1645 | 0.9303 | 0.9303 | 22.8344 | 24.9318 | 27.3112 | 24.9372
530007 | *** | * | * | 19.3476 | 20.4391 | * | 19.9218
530008 ² | 1.1146 | 0.9303 | 0.9303 | 23.8271 | 23.8589 | 23.8665 | 23.8511
530009 | 0.9305 | 0.9303 | 0.9303 | 24.2426 | 26.8316 | 25.4972 | 25.5320
530010 ² | 1.2318 | 0.9303 | 0.9303 | 23.9255 | 25.8482 | 26.3785 | 25.3803
530011 | 1.1121 | 0.9303 | 0.9303 | 24.1396 | 24.8245 | 27.8493 | 25.6567
530012 | 1.6973 | 0.9303 | 0.9303 | 24.3454 | 25.2526 | 27.0939 | 25.5544
530014 | 1.5419 | 0.9303 | 0.9303 | 23.6907 | 24.5947 | 26.8898 | 25.0653
530015 | 1.2091 | 0.9303 | 0.9303 | 26.3107 | 27.6876 | 30.4674 | 28.1564
530016 | *** | * | * | 21.6575 | * | * | 21.6575
530017 | 0.9926 | 0.9303 | 0.9303 | 23.5415 | 25.3362 | 27.8927 | 25.7008
530023 | *** | * | * | 24.1493 | 21.3813 | * | 22.6795
530025 | 1.2442 | 0.9594 | 0.9594 | 27.7988 | 28.6938 | 28.0007 | 28.1645
530031 | *** | * | * | 16.3472 | * | * | 16.3472
530032 | *** | 0.9303 | 0.9303 | 22.6584 | 25.7728 | 23.6562 | 23.9700
¹ Based on salaries adjusted for occupational mix, according to the calculation in section III.G. of the preamble to this proposed rule.
² These hospitals are assigned a wage index value under a special exceptions policy (FY 2005 IPPS final rule, 69 FR 49105).
³ The case-mix index is based on the billed DRGs in the FY 2005 MedPAR. It is not transfer adjusted.
ʰ These hospitals are assigned a wage index value under the rural hold harmless transition discussed in section III.H.3. of the preamble of the FY 2006 IPPS final rule (70 FR 47378).
* Denotes wage data not available for the provider for that year.
** Based on the sum of the salaries and hours computed for Federal FYs 2005, 2006, and 2007.
*** Denotes MedPAR data not available for the provider for FY 2005.

Table 3A.—FY 2007 and 3-Year Average Hourly Wage for Urban Areas by CBSA
[*Based on the salaries and hours computed for Federal Fiscal Years 2005, 2006, and 2007]
CBSA code | Urban area | FY 2007 average hourly wage | 3-year average hourly wage
10180 | Abilene, TX | 23.7864 | 22.2341
10380 | Aguadilla-Isabela-San Sebastián, PR | 11.5958 | 11.9816
10420 | Akron, OH | 25.5401 | 24.8498
10500 | Albany, GA | 26.5516 | 26.5372
10580 | Albany-Schenectady-Troy, NY | 25.9108 | 24.3176
10740 | Albuquerque, NM | 28.0546 | 27.6389
10780 | Alexandria, LA | 23.7639 | 22.6218
10900 | Allentown-Bethlehem-Easton, PA-NJ | 29.3872 | 27.4903
11020 | Altoona, PA | 25.8056 | 24.3129
11100 | Amarillo, TX | 27.1670 | 25.6933
11180 | Ames, IA | 28.9474 | 26.8746
11260 | Anchorage, AK | 35.6559 | 33.7320
11300 | Anderson, IN | 26.1417 | 24.4749
11340 | Anderson, SC | 26.4925 | 24.8853
11460 | Ann Arbor, MI | 32.1288 | 30.6219
11500 | Anniston-Oxford, AL | 23.3427 | 21.9251
11540 | Appleton, WI | 27.9303 | 25.9663
11700 | Asheville, NC | 26.9690 | 25.7974
12020 | Athens-Clarke County, GA | 29.0907 | 27.8508
12060 | Atlanta-Sandy Springs-Marietta, GA | 28.8960 | 27.5475
12100 | Atlantic City, NJ | 34.7415 | 32.0814
12220 | Auburn-Opelika, AL | 24.0249 | 22.8346
12260 | Augusta-Richmond County, GA-SC | 28.6584 | 26.7093
12420 | Austin-Round Rock, TX | 27.7087 | 26.5210
12540 | Bakersfield, CA | 31.4405 | 29.2570
12580 | Baltimore-Towson, MD | 29.8705 | 27.9108
12620 | Bangor, ME | 28.7200 | 27.6266
12700 | Barnstable Town, MA | 37.1619 | 35.0590
12940 | Baton Rouge, LA | 23.9840 | 23.3500
12980 | Battle Creek, MI | 28.7918 | 26.6912
13020 | Bay City, MI | 27.4599 | 26.3249
13140 | Beaumont-Port Arthur, TX | 25.4926 | 23.9070
13380 | Bellingham, WA | 32.8247 | 32.0831
13460 | Bend, OR | 31.8191 | 30.0560
13644 | Bethesda-Gaithersburg-Frederick, MD | 32.2704 | 31.0786
13740 | Billings, MT | 25.8722 | 24.7779
13780 | Binghamton, NY | 26.0978 | 24.1488
13820 | Birmingham-Hoover, AL | 26.4036 | 25.2200
13900 | Bismarck, ND | 21.4773 | 20.8617
13980 | Blacksburg-Christiansburg-Radford, VA | 24.3978 | 22.6378
14020 | Bloomington, IN | 25.3577 | 23.9071
14060 | Bloomington-Normal, IL | 26.5223 | 25.3191
14260 | Boise City-Nampa, ID | 27.8382 | 25.9580
14484 | Boston-Quincy, MA | 34.5981 | 32.6876
14500 | Boulder, CO | 30.6928 | 28.2498
14540 | Bowling Green, KY | 24.1674 | 22.8806
14740 | Bremerton-Silverdale, WA | 32.3485 | 30.1316
14860 | Bridgeport-Stamford-Norwalk, CT | 37.5692 | 35.6119
15180 | Brownsville-Harlingen, TX | 28.0460 | 27.4783
15260 | Brunswick, GA | 29.9555 | 28.9712
15380 | Buffalo-Niagara Falls, NY | 28.0487 | 26.4035
15500 | Burlington, NC | 25.6875 | 24.7454
15540 | Burlington-South Burlington, VT | 28.0878 | 26.3208
15764 | Cambridge-Newton-Framingham, MA | 32.3023 | 31.0383
15804 | Camden, NJ | 30.7780 | 29.4794
15940 | Canton-Massillon, OH | 26.8199 | 25.1102
15980 | Cape Coral-Fort Myers, FL | 27.6466 | 26.1863
16180 | Carson City, NV | 29.6855 | 28.5533
16220 | Casper, WY | 27.0939 | 25.5544
16300 | Cedar Rapids, IA | 26.3211 | 24.9097
16580 | Champaign-Urbana, IL | 28.5638 | 26.8316
16620 | Charleston, WV | 25.3369 | 24.1265
16700 | Charleston-North Charleston, SC | 27.0907 | 25.9477
16740 | Charlotte-Gastonia-Concord, NC-SC | 28.1830 | 27.0104
16820 | Charlottesville, VA | 30.0162 | 28.5508
16860 | Chattanooga, TN-GA | 26.5381 | 25.4499
16940 | Cheyenne, WY | 26.8898 | 25.0653
16974 | Chicago-Naperville-Joliet, IL | 31.7996 | 30.2340
17020 | Chico, CA | 32.7893 | 29.9719
17140 | Cincinnati-Middletown, OH-KY-IN | 28.4143 | 26.7824
17300 | Clarksville, TN-KY | 24.9567 | 23.0900
17420 | Cleveland, TN | 24.0739 | 22.5520
17460 | Cleveland-Elyria-Mentor, OH | 27.7626 | 26.3460
17660 | Coeur d'Alene, ID | 27.6683 | 26.4480
17780 | College Station-Bryan, TX | 26.8320 | 25.3789
17820 | Colorado Springs, CO | 28.7059 | 26.9783
17860 | Columbia, MO | 25.3105 | 23.5598
17900 | Columbia, SC | 23.7907 | 24.6287
17980 | Columbus, GA-AL | 24.4401 | 23.7713
18020 | Columbus, IN | 27.6269 | 26.4443
18140 | Columbus, OH | 29.9564 | 27.7794
18580 | Corpus Christi, TX | 25.3934 | 24.0550
18700 | Corvallis, OR | 34.1502 | 30.6441
19060 | Cumberland, MD-WV | 26.1797 | 24.9454
19124 | Dallas-Plano-Irving, TX | 29.8607 | 28.3711
19140 | Dalton, GA | 26.7899 | 25.7890
19180 | Danville, IL | 27.5152 | 24.7343
19260 | Danville, VA | 25.1134 | 23.9198
19340 | Davenport-Moline-Rock Island, IA-IL | 25.2896 | 24.2728
19380 | Dayton, OH | 26.7881 | 25.5826
19460 | Decatur, AL | 24.3313 | 23.8254
19500 | Decatur, IL | 24.2290 | 22.7819
19660 | Deltona-Daytona Beach-Ormond Beach, FL | 27.4687 | 25.7159
19740 | Denver-Aurora, CO | 32.3384 | 30.3491
19780 | Des Moines-West Des Moines,IA | 27.0441 | 26.1907
19804 | Detroit-Livonia-Dearborn, MI | 30.2990 | 28.9283
20020 | Dothan, AL | 22.1225 | 21.2814
20100 | Dover, DE | 29.3258 | 27.6577
20220 | Dubuque, IA | 27.0318 | 25.1096
20260 | Duluth, MN-WI | 29.7746 | 28.5452
20500 | Durham, NC | 29.0174 | 28.2855
20740 | Eau Claire, WI | 28.5480 | 26.1872
20764 | Edison, NJ | 33.1853 | 31.3795
20940 | El Centro, CA | 27.0989 | 25.2992
21060 | Elizabethtown, KY | 25.8098 | 24.4828
21140 | Elkhart-Goshen, IN | 27.8902 | 26.4406
21300 | Elmira, NY | 24.3652 | 23.2597
21340 | El Paso, TX | 26.9405 | 25.4867
21500 | Erie, PA | 25.7679 | 24.3509
21604 | Essex County, MA | 30.8807 | 29.5199
21660 | Eugene-Springfield, OR | 32.2004 | 30.4380
21780 | Evansville, IN-KY | 26.1797 | 24.1900
21820 | Fairbanks, AK | 32.7496 | 31.3425
21940 | Fajardo, PR | 11.9805 | 11.2321
22020 | Fargo, ND-MN | 24.4385 | 24.0588
22140 | Farmington, NM | 25.4686 | 23.5378
22180 | Fayetteville, NC | 26.5301 | 25.8728
22220 | Fayetteville-Springdale-Rogers, AR-MO | 25.9870 | 24.3862
22380 | Flagstaff, AZ | 34.3731 | 32.2119
22420 | Flint, MI | 32.4969 | 30.5849
22500 | Florence, SC | 24.9953 | 24.5176
22520 | Florence-Muscle Shoals, AL | 23.6570 | 22.5629
22540 | Fond du Lac, WI | 29.8417 | 27.7181
22660 | Fort Collins-Loveland, CO | 28.2139 | 27.8290
22744 | Ft Lauderdale-Pompano Beach-Deerfield | 30.0138 | 28.6681
22900 | Fort Smith, AR-OK | 22.9758 | 22.6470
23020 | Fort Walton Beach-Crestview-Destin, FL | 25.6192 | 24.5301
23060 | Fort Wayne, IN | 28.1177 | 27.1394
23104 | Fort Worth-Arlington, TX | 28.3931 | 26.7339
23420 | Fresno, CA | 32.5994 | 30.1075
23460 | Gadsden, AL | 23.9989 | 22.5094
23540 | Gainesville, FL | 27.5283 | 26.2765
23580 | Gainesville, GA | 26.6096 | 25.6552
23844 | Gary, IN | 27.4642 | 26.1115
24020 | Glens Falls, NY | 24.7436 | 23.7211
24140 | Goldsboro, NC | 27.1894 | 24.9795
24220 | Grand Forks, ND-MN | 23.6479 | 23.2868
24300 | Grand Junction, CO | 28.7625 | 27.2627
24340 | Grand Rapids-Wyoming, MI | 28.0304 | 26.4158
24500 | Great Falls, MT | 25.4356 | 24.6351
24540 | Greeley, CO | 28.5246 | 26.7856
24580 | Green Bay, WI | 28.9831 | 27.0003
24660 | Greensboro-High Point, NC | 25.9172 | 25.2493
24780 | Greenville, NC | 27.9072 | 26.1644
24860 | Greenville, SC | 28.7379 | 27.2856
25020 | Guayama, PR | 09.5985 | 09.6952
25060 | Gulfport-Biloxi, MS | 26.3877 | 24.9138
25180 | Hagerstown-Martinsburg, MD-WV | 26.8867 | 26.4121
25260 | Hanford-Corcoran, CA | 30.1059 | 27.7628
25420 | Harrisburg-Carlisle, PA | 27.8666 | 26.2093
25500 | Harrisonburg, VA | 26.9175 | 25.6513
25540 | Hartford-West Hartford-East Hartford, C | 32.3195 | 30.8426
25620 | Hattiesburg, MS | 22.0583 | 20.9235
25860 | Hickory-Lenoir-Morganton, NC | 26.7289 | 25.6097
25980 | ¹ Hinesville-Fort Stewart, GA |  |
26100 | Holland-Grand Haven, MI | 27.3564 | 25.9294
26180 | Honolulu, HI | 32.7585 | 31.0670
26300 | Hot Springs, AR | 26.0849 | 25.2942
26380 | Houma-Bayou Cane-Thibodaux, LA | 23.6912 | 22.0451
26420 | Houston-Sugar Land-Baytown, TX | 29.6912 | 28.0218
26580 | Huntington-Ashland, WV-KY-OH | 26.6703 | 26.1438
26620 | Huntsville, AL | 26.7216 | 25.2160
26820 | Idaho Falls, ID | 26.8982 | 25.7696
26900 | Indianapolis-Carmel, IN | 28.8843 | 27.7580
26980 | Iowa City, IA | 28.7929 | 27.2014
27060 | Ithaca, NY | 29.2568 | 27.4840
27100 | Jackson, MI | 28.3070 | 26.0872
27140 | Jackson, MS | 24.5054 | 23.2406
27180 | Jackson, TN | 26.2283 | 24.9470
27260 | Jacksonville, FL | 26.7802 | 26.0119
27340 | Jacksonville, NC | 24.3666 | 23.1693
27500 | Janesville, WI | 28.6711 | 26.9103
27620 | Jefferson City, MO | 24.6931 | 23.4008
27740 | Johnson City, TN | 23.8898 | 22.5898
27780 | Johnstown, PA | 25.5195 | 23.6154
27860 | Jonesboro, AR | 22.6678 | 22.1975
27900 | Joplin, MO | 25.5168 | 24.1603
28020 | Kalamazoo-Portage, MI | 31.7833 | 29.6496
28100 | Kankakee-Bradley, IL | 29.6189 | 29.2729
28140 | Kansas City, MO-KS | 28.1260 | 26.6597
28420 | Kennewick-Richland-Pasco, WA | 30.6359 | 29.2912
28660 | Killeen-Temple-Fort Hood, TX | 27.0302 | 25.1082
28700 | Kingsport-Bristol-Bristol, TN-VA | 23.5950 | 22.6623
28740 | Kingston, NY | 27.7882 | 25.8209
28940 | Knoxville, TN | 24.5065 | 23.6085
29020 | Kokomo, IN | 28.1040 | 26.2399
29100 | La Crosse, WI-MN | 27.9055 | 26.3466
29140 | Lafayette, IN | 26.5151 | 24.9248
29180 | Lafayette, LA | 24.5278 | 23.3229
29340 | Lake Charles, LA | 23.4856 | 22.1071
29404 | Lake County-Kenosha County, IL-WI | 30.8117 | 29.1933
29460 | Lakeland, FL | 26.3688 | 25.0264
29540 | Lancaster, PA | 28.5843 | 27.3304
29620 | Lansing-East Lansing, MI | 29.8859 | 27.5256
29700 | Laredo, TX | 23.2381 | 23.0084
29740 | Las Cruces, NM | 27.4404 | 24.7091
29820 | Las Vegas-Paradise, NV | 33.7979 | 31.9159
29940 | Lawrence, KS | 24.7063 | 23.8048
30020 | Lawton, OK | 24.0253 | 22.6783
30140 | Lebanon, PA | 26.3047 | 24.5398
30300 | Lewiston, ID-WA | 29.1686 | 26.9241
30340 | Lewiston-Auburn, ME | 27.0588 | 26.1610
30460 | Lexington-Fayette, KY | 27.1389 | 25.7178
30620 | Lima, OH | 26.7593 | 25.7193
30700 | Lincoln, NE | 29.8510 | 28.4796
30780 | Little Rock-North Little Rock, AR | 26.3993 | 24.7894
30860 | Logan, UT-ID | 26.7880 | 25.5328
30980 | Longview, TX | 26.0655 | 24.6081
31020 | Longview, WA | 29.6411 | 27.7279
31084 | Los Angeles-Long Beach-Santa Ana, CA | 34.8198 | 32.9747
31140 | Louisville-Jefferson County, KY-IN | 27.0486 | 25.7096
31180 | Lubbock, TX | 25.5361 | 24.4128
31340 | Lynchburg, VA | 25.8004 | 24.6790
31420 | Macon, GA | 28.2812 | 27.0212
31460 | Madera, CA | 24.1895 | 23.7007
31540 | Madison, WI | 31.7670 | 29.6038
31700 | Manchester-Nashua, NH | 30.3488 | 29.1140
31900 | Mansfield, OH | 27.5254 | 26.5502
32420 | Mayagüez, PR | 11.4161 | 11.4868
32580 | McAllen-Edinburg-Mission, TX | 26.0218 | 24.4402
32780 | Medford, OR | 32.0766 | 29.5178
32820 | Memphis, TN-MS-AR | 27.7288 | 26.1237
32900 | Merced, CA | 33.8080 | 30.8250
33124 | Miami-Miami Beach-Kendall, FL | 29.0857 | 27.5003
33140 | Michigan City-La Porte, IN | 26.9182 | 25.9742
33260 | Midland, TX | 29.0179 | 26.8535
33340 | Milwaukee-Waukesha-West Allis, WI | 30.3159 | 28.4862
33460 | Minneapolis-St. Paul-Bloomington, MN-WI | 32.3959 | 30.8366
33540 | Missoula, MT | 26.3724 | 26.0288
33660 | Mobile, AL | 23.5488 | 22.1987
33700 | Modesto, CA | 34.3892 | 33.1922
33740 | Monroe, LA | 23.7257 | 22.3272
33780 | Monroe, MI | 28.7593 | 26.7894
33860 | Montgomery, AL | 23.7850 | 23.2495
34060 | Morgantown, WV | 25.0126 | 23.9182
34100 | Morristown, TN | 23.5331 | 22.1874
34580 | Mount Vernon-Anacortes, WA | 31.1247 | 29.4347
34620 | Muncie, IN | 24.6068 | 24.0532
34740 | Muskegon-Norton Shores, MI | 29.4886 | 27.5164
34820 | Myrtle Beach-Conway-North Myrtle Beach, | 26.1078 | 24.9580
34900 | Napa, CA | 39.9176 | 36.1438
34940 | Naples-Marco Island, FL | 29.4100 | 28.5222
34980 | Nashville-Davidson—Murfreesboro, TN | 29.1670 | 27.6979
35004 | Nassau-Suffolk, NY | 37.5989 | 35.8100
35084 | Newark-Union, NJ-PA | 35.1861 | 33.0916
35300 | New Haven-Milford, CT | 35.5112 | 33.3802
35380 | New Orleans-Metairie-Kenner, LA | 26.2137 | 25.1311
35644 | New York-White Plains-Wayne, NY-NJ | 39.1188 | 37.0666
35660 | Niles-Benton Harbor, MI | 26.4279 | 24.9042
35980 | Norwich-New London, CT | 35.4758 | 32.7007
36084 | Oakland-Fremont-Hayward, CA | 45.5784 | 42.9783
36100 | Ocala, FL | 26.3570 | 25.2302
36140 | Ocean City, NJ | 31.0823 | 30.1687
36220 | Odessa, TX | 29.9544 | 27.9474
36260 | Ogden-Clearfield, UT | 26.6673 | 25.4290
36420 | Oklahoma City, OK | 26.2178 | 25.1040
36500 | Olympia, WA | 32.8460 | 30.8309
36540 | Omaha-Council Bluffs, NE-IA | 27.9830 | 26.8115
36740 | Orlando-Kissimmee, FL | 27.8531 | 26.6896
36780 | Oshkosh-Neenah, WI | 27.5278 | 25.6702
36980 | Owensboro, KY | 25.9911 | 24.2496
37100 | Oxnard-Thousand Oaks-Ventura, CA | 34.2883 | 32.1061
37340 | Palm Bay-Melbourne-Titusville, FL | 27.9443 | 27.0172
37460 | Panama City-Lynn Haven, FL | 23.9351 | 22.6108
37620 | Parkersburg-Marietta-Vienna, WV-OH | 23.5762 | 22.9231
37700 | Pascagoula, MS | 24.3614 | 22.7858
37860 | Pensacola-Ferry Pass-Brent, FL | 23.6805 | 22.7437
37900 | Peoria, IL | 26.5635 | 24.9170
37964 | Philadelphia, PA | 32.5912 | 30.7325
38060 | Phoenix-Mesa-Scottsdale, AZ | 30.5119 | 28.4597
38220 | Pine Bluff, AR | 24.9343 | 24.0918
38300 | Pittsburgh, PA | 25.6688 | 24.4659
38340 | Pittsfield, MA | 30.4192 | 28.8465
38540 | Pocatello, ID | 27.8274 | 26.4330
38660 | Ponce, PR | 14.3623 | 13.8007
38860 | Portland-South Portland-Biddeford, ME | 29.3543 | 28.3363
38900 | Portland-Vancouver-Beaverton, OR-WA | 33.7621 | 31.7618
38940 | Port St. Lucie-Fort Pierce, FL | 29.1805 | 28.0566
39100 | Poughkeepsie-Newburgh-Middletown, NY | 32.3052 | 30.9565
39140 | Prescott, AZ | 29.1830 | 27.7138
39300 | Providence-New Bedford-Fall River, RI-M | 31.9448 | 30.5097
39340 | Provo-Orem, UT | 28.2332 | 26.6782
39380 | Pueblo, CO | 25.3116 | 24.2019
39460 | Punta Gorda, FL | 27.9209 | 26.2796
39540 | Racine, WI | 27.2461 | 25.4815
39580 | Raleigh-Cary, NC | 29.1738 | 27.5962
39660 | Rapid City, SD | 30.6665 | 26.5155
39740 | Reading, PA | 28.5418 | 26.7025
39820 | Redding, CA | 39.0919 | 34.6214
39900 | Reno-Sparks, NV | 35.4486 | 31.1844
40060 | Richmond, VA | 27.1570 | 25.9892
40140 | Riverside-San Bernardino-Ontario, CA | 32.3625 | 30.7856
40220 | Roanoke, VA | 25.6872 | 23.8222
40340 | Rochester, MN | 33.2903 | 31.5856
40380 | Rochester, NY | 26.6628 | 25.5814
40420 | Rockford, IL | 29.5658 | 27.6241
40484 | Rockingham County, NH | 30.0790 | 28.7345
40580 | Rocky Mount, NC | 26.2562 | 25.0051
40660 | Rome, GA | 27.5523 | 25.7704
40900 | Sacramento—Arden-Arcade—Roseville, CA | 39.5208 | 35.6723
40980 | Saginaw-Saginaw Township North, MI | 26.4685 | 26.0187
41060 | St. Cloud, MN | 30.9000 | 28.6361
41100 | St. George, UT | 27.5173 | 26.3816
41140 | St. Joseph, MO-KS | 30.1186 | 27.9482
41180 | St. Louis, MO-IL | 26.6920 | 25.2435
41420 | Salem, OR | 30.9397 | 29.3934
41500 | Salinas, CA | 42.7963 | 39.6031
41540 | Salisbury, MD | 26.5170 | 25.2945
41620 | Salt Lake City, UT | 27.8903 | 26.5336
41660 | San Angelo, TX | 24.8207 | 23.1919
41700 | San Antonio, TX | 26.2255 | 25.0650
41740 | San Diego-Carlsbad-San Marcos, CA | 33.6627 | 31.8471
41780 | Sandusky, OH | 27.6127 | 25.5029
41884 | San Francisco-San Mateo-Redwood City, CA | 44.5507 | 41.8255
41900 | San Germán-Cabo Rojo, PR | 14.4590 | 13.7105
41940 | San Jose-Sunnyvale-Santa Clara, CA | 45.2357 | 42.1510
41980 | San Juan-Caguas-Guaynabo, PR | 13.0139 | 12.7401
42020 | San Luis Obispo-Paso Robles, CA | 34.3866 | 31.7461
42044 | Santa Ana-Anaheim-Irvine, CA | 33.3993 | 32.1497
42060 | Santa Barbara-Santa Maria, CA | 32.7438 | 31.2878
42100 | Santa Cruz-Watsonville, CA | 45.9115 | 42.4999
42140 | Santa Fe, NM | 32.0322 | 30.4616
42220 | Santa Rosa-Petaluma, CA | 42.8035 | 38.1447
42260 | Sarasota-Bradenton-Venice, FL | 29.2047 | 27.1715
42340 | Savannah, GA | 26.9048 | 26.1364
42540 | Scranton—Wilkes-Barre, PA | 25.1702 | 23.8157
42644 | Seattle-Bellevue-Everett, WA | 33.8592 | 32.2085
42680 | Sebastian-Vero Beach,FL | 28.4305 | 26.6512
43100 | Sheboygan, WI | 26.8090 | 25.1793
43300 | Sherman-Denison, TX | 25.2237 | 25.7451
43340 | Shreveport-Bossier City, LA | 26.2834 | 24.9546
43580 | Sioux City, IA-NE-SD | 27.2365 | 25.7643
43620 | Sioux Falls, SD | 28.2963 | 26.7140
43780 | South Bend-Mishawaka, IN-MI | 28.6471 | 26.9212
43900 | Spartanburg, SC | 27.2103 | 26.0456
44060 | Spokane, WA | 30.9283 | 29.8346
44100 | Springfield, IL | 26.3463 | 24.5714
44140 | Springfield, MA | 29.8434 | 28.5001
44180 | Springfield, MO | 25.1318 | 23.6337
44220 | Springfield, OH | 25.0325 | 23.8848
44300 | State College, PA | 26.0621 | 23.8363
44700 | Stockton, CA | 33.9933 | 31.2290
44940 | Sumter, SC | 23.9471 | 23.3117
45060 | Syracuse, NY | 28.7825 | 26.8883
45104 | Tacoma, WA | 31.9839 | 30.4570
45220 | Tallahassee, FL | 27.5786 | 24.8630
45300 | Tampa-St. Petersburg-Clearwater, FL | 27.2651 | 25.7804
45460 | Terre Haute, IN | 25.6447 | 23.6038
45500 | Texarkana, TX-Texarkana, AR | 24.0388 | 23.1664
45780 | Toledo, OH | 28.3827 | 26.7423
45820 | Topeka, KS | 25.8676 | 24.7876
45940 | Trenton-Ewing, NJ | 32.1787 | 29.9319
46060 | Tucson, AZ | 27.3501 | 25.4760
46140 | Tulsa, OK | 24.0631 | 23.6948
46220 | Tuscaloosa, AL | 25.5886 | 23.9087
46340 | Tyler, TX | 26.1668 | 25.6693
46540 | U a-Rome, NY | 24.9320 | 23.4183
46660 | Valdosta, GA | 24.6888 | 23.8783
46700 | Vallejo-Fairfield, CA | 44.8596 | 41.7866
47020 | Victoria, TX | 25.3226 | 23.4143
47220 | Vineland-Millville-Bridgeton, NJ | 29.1612 | 28.2024
47260 | Virginia Beach-Norfolk-Newport News, VA | 26.1678 | 24.8408
47300 | Visalia-Porterville, CA | 29.6516 | 28.2016
47380 | Waco, TX | 25.6153 | 23.6453
47580 | Warner Robins, GA | 24.8717 | 23.8719
47644 | Warren-Troy-Farmington-Hills, MI | 29.9684 | 28.0982
47894 | Washington-Arlington-Alexandria DC-VA | 32.7894 | 30.8030
47940 | Waterloo-Cedar Falls, IA | 24.9273 | 23.9407
48140 | Wausau, WI | 29.0074 | 27.1779
48260 | Weirton-Steubenville, WV-OH | 23.8952 | 22.5028
48300 | Wenatchee, WA | 30.6283 | 27.7041
48424 | West Palm Beach-Boca Raton-Boynton FL | 28.5424 | 27.9681
48540 | Wheeling, WV-OH | 20.7847 | 20.1450
48620 | Wichita, KS | 26.9190 | 25.8412
48660 | Wichita Falls, TX | 24.7483 | 23.3505
48700 | Williamsport, PA | 24.0257 | 23.2070
48864 | Wilmington, DE-MD-NJ | 31.8188 | 30.2275
48900 | Wilmington, NC | 29.1306 | 26.7990
49020 | Winchester, VA-WV | 29.8963 | 28.7056
49180 | Winston-Salem, NC | 27.5311 | 25.8316
49340 | Worcester, MA | 31.8136 | 30.5516
49420 | Yakima, WA | 29.1929 | 28.2566
49500 | Yauco, PR | 11.4297 | 11.8994
49620 | York-Hanover, PA | 27.8747 | 26.0746
49660 | Youngstown-Warren-Boardman, OH-PA | 26.0937 | 24.8356
49700 | Yuba City, CA | 31.8777 | 29.9596
49740 | Yuma, AZ | 27.1721 | 25.5234
¹ This area has no average hourly wage because there are no short-term, acute care hospitals in the area.

Table 3B.—FY 2007 and 3-Year Average Hourly Wage for Urban Areas by CBSA
[*Based on the sum of the salaries and hours computed for Federal Fiscal Years 2005, 2006, and 2007]
CBSA code | Urban area | FY 2007 average hourly wage | 3-year average hourly wage
01 | Alabama | 22.7063 | 21.2325
02 | Alaska | 31.5838 | 32.0136
03 | Arizona | 26.4457 | 24.8708
04 | Arkansas | 21.7888 | 20.7414
05 | California | 33.4249 | 30.5217
06 | Colorado | 27.6222 | 26.1254
07 | Connecticut | 34.7826 | 33.0280
08 | Delaware | 28.7837 | 26.9334
10 | Florida | 25.4848 | 24.0976
11 | Georgia | 22.4296 | 21.4509
12 | Hawaii | 31.0888 | 29.5623
13 | Idaho | 24.1337 | 22.6410
14 | Illinois | 24.6699 | 23.2118
15 | Indiana | 25.0993 | 23.9775
16 | Iowa | 25.7422 | 23.7781
17 | Kansas | 23.6947 | 22.4420
18 | Kentucky | 23.0690 | 21.7676
19 | Louisiana | 22.1373 | 20.7518
20 | Maine | 24.8632 | 24.4350
21 | Maryland | 26.4816 | 25.6822
22 | Massachusetts ¹ |  |
23 | Michigan | 26.8050 | 24.9080
24 | Minnesota | 27.1347 | 25.6682
25 | Mississippi | 22.4345 | 21.3758
26 | Missouri | 23.5321 | 22.0469
27 | Montana | 25.4332 | 24.2378
28 | Nebraska | 25.7283 | 24.5703
29 | Nevada | 26.5440 | 25.4110
30 | New Hampshire | 31.9560 | 29.2334
31 | New Jersey ¹ |  |
32 | New Mexico | 24.7274 | 23.9765
33 | New York | 24.4634 | 22.9464
34 | North Carolina | 25.4805 | 24.0022
35 | North Dakota | 21.4222 | 20.7057
36 | Ohio | 25.6736 | 24.4091
37 | Oklahoma | 22.6848 | 21.4287
38 | Oregon | 28.8984 | 27.3817
39 | Pennsylvania | 24.6593 | 23.2635
40 | Puerto Rico ¹ |  |
41 | Rhode Island ¹ |  |
42 | South Carolina | 25.4710 | 24.2433
43 | South Dakota | 25.1178 | 23.6533
44 | Tennessee | 23.2955 | 22.0862
45 | Texas | 23.6920 | 22.3956
46 | Utah | 24.1638 | 22.8805
47 | Vermont | 29.3826 | 26.8610
49 | Virginia | 23.5825 | 22.4069
50 | Washington | 30.4489 | 28.8509
51 | West Virginia | 22.6063 | 21.6759
52 | Wisconsin | 28.0229 | 26.4234
53 | Wyoming | 27.5393 | 25.7950
¹ All counties in the State or Territory are classified as urban, with the exception of Massachusetts. Massachusetts has area(s) designated as rural. However, no short-term, acute care hospitals were located in Rural Massachusetts during FY 2003, the base year for the FY 2007 wage index.

TABLE 4A-1.—Wage Index and Capital Geographic Adjustment Factor (GAF) for Urban Areas By CBSA—FY 2007
CBSA code | Urban area (constituent counties) | Wage index | GAF
10180 | Abilene, TX | 0.8051 | 0.8620
| Callahan County, TX
| Jones County, TX
| Taylor County, TX
10380 | Aguadilla-Isabela-San Sebastián, PR | 0.3917 | 0.5263
| Aguada Municipio, PR
| Aguadilla Municipio, PR
| Añasco Municipio, PR
| Isabela Municipio, PR
| Lares Municipio, PR
| Moca Municipio, PR
| Rincón Municipio, PR
| San Sebastián Municipio, PR
10420 | Akron, OH | 0.8737 | 0.9117
| Portage County, OH
| Summit County, OH
10500 | Albany, GA | 0.8969 | 0.9282
| Baker County, GA
| Dougherty County, GA
| Lee County, GA
| Terrell County, GA
| Worth County, GA
10580 | Albany-Schenectady-Troy, NY | 0.8753 | 0.9128
| Albany County, NY
| Rensselaer County, NY
| Saratoga County, NY
| Schenectady County, NY
| Schoharie County, NY
10740 | Albuquerque, NM | 0.9477 | 0.9639
| Bernalillo County, NM
| Sandoval County, NM
| Torrance County, NM
| Valencia County, NM
10780 | Alexandria, LA | 0.8028 | 0.8603
| Grant Parish, LA
| Rapides Parish, LA
10900 | Allentown-Bethlehem-Easton, PA-NJ (PA Hospitals) | 0.9927 | 0.9950
| Warren County, NJ
| Carbon County, PA
| Lehigh County, PA
| Northampton County, PA
10900 | ² Allentown-Bethlehem-Easton, PA-NJ (NJ Hospitals) | 1.1226 | 1.0824
| Warren County, NJ
| Carbon County, PA
| Lehigh County, PA
| Northampton County, PA
11020 | Altoona, PA | 0.8717 | 0.9103
| Blair County, PA
11100 | Amarillo, TX | 0.9177 | 0.9429
| Armstrong County, TX
| Carson County, TX
| Potter County, TX
| Randall County, TX
11180 | Ames, IA | 0.9779 | 0.9848
| Story County, IA
11260 | Anchorage, AK | 1.2062 | 1.1370
| Anchorage Municipality, AK
| Matanuska-Susitna Borough, AK
11300 | Anderson, IN | 0.8831 | 0.9184
| Madison County, IN
11340 | Anderson, SC | 0.8949 | 0.9268
| Anderson County, SC
11460 | ³ Ann Arbor, MI | 1.0853 | 1.0577
| Washtenaw County, MI
11500 | Anniston-Oxford, AL | 0.7978 | 0.8567
| Calhoun County, AL
11540 | ² Appleton, WI | 0.9466 | 0.9631
| Calumet County, WI
| Outagamie County, WI
11700 | Asheville, NC | 0.9110 | 0.9382
| Buncombe County, NC
| Haywood County, NC
| Henderson County, NC
| Madison County, NC
12020 | Athens-Clarke County, GA | 0.9827 | 0.9881
| Clarke County, GA
| Madison County, GA
| Oconee County, GA
| Oglethorpe County, GA
12060 | ¹ Atlanta-Sandy Springs-Marietta, GA | 0.9761 | 0.9836
| Barrow County, GA
| Bartow County, GA
| Butts County, GA
| Carroll County, GA
| Cherokee County, GA
| Clayton County, GA
| Cobb County, GA
| Coweta County, GA
| Dawson County, GA
| DeKalb County, GA
| Douglas County, GA
| Fayette County, GA
| Forsyth County, GA
| Fulton County, GA
| Gwinnett County, GA
| Haralson County, GA
| Heard County, GA
| Henry County, GA
| Jasper County, GA
| Lamar County, GA
| Meriwether County, GA
| Newton County, GA
| Paulding County, GA
| Pickens County, GA
| Pike County, GA
| Rockdale County, GA
| Spalding County, GA
| Walton County, GA
12100 | Atlantic City, NJ | 1.1736 | 1.1159
| Atlantic County, NJ
12220 | Auburn-Opelika, AL | 0.8116 | 0.8668
| Lee County, AL
12260 | Augusta-Richmond County, GA-SC | 0.9681 | 0.9780
| Burke County, GA
| Columbia County, GA
| McDuffie County, GA
| Richmond County, GA
| Aiken County, SC
| Edgefield County, SC
12420 | ¹ Austin-Round Rock, TX | 0.9360 | 0.9557
| Bastrop County, TX
| Caldwell County, TX
| Hays County, TX
| Travis County, TX
| Williamson County, TX
12540 | ² Bakersfield, CA | 1.1291 | 1.0867
| Kern County, CA
12580 | ¹ Baltimore-Towson, MD | 1.0090 | 1.0062
| Anne Arundel County, MD
| Baltimore County, MD
| Carroll County, MD
| Harford County, MD
| Howard County, MD
| Queen Anne's County, MD
| Baltimore City, MD
12620 | Bangor, ME | 0.9702 | 0.9795
| Penobscot County, ME
12700 | Barnstable Town, MA | 1.2553 | 1.1685
| Barnstable County, MA
12940 | Baton Rouge, LA | 0.8102 | 0.8658
| Ascension Parish, LA
| East Baton Rouge Parish, LA
| East Feliciana Parish, LA
| Iberville Parish, LA
| Livingston Parish, LA
| Pointe Coupee Parish, LA
| St. Helena Parish, LA
| West Baton Rouge Parish, LA
| West Feliciana Parish, LA
12980 | Battle Creek, MI | 0.9726 | 0.9812
| Calhoun County, MI
13020 | Bay City, MI | 1.0040 | 1.0027
| Bay County, MI
13140 | Beaumont-Port Arthur, TX | 0.8612 | 0.9027
| Hardin County, TX
| Jefferson County, TX
| Orange County, TX
13380 | Bellingham, WA | 1.1088 | 1.0733
| Whatcom County, WA
13460 | Bend, OR | 1.0749 | 1.0507
| Deschutes County, OR
13644 | ¹ Bethesda-Gaithersburg-Frederick, MD | 1.1028 | 1.0693
| Frederick County, MD
| Montgomery County, MD
13740 | Billings, MT | 0.8740 | 0.9119
| Carbon County, MT
| Yellowstone County, MT
13780 | Binghamton, NY | 0.8816 | 0.9173
| Broome County, NY
| Tioga County, NY
13820 | ¹ Birmingham-Hoover, AL | 0.8919 | 0.9246
| Bibb County, AL
| Blount County, AL
| Chilton County, AL
| Jefferson County, AL
| St. Clair County, AL
| Shelby County, AL
| Walker County, AL
13900 | Bismarck, ND | 0.7255 | 0.8027
| Burleigh County, ND
| Morton County, ND
13980 | Blacksburg-Christiansburg-Radford, VA | 0.8242 | 0.8760
| Giles County, VA
| Montgomery County, VA
| Pulaski County, VA
| Radford City, VA
14020 | Bloomington, IN | 0.8566 | 0.8994
| Greene County, IN
| Monroe County, IN
| Owen County, IN
14060 | Bloomington-Normal, IL | 0.8959 | 0.9275
| McLean County, IL
14260 | Boise City-Nampa, ID | 0.9404 | 0.9588
| Ada County, ID
| Boise County, ID
| Canyon County, ID
| Gem County, ID
| Owyhee County, ID
14484 | ¹ Boston-Quincy, MA | 1.1687 | 1.1127
| Norfolk County, MA
| Plymouth County, MA
| Suffolk County, MA
14500 | Boulder, CO | 1.0368 | 1.0251
| Boulder County, CO
14540 | Bowling Green, KY | 0.8164 | 0.8703
| Edmonson County, KY
| Warren County, KY
14740 | Bremerton-Silverdale, WA | 1.0927 | 1.0626
| Kitsap County, WA
14860 | Bridgeport-Stamford-Norwalk, CT | 1.2691 | 1.1773
| Fairfield County, CT
15180 | Brownsville-Harlingen, TX | 0.9474 | 0.9637
| Cameron County, TX
15260 | Brunswick, GA | 1.0119 | 1.0081
| Brantley County, GA
| Glynn County, GA
| McIntosh County, GA
15380 | ¹ Buffalo-Niagara Falls, NY | 0.9475 | 0.9637
| Erie County, NY
| Niagara County, NY
15500 | Burlington, NC | 0.8677 | 0.9074
| Alamance County, NC
15540 | ² Burlington-South Burlington, VT | 1.0986 | 1.0665
| Chittenden County, VT
| Franklin County, VT
| Grand Isle County, VT
15764 | ¹ Cambridge-Newton-Framingham, MA | 1.0912 | 1.0616
| Middlesex County, MA
15804 | ¹ Camden, NJ | 1.1226 | 1.0824
| Burlington County, NJ
| Camden County, NJ
| Gloucester County, NJ
15940 | Canton-Massillon, OH | 0.9060 | 0.9346
| Carroll County, OH
| Stark County, OH
15980 | Cape Coral-Fort Myers, FL | 0.9339 | 0.9542
| Lee County, FL
16180 | Carson City, NV | 1.0028 | 1.0019
| Carson City, NV
16220 | ² Casper, WY | 0.9303 | 0.9517
| Natrona County, WY
16300 | Cedar Rapids, IA | 0.8891 | 0.9227
| Benton County, IA
| Jones County, IA
| Linn County, IA
16580 | Champaign-Urbana, IL | 0.9649 | 0.9758
| Champaign County, IL
| Ford County, IL
| Piatt County, IL
16620 | Charleston, WV | 0.8559 | 0.8989
| Boone County, WV
| Clay County, WV
| Kanawha County, WV
| Lincoln County, WV
| Putnam County, WV
16700 | Charleston-North Charleston, SC | 0.9168 | 0.9422
| Berkeley County, SC
| Charleston County, SC
| Dorchester County, SC
16740 | ¹ Charlotte-Gastonia-Concord, NC-SC | 0.9520 | 0.9669
| Anson County, NC
| Cabarrus County, NC
| Gaston County, NC
| Mecklenburg County, NC
| Stanly County, NC
| Union County, NC
| York County, SC
16820 | Charlottesville, VA | 1.0140 | 1.0096
| Albemarle County, VA
| Fluvanna County, VA
| Greene County, VA
| Nelson County, VA
| Charlottesville City, VA
16860 | Chattanooga, TN-GA | 0.8965 | 0.9279
| Catoosa County, GA
| Dade County, GA
| Walker County, GA
| Hamilton County, TN
| Marion County, TN
| Sequatchie County, TN
16940 | ² Cheyenne, WY | 0.9303 | 0.9517
| Laramie County, WY
16974 | ¹ Chicago-Naperville-Joliet, IL | 1.0742 | 1.0502
| Cook County, IL
| DeKalb County, IL
| DuPage County, IL
| Grundy County, IL
| Kane County, IL
| Kendall County, IL
| McHenry County, IL
| Will County, IL
17020 | ² Chico, CA | 1.1291 | 1.0867
| Butte County, CA
17140 | ¹ Cincinnati-Middletown, OH-KY-IN | 0.9599 | 0.9724
| Dearborn County, IN
| Franklin County, IN
| Ohio County, IN
| Boone County, KY
| Bracken County, KY
| Campbell County, KY
| Gallatin County, KY
| Grant County, KY
| Kenton County, KY
| Pendleton County, KY
| Brown County, OH
| Butler County, OH
| Clermont County, OH
| Hamilton County, OH
| Warren County, OH
17300 | Clarksville, TN-KY | 0.8431 | 0.8897
| Christian County, KY
| Trigg County, KY
| Montgomery County, TN
| Stewart County, TN
17420 | Cleveland, TN | 0.8132 | 0.8680
| Bradley County, TN
| Polk County, TN
17460 | ¹ Cleveland-Elyria-Mentor, OH | 0.9378 | 0.9570
| Cuyahoga County, OH
| Geauga County, OH
| Lake County, OH
| Lorain County, OH
| Medina County, OH
17660 | Coeur d'Alene, ID | 0.9347 | 0.9548
| Kootenai County, ID
17780 | College Station-Bryan, TX | 0.9064 | 0.9349
| Brazos County, TX
| Burleson County, TX
| Robertson County, TX
17820 | Colorado Springs, CO | 0.9697 | 0.9792
| El Paso County, CO
| Teller County, CO
17860 | Columbia, MO | 0.8550 | 0.8983
| Boone County, MO
| Howard County, MO
17900 | ² Columbia, SC | 0.8604 | 0.9022
| Calhoun County, SC
| Fairfield County, SC
| Kershaw County, SC
| Lexington County, SC
| Richland County, SC
| Saluda County, SC
17980 | Columbus, GA-AL | 0.8256 | 0.8770
| Russell County, AL
| Chattahoochee County, GA
| Harris County, GA
| Marion County, GA
| Muscogee County, GA
18020 | Columbus, IN | 0.9333 | 0.9538
| Bartholomew County, IN
18140 | ¹ Columbus, OH | 1.0119 | 1.0081
| Delaware County, OH
| Fairfield County, OH
| Franklin County, OH
| Licking County, OH
| Madison County, OH
| Morrow County, OH
| Pickaway County, OH
| Union County, OH
18580 | Corpus Christi, TX | 0.8578 | 0.9003
| Aransas County, TX
| Nueces County, TX
| San Patricio County, TX
18700 | Corvallis, OR | 1.1536 | 1.1028
| Benton County, OR
19060 | ² Cumberland, MD-WV (MD Hospitals) | 0.8946 | 0.9266
| Allegany County, MD
| Mineral County, WV
19060 | Cumberland, MD-WV (WV Hospitals) | 0.8844 | 0.9193
| Allegany County, MD
| Mineral County, WV
19124 | ¹ Dallas-Plano-Irving, TX | 1.0087 | 1.0059
| Collin County, TX
| Dallas County, TX
| Delta County, TX
| Denton County, TX
| Ellis County, TX
| Hunt County, TX
| Kaufman County, TX
| Rockwall County, TX
19140 | Dalton, GA | 0.9050 | 0.9339
| Murray County, GA
| Whitfield County, GA
19180 | Danville, IL | 0.9295 | 0.9512
| Vermilion County, IL
19260 | Danville, VA | 0.8483 | 0.8935
| Pittsylvania County, VA
| Danville City, VA
19340 | ² Davenport-Moline-Rock Island, IA-IL (IA Hospitals) | 0.8696 | 0.9088
| Henry County, IL
| Mercer County, IL
| Rock Island County, IL
| Scott County, IA
19340 | Davenport-Moline-Rock Island, IA-IL (IL Hospitals) | 0.8569 | 0.8996
| Henry County, IL
| Mercer County, IL
| Rock Island County, IL
| Scott County, IA
19380 | Dayton, OH | 0.9049 | 0.9339
| Greene County, OH
| Miami County, OH
| Montgomery County, OH
| Preble County, OH
19460 | Decatur, AL | 0.8220 | 0.8744
| Lawrence County, AL
| Morgan County, AL
19500 | ² Decatur, IL | 0.8334 | 0.8827
| Macon County, IL
19660 | Deltona-Daytona Beach-Ormond Beach, FL | 0.9279 | 0.9500
| Volusia County, FL
19740 | ¹ Denver-Aurora, CO | 1.0924 | 1.0624
| Adams County, CO
| Arapahoe County, CO
| Broomfield County, CO
| Clear Creek County, CO
| Denver County, CO
| Douglas County, CO
| Elbert County, CO
| Gilpin County, CO
| Jefferson County, CO
| Park County, CO
19780 | Des Moines-West Des Moines, IA | 0.9136 | 0.9400
| Dallas County, IA
| Guthrie County, IA
| Madison County, IA
| Polk County, IA
| Warren County, IA
19804 | ¹ Detroit-Livonia-Dearborn, MI | 1.0235 | 1.0160
| Wayne County, MI
20020 | ² Dothan, AL | 0.7670 | 0.8339
| Geneva County, AL
| Henry County, AL
| Houston County, AL
20100 | Dover, DE | 0.9906 | 0.9936
| Kent County, DE
20220 | Dubuque, IA | 0.9132 | 0.9397
| Dubuque County, IA
20260 | Duluth, MN-WI | 1.0157 | 1.0107
| Carlton County, MN
| St. Louis County, MN
| Douglas County, WI
20500 | Durham, NC | 0.9805 | 0.9866
| Chatham County, NC
| Durham County, NC
| Orange County, NC
| Person County, NC
20740 | Eau Claire, WI | 0.9644 | 0.9755
| Chippewa County, WI
| Eau Claire County, WI
20764 | ¹ Edison, NJ | 1.1242 | 1.0835
| Middlesex County, NJ
| Monmouth County, NJ
| Ocean County, NJ
| Somerset County, NJ
20940 | ² El Centro, CA | 1.1291 | 1.0867
| Imperial County, CA
21060 | Elizabethtown, KY | 0.8719 | 0.9104
| Hardin County, KY
| Larue County, KY
21140 | Elkhart-Goshen, IN | 0.9421 | 0.9600
| Elkhart County, IN
21300 | ² Elmira, NY | 0.8267 | 0.8778
| Chemung County, NY
21340 | El Paso, TX | 0.9101 | 0.9375
| El Paso County, TX
21500 | Erie, PA | 0.8705 | 0.9094
| Erie County, PA
21604 | ² Essex County, MA | 1.0664 | 1.0450
| Essex County, MA
21660 | Eugene-Springfield, OR | 1.0877 | 1.0593
| Lane County, OR
21780 | Evansville, IN-KY | 0.8844 | 0.9193
| Gibson County, IN
| Posey County, IN
| Vanderburgh County, IN
| Warrick County, IN
| Henderson County, KY
| Webster County, KY
21820 | Fairbanks, AK | 1.1063 | 1.0716
| Fairbanks North Star Borough, AK
21940 | Fajardo, PR | 0.4047 | 0.5382
| Ceiba Municipio, PR
| Fajardo Municipio, PR
| Luquillo Municipio, PR
22020 | Fargo, ND-MN (ND Hospitals) | 0.8485 | 0.8936
| Clay County, MN
| Cass County, ND
22020 | ² Fargo, ND-MN (MN Hospitals) | 0.9256 | 0.9484
| Clay County, MN
| Cass County, ND
22140 | Farmington, NM | 0.8603 | 0.9021
| San Juan County, NM
22180 | Fayetteville, NC | 0.8962 | 0.9277
| Cumberland County, NC
| Hoke County, NC
22220 | Fayetteville-Springdale-Rogers, AR-MO | 0.8779 | 0.9147
| Benton County, AR
| Madison County, AR
| Washington County, AR
| McDonald County, MO
22380 | Flagstaff, AZ | 1.1611 | 1.1077
| Coconino County, AZ
22420 | Flint, MI | 1.0978 | 1.0660
| Genesee County, MI
22500 | ² Florence, SC | 0.8604 | 0.9022
| Darlington County, SC
| Florence County, SC
22520 | Florence-Muscle Shoals, AL | 0.8008 | 0.8589
| Colbert County, AL
| Lauderdale County, AL
22540 | Fond du Lac, WI | 1.0081 | 1.0055
| Fond du Lac County, WI
22660 | Fort Collins-Loveland, CO | 0.9594 | 0.9720
| Larimer County, CO
22744 | ¹ Fort Lauderdale-Pompano Beach-Deerfield Beach, FL | 1.0470 | 1.0320
| Broward County, FL
22900 | Fort Smith, AR-OK | 0.7761 | 0.8407
| Crawford County, AR
| Franklin County, AR
| Sebastian County, AR
| Le Flore County, OK
| Sequoyah County, OK
23020 | Fort Walton Beach-Crestview-Destin, FL | 0.8654 | 0.9057
| Okaloosa County, FL
23060 | Fort Wayne, IN | 0.9498 | 0.9653
| Allen County, IN
| Wells County, IN
| Whitley County, IN
23104 | ¹ Fort Worth-Arlington, TX | 0.9591 | 0.9718
| Johnson County, TX
| Parker County, TX
| Tarrant County, TX
| Wise County, TX
23420 | ² Fresno, CA | 1.1291 | 1.0867
| Fresno County, CA
23460 | Gadsden, AL | 0.8107 | 0.8661
| Etowah County, AL
23540 | Gainesville, FL | 0.9299 | 0.9514
| Alachua County, FL
| Gilchrist County, FL
23580 | Gainesville, GA | 0.8989 | 0.9296
| Hall County, GA
23844 | Gary, IN | 0.9278 | 0.9500
| Jasper County, IN
| Lake County, IN
| Newton County, IN
| Porter County, IN
24020 | Glens Falls, NY | 0.8359 | 0.8845
| Warren County, NY
| Washington County, NY
24140 | Goldsboro, NC | 0.9185 | 0.9434
| Wayne County, NC
24220 | Grand Forks, ND-MN (ND Hospitals) | 0.7988 | 0.8574
| Polk County, MN
| Grand Forks County, ND
24220 | ² Grand Forks, ND-MN (MN Hospitals) | 0.9256 | 0.9484
| Polk County, MN
| Grand Forks County, ND
24300 | Grand Junction, CO | 1.0037 | 1.0025
| Mesa County, CO
24340 | Grand Rapids-Wyoming, MI | 0.9469 | 0.9633
| Barry County, MI
| Ionia County, MI
| Kent County, MI
| Newaygo County, MI
24500 | Great Falls, MT | 0.8781 | 0.9148
| Cascade County, MT
24540 | Greeley, CO | 0.9636 | 0.9749
| Weld County, CO
24580 | Green Bay, WI | 0.9791 | 0.9856
| Brown County, WI
| Kewaunee County, WI
| Oconto County, WI
24660 | Greensboro-High Point, NC | 0.8992 | 0.9298
| Guilford County, NC
| Randolph County, NC
| Rockingham County, NC
24780 | Greenville, NC | 0.9427 | 0.9604
| Greene County, NC
| Pitt County, NC
24860 | Greenville, SC | 0.9708 | 0.9799
| Greenville County, SC
| Laurens County, SC
| Pickens County, SC
25020 | Guayama, PR | 0.3242 | 0.4624
| Arroyo Municipio, PR
| Guayama Municipio, PR
| Patillas Municipio, PR
25060 | Gulfport-Biloxi, MS | 0.8914 | 0.9243
| Hancock County, MS
| Harrison County, MS
| Stone County, MS
25180 | Hagerstown-Martinsburg, MD-WV | 0.9082 | 0.9362
| Washington County, MD
| Berkeley County, WV
| Morgan County, WV
25260 | ² Hanford-Corcoran, CA | 1.1291 | 1.0867
| Kings County, CA
25420 | Harrisburg-Carlisle, PA | 0.9413 | 0.9594
| Cumberland County, PA
| Dauphin County, PA
| Perry County, PA
25500 | Harrisonburg, VA | 0.9093 | 0.9370
| Rockingham County, VA
| Harrisonburg City, VA
25540 | ¹ ² Hartford-West Hartford-East Hartford, CT | 1.1750 | 1.1168
| Hartford County, CT
| Litchfield County, CT
| Middlesex County, CT
| Tolland County, CT
25620 | ² Hattiesburg, MS | 0.7579 | 0.8271
| Forrest County, MS
| Lamar County, MS
| Perry County, MS
25860 | Hickory-Lenoir-Morganton, NC | 0.9029 | 0.9324
| Alexander County, NC
| Burke County, NC
| Caldwell County, NC
| Catawba County, NC
25980 | Hinesville-Fort Stewart, GA | 0.7577 | 0.8270
| Liberty County, GA
| Long County, GA
26100 | Holland-Grand Haven, MI | 0.9241 | 0.9474
| Ottawa County, MI
26180 | Honolulu, HI | 1.1066 | 1.0718
| Honolulu County, HI
26300 | Hot Springs, AR | 0.8812 | 0.9170
| Garland County, AR
26380 | Houma-Bayou Cane-Thibodaux, LA | 0.8003 | 0.8585
| Lafourche Parish, LA
| Terrebonne Parish, LA
26420 | ¹ Houston-Sugar Land-Baytown, TX | 1.0030 | 1.0021
| Austin County, TX
| Brazoria County, TX
| Chambers County, TX
| Fort Bend County, TX
| Galveston County, TX
| Harris County, TX
| Liberty County, TX
| Montgomery County, TX
| San Jacinto County, TX
| Waller County, TX
26580 | Huntington-Ashland, WV-KY-OH | 0.9009 | 0.9310
| Boyd County, KY
| Greenup County, KY
| Lawrence County, OH
| Cabell County, WV
| Wayne County, WV
26620 | Huntsville, AL | 0.9027 | 0.9323
| Limestone County, AL
| Madison County, AL
26820 | Idaho Falls, ID | 0.9300 | 0.9515
| Bonneville County, ID
| Jefferson County, ID
26900 | ¹ Indianapolis-Carmel, IN | 0.9757 | 0.9833
| Boone County, IN
| Brown County, IN
| Hamilton County, IN
| Hancock County, IN
| Hendricks County, IN
| Johnson County, IN
| Marion County, IN
| Morgan County, IN
| Putnam County, IN
| Shelby County, IN
26980 | Iowa City, IA | 0.9726 | 0.9812
| Johnson County, IA
| Washington County, IA
27060 | Ithaca, NY | 0.9883 | 0.9920
| Tompkins County, NY
27100 | Jackson, MI | 0.9562 | 0.9698
| Jackson County, MI
27140 | Jackson, MS | 0.8278 | 0.8786
| Copiah County, MS
| Hinds County, MS
| Madison County, MS
| Rankin County, MS
| Simpson County, MS | 0.8860 | 0.9205
27180 | Jackson, TN
| Chester County, TN
| Madison County, TN
27260 | ¹ Jacksonville, FL | 0.9046 | 0.9336
| Baker County, FL
| Clay County, FL
| Duval County, FL
| Nassau County, FL
| St. Johns County, FL
27340 | ² Jacksonville, NC | 0.8607 | 0.9024
| Onslow County, NC
27500 | Janesville, WI | 0.9685 | 0.9783
| Rock County, WI
27620 | Jefferson City, MO | 0.8341 | 0.8832
| Callaway County, MO
| Cole County, MO
| Moniteau County, MO
| Osage County, MO
27740 | Johnson City, TN | 0.8070 | 0.8634
| Carter County, TN
| Unicoi County, TN
| Washington County, TN
27780 | Johnstown, PA | 0.8621 | 0.9034
| Cambria County, PA
27860 | Jonesboro, AR | 0.7952 | 0.8548
| Craighead County, AR
| Poinsett County, AR
27900 | Joplin, MO | 0.8620 | 0.9033
| Jasper County, MO
| Newton County, MO
28020 | Kalamazoo-Portage, MI | 1.0737 | 1.0499
| Kalamazoo County, MI
| Van Buren County, MI
28100 | Kankakee-Bradley, IL | 1.0005 | 1.0003
| Kankakee County, IL
28140 | ¹ Kansas City, MO-KS | 0.9501 | 0.9656
| Franklin County, KS
| Johnson County, KS
| Leavenworth County, KS
| Linn County, KS
| Miami County, KS
| Wyandotte County, KS
| Bates County, MO
| Caldwell County, MO
| Cass County, MO
| Clay County, MO
| Clinton County, MO
| Jackson County, MO
| Lafayette County, MO
| Platte County, MO
| Ray County, MO
28420 | ² Kennewick-Richland-Pasco, WA | 1.0440 | 1.0299
| Benton County, WA
| Franklin County, WA
28660 | Killeen-Temple-Fort Hood, TX | 0.9131 | 0.9396
| Bell County, TX
| Coryell County, TX
| Lampasas County, TX
28700 | Kingsport-Bristol-Bristol, TN-VA | 0.8062 | 0.8628
| Hawkins County, TN
| Sullivan County, TN
| Bristol City, VA
| Scott County, VA
| Washington County, VA
28740 | Kingston, NY | 0.9387 | 0.9576
| Ulster County, NY
28940 | Knoxville, TN | 0.8278 | 0.8786
| Anderson County, TN
| Blount County, TN
| Knox County, TN
| Loudon County, TN
| Union County, TN
29020 | Kokomo, IN | 0.9494 | 0.9651
| Howard County, IN
| Tipton County, IN
29100 | ² La Crosse, WI-MN (WI Hospitals) | 0.9466 | 0.9631
| Houston County, MN
| La Crosse County, WI
29100 | La Crosse, WI-MN (MN Hospitals) | 0.9427 | 0.9604
| Houston County, MN
| La Crosse County, WI
29140 | Lafayette, IN | 0.8957 | 0.9273
| Benton County, IN
| Carroll County, IN
| Tippecanoe County, IN
29180 | Lafayette, LA | 0.8300 | 0.8802
| Lafayette Parish, LA
| St. Martin Parish, LA
29340 | Lake Charles, LA | 0.7934 | 0.8534
| Calcasieu Parish, LA
| Cameron Parish, LA
29400 | Lake County-Kenosha County, IL-WI | 1.0408 | 1.0278
| Lake County, IL
| Kenosha County, WI
29460 | Lakeland, FL | 0.8908 | 0.9239
| Polk County, FL
29540 | Lancaster, PA | 0.9768 | 0.9841
| Lancaster County, PA
29620 | Lansing-East Lansing, MI | 1.0096 | 1.0066
| Clinton County, MI
| Eaton County, MI
| Ingham County, MI
29700 | ² Laredo, TX | 0.8003 | 0.8585
| Webb County, TX
29740 | Las Cruces, NM | 0.9270 | 0.9494
| Dona Ana County, NM
29820 | ¹ Las Vegas-Paradise, NV | 1.1417 | 1.0950
| Clark County, NV
29940 | Lawrence, KS | 0.8346 | 0.8835
| Douglas County, KS
30020 | Lawton, OK | 0.8116 | 0.8668
| Comanche County, OK
30140 | Lebanon, PA | 0.8886 | 0.9223
| Lebanon County, PA
30300 | Lewiston, ID-WA (ID Hospitals) | 0.9853 | 0.9899
| Nez Perce County, ID
| Asotin County, WA
30300 | ² Lewiston, ID-WA (WA Hospitals) | 1.0440 | 1.0299
| Nez Perce County, ID
| Asotin County, WA
30340 | Lewiston-Auburn, ME | 0.9141 | 0.9403
| Androscoggin County, ME
30460 | Lexington-Fayette, KY | 0.9168 | 0.9422
| Bourbon County, KY
| Clark County, KY
| Fayette County, KY
| Jessamine County, KY
| Scott County, KY
| Woodford County, KY
30620 | Lima, OH | 0.9060 | 0.9346
| Allen County, OH
30700 | Lincoln, NE | 1.0084 | 1.0057
| Lancaster County, NE
| Seward County, NE
30780 | Little Rock-North Little Rock, AR | 0.8918 | 0.9246
| Faulkner County, AR
| Grant County, AR
| Lonoke County, AR
| Perry County, AR
| Pulaski County, AR
| Saline County, AR
30860 | Logan, UT-ID | 0.9049 | 0.9339
| Franklin County, ID
| Cache County, UT
30980 | Longview, TX | 0.8905 | 0.9237
| Gregg County, TX
| Rusk County, TX
| Upshur County, TX
31020 | ² Longview, WA | 1.0440 | 1.0299
| Cowlitz County, WA
31084 | ¹ ³ Los Angeles-Long Beach-Glendale, CA | 1.1762 | 1.1175
| Los Angeles County, CA
31140 | ¹ Louisville-Jefferson County, KY-IN | 0.9137 | 0.9401
| Clark County, IN
| Floyd County, IN
| Harrison County, IN
| Washington County, IN
| Bullitt County, KY
| Henry County, KY
| Jefferson County, KY
| Meade County, KY
| Nelson County, KY
| Oldham County, KY
| Shelby County, KY
| Spencer County, KY
| Trimble County, KY
31180 | Lubbock, TX | 0.8626 | 0.9037
| Crosby County, TX
| Lubbock County, TX
31340 | Lynchburg, VA | 0.8716 | 0.9102
| Amherst County, VA
| Appomattox County, VA
| Bedford County, VA
| Campbell County, VA
| Bedford City, VA
| Lynchburg City, VA
31420 | Macon, GA | 0.9554 | 0.9692
| Bibb County, GA
| Crawford County, GA
| Jones County, GA
| Monroe County, GA
| Twiggs County, GA
31460 | ² Madera, CA | 1.1291 | 1.0867
| Madera County, CA
31540 | Madison, WI | 1.0731 | 1.0495
| Columbia County, WI
| Dane County, WI
| Iowa County, WI
31700 | ² Manchester-Nashua, NH | 1.1665 | 1.1112
| Hillsborough County, NH
| Merrimack County, NH
31900 | Mansfield, OH | 0.9298 | 0.9514
| Richland County, OH
32420 | Mayagüez, PR | 0.3856 | 0.5207
| Hormigueros Municipio, PR
| Mayagüez Municipio, PR
32580 | McAllen-Edinburg-Mission, TX | 0.8790 | 0.9155
| Hidalgo County, TX
32780 | Medford, OR | 1.0836 | 1.0565
| Jackson County, OR
32820 | ¹ Memphis, TN-MS-AR | 0.9367 | 0.9562
| Crittenden County, AR
| DeSoto County, MS
| Marshall County, MS
| Tate County, MS
| Tunica County, MS
| Fayette County, TN
| Shelby County, TN
| Tipton County, TN
32900 | Merced, CA | 1.1421 | 1.0953
| Merced County, CA
33124 | ¹ Miami-Miami Beach-Kendall, FL | 0.9825 | 0.9880
| Miami-Dade County, FL
33140 | Michigan City-La Porte, IN | 0.9093 | 0.9370
| LaPorte County, IN
33260 | Midland, TX | 0.9802 | 0.9864
| Midland County, TX
33340 | ¹ Milwaukee-Waukesha-West Allis, WI | 1.0241 | 1.0164
| Milwaukee County, WI
| Ozaukee County, WI
| Washington County, WI
| Waukesha County, WI
33460 | ¹ Minneapolis-St. Paul-Bloomington, MN-WI | 1.0943 | 1.0637
| Anoka County, MN
| Carver County, MN
| Chisago County, MN
| Dakota County, MN
| Hennepin County, MN
| Isanti County, MN
| Ramsey County, MN
| Scott County, MN
| Sherburne County, MN
| Washington County, MN
| Wright County, MN
| Pierce County, WI
| St. Croix County, WI
33540 | Missoula, MT | 0.8909 | 0.9239
| Missoula County, MT
33660 | Mobile, AL | 0.7955 | 0.8550
| Mobile County, AL
33700 | Modesto, CA | 1.1731 | 1.1155
| Stanislaus County, CA
33740 | Monroe, LA | 0.8015 | 0.8594
| Ouachita Parish, LA
| Union Parish, LA
33780 | Monroe, MI | 0.9715 | 0.9804
| Monroe County, MI
33860 | Montgomery, AL | 0.8035 | 0.8609
| Autauga County, AL
| Elmore County, AL
| Lowndes County, AL
| Montgomery County, AL
34060 | Morgantown, WV | 0.8449 | 0.8910
| Monongalia County, WV
| Preston County, WV
34100 | ² Morristown, TN | 0.7957 | 0.8551
| Grainger County, TN
| Hamblen County, TN
| Jefferson County, TN
34580 | Mount Vernon-Anacortes, WA | 1.0514 | 1.0349
| Skagit County, WA
34620 | ² Muncie, IN | 0.8479 | 0.8932
| Delaware County, IN
34740 | ³ Muskegon-Norton Shores, MI | 0.9961 | 0.9973
| Muskegon County, MI
34820 | Myrtle Beach-Conway-North Myrtle Beach, SC | 0.8819 | 0.9175
| Horry County, SC
34900 | Napa, CA | 1.3484 | 1.2272
| Napa County, CA
34940 | Naples-Marco Island, FL | 0.9935 | 0.9955
| Collier County, FL
34980 | ¹ Nashville-Davidson-Murfreesboro, TN | 0.9853 | 0.9899
| Cannon County, TN
| Cheatham County, TN
| Davidson County, TN
| Dickson County, TN
| Hickman County, TN
| Macon County, TN
| Robertson County, TN
| Rutherford County, TN
| Smith County, TN
| Sumner County, TN
| Trousdale County, TN
| Williamson County, TN
| Wilson County, TN
35004 | ¹ ³ Nassau-Suffolk, NY | 1.2701 | 1.1779
| Nassau County, NY
| Suffolk County, NY
35080 | ¹ Newark-Union, NJ-PA | 1.1886 | 1.1256
| Essex County, NJ
| Hunterdon County, NJ
| Morris County, NJ
| Sussex County, NJ
| Union County, NJ
| Pike County, PA
35300 | New Haven-Milford, CT | 1.2093 | 1.1390
| New Haven County, CT
35380 | ¹ New Orleans-Metairie-Kenner, LA | 0.8855 | 0.9201
| Jefferson Parish, LA
| Orleans Parish, LA
| Plaquemines Parish, LA
| St. Bernard Parish, LA
| St. Charles Parish, LA
| St. John the Baptist Parish, LA
| St. Tammany Parish, LA
35644 | ¹ ³ New York-White Plains-Wayne, NY-NJ | 1.3215 | 1.2103
| Bergen County, NJ
| Hudson County, NJ
| Passaic County, NJ
| Bronx County, NY
| Kings County, NY
| New York County, NY
| Putnam County, NY
| Queens County, NY
| Richmond County, NY
| Rockland County, NY
| Westchester County, NY
35660 | ² Niles-Benton Harbor, MI | 0.9055 | 0.9343
| Berrien County, MI
35980 | Norwich-New London, CT | 1.2020 | 1.1343
| New London County, CT
36084 | ¹ Oakland-Fremont-Hayward, CA | 1.5669 | 1.3601
| Alameda County, CA
| Contra Costa County, CA
36100 | Ocala, FL | 0.8904 | 0.9236
| Marion County, FL
36140 | ² Ocean City, NJ | 1.1226 | 1.0824
| Cape May County, NJ
36220 | Odessa, TX | 1.0119 | 1.0081
| Ector County, TX
36260 | Ogden-Clearfield, UT | 0.9021 | 0.9319
| Davis County, UT
| Morgan County, UT
| Weber County, UT
36420 | ¹ Oklahoma City, OK | 0.8857 | 0.9202
| Canadian County, OK
| Cleveland County, OK
| Grady County, OK
| Lincoln County, OK
| Logan County, OK
| McClain County, OK
| Oklahoma County, OK
36500 | Olympia, WA | 1.1096 | 1.0738
| Thurston County, WA
36540 | Omaha-Council Bluffs, NE-IA | 0.9453 | 0.9622
| Harrison County, IA
| Mills County, IA
| Pottawattamie County, IA
| Cass County, NE
| Douglas County, NE
| Sarpy County, NE
| Saunders County, NE
| Washington County, NE
36740 | ¹ Orlando-Kissimmee, FL | 0.9409 | 0.9591
| Lake County, FL
| Orange County, FL
| Osceola County, FL
| Seminole County, FL
36780 | ² Oshkosh-Neenah, WI | 0.9466 | 0.9631
| Winnebago County, WI
36980 | Owensboro, KY | 0.8780 | 0.9148
| Daviess County, KY
| Hancock County, KY
| McLean County, KY
37100 | Oxnard-Thousand Oaks-Ventura, CA | 1.1583 | 1.1059
| Ventura County, CA
37340 | Palm Bay-Melbourne-Titusville, FL | 0.9440 | 0.9613
| Brevard County, FL
37460 | ² Panama City-Lynn Haven, FL | 0.8609 | 0.9025
| Bay County, FL
37620 | Parkersburg-Marietta-Vienna, WV-OH (WV Hospitals) | 0.7964 | 0.8556
| Washington County, OH
| Pleasants County, WV
| Wirt County, WV
| Wood County, WV
37620 | ² Parkersburg-Marietta-Vienna, WV-OH (OH Hospitals) | 0.8673 | 0.9071
| Washington County, OH
| Pleasants County, WV
| Wirt County, WV
| Wood County, WV
37700 | Pascagoula, MS | 0.8229 | 0.8750
| George County, MS
| Jackson County, MS
37860 | ² Pensacola-Ferry Pass-Brent, FL | 0.8609 | 0.9025
| Escambia County, FL
| Santa Rosa County, FL
37900 | Peoria, IL | 0.8973 | 0.9285
| Marshall County, IL
| Peoria County, IL
| Stark County, IL
| Tazewell County, IL
| Woodford County, IL
37964 | ¹ Philadelphia, PA | 1.1009 | 1.0680
| Bucks County, PA
| Chester County, PA
| Delaware County, PA
| Montgomery County, PA
| Philadelphia County, PA
38060 | ¹ Phoenix-Mesa-Scottsdale, AZ | 1.0307 | 1.0209
| Maricopa County, AZ
| Pinal County, AZ
38220 | Pine Bluff, AR | 0.8423 | 0.8891
| Cleveland County, AR
| Jefferson County, AR
| Lincoln County, AR
38300 | ¹ Pittsburgh, PA | 0.8671 | 0.9070
| Allegheny County, PA
| Armstrong County, PA
| Beaver County, PA
| Butler County, PA
| Fayette County, PA
| Washington County, PA
| Westmoreland County, PA
38340 | ² Pittsfield, MA | 1.0664 | 1.0450
| Berkshire County, MA
38540 | Pocatello, ID | 0.9400 | 0.9585
| Bannock County, ID
| Power County, ID
38660 | Ponce, PR | 0.4852 | 0.6094
| Juana Díaz Municipio, PR
| Ponce Municipio, PR
| Villalba Municipio, PR
38860 | Portland-South Portland-Biddeford, ME | 0.9916 | 0.9942
| Cumberland County, ME
| Sagadahoc County, ME
| York County, ME
38900 | ¹ Portland-Vancouver-Beaverton, OR-WA | 1.1405 | 1.0942
| Clackamas County, OR
| Columbia County, OR
| Multnomah County, OR
| Washington County, OR
| Yamhill County, OR
| Clark County, WA
| Skamania County, WA
38940 | Port St. Lucie-Fort Pierce, FL | 0.9857 | 0.9902
| Martin County, FL
| St. Lucie County, FL
39100 | Poughkeepsie-Newburgh-Middletown, NY | 1.0913 | 1.0617
| Dutchess County, NY
| Orange County, NY
39140 | Prescott, AZ | 0.9858 | 0.9903
| Yavapai County, AZ
39300 | ¹ Providence-New Bedford-Fall River, RI-MA | 1.0791 | 1.0535
| Bristol County, MA
| Bristol County, RI
| Kent County, RI
| Newport County, RI
| Providence County, RI
| Washington County, RI
39340 | Provo-Orem, UT | 0.9537 | 0.9681
| Juab County, UT
| Utah County, UT
39380 | ² Pueblo, CO | 0.9331 | 0.9537
| Pueblo County, CO
39460 | Punta Gorda, FL | 0.9432 | 0.9607
| Charlotte County, FL
39540 | ² Racine, WI | 0.9466 | 0.9631
| Racine County, WI
39580 | Raleigh-Cary, NC | 0.9855 | 0.9900
| Franklin County, NC
| Johnston County, NC
| Wake County, NC
39660 | Rapid City, SD | 1.0359 | 1.0244
| Meade County, SD
| Pennington County, SD
39740 | Reading, PA | 0.9642 | 0.9753
| Berks County, PA
39820 | Redding, CA | 1.3205 | 1.2097
| Shasta County, CA
39900 | Reno-Sparks, NV | 1.1975 | 1.1314
| Storey County, NV
| Washoe County, NV
40060 | ¹ Richmond, VA | 0.9174 | 0.9427
| Amelia County, VA
| Caroline County, VA
| Charles City County, VA
| Chesterfield County, VA
| Cumberland County, VA
| Dinwiddie County, VA
| Goochland County, VA
| Hanover County, VA
| Henrico County, VA
| King and Queen County, VA
| King William County, VA
| Louisa County, VA
| New Kent County, VA
| Powhatan County, VA
| Prince George County, VA
| Sussex County, VA
| Colonial Heights City, VA
| Hopewell City, VA
| Petersburg City, VA
| Richmond City, VA
40140 | ¹ ² Riverside-San Bernardino-Ontario, CA | 1.1291 | 1.0867
| Riverside County, CA
| San Bernardino County, CA
40220 | Roanoke, VA | 0.8677 | 0.9074
| Botetourt County, VA
| Craig County, VA
| Franklin County, VA
| Roanoke County, VA
| Roanoke City, VA
| Salem City, VA
40340 | Rochester, MN | 1.1246 | 1.0837
| Dodge County, MN
| Olmsted County, MN
| Wabasha County, MN
40380 | ¹ Rochester, NY | 0.9007 | 0.9309
| Livingston County, NY
| Monroe County, NY
| Ontario County, NY
| Orleans County, NY
| Wayne County, NY
40420 | Rockford, IL | 0.9987 | 0.9991
| Boone County, IL
| Winnebago County, IL
40484 | ² Rockingham County-Strafford County, NH | 1.1665 | 1.1112
| Rockingham County, NH
| Strafford County, NH
40580 | Rocky Mount, NC | 0.8869 | 0.9211
| Edgecombe County, NC
| Nash County, NC
40660 | Rome, GA | 0.9307 | 0.9520
| Floyd County, GA
40900 | ¹ Sacramento—Arden-Arcade—Roseville, CA | 1.3350 | 1.2188
| El Dorado County, CA
| Placer County, CA
| Sacramento County, CA
| Yolo County, CA
40980 | ² Saginaw-Saginaw Township North, MI | 0.9055 | 0.9343
| Saginaw County, MI
41060 | St. Cloud, MN | 1.0438 | 1.0298
| Benton County, MN
| Stearns County, MN
41100 | St. George, UT | 0.9295 | 0.9512
| Washington County, UT
41140 | St. Joseph, MO-KS | 1.0174 | 1.0119
| Doniphan County, KS
| Andrew County, MO
| Buchanan County, MO
| DeKalb County, MO
41180 | ¹ St. Louis, MO-IL | 0.9017 | 0.9316
| Bond County, IL
| Calhoun County, IL
| Clinton County, IL
| Jersey County, IL
| Macoupin County, IL
| Madison County, IL
| Monroe County, IL
| St. Clair County, IL
| Crawford County, MO
| Franklin County, MO
| Jefferson County, MO
| Lincoln County, MO
| St. Charles County, MO
| St. Louis County, MO
| Warren County, MO
| Washington County, MO
| St. Louis City, MO
41420 | Salem, OR | 1.0452 | 1.0307
| Marion County, OR
| Polk County, OR
41500 | Salinas, CA | 1.4457 | 1.2871
| Monterey County, CA
41540 | Salisbury, MD | 0.8958 | 0.9274
| Somerset County, MD
| Wicomico County, MD
41620 | Salt Lake City, UT | 0.9421 | 0.9600
| Salt Lake County, UT
| Summit County, UT
| Tooele County, UT
41660 | San Angelo, TX | 0.8385 | 0.8864
| Irion County, TX
| Tom Green County, TX
41700 | ¹ San Antonio, TX | 0.8859 | 0.9204
| Atascosa County, TX
| Bandera County, TX
| Bexar County, TX
| Comal County, TX
| Guadalupe County, TX
| Kendall County, TX
| Medina County, TX
| Wilson County, TX
41740 | ¹ San Diego-Carlsbad-San Marcos, CA | 1.1371 | 1.0920
| San Diego County, CA
41780 | Sandusky, OH | 0.9328 | 0.9535
| Erie County, OH
41884 | ¹ San Francisco-San Mateo-Redwood City, CA | 1.5049 | 1.3230
| Marin County, CA
| San Francisco County, CA
| San Mateo County, CA
41900 | San Germán-Cabo Rojo, PR | 0.4884 | 0.6122
| Cabo Rojo Municipio, PR
| Lajas Municipio, PR
| Sabana Grande Municipio, PR
| San Germán Municipio, PR
41940 | ¹ San Jose-Sunnyvale-Santa Clara, CA | 1.5281 | 1.3369
| San Benito County, CA
| Santa Clara County, CA
41980 | ¹ San Juan-Caguas-Guaynabo, PR | 0.4396 | 0.5696
| Aguas Buenas Municipio, PR
| Aibonito Municipio, PR
| Arecibo Municipio, PR
| Barceloneta Municipio, PR
| Barranquitas Municipio, PR
| Bayamón Municipio, PR
| Caguas Municipio, PR
| Camuy Municipio, PR
| Canóvanas Municipio, PR
| Carolina Municipio, PR
| Cataño Municipio, PR
| Cayey Municipio, PR
| Ciales Municipio, PR
| Cidra Municipio, PR
| Comerío Municipio, PR
| Corozal Municipio, PR
| Dorado Municipio, PR
| Florida Municipio, PR
| Guaynabo Municipio, PR
| Gurabo Municipio, PR
| Hatillo Municipio, PR
| Humacao Municipio, PR
| Juncos Municipio, PR
| Las Piedras Municipio, PR
| Loíza Municipio, PR
| Manatí Municipio, PR
| Maunabo Municipio, PR
| Morovis Municipio, PR
| Naguabo Municipio, PR
| Naranjito Municipio, PR
| Orocovis Municipio, PR
| Quebradillas Municipio, PR
| Río Grande Municipio, PR
| San Juan Municipio, PR
| San Lorenzo Municipio, PR
| Toa Alta Municipio, PR
| Toa Baja Municipio, PR
| Trujillo Alto Municipio, PR
| Vega Alta Municipio, PR
| Vega Baja Municipio, PR
| Yabucoa Municipio, PR
42020 | San Luis Obispo-Paso Robles, CA | 1.1616 | 1.1080
| San Luis Obispo County, CA
42044 | ¹ ² Santa Ana-Anaheim-Irvine, CA | 1.1291 | 1.0867
| Orange County, CA
42060 | ² Santa Barbara-Santa Maria, CA | 1.1291 | 1.0867
| Santa Barbara County, CA
42100 | Santa Cruz-Watsonville, CA | 1.5509 | 1.3506
| Santa Cruz County, CA
42140 | Santa Fe, NM | 1.0821 | 1.0555
| Santa Fe County, NM
42220 | Santa Rosa-Petaluma, CA | 1.4459 | 1.2872
| Sonoma County, CA
42260 | Sarasota-Bradenton-Venice, FL | 0.9866 | 0.9908
| Manatee County, FL
| Sarasota County, FL
42340 | Savannah, GA | 0.9089 | 0.9367
| Bryan County, GA
| Chatham County, GA
| Effingham County, GA
42540 | Scranton—Wilkes-Barre, PA | 0.8503 | 0.8949
| Lackawanna County, PA
| Luzerne County, PA
| Wyoming County, PA
42644 | ¹ Seattle-Bellevue-Everett, WA | 1.1438 | 1.0964
| King County, WA
| Snohomish County, WA
42680 | Sebastian-Vero Beach, FL | 0.9604 | 0.9727
| Indian River County, FL
43100 | ² Sheboygan, WI | 0.9466 | 0.9631
| Sheboygan County, WI
43300 | Sherman-Denison, TX | 0.8521 | 0.8962
| Grayson County, TX
43340 | Shreveport-Bossier City, LA | 0.8879 | 0.9218
| Bossier Parish, LA
| Caddo Parish, LA
| De Soto Parish, LA
43580 | Sioux City, IA-NE-SD | 0.9201 | 0.9446
| Woodbury County, IA
| Dakota County, NE
| Dixon County, NE
| Union County, SD
43620 | Sioux Falls, SD | 0.9559 | 0.9696
| Lincoln County, SD
| McCook County, SD
| Minnehaha County, SD
| Turner County, SD
43780 | South Bend-Mishawaka, IN-MI | 0.9677 | 0.9778
| St. Joseph County, IN
| Cass County, MI
43900 | Spartanburg, SC | 0.9192 | 0.9439
| Spartanburg County, SC
44060 | Spokane, WA | 1.0448 | 1.0305
| Spokane County, WA
44100 | Springfield, IL | 0.8900 | 0.9233
| Menard County, IL
| Sangamon County, IL
44140 | ² Springfield, MA | 1.0664 | 1.0450
| Franklin County, MA
| Hampden County, MA
| Hampshire County, MA
44180 | Springfield, MO | 0.8490 | 0.8940
| Christian County, MO
| Dallas County, MO
| Greene County, MO
| Polk County, MO
| Webster County, MO
44220 | ² Springfield, OH | 0.8673 | 0.9071
| Clark County, OH
44300 | State College, PA | 0.8804 | 0.9165
| Centre County, PA
44700 | Stockton, CA | 1.1483 | 1.0993
| San Joaquin County, CA
44940 | ² Sumter, SC | 0.8604 | 0.9022
| Sumter County, SC
45060 | Syracuse, NY | 0.9723 | 0.9809
| Madison County, NY
| Onondaga County, NY
| Oswego County, NY
45104 | Tacoma, WA | 1.0907 | 1.0613
| Pierce County, WA
45220 | Tallahassee, FL | 0.9316 | 0.9526
| Gadsden County, FL
| Jefferson County, FL
| Leon County, FL
| Wakulla County, FL
45300 | ¹ Tampa-St. Petersburg-Clearwater, FL | 0.9249 | 0.9479
| Hernando County, FL
| Hillsborough County, FL
| Pasco County, FL
| Pinellas County, FL
45460 | Terre Haute, IN | 0.8663 | 0.9064
| Clay County, IN
| Sullivan County, IN
| Vermillion County, IN
| Vigo County, IN
45500 | Texarkana, TX-Texarkana, AR | 0.8133 | 0.8680
| Miller County, AR
| Bowie County, TX
45780 | Toledo, OH | 0.9588 | 0.9716
| Fulton County, OH
| Lucas County, OH
| Ottawa County, OH
| Wood County, OH
45820 | Topeka, KS | 0.8738 | 0.9118
| Jackson County, KS
| Jefferson County, KS
| Osage County, KS
| Shawnee County, KS
| Wabaunsee County, KS
45940 | ² Trenton-Ewing, NJ | 1.1226 | 1.0824
| Mercer County, NJ
46060 | Tucson, AZ | 0.9239 | 0.9472
| Pima County, AZ
46140 | Tulsa, OK | 0.8146 | 0.8690
| Creek County, OK
| Okmulgee County, OK
| Osage County, OK
| Pawnee County, OK
| Rogers County, OK
| Tulsa County, OK
| Wagoner County, OK
46220 | Tuscaloosa, AL | 0.8644 | 0.9050
| Greene County, AL
| Hale County, AL
| Tuscaloosa County, AL
46340 | Tyler, TX | 0.8854 | 0.9200
| Smith County, TX
46540 | Utica-Rome, NY | 0.8422 | 0.8890
| Herkimer County, NY
| Oneida County, NY
46660 | Valdosta, GA | 0.8340 | 0.8831
| Brooks County, GA
| Echols County, GA
| Lanier County, GA
| Lowndes County, GA
46700 | Vallejo-Fairfield, CA | 1.5154 | 1.3293
| Solano County, CA
47020 | Victoria, TX | 0.8554 | 0.8986
| Calhoun County, TX
| Goliad County, TX
| Victoria County, TX
47220 | ² Vineland-Millville-Bridgeton, NJ | 1.1226 | 1.0824
| Cumberland County, NJ
47260 | ¹ Virginia Beach-Norfolk-Newport News, VA-NC | 0.8840 | 0.9190
| Currituck County, NC
| Gloucester County, VA
| Isle of Wight County, VA
| James City County, VA
| Mathews County, VA
| Surry County, VA
| York County, VA
| Chesapeake City, VA
| Hampton City, VA
| Newport News City, VA
| Norfolk City, VA
| Poquoson City, VA
| Portsmouth City, VA
| Suffolk City, VA
| Virginia Beach City, VA
| Williamsburg City, VA
47300 | ¹ Visalia-Porterville, CA | 1.1291 | 1.0867
| Tulare County, CA
47380 | Waco, TX | 0.8653 | 0.9057
| McLennan County, TX
47580 | Warner Robins, GA | 0.8402 | 0.8876
| Houston County, GA
47644 | ¹ Warren-Troy-Farmington Hills, MI | 1.0123 | 1.0084
| Lapeer County, MI
| Livingston County, MI
| Macomb County, MI
| Oakland County, MI
| St. Clair County, MI
47894 | ¹ Washington-Arlington-Alexandria, DC-VA-MD-WV | 1.1076 | 1.0725
| District of Columbia, DC
| Calvert County, MD
| Charles County, MD
| Prince George's County, MD
| Arlington County, VA
| Clarke County, VA
| Fairfax County, VA
| Fauquier County, VA
| Loudoun County, VA
| Prince William County, VA
| Spotsylvania County, VA
| Stafford County, VA
| Warren County, VA
| Alexandria City, VA
| Fairfax City, VA
| Falls Church City, VA
| Fredericksburg City, VA
| Manassas City, VA
| Manassas Park City, VA
| Jefferson County, WV
47940 | ² Waterloo-Cedar Falls, IA | 0.8696 | 0.9088
| Black Hawk County, IA
| Bremer County, IA
| Grundy County, IA
48140 | Wausau, WI | 0.9799 | 0.9862
| Marathon County, WI
48260 | Weirton-Steubenville, WV-OH (WV Hospitals) | 0.8072 | 0.8636
| Jefferson County, OH
| Brooke County, WV
| Hancock County, WV
48260 | ² Weirton-Steubenville, WV-OH (OH Hospitals) | 0.8673 | 0.9071
| Jefferson County, OH
| Brooke County, WV
| Hancock County, WV
48300 | ² Wenatchee, WA | 1.0440 | 1.0299
| Chelan County, WA
| Douglas County, WA
48424 | ¹ West Palm Beach-Boca Raton-Boynton Beach, FL | 0.9642 | 0.9753
| Palm Beach County, FL
48540 | ² Wheeling, WV-OH (WV Hospitals) | 0.7637 | 0.8314
| Belmont County, OH
| Marshall County, WV
| Ohio County, WV
48540 | ² Wheeling, WV-OH (OH Hospitals) | 0.8673 | 0.9071
| Belmont County, OH
| Marshall County, WV
| Ohio County, WV
48620 | Wichita, KS | 0.9093 | 0.9370
| Butler County, KS
| Harvey County, KS
| Sedgwick County, KS
| Sumner County, KS
48660 | Wichita Falls, TX | 0.8360 | 0.8846
| Archer County, TX
| Clay County, TX
| Wichita County, TX
48700 | ² Williamsport, PA | 0.8330 | 0.8824
| Lycoming County, PA
48864 | Wilmington, DE-MD-NJ (DE, MD Hospitals) | 1.0878 | 1.0593
| New Castle County, DE
| Cecil County, MD
| Salem County, NJ
48864 | ² Wilmington, DE-MD-NJ (NJ Hospitals) | 1.1226 | 1.0824
| New Castle County, DE
| Cecil County, MD
| Salem County, NJ
48900 | Wilmington, NC | 0.9840 | 0.9890
| Brunswick County, NC
| New Hanover County, NC
| Pender County, NC
49020 | Winchester, VA-WV | 1.0099 | 1.0068
| Frederick County, VA
| Winchester City, VA
| Hampshire County, WV
49180 | Winston-Salem, NC | 0.9300 | 0.9515
| Davie County, NC
| Forsyth County, NC
| Stokes County, NC
| Yadkin County, NC
49340 | Worcester, MA | 1.0747 | 1.0506
| Worcester County, MA
49420 | ² Yakima, WA | 1.0440 | 1.0299
| Yakima County, WA
49500 | Yauco, PR | 0.3861 | 0.5212
| Guánica Municipio, PR
| Guayanilla Municipio, PR
| Peñuelas Municipio, PR
| Yauco Municipio, PR
49620 | York-Hanover, PA | 0.9416 | 0.9596
| York County, PA
49660 | Youngstown-Warren-Boardman, OH-PA | 0.8815 | 0.9173
| Mahoning County, OH
| Trumbull County, OH
| Mercer County, PA
49700 | ² Yuba City, CA | 1.1291 | 1.0867
| Sutter County, CA
| Yuba County, CA
49740 | Yuma, AZ | 0.9179 | 0.9430
| Yuma County, AZ
¹ Large urban area.
² Hospitals geographically located in the area are assigned the statewide rural wage index for FY 2007.
³ For this area, the wage index and GAF on this table are only effective from October 1, 2006 through March 31, 2007. See Table 4A-2 for the values that are effective from April 1 through September 30, 2007.

Table 4A-2.—Wage Index and Capital Geographic Adjustment Factor (GAF) for Certain Urban Areas by CBSA for the Period April 1 Through September 30, 2007*
CBSA code | Urban area (constituent counties) | Wage index | GAF
11460 | Ann Arbor, MI | 1.0853 | 1.0577
| Washtenaw County, MI
31084 | Los Angeles-Long Beach-Glendale, CA | 1.1762 | 1.1175
| Los Angeles County, CA
34740 | Muskegon-Norton Shores, MI | 0.9961 | 0.9973
| Muskegon County, MI
35004 | ¹ Nassau-Suffolk, NY | 1.2701 | 1.1779
| Nassau County, NY
| Suffolk County, NY
35644 | ¹ New York-White Plains-Wayne, NY-NJ | 1.3215 | 1.2103
| Bergen County, NJ
| Hudson County, NJ
| Passaic County, NJ
| Bronx County, NY
| Kings County, NY
| New York County, NY
| Putnam County, NY
| Queens County, NY
| Richmond County, NY
| Rockland County, NY
| Westchester County, NY
¹ Large urban area.
* See Table 4A-1 for the wage index and GAF that are effective from October 1, 2006 through March 31, 2007. (For areas that are not listed on this table, the wage index and GAF on Table 4A-1 are effective for the entire FY 2007.)

Table 4B.—Wage Index and Capital Georgraphic Adjustment (GAF) for Rural Areas by CBSA-FY 2007
CBSA code | Nonurban area | Wage index | GAF
01 | Alabama | 0.7670 | 0.8339
02 | Alaska | 1.0669 | 1.0453
03 | Arizona | 0.9158 | 0.9415
04 | Arkansas | 0.7366 | 0.8111
05 | California | 1.1291 | 1.0867
06 | Colorado | 0.9331 | 0.9537
07 | Connecticut | 1.1750 | 1.1168
08 | Delaware | 0.9843 | 0.9892
10 | Florida | 0.8609 | 0.9025
11 | Georgia | 0.7577 | 0.8270
12 | Hawaii | 1.0502 | 1.0341
13 | Idaho | 0.8674 | 0.9072
14 | Illinois | 0.8334 | 0.8827
15 | Indiana | 0.8479 | 0.8932
16 | Iowa | 0.8696 | 0.9088
17 | Kansas | 0.8017 | 0.8595
18 | Kentucky | 0.7793 | 0.8430
19 | Louisiana | 0.7487 | 0.8202
20 | Maine | 0.8399 | 0.8874
21 | Maryland | 0.8946 | 0.9266
22 | Massachusetts ¹ | 1.0664 | 1.0450
23 | Michigan | 0.9055 | 0.9343
24 | Minnesota | 0.9256 | 0.9484
25 | Mississippi | 0.7579 | 0.8271
26 | Missouri | 0.8206 | 0.8734
27 | Montana | 0.8591 | 0.9012
28 | Nebraska | 0.8691 | 0.9084
29 | Nevada | 0.8967 | 0.9281
30 | New Hampshire | 1.1665 | 1.1112
31 | New Jersey ¹ | 1.1226 | 1.0824
32 | New Mexico | 0.8353 | 0.8841
33 | New York | 0.8267 | 0.8778
34 | North Carolina | 0.8607 | 0.9024
35 | North Dakota | 0.7237 | 0.8014
36 | Ohio | 0.8673 | 0.9071
37 | Oklahoma | 0.7663 | 0.8334
38 | Oregon | 0.9826 | 0.9881
39 | Pennsylvania | 0.8330 | 0.8824
40 | Puerto Rico ¹ |  |
41 | Rhode Island ¹ | 1.0791 | 1.0535
42 | South Carolina | 0.8604 | 0.9022
43 | South Dakota | 0.8485 | 0.8936
44 | Tennessee | 0.7957 | 0.8551
45 | Texas | 0.8003 | 0.8585
46 | Utah | 0.8163 | 0.8702
47 | Vermont | 1.0986 | 1.0665
49 | Virginia | 0.7966 | 0.8558
50 | Washington | 1.0440 | 1.0299
51 | West Virginia | 0.7637 | 0.8314
52 | Wisconsin | 0.9466 | 0.9631
53 | Wyoming | 0.9303 | 0.9517
¹ All counties in the State or Territory are classified as urban, with the exception of Massachusetts. Massachusetts has area(s) designated as rural. However, no short-term, acute care hospitals were located in Rural Massachusetts during FY 2003, the base year for the FY 2007 wage index.
Massachusetts, New Jersey, and Rhode Island rural floors are imputed as discussed in the FY 2005 IPPS final rule (69 FR 49109).

Table 4C-1.—Wage Index and Capital Geographic Adjustment Factor (GAF) for Hospitals That Are Reclassified by CBSA—FY 2007
CBSA code | Area | Wage index | GAF
10180 | Abilene, TX | 0.8051 | 0.8620
10420 | Akron, OH | 0.8737 | 0.9117
10580 | Albany-Schenectady-Troy, NY | 0.8753 | 0.9128
10740 | Albuquerque, NM | 0.9477 | 0.9639
10780 | Alexandria, LA | 0.8028 | 0.8603
10900 | Allentown-Bethlehem-Easton, PA-NJ | 0.9927 | 0.9950
11100 | Amarillo, TX | 0.9177 | 0.9429
11260 | Anchorage, AK | 1.2062 | 1.1370
11460 | ¹Ann Arbor, MI | 1.0630 | 1.0427
11500 | Anniston-Oxford, AL | 0.7978 | 0.8567
11700 | Asheville, NC | 0.9110 | 0.9382
12020 | Athens-Clarke County, GA | 0.9707 | 0.9798
12060 | Atlanta-Sandy Springs-Marietta, GA | 0.9644 | 0.9755
12260 | Augusta-Richmond County, GA-SC | 0.9554 | 0.9692
12420 | Austin-Round Rock, TX | 0.9360 | 0.9557
12620 | Bangor, ME | 0.9702 | 0.9795
12700 | Barnstable Town, MA | 1.2181 | 1.1447
12940 | Baton Rouge, LA | 0.8102 | 0.8658
13020 | Bay City, MI | 1.0040 | 1.0027
13644 | Bethesda-Gaithersburg-Frederick, MD | 1.1028 | 1.0693
13780 | Binghamton, NY | 0.8499 | 0.8946
13820 | Birmingham-Hoover, AL | 0.8919 | 0.9246
13900 | Bismarck, ND | 0.7255 | 0.8027
14484 | Boston-Quincy, MA | 1.1318 | 1.0885
14540 | Bowling Green, KY | 0.8164 | 0.8703
15380 | Buffalo-Niagara Falls, NY | 0.9475 | 0.9637
15540 | Burlington-South Burlington, VT | 0.9355 | 0.9554
15764 | Cambridge-Newton-Framingham, MA (VT Hospitals) | 1.0986 | 1.0665
15764 | Cambridge-Newton-Framingham, MA (NH Hospitals) | 1.1665 | 1.1112
16180 | Carson City, NV | 0.9569 | 0.9703
16580 | Champaign-Urbana, IL | 0.9155 | 0.9413
16620 | Charleston, WV | 0.8294 | 0.8798
16700 | Charleston-North Charleston, SC | 0.9168 | 0.9422
16740 | Charlotte-Gastonia-Concord, NC-SC | 0.9520 | 0.9669
16820 | Charlottesville, VA | 0.9732 | 0.9816
16860 | Chattanooga, TN-GA | 0.8841 | 0.9191
16974 | Chicago-Naperville-Joliet, IL | 1.0596 | 1.0404
17140 | Cincinnati-Middletown, OH-KY-IN | 0.9599 | 0.9724
17300 | Clarksville, TN-KY | 0.8094 | 0.8652
17460 | Cleveland-Elyria-Mentor, OH | 0.9212 | 0.9453
17780 | College Station-Bryan, TX | 0.9064 | 0.9349
17860 | Columbia, MO | 0.8550 | 0.8983
17900 | Columbia, SC | 0.8604 | 0.9022
17980 | Columbus, GA-AL | 0.8256 | 0.8770
18140 | Columbus, OH | 0.9919 | 0.9944
18700 | Corvallis, OR | 1.1175 | 1.0790
19124 | Dallas-Plano-Irving, TX | 0.9870 | 0.9911
19340 | Davenport-Moline-Rock Island, IA-IL | 0.8696 | 0.9088
19380 | Dayton, OH | 0.9049 | 0.9339
19460 | Decatur, AL | 0.8220 | 0.8744
19740 | Denver-Aurora, CO | 1.0805 | 1.0545
19780 | Des Moines-West Des Moines, IA | 0.8976 | 0.9287
19804 | Detroit-Livonia-Dearborn, MI | 1.0235 | 1.0160
20100 | Dover, DE | 0.9843 | 0.9892
20260 | Duluth, MN-WI | 1.0157 | 1.0107
20500 | Durham, NC | 0.9805 | 0.9866
20764 | Edison, NJ | 1.1242 | 1.0835
21060 | Elizabethtown, KY | 0.8207 | 0.8734
21500 | Erie, PA | 0.8360 | 0.8846
21604 | Essex County, MA | 1.1665 | 1.1112
21660 | Eugene-Springfield, OR | 1.0525 | 1.0357
21780 | Evansville, IN-KY | 0.8545 | 0.8979
22020 | Fargo, ND-MN | 0.8485 | 0.8936
22180 | Fayetteville, NC | 0.8962 | 0.9277
22220 | Fayetteville-Springdale-Rogers, AR-MO | 0.8599 | 0.9018
22380 | Flagstaff, AZ | 1.1121 | 1.0755
22420 | Flint, MI | 1.0685 | 1.0464
22520 | Florence-Muscle Shoals, AL | 0.8008 | 0.8589
22540 | Fond du Lac, WI | 0.9489 | 0.9647
22660 | Fort Collins-Loveland, CO | 0.9594 | 0.9720
22744 | Fort Lauderdale-Pompano Beach-Deerfield Beach, FL | 1.0470 | 1.0320
22900 | Fort Smith, AR-OK | 0.7663 | 0.8334
23020 | Fort Walton Beach-Crestview-Destin, FL | 0.8609 | 0.9025
23060 | Fort Wayne, IN | 0.9498 | 0.9653
23104 | Fort Worth-Arlington, TX | 0.9591 | 0.9718
23540 | Gainesville, FL | 0.9299 | 0.9514
23844 | Gary, IN | 0.9278 | 0.9500
24300 | Grand Junction, CO | 1.0037 | 1.0025
24340 | Grand Rapids-Wyoming, MI | 0.9469 | 0.9633
24500 | Great Falls, MT | 0.8781 | 0.9148
24540 | Greeley, CO | 0.9636 | 0.9749
24580 | Green Bay, WI | 0.9620 | 0.9738
24660 | Greensboro-High Point, NC | 0.8992 | 0.9298
24780 | Greenville, NC | 0.9300 | 0.9515
24860 | Greenville, SC | 0.9286 | 0.9505
25060 | Gulfport-Biloxi, MS | 0.8607 | 0.9024
25420 | Harrisburg-Carlisle, PA | 0.9263 | 0.9489
25540 | Hartford-West Hartford-East Hartford, CT (CT Hospitals) | 1.1750 | 1.1168
25540 | Hartford-West Hartford-East Hartford, CT (MA Hospitals) | 1.0918 | 1.0620
25860 | Hickory-Lenoir-Morganton, NC | 0.8901 | 0.9234
26100 | Holland-Grand Haven, MI | 0.9241 | 0.9474
26180 | Honolulu, HI | 1.1066 | 1.0718
26420 | Houston-Sugar Land-Baytown, TX | 1.0030 | 1.0021
26580 | Huntington-Ashland, WV-KY-OH | 0.8759 | 0.9133
26620 | Huntsville, AL | 0.8829 | 0.9182
26820 | Idaho Falls, ID (ID Hospitals) | 0.9300 | 0.9515
26820 | Idaho Falls, ID (WY Hospitals) | 0.9303 | 0.9517
26900 | Indianapolis-Carmel, IN | 0.9582 | 0.9712
26980 | Iowa City, IA | 0.9568 | 0.9702
27060 | Ithaca, NY | 0.9439 | 0.9612
27140 | Jackson, MS | 0.8278 | 0.8786
27180 | Jackson, TN | 0.8640 | 0.9047
27260 | Jacksonville, FL | 0.9046 | 0.9336
27860 | Jonesboro, AR (AR Hospitals) | 0.7952 | 0.8548
27860 | Jonesboro, AR (MO Hospitals) | 0.8206 | 0.8734
27900 | Joplin, MO | 0.8620 | 0.9033
28020 | Kalamazoo-Portage, MI | 1.0737 | 1.0499
28100 | Kankakee-Bradley, IL | 0.9728 | 0.9813
28140 | Kansas City, MO-KS | 0.9501 | 0.9656
28420 | Kennewick-Richland-Pasco, WA (WA Hospitals) | 1.0440 | 1.0299
28420 | Kennewick-Richland-Pasco, WA (ID Hospitals) | 1.0033 | 1.0023
28700 | Kingsport-Bristol-Bristol, TN-VA | 0.8062 | 0.8628
28740 | Kingston, NY | 0.9058 | 0.9345
28940 | Knoxville, TN | 0.8278 | 0.8786
29180 | Lafayette, LA | 0.8300 | 0.8802
29404 | Lake County-Kenosha County, IL-WI | 1.0408 | 1.0278
29460 | Lakeland, FL | 0.8908 | 0.9239
29540 | Lancaster, PA | 0.9768 | 0.9841
29620 | Lansing-East Lansing, MI | 0.9823 | 0.9878
29740 | Las Cruces, NM | 0.9270 | 0.9494
29820 | Las Vegas-Paradise, NV | 1.1240 | 1.0833
30020 | Lawton, OK | 0.8116 | 0.8668
30460 | Lexington-Fayette, KY | 0.8928 | 0.9253
30620 | Lima, OH | 0.9060 | 0.9346
30700 | Lincoln, NE | 0.9746 | 0.9825
30780 | Little Rock-North Little Rock, AR | 0.8667 | 0.9067
30980 | Longview, TX | 0.8905 | 0.9237
31084 | ¹ Los Angeles-Long Beach-Santa Ana, CA | 1.1600 | 1.1070
31140 | Louisville-Jefferson County, KY-IN | 0.9137 | 0.9401
31180 | Lubbock, TX | 0.8626 | 0.9037
31340 | Lynchburg, VA | 0.8716 | 0.9102
31420 | Macon, GA | 0.9176 | 0.9428
31540 | Madison, WI | 1.0502 | 1.0341
31700 | Manchester-Nashua, NH | 1.1665 | 1.1112
32780 | Medford, OR | 1.0450 | 1.0306
32820 | Memphis, TN-MS-AR | 0.9032 | 0.9327
33124 | Miami-Miami Beach-Kendall, FL | 0.9825 | 0.9880
33260 | Midland, TX | 0.9602 | 0.9726
33340 | Milwaukee-Waukesha-West Allis, WI | 1.0098 | 1.0067
33460 | Minneapolis-St. Paul-Bloomington, MN-WI | 1.0842 | 1.0569
33540 | Missoula, MT | 0.8909 | 0.9239
33700 | Modesto, CA | 1.1731 | 1.1155
33740 | Monroe, LA | 0.8015 | 0.8594
33860 | Montgomery, AL | 0.8035 | 0.8609
34060 | Morgantown, WV | 0.8449 | 0.8910
34980 | Nashville-Davidson—Murfreesboro, TN | 0.9571 | 0.9704
35084 | Newark-Union, NJ-PA | 1.1886 | 1.1256
35300 | New Haven-Milford, CT | 1.2093 | 1.1390
35380 | New Orleans-Metairie-Kenner, LA | 0.8855 | 0.9201
35644 | ¹ New York-White Plains-Wayne, NY-NJ | 1.3038 | 1.1992
35980 | Norwich-New London, CT | 1.2020 | 1.1343
36084 | Oakland-Fremont-Hayward, CA | 1.5669 | 1.3601
36140 | Ocean City, NJ | 1.0254 | 1.0173
36220 | Odessa, TX | 0.9737 | 0.9819
36260 | Ogden-Clearfield, UT | 0.9021 | 0.9319
36420 | Oklahoma City, OK | 0.8857 | 0.9202
36540 | Omaha-Council Bluffs, NE-IA | 0.9453 | 0.9622
36740 | Orlando-Kissimmee, FL | 0.9409 | 0.9591
37860 | Pensacola-Ferry Pass-Brent, FL | 0.7999 | 0.8582
37900 | Peoria, IL | 0.8827 | 0.9181
37964 | Philadelphia, PA (PA Hospitals) | 1.1009 | 1.0680
37964 | Philadelphia, PA (NJ Hospitals) | 1.1226 | 1.0824
38220 | Pine Bluff, AR | 0.8224 | 0.8747
38300 | Pittsburgh, PA (PA and WV Hospitals) | 0.8671 | 0.9070
38300 | Pittsburgh, PA (OH Hospitals) | 0.8673 | 0.9071
38340 | Pittsfield, MA | 1.0986 | 1.0665
38540 | Pocatello, ID | 0.9400 | 0.9585
38860 | Portland-South Portland-Biddeford, ME | 0.9487 | 0.9646
38900 | Portland-Vancouver-Beaverton, OR-WA | 1.1405 | 1.0942
38940 | Port St. Lucie-Fort Pierce, FL | 0.9857 | 0.9902
39100 | Poughkeepsie-Newburgh-Middletown, NY | 1.0583 | 1.0396
39340 | Provo-Orem, UT | 0.9537 | 0.9681
39580 | Raleigh-Cary, NC | 0.9570 | 0.9704
39740 | Reading, PA | 0.9534 | 0.9678
39820 | Redding, CA | 1.2884 | 1.1895
39900 | Reno-Sparks, NV | 1.1524 | 1.1020
40060 | Richmond, VA | 0.9174 | 0.9427
40220 | Roanoke, VA | 0.8677 | 0.9074
40340 | Rochester, MN | 1.1246 | 1.0837
40380 | Rochester, NY | 0.9007 | 0.9309
40420 | Rockford, IL | 0.9773 | 0.9844
40484 | Rockingham County, NH | 1.0309 | 1.0211
40660 | Rome, GA | 0.9307 | 0.9520
40900 | Sacramento—Arden-Arcade—Roseville, CA | 1.3350 | 1.2188
40980 | Saginaw-Saginaw Township North, MI | 0.9055 | 0.9343
41060 | St. Cloud, MN | 0.9971 | 0.9980
41100 | St. George, UT | 0.9295 | 0.9512
41140 | St. Joseph, MO-KS | 0.9993 | 0.9995
41180 | St. Louis, MO-IL | 0.8902 | 0.9234
41620 | Salt Lake City, UT | 0.9421 | 0.9600
41700 | San Antonio, TX | 0.8859 | 0.9204
41884 | San Francisco-San Mateo-Redwood City, CA | 1.5049 | 1.3230
41980 | San Juan-Caguas-Guaynabo, PR | 0.4396 | 0.5696
42044 | Santa Ana-Anaheim-Irvine, CA | 1.1291 | 1.0867
42140 | Santa Fe, NM | 0.9814 | 0.9872
42220 | Santa Rosa-Petaluma, CA | 1.4294 | 1.2772
42260 | Sarasota-Bradenton-Venice, FL | 0.9866 | 0.9908
42340 | Savannah, GA | 0.8958 | 0.9274
42644 | Seattle-Bellevue-Everett, WA | 1.1255 | 1.0843
43300 | Sherman-Denison, TX | 0.8376 | 0.8857
43340 | Shreveport-Bossier City, LA | 0.8715 | 0.9101
43580 | Sioux City, IA-NE-SD | 0.8816 | 0.9173
43620 | Sioux Falls, SD | 0.9456 | 0.9624
43780 | South Bend-Mishawaka, IN-MI | 0.9543 | 0.9685
43900 | Spartanburg, SC | 0.9192 | 0.9439
44060 | Spokane, WA | 1.0284 | 1.0194
44180 | Springfield, MO | 0.8345 | 0.8835
44300 | State College, PA | 0.8361 | 0.8846
44940 | Sumter, SC | 0.8604 | 0.9022
45060 | Syracuse, NY | 0.9428 | 0.9605
45104 | Tacoma, WA | 1.0907 | 1.0613
45220 | Tallahassee, FL | 0.8982 | 0.9291
45300 | Tampa-St. Petersburg-Clearwater, FL | 0.9249 | 0.9479
45500 | Texarkana, TX-Texarkana, AR | 0.8133 | 0.8680
45780 | Toledo, OH | 0.9588 | 0.9716
45820 | Topeka, KS | 0.8591 | 0.9012
46140 | Tulsa, OK | 0.8146 | 0.8690
46220 | Tuscaloosa, AL | 0.7785 | 0.8424
46340 | Tyler, TX | 0.8854 | 0.9200
46660 | Valdosta, GA | 0.8101 | 0.8657
46700 | Vallejo-Fairfield, CA | 1.4527 | 1.2914
47260 | Virginia Beach-Norfolk-Newport News, VA | 0.8840 | 0.9190
47380 | Waco, TX | 0.8653 | 0.9057
47894 | Washington-Arlington-Alexandria DC-VA | 1.1076 | 1.0725
48140 | Wausau, WI | 0.9625 | 0.9742
48620 | Wichita, KS | 0.8832 | 0.9185
48700 | Williamsport, PA | 0.8330 | 0.8824
48864 | Wilmington, DE-MD-NJ | 1.0878 | 1.0593
48900 | Wilmington, NC | 0.9516 | 0.9666
49180 | Winston-Salem, NC | 0.9129 | 0.9395
49340 | Worcester, MA | 1.1665 | 1.1112
49660 | Youngstown-Warren-Boardman, OH-PA | 0.8815 | 0.9173
04 | Arkansas | 0.7487 | 0.8202
05 | California | 1.1291 | 1.0867
07 | Connecticut | 1.1750 | 1.1168
10 | Florida | 0.8609 | 0.9025
14 | Illinois | 0.8210 | 0.8737
16 | Iowa | 0.8696 | 0.9088
17 | Kansas | 0.8017 | 0.8595
19 | Louisiana | 0.7487 | 0.8202
23 | Michigan | 0.9055 | 0.9343
24 | Minnesota | 0.9256 | 0.9484
26 | Missouri | 0.8206 | 0.8734
29 | Nevada | 0.8674 | 0.9072
30 | New Hampshire | 1.1381 | 1.0926
33 | New York | 0.8267 | 0.8778
34 | North Carolina | 0.8607 | 0.9024
36 | Ohio | 0.8673 | 0.9071
37 | Oklahoma | 0.7663 | 0.8334
38 | Oregon | 0.9826 | 0.9881
39 | Pennsylvania | 0.8330 | 0.8824
44 | Tennessee | 0.7957 | 0.8551
45 | Texas | 0.8003 | 0.8585
47 | Vermont | 0.9974 | 0.9982
50 | Washington | 1.0440 | 1.0299
53 | Wyoming | 0.9154 | 0.9413
¹ For this area, the wage index and GAF on this table are only effective from October 1, 2006 through March 31, 2007. See Table 4C-2 for the values that are effective from April 1 through September 30, 2007.

Table 4C-2.—Wage Index and Capital Geographic Adjustment Factor (GAF) for Certain Hospitals That Are Reclassified by CBSA for the Period April 1 Through September 30, 2007*
CBSA code | Area | Wage index | GAF
11460 | Ann Arbor, MI | 1.0391 | 1.0266
31084 | Los Angeles-Long Beach-Santa Ana, CA | 1.1603 | 1.1072
34740 | Muskegon-Norton Shores, MI | 0.9683 | 0.9782
35004 | Nassau-Suffolk, NY | 1.2511 | 1.1658
35644 | New York-White Plains-Wayne, NY-NJ | 1.3008 | 1.1973
* See Table 4C-1 for the wage index and GAF that are effective from October 1, 2006 through March 31, 2007. (For areas that are not listed on this table, the wage index and GAF on Table 4C-1 are effective for the entire FY 2007.)

Table 4F.—Puerto Rico Wage Index and Capital Geographic Adjustment Factor (GAF) by CBSA—FY 2007
CBSA code | Area | Wage index | GAF | Wage index—reclassified hospitals | GAS—reclassified hospitals
10380 | Aguadilla-Isabela-San Sebastián, PR | 0.8950 | 0.9268 |  |
21940 | Fajardo, PR | 0.9247 | 0.9478 |  |
25020 | Guayama, PR | 0.7409 | 0.8144 |  |
32420 | Mayagüez, PR | 0.8812 | 0.9170 |  |
38660 | Ponce, PR | 1.1086 | 1.0732 |  |
41900 | San Germán-Cabo Rojo, PR | 1.1160 | 1.0781 |  |
41980 | San Juan-Caguas-Guaynabo, PR | 1.0045 | 1.0031 | 1.0045 | 1.0031
49500 | Yauco, PR | 0.8822 | 0.9177 |  |

The following list represents all hospitals that are eligible to have their wage index increased by the out-migration adjustment listed in this table. Hospitals cannot receive the out-migration adjustment if they are reclassified under section 1886(d)(10) of the Act, reclassified under section 508 of Pub. L. 108-173, or redesignated under section 1886(d)(8) of the Act. If a hospital has a half fiscal year reclassification, the hospital will be eligible for the out-migration adjustment for the portion of the fiscal year that it is not reclassified. Hospitals that have already been reclassified under section 1886(d)(10) of the Act, reclassified under section 508 of Pub. L. 108-173, or redesignated under section 1886(d)(8) of the Act for any portion of the fiscal year are designated with an asterisk Hospitals have 45 days from the publication of this proposed rule to review their individual situations to determine whether to submit a request to withdraw their reclassification/redesignation and receive the out-migration adjustment instead. We will automatically assume that hospitals that have already been reclassified under section 1886(d)(10) of the Act, reclassified under section 508 of Pub. L. 108-173, or redesignated under section 1886(d)(8) of the Act wish to retain their reclassification/redesignation status and waive the application of the out-migration adjustment. Hospitals are not required to provide CMS with any type of formal notification that they wish to remain reclassified/redesignated.

Table 4J.—Out-Migration Adjustment—FY 2007
Provider No. | Reclassified between 10/1/06 and 3/31/07 | Reclassified between 4/1/07 and 9/30/2007 | Out-migration adjustment | Qualifying county name
010005 | * | * | 0.0259 | MARSHALL.
010008 | * | * | 0.0212 | CRENSHAW.
010009 | * | * | 0.0092 | MORGAN.
010010 |  |  | 0.0259 | MARSHALL.
010012 | * | * | 0.0205 | DE KALB.
010022 | * | * | 0.0714 | CHEROKEE.
010025 | * | * | 0.0235 | CHAMBERS.
010029 | * | * | 0.0107 | LEE.
010035 | * | * | 0.0375 | CULLMAN.
010038 |  |  | 0.0062 | CALHOUN.
010045 | * | * | 0.0160 | FAYETTE.
010047 |  |  | 0.0155 | BUTLER.
010052 |  |  | 0.0121 | TALLAPOOSA.
010054 | * | * | 0.0092 | MORGAN.
010061 |  |  | 0.0506 | JACKSON.
010065 | * | * | 0.0121 | TALLAPOOSA.
010072 | * | * | 0.0310 | TALLADEGA.
010078 |  |  | 0.0062 | CALHOUN.
010083 | * | * | 0.0121 | BALDWIN.
010085 | * | * | 0.0092 | MORGAN.
010100 | * | * | 0.0121 | BALDWIN.
010101 | * | * | 0.0310 | TALLADEGA.
010109 |  |  | 0.0451 | PICKENS.
010129 |  |  | 0.0121 | BALDWIN.
010143 | * | * | 0.0375 | CULLMAN
010146 |  |  | 0.0062 | CALHOUN.
010150 | * | * | 0.0155 | BUTLER.
010158 | * | * | 0.0093 | FRANKLIN.
010164 | * | * | 0.0310 | TALLADEGA.
040014 | * | * | 0.0159 | WHITE.
040019 | * | * | 0.0697 | ST. FRANCIS.
040047 | * | * | 0.0090 | RANDOLPH.
040069 | * | * | 0.0140 | MISSISSIPPI.
040071 | * | * | 0.0026 | JEFFERSON.
040076 | * | * | 0.1075 | HOT SPRING.
040100 | * | * | 0.0159 | WHITE.
050008 |  |  | 0.0026 | SAN FRANCISCO.
050009 | * | * | 0.0478 | NAPA.
050013 | * | * | 0.0478 | NAPA.
050014 | * | * | 0.0131 | AMADOR.
050016 |  |  | 0.0103 | SAN LUIS OBISPO.
050042 | * | * | 0.0219 | TEHAMA.
050046 |  | * | 0.0156 | VENTURA.
050047 |  |  | 0.0026 | SAN FRANCISCO.
050055 |  |  | 0.0026 | SAN FRANCISCO.
050065 | * | * | 0.0029 | ORANGE.
050069 | * | * | 0.0029 | ORANGE.
050073 | * | * | 0.0269 | SOLANO.
050076 | * | * | 0.0026 | SAN FRANCISCO.
050082 |  | * | 0.0156 | VENTURA.
050084 |  |  | 0.0555 | SAN JOAQUIN.
050089 | * | * | 0.0152 | SAN BERNARDINO.
050090 | * | * | 0.0308 | SONOMA.
050099 | * | * | 0.0152 | SAN BERNARDINO.
050101 | * | * | 0.0269 | SOLANO.
050117 |  |  | 0.0463 | MERCED.
050118 | * | * | 0.0555 | SAN JOAQUIN.
050122 |  |  | 0.0555 | SAN JOAQUIN.
050129 | * | * | 0.0152 | SAN BERNARDINO.
050131 |  |  | 0.0033 | MARIN.
050133 |  |  | 0.0170 | YUBA.
050136 | * | * | 0.0308 | SONOMA.
050140 | * | * | 0.0152 | SAN BERNARDINO.
050150 | * | * | 0.0316 | NEVADA.
050152 |  |  | 0.0026 | SAN FRANCISCO.
050159 |  | * | 0.0156 | VENTURA.
050167 |  |  | 0.0555 | SAN JOAQUIN.
050168 | * | * | 0.0029 | ORANGE.
050173 | * | * | 0.0029 | ORANGE.
050174 | * | * | 0.0308 | SONOMA.
050177 |  |  | 0.0156 | VENTURA.
050193 | * | * | 0.0029 | ORANGE.
050224 | * | * | 0.0029 | ORANGE.
050226 | * | * | 0.0029 | ORANGE.
050228 | * | * | 0.0026 | SAN FRANCISCO.
050230 | * | * | 0.0029 | ORANGE.
050232 |  |  | 0.0103 | SAN LUIS OBISPO.
050236 |  | * | 0.0156 | VENTURA.
050245 | * | * | 0.0152 | SAN BERNARDINO.
050272 | * | * | 0.0152 | SAN BERNARDINO.
050279 | * | * | 0.0152 | SAN BERNARDINO.
050291 | * | * | 0.0308 | SONOMA.
050298 | * | * | 0.0152 | SAN BERNARDINO.
050300 | * | * | 0.0152 | SAN BERNARDINO.
050313 |  |  | 0.0555 | SAN JOAQUIN.
050325 |  |  | 0.0176 | TUOLUMNE.
050327 | * | * | 0.0152 | SAN BERNARDINO.
050335 |  |  | 0.0176 | TUOLUMNE.
050336 |  |  | 0.0555 | SAN JOAQUIN.
050348 | * | * | 0.0029 | ORANGE.
050360 |  |  | 0.0033 | MARIN.
050367 | * | * | 0.0269 | SOLANO.
050385 | * | * | 0.0308 | SONOMA.
050394 |  | * | 0.0156 | VENTURA.
050407 |  |  | 0.0026 | SAN FRANCISCO.
050426 | * | * | 0.0029 | ORANGE.
050444 |  |  | 0.0463 | MERCED.
050454 |  |  | 0.0026 | SAN FRANCISCO.
050457 |  |  | 0.0026 | SAN FRANCISCO.
050469 | * | * | 0.0152 | SAN BERNARDINO.
050476 |  |  | 0.0257 | LAKE.
050494 | * |  | 0.0316 | NEVADA.
050506 |  |  | 0.0103 | SAN LUIS OBISPO.
050510 | * | * | 0.0033 | MARIN.
050517 | * | * | 0.0152 | SAN BERNARDINO.
050526 | * | * | 0.0029 | ORANGE.
050528 | * | * | 0.0463 | MERCED.
050535 | * | * | 0.0029 | ORANGE.
050543 | * | * | 0.0029 | ORANGE.
050547 | * | * | 0.0308 | SONOMA.
050548 | * | * | 0.0029 | ORANGE.
050549 | * | * | 0.0156 | VENTURA.
050550 | * | * | 0.0029 | ORANGE.
050551 | * | * | 0.0029 | ORANGE.
050567 | * | * | 0.0029 | ORANGE.
050568 |  |  | 0.0062 | MADERA.
050570 | * | * | 0.0029 | ORANGE.
050580 | * | * | 0.0029 | ORANGE.
050584 | * | * | 0.0152 | SAN BERNARDINO.
050585 | * | * | 0.0029 | ORANGE.
050586 | * | * | 0.0152 | SAN BERNARDINO.
050589 | * | * | 0.0029 | ORANGE.
050592 | * | * | 0.0029 | ORANGE.
050594 | * | * | 0.0029 | ORANGE.
050603 | * | * | 0.0029 | ORANGE.
050609 | * | * | 0.0029 | ORANGE.
050616 |  | * | 0.0156 | VENTURA.
050618 | * | * | 0.0152 | SAN BERNARDINO.
050633 |  |  | 0.0103 | SAN LUIS OBISPO.
050667 | * | * | 0.0478 | NAPA.
050668 |  |  | 0.0026 | SAN FRANCISCO.
050678 | * | * | 0.0029 | ORANGE.
050680 | * | * | 0.0269 | SOLANO.
050690 | * | * | 0.0308 | SONOMA.
050693 | * | * | 0.0029 | ORANGE.
050695 |  |  | 0.0555 | SAN JOAQUIN.
050720 | * | * | 0.0029 | ORANGE.
050728 | * | * | 0.0308 | SONOMA.
050731 |  |  | 0.0152 | SAN BERNARDINO.
060001 |  |  | 0.0294 | WELD.
060003 | * | * | 0.0203 | BOULDER.
060010 |  |  | 0.0095 | LARIMER.
060027 | * | * | 0.0203 | BOULDER.
060030 |  |  | 0.0095 | LARIMER.
060103 | * | * | 0.0203 | BOULDER.
070003 | * | * | 0.0009 | WINDHAM.
070006 | * | * | 0.0047 | FAIRFIELD.
070010 | * | * | 0.0047 | FAIRFIELD.
070018 | * | * | 0.0047 | FAIRFIELD.
070020 |  |  | 0.0073 | MIDDLESEX.
070021 | * | * | 0.0009 | WINDHAM.
070028 | * | * | 0.0047 | FAIRFIELD.
070033 | * | * | 0.0047 | FAIRFIELD.
070034 | * | * | 0.0047 | FAIRFIELD.
080001 |  |  | 0.0063 | NEW CASTLE.
080003 |  |  | 0.0063 | NEW CASTLE.
100014 |  |  | 0.0118 | VOLUSIA.
100017 |  |  | 0.0118 | VOLUSIA.
100045 | * | * | 0.0118 | VOLUSIA.
100047 |  |  | 0.0021 | CHARLOTTE.
100062 |  |  | 0.0060 | MARION.
100068 |  |  | 0.0118 | VOLUSIA.
100072 |  |  | 0.0118 | VOLUSIA.
100077 |  |  | 0.0021 | CHARLOTTE.
100102 |  |  | 0.0125 | COLUMBIA.
100118 | * | * | 0.0398 | FLAGLER.
100156 |  |  | 0.0125 | COLUMBIA.
100175 |  |  | 0.0231 | DE SOTO.
100212 |  |  | 0.0060 | MARION.
100232 | * | * | 0.0347 | PUTNAM.
100236 |  |  | 0.0021 | CHARLOTTE.
100252 | * | * | 0.0233 | OKEECHOBEE.
100290 |  |  | 0.0582 | SUMTER.
110023 | * | * | 0.0500 | GORDON.
110027 |  |  | 0.0387 | FRANKLIN.
110029 | * | * | 0.0063 | HALL.
110041 | * | * | 0.0777 | HABERSHAM.
110069 | * | * | 0.0474 | HOUSTON.
110124 |  |  | 0.0428 | WAYNE.
110136 |  |  | 0.0261 | BALDWIN
110146 |  |  | 0.0786 | CAMDEN.
110150 | * | * | 0.0261 | BALDWIN
110153 | * | * | 0.0474 | HOUSTON.
110187 | * | * | 0.1172 | LUMPKIN.
110189 | * | * | 0.0031 | FANNIN.
110190 |  |  | 0.0182 | MACON.
110205 | * | * | 0.0779 | GILMER.
130003 | * | * | 0.0095 | NEZ PERCE.
130024 |  |  | 0.0275 | BONNER.
130049 | * | * | 0.0349 | KOOTENAI.
130066 |  |  | 0.0349 | KOOTENAI.
140012 | * | * | 0.0220 | LEE.
140026 |  |  | 0.0346 | LA SALLE.
140033 | * | * | 0.0147 | LAKE.
140043 | * | * | 0.0046 | WHITESIDE.
140058 | * | * | 0.0081 | MORGAN.
140084 | * | * | 0.0147 | LAKE.
140100 | * | * | 0.0147 | LAKE.
140110 | * | * | 0.0346 | LA SALLE.
140130 | * | * | 0.0147 | LAKE.
140155 |  |  | 0.0027 | KANKAKEE.
140160 | * | * | 0.0286 | STEPHENSON.
140161 | * | * | 0.0138 | LIVINGSTON.
140186 |  |  | 0.0027 | KANKAKEE.
140202 | * | * | 0.0147 | LAKE.
140205 |  |  | 0.0163 | BOONE.
140234 | * | * | 0.0346 | LA SALLE.
140291 | * | * | 0.0147 | LAKE.
150006 | * | * | 0.0084 | LA PORTE.
150015 | * | * | 0.0084 | LA PORTE.
150022 |  |  | 0.0249 | MONTGOMERY.
150030 | * | * | 0.0201 | HENRY.
150035 |  |  | 0.0083 | PORTER.
150045 |  |  | 0.0416 | DE KALB.
150065 | * | * | 0.0139 | JACKSON.
150076 | * | * | 0.0189 | MARSHALL.
150088 | * | * | 0.0196 | MADISON.
150091 |  |  | 0.0573 | HUNTINGTON.
150102 | * | * | 0.0160 | STARKE.
150113 | * | * | 0.0196 | MADISON.
150122 | * | * | 0.0199 | RIPLEY.
150146 | * | * | 0.0440 | NOBLE.
160013 |  |  | 0.0218 | MUSCATINE.
160030 |  |  | 0.0040 | STORY.
160032 |  |  | 0.0272 | JASPER.
160080 | * | * | 0.0049 | CLINTON.
170137 | * | * | 0.0336 | DOUGLAS.
180012 | * | * | 0.0083 | HARDIN.
180049 |  |  | 0.0576 | MADISON.
180066 | * | * | 0.0567 | LOGAN.
180127 | * | * | 0.0352 | FRANKLIN.
180128 |  |  | 0.0282 | LAWRENCE.
190001 | * | * | 0.0645 | WASHINGTON.
190003 | * | * | 0.0107 | IBERIA.
190015 | * | * | 0.0401 | TANGIPAHOA.
190017 |  |  | 0.0235 | ST. LANDRY.
190054 |  |  | 0.0107 | IBERIA.
190078 |  |  | 0.0235 | ST. LANDRY.
190088 |  |  | 0.0705 | WEBSTER.
190099 | * | * | 0.0390 | AVOYELLES.
190106 | * | * | 0.0238 | ALLEN.
190133 |  |  | 0.0238 | ALLEN.
190144 |  |  | 0.0705 | WEBSTER.
190184 |  |  | 0.0161 | CALDWELL.
190190 |  |  | 0.0161 | CALDWELL.
190191 | * | * | 0.0235 | ST. LANDRY.
190246 |  |  | 0.0161 | CALDWELL.
200002 |  |  | 0.0129 | LINCOLN.
200024 | * | * | 0.0071 | ANDROSCOGGIN.
200032 |  |  | 0.0466 | OXFORD.
200034 | * | * | 0.0071 | ANDROSCOGGIN.
200050 | * | * | 0.0140 | HANCOCK.
210001 |  |  | 0.0129 | WASHINGTON.
210004 |  |  | 0.0040 | MONTGOMERY.
210016 |  |  | 0.0040 | MONTGOMERY.
210018 |  |  | 0.0040 | MONTGOMERY.
210022 |  |  | 0.0040 | MONTGOMERY.
210023 |  |  | 0.0209 | ANNE ARUNDEL.
210028 |  |  | 0.0512 | ST. MARYS.
210043 |  |  | 0.0209 | ANNE ARUNDEL.
210048 |  |  | 0.0287 | HOWARD.
210057 |  |  | 0.0040 | MONTGOMERY.
220001 | * | * | 0.0056 | WORCESTER.
220002 | * | * | 0.0249 | MIDDLESEX.
220006 |  |  | 0.0306 | ESSEX.
220010 | * | * | 0.0306 | ESSEX.
220011 | * | * | 0.0249 | MIDDLESEX.
220019 | * | * | 0.0056 | WORCESTER.
220025 | * | * | 0.0056 | WORCESTER.
220028 | * | * | 0.0056 | WORCESTER.
220029 | * | * | 0.0306 | ESSEX.
220033 | * | * | 0.0306 | ESSEX.
220035 | * | * | 0.0306 | ESSEX.
220049 | * | * | 0.0249 | MIDDLESEX.
220058 | * | * | 0.0056 | WORCESTER.
220062 | * | * | 0.0056 | WORCESTER.
220063 | * | * | 0.0249 | MIDDLESEX.
220070 | * | * | 0.0249 | MIDDLESEX.
220080 | * | * | 0.0306 | ESSEX.
220082 | * | * | 0.0249 | MIDDLESEX.
220084 | * | * | 0.0249 | MIDDLESEX.
220089 |  |  | 0.0249 | MIDDLESEX.
220090 | * | * | 0.0056 | WORCESTER.
220095 | * | * | 0.0056 | WORCESTER.
220098 | * | * | 0.0249 | MIDDLESEX.
220101 | * | * | 0.0249 | MIDDLESEX.
220105 | * | * | 0.0249 | MIDDLESEX.
220163 | * | * | 0.0056 | WORCESTER.
220171 | * | * | 0.0249 | MIDDLESEX.
220174 | * | * | 0.0306 | ESSEX.
230003 | * | * | 0.0035 | OTTAWA.
230013 | * | * | 0.0091 | OAKLAND.
230015 |  |  | 0.0359 | ST. JOSEPH.
230019 | * | * | 0.0091 | OAKLAND.
230021 |  |  | 0.0136 | BERRIEN.
230022 | * | * | 0.0113 | BRANCH.
230029 | * | * | 0.0091 | OAKLAND.
230037 | * | * | 0.0178 | HILLSADLE.
230041 |  |  | 0.0099 | BAY.
230047 | * | * | 0.0082 | MACOMB.
230069 | * | * | 0.0487 | LIVINGSTON.
230071 | * | * | 0.0091 | OAKLAND.
230072 | * | * | 0.0035 | OTTAWA.
230075 |  |  | 0.0145 | CALHOUN.
230078 | * | * | 0.0136 | BERRIEN.
230092 | * | * | 0.0389 | JACKSON.
230093 | * | * | 0.0079 | MECOSTA.
230096 | * | * | 0.0359 | ST. JOSEPH.
230099 | * | * | 0.0339 | MONROE.
230106 |  | * | 0.0030 | NEWAYGO.
230121 | * | * | 0.0691 | SHIAWASSEE.
230130 | * | * | 0.0091 | OAKLAND.
230151 | * | * | 0.0091 | OAKLAND.
230174 | * | * | 0.0035 | OTTAWA.
230184 |  |  | 0.0389 | JACKSON.
230195 | * | * | 0.0082 | MACOMB.
230204 | * | * | 0.0082 | MACOMB.
230207 | * | * | 0.0091 | OAKLAND.
230217 | * | * | 0.0145 | CALHOUN.
230222 |  |  | 0.0228 | MIDLAND.
230223 | * | * | 0.0091 | OAKLAND.
230227 | * | * | 0.0082 | MACOMB.
230254 | * | * | 0.0091 | OAKLAND.
230257 | * | * | 0.0082 | MACOMB.
230264 | * | * | 0.0082 | MACOMB.
230269 | * | * | 0.0091 | OAKLAND.
230277 | * | * | 0.0091 | OAKLAND.
230279 | * | * | 0.0487 | LIVINGSTON.
240018 | * | * | 0.1196 | GOODHUE.
240044 |  |  | 0.0868 | WINONA.
240064 | * | * | 0.0138 | ITASCA.
240069 | * | * | 0.0419 | STEELE.
240071 | * | * | 0.0454 | RICE.
240187 | * | * | 0.0506 | MC LEOD.
240211 | * | * | 0.0705 | PINE.
250040 | * | * | 0.0294 | JACKSON.
260011 | * | * | 0.0007 | COLE.
260047 | * | * | 0.0007 | COLE.
260074 | * | * | 0.0158 | RANDOLPH.
260097 |  |  | 0.0425 | JOHNSON.
280077 | * | * | 0.0089 | DODGE.
280123 |  |  | 0.0137 | GAGE.
290019 | * | * | 0.0026 | CARSON CITY.
290049 |  |  | 0.0026 | CARSON CITY.
300011 | * | * | 0.0069 | HILLSBOURGH.
300012 | * | * | 0.0069 | HILLSBOURGH.
300017 | * | * | 0.0361 | ROCKINGHAM.
300020 | * | * | 0.0069 | HILLSBOURGH.
300023 | * | * | 0.0361 | ROCKINGHAM.
300029 | * | * | 0.0361 | ROCKINGHAM.
300034 | * | * | 0.0069 | HILLSBOURGH.
310002 | * | * | 0.0351 | ESSEX.
310009 | * | * | 0.0351 | ESSEX.
310010 |  |  | 0.0092 | MERCER.
310011 |  |  | 0.0115 | CAPE MAY.
310013 | * | * | 0.0351 | ESSEX.
310018 | * | * | 0.0351 | ESSEX.
310021 | * | * | 0.0092 | MERCER.
310038 | * | * | 0.0350 | MIDDLESEX.
310039 | * | * | 0.0350 | MIDDLESEX.
310044 |  |  | 0.0092 | MERCER.
310054 | * | * | 0.0351 | ESSEX.
310070 | * | * | 0.0350 | MIDDLESEX.
310076 | * | * | 0.0351 | ESSEX.
310078 | * | * | 0.0351 | ESSEX.
310083 | * | * | 0.0351 | ESSEX.
310092 |  |  | 0.0092 | MERCER.
310093 | * | * | 0.0351 | ESSEX.
310096 | * | * | 0.0351 | ESSEX.
310108 | * | * | 0.0350 | MIDDLESEX.
310110 |  |  | 0.0092 | MERCER.
310119 | * | * | 0.0351 | ESSEX.
310123 |  |  | 0.0351 | ESSEX.
310124 |  |  | 0.0350 | MIDDLESEX.
320003 |  |  | 0.0629 | SAN MIGUEL
320011 |  |  | 0.0442 | RIO ARRIBA.
320018 |  |  | 0.0063 | DONA ANA.
320085 |  |  | 0.0063 | DONA ANA.
330004 | * | * | 0.0959 | ULSTER.
330008 | * | * | 0.0470 | WYOMING.
330027 | * | * | 0.0137 | NASSAU.
330094 | * | * | 0.0778 | COLUMBIA.
330106 | * | * | 0.0137 | NASSAU.
330126 | * |  | 0.0560 | ORANGE.
330135 | * |  | 0.0560 | ORANGE.
330167 |  | * | 0.0137 | NASSAU.
330181 |  | * | 0.0137 | NASSAU.
330182 | * | * | 0.0137 | NASSAU.
330191 | * | * | 0.0026 | WARREN.
330198 |  | * | 0.0137 | NASSAU.
330205 | * |  | 0.0560 | ORANGE.
330209 | * |  | 0.0560 | ORANGE.
330224 | * | * | 0.0959 | ULSTER.
330225 |  | * | 0.0137 | NASSAU.
330235 | * | * | 0.0270 | CAYUGA.
330259 |  | * | 0.0137 | NASSAU.
330264 | * |  | 0.0560 | ORANGE.
330276 |  |  | 0.0063 | FULTON.
330331 |  | * | 0.0137 | NASSAU.
330332 |  | * | 0.0137 | NASSAU.
330372 |  | * | 0.0137 | NASSAU.
330386 | * | * | 0.1139 | SULLIVAN.
340015 |  |  | 0.0267 | ROWAN.
340020 |  |  | 0.0207 | LEE.
340021 | * | * | 0.0216 | CLEVELAND.
340037 |  |  | 0.0216 | CLEVELAND.
340039 | * | * | 0.0144 | IREDELL.
340069 | * | * | 0.0053 | WAKE.
340070 | * | * | 0.0448 | ALAMANCE.
340073 | * | * | 0.0053 | WAKE.
340085 |  |  | 0.0377 | DAVIDSON.
340096 |  |  | 0.0377 | DAVIDSON.
340104 |  |  | 0.0216 | CLEVELAND.
340114 | * | * | 0.0053 | WAKE.
340126 | * | * | 0.0161 | WILSON.
340127 | * | * | 0.0961 | GRANVILLE.
340129 | * | * | 0.0144 | IREDELL.
340133 |  |  | 0.0308 | MARTIN.
340138 | * | * | 0.0053 | WAKE.
340144 | * | * | 0.0144 | IREDELL.
340145 | * | * | 0.0563 | LINCOLN.
340173 | * | * | 0.0053 | WAKE.
360013 | * | * | 0.0166 | SHELBY.
360025 | * | * | 0.0087 | ERIE.
360036 | * | * | 0.0263 | WAYNE.
360065 | * | * | 0.0141 | HURON.
360070 |  |  | 0.0028 | STARK.
360078 | * | * | 0.0159 | PORTAGE.
360084 | * | * | 0.0028 | STARK.
360086 | * | * | 0.0168 | CLARK.
360095 | * | * | 0.0087 | HANCOCK.
360100 |  |  | 0.0028 | STARK.
360107 | * | * | 0.0213 | SANDUSKY
360131 |  |  | 0.0028 | STARK.
360151 |  |  | 0.0028 | STARK.
360156 |  |  | 0.0213 | SANDUSKY
360175 | * | * | 0.0159 | CLINTON.
360187 | * | * | 0.0168 | CLARK.
360197 | * | * | 0.0092 | LOGAN.
360267 |  |  | 0.0028 | STARK.
370004 | * | * | 0.0193 | OTTAWA.
370014 | * | * | 0.0831 | BRYAN.
370015 | * | * | 0.0463 | MAYES.
370023 |  |  | 0.0084 | STEPHENS.
370065 |  |  | 0.0121 | CRAIG.
370113 | * | * | 0.0205 | DELAWRE.
370149 |  |  | 0.0356 | POTTAWATOMIE.
380002 |  |  | 0.0130 | JOSEPHINE.
380022 | * | * | 0.0201 | LINN.
380029 |  |  | 0.0075 | MARION.
380051 |  |  | 0.0075 | MARION.
380056 |  |  | 0.0075 | MARION.
390011 |  |  | 0.0012 | CAMBRIA.
390030 | * | * | 0.0276 | SCHUYLKILL.
390031 | * | * | 0.0276 | SCHUYLKILL.
390044 |  |  | 0.0200 | BERKS.
390046 | * | * | 0.0098 | YORK.
390056 |  |  | 0.0042 | HUNTINGDON.
390065 | * | * | 0.0501 | ADAMS.
390066 | * | * | 0.0259 | LEBANON.
390096 |  |  | 0.0200 | BERKS.
390101 |  |  | 0.0098 | YORK.
390110 | * | * | 0.0012 | CAMBRIA.
390130 |  |  | 0.0012 | CAMBRIA.
390138 | * | * | 0.0325 | FRANKLIN.
390146 | * | * | 0.0053 | WARREN.
390150 | * | * | 0.0206 | GREENE.
390151 | * | * | 0.0325 | FRANKLIN.
390162 |  |  | 0.0200 | NORTHAMPTON.
390181 | * | * | 0.0276 | SCHUYLKILL.
390183 | * | * | 0.0276 | SCHUYLKILL.
390201 | * | * | 0.1127 | MONROE.
390233 |  |  | 0.0098 | YORK.
420007 | * | * | 0.0001 | SPARTANBURG.
420009 | * | * | 0.0153 | OCONEE.
420020 | * | * | 0.0035 | GEORGETOWN.
420027 | * | * | 0.0210 | ANDERSON.
420030 | * | * | 0.0103 | COLLETON.
420039 | * | * | 0.0153 | UNION.
420043 |  |  | 0.0177 | CHEROKEE.
420062 |  |  | 0.0135 | CHESTERFIELD.
420068 | * | * | 0.0097 | ORANGE.BURG
420070 | * | * | 0.0101 | SUMTER.
420083 | * | * | 0.0001 | SPARTANBURG.
420093 |  |  | 0.0001 | SPARTANBURG.
420098 |  |  | 0.0035 | GEORGETOWN.
440008 | * | * | 0.0663 | HENDERSON.
440012 |  |  | 0.0016 | SULLIVAN.
440017 |  |  | 0.0016 | SULLIVAN.
440024 | * | * | 0.0387 | BRADLEY.
440030 |  |  | 0.0056 | HAMBLEN.
440035 | * | * | 0.0441 | MONTGOMERY.
440047 |  |  | 0.0499 | GIBSON.
440051 |  |  | 0.0104 | MC NAIRY.
440056 |  |  | 0.0321 | JEFFERSON.
440060 | * | * | 0.0499 | GIBSON.
440063 |  |  | 0.0011 | WASHINGTON.
440067 | * | * | 0.0056 | HAMBLEN.
440073 | * | * | 0.0513 | MAURY.
440105 |  |  | 0.0011 | WASHINGTON.
440115 |  |  | 0.0499 | GIBSON.
440148 | * | * | 0.0568 | DE KALB.
440153 |  |  | 0.0007 | COCKE.
440174 |  |  | 0.0372 | HAYWOOD.
440176 |  |  | 0.0016 | SULLIVAN.
440181 |  |  | 0.0407 | HARDEMAN.
440184 |  |  | 0.0011 | WASHINGTON.
440185 | * | * | 0.0387 | BRADLEY.
450032 | * | * | 0.0416 | HARRISON.
450039 | * | * | 0.0097 | TARRANT.
450059 | * | * | 0.0073 | COMAL.
450064 | * | * | 0.0097 | TARRANT.
450087 | * | * | 0.0097 | TARRANT.
450099 | * | * | 0.0180 | GRAY.
450121 | * | * | 0.0097 | TARRANT.
450135 | * | * | 0.0097 | TARRANT.
450137 | * | * | 0.0097 | TARRANT.
450144 | * | * | 0.0573 | ANDREWS.
450163 |  |  | 0.0134 | KELBERG.
450187 | * | * | 0.0264 | WASHINGTON.
450194 | * | * | 0.0328 | CHEROKEE.
450214 | * | * | 0.0368 | WHARTON.
450224 | * | * | 0.0411 | WOOD.
450324 |  |  | 0.0156 | GRAYSON.
450347 | * | * | 0.0427 | WALKER.
450370 |  |  | 0.0258 | COLORADO.
450389 | * | * | 0.0881 | HENDERSON.
450395 | * | * | 0.0484 | POLK.
450419 | * | * | 0.0097 | TARRANT.
450438 | * | * | 0.0258 | COLORADO.
450447 | * | * | 0.0358 | NAVARRO.
450451 | * | * | 0.0551 | SOMERVELL.
450465 |  |  | 0.0435 | MATAGORDA.
450469 |  |  | 0.0156 | GRAYSON.
450547 | * | * | 0.0411 | WOOD.
450563 | * | * | 0.0097 | TARRANT.
450565 |  |  | 0.0486 | PALO PINTO.
450596 |  |  | 0.0808 | HOOD.
450597 |  |  | 0.0077 | DE WIT.
450639 | * | * | 0.0097 | TARRANT.
450672 | * | * | 0.0097 | TARRANT.
450675 | * | * | 0.0097 | TARRANT.
450677 | * | * | 0.0097 | TARRANT.
450694 | * | * | 0.0368 | WHARTON.
450747 | * | * | 0.0195 | ANDERSON.
450755 | * | * | 0.0484 | HOCKLEY.
450779 | * | * | 0.0097 | TARRANT.
450813 | * | * | 0.0195 | ANDERSON.
450858 | * | * | 0.0097 | TARRANT.
450872 | * | * | 0.0097 | TARRANT.
450880 | * | * | 0.0097 | TARRANT.
460017 |  |  | 0.0392 | BOX ELDER.
460039 | * | * | 0.0392 | BOX ELDER.
490019 |  |  | 0.1240 | CULPEPER.
490038 |  |  | 0.0022 | SMYTH.
490084 |  |  | 0.0167 | ESSEX.
490105 | * | * | 0.0022 | SMYTH.
490110 |  |  | 0.0082 | MONTGOMERY.
500003 | * | * | 0.0208 | SKAGIT.
500007 |  |  | 0.0208 | SKAGIT.
500019 |  |  | 0.0213 | LEWIS.
500021 | * | * | 0.0055 | PIERCE.
500024 | * | * | 0.0023 | THURSTON.
500039 | * | * | 0.0174 | KITSAP.
500041 | * | * | 0.0118 | COWLITZ.
500079 | * | * | 0.0055 | PIERCE.
500108 | * | * | 0.0055 | PIERCE.
500129 | * | * | 0.0055 | PIERCE.
500139 | * | * | 0.0023 | THURSTON.
500143 |  |  | 0.0023 | THURSTON.
510018 | * | * | 0.0209 | JACKSON.
510039 |  |  | 0.0112 | OHIO.
510047 | * | * | 0.0275 | MARION.
510050 |  |  | 0.0112 | OHIO.
510077 | * | * | 0.0021 | MINGO.
520028 | * | * | 0.0157 | GREEN.
520035 |  |  | 0.0077 | SHEBOYGAN.
520044 |  |  | 0.0077 | SHEBOYGAN.
520057 |  |  | 0.0118 | SAUK.
520059 | * | * | 0.0200 | RACINE.
520071 | * | * | 0.0239 | JEFFERSON.
520095 | * | * | 0.0118 | SAUK.
520096 | * | * | 0.0200 | RACINE.
520102 | * | * | 0.0298 | WALWORTH
520116 | * | * | 0.0239 | JEFFERSON.
520132 |  |  | 0.0077 | SHEBOYGAN.

Table 5.—List of Diagnosis-Related Groups, Relative Weighting Factors, and Geometric and Arithmetic Mean Length of Stay (LOS)
DRG | FY 07 proposed rule post-acute care DRG | FY 07 proposed rule special pay DRG | MDC | Type | DRG title | Weights | Geometric mean LOS | Arithmetic mean LOS
1 | Yes | No | 01 | SURG | CRANIOTOMY AGE >17 W CC | 3.5289 | 7.3 | 9.8
2 | Yes | No | 01 | SURG | CRANIOTOMY AGE >17 W/O CC | 1.9870 | 3.4 | 4.4
3 | No | No | 01 | SURG* | CRANIOTOMY AGE 0-17 | 1.9870 | 9.2 | 12.5
4 | No | No | 01 | SURG | NO LONGER VALID | 0.0000 | 0.0 | 0.0
5 | No | No | 01 | SURG | NO LONGER VALID | 0.0000 | 0.0 | 0.0
6 | No | No | 01 | SURG | CARPAL TUNNEL RELEASE | 0.7965 | 2.1 | 3.1
7 | Yes | Yes | 01 | SURG | PERIPH & CRANIAL NERVE & DOTHER NERV SYST PROC W CC | 2.5775 | 6.6 | 9.5
8 | Yes | Yes | 01 | SURG | PERIPH & CRANIAL NERVE & DOTHER NERV SYST PROC W/O CC | 1.4057 | 2.0 | 2.8
9 | No | No | 01 | MED | SPINAL DISORDERS & INJURIES | 1.4543 | 4.4 | 6.2
10 | Yes | No | 01 | MED | NERVOUS SYSTEM NEOPLASMS W CC | 1.2513 | 4.6 | 6.0
11 | Yes | No | 01 | MED | NERVOUS SYSTEM DNEOPLASMS W/O CC | 0.8359 | 2.7 | 3.6
12 | Yes | No | 01 | MED | DEGENERATIVE NERVOUS SYSTEM DISORDERS | 1.0105 | 4.4 | 5.6
13 | Yes | No | 01 | MED | MULTIPLE SCLEROSIS & DCEREBELLAR ATAXIA | 0.9266 | 4.0 | 4.9
14 | Yes | No | 01 | MED | INTRACRANIAL HEMORRHAGE OR DCEREBRAL INFARCTION | 1.2480 | 4.3 | 5.5
15 | Yes | No | 01 | MED | NONSPECIFIC CVA & PRECEREBRAL OCCLUSION W/O INFARCT | 0.9170 | 3.1 | 4.0
16 | Yes | No | 01 | MED | NONSPECIFIC CEREBROVASCULAR DISORDERS W CC | 1.3632 | 5.0 | 6.4
17 | Yes | No | 01 | MED | NONSPECIFIC CEREBROVASCULAR ISORDERS W/O CC | 0.6692 | 2.4 | 3.0
18 | Yes | No | 01 | MED | CRANIAL & PERIPHERAL NERVE DISORDERS W CC | 1.0501 | 4.1 | 5.2
19 | Yes | No | 01 | MED | CRANIAL & PERIPHERAL NERVE DISORDERS W/O CC | 0.7128 | 2.7 | 3.4
20 | Yes | No | 01 | MED | NERVOUS SYSTEM INFECTION EXCEPT VIRAL DMENINGITIS | 2.7596 | 8.0 | 10.3
21 | No | No | 01 | MED | VIRAL MENINGITIS | 1.4536 | 4.7 | 6.2
22 | No | No | 01 | MED | HYPERTENSIVE ENCEPHALOPATHY | 1.2386 | 3.9 | 5.0
23 | No | No | 01 | MED | NONTRAUMATIC STUPOR & COMA | 0.8423 | 3.0 | 3.9
24 | Yes | No | 01 | MED | SEIZURE & HEADACHE AGE >17 W CC | 1.0388 | 3.5 | 4.7
25 | Yes | No | 01 | MED | SEIZURE & HEADACHE AGE >17 W/O CC | 0.6436 | 2.5 | 3.1
26 | No | No | 01 | MED | SEIZURE & HEADACHE AGE 0-17 | 1.1844 | 2.6 | 3.8
27 | No | No | 01 | MED | TRAUMATIC STUPOR & COMA, COMA >1 HR | 1.4281 | 3.1 | 4.8
28 | Yes | No | 01 | MED | TRAUMATIC STUPOR & COMA, COMA <1 HR AGE >17 W CC | 1.4037 | 4.2 | 5.7
29 | Yes | No | 01 | MED | TRAUMATIC STUPOR & COMA, COMA <1 HR AGE >17 W/O CC | 0.7658 | 2.6 | 3.2
30 | No | No | 01 | MED* | TRAUMATIC STUPOR & COMA, COMA <1 HR AGE 0-17 | 0.7658 | * | *
31 | No | No | 01 | MED | CONCUSSION AGE >17 W CC | 0.9511 | 3.0 | 3.9
32 | No | No | 01 | MED | CONCUSSION AGE >17 W/O CC | 0.5859 | 1.8 | 2.3
33 | No | No | 01 | MED* | CONCUSSION AGE 0-17 | 0.5859 | * | *
34 | Yes | No | 01 | MED | OTHER DISORDERS OF NERVOUS SYSTEM W CC | 1.0347 | 3.6 | 4.8
35 | Yes | No | 01 | MED | OTHER DISORDERS OF NERVOUS SYSTEM W/O CC | 0.6453 | 2.5 | 3.1
36 | No | No | 02 | SURG | RETINAL PROCEDURES | 0.7936 | 1.3 | 1.7
37 | No | No | 02 | SURG | ORBITAL PROCEDURES | 1.2193 | 2.7 | 4.1
38 | No | No | 02 | SURG | PRIMARY IRIS PROCEDURES | 0.5783 | 2.2 | 2.8
39 | No | No | 02 | SURG | LENS PROCEDURES WITH OR WITHOUT VITRECTOMY | 0.7098 | 1.5 | 2.0
40 | No | No | 02 | SURG | EXTRAOCULAR PROCEDURES EXCEPT ORBIT AGE >17 | 1.1061 | 3.0 | 4.1
41 | No | No | 02 | SURG* | EXTRAOCULAR PROCEDURES EXCEPT ORBIT AGE 0-17 | 1.1061 | * | *
42 | No | No | 02 | SURG | INTRAOCULAR PROCEDURES EXCEPT RETINA, IRIS & LENS | 0.9264 | 2.1 | 3.0
43 | No | No | 02 | MED | HYPHEMA | 0.5799 | 2.4 | 3.0
44 | No | No | 02 | MED | ACUTE MAJOR EYE INFECTIONS | 0.8191 | 3.8 | 4.8
45 | No | No | 02 | MED | NEUROLOGICAL EYE DISORDERS | 0.6809 | 2.5 | 3.0
46 | No | No | 02 | MED | OTHER DISORDERS OF THE EYE AGE >17 W CC | 0.8135 | 3.2 | 4.2
47 | No | No | 02 | MED | OTHER DISORDERS OF THE EYE AGE >17 W/O CC | 0.5728 | 2.4 | 3.0
48 | No | No | 02 | MED* | OTHER DISORDERS OF THE EYE AGE 0-17 | 0.5728 | * | *
49 | No | No | 03 | SURG | MAJOR HEAD & NECK PROCEDURES | 1.7653 | 3.2 | 4.5
50 | No | No | 03 | SURG | SIALOADENECTOMY | 0.8292 | 1.5 | 1.9
51 | No | No | 03 | SURG | SALIVARY GLAND PROCEDURES EXCEPT SIALOADENECTOMY | 0.8841 | 1.9 | 2.7
52 | No | No | 03 | SURG | CLEFT LIP & PALATE REPAIR | 0.7608 | 1.4 | 1.7
53 | No | No | 03 | SURG | SINUS & MASTOID PROCEDURES AGE >17 | 1.2984 | 2.5 | 4.0
54 | No | No | 03 | SURG* | SINUS & MASTOID PROCEDURES AGE 0-17 | 1.2984 | * | *
55 | No | No | 03 | SURG | MISCELLANEOUS EAR, NOSE, MOUTH & THROAT PROCEDURES | 0.9555 | 1.9 | 2.9
56 | No | No | 03 | SURG | RHINOPLASTY | 0.9535 | 1.9 | 2.7
57 | No | No | 03 | SURG | T&A PROC, EXCEPT TONSILLECTOMY &/OR ADENOIDECTOMY ONLY, AGE >17 | 1.0220 | 2.1 | 3.2
58 | No | No | 03 | SURG* | T&A PROC, EXCEPT TONSILLECTOMY &/OR ADENOIDECTOMY ONLY, AGE 0-17 | 1.0220 | * | *
59 | No | No | 03 | SURG | TONSILLECTOMY &/OR ADENOIDECTOMY ONLY, AGE >17 | 0.7380 | 1.8 | 2.4
60 | No | No | 03 | SURG* | TONSILLECTOMY &/OR ADENOIDECTOMY ONLY, AGE 0-17 | 0.7380 | 1.4 | 1.7
61 | No | No | 03 | SURG | MYRINGOTOMY W TUBE INSERTION AGE >17 | 1.5534 | 3.7 | 6.1
62 | No | No | 03 | SURG* | MYRINGOTOMY W TUBE INSERTION AGE 0-17 | 1.5534 | 1.3 | 1.5
63 | No | No | 03 | SURG | OTHER EAR, NOSE, MOUTH & THROAT O.R. PROCEDURES | 1.4153 | 3.0 | 4.5
64 | No | No | 03 | MED | EAR, NOSE, MOUTH & THROAT MALIGNANCY | 1.2875 | 4.2 | 6.3
65 | No | No | 03 | MED | DYSEQUILIBRIUM | 0.5799 | 2.3 | 2.8
66 | No | No | 03 | MED | EPISTAXIS | 0.6790 | 2.4 | 3.1
67 | No | No | 03 | MED | EPIGLOTTITIS | 0.9830 | 2.8 | 3.7
68 | No | No | 03 | MED | OTITIS MEDIA & URI AGE &gt;17 W CC | 0.7572 | 3.1 | 3.8
69 | No | No | 03 | MED | OTITIS MEDIA & URI AGE &gt;17 W/O CC | 0.5706 | 2.5 | 2.9
70 | No | No | 03 | MED | OTITIS MEDIA & URI AGE 0-17 | 0.4794 | 2.0 | 2.3
71 | No | No | 03 | MED | LARYNGOTRACHEITIS | 0.9064 | 3.4 | 4.4
72 | No | No | 03 | MED | NASAL TRAUMA & DEFORMITY | 0.7502 | 2.6 | 3.3
73 | Yes | No | 03 | MED | OTHER EAR, NOSE, MOUTH & THROAT DIAGNOSES AGE >17 | 0.9140 | 3.3 | 4.3
74 | No | No | 03 | MED* | OTHER EAR, NOSE, MOUTH & THROAT DIAGNOSES AGE 0-17 | 0.9140 | 3.3 | 3.3
75 | Yes | No | 04 | SURG | MAJOR CHEST PROCEDURES | 3.0790 | 7.4 | 9.7
76 | Yes | No | 04 | SURG | OTHER RESP SYSTEM O.R. PROCEDURES W CC | 2.7410 | 8.2 | 10.7
77 | Yes | No | 04 | SURG | OTHER RESP SYSTEM O.R. PROCEDURES W/O CC | 1.1515 | 3.3 | 4.5
78 | Yes | No | 04 | MED | PULMONARY EMBOLISM | 1.3229 | 5.3 | 6.2
79 | Yes | No | 04 | MED | RESPIRATORY INFECTIONS & INFLAMMATIONS AGE >17 W CC | 1.7331 | 6.7 | 8.3
80 | Yes | No | 04 | MED | RESPIRATORY INFECTIONS & INFLAMMATIONS AGE >17 W/O CC | 1.0190 | 4.3 | 5.3
81 | No | No | 04 | MED* | RESPIRATORY INFECTIONS & INFLAMMATIONS AGE 0-7 | 1.7331 | 5.2 | 6.2
82 | Yes | No | 04 | MED | RESPIRATORY NEOPLASMS | 1.4335 | 5.1 | 6.8
83 | Yes | No | 04 | MED | MAJOR CHEST TRAUMA W CC | 1.1185 | 4.2 | 5.3
84 | Yes | No | 04 | MED | MAJOR CHEST TRAUMA W/O CC | 0.6523 | 2.6 | 3.2
85 | Yes | No | 04 | MED | PLEURAL EFFUSION W CC | 1.2935 | 4.7 | 6.2
86 | Yes | No | 04 | MED | PLEURAL EFFUSION W/O CC | 0.7154 | 2.7 | 3.5
87 | No | No | 04 | MED | PULMONARY EDEMA & ESPIRATORY FAILURE | 1.5310 | 4.9 | 6.4
88 | No | No | 04 | MED | CHRONIC OBSTRUCTIVE PULMONARY DISEASE | 0.9557 | 4.0 | 4.9
89 | Yes | No | 04 | MED | SIMPLE PNEUMONIA & PLEURISY AGE >17 W CC | 1.1291 | 4.6 | 5.6
90 | Yes | No | 04 | MED | SIMPLE PNEUMONIA & PLEURISY AGE >17 W/O CC | 0.7043 | 3.2 | 3.7
91 | No | No | 04 | MED | SIMPLE PNEUMONIA & PLEURISY AGE 0-17 | 0.7054 | 2.5 | 3.4
92 | Yes | No | 04 | MED | INTERSTITIAL LUNG DISEASE W CC | 1.2410 | 4.8 | 6.0
93 | Yes | No | 04 | MED | INTERSTITIAL LUNG DISEASE W/O CC | 0.7539 | 3.0 | 3.8
94 | No | No | 04 | MED | PNEUMOTHORAX W CC | 1.2852 | 4.5 | 5.9
95 | No | No | 04 | MED | PNEUMOTHORAX W/O CC | 0.7018 | 2.7 | 3.4
96 | No | No | 04 | MED | BRONCHITIS & ASTHMA AGE >17 W CC | 0.8093 | 3.5 | 4.3
97 | No | No | 04 | MED | BRONCHITIS & ASTHMA AGE >17 W/O CC | 0.6199 | 2.8 | 3.4
98 | No | No | 04 | MED | BRONCHITIS & ASTHMA AGE 0-17 | 0.6892 | 2.8 | 3.1
99 | No | No | 04 | MED | RESPIRATORY SIGNS & SYMPTOMS W CC | 0.7101 | 2.4 | 3.1
100 | No | No | 04 | MED | RESPIRATORY SIGNS & SYMPTOMS W/O CC | 0.5098 | 1.7 | 2.1
101 | Yes | No | 04 | MED | OTHER RESPIRATORY DSYSTEM DIAGNOSES W CC | 0.9106 | 3.2 | 4.2
102 | Yes | No | 04 | MED | OTHER RESPIRATORY SYSTEM DIAGNOSES W/O CC | 0.5625 | 2.0 | 2.5
103 | No | No | PRE | SURG | HEART TRANSPLANT OR IMPLANT OF HEART ASSIST SYSTEM | 19.5988 | 22.2 | 35.1
104 | Yes | No | 05 | SURG | CARDIAC VALVE & OTH MAJOR CARDIOTHORACIC PROC W CARD CATH | 7.4447 | 12.8 | 15.1
105 | Yes | No | 05 | SURG | CARDIAC VALVE & OTH MAJOR CARDIOTHORACIC PROC W/O CARD CATH | 5.6619 | 8.4 | 10.2
106 | No | No | 05 | SURG | CORONARY BYPASS W PTCA | 5.9701 | 9.3 | 10.9
107 | Yes | No | 05 | SURG | NO LONGER VALID | 0.0000 | 0.0 | 0.0
108 | Yes | No | 05 | SURG | OTHER CARDIOTHORACIC PROCEDURES | 5.4207 | 8.8 | 10.9
109 | Yes | No | 05 | SURG | NO LONGER VALID | 0.0000 | 0.0 | 0.0
110 | No | No | 05 | SURG | MAJOR CARDIOVASCULAR PROCEDURES W CC | 3.6419 | 5.4 | 8.1
111 | No | No | 05 | SURG | MAJOR CARDIOVASCULAR PROCEDURES W/O CC | 2.2318 | 2.3 | 3.1
112 | No | No | 05 | SURG | NO LONGER VALID | 0.0000 | 0.0 | 0.0
113 | Yes | No | 05 | SURG | AMPUTATION FOR CIRC SYSTEM DISORDERS EXCEPT UPPER LIMB & TOE | 3.3828 | 10.8 | 13.7
114 | Yes | No | 05 | SURG | UPPER LIMB & TOE AMPUTATION FOR CIRC SYSTEM DISORDERS | 1.8874 | 6.6 | 8.7
115 | No | No | 05 | SURG | NO LONGER VALID | 0.0000 | 0.0 | 0.0
116 | No | No | 05 | SURG | NO LONGER VALID | 0.0000 | 0.0 | 0.0
117 | No | No | 05 | SURG | CARDIAC PACEMAKER REVISION EXCEPT DEVICE REPLACEMENT | 1.2528 | 2.6 | 4.3
118 | No | No | 05 | SURG | CARDIAC PACEMAKER DEVICE REPLACEMENT | 1.3882 | 2.0 | 3.0
119 | No | No | 05 | SURG | VEIN LIGATION & STRIPPING | 1.4787 | 3.3 | 5.4
120 | Yes | No | 05 | SURG | OTHER CIRCULATORY SYSTEM O.R. PROCEDURES | 2.3109 | 6.0 | 9.2
121 | Yes | No | 05 | MED | CIRCULATORY DISORDERS W AMI & MAJOR COMP, DISCHARGED ALIVE | 1.6883 | 5.2 | 6.5
122 | No | No | 05 | MED | CIRCULATORY DISORDERS W AMI W/O MAJOR COMP, DISCHARGED ALIVE | 0.9802 | 2.7 | 3.4
123 | No | No | 05 | MED | CIRCULATORY DISORDERS W AMI, EXPIRED | 1.6053 | 2.9 | 4.7
124 | No | No | 05 | MED | CIRCULATORY DISORDERS EXCEPT AMI, W CARD CATH & COMPLEX DIAG | 1.1670 | 3.3 | 4.4
125 | No | No | 05 | MED | CIRCULATORY DISORDERS EXCEPT AMI, W CARD CATH W/O COMPLEX DIAG | 0.7862 | 2.1 | 2.7
126 | Yes | No | 05 | MED | ACUTE & SUBACUTE ENDOCARDITIS | 2.5526 | 9.0 | 11.3
127 | Yes | No | 05 | MED | HEART FAILURE & SHOCK | 1.0635 | 4.1 | 5.1
128 | No | No | 05 | MED | DEEP VEIN THROMBOPHLEBITIS | 0.8850 | 4.4 | 5.2
129 | No | No | 05 | MED | CARDIAC ARREST, UNEXPLAINED | 1.1301 | 1.6 | 2.5
130 | Yes | No | 05 | MED | PERIPHERAL VASCULAR DISORDERS W CC | 1.0637 | 4.3 | 5.5
131 | Yes | No | 05 | MED | PERIPHERAL VASCULAR DISORDERS W/O CC | 0.6813 | 3.1 | 3.7
132 | No | No | 05 | MED | ATHEROSCLEROSIS W CC | 0.6482 | 2.2 | 2.8
133 | No | No | 05 | MED | ATHEROSCLEROSIS W/O CC | 0.5237 | 1.8 | 2.1
134 | No | No | 05 | MED | HYPERTENSION | 0.6464 | 2.5 | 3.1
135 | No | No | 05 | MED | CARDIAC CONGENITAL & VALVULAR DISORDERS AGE >17 W CC | 0.9122 | 3.3 | 4.3
136 | No | No | 05 | MED | CARDIAC CONGENITAL & VALVULAR DISORDERS AGE >17 W/O CC | 0.5684 | 2.1 | 2.7
137 | No | No | 05 | MED* | CARDIAC CONGENITAL & VALVULAR DISORDERS AGE 0-17 | 0.9122 | * | *
138 | No | No | 05 | MED | CARDIAC ARRHYTHMIA & CONDUCTION DISORDERS W CC | 0.8504 | 3.0 | 3.9
139 | No | No | 05 | MED | CARDIAC ARRHYTHMIA & CONDUCTION DISORDERS W/O CC | 0.5221 | 2.0 | 2.4
140 | No | No | 05 | MED | ANGINA PECTORIS | 0.5846 | 1.9 | 2.4
141 | No | No | 05 | MED | SYNCOPE & COLLAPSE W CC | 0.7009 | 2.7 | 3.4
142 | No | No | 05 | MED | SYNCOPE & COLLAPSE W/O CC | 0.5312 | 2.1 | 2.5
143 | No | No | 05 | MED | CHEST PAIN | 0.5137 | 1.7 | 2.1
144 | Yes | No | 05 | MED | OTHER CIRCULATORY SYSTEM DIAGNOSES W CC | 1.3781 | 4.2 | 5.9
145 | Yes | No | 05 | MED | OTHER CIRCULATORY SYSTEM DIAGNOSES W/O CC | 0.5993 | 2.0 | 2.5
146 | Yes | No | 06 | SURG | RECTAL RESECTION W CC | 2.8001 | 8.4 | 9.9
147 | Yes | No | 06 | SURG | RECTAL RESECTION W/O CC | 1.5698 | 4.9 | 5.6
148 | Yes | No | 06 | SURG | MAJOR SMALL & LARGE BOWEL PROCEDURES W CC | 3.5831 | 9.9 | 12.1
149 | Yes | No | 06 | SURG | MAJOR SMALL & LARGE BOWEL PROCEDURES W/O CC | 1.5441 | 5.1 | 5.7
150 | Yes | No | 06 | SURG | PERITONEAL ADHESIOLYSIS W CC | 2.9172 | 8.7 | 10.8
151 | Yes | No | 06 | SURG | PERITONEAL ADHESIOLYSIS W/O CC | 1.3530 | 4.0 | 5.0
152 | No | No | 06 | SURG | MINOR SMALL & LARGE BOWEL PROCEDURES W CC | 2.0074 | 6.5 | 7.9
153 | No | No | 06 | SURG | MINOR SMALL & LARGE BOWEL PROCEDURES W/O CC | 1.1984 | 4.4 | 4.9
154 | Yes | No | 06 | SURG | STOMACH, ESOPHAGEAL & DUODENAL PROCEDURES AGE >17 W CC | 4.2032 | 9.7 | 13.2
155 | Yes | No | 06 | SURG | STOMACH, ESOPHAGEAL & DUODENAL PROCEDURES AGE >17 W/O CC | 1.3089 | 3.0 | 4.0
156 | No | No | 06 | SURG | STOMACH, ESOPHAGEAL & DUODENAL PROCEDURES AGE 0-17 | 1.3089 | 8.9 | 9.3
157 | Yes | No | 06 | SURG | ANAL & STOMAL PROCEDURES W CC | 1.4076 | 4.2 | 5.8
158 | Yes | No | 06 | SURG | ANAL & STOMAL PROCEDURES W/O CC | 0.7114 | 2.1 | 2.6
159 | No | No | 06 | SURG | HERNIA PROCEDURES EXCEPT INGUINAL & FEMORAL AGE >17 W CC | 1.4745 | 3.7 | 5.1
160 | No | No | 06 | SURG | HERNIA PROCEDURES EXCEPT INGUINAL & FEMORAL AGE >17 W/O CC | 0.8749 | 2.2 | 2.7
161 | No | No | 06 | SURG | INGUINAL & FEMORAL HERNIA PROCEDURES AGE >17 W CC | 1.2461 | 3.2 | 4.5
162 | No | No | 06 | SURG | INGUINAL & FEMORAL HERNIA PROCEDURES AGE >17 W/O CC | 0.6982 | 1.7 | 2.1
163 | No | No | 06 | SURG* | HERNIA PROCEDURES AGE 0-17 | 0.6982 | 2.3 | 2.8
164 | No | No | 06 | SURG | APPENDECTOMY W COMPLICATED PRINCIPAL DIAG W CC | 2.2048 | 6.4 | 7.7
165 | No | No | 06 | SURG | APPENDECTOMY W COMPLICATED PRINCIPAL DIAG W/O CC | 1.1907 | 3.4 | 4.0
166 | No | No | 06 | SURG | APPENDECTOMY W/O COMPLICATED PRINCIPAL DIAG W CC | 1.3900 | 3.2 | 4.3
167 | No | No | 06 | SURG | APPENDECTOMY W/O COMPLICATED PRINCIPAL DIAG W/O CC | 0.8536 | 1.8 | 2.1
168 | No | No | 03 | SURG | MOUTH PROCEDURES W CC | 1.3278 | 3.4 | 4.9
169 | No | No | 03 | SURG | MOUTH PROCEDURES W/O CC | 0.7643 | 1.9 | 2.4
170 | Yes | No | 06 | SURG | OTHER DIGESTIVE SYSTEM O.R. PROCEDURES W CC | 2.9351 | 7.8 | 10.9
171 | Yes | No | 06 | SURG | OTHER DIGESTIVE SYSTEM O.R. PROCEDURES W/O CC | 1.2434 | 3.1 | 4.2
172 | Yes | No | 06 | MED | DIGESTIVE MALIGNANCY W CC | 1.4585 | 5.1 | 6.9
173 | Yes | No | 06 | MED | DIGESTIVE MALIGNANCY W/O CC | 0.7562 | 2.7 | 3.5
174 | No | No | 06 | MED | G.I. HEMORRHAGE W CC | 1.1360 | 3.8 | 4.7
175 | No | No | 06 | MED | G.I. HEMORRHAGE W/O CC | 0.6295 | 2.4 | 2.9
176 | Yes | No | 06 | MED | COMPLICATED PEPTIC ULCER | 1.1757 | 4.0 | 5.1
177 | No | No | 06 | MED | UNCOMPLICATED PEPTIC ULCER W CC | 0.9595 | 3.6 | 4.4
178 | No | No | 06 | MED | UNCOMPLICATED PEPTIC ULCER W/O CC | 0.6833 | 2.6 | 3.1
179 | No | No | 06 | MED | INFLAMMATORY BOWEL DISEASE | 1.1460 | 4.5 | 5.8
180 | Yes | No | 06 | MED | G.I. OBSTRUCTION W CC | 1.0702 | 4.1 | 5.3
181 | Yes | No | 06 | MED | G.I. OBSTRUCTION W/O CC | 0.6400 | 2.8 | 3.3
182 | No | No | 06 | MED | ESOPHAGITIS, GASTROENT & MISC DIGEST DISORDERS AGE >17 W CC | 0.9046 | 3.4 | 4.5
183 | No | No | 06 | MED | ESOPHAGITIS, GASTROENT & MISC DIGEST DISORDERS AGE >17 W/O CC | 0.6078 | 2.4 | 2.9
184 | No | No | 06 | MED | ESOPHAGITIS, GASTROENT & MISC DIGEST DISORDERS AGE 0-17 | 0.8504 | 2.8 | 4.3
185 | No | No | 03 | MED | DENTAL & ORAL DIS EXCEPT EXTRACTIONS & RESTORATIONS, AGE >17 | 0.9381 | 3.3 | 4.5
186 | No | No | 03 | MED* | DENTAL & ORAL DIS EXCEPT EXTRACTIONS & RESTORATIONS, AGE 0-17 | 0.9381 | 2.6 | 3.1
187 | No | No | 03 | MED | DENTAL EXTRACTIONS & RESTORATIONS | 0.8880 | 3.1 | 4.2
188 | Yes | No | 06 | MED | OTHER DIGESTIVE SYSTEM DIAGNOSES AGE >17 W CC | 1.1808 | 4.1 | 5.5
189 | Yes | No | 06 | MED | OTHER DIGESTIVE SYSTEM DIAGNOSES AGE >17 W/O CC | 0.6314 | 2.4 | 3.1
190 | No | No | 06 | MED | OTHER DIGESTIVE SYSTEM DIAGNOSES AGE 0-17 | 1.0119 | 3.5 | 4.9
191 | Yes | No | 07 | SURG | PANCREAS, LIVER & SHUNT PROCEDURES W CC | 3.9647 | 8.8 | 12.5
192 | Yes | No | 07 | SURG | PANCREAS, LIVER & SHUNT PROCEDURES W/O CC | 1.7088 | 4.2 | 5.5
193 | No | No | 07 | SURG | BILIARY TRACT PROC EXCEPT ONLY CHOLECYST W OR W/O C.D.E. W CC | 3.4693 | 10.1 | 12.6
194 | No | No | 07 | SURG | BILIARY TRACT PROC EXCEPT ONLY CHOLECYST W OR W/O C.D.E. W/O CC | 1.6583 | 5.4 | 6.4
195 | No | No | 07 | SURG | CHOLECYSTECTOMY W C.D.E. W CC | 3.0330 | 8.8 | 10.6
196 | No | No | 07 | SURG | CHOLECYSTECTOMY W C.D.E. W/O CC | 1.5984 | 4.5 | 5.3
197 | Yes | No | 07 | SURG | CHOLECYSTECTOMY EXCEPT BY LAPAROSCOPE W/O C.D.E. W CC | 2.6196 | 7.4 | 9.1
198 | Yes | No | 07 | SURG | CHOLECYSTECTOMY EXCEPT BY LAPAROSCOPE W/O C.D.E. W/O CC | 1.2463 | 3.7 | 4.3
199 | No | No | 07 | SURG | HEPATOBILIARY DIAGNOSTIC PROCEDURE FOR MALIGNANCY | 2.3139 | 6.4 | 9.0
200 | No | No | 07 | SURG | HEPATOBILIARY DIAGNOSTIC PROCEDURE FOR NON-MALIGNANCY | 3.0580 | 6.5 | 10.4
201 | No | No | 07 | SURG | OTHER HEPATOBILIARY OR PANCREAS O.R. PROCEDURES | 3.6519 | 10.0 | 13.6
202 | No | No | 07 | MED | CIRRHOSIS & ALCOHOLIC HEPATITIS | 1.4205 | 4.6 | 6.2
203 | No | No | 07 | MED | MALIGNANCY OF HEPATOBILIARY SYSTEM OR PANCREAS | 1.3745 | 4.8 | 6.5
204 | No | No | 07 | MED | DISORDERS OF PANCREAS EXCEPT MALIGNANCY | 1.1749 | 4.1 | 5.4
205 | Yes | No | 07 | MED | DISORDERS OF LIVER EXCEPT MALIG,CIRR,ALC HEPA W CC | 1.2942 | 4.4 | 5.9
206 | Yes | No | 07 | MED | DISORDERS OF LIVER EXCEPT MALIG,CIRR,ALC HEPA W/O CC | 0.7720 | 3.0 | 3.8
207 | No | No | 07 | MED | DISORDERS OF THE BILIARY TRACT W CC | 1.2145 | 4.1 | 5.3
208 | No | No | 07 | MED | DISORDERS OF THE BILIARY TRACT W/O CC | 0.6986 | 2.4 | 3.0
209 | No | No | 08 | SURG | NO LONGER VALID | 0.0000 | 0.0 | 0.0
210 | Yes | Yes | 08 | SURG | HIP & FEMUR PROCEDURES EXCEPT MAJOR JOINT AGE >17 W CC | 2.0150 | 6.0 | 6.8
211 | Yes | Yes | 08 | SURG | HIP & FEMUR PROCEDURES EXCEPT MAJOR JOINT AGE >17 W/O CC | 1.3653 | 4.3 | 4.6
212 | No | No | 08 | SURG | HIP & FEMUR PROCEDURES EXCEPT MAJOR JOINT AGE 0-17 | 0.9730 | 2.2 | 2.5
213 | Yes | No | 08 | SURG | AMPUTATION FOR MUSCULOSKELETAL SYSTEM & CONN TISSUE DISORDERS | 2.2463 | 7.1 | 9.5
214 | No | No | 08 | SURG | NO LONGER VALID | 0.0000 | 0.0 | 0.0
215 | No | No | 08 | SURG | NO LONGER VALID | 0.0000 | 0.0 | 0.0
216 | Yes | No | 08 | SURG | BIOPSIES OF MUSCULOSKELETAL SYSTEM & CONNECTIVE TISSUE | 1.7169 | 3.1 | 5.4
217 | Yes | No | 08 | SURG | WND DEBRID & SKN GRFT EXCEPT HAND,FOR MUSCSKELET & CONN TISS DIS | 3.1361 | 9.0 | 12.8
218 | Yes | No | 08 | SURG | LOWER EXTREM & HUMER PROC EXCEPT HIP,FOOT,FEMUR AGE >17 W CC | 1.7105 | 4.4 | 5.5
219 | Yes | No | 08 | SURG | LOWER EXTREM & HUMER PROC EXCEPT HIP,FOOT,FEMUR AGE >17 W/O CC | 1.1071 | 2.7 | 3.2
220 | No | No | 08 | SURG* | LOWER EXTREM & HUMER PROC EXCEPT HIP,FOOT,FEMUR AGE 0-17 | 1.1071 | 2.6 | 4.0
221 | No | No | 08 | SURG | NO LONGER VALID | 0.0000 | 0.0 | 0.0
222 | No | No | 08 | SURG | NO LONGER VALID | 0.0000 | 0.0 | 0.0
223 | No | No | 08 | SURG | MAJOR SHOULDER/ELBOW PROC, OR OTHER UPPER EXTREMITY PROC W CC | 1.1303 | 2.4 | 3.3
224 | No | No | 08 | SURG | SHOULDER,ELBOW OR FOREARM PROC,EXC MAJOR JOINT PROC, W/O CC | 0.8067 | 1.6 | 1.9
225 | Yes | No | 08 | SURG | FOOT PROCEDURES | 1.3235 | 3.8 | 5.4
226 | Yes | No | 08 | SURG | SOFT TISSUE PROCEDURES W CC | 1.6783 | 4.6 | 6.5
227 | Yes | No | 08 | SURG | SOFT TISSUE PROCEDURES W/O CC | 0.8719 | 2.1 | 2.6
228 | No | No | 08 | SURG | MAJOR THUMB OR JOINT PROC,OR OTH HAND OR WRIST PROC W CC | 1.1877 | 2.9 | 4.2
229 | No | No | 08 | SURG | HAND OR WRIST PROC, EXCEPT MAJOR JOINT PROC, W/O CC | 0.7617 | 2.0 | 2.5
230 | No | No | 08 | SURG | LOCAL EXCISION & REMOVAL OF INT FIX DEVICES OF HIP & FEMUR | 1.4347 | 3.6 | 5.4
231 | No | No | 08 | SURG | NO LONGER VALID | 0.0000 | 0.0 | 0.0
232 | No | No | 08 | SURG | ARTHROSCOPY | 0.9804 | 1.9 | 2.7
233 | Yes | Yes | 08 | SURG | OTHER MUSCULOSKELET SYS & CONN TISS O.R. PROC W CC | 1.8831 | 4.4 | 6.4
234 | Yes | Yes | 08 | SURG | OTHER MUSCULOSKELET SYS & CONN TISS O.R. PROC W/O CC | 1.1441 | 1.9 | 2.7
235 | Yes | No | 08 | MED | FRACTURES OF FEMUR | 0.9366 | 3.8 | 4.9
236 | Yes | No | 08 | MED | FRACTURES OF HIP & PELVIS | 0.8791 | 3.8 | 4.5
237 | No | No | 08 | MED | SPRAINS, STRAINS, & DISLOCATIONS OF HIP, PELVIS & THIGH | 0.7345 | 3.0 | 3.8
238 | Yes | No | 08 | MED | OSTEOMYELITIS | 1.5466 | 6.5 | 8.4
239 | Yes | No | 08 | MED | PATHOLOGICAL FRACTURES & MUSCULOSKELETAL & CONN TISS MALIGNANCY | 1.2001 | 4.9 | 6.2
240 | Yes | No | 08 | MED | CONNECTIVE TISSUE DISORDERS W CC | 1.4523 | 4.9 | 6.5
241 | Yes | No | 08 | MED | CONNECTIVE TISSUE DISORDERS W/O CC | 0.7172 | 3.0 | 3.6
242 | No | No | 08 | MED | SEPTIC ARTHRITIS | 1.2350 | 5.1 | 6.5
243 | No | No | 08 | MED | MEDICAL BACK PROBLEMS | 0.8680 | 3.6 | 4.5
244 | Yes | No | 08 | MED | BONE DISEASES & SPECIFIC ARTHROPATHIES W CC | 0.8186 | 3.6 | 4.5
245 | Yes | No | 08 | MED | BONE DISEASES & SPECIFIC ARTHROPATHIES W/O CC | 0.5581 | 2.5 | 3.1
246 | No | No | 08 | MED | NON-SPECIFIC ARTHROPATHIES | 0.6742 | 2.8 | 3.6
247 | No | No | 08 | MED | SIGNS & SYMPTOMS OF MUSCULOSKELETAL SYSTEM & CONN TISSUE | 0.6852 | 2.6 | 3.3
248 | No | No | 08 | MED | TENDONITIS, MYOSITIS & BURSITIS | 0.9368 | 3.8 | 4.8
249 | No | No | 08 | MED | AFTERCARE, MUSCULOSKELETAL SYSTEM & CONNECTIVE TISSUE | 0.8157 | 2.8 | 4.0
250 | Yes | No | 08 | MED | FX, SPRN, STRN & DISL OF FOREARM, HAND, FOOT AGE >17 W CC | 0.7774 | 3.2 | 3.9
251 | Yes | No | 08 | MED | FX, SPRN, STRN & DISL OF FOREARM, HAND, FOOT AGE >17 W/O CC | 0.5561 | 2.3 | 2.8
252 | No | No | 08 | MED* | FX, SPRN, STRN & DISL OF FOREARM, HAND, FOOT AGE 0-17 | 0.5561 | * | *
253 | Yes | No | 08 | MED | FX, SPRN, STRN & DISL OF DUPARM, LOWLEG EX FOOT AGE >17 W CC | 0.9049 | 3.8 | 4.6
254 | Yes | No | 08 | MED | FX, SPRN, STRN & DISL OF UPARM, LOWLEG EX FOOT AGE >17 W/O CC | 0.5741 | 2.6 | 3.1
255 | No | No | 08 | MED* | FX, SPRN, STRN & DISL OF UPARM, LOWLEG EX FOOT AGE 0-17 | 0.5741 | * | *
256 | Yes | No | 08 | MED | OTHER MUSCULOSKELETAL SYSTEM & CONNECTIVE TISSUE DIAGNOSES | 0.9598 | 3.9 | 5.1
257 | No | No | 09 | SURG | TOTAL MASTECTOMY FOR MALIGNANCY W CC | 0.9016 | 2.0 | 2.6
258 | No | No | 09 | SURG | TOTAL MASTECTOMY FOR MALIGNANCY W/O CC | 0.7045 | 1.5 | 1.7
259 | No | No | 09 | SURG | SUBTOTAL MASTECTOMY FOR MALIGNANCY W CC | 0.9445 | 1.8 | 2.8
260 | No | No | 09 | SURG | SUBTOTAL MASTECTOMY FOR MALIGNANCY W/O CC | 0.6437 | 1.2 | 1.4
261 | No | No | 09 | SURG | BREAST PROC FOR NON-MALIGNANCY EXCEPT BIOPSY & LOCAL EXCISION | 0.8875 | 1.6 | 2.2
262 | No | No | 09 | SURG | BREAST BIOPSY & LOCAL EXCISION FOR NON-MALIGNANCY | 1.0346 | 3.2 | 4.6
263 | Yes | No | 09 | SURG | SKIN GRAFT &/OR DEBRID FOR SKN ULCER OR CELLULITIS W CC | 2.2702 | 8.3 | 11.1
264 | Yes | No | 09 | SURG | SKIN GRAFT &/OR DEBRID FOR SKN ULCER OR CELLULITIS W/O CC | 1.2644 | 4.9 | 6.4
265 | Yes | No | 09 | SURG | SKIN GRAFT &/OR DEBRID EXCEPT FOR SKIN ULCER OR CELLULITIS W CC | 1.6907 | 4.2 | 6.7
266 | Yes | No | 09 | SURG | SKIN GRAFT &/OR DEBRID EXCEPT FOR SKIN ULCER OR CELLULITIS W/O CC | 0.9200 | 2.2 | 3.0
267 | No | No | 09 | SURG | PERIANAL & PILONIDAL PROCEDURES | 0.9870 | 2.8 | 4.2
268 | No | No | 09 | SURG | SKIN, SUBCUTANEOUS TISSUE & BREAST PLASTIC PROCEDURES | 1.2352 | 2.4 | 3.7
269 | Yes | No | 09 | SURG | OTHER SKIN, SUBCUT TISS & BREAST PROC W CC | 1.8802 | 6.0 | 8.2
270 | Yes | No | 09 | SURG | OTHER SKIN, SUBCUT TISS & BREAST PROC W/O CC | 0.8949 | 2.7 | 3.6
271 | Yes | No | 09 | MED | SKIN ULCERS | 1.2353 | 5.6 | 7.1
272 | Yes | No | 09 | MED | MAJOR SKIN DISORDERS W CC | 1.1364 | 4.5 | 5.9
273 | Yes | No | 09 | MED | MAJOR SKIN DISORDERS W/O CC | 0.6838 | 2.9 | 3.7
274 | No | No | 09 | MED | MALIGNANT BREAST DISORDERS W CC | 1.2180 | 4.5 | 6.2
275 | No | No | 09 | MED | MALIGNANT BREAST DISORDERS W/O CC | 0.6697 | 2.3 | 3.3
276 | No | No | 09 | MED | NON-MALIGANT BREAST DISORDERS | 0.8441 | 3.6 | 4.6
277 | Yes | No | 09 | MED | CELLULITIS AGE >17 W CC | 1.0015 | 4.5 | 5.5
278 | Yes | No | 09 | MED | CELLULITIS AGE >17 W/O CC | 0.6817 | 3.4 | 4.0
279 | No | No | 09 | MED* | CELLULITIS AGE 0-17 | 0.6817 | 3.9 | 4.2
280 | Yes | No | 09 | MED | TRAUMA TO THE SKIN, SUBCUT TISS & BREAST AGE >17 W CC | 0.8212 | 3.2 | 4.1
281 | Yes | No | 09 | MED | TRAUMA TO THE SKIN, SUBCUT TISS & BREAST AGE >17 W/O CC | 0.5678 | 2.3 | 2.8
282 | No | No | 09 | MED* | TRAUMA TO THE SKIN, SUBCUT TISS & BREAST AGE 0-17 | 0.5678 | * | *
283 | Yes | No | 09 | MED | MINOR SKIN DISORDERS W CC | 0.8525 | 3.5 | 4.6
284 | Yes | No | 09 | MED | MINOR SKIN DISORDERS W/O CC | 0.5295 | 2.3 | 2.9
285 | Yes | No | 10 | SURG | AMPUTAT OF LOWER LIMB FOR ENDOCRINE, NUTRIT, & METABOL DISORDERS | 2.3169 | 8.1 | 10.3
286 | No | No | 10 | SURG | ADRENAL & PITUITARY PROCEDURES | 1.9369 | 3.8 | 5.2
287 | Yes | No | 10 | SURG | SKIN GRAFTS & WOUND DEBRID FOR ENDOC, NUTRIT & METAB DISORDERS | 2.0354 | 7.6 | 10.0
288 | No | No | 10 | SURG | O.R. PROCEDURES FOR OBESITY | 1.7332 | 2.9 | 3.7
289 | No | No | 10 | SURG | PARATHYROID PROCEDURES | 0.8548 | 1.6 | 2.4
290 | No | No | 10 | SURG | THYROID PROCEDURES | 0.8454 | 1.5 | 2.0
291 | No | No | 10 | SURG | THYROGLOSSAL PROCEDURES | 0.5867 | 1.3 | 1.5
292 | Yes | No | 10 | SURG | OTHER ENDOCRINE, NUTRIT & METAB O.R. PROC W CC | 2.6043 | 7.3 | 10.2
293 | Yes | No | 10 | SURG | OTHER ENDOCRINE, NUTRIT & METAB O.R. PROC W/O CC | 1.3605 | 3.4 | 4.7
294 | Yes | No | 10 | MED | DIABETES AGE >35 | 0.8642 | 3.3 | 4.3
295 | No | No | 10 | MED | DIABETES AGE 0-35 | 0.9301 | 2.8 | 3.7
296 | Yes | No | 10 | MED | NUTRITIONAL & MISC METABOLIC DISORDERS AGE >17 W CC | 0.9041 | 3.6 | 4.7
297 | Yes | No | 10 | MED | NUTRITIONAL & MISC METABOLIC DISORDERS AGE >17 W/O CC | 0.5589 | 2.5 | 3.0
298 | No | No | 10 | MED | NUTRITIONAL & MISC METABOLIC DISORDERS AGE 0-17 | 0.7622 | 2.5 | 3.6
299 | No | No | 10 | MED | INBORN ERRORS OF METABOLISM | 1.1353 | 3.8 | 5.1
300 | Yes | No | 10 | MED | ENDOCRINE DISORDERS W CC | 1.1666 | 4.6 | 5.9
301 | Yes | No | 10 | MED | ENDOCRINE DISORDERS W/O CC | 0.6427 | 2.7 | 3.4
302 | No | No | 11 | SURG | KIDNEY TRANSPLANT | 5.5466 | 6.8 | 8.0
303 | No | No | 11 | SURG | KIDNEY, URETER & MAJOR BLADDER PROCEDURES FOR NEOPLASM | 2.3084 | 5.7 | 7.3
304 | Yes | No | 11 | SURG | KIDNEY, URETER & MAJOR BLADDER PROC FOR NON-NEOPL W CC | 2.3631 | 6.0 | 8.5
305 | Yes | No | 11 | SURG | KIDNEY, URETER & MAJOR BLADDER PROC FOR NON-NEOPL W/O CC | 1.1498 | 2.5 | 3.1
306 | No | No | 11 | SURG | PROSTATECTOMY W CC | 1.3307 | 3.6 | 5.6
307 | No | No | 11 | SURG | PROSTATECTOMY W/O CC | 0.6569 | 1.7 | 2.0
308 | No | No | 11 | SURG | MINOR BLADDER PROCEDURES W CC | 1.7066 | 3.9 | 6.2
309 | No | No | 11 | SURG | MINOR BLADDER PROCEDURES W/O CC | 0.9014 | 1.6 | 2.0
310 | No | No | 11 | SURG | TRANSURETHRAL PROCEDURES W CC | 1.1913 | 3.1 | 4.5
311 | No | No | 11 | SURG | TRANSURETHRAL PROCEDURES W/O CC | 0.6397 | 1.5 | 1.9
312 | No | No | 11 | SURG | URETHRAL PROCEDURES, AGE >17 W CC | 1.1947 | 3.3 | 4.9
313 | No | No | 11 | SURG | URETHRAL PROCEDURES, AGE >17 W/O CC | 0.7523 | 1.8 | 2.4
314 | No | No | 11 | SURG* | URETHRAL PROCEDURES, AGE 0-17 | 0.7523 | 29.4 | 89.0
315 | No | No | 11 | SURG | OTHER KIDNEY & URINARY TRACT O.R. PROCEDURES | 1.9482 | 3.7 | 6.7
316 | Yes | No | 11 | MED | RENAL FAILURE | 1.3481 | 4.8 | 6.3
317 | No | No | 11 | MED | ADMIT FOR RENAL DIALYSIS | 0.8454 | 2.4 | 3.5
318 | No | No | 11 | MED | KIDNEY & URINARY TRACT NEOPLASMS W CC | 1.2571 | 4.4 | 6.0
319 | No | No | 11 | MED | KIDNEY & URINARY TRACT NEOPLASMS W/O CC | 0.6169 | 1.9 | 2.6
320 | Yes | No | 11 | MED | KIDNEY & URINARY TRACT INFECTIONS AGE >17 W CC | 0.9538 | 4.1 | 5.1
321 | Yes | No | 11 | MED | KIDNEY & URINARY TRACT INFECTIONS AGE >17 W/O CC | 0.6512 | 3.0 | 3.6
322 | No | No | 11 | MED | KIDNEY & URINARY TRACT INFECTIONS AGE 0-17 | 0.7212 | 3.1 | 3.6
323 | No | No | 11 | MED | URINARY STONES W CC, D&/OR ESW LITHOTRIPSY | 0.8239 | 2.3 | 3.1
324 | No | No | 11 | MED | URINARY STONES W/O CC | 0.5233 | 1.6 | 1.8
325 | No | No | 11 | MED | KIDNEY & URINARY TRACT SIGNS & SYMPTOMS AGE >17 W CC | 0.7334 | 2.9 | 3.7
326 | No | No | 11 | MED | KIDNEY & URINARY TRACT SIGNS & SYMPTOMS AGE >17 W/O CC | 0.4932 | 2.1 | 2.6
327 | No | No | 11 | MED | KIDNEY & URINARY TRACT SIGNS & SYMPTOMS AGE 0-17 | 0.3724 | 1.8 | 2.0
328 | No | No | 11 | MED | URETHRAL STRICTURE AGE >17 W CC | 0.7346 | 2.5 | 3.4
329 | No | No | 11 | MED | URETHRAL STRICTURE AGE >17 W/O CC | 0.4671 | 1.4 | 1.7
330 | No | No | 11 | MED* | URETHRAL STRICTURE AGE 0-17 | 0.4671 | * | *
331 | Yes | No | 11 | MED | OTHER KIDNEY & URINARY TRACT DIAGNOSES AGE >17 W CC | 1.1580 | 4.2 | 5.5
332 | Yes | No | 11 | MED | OTHER KIDNEY & URINARY TRACT DIAGNOSES AGE >17 W/O CC | 0.6602 | 2.4 | 3.1
333 | No | No | 11 | MED | OTHER KIDNEY & URINARY TRACT DIAGNOSES AGE 0-17 | 1.1833 | 3.7 | 5.4
334 | No | No | 12 | SURG | MAJOR MALE PELVIC PROCEDURES W CC | 1.4154 | 3.3 | 4.0
335 | No | No | 12 | SURG | MAJOR MALE PELVIC PROCEDURES W/O CC | 1.0701 | 2.2 | 2.5
336 | No | No | 12 | SURG | TRANSURETHRAL PROSTATECTOMY W CC | 0.8824 | 2.4 | 3.2
337 | No | No | 12 | SURG | TRANSURETHRAL PROSTATECTOMY W/O CC | 0.5989 | 1.6 | 1.8
338 | No | No | 12 | SURG | TESTES PROCEDURES, FOR MALIGNANCY | 1.4072 | 3.7 | 5.8
339 | No | No | 12 | SURG | TESTES PROCEDURES, NON-MALIGNANCY AGE >17 | 1.3418 | 3.3 | 5.2
340 | No | No | 12 | SURG* | TESTES PROCEDURES, NON-MALIGNANCY AGE 0-17 | 1.3418 | * | *
341 | No | No | 12 | SURG | PENIS PROCEDURES | 1.2527 | 1.9 | 3.2
342 | No | No | 12 | SURG | CIRCUMCISION AGE >17 | 0.8546 | 2.3 | 3.0
343 | No | No | 12 | SURG* | CIRCUMCISION AGE 0-17 | 0.8546 | * | *
344 | No | No | 12 | SURG | OTHER MALE REPRODUCTIVE SYSTEM O.R. PROCEDURES FOR MALIGNANCY | 1.1078 | 1.8 | 2.7
345 | No | No | 12 | SURG | OTHER MALE REPRODUCTIVE SYSTEM O.R. PROC EXCEPT FOR MALIGNANCY | 1.3524 | 3.4 | 5.4
346 | No | No | 12 | MED | MALIGNANCY, MALE REPRODUCTIVE SYSTEM, W CC | 1.1351 | 4.5 | 5.9
347 | No | No | 12 | MED | MALIGNANCY, MALE REPRODUCTIVE SYSTEM, W/O CC | 0.5734 | 2.0 | 2.7
348 | No | No | 12 | MED | BENIGN PROSTATIC HYPERTROPHY W CC | 0.7721 | 3.1 | 4.0
349 | No | No | 12 | MED | BENIGN PROSTATIC HYPERTROPHY W/O CC | 0.4942 | 2.1 | 2.6
350 | No | No | 12 | MED | INFLAMMATION OF THE MALE REPRODUCTIVE SYSTEM | 0.8552 | 3.6 | 4.5
351 | No | No | 12 | MED* | STERILIZATION, MALE | 0.8690 | * | *
352 | No | No | 12 | MED | OTHER MALE REPRODUCTIVE SYSTEM DIAGNOSES | 0.8690 | 3.0 | 4.2
353 | No | No | 13 | SURG | PELVIC EVISCERATION, DRADICAL HYSTERECTOMY & RADICAL VULVECTOMY | 1.7446 | 4.5 | 6.0
354 | No | No | 13 | SURG | UTERINE, ADNEXA PROC FOR NON-OVARIAN/ADNEXAL MALIG W CC | 1.5594 | 4.5 | 5.6
355 | No | No | 13 | SURG | UTERINE, ADNEXA PROC FOR NON-OVARIAN/ADNEXAL MALIG W/O CC | 0.9349 | 2.8 | 3.0
356 | No | No | 13 | SURG | FEMALE REPRODUCTIVE SYSTEM RECONSTRUCTIVE PROCEDURES | 0.7426 | 1.6 | 1.9
357 | No | No | 13 | SURG | UTERINE & ADNEXA PROC FOR OVARIAN OR ADNEXAL MALIGNANCY | 2.2785 | 6.4 | 8.0
358 | No | No | 13 | SURG | UTERINE & ADNEXA PROC FOR NON-MALIGNANCY W CC | 1.1816 | 3.1 | 3.9
359 | No | No | 13 | SURG | UTERINE & ADNEXA PROC FOR NON-MALIGNANCY W/O CC | 0.8258 | 2.1 | 2.3
360 | No | No | 13 | SURG | VAGINA, CERVIX & VULVA PROCEDURES | 0.8803 | 2.0 | 2.5
361 | No | No | 13 | SURG | LAPAROSCOPY & INCISIONAL TUBAL INTERRUPTION | 1.1046 | 2.1 | 3.0
362 | No | No | 13 | SURG* | ENDOSCOPIC TUBAL INTERRUPTION | 1.1046 | 1.0 | 1.0
363 | No | No | 13 | SURG | D&C, CONIZATION & RADIO-IMPLANT, FOR MALIGNANCY | 1.0198 | 2.8 | 4.1
364 | No | No | 13 | SURG | D&C, CONIZATION EXCEPT FOR MALIGNANCY | 0.9331 | 3.0 | 4.2
365 | No | No | 13 | SURG | OTHER FEMALE REPRODUCTIVE SYSTEM O.R. PROCEDURES | 2.0803 | 5.3 | 7.9
366 | No | No | 13 | MED | MALIGNANCY, FEMALE REPRODUCTIVE SYSTEM W CC | 1.2888 | 4.6 | 6.3
367 | No | No | 13 | MED | MALIGNANCY, FEMALE REPRODUCTIVE SYSTEM W/O CC | 0.5895 | 2.3 | 3.0
368 | No | No | 13 | MED | INFECTIONS, FEMALE REPRODUCTIVE SYSTEM | 1.2262 | 5.0 | 6.4
369 | No | No | 13 | MED | MENSTRUAL & OTHER FEMALE REPRODUCTIVE SYSTEM DISORDERS | 0.6696 | 2.5 | 3.3
370 | No | No | 14 | SURG | CESAREAN SECTION W CC | 1.1080 | 4.0 | 5.0
371 | No | No | 14 | SURG | CESAREAN SECTION W/O CC | 0.7664 | 3.1 | 3.4
372 | No | No | 14 | MED | VAGINAL DELIVERY W COMPLICATING DIAGNOSES | 0.7390 | 2.7 | 3.5
373 | No | No | 14 | MED | VAGINAL DELIVERY W/O COMPLICATING DIAGNOSES | 0.5276 | 2.1 | 2.2
374 | No | No | 14 | SURG | VAGINAL DELIVERY W STERILIZATION &/OR D&C | 0.7708 | 2.4 | 3.0
375 | No | No | 14 | SURG | VAGINAL DELIVERY W O.R. PROC EXCEPT STERIL &/OR D&C | 1.2156 | 4.0 | 6.2
376 | No | No | 14 | MED | POSTPARTUM & POST ABORTION DIAGNOSES W/O O.R. PROCEDURE | 0.7273 | 2.5 | 3.3
377 | No | No | 14 | SURG | POSTPARTUM & POST ABORTION DIAGNOSES W O.R. PROCEDURE | 1.5307 | 3.1 | 4.4
378 | No | No | 14 | MED | ECTOPIC PREGNANCY | 0.7782 | 1.8 | 2.2
379 | No | No | 14 | MED | THREATENED ABORTION | 0.5628 | 2.2 | 3.2
380 | No | No | 14 | MED | ABORTION W/O D&C | 0.4872 | 1.5 | 2.0
381 | No | No | 14 | SURG | ABORTION W D&C, ASPIRATION CURETTAGE OR HYSTEROTOMY | 0.7239 | 1.7 | 2.4
382 | No | No | 14 | MED | FALSE LABOR | 0.2783 | 1.3 | 1.5
383 | No | No | 14 | MED | OTHER ANTEPARTUM DIAGNOSES W MEDICAL COMPLICATIONS | 0.6683 | 2.6 | 3.7
384 | No | No | 14 | MED | OTHER ANTEPARTUM DIAGNOSES W/O MEDICAL COMPLICATIONS | 0.4601 | 1.7 | 2.5
385 | No | No | 15 | MED* | NEONATES, DIED OR TRANSFERRED TO ANOTHER ACUTE CARE FACILITY | 1.4095 | * | *
386 | No | No | 15 | MED* | EXTREME IMMATURITY OR RESPIRATORY DISTRESS SYNDROME, NEONATE | 4.648 | * | *
387 | No | No | 15 | MED* | PREMATURITY W MAJOR PROBLEMS | 3.1744 | * | *
388 | No | No | 15 | MED* | PREMATURITY W/O MAJOR PROBLEMS | 1.9153 | * | *
389 | No | No | 15 | MED* | FULL TERM NEONATE W MAJOR PROBLEMS | 3.2608 | 1.8 | 2.0
390 | No | No | 15 | MED* | NEONATE W OTHER SIGNIFICANT PROBLEMS | 1.1541 | * | *
391 | No | No | 15 | MED* | NORMAL NEWBORN | 0.1562 | * | *
392 | No | No | 16 | SURG | SPLENECTOMY AGE >17 | 3.1188 | 6.3 | 8.8
393 | No | No | 16 | SURG* | SPLENECTOMY AGE 0--7 | 3.1188 | * | *
394 | No | No | 16 | SURG | OTHER O.R. PROCEDURES OF THE BLOOD AND BLOOD FORMING ORGANS | 1.8725 | 4.4 | 7.3
395 | Yes | No | 16 | MED | RED BLOOD CELL DISORDERS AGE >17 | 0.9413 | 3.2 | 4.3
396 | No | No | 16 | MED | RED BLOOD CELL DISORDERS AGE 0-17 | 0.6888 | 2.5 | 3.0
397 | No | No | 16 | MED | COAGULATION DISORDERS | 1.3611 | 3.7 | 5.1
398 | No | No | 16 | MED | RETICULOENDOTHELIAL & IMMUNITY DISORDERS W CC | 1.2912 | 4.4 | 5.7
399 | No | No | 16 | MED | RETICULOENDOTHELIAL & IMMUNITY DISORDERS W/O CC | 0.7064 | 2.7 | 3.4
400 | No | No | 17 | SURG | NO LONGER VALID | 0.0000 | 0.0 | 0.0
401 | Yes | No | 17 | SURG | LYMPHOMA & NON-ACUTE LEUKEMIA W OTHER O.R. PROC W CC | 2.8703 | 8.1 | 11.2
402 | Yes | No | 17 | SURG | LYMPHOMA & NON-ACUTE LEUKEMIA W OTHER O.R. PROC W/O CC | 1.1380 | 2.8 | 3.9
403 | Yes | No | 17 | MED | LYMPHOMA & NON-ACUTE LEUKEMIA W CC | 1.8986 | 5.7 | 8.0
404 | Yes | No | 17 | MED | LYMPHOMA & NON-ACUTE LEUKEMIA W/O CC | 0.9137 | 3.0 | 4.0
405 | No | No | 17 | MED* | ACUTE LEUKEMIA W/O MAJOR O.R. PROCEDURE AGE 0-17 | 3.4703 | * | *
406 | No | No | 17 | SURG | MYELOPROLIF DISORD OR POORLY DIFF NEOPL W MAJ O.R.PROC W CC | 2.7839 | 6.7 | 9.4
407 | No | No | 17 | SURG | MYELOPROLIF DISORD OR POORLY DIFF NEOPL W MAJ O.R.PROC W/O CC | 1.1617 | 2.9 | 3.5
408 | No | No | 17 | SURG | MYELOPROLIF DISORD OR POORLY DIFF NEOPL W OTHER O.R.PROC | 2.1388 | 5.1 | 8.2
409 | No | No | 17 | MED | RADIOTHERAPY | 1.2059 | 4.5 | 6.0
410 | No | No | 17 | MED | CHEMOTHERAPY W/O ACUTE LEUKEMIA AS SECONDARY DIAGNOSIS | 1.0178 | 2.9 | 3.8
411 | No | No | 17 | MED* | HISTORY OF MALIGNANCY W/O ENDOSCOPY | 0.6205 | 1.6 | 2.0
412 | No | No | 17 | MED* | HISTORY OF MALIGNANCY W ENDOSCOPY | 0.6205 | 1.4 | 1.5
413 | No | No | 17 | MED | OTHER MYELOPROLIF DIS OR POORLY DIFF NEOPL DIAG W CC | 1.4097 | 5.1 | 6.8
414 | No | No | 17 | MED | OTHER MYELOPROLIF DIS OR POORLY DIFF NEOPL DIAG W/O CC | 0.8055 | 3.0 | 4.0
415 | Yes | No | 18 | SURG | O.R. PROCEDURE FOR INFECTIOUS & PARASITIC DISEASES | 4.1393 | 11.0 | 14.8
416 | Yes | No | 18 | MED | SEPTICEMIA AGE >17 | 1.8340 | 5.7 | 7.6
417 | No | No | 18 | MED | SEPTICEMIA AGE 0-17 | 1.9140 | 5.2 | 6.5
418 | Yes | No | 18 | MED | POSTOPERATIVE & POST-TRAUMATIC INFECTIONS | 1.1938 | 4.7 | 6.1
419 | No | No | 18 | MED | FEVER OF UNKNOWN ORIGIN AGE >17 W CC | 0.8951 | 3.4 | 4.4
420 | No | No | 18 | MED | FEVER OF UNKNOWN ORIGIN AGE >17 W/O CC | 0.6263 | 2.6 | 3.2
421 | No | No | 18 | MED | VIRAL ILLNESS AGE >17 | 0.8210 | 3.1 | 4.0
422 | No | No | 18 | MED | VIRAL ILLNESS & FEVER OF UNKNOWN ORIGIN AGE 0-17 | 0.8240 | 2.6 | 3.7
423 | Yes | No | 18 | MED | OTHER INFECTIOUS & PARASITIC DISEASES DIAGNOSES | 1.9053 | 5.9 | 8.2
424 | No | No | 19 | SURG | O.R. PROCEDURE W PRINCIPAL DIAGNOSES OF MENTAL ILLNESS | 2.3978 | 7.4 | 11.4
425 | No | No | 19 | MED | ACUTE ADJUSTMENT REACTION & PSYCHOSOCIAL DYSFUNCTION | 0.7075 | 2.6 | 3.5
426 | No | No | 19 | MED | DEPRESSIVE NEUROSES | 0.7464 | 3.2 | 4.5
427 | No | No | 19 | MED | NEUROSES EXCEPT DEPRESSIVE | 0.8104 | 3.2 | 4.7
428 | No | No | 19 | MED | DISORDERS OF PERSONALITY & IMPULSE CONTROL | 1.1577 | 4.5 | 7.3
429 | Yes | No | 19 | MED | ORGANIC DISTURBANCES & MENTAL RETARDATION | 0.9614 | 4.4 | 5.8
430 | Yes | No | 19 | MED | PSYCHOSES | 1.2316 | 5.9 | 8.0
431 | No | No | 19 | MED | CHILDHOOD MENTAL DISORDERS | 1.0504 | 4.3 | 6.8
432 | No | No | 19 | MED | OTHER MENTAL DISORDER DIAGNOSES | 0.7280 | 2.7 | 4.0
433 | No | No | 20 | MED | ALCOHOL/DRUG ABUSE OR DEPENDENCE, LEFT AMA | 0.4017 | 2.1 | 2.8
434 | No | No | 20 | MED | NO LONGER VALID | 0.0000 | 0.0 | 0.0
435 | No | No | 20 | MED | NO LONGER VALID | 0.0000 | 0.0 | 0.0
436 | No | No | 20 | MED | NO LONGER VALID | 0.0000 | 0.0 | 0.0
437 | No | No | 20 | MED | NO LONGER VALID | 0.0000 | 0.0 | 0.0
438 | No | No | 20 | MED | NO LONGER VALID | 0.0000 | 0.0 | 0.0
439 | No | No | 21 | SURG | SKIN GRAFTS FOR INJURIES | 2.0857 | 5.4 | 8.4
440 | Yes | No | 21 | SURG | WOUND DEBRIDEMENTS FOR INJURIES | 2.0128 | 5.6 | 8.5
441 | No | No | 21 | SURG | HAND PROCEDURES FOR INJURIES | 1.0682 | 2.3 | 3.5
442 | Yes | No | 21 | SURG | OTHER O.R. PROCEDURES FOR INJURIES W CC | 2.6213 | 5.9 | 8.9
443 | Yes | No | 21 | SURG | OTHER O.R. PROCEDURES FOR INJURIES W/O CC | 1.0919 | 2.7 | 3.5
444 | Yes | No | 21 | MED | TRAUMATIC INJURY AGE >17 W CC | 0.8329 | 3.2 | 4.1
445 | Yes | No | 21 | MED | TRAUMATIC INJURY AGE >17 W/O CC | 0.5792 | 2.3 | 2.8
446 | No | No | 21 | MED* | TRAUMATIC INJURY AGE 0-17 | 0.5792 | * | *
447 | No | No | 21 | MED | ALLERGIC REACTIONS AGE >17 | 0.6470 | 1.9 | 2.6
448 | No | No | 21 | MED* | ALLERGIC REACTIONS AGE 0-17 | 0.6470 | * | *
449 | No | No | 21 | MED | POISONING & TOXIC EFFECTS OF DRUGS AGE >17 W CC | 0.9882 | 2.7 | 3.7
450 | No | No | 21 | MED | POISONING & TOXIC EFFECTS OF DRUGS AGE >17 W/O CC | 0.5741 | 1.6 | 2.0
451 | No | No | 21 | MED* | POISONING & TOXIC EFFECTS OF DRUGS AGE 0-17 | 0.5741 | 10.2 | 10.5
452 | No | No | 21 | MED | COMPLICATIONS OF TREATMENT W CC | 1.1377 | 3.5 | 4.9
453 | No | No | 21 | MED | COMPLICATIONS OF TREATMENT W/O CC | 0.5867 | 2.2 | 2.8
454 | No | No | 21 | MED | OTHER INJURY, POISONING & TOXIC EFFECT DIAG W CC | 0.9136 | 3.0 | 4.1
455 | No | No | 21 | MED | OTHER INJURY, POISONING & TOXIC EFFECT DIAG W/O CC | 0.5053 | 1.8 | 2.3
456 | No | No | 22 | MED | NO LONGER VALID | 0.0000 | 0.0 | 0.0
457 | No | No | 22 | MED | NO LONGER VALID | 0.0000 | 0.0 | 0.0
458 | No | No | 22 | SURG | NO LONGER VALID | 0.0000 | 0.0 | 0.0
459 | No | No | 22 | SURG | NO LONGER VALID | 0.0000 | 0.0 | 0.0
460 | No | No | 22 | MED | NO LONGER VALID | 0.0000 | 0.0 | 0.0
461 | No | No | 23 | SURG | O.R. PROC W DIAGNOSES OF OTHER CONTACT W HEALTH SERVICES | 1.5386 | 3.3 | 5.6
462 | Yes | No | 23 | MED | REHABILITATION | 1.5753 | 8.4 | 9.9
463 | Yes | No | 23 | MED | SIGNS & SYMPTOMS W CC | 0.7661 | 3.1 | 3.9
464 | Yes | No | 23 | MED | SIGNS & SYMPTOMS W/O CC | 0.5663 | 2.4 | 2.9
465 | No | No | 23 | MED | AFTERCARE W HISTORY OF MALIGNANCY AS SECONDARY DIAGNOSIS | 0.6205 | 2.5 | 3.6
466 | No | No | 23 | MED | AFTERCARE W/O HISTORY OF MALIGNANCY AS SECONDARY DIAGNOSIS | 0.7848 | 2.7 | 5.0
467 | No | No | 23 | MED | OTHER FACTORS INFLUENCING HEALTH STATUS | 0.5408 | 1.9 | 2.7
468 | Yes | No |  | SURG | EXTENSIVE O.R. PROCEDURE UNRELATED TO PRINCIPAL DIAGNOSIS | 3.8122 | 9.6 | 12.9
469 | No | No |  | ** | PRINCIPAL DIAGNOSIS INVALID AS DISCHARGE DIAGNOSIS | 0.0000 | 0.0 | 0.0
470 | No | No |  | ** | UNGROUPABLE | 0.0000 | 0.0 | 0.0
471 | Yes | Yes | 08 | SURG | BILATERAL OR MULTIPLE MAJOR JOINT PROCS OF LOWER EXTREMITY | 2.7365 | 4.2 | 4.6
472 | No | No | 22 | SURG | NO LONGER VALID | 0.0000 | 0.0 | 0.0
473 | No | No | 17 | MED | ACUTE LEUKEMIA W/O MAJOR O.R. PROCEDURE AGE >17 | 3.4703 | 7.3 | 12.7
474 | No | No | 04 | SURG | NO LONGER VALID | 0.0000 | 0.0 | 0.0
475 | Yes | No | 04 | MED | RESPIRATORY SYSTEM DIAGNOSIS WITH VENTILATOR SUPPORT | 3.8279 | 7.9 | 10.9
476 | No | No |  | SURG | PROSTATIC O.R. PROCEDURE UNRELATED TO PRINCIPAL DIAGNOSIS | 2.1079 | 6.9 | 10.0
477 | Yes | No |  | SURG | NON-EXTENSIVE O.R. PROCEDURE UNRELATED TO PRINCIPAL DIAGNOSIS | 2.0694 | 5.9 | 8.6
478 | Yes | No | 05 | SURG | NO LONGER VALID | 0.0000 | 0.0 | 0.0
479 | No | No | 05 | SURG | OTHER VASCULAR PROCEDURES W/O CC | 1.2715 | 1.9 | 2.6
480 | No | No | PRE | SURG | LIVER TRANSPLANT AND/OR INTESTINAL TRANSPLANT | 11.7482 | 14.0 | 19.2
481 | No | No | PRE | SURG | BONE MARROW TRANSPLANT | 7.1983 | 18.7 | 22.0
482 | Yes | No | PRE | SURG | TRACHEOSTOMY FOR FACE,MOUTH & NECK DIAGNOSES | 3.5956 | 9.4 | 11.8
483 | No | No | PRE | SURG | NO LONGER VALID | 0.0000 | 0.0 | 0.0
484 | No | No | 24 | SURG | CRANIOTOMY FOR MULTIPLE SIGNIFICANT TRAUMA | 5.3652 | 8.6 | 12.8
485 | Yes | No | 24 | SURG | LIMB REATTACHMENT, HIP AND FEMUR PROC FOR MULTIPLE SIGNIFICANT TRAUMA | 3.5846 | 8.1 | 9.9
486 | No | No | 24 | SURG | OTHER O.R. PROCEDURES FOR MULTIPLE SIGNIFICANT TRAUMA | 5.1310 | 8.5 | 12.3
487 | Yes | No | 24 | MED | OTHER MULTIPLE SIGNIFICANT TRAUMA | 2.1184 | 5.2 | 7.1
488 | No | No | 25 | SURG | HIV W EXTENSIVE O.R. PROCEDURE | 4.8181 | 12.2 | 17.5
489 | No | No | 25 | MED | HIV W MAJOR RELATED CONDITION | 1.7760 | 5.8 | 8.2
490 | No | No | 25 | MED | HIV W OR W/O OTHER RELATED CONDITION | 1.0808 | 3.8 | 5.3
491 | No | No | 08 | SURG | MAJOR JOINT & LIMB REATTACHMENT PROCEDURES OF UPPER EXTREMITY | 1.5997 | 2.5 | 3.0
492 | No | No | 17 | MED | CHEMOTHERAPY W ACUTE LEUKEMIA OR W USE OF HI DOSE CHEMOAGENT | 3.6663 | 8.9 | 13.8
493 | No | No | 07 | SURG | LAPAROSCOPIC CHOLECYSTECTOMY W/O C.D.E. W CC | 1.7812 | 4.6 | 6.0
494 | No | No | 07 | SURG | LAPAROSCOPIC CHOLECYSTECTOMY W/O C.D.E. W/O CC | 0.9795 | 2.1 | 2.7
495 | No | No | PRE | SURG | LUNG TRANSPLANT | 10.0630 | 14.2 | 17.0
496 | No | No | 08 | SURG | COMBINED ANTERIOR/POSTERIOR SPINAL FUSION | 5.3926 | 6.4 | 8.8
497 | Yes | Yes | 08 | SURG | SPINAL FUSION EXCEPT CERVICAL W CC | 3.3300 | 4.8 | 5.7
498 | Yes | Yes | 08 | SURG | SPINAL FUSION EXCEPT CERVICAL W/O CC | 2.5267 | 3.3 | 3.7
499 | No | No | 08 | SURG | BACK & NECK PROCEDURES EXCEPT SPINAL FUSION W CC | 1.3408 | 3.0 | 4.2
500 | No | No | 08 | SURG | BACK & NECK PROCEDURES DEXCEPT SPINAL FUSION W/O CC | 0.8707 | 1.8 | 2.2
501 | Yes | No | 08 | SURG | KNEE PROCEDURES W PDX OF INFECTION W CC | 2.7150 | 8.4 | 10.4
502 | Yes | No | 08 | SURG | KNEE PROCEDURES W PDX OF INFECTION W/O CC | 1.5598 | 5.0 | 5.8
503 | No | No | 08 | SURG | KNEE PROCEDURES W/O PDX OF INFECTION | 1.2375 | 3.0 | 3.9
504 | No | No | 22 | SURG | EXTEN. BURNS OR FULL THICKNESS BURN W/MV 96+HRS W/SKIN GFT | 13.2723 | 21.0 | 28.3
505 | No | No | 22 | MED | EXTEN. BURNS OR FULL THICKNESS BURN W/MV 96+HRS W/O SKIN GFT | 3.0532 | 2.8 | 6.4
506 | No | No | 22 | SURG | FULL THICKNESS BURN W DSKIN GRAFT OR INHAL INJ W CC OR SIG TRAUMA | 4.7246 | 10.9 | 15.2
507 | No | No | 22 | SURG | FULL THICKNESS BURN W SKIN GRFT OR INHAL INJ W/O CC OR SIG TRAUMA | 2.2603 | 5.5 | 7.8
508 | No | No | 22 | MED | FULL THICKNESS BURN W/O SKIN GRFT OR INHAL INJ W CC OR SIG TRAUMA | 1.6171 | 5.3 | 7.5
509 | No | No | 22 | MED | FULL THICKNESS BURN W/O SKIN GRFT OR INH INJ W/O CC OR SIG TRAUMA | 1.1338 | 3.7 | 5.3
510 | No | No | 22 | MED | NON-EXTENSIVE BURNS W CC OR SIGNIFICANT TRAUMA | 1.4467 | 4.1 | 6.1
511 | No | No | 22 | MED | NON-EXTENSIVE BURNS W/O CC OR SIGNIFICANT DTRAUMA | 0.8610 | 2.6 | 3.7
512 | No | No | PRE | SURG | SIMULTANEOUS PANCREAS/KIDNEY TRANSPLANT | 9.9384 | 11.1 | 13.5
513 | No | No | PRE | SURG | PANCREAS TRANSPLANT | 6.5546 | 8.8 | 10.0
514 | No | No | 05 | SURG | NO LONGER VALID | 0.0000 | 0.0 | 0.0
515 | No | No | 05 | SURG | CARDIAC DEFIBRILLATOR IMPLANT W/O CARDIAC CATH | 4.1471 | 2.2 | 3.8
516 | No | No | 05 | SURG | NO LONGER VALID | 0.0000 | 0.0 | 0.0
517 | No | No | 05 | SURG | NO LONGER VALID | 0.0000 | 0.0 | 0.0
518 | No | No | 05 | SURG | PERC CARDIO PROC W/O CORONARY ARTERY STENT OR AMI | 1.1424 | 1.8 | 2.5
519 | No | No | 08 | SURG | CERVICAL SPINAL FUSION W CC | 2.2859 | 2.9 | 4.7
520 | No | No | 08 | SURG | CERVICAL SPINAL FUSION W/O CC | 1.4721 | 1.6 | 1.9
521 | Yes | No | 20 | MED | ALCOHOL/DRUG ABUSE OR DEPENDENCE W CC | 0.9157 | 4.0 | 5.4
522 | Yes | No | 20 | MED | ALC/DRUG ABUSE OR DEPEND W REHABILITATION THERAPY W/O CC | 1.0575 | 8.1 | 10.5
523 | No | No | 20 | MED | ALC/DRUG ABUSE OR DEPEND W/O REHABILITATION THERAPY W/O CC | 0.5474 | 3.2 | 3.8
524 | No | No | 01 | MED | TRANSIENT ISCHEMIA | 0.6913 | 2.6 | 3.1
525 | No | No | 05 | SURG | OTHER HEART ASSIST SYSTEM IMPLANT | 12.0673 | 7.7 | 14.5
526 | No | No | 05 | SURG | NO LONGER VALID | 0.0000 | 0.0 | 0.0
527 | No | No | 05 | SURG | NO LONGER VALID | 0.0000 | 0.0 | 0.0
528 | No | No | 01 | SURG | INTRACRANIAL VASCULAR PROC W PDX HEMORRHAGE | 7.3829 | 13.3 | 16.4
529 | Yes | No | 01 | SURG | VENTRICULAR SHUNT PROCEDURES W CC | 2.2423 | 4.7 | 7.5
530 | Yes | No | 01 | SURG | VENTRICULAR SHUNT PROCEDURES W/O CC | 1.1697 | 2.3 | 3.0
531 | Yes | No | 01 | SURG | SPINAL PROCEDURES W CC | 3.0552 | 6.3 | 9.1
532 | Yes | No | 01 | SURG | SPINAL PROCEDURES W/O CC | 1.3777 | 2.8 | 3.6
533 | No | No | 01 | SURG | EXTRACRANIAL PROCEDURES W CC | 1.4911 | 2.3 | 3.7
534 | No | No | 01 | SURG | EXTRACRANIAL PROCEDURES W/O CC | 0.9668 | 1.4 | 1.7
535 | No | No | 05 | SURG | CARDIAC DEFIB IMPLANT W CARDIAC CATH W AMI/HF/SHOCK | 5.8951 | 6.9 | 9.2
536 | No | No | 05 | SURG | CARDIAC DEFIB IMPLANT W CARDIAC CATH W/O AMI/HF/SHOCK | 5.2199 | 5.5 | 7.3
537 | Yes | No | 08 | SURG | LOCAL EXCIS & REMOV OF INT FIX DEV EXCEPT HIP & FEMUR W CC | 1.8568 | 4.7 | 6.6
538 | Yes | No | 08 | SURG | LOCAL EXCIS & REMOV OF INT FIX DEV EXCEPT HIP & FEMUR W/O CC | 1.0223 | 2.2 | 2.9
539 | No | No | 17 | SURG | LYMPHOMA & LEUKEMIA W MAJOR OR PROCEDURE W CC | 3.1235 | 6.8 | 10.5
540 | No | No | 17 | SURG | LYMPHOMA & LEUKEMIA W MAJOR OR PROCEDURE W/O CC | 1.1837 | 2.6 | 3.5
541 | Yes | No | PRE | SURG | ECMO OR TRACH W MV 96+HRS OR PDX EXC FACE, MOUTH & NECK W MAJ O.R. | 19.9990 | 36.9 | 44.1
542 | Yes | No | PRE | SURG | TRACH W MV 96+HRS OR PDX EXC FACE, MOUTH & NECK W/O MAJ O.R. | 12.5966 | 27.2 | 32.6
543 | Yes | No | 01 | SURG | CRANIOTOMY W/IMPLANT OF CHEMO AGENT OR ACUTE COMPLX CNS PDX | 4.6474 | 8.4 | 12.0
544 | Yes | No | 08 | SURG | MAJOR JOINT REPLACEMENT OR REATTACHMENT OF LOWER EXTREMITY | 1.8941 | 4.0 | 4.4
545 | Yes | Yes | 08 | SURG | REVISION OF HIP OR KNEE REPLACEMENT | 2.4127 | 4.5 | 5.2
546 | No | No | 08 | SURG | SPINAL FUSION EXC CERV WITH CURVATURE OF THE SPINE OR MALIG | 4.8421 | 6.9 | 8.7
547 | Yes | No | 05 | SURG | CORONARY BYPASS W CARDIAC CATH W MAJOR CV DX | 5.6862 | 10.9 | 12.4
548 | Yes | No | 05 | SURG | CORONARY BYPASS W CARDIAC CATH W/O MAJOR CV DX | 4.1762 | 8.1 | 8.9
549 | Yes | Yes | 05 | SURG | CORONARY BYPASS W/O CARDIAC CATH W MAJOR CV DX | 4.8829 | 8.7 | 10.3
550 | Yes | Yes | 05 | SURG | CORONARY BYPASS W/O CARDIAC CATH W/O MAJOR CV DX | 3.4598 | 6.2 | 6.8
551 | No | No | 05 | SURG | PERMANENT CARDIAC PACEMAKER IMPL W MAJ CV DX OR AICD LEAD OR GNRTR | 2.6339 | 4.2 | 6.1
552 | No | No | 05 | SURG | OTHER PERMANENT CARDIAC PACEMAKER IMPLANT W/O MAJOR CV DX | 1.7670 | 2.5 | 3.5
553 | Yes | No | 05 | SURG | OTHER VASCULAR PROCEDURES W CC W MAJOR CV DX | 2.8371 | 6.3 | 9.3
554 | Yes | No | 05 | SURG | OTHER VASCULAR PROCEDURES W CC W/O MAJOR CV DX | 1.9483 | 3.7 | 5.6
555 | No | No | 05 | SURG | PERCUTANEOUS CARDIOVASCULAR PROC W MAJOR CV DX | 1.8654 | 3.4 | 4.8
556 | No | No | 05 | SURG | PERCUTANEOUS CARDIOVASC PROC W NON-DRUG-ELUTING STENT W/O MAJ CV DX | 1.2241 | 1.6 | 2.0
557 | No | No | 05 | SURG | PERCUTANEOUS CARDIOVASCULAR PROC W DRUG-ELUTING STENT W MAJOR CV DX | 2.1323 | 3.0 | 4.1
558 | No | No | 05 | SURG | PERCUTANEOUS CARDIOVASCULAR PROC W DRUG-ELUTING STENT W/O MAJ CV DX | 1.4299 | 1.5 | 1.8
559 | No | No | 08 | MED | ACUTE ISCHEMIC STROKE WITH USE OF THROMBOLYTIC AGENT | 2.2370 | 5.4 | 6.9
DRGS 469 and 470 contain cases which could not be assigned to valid drgs.
Note: An asterisk in the gmlos or amlos column indicates there is no data to compute.
Note: Arithmetic mean is presented for informational purposes only.
Note: Geometric mean is used only to determine payment for transfer cases.
Note: Relative weights are based on medicare patient data and may not be appropriate for other patients.

Table 6A.—New Diagnosis Codes
Diagnosis code | Description | CC | MDC | DRG
052.2 | Postvaricella myelitis | Y | 1 | 20, 543
053.14 | Herpes zoster myelitis | Y | 1 | 20, 543
054.74 | Herpes simplex myelitis | Y | 1 | 20, 543
238.71 | Essential thrombocythemia | N | 16 | 398, 399
238.72 | Low grade myelodysplastic syndrome lesions | N | 16 | 395, 396
238.73 | High grade myelodysplastic syndrome lesions | N | 16 | 395, 396
238.74 | Myelodysplastic syndrome with 5q deletion | N | 16 | 395, 396
238.75 | Myelodysplastic syndrome, unspecified | N | 16 | 395, 396
238.76 | Myelofibrosis with myeloid Metaplasia | N | 17 | 401, 402, 403, 404, 539, 540
238.79 | Other lymphatic and Hematopoietic tissues | N | 17 | 401, 402, 403, 404, 539, 540
277.30 | Amyloidosis, unspecified | N | 8 | 240, 241
277.31 | Familial Mediterranean fever | N | 8 | 240, 241
277.39 | Other amyloidosis | N | 8 | 240, 241
284.01 | Constitutional red blood cell aplasia | N | 16 | 395, 396
284.09 | Other constitutional aplastic anemia | N | 16 | 395, 396
284.1 | Pancytopenia | N | 16 | 395, 396
284.2 | Myelophthisis | N | 17 | 401, 402, 403, 404, 539, 540
288.00 | Neutropenia, unspecified | N | 16 25 | 398, 399 490
288.01 | Congenital neutropenia | N | 16 25 | 398, 399 490
288.02 | Cyclic neutropenia | N | 16 25 | 398, 399 490
288.03 | Drug induced neutropenia | N | 16 25 | 398, 399 490
288.04 | Neutropenia due to infection | N | 16 25 | 398, 399 490
288.09 | Other neutropenia | N | 16 25 | 398, 399 490
288.4 | Hemophagocytic syndromes | N | 16 | 398, 399
288.50 | Leukocytopenia, unspecified | N | 16 | 398, 399
288.51 | Lymphocytopenia | N | 16 | 398, 399
288.59 | Other decreased white blood cell count | N | 16 | 398, 399
288.60 | Leukocytosis, unspecified | N | 16 | 398, 399
288.61 | Lymphocytosis (symptomatic) | N | 16 | 398, 399
288.62 | Leukemoid reaction | N | 16 | 398, 399
288.63 | Monocytosis (symptomatic) | N | 16 | 398, 399
288.64 | Plasmacytosis | N | 16 | 398, 399
288.65 | Basophilia | N | 16 | 398, 399
288.69 | Other elevated white blood cell count | N | 16 | 398, 399
289.53 | Neutropenic splenomegaly | N | 16 | 398, 399
289.83 | Myelofibrosis | N | 17 | 401, 402, 403, 404, 539, 540
323.01 | Encephalitis and encephalomyelitis in viral diseases classified elsewhere | N | 1 | 20, 543
323.02 | Myelitis in viral diseases classified elsewhere | N | 1 | 20, 543
323.41 | Other encephalitis and encephalomyelitis due to infection classified elsewhere | N | 1 | 20, 543
323.42 | Other myelitis due to infection classified elsewhere | N | 1 | 20, 543
323.51 | Encephalitis and encephalomyelitis following immunization procedures | N | 1 | 20, 543
323.52 | Myelitis following immunization procedures | N | 1 | 20, 543
323.61 | Infectious acute disseminated encephalomyelitis (ADEM) | N | 1 | 20, 543
323.62 | Other postinfectious encephalitis and encephalomyelitis | N | 1 | 20, 543
323.63 | Postinfectious myelitis | N | 1 | 20, 543
323.71 | Toxic encephalitis and encephalomyelitis | N | 1 | 34, 35, 543
323.72 | Toxic myelitis | N | 1 | 34, 35, 543
323.81 | Other causes of encephalitis and encephalomyelitis | N | 1 25 | 20, 543 489
323.82 | Other causes of myelitis | N | 1 25 | 20, 543 489
331.83 | Mild cognitive impairment, so stated | N | 1 | 12
333.71 | Athetoid cerebral palsy | N | 1 | 12
333.72 | Acute dystonia due to drugs | N | 1 | 34, 35
333.79 | Other acquired torsion dystonia | N | 1 | 34, 35
333.85 | Subacute dyskinesia due to drugs | N | 1 | 34, 35
338.0 | Central pain syndrome | N | 23 | 463, 464
338.11 | Acute pain due to trauma | N | 23 | 463, 464
338.12 | Acute post-thoracotomy pain | N | 23 | 463, 464
338.18 | Other acute postoperative pain | N | 23 | 463, 464
338.19 | Other acute pain | N | 23 | 463, 464
338.21 | Chronic pain due to trauma | N | 23 | 463, 464
338.22 | Chronic post-thoracotomy pain | N | 23 | 463, 464
338.28 | Other chronic postoperative pain | N | 23 | 463, 464
338.29 | Other chronic pain | N | 23 | 463, 464
338.3 | Neoplasm related pain (acute) (chronic) | N | 23 | 463, 464
338.4 | Chronic pain syndrome | N | 23 | 463, 464
341.20 | Acute (transverse) myelitis NOS | N | 1 | 20, 543
341.21 | Acute (transverse) myelitis in conditions classified elsewhere | N | 1 | 20, 543
341.22 | Idiopathic transverse myelitis | N | 1 | 20, 543
377.43 | Optic nerve hypoplasia | N | 2 | 45
379.60 | Inflammation (infection) of postprocedural bleb, unspecified | N | 2 | 46, 47, 48
379.61 | Inflammation (infection) of postprocedural bleb, stage 1 | N | 2 | 46, 47, 48
379.62 | Inflammation (infection) of postprocedural bleb, stage 2 | N | 2 | 46, 47, 48
379.63 | Inflammation (infection) of postprocedural bleb, stage 3 | N | 2 | 46, 47, 48
389.15 | Sensorineural hearing loss, unilateral | N | 3 | 73, 74
389.16 | Sensorineural hearing loss, asymmetrical | N | 3 | 73, 74
429.83 | Takotsubo syndrome | N | 5 | 144, 145
478.11 | Nasal mucositis (ulcerative) | N | 3 | 15, 73, 74 391 ¹
478.19 | Other disease of nasal cavity and sinuses | N | 3 15 | 73, 74 391 ¹
518.7 | Transfusion related acute lung injury (TRALI) | Y | 4 | 101, 102
519.11 | Acute bronchospasm | N | PRE 4 | 482 96, 97, 98
519.19 | Other diseases of trachea and bronchus | N | PRE 4 | 482 96, 97, 98
521.81 | Cracked tooth | N | PRE 3 | 482 185, 186, 187
521.89 | Other specific diseases of hard tissues of teeth | N | PRE 3 | 482 185, 186, 187
523.00 | Acute gingivitis, plaque induced | N | PRE 3 | 482 185, 186, 187
523.01 | Acute gingivitis, non-plaque induced | N | PRE 3 | 482 185, 186, 187
523.10 | Chronic gingivitis, plaque induced | N | PRE 3 | 482 185, 186, 187
523.11 | Chronic gingivitis, non-plaque induced | N | PRE 3 | 482 185, 186, 187
523.30 | Aggressive periodontitis, unspecified | N | PRE 3 | 482 185, 186, 187
523.31 | Aggressive periodontitis, localized | N | PRE 3 | 482 185, 186, 187
523.32 | Aggressive periodontitis, generalized | N | PRE 3 | 482 185, 186, 187
523.33 | Acute periodontitis | N | PRE 3 | 482 185, 186, 187
523.40 | Chronic periodontitis, unspecified | N | PRE 3 | 482 185, 186, 187
523.41 | Chronic periodontitis, localized | N | PRE 3 | 482 185, 186, 187
523.42 | Chronic periodontitis,generalized | N | PRE 3 | 482 185, 186, 187
525.60 | Unspecified unsatisfactory restoration of tooth | N | PRE 3 | 482 185, 186, 187
525.61 | Open restoration margins | N | PRE 3 | 482 185, 186, 187
525.62 | Unrepairable overhanging of dental restorative materials | N | PRE 3 | 482 185, 186, 187
525.63 | Fractured dental restorative material without loss of material | N | PRE 3 | 482 185, 186, 187
525.64 | Fractured dental restorative material with loss of material | N | PRE 3 | 482 185, 186, 187
525.65 | Contour of existing restoration of tooth biologically incompatible with oral health | N | PRE 3 | 482 185, 186, 187
525.66 | Allergy to existing dental restorative material | N | PRE 3 | 482 185, 186, 187
525.67 | Poor aesthetics of existing restoration | N | PRE 3 | 482 185, 186, 187
525.69 | Other unsatisfactory restoration of existing tooth | N | PRE 3 | 482 185, 186, 187
526.61 | Perforation of root canal space | N | PRE 3 | 482 185, 186, 187
526.62 | Endodontic overfill | N | PRE 3 | 482 185, 186, 187
526.63 | Endodontic underfill | N | PRE 3 | 482 185, 186, 187
526.69 | Other periradicular pathology associated with previous endodontic treatment | N | PRE 3 | 482 185, 186, 187
528.00 | Stomatitis and mucositis, unspecified | N | PRE 3 | 482 185, 186, 187
528.01 | Mucositis (ulcerative) due to antineoplastic therapy | N | PRE 3 | 482 185, 186, 187
528.02 | Mucositis (ulcerative) due to other drugs | N | PRE 3 | 482 185, 186, 187
528.09 | Other stomatitis and mucositis (ulcerative) | N | PRE 3 | 482 185, 186, 187
538 | Gastrointestinal mucositis (ulcerative) | N | 6 | 182, 183, 184
608.20 | Torsion of testis, unspecified | N | 12 | 352
608.21 | Extravaginal torsion of spermatic cord | N | 12 | 352
608.22 | Intravaginal torsion of spermatic cord | N | 12 | 352
608.23 | Torsion of appendix testis | N | 12 | 352
608.24 | Torsion of appendix epididymis | N | 12 | 352
616.81 | Mucositis (ulcerative) of cervix, vagina, and vulva | N | 13 | 358, 359, 368
616.89 | Other inflammatory disease of cervix, vagina and vulva | N | 13 | 358, 359, 368
618.84 | Cervical stump prolapse | N | 13 | 358, 359, 369
629.29 | Other female genital mutilation status | N | 13 | 358, 359, 369
629.81 | Habitual aborter without current pregnancy | N | 13 | 358, 359, 368
629.89 | Other specified disorders of female genital organs | N | 13 | 358, 359, 368
649.00 | Tobacco use disorder complicating pregnancy, childbirth, or the puerperium, unspecified as to episode of care or not applicable | N | 14 | 469
649.01 | Tobacco use disorder complicating pregnancy, childbirth, or the puerperium, delivered, with or without mention of antepartum condition | N | 14 | 370, 371, 372, 373, 374, 375
649.02 | Tobacco use disorder complicating pregnancy, childbirth, or the puerperium, delivered, with mention of postpartum complication | N | 14 | 370, 371, 372, 373, 374, 375
649.03 | Tobacco use disorder complicating pregnancy, childbirth, or the puerperium, antepartum condition or complication | N | 14 | 383, 384
649.04 | Tobacco use disorder complicating pregnancy, childbirth, or the puerperium, postpartum condition or complication | N | 14 | 376, 377
649.10 | Obesity complicating pregnancy, childbirth, or the puerperium, unspecified as to episode of care or not applicable | N | 14 | 469
649.11 | Obesity complicating pregnancy, childbirth, or the puerperium, delivered, with or without mention of antepartum condition | N | 14 | 370, 371, 372, 373, 374, 375
649.12 | Obesity complicating pregnancy, childbirth, or the puerperium, delivered, with mention of postpartum complication | N | 14 | 370, 371, 372, 373, 374, 375
649.13 | Obesity complicating pregnancy, childbirth, or the puerperium, antepartum condition or complication | N | 14 | 383, 384
649.14 | Obesity complicating pregnancy, childbirth, or the puerperium, postpartum condition or complication | N | 14 | 376, 377
649.20 | Bariatric surgery status complicating pregnancy, childbirth, or the puerperium, unspecified as to episode of care or not applicable | N | 14 | 469
649.21 | Bariatric surgery status complicating pregnancy, childbirth, or the puerperium, delivered, with or without mention of antepartum condition | N | 14 | 370, 371, 372, 373, 374, 375
649.22 | Bariatric surgery status complicating pregnancy, childbirth, or the puerperium, delivered, with mention of postpartum complication | N | 14 | 370, 371, 372, 373, 374, 375
649.23 | Bariatric surgery status complicating pregnancy, childbirth, or the puerperium, antepartum condition or complication | N | 14 | 383, 384
649.24 | Bariatric surgery status complicating pregnancy, childbirth, or the puerperium, postpartum condition or complication | N | 14 | 376, 377
649.30 | Coagulation defects complicating pregnancy, childbirth, or the puerperium, unspecified as to episode of care or not applicable | N | 14 | 469
649.31 | Coagulation defects complicating pregnancy, childbirth, or the puerperium, delivered, with or without mention of antepartum condition | N | 14 | 370, 371, 372, 373, 374, 375
649.32 | Coagulation defects complicating pregnancy, childbirth, or the puerperium, delivered, with mention of postpartum complication | N | 14 | 370, 371, 372, 373, 374, 375
649.33 | Coagulation defects complicating pregnancy, childbirth, or the puerperium, antepartum condition or complication | N | 14 | 383, 384
649.34 | Coagulation defects complicating pregnancy, childbirth, or the puerperium, postpartum condition or complication | N | 14 | 376, 377
649.40 | Epilepsy complicating pregnancy, childbirth, or the puerperium, unspecified as to episode of care or not applicable | N | 14 | 469
649.41 | Epilepsy complicating pregnancy, childbirth, or the puerperium, delivered, with or without mention of antepartum condition | N | 14 | 370, 371, 372, 373, 374, 375
649.42 | Epilepsy complicating pregnancy, childbirth, or the puerperium, delivered, with mention of postpartum complication | N | 14 | 370, 371, 372, 373, 374, 375
649.43 | Epilepsy complicating pregnancy, childbirth, or the puerperium, antepartum condition or complication | N | 14 | 383, 384
649.44 | Epilepsy complicating pregnancy, childbirth, or the puerperium, postpartum condition or complication | N | 14 | 376, 377
649.50 | Spotting complicating pregnancy, unspecified as to episode of care or not applicable | N | 14 | 469
649.51 | Spotting complicating pregnancy, delivered, with or without mention of antepartum condition | N | 14 | 370, 371, 372, 373, 374, 375
649.53 | Spotting complicating pregnancy, antepartum condition or complication | N | 14 | 383, 384
649.60 | Uterine size date discrepancy, unspecified as to episode of care or not applicable | N | 14 | 469
649.61 | Uterine size date discrepancy, delivered, with or without mention of antepartum condition | N | 14 | 370, 371, 372, 373, 374, 375
649.62 | Uterine size date discrepancy, delivered, with mention of postpartum complication | N | 14 | 370, 371, 372, 373, 374, 375
649.63 | Uterine size date discrepancy, antepartum condition or complication | N | 14 | 383, 384
649.64 | Uterine size date discrepancy, postpartum condition or complication | N | 14 | 376, 377
729.71 | Nontraumatic compartment syndrome of upper extremity | N | 8 | 248
729.72 | Nontraumatic compartment syndrome of lower extremity | N | 8 | 248
729.73 | Nontraumatic compartment syndrome of abdomen | N | 8 | 248
729.79 | Nontraumatic compartment syndrome of other sites | N | 8 | 248
731.3 | Major osseous defects | N | 8 | 244, 245
780.32 | Complex febrile convulsions | Y | 1 | 24, 25, 26
780.96 | Generalized pain | N | 23 | 463, 464
780.97 | Altered mental status | N | 23 | 463, 464
784.91 | Postnasal drip | N | 3 | 73, 74
784.99 | Other symptoms involving head and neck | N | 3 | 73, 74
788.64 | Urinary hesitancy | N | 11 | 325, 326, 327
788.65 | Straining on urination | N | 11 | 325, 326, 327
793.91 | Image test inconclusive due to excess body fat | N | 23 | 463, 464
793.99 | Other nonspecific abnormal findings on radiological and other examinations of body structure | N | 23 | 463, 464
795.06 | Papanicolaou smear of cervix with cytologic evidence of malignancy | N | 13 | 358, 359, 369
795.81 | Elevated carcinoembryonic antigen [CEA] | N | 23 | 463, 464
795.82 | Elevated cancer antigen 125 [CA 125] | N | 23 | 463, 464
795.89 | Other abnormal tumor markers | N | 23 | 463, 464
958.90 | Compartment syndrome, unspecified | N | 21 | 454, 455
958.91 | Traumatic compartment syndrome of upper extremity | N | 21 | 454, 455
958.92 | Traumatic compartment syndrome of lower extremity | N | 21 | 454, 455
958.93 | Traumatic compartment syndrome of abdomen | N | 21 | 454, 455
958.99 | Traumatic compartment syndrome of other sites | N | 21 | 454, 455
995.20 | Unspecified adverse effect of unspecified drug, medicinal and biological substance | N | 15 21 | 387 ², 389 ² 449, 450, 451
995.21 | Arthus phenomenon | N | 15 21 | 387 ², 389 ² 449, 450, 451
995.22 | Unspecified adverse effect of anesthesia | N | 15 21 | 387 ², 389 ² 449, 450, 451
995.23 | Unspecified adverse effect of insulin | N | 15 21 | 387 ², 389 ² 449, 450, 451
995.27 | Other drug allergy | N | 15 21 | 387 ², 389 ² 449, 450, 451
995.29 | Unspecified adverse effect of other drug, medicinal and biological substance | N | 15 21 | 387 ², 389 ² 449, 450, 451
V18.51 | Family history, Colonic polyps | N | 23 | 467
V18.59 | Family history, Other digestive disorders | N | 23 | 467
V26.34 | Testing of male for genetic disease carrier status | N | 23 | 467
V26.35 | Encounter for testing of male partner of habitual aborter | N | 23 | 467
V26.39 | Other genetic testing of male | N | 23 | 467
V45.86 | Bariatric surgery status | N | 23 | 467
V58.30 | Encounter for change or removal of nonsurgical wound dressing | N | 23 | 467
V58.31 | Encounter for change or removal of surgical wound dressing | N | 23 | 467
V58.32 | Encounter for removal of sutures | N | 23 | 467
V72.11 | Encounter for hearing examinationfollowing failed hearing screening | N | 23 15 | 467 391 ¹
V72.19 | Other examination of ears and hearing | N | 23 15 | 467 391 ¹
V82.71 | Screening for genetic disease carrier status | N | 23 | 467
V82.79 | Other genetic screening | N | 23 | 467
V85.51 | Body Mass Index, pediatric, less than 5th percentile for age | N | 23 | 467
V85.52 | Body Mass Index, pediatric, 5th percentile to less than 85th percentile for age | N | 23 | 467
V85.53 | Body Mass Index, pediatric, 85th percentile to less than 95th percentile for age | N | 23 | 467
V85.54 | Body Mass Index, pediatric, greater than or equal to 95th percentile for age | N | 23 | 467
V86.0 | Estrogen receptor positive status [ER+] | N | 23 | 467
V86.1 | Estrogen receptor negative status [ER-] | N | 23 | 467
¹ On “Only secondary diagnosis” list.
² Principal or secondary diagnosis of major problem.

Table 6B.—New Procedure Codes
Procedure code | Description | O.R. | MDC | DRG
00.44 | Procedure on vessel bifurcation | N
00.56 | Insertion or replacement of implantable pressure sensor (lead) for intracardiac hemodynamic monitoring | Y | 5 | 117,120 ¹
00.57 | Implantation or replacement of subcutaneous device for intracardiac hemodynamic monitoring | Y | 5 | 118,120 ¹
37.20 | Noninvasive programmed electrical stimulation [NIPS] | N
39.74 | Endovascular removal of obstruction from head and neck vessel(s) | Y | 1 21 24 | 1, 2, 3, 543 442, 443 486
68.41 | Laparoscopic total abdominal hysterectomy | Y | 13 14 | 354, 355, 357, 358, 359 375
68.49 | Other and unspecified total abdominal hysterectomy | Y | 13 14 | 354, 355, 357,358, 359 375
68.61 | Laparoscopic radical abdominal hysterectomy | Y | 13 14 | 353 375
68.69 | Other and unspecified radical abdominal hysterectomy | Y | 13 14 | 353 375
68.71 | Laparoscopic radical vaginal hysterectomy [LRVH] | Y | 13 14 | 353 375
68.79 | Other and unspecified radical vaginal hysterectomy | Y | 13 14 | 353 375
¹ Assigned to DRG 120 when both Code 00.56 and Code 00.57 are reported.

Table 6C.—Invalid Diagnosis Codes
Diagnosis code | Description | CC | MDC | DRG
238.7 | Other lymphatic and hematopoietic tissues | N | 17 | 401, 402, 403, 404, 539, 540
277.3 | Amyloidosis | N | 8 | 240, 241
284.0 | Constitutional aplastic anemia | Y | 16 | 395, 396
288.0 | Agranulocytosis | Y | 16 25 | 398, 399 490
323.0 | Encephalitis in viral diseases classified elsewhere | N | 1 | 20, 543
323.4 | Other encephalitis due to infection classified elsewhere | N | 1 | 20, 543
323.5 | Encephalitis following immunization procedures | N | 1 | 20, 543
323.6 | Postinfectious encephalitis | N | 1 | 20, 543
323.7 | Toxic encephalitis | N | 1 | 34, 35, 543
323.8 | Other causes of encephalitis | N | 1 25 | 20, 543 489
333.7 | Symptomatic torsion dystonia | N | 1 | 12
478.1 | Other diseases of nasal cavity and sinuses | N | 3 15 | 73, 74 391 ¹
519.1 | Other diseases of trachea and bronchus, not elsewhere classified | N | PRE 4 | 482 96, 97, 98
521.8 | Other specific diseases of hard tissues of teeth | N | PRE 3 | 482 185, 186, 187
523.0 | Acute gingivitis | N | PRE 3 | 482 185, 186, 187
523.1 | Chronic gingivitis | N | PRE 3 | 482 185, 186, 187
523.3 | Acute periodontitis | N | PRE 3 | 482 185, 186, 187
523.4 | Chronic periodontitis | N | PRE 3 | 482 185, 186, 187
528.0 | Stomatitis | N | PRE 3 | 482 185, 186, 187
608.2 | Torsion of testis | N | 12 | 352
616.8 | Other specified inflammatory diseases of cervix, vagina, and vulva | N | 13 | 358, 359, 368
629.8 | Other specified disorders of female genital organs | N | 13 | 358, 359, 369
784.9 | Other symptoms involving head and neck | N | 3 | 73, 74
793.9 | Other nonspecific abnormal findings on radiological and other examinations of body structure | N | 23 | 463, 464
995.2 | Unspecified adverse effect of drug, medicinal and biological substance | N | 15 21 | 387 ², 389 ² 449, 450, 451
V18.5 | Family history, Digestive disorders | N | 23 | 467
V58.3 | Attention to surgical dressings and sutures | N | 23 | 467
V72.1 | Examination of ears and hearing | N | 15 23 | 391 ¹ 467
¹ On “Only secondary diagnosis” list.
² Principal or secondary diagnosis of major problem.

Table 6D.—Invalid Procedure Codes
Procedure code | Description | O.R. | MDC | DRG
68.4 | Total abdominal hysterectomy | Y | 13 14 | 354, 355, 357, 358, 359 375
68.6 | Radical abdominal hysterectomy | Y | 13 14 | 353 375
68.7 | Radical vaginal hysterectomy | Y | 13 14 | 353 375

Table 6E.—Revised Diagnosis Codes
Diagnosis code | Description | CC | MDC | DRG
255.10 | Hyperaldosteronism, unspecified | N | 10 | 300, 301
285.29 | Anemia of other chronic disease | N | 16 | 395, 396
323.1 | Encephalitis, myelitis, and encephalomyelitis in rickettsial diseases classified elsewhere | N | 1 | 20, 543
323.2 | Encephalitis, myelitis, and encephalomyelitis in protozoal diseases classified elsewhere | N | 1 | 20, 543
323.9 | Unspecified causes of encephalitis, myelitis, and encephalomyelitis | N | 1 25 | 20, 543 489
333.6 | Genetic torsion dystonia | N | 1 | 12
345.40 | Localization-related (focal) (partial) epilepsy and epileptic syndromes with complex partial seizures, without mention of intractable epilepsy | N | 1 | 24, 25, 26
345.41 | Localization-related (focal) (partial) epilepsy and epileptic syndromes with complex partial seizures, with intractable epilepsy | Y | 1 | 24, 25, 26
345.50 | Localization-related (focal) (partial) epilepsy and epileptic syndromes with simple partial seizures, without mention of intractable epilepsy | N | 1 | 24, 25, 26
345.51 | Localization-related (focal) (partial) epilepsy and epileptic syndromes with simple partial seizures, with intractable epilepsy | Y | 1 | 24, 25, 26
345.80 | Other forms of epilepsy and recurrent seizures, without mention of intractable epilepsy | N | 1 | 24, 25, 26
345.81 | Other forms of epilepsy and recurrent seizures, with intractable epilepsy | Y | 1 | 24, 25, 26
389.11 | Sensory hearing loss, bilateral | N | 3 | 73, 74
389.12 | Neural hearing loss, bilateral | N | 3 | 73, 74
389.14 | Central hearing loss, bilateral | N | 3 | 73, 74
389.18 | Sensorineural hearing loss of combined types, bilateral | N | 3 | 73, 74
403.00 | Hypertensive chronic kidney disease, malignant, with chronic kidney disease stage I through stage IV, or unspecified | Y | 11 | 331, 332, 333
403.01 | Hypertensive chronic kidney disease, malignant, with chronic kidney disease stage V or end stage renal disease | Y | PRE 11 | 512 ¹, 513 ¹ 315, 316
403.10 | Hypertensive chronic kidney disease, benign, with chronic kidney disease stage I through stage IV, or unspecified | N | 11 | 331, 332, 333
403.11 | Hypertensive chronic kidney disease, benign, with chronic kidney disease stage V or end stage renal disease | Y | PRE 11 | 512 ¹, 513 ¹ 315, 316
403.90 | Hypertensive chronic kidney disease, unspecified, with chronic kidney disease stage I through stage IV, or unspecified | N | 11 | 331, 332, 333
403.91 | Hypertensive chronic kidney disease, unspecified, with chronic kidney disease stage V or end stage renal disease | Y | PRE 11 | 512 ¹, 513 ¹ 315, 316
404.00 | Hypertensive heart and chronic kidney disease, malignant, without heart failure and with chronic kidney disease stage I through stage IV, or unspecified | Y | 5 | 134
404.01 | Hypertensive heart and chronic kidney disease, malignant, with heart failure and with chronic kidney disease stage I through stage IV, or unspecified | Y | 5 15 | 121 ², 124 ³, 127, 535, 547 ⁴, 549 ⁴, 551 ⁴, 553 ⁴, 555 ⁴, 557 ⁴ 387 ⁵, 389 ⁵
404.02 | Hypertensive heart and chronic kidney disease, malignant, without heart failure and with chronic kidney disease stage V or end stage renal disease | Y | PRE 11 | 512 ¹, 513 ¹ 315, 316
404.03 | Hypertensive heart and chronic kidney disease, malignant, with heart failure and with chronic kidney disease stage V or end stage renal disease | Y | PRE 5 15 | 512 ¹, 513 ¹ 121 ², 124 ³, 127, 535, 547 ⁴, 549 ⁴, 551 ⁴, 553 ⁴, 555 ⁴, 557 ⁴ 387 ⁵, 389 ⁵
404.10 | Hypertensive heart and chronic kidney disease, benign, without heart failure and with chronic kidney disease stage I through stage IV, or unspecified | N | 5 | 134
404.11 | Hypertensive heart and chronic kidney disease, benign, with heart failure and with chronic kidney disease stage I through stage IV, or unspecified | Y | 5 15 | 121 ², 124 ³, 127, 535, 547 ⁴, 549 ⁴, 551 ⁴, 553 ⁴, 555 ⁴, 557 ⁴ 387 ⁵, 389 ⁵
404.12 | Hypertensive heart and chronic kidney disease, benign, without heart failure and with chronic kidney disease stage V or end stage renal disease | Y | PRE 11 | 512 ¹, 513 ¹ 315, 316
404.13 | Hypertensive heart and chronic kidney disease, benign, with heart failure and chronic kidney disease stage V or end stage renal disease | Y | PRE 5 15 | 512 ¹, 513 ¹ 121 ², 124 ³, 127, 535, 547 ⁴, 549 ⁴, 551 ⁴, 553 ⁴, 5554, 557 ⁴ 387 ⁵, 389 ⁵
404.90 | Hypertensive heart and chronic kidney disease, unspecified, without heart failure and with chronic kidney disease stage I through stage IV, or unspecified | N | 5 | 134
404.91 | Hypertensive heart and chronic kidney disease, unspecified, with heart failure and with chronic kidney disease stage I through stage IV, or unspecified | Y | 5 15 | 121 ², 124 ³, 127, 535, 547 ⁴, 549 ⁴, 551 ⁴, 553 ⁴, 555 ⁴, 557 ⁴ 387 ⁵, 389 ⁵
404.92 | Hypertensive heart and chronic kidney disease, unspecified, without heart failure and with chronic kidney disease stage V or end stage renal disease | Y | PRE 11 | 512 ¹, 513 ¹ 315, 316
404.93 | Hypertensive heart and chronic kidney disease, unspecified, with heart failure and chronic kidney disease stage V or end stage renal disease | Y | PRE 5 15 | 512 ¹, 513 ¹ 121 ², 124 ³, 127, 535, 547 ⁴, 549 ⁴, 551 ⁴, 553 ⁴, 555 ⁴, 557 ⁴ 387 ⁵, 389 ⁵
524.21 | Malocclusion, Angle's class I | N | PRE 3 | 482 185, 186, 187
524.22 | Malocclusion, Angle's class II | N | PRE 3 | 482 185, 186, 187
524.23 | Malocclusion, Angle's class III | N | PRE 3 | 482 185, 186, 187
524.35 | Rotation of tooth/teeth | N | PRE 3 | 482 185, 186, 187
600.00 | Hypertrophy (benign) of prostate withouturinary obstruction and other lower urinary tract (LUTS)symptoms (LUTS) | N | 12 | 348, 349
600.01 | Hypertrophy (benign) of prostate with urinary obstruction and other lower urinary tract symptoms (LUTS) | N | 12 | 348, 349
600.20 | Benign localized hyperplasia of prostate without urinary obstruction and other lower urinary tract symptoms (LUTS) | N | 12 | 348, 349
600.21 | Benign localized hyperplasia of prostate with urinary obstruction and other lower urinary tract symptoms (LUTS) | N | 12 | 348, 349
600.90 | Hyperplasia of prostate, unspecified, without urinary obstruction and other lower urinary symptoms (LUTS) | N | 12 | 348, 349
600.91 | Hyperplasia of prostate, unspecified, with urinary obstruction and other lower urinary symptoms (LUTS) | N | 12 | 348, 349
780.31 | Febrile convulsions (simple), unspecified | Y | 1 | 15 24, 25, 26 387 ⁵, 389 ⁵
780.95 | Excessive crying of child, adolescent, or adult | N | 23 | 463, 464
790.93 | Elevated prostate specific antigen [PSA] | N | 23 | 463, 464
873.63 | Tooth (broken) (fractured) (due to trauma), without mention of complication | N | 3 24 | 185, 186, 187 487
873.73 | Tooth (broken) (fractured) (due to trauma), complicated | N | 3 24 | 185, 186, 187 487
995.91 | Sepsis | Y | 18 | 416, 417
995.92 | Severe sepsis | Y | 18 | 416, 417
995.93 | Systemic inflammatory response syndrome due to noninfectious process without acute organ dysfunction | Y | 18 | 416, 417
995.94 | Systemic inflammatory response syndrome due to noninfectious process with acute organ dysfunction | Y | 18 | 416, 417
V26.31 | Testing of female for genetic disease carrier status | N | 23 | 467
V26.32 | Other genetic testing of female | N | 23 | 467
¹ Principal or secondary diagnosis.
² Principal or secondary diagnosis of major complication.
³ Principal or secondary diagnosis of complex diagnosis.
⁴ Principal or secondary diagnosis of major cardiovascular.
⁵ Principal or secondary diagnosis of major problem.

Table 6F.—Revised Procedure Code Titles
Procedure code | Description | O.R. | MDC | DRG
37.26 | Catheter based invasive electrophysiologic testing | N* | 5 | 104, 518, 555, 556, 557, 558
*Non-O.R. code that affects DRG assignment.

Table 6G.—Additions To The CC Exclusions List
[CCs that are added to the list, effective October 1, 2006, are included in this table. Each of the principal diagnoses is shown with an asterisk, and the revisions to the CC Exclusions List are provided in an indented column immediately following the affected principal diagnosis.]
*0519
0522
*0522
0520
0521
0522
0527
0528
0529
05314
05474
*0527
0522
*0528
0522
*0529
0522
*0530
05314
*05310
05314
*05311
05314
*05312
05314
*05313
05314
*05314
0522
0530
05310
05311
05312
05313
05314
05319
05379
0538
05474
*05319
05314
*05379
05314
*0538
05314
*0539
05314
*05472
05314
*05474
0522
0530
05310
05311
05312
05313
05314
05319
05379
0538
0543
0545
05471
05472
05474
05479
0548
*05479
05314
05474
*0548
05314
05474
*0549
05314
05474
*07888
0522
05314
05474
*07889
0522
05314
05474
*07981
0522
05314
05474
*07988
0522
05314
05474
*07989
0522
05314
05474
*07998
0522
05314
05474
*07999
0522
05314
05474
*1398
0522
05314
05474
*28401
2800
2814
2818
28241
28242
28249
28260
28261
28262
28263
28264
28268
28269
2830
28310
28311
28319
2832
2839
2848
2849
2850
2851
*28409
2800
2814
2818
28241
28242
28249
28260
28261
28262
28263
28264
28268
28269
2830
28310
28311
28319
2832
2839
2848
2849
2850
2851
*2841
2800
2814
2818
28241
28242
28249
28260
28261
28262
28263
28264
28268
28269
2830
28310
28311
28319
2832
2839
2848
2849
2850
2851
*2842
2800
2814
2818
28241
28242
28249
28260
28261
28262
28263
28264
28268
28269
2830
28310
28311
28319
2832
2839
2848
2849
2850
2851
*28800
2881
28981
28982
*28801
2881
28981
28982
*28802
2881
28981
28982
*28803
2881
28981
28982
*28804
2881
28981
28982
*28809
2881
28981
28982
*2884
2881
28981
28982
*28850
2881
28981
28982
*28851
2881
28981
28982
*28859
2881
28981
28982
*28860
2881
28981
28982
*28861
2881
28981
28982
*28862
2881
28981
28982
*28863
2881
28981
28982
*28864
2881
28981
28982
*28865
2881
28981
28982
*28869
2881
28981
28982
*28953
2881
28981
28982
*28983
2800
2814
2818
28241
28242
28249
28260
28261
28262
28263
28264
28268
28269
2830
28310
28311
28319
2832
2839
2848
2849
2850
2851
2860
2861
2862
2863
2864
2865
2866
2867
2869
2870
2871
2872
28730
28731
28732
28733
28739
2874
2875
2878
2879
2881
28981
28982
*32301
0522
05314
05474
34982
*32302
0522
05314
05474
34982
*32341
0522
05314
05474
34982
*32342
0522
05314
05474
34982
*32351
0522
05314
05474
34982
*32352
0522
05314
05474
34982
*32361
0522
05314
05474
34982
*32362
0522
05314
05474
34982
*32363
0522
05314
05474
34982
*32371
0522
05314
05474
34982
*32372
0522
05314
05474
34982
*32381
0522
05314
05474
34982
*32382
0522
05314
05474
34982
*33183
3314
*33371
7817
*33372
7817
*33379
7817
*33385
7817
*3380
04082
44024
78001
78003
7801
78031
78032
78039
7817
7854
78550
78551
78552
78559
7863
78820
78829
7895
7907
7911
7913
79901
79902
7991
7994
*33811
04082
44024
78001
78003
7801
78031
78032
78039
7817
7854
78550
78551
78552
78559
7863
78820
78829
7895
7907
7911
7913
79901
79902
7991
7994
*33812
04082
44024
78001
78003
7801
78031
78032
78039
7817
7854
78550
78551
78552
78559
7863
78820
78829
7895
7907
7911
7913
79901
79902
7991
7994
*33818
04082
44024
78001
78003
7801
78031
78032
78039
7817
7854
78550
78551
78552
78559
7863
78820
78829
7895
7907
7911
7913
79901
79902
7991
7994
*33819
04082
44024
78001
78003
7801
78031
78032
78039
7817
7854
78550
78551
78552
78559
7863
78820
78829
7895
7907
7911
7913
79901
79902
7991
7994
*33821
04082
44024
78001
78003
7801
78031
78032
78039
7817
7854
78550
78551
78552
78559
7863
78820
78829
7895
7907
7911
7913
79901
79902
7991
7994
*33822
04082
44024
78001
78003
7801
78031
78032
78039
7817
7854
78550
78551
78552
78559
7863
78820
78829
7895
7907
7911
7913
79901
79902
7991
7994
*33828
04082
44024
78001
78003
7801
78031
78032
78039
7817
7854
78550
78551
78552
78559
7863
78820
78829
7895
7907
7911
7913
79901
79902
7991
7994
*33829
04082
44024
78001
78003
7801
78031
78032
78039
7817
7854
78550
78551
78552
78559
7863
78820
78829
7895
7907
7911
7913
79901
79902
7991
7994
*3383
04082
44024
78001
78003
7801
78031
78032
78039
7817
7854
78550
78551
78552
78559
7863
78820
78829
7895
7907
7911
7913
79901
79902
7991
7994
*3384
04082
44024
78001
78003
7801
78031
78032
78039
7817
7854
78550
78551
78552
78559
7863
78820
78829
7895
7907
7911
7913
79901
79902
7991
7994
*34120
0522
05314
05474
34982
*34121
0522
05314
05474
34982
*34122
0522
05314
05474
34982
*34500
78032
*34501
78032
*34510
78032
*34511
78032
*3452
78032
*3453
78032
*34540
78032
*34541
78032
*34550
78032
*34551
78032
*34560
78032
*34561
78032
*34570
78032
*34571
78032
*34580
78032
*34581
78032
*34590
78032
*34591
78032
*3488
78032
*3489
78032
*34989
78032
*3499
78032
*37960
37700
37701
37702
*37961
37700
37701
37702
*37962
37700
37701
37702
*37963
37700
37701
37702
*5187
5187
9973
*51911
51900
51901
51902
51909
*51919
51900
51901
51902
51909
*52800
5283
*52801
5283
*52802
5283
*52809
5283
*538
5273
5274
53021
53100
53101
53110
53111
53120
53121
53131
53140
53141
53150
53151
53160
53161
53171
53191
53200
53201
53210
53211
53220
53221
53231
53240
53241
53250
53251
53260
53261
53271
53291
53300
53301
53310
53311
53320
53321
53331
53340
53341
53350
53351
53360
53361
53371
53391
53400
53401
53410
53411
53420
53421
53431
53440
53441
53450
53451
53460
53461
53471
53491
5400
5401
5409
55000
55001
55002
55003
55010
55011
55012
55013
55100
55101
55102
55103
5511
55120
55121
55129
5518
5519
55200
55201
55202
55203
*61681
6140
6143
6145
6150
6163
6164
*61689
6140
6143
6145
6150
6163
6164
*62929
6140
6143
6145
6150
6163
6164
6207
*62981
6140
6143
6145
6150
6163
6164
6207
*62989
6140
6143
6145
6150
6163
6164
6207
*64900
63400
63401
63402
63410
63411
63412
63420
63421
63422
63430
63431
63432
63440
63441
63442
63450
63451
63452
63460
63461
63462
63470
63471
63472
63480
63481
63482
63490
63491
63492
6390
6391
6392
6393
6394
6395
6396
6398
6399
64000
64001
64003
64080
64081
64083
64090
64091
64093
64100
64101
64103
64110
64111
64113
64130
64131
64133
64180
64181
64183
64190
64191
64193
64240
64241
64242
64243
64244
64250
64251
64252
64253
64254
64260
64261
64262
64263
64264
64270
64271
64272
64273
64274
64400
64403
64410
64413
64660
64661
64662
64663
64664
64670
64671
64673
64730
64731
64732
64733
64734
64740
64741
64742
64743
64744
64800
64801
64802
64803
64804
64820
64821
64822
64823
64824
64830
64831
64832
64833
64834
64850
64851
64852
64853
64854
64860
64861
64862
64863
64864
65930
65931
65933
66500
66501
66503
66510
66511
66632
66634
66800
66801
66802
66803
66804
66810
66811
66812
66813
66814
66820
66821
66822
66823
66824
66880
66881
66882
66883
66884
66890
66891
66892
66893
66894
66910
66911
66912
66913
66914
66930
66932
66934
67000
67002
67004
67120
67121
67122
67123
67124
67130
67131
67133
67140
67142
67144
67300
67301
67302
67303
67304
67310
67311
67312
67313
67314
67320
67321
67322
67323
67324
67330
67331
67332
67333
67334
67380
67381
67382
67383
67384
67400
67401
67402
67403
67404
67410
67412
67420
67422
67424
67450
67451
67452
67453
67454
67510
67511
67512
*64901
63400
63401
63402
63410
63411
63412
63420
63421
63422
63430
63431
63432
63440
63441
63442
63450
63451
63452
63460
63461
63462
63470
63471
63472
63480
63481
63482
63490
63491
63492
6390
6391
6392
6393
6394
6395
6396
6398
6399
64000
64001
64003
64080
64081
64083
64090
64091
64093
64100
64101
64103
64110
64111
64113
64130
64131
64133
64180
64181
64183
64190
64191
64193
64240
64241
64242
64243
64244
64250
64251
64252
64253
64254
64260
64261
64262
64263
64264
64270
64271
64272
64273
64274
64400
64403
64410
64413
64660
64661
64662
64663
64664
64670
64671
64673
64730
64731
64732
64733
64734
64740
64741
64742
64743
64744
64800
64801
64802
64803
64804
64820
64821
64822
64823
64824
64830
64831
64832
64833
64834
64850
64851
64852
64853
64854
64860
64861
64862
64863
64864
65930
65931
65933
66500
66501
66503
66510
66511
66632
66634
66800
66801
66802
66803
66804
66810
66811
66812
66813
66814
66820
66821
66822
66823
66824
66880
66881
66882
66883
66884
66890
66891
66892
66893
66894
66910
66911
66912
66913
66914
66930
66932
66934
67000
67002
67004
67120
67121
67122
67123
67124
67130
67131
67133
67140
67142
67144
67300
67301
67302
67303
67304
67310
67311
67312
67313
67314
67320
67321
67322
67323
67324
67330
67331
67332
67333
67334
67380
67381
67382
67383
67384
67400
67401
67402
67403
67404
67410
67412
67420
67422
67424
67450
67451
67452
67453
67454
67510
67511
67512
*64902
63400
63401
63402
63410
63411
63412
63420
63421
63422
63430
63431
63432
63440
63441
63442
63450
63451
63452
63460
63461
63462
63470
63471
63472
63480
63481
63482
63490
63491
63492
6390
6391
6392
6393
6394
6395
6396
6398
6399
64000
64001
64003
64080
64081
64083
64090
64091
64093
64100
64101
64103
64110
64111
64113
64130
64131
64133
64180
64181
64183
64190
64191
64193
64240
64241
64242
64243
64244
64250
64251
64252
64253
64254
64260
64261
64262
64263
64264
64270
64271
64272
64273
64274
64400
64403
64410
64413
64660
64661
64662
64663
64664
64670
64671
64673
64730
64731
64732
64733
64734
64740
64741
64742
64743
64744
64800
64801
64802
64803
64804
64820
64821
64822
64823
64824
64830
64831
64832
64833
64834
64850
64851
64852
64853
64854
64860
64861
64862
64863
64864
65930
65931
65933
66500
66501
66503
66510
66511
66632
66634
66800
66801
66802
66803
66804
66810
66811
66812
66813
66814
66820
66821
66822
66823
66824
66880
66881
66882
66883
66884
66890
66891
66892
66893
66894
66910
66911
66912
66913
66914
66930
66932
66934
67000
67002
67004
67120
67121
67122
67123
67124
67130
67131
67133
67140
67142
67144
67300
67301
67302
67303
67304
67310
67311
67312
67313
67314
67320
67321
67322
67323
67324
67330
67331
67332
67333
67334
67380
67381
67382
67383
67384
67400
67401
67402
67403
67404
67410
67412
67420
67422
67424
67450
67451
67452
67453
67454
67510
67511
67512
*64903
63400
63401
63402
63410
63411
63412
63420
63421
63422
63430
63431
63432
63440
63441
63442
63450
63451
63452
63460
63461
63462
63470
63471
63472
63480
63481
63482
63490
63491
63492
6390
6391
6392
6393
6394
6395
6396
6398
6399
64000
64001
64003
64080
64081
64083
64090
64091
64093
64100
64101
64103
64110
64111
64113
64130
64131
64133
64180
64181
64183
64190
64191
64193
64240
64241
64242
64243
64244
64250
64251
64252
64253
64254
64260
64261
64262
64263
64264
64270
64271
64272
64273
64274
64400
64403
64410
64413
64660
64661
64662
64663
64664
64670
64671
64673
64730
64731
64732
64733
64734
64740
64741
64742
64743
64744
64800
64801
64802
64803
64804
64820
64821
64822
64823
64824
64830
64831
64832
64833
64834
64850
64851
64852
64853
64854
64860
64861
64862
64863
64864
65930
65931
65933
66500
66501
66503
66510
66511
66632
66634
66800
66801
66802
66803
66804
66810
66811
66812
66813
66814
66820
66821
66822
66823
66824
66880
66881
66882
66883
66884
66890
66891
66892
66893
66894
66910
66911
66912
66913
66914
66930
66932
66934
67000
67002
67004
67120
67121
67122
67123
67124
67130
67131
67133
67140
67142
67144
67300
67301
67302
67303
67304
67310
67311
67312
67313
67314
67320
67321
67322
67323
67324
67330
67331
67332
67333
67334
67380
67381
67382
67383
67384
67400
67401
67402
67403
67404
67410
67412
67420
67422
67424
67450
67451
67452
67453
67454
67510
67511
67512
*64904
63400
63401
63402
63410
63411
63412
63420
63421
63422
63430
63431
63432
63440
63441
63442
63450
63451
63452
63460
63461
63462
63470
63471
63472
63480
63481
63482
63490
63491
63492
6390
6391
6392
6393
6394
6395
6396
6398
6399
64000
64001
64003
64080
64081
64083
64090
64091
64093
64100
64101
64103
64110
64111
64113
64130
64131
64133
64180
64181
64183
64190
64191
64193
64240
64241
64242
64243
64244
64250
64251
64252
64253
64254
64260
64261
64262
64263
64264
64270
64271
64272
64273
64274
64400
64403
64410
64413
64660
64661
64662
64663
64664
64670
64671
64673
64730
64731
64732
64733
64734
64740
64741
64742
64743
64744
64800
64801
64802
64803
64804
64820
64821
64822
64823
64824
64830
64831
64832
64833
64834
64850
64851
64852
64853
64854
64860
64861
64862
64863
64864
65930
65931
65933
66500
66501
66503
66510
66511
66632
66634
66800
66801
66802
66803
66804
66810
66811
66812
66813
66814
66820
66821
66822
66823
66824
66880
66881
66882
66883
66884
66890
66891
66892
66893
66894
66910
66911
66912
66913
66914
66930
66932
66934
67000
67002
67004
67120
67121
67122
67123
67124
67130
67131
67133
67140
67142
67144
67300
67301
67302
67303
67304
67310
67311
67312
67313
67314
67320
67321
67322
67323
67324
67330
67331
67332
67333
67334
67380
67381
67382
67383
67384
67400
67401
67402
67403
67404
67410
67412
67420
67422
67424
67450
67451
67452
67453
67454
67510
67511
67512
*64910
63400
63401
63402
63410
63411
63412
63420
63421
63422
63430
63431
63432
63440
63441
63442
63450
63451
63452
63460
63461
63462
63470
63471
63472
63480
63481
63482
63490
63491
63492
6390
6391
6392
6393
6394
6395
6396
6398
6399
64000
64001
64003
64080
64081
64083
64090
64091
64093
64100
64101
64103
64110
64111
64113
64130
64131
64133
64180
64181
64183
64190
64191
64193
64240
64241
64242
64243
64244
64250
64251
64252
64253
64254
64260
64261
64262
64263
64264
64270
64271
64272
64273
64274
64400
64403
64410
64413
64660
64661
64662
64663
64664
64670
64671
64673
64730
64731
64732
64733
64734
64740
64741
64742
64743
64744
64800
64801
64802
64803
64804
64820
64821
64822
64823
64824
64830
64831
64832
64833
64834
64850
64851
64852
64853
64854
64860
64861
64862
64863
64864
65930
65931
65933
66500
66501
66503
66510
66511
66632
66634
66800
66801
66802
66803
66804
66810
66811
66812
66813
66814
66820
66821
66822
66823
66824
66880
66881
66882
66883
66884
66890
66891
66892
66893
66894
66910
66911
66912
66913
66914
66930
66932
66934
67000
67002
67004
67120
67121
67122
67123
67124
67130
67131
67133
67140
67142
67144
67300
67301
67302
67303
67304
67310
67311
67312
67313
67314
67320
67321
67322
67323
67324
67330
67331
67332
67333
67334
67380
67381
67382
67383
67384
67400
67401
67402
67403
67404
67410
67412
67420
67422
67424
67450
67451
67452
67453
67454
67510
67511
67512
*64911
63400
63401
63402
63410
63411
63412
63420
63421
63422
63430
63431
63432
63440
63441
63442
63450
63451
63452
63460
63461
63462
63470
63471
63472
63480
63481
63482
63490
63491
63492
6390
6391
6392
6393
6394
6395
6396
6398
6399
64000
64001
64003
64080
64081
64083
64090
64091
64093
64100
64101
64103
64110
64111
64113
64130
64131
64133
64180
64181
64183
64190
64191
64193
64240
64241
64242
64243
64244
64250
64251
64252
64253
64254
64260
64261
64262
64263
64264
64270
64271
64272
64273
64274
64400
64403
64410
64413
64660
64661
64662
64663
64664
64670
64671
64673
64730
64731
64732
64733
64734
64740
64741
64742
64743
64744
64800
64801
64802
64803
64804
64820
64821
64822
64823
64824
64830
64831
64832
64833
64834
64850
64851
64852
64853
64854
64860
64861
64862
64863
64864
65930
65931
65933
66500
66501
66503
66510
66511
66632
66634
66800
66801
66802
66803
66804
66810
66811
66812
66813
66814
66820
66821
66822
66823
66824
66880
66881
66882
66883
66884
66890
66891
66892
66893
66894
66910
66911
66912
66913
66914
66930
66932
66934
67000
67002
67004
67120
67121
67122
67123
67124
67130
67131
67133
67140
67142
67144
67300
67301
67302
67303
67304
67310
67311
67312
67313
67314
67320
67321
67322
67323
67324
67330
67331
67332
67333
67334
67380
67381
67382
67383
67384
67400
67401
67402
67403
67404
67410
67412
67420
67422
67424
67450
67451
67452
67453
67454
67510
67511
67512
*64912
63400
63401
63402
63410
63411
63412
63420
63421
63422
63430
63431
63432
63440
63441
63442
63450
63451
63452
63460
63461
63462
63470
63471
63472
63480
63481
63482
63490
63491
63492
6390
6391
6392
6393
6394
6395
6396
6398
6399
64000
64001
64003
64080
64081
64083
64090
64091
64093
64100
64101
64103
64110
64111
64113
64130
64131
64133
64180
64181
64183
64190
64191
64193
64240
64241
64242
64243
64244
64250
64251
64252
64253
64254
64260
64261
64262
64263
64264
64270
64271
64272
64273
64274
64400
64403
64410
64413
64660
64661
64662
64663
64664
64670
64671
64673
64730
64731
64732
64733
64734
64740
64741
64742
64743
64744
64800
64801
64802
64803
64804
64820
64821
64822
64823
64824
64830
64831
64832
64833
64834
64850
64851
64852
64853
64854
64860
64861
64862
64863
64864
65930
65931
65933
66500
66501
66503
66510
66511
66632
66634
66800
66801
66802
66803
66804
66810
66811
66812
66813
66814
66820
66821
66822
66823
66824
66880
66881
66882
66883
66884
66890
66891
66892
66893
66894
66910
66911
66912
66913
66914
66930
66932
66934
67000
67002
67004
67120
67121
67122
67123
67124
67130
67131
67133
67140
67142
67144
67300
67301
67302
67303
67304
67310
67311
67312
67313
67314
67320
67321
67322
67323
67324
67330
67331
67332
67333
67334
67380
67381
67382
67383
67384
67400
67401
67402
67403
67404
67410
67412
67420
67422
67424
67450
67451
67452
67453
67454
67510
67511
67512
*64913
63400
63401
63402
63410
63411
63412
63420
63421
63422
63430
63431
63432
63440
63441
63442
63450
63451
63452
63460
63461
63462
63470
63471
63472
63480
63481
63482
63490
63491
63492
6390
6391
6392
6393
6394
6395
6396
6398
6399
64000
64001
64003
64080
64081
64083
64090
64091
64093
64100
64101
64103
64110
64111
64113
64130
64131
64133
64180
64181
64183
64190
64191
64193
64240
64241
64242
64243
64244
64250
64251
64252
64253
64254
64260
64261
64262
64263
64264
64270
64271
64272
64273
64274
64400
64403
64410
64413
64660
64661
64662
64663
64664
64670
64671
64673
64730
64731
64732
64733
64734
64740
64741
64742
64743
64744
64800
64801
64802
64803
64804
64820
64821
64822
64823
64824
64830
64831
64832
64833
64834
64850
64851
64852
64853
64854
64860
64861
64862
64863
64864
65930
65931
65933
66500
66501
66503
66510
66511
66632
66634
66800
66801
66802
66803
66804
66810
66811
66812
66813
66814
66820
66821
66822
66823
66824
66880
66881
66882
66883
66884
66890
66891
66892
66893
66894
66910
66911
66912
66913
66914
66930
66932
66934
67000
67002
67004
67120
67121
67122
67123
67124
67130
67131
67133
67140
67142
67144
67300
67301
67302
67303
67304
67310
67311
67312
67313
67314
67320
67321
67322
67323
67324
67330
67331
67332
67333
67334
67380
67381
67382
67383
67384
67400
67401
67402
67403
67404
67410
67412
67420
67422
67424
67450
67451
67452
67453
67454
67510
67511
67512
*64914
63400
63401
63402
63410
63411
63412
63420
63421
63422
63430
63431
63432
63440
63441
63442
63450
63451
63452
63460
63461
63462
63470
63471
63472
63480
63481
63482
63490
63491
63492
6390
6391
6392
6393
6394
6395
6396
6398
6399
64000
64001
64003
64080
64081
64083
64090
64091
64093
64100
64101
64103
64110
64111
64113
64130
64131
64133
64180
64181
64183
64190
64191
64193
64240
64241
64242
64243
64244
64250
64251
64252
64253
64254
64260
64261
64262
64263
64264
64270
64271
64272
64273
64274
64400
64403
64410
64413
64660
64661
64662
64663
64664
64670
64671
64673
64730
64731
64732
64733
64734
64740
64741
64742
64743
64744
64800
64801
64802
64803
64804
64820
64821
64822
64823
64824
64830
64831
64832
64833
64834
64850
64851
64852
64853
64854
64860
64861
64862
64863
64864
65930
65931
65933
66500
66501
66503
66510
66511
66632
66634
66800
66801
66802
66803
66804
66810
66811
66812
66813
66814
66820
66821
66822
66823
66824
66880
66881
66882
66883
66884
66890
66891
66892
66893
66894
66910
66911
66912
66913
66914
66930
66932
66934
67000
67002
67004
67120
67121
67122
67123
67124
67130
67131
67133
67140
67142
67144
67300
67301
67302
67303
67304
67310
67311
67312
67313
67314
67320
67321
67322
67323
67324
67330
67331
67332
67333
67334
67380
67381
67382
67383
67384
67400
67401
67402
67403
67404
67410
67412
67420
67422
67424
67450
67451
67452
67453
67454
67510
67511
67512
*64920
63400
63401
63402
63410
63411
63412
63420
63421
63422
63430
63431
63432
63440
63441
63442
63450
63451
63452
63460
63461
63462
63470
63471
63472
63480
63481
63482
63490
63491
63492
6390
6391
6392
6393
6394
6395
6396
6398
6399
64000
64001
64003
64080
64081
64083
64090
64091
64093
64100
64101
64103
64110
64111
64113
64130
64131
64133
64180
64181
64183
64190
64191
64193
64240
64241
64242
64243
64244
64250
64251
64252
64253
64254
64260
64261
64262
64263
64264
64270
64271
64272
64273
64274
64400
64403
64410
64413
64660
64661
64662
64663
64664
64670
64671
64673
64730
64731
64732
64733
64734
64740
64741
64742
64743
64744
64800
64801
64802
64803
64804
64820
64821
64822
64823
64824
64830
64831
64832
64833
64834
64850
64851
64852
64853
64854
64860
64861
64862
64863
64864
65930
65931
65933
66500
66501
66503
66510
66511
66632
66634
66800
66801
66802
66803
66804
66810
66811
66812
66813
66814
66820
66821
66822
66823
66824
66880
66881
66882
66883
66884
66890
66891
66892
66893
66894
66910
66911
66912
66913
66914
66930
66932
66934
67000
67002
67004
67120
67121
67122
67123
67124
67130
67131
67133
67140
67142
67144
67300
67301
67302
67303
67304
67310
67311
67312
67313
67314
67320
67321
67322
67323
67324
67330
67331
67332
67333
67334
67380
67381
67382
67383
67384
67400
67401
67402
67403
67404
67410
67412
67420
67422
67424
67450
67451
67452
67453
67454
67510
67511
67512
*64921
63400
63401
63402
63410
63411
63412
63420
63421
63422
63430
63431
63432
63440
63441
63442
63450
63451
63452
63460
63461
63462
63470
63471
63472
63480
63481
63482
63490
63491
63492
6390
6391
6392
6393
6394
6395
6396
6398
6399
64000
64001
64003
64080
64081
64083
64090
64091
64093
64100
64101
64103
64110
64111
64113
64130
64131
64133
64180
64181
64183
64190
64191
64193
64240
64241
64242
64243
64244
64250
64251
64252
64253
64254
64260
64261
64262
64263
64264
64270
64271
64272
64273
64274
64400
64403
64410
64413
64660
64661
64662
64663
64664
64670
64671
64673
64730
64731
64732
64733
64734
64740
64741
64742
64743
64744
64800
64801
64802
64803
64804
64820
64821
64822
64823
64824
64830
64831
64832
64833
64834
64850
64851
64852
64853
64854
64860
64861
64862
64863
64864
65930
65931
65933
66500
66501
66503
66510
66511
66632
66634
66800
66801
66802
66803
66804
66810
66811
66812
66813
66814
66820
66821
66822
66823
66824
66880
66881
66882
66883
66884
66890
66891
66892
66893
66894
66910
66911
66912
66913
66914
66930
66932
66934
67000
67002
67004
67120
67121
67122
67123
67124
67130
67131
67133
67140
67142
67144
67300
67301
67302
67303
67304
67310
67311
67312
67313
67314
67320
67321
67322
67323
67324
67330
67331
67332
67333
67334
67380
67381
67382
67383
67384
67400
67401
67402
67403
67404
67410
67412
67420
67422
67424
67450
67451
67452
67453
67454
67510
67511
67512
*64922
63400
63401
63402
63410
63411
63412
63420
63421
63422
63430
63431
63432
63440
63441
63442
63450
63451
63452
63460
63461
63462
63470
63471
63472
63480
63481
63482
63490
63491
63492
6390
6391
6392
6393
6394
6395
6396
6398
6399
64000
64001
64003
64080
64081
64083
64090
64091
64093
64100
64101
64103
64110
64111
64113
64130
64131
64133
64180
64181
64183
64190
64191
64193
64240
64241
64242
64243
64244
64250
64251
64252
64253
64254
64260
64261
64262
64263
64264
64270
64271
64272
64273
64274
64400
64403
64410
64413
64660
64661
64662
64663
64664
64670
64671
64673
64730
64731
64732
64733
64734
64740
64741
64742
64743
64744
64800
64801
64802
64803
64804
64820
64821
64822
64823
64824
64830
64831
64832
64833
64834
64850
64851
64852
64853
64854
64860
64861
64862
64863
64864
65930
65931
65933
66500
66501
66503
66510
66511
66632
66634
66800
66801
66802
66803
66804
66810
66811
66812
66813
66814
66820
66821
66822
66823
66824
66880
66881
66882
66883
66884
66890
66891
66892
66893
66894
66910
66911
66912
66913
66914
66930
66932
66934
67000
67002
67004
67120
67121
67122
67123
67124
67130
67131
67133
67140
67142
67144
67300
67301
67302
67303
67304
67310
67311
67312
67313
67314
67320
67321
67322
67323
67324
67330
67331
67332
67333
67334
67380
67381
67382
67383
67384
67400
67401
67402
67403
67404
67410
67412
67420
67422
67424
67450
67451
67452
67453
67454
67510
67511
67512
*64923
63400
63401
63402
63410
63411
63412
63420
63421
63422
63430
63431
63432
63440
63441
63442
63450
63451
63452
63460
63461
63462
63470
63471
63472
63480
63481
63482
63490
63491
63492
6390
6391
6392
6393
6394
6395
6396
6398
6399
64000
64001
64003
64080
64081
64083
64090
64091
64093
64100
64101
64103
64110
64111
64113
64130
64131
64133
64180
64181
64183
64190
64191
64193
64240
64241
64242
64243
64244
64250
64251
64252
64253
64254
64260
64261
64262
64263
64264
64270
64271
64272
64273
64274
64400
64403
64410
64413
64660
64661
64662
64663
64664
64670
64671
64673
64730
64731
64732
64733
64734
64740
64741
64742
64743
64744
64800
64801
64802
64803
64804
64820
64821
64822
64823
64824
64830
64831
64832
64833
64834
64850
64851
64852
64853
64854
64860
64861
64862
64863
64864
65930
65931
65933
66500
66501
66503
66510
66511
66632
66634
66800
66801
66802
66803
66804
66810
66811
66812
66813
66814
66820
66821
66822
66823
66824
66880
66881
66882
66883
66884
66890
66891
66892
66893
66894
66910
66911
66912
66913
66914
66930
66932
66934
67000
67002
67004
67120
67121
67122
67123
67124
67130
67131
67133
67140
67142
67144
67300
67301
67302
67303
67304
67310
67311
67312
67313
67314
67320
67321
67322
67323
67324
67330
67331
67332
67333
67334
67380
67381
67382
67383
67384
67400
67401
67402
67403
67404
67410
67412
67420
67422
67424
67450
67451
67452
67453
67454
67510
67511
67512
*64924
63400
63401
63402
63410
63411
63412
63420
63421
63422
63430
63431
63432
63440
63441
63442
63450
63451
63452
63460
63461
63462
63470
63471
63472
63480
63481
63482
63490
63491
63492
6390
6391
6392
6393
6394
6395
6396
6398
6399
64000
64001
64003
64080
64081
64083
64090
64091
64093
64100
64101
64103
64110
64111
64113
64130
64131
64133
64180
64181
64183
64190
64191
64193
64240
64241
64242
64243
64244
64250
64251
64252
64253
64254
64260
64261
64262
64263
64264
64270
64271
64272
64273
64274
64400
64403
64410
64413
64660
64661
64662
64663
64664
64670
64671
64673
64730
64731
64732
64733
64734
64740
64741
64742
64743
64744
64800
64801
64802
64803
64804
64820
64821
64822
64823
64824
64830
64831
64832
64833
64834
64850
64851
64852
64853
64854
64860
64861
64862
64863
64864
65930
65931
65933
66500
66501
66503
66510
66511
66632
66634
66800
66801
66802
66803
66804
66810
66811
66812
66813
66814
66820
66821
66822
66823
66824
66880
66881
66882
66883
66884
66890
66891
66892
66893
66894
66910
66911
66912
66913
66914
66930
66932
66934
67000
67002
67004
67120
67121
67122
67123
67124
67130
67131
67133
67140
67142
67144
67300
67301
67302
67303
67304
67310
67311
67312
67313
67314
67320
67321
67322
67323
67324
67330
67331
67332
67333
67334
67380
67381
67382
67383
67384
67400
67401
67402
67403
67404
67410
67412
67420
67422
67424
67450
67451
67452
67453
67454
67510
67511
67512
*64930
63400
63401
63402
63410
63411
63412
63420
63421
63422
63430
63431
63432
63440
63441
63442
63450
63451
63452
63460
63461
63462
63470
63471
63472
63480
63481
63482
63490
63491
63492
6390
6391
6392
6393
6394
6395
6396
6398
6399
64000
64001
64003
64080
64081
64083
64090
64091
64093
64100
64101
64103
64110
64111
64113
64130
64131
64133
64180
64181
64183
64190
64191
64193
64240
64241
64242
64243
64244
64250
64251
64252
64253
64254
64260
64261
64262
64263
64264
64270
64271
64272
64273
64274
64400
64403
64410
64413
64660
64661
64662
64663
64664
64670
64671
64673
64730
64731
64732
64733
64734
64740
64741
64742
64743
64744
64800
64801
64802
64803
64804
64820
64821
64822
64823
64824
64830
64831
64832
64833
64834
64850
64851
64852
64853
64854
64860
64861
64862
64863
64864
65930
65931
65933
66500
66501
66503
66510
66511
66632
66634
66800
66801
66802
66803
66804
66810
66811
66812
66813
66814
66820
66821
66822
66823
66824
66880
66881
66882
66883
66884
66890
66891
66892
66893
66894
66910
66911
66912
66913
66914
66930
66932
66934
67000
67002
67004
67120
67121
67122
67123
67124
67130
67131
67133
67140
67142
67144
67300
67301
67302
67303
67304
67310
67311
67312
67313
67314
67320
67321
67322
67323
67324
67330
67331
67332
67333
67334
67380
67381
67382
67383
67384
67400
67401
67402
67403
67404
67410
67412
67420
67422
67424
67450
67451
67452
67453
67454
67510
67511
67512
*64931
63400
63401
63402
63410
63411
63412
63420
63421
63422
63430
63431
63432
63440
63441
63442
63450
63451
63452
63460
63461
63462
63470
63471
63472
63480
63481
63482
63490
63491
63492
6390
6391
6392
6393
6394
6395
6396
6398
6399
64000
64001
64003
64080
64081
64083
64090
64091
64093
64100
64101
64103
64110
64111
64113
64130
64131
64133
64180
64181
64183
64190
64191
64193
64240
64241
64242
64243
64244
64250
64251
64252
64253
64254
64260
64261
64262
64263
64264
64270
64271
64272
64273
64274
64400
64403
64410
64413
64660
64661
64662
64663
64664
64670
64671
64673
64730
64731
64732
64733
64734
64740
64741
64742
64743
64744
64800
64801
64802
64803
64804
64820
64821
64822
64823
64824
64830
64831
64832
64833
64834
64850
64851
64852
64853
64854
64860
64861
64862
64863
64864
65930
65931
65933
66500
66501
66503
66510
66511
66632
66634
66800
66801
66802
66803
66804
66810
66811
66812
66813
66814
66820
66821
66822
66823
66824
66880
66881
66882
66883
66884
66890
66891
66892
66893
66894
66910
66911
66912
66913
66914
66930
66932
66934
67000
67002
67004
67120
67121
67122
67123
67124
67130
67131
67133
67140
67142
67144
67300
67301
67302
67303
67304
67310
67311
67312
67313
67314
67320
67321
67322
67323
67324
67330
67331
67332
67333
67334
67380
67381
67382
67383
67384
67400
67401
67402
67403
67404
67410
67412
67420
67422
67424
67450
67451
67452
67453
67454
67510
67511
67512
*64932
63400
63401
63402
63410
63411
63412
63420
63421
63422
63430
63431
63432
63440
63441
63442
63450
63451
63452
63460
63461
63462
63470
63471
63472
63480
63481
63482
63490
63491
63492
6390
6391
6392
6393
6394
6395
6396
6398
6399
64000
64001
64003
64080
64081
64083
64090
64091
64093
64100
64101
64103
64110
64111
64113
64130
64131
64133
64180
64181
64183
64190
64191
64193
64240
64241
64242
64243
64244
64250
64251
64252
64253
64254
64260
64261
64262
64263
64264
64270
64271
64272
64273
64274
64400
64403
64410
64413
64660
64661
64662
64663
64664
64670
64671
64673
64730
64731
64732
64733
64734
64740
64741
64742
64743
64744
64800
64801
64802
64803
64804
64820
64821
64822
64823
64824
64830
64831
64832
64833
64834
64850
64851
64852
64853
64854
64860
64861
64862
64863
64864
65930
65931
65933
66500
66501
66503
66510
66511
66632
66634
66800
66801
66802
66803
66804
66810
66811
66812
66813
66814
66820
66821
66822
66823
66824
66880
66881
66882
66883
66884
66890
66891
66892
66893
66894
66910
66911
66912
66913
66914
66930
66932
66934
67000
67002
67004
67120
67121
67122
67123
67124
67130
67131
67133
67140
67142
67144
67300
67301
67302
67303
67304
67310
67311
67312
67313
67314
67320
67321
67322
67323
67324
67330
67331
67332
67333
67334
67380
67381
67382
67383
67384
67400
67401
67402
67403
67404
67410
67412
67420
67422
67424
67450
67451
67452
67453
67454
67510
67511
67512
*64933
63400
63401
63402
63410
63411
63412
63420
63421
63422
63430
63431
63432
63440
63441
63442
63450
63451
63452
63460
63461
63462
63470
63471
63472
63480
63481
63482
63490
63491
63492
6390
6391
6392
6393
6394
6395
6396
6398
6399
64000
64001
64003
64080
64081
64083
64090
64091
64093
64100
64101
64103
64110
64111
64113
64130
64131
64133
64180
64181
64183
64190
64191
64193
64240
64241
64242
64243
64244
64250
64251
64252
64253
64254
64260
64261
64262
64263
64264
64270
64271
64272
64273
64274
64400
64403
64410
64413
64660
64661
64662
64663
64664
64670
64671
64673
64730
64731
64732
64733
64734
64740
64741
64742
64743
64744
64800
64801
64802
64803
64804
64820
64821
64822
64823
64824
64830
64831
64832
64833
64834
64850
64851
64852
64853
64854
64860
64861
64862
64863
64864
65930
65931
65933
66500
66501
66503
66510
66511
66632
66634
66800
66801
66802
66803
66804
66810
66811
66812
66813
66814
66820
66821
66822
66823
66824
66880
66881
66882
66883
66884
66890
66891
66892
66893
66894
66910
66911
66912
66913
66914
66930
66932
66934
67000
67002
67004
67120
67121
67122
67123
67124
67130
67131
67133
67140
67142
67144
67300
67301
67302
67303
67304
67310
67311
67312
67313
67314
67320
67321
67322
67323
67324
67330
67331
67332
67333
67334
67380
67381
67382
67383
67384
67400
67401
67402
67403
67404
67410
67412
67420
67422
67424
67450
67451
67452
67453
67454
67510
67511
67512
*64934
63400
63401
63402
63410
63411
63412
63420
63421
63422
63430
63431
63432
63440
63441
63442
63450
63451
63452
63460
63461
63462
63470
63471
63472
63480
63481
63482
63490
63491
63492
6390
6391
6392
6393
6394
6395
6396
6398
6399
64000
64001
64003
64080
64081
64083
64090
64091
64093
64100
64101
64103
64110
64111
64113
64130
64131
64133
64180
64181
64183
64190
64191
64193
64240
64241
64242
64243
64244
64250
64251
64252
64253
64254
64260
64261
64262
64263
64264
64270
64271
64272
64273
64274
64400
64403
64410
64413
64660
64661
64662
64663
64664
64670
64671
64673
64730
64731
64732
64733
64734
64740
64741
64742
64743
64744
64800
64801
64802
64803
64804
64820
64821
64822
64823
64824
64830
64831
64832
64833
64834
64850
64851
64852
64853
64854
64860
64861
64862
64863
64864
65930
65931
65933
66500
66501
66503
66510
66511
66632
66634
66800
66801
66802
66803
66804
66810
66811
66812
66813
66814
66820
66821
66822
66823
66824
66880
66881
66882
66883
66884
66890
66891
66892
66893
66894
66910
66911
66912
66913
66914
66930
66932
66934
67000
67002
67004
67120
67121
67122
67123
67124
67130
67131
67133
67140
67142
67144
67300
67301
67302
67303
67304
67310
67311
67312
67313
67314
67320
67321
67322
67323
67324
67330
67331
67332
67333
67334
67380
67381
67382
67383
67384
67400
67401
67402
67403
67404
67410
67412
67420
67422
67424
67450
67451
67452
67453
67454
67510
67511
67512
*64940
63400
63401
63402
63410
63411
63412
63420
63421
63422
63430
63431
63432
63440
63441
63442
63450
63451
63452
63460
63461
63462
63470
63471
63472
63480
63481
63482
63490
63491
63492
6390
6391
6392
6393
6394
6395
6396
6398
6399
64000
64001
64003
64080
64081
64083
64090
64091
64093
64100
64101
64103
64110
64111
64113
64130
64131
64133
64180
64181
64183
64190
64191
64193
64240
64241
64242
64243
64244
64250
64251
64252
64253
64254
64260
64261
64262
64263
64264
64270
64271
64272
64273
64274
64400
64403
64410
64413
64660
64661
64662
64663
64664
64670
64671
64673
64730
64731
64732
64733
64734
64740
64741
64742
64743
64744
64800
64801
64802
64803
64804
64820
64821
64822
64823
64824
64830
64831
64832
64833
64834
64850
64851
64852
64853
64854
64860
64861
64862
64863
64864
65930
65931
65933
66500
66501
66503
66510
66511
66632
66634
66800
66801
66802
66803
66804
66810
66811
66812
66813
66814
66820
66821
66822
66823
66824
66880
66881
66882
66883
66884
66890
66891
66892
66893
66894
66910
66911
66912
66913
66914
66930
66932
66934
67000
67002
67004
67120
67121
67122
67123
67124
67130
67131
67133
67140
67142
67144
67300
67301
67302
67303
67304
67310
67311
67312
67313
67314
67320
67321
67322
67323
67324
67330
67331
67332
67333
67334
67380
67381
67382
67383
67384
67400
67401
67402
67403
67404
67410
67412
67420
67422
67424
67450
67451
67452
67453
67454
67510
67511
67512
*64941
63400
63401
63402
63410
63411
63412
63420
63421
63422
63430
63431
63432
63440
63441
63442
63450
63451
63452
63460
63461
63462
63470
63471
63472
63480
63481
63482
63490
63491
63492
6390
6391
6392
6393
6394
6395
6396
6398
6399
64000
64001
64003
64080
64081
64083
64090
64091
64093
64100
64101
64103
64110
64111
64113
64130
64131
64133
64180
64181
64183
64190
64191
64193
64240
64241
64242
64243
64244
64250
64251
64252
64253
64254
64260
64261
64262
64263
64264
64270
64271
64272
64273
64274
64400
64403
64410
64413
64660
64661
64662
64663
64664
64670
64671
64673
64730
64731
64732
64733
64734
64740
64741
64742
64743
64744
64800
64801
64802
64803
64804
64820
64821
64822
64823
64824
64830
64831
64832
64833
64834
64850
64851
64852
64853
64854
64860
64861
64862
64863
64864
65930
65931
65933
66500
66501
66503
66510
66511
66632
66634
66800
66801
66802
66803
66804
66810
66811
66812
66813
66814
66820
66821
66822
66823
66824
66880
66881
66882
66883
66884
66890
66891
66892
66893
66894
66910
66911
66912
66913
66914
66930
66932
66934
67000
67002
67004
67120
67121
67122
67123
67124
67130
67131
67133
67140
67142
67144
67300
67301
67302
67303
67304
67310
67311
67312
67313
67314
67320
67321
67322
67323
67324
67330
67331
67332
67333
67334
67380
67381
67382
67383
67384
67400
67401
67402
67403
67404
67410
67412
67420
67422
67424
67450
67451
67452
67453
67454
67510
67511
67512
*64942
63400
63401
63402
63410
63411
63412
63420
63421
63422
63430
63431
63432
63440
63441
63442
63450
63451
63452
63460
63461
63462
63470
63471
63472
63480
63481
63482
63490
63491
63492
6390
6391
6392
6393
6394
6395
6396
6398
6399
64000
64001
64003
64080
64081
64083
64090
64091
64093
64100
64101
64103
64110
64111
64113
64130
64131
64133
64180
64181
64183
64190
64191
64193
64240
64241
64242
64243
64244
64250
64251
64252
64253
64254
64260
64261
64262
64263
64264
64270
64271
64272
64273
64274
64400
64403
64410
64413
64660
64661
64662
64663
64664
64670
64671
64673
64730
64731
64732
64733
64734
64740
64741
64742
64743
64744
64800
64801
64802
64803
64804
64820
64821
64822
64823
64824
64830
64831
64832
64833
64834
64850
64851
64852
64853
64854
64860
64861
64862
64863
64864
65930
65931
65933
66500
66501
66503
66510
66511
66632
66634
66800
66801
66802
66803
66804
66810
66811
66812
66813
66814
66820
66821
66822
66823
66824
66880
66881
66882
66883
66884
66890
66891
66892
66893
66894
66910
66911
66912
66913
66914
66930
66932
66934
67000
67002
67004
67120
67121
67122
67123
67124
67130
67131
67133
67140
67142
67144
67300
67301
67302
67303
67304
67310
67311
67312
67313
67314
67320
67321
67322
67323
67324
67330
67331
67332
67333
67334
67380
67381
67382
67383
67384
67400
67401
67402
67403
67404
67410
67412
67420
67422
67424
67450
67451
67452
67453
67454
67510
67511
67512
*64943
63400
63401
63402
63410
63411
63412
63420
63421
63422
63430
63431
63432
63440
63441
63442
63450
63451
63452
63460
63461
63462
63470
63471
63472
63480
63481
63482
63490
63491
63492
6390
6391
6392
6393
6394
6395
6396
6398
6399
64000
64001
64003
64080
64081
64083
64090
64091
64093
64100
64101
64103
64110
64111
64113
64130
64131
64133
64180
64181
64183
64190
64191
64193
64240
64241
64242
64243
64244
64250
64251
64252
64253
64254
64260
64261
64262
64263
64264
64270
64271
64272
64273
64274
64400
64403
64410
64413
64660
64661
64662
64663
64664
64670
64671
64673
64730
64731
64732
64733
64734
64740
64741
64742
64743
64744
64800
64801
64802
64803
64804
64820
64821
64822
64823
64824
64830
64831
64832
64833
64834
64850
64851
64852
64853
64854
64860
64861
64862
64863
64864
65930
65931
65933
66500
66501
66503
66510
66511
66632
66634
66800
66801
66802
66803
66804
66810
66811
66812
66813
66814
66820
66821
66822
66823
66824
66880
66881
66882
66883
66884
66890
66891
66892
66893
66894
66910
66911
66912
66913
66914
66930
66932
66934
67000
67002
67004
67120
67121
67122
67123
67124
67130
67131
67133
67140
67142
67144
67300
67301
67302
67303
67304
67310
67311
67312
67313
67314
67320
67321
67322
67323
67324
67330
67331
67332
67333
67334
67380
67381
67382
67383
67384
67400
67401
67402
67403
67404
67410
67412
67420
67422
67424
67450
67451
67452
67453
67454
67510
67511
67512
*64944
63400
63401
63402
63410
63411
63412
63420
63421
63422
63430
63431
63432
63440
63441
63442
63450
63451
63452
63460
63461
63462
63470
63471
63472
63480
63481
63482
63490
63491
63492
6390
6391
6392
6393
6394
6395
6396
6398
6399
64000
64001
64003
64080
64081
64083
64090
64091
64093
64100
64101
64103
64110
64111
64113
64130
64131
64133
64180
64181
64183
64190
64191
64193
64240
64241
64242
64243
64244
64250
64251
64252
64253
64254
64260
64261
64262
64263
64264
64270
64271
64272
64273
64274
64400
64403
64410
64413
64660
64661
64662
64663
64664
64670
64671
64673
64730
64731
64732
64733
64734
64740
64741
64742
64743
64744
64800
64801
64802
64803
64804
64820
64821
64822
64823
64824
64830
64831
64832
64833
64834
64850
64851
64852
64853
64854
64860
64861
64862
64863
64864
65930
65931
65933
66500
66501
66503
66510
66511
66632
66634
66800
66801
66802
66803
66804
66810
66811
66812
66813
66814
66820
66821
66822
66823
66824
66880
66881
66882
66883
66884
66890
66891
66892
66893
66894
66910
66911
66912
66913
66914
66930
66932
66934
67000
67002
67004
67120
67121
67122
67123
67124
67130
67131
67133
67140
67142
67144
67300
67301
67302
67303
67304
67310
67311
67312
67313
67314
67320
67321
67322
67323
67324
67330
67331
67332
67333
67334
67380
67381
67382
67383
67384
67400
67401
67402
67403
67404
67410
67412
67420
67422
67424
67450
67451
67452
67453
67454
67510
67511
67512
*64950
63400
63401
63402
63410
63411
63412
63420
63421
63422
63430
63431
63432
63440
63441
63442
63450
63451
63452
63460
63461
63462
63470
63471
63472
63480
63481
63482
63490
63491
63492
6390
6391
6392
6393
6394
6395
6396
6398
6399
64000
64001
64003
64080
64081
64083
64090
64091
64093
64100
64101
64103
64110
64111
64113
64130
64131
64133
64180
64181
64183
64190
64191
64193
64240
64241
64242
64243
64244
64250
64251
64252
64253
64254
64260
64261
64262
64263
64264
64270
64271
64272
64273
64274
64400
64403
64410
64413
64660
64661
64662
64663
64664
64670
64671
64673
64730
64731
64732
64733
64734
64740
64741
64742
64743
64744
64800
64801
64802
64803
64804
64820
64821
64822
64823
64824
64830
64831
64832
64833
64834
64850
64851
64852
64853
64854
64860
64861
64862
64863
64864
65930
65931
65933
66500
66501
66503
66510
66511
66632
66634
66800
66801
66802
66803
66804
66810
66811
66812
66813
66814
66820
66821
66822
66823
66824
66880
66881
66882
66883
66884
66890
66891
66892
66893
66894
66910
66911
66912
66913
66914
66930
66932
66934
67000
67002
67004
67120
67121
67122
67123
67124
67130
67131
67133
67140
67142
67144
67300
67301
67302
67303
67304
67310
67311
67312
67313
67314
67320
67321
67322
67323
67324
67330
67331
67332
67333
67334
67380
67381
67382
67383
67384
67400
67401
67402
67403
67404
67410
67412
67420
67422
67424
67450
67451
67452
67453
67454
67510
67511
67512
*64951
63400
63401
63402
63410
63411
63412
63420
63421
63422
63430
63431
63432
63440
63441
63442
63450
63451
63452
63460
63461
63462
63470
63471
63472
63480
63481
63482
63490
63491
63492
6390
6391
6392
6393
6394
6395
6396
6398
6399
64000
64001
64003
64080
64081
64083
64090
64091
64093
64100
64101
64103
64110
64111
64113
64130
64131
64133
64180
64181
64183
64190
64191
64193
64240
64241
64242
64243
64244
64250
64251
64252
64253
64254
64260
64261
64262
64263
64264
64270
64271
64272
64273
64274
64400
64403
64410
64413
64660
64661
64662
64663
64664
64670
64671
64673
64730
64731
64732
64733
64734
64740
64741
64742
64743
64744
64800
64801
64802
64803
64804
64820
64821
64822
64823
64824
64830
64831
64832
64833
64834
64850
64851
64852
64853
64854
64860
64861
64862
64863
64864
65930
65931
65933
66500
66501
66503
66510
66511
66632
66634
66800
66801
66802
66803
66804
66810
66811
66812
66813
66814
66820
66821
66822
66823
66824
66880
66881
66882
66883
66884
66890
66891
66892
66893
66894
66910
66911
66912
66913
66914
66930
66932
66934
67000
67002
67004
67120
67121
67122
67123
67124
67130
67131
67133
67140
67142
67144
67300
67301
67302
67303
67304
67310
67311
67312
67313
67314
67320
67321
67322
67323
67324
67330
67331
67332
67333
67334
67380
67381
67382
67383
67384
67400
67401
67402
67403
67404
67410
67412
67420
67422
67424
67450
67451
67452
67453
67454
67510
67511
67512
*64953
63400
63401
63402
63410
63411
63412
63420
63421
63422
63430
63431
63432
63440
63441
63442
63450
63451
63452
63460
63461
63462
63470
63471
63472
63480
63481
63482
63490
63491
63492
6390
6391
6392
6393
6394
6395
6396
6398
6399
64000
64001
64003
64080
64081
64083
64090
64091
64093
64100
64101
64103
64110
64111
64113
64130
64131
64133
64180
64181
64183
64190
64191
64193
64240
64241
64242
64243
64244
64250
64251
64252
64253
64254
64260
64261
64262
64263
64264
64270
64271
64272
64273
64274
64400
64403
64410
64413
64660
64661
64662
64663
64664
64670
64671
64673
64730
64731
64732
64733
64734
64740
64741
64742
64743
64744
64800
64801
64802
64803
64804
64820
64821
64822
64823
64824
64830
64831
64832
64833
64834
64850
64851
64852
64853
64854
64860
64861
64862
64863
64864
65930
65931
65933
66500
66501
66503
66510
66511
66632
66634
66800
66801
66802
66803
66804
66810
66811
66812
66813
66814
66820
66821
66822
66823
66824
66880
66881
66882
66883
66884
66890
66891
66892
66893
66894
66910
66911
66912
66913
66914
66930
66932
66934
67000
67002
67004
67120
67121
67122
67123
67124
67130
67131
67133
67140
67142
67144
67300
67301
67302
67303
67304
67310
67311
67312
67313
67314
67320
67321
67322
67323
67324
67330
67331
67332
67333
67334
67380
67381
67382
67383
67384
67400
67401
67402
67403
67404
67410
67412
67420
67422
67424
67450
67451
67452
67453
67454
67510
67511
67512
*64960
63400
63401
63402
63410
63411
63412
63420
63421
63422
63430
63431
63432
63440
63441
63442
63450
63451
63452
63460
63461
63462
63470
63471
63472
63480
63481
63482
63490
63491
63492
6390
6391
6392
6393
6394
6395
6396
6398
6399
64000
64001
64003
64080
64081
64083
64090
64091
64093
64100
64101
64103
64110
64111
64113
64130
64131
64133
64180
64181
64183
64190
64191
64193
64240
64241
64242
64243
64244
64250
64251
64252
64253
64254
64260
64261
64262
64263
64264
64270
64271
64272
64273
64274
64400
64403
64410
64413
64660
64661
64662
64663
64664
64670
64671
64673
64730
64731
64732
64733
64734
64740
64741
64742
64743
64744
64800
64801
64802
64803
64804
64820
64821
64822
64823
64824
64830
64831
64832
64833
64834
64850
64851
64852
64853
64854
64860
64861
64862
64863
64864
65930
65931
65933
66500
66501
66503
66510
66511
66632
66634
66800
66801
66802
66803
66804
66810
66811
66812
66813
66814
66820
66821
66822
66823
66824
66880
66881
66882
66883
66884
66890
66891
66892
66893
66894
66910
66911
66912
66913
66914
66930
66932
66934
67000
67002
67004
67120
67121
67122
67123
67124
67130
67131
67133
67140
67142
67144
67300
67301
67302
67303
67304
67310
67311
67312
67313
67314
67320
67321
67322
67323
67324
67330
67331
67332
67333
67334
67380
67381
67382
67383
67384
67400
67401
67402
67403
67404
67410
67412
67420
67422
67424
67450
67451
67452
67453
67454
67510
67511
67512
*64961
63400
63401
63402
63410
63411
63412
63420
63421
63422
63430
63431
63432
63440
63441
63442
63450
63451
63452
63460
63461
63462
63470
63471
63472
63480
63481
63482
63490
63491
63492
6390
6391
6392
6393
6394
6395
6396
6398
6399
64000
64001
64003
64080
64081
64083
64090
64091
64093
64100
64101
64103
64110
64111
64113
64130
64131
64133
64180
64181
64183
64190
64191
64193
64240
64241
64242
64243
64244
64250
64251
64252
64253
64254
64260
64261
64262
64263
64264
64270
64271
64272
64273
64274
64400
64403
64410
64413
64660
64661
64662
64663
64664
64670
64671
64673
64730
64731
64732
64733
64734
64740
64741
64742
64743
64744
64800
64801
64802
64803
64804
64820
64821
64822
64823
64824
64830
64831
64832
64833
64834
64850
64851
64852
64853
64854
64860
64861
64862
64863
64864
65930
65931
65933
66500
66501
66503
66510
66511
66632
66634
66800
66801
66802
66803
66804
66810
66811
66812
66813
66814
66820
66821
66822
66823
66824
66880
66881
66882
66883
66884
66890
66891
66892
66893
66894
66910
66911
66912
66913
66914
66930
66932
66934
67000
67002
67004
67120
67121
67122
67123
67124
67130
67131
67133
67140
67142
67144
67300
67301
67302
67303
67304
67310
67311
67312
67313
67314
67320
67321
67322
67323
67324
67330
67331
67332
67333
67334
67380
67381
67382
67383
67384
67400
67401
67402
67403
67404
67410
67412
67420
67422
67424
67450
67451
67452
67453
67454
67510
67511
67512
*64962
63400
63401
63402
63410
63411
63412
63420
63421
63422
63430
63431
63432
63440
63441
63442
63450
63451
63452
63460
63461
63462
63470
63471
63472
63480
63481
63482
63490
63491
63492
6390
6391
6392
6393
6394
6395
6396
6398
6399
64000
64001
64003
64080
64081
64083
64090
64091
64093
64100
64101
64103
64110
64111
64113
64130
64131
64133
64180
64181
64183
64190
64191
64193
64240
64241
64242
64243
64244
64250
64251
64252
64253
64254
64260
64261
64262
64263
64264
64270
64271
64272
64273
64274
64400
64403
64410
64413
64660
64661
64662
64663
64664
64670
64671
64673
64730
64731
64732
64733
64734
64740
64741
64742
64743
64744
64800
64801
64802
64803
64804
64820
64821
64822
64823
64824
64830
64831
64832
64833
64834
64850
64851
64852
64853
64854
64860
64861
64862
64863
64864
65930
65931
65933
66500
66501
66503
66510
66511
66632
66634
66800
66801
66802
66803
66804
66810
66811
66812
66813
66814
66820
66821
66822
66823
66824
66880
66881
66882
66883
66884
66890
66891
66892
66893
66894
66910
66911
66912
66913
66914
66930
66932
66934
67000
67002
67004
67120
67121
67122
67123
67124
67130
67131
67133
67140
67142
67144
67300
67301
67302
67303
67304
67310
67311
67312
67313
67314
67320
67321
67322
67323
67324
67330
67331
67332
67333
67334
67380
67381
67382
67383
67384
67400
67401
67402
67403
67404
67410
67412
67420
67422
67424
67450
67451
67452
67453
67454
67510
67511
67512
*64963
63400
63401
63402
63410
63411
63412
63420
63421
63422
63430
63431
63432
63440
63441
63442
63450
63451
63452
63460
63461
63462
63470
63471
63472
63480
63481
63482
63490
63491
63492
6390
6391
6392
6393
6394
6395
6396
6398
6399
64000
64001
64003
64080
64081
64083
64090
64091
64093
64100
64101
64103
64110
64111
64113
64130
64131
64133
64180
64181
64183
64190
64191
64193
64240
64241
64242
64243
64244
64250
64251
64252
64253
64254
64260
64261
64262
64263
64264
64270
64271
64272
64273
64274
64400
64403
64410
64413
64660
64661
64662
64663
64664
64670
64671
64673
64730
64731
64732
64733
64734
64740
64741
64742
64743
64744
64800
64801
64802
64803
64804
64820
64821
64822
64823
64824
64830
64831
64832
64833
64834
64850
64851
64852
64853
64854
64860
64861
64862
64863
64864
65930
65931
65933
66500
66501
66503
66510
66511
66632
66634
66800
66801
66802
66803
66804
66810
66811
66812
66813
66814
66820
66821
66822
66823
66824
66880
66881
66882
66883
66884
66890
66891
66892
66893
66894
66910
66911
66912
66913
66914
66930
66932
66934
67000
67002
67004
67120
67121
67122
67123
67124
67130
67131
67133
67140
67142
67144
67300
67301
67302
67303
67304
67310
67311
67312
67313
67314
67320
67321
67322
67323
67324
67330
67331
67332
67333
67334
67380
67381
67382
67383
67384
67400
67401
67402
67403
67404
67410
67412
67420
67422
67424
67450
67451
67452
67453
67454
67510
67511
67512
*64964
63400
63401
63402
63410
63411
63412
63420
63421
63422
63430
63431
63432
63440
63441
63442
63450
63451
63452
63460
63461
63462
63470
63471
63472
63480
63481
63482
63490
63491
63492
6390
6391
6392
6393
6394
6395
6396
6398
6399
64000
64001
64003
64080
64081
64083
64090
64091
64093
64100
64101
64103
64110
64111
64113
64130
64131
64133
64180
64181
64183
64190
64191
64193
64240
64241
64242
64243
64244
64250
64251
64252
64253
64254
64260
64261
64262
64263
64264
64270
64271
64272
64273
64274
64400
64403
64410
64413
64660
64661
64662
64663
64664
64670
64671
64673
64730
64731
64732
64733
64734
64740
64741
64742
64743
64744
64800
64801
64802
64803
64804
64820
64821
64822
64823
64824
64830
64831
64832
64833
64834
64850
64851
64852
64853
64854
64860
64861
64862
64863
64864
65930
65931
65933
66500
66501
66503
66510
66511
66632
66634
66800
66801
66802
66803
66804
66810
66811
66812
66813
66814
66820
66821
66822
66823
66824
66880
66881
66882
66883
66884
66890
66891
66892
66893
66894
66910
66911
66912
66913
66914
66930
66932
66934
67000
67002
67004
67120
67121
67122
67123
67124
67130
67131
67133
67140
67142
67144
67300
67301
67302
67303
67304
67310
67311
67312
67313
67314
67320
67321
67322
67323
67324
67330
67331
67332
67333
67334
67380
67381
67382
67383
67384
67400
67401
67402
67403
67404
67410
67412
67420
67422
67424
67450
67451
67452
67453
67454
67510
67511
67512
*7790
78032
*7791
78032
*78031
78032
*78032
78031
78032
78039
*78039
78032
*78091
78032
*78092
78032
*78093
78032
*78094
78032
*78095
78032
*78096
04082
44024
78001
78003
7801
78031
78032
78039
7817
7854
78550
78551
78552
78559
7863
78820
78829
7895
7907
7911
7913
79901
79902
7991
7994
*78097
04082
44024
78001
78003
7801
78031
78032
78039
7817
7854
78550
78551
78552
78559
7863
78820
78829
7895
7907
7911
7913
79901
79902
7991
7994
*78099
78032
*78864
78820
78829
*78865
78820
78829
*79981
78032
*79989
78032
*95890
80000
80001
80002
80003
80004
80005
80006
80009
80010
80011
80012
80013
80014
80015
80016
80019
80020
80021
80022
80023
80024
80025
80026
80029
80030
80031
80032
80033
80034
80035
80036
80039
80040
80041
80042
80043
80044
80045
80046
80049
80050
80051
80052
80053
80054
80055
80056
80059
80060
80061
80062
80063
80064
80065
80066
80069
80070
80071
80072
80073
80074
80075
80076
80079
80080
80081
80082
80083
80084
80085
80086
80089
80090
80091
80092
80093
80094
80095
80096
80099
80100
80101
80102
80103
80104
80105
80106
80109
80110
80111
80112
80113
80114
80115
80116
80119
80120
80121
80122
80123
80124
80125
80126
80129
80130
80131
80132
80133
80134
80135
80136
80139
80140
80141
80142
80143
80144
80145
80146
80149
80150
80151
80152
80153
80154
80155
80156
80159
80160
80161
80162
80163
80164
80165
80166
80169
80170
80171
80172
80173
80174
80175
80176
80179
80180
80181
80182
80183
80184
80185
80186
80189
80190
80191
80192
80193
80194
80195
80196
80199
8021
80220
80221
80222
80223
80224
80225
80226
80227
80228
80229
80230
80231
80232
80233
80234
80235
80236
80237
80238
80239
8024
8025
8026
8027
8028
8029
80300
80301
80302
80303
80304
80305
80306
80309
80310
80311
80312
80313
80314
80315
80316
80319
80320
80321
80322
80323
80324
80325
80326
80329
80330
80331
80332
80333
80334
80335
80336
80339
80340
80341
80342
80343
80344
80345
80346
80349
80350
80351
80352
80353
80354
80355
80356
80359
80360
80361
80362
80363
80364
80365
80366
80369
80370
80371
80372
80373
80374
80375
80376
80379
80380
80381
80382
80383
80384
80385
80386
80389
80390
80391
80392
80393
80394
80395
80396
80399
80400
80401
80402
80403
80404
80405
80406
80409
80410
80411
80412
80413
80414
80415
80416
80419
80420
80421
80422
80423
80424
80425
80426
80429
80430
80431
80432
80433
80434
80435
80436
80439
80440
80441
80442
80443
80444
80445
80446
80449
80450
80451
80452
80453
80454
80455
80456
80459
80460
80461
80462
80463
80464
80465
80466
80469
80470
80471
80472
80473
80474
80475
80476
80479
80480
80481
80482
80483
80484
80485
80486
80489
80490
80491
80492
80493
80494
80495
80496
80499
80500
80501
80502
80503
80504
80505
80506
80507
80508
80510
80511
80512
80513
80514
80515
80516
80517
80518
8052
8053
8054
8055
8056
8057
8058
8059
80600
80601
80602
80603
80604
80605
80606
80607
80608
80609
80610
80611
80612
80613
80614
80615
80616
80617
80618
80619
80620
80621
80622
80623
80624
80625
80626
80627
80628
80629
80630
80631
80632
80633
80634
80635
80636
80637
80638
80639
8064
8065
80660
80661
80662
80669
80670
80671
80672
80679
8068
8069
80704
80705
80706
80707
80708
80709
80710
80711
80712
80713
80714
80715
80716
80717
80718
80719
8072
8073
8074
8075
8076
8080
8081
8082
8083
80843
80849
80851
80852
80853
80859
8088
8089
82000
82001
82002
82003
82009
82010
82011
82012
82013
82019
82020
82021
82022
82030
82031
82032
8208
8209
82100
82101
82110
82111
83900
83901
83902
83903
83904
83905
83906
83907
83908
83910
83911
83912
83913
83914
83915
83916
83917
83918
8500
85011
85012
8502
8503
8504
8505
8509
85100
85101
85102
85103
85104
85105
85106
85109
85110
85111
85112
85113
85114
85115
85116
85119
85120
85121
85122
85123
85124
85125
85126
85129
85130
85131
85132
85133
85134
85135
85136
85139
85140
85141
85142
85143
85144
85145
85146
85149
85150
85151
85152
85153
85154
85155
85156
85159
85160
85161
85162
85163
85164
85165
85166
85169
85170
85171
85172
85173
85174
85175
85176
85179
85180
85181
85182
85183
85184
85185
85186
85189
85190
85191
85192
85193
85194
85195
85196
85199
85200
85201
85202
85203
85204
85205
85206
85209
85210
85211
85212
85213
85214
85215
85216
85219
85220
85221
85222
85223
85224
85225
85226
85229
85230
85231
85232
85233
85234
85235
85236
85239
85240
85241
85242
85243
85244
85245
85246
85249
85250
85251
85252
85253
85254
85255
85256
85259
85300
85301
85302
85303
85304
85305
85306
85309
85310
85311
85312
85313
85314
85315
85316
85319
85400
85401
85402
85403
85404
85405
85406
85409
85410
85411
85412
85413
85414
85415
85416
85419
8600
8601
8602
8603
8604
8605
86101
86102
86103
86110
86111
86112
86113
86122
86130
86131
86132
8621
86221
86222
86229
86231
86232
86239
8629
8631
86330
86331
86339
86350
86351
86352
86353
86354
86355
86356
86359
86390
86391
86392
86393
86394
86395
86399
86400
86401
86402
86403
86404
86405
86409
86410
86411
86412
86413
86414
86415
86419
86500
86501
86502
86503
86504
86509
86510
86511
86512
86513
86514
86519
86600
86601
86602
86603
86610
86611
86612
86613
8670
8671
8672
8673
8674
8675
8676
8677
8678
8679
86800
86801
86802
86803
86804
86809
86810
86811
86812
86813
86814
86819
8690
8691
8703
8704
8708
8709
8710
8711
8712
8713
8714
8719
87272
87273
87274
87333
8739
87400
87401
87402
87410
87411
87412
8743
8745
8750
8751
8870
8871
8872
8873
8874
8875
8876
8877
8960
8961
8962
8963
8970
8971
8972
8973
8974
8975
8976
8977
90000
90001
90002
90003
9001
90081
90082
90089
9009
9010
9011
9012
9013
90141
90142
90183
9020
90210
90211
90219
90220
90222
90223
90224
90225
90226
90227
90229
90231
90232
90233
90234
90239
90240
90241
90242
90249
90250
90251
90252
90253
90254
90259
90287
9251
9252
9290
95200
95201
95202
95203
95204
95205
95206
95207
95208
95209
95210
95211
95212
95213
95214
95215
95216
95217
95218
95219
9522
9523
9524
9528
9529
9530
9531
9532
9533
9534
9535
9538
9539
9580
9581
9582
9583
9584
9585
9587
*95891
80000
80001
80002
80003
80004
80005
80006
80009
80010
80011
80012
80013
80014
80015
80016
80019
80020
80021
80022
80023
80024
80025
80026
80029
80030
80031
80032
80033
80034
80035
80036
80039
80040
80041
80042
80043
80044
80045
80046
80049
80050
80051
80052
80053
80054
80055
80056
80059
80060
80061
80062
80063
80064
80065
80066
80069
80070
80071
80072
80073
80074
80075
80076
80079
80080
80081
80082
80083
80084
80085
80086
80089
80090
80091
80092
80093
80094
80095
80096
80099
80100
80101
80102
80103
80104
80105
80106
80109
80110
80111
80112
80113
80114
80115
80116
80119
80120
80121
80122
80123
80124
80125
80126
80129
80130
80131
80132
80133
80134
80135
80136
80139
80140
80141
80142
80143
80144
80145
80146
80149
80150
80151
80152
80153
80154
80155
80156
80159
80160
80161
80162
80163
80164
80165
80166
80169
80170
80171
80172
80173
80174
80175
80176
80179
80180
80181
80182
80183
80184
80185
80186
80189
80190
80191
80192
80193
80194
80195
80196
80199
8021
80220
80221
80222
80223
80224
80225
80226
80227
80228
80229
80230
80231
80232
80233
80234
80235
80236
80237
80238
80239
8024
8025
8026
8027
8028
8029
80300
80301
80302
80303
80304
80305
80306
80309
80310
80311
80312
80313
80314
80315
80316
80319
80320
80321
80322
80323
80324
80325
80326
80329
80330
80331
80332
80333
80334
80335
80336
80339
80340
80341
80342
80343
80344
80345
80346
80349
80350
80351
80352
80353
80354
80355
80356
80359
80360
80361
80362
80363
80364
80365
80366
80369
80370
80371
80372
80373
80374
80375
80376
80379
80380
80381
80382
80383
80384
80385
80386
80389
80390
80391
80392
80393
80394
80395
80396
80399
80400
80401
80402
80403
80404
80405
80406
80409
80410
80411
80412
80413
80414
80415
80416
80419
80420
80421
80422
80423
80424
80425
80426
80429
80430
80431
80432
80433
80434
80435
80436
80439
80440
80441
80442
80443
80444
80445
80446
80449
80450
80451
80452
80453
80454
80455
80456
80459
80460
80461
80462
80463
80464
80465
80466
80469
80470
80471
80472
80473
80474
80475
80476
80479
80480
80481
80482
80483
80484
80485
80486
80489
80490
80491
80492
80493
80494
80495
80496
80499
80500
80501
80502
80503
80504
80505
80506
80507
80508
80510
80511
80512
80513
80514
80515
80516
80517
80518
8052
8053
8054
8055
8056
8057
8058
8059
80600
80601
80602
80603
80604
80605
80606
80607
80608
80609
80610
80611
80612
80613
80614
80615
80616
80617
80618
80619
80620
80621
80622
80623
80624
80625
80626
80627
80628
80629
80630
80631
80632
80633
80634
80635
80636
80637
80638
80639
8064
8065
80660
80661
80662
80669
80670
80671
80672
80679
8068
8069
80704
80705
80706
80707
80708
80709
80710
80711
80712
80713
80714
80715
80716
80717
80718
80719
8072
8073
8074
8075
8076
8080
8081
8082
8083
80843
80849
80851
80852
80853
80859
8088
8089
82000
82001
82002
82003
82009
82010
82011
82012
82013
82019
82020
82021
82022
82030
82031
82032
8208
8209
82100
82101
82110
82111
83900
83901
83902
83903
83904
83905
83906
83907
83908
83910
83911
83912
83913
83914
83915
83916
83917
83918
8500
85011
85012
8502
8503
8504
8505
8509
85100
85101
85102
85103
85104
85105
85106
85109
85110
85111
85112
85113
85114
85115
85116
85119
85120
85121
85122
85123
85124
85125
85126
85129
85130
85131
85132
85133
85134
85135
85136
85139
85140
85141
85142
85143
85144
85145
85146
85149
85150
85151
85152
85153
85154
85155
85156
85159
85160
85161
85162
85163
85164
85165
85166
85169
85170
85171
85172
85173
85174
85175
85176
85179
85180
85181
85182
85183
85184
85185
85186
85189
85190
85191
85192
85193
85194
85195
85196
85199
85200
85201
85202
85203
85204
85205
85206
85209
85210
85211
85212
85213
85214
85215
85216
85219
85220
85221
85222
85223
85224
85225
85226
85229
85230
85231
85232
85233
85234
85235
85236
85239
85240
85241
85242
85243
85244
85245
85246
85249
85250
85251
85252
85253
85254
85255
85256
85259
85300
85301
85302
85303
85304
85305
85306
85309
85310
85311
85312
85313
85314
85315
85316
85319
85400
85401
85402
85403
85404
85405
85406
85409
85410
85411
85412
85413
85414
85415
85416
85419
8600
8601
8602
8603
8604
8605
86101
86102
86103
86110
86111
86112
86113
86122
86130
86131
86132
8621
86221
86222
86229
86231
86232
86239
8629
8631
86330
86331
86339
86350
86351
86352
86353
86354
86355
86356
86359
86390
86391
86392
86393
86394
86395
86399
86400
86401
86402
86403
86404
86405
86409
86410
86411
86412
86413
86414
86415
86419
86500
86501
86502
86503
86504
86509
86510
86511
86512
86513
86514
86519
86600
86601
86602
86603
86610
86611
86612
86613
8670
8671
8672
8673
8674
8675
8676
8677
8678
8679
86800
86801
86802
86803
86804
86809
86810
86811
86812
86813
86814
86819
8690
8691
8703
8704
8708
8709
8710
8711
8712
8713
8714
8719
87272
87273
87274
87333
8739
87400
87401
87402
87410
87411
87412
8743
8745
8750
8751
8870
8871
8872
8873
8874
8875
8876
8877
8960
8961
8962
8963
8970
8971
8972
8973
8974
8975
8976
8977
90000
90001
90002
90003
9001
90081
90082
90089
9009
9010
9011
9012
9013
90141
90142
90183
9020
90210
90211
90219
90220
90222
90223
90224
90225
90226
90227
90229
90231
90232
90233
90234
90239
90240
90241
90242
90249
90250
90251
90252
90253
90254
90259
90287
9251
9252
9290
95200
95201
95202
95203
95204
95205
95206
95207
95208
95209
95210
95211
95212
95213
95214
95215
95216
95217
95218
95219
9522
9523
9524
9528
9529
9530
9531
9532
9533
9534
9535
9538
9539
9580
9581
9582
9583
9584
9585
9587
*95892
80000
80001
80002
80003
80004
80005
80006
80009
80010
80011
80012
80013
80014
80015
80016
80019
80020
80021
80022
80023
80024
80025
80026
80029
80030
80031
80032
80033
80034
80035
80036
80039
80040
80041
80042
80043
80044
80045
80046
80049
80050
80051
80052
80053
80054
80055
80056
80059
80060
80061
80062
80063
80064
80065
80066
80069
80070
80071
80072
80073
80074
80075
80076
80079
80080
80081
80082
80083
80084
80085
80086
80089
80090
80091
80092
80093
80094
80095
80096
80099
80100
80101
80102
80103
80104
80105
80106
80109
80110
80111
80112
80113
80114
80115
80116
80119
80120
80121
80122
80123
80124
80125
80126
80129
80130
80131
80132
80133
80134
80135
80136
80139
80140
80141
80142
80143
80144
80145
80146
80149
80150
80151
80152
80153
80154
80155
80156
80159
80160
80161
80162
80163
80164
80165
80166
80169
80170
80171
80172
80173
80174
80175
80176
80179
80180
80181
80182
80183
80184
80185
80186
80189
80190
80191
80192
80193
80194
80195
80196
80199
8021
80220
80221
80222
80223
80224
80225
80226
80227
80228
80229
80230
80231
80232
80233
80234
80235
80236
80237
80238
80239
8024
8025
8026
8027
8028
8029
80300
80301
80302
80303
80304
80305
80306
80309
80310
80311
80312
80313
80314
80315
80316
80319
80320
80321
80322
80323
80324
80325
80326
80329
80330
80331
80332
80333
80334
80335
80336
80339
80340
80341
80342
80343
80344
80345
80346
80349
80350
80351
80352
80353
80354
80355
80356
80359
80360
80361
80362
80363
80364
80365
80366
80369
80370
80371
80372
80373
80374
80375
80376
80379
80380
80381
80382
80383
80384
80385
80386
80389
80390
80391
80392
80393
80394
80395
80396
80399
80400
80401
80402
80403
80404
80405
80406
80409
80410
80411
80412
80413
80414
80415
80416
80419
80420
80421
80422
80423
80424
80425
80426
80429
80430
80431
80432
80433
80434
80435
80436
80439
80440
80441
80442
80443
80444
80445
80446
80449
80450
80451
80452
80453
80454
80455
80456
80459
80460
80461
80462
80463
80464
80465
80466
80469
80470
80471
80472
80473
80474
80475
80476
80479
80480
80481
80482
80483
80484
80485
80486
80489
80490
80491
80492
80493
80494
80495
80496
80499
80500
80501
80502
80503
80504
80505
80506
80507
80508
80510
80511
80512
80513
80514
80515
80516
80517
80518
8052
8053
8054
8055
8056
8057
8058
8059
80600
80601
80602
80603
80604
80605
80606
80607
80608
80609
80610
80611
80612
80613
80614
80615
80616
80617
80618
80619
80620
80621
80622
80623
80624
80625
80626
80627
80628
80629
80630
80631
80632
80633
80634
80635
80636
80637
80638
80639
8064
8065
80660
80661
80662
80669
80670
80671
80672
80679
8068
8069
80704
80705
80706
80707
80708
80709
80710
80711
80712
80713
80714
80715
80716
80717
80718
80719
8072
8073
8074
8075
8076
8080
8081
8082
8083
80843
80849
80851
80852
80853
80859
8088
8089
82000
82001
82002
82003
82009
82010
82011
82012
82013
82019
82020
82021
82022
82030
82031
82032
8208
8209
82100
82101
82110
82111
83900
83901
83902
83903
83904
83905
83906
83907
83908
83910
83911
83912
83913
83914
83915
83916
83917
83918
8500
85011
85012
8502
8503
8504
8505
8509
85100
85101
85102
85103
85104
85105
85106
85109
85110
85111
85112
85113
85114
85115
85116
85119
85120
85121
85122
85123
85124
85125
85126
85129
85130
85131
85132
85133
85134
85135
85136
85139
85140
85141
85142
85143
85144
85145
85146
85149
85150
85151
85152
85153
85154
85155
85156
85159
85160
85161
85162
85163
85164
85165
85166
85169
85170
85171
85172
85173
85174
85175
85176
85179
85180
85181
85182
85183
85184
85185
85186
85189
85190
85191
85192
85193
85194
85195
85196
85199
85200
85201
85202
85203
85204
85205
85206
85209
85210
85211
85212
85213
85214
85215
85216
85219
85220
85221
85222
85223
85224
85225
85226
85229
85230
85231
85232
85233
85234
85235
85236
85239
85240
85241
85242
85243
85244
85245
85246
85249
85250
85251
85252
85253
85254
85255
85256
85259
85300
85301
85302
85303
85304
85305
85306
85309
85310
85311
85312
85313
85314
85315
85316
85319
85400
85401
85402
85403
85404
85405
85406
85409
85410
85411
85412
85413
85414
85415
85416
85419
8600
8601
8602
8603
8604
8605
86101
86102
86103
86110
86111
86112
86113
86122
86130
86131
86132
8621
86221
86222
86229
86231
86232
86239
8629
8631
86330
86331
86339
86350
86351
86352
86353
86354
86355
86356
86359
86390
86391
86392
86393
86394
86395
86399
86400
86401
86402
86403
86404
86405
86409
86410
86411
86412
86413
86414
86415
86419
86500
86501
86502
86503
86504
86509
86510
86511
86512
86513
86514
86519
86600
86601
86602
86603
86610
86611
86612
86613
8670
8671
8672
8673
8674
8675
8676
8677
8678
8679
86800
86801
86802
86803
86804
86809
86810
86811
86812
86813
86814
86819
8690
8691
8703
8704
8708
8709
8710
8711
8712
8713
8714
8719
87272
87273
87274
87333
8739
87400
87401
87402
87410
87411
87412
8743
8745
8750
8751
8870
8871
8872
8873
8874
8875
8876
8877
8960
8961
8962
8963
8970
8971
8972
8973
8974
8975
8976
8977
90000
90001
90002
90003
9001
90081
90082
90089
9009
9010
9011
9012
9013
90141
90142
90183
9020
90210
90211
90219
90220
90222
90223
90224
90225
90226
90227
90229
90231
90232
90233
90234
90239
90240
90241
90242
90249
90250
90251
90252
90253
90254
90259
90287
9251
9252
9290
95200
95201
95202
95203
95204
95205
95206
95207
95208
95209
95210
95211
95212
95213
95214
95215
95216
95217
95218
95219
9522
9523
9524
9528
9529
9530
9531
9532
9533
9534
9535
9538
9539
9580
9581
9582
9583
9584
9585
9587
*95893
80000
80001
80002
80003
80004
80005
80006
80009
80010
80011
80012
80013
80014
80015
80016
80019
80020
80021
80022
80023
80024
80025
80026
80029
80030
80031
80032
80033
80034
80035
80036
80039
80040
80041
80042
80043
80044
80045
80046
80049
80050
80051
80052
80053
80054
80055
80056
80059
80060
80061
80062
80063
80064
80065
80066
80069
80070
80071
80072
80073
80074
80075
80076
80079
80080
80081
80082
80083
80084
80085
80086
80089
80090
80091
80092
80093
80094
80095
80096
80099
80100
80101
80102
80103
80104
80105
80106
80109
80110
80111
112
80113
80114
80115
80116
80119
80120
80121
80122
80123
80124
80125
80126
80129
80130
80131
80132
80133
80134
80135
80136
80139
80140
80141
80142
80143
80144
80145
80146
80149
80150
80151
80152
80153
80154
80155
80156
80159
80160
80161
80162
80163
80164
80165
80166
80169
80170
80171
80172
80173
80174
80175
80176
80179
80180
80181
80182
80183
80184
80185
80186
80189
80190
80191
80192
80193
80194
80195
80196
80199
8021
80220
80221
80222
80223
80224
80225
80226
80227
80228
80229
80230
80231
80232
80233
80234
80235
80236
80237
80238
80239
8024
8025
8026
8027
8028
8029
80300
80301
80302
80303
80304
80305
80306
80309
80310
80311
80312
80313
80314
80315
80316
80319
80320
80321
80322
80323
80324
80325
80326
80329
80330
80331
80332
80333
80334
80335
80336
80339
80340
80341
80342
80343
80344
80345
80346
80349
80350
80351
80352
80353
80354
80355
80356
80359
80360
80361
80362
80363
80364
80365
80366
80369
80370
80371
80372
80373
80374
80375
80376
80379
80380
80381
80382
80383
80384
80385
80386
80389
80390
80391
80392
80393
80394
80395
80396
80399
80400
80401
80402
80403
80404
80405
80406
80409
80410
80411
80412
80413
80414
80415
80416
80419
80420
80421
80422
80423
80424
80425
80426
80429
80430
80431
80432
80433
80434
80435
80436
80439
80440
80441
80442
80443
80444
80445
80446
80449
80450
80451
80452
80453
80454
80455
80456
80459
80460
80461
80462
80463
80464
80465
80466
80469
80470
80471
80472
80473
80474
80475
80476
80479
80480
80481
80482
80483
80484
80485
80486
80489
80490
80491
80492
80493
80494
80495
80496
80499
80500
80501
80502
80503
80504
80505
80506
80507
80508
80510
80511
80512
80513
80514
80515
80516
80517
80518
8052
8053
8054
8055
8056
8057
8058
8059
80600
80601
80602
80603
80604
80605
80606
80607
80608
80609
80610
80611
80612
80613
80614
80615
80616
80617
80618
80619
80620
80621
80622
80623
80624
80625
80626
80627
80628
80629
80630
80631
80632
80633
80634
80635
80636
80637
80638
80639
8064
8065
80660
80661
80662
80669
80670
80671
80672
80679
8068
8069
80704
80705
80706
80707
80708
80709
80710
80711
80712
80713
80714
80715
80716
80717
80718
80719
8072
8073
8074
8075
8076
8080
8081
8082
8083
80843
80849
80851
80852
80853
80859
8088
8089
82000
82001
82002
82003
82009
82010
82011
82012
82013
82019
82020
82021
82022
82030
82031
82032
8208
8209
82100
82101
82110
82111
83900
83901
83902
83903
83904
83905
83906
83907
83908
83910
83911
83912
83913
83914
83915
83916
83917
83918
8500
85011
85012
8502
8503
8504
8505
8509
85100
85101
85102
85103
85104
85105
85106
85109
85110
85111
85112
85113
85114
85115
85116
85119
85120
85121
85122
85123
85124
85125
85126
85129
85130
85131
85132
85133
85134
85135
85136
85139
85140
85141
85142
85143
85144
85145
85146
85149
85150
85151
85152
85153
85154
85155
85156
85159
85160
85161
85162
85163
85164
85165
85166
85169
85170
85171
85172
85173
85174
85175
85176
85179
85180
85181
85182
85183
85184
85185
85186
85189
85190
85191
85192
85193
85194
85195
85196
85199
85200
85201
85202
85203
85204
85205
85206
85209
85210
85211
85212
85213
85214
85215
85216
85219
85220
85221
85222
85223
85224
85225
85226
85229
85230
85231
85232
85233
85234
85235
85236
85239
85240
85241
85242
85243
85244
85245
85246
85249
85250
85251
85252
85253
85254
85255
85256
85259
85300
85301
85302
85303
85304
85305
85306
85309
85310
85311
85312
85313
85314
85315
85316
85319
85400
85401
85402
85403
85404
85405
85406
85409
85410
85411
85412
85413
85414
85415
85416
85419
8600
8601
8602
8603
8604
8605
86101
86102
86103
86110
86111
86112
86113
86122
86130
86131
86132
8621
86221
86222
86229
86231
86232
86239
8629
8631
86330
86331
86339
86350
86351
86352
86353
86354
86355
86356
86359
86390
86391
86392
86393
86394
86395
86399
86400
86401
86402
86403
86404
86405
86409
86410
86411
86412
86413
86414
86415
86419
86500
86501
86502
86503
86504
86509
86510
86511
86512
86513
86514
86519
86600
86601
86602
86603
86610
86611
86612
86613
8670
8671
8672
8673
8674
8675
8676
8677
8678
8679
86800
86801
86802
86803
86804
86809
86810
86811
86812
86813
86814
86819
8690
8691
8703
8704
8708
8709
8710
8711
8712
8713
8714
8719
87272
87273
87274
87333
8739
87400
87401
87402
87410
87411
87412
8743
8745
8750
8751
8870
8871
8872
8873
8874
8875
8876
8877
8960
8961
8962
8963
8970
8971
8972
8973
8974
8975
8976
8977
90000
90001
90002
90003
9001
90081
90082
90089
9009
9010
9011
9012
9013
90141
90142
90183
9020
90210
90211
90219
90220
90222
90223
90224
90225
90226
90227
90229
90231
90232
90233
90234
90239
90240
90241
90242
90249
90250
90251
90252
90253
90254
90259
90287
9251
9252
9290
95200
95201
95202
95203
95204
95205
95206
95207
95208
95209
95210
95211
95212
95213
95214
95215
95216
95217
95218
95219
9522
9523
9524
9528
9529
9530
9531
9532
9533
9534
9535
9538
9539
9580
9581
9582
9583
9584
9585
9587
*95899
80000
80001
80002
80003
80004
80005
80006
80009
80010
80011
80012
80013
80014
80015
80016
80019
80020
80021
80022
80023
80024
80025
80026
80029
80030
80031
80032
80033
80034
80035
80036
80039
80040
80041
80042
80043
80044
80045
80046
80049
80050
80051
80052
80053
80054
80055
80056
80059
80060
80061
80062
80063
80064
80065
80066
80069
80070
80071
80072
80073
80074
80075
80076
80079
80080
80081
80082
80083
80084
80085
80086
80089
80090
80091
80092
80093
80094
80095
80096
80099
80100
80101
80102
80103
80104
80105
80106
80109
80110
80111
80112
80113
80114
80115
80116
80119
80120
80121
80122
80123
80124
80125
80126
80129
80130
80131
80132
80133
80134
80135
80136
80139
80140
80141
80142
80143
80144
80145
80146
80149
80150
80151
80152
80153
80154
80155
80156
80159
80160
80161
80162
80163
80164
80165
80166
80169
80170
80171
80172
80173
80174
80175
80176
80179
80180
80181
80182
80183
80184
80185
80186
80189
80190
80191
80192
80193
80194
80195
80196
80199
8021
80220
80221
80222
80223
80224
80225
80226
80227
80228
80229
80230
80231
80232
80233
80234
80235
80236
80237
80238
80239
8024
8025
8026
8027
8028
8029
80300
80301
80302
80303
80304
80305
80306
80309
80310
80311
80312
80313
80314
80315
80316
80319
80320
80321
80322
80323
80324
80325
80326
80329
80330
80331
80332
80333
80334
80335
80336
80339
80340
80341
80342
80343
80344
80345
80346
80349
80350
80351
80352
80353
80354
80355
80356
80359
80360
80361
80362
80363
80364
80365
80366
80369
80370
80371
80372
80373
80374
80375
80376
80379
80380
80381
80382
80383
80384
80385
80386
80389
80390
80391
80392
80393
80394
80395
80396
80399
80400
80401
80402
80403
80404
80405
80406
80409
80410
80411
80412
80413
80414
80415
80416
80419
80420
80421
80422
80423
80424
80425
80426
80429
80430
80431
80432
80433
80434
80435
80436
80439
80440
80441
80442
80443
80444
80445
80446
80449
80450
80451
80452
80453
80454
80455
80456
80459
80460
80461
80462
80463
80464
80465
80466
80469
80470
80471
80472
80473
80474
80475
80476
80479
80480
80481
80482
80483
80484
80485
80486
80489
80490
80491
80492
80493
80494
80495
80496
80499
80500
80501
80502
80503
80504
80505
80506
80507
80508
80510
80511
80512
80513
80514
80515
80516
80517
80518
8052
8053
8054
8055
8056
8057
8058
8059
80600
80601
80602
80603
80604
80605
80606
80607
80608
80609
80610
80611
80612
80613
80614
80615
80616
80617
80618
80619
80620
80621
80622
80623
80624
80625
80626
80627
80628
80629
80630
80631
80632
80633
80634
80635
80636
80637
80638
80639
8064
8065
80660
80661
80662
80669
80670
80671
80672
80679
8068
8069
80704
80705
80706
80707
80708
80709
80710
80711
80712
80713
80714
80715
80716
80717
80718
80719
8072
8073
8074
8075
8076
8080
8081
8082
8083
80843
80849
80851
80852
80853
80859
8088
8089
82000
82001
82002
82003
82009
82010
82011
82012
82013
82019
82020
82021
82022
82030
82031
82032
8208
8209
82100
82101
82110
82111
83900
83901
83902
83903
83904
83905
83906
83907
83908
83910
83911
83912
83913
83914
83915
83916
83917
83918
8500
85011
85012
8502
8503
8504
8505
8509
85100
85101
85102
85103
85104
85105
85106
85109
85110
85111
85112
85113
85114
85115
85116
85119
85120
85121
85122
85123
85124
85125
85126
85129
85130
85131
85132
85133
85134
85135
85136
85139
85140
85141
85142
85143
85144
85145
85146
85149
85150
85151
85152
85153
85154
85155
85156
85159
85160
85161
85162
85163
85164
85165
85166
85169
85170
85171
85172
85173
85174
85175
85176
85179
85180
85181
85182
85183
85184
85185
85186
85189
85190
85191
85192
85193
85194
85195
85196
85199
85200
85201
85202
85203
85204
85205
85206
85209
85210
85211
85212
85213
85214
85215
85216
85219
85220
85221
85222
85223
85224
85225
85226
85229
85230
85231
85232
85233
85234
85235
85236
85239
85240
85241
85242
85243
85244
85245
85246
85249
85250
85251
85252
85253
85254
85255
85256
85259
85300
85301
85302
85303
85304
85305
85306
85309
85310
85311
85312
85313
85314
85315
85316
85319
85400
85401
85402
85403
85404
85405
85406
85409
85410
85411
85412
85413
85414
85415
85416
85419
8600
8601
8602
8603
8604
8605
86101
86102
86103
86110
86111
86112
86113
86122
86130
86131
86132
8621
86221
86222
86229
86231
86232
86239
8629
8631
86330
86331
86339
86350
86351
86352
86353
86354
86355
86356
86359
86390
86391
86392
86393
86394
86395
86399
86400
86401
86402
86403
86404
86405
86409
86410
86411
86412
86413
86414
86415
86419
86500
86501
86502
86503
86504
86509
86510
86511
86512
86513
86514
86519
86600
86601
86602
86603
86610
86611
86612
86613
8670
8671
8672
8673
8674
8675
8676
8677
8678
8679
86800
86801
86802
86803
86804
86809
86810
86811
86812
86813
86814
86819
8690
8691
8703
8704
8708
8709
8710
8711
8712
8713
8714
8719
87272
87273
87274
87333
8739
87400
87401
87402
87410
87411
87412
8743
8745
8750
8751
8870
8871
8872
8873
8874
8875
8876
8877
8960
8961
8962
8963
8970
8971
8972
8973
8974
8975
8976
8977
90000
90001
90002
90003
9001
90081
90082
90089
9009
9010
9011
9012
9013
90141
90142
90183
9020
90210
90211
90219
90220
90222
90223
90224
90225
90226
90227
90229
90231
90232
90233
90234
90239
90240
90241
90242
90249
90250
90251
90252
90253
90254
90259
90287
9251
9252
9290
95200
95201
95202
95203
95204
95205
95206
95207
95208
95209
95210
95211
95212
95213
95214
95215
95216
95217
95218
95219
9522
9523
9524
9528
9529
9530
9531
9532
9533
9534
9535
9538
9539
9580
9581
9582
9583
9584
9585
9587
*9973
5187
*99791
5187
*99799
5187
*99881
5187
*99883
5187
*99889
5187
*9989
5187

@@

Table 6H.—Deletions From the CC Exclusions List
[CCs that are deleted from the list, effective October 1, 2006, are included in this table. Each of the principal diagnoses is shown with an asterisk, and the revisions to the CC Exclusions List are provided in an indented column immediately following the affected principal diagnosis.]
*2800
2840
*2801
2840
*2808
2840
*2809
2840
*2810
2840
*2811
2840
*2812
2840
*2813
2840
*2814
2840
*2818
2840
*2819
2840
*2820
2840
*2821
2840
*2822
2840
*2823
2840
*28241
2840
*28242
2840
*28249
2840
*2825
2840
*28260
2840
*28261
2840
*28262
2840
*28263
2840
*28264
2840
*28268
2840
*28269
2840
*2827
2840
*2828
2840
*2829
2840
*2830
2840
*28310
2840
*28311
2840
*28319
2840
*2832
2840
*2839
2840
*2840
2800
2814
2818
28241
28242
28249
28260
28261
28262
28263
28264
28268
28269
2830
28310
28311
28319
2832
2839
2840
2848
2849
2850
2851
*2848
2840
*2849
2840
*2850
2840
*2851
2840
*28521
2840
*28522
2840
*28529
2840
*2858
2840
*2859
2840
*2880
2880
2881
28981
28982
*2881
2880
*2882
2880
*2883
2880
*2888
2880
*2889
2880
*28981
2840
2880
*28982
2840
2880
*28989
2840
2880
*2899
2840
2880
*3230
34982
*3234
34982
*3235
34982
*3236
34982
*3237
34982
*3238
34982
*3337
7817
*5173
2840
*5191
51900
51901
51902
51909
*5280
5283
*6168
6140
6143
6145
6150
6163
6164
*6298
6140
6143
6145
6150
6163
6164
6207

Table 7A.—Medicare Prospective Payment System Selected Percentile Lengths of Stay FY 2005 MedPAR Update December 2005 Grouper V23.0
DRG | Number of discharges | Arithmetic mean length-of-stay | 10th percentile | 25th percentile | 50th percentile | 75th percentile | 90th percentile
1 | 24,336 | 9.6056 | 2 | 4 | 7 | 12 | 19
2 | 10,279 | 4.3955 | 1 | 2 | 4 | 6 | 8
3 | 2 | 12.5000 | 4 | 4 | 21 | 21 | 21
6 | 291 | 3.0619 | 1 | 1 | 2 | 4 | 7
7 | 14,913 | 9.2679 | 2 | 4 | 7 | 12 | 19
8 | 3,415 | 2.7628 | 1 | 1 | 2 | 3 | 6
9 | 1,761 | 6.0023 | 1 | 3 | 4 | 7 | 11
10 | 19,577 | 5.9190 | 2 | 3 | 4 | 7 | 12
11 | 3,075 | 3.5463 | 1 | 2 | 3 | 5 | 7
12 | 56,255 | 5.3867 | 2 | 3 | 4 | 6 | 10
13 | 7,499 | 4.8481 | 2 | 3 | 4 | 6 | 8
14 | 278,220 | 5.3760 | 2 | 3 | 4 | 7 | 10
15 | 20,045 | 4.0130 | 1 | 2 | 3 | 5 | 8
16 | 17,338 | 6.2840 | 2 | 3 | 5 | 8 | 12
17 | 2,968 | 3.0387 | 1 | 1 | 2 | 4 | 6
18 | 33,376 | 5.1560 | 2 | 3 | 4 | 6 | 10
19 | 8,423 | 3.3765 | 1 | 2 | 3 | 4 | 6
20 | 6,408 | 9.8262 | 3 | 5 | 8 | 13 | 19
21 | 2,205 | 6.2036 | 2 | 3 | 5 | 8 | 12
22 | 3,151 | 5.0232 | 2 | 2 | 4 | 6 | 10
23 | 10,668 | 3.8978 | 1 | 2 | 3 | 5 | 7
24 | 63,283 | 4.6436 | 1 | 2 | 3 | 6 | 9
25 | 27,276 | 3.1226 | 1 | 2 | 3 | 4 | 6
26 | 24 | 3.7917 | 1 | 1 | 2 | 5 | 9
27 | 5,925 | 4.7406 | 1 | 1 | 3 | 6 | 10
28 | 19,839 | 5.5783 | 1 | 2 | 4 | 7 | 11
29 | 6,500 | 3.2209 | 1 | 1 | 3 | 4 | 6
31 | 4,967 | 3.9088 | 1 | 2 | 3 | 5 | 7
32 | 1,857 | 2.2752 | 1 | 1 | 2 | 3 | 4
34 | 27,466 | 4.7076 | 1 | 2 | 4 | 6 | 9
35 | 7,830 | 3.0425 | 1 | 1 | 3 | 4 | 6
36 | 1,207 | 1.6694 | 1 | 1 | 1 | 1 | 3
37 | 1,233 | 4.0706 | 1 | 1 | 3 | 5 | 9
38 | 49 | 2.8367 | 1 | 1 | 2 | 3 | 6
39 | 362 | 2.0193 | 1 | 1 | 1 | 2 | 4
40 | 1,252 | 4.1262 | 1 | 1 | 4 | 5 | 7
42 | 941 | 3.0595 | 1 | 1 | 2 | 4 | 7
43 | 123 | 2.9431 | 1 | 1 | 2 | 4 | 5
44 | 1,311 | 4.7414 | 2 | 3 | 4 | 6 | 9
45 | 2,766 | 3.0387 | 1 | 2 | 2 | 4 | 6
46 | 3,942 | 4.1870 | 1 | 2 | 3 | 5 | 8
47 | 1,322 | 3.0242 | 1 | 1 | 2 | 4 | 6
49 | 2,415 | 4.5172 | 1 | 2 | 3 | 5 | 9
50 | 2,025 | 1.8652 | 1 | 1 | 1 | 2 | 3
51 | 192 | 2.6979 | 1 | 1 | 1 | 3 | 6
52 | 317 | 1.7003 | 1 | 1 | 1 | 2 | 3
53 | 2,138 | 3.9995 | 1 | 1 | 2 | 5 | 9
55 | 1,367 | 2.8983 | 1 | 1 | 2 | 3 | 6
56 | 450 | 2.6800 | 1 | 1 | 2 | 3 | 5
57 | 881 | 3.1510 | 1 | 1 | 2 | 3 | 7
59 | 127 | 2.3780 | 1 | 1 | 2 | 3 | 5
60 | 3 | 1.6667 | 1 | 1 | 1 | 3 | 3
61 | 222 | 6.0541 | 1 | 1 | 4 | 8 | 13
62 | 4 | 1.5000 | 1 | 1 | 1 | 1 | 3
63 | 2,826 | 4.5467 | 1 | 1 | 3 | 6 | 10
64 | 3,252 | 6.2232 | 1 | 2 | 4 | 8 | 13
65 | 40,702 | 2.7629 | 1 | 1 | 2 | 3 | 5
66 | 8,210 | 3.1097 | 1 | 1 | 2 | 4 | 6
67 | 379 | 3.6992 | 1 | 2 | 3 | 5 | 8
68 | 19,066 | 3.8447 | 1 | 2 | 3 | 5 | 7
69 | 5,201 | 2.9435 | 1 | 2 | 3 | 4 | 5
70 | 23 | 2.3478 | 1 | 1 | 2 | 3 | 4
71 | 71 | 4.3380 | 1 | 2 | 3 | 5 | 8
72 | 1,341 | 3.3057 | 1 | 2 | 3 | 4 | 6
73 | 9,967 | 4.2892 | 1 | 2 | 3 | 5 | 8
74 | 3 | 3.3333 | 3 | 3 | 3 | 4 | 4
75 | 46,673 | 9.5853 | 3 | 5 | 7 | 12 | 19
76 | 47,942 | 10.4748 | 3 | 5 | 8 | 13 | 19
77 | 2,086 | 4.5005 | 1 | 2 | 4 | 6 | 9
78 | 49,512 | 6.0951 | 2 | 4 | 5 | 7 | 10
79 | 160,409 | 8.0438 | 3 | 4 | 7 | 10 | 15
80 | 7,190 | 5.2405 | 2 | 3 | 4 | 7 | 10
81 | 6 | 6.1667 | 2 | 3 | 5 | 8 | 8
82 | 63,099 | 6.6687 | 2 | 3 | 5 | 9 | 13
83 | 7,053 | 5.1999 | 2 | 3 | 4 | 6 | 10
84 | 1,379 | 3.1407 | 1 | 2 | 3 | 4 | 6
85 | 22,193 | 6.1053 | 2 | 3 | 5 | 8 | 12
86 | 1,726 | 3.4936 | 1 | 2 | 3 | 5 | 7
87 | 96,631 | 6.3599 | 2 | 3 | 5 | 8 | 12
88 | 427,997 | 4.8483 | 2 | 3 | 4 | 6 | 9
89 | 555,221 | 5.5216 | 2 | 3 | 5 | 7 | 10
90 | 43,748 | 3.7105 | 2 | 2 | 3 | 5 | 6
91 | 53 | 3.4151 | 1 | 1 | 2 | 4 | 6
92 | 16,534 | 5.9330 | 2 | 3 | 5 | 7 | 11
93 | 1,446 | 3.7420 | 1 | 2 | 3 | 5 | 7
94 | 13,561 | 5.8975 | 2 | 3 | 5 | 8 | 12
95 | 1,568 | 3.3846 | 1 | 2 | 3 | 4 | 6
96 | 60,151 | 4.2912 | 2 | 2 | 4 | 5 | 8
97 | 27,006 | 3.3549 | 1 | 2 | 3 | 4 | 6
98 | 13 | 3.0769 | 2 | 2 | 2 | 4 | 6
99 | 21,448 | 3.1000 | 1 | 1 | 2 | 4 | 6
100 | 6,432 | 2.1206 | 1 | 1 | 2 | 3 | 4
101 | 23,374 | 4.1844 | 1 | 2 | 3 | 5 | 8
102 | 4,920 | 2.5317 | 1 | 1 | 2 | 3 | 5
103 | 859 | 34.9488 | 8 | 11 | 22 | 45 | 76
104 | 20,084 | 14.6532 | 6 | 8 | 12 | 18 | 26
105 | 32,527 | 9.9333 | 4 | 6 | 8 | 11 | 18
106 | 3,427 | 10.9311 | 5 | 7 | 9 | 13 | 18
108 | 8,740 | 10.7237 | 4 | 6 | 9 | 13 | 20
110 | 57,543 | 8.0134 | 1 | 3 | 6 | 10 | 16
111 | 10,746 | 3.1084 | 1 | 1 | 2 | 5 | 6
113 | 34,591 | 12.5649 | 4 | 6 | 10 | 15 | 24
114 | 7,940 | 8.3304 | 2 | 4 | 7 | 11 | 16
117 | 5,332 | 4.2815 | 1 | 1 | 2 | 5 | 9
118 | 7,631 | 3.0250 | 1 | 1 | 2 | 4 | 7
119 | 965 | 5.3751 | 1 | 1 | 3 | 7 | 13
120 | 33,340 | 8.9613 | 1 | 3 | 6 | 12 | 19
121 | 150,106 | 6.2060 | 2 | 3 | 5 | 8 | 12
122 | 54,557 | 3.3059 | 1 | 1 | 3 | 4 | 6
123 | 29,530 | 4.7386 | 1 | 1 | 3 | 6 | 11
124 | 120,235 | 4.3915 | 1 | 2 | 3 | 6 | 9
125 | 92,072 | 2.7033 | 1 | 1 | 2 | 3 | 5
126 | 5,417 | 10.6799 | 3 | 6 | 9 | 13 | 20
127 | 668,008 | 5.0818 | 2 | 3 | 4 | 6 | 9
128 | 4,229 | 5.1726 | 2 | 3 | 5 | 6 | 9
129 | 3,511 | 2.5483 | 1 | 1 | 1 | 2 | 5
130 | 87,632 | 5.3553 | 1 | 3 | 4 | 7 | 10
131 | 22,947 | 3.6999 | 1 | 2 | 3 | 5 | 6
132 | 101,483 | 2.7988 | 1 | 1 | 2 | 3 | 5
133 | 5,883 | 2.1321 | 1 | 1 | 2 | 3 | 4
134 | 40,294 | 3.0936 | 1 | 2 | 2 | 4 | 6
135 | 7,172 | 4.2876 | 1 | 2 | 3 | 5 | 8
136 | 936 | 2.6880 | 1 | 1 | 2 | 3 | 5
138 | 206,196 | 3.8775 | 1 | 2 | 3 | 5 | 7
139 | 74,082 | 2.4272 | 1 | 1 | 2 | 3 | 4
140 | 31,544 | 2.4063 | 1 | 1 | 2 | 3 | 4
141 | 123,475 | 3.4314 | 1 | 2 | 3 | 4 | 6
142 | 49,367 | 2.4888 | 1 | 1 | 2 | 3 | 5
143 | 238,376 | 2.0951 | 1 | 1 | 2 | 3 | 4
144 | 104,952 | 5.8085 | 1 | 2 | 4 | 7 | 12
145 | 5,728 | 2.5513 | 1 | 1 | 2 | 3 | 5
146 | 10,226 | 9.7570 | 4 | 6 | 8 | 11 | 17
147 | 2,608 | 5.5498 | 2 | 4 | 5 | 7 | 9
148 | 132,689 | 11.9313 | 5 | 6 | 9 | 15 | 22
149 | 19,473 | 5.6473 | 3 | 4 | 5 | 7 | 8
150 | 22,894 | 10.7215 | 4 | 6 | 9 | 13 | 19
151 | 5,368 | 5.0183 | 1 | 2 | 4 | 7 | 9
152 | 5,000 | 7.9332 | 3 | 5 | 7 | 9 | 14
153 | 1,947 | 4.8639 | 2 | 3 | 5 | 6 | 7
154 | 26,973 | 12.9702 | 3 | 6 | 10 | 16 | 25
155 | 5,995 | 3.9585 | 1 | 2 | 3 | 6 | 8
156 | 4 | 9.2500 | 7 | 7 | 8 | 8 | 14
157 | 8,294 | 5.6907 | 1 | 2 | 4 | 7 | 11
158 | 3,710 | 2.6447 | 1 | 1 | 2 | 3 | 5
159 | 19,181 | 5.0884 | 1 | 2 | 4 | 6 | 10
160 | 11,929 | 2.6554 | 1 | 1 | 2 | 3 | 5
161 | 10,141 | 4.5089 | 1 | 2 | 3 | 6 | 9
162 | 4,954 | 2.0838 | 1 | 1 | 2 | 3 | 4
163 | 4 | 2.7500 | 1 | 1 | 2 | 3 | 5
164 | 5,972 | 7.6911 | 3 | 4 | 7 | 9 | 13
165 | 2,447 | 4.0016 | 2 | 2 | 4 | 5 | 7
166 | 5,128 | 4.3235 | 1 | 2 | 3 | 5 | 8
167 | 4,877 | 2.1300 | 1 | 1 | 2 | 3 | 4
168 | 1,532 | 4.8570 | 1 | 2 | 3 | 6 | 10
169 | 772 | 2.3964 | 1 | 1 | 2 | 3 | 5
170 | 17,895 | 10.7070 | 2 | 5 | 8 | 13 | 21
171 | 1,404 | 4.1695 | 1 | 2 | 3 | 5 | 8
172 | 33,137 | 6.7936 | 2 | 3 | 5 | 8 | 13
173 | 2,230 | 3.5309 | 1 | 1 | 3 | 4 | 7
174 | 261,063 | 4.6851 | 2 | 3 | 4 | 6 | 8
175 | 29,906 | 2.8557 | 1 | 2 | 2 | 4 | 5
176 | 14,599 | 5.0884 | 2 | 3 | 4 | 6 | 9
177 | 7,657 | 4.4324 | 2 | 2 | 4 | 5 | 8
178 | 2,550 | 3.0761 | 1 | 2 | 3 | 4 | 5
179 | 14,661 | 5.7827 | 2 | 3 | 4 | 7 | 11
180 | 91,338 | 5.2551 | 2 | 3 | 4 | 6 | 10
181 | 25,241 | 3.3112 | 1 | 2 | 3 | 4 | 6
182 | 297,097 | 4.4814 | 1 | 2 | 3 | 6 | 8
183 | 81,861 | 2.8942 | 1 | 1 | 2 | 4 | 5
184 | 76 | 4.3421 | 1 | 2 | 3 | 4 | 8
185 | 6,243 | 4.4810 | 1 | 2 | 3 | 6 | 9
186 | 7 | 3.1429 | 1 | 2 | 2 | 3 | 5
187 | 645 | 4.2016 | 1 | 2 | 3 | 6 | 8
188 | 93,582 | 5.4542 | 1 | 2 | 4 | 7 | 11
189 | 13,160 | 3.0575 | 1 | 1 | 2 | 4 | 6
190 | 63 | 4.8730 | 1 | 2 | 3 | 6 | 8
191 | 10,550 | 12.3736 | 3 | 6 | 9 | 15 | 25
192 | 1,376 | 5.5094 | 1 | 3 | 5 | 7 | 9
193 | 4,039 | 12.5519 | 5 | 7 | 10 | 15 | 23
194 | 463 | 6.3672 | 2 | 4 | 6 | 8 | 11
195 | 2,835 | 10.5661 | 4 | 6 | 9 | 13 | 18
196 | 595 | 5.3647 | 2 | 3 | 5 | 7 | 10
197 | 16,352 | 9.0237 | 3 | 5 | 7 | 11 | 16
198 | 4,110 | 4.3275 | 2 | 3 | 4 | 5 | 7
199 | 1,478 | 9.0068 | 2 | 4 | 7 | 12 | 19
200 | 1,014 | 10.3156 | 1 | 3 | 7 | 13 | 21
201 | 2,707 | 13.5670 | 3 | 6 | 10 | 17 | 27
202 | 27,516 | 6.1369 | 2 | 3 | 5 | 8 | 12
203 | 32,333 | 6.4419 | 2 | 3 | 5 | 8 | 13
204 | 69,207 | 5.3851 | 2 | 3 | 4 | 6 | 10
205 | 32,741 | 5.8448 | 2 | 3 | 4 | 7 | 12
206 | 2,042 | 3.7958 | 1 | 2 | 3 | 5 | 7
207 | 38,339 | 5.2460 | 1 | 2 | 4 | 7 | 10
208 | 9,538 | 2.9494 | 1 | 1 | 2 | 4 | 6
210 | 126,376 | 6.6274 | 3 | 4 | 5 | 8 | 11
211 | 25,712 | 4.5900 | 3 | 3 | 4 | 5 | 7
212 | 10 | 2.5000 | 1 | 2 | 2 | 4 | 4
213 | 9,459 | 8.9875 | 2 | 4 | 7 | 11 | 18
216 | 19,928 | 5.3145 | 1 | 1 | 3 | 7 | 13
217 | 15,593 | 12.1150 | 3 | 5 | 8 | 15 | 24
218 | 29,975 | 5.3809 | 2 | 3 | 4 | 7 | 10
219 | 21,059 | 3.1663 | 1 | 2 | 3 | 4 | 5
220 | 2 | 4.0000 | 1 | 1 | 7 | 7 | 7
223 | 12,649 | 3.2641 | 1 | 1 | 2 | 4 | 7
224 | 9,937 | 1.9359 | 1 | 1 | 1 | 2 | 3
225 | 6,246 | 5.2730 | 1 | 2 | 4 | 7 | 11
226 | 6,736 | 6.3550 | 1 | 3 | 4 | 8 | 13
227 | 4,868 | 2.6313 | 1 | 1 | 2 | 3 | 5
228 | 2,680 | 4.1981 | 1 | 1 | 3 | 5 | 9
229 | 1,123 | 2.4880 | 1 | 1 | 2 | 3 | 5
230 | 2,459 | 5.4254 | 1 | 2 | 4 | 7 | 11
232 | 568 | 2.7394 | 1 | 1 | 2 | 3 | 6
233 | 18,412 | 6.3241 | 1 | 2 | 5 | 8 | 13
234 | 9,074 | 2.6676 | 1 | 1 | 1 | 3 | 6
235 | 4,753 | 4.6749 | 1 | 2 | 4 | 6 | 8
236 | 41,727 | 4.4100 | 1 | 3 | 4 | 5 | 8
237 | 1,918 | 3.7873 | 1 | 2 | 3 | 5 | 7
238 | 9,766 | 8.0468 | 2 | 4 | 6 | 10 | 15
239 | 40,272 | 6.0349 | 2 | 3 | 5 | 7 | 11
240 | 12,903 | 6.4095 | 2 | 3 | 5 | 8 | 12
241 | 2,833 | 3.6287 | 1 | 2 | 3 | 4 | 6
242 | 2,729 | 6.4723 | 2 | 3 | 5 | 8 | 12
243 | 100,743 | 4.4942 | 1 | 2 | 4 | 6 | 8
244 | 17,027 | 4.4384 | 1 | 2 | 4 | 6 | 8
245 | 5,905 | 3.1160 | 1 | 1 | 3 | 4 | 6
246 | 1,407 | 3.5586 | 1 | 2 | 3 | 4 | 7
247 | 21,432 | 3.2912 | 1 | 2 | 3 | 4 | 6
248 | 16,495 | 4.8125 | 2 | 3 | 4 | 6 | 9
249 | 13,445 | 3.9212 | 1 | 1 | 3 | 5 | 8
250 | 4,144 | 3.8446 | 1 | 2 | 3 | 5 | 7
251 | 2,068 | 2.7964 | 1 | 1 | 3 | 3 | 5
252 | 1 | 1.0000 | 1 | 1 | 1 | 1 | 1
253 | 24,751 | 4.5342 | 2 | 3 | 4 | 5 | 8
254 | 9,993 | 3.0679 | 1 | 2 | 3 | 4 | 5
255 | 1 | 1.0000 | 1 | 1 | 1 | 1 | 1
256 | 7,608 | 4.9628 | 1 | 2 | 4 | 6 | 9
257 | 13,094 | 2.5466 | 1 | 1 | 2 | 3 | 5
258 | 11,391 | 1.6969 | 1 | 1 | 1 | 2 | 3
259 | 2,658 | 2.8503 | 1 | 1 | 1 | 3 | 7
260 | 2,432 | 1.4030 | 1 | 1 | 1 | 1 | 2
261 | 1,570 | 2.1949 | 1 | 1 | 1 | 2 | 4
262 | 599 | 4.6194 | 1 | 2 | 3 | 6 | 9
263 | 22,466 | 10.4537 | 3 | 5 | 7 | 13 | 20
264 | 3,905 | 6.2453 | 2 | 3 | 5 | 7 | 11
265 | 4,011 | 6.5410 | 1 | 2 | 4 | 8 | 14
266 | 2,221 | 3.0360 | 1 | 1 | 2 | 4 | 6
267 | 273 | 4.2125 | 1 | 1 | 3 | 5 | 9
268 | 994 | 3.6579 | 1 | 1 | 2 | 4 | 7
269 | 11,015 | 7.9966 | 2 | 3 | 6 | 10 | 15
270 | 2,568 | 3.5927 | 1 | 1 | 3 | 5 | 7
271 | 21,705 | 6.7812 | 2 | 3 | 5 | 8 | 12
272 | 6,079 | 5.8138 | 2 | 3 | 4 | 7 | 11
273 | 1,267 | 3.7119 | 1 | 2 | 3 | 5 | 7
274 | 2,242 | 6.1704 | 1 | 3 | 5 | 8 | 12
275 | 180 | 3.2056 | 1 | 1 | 2 | 4 | 7
276 | 1,623 | 4.6161 | 1 | 2 | 4 | 6 | 8
277 | 119,318 | 5.4224 | 2 | 3 | 4 | 7 | 10
278 | 33,958 | 3.9963 | 2 | 2 | 3 | 5 | 7
279 | 6 | 4.1667 | 2 | 3 | 5 | 5 | 5
280 | 19,321 | 3.9877 | 1 | 2 | 3 | 5 | 7
281 | 6,560 | 2.8002 | 1 | 1 | 2 | 4 | 5
283 | 6,782 | 4.5823 | 1 | 2 | 3 | 6 | 9
284 | 1,870 | 2.9128 | 1 | 1 | 2 | 4 | 5
285 | 8,034 | 9.8114 | 3 | 5 | 8 | 12 | 18
286 | 2,859 | 5.1784 | 2 | 2 | 4 | 6 | 10
287 | 5,418 | 9.5314 | 3 | 5 | 7 | 11 | 17
288 | 11,270 | 3.7031 | 1 | 2 | 3 | 4 | 6
289 | 6,334 | 2.3892 | 1 | 1 | 1 | 2 | 5
290 | 11,872 | 2.0299 | 1 | 1 | 1 | 2 | 3
291 | 59 | 1.4915 | 1 | 1 | 1 | 1 | 2
292 | 7,563 | 10.0186 | 2 | 4 | 8 | 12 | 19
293 | 319 | 4.6865 | 1 | 2 | 3 | 6 | 9
294 | 97,793 | 4.2386 | 1 | 2 | 3 | 5 | 8
295 | 4,360 | 3.6961 | 1 | 2 | 3 | 4 | 7
296 | 247,607 | 4.6431 | 1 | 2 | 4 | 6 | 9
297 | 42,717 | 3.0296 | 1 | 2 | 3 | 4 | 5
298 | 110 | 3.5545 | 1 | 1 | 2 | 4 | 6
299 | 1,544 | 5.1101 | 1 | 2 | 4 | 6 | 10
300 | 21,677 | 5.8069 | 2 | 3 | 5 | 7 | 11
301 | 3,920 | 3.3571 | 1 | 2 | 3 | 4 | 6
302 | 10,267 | 7.9781 | 4 | 5 | 6 | 9 | 14
303 | 24,561 | 7.2806 | 3 | 4 | 6 | 8 | 14
304 | 14,043 | 8.3545 | 2 | 3 | 6 | 10 | 17
305 | 3,003 | 3.1052 | 1 | 2 | 3 | 4 | 6
306 | 5,792 | 5.5830 | 1 | 2 | 3 | 8 | 13
307 | 1,943 | 2.0314 | 1 | 1 | 2 | 2 | 3
308 | 6,673 | 6.1560 | 1 | 2 | 4 | 8 | 14
309 | 3,268 | 1.9819 | 1 | 1 | 1 | 2 | 4
310 | 25,310 | 4.4992 | 1 | 2 | 3 | 6 | 10
311 | 5,873 | 1.8502 | 1 | 1 | 1 | 2 | 3
312 | 1,322 | 4.9448 | 1 | 2 | 3 | 6 | 11
313 | 502 | 2.3845 | 1 | 1 | 2 | 3 | 5
314 | 2 | 89.0000 | 5 | 5 | 173 | 173 | 173
315 | 34,708 | 6.7296 | 1 | 1 | 4 | 9 | 16
316 | 204,595 | 6.1566 | 2 | 3 | 5 | 8 | 12
317 | 2,698 | 3.4959 | 1 | 1 | 2 | 4 | 7
318 | 5,901 | 5.9548 | 1 | 3 | 4 | 8 | 12
319 | 386 | 2.5466 | 1 | 1 | 2 | 3 | 5
320 | 225,362 | 4.9903 | 2 | 3 | 4 | 6 | 9
321 | 32,132 | 3.5412 | 1 | 2 | 3 | 4 | 6
322 | 67 | 3.5821 | 2 | 2 | 3 | 4 | 6
323 | 20,435 | 3.1085 | 1 | 1 | 2 | 4 | 6
324 | 4,625 | 1.8461 | 1 | 1 | 1 | 2 | 3
325 | 9,915 | 3.7382 | 1 | 2 | 3 | 5 | 7
326 | 2,596 | 2.5559 | 1 | 1 | 2 | 3 | 5
327 | 11 | 2.0000 | 1 | 1 | 2 | 2 | 3
328 | 574 | 3.3885 | 1 | 1 | 3 | 4 | 7
329 | 55 | 1.6727 | 1 | 1 | 1 | 2 | 3
331 | 56,928 | 5.4050 | 1 | 2 | 4 | 7 | 10
332 | 4,148 | 3.0668 | 1 | 1 | 2 | 4 | 6
333 | 242 | 5.3719 | 1 | 2 | 4 | 6 | 10
334 | 9,483 | 4.0363 | 1 | 2 | 3 | 5 | 7
335 | 12,125 | 2.4941 | 1 | 2 | 2 | 3 | 4
336 | 28,106 | 3.2238 | 1 | 1 | 2 | 4 | 7
337 | 21,429 | 1.8439 | 1 | 1 | 2 | 2 | 3
338 | 670 | 5.7910 | 1 | 2 | 4 | 8 | 13
339 | 1,226 | 5.1835 | 1 | 2 | 3 | 7 | 11
340 | 1 | 2.0000 | 2 | 2 | 2 | 2 | 2
341 | 3,118 | 3.2049 | 1 | 1 | 1 | 3 | 7
342 | 455 | 3.0440 | 1 | 1 | 2 | 3 | 6
344 | 2,346 | 2.7289 | 1 | 1 | 1 | 3 | 7
345 | 1,393 | 5.4113 | 1 | 2 | 3 | 7 | 12
346 | 4,007 | 5.8982 | 2 | 3 | 4 | 7 | 11
347 | 247 | 2.7126 | 1 | 1 | 2 | 4 | 6
348 | 4,275 | 4.0044 | 1 | 2 | 3 | 5 | 8
349 | 556 | 2.6529 | 1 | 1 | 2 | 3 | 5
350 | 7,277 | 4.5139 | 2 | 2 | 4 | 6 | 8
352 | 1,176 | 4.1896 | 1 | 2 | 3 | 5 | 9
353 | 3,076 | 6.0039 | 2 | 3 | 4 | 7 | 11
354 | 7,559 | 5.5536 | 2 | 3 | 4 | 6 | 10
355 | 4,995 | 3.0162 | 2 | 2 | 3 | 3 | 4
356 | 22,243 | 1.8699 | 1 | 1 | 2 | 2 | 3
357 | 5,525 | 8.0443 | 3 | 4 | 6 | 10 | 15
358 | 20,877 | 3.8586 | 2 | 2 | 3 | 4 | 7
359 | 28,606 | 2.3498 | 1 | 2 | 2 | 3 | 3
360 | 14,265 | 2.5481 | 1 | 1 | 2 | 3 | 4
361 | 288 | 2.9688 | 1 | 1 | 2 | 3 | 7
362 | 2 | 1.0000 | 1 | 1 | 1 | 1 | 1
363 | 1,979 | 4.0889 | 1 | 2 | 2 | 4 | 9
364 | 1,367 | 4.1895 | 1 | 2 | 3 | 5 | 8
365 | 1,607 | 7.8363 | 2 | 3 | 5 | 10 | 16
366 | 4,664 | 6.2281 | 2 | 3 | 5 | 8 | 12
367 | 449 | 3.0356 | 1 | 1 | 2 | 4 | 6
368 | 4,156 | 6.3780 | 2 | 3 | 5 | 8 | 12
369 | 3,783 | 3.2495 | 1 | 1 | 2 | 4 | 6
370 | 2,212 | 5.0190 | 2 | 3 | 4 | 5 | 7
371 | 2,662 | 3.3933 | 2 | 3 | 3 | 4 | 4
372 | 1,355 | 3.4635 | 2 | 2 | 2 | 3 | 5
373 | 5,213 | 2.2486 | 1 | 2 | 2 | 3 | 3
374 | 153 | 2.9739 | 2 | 2 | 2 | 3 | 4
375 | 13 | 6.2308 | 1 | 2 | 3 | 7 | 15
376 | 474 | 3.2911 | 1 | 2 | 2 | 4 | 7
377 | 111 | 4.4414 | 1 | 2 | 3 | 6 | 9
378 | 204 | 2.1716 | 1 | 1 | 2 | 3 | 4
379 | 486 | 3.1914 | 1 | 1 | 2 | 3 | 6
380 | 111 | 1.9910 | 1 | 1 | 1 | 2 | 4
381 | 172 | 2.4186 | 1 | 1 | 1 | 2 | 5
382 | 51 | 1.4510 | 1 | 1 | 1 | 1 | 3
383 | 2,816 | 3.6364 | 1 | 1 | 2 | 4 | 7
384 | 147 | 2.4966 | 1 | 1 | 1 | 3 | 4
387 | 1 | 9.0000 | 9 | 9 | 9 | 9 | 9
389 | 3 | 2.0000 | 1 | 1 | 2 | 3 | 3
392 | 2,121 | 8.8237 | 2 | 4 | 6 | 11 | 19
394 | 2,760 | 7.2779 | 1 | 2 | 5 | 9 | 16
395 | 115,737 | 4.2702 | 1 | 2 | 3 | 5 | 8
396 | 20 | 2.9500 | 1 | 2 | 3 | 3 | 4
397 | 16,460 | 5.1170 | 1 | 2 | 4 | 6 | 10
398 | 18,608 | 5.7065 | 2 | 3 | 4 | 7 | 11
399 | 1,644 | 3.3802 | 1 | 2 | 3 | 4 | 6
401 | 6,443 | 11.0118 | 2 | 5 | 8 | 14 | 22
402 | 1,341 | 3.8926 | 1 | 1 | 3 | 5 | 9
403 | 31,520 | 7.8447 | 2 | 3 | 6 | 10 | 16
404 | 3,629 | 3.9862 | 1 | 2 | 3 | 5 | 8
406 | 2,301 | 9.4198 | 2 | 4 | 7 | 12 | 20
407 | 608 | 3.5049 | 1 | 2 | 3 | 5 | 6
408 | 1,941 | 8.1891 | 1 | 2 | 5 | 11 | 19
409 | 1,735 | 5.9873 | 2 | 3 | 4 | 6 | 12
410 | 29,030 | 3.7625 | 1 | 2 | 3 | 5 | 6
411 | 5 | 2.0000 | 1 | 1 | 1 | 3 | 4
412 | 8 | 1.5000 | 1 | 1 | 1 | 2 | 2
413 | 5,728 | 6.7263 | 2 | 3 | 5 | 9 | 13
414 | 481 | 4.0520 | 1 | 2 | 3 | 5 | 7
415 | 55,707 | 14.0947 | 4 | 6 | 11 | 17 | 27
416 | 287,777 | 7.4539 | 2 | 3 | 6 | 9 | 14
417 | 33 | 6.5455 | 2 | 3 | 5 | 8 | 12
418 | 29,900 | 6.0648 | 2 | 3 | 5 | 7 | 11
419 | 17,739 | 4.3418 | 1 | 2 | 3 | 5 | 8
420 | 3,054 | 3.1673 | 1 | 2 | 3 | 4 | 6
421 | 13,253 | 4.0073 | 1 | 2 | 3 | 5 | 7
422 | 77 | 3.6753 | 1 | 2 | 2 | 4 | 7
423 | 9,078 | 8.0063 | 2 | 3 | 6 | 10 | 16
424 | 1,034 | 11.3598 | 2 | 4 | 8 | 14 | 23
425 | 13,110 | 3.4657 | 1 | 1 | 3 | 4 | 7
426 | 4,246 | 4.3243 | 1 | 2 | 3 | 5 | 8
427 | 1,575 | 4.6387 | 1 | 2 | 3 | 5 | 8
428 | 831 | 7.2972 | 1 | 2 | 4 | 7 | 13
429 | 24,106 | 5.5073 | 2 | 3 | 4 | 6 | 10
430 | 75,207 | 7.7972 | 2 | 3 | 6 | 9 | 14
431 | 338 | 6.8402 | 1 | 2 | 4 | 7 | 12
432 | 401 | 4.0449 | 1 | 1 | 3 | 4 | 8
433 | 5,146 | 2.9195 | 1 | 1 | 2 | 3 | 6
439 | 1,750 | 8.5280 | 1 | 3 | 5 | 10 | 17
440 | 5,181 | 8.1670 | 2 | 3 | 5 | 9 | 16
441 | 687 | 3.4731 | 1 | 1 | 2 | 4 | 7
442 | 18,533 | 8.6498 | 2 | 3 | 6 | 10 | 18
443 | 3,572 | 3.5269 | 1 | 1 | 3 | 5 | 7
444 | 6,005 | 4.0206 | 1 | 2 | 3 | 5 | 7
445 | 2,261 | 2.8178 | 1 | 1 | 2 | 4 | 5
447 | 6,342 | 2.5732 | 1 | 1 | 2 | 3 | 5
449 | 40,821 | 3.6926 | 1 | 1 | 3 | 4 | 7
450 | 7,412 | 1.9899 | 1 | 1 | 1 | 2 | 4
451 | 2 | 10.5000 | 8 | 8 | 13 | 13 | 13
452 | 28,666 | 4.9275 | 1 | 2 | 3 | 6 | 10
453 | 5,381 | 2.7640 | 1 | 1 | 2 | 3 | 5
454 | 4,755 | 4.1085 | 1 | 2 | 3 | 5 | 8
455 | 885 | 2.3017 | 1 | 1 | 2 | 3 | 4
461 | 2,271 | 5.5685 | 1 | 1 | 3 | 7 | 12
462 | 7,873 | 9.5382 | 4 | 5 | 7 | 10 | 12
463 | 32,987 | 3.8751 | 1 | 2 | 3 | 5 | 7
464 | 7,681 | 2.9046 | 1 | 1 | 2 | 4 | 5
465 | 171 | 3.6023 | 1 | 1 | 2 | 5 | 8
466 | 1,250 | 4.7560 | 1 | 1 | 2 | 5 | 8
467 | 1,037 | 2.6914 | 1 | 1 | 2 | 3 | 6
468 | 51,814 | 12.5399 | 3 | 6 | 10 | 16 | 24
471 | 16,680 | 4.8562 | 3 | 3 | 4 | 5 | 8
473 | 8,558 | 12.4167 | 2 | 3 | 7 | 17 | 32
475 | 119,967 | 10.6391 | 2 | 5 | 9 | 14 | 20
476 | 2,841 | 9.9335 | 1 | 4 | 8 | 14 | 19
477 | 28,081 | 8.5088 | 1 | 3 | 7 | 11 | 17
479 | 27,608 | 2.5529 | 1 | 1 | 2 | 3 | 5
480 | 884 | 19.1618 | 6 | 8 | 13 | 23 | 39
481 | 1,183 | 22.0211 | 12 | 16 | 20 | 24 | 33
482 | 5,078 | 11.2115 | 4 | 6 | 9 | 13 | 20
484 | 456 | 12.7741 | 2 | 5 | 10 | 17 | 26
485 | 3,658 | 9.4672 | 4 | 5 | 7 | 11 | 17
486 | 2,607 | 12.1952 | 2 | 5 | 10 | 16 | 25
487 | 4,878 | 6.8569 | 1 | 3 | 5 | 9 | 14
488 | 823 | 17.4836 | 4 | 7 | 13 | 21 | 35
489 | 13,668 | 8.1512 | 2 | 3 | 6 | 10 | 16
490 | 5,341 | 5.3026 | 1 | 2 | 4 | 7 | 10
491 | 22,698 | 3.0177 | 1 | 2 | 2 | 3 | 5
492 | 3,897 | 13.8111 | 3 | 5 | 6 | 23 | 32
493 | 60,917 | 6.0332 | 2 | 3 | 5 | 8 | 11
494 | 24,482 | 2.6885 | 1 | 1 | 2 | 4 | 5
495 | 336 | 17.0417 | 8 | 10 | 13 | 20 | 33
496 | 3,710 | 8.7685 | 3 | 4 | 6 | 10 | 18
497 | 31,247 | 5.6724 | 3 | 3 | 5 | 6 | 9
498 | 21,409 | 3.6627 | 2 | 3 | 3 | 4 | 6
499 | 35,214 | 4.1547 | 1 | 2 | 3 | 5 | 8
500 | 46,705 | 2.1886 | 1 | 1 | 2 | 3 | 4
501 | 3,172 | 9.8373 | 4 | 5 | 8 | 12 | 18
502 | 756 | 5.7315 | 2 | 3 | 5 | 7 | 10
503 | 5,863 | 3.9168 | 1 | 2 | 3 | 5 | 7
504 | 191 | 28.1885 | 8 | 13 | 24 | 36 | 51
505 | 180 | 6.3611 | 1 | 1 | 2 | 7 | 15
506 | 964 | 15.2656 | 3 | 7 | 12 | 20 | 30
507 | 323 | 7.7895 | 1 | 3 | 6 | 10 | 15
508 | 663 | 7.4087 | 1 | 3 | 5 | 9 | 15
509 | 157 | 5.2038 | 1 | 2 | 3 | 6 | 11
510 | 1,798 | 6.0801 | 1 | 2 | 4 | 7 | 12
511 | 636 | 3.6840 | 1 | 1 | 2 | 5 | 8
512 | 530 | 13.5491 | 6 | 8 | 10 | 14 | 25
513 | 213 | 10.0235 | 5 | 7 | 8 | 11 | 17
515 | 58,194 | 3.8449 | 1 | 1 | 2 | 5 | 9
518 | 23,656 | 2.4643 | 1 | 1 | 1 | 3 | 5
519 | 12,546 | 4.6720 | 1 | 1 | 3 | 6 | 11
520 | 16,538 | 1.9346 | 1 | 1 | 1 | 2 | 4
521 | 32,469 | 5.4433 | 2 | 3 | 4 | 7 | 11
522 | 5,805 | 9.2951 | 4 | 4 | 7 | 12 | 17
523 | 15,604 | 3.8646 | 1 | 2 | 3 | 5 | 6
524 | 109,168 | 3.1419 | 1 | 2 | 3 | 4 | 6
525 | 203 | 13.8719 | 1 | 3 | 7 | 17 | 35
528 | 1,841 | 16.2960 | 6 | 9 | 14 | 21 | 29
529 | 5,110 | 7.2626 | 1 | 2 | 4 | 9 | 16
530 | 3,374 | 2.9452 | 1 | 1 | 2 | 3 | 6
531 | 4,874 | 8.9241 | 2 | 4 | 7 | 11 | 18
532 | 2,832 | 3.6335 | 1 | 1 | 3 | 5 | 7
533 | 46,528 | 3.6527 | 1 | 1 | 2 | 4 | 8
534 | 42,555 | 1.7237 | 1 | 1 | 1 | 2 | 3
535 | 8,766 | 9.2450 | 2 | 4 | 8 | 12 | 17
536 | 8,191 | 7.2792 | 2 | 3 | 6 | 9 | 14
537 | 8,953 | 6.4996 | 1 | 3 | 5 | 8 | 13
538 | 5,456 | 2.9041 | 1 | 1 | 2 | 4 | 6
539 | 4,954 | 10.5365 | 2 | 4 | 7 | 14 | 23
540 | 1,493 | 3.5050 | 1 | 1 | 3 | 4 | 7
541 | 25,010 | 41.5518 | 16 | 23 | 34 | 50 | 73
542 | 23,224 | 30.4308 | 11 | 17 | 25 | 37 | 53
543 | 5,478 | 11.7158 | 2 | 5 | 9 | 16 | 24
544 | 445,170 | 4.3989 | 3 | 3 | 4 | 5 | 7
545 | 43,505 | 5.0296 | 3 | 3 | 4 | 6 | 8
546 | 2,348 | 8.7709 | 3 | 4 | 7 | 10 | 16
547 | 32,613 | 12.1280 | 6 | 8 | 10 | 14 | 20
548 | 32,131 | 8.7786 | 5 | 6 | 8 | 10 | 13
549 | 13,102 | 10.1125 | 5 | 6 | 8 | 12 | 18
550 | 34,474 | 6.7767 | 4 | 5 | 6 | 8 | 10
551 | 53,809 | 6.0733 | 1 | 2 | 5 | 8 | 12
552 | 81,920 | 3.4753 | 1 | 1 | 2 | 5 | 7
553 | 39,195 | 9.0732 | 1 | 3 | 7 | 12 | 19
554 | 77,181 | 5.5751 | 1 | 2 | 4 | 7 | 12
555 | 37,296 | 4.8187 | 1 | 2 | 3 | 6 | 10
556 | 18,962 | 2.0159 | 1 | 1 | 1 | 2 | 4
557 | 123,883 | 4.1057 | 1 | 2 | 3 | 5 | 8
558 | 192,407 | 1.8118 | 1 | 1 | 1 | 2 | 4
559 | 2,889 | 6.8463 | 2 | 3 | 5 | 8 | 13
| 12,149,409

Table 7B.—Medicare Prospective Payment System Selected Percentile Lengths of Stay FY 2005 MedPAR Update December 2005 Grouper V24.0
DRG | Number of discharges | Arithmetic mean length-of-stay | 10th percentile | 25th percentile | 50th percentile | 75th percentile | 90th percentile
1 | 24,342 | 9.6035 | 2 | 4 | 7 | 12 | 19
2 | 10,268 | 4.3919 | 1 | 2 | 4 | 6 | 8
3 | 2 | 12.5000 | 4 | 4 | 21 | 21 | 21
6 | 291 | 3.0619 | 1 | 1 | 2 | 4 | 7
7 | 14,937 | 9.2561 | 2 | 4 | 7 | 12 | 19
8 | 3,419 | 2.7640 | 1 | 1 | 2 | 3 | 6
9 | 1,762 | 6.0335 | 1 | 3 | 4 | 7 | 11
10 | 19,573 | 5.9187 | 2 | 3 | 4 | 7 | 12
11 | 3,070 | 3.5476 | 1 | 2 | 3 | 5 | 7
12 | 57,060 | 5.4770 | 2 | 3 | 4 | 6 | 10
13 | 7,489 | 4.8484 | 2 | 3 | 4 | 6 | 8
14 | 278,444 | 5.3747 | 2 | 3 | 4 | 7 | 10
15 | 19,998 | 4.0114 | 1 | 2 | 3 | 5 | 7
16 | 17,374 | 6.2850 | 2 | 3 | 5 | 8 | 12
17 | 2,960 | 3.0372 | 1 | 1 | 2 | 4 | 6
18 | 33,407 | 5.1537 | 2 | 3 | 4 | 6 | 10
19 | 8,413 | 3.3808 | 1 | 2 | 3 | 4 | 6
20 | 6,389 | 9.8455 | 3 | 5 | 8 | 12 | 18
21 | 2,204 | 6.1892 | 2 | 3 | 5 | 8 | 12
22 | 3,158 | 5.0130 | 2 | 2 | 4 | 6 | 10
23 | 10,736 | 3.9275 | 1 | 2 | 3 | 5 | 7
24 | 63,274 | 4.6447 | 1 | 2 | 3 | 6 | 9
25 | 27,221 | 3.1235 | 1 | 2 | 3 | 4 | 6
26 | 24 | 3.7917 | 1 | 1 | 2 | 5 | 9
27 | 5,910 | 4.7389 | 1 | 1 | 3 | 6 | 10
28 | 19,811 | 5.5762 | 1 | 2 | 4 | 7 | 11
29 | 6,491 | 3.2169 | 1 | 1 | 3 | 4 | 6
31 | 4,963 | 3.9079 | 1 | 2 | 3 | 5 | 7
32 | 1,854 | 2.2681 | 1 | 1 | 2 | 3 | 4
34 | 27,481 | 4.7113 | 1 | 2 | 4 | 6 | 9
35 | 7,817 | 3.0380 | 1 | 1 | 3 | 4 | 6
36 | 1,207 | 1.6827 | 1 | 1 | 1 | 1 | 3
37 | 1,228 | 4.0847 | 1 | 1 | 3 | 5 | 9
38 | 49 | 2.8367 | 1 | 1 | 2 | 3 | 6
39 | 361 | 2.0305 | 1 | 1 | 1 | 2 | 4
40 | 1,251 | 4.1431 | 1 | 1 | 4 | 5 | 7
42 | 943 | 3.0403 | 1 | 1 | 2 | 4 | 7
43 | 123 | 2.9512 | 1 | 1 | 2 | 4 | 5
44 | 1,298 | 4.7473 | 2 | 3 | 4 | 6 | 8
45 | 2,761 | 3.0315 | 1 | 2 | 2 | 4 | 6
46 | 3,930 | 4.1880 | 1 | 2 | 3 | 5 | 8
47 | 1,310 | 3.0069 | 1 | 1 | 2 | 4 | 6
49 | 2,417 | 4.5122 | 1 | 2 | 3 | 5 | 9
50 | 2,024 | 1.8656 | 1 | 1 | 1 | 2 | 3
51 | 191 | 2.6859 | 1 | 1 | 1 | 3 | 6
52 | 316 | 1.7025 | 1 | 1 | 1 | 2 | 3
53 | 2,144 | 4.0005 | 1 | 1 | 2 | 5 | 9
55 | 1,365 | 2.8864 | 1 | 1 | 2 | 3 | 6
56 | 451 | 2.6674 | 1 | 1 | 2 | 3 | 5
57 | 882 | 3.1610 | 1 | 1 | 2 | 3 | 7
59 | 127 | 2.3780 | 1 | 1 | 2 | 3 | 5
60 | 3 | 1.6667 | 1 | 1 | 1 | 3 | 3
61 | 222 | 6.0541 | 1 | 1 | 4 | 8 | 13
62 | 4 | 1.5000 | 1 | 1 | 1 | 1 | 3
63 | 2,819 | 4.5413 | 1 | 1 | 3 | 6 | 10
64 | 3,237 | 6.2252 | 1 | 2 | 4 | 8 | 13
65 | 40,692 | 2.7630 | 1 | 1 | 2 | 3 | 5
66 | 8,202 | 3.1099 | 1 | 1 | 2 | 4 | 6
67 | 378 | 3.6958 | 1 | 2 | 3 | 5 | 8
68 | 19,016 | 3.8478 | 1 | 2 | 3 | 5 | 7
69 | 5,160 | 2.9453 | 1 | 2 | 3 | 4 | 5
70 | 23 | 2.3478 | 1 | 1 | 2 | 3 | 4
71 | 70 | 4.3429 | 1 | 2 | 3 | 5 | 7
72 | 1,338 | 3.3169 | 1 | 2 | 3 | 4 | 6
73 | 9,943 | 4.2956 | 1 | 2 | 3 | 5 | 8
74 | 3 | 3.3333 | 3 | 3 | 3 | 4 | 4
75 | 46,669 | 9.5793 | 3 | 5 | 7 | 12 | 19
76 | 48,046 | 10.4814 | 3 | 5 | 8 | 13 | 20
77 | 2,086 | 4.4971 | 1 | 2 | 4 | 6 | 9
78 | 49,542 | 6.0974 | 2 | 4 | 5 | 7 | 10
79 | 160,422 | 8.0472 | 3 | 4 | 7 | 10 | 15
80 | 7,151 | 5.2225 | 2 | 3 | 4 | 6 | 9
81 | 6 | 6.1667 | 2 | 3 | 5 | 8 | 8
82 | 63,105 | 6.6705 | 2 | 3 | 5 | 9 | 13
83 | 7,054 | 5.2007 | 2 | 3 | 4 | 6 | 10
84 | 1,379 | 3.1378 | 1 | 2 | 3 | 4 | 6
85 | 22,190 | 6.1035 | 2 | 3 | 5 | 8 | 12
86 | 1,719 | 3.4607 | 1 | 2 | 3 | 5 | 7
87 | 96,722 | 6.3636 | 2 | 3 | 5 | 8 | 12
88 | 428,131 | 4.8522 | 2 | 3 | 4 | 6 | 9
89 | 554,927 | 5.5242 | 2 | 3 | 5 | 7 | 10
90 | 143,397 | 3.7046 | 2 | 2 | 3 | 5 | 6
91 | 53 | 3.4151 | 1 | 1 | 2 | 4 | 6
92 | 16,515 | 5.9398 | 2 | 3 | 5 | 7 | 11
93 | 1,431 | 3.7519 | 1 | 2 | 3 | 5 | 7
94 | 13,559 | 5.9001 | 2 | 3 | 5 | 8 | 12
95 | 1,567 | 3.3854 | 1 | 2 | 3 | 4 | 6
96 | 60,067 | 4.2943 | 2 | 2 | 4 | 5 | 8
97 | 26,938 | 3.3583 | 1 | 2 | 3 | 4 | 6
98 | 13 | 3.0769 | 2 | 2 | 2 | 4 | 6
99 | 21,398 | 3.0985 | 1 | 1 | 2 | 4 | 6
100 | 6,411 | 2.1093 | 1 | 1 | 2 | 3 | 4
101 | 23,326 | 4.1821 | 1 | 2 | 3 | 5 | 8
102 | 4,896 | 2.5353 | 1 | 1 | 2 | 3 | 5
103 | 859 | 34.9488 | 8 | 11 | 22 | 45 | 76
104 | 20,062 | 14.6431 | 6 | 8 | 12 | 18 | 26
105 | 32,513 | 9.9310 | 4 | 6 | 8 | 11 | 18
106 | 3,425 | 10.9323 | 5 | 7 | 9 | 13 | 18
108 | 8,715 | 10.7177 | 4 | 6 | 9 | 13 | 19
110 | 57,507 | 8.0074 | 1 | 3 | 6 | 10 | 16
111 | 10,723 | 3.1038 | 1 | 1 | 2 | 4 | 6
113 | 34,611 | 12.5574 | 4 | 6 | 10 | 15 | 24
114 | 7,947 | 8.3434 | 2 | 4 | 7 | 11 | 16
117 | 5,333 | 4.2738 | 1 | 1 | 2 | 5 | 9
118 | 7,615 | 3.0223 | 1 | 1 | 2 | 4 | 7
119 | 964 | 5.3932 | 1 | 1 | 3 | 7 | 13
120 | 33,418 | 8.9638 | 1 | 3 | 6 | 12 | 19
121 | 150,021 | 6.2025 | 2 | 3 | 5 | 8 | 12
122 | 54,501 | 3.3056 | 1 | 1 | 3 | 4 | 6
123 | 29,532 | 4.7330 | 1 | 1 | 3 | 6 | 11
124 | 120,245 | 4.3891 | 1 | 2 | 3 | 6 | 9
125 | 92,047 | 2.7024 | 1 | 1 | 2 | 3 | 5
126 | 5,419 | 10.7123 | 3 | 6 | 9 | 13 | 20
127 | 668,127 | 5.0831 | 2 | 3 | 4 | 6 | 9
128 | 4,228 | 5.1824 | 2 | 3 | 5 | 6 | 9
129 | 3,516 | 2.5444 | 1 | 1 | 1 | 2 | 5
130 | 87,532 | 5.3515 | 1 | 3 | 4 | 7 | 10
131 | 22,847 | 3.7023 | 1 | 2 | 3 | 5 | 6
132 | 101,519 | 2.8000 | 1 | 1 | 2 | 3 | 5
133 | 5,861 | 2.1435 | 1 | 1 | 2 | 3 | 4
134 | 40,204 | 3.0925 | 1 | 2 | 2 | 4 | 6
135 | 7,152 | 4.2875 | 1 | 2 | 3 | 5 | 8
136 | 934 | 2.6938 | 1 | 1 | 2 | 3 | 5
138 | 206,178 | 3.8766 | 1 | 2 | 3 | 5 | 7
139 | 73,962 | 2.4279 | 1 | 1 | 2 | 3 | 4
140 | 31,440 | 2.4072 | 1 | 1 | 2 | 3 | 4
141 | 123,506 | 3.4313 | 1 | 2 | 3 | 4 | 6
142 | 49,357 | 2.4907 | 1 | 1 | 2 | 3 | 4
143 | 238,140 | 2.0969 | 1 | 1 | 2 | 3 | 4
144 | 105,005 | 5.8109 | 1 | 2 | 4 | 7 | 12
145 | 5,713 | 2.5452 | 1 | 1 | 2 | 3 | 5
146 | 10,240 | 9.7635 | 4 | 6 | 8 | 11 | 17
147 | 2,600 | 5.5485 | 2 | 4 | 5 | 7 | 8
148 | 132,760 | 11.9306 | 5 | 6 | 9 | 15 | 22
149 | 19,451 | 5.6456 | 3 | 4 | 5 | 7 | 8
150 | 22,923 | 10.7178 | 4 | 6 | 9 | 13 | 19
151 | 5,379 | 5.0134 | 1 | 2 | 4 | 7 | 9
152 | 5,000 | 7.9154 | 3 | 5 | 7 | 9 | 14
153 | 1,943 | 4.8636 | 2 | 3 | 5 | 6 | 7
154 | 26,986 | 12.9751 | 3 | 6 | 10 | 16 | 25
155 | 5,993 | 3.9580 | 1 | 2 | 3 | 6 | 8
156 | 4 | 9.2500 | 7 | 7 | 8 | 8 | 14
157 | 8,303 | 5.6904 | 1 | 2 | 4 | 7 | 11
158 | 3,703 | 2.6425 | 1 | 1 | 2 | 3 | 5
159 | 19,177 | 5.0870 | 1 | 2 | 4 | 6 | 10
160 | 11,919 | 2.6539 | 1 | 1 | 2 | 3 | 5
161 | 10,150 | 4.5100 | 1 | 2 | 3 | 6 | 9
162 | 4,955 | 2.0852 | 1 | 1 | 2 | 3 | 4
163 | 4 | 2.7500 | 1 | 1 | 2 | 3 | 5
164 | 5,979 | 7.6887 | 3 | 4 | 7 | 9 | 14
165 | 2,445 | 4.0045 | 2 | 2 | 4 | 5 | 7
166 | 5,128 | 4.3249 | 1 | 2 | 3 | 5 | 8
167 | 4,888 | 2.1291 | 1 | 1 | 2 | 3 | 4
168 | 1,531 | 4.8537 | 1 | 2 | 3 | 6 | 10
169 | 771 | 2.3904 | 1 | 1 | 2 | 3 | 5
170 | 17,892 | 10.6930 | 2 | 5 | 8 | 13 | 21
171 | 1,402 | 4.1676 | 1 | 2 | 3 | 5 | 8
172 | 33,088 | 6.7832 | 2 | 3 | 5 | 8 | 13
173 | 2,201 | 3.4993 | 1 | 1 | 3 | 4 | 7
174 | 261,230 | 4.6845 | 2 | 3 | 4 | 6 | 8
175 | 29,881 | 2.8559 | 1 | 2 | 2 | 4 | 5
176 | 14,624 | 5.0844 | 2 | 3 | 4 | 6 | 9
177 | 7,655 | 4.4286 | 2 | 2 | 4 | 5 | 8
178 | 2,554 | 3.0779 | 1 | 2 | 3 | 4 | 5
179 | 14,667 | 5.7799 | 2 | 3 | 4 | 7 | 11
180 | 91,385 | 5.2542 | 2 | 3 | 4 | 6 | 10
181 | 25,208 | 3.3076 | 1 | 2 | 3 | 4 | 6
182 | 297,098 | 4.4827 | 1 | 2 | 3 | 6 | 8
183 | 81,695 | 2.8952 | 1 | 1 | 2 | 4 | 5
184 | 76 | 4.3421 | 1 | 2 | 3 | 4 | 8
185 | 6,238 | 4.4833 | 1 | 2 | 3 | 6 | 9
186 | 7 | 3.1429 | 1 | 2 | 2 | 3 | 5
187 | 640 | 4.1984 | 1 | 2 | 3 | 6 | 8
188 | 93,553 | 5.4513 | 1 | 2 | 4 | 7 | 11
189 | 13,057 | 3.0531 | 1 | 1 | 2 | 4 | 6
190 | 63 | 4.8730 | 1 | 2 | 3 | 6 | 8
191 | 10,552 | 12.3500 | 3 | 6 | 9 | 15 | 25
192 | 1,376 | 5.4964 | 1 | 3 | 5 | 7 | 9
193 | 4,034 | 12.5473 | 5 | 7 | 10 | 15 | 23
194 | 463 | 6.3672 | 2 | 4 | 6 | 8 | 11
195 | 2,835 | 10.5686 | 4 | 6 | 9 | 13 | 18
196 | 594 | 5.3468 | 2 | 3 | 5 | 7 | 10
197 | 16,367 | 9.0180 | 3 | 5 | 7 | 11 | 16
198 | 4,102 | 4.3206 | 2 | 3 | 4 | 5 | 7
199 | 1,473 | 8.9885 | 2 | 4 | 7 | 12 | 19
200 | 1,013 | 10.3416 | 1 | 3 | 7 | 13 | 21
201 | 2,713 | 13.5584 | 3 | 6 | 10 | 17 | 27
202 | 27,472 | 6.1313 | 2 | 3 | 5 | 8 | 12
203 | 32,349 | 6.4399 | 2 | 3 | 5 | 8 | 13
204 | 69,238 | 5.3850 | 2 | 3 | 4 | 6 | 10
205 | 32,709 | 5.8510 | 2 | 3 | 4 | 7 | 11
206 | 2,040 | 3.8103 | 1 | 2 | 3 | 5 | 7
207 | 38,281 | 5.2408 | 1 | 2 | 4 | 7 | 10
208 | 9,447 | 2.9451 | 1 | 1 | 2 | 4 | 5
210 | 126,388 | 6.6248 | 3 | 4 | 6 | 8 | 11
211 | 25,730 | 4.5898 | 3 | 3 | 4 | 5 | 7
212 | 10 | 2.5000 | 1 | 2 | 2 | 4 | 4
213 | 9,465 | 8.9718 | 2 | 4 | 7 | 11 | 18
216 | 19,942 | 5.3156 | 1 | 1 | 3 | 7 | 13
217 | 15,610 | 12.0976 | 3 | 5 | 8 | 15 | 24
218 | 30,001 | 5.3765 | 2 | 3 | 4 | 7 | 10
219 | 21,067 | 3.1625 | 1 | 2 | 3 | 4 | 5
220 | 2 | 4.0000 | 1 | 1 | 7 | 7 | 7
223 | 12,657 | 3.2634 | 1 | 1 | 2 | 4 | 7
224 | 9,940 | 1.9360 | 1 | 1 | 1 | 2 | 3
225 | 6,246 | 5.2789 | 1 | 2 | 4 | 7 | 11
226 | 6,748 | 6.3594 | 1 | 3 | 4 | 8 | 13
227 | 4,864 | 2.6301 | 1 | 1 | 2 | 3 | 5
228 | 2,673 | 4.1968 | 1 | 1 | 3 | 5 | 9
229 | 1,118 | 2.4875 | 1 | 1 | 2 | 3 | 5
230 | 2,464 | 5.4180 | 1 | 2 | 4 | 7 | 11
232 | 569 | 2.7346 | 1 | 1 | 2 | 3 | 6
233 | 18,441 | 6.3221 | 1 | 2 | 5 | 8 | 13
234 | 9,076 | 2.6644 | 1 | 1 | 1 | 3 | 6
235 | 4,745 | 4.6565 | 1 | 2 | 4 | 6 | 8
236 | 41,690 | 4.4064 | 1 | 3 | 4 | 5 | 8
237 | 1,918 | 3.7904 | 1 | 2 | 3 | 5 | 7
238 | 9,728 | 8.0118 | 2 | 4 | 6 | 10 | 15
239 | 40,288 | 6.0331 | 2 | 3 | 5 | 7 | 11
240 | 12,888 | 6.4250 | 2 | 3 | 5 | 8 | 12
241 | 2,812 | 3.6348 | 1 | 2 | 3 | 4 | 6
242 | 2,724 | 6.4589 | 2 | 3 | 5 | 8 | 12
243 | 100,724 | 4.4958 | 1 | 2 | 4 | 6 | 8
244 | 16,990 | 4.4383 | 1 | 2 | 4 | 5 | 8
245 | 5,860 | 3.1056 | 1 | 1 | 3 | 4 | 6
246 | 1,400 | 3.5536 | 1 | 2 | 3 | 4 | 7
247 | 21,406 | 3.2872 | 1 | 2 | 3 | 4 | 6
248 | 16,433 | 4.8139 | 2 | 3 | 4 | 6 | 9
249 | 13,453 | 3.9550 | 1 | 1 | 3 | 5 | 8
250 | 4,139 | 3.8425 | 1 | 2 | 3 | 5 | 7
251 | 2,049 | 2.8019 | 1 | 1 | 3 | 3 | 5
252 | 1 | 1.0000 | 1 | 1 | 1 | 1 | 1
253 | 24,733 | 4.5276 | 2 | 3 | 4 | 5 | 8
254 | 9,965 | 3.0711 | 1 | 2 | 3 | 4 | 5
255 | 1 | 1.0000 | 1 | 1 | 1 | 1 | 1
256 | 7,577 | 4.9555 | 1 | 2 | 4 | 6 | 9
257 | 13,101 | 2.5513 | 1 | 1 | 2 | 3 | 5
258 | 11,379 | 1.6977 | 1 | 1 | 1 | 2 | 3
259 | 2,656 | 2.8407 | 1 | 1 | 1 | 3 | 7
260 | 2,435 | 1.4049 | 1 | 1 | 1 | 1 | 2
261 | 1,573 | 2.1933 | 1 | 1 | 1 | 2 | 4
262 | 596 | 4.6393 | 1 | 2 | 3 | 6 | 9
263 | 22,506 | 10.4499 | 3 | 5 | 7 | 13 | 20
264 | 3,901 | 6.2153 | 2 | 3 | 5 | 7 | 11
265 | 4,014 | 6.5399 | 1 | 2 | 4 | 8 | 14
266 | 2,220 | 3.0171 | 1 | 1 | 2 | 4 | 6
267 | 272 | 4.2132 | 1 | 1 | 3 | 5 | 8
268 | 992 | 3.6563 | 1 | 1 | 2 | 4 | 7
269 | 11,031 | 7.9837 | 2 | 3 | 6 | 10 | 15
270 | 2,565 | 3.5977 | 1 | 1 | 3 | 5 | 7
271 | 21,624 | 6.7865 | 2 | 3 | 5 | 8 | 12
272 | 6,071 | 5.8122 | 2 | 3 | 4 | 7 | 11
273 | 1,263 | 3.7126 | 1 | 2 | 3 | 5 | 7
274 | 2,223 | 6.1858 | 1 | 3 | 5 | 8 | 12
275 | 173 | 3.3064 | 1 | 1 | 2 | 4 | 6
276 | 1,615 | 4.6136 | 1 | 2 | 4 | 6 | 8
277 | 119,112 | 5.4229 | 2 | 3 | 4 | 7 | 10
278 | 33,788 | 3.9930 | 2 | 2 | 3 | 5 | 7
279 | 6 | 4.1667 | 2 | 3 | 5 | 5 | 5
280 | 19,291 | 3.9889 | 1 | 2 | 3 | 5 | 7
281 | 6,530 | 2.8018 | 1 | 1 | 2 | 4 | 5
283 | 6,765 | 4.5808 | 1 | 2 | 3 | 6 | 9
284 | 1,856 | 2.9230 | 1 | 1 | 2 | 4 | 5
285 | 8,029 | 9.8162 | 3 | 5 | 8 | 12 | 18
286 | 2,853 | 5.1854 | 2 | 2 | 4 | 6 | 10
287 | 5,440 | 9.5362 | 3 | 5 | 7 | 11 | 18
288 | 11,290 | 3.7006 | 1 | 2 | 3 | 4 | 6
289 | 6,337 | 2.3926 | 1 | 1 | 1 | 2 | 5
290 | 11,858 | 2.0279 | 1 | 1 | 1 | 2 | 3
291 | 59 | 1.4915 | 1 | 1 | 1 | 1 | 2
292 | 7,564 | 10.0071 | 2 | 4 | 8 | 12 | 19
293 | 316 | 4.7089 | 1 | 2 | 3 | 6 | 8
294 | 97,541 | 4.2412 | 1 | 2 | 3 | 5 | 8
295 | 4,362 | 3.6997 | 1 | 2 | 3 | 4 | 7
296 | 247,608 | 4.6432 | 1 | 2 | 4 | 6 | 9
297 | 42,673 | 3.0303 | 1 | 2 | 3 | 4 | 5
298 | 110 | 3.5545 | 1 | 1 | 2 | 4 | 6
299 | 1,541 | 5.1304 | 1 | 2 | 4 | 6 | 10
300 | 21,697 | 5.8067 | 2 | 3 | 5 | 7 | 11
301 | 3,912 | 3.3566 | 1 | 2 | 3 | 4 | 6
302 | 10,255 | 7.9757 | 4 | 5 | 6 | 9 | 13
303 | 24,546 | 7.2813 | 3 | 4 | 6 | 8 | 14
304 | 14,020 | 8.3536 | 2 | 3 | 6 | 10 | 17
305 | 2,996 | 3.1031 | 1 | 2 | 3 | 4 | 6
306 | 5,804 | 5.5829 | 1 | 2 | 3 | 8 | 13
307 | 1,942 | 2.0391 | 1 | 1 | 2 | 2 | 3
308 | 6,675 | 6.1486 | 1 | 2 | 4 | 8 | 14
309 | 3,267 | 1.9773 | 1 | 1 | 1 | 2 | 4
310 | 25,304 | 4.4981 | 1 | 2 | 3 | 6 | 10
311 | 5,872 | 1.8551 | 1 | 1 | 1 | 2 | 3
312 | 1,320 | 4.9356 | 1 | 2 | 3 | 6 | 10
313 | 501 | 2.3852 | 1 | 1 | 2 | 3 | 5
314 | 12 | 89.0000 | 5 | 5 | 173 | 173 | 173
315 | 34,750 | 6.7385 | 1 | 1 | 4 | 9 | 16
316 | 204,504 | 6.1586 | 2 | 3 | 5 | 8 | 12
317 | 2,696 | 3.4970 | 1 | 1 | 2 | 4 | 7
318 | 5,891 | 5.9701 | 1 | 3 | 4 | 8 | 12
319 | 382 | 2.5733 | 1 | 1 | 2 | 3 | 5
320 | 225,245 | 4.9895 | 2 | 3 | 4 | 6 | 9
321 | 31,997 | 3.5392 | 1 | 2 | 3 | 4 | 6
322 | 67 | 3.5821 | 2 | 2 | 3 | 4 | 6
323 | 20,408 | 3.1059 | 1 | 1 | 2 | 4 | 6
324 | 4,621 | 1.8455 | 1 | 1 | 1 | 2 | 3
325 | 9,909 | 3.7375 | 1 | 2 | 3 | 5 | 7
326 | 2,596 | 2.5632 | 1 | 1 | 2 | 3 | 5
327 | 11 | 2.0000 | 1 | 1 | 2 | 2 | 3
328 | 573 | 3.3805 | 1 | 1 | 3 | 4 | 6
329 | 54 | 1.6852 | 1 | 1 | 1 | 2 | 3
331 | 56,851 | 5.4046 | 1 | 2 | 4 | 7 | 10
332 | 4,131 | 3.0690 | 1 | 1 | 2 | 4 | 6
333 | 242 | 5.3719 | 1 | 2 | 4 | 6 | 10
334 | 9,503 | 4.0414 | 1 | 2 | 3 | 5 | 7
335 | 12,142 | 2.4975 | 1 | 2 | 2 | 3 | 4
336 | 28,146 | 3.2243 | 1 | 1 | 2 | 4 | 7
337 | 21,461 | 1.8444 | 1 | 1 | 2 | 2 | 3
338 | 674 | 5.7908 | 1 | 2 | 4 | 8 | 13
339 | 1,230 | 5.1976 | 1 | 2 | 3 | 7 | 12
340 | 1 | 2.0000 | 2 | 2 | 2 | 2 | 2
341 | 3,120 | 3.2032 | 1 | 1 | 1 | 3 | 7
342 | 456 | 3.0395 | 1 | 1 | 2 | 3 | 6
344 | 2,342 | 2.7331 | 1 | 1 | 1 | 3 | 7
345 | 1,387 | 5.4232 | 1 | 2 | 3 | 7 | 12
346 | 3,983 | 5.8943 | 2 | 3 | 4 | 7 | 11
347 | 240 | 2.6917 | 1 | 1 | 2 | 3 | 5
348 | 4,273 | 4.0059 | 1 | 2 | 3 | 5 | 8
349 | 555 | 2.6396 | 1 | 1 | 2 | 3 | 5
350 | 7,266 | 4.5140 | 2 | 2 | 4 | 6 | 8
352 | 1,176 | 4.1820 | 1 | 2 | 3 | 5 | 9
353 | 3,082 | 6.0039 | 2 | 3 | 4 | 7 | 11
354 | 7,554 | 5.5586 | 2 | 3 | 4 | 6 | 10
355 | 4,988 | 3.0158 | 2 | 2 | 3 | 3 | 4
356 | 22,223 | 1.8694 | 1 | 1 | 2 | 2 | 3
357 | 5,519 | 8.0364 | 3 | 4 | 6 | 10 | 15
358 | 20,865 | 3.8574 | 2 | 2 | 3 | 4 | 7
359 | 28,581 | 2.3500 | 1 | 2 | 2 | 3 | 3
360 | 14,256 | 2.5446 | 1 | 1 | 2 | 3 | 4
361 | 287 | 2.9756 | 1 | 1 | 2 | 3 | 6
362 | 2 | 1.0000 | 1 | 1 | 1 | 1 | 1
363 | 1,979 | 4.0859 | 1 | 2 | 2 | 4 | 9
364 | 1,377 | 4.1888 | 1 | 2 | 3 | 5 | 9
365 | 1,605 | 7.8517 | 2 | 3 | 5 | 10 | 16
366 | 4,644 | 6.2351 | 2 | 3 | 5 | 8 | 12
367 | 437 | 3.0092 | 1 | 1 | 2 | 4 | 5
368 | 4,150 | 6.4051 | 2 | 3 | 5 | 8 | 12
369 | 3,727 | 3.2667 | 1 | 1 | 2 | 4 | 6
370 | 2,209 | 5.0023 | 2 | 3 | 4 | 5 | 7
371 | 2,663 | 3.3924 | 2 | 3 | 3 | 4 | 4
372 | 1,349 | 3.4633 | 2 | 2 | 2 | 3 | 5
373 | 5,186 | 2.2443 | 1 | 2 | 2 | 3 | 3
374 | 153 | 2.9739 | 2 | 2 | 2 | 3 | 4
375 | 13 | 6.2308 | 1 | 2 | 3 | 7 | 15
376 | 473 | 3.2939 | 1 | 2 | 2 | 4 | 7
377 | 109 | 4.4495 | 1 | 2 | 3 | 6 | 8
378 | 203 | 2.1773 | 1 | 1 | 2 | 3 | 4
379 | 484 | 3.2004 | 1 | 1 | 2 | 3 | 6
380 | 110 | 2.0273 | 1 | 1 | 1 | 2 | 4
381 | 170 | 2.4294 | 1 | 1 | 1 | 2 | 4
382 | 49 | 1.4694 | 1 | 1 | 1 | 1 | 2
383 | 2,780 | 3.6439 | 1 | 1 | 2 | 4 | 7
384 | 147 | 2.4966 | 1 | 1 | 1 | 3 | 4
387 | 1 | 9.0000 | 9 | 9 | 9 | 9 | 9
389 | 3 | 2.0000 | 1 | 1 | 2 | 3 | 3
392 | 2,120 | 8.8330 | 2 | 4 | 6 | 11 | 19
394 | 2,758 | 7.2708 | 1 | 2 | 5 | 9 | 16
395 | 115,655 | 4.2739 | 1 | 2 | 3 | 5 | 8
396 | 20 | 2.9500 | 1 | 2 | 3 | 3 | 4
397 | 16,459 | 5.1109 | 1 | 2 | 4 | 6 | 10
398 | 18,615 | 5.7086 | 2 | 3 | 4 | 7 | 11
399 | 1,633 | 3.3791 | 1 | 2 | 3 | 4 | 6
401 | 6,439 | 11.0110 | 2 | 5 | 8 | 14 | 22
402 | 1,340 | 3.8955 | 1 | 1 | 3 | 5 | 8
403 | 31,515 | 7.8539 | 2 | 3 | 6 | 10 | 16
404 | 3,614 | 3.9801 | 1 | 2 | 3 | 5 | 8
406 | 2,300 | 9.4235 | 2 | 4 | 7 | 12 | 20
407 | 610 | 3.5049 | 1 | 2 | 3 | 5 | 7
408 | 1,943 | 8.2203 | 1 | 2 | 5 | 11 | 19
409 | 1,740 | 5.9891 | 2 | 3 | 4 | 6 | 12
410 | 29,094 | 3.7690 | 1 | 2 | 3 | 5 | 6
411 | 5 | 2.0000 | 1 | 1 | 1 | 3 | 4
412 | 8 | 1.5000 | 1 | 1 | 1 | 2 | 2
413 | 5,728 | 6.7243 | 2 | 3 | 5 | 9 | 13
414 | 478 | 4.0146 | 1 | 2 | 3 | 5 | 7
415 | 55,770 | 14.0714 | 4 | 6 | 11 | 17 | 28
416 | 288,297 | 7.4530 | 2 | 4 | 6 | 9 | 14
417 | 33 | 6.5455 | 2 | 3 | 5 | 8 | 12
418 | 29,873 | 6.0664 | 2 | 3 | 5 | 7 | 11
419 | 17,681 | 4.3426 | 1 | 2 | 3 | 5 | 8
420 | 3,029 | 3.1700 | 1 | 2 | 3 | 4 | 6
421 | 13,246 | 4.0091 | 1 | 2 | 3 | 5 | 7
422 | 77 | 3.6753 | 1 | 2 | 2 | 4 | 7
423 | 9,067 | 8.0275 | 2 | 3 | 6 | 10 | 16
424 | 1,033 | 11.3679 | 2 | 4 | 8 | 14 | 23
425 | 13,142 | 3.4810 | 1 | 1 | 3 | 4 | 7
426 | 4,389 | 4.5129 | 1 | 2 | 3 | 5 | 9
427 | 1,603 | 4.7324 | 1 | 2 | 3 | 6 | 9
428 | 855 | 7.3111 | 1 | 2 | 4 | 8 | 14
429 | 24,588 | 5.6295 | 2 | 3 | 4 | 7 | 10
430 | 76,498 | 7.8309 | 2 | 3 | 6 | 9 | 15
431 | 339 | 6.8171 | 1 | 2 | 4 | 7 | 12
432 | 400 | 4.0400 | 1 | 1 | 3 | 4 | 8
433 | 4,640 | 2.8390 | 1 | 1 | 2 | 3 | 4
439 | 1,751 | 8.3501 | 1 | 3 | 5 | 10 | 17
440 | 5,187 | 8.1656 | 2 | 3 | 5 | 9 | 17
441 | 685 | 3.4730 | 1 | 1 | 2 | 4 | 7
442 | 18,537 | 8.6463 | 2 | 3 | 6 | 10 | 18
443 | 3,580 | 3.5260 | 1 | 1 | 3 | 5 | 7
444 | 5,993 | 4.0310 | 1 | 2 | 3 | 5 | 7
445 | 2,240 | 2.8210 | 1 | 1 | 2 | 4 | 5
447 | 6,355 | 2.5769 | 1 | 1 | 2 | 3 | 5
449 | 40,805 | 3.6894 | 1 | 1 | 3 | 4 | 7
450 | 7,411 | 1.9873 | 1 | 1 | 1 | 2 | 4
451 | 2 | 10.5000 | 8 | 8 | 13 | 13 | 13
452 | 28,672 | 4.9315 | 1 | 2 | 3 | 6 | 10
453 | 5,363 | 2.7583 | 1 | 1 | 2 | 3 | 5
454 | 4,747 | 4.1062 | 1 | 2 | 3 | 5 | 8
455 | 885 | 2.2814 | 1 | 1 | 2 | 3 | 4
461 | 2,273 | 5.5794 | 1 | 1 | 3 | 7 | 13
462 | 8,971 | 9.5207 | 4 | 6 | 8 | 11 | 16
463 | 32,939 | 3.8728 | 1 | 2 | 3 | 5 | 7
464 | 7,650 | 2.8997 | 1 | 1 | 2 | 4 | 5
465 | 165 | 3.6182 | 1 | 1 | 2 | 4 | 6
466 | 1,205 | 4.9842 | 1 | 1 | 2 | 5 | 7
467 | 1,028 | 2.6625 | 1 | 1 | 2 | 3 | 5
468 | 51,844 | 12.5282 | 3 | 6 | 10 | 16 | 24
471 | 15,609 | 4.5466 | 3 | 3 | 4 | 5 | 7
473 | 8,557 | 12.4122 | 2 | 3 | 7 | 17 | 32
475 | 120,026 | 10.6390 | 2 | 5 | 9 | 14 | 21
476 | 2,847 | 9.9424 | 1 | 4 | 8 | 14 | 20
477 | 28,111 | 8.5004 | 1 | 3 | 7 | 11 | 17
479 | 27,545 | 2.5522 | 1 | 1 | 2 | 3 | 5
480 | 884 | 19.1618 | 6 | 8 | 13 | 23 | 39
481 | 1,183 | 22.0211 | 12 | 16 | 20 | 24 | 33
482 | 5,072 | 11.1808 | 4 | 6 | 9 | 13 | 20
484 | 455 | 12.7560 | 2 | 5 | 10 | 17 | 26
485 | 3,660 | 9.4104 | 4 | 5 | 7 | 11 | 17
486 | 2,600 | 12.1862 | 2 | 5 | 10 | 16 | 25
487 | 4,866 | 6.8531 | 1 | 3 | 5 | 9 | 14
488 | 820 | 17.4744 | 4 | 7 | 13 | 21 | 34
489 | 13,634 | 8.1556 | 2 | 3 | 6 | 10 | 16
490 | 5,299 | 5.3025 | 1 | 2 | 4 | 6 | 10
491 | 22,716 | 3.0154 | 1 | 2 | 2 | 3 | 5
492 | 3,906 | 13.7983 | 3 | 5 | 6 | 23 | 32
493 | 60,947 | 6.0341 | 2 | 3 | 5 | 8 | 11
494 | 24,474 | 2.6904 | 1 | 1 | 2 | 4 | 5
495 | 336 | 17.0417 | 8 | 10 | 13 | 20 | 33
496 | 3,715 | 8.7505 | 3 | 4 | 6 | 10 | 18
497 | 31,285 | 5.6682 | 3 | 3 | 5 | 6 | 9
498 | 21,475 | 3.6630 | 2 | 3 | 3 | 4 | 6
499 | 35,262 | 4.1552 | 1 | 2 | 3 | 5 | 8
500 | 46,802 | 2.1900 | 1 | 1 | 2 | 3 | 4
501 | 3,178 | 9.8420 | 4 | 5 | 8 | 12 | 18
502 | 756 | 5.7116 | 2 | 3 | 5 | 7 | 10
503 | 5,879 | 3.9160 | 1 | 2 | 3 | 5 | 7
504 | 190 | 28.2789 | 8 | 13 | 24 | 36 | 51
505 | 177 | 6.3503 | 1 | 1 | 2 | 6 | 13
506 | 960 | 15.2063 | 3 | 7 | 12 | 20 | 30
507 | 322 | 7.7702 | 1 | 3 | 6 | 10 | 15
508 | 658 | 7.3708 | 1 | 3 | 5 | 9 | 14
509 | 156 | 5.2179 | 1 | 2 | 3 | 6 | 11
510 | 1,779 | 6.0438 | 1 | 2 | 4 | 7 | 12
511 | 626 | 3.6773 | 1 | 1 | 2 | 4 | 7
512 | 530 | 13.5491 | 6 | 8 | 10 | 14 | 25
513 | 213 | 10.0235 | 5 | 7 | 8 | 11 | 17
515 | 58,196 | 3.8438 | 1 | 1 | 2 | 5 | 9
518 | 23,688 | 2.4604 | 1 | 1 | 1 | 3 | 5
519 | 12,559 | 4.6661 | 1 | 1 | 3 | 6 | 11
520 | 16,572 | 1.9340 | 1 | 1 | 1 | 2 | 4
521 | 29,820 | 5.2943 | 1 | 2 | 4 | 6 | 8
522 | 3,580 | 10.3455 | 3 | 4 | 5 | 7 | 8
523 | 14,736 | 3.8210 | 1 | 2 | 3 | 4 | 6
524 | 109,259 | 3.1436 | 1 | 2 | 3 | 4 | 6
525 | 203 | 13.9458 | 1 | 3 | 7 | 17 | 35
528 | 1,838 | 16.2927 | 6 | 9 | 14 | 21 | 29
529 | 5,103 | 7.2536 | 1 | 2 | 4 | 9 | 16
530 | 3,371 | 2.9436 | 1 | 1 | 2 | 3 | 6
531 | 4,884 | 8.9378 | 2 | 4 | 7 | 11 | 18
532 | 2,838 | 3.6350 | 1 | 1 | 3 | 5 | 7
533 | 46,516 | 3.6549 | 1 | 1 | 2 | 4 | 8
534 | 42,526 | 1.7237 | 1 | 1 | 1 | 2 | 3
535 | 8,772 | 9.2410 | 2 | 4 | 8 | 12 | 18
536 | 8,193 | 7.2754 | 2 | 3 | 6 | 9 | 14
537 | 8,952 | 6.4947 | 1 | 3 | 5 | 8 | 13
538 | 5,452 | 2.9057 | 1 | 1 | 2 | 4 | 6
539 | 4,962 | 10.5316 | 2 | 4 | 7 | 14 | 23
540 | 1,495 | 3.5010 | 1 | 1 | 3 | 4 | 7
541 | 24,941 | 41.4444 | 16 | 23 | 34 | 50 | 72
542 | 23,183 | 30.3714 | 11 | 17 | 25 | 37 | 53
543 | 5,475 | 11.7145 | 2 | 5 | 9 | 16 | 24
544 | 445,895 | 4.3971 | 3 | 3 | 4 | 5 | 7
545 | 44,700 | 5.1342 | 3 | 3 | 4 | 6 | 9
546 | 2,349 | 8.7292 | 3 | 4 | 7 | 10 | 16
547 | 32,600 | 12.1272 | 6 | 8 | 10 | 14 | 20
548 | 32,135 | 8.7775 | 5 | 6 | 8 | 10 | 13
549 | 13,107 | 10.1157 | 5 | 6 | 8 | 12 | 18
550 | 34,471 | 6.7739 | 4 | 5 | 6 | 8 | 10
551 | 53,828 | 6.0746 | 1 | 2 | 5 | 8 | 12
552 | 81,945 | 3.4779 | 1 | 1 | 2 | 5 | 7
553 | 39,190 | 9.0613 | 1 | 3 | 7 | 12 | 19
554 | 77,166 | 5.5699 | 1 | 2 | 4 | 7 | 12
555 | 37,283 | 4.8161 | 1 | 2 | 3 | 6 | 10
556 | 18,925 | 2.0092 | 1 | 1 | 1 | 2 | 4
557 | 123,799 | 4.1037 | 1 | 2 | 3 | 5 | 8
558 | 192,346 | 1.8113 | 1 | 1 | 1 | 2 | 4
559 | 2,886 | 6.8257 | 2 | 3 | 5 | 8 | 13
| 12,144,751

Table 8A.—Statewide Average Operating Cost-to-Charge Ratios—March 2006
State | Urban | Rural
Alabama | 0.265 | 0.334
Alaska | 0.423 | 0.719
Arizona | 0.285 | 0.37
Arkansas | 0.34 | 0.357
California | 0.24 | 0.347
Colorado | 0.314 | 0.486
Connecticut | 0.428 | 0.5
Delaware | 0.528 | 0.508
District of Columbia | 0.397 |
Florida | 0.252 | 0.3
Georgia | 0.355 | 0.404
Hawaii | 0.384 | 0.432
Idaho | 0.48 | 0.528
Illinois | 0.326 | 0.418
Indiana | 0.424 | 0.454
Iowa | 0.39 | 0.467
Kansas | 0.299 | 0.454
Kentucky | 0.386 | 0.394
Louisiana | 0.308 | 0.374
Maine | 0.496 | 0.475
Maryland | 0.763 | 0.882
Massachusetts | 0.472 |
Michigan | 0.376 | 0.474
Minnesota | 0.391 | 0.52
Mississippi | 0.331 | 0.38
Missouri | 0.333 | 0.387
Montana | 0.431 | 0.478
Nebraska | 0.361 | 0.475
Nevada | 0.24 | 0.477
New Hampshire | 0.463 | 0.463
New Jersey | 0.18 |
New Mexico | 0.385 | 0.39
New York | 0.365 | 0.526
North Carolina | 0.439 | 0.433
North Dakota | 0.43 | 0.455
Ohio | 0.376 | 0.549
Oklahoma | 0.321 | 0.405
Oregon | 0.474 | 0.475
Pennsylvania | 0.282 | 0.444
Puerto Rico | 0.461 |
Rhode Island | 0.409 |
South Carolina | 0.294 | 0.297
South Dakota | 0.375 | 0.461
Tennessee | 0.324 | 0.386
Texas | 0.282 | 0.369
Utah | 0.423 | 0.589
Vermont | 0.555 | 0.627
Virginia | 0.366 | 0.378
Washington | 0.427 | 0.469
West Virginia | 0.488 | 0.454
Wisconsin | 0.442 | 0.481
Wyoming | 0.4 | 0.561

Table 8B.—Statewide Average Capital Cost-to-Charge Ratios—March 2006
State | Ratio
Alabama | 0.026
Alaska | 0.042
Arizona | 0.026
Arkansas | 0.027
California | 0.016
Colorado | 0.03
Connecticut | 0.03
Delaware | 0.042
District of Columbia | 0.027
Florida | 0.024
Georgia | 0.032
Hawaii | 0.033
Idaho | 0.037
Illinois | 0.027
Indiana | 0.038
Iowa | 0.03
Kansas | 0.032
Kentucky | 0.031
Louisiana | 0.031
Maine | 0.035
Maryland | 0.013
Massachusetts | 0.034
Michigan | 0.032
Minnesota | 0.029
Mississippi | 0.03
Missouri | 0.027
Montana | 0.039
Nebraska | 0.038
Nevada | 0.021
New Hampshire | 0.037
New Jersey | 0.013
New Mexico | 0.034
New York | 0.03
North Carolina | 0.037
North Dakota | 0.04
Ohio | 0.031
Oklahoma | 0.031
Oregon | 0.032
Pennsylvania | 0.023
Puerto Rico | 0.035
Rhode Island | 0.023
South Carolina | 0.027
South Dakota | 0.037
Tennessee | 0.033
Texas | 0.028
Utah | 0.039
Vermont | 0.043
Virginia | 0.037
Washington | 0.035
West Virginia | 0.034
Wisconsin | 0.038
Wyoming | 0.047

Table 8C.—Statewide Average Total Cost-to-Charge Ratios for LTCHS—March 2006
State | Urban | Rural
Alabama | 0.291 | 0.365
Alaska | 0.458 | 0.788
Arizona | 0.307 | 0.407
Arkansas | 0.368 | 0.390
California | 0.254 | 0.368
Colorado | 0.350 | 0.531
Connecticut | 0.454 | 0.538
Delaware | 0.567 | 0.558
District of Columbia* | 0.436 |
Florida | 0.276 | 0.343
Georgia | 0.384 | 0.439
Hawaii | 0.417 | 0.465
Idaho | 0.516 | 0.573
Illinois | 0.351 | 0.457
Indiana | 0.462 | 0.499
Iowa | 0.412 | 0.506
Kansas | 0.326 | 0.495
Kentucky | 0.418 | 0.423
Louisiana | 0.340 | 0.402
Maine | 0.533 | 0.507
Maryland** | 0.361 | 0.458
Massachusetts* | 0.501 |
Michigan | 0.410 | 0.510
Minnesota | 0.419 | 0.550
Mississippi | 0.360 | 0.407
Missouri | 0.357 | 0.430
Montana | 0.467 | 0.522
Nebraska | 0.395 | 0.523
Nevada | 0.259 | 0.550
New Hampshire | 0.501 | 0.498
New Jersey* | 0.194 |
New Mexico | 0.418 | 0.415
New York | 0.393 | 0.561
North Carolina | 0.478 | 0.476
North Dakota | 0.467 | 0.504
Ohio | 0.404 | 0.595
Oklahoma | 0.351 | 0.441
Oregon | 0.507 | 0.513
Pennsylvania | 0.299 | 0.479
Puerto Rico* | 0.493 |
Rhode Island* | 0.432 |
South Carolina | 0.320 | 0.326
South Dakota | 0.410 | 0.506
Tennessee | 0.360 | 0.421
Texas | 0.307 | 0.404
Utah | 0.460 | 0.649
Vermont | 0.601 | 0.667
Virginia | 0.399 | 0.419
Washington | 0.462 | 0.516
West Virginia | 0.515 | 0.487
Wisconsin | 0.483 | 0.519
Wyoming | 0.440 | 0.614
* All counties in the State or Territory are classified as urban, with the exception of Massachusetts, which has areas designated as rural. However, no short-term acute care IPPS hospitals or LTCHs are located in those areas as of March 2005.
** National average IPPS total cost-to-charge ratios, as discussed in section II.F.5. of this proposed rule.

Table 9A.—Hospital Reclassifications and Redesignations by Individual Hospital and CBSA—FY2007
Provider No. | Geographic CBSA | Reclassified CBSA 10/1/2006-3/31/2007 | Reclassified CBSA 4/1/2007-9/30/2007 | LUGAR
010005 | 01 | 13820 | 13820
010008 | 01 | 33860 | 33860
010009 | 19460 | 26620 | 26620
010012 | 01 | 16860 | 16860
010022 | 01 | 40660 | 40660 | LUGAR
010025 | 01 | 17980 | 17980
010029 | 12220 | 17980 | 17980
010035 | 01 | 13820 | 13820
010044 | 01 | 13820 | 13820
010045 | 01 | 13820 | 13820
010054 | 19460 | 26620 | 26620
010059 | 19460 | 26620 | 26620
010065 | 01 | 33860 | 33860
010072 | 01 | 11500 | 11500 | LUGAR
010083 | 01 | 37860 | 37860
010085 | 19460 | 26620 | 26620
010100 | 01 | 37860 | 37860
010101 | 01 | 11500 | 11500 | LUGAR
010118 | 01 | 46220 | 46220
010126 | 01 | 33860 | 33860
010143 | 01 | 13820 | 13820
010150 | 01 | 33860 | 33860
010158 | 01 | 19460 | 19460
010164 | 01 | 11500 | 11500 | LUGAR
020008 | 02 | 11260 | 11260
030007 | 03 | 22380 | 22380
030033 | 03 | 22380 | 22380
040014 | 04 | 30780 | 30780
040017 | 04 | 22220 | 22220
040019 | 04 | 32820 | 32820
040020 | 27860 | 32820 | 32820
040027 | 04 | 44180 | 44180
040039 | 04 | 26 | 26
040041 | 04 | 30780 | 30780
040047 | 04 | 26 | 26
040069 | 04 | 32820 | 32820
040071 | 38220 | 30780 | 30780
040076 | 04 | 30780 | 30780
040080 | 04 | 27860 | 27860
040088 | 04 | 43340 | 43340
040091 | 04 | 45500 | 45500
040100 | 04 | 30780 | 30780
040119 | 04 | 30780 | 30780
050006 | 05 | 39820 | 39820
050009 | 34900 | 46700 | 46700
050013 | 34900 | 46700 | 46700
050014 | 05 | 40900 | 40900
050022 | 40140 | 42044 | 42044
050042 | 05 | 39820 | 39820
050046 | 37100 |  | 31084 |
050054 | 40 | 42044 | 42044 |
050065 | 42044 | 31084 | 31084
050069 | 42044 | 31084 | 31084
050071 | 41940 | 36084 | 36084
050073 | 46700 | 36084 | 36084
050076 | 41884 | 36084 | 36084
050082 | 37100 |  | 31084
050089 | 40 | 31084 | 31084
050090 | 42220 | 41884 | 41884
050099 | 40 | 31084 | 31084
050101 | 46700 | 36084 | 36084
050102 | 40 | 42044 | 42044
050118 | 44700 | 33700 | 33700
050129 | 40 | 31084 | 31084
050136 | 42220 | 41884 | 41884
050140 | 40 | 31084 | 31084
050150 | 05 | 40900 | 40900
050159 | 37100 |  | 31084
050168 | 42044 | 31084 | 31084
050173 | 42044 | 31084 | 31084
050174 | 42220 | 41884 | 41884
050193 | 42044 | 31084 | 31084
050197 | 41884 | 36084 | 36084
050224 | 42044 | 31084 | 31084
050226 | 42044 | 31084 | 31084
050228 | 41884 | 36084 | 36084
050230 | 42044 | 31084 | 31084
050236 | 37100 |  | 31084
050243 | 40 | 42044 | 42044
050245 | 40 | 31084 | 31084
050251 | 05 | 39900 | 39900
050272 | 40 | 31084 | 31084
050279 | 40 | 31084 | 31084
050291 | 42220 | 41884 | 41884
050292 | 40 | 42044 | 42044
050298 | 40 | 31084 | 31084
050300 | 40 | 31084 | 31084
050327 | 40 | 31084 | 31084
050329 | 40 | 42044 | 42044
050348 | 42044 | 31084 | 31084
050367 | 46700 | 36084 | 36084
050385 | 42220 | 41884 | 41884
050390 | 40 | 42044 | 42044
050394 | 37100 |  | 31084
050423 | 40 | 42044 | 42044
050426 | 42044 | 31084 | 31084
050430 | 05 | 39900 | 39900
050510 | 41884 | 36084 | 36084
050517 | 40 | 31084 | 31084
050526 | 42044 | 31084 | 31084
050534 | 40 | 42044 | 42044
050535 | 42044 | 31084 | 31084
050541 | 41884 | 36084 | 36084
050543 | 42044 | 31084 | 31084
050547 | 42220 | 41884 | 41884
050548 | 42044 | 31084 | 31084
050549 | 37100 |  | 31084
050550 | 42044 | 31084 | 31084
050551 | 42044 | 31084 | 31084
050567 | 42044 | 31084 | 31084
050569 | 05 | 42220 | 42220
050570 | 42044 | 31084 | 31084
050573 | 40 | 42044 | 42044
050580 | 42044 | 31084 | 31084
050584 | 40 | 31084 | 31084
050585 | 42044 | 31084 | 31084
050586 | 40 | 31084 | 31084
050589 | 42044 | 31084 | 31084
050592 | 42044 | 31084 | 31084
050594 | 42044 | 31084 | 31084
050603 | 42044 | 31084 | 31084
050609 | 42044 | 31084 | 31084
050616 | 37100 |  | 31084
050667 | 34900 | 46700 | 46700
050678 | 42044 | 31084 | 31084
050680 | 46700 | 36084 | 36084
050684 | 40 | 42044 | 42044
050686 | 40 | 42044 | 42044
050690 | 42220 | 41884 | 41884
050693 | 42044 | 31084 | 31084
050694 | 40 | 42044 | 42044
050701 | 40 | 42044 | 42044
050709 | 40 | 31084 | 31084
050718 | 40 | 42044 | 42044
050720 | 42044 | 31084 | 31084
050728 | 42220 | 41884 | 41884
050749 | 37100 |  | 31084
060003 | 14500 | 19740 | 19740
060023 | 24300 | 19740 | 19740
060027 | 14500 | 19740 | 19740
060044 | 06 | 19740 | 19740
060049 | 06 | 22660 | 22660
060075 | 06 | 24300 | 24300
060096 | 06 | 19740 | 19740
060103 | 14500 | 19740 | 19740
070001 | 35300 |  | 35004
070003 | 07 | 25540 | 25540 | LUGAR
070005 | 35300 |  | 35004
070006 | 14860 |  | 35644
070010 | 14860 |  | 35644
070016 | 35300 |  | 35004
070017 | 35300 |  | 35004
070018 | 14860 |  | 35644
070019 | 35300 |  | 35004
070021 | 07 | 25540 | 25540 | LUGAR
070022 | 35300 |  | 35004
070028 | 14860 |  | 35644
070031 | 35300 |  | 35004
070033 | 14860 | 35644 | 35644
070034 | 14860 |  | 35644
070036 | 25540 | 35300 | 35300
070038 | 35300 |  | 35004
070039 | 35300 |  | 35004
080004 | 20100 | 48864 | 48864
080004 | 08 | 20100 | 20100
080006 | 08 | 36140 | 36140
090001 | 47894 | 13644 | 13644
100022 | 33124 | 22744 | 22744
100023 | 10 | 36740 | 36740
100024 | 10 | 33124 | 33124
100045 | 19660 | 36740 | 36740
100049 | 10 | 29460 | 29460
100081 | 10 | 23020 | 23020 | LUGAR
100109 | 10 | 36740 | 36740
100118 | 10 | 27260 | 27260
100139 | 10 | 23540 | 23540 | LUGAR
100150 | 10 | 33124 | 33124
100157 | 29460 | 45300 | 45300
100176 | 48424 | 38940 | 38940
100217 | 42680 | 38940 | 38940
100232 | 10 | 27260 | 27260
100239 | 45300 | 42260 | 42260
100249 | 10 | 45300 | 45300
100252 | 10 | 38940 | 38940
100258 | 48424 | 22744 | 22744
100292 | 10 | 23020 | 23020 | LUGAR
110001 | 19140 | 12060 | 12060
110002 | 11 | 12060 | 12060
110003 | 11 | 27260 | 27260
110023 | 11 | 12060 | 12060
110025 | 15260 | 27260 | 27260
110029 | 23580 | 12060 | 12060
110038 | 11 | 46660 | 46660
110040 | 11 | 12060 | 12060 | LUGAR
110041 | 11 | 12020 | 12020
110052 | 11 | 16860 | 16860 | LUGAR
110054 | 40660 | 12060 | 12060
110069 | 47580 | 31420 | 31420
110075 | 11 | 42340 | 42340
110088 | 11 | 12060 | 12060 | LUGAR
110095 | 11 | 46660 | 46660
110117 | 11 | 12060 | 12060 | LUGAR
110122 | 46660 | 45220 | 45220
110125 | 11 | 31420 | 31420
110128 | 11 | 42340 | 42340
110150 | 11 | 12060 | 12060
110153 | 47580 | 31420 | 31420
110168 | 40660 | 12060 | 12060
110187 | 11 | 12060 | 12060 | LUGAR
110189 | 11 | 12060 | 12060
110205 | 11 | 12060 | 12060
120028 | 12 | 26180 | 26180
130002 | 13 | 29 | 29
130003 | 30300 | 28420 | 28420
130018 | 13 | 38540 | 38540
130049 | 17660 | 44060 | 44060
130067 | 13 | 26820 | 26820 | LUGAR
140012 | 14 | 16974 | 16974
140015 | 14 | 41180 | 41180
140032 | 14 | 41180 | 41180
140033 | 29404 | 16974 | 16974
140034 | 14 | 41180 | 41180
140040 | 14 | 37900 | 37900
140043 | 14 | 40420 | 40420
140046 | 14 | 41180 | 41180
140058 | 14 | 41180 | 41180
140064 | 14 | 37900 | 37900
140084 | 29404 | 16974 | 16974
140093 | 19180 | 16580 | 16580
140100 | 29404 | 16974 | 16974
140110 | 14 | 16974 | 16974
140130 | 29404 | 16974 | 16974
140143 | 14 | 37900 | 37900
140160 | 14 | 40420 | 40420
140161 | 14 | 16974 | 16974
140164 | 14 | 41180 | 41180
140167 | 14 | 28100 | 28100 | LUGAR
140189 | 14 | 16580 | 16580
140202 | 29404 | 16974 | 16974
140233 | 40420 | 16974 | 16974
140234 | 14 | 37900 | 37900
140236 | 14 | 28100 | 28100 | LUGAR
140291 | 29404 | 16974 | 16974
150002 | 23844 | 16974 | 16974
150004 | 23844 | 16974 | 16974
150006 | 33140 | 43780 | 43780
150008 | 23844 | 16974 | 16974
150011 | 15 | 26900 | 26900
150015 | 33140 | 16974 | 16974
150030 | 15 | 26900 | 26900 | LUGAR
150034 | 23844 | 16974 | 16974
150048 | 15 | 17140 | 17140
150051 | 14 | 020 | 26900 | 26900
150065 | 15 | 26900 | 26900
150069 | 15 | 17140 | 17140
150076 | 15 | 43780 | 43780
150088 | 11300 | 26900 | 26900
150090 | 23844 | 16974 | 16974
150102 | 15 | 23844 | 23844 | LUGAR
150112 | 18020 | 26900 | 26900
150113 | 11300 | 26900 | 26900
150122 | 15 | 26900 | 26900
150125 | 23844 | 16974 | 16974
150126 | 23844 | 16974 | 16974
150133 | 15 | 23060 | 23060
150146 | 15 | 23060 | 23060
150147 | 23844 | 16974 | 16974
160001 | 16 | 19780 | 19780
160016 | 16 | 19780 | 19780
160057 | 16 | 26980 | 26980
160064 | 16 | 24 | 24
160080 | 16 | 19340 | 19340
160089 | 16 | 19780 | 19780
160147 | 16 | 19780 | 19780
170006 | 17 | 27900 | 27900
170010 | 17 | 46140 | 46140
170012 | 17 | 48620 | 48620
170013 | 17 | 48620 | 48620
170020 | 17 | 48620 | 48620
170023 | 17 | 48620 | 48620
170033 | 17 | 48620 | 48620
170058 | 17 | 28140 | 28140
170068 | 17 | 11100 | 11100
170120 | 17 | 27900 | 27900
170142 | 17 | 45820 | 45820
170175 | 17 | 48620 | 48620
170190 | 17 | 45820 | 45820
170193 | 17 | 48620 | 48620
180005 | 18 | 26580 | 26580
180011 | 18 | 30460 | 30460
180012 | 21060 | 31140 | 31140
180013 | 14540 | 34980 | 34980
180017 | 18 | 21060 | 21060
180018 | 18 | 30460 | 30460
180019 | 18 | 17140 | 17140
180024 | 18 | 31140 | 31140
180027 | 18 | 17300 | 17300
180028 | 18 | 26580 | 26580
180029 | 18 | 28700 | 28700
180044 | 18 | 26580 | 26580
180048 | 18 | 31140 | 31140
180066 | 18 | 34980 | 34980
180069 | 18 | 26580 | 26580
180075 | 18 | 14540 | 14540 | LUGAR
180078 | 18 | 26580 | 26580
180080 | 18 | 28940 | 28940
180093 | 18 | 21780 | 21780
180102 | 18 | 17300 | 17300
180104 | 18 | 17300 | 17300
180116 | 18 | 14 | 14
180124 | 14540 | 34980 | 34980
180127 | 18 | 31140 | 31140
180132 | 18 | 30460 | 30460
180139 | 18 | 30460 | 30460
190001 | 19 | 35380 | 35380
190003 | 19 | 29180 | 29180
190015 | 19 | 35380 | 35380
190086 | 19 | 33740 | 33740
190099 | 19 | 12940 | 12940
190106 | 19 | 10780 | 10780
190131 | 12940 | 35380 | 35380
190155 | 19 | 12940 | 12940 | LUGAR
190164 | 19 | 10780 | 10780
190191 | 19 | 12940 | 12940
190208 | 19 | 04 | 04
190218 | 19 | 43340 | 43340
190223 | 19 | 12940 | 12940 | LUGAR
200020 | 38860 | 40484 | 40484
200024 | 30340 | 38860 | 38860
200034 | 30340 | 38860 | 38860
200039 | 20 | 38860 | 38860
200050 | 20 | 12620 | 12620
200063 | 20 | 38860 | 38860
220001 | 49340 | 14484 | 14484
220002 | 15764 | 14484 | 14484
220010 | 21604 | 14484 | 14484
220011 | 15764 | 14484 | 14484
220019 | 49340 | 14484 | 14484
220025 | 49340 | 14484 | 14484
220028 | 49340 | 14484 | 14484
220029 | 21604 | 14484 | 14484
220033 | 21604 | 14484 | 14484
220035 | 21604 | 14484 | 14484
220049 | 15764 | 14484 | 14484
220058 | 49340 | 14484 | 14484
220060 | 14484 | 12700 | 12700
220062 | 49340 | 14484 | 14484
220063 | 15764 | 14484 | 14484
220070 | 15764 | 14484 | 14484
220077 | 44140 | 25540 | 25540
220080 | 21604 | 14484 | 14484
220082 | 15764 | 14484 | 14484
220084 | 15764 | 14484 | 14484
220090 | 49340 | 14484 | 14484
220095 | 49340 | 14484 | 14484
220098 | 15764 | 14484 | 14484
220101 | 15764 | 14484 | 14484
220105 | 15764 | 14484 | 14484
220133 | 15764 | 14484 | 14484
220163 | 49340 | 14484 | 14484
220171 | 15764 | 14484 | 14484
220174 | 21604 | 14484 | 14484
230002 | 19804 |  | 11460
230003 | 26100 |  | 34740
230013 | 47644 |  | 19804
230019 | 47644 |  | 19804
230020 | 19804 |  | 11460
230022 | 23 | 29620 | 29620
230024 | 19804 |  | 11460
230029 | 47644 |  | 19804
230030 | 23 | 40980 | 40980
230035 | 23 | 24340 | 24340 | LUGAR
230036 | 23 | 13020 | 13020
230037 | 23 | 11460 | 11460
230047 | 47644 | 19804 | 19804
230053 | 19804 |  | 11460
230054 | 23 | 24580 | 24580
230065 |  | 19804 | 11460
230069 | 47644 | 11460 | 11460
230071 | 47644 |  | 19804
230072 | 26100 |  | 34740
230077 | 40980 | 22420 | 22420
230080 | 23 | 40980 | 40980
230089 | 19804 |  | 11460
230092 | 27100 | 29620 | 29620
230093 | 23 | 24340 | 24340
230096 | 23 | 28020 | 28020
230097 | 23 | 24340 | 24340
230099 | 33780 | 11460 | 11460
230104 | 19804 |  | 11460
230105 | 23 | 13020 | 13020
230119 | 19804 |  | 11460
230121 | 23 | 29620 | 29620 | LUGAR
230130 | 47644 |  | 19804
230134 | 23 | 26100 | 26100 | LUGAR
230135 | 19804 |  | 11460
230142 | 19804 |  | 11460
230146 | 19804 |  | 11460
230151 | 47644 |  | 19804
230165 |  | 19804 | 11460
230174 | 26100 |  | 34740
230176 | 19804 |  | 11460
230195 | 47644 | 19804 | 19804
230204 | 47644 | 19804 | 19804
230207 | 47644 |  | 19804
230208 | 23 | 24340 | 24340 | LUGAR
230217 | 12980 | 29620 | 29620
230223 | 47644 |  | 19804
230227 | 47644 | 19804 | 19804
230244 | 19804 | 11460 | 11460
230254 | 47644 |  | 19804
230257 | 47644 | 19804 | 19804
230264 | 47644 | 19804 | 19804
230269 | 47644 |  | 19804
230270 | 19804 |  | 11460
230273 | 19804 |  | 11460
230277 | 47644 |  | 19804
230279 | 47644 | 11460 | 11460
230293 | 19804 |  | 11460
230295 | 23 | 26100 | 26100 | LUGAR
240018 | 24 | 33460 | 33460
240030 | 24 | 41060 | 41060
240036 | 41060 | 33460 | 33460
240064 | 24 | 20260 | 20260
240069 | 24 | 40340 | 40340
240071 | 24 | 40340 | 40340
240075 | 24 | 410060 | 410060
240088 | 24 | 410060 | 410060
240093 | 24 | 33460 | 33460
241050 | 24 | 40340 | 40340 | LUGAR
240150 | 24 | 40340 | 40340 | LUGAR
240187 | 24 | 33460 | 33460
240211 | 24 | 33460 | 33460
250002 | 25 | 22520 | 22520
250004 | 25 | 32820 | 32820
250006 | 25 | 32820 | 32820
250009 | 25 | 27180 | 27180
250023 | 25 | 250060 | 250060 | LUGAR
250031 | 25 | 27140 | 27140
250034 | 25 | 32820 | 32820
250040 | 37700 | 250060 | 250060
250042 | 25 | 32820 | 32820
250044 | 25 | 22520 | 22520
250069 | 25 | 46220 | 46220
250079 | 25 | 27140 | 27140
250081 | 25 | 46220 | 46220
250082 | 25 | 38220 | 38220
250094 | 25620 | 250060 | 250060
250097 | 25 | 12940 | 12940
250099 | 25 | 27140 | 27140
250100 | 25 | 46220 | 46220
250104 | 25 | 27140 | 27140
250117 | 25 | 250060 | 250060 | LUGAR
260009 | 26 | 28140 | 28140
260011 | 27620 | 17860 | 17860
260015 | 26 | 27860 | 27860
260017 | 26 | 41180 | 41180
260022 | 26 | 16 | 16
260025 | 26 | 41180 | 41180
260049 | 26 | 44180 | 44180 | LUGAR
260050 | 26 | 41140 | 41140
260064 | 26 | 17860 | 17860
260074 | 26 | 17860 | 17860
260094 | 26 | 44180 | 44180
260110 | 26 | 41180 | 41180
260113 | 26 | 14 | 14
260116 | 26 | 14 | 14
260119 | 26 | 27860 | 27860
260175 | 26 | 28140 | 28140
260183 | 26 | 41180 | 41180
260186 | 26 | 17860 | 17860
270003 | 27 | 24500 | 24500
270011 | 27 | 24500 | 24500
270017 | 27 | 33540 | 33540
270051 | 27 | 33540 | 33540
280009 | 28 | 300700 | 300700
280023 | 28 | 300700 | 300700
280032 | 28 | 300700 | 300700
280061 | 28 | 53 | 53
280065 | 28 | 24540 | 24540
280077 | 28 | 36540 | 36540
280125 | 28 | 43580 | 43580
290002 | 29 | 16180 | 16180 | LUGAR
290006 | 29 | 39900 | 39900
290008 | 29 | 41620 | 41620
290019 | 16180 | 39900 | 39900
300005 | 30 | 31700 | 31700
300011 | 31700 | 15764 | 15764
300012 | 31700 | 15764 | 15764
300014 | 40484 | 31700 | 31700
300017 | 40484 | 21604 | 21604
300018 | 40484 | 31700 | 31700
300019 | 30 | 49340 | 49340
300020 | 31700 | 15764 | 15764
300023 | 40484 | 21604 | 21604
300029 | 40484 | 21604 | 21604
300034 | 31700 | 15764 | 15764
310002 | 35084 | 35644 | 35644
310009 | 35084 | 35644 | 35644
310013 | 35084 | 35644 | 35644
310014 | 15804 | 37964 | 37964
310015 | 35084 | 35644 | 35644
310017 | 35084 | 35644 | 35644
310018 | 35084 | 35644 | 35644
310021 | 45940 | 35084 | 35084
310031 | 15804 | 20764 | 20764
310038 | 20764 | 35644 | 35644
310039 | 20764 | 35644 | 35644
310048 | 20764 | 35084 | 35084
310050 | 35084 | 35644 | 35644
310054 | 35084 | 35644 | 35644
310070 | 20764 | 35644 | 35644
310076 | 35084 | 35644 | 35644
310078 | 35084 | 35644 | 35644
310081 | 15804 | 37964 | 37964
310083 | 35084 | 35644 | 35644
310093 | 35084 | 35644 | 35644
310096 | 35084 | 35644 | 35644
310108 | 20764 | 35644 | 35644
310119 | 35084 | 35644 | 35644
320005 | 22140 | 10740 | 10740
320006 | 32 | 42140 | 42140
320013 | 32 | 42140 | 42140
320014 | 32 | 29740 | 29740
320033 | 32 | 42140 | 42140 | LUGAR
320063 | 32 | 36220 | 36220
320065 | 32 | 36220 | 36220
330004 | 28740 | 39100 | 39100
330008 | 33 | 15380 | 15380 | LUGAR
330027 | 35004 | 35644 | 35644
330038 | 33 | 40380 | 40380 | LUGAR
330073 | 33 | 40380 | 40380 | LUGAR
330079 | 33 | 47 | 47
330085 | 33 | 450060 | 450060
330094 | 33 | 28740 | 28740
330103 | 33 | 39 | 39
330106 | 35004 |  | 35644
330136 | 33 | 450060 | 450060
330157 | 33 | 450060 | 450060
330167 | 35004 |  | 35644
330181 | 35004 |  | 35644
330182 | 35004 | 35644 | 35644
330191 | 24020 | 10580 | 10580
330198 | 35004 |  | 35644
330224 | 28740 | 39100 | 39100
330225 | 35004 |  | 35644
330229 | 27460 | 21500 | 21500
330235 | 33 | 450060 | 450060 | LUGAR
330239 | 27460 | 21500 | 21500
330250 | 33 | 15540 | 15540
330259 | 35004 |  | 35644
330277 | 33 | 270060 | 270060
330331 | 35004 |  | 35644
330332 | 35004 |  | 35644
330359 | 33 | 39100 | 39100 | LUGAR
330372 | 35004 |  | 35644
330386 | 33 | 39100 | 39100
340004 | 24660 | 49180 | 49180
340008 | 34 | 16740 | 16740
340010 | 24140 | 39580 | 39580
340013 | 34 | 24860 | 24860
340014 | 49180 | 24660 | 24660
340021 | 34 | 16740 | 16740
340023 | 11700 | 24860 | 24860
340027 | 34 | 24780 | 24780
340039 | 34 | 16740 | 16740
340047 | 49180 | 24660 | 24660
340050 | 34 | 22180 | 22180
340051 | 34 | 25860 | 25860
340068 | 34 | 48900 | 48900
340069 | 39580 | 200500 | 200500
340070 | 15500 | 24660 | 24660
340071 | 34 | 39580 | 39580 | LUGAR
340073 | 39580 | 200500 | 200500
340091 | 24660 | 49180 | 49180
340109 | 34 | 47260 | 47260
340114 | 39580 | 200500 | 200500
340115 | 34 | 200500 | 200500
340124 | 34 | 39580 | 39580 | LUGAR
340126 | 34 | 39580 | 39580
340127 | 34 | 200500 | 200500
340129 | 34 | 16740 | 16740
340131 | 34 | 24780 | 24780
340136 | 34 | 200500 | 200500 | LUGAR
340138 | 39580 | 200500 | 200500
340144 | 34 | 16740 | 16740
401345 | 34 | 16740 | 16740 | LUGAR
340147 | 40580 | 39580 | 39580
340148 | 49180 | 24660 | 24660
340173 | 39580 | 200500 | 200500
350003 | 35 | 13900 | 13900
350006 | 35 | 13900 | 13900
350009 | 35 | 22020 | 22020
360008 | 36 | 26580 | 26580
360010 | 36 | 10420 | 10420
360011 | 36 | 18140 | 18140
360013 | 36 | 30620 | 30620
360014 | 36 | 18140 | 18140
360019 | 10420 | 17460 | 17460
360020 | 10420 | 17460 | 17460
360025 | 41780 | 17460 | 17460
360027 | 10420 | 17460 | 17460
360036 | 36 | 17460 | 17460
360039 | 36 | 18140 | 18140
360054 | 36 | 26580 | 26580
360065 | 36 | 17460 | 17460
360078 | 10420 | 17460 | 17460
360079 | 19380 | 17140 | 17140
360084 | 15940 | 10420 | 10420
360086 | 44220 | 19380 | 19380
360095 | 36 | 45780 | 45780
360096 | 36 | 49660 | 49660 | LUGAR
360107 | 36 | 45780 | 45780
360121 | 36 | 11460 | 11460
360125 | 36 | 17460 | 17460 | LUGAR
360150 | 10420 | 17460 | 17460
360159 | 36 | 18140 | 18140
360175 | 36 | 18140 | 18140
360185 | 36 | 49660 | 49660 | LUGAR
360187 | 44220 | 19380 | 19380
360197 | 36 | 18140 | 18140
360211 | 48260 | 38300 | 38300
360238 | 36 | 49660 | 49660 | LUGAR
360241 | 10420 | 17460 | 17460
360245 | 36 | 17460 | 17460 | LUGAR
360253 | 19380 | 17140 | 17140
370004 | 37 | 27900 | 27900
370006 | 37 | 17 | 17
370014 | 37 | 43300 | 43300
370015 | 37 | 46140 | 46140
370016 | 37 | 36420 | 36420
370018 | 37 | 46140 | 46140
370022 | 37 | 30020 | 30020
370025 | 37 | 46140 | 46140
370026 | 37 | 36420 | 36420
370034 | 37 | 22900 | 22900
370047 | 37 | 43300 | 43300
370049 | 37 | 36420 | 36420
370099 | 37 | 46140 | 46140
370103 | 37 | 45 | 45
370113 | 37 | 22220 | 22220
380001 | 38 | 38900 | 38900
380022 | 38 | 18700 | 18700 | LUGAR
380027 | 38 | 21660 | 21660
380050 | 38 | 32780 | 32780
380090 | 38 | 21660 | 21660
390006 | 39 | 25420 | 25420
390013 | 39 | 25420 | 25420
390030 | 39 | 10900 | 10900
390031 | 39 | 39740 | 39740 | LUGAR
390046 | 49620 | 29540 | 29540
390048 | 39 | 25420 | 25420
390065 | 39 | 47894 | 47894
390066 | 30140 | 25420 | 25420
390071 | 39 | 48700 | 48700 | LUGAR
390079 | 39 | 13780 | 13780
390081 | 37964 | 48864 | 48864
390086 | 39 | 44300 | 44300
390091 | 39 | 38300 | 38300
390110 | 27780 | 38300 | 38300
390113 | 39 | 36 | 36
390133 | 10900 | 37964 | 37964
390151 | 39 | 13644 | 13644
390156 | 37964 | 48864 | 48864
390180 | 37964 | 48864 | 48864
390222 | 37964 | 48864 | 48864
390246 | 39 | 48700 | 48700
400048 | 25020 | 41980 | 41980
410010 | 39300 | 14484 | 14484
410012 | 39300 | 14484 | 14484
410013 | 39300 | 35980 | 35980
420007 | 43900 | 24860 | 24860
420009 | 42 | 24860 | 24860 | LUGAR
420020 | 42 | 16700 | 16700
420027 | 11340 | 24860 | 24860
420028 | 42 | 44940 | 44940 | LUGAR
420030 | 42 | 16700 | 16700
420036 | 42 | 16740 | 16740
420039 | 42 | 43900 | 43900 | LUGAR
420067 | 42 | 42340 | 42340
420068 | 42 | 12260 | 12260
420069 | 42 | 44940 | 44940 | LUGAR
420070 | 44940 | 17900 | 17900
420071 | 42 | 24860 | 24860
420080 | 42 | 42340 | 42340
420083 | 43900 | 24860 | 24860
420085 | 34820 | 48900 | 48900
430012 | 43 | 43620 | 43620
430014 | 43 | 22020 | 22020
430094 | 43 | 53 | 53
440002 | 27180 | 32820 | 32820
440008 | 44 | 27180 | 27180
440020 | 44 | 26620 | 26620
440024 | 17420 | 16860 | 16860
440025 | 44 | 34 | 34
440035 | 17300 | 34980 | 34980
440050 | 44 | 11700 | 11700
440058 | 44 | 16860 | 16860
440059 | 44 | 34980 | 34980
440060 | 44 | 27180 | 27180
440067 | 34100 | 28940 | 28940
440068 | 44 | 16860 | 16860
440072 | 44 | 32820 | 32820
440073 | 44 | 34980 | 34980
440148 | 44 | 34980 | 34980
440151 | 44 | 34980 | 34980
440175 | 44 | 34980 | 34980
440180 | 44 | 28940 | 28940
440185 | 17420 | 16860 | 16860
440192 | 44 | 34980 | 34980
450007 | 45 | 41700 | 41700
450032 | 45 | 43340 | 43340
450039 | 23104 | 19124 | 19124
450059 | 41700 | 12420 | 12420
450064 | 23104 | 19124 | 19124
450073 | 45 | 10180 | 10180
450080 | 45 | 30980 | 30980
450087 | 23104 | 19124 | 19124
450099 | 45 | 11100 | 11100
450121 | 23104 | 19124 | 19124
450135 | 23104 | 19124 | 19124
450137 | 23104 | 19124 | 19124
450144 | 45 | 36220 | 36220
450148 | 23104 | 19124 | 19124
450187 | 45 | 26420 | 26420
450192 | 45 | 19124 | 19124
450194 | 45 | 19124 | 19124
450196 | 45 | 19124 | 19124
450211 | 45 | 26420 | 26420
450214 | 45 | 26420 | 26420
450224 | 45 | 46340 | 46340
450283 | 45 | 19124 | 19124 | LUGAR
450286 | 45 | 17780 | 17780 | LUGAR
450347 | 45 | 26420 | 26420
450351 | 45 | 23104 | 23104
450389 | 45 | 19124 | 19124 | LUGAR
450395 | 45 | 26420 | 26420
450400 | 45 | 47380 | 47380
450419 | 23104 | 19124 | 19124
450438 | 45 | 26420 | 26420
450447 | 45 | 19124 | 19124
450451 | 45 | 23104 | 23104
450484 | 45 | 30980 | 30980
450508 | 45 | 46340 | 46340
450547 | 45 | 19124 | 19124
450563 | 23104 | 19124 | 19124
450639 | 23104 | 19124 | 19124
450653 | 45 | 33260 | 33260
450656 | 45 | 46340 | 46340
450672 | 23104 | 19124 | 19124
450675 | 23104 | 19124 | 19124
450677 | 23104 | 19124 | 19124
450694 | 45 | 26420 | 26420
450747 | 45 | 19124 | 19124
450755 | 45 | 31180 | 31180
450770 | 45 | 12420 | 12420 | LUGAR
450779 | 23104 | 19124 | 19124
450813 | 45 | 41700 | 41700
450830 | 45 | 36220 | 36220
450839 | 45 | 43340 | 43340
450858 | 23104 | 19124 | 19124
450872 | 23104 | 19124 | 19124
450880 | 23104 | 19124 | 19124
460004 | 36260 | 41620 | 41620
460005 | 36260 | 41620 | 41620
460007 | 46 | 41100 | 41100
460011 | 46 | 39340 | 39340
460021 | 41100 | 29820 | 29820
460039 | 46 | 36260 | 36260
460041 | 36260 | 41620 | 41620
460042 | 36260 | 41620 | 41620
470001 | 47 | 30 | 30
470011 | 47 | 15764 | 15764
470012 | 47 | 38340 | 38340
490004 | 25500 | 16820 | 16820
490005 | 49020 | 47894 | 47894
490013 | 49 | 31340 | 31340
490018 | 49 | 16820 | 16820
490042 | 13980 | 40220 | 40220
490048 | 40220 | 31340 | 31340
490079 | 49 | 24660 | 24660
490092 | 49 | 400060 | 400060
490105 | 49 | 28700 | 28700
490106 | 49 | 16820 | 16820
490109 | 47260 | 400060 | 400060
500002 | 50 | 28420 | 28420
500003 | 34580 | 42644 | 42644
500016 | 48300 | 42644 | 42644
500021 | 45104 | 42644 | 42644
500024 | 36500 | 45104 | 45104
500039 | 14740 | 42644 | 42644
500041 | 31020 | 38900 | 38900
500072 | 50 | 42644 | 42644
500079 | 45104 | 42644 | 42644
500108 | 45104 | 42644 | 42644
500129 | 45104 | 42644 | 42644
500139 | 36500 | 45104 | 45104
510001 | 340060 | 38300 | 38300
510002 | 51 | 40220 | 40220
510006 | 51 | 38300 | 38300
510018 | 51 | 16620 | 16620 | LUGAR
510024 | 340060 | 38300 | 38300
510030 | 51 | 340060 | 340060
510046 | 51 | 16620 | 16620
510047 | 51 | 38300 | 38300
510062 | 51 | 16620 | 16620
510070 | 51 | 16620 | 16620
510071 | 51 | 16620 | 16620
510077 | 51 | 26580 | 26580
520002 | 52 | 48140 | 48140
520021 | 29404 | 16974 | 16974
520028 | 52 | 31540 | 31540
520037 | 52 | 48140 | 48140
520059 | 39540 | 29404 | 29404
520060 | 52 | 22540 | 22540 | LUGAR
520066 | 27500 | 31540 | 31540
520071 | 52 | 33340 | 33340 | LUGAR
520076 | 52 | 31540 | 31540
520088 | 22540 | 33340 | 33340
520094 | 39540 | 33340 | 33340
520095 | 52 | 31540 | 31540
520096 | 39540 | 33340 | 33340
520102 | 52 | 33340 | 33340 | LUGAR
520107 | 52 | 24580 | 24580
520113 | 52 | 24580 | 24580
520116 | 52 | 33340 | 33340 | LUGAR
520173 | 52 | 20260 | 20260
520189 | 29404 | 16974 | 16974
530015 | 53 | 26820 | 26820
530025 | 53 | 22660 | 22660

Table 9B.—Hospital Reclassifications and Redesignations by Individual Hospital Under Section 508 of Public Law 108-173—FY 2007
Provider number | Note | Geographic CBSA | Wage index CBSA— 10/1/06-3/31/07 | Wage index CBSA— 4/1/2007-9/30/2007* | Own Wage index— 10/1/06-3/31/07
050494 |  | 05 | 42220 |  |
050549 |  | 37100 | 42220 |  |
070001 |  | 35300 | 35004 |  |
070005 |  | 35300 | 35004 |  |
070006 | * | 14860 | 35644 |  |
070010 |  | 14860 | 35644 |  |
070016 |  | 35300 | 35004 |  |
070017 |  | 35300 | 35004 |  |
070018 | * | 14860 | 35644 |  |
070019 |  | 35300 | 35004 |  |
070022 |  | 35300 | 35004 |  |
070028 |  | 14860 | 35644 |  |
070031 |  | 35300 | 35004 |  |
070034 | * | 14860 | 35644 |  |
070039 |  | 35300 | 35004 |  |
160040 |  | 47940 | 16300 |  |
160067 |  | 47940 | 16300 |  |
160110 |  | 47940 | 16300 |  |
220046 |  | 38340 | 14484 |  |
230003 |  | 26100 | 28020 |  |
230004 |  | 34740 | 28020 |  |
230013 |  | 47644 | 22420 |  |
230019 |  | 47644 | 22420 |  |
230020 |  | 19804 | 11460 |  |
230024 |  | 19804 | 11460 |  |
230029 |  | 47644 | 22420 |  |
230038 |  | 24340 | 28020 |  |
230053 |  | 19804 | 11460 |  |
230059 |  | 24340 | 28020 |  |
230066 |  | 34740 | 28020 |  |
230071 |  | 47644 | 22420 |  |
230072 |  | 26100 | 28020 |  |
230089 |  | 19804 | 11460 |  |
230104 |  | 19804 | 11460 |  |
230106 |  | 24340 | 28020 |  |
230119 |  | 19804 | 11460 |  |
230130 |  | 47644 | 22420 |  |
230135 |  | 19804 | 11460 |  |
230146 |  | 19804 | 11460 |  |
230151 |  | 47644 | 22420 |  |
230165 |  | 19804 | 11460 |  |
230174 |  | 26100 | 28020 |  |
230176 |  | 19804 | 11460 |  |
230207 |  | 47644 | 22420 |  |
230223 |  | 47644 | 22420 |  |
230236 |  | 24340 | 28020 |  |
230254 |  | 47644 | 22420 |  |
230269 |  | 47644 | 22420 |  |
230270 |  | 19804 | 11460 |  |
230273 |  | 19804 | 11460 |  |
230277 |  | 47644 | 22420 |  |
250078 | * | 25620 | 25060 | 25060 |
250122 |  | 25 | 25060 |  |
270002 | * | 27 | 33540 | 33540 |
270012 | * | 24500 | 33540 | 33540 |
270023 |  | 33540 | 13740 |  |
270032 |  | 27 | 13740 |  |
270057 |  | 27 | 13740 |  |
310028 |  | 35084 | 35644 |  |
310051 |  | 35084 | 35644 |  |
310060 |  | 10900 | 35644 |  |
310115 |  | 10900 | 35644 |  |
310120 |  | 35084 | 35644 |  |
330023 | * | 39100 | 35644 | 35644 |
330049 |  | 39100 | 35644 |  |
330067 | * | 39100 | 35644 | 35644 |
330106 |  | 35004 |  |  | 1.4485
330126 |  | 39100 | 35644 |  |
330135 |  | 39100 | 35644 |  |
330205 |  | 39100 | 35644 |  |
330209 |  | 39100 | 35004 |  |
330264 |  | 39100 | 35004 |  |
340002 |  | 11700 | 16740 |  |
350002 |  | 13900 | 22020 |  |
350010 |  | 35 | 22020 |  |
350014 |  | 35 | 22020 |  |
350015 |  | 13900 | 22020 |  |
350017 |  | 35 | 22020 |  |
350019 | * | 24220 | 22020 | 22020 |
350030 |  | 35 | 22020 |  |
390001 |  | 42540 | 10900 |  |
390003 |  | 39 | 10900 |  |
390054 |  | 42540 | 29540 |  |
390072 |  | 39 | 10900 |  |
390095 |  | 42540 | 10900 |  |
390119 |  | 42540 | 10900 |  |
390137 |  | 42540 | 10900 |  |
390169 |  | 42540 | 10900 |  |
390185 |  | 42540 | 29540 |  |
390192 |  | 42540 | 10900 |  |
390237 |  | 42540 | 10900 |  |
390270 |  | 42540 | 29540 |  |
430005 |  | 43 | 39660 |  |
430008 | * | 43 | 43620 | 43620 |
430013 | * | 43 | 43620 | 43620 |
430015 |  | 43 | 43620 |  |
430048 |  | 43 | 43620 |  |
430060 |  | 43 | 43620 |  |
430064 |  | 43 | 43620 |  |
430077 |  | 39660 | 43620 |  |
430091 |  | 39660 | 43620 |  |
450010 |  | 48660 | 32580 |  |
450072 |  | 26420 | 26420 |  |
450591 |  | 26420 | 26420 |  |
470003 |  | 15540 | 14484 |  |
490001 |  | 49 | 31340 |  |
490024 |  | 40220 | 19260 |  |
530008 | * | 53 | 16220 | 16220 |
530010 | * | 53 | 16220 | 16220 |
* These hospitals are assigned a wage index value under a special exceptions policy (see the FY 2005 IPPS final rule, 69 FR 49105).

Table 9C.—Hospitals Redesignated as Rural Under Section 1886(d)(8)(E) of the Act—FY 2007
Provider number | Geographic CBSA | Redesignated rural area
050192 | 23420 | 05
050469 | 40140 | 05
050528 | 32900 | 05
050618 | 40140 | 05
070004 | 25540 | 07
100048 | 37860 | 10
100134 | 27260 | 10
170137 | 29940 | 17
190048 | 26380 | 19
230078 | 35660 | 23
260006 | 41140 | 26
260047 | 27620 | 26
260195 | 44180 | 26
330268 | 10580 | 33
370054 | 36420 | 37
380040 | 13460 | 38
390052 | 39 | 39
390084 | 39 | 39
390093 | 39 | 39
390118 | 39 | 39
390125 | 39 | 39
390138 | 39 | 39
390146 | 39 | 39
390150 | 39 | 39
390181 | 39 | 39
390183 | 39 | 39
390189 | 39 | 39
390199 | 39 | 39
390201 | 39 | 39
440135 | 34980 | 44
450052 | 45 | 45
450078 | 10180 | 45
450243 | 10180 | 45
450348 | 45 | 45
500060 | 42644 | 50
500148 | 48300 | 50

Table 10.—Geometric Mean Plus the Lesser of .75 of the National Adjusted Operating Standardized Payment Amount (Increased to Reflect the Difference Between Costs and Charges) or .75 of One Standard Deviation of Mean Charges by Diagnosis-Related Group (DRG) March 2006 ¹
DRG | Number of cases | Threshold
1 | 24,328 | $53,938
2 | 10,275 | $37,402
3 | 2 | $70,158
6 | 291 | $16,552
7 | 14,912 | $41,716
8 | 3,415 | $31,108
9 | 1,761 | $25,283
10 | 19,574 | $25,017
11 | 3,075 | $18,962
12 | 56,224 | $18,919
13 | 7,495 | $17,715
14 | 278,100 | $24,927
15 | 20,038 | $20,826
16 | 17,333 | $26,314
17 | 2,966 | $15,701
18 | 33,356 | $21,320
19 | 8,416 | $15,732
20 | 6,407 | $40,783
21 | 2,205 | $26,935
22 | 3,151 | $23,912
23 | 10,668 | $16,962
24 | 63,265 | $21,159
25 | 27,269 | $13,798
26 | 24 | $20,300
27 | 5,923 | $25,046
28 | 19,837 | $25,435
29 | 6,498 | $15,810
31 | 4,967 | $21,053
32 | 1,856 | $14,058
34 | 27,462 | $21,201
35 | 7,825 | $14,408
36 | 1,203 | $15,522
37 | 1,233 | $24,385
38 | 48 | $11,080
39 | 362 | $14,021
40 | 1,251 | $21,938
42 | 941 | $17,594
43 | 123 | $12,806
44 | 1,310 | $14,842
45 | 2,765 | $16,531
46 | 3,942 | $16,755
47 | 1,322 | $12,080
49 | 2,414 | $31,141
50 | 2,023 | $19,180
51 | 192 | $19,172
52 | 316 | $16,103
53 | 2,137 | $26,620
55 | 1,366 | $20,219
56 | 450 | $19,353
57 | 881 | $20,358
59 | 127 | $15,100
60 | 3 | $18,913
61 | 222 | $28,884
62 | 4 | $7,210
63 | 2,826 | $26,658
64 | 3,252 | $23,164
65 | 40,693 | $13,497
66 | 8,208 | $12,916
67 | 379 | $17,295
68 | 19,063 | $14,128
69 | 5,200 | $10,627
70 | 23 | $7,427
71 | 71 | $15,648
72 | 1,341 | $16,527
73 | 9,963 | $18,049
74 | 3 | $8,105
75 | 46,661 | $48,108
76 | 47,934 | $43,517
77 | 2,086 | $25,753
78 | 49,495 | $26,329
79 | 160,350 | $29,300
80 | 7,187 | $18,853
81 | 6 | $25,887
82 | 63,071 | $26,543
83 | 7,053 | $21,671
84 | 1,379 | $12,820
85 | 22,188 | $25,115
86 | 1,726 | $15,503
87 | 96,594 | $26,870
88 | 427,896 | $19,083
89 | 555,084 | $22,017
90 | 43,729 | $13,109
91 | 53 | $11,679
92 | 16,529 | $24,748
93 | 1,446 | $16,248
94 | 13,561 | $23,676
95 | 1,568 | $12,581
96 | 60,141 | $15,900
97 | 26,997 | $11,754
98 | 13 | $12,587
99 | 21,440 | $15,705
100 | 6,425 | $12,166
101 | 23,372 | $18,530
102 | 4,916 | $12,328
103 | 859 | $234,201
104 | 20,077 | $124,179
105 | 32,514 | $93,739
106 | 3,427 | $111,298
108 | 8,740 | $89,367
110 | 57,543 | $59,240
111 | 10,744 | $45,073
113 | 34,572 | $45,534
114 | 7,940 | $30,209
117 | 5,331 | $25,603
118 | 7,618 | $33,248
119 | 965 | $25,877
120 | 33,337 | $36,476
121 | 150,081 | $29,689
122 | 54,533 | $21,009
123 | 29,519 | $25,707
124 | 120,197 | $29,665
125 | 92,007 | $23,825
126 | 5,415 | $40,840
127 | 667,830 | $21,961
128 | 4,228 | $15,640
129 | 3,504 | $21,695
130 | 87,619 | $20,101
131 | 22,939 | $12,055
132 | 101,445 | $13,662
133 | 5,877 | $12,148
134 | 40,280 | $13,518
135 | 7,169 | $19,603
136 | 936 | $14,048
138 | 206,144 | $17,801
139 | 74,055 | $11,519
140 | 31,532 | $11,134
141 | 123,443 | $16,543
142 | 49,350 | $13,194
143 | 238,325 | $12,583
144 | 104,907 | $24,478
145 | 5,727 | $12,846
146 | 10,217 | $45,078
147 | 2,607 | $31,265
148 | 132,645 | $51,883
149 | 19,460 | $30,248
150 | 22,886 | $45,015
151 | 5,365 | $27,699
152 | 4,995 | $33,362
153 | 1,946 | $23,355
154 | 26,968 | $56,652
155 | 5,992 | $27,799
156 | 4 | $43,037
157 | 8,291 | $25,914
158 | 3,707 | $14,374
159 | 19,172 | $28,300
160 | 11,919 | $18,834
161 | 10,136 | $25,538
162 | 4,950 | $15,241
163 | 4 | $14,007
164 | 5,971 | $38,851
165 | 2,443 | $25,609
166 | 5,126 | $29,243
167 | 4,864 | $19,695
168 | 1,532 | $25,261
169 | 770 | $16,756
170 | 17,890 | $44,542
171 | 1,404 | $26,663
172 | 33,122 | $26,316
173 | 2,229 | $16,793
174 | 260,944 | $22,036
175 | 29,891 | $12,609
176 | 14,595 | $23,998
177 | 7,656 | $20,625
178 | 2,548 | $15,447
179 | 14,654 | $23,043
180 | 91,305 | $20,909
181 | 25,234 | $12,552
182 | 297,038 | $18,449
183 | 81,833 | $13,162
184 | 76 | $14,814
185 | 6,240 | $18,863
186 | 7 | $5,726
187 | 644 | $18,582
188 | 93,551 | $22,996
189 | 13,148 | $13,298
190 | 63 | $16,464
191 | 10,546 | $54,836
192 | 1,376 | $32,518
193 | 4,038 | $51,797
194 | 461 | $32,202
195 | 2,835 | $50,330
196 | 594 | $32,533
197 | 16,347 | $42,001
198 | 4,105 | $26,117
199 | 1,477 | $37,170
200 | 1,014 | $39,833
201 | 2,707 | $52,939
202 | 27,497 | $25,079
203 | 32,322 | $26,139
204 | 69,183 | $22,933
205 | 32,722 | $23,282
206 | 2,041 | $16,152
207 | 38,324 | $24,655
208 | 9,535 | $15,457
210 | 126,270 | $36,343
211 | 25,668 | $26,696
212 | 10 | $18,770
213 | 9,455 | $33,757
216 | 19,927 | $35,368
217 | 15,590 | $41,834
218 | 29,952 | $32,692
219 | 21,035 | $23,451
220 | 2 | $24,004
223 | 12,641 | $25,348
224 | 9,914 | $18,586
225 | 6,246 | $26,078
226 | 6,735 | $29,288
227 | 4,867 | $18,609
228 | 2,680 | $24,599
229 | 1,123 | $15,669
230 | 2,458 | $26,420
232 | 566 | $20,841
233 | 18,408 | $34,741
234 | 9,070 | $27,627
235 | 4,753 | $16,296
236 | 41,708 | $15,403
237 | 1,917 | $13,860
238 | 9,766 | $26,257
239 | 40,264 | $23,062
240 | 12,897 | $24,260
241 | 2,829 | $14,155
242 | 2,726 | $22,458
243 | 100,715 | $17,004
244 | 17,015 | $15,399
245 | 5,904 | $10,392
246 | 1,407 | $13,311
247 | 21,424 | $12,727
248 | 16,489 | $18,894
249 | 13,442 | $15,428
250 | 4,144 | $15,072
251 | 2,068 | $10,611
253 | 24,748 | $16,493
254 | 9,990 | $10,194
256 | 7,606 | $18,047
257 | 13,084 | $19,605
258 | 11,372 | $15,439
259 | 2,657 | $21,683
260 | 2,421 | $15,090
261 | 1,568 | $20,742
262 | 599 | $20,894
263 | 22,459 | $32,488
264 | 3,905 | $22,421
265 | 4,011 | $28,291
266 | 2,221 | $19,694
267 | 273 | $20,005
268 | 994 | $25,612
269 | 11,014 | $30,475
270 | 2,567 | $17,712
271 | 21,702 | $21,485
272 | 6,074 | $20,835
273 | 1,267 | $12,661
274 | 2,242 | $22,532
275 | 180 | $12,564
276 | 1,623 | $15,496
277 | 119,279 | $18,413
278 | 33,947 | $11,744
279 | 6 | $9,165
280 | 19,317 | $16,070
281 | 6,558 | $11,023
283 | 6,779 | $15,588
284 | 1,870 | $9,582
285 | 8,029 | $35,326
286 | 2,858 | $34,797
287 | 5,417 | $31,354
288 | 11,262 | $36,453
289 | 6,326 | $19,747
290 | 11,850 | $18,894
291 | 59 | $13,196
292 | 7,563 | $41,631
293 | 319 | $27,017
294 | 97,778 | $16,203
295 | 4,359 | $16,127
296 | 247,564 | $17,305
297 | 42,713 | $10,753
298 | 110 | $11,321
299 | 1,544 | $21,193
300 | 21,668 | $23,141
301 | 3,917 | $13,502
302 | 10,266 | $53,482
303 | 24,555 | $38,849
304 | 14,042 | $37,954
305 | 3,000 | $25,713
306 | 5,792 | $25,952
307 | 1,941 | $13,794
308 | 6,672 | $29,226
309 | 3,267 | $20,392
310 | 25,307 | $25,305
311 | 5,868 | $14,225
312 | 1,322 | $24,353
313 | 502 | $16,746
314 | 2 | $63,207
315 | 34,708 | $34,675
316 | 204,537 | $24,329
317 | 2,695 | $17,236
318 | 5,900 | $23,909
319 | 386 | $13,776
320 | 225,308 | $18,217
321 | 32,125 | $12,238
322 | 67 | $13,312
323 | 20,424 | $18,227
324 | 4,622 | $11,415
325 | 9,912 | $14,526
326 | 2,596 | $9,757
327 | 11 | $4,343
328 | 574 | $15,429
329 | 55 | $11,791
331 | 56,911 | $22,376
332 | 4,148 | $13,671
333 | 242 | $18,937
334 | 9,480 | $29,861
335 | 12,115 | $24,029
336 | 28,104 | $18,105
337 | 21,412 | $12,512
338 | 670 | $26,885
339 | 1,226 | $24,456
341 | 3,118 | $26,313
342 | 455 | $16,807
344 | 2,344 | $26,216
345 | 1,393 | $24,179
346 | 4,006 | $22,303
347 | 247 | $11,878
348 | 4,275 | $15,630
349 | 556 | $10,034
350 | 7,275 | $16,391
352 | 1,176 | $16,670
353 | 3,075 | $31,137
354 | 7,556 | $29,687
355 | 4,982 | $19,301
356 | 22,197 | $16,341
357 | 5,521 | $37,813
358 | 20,865 | $24,333
359 | 28,554 | $17,289
360 | 14,250 | $19,091
361 | 288 | $23,723
362 | 2 | $6,842
363 | 1,978 | $22,611
364 | 1,366 | $20,070
365 | 1,607 | $32,785
366 | 4,664 | $23,778
367 | 448 | $13,000
368 | 4,156 | $23,392
369 | 3,780 | $14,156
370 | 2,210 | $17,586
371 | 2,656 | $12,644
372 | 1,354 | $10,859
373 | 5,201 | $7,550
374 | 153 | $12,838
375 | 13 | $21,703
376 | 474 | $12,994
377 | 111 | $24,218
378 | 203 | $16,225
379 | 486 | $7,975
380 | 111 | $9,309
381 | 172 | $14,935
382 | 51 | $3,954
383 | 2,816 | $10,480
384 | 147 | $7,366
389 | 3 | $24,011
392 | 2,120 | $45,705
394 | 2,758 | $30,927
395 | 115,676 | $18,128
396 | 20 | $13,145
397 | 16,409 | $23,004
398 | 18,602 | $24,048
399 | 1,639 | $14,974
401 | 6,443 | $43,881
402 | 1,341 | $25,131
403 | 31,499 | $29,820
404 | 3,625 | $19,967
406 | 2,300 | $42,504
407 | 608 | $24,913
408 | 1,941 | $33,805
409 | 1,733 | $24,885
410 | 29,018 | $23,855
411 | 5 | $9,742
412 | 8 | $9,732
413 | 5,727 | $25,493
414 | 481 | $16,066
415 | 55,695 | $54,398
416 | 287,720 | $29,284
417 | 33 | $28,169
418 | 29,891 | $22,126
419 | 17,735 | $18,517
420 | 3,052 | $12,846
421 | 13,248 | $16,145
422 | 77 | $11,732
423 | 9,071 | $28,338
424 | 1,034 | $36,130
425 | 13,105 | $13,590
426 | 4,244 | $10,349
427 | 1,575 | $11,169
428 | 831 | $13,862
429 | 24,102 | $16,887
430 | 75,185 | $13,563
431 | 338 | $12,778
432 | 401 | $14,072
433 | 5,145 | $6,348
439 | 1,750 | $29,718
440 | 5,181 | $29,513
441 | 687 | $20,575
442 | 18,524 | $37,538
443 | 3,570 | $22,683
444 | 6,004 | $16,185
445 | 2,259 | $11,272
447 | 6,341 | $11,444
449 | 40,812 | $18,232
450 | 7,395 | $9,416
451 | 2 | $19,140
452 | 28,659 | $21,691
453 | 5,379 | $11,466
454 | 4,754 | $17,818
455 | 885 | $10,307
461 | 2,271 | $27,863
462 | 7,854 | $16,912
463 | 32,979 | $15,084
464 | 7,677 | $11,282
465 | 171 | $12,777
466 | 1,250 | $13,996
467 | 1,035 | $9,965
468 | 51,806 | $57,172
470 | 130 | $25,466
471 | 15,526 | $55,551
473 | 8,554 | $38,397
475 | 119,935 | $50,639
476 | 2,840 | $35,418
477 | 28,074 | $34,213
479 | 27,582 | $30,586
480 | 884 | $128,973
481 | 1,183 | $91,460
482 | 5,076 | $49,252
484 | 456 | $75,162
485 | 3,658 | $51,585
486 | 2,607 | $68,837
487 | 4,877 | $31,891
488 | 823 | $63,400
489 | 13,661 | $28,266
490 | 5,338 | $21,522
491 | 22,679 | $35,764
492 | 3,897 | $44,664
493 | 60,901 | $34,560
494 | 24,434 | $22,745
495 | 336 | $120,908
496 | 3,709 | $96,697
497 | 31,216 | $62,841
498 | 21,383 | $51,886
499 | 35,204 | $28,301
500 | 46,619 | $19,840
501 | 3,171 | $42,481
502 | 756 | $29,355
503 | 5,858 | $26,581
504 | 191 | $146,367
505 | 180 | $27,936
506 | 964 | $50,384
507 | 323 | $31,731
508 | 662 | $23,639
509 | 157 | $16,201
510 | 1,797 | $21,194
511 | 636 | $13,509
512 | 530 | $90,375
513 | 213 | $101,858
515 | 58,105 | $86,680
518 | 23,620 | $34,456
519 | 12,544 | $44,211
520 | 16,505 | $35,796
521 | 32,468 | $14,497
522 | 5,801 | $10,106
523 | 15,604 | $8,206
524 | 109,106 | $16,158
525 | 203 | $151,063
528 | 1,841 | $107,892
529 | 5,109 | $36,423
530 | 3,372 | $25,893
531 | 4,873 | $45,214
532 | 2,832 | $27,950
533 | 46,519 | $30,298
534 | 42,490 | $22,177
535 | 8,761 | $119,733
536 | 8,187 | $109,139
537 | 8,952 | $32,582
538 | 5,453 | $22,363
539 | 4,953 | $44,654
540 | 1,491 | $25,570
541 | 25,000 | $250,176
542 | 23,215 | $150,533
543 | 5,478 | $64,504
544 | 444,509 | $39,461
545 | 44,574 | $45,048
546 | 2,345 | $83,613
547 | 32,602 | $97,976
548 | 32,109 | $79,666
549 | 13,098 | $81,112
550 | 34,456 | $63,667
551 | 53,802 | $51,436
552 | 81,841 | $40,493
553 | 39,188 | $46,843
554 | 77,170 | $36,841
555 | 37,270 | $42,704
556 | 18,914 | $37,680
557 | 123,764 | $51,183
558 | 191,880 | $42,313
559 | 2,887 | $40,716
¹ Cases taken from the FY 2005 MedPAR file; DRGs are from GROUPER Version 24.0.

Table 11.—Proposed FY 2007 LTC-DRGs, Relative Weights, Geometric Average Length of Stay, and ⅚THS of the Geometric Average Length of Stay
LTC-DRG | Description | Proposed relative weight | Proposed geometric average length of stay | Proposed 5/6ths of the geometric average length of stay
1 | ⁵ CRANIOTOMY AGE >17 W CC | 1.6479 | 35.5 | 29.6
2 | ⁷ CRANIOTOMY AGE > 17 W/O CC | 1.6479 | 35.5 | 29.6
3 | ⁷ CRANIOTOMY AGE 0-17 | 1.6479 | 35.5 | 29.6
6 | ⁷ CARPAL TUNNEL RELEASE | 0.4109 | 17.1 | 14.3
7 | PERIPH & CRANIAL NERVE & OTHER NERV SYST PROC W CC | 1.2119 | 36.2 | 30.2
8 | ² PERIPH & CRANIAL NERVE & OTHER NERV SYST PROC W/O CC | 0.5655 | 21.2 | 17.7
9 | SPINAL DISORDERS & INJURIES | 1.0474 | 34.0 | 28.3
10 | NERVOUS SYSTEM NEOPLASMS W CC | 0.6992 | 22.1 | 18.4
11 | ² NERVOUS SYSTEM NEOPLASMS W/O CC | 0.5655 | 21.2 | 17.7
12 | DEGENERATIVE NERVOUS SYSTEM DISORDERS | 0.6811 | 25.2 | 21.0
13 | MULTIPLE SCLEROSIS & CEREBELLAR ATAXIA | 0.6043 | 23.1 | 19.3
14 | INTERCRANIAL HEMORRHAGE OR STROKE WITH INFARCT | 0.6798 | 24.8 | 20.7
15 | NONSPECIFIC CVA & PRECEREBRAL OCCULUSION WITHOUT INFARCT | 0.7779 | 26.1 | 21.8
16 | NONSPECIFIC CEREBROVASCULAR DISORDERS W CC | 0.6960 | 23.1 | 19.3
17 | ¹ NONSPECIFIC CEREBROVASCULAR DISORDERS W/O CC | 0.4109 | 17.1 | 14.3
18 | CRANIAL & PERIPHERAL NERVE DISORDERS W CC | 0.7397 | 25.2 | 21.0
19 | CRANIAL & PERIPHERAL NERVE DISORDERS W/O CC | 0.4526 | 19.5 | 16.3
20 | NERVOUS SYSTEM INFECTION EXCEPT VIRAL MENINGITIS | 0.9141 | 24.9 | 20.8
21 | ³ VIRAL MENINGITIS | 0.7858 | 25.2 | 21.0
22 | ³ HYPERTENSIVE ENCEPHALOPATHY | 0.7858 | 25.2 | 21.0
23 | NONTRAUMATIC STUPOR & COMA | 1.0124 | 29.4 | 24.5
24 | SEIZURE & HEADACHE AGE >17 W CC | 0.7194 | 23.8 | 19.8
25 | ² SEIZURE & HEADACHE AGE >17 W/O CC | 0.5655 | 21.2 | 17.7
26 | ⁷ SEIZURE & HEADACHE AGE 0-17 | 0.5655 | 21.1 | 17.6
27 | TRAUMATIC STUPOR & COMA, COMA >1 HR | 1.0016 | 30.6 | 25.5
28 | TRAUMATIC STUPOR & COMA, COMA >1 HR AGE >17 W CC | 0.8052 | 25.8 | 21.5
29 | ¹ TRAUMATIC STUPOR & COMA, COMA >1 HR AGE >17 W/O CC | 0.4109 | 17.1 | 14.3
30 | ⁷ TRAUMATIC STUPOR & COMA, COMA <1 HR AGE 0-17 | 0.4109 | 17.1 | 14.3
31 | ¹ CONCUSSION AGE >17 W CC | 0.4109 | 17.1 | 14.3
32 | ⁷ CONCUSSION AGE >17 W/O CC | 0.5655 | 21.1 | 17.6
33 | ⁷ CONCUSSION AGE 0-17 | 0.5655 | 21.1 | 17.6
34 | OTHER DISORDERS OF NERVOUS SYSTEM W CC | 0.7057 | 23.4 | 19.5
35 | OTHER DISORDERS OF NERVOUS SYSTEM W/O CC | 0.5093 | 21.1 | 17.6
36 | ⁷ RETINAL PROCEDURES | 0.5655 | 21.1 | 17.6
37 | ⁷ ORBITAL PROCEDURES | 0.5655 | 21.1 | 17.6
38 | ⁷ PRIMARY IRIS PROCEDURES | 0.5655 | 21.1 | 17.6
39 | ⁷ LENS PROCEDURES WITH OR WITHOUT VITRECTOMY | 0.5655 | 21.1 | 17.6
40 | ⁷ EXTRAOCULAR PROCEDURES EXCEPT ORBIT AGE >17 | 0.5655 | 21.1 | 17.6
41 | ⁷ EXTRAOCULAR PROCEDURES EXCEPT ORBIT AGE 0-17 | 0.5655 | 21.1 | 17.6
42 | ⁷ INTRAOCULAR PROCEDURES EXCEPT RETINA, IRIS & LENS | 0.5655 | 21.1 | 17.6
43 | ⁷ HYPHEMA | 0.4109 | 17.1 | 14.3
44 | ³ ACUTE MAJOR EYE INFECTIONS | 0.7858 | 25.2 | 21.0
45 | ¹ NEUROLOGICAL EYE DISORDERS | 0.4109 | 17.1 | 14.3
46 | ² OTHER DISORDERS OF THE EYE AGE >17 W CC | 0.5655 | 21.2 | 17.7
47 | ⁷ OTHER DISORDERS OF THE EYE AGE >17 W/O CC | 0.4109 | 17.1 | 14.3
48 | ⁷ OTHER DISORDERS OF THE EYE AGE 0-17 | 0.4109 | 17.1 | 14.3
49 | ⁷ MAJOR HEAD & NECK PROCEDURES | 1.1162 | 29.5 | 24.6
50 | ⁷ SIALOADENECTOMY | 1.1162 | 29.5 | 24.6
51 | ⁷ SALIVARY GLAND PROCEDURES EXCEPT SIALOADENECTOMY | 1.1162 | 29.5 | 24.6
52 | ⁷ CLEFT LIP & PALATE REPAIR | 1.1162 | 29.5 | 24.6
53 | ⁷ SINUS & MASTOID PROCEDURES AGE >17 | 1.1162 | 29.5 | 24.6
54 | ⁷ SINUS & MASTOID PROCEDURES AGE 0-17 | 1.1162 | 29.5 | 24.6
55 | ⁴ MISCELLANEOUS EAR, NOSE, MOUTH & THROAT PROCEDURES | 1.1162 | 29.5 | 24.6
56 | ⁷ RHINOPLASTY | 1.1162 | 29.5 | 24.6
57 | ⁷ T&A PROC, EXCEPT TONSILLECTOMY &/OR ADENOIDECTOMY ONLY, AGE >17 | 0.4109 | 17.1 | 14.3
58 | ⁷ T&A PROC, EXCEPT TONSILLECTOMY &/OR ADENOIDECTOMY ONLY, AGE 0-17 | 0.4109 | 17.1 | 14.3
59 | ⁷ TONSILLECTOMY &/OR ADENOIDECTOMY ONLY, AGE >17 | 0.4109 | 17.1 | 14.3
60 | ⁷ TONSILLECTOMY &/OR ADENOIDECTOMY ONLY, AGE 0-17 | 0.4109 | 17.1 | 14.3
61 | ⁷ MYRINGOTOMY W TUBE INSERTION AGE >17 | 0.4109 | 17.1 | 14.3
62 | ⁷ MYRINGOTOMY W TUBE INSERTION AGE 0-17 | 0.4109 | 17.1 | 14.3
63 | ⁴ OTHER EAR, NOSE, MOUTH & THROAT O.R. PROCEDURES | 1.1162 | 29.5 | 24.6
64 | EAR, NOSE, MOUTH & THROAT MALIGNANCY | 1.1890 | 26.2 | 21.8
65 | ¹ DYSEQUILIBRIUM | 0.4109 | 17.1 | 14.3
66 | ⁷ EPISTAXIS | 0.4109 | 17.1 | 14.3
67 | ³ EPIGLOTTITIS | 0.7858 | 25.2 | 21.0
68 | OTITIS MEDIA & URI AGE >17 W CC | 0.6238 | 20.3 | 16.9
69 | ¹ OTITIS MEDIA & URI AGE >17 W/O CC | 0.4109 | 17.1 | 14.3
70 | ⁷ OTITIS MEDIA & URI AGE 0-17 | 0.4109 | 17.1 | 14.3
71 | ⁷ LARYNGOTRACHEITIS | 0.5655 | 21.1 | 17.6
72 | ³ NASAL TRAUMA & DEFORMITY | 0.7858 | 25.2 | 21.0
73 | ⁷ OTHER EAR, NOSE, MOUTH & THROAT DIAGNOSES AGE >17 | 0.7761 | 22.9 | 19.1
74 | ⁷ OTHER EAR, NOSE, MOUTH & THROAT DIAGNOSES AGE 0-17 | 0.4109 | 17.1 | 14.3
75 | MAJOR CHEST PROCEDURES | 2.1021 | 33.8 | 28.2
76 | OTHER RESP SYSTEM O.R. PROCEDURES W CC | 2.3766 | 42.2 | 35.2
77 | ² OTHER RESP SYSTEM O.R. PROCEDURES W/O CC | 0.5655 | 21.2 | 17.7
78 | PULMONARY EMBOLISM | 0.6774 | 22.6 | 18.8
79 | RESPIRATORY INFECTIONS & INFLAMMATIONS AGE >17 W CC | 0.8185 | 22.7 | 18.9
80 | RESPIRATORY INFECTIONS & INFLAMMATIONS AGE >17 W/O CC | 0.6565 | 20.9 | 17.4
81 | ⁷ RESPIRATORY INFECTIONS & INFLAMMATIONS AGE 0-17 | 0.4109 | 17.1 | 14.3
82 | RESPIRATORY NEOPLASMS | 0.8276 | 21.4 | 17.8
83 | ¹ MAJOR CHEST TRAUMA W CC | 0.4109 | 17.1 | 14.3
84 | ⁷ MAJOR CHEST TRAUMA W/O CC | 0.4109 | 17.1 | 14.3
85 | PLEURAL EFFUSION W CC | 0.6980 | 21.4 | 17.8
86 | ⁷ PLEURAL EFFUSION W/O CC | 0.4109 | 17.1 | 14.3
87 | PULMONARY EDEMA & RESPIRATORY FAILURE | 1.0305 | 24.8 | 20.7
88 | CHRONIC OBSTRUCTIVE PULMONARY DISEASE | 0.6417 | 19.3 | 16.1
89 | SIMPLE PNEUMONIA & PLEURISY AGE >17 W CC | 0.6826 | 20.6 | 17.2
90 | SIMPLE PNEUMONIA & PLEURISY AGE >17 W/O CC | .4981 | 17.8 | 14.8
91 | ⁷ SIMPLE PNEUMONIA & PLEURISY AGE 0-17 | 0.5655 | 21.1 | 17.6
92 | INTERSTITIAL LUNG DISEASE W CC | 0.6673 | 19.6 | 16.3
93 | ¹ INTERSTITIAL LUNG DISEASE W/O CC | 0.4109 | 17.1 | 14.3
94 | ⁸ PNEUMOTHORAX W CC | 0.6826 | 21.3 | 17.8
95 | ⁸ PNEUMOTHORAX W/O CC | 0.6826 | 21.3 | 17.8
96 | ⁸ BRONCHITIS & ASTHMA AGE >17 W CC | 0.6245 | 19.1 | 15.9
97 | ⁸ BRONCHITIS & ASTHMA AGE >17 W/O CC | 0.6245 | 19.1 | 15.9
98 | ⁷ BRONCHITIS & ASTHMA AGE 0-17 | 0.5655 | 21.1 | 17.6
99 | RESPIRATORY SIGNS & SYMPTOMS W CC | 0.9396 | 24.5 | 20.4
100 | ³ RESPIRATORY SIGNS & SYMPTOMS W/O CC | 0.7858 | 25.2 | 21.0
101 | OTHER RESPIRATORY SYSTEM DIAGNOSES W CC | 0.8165 | 22.2 | 18.5
102 | ¹ OTHER RESPIRATORY SYSTEM DIAGNOSES W/O CC | 0.4109 | 17.1 | 14.3
103 | 6HEART TRANSPLANT OR IMPLANT OF HEART ASSIST SYSTEM | 0.0000 | 0.0 | 0.0
104 | ⁷ CARDIAC VALVE & OTHER MAJOR CARDIOTHORACIC PROC W CARDIAC CATH | 1.1162 | 29.5 | 24.6
105 | ⁷ CARDIAC VALVE & OTHER MAJOR CARDIOTHORACIC PROC W/O CARDIAC CATH | 1.1162 | 29.5 | 24.6
106 | ⁷ CORONARY BYPASS W PTCA | 1.1162 | 29.5 | 24.6
108 | ⁷ OTHER CARDIOTHORACIC PROCEDURES | 1.1162 | 29.5 | 24.6
110 | ⁴ MAJOR CARDIOVASCULAR PROCEDURES W CC | 1.1162 | 29.5 | 24.6
111 | ⁷ MAJOR CARDIOVASCULAR PROCEDURES W/O CC | 1.1162 | 29.5 | 24.6
113 | AMPUTATION FOR CIRC SYSTEM DISORDERS EXCEPT UPPER LIMB & TOE | 1.3939 | 35.8 | 29.8
114 | UPPER LIMB & TOE AMPUTATION FOR CIRC SYSTEM DISORDERS | 1.2598 | 33.0 | 27.5
117 | ³ CARDIAC PACEMAKER REVISION EXCEPT DEVICE REPLACEMENT | 0.7858 | 25.2 | 21.0
118 | ³ CARDIAC PACEMAKER DEVICE REPLACEMENT | 0.7858 | 25.2 | 21.0
119 | ³ VEIN LIGATION & STRIPPING | 0.7858 | 25.2 | 21.0
120 | OTHER CIRCULATORY SYSTEM O.R. PROCEDURES | 1.0891 | 31.3 | 26.1
121 | CIRCULATORY DISORDERS W AMI & MAJOR COMP, DISCHARGED ALIVE | 0.7517 | 22.6 | 18.8
122 | ²CIRCULATORY DISORDERS W AMI W/O MAJOR COMP, DISCHARGED ALIVE | 0.5655 | 21.2 | 17.7
123 | CIRCULATORY DISORDERS W AMI, EXPIRED | 0.7900 | 17.0 | 14.2
124 | ⁴ CIRCULATORY DISORDERS EXCEPT AMI, W CARD CATH & COMPLEX DIAG | 1.1162 | 29.5 | 24.6
125 | ¹ CIRCULATORY DISORDERS EXCEPT AMI, W CARD CATH W/O COMPLEX DIAG | 0.4109 | 17.1 | 14.3
126 | ACUTE & SUBACUTE ENDOCARDITIS | 0.8925 | 26.3 | 21.9
127 | HEART FAILURE & SHOCK | 0.6854 | 21.2 | 17.7
128 | ² DEEP VEIN THROMBOPHLEBITIS | 0.5655 | 21.2 | 17.7
129 | ¹ CARDIAC ARREST, UNEXPLAINED | 0.4109 | 17.1 | 14.3
130 | PERIPHERAL VASCULAR DISORDERS W CC | 0.6488 | 22.8 | 19.0
131 | PERIPHERAL VASCULAR DISORDERS W/O CC | 0.5233 | 21.0 | 17.5
132 | ATHEROSCLEROSIS W CC | 0.6584 | 20.5 | 17.1
133 | ² ATHEROSCLEROSIS W/O CC | 0.5655 | 21.2 | 17.7
134 | HYPERTENSION | 0.4895 | 21.3 | 17.8
135 | CARDIAC CONGENITAL & VALVULAR DISORDERS AGE >17 W CC | 0.8015 | 23.9 | 19.9
136 | ¹ CARDIAC CONGENITAL & VALVULAR DISORDERS AGE >17 W/O CC | 0.4109 | 17.1 | 14.3
137 | ⁷ CARDIAC CONGENITAL & VALVULAR DISORDERS AGE 0-17 | 0.4109 | 17.1 | 14.3
138 | CARDIAC ARRHYTHMIA & CONDUCTION DISORDERS W CC | 0.6619 | 21.9 | 18.3
139 | ² CARDIAC ARRHYTHMIA & CONDUCTION DISORDERS W/O CC | 0.5655 | 21.2 | 17.7
140 | ² ANGINA PECTORIS | 0.5655 | 21.2 | 17.7
141 | ⁸ SYNCOPE & COLLAPSE W CC | 0.5918 | 22.1 | 18.4
142 | ⁸ SYNCOPE & COLLAPSE W/O CC | 0.5918 | 22.1 | 18.4
143 | ¹ CHEST PAIN | 0.4109 | 17.1 | 14.3
144 | OTHER CIRCULATORY SYSTEM DIAGNOSES W CC | 0.7725 | 22.1 | 18.4
145 | OTHER CIRCULATORY SYSTEM DIAGNOSES W/O CC | 0.4305 | 17.0 | 14.2
146 | ⁵ RECTAL RESECTION W CC | 1.6479 | 35.5 | 29.6
147 | ⁷ RECTAL RESECTION W/O CC | 1.6479 | 35.5 | 29.6
148 | MAJOR SMALL & LARGE BOWEL PROCEDURES W CC | 1.8374 | 34.2 | 28.5
149 | ⁷ MAJOR SMALL & LARGE BOWEL PROCEDURES W/O CC | 0.7858 | 25.2 | 21.0
150 | ⁵ PERITONEAL ADHESIOLYSIS W CC | 1.6479 | 35.5 | 29.6
151 | ⁷ PERITONEAL ADHESIOLYSIS W/O CC | 0.4109 | 17.1 | 14.3
152 | ⁵ MINOR SMALL & LARGE BOWEL PROCEDURES W CC | 1.6479 | 35.5 | 29.6
153 | ⁷ MINOR SMALL & LARGE BOWEL PROCEDURES W/O CC | 1.6479 | 35.5 | 29.6
154 | ⁵ STOMACH, ESOPHAGEAL & DUODENAL PROCEDURES AGE >17 W CC | 1.6479 | 35.5 | 29.6
155 | ⁷ STOMACH, ESOPHAGEAL & DUODENAL PROCEDURES AGE >17 W/O CC | 1.6479 | 35.5 | 29.6
156 | ⁷ STOMACH, ESOPHAGEAL & DUODENAL PROCEDURES AGE 0-17 | 1.6479 | 35.5 | 29.6
157 | ⁴ ANAL & STOMAL PROCEDURES W CC | 1.1162 | 29.5 | 24.6
158 | ⁷ ANAL & STOMAL PROCEDURES W/O CC | 1.1162 | 29.5 | 24.6
159 | ⁵ HERNIA PROCEDURES EXCEPT INGUINAL & FEMORAL AGE >17 W CC | 1.6479 | 35.5 | 29.6
160 | ¹ HERNIA PROCEDURES EXCEPT INGUINAL & FEMORAL AGE >17 W/O CC | 0.4109 | 17.1 | 14.3
161 | ⁷ INGUINAL & FEMORAL HERNIA PROCEDURES AGE >17 W CC | 0.4109 | 17.1 | 14.3
162 | ⁷ INGUINAL & FEMORAL HERNIA PROCEDURES AGE >17 W/O CC | 0.4109 | 17.1 | 14.3
163 | ⁷ HERNIA PROCEDURES AGE 0-17 | 0.4109 | 17.1 | 14.3
164 | ⁷ APPENDECTOMY W COMPLICATED PRINCIPAL DIAG W CC | 1.6479 | 35.5 | 29.6
165 | ⁷ APPENDECTOMY W COMPLICATED PRINCIPAL DIAG W/O CC | 1.6479 | 35.5 | 29.6
166 | ⁷ APPENDECTOMY W/O COMPLICATED PRINCIPAL DIAG W CC | 1.6479 | 35.5 | 29.6
167 | ⁷ APPENDECTOMY W/O COMPLICATED PRINCIPAL DIAG W/O CC | 1.6479 | 35.5 | 29.6
168 | ⁵ MOUTH PROCEDURES W CC | 1.6479 | 35.5 | 29.6
169 | ⁷ MOUTH PROCEDURES W/O CC | 0.5655 | 21.1 | 17.6
170 | OTHER DIGESTIVE SYSTEM O.R. PROCEDURES W CC | 1.6242 | 35.7 | 29.8
171 | ³ OTHER DIGESTIVE SYSTEM O.R. PROCEDURES W/O CC | 0.7858 | 25.2 | 21.0
172 | DIGESTIVE MALIGNANCY W CC | 0.8564 | 21.8 | 18.2
173 | ² DIGESTIVE MALIGNANCY W/O CC | 0.5655 | 21.2 | 17.7
174 | G.I. HEMORRHAGE W CC | 0.6886 | 22.7 | 18.9
175 | ² G.I. HEMORRHAGE W/O CC | 0.5655 | 21.2 | 17.7
176 | COMPLICATED PEPTIC ULCER | 0.9293 | 25.4 | 21.2
177 | ² UNCOMPLICATED PEPTIC ULCER W CC | 0.5655 | 21.2 | 17.7
178 | ⁷ UNCOMPLICATED PEPTIC ULCER W/O CC | 0.4109 | 17.1 | 14.3
179 | INFLAMMATORY BOWEL DISEASE | 0.8190 | 23.3 | 19.4
180 | G.I. OBSTRUCTION W CC | 0.9222 | 22.9 | 19.1
181 | ¹ G.I. OBSTRUCTION W/O CC | 0.4109 | 17.1 | 14.3
182 | ESOPHAGITIS, GASTROENT & MISC DIGEST DISORDERS AGE >17 W CC | 0.8044 | 22.5 | 18.8
183 | ESOPHAGITIS, GASTROENT & MISC DIGEST DISORDERS AGE >17 W/O CC | 0.4656 | 17.6 | 14.7
184 | ⁷ ESOPHAGITIS, GASTROENT & MISC DIGEST DISORDERS AGE 0-17 | 0.4109 | 17.1 | 14.3
185 | DENTAL & ORAL DIS EXCEPT EXTRACTIONS & RESTORATIONS, AGE >17 | 0.6611 | 23.2 | 19.3
186 | ⁷ DENTAL & ORAL DIS EXCEPT EXTRACTIONS & RESTORATIONS, AGE 0-17 | 0.5655 | 21.1 | 17.6
187 | ⁷ DENTAL EXTRACTIONS & RESTORATIONS | 0.5655 | 21.1 | 17.6
188 | OTHER DIGESTIVE SYSTEM DIAGNOSES AGE >17 W CC | 0.9485 | 24.1 | 20.1
189 | OTHER DIGESTIVE SYSTEM DIAGNOSES AGE >17 W/O CC | 0.5316 | 18.1 | 15.1
190 | ⁷ OTHER DIGESTIVE SYSTEM DIAGNOSES AGE 0-17 | 0.5655 | 21.1 | 17.6
191 | ⁵ PANCREAS, LIVER & SHUNT PROCEDURES W CC | 1.6479 | 35.5 | 29.6
192 | ⁷ PANCREAS, LIVER & SHUNT PROCEDURES W/O CC | 1.6479 | 35.5 | 29.6
193 | ⁵ BILIARY TRACT PROC EXCEPT ONLY CHOLECYST W OR W/O C.D.E. W CC | 1.6479 | 35.5 | 29.6
194 | ⁷ BILIARY TRACT PROC EXCEPT ONLY CHOLECYST W OR W/O C.D.E. W/O CC | 1.6479 | 35.5 | 29.6
195 | ⁵ CHOLECYSTECTOMY W C.D.E. W CC | 1.6479 | 35.5 | 29.6
196 | ⁷ CHOLECYSTECTOMY W C.D.E. W/O CC | 1.1162 | 29.5 | 24.6
197 | ⁴ CHOLECYSTECTOMY EXCEPT BY LAPAROSCOPE W/O C.D.E. W CC | 1.1162 | 29.5 | 24.6
198 | ⁷ CHOLECYSTECTOMY EXCEPT BY LAPAROSCOPE W/O C.D.E. W/O CC | 1.1162 | 29.5 | 24.6
199 | ³ HEPATOBILIARY DIAGNOSTIC PROCEDURE FOR MALIGNANCY | 0.7858 | 25.2 | 21.0
200 | ⁵ HEPATOBILIARY DIAGNOSTIC PROCEDURE FOR NON-MALIGNANCY | 1.6479 | 35.5 | 29.6
201 | OTHER HEPATOBILIARY OR PANCREAS O.R. PROCEDURES | 1.5988 | 28.8 | 24.0
202 | CIRRHOSIS & ALCOHOLIC HEPATITIS | 0.6038 | 20.2 | 16.8
203 | MALIGNANCY OF HEPATOBILIARY SYSTEM OR PANCREAS | 0.7053 | 19.4 | 16.2
204 | DISORDERS OF PANCREAS EXCEPT MALIGNANCY | 0.8882 | 22.1 | 18.4
205 | DISORDERS OF LIVER EXCEPT MALIG,CIRR,ALC HEPA W CC | 0.6990 | 23.1 | 19.3
206 | ² DISORDERS OF LIVER EXCEPT MALIG,CIRR,ALC HEPA W/O CC | 0.5655 | 21.2 | 17.7
207 | DISORDERS OF THE BILIARY TRACT W CC | 0.7310 | 21.5 | 17.9
208 | ¹ DISORDERS OF THE BILIARY TRACT W/O CC | 0.4109 | 17.1 | 14.3
210 | HIP & FEMUR PROCEDURES EXCEPT MAJOR JOINT AGE >17 W CC | 1.4809 | 41.9 | 34.9
211 | ⁷ HIP & FEMUR PROCEDURES EXCEPT MAJOR JOINT AGE >17 W/O CC | 1.6479 | 35.5 | 29.6
212 | ⁷ HIP & FEMUR PROCEDURES EXCEPT MAJOR JOINT AGE 0-17 | 1.6479 | 35.5 | 29.6
213 | AMPUTATION FOR MUSCULOSKELETAL SYSTEM & CONN TISSUE DISORDERS | 1.1780 | 33.4 | 27.8
216 | BIOPSIES OF MUSCULOSKELETAL SYSTEM & CONNECTIVE TISSUE | 1.2173 | 37.5 | 31.3
217 | WND DEBRID & SKN GRFT EXCEPT HAND,FOR MUSCSKELET & CONN TISS DIS | 1.2470 | 36.5 | 30.4
218 | ⁵ LOWER EXTREM & HUMER PROC EXCEPT HIP,FOOT,FEMUR AGE >17 W CC | 1.6479 | 35.5 | 29.6
219 | ⁷ LOWER EXTREM & HUMER PROC EXCEPT HIP,FOOT,FEMUR AGE >17 W/O CC | 1.6479 | 35.5 | 29.6
220 | ⁷ LOWER EXTREM & HUMER PROC EXCEPT HIP,FOOT,FEMUR AGE 0-17 | 1.6479 | 35.5 | 29.6
223 | ⁴ MAJOR SHOULDER/ELBOW PROC, OR OTHER UPPER EXTREMITY PROC W CC | 1.1162 | 29.5 | 24.6
224 | ¹ SHOULDER,ELBOW OR FOREARM PROC,EXC MAJOR JOINT PROC, W/O CC | 0.4109 | 17.1 | 14.3
225 | FOOT PROCEDURES | 0.9579 | 30.6 | 25.5
226 | SOFT TISSUE PROCEDURES W CC | 1.0653 | 34.3 | 28.6
227 | ³ SOFT TISSUE PROCEDURES W/O CC | 0.7858 | 25.2 | 21.0
228 | ³ MAJOR THUMB OR JOINT PROC,OR OTH HAND OR WRIST PROC W CC | 0.7858 | 25.2 | 21.0
229 | ⁷ HAND OR WRIST PROC, EXCEPT MAJOR JOINT PROC, W/O CC | 0.4109 | 17.1 | 14.3
230 | ⁵ LOCAL EXCISION & REMOVAL OF INT FIX DEVICES OF HIP & FEMUR | 1.6479 | 35.5 | 29.6
232 | ⁵ ARTHROSCOPY | 1.6479 | 35.5 | 29.6
233 | OTHER MUSCULOSKELET SYS & CONN TISS O.R. PROC W CC | 1.1794 | 32.4 | 27.0
234 | ⁷ OTHER MUSCULOSKELET SYS & CONN TISS O.R. PROC W/O CC | 0.4109 | 17.1 | 14.3
235 | ³ FRACTURES OF FEMUR | 0.7858 | 25.2 | 21.0
236 | FRACTURES OF HIP & PELVIS | 0.6874 | 28.9 | 24.1
237 | ¹ SPRAINS, STRAINS, & DISLOCATIONS OF HIP, PELVIS & THIGH | 0.4109 | 17.1 | 14.3
238 | OSTEOMYELITIS | 0.8602 | 28.4 | 23.7
239 | PATHOLOGICAL FRACTURES & MUSCULOSKELETAL & CONN TISS MALIGNANCY | 0.6059 | 20.5 | 17.1
240 | CONNECTIVE TISSUE DISORDERS W CC | 0.7178 | 22.4 | 18.7
241 | ¹ CONNECTIVE TISSUE DISORDERS W/O CC | 0.4109 | 17.1 | 14.3
242 | SEPTIC ARTHRITIS | 0.7699 | 26.1 | 21.8
243 | MEDICAL BACK PROBLEMS | 0.6021 | 22.2 | 18.5
244 | BONE DISEASES & SPECIFIC ARTHROPATHIES W CC | 0.5541 | 22.0 | 18.3
245 | BONE DISEASES & SPECIFIC ARTHROPATHIES W/O CC | 0.4464 | 19.4 | 16.2
246 | ² NON-SPECIFIC ARTHROPATHIES | 0.5655 | 21.2 | 17.7
247 | SIGNS & SYMPTOMS OF MUSCULOSKELETAL SYSTEM & CONN TISSUE | 0.4591 | 17.6 | 14.7
248 | TENDONITIS, MYOSITIS & BURSITIS | 0.7341 | 23.2 | 19.3
249 | AFTERCARE, MUSCULOSKELETAL SYSTEM & CONNECTIVE TISSUE | 0.6387 | 24.0 | 20.0
250 | ¹ FX, SPRN, STRN & DISL OF FOREARM, HAND, FOOT AGE >17 W CC | 0.4109 | 17.1 | 14.3
251 | ⁷ FX, SPRN, STRN & DISL OF FOREARM, HAND, FOOT AGE >17 W/O CC | 0.4109 | 17.1 | 14.3
252 | ⁷ FX, SPRN, STRN & DISL OF FOREARM, HAND, FOOT AGE 0-17 | 0.5655 | 21.1 | 17.6
253 | FX, SPRN, STRN & DISL OF UPARM,LOWLEG EX FOOT AGE >17 W CC | 0.5636 | 24.0 | 20.0
254 | ¹ FX, SPRN, STRN & DISL OF UPARM,LOWLEG EX FOOT AGE >17 W/O CC | 0.4109 | 17.1 | 14.3
255 | ⁷ FX, SPRN, STRN & DISL OF UPARM,LOWLEG EX FOOT AGE 0-17 | 0.5655 | 21.1 | 17.6
256 | OTHER MUSCULOSKELETAL SYSTEM & CONNECTIVE TISSUE DIAGNOSES | 0.7208 | 23.7 | 19.8
257 | ⁴ TOTAL MASTECTOMY FOR MALIGNANCY W CC | 1.1162 | 29.5 | 24.6
258 | ⁷ TOTAL MASTECTOMY FOR MALIGNANCY W/O CC | 0.7858 | 25.2 | 21.0
259 | ³ SUBTOTAL MASTECTOMY FOR MALIGNANCY W CC | 0.7858 | 25.2 | 21.0
260 | ⁷ SUBTOTAL MASTECTOMY FOR MALIGNANCY W/O CC | 0.7858 | 25.2 | 21.0
261 | ² BREAST PROC FOR NON-MALIGNANCY EXCEPT BIOPSY & LOCAL EXCISION | 0.5655 | 21.2 | 17.7
262 | ⁴ BREAST BIOPSY & LOCAL EXCISION FOR NON- MALIGNANCY | 1.1162 | 29.5 | 24.6
263 | SKIN GRAFT &/OR DEBRID FOR SKN ULCER OR CELLULITIS W CC | 1.2749 | 38.0 | 31.7
264 | SKIN GRAFT &/OR DEBRID FOR SKN ULCER OR CELLULITIS W/O CC | 0.8524 | 29.9 | 24.9
265 | SKIN GRAFT &/OR DEBRID EXCEPT FOR SKIN ULCER OR CELLULITIS W CC | 1.1068 | 30.2 | 25.2
266 | ³ SKIN GRAFT &/OR DEBRID EXCEPT FOR SKIN ULCER OR CELLULITIS W/O CC | 0.7858 | 25.2 | 21.0
267 | ⁷ PERIANAL & PILONIDAL PROCEDURES | 0.7858 | 25.2 | 21.0
268 | ⁴ SKIN, SUBCUTANEOUS TISSUE & BREAST PLASTIC PROCEDURES | 1.1162 | 29.5 | 24.6
269 | OTHER SKIN, SUBCUT TISS & BREAST PROC W CC | 1.2137 | 34.7 | 28.9
270 | ³ OTHER SKIN, SUBCUT TISS & BREAST PROC W/O CC | 0.7858 | 25.2 | 21.0
271 | SKIN ULCERS | 0.8290 | 26.8 | 22.3
272 | MAJOR SKIN DISORDERS W CC | 0.6576 | 23.1 | 19.3
273 | ¹ MAJOR SKIN DISORDERS W/O CC | 0.4109 | 17.1 | 14.3
274 | MALIGNANT BREAST DISORDERS W CC | 0.7277 | 21.8 | 18.2
275 | ⁷ MALIGNANT BREAST DISORDERS W/O CC | 0.7858 | 25.2 | 21.0
276 | ² NON-MALIGANT BREAST DISORDERS | 0.5655 | 21.2 | 17.7
277 | CELLULITIS AGE >17 W CC | 0.6087 | 20.8 | 17.3
278 | CELLULITIS AGE >17 W/O CC | 0.4243 | 18.0 | 15.0
279 | ⁷ CELLULITIS AGE 0-17 | 0.4109 | 17.1 | 14.3
280 | TRAUMA TO THE SKIN, SUBCUT TISS & BREAST AGE >17 W CC | 0.6981 | 23.9 | 19.9
281 | ² TRAUMA TO THE SKIN, SUBCUT TISS & BREAST AGE >17 W/O CC | 0.5655 | 21.2 | 17.7
282 | ⁷ TRAUMA TO THE SKIN, SUBCUT TISS & BREAST AGE 0-17 | 0.5655 | 21.1 | 17.6
283 | MINOR SKIN DISORDERS W CC | 0.6946 | 23.1 | 19.3
284 | ² MINOR SKIN DISORDERS W/O CC | 0.5655 | 21.2 | 17.7
285 | AMPUTAT OF LOWER LIMB FOR ENDOCRINE,NUTRIT,& METABOL DISORDERS | 1.2354 | 31.3 | 26.1
286 | ⁷ ADRENAL & PITUITARY PROCEDURES | 1.1162 | 29.5 | 24.6
287 | SKIN GRAFTS & WOUND DEBRID FOR ENDOC, NUTRIT & METAB DISORDERS | 1.0502 | 33.0 | 27.5
288 | 4O.R. PROCEDURES FOR OBESITY | 1.1162 | 29.5 | 24.6
289 | ⁷ PARATHYROID PROCEDURES | 1.1162 | 29.5 | 24.6
290 | ⁷ THYROID PROCEDURES | 1.1162 | 29.5 | 24.6
291 | ⁷ THYROGLOSSAL PROCEDURES | 1.1162 | 29.5 | 24.6
292 | ⁸ OTHER ENDOCRINE, NUTRIT & METAB O.R. PROC W CC | 1.1673 | 31.9 | 26.6
293 | ⁸ OTHER ENDOCRINE, NUTRIT & METAB O.R. PROC W/O CC | 1.1673 | 31.9 | 26.6
294 | DIABETES AGE >35 | 0.6986 | 23.8 | 19.8
295 | ² DIABETES AGE 0-35 | 0.5655 | 21.2 | 17.7
296 | NUTRITIONAL & MISC METABOLIC DISORDERS AGE >17 W CC | 0.7114 | 22.3 | 18.6
297 | NUTRITIONAL & MISC METABOLIC DISORDERS AGE >17 W/O CC | 0.4609 | 19.3 | 16.1
298 | ⁷ NUTRITIONAL & MISC METABOLIC DISORDERS AGE 0-17 | 0.4109 | 17.1 | 14.3
299 | ³ INBORN ERRORS OF METABOLISM | 0.7858 | 25.2 | 21.0
300 | DENDOCRINE DISORDERS W CC | 0.7053 | 23.7 | 19.8
301 | ² ENDOCRINE DISORDERS W/O CC | 0.5655 | 21.2 | 17.7
302 | ⁶ KIDNEY TRANSPLANT | 0.0000 | 0.0 | 0.0
303 | ⁷ KIDNEY,URETER & MAJOR BLADDER PROCEDURES FOR NEOPLASM | 0.7858 | 25.2 | 21.0
304 | ⁵ KIDNEY,URETER & MAJOR BLADDER PROC FOR NON-NEOPL W CC | 1.6479 | 35.5 | 29.6
305 | ⁷ KIDNEY,URETER & MAJOR BLADDER PROC FOR NON-NEOPL W/O CC | 0.7858 | 25.2 | 21.0
306 | ⁴ PROSTATECTOMY W CC | 1.1162 | 29.5 | 24.6
307 | ⁷ PROSTATECTOMY W/O CC | 1.1162 | 29.5 | 24.6
308 | ⁴ MINOR BLADDER PROCEDURES W CC | 1.1162 | 29.5 | 24.6
309 | ⁷ MINOR BLADDER PROCEDURES W/O CC | 1.1162 | 29.5 | 24.6
310 | ⁴ TRANSURETHRAL PROCEDURES W CC | 1.1162 | 29.5 | 24.6
311 | ⁷ TRANSURETHRAL PROCEDURES W/O CC | 1.1162 | 29.5 | 24.6
312 | ³ URETHRAL PROCEDURES, AGE >17 W CC | 0.7858 | 25.2 | 21.0
313 | ⁷ URETHRAL PROCEDURES, AGE >17 W/O CC | 0.7858 | 25.2 | 21.0
314 | ⁷ URETHRAL PROCEDURES, AGE 0-17 | 0.7858 | 25.2 | 21.0
315 | OTHER KIDNEY & URINARY TRACT O.R. PROCEDURES | 1.3823 | 33.4 | 27.8
316 | RENAL FAILURE | 0.8342 | 22.9 | 19.1
317 | ADMIT FOR RENAL DIALYSIS | 0.9186 | 24.3 | 20.3
318 | KIDNEY & URINARY TRACT NEOPLASMS W CC | 0.7713 | 21.3 | 17.8
319 | ⁷ KIDNEY & URINARY TRACT NEOPLASMS W/O CC | 0.7858 | 25.2 | 21.0
320 | KIDNEY & URINARY TRACT INFECTIONS AGE >17 W CC | 0.6181 | 21.6 | 18.0
321 | KIDNEY & URINARY TRACT INFECTIONS AGE >17 W/O CC | 0.4478 | 18.5 | 15.4
322 | ⁷ KIDNEY & URINARY TRACT INFECTIONS AGE 0- 17 | 0.4109 | 17.1 | 14.3
323 | ¹ URINARY STONES W CC, &/OR ESW LITHOTRIPSY | 0.4109 | 17.1 | 14.3
324 | ¹ URINARY STONES W/O CC | 0.4109 | 17.1 | 14.3
325 | ² KIDNEY & URINARY TRACT SIGNS & SYMPTOMS AGE >17 W CC | 0.5655 | 21.2 | 17.7
326 | ⁷ KIDNEY & URINARY TRACT SIGNS & SYMPTOMS AGE >17 W/O CC | 0.4109 | 17.1 | 14.3
327 | ⁷ KIDNEY & URINARY TRACT SIGNS & SYMPTOMS AGE 0-17 | 0.4109 | 17.1 | 14.3
328 | ⁷ URETHRAL STRICTURE AGE >17 W CC | 0.5655 | 21.1 | 17.6
329 | ⁷ URETHRAL STRICTURE AGE >17 W/O CC | 0.5655 | 21.1 | 17.6
330 | ⁷ URETHRAL STRICTURE AGE 0-17 | 0.5655 | 21.1 | 17.6
331 | OTHER KIDNEY & URINARY TRACT DIAGNOSES AGE >17 W CC | 0.7776 | 22.5 | 18.8
332 | ¹ OTHER KIDNEY & URINARY TRACT DIAGNOSES AGE >17 W/O CC | 0.4109 | 17.1 | 14.3
333 | ⁷ OTHER KIDNEY & URINARY TRACT DIAGNOSES AGE 0-17 | 0.4109 | 17.1 | 14.3
334 | ⁷ MAJOR MALE PELVIC PROCEDURES W CC | 0.4109 | 17.1 | 14.3
335 | ¹ MAJOR MALE PELVIC PROCEDURES W/O CC | 0.4109 | 17.1 | 14.3
336 | ⁴ TRANSURETHRAL PROSTATECTOMY W CC | 1.1162 | 29.5 | 24.6
337 | ⁷ TRANSURETHRAL PROSTATECTOMY W/O CC | 1.1162 | 29.5 | 24.6
338 | ³ TESTES PROCEDURES, FOR MALIGNANCY | 0.7858 | 25.2 | 21.0
339 | ³ TESTES PROCEDURES, NON-MALIGNANCY AGE >17 | 0.7858 | 25.2 | 21.0
340 | ⁷ TESTES PROCEDURES, NON-MALIGNANCY AGE 0-17 | 0.7858 | 25.2 | 21.0
341 | ⁵ PENIS PROCEDURES | 1.6479 | 35.5 | 29.6
342 | ⁷ CIRCUMCISION AGE >17 | 0.7858 | 25.2 | 21.0
343 | ⁷ CIRCUMCISION AGE 0-17 | 0.7858 | 25.2 | 21.0
344 | ³ OTHER MALE REPRODUCTIVE SYSTEM O.R. PROCEDURES FOR MALIGNANCY | 0.7858 | 25.2 | 21.0
345 | ⁴ OTHER MALE REPRODUCTIVE SYSTEM O.R. PROC EXCEPT FOR MALIGNANCY | 1.1162 | 29.5 | 24.6
346 | ³ MALIGNANCY, MALE REPRODUCTIVE SYSTEM, W CC | 0.7858 | 25.2 | 21.0
347 | ¹ MALIGNANCY, MALE REPRODUCTIVE SYSTEM, W/O CC | 0.4109 | 17.1 | 14.3
348 | ² BENIGN PROSTATIC HYPERTROPHY W CC | 0.5655 | 21.2 | 17.7
349 | ⁷ BENIGN PROSTATIC HYPERTROPHY W/O CC | 0.7858 | 25.2 | 21.0
350 | INFLAMMATION OF THE MALE REPRODUCTIVE SYSTEM | 0.5630 | 21.0 | 17.5
351 | ⁷ STERILIZATION, MALE | 0.7858 | 25.2 | 21.0
352 | OTHER MALE REPRODUCTIVE SYSTEM DIAGNOSES | 0.8138 | 27.1 | 22.6
353 | ⁷ PELVIC EVISCERATION, RADICAL HYSTERECTOMY & RADICAL VULVECTOMY | 1.1162 | 29.5 | 24.6
354 | ⁷ UTERINE,ADNEXA PROC FOR NON-OVARIAN/ADNEXAL MALIG W CC | 1.1162 | 29.5 | 24.6
355 | ⁷ UTERINE,ADNEXA PROC FOR NON-OVARIAN/ADNEXAL MALIG W/O CC | 1.1162 | 29.5 | 24.6
356 | ⁷ FEMALE REPRODUCTIVE SYSTEM RECONSTRUCTIVE PROCEDURES | 1.1162 | 29.5 | 24.6
357 | ⁷ UTERINE & ADNEXA PROC FOR OVARIAN OR ADNEXAL MALIGNANCY | 1.1162 | 29.5 | 24.6
358 | ⁷ UTERINE & ADNEXA PROC FOR NON-MALIGNANCY W CC | 1.1162 | 29.5 | 24.6
359 | ⁷ UTERINE & ADNEXA PROC FOR NON-MALIGNANCY W/O CC | 1.1162 | 29.5 | 24.6
360 | ⁷ VAGINA, CERVIX & VULVA PROCEDURES | 1.1162 | 29.5 | 24.6
361 | ⁷ LAPAROSCOPY & INCISIONAL TUBAL INTERRUPTION | 0.4109 | 17.1 | 14.3
362 | ⁷ ENDOSCOPIC TUBAL INTERRUPTION | 0.4109 | 17.1 | 14.3
363 | ⁷ D&C, CONIZATION & RADIO-IMPLANT, FOR MALIGNANCY | 0.4109 | 17.1 | 14.3
364 | ⁷ D&C, CONIZATION EXCEPT FOR MALIGNANCY | 0.4109 | 17.1 | 14.3
365 | ⁴ OTHER FEMALE REPRODUCTIVE SYSTEM O.R. PROCEDURES | 1.1162 | 29.5 | 24.6
366 | MALIGNANCY, FEMALE REPRODUCTIVE SYSTEM W CC | 0.9119 | 21.6 | 18.0
367 | ¹ MALIGNANCY, FEMALE REPRODUCTIVE SYSTEM W/O CC | 0.4109 | 17.1 | 14.3
368 | INFECTIONS, FEMALE REPRODUCTIVE SYSTEM | 0.7859 | 21.3 | 17.8
369 | ³ MENSTRUAL & OTHER FEMALE REPRODUCTIVE SYSTEM DISORDERS | 0.7858 | 25.2 | 21.0
370 | ⁷ CESAREAN SECTION W CC | 0.4109 | 17.1 | 14.3
371 | ⁷ CESAREAN SECTION W/O CC | 0.4109 | 17.1 | 14.3
372 | ⁷ VAGINAL DELIVERY W COMPLICATING DIAGNOSES | 0.4109 | 17.1 | 14.3
373 | ⁷ VAGINAL DELIVERY W/O COMPLICATING DIAGNOSES | 0.4109 | 17.1 | 14.3
374 | ⁷ VAGINAL DELIVERY W STERILIZATION &/OR D&C | 0.4109 | 17.1 | 14.3
375 | ⁷ VAGINAL DELIVERY W O.R. PROC EXCEPT STERIL &/OR D&C | 0.4109 | 17.1 | 14.3
376 | ⁴ POSTPARTUM & POST ABORTION DIAGNOSES W/O O.R. PROCEDURE | 1.1162 | 29.5 | 24.6
377 | ⁷ POSTPARTUM & POST ABORTION DIAGNOSES W O.R. PROCEDURE | 0.4109 | 17.1 | 14.3
378 | ⁷ ECTOPIC PREGNANCY | 0.4109 | 17.1 | 14.3
379 | ⁷ THREATENED ABORTION | 0.4109 | 17.1 | 14.3
380 | ⁷ ABORTION W/O D&C | 0.4109 | 17.1 | 14.3
381 | ⁷ ABORTION W D&C, ASPIRATION CURETTAGE OR HYSTEROTOMY | 0.4109 | 17.1 | 14.3
382 | ⁷ FALSE LABOR | 0.4109 | 17.1 | 14.3
383 | ¹ OTHER ANTEPARTUM DIAGNOSES W MEDICAL COMPLICATIONS | 0.4109 | 17.1 | 14.3
384 | ⁷ OTHER ANTEPARTUM DIAGNOSES W/O MEDICAL COMPLICATIONS | 0.4109 | 17.1 | 14.3
385 | ⁷ NEONATES, DIED OR TRANSFERRED TO ANOTHER ACUTE CARE FACILITY | 0.4109 | 17.1 | 14.3
386 | ⁷ EXTREME IMMATURITY | 0.4109 | 17.1 | 14.3
387 | ⁷ PREMATURITY W MAJOR PROBLEMS | 0.4109 | 17.1 | 14.3
388 | ⁷ PREMATURITY W/O MAJOR PROBLEMS | 0.4109 | 17.1 | 14.3
389 | ⁷ FULL TERM NEONATE W MAJOR PROBLEMS | 0.4109 | 17.1 | 14.3
390 | ⁷ NEONATE W OTHER SIGNIFICANT PROBLEMS | 0.4109 | 17.1 | 14.3
391 | ⁷ NORMAL NEWBORN | 0.4109 | 17.1 | 14.3
392 | ⁷ SPLENECTOMY AGE >17 | 1.1162 | 29.5 | 24.6
393 | ⁷ SPLENECTOMY AGE 0-17 | 1.1162 | 29.5 | 24.6
394 | ⁴ OTHER O.R. PROCEDURES OF THE BLOOD AND BLOOD FORMING ORGANS | 1.1162 | 29.5 | 24.6
395 | RED BLOOD CELL DISORDERS AGE >17 | 0.6736 | 21.4 | 17.8
396 | ⁷RED BLOOD CELL DISORDERS AGE 0-17 | 0.4109 | 17.1 | 14.3
397 | COAGULATION DISORDERS | 0.8331 | 20.4 | 17.0
398 | RETICULOENDOTHELIAL & IMMUNITY DISORDERS W CC | 0.6890 | 21.0 | 17.5
399 | ¹ RETICULOENDOTHELIAL & IMMUNITY DISORDERS W/O CC | 0.4109 | 17.1 | 14.3
401 | ⁴ LYMPHOMA & NON-ACUTE LEUKEMIA W OTHER O.R. PROC W CC | 1.1162 | 29.5 | 24.6
402 | ⁷ LYMPHOMA & NON-ACUTE LEUKEMIA W OTHER O.R. PROC W/O CC | 0.5655 | 21.1 | 17.6
403 | LYMPHOMA & NON-ACUTE LEUKEMIA W CC | 0.8776 | 23.7 | 19.8
404 | ³ LYMPHOMA & NON-ACUTE LEUKEMIA W/O CC | 0.7858 | 25.2 | 21.0
405 | ⁷ ACUTE LEUKEMIA W/O MAJOR O.R. PROCEDURE AGE 0-17 | 0.7858 | 25.2 | 21.0
406 | ⁵ MYELOPROLIF DISORD OR POORLY DIFF NEOPL W MAJ O.R.PROC W CC | 1.6479 | 35.5 | 29.6
407 | ⁷ MYELOPROLIF DISORD OR POORLY DIFF NEOPL W MAJ O.R.PROC W/O CC | 1.1162 | 29.5 | 24.6
408 | ⁴ MYELOPROLIF DISORD OR POORLY DIFF NEOPL W OTHER O.R.PROC | 1.1162 | 29.5 | 24.6
409 | RADIOTHERAPY | 0.8417 | 23.2 | 19.3
410 | CHEMOTHERAPY W/O ACUTE LEUKEMIA AS SECONDARY DIAGNOSIS | 1.2412 | 28.5 | 23.8
411 | ⁷ HISTORY OF MALIGNANCY W/O ENDOSCOPY | 0.5655 | 21.1 | 17.6
412 | ⁷ HISTORY OF MALIGNANCY W ENDOSCOPY | 0.5655 | 21.1 | 17.6
413 | OTHER MYELOPROLIF DIS OR POORLY DIFF NEOPL DIAG W CC | 0.8476 | 21.4 | 17.8
414 | ³ OTHER MYELOPROLIF DIS OR POORLY DIFF NEOPL DIAG W/O CC | 0.7858 | 25.2 | 21.0
415 | O.R. PROCEDURE FOR INFECTIOUS & PARASITIC DISEASES | 1.3974 | 35.4 | 29.5
416 | SEPTICEMIA AGE >17 | 0.8081 | 23.0 | 19.2
417 | ⁷ SEPTICEMIA AGE 0-17 | 0.7858 | 25.2 | 21.0
418 | POSTOPERATIVE & POST-TRAUMATIC INFECTIONS | 0.7961 | 24.0 | 20.0
419 | ² FEVER OF UNKNOWN ORIGIN AGE >17 W CC | 0.5655 | 21.2 | 17.7
420 | ² FEVER OF UNKNOWN ORIGIN AGE >17 W/O CC | 0.5655 | 21.2 | 17.7
421 | VIRAL ILLNESS AGE >17 | 0.7080 | 20.4 | 17.0
422 | ⁷ VIRAL ILLNESS & FEVER OF UNKNOWN ORIGIN AGE 0-17 | 0.4109 | 17.1 | 14.3
423 | OTHER INFECTIOUS & PARASITIC DISEASES DIAGNOSES | 1.0463 | 23.2 | 19.3
424 | ³ O.R. PROCEDURE W PRINCIPAL DIAGNOSES OF MENTAL ILLNESS | 0.7858 | 25.2 | 21.0
425 | ¹ ACUTE ADJUSTMENT REACTION & PSYCHOLOGICAL DYSFUNCTION | 0.4109 | 17.1 | 14.3
426 | DEPRESSIVE NEUROSES | 0.4007 | 22.5 | 18.8
427 | ² NEUROSES EXCEPT DEPRESSIVE | 0.5655 | 21.2 | 17.7
428 | DISORDERS OF PERSONALITY & IMPULSE CONTROL | 0.5164 | 24.5 | 20.4
429 | ORGANIC DISTURBANCES & MENTAL RETARDATION | 0.5281 | 23.9 | 19.9
430 | PSYCHOSES | 0.3970 | 23.0 | 19.2
431 | ² CHILDHOOD MENTAL DISORDERS | 0.5655 | 21.2 | 17.7
432 | ¹ OTHER MENTAL DISORDER DIAGNOSES | 0.4109 | 17.1 | 14.3
433 | ⁷ ALCOHOL/DRUG ABUSE OR DEPENDENCE, LEFT AMA | 0.4109 | 17.1 | 14.3
439 | SKIN GRAFTS FOR INJURIES | 1.2390 | 35.9 | 29.9
440 | WOUND DEBRIDEMENTS FOR INJURIES | 1.2253 | 34.3 | 28.6
441 | ² HAND PROCEDURES FOR INJURIES | 0.5655 | 21.2 | 17.7
442 | OTHER O.R. PROCEDURES FOR INJURIES W CC | 1.3453 | 34.6 | 28.8
443 | ⁷ OTHER O.R. PROCEDURES FOR INJURIES W/O CC | 0.5655 | 21.1 | 17.6
444 | TRAUMATIC INJURY AGE >17 W CC | 0.6607 | 23.2 | 19.3
445 | ² TRAUMATIC INJURY AGE >17 W/O CC | 0.5655 | 21.2 | 17.7
446 | ⁷ TRAUMATIC INJURY AGE 0-17 | 0.5655 | 21.1 | 17.6
447 | ² ALLERGIC REACTIONS AGE >17 | 0.5655 | 21.2 | 17.7
448 | ⁷ ALLERGIC REACTIONS AGE 0-17 | 0.5655 | 21.1 | 17.6
449 | ³ POISONING & TOXIC EFFECTS OF DRUGS AGE >17 W CC | 0.7858 | 25.2 | 21.0
450 | ⁷ POISONING & TOXIC EFFECTS OF DRUGS AGE >17 W/O CC | 0.7858 | 25.2 | 21.0
451 | ⁷ POISONING & TOXIC EFFECTS OF DRUGS AGE 0- 17 | 0.7858 | 25.2 | 21.0
452 | COMPLICATIONS OF TREATMENT W CC | 0.9301 | 25.7 | 21.4
453 | COMPLICATIONS OF TREATMENT W/O CC | 0.5809 | 21.6 | 18.0
454 | ³ OTHER INJURY, POISONING & TOXIC EFFECT DIAG W CC | 0.7858 | 25.2 | 21.0
455 | ⁷ OTHER INJURY, POISONING & TOXIC EFFECT DIAG W/O CC | 0.7858 | 25.2 | 21.0
461 | O.R. PROC W DIAGNOSES OF OTHER CONTACT W HEALTH SERVICES | 1.1512 | 32.7 | 27.3
462 | REHABILITATION | 0.5847 | 22.1 | 18.4
463 | SIGNS & SYMPTOMS W CC | 0.6113 | 22.9 | 19.1
464 | SIGNS & SYMPTOMS W/O CC | 0.5850 | 24.3 | 20.3
465 | AFTERCARE W HISTORY OF MALIGNANCY AS SECONDARY DIAGNOSIS | 0.6869 | 21.2 | 17.7
466 | AFTERCARE W/O HISTORY OF MALIGNANCY AS SECONDARY DIAGNOSIS | 0.6666 | 21.6 | 18.0
467 | ³ OTHER FACTORS INFLUENCING HEALTH STATUS | 0.7858 | 25.2 | 21.0
468 | EXTENSIVE O.R. PROCEDURE UNRELATED TO PRINCIPAL DIAGNOSIS | 2.1241 | 40.2 | 33.5
469 | ⁶ PRINCIPAL DIAGNOSIS INVALID AS DISCHARGE DIAGNOSIS | 0.0000 | 0.0 | 0.0
470 | ⁶ UNGROUPABLE | 0.0000 | 0.0 | 0.0
471 | ⁵ BILATERAL OR MULTIPLE MAJOR JOINT PROCS OF LOWER EXTREMITY | 1.6479 | 35.5 | 29.6
473 | ACUTE LEUKEMIA W/O MAJOR O.R. PROCEDURE AGE >17 | 0.9992 | 25.3 | 21.1
475 | RESPIRATORY SYSTEM DIAGNOSIS WITH VENTILATOR SUPPORT | 1.9875 | 33.4 | 27.8
476 | ⁵ PROSTATIC O.R. PROCEDURE UNRELATED TO PRINCIPAL DIAGNOSIS | 1.6479 | 35.5 | 29.6
477 | NON-EXTENSIVE O.R. PROCEDURE UNRELATED TO PRINCIPAL DIAGNOSIS | 1.5211 | 35.9 | 29.9
479 | ² OTHER VASCULAR PROCEDURES W/O CC | 0.5655 | 21.2 | 17.7
480 | ⁶ LIVER TRANSPLANT | 0.0000 | 0.0 | 0.0
481 | ⁷ BONE MARROW TRANSPLANT | 1.1162 | 29.5 | 24.6
482 | ⁵ TRACHEOSTOMY FOR FACE,MOUTH & NECK DIAGNOSES | 1.6479 | 35.5 | 29.6
484 | ⁷ CRANIOTOMY FOR MULTIPLE SIGNIFICANT TRAUMA | 1.6479 | 35.5 | 29.6
485 | ⁷ LIMB REATTACHMENT, HIP AND FEMUR PROC FOR MULTIPLE SIGNIFICANT TR | 1.1162 | 29.5 | 24.6
486 | ³ OTHER O.R. PROCEDURES FOR MULTIPLE SIGNIFICANT TRAUMA | 0.7858 | 25.2 | 21.0
487 | ⁴ OTHER MULTIPLE SIGNIFICANT TRAUMA | 1.1162 | 29.5 | 24.6
488 | ⁴ HIV W EXTENSIVE O.R. PROCEDURE | 1.1162 | 29.5 | 24.6
489 | HIV W MAJOR RELATED CONDITION | 0.9391 | 21.8 | 18.2
490 | HIV W OR W/O OTHER RELATED CONDITION | 0.6590 | 20.3 | 16.9
491 | ⁵ MAJOR JOINT & LIMB REATTACHMENT PROCEDURES OF UPPER EXTREMITY | 1.6479 | 35.5 | 29.6
492 | ² CHEMOTHERAPY W ACUTE LEUKEMIA AS SECONDARY DIAGNOSIS | 0.5655 | 21.2 | 17.7
493 | ⁴ LAPAROSCOPIC CHOLECYSTECTOMY W/O C.D.E. W CC | 1.1162 | 29.5 | 24.6
494 | ⁷ LAPAROSCOPIC CHOLECYSTECTOMY W/O C.D.E. W/O CC | 1.1162 | 29.5 | 24.6
495 | ⁶ LUNG TRANSPLANT | 0.0000 | 0.0 | 0.0
496 | ⁴ COMBINED ANTERIOR/POSTERIOR SPINAL FUSION | 1.1162 | 29.5 | 24.6
497 | ⁵ SPINAL FUSION W CC | 1.6479 | 35.5 | 29.6
498 | ⁷ SPINAL FUSION W/O CC | 1.6479 | 35.5 | 29.6
499 | ⁵ BACK & NECK PROCEDURES EXCEPT SPINAL FUSION W CC | 1.6479 | 35.5 | 29.6
500 | ⁴ BACK & NECK PROCEDURES EXCEPT SPINAL FUSION W/O CC | 1.1162 | 29.5 | 24.6
501 | KNEE PROCEDURES W PDX OF INFECTION W CC | 1.2227 | 33.3 | 27.8
502 | ² KNEE PROCEDURES W PDX OF INFECTION W/O CC | 0.5655 | 21.2 | 17.7
503 | ⁴ KNEE PROCEDURES W/O PDX OF INFECTION | 1.1162 | 29.5 | 24.6
504 | ⁵ EXTENSIVE BURN OR FULL THICKNESS BURNS WITH MECH VENT 96+ HOURS WITH SKIN GRAFT | 1.6479 | 35.5 | 29.6
505 | ⁵ EXTENSIVE BURN OR FULL THICKNESS BURNS WITH MECH VENT 96+ HOURS WITHOUT SKIN GRAFT | 1.6479 | 35.5 | 29.6
506 | ⁴ FULL THICKNESS BURN W SKIN GRAFT OR INHAL INJ W CC OR SIG TRAUMA | 1.1162 | 29.5 | 24.6
507 | ⁷ FULL THICKNESS BURN W SKIN GRFT OR INHAL INJ W/O CC OR SIG TRAUMA | 0.4109 | 17.1 | 14.3
508 | FULL THICKNESS BURN W/O SKIN GRFT OR INHAL INJ W CC OR SIG TRAUMA | 0.7585 | 25.6 | 21.3
509 | ¹ FULL THICKNESS BURN W/O SKIN GRFT OR INH INJ W/O CC OR SIG TRAUMA | 0.4109 | 17.1 | 14.3
510 | NON-EXTENSIVE BURNS W CC OR SIGNIFICANT TRAUMA | 0.6740 | 22.6 | 18.8
511 | ¹ NON-EXTENSIVE BURNS W/O CC OR SIGNIFICANT TRAUMA | 0.4109 | 17.1 | 14.3
512 | ⁶ SIMULTANEOUS PANCREAS/KIDNEY TRANSPLANT | 0.0000 | 0.0 | 0.0
513 | ⁶ PANCREAS TRANSPLANT | 0.0000 | 0.0 | 0.0
515 | ⁵ CARDIAC DEFIBRILATOR IMPLANT W/O CARDIAC CATH | 1.6479 | 35.5 | 29.6
518 | ⁷ PERCUTANEOUS CARDIVASCULAR PROC W/O CORONARY ARTERY STENT OR AMI | 0.4109 | 17.1 | 14.3
519 | ⁴ CERVICAL SPINAL FUSION W CC | 1.1162 | 29.5 | 24.6
520 | ⁷ CERVICAL SPINAL FUSION W/O CC | 1.6479 | 35.5 | 29.6
521 | ² ALCOHOL/DRUG ABUSE OR DEPENDENCE W CC | 0.5655 | 21.2 | 17.7
522 | ⁷ ALCOHOL/DRUG ABUSE OR DEPENDENCE W REHABILITATION THERAPY W/O CC | 0.5655 | 21.1 | 17.6
523 | ¹ ALCOHOL/DRUG ABUSE OR DEPENDENCE W/O REHABILITATION THERAPY W/O CC | 0.4109 | 17.1 | 14.3
524 | ² TRANSIENT ISCHEMIA | 0.5655 | 21.2 | 17.7
525 | ⁷ OTHER HEART ASSIST SYSTEM IMPLANT | 1.6479 | 35.5 | 29.6
528 | ⁷ INTRACRANIAL VASCULAR PROC W PDX HEMORRHAGE | 1.6479 | 35.5 | 29.6
529 | ⁵ VENTRICULAR SHUNT PROCEDURES W CC | 1.6479 | 35.5 | 29.6
530 | ⁷ VENTRICULAR SHUNT PROCEDURES W/O CC | 1.6479 | 35.5 | 29.6
531 | ⁵ SPINAL PROCEDURES WITH CC | 1.6479 | 35.5 | 29.6
532 | ³ SPINAL PROCEDURES WITHOUT CC | 0.7858 | 25.2 | 21.0
533 | ⁵ EXTRACRANIAL VASCULAR PROCEDURES WITH CC | 1.6479 | 35.5 | 29.6
534 | ⁷ EXTRACRANIAL VASCULAR PROCEDURES WITHOUT CC | 1.1162 | 29.5 | 24.6
535 | ⁵ CARDIAC DEFIB IMPLANT W CARDIAC CATH W AMI/HF/SHOCK | 1.6479 | 35.5 | 29.6
536 | ⁷ CARDIAC DEFIB IMPLANT W CARDIAC CATH W/O AMI/HF/SHOCK | 1.6479 | 35.5 | 29.6
537 | LOCAL EXCISION AND REMOVAL OF INTERNAL FIXATION DEVICES EXCEPT HIP AND FEMUR WITH CC | 1.4500 | 39.6 | 33.0
538 | ⁴ LOCAL EXCISION AND REMOVAL OF INTERNAL FIXATION DEVICES EXCEPT HIP AND FEMUR WITHOUT CC | 1.1162 | 29.5 | 24.6
539 | ⁴ LYMPHOMA AND LEUKEMIA WITH MAJOR O.R. PROCEDURE WITH CC | 1.1162 | 29.5 | 24.6
540 | ⁷ LYMPHOMA AND LEUKEMIA WITH MAJOR O.R. PROCEDURE WITHOUT CC | 0.4109 | 17.1 | 14.3
541 | ECMO OR TRACH W MECH VENT 96+ HRS OR PDX EXCEPT FACE,MOUTH & NECK DIAG WITH MAJOR OR | 3.8042 | 57.7 | 48.1
542 | TRACH W MECH VENT 96+ HRS OR PDX EXCEPT FACE,MOUTH & NECK DIAG WITHOUT MAJOR OR | 2.8365 | 44.7 | 37.3
543 | ⁵ CRANIOTOMY W IMPLANT OF CHEMO AGENT OR ACUTE COMPLEX CNS PDX | 1.6479 | 35.5 | 29.6
544 | ⁵ MAJOR JOINT REPLACEMENT OR REATTACHMENT OF LOWER EXTREMITY | 1.6479 | 35.5 | 29.6
545 | ⁵ REVISION OF HIP OR KNEE REPLACEMENT | 1.6479 | 35.5 | 29.6
546 | ⁷ SPINAL FUSION EXCEPT CERVICAL WITH CURVATURE OF SPINE OR MALIGNANCY | 1.6479 | 35.5 | 29.6
547 | ⁷ CORONARY BYPASS WITH CARDIAC CATH WITH MAJOR CV DIAGNOSIS | 1.6479 | 35.5 | 29.6
548 | ⁷ CORONARY BYPASS WITH CARDIAC CATH WITHOUT MAJOR CV DIAGNOSIS | 1.6479 | 35.5 | 29.6
549 | ⁷ CORONARY BYPASS WITHOUT CARDIAC CATH WITH MAJOR CV DIAGNOSIS | 1.6479 | 35.5 | 29.6
550 | ⁷ CORONARY BYPASS WITHOUT CARDIAC CATH WITHOUT MAJOR CV DIAGNOSIS | 1.6479 | 35.5 | 29.6
551 | PERMANENT CARDIAC PACEMAKER IMPLANT WITH MAJOR CV DIAGNOSIS OR AICD LEAD OR GNRTR | 1.6087 | 29.5 | 24.6
552 | ⁴ OTHER PERMANENT CARDIAC PACEMAKER IMPLANT WITHOUT MAJOR CV DIAGNOSIS | 1.1162 | 29.5 | 24.6
553 | OTHER VASCULAR PROCEDURES WITH CC WITH MAJOR CV DIAGNOSIS | 1.5536 | 31.8 | 26.5
554 | OTHER VASCULAR PROCEDURES WITH CC WITHOUT MAJOR CV DIAGNOSIS | 1.2892 | 31.6 | 26.3
555 | ³ PERCUTANEOUS CARDIOVASCULAR PROC WITH MAJOR CV DIAGNOSIS | 0.7858 | 25.2 | 21.0
556 | ⁷ PERCUTANEOUS CARDIOVASCULAR PROC WITH NON-DRUG-ELUTING STENT WITHOUT MAJOR CV DIAGNOSIS | 0.4109 | 17.1 | 14.3
557 | ⁴ PERCUTANEOUS CARDIOVASCULAR PROC WITH DRUG-ELUTING STENT WITH MAJOR CV DIAGNOSIS | 1.1162 | 29.5 | 24.6
558 | ⁷ PERCUTANEOUS CARDIOVASCULAR PROC WITH DRUG-ELUTING STENT WITHOUT MAJOR CV DIAGNOSIS | 0.4109 | 17.1 | 14.3
559 | ⁷ ACUTE ISCHEMIC STROKE WITH USE OF THROMBOLYTIC AGENT | 0.7858 | 25.2 | 21.0
¹ Proposed relative weights for these proposed LTC-DRGs were determined by assigning these cases to proposed low-volume quintile 1.
² Proposed relative weights for these proposed LTC-DRGs were determined by assigning these cases to proposed low-volume quintile 2.
³ Proposed relative weights for these proposed LTC-DRGs were determined by assigning these cases to proposed low-volume quintile 3.
⁴ Proposed relative weights for these proposed LTC-DRGs were determined by assigning these cases to proposed low-volume quintile 4.
⁵ Proposed relative weights for these proposed LTC-DRGs were determined by assigning these cases to proposed low-volume quintile 5.
⁶ Proposed relative weights for these proposed LTC-DRGs were assigned a value of 0.0000.
⁷ Proposed relative weights for these LTC-DRGs were determined by assigning these cases to the appropriate proposed low volume quintile because they had no LTCH cases in the FY 2005 MedPAR file.
⁸ Proposed relative weights for these proposed LTC-DRGs were determined after adjusting to account for nonmonotonicity (see step 5 above).

Appendix A—Regulatory Impact Analysis

(If you choose to comment on the issues in this section, please include the caption “Impact Analysis” at the beginning of your comment.)

I. Overall Impact

We have examined the impacts of this proposed rule as required by Executive Order 12866 (September 1993, Regulatory Planning and Review) and the Regulatory Flexibility Act (RFA) (September 19, 1980, Pub. L. 96-354), section 1102(b) of the Social Security Act, the Unfunded Mandates Reform Act of 1995 (Pub. L. 104-4), and Executive Order 13132.

Executive Order 12866 (as amended by Executive Order 13258, which merely reassigns responsibility of duties) directs agencies to assess all costs and benefits of available regulatory alternatives and, if regulation is necessary, to select regulatory approaches that maximize net benefits (including potential economic, environmental, public health and safety effects, distributive impacts, and equity). A regulatory impact analysis (RIA) must be prepared for major rules with economically significant effects ($100 million or more in any 1 year).

We have determined that this proposed rule is a major rule as defined in 5 U.S.C. 804(2). We estimate that the proposed changes for FY 2007 operating and capital payments will redistribute in excess of $100 million among different types of inpatient cases. Further, the market basket update to IPPS rates required by the statute will result in an approximate $3.33 billion increase in FY 2007 operating and capital payments. This amount does not reflect changes in hospital admissions or case-mix intensity, which would also affect overall payment changes.

The RFA requires agencies to analyze options for regulatory relief of small businesses. For purposes of the RFA, small entities include small businesses, nonprofit organizations, and government agencies. Most hospitals and most other providers and suppliers are considered to be small entities, either by nonprofit status or by having revenues of $6 million to $29 million in any 1 year. (For details, see the Small Business Administration's final rule that sets forth size standards for health care industries at 65 FR 69432, November 17, 2000.) For purposes of the RFA, all hospitals and other providers and suppliers are considered to be small entities. Individuals and States are not included in the definition of a small entity. We believe that this proposed rule will have a significant impact on small entities as explained in this Appendix. Because we acknowledge that many of the affected entities are small entities, the analysis discussed throughout the preamble of this proposed rule constitutes our initial regulatory flexibility analysis. Therefore, we are soliciting comments on our estimates and analysis of the impact of this proposed rule on those small entities.

In addition, section 1102(b) of the Act requires us to prepare a regulatory impact analysis for any proposed rule that may have a significant impact on the operations of a substantial number of small rural hospitals. This analysis must conform to the provisions of section 603 of the RFA. With the exception of hospitals located in certain New England counties, for purposes of section 1102(b) of the Act, we previously defined a small rural hospital as a hospital with fewer than 100 beds that is located outside of a Metropolitan Statistical Area (MSA) or New England County Metropolitan Area (NECMA). However, under the new labor market definitions, we no longer employ NECMAs to define urban areas in New England. Therefore, we now define a small rural hospital as a hospital that is located outside of an MSA and has fewer than 100 beds. Section 601(g) of the Social Security Amendments of 1983 (Pub. L. 98-21) designated hospitals in certain New England counties as belonging to the adjacent NECMA. Thus, for purposes of the IPPS, we continue to classify these hospitals as urban hospitals.

Section 202 of the Unfunded Mandates Reform Act of 1995 (Pub. L. 104-4) also requires that agencies assess anticipated costs and benefits before issuing any rule whose mandates require spending in any 1 year of $100 million in 1995 dollars, updated annually for inflation. That threshold level is currently approximately $120 million. This proposed rule will not mandate any requirements for State, local, or tribal governments, nor will it affect private sector costs.

Executive Order 13132 establishes certain requirements that an agency must meet when it promulgates a proposed rule (and subsequent final rule) that imposes substantial direct requirement costs on State and local governments, preempts State law, or otherwise has Federalism implications. As stated above, this proposed rule will not have a substantial effect on State and local governments.

The following analysis, in conjunction with the remainder of this document, demonstrates that this proposed rule is consistent with the regulatory philosophy and principles identified in Executive Order 12866, the RFA, and section 1102(b) of the Act. The proposed rule will affect payments to a substantial number of small rural hospitals, as well as other classes of hospitals, and the effects on some hospitals may be significant.

II. Objectives

The primary objective of the IPPS is to create incentives for hospitals to operate efficiently and minimize unnecessary costs while at the same time ensuring that payments are sufficient to adequately compensate hospitals for their legitimate costs. In addition, we share national goals of preserving the Medicare Hospital Insurance Trust Fund.

We believe the changes in this proposed rule will further each of these goals while maintaining the financial viability of the hospital industry and ensuring access to high quality health care for Medicare beneficiaries. We expect that these proposed changes will ensure that the outcomes of this payment system are reasonable and equitable while avoiding or minimizing unintended adverse consequences.

III. Limitations of Our Analysis

The following quantitative analysis presents the projected effects of our proposed policy changes, as well as statutory changes effective for FY 2007, on various hospital groups. We estimate the effects of individual policy changes by estimating payments per case while holding all other payment policies constant. We use the best data available, but, generally, we do not attempt to predict behavioral responses to our policy changes (with the exception of the anticipated improvements in documentation and coding that may lead to increases in observed but not real case-mix in response to the adoption of consolidated severity DRGs in FY 2008 (if not earlier), and we do not make adjustments for future changes in such variables as admissions, lengths of stay, or case-mix. As we have done in the previous proposed rules, we are soliciting comments and information about the anticipated effects of these proposed changes on hospitals and our methodology for estimating them. Any timely comments that we receive in response to this proposed rule will be addressed in the final rule.

IV. Hospitals Included In and Excluded From the IPPS

The prospective payment systems for hospital inpatient operating and capital-related costs encompass nearly all general short-term, acute care hospitals that participate in the Medicare program. There were 35 Indian Health Service hospitals in our database, which we excluded from the analysis due to the special characteristics of the prospective payment method for these hospitals. Among other short-term, acute care hospitals, only the 46 such hospitals in Maryland remain excluded from the IPPS under the waiver at section 1814(b)(3) of the Act.

As of March 2006, there are 3,539 IPPS hospitals to be included in our analysis. This represents about 59 percent of all Medicare-participating hospitals. The majority of this impact analysis focuses on this set of hospitals. There are also approximately 1,274 critical access hospitals (CAHs). These small, limited service hospitals are paid on the basis of reasonable costs rather than under the IPPS. There are also 1,188 specialty hospitals and units that are excluded from the IPPS. These specialty hospitals include psychiatric hospitals and units (now referred to as IPFs), rehabilitation hospitals and units (now referred to as IRFs), long-term care hospitals (now referred to as LTCHs), Religious Non-Medical Health Care Institutions (RNHCIs), children's hospitals, and cancer hospitals. The impacts of our proposed policy changes on these hospitals are discussed below.

V. Effects on Excluded Hospitals and Hospital Units

As of March 2006, there were 1,188 hospitals excluded from the IPPS. Of these 1,188 hospitals, 476 IPFs, 81 children's hospitals, 11 cancer hospitals, and 17 RNHCIs are being paid, in whole or in part, on a reasonable cost basis subject to the rate-of-increase ceiling under § 413.40. The remaining providers, 217 IRFs and 386 LTCHs, are paid 100 percent of the Federal prospective rate under the IRF PPS and the LTCH PPS, respectively. (We note that, currently, there are 16 LTCHs that are being paid under the LTCH PPS transition blend methodology, which is based in part on a reasonable cost that is subject to a rate-of-increase ceiling under § 413.40. For cost reporting periods that will begin during FY 2007, these LTCHs will no longer receive a portion of their payment that is based in part on a reasonable cost subject to a rate-of-increase ceiling under § 413.40 because, in accordance with § 412.533, LTCHs are paid 100 percent of the adjusted Federal prospective payment amount for cost reporting periods beginning on or after October 1, 2006. In addition, there are 1,317 IPFs (paid on a blend of the IPF PPS per diem payment and the TEFRA reasonable cost-based payment) and 1,011 IRFs (paid under the IRF PPS) in hospitals otherwise subject to the IPPS. Under § 413.40(a)(2)(i)(A), the rate-of-increase ceiling is not applicable to the 93 IPPS excluded hospitals and units in Maryland that are paid in accordance with the waiver at section 1814(b)(3) of the Act.

In the past, hospitals and units excluded from the IPPS have been paid based on their reasonable costs subject to limits as established by the Tax Equity and Fiscal Responsibility Act of 1982 (TEFRA). Hospitals that continue to be paid fully on a reasonable cost basis are subject to TEFRA limits for FY 2007. For these hospitals (cancer and children's hospitals), consistent with section 1886(b)(3)(B)(ii) of the Act, the proposed update will be the percentage increase in the FY 2007 IPPS operating market basket, currently estimated to be 3.4 percent. In addition, in accordance with § 403.752(a) of the regulations, RNHCIs are paid under § 413.40, which also uses section 1886(b)(3)(B)(ii) of the Act to update the percentage increase in the rate-of-increase limits. For RNHCIs, the proposed update will be the percentage increase in the FY 2007 IPPS operating market basket increase, currently estimated to be 3.4 percent.

IRFs are paid under a prospective payment system (IRF PPS) for cost reporting periods beginning on or after January 1, 2002. For cost reporting periods beginning during FY 2007, the IRF PPS is based on 100 percent of the adjusted Federal IRF prospective payment amount, updated annually. Therefore, these hospitals are not affected by this proposed rule.

Effective for cost reporting periods beginning on or after October 1, 2002, LTCHs are paid under a LTCH PPS, based on a Federal prospective payment amount that is updated annually. Existing LTCHs receive a blended payment that consists of the Federal prospective payment rate and a reasonable cost-based payment rate over a 5-year transition period, unless the LTCH elects to be paid at 100 percent of the Federal prospective rate at the beginning of any of its cost reporting periods during the 5-year transition period. Under § 412.533, the 5-year transition period for all existing hospitals subject to the LTCH PPS begins with the LTCH's first cost reporting period beginning on or after October 1, 2002, and extends through the LTCH's cost reporting period beginning on or after October 1, 2006. In accordance with § 412.533, for cost reporting periods beginning on or after October 1, 2006, the LTCH PPS transition blend percentages are 100 percent of the Federal prospective payment amount and zero percent of the amount calculated under reasonable cost principles. Therefore, even though FY 2007 is the fifth year of the 5-year transition period established under § 412.533, because the reasonable cost principles amount is zero percent for cost reporting periods beginning during FY 2007, LTCHs will no longer receive a portion of their payment that is based in part on a reasonable cost subject to the rate-to-increase ceiling beginning with cost reporting periods beginning on or after October 1, 2006. Thus, there is no longer a need for an update factor for LTCH's TEFRA target amount for FY 2007 and beyond.

Section 124 of the Medicare, Medicaid, and SCHIP Balanced Budget Refinement Act of 1999 (BBRA) required the development of a per diem prospective payment system (PPS) for payment of inpatient hospital services furnished in IPFs. The final rule implementing the IPF PPS (69 FR 66922) established a 3-year transition to the IPF PPS during which some providers will receive a blend of the IPF PPS per diem payment and the TEFRA reasonable cost-based payment. For purposes of determining what the TEFRA payment to the IPF will be, we updated the IPF's TEFRA target amount by the excluded hospital market basket percentage increase of 3.6 percent.

The impact on excluded hospitals and hospital units of the update in the rate-of-increase limit depends on the cumulative cost increases experienced by each excluded hospital or unit since its applicable base period. For excluded hospitals and units that have maintained their cost increases at a level below the rate-of-increase limits since their base period, the major effect is on the level of incentive payments these hospitals and hospital units receive. Conversely, for excluded hospitals and hospital units with per-case cost increases above the cumulative update in their rate-of-increase limits, the major effect is the amount of excess costs that will not be reimbursed.

We note that, under § 413.40(d)(3), an excluded hospital or unit whose costs exceed 110 percent of its rate-of-increase limit receives its rate-of-increase limit plus 50 percent of the difference between its reasonable costs and 110 percent of the limit, not to exceed 110 percent of its limit. In addition, under the various provisions set forth in § 413.40, certain excluded hospitals and hospital units can obtain payment adjustments for justifiable increases in operating costs that exceed the limit. However, at the same time, by generally limiting payment increases, we continue to provide an incentive for excluded hospitals and hospital units to restrain the growth in their spending for patient services.

VI. Quantitative Effects of the Proposed Policy Changes Under the IPPS for Operating Costs

A. Basis and Methodology of Estimates

In this proposed rule, we are announcing policy changes and payment rate updates for the IPPS for operating costs. Changes to the capital payments are discussed in section VIII. of this Appendix. Based on the overall percentage change in payments per case estimated using our payment simulation model (a 3.4 percent increase), we estimate that total FY 2007 operating and capital payments will increase $3.33 billion compared to FY 2006 largely due to the statutorily mandated update to IPPS rates. This amount does not reflect changes in hospital admissions or case-mix intensity, which would also affect overall payment changes.

We have prepared separate impact analyses of the proposed changes to each system. This section deals with proposed changes to the operating prospective payment system. Our payment simulation model relies on the most recent available data to enable us to estimate the impacts on payments per case of certain changes we are proposing in this rule. However, there are other changes we are proposing for which we do not have data available that would allow us to estimate the payment impacts using this model. For those proposed changes, we have attempted to predict the payment impacts based upon our experience and other more limited data.

The data used in developing the quantitative analyses of changes in payments per case presented below are taken from the FY 2005 MedPAR file and the most current Provider-Specific File that is used for payment purposes. Although the analyses of the changes to the operating PPS do not incorporate cost data, data from the most recently available hospital cost report were used to categorize hospitals. Our analysis has several qualifications. First, we do not make adjustments for behavioral changes that hospitals may adopt in response to the proposed policy changes, and we do not adjust for future changes in such variables as admissions, lengths of stay, or case-mix. (However, as we indicated earlier, we are planning to adopt a severity DRG system in FY 2008 (if not earlier) and expect to make adjustments to the standardized amounts to account for anticipated improvements in documentation and coding that may lead to increases in observed but not real case mix). Second, due to the interdependent nature of the IPPS payment components, it is very difficult to precisely quantify the impact associated with each proposed change. Third, we use various sources for the data used to categorize hospitals in the tables. In some cases, particularly the number of beds, there is a fair degree of variation in the data from different sources. We have attempted to construct these variables with the best available source overall. However, for individual hospitals, some miscategorizations are possible.

Using cases from the FY 2005 MedPAR file, we simulated payments under the operating IPPS given various combinations of payment parameters. Any short-term, acute care hospitals not paid under the IPPS (Indian Health Service hospitals and hospitals in Maryland) were excluded from the simulations. The impact of payments under the capital IPPS, or the impact of payments for costs other than inpatient operating costs, are not analyzed in this section. Estimated payment impacts of proposed FY 2007 changes to the capital IPPS are discussed in section VIII. of this Appendix.

The proposed changes discussed separately below are the following:

• The effect of a reduced update to the standardized amount for hospitals that do not comply with section 1886(b)(3)(B)(viii) of the Act by submitting quality data in accordance with our requirements.

• The effects of the MDH payment changes set forth in section 5003 of Pub. L. 109-171.

• The effects of the annual reclassification of diagnoses and procedures and the recalibration of the DRG relative weights required by section 1886(d)(4)(C) of the Act.

• The effects of the proposed changes in hospitals' wage index values reflecting wage data from hospitals' cost reporting periods beginning during FY 2003, compared to the FY 2002 wage data.

• The effects of the proposed wage and recalibration budget neutrality factors.

• The effects of the remaining labor market area transition for those hospitals that were urban under the old labor market area designations and are now considered rural hospitals.

• The effects of geographic reclassifications by the MGCRB that will be effective in FY 2007.

• The effects of section 505 of Pub. L. 108-173, which provides for an increase in a hospital's wage index if the hospital qualifies by meeting a threshold percentage of residents of the county where the hospital is located who commute to work at hospitals in counties with higher wage indexes.

• The total change in payments based on proposed FY 2007 policies and MMA-imposed changes relative to payments based on FY 2006 policies.

To illustrate the impacts of the proposed FY 2007 changes, our analysis begins with a FY 2006 baseline simulation model using: The proposed update of 3.4 percent; the FY 2006 DRG GROUPER (version 23.0); the CBSA designations for hospitals based on OMB's June 2003 MSA definitions; the FY 2006 wage index; and no MGCRB reclassifications. Outlier payments are set at 5.1 percent of total operating DRG and outlier payments.

Section 1886(b)(3)(B)(vii) of the Act, as added by section 501(b) of Pub. L. 108-173, and amended by section 5001(a) of Pub. L. 109-171, provides that, for FYs 2005 through 2006, the update factors will be reduced by 0.4 percentage points for any hospital that does not submit quality data. Section 5001(a) of Pub. L. 109-171 provides that for FY 2007 and subsequent years, the update factor will be reduced by 2.0 percentage points for any hospital that does not submit quality data or that fails the quality data validation process. At the time this impact was prepared, 115 providers did not receive the full market basket rate-of-increate for FY 2006 because they failed the quality data submission process. For purposes of the simulations shown below, we modeled the payment changes for FY 2007 using a reduced update for these 115 hospitals. However, we do not have enough information to determine which hospitals will not receive the full market basket rate-of-increase for FY 2007 at this time.

Each proposed and statutory policy change is then added incrementally to this baseline, finally arriving at an FY 2007 model incorporating all of the proposed changes. This simulation allows us to isolate the effects of each proposed change.

Our final comparison illustrates the percent change in payments per case from FY 2006 to FY 2007. Three factors not discussed separately have significant impacts here. The first is the update to the standardized amount. In accordance with section 1886(b)(3)(B)(i) of the Act, we have updated standardized amounts for FY 2007 using the most recently forecasted hospital market basket increase for FY 2007 of 3.4 percent. (Hospitals that fail to comply with the quality data submission requirement to receive the full update will receive an update reduced by 2.0 percentage points to 1.4 percent.) Under section 1886(b)(3)(B)(iv) of the Act, the updates to the hospital-specific amounts for sole community hospitals (SCHs) and for Medicare-dependent small rural hospitals (MDHs) are also equal to the market basket increase, or 3.4 percent.

A second significant factor that affects changes in hospitals' payments per case from FY 2006 to FY 2007 is the change in MGCRB status from one year to the next. That is, payments may be reduced for hospitals reclassified in FY 2006 that are no longer reclassified in FY 2007. Conversely, payments may increase for hospitals not reclassified in FY 2006 that are reclassified in FY 2007. In some cases, these impacts can be quite substantial, so if a relatively small number of hospitals in a particular category lose their reclassification status, the percentage change in payments for the category may be below the national mean. However, this effect is alleviated by section 1886(d)(10)(D)(v) of the Act, which provides that reclassifications for purposes of the wage index are for a 3-year period.

A third significant factor is that we currently estimate that actual outlier payments during FY 2006 will be 4.7 percent of total DRG payments. When the FY 2006 final rule was published, we projected FY 2006 outlier payments would be 5.1 percent of total DRG plus outlier payments; the average standardized amounts were offset correspondingly. The effects of the lower than expected outlier payments during FY 2006 (as discussed in the Addendum to this proposed rule) are reflected in the analyses below comparing our current estimates of FY 2006 payments per case to estimated FY 2007 payments per case (with outlier payments projected to equal 5.1 percent of total DRG payments).

B. Analysis of Table I

Table I displays the results of our analysis of proposed changes for FY 2007. The table categorizes hospitals by various geographic and special payment consideration groups to illustrate the varying impacts on different types of hospitals. The top row of the table shows the overall impact on the 3,522 hospitals included in the analysis. There are 222 fewer hospitals than were included in the impact analysis in the FY 2006 final rule (70 FR 47690).

The next four rows of Table I contain hospitals categorized according to their geographic location: All urban, which is further divided into large urban and other urban; and rural. There are 2,517 hospitals located in urban areas included in our analysis. Among these, there are 1,391 hospitals located in large urban areas (populations over 1 million), and 1,126 hospitals in other urban areas (populations of 1 million or fewer). In addition, there are 1,005 hospitals in rural areas. The next two groupings are by bed-size categories, shown separately for urban and rural hospitals. The final groupings by geographic location are by census divisions, also shown separately for urban and rural hospitals.

The second part of Table I shows hospital groups based on hospitals' proposed FY 2007 payment classifications, including any reclassifications under section 1886(d)(10) of the Act. For example, the rows labeled urban, large urban, other urban, and rural show that the number of hospitals paid based on these categorizations after consideration of geographic reclassifications (including reclassifications under 1886(d)(8)(B) and 1886(d)(8)(E) which have implications for capital payments) are 2,539, 1,400, 1,139, and 983, respectively.

The next three groupings examine the impacts of the proposed changes on hospitals grouped by whether or not they have GME residency programs (teaching hospitals that receive an IME adjustment) or receive DSH payments, or some combination of these two adjustments. There are 2,449 non-teaching hospitals in our analysis, 836 teaching hospitals with fewer than 100 residents, and 237 teaching hospitals with 100 or more residents.

In the DSH categories, hospitals are grouped according to their DSH payment status, and whether they are considered urban or rural for DSH purposes. The next category groups hospitals considered urban after geographic reclassification, in terms of whether they receive the IME adjustment, the DSH adjustment, both, or neither.

The next five rows examine the impacts of the proposed changes on rural hospitals by special payment groups (sole community hospitals (SCHs), rural referral centers (RRCs), and Medicare dependent hospitals (MDHs)), as well as rural hospitals not receiving a special payment designation. There were 140 RRCs, 341 SCHs, 126 MDHs, 80 hospitals that are both SCHs and RRCs and 8 hospitals that are both MDHs and RRCs.

The next two groupings are based on type of ownership and the hospital's Medicare utilization expressed as a percent of total patient days. These data are taken primarily from the FY 2004 Medicare cost reports, if available (otherwise FY 2003 data are used).

The next series of groupings concern the geographic reclassification status of hospitals. The first grouping displays all urban hospitals that were reclassified by the MGCRB for FY 2007. The next grouping shows the MGCRB rural reclassifications. The final three rows in Table I contain hospitals located in urban counties, but deemed to be rural under section 1886(d)(8)(E) of the Act, hospitals located in rural counties but deemed to be urban under section 1886(d)(8)(B) of the Act, and hospitals currently reclassified under section 508 of Public Law 108-173, which expires on March 31, 2007.

Table I.—Impact Analysis of Proposed Changes for FY 2007
| No. of hospitals ¹ | Quality data rate difference ² | DRA MDH provisions ³ | Hospital specific costs wts, DRG changes ⁴ | FY 2007 wage data ⁵ | DRG rel. wts. and wage index changes ⁶ | Wage index transition for hospitals moving from urban to rural ⁷ | MGCRB reclassifications ⁸ | Out-migration adjustment ⁹ | All FY 2007 changes ¹⁰
(1) | (2) | (3) | (4) | (5) | (6) | (7) | (8) | (9) | (10)
All Hospitals | 3,522 | 0.0 | 0.1 | 0.1 | 0.0 | 0.0 | 0.0 | 0.0 | 0.1 | 3.4
By Geographic Location:
Urban hospitals | 2,517 | 0.0 | 0.0 | −0.2 | 0.1 | −0.4 | 0.0 | −0.3 | 0.1 | 3.0
Large urban areas (populations over 1 million) | 1,391 | 0.0 | 0.0 | 0.1 | 0.0 | 0.0 | 0.0 | −0.5 | 0.0 | 3.4
Other urban areas (populations of 1 million or fewer) | 1,126 | 0.0 | 0.0 | −0.8 | 0.1 | −0.8 | 0.0 | −0.2 | 0.1 | 2.5
Rural hospitals | 1,005 | 0.0 | 0.5 | 3.0 | 0.0 | 2.8 | 0.3 | 2.2 | 0.1 | 6.7
Bed Size (Urban):
0-99 beds | 590 | −0.1 | 0.1 | 0.9 | 0.1 | 0.8 | 0.0 | −0.5 | 0.0 | 4.1
100-199 beds | 865 | 0.0 | 0.0 | 1.9 | 0.2 | 2.0 | 0.0 | −0.2 | 0.0 | 5.2
200-299 beds | 482 | 0.0 | 0.0 | 0.1 | 0.1 | 0.0 | 0.0 | −0.3 | 0.1 | 3.4
300-499 beds | 414 | 0.0 | 0.0 | −1.1 | 0.1 | −1.2 | 0.0 | −0.4 | 0.1 | 2.2
500 or more beds | 166 | 0.0 | 0.0 | −1.5 | −0.1 | −1.8 | 0.0 | −0.4 | 0.0 | 1.6
Bed Size (Rural):
0-49 beds | 349 | −0.1 | 0.9 | 5.8 | −0.1 | 5.7 | 0.1 | 0.9 | 0.2 | 10.1
50-99 beds | 366 | 0.0 | 1.3 | 4.6 | 0.0 | 4.5 | 0.3 | 1.1 | 0.2 | 9.3
100-149 beds | 179 | 0.0 | 0.1 | 3.0 | 0.0 | 2.9 | 0.5 | 2.6 | 0.1 | 6.2
150-199 beds | 64 | 0.0 | 0.0 | 1.2 | −0.1 | 1.0 | 0.5 | 3.7 | 0.1 | 4.2
200 or more beds | 47 | 0.0 | 0.0 | −0.1 | −0.2 | −0.4 | 0.0 | 3.3 | 0.0 | 2.9
Urban by Region:
New England | 127 | 0.0 | 0.0 | 0.5 | 0.7 | 1.0 | 0.0 | 0.4 | 0.0 | 3.2
Middle Atlantic | 353 | 0.0 | 0.0 | 0.1 | 0.2 | 0.1 | 0.0 | −0.1 | 0.1 | 3.0
South Atlantic | 381 | 0.0 | 0.0 | −0.6 | −0.4 | −1.1 | 0.0 | −0.4 | 0.0 | 2.6
East North Central | 388 | 0.0 | 0.0 | −0.2 | 0.2 | −0.2 | 0.0 | 0.3 | 0.0 | 3.0
East South Central | 163 | 0.0 | 0.0 | −0.7 | −0.4 | −1.3 | 0.0 | −0.5 | 0.1 | 2.5
West North Central | 156 | 0.0 | 0.0 | −1.2 | −0.1 | −1.4 | 0.0 | −0.7 | 0.0 | 2.1
West South Central | 350 | 0.0 | 0.0 | −0.5 | −0.4 | −1.1 | 0.0 | −0.6 | 0.0 | 2.6
Mountain | 143 | 0.0 | 0.0 | −1.1 | 0.6 | −0.6 | 0.0 | −0.4 | 0.0 | 3.0
Pacific | 404 | 0.0 | 0.0 | 0.7 | 0.6 | 1.1 | 0.0 | −0.3 | 0.1 | 4.5
Puerto Rico | 52 | 0.0 | 0.0 | 3.2 | −1.4 | 1.6 | 0.0 | −0.7 | 0.0 | 5.0
Rural by Region:
New England | 19 | 0.0 | 2.6 | 1.9 | −0.4 | 1.5 | 0.0 | 2.1 | 0.1 | 7.7
Middle Atlantic | 72 | 0.0 | 1.2 | 2.9 | 0.3 | 3.1 | 0.1 | 2.1 | 0.0 | 7.7
South Atlantic | 175 | 0.0 | 0.2 | 3.7 | 0.0 | 3.5 | 0.2 | 2.3 | 0.2 | 6.9
East North Central | 125 | 0.0 | 0.6 | 2.0 | −2.0 | 1.7 | 0.1 | 1.7 | 0.0 | 5.8
East South Central | 181 | 0.0 | 0.2 | 3.1 | 0.0 | 2.9 | 0.2 | 2.8 | 0.1 | 6.4
West North Central | 118 | 0.0 | 0.9 | 1.9 | 0.1 | 2.0 | 0.0 | 2.0 | 0.1 | 6.3
West South Central | 191 | 0.0 | 0.4 | 3.8 | −0.1 | 3.6 | 0.6 | 3.0 | 0.2 | 7.1
Mountain | 80 | 0.0 | 0.0 | 2.7 | −0.2 | 2.5 | 2.3 | 0.6 | 0.1 | 5.6
Pacific | 44 | 0.0 | 0.3 | 3.7 | 0.1 | 3.8 | 0.0 | 1.9 | 0.1 | 7.4
By Payment Classification:
Urban hospitals | 2,539 | 0.0 | 0.0 | −0.2 | 0.1 | −0.3 | 0.0 | −0.3 | 0.1 | 3.0
Large urban areas (populations over 1 million) | 1,400 | 0.0 | 0.0 | 0.1 | 0.0 | 0.0 | 0.0 | −04 | 0.0 | 3.4
Other urban areas (populations of 1 million or fewer) | 1,139 | 0.0 | 0.0 | −0.7 | 0.1 | −0.8 | 0.0 | −0.2 | 0.1 | 2.5
Rural Areas | 983 | 0.0 | 0.5 | 2.9 | 0.0 | 2.7 | 0.3 | 2.1 | 0.1 | 6.6
Teaching Status:
Nonteaching | 2,449 | 0.0 | 0.1 | 1.3 | 0.0 | 1.2 | 0.0 | 0.2 | 0.1 | 4.8
Fewer than 100 residents | 836 | 0.0 | 0.0 | −0.7 | 0.0 | −0.9 | 0.0 | −0.2 | 0.0 | 2.6
100 or more residents | 237 | 0.0 | 0.0 | −0.9 | 0.2 | −0.9 | 0.0 | −0.3 | 0.0 | 2.6
Urban DSH:
Non-DSH | 854 | 0.0 | 0.1 | −0.8 | 0.0 | −1.0 | 0.0 | −0.1 | 0.0 | 2.6
100 or more beds | 1,513 | 0.0 | 0.0 | −0.1 | 0.1 | −0.2 | 0.0 | −0.3 | 0.1 | 3.1
Less than 100 beds | 333 | 0.0 | 0.1 | 3.7 | 0.3 | 3.9 | 0.0 | −0.4 | 0.0 | 7.2
Rural DSH:
SCH | 383 | 0.0 | 0.9 | 4.4 | 0.0 | 4.4 | 0.3 | 0.7 | 0.1 | 8.7
RRC | 196 | 0.0 | 0.1 | 1.5 | −0.1 | 1.3 | 0.2 | 3.7 | 0.0 | 4.6
Other Rural:
100 or more beds | 55 | 0.0 | 0.0 | 4.5 | 0.2 | 4.5 | 1.1 | 1.0 | 0.3 | 7.2
Less than 100 beds | 188 | −0.1 | 0.0 | 5.8 | 0.0 | 5.7 | 0.4 | 1.0 | 0.4 | 9.1
Urban teaching and DSH:
Both teaching and DSH | 809 | 0.0 | 0.0 | −0.6 | 0.0 | −0.8 | 0.0 | −0.4 | 0.0 | 2.5
Teaching and no DSH | 198 | 0.0 | 0.0 | −1.4 | 0.1 | −1.5 | 0.0 | −0.1 | 0.1 | 1.6
No teaching and DSH | 1,037 | 0.0 | 0.0 | 1.3 | 0.1 | 1.3 | 0.0 | −0.2 | 0.1 | 4.7
No teaching and no DSH | 495 | 0.0 | 0.0 | −0.6 | −0.1 | −0.9 | 0.0 | −0.3 | 0.0 | 2.8
Rural Hospital Types:
Non special status hospitals | 288 | −0.1 | 0.0 | 5.1 | 0.1 | 5.0 | 0.8 | 1.0 | 0.4 | 8.2
RRC | 140 | 0.0 | 0.0 | 1.1 | −0.1 | 0.9 | 0.3 | 4.3 | 0.0 | 4.3
SCH | 341 | 0.0 | 0.0 | 4.1 | 0.0 | 4.0 | 0.3 | 0.5 | 0.1 | 7.5
MDH | 126 | 0.0 | 5.9 | 5.3 | 0.0 | 5.2 | 0.0 | 0.8 | 0.1 | 14.6
SCH and RRC | 80 | 0.0 | 0.0 | 1.1 | −0.2 | 0.9 | 0.0 | 2.2 | 0.0 | 4.1
MDH and RRC | 8 | 0.0 | 12.8 | 2.6 | 0.0 | 2.7 | 0.0 | 0.8 | 0.0 | 17.5
Type of Ownership:
Voluntary | 2,087 | 0.0 | 0.1 | −0.1 | 0.1 | −0.2 | 0.0 | −0.1 | 0.1 | 3.1
Proprietary | 831 | 0.0 | 0.0 | 0.3 | −0.1 | 0.0 | 0.1 | 0.0 | 0.0 | 3.7
Government | 604 | 0.0 | 0.1 | 1.2 | 0.1 | 1.2 | 0.0 | 0.1 | 0.1 | 4.7
Medicare Utilization as a Percent of Inpatient Days:
0-25 | 252 | 0.0 | 0.0 | 2.3 | 0.5 | 2.6 | 0.0 | −0.3 | 0.0 | 5.8
25-50 | 1,302 | 0.0 | 0.0 | −0.4 | 0.0 | −0.6 | 0.0 | −0.4 | 0.0 | 2.8
50-65 | 1,490 | 0.0 | 0.1 | 0.5 | 0.1 | 0.4 | 0.0 | 0.4 | 0.1 | 3.9
Over 65 | 459 | 0.0 | 0.4 | 0.5 | −0.1 | 0.2 | 0.0 | 0.5 | 0.1 | 4.1
Unknown | 19 | −0.2 | 0.0 | 3.8 | 0.5 | 4.1 | 0.0 | −0.3 | 0.0 | 8.2
Urban Hospitals Reclassified by the Medicare Geographic Classification Review Board: First Half FY 2007 Reclassifications | 319 | 0.0 | 0.0 | −0.3 | 0.2 | −0.3 | 0.0 | 2.1 | 0.0 | 3.1
Urban Nonreclassified, First Half FY 2007 | 2,119 | 0.0 | 0.0 | −0.2 | 0.0 | −0.4 | 0.0 | −0.7 | 0.1 | 3.1
All Urban Hospitals Reclassified Second Half FY 2007 | 339 | 0.0 | 0.0 | −0.2 | 0.1 | −0.2 | 0.0 | 1.9 | 0.0 | 3.2
Urban Nonreclassified Hospitals Second Half FY 2007 | 2,099 | 0.0 | 0.0 | −0.2 | 0.0 | −0.4 | 0.0 | −0.7 | 0.1 | 3.1
All Rural Hospitals Reclassified Full Year FY 2007 | 385 | 0.0 | 0.5 | 1.8 | 0.0 | 1.6 | 0.1 | 3.8 | 0.0 | 5.3
Rural Nonreclassified Hospitals Full Year 2007 | 604 | −0.1 | 0.6 | 4.8 | 0.0 | 4.6 | 0.6 | 0.0 | 0.3 | 8.8
All Section 401 Reclassified Hospitals | 38 | 0.0 | 3.0 | 3.1 | 0.1 | 3.2 | 0.0 | −0.3 | 0.0 | 9.2
Other Reclassified Hospitals (Section 1886(d)(8)(B)) | 54 | −0.1 | 0.5 | 4.8 | 0 | 4.7 | 0.0 | 4.0 | 0.0 | 8.7
Section 508 Hospitals | 95 | 0.0 | 0.0 | −0.4 | 0.3 | −0.2 | 0.0 | −0.2 | 0.1 | 0.6
¹ Because data necessary to classify some hospitals by category were missing, the total number of hospitals in each category may not equal the national total. Discharge data are from FY 2003, and hospital cost report data are from reporting periods beginning in FY 2002 and FY 2001.
² This column displays the payment impact of the hospitals that did not submit quality update information.
³ This column displays the impact of the Deficit Reduction Act section 5003 that apply to Medicare Dependent Hospitals.
⁴ This column displays the payment impact of the changes to the V24 GROUPER and the recalibration of the DRG HSRVcc weights based on FY 2005 MedPAR data in accordance with section 1886(d)(4)(C)(iii) of the Act.
⁵ This column displays the payment impact of updating the wage index data to the FY 2003 cost report data.
⁶ This column displays the payment impact of the budget neutrality factor for DRG and wage index changes data in accordance with section 1886(d)(4)(C)(iii) of the Act and section 1886(d)(3)(E) of the Act.
⁷ Shown here are the effects of providing rural hospitals formerly located in urban areas with urban wage index values in FY 2007. The effects reflected here are budget neutral: this column therefore includes the effect of the 0.999591 adjustment that we have applied to the rates to ensure budget neutrality.
⁸ Shown here are the effects of geographic reclassifications by the Medicare Geographic Classification Review Board (MGCRB). The effects demonstrate the FY 2007 payment impact of going from no reclassifications to the reclassifications scheduled to be in effect for FY 2007. Reclassification for prior years has no bearing on the payment impacts shown here. This column reflects the geographic budget neutrality factor of 0.991727.
⁹ This column displays the impact of the FY 2007 implementation of section 505 of Pub. L. 108-173, which provides for an increase in a hospital's wage index if the hospital qualifies by meeting a threshold percentage of residents of the county where the hospital is located who commute to work at hospitals in counties with higher wage indexes.
¹⁰ This column shows changes in payments from FY 2006 to FY 2007. It incorporates all of the changes displayed in Columns 3, 4, 7, 8, and 9 (the changes displayed in Columns 5 and 6 are included in Column 7). It also reflects the impact of the FY 2007 update, changes in hospitals' reclassification status in FY 2007 compared to FY 2006, and the changes in payments as a result of continuing the reclassifications under section 508 of Pub. L. 108-173. The sum of these impacts may be different from the percentage changes shown here due to rounding and interactive effect.

C. Effects on the Hospitals That Failed the Quality Data Submission Process (Column 2)

Column 2 of Table I shows the effect of assigning a reduced update to the standardized amount to hospitals that either fail to submit quality data or fail the data validation requirements. This column shows the effect of paying these providers based on an update of market basket, less 2.0 percentage points (1.4 percent) relative to a full market basket update (3.4 percent), for FY 2007. There are 115 hospitals in this analysis that we expect will not receive the full market basket update for FY 2007. Most of these hospitals are either small rural or small urban hospitals. We project that these hospitals will receive an overall decrease in payments of 0.1 percent from last year's payment.

D. Effects of the DRA Provision Related to MDHs (Column 3)

In Column 3 of Table I, we show the effects of implementing section 5003 of Pub. L. 109-171 for MDHs. Section 5003 requires MDHs to rebase their hospital-specific rate to the FY 2002 cost reporting period, if doing so increases their target amount. It also increases the hospital-specific payment amount from the Federal rate plus 50 percent of the difference between the Federal rate and the hospital-specific amount (presuming the hospital-specific amount exceeds the Federal amount) to the Federal rate plus 75 percent of the difference. In addition, MDHs are no longer subject to the 12-percent cap on their DSH payments, effective FY 2007.

This column compares the FY 2007 payment rates under the section 5003 provisions to payments under the FY 2006 MDH provisions. (The MDH provisions were set to expire at the end of FY 2006 but were extended by section 5003(a)(1)). Overall, hospitals experience a 0.1 percent increase. This is primarily due to the substantial increase in payments to MDH providers; MDH providers experience a 5.9 percent increase while MDH/RRC combination providers experience a 12.8 percent increase.

E. Effects of the Changes to the DRG Reclassifications and Relative Cost-Based Weights (Column 4)

In Column 4 of Table I, we present the combined effects of the DRG reclassifications and recalibration, as discussed in section II. of the preamble to this proposed rule. Section 1886(d)(4)(C)(i) of the Act requires us annually to make appropriate classification changes in order to reflect changes in treatment patterns, technology, and any other factors that may change the relative use of hospital resources.

As discussed in the preamble of this proposed rule, we are proposing to change the relative weight calculation methodology from a charge-based method to a hospital specific, cost center adjusted method. In this column, we compare aggregate payments using the proposed FY 2007 hospital-specific cost weights (GROUPER Version 24) to the FY 2006 DRG relative charge weights (GROUPER Version 23.0). This method is described in more detail in section II of the preamble to this proposed rule. We note that, consistent with section 1886(d)(4)(C)(iii) of the Act, we have applied a budget neutrality factor to ensure that the overall payment impact of the DRG changes (combined with the wage index changes) is budget neutral. This budget neutrality factor of 0.998363 is applied to payments in Column 6. Because this is a combined DRG reclassification and recalibration and wage index budget neutrality factor, it is not applied to payments in Column 4. We have not proposed substantial changes to the FY 2007 GROUPER in this rule so most of the differences observed in this column illustrate the effect of setting the relative weights under the HSRVcc methodology, which is discussed in detail in section II.C. of the preamble to this proposed rule.

In general, surgical DRGs tend to have charges concentrated in ancillary cost center groups while medical DRGs tend to have charges concentrated in routine or intensive care unit (ICU) cost center groups. As discussed in the preamble of this proposed rule, the cost to charge ratios for ancillary cost center groups are lower than the cost to charge ratios for routine and ICU cost center groups, indicating that the charge mark ups for ancillary services are higher. Because the HSRVcc weighting methodology adjusts the weights to remove differential mark-ups in charges, the FY 2007 weights are redistributed among medical and surgical DRGs, which will result in a redistribution of payments among hospitals according to the types of cases they provide. For instance, hospitals that perform more surgical procedures are likely to experience decreases in payments while hospitals with heavy concentrations of medical DRGs are expected to experience increases in payments. Hospitals with a case-mix that is equal to average will see little or no change in payment.

Rural DSH hospitals with less than 100 beds and small rural hospitals (0-49 beds) show the greatest increase in payments of 5.8 percent. Urban hospitals with more than 500 beds and teaching hospitals with no DSH payments have the largest decrease in payments with declines of 1.5 and 1.4 percent respectively. Urban hospitals in West North Central, Mountain, East South Central, South Atlantic, West South Central, and East North Central experience decreases in payment of .2 to 1.2 percent.

F. Effects of Proposed Wage Index Changes (Column 5)

Section 1886(d)(3)(E) of the Act requires that, beginning October 1, 1993, we annually update the wage data used to calculate the wage index. In accordance with this requirement, the proposed wage index for FY 2007 is based on data submitted for hospital cost reporting periods beginning on or after October 1, 2002 and before October 1, 2003. The impact of the new data on hospital payments is isolated in Column 5 by holding the other payment parameters constant in this simulation. That is, Column 5 shows the percentage changes in payments when going from a model using the FY 2006 wage index, based on FY 2002 wage data, to a model using the proposed FY 2007 pre-reclassification wage index, based on FY 2003 wage data. The wage data collected on the FY 2003 cost report are the same as the FY 2002 wage data those were used to calculate the FY 2006 wage index.

Column 5 shows the impacts of updating the wage data using FY 2003 cost reports. Overall, the new wage data will lead to a 0.0 percent change for all hospitals and a 0.1 percent increase for hospitals in urban areas. This increase is due to fluctuations in the wage data. Among regions, the largest increase is in the urban New England region, which experiences a 0.7 percent increase. The largest decline from updating the wage data is seen in the Puerto Rico region (a 1.4 percent decrease).

In looking at the wage data itself, the national average hourly wage increased 5.7 percent compared to FY 2006. Therefore, the only manner in which to maintain or exceed the previous year's wage index was to match or exceed the national 5.7 percent increase in average hourly wage. Of the 3,500 hospitals with wage data for both FYs 2006 and 2007, 1,606, or 45.9 percent, also experienced an average hourly wage increase of 5.7 percent or more.

The following chart compares the shifts in wage index values for hospitals for FY 2007 relative to FY 2006. Among urban hospitals, 45 will experience an increase of between 5 percent and 10 percent and 3 will experience an increase of more than 10 percent. No rural hospitals will experience increases greater than 5 percent. However, 996 rural hospitals will experience increases or decreases of less than 5 percent, while 2,380 urban hospitals will experience increases or decreases of less than 5 percent. Sixty urban hospitals will experience decreases in their wage index values of at least 5 percent, but less than 10 percent. Twelve urban hospitals will experience decreases in their wage index values of greater than 10 percent. Four rural hospitals will experience decreases of more than 10 percent.

The following chart shows the projected impact for urban and rural hospitals.

Percentage change in area wage index values | Number of hospitals: Urban | Number of hospitals: Rural
Increase more than 10 percent | 3 | 0
Increase more than 5 percent and less than 10 percent | 45 | 0
Increase or decrease less than 5 percent | 2,380 | 996
Decrease more than 5 percent and less than 10 percent | 60 | 0
Decrease more than 10 percent | 12 | 4

G. Combined Effects of Proposed DRG and Wage Index Changes, Including Budget Neutrality Adjustment (Column 6)

The impact of the DRG reclassifications on aggregate payments is required by section 1886(d)(4)(C)(iii) of the Act to be budget neutral. In addition, section 1886(d)(3)(E) of the Act specifies that any updates or adjustments to the wage index are to be budget neutral. As noted in the Addendum to this proposed rule, in determining the budget neutrality factor, we compared simulated aggregate payments using the FY 2006 DRG relative weights, the blended wage index, and labor share percentage to simulated aggregate payments using the proposed FY 2007 DRG relative weights and wage index.

We computed a wage and DRG recalibration budget neutrality factor of 0.998363. The 0.0 percent impact for all hospitals demonstrates that these changes, in combination with the budget neutrality factor, are budget neutral. In Table I, the combined overall impacts of the effects of both the DRG reclassifications and the updated wage index are shown in Column 6. The changes in this column are the sum of the proposed changes in Columns 4 and 5, combined with the budget neutrality factor and the wage index floor for urban areas required by section 4410 of Pub. L. 105-33 to be budget neutral. There also may be some variation of plus or minus 0.1 percentage point due to rounding.

Small rural hospitals show a 5.7 percent increase in payments that is primarily due to the change to the relative weight methodology used in the DRG recalibration process. Among urban regions, the largest impacts are in the Pacific region and Puerto Rico, with 1.1 and 1.6 percent increases, respectively. The West North Central region experiences the largest decrease of 1.4 percent. Among rural regions, the Pacific region benefits the most with a 3.8 percent increase, while the New England region experiences the smallest increase (1.5 percent).

H. Effects of the 3-Year Provision Allowing Urban Hospitals That Were Converted to Rural as a Result of the FY 2005 Labor Market Area Changes To Maintain the Wage Index of the Urban Labor Market Area in Which They Were Formerly Located (Column 7)

To help alleviate the decreased payments for urban hospitals that became rural under the new labor market area definitions, for purposes of the wage index, we adopted a policy in FY 2005 to allow them to maintain the wage index assignment of the MSA where they were located for the 3-year period FY 2005, FY 2006, and FY 2007. Column 7 shows the impact of the remaining labor market area transition, for those hospitals that were urban under the old labor market area designations and are now considered rural hospitals. Section 1886(d)(3)(E) of the Act specifies that any updates or adjustments to the wage index are to be budget neutral. Therefore, we applied an adjustment of 0.999591 to ensure that the effects of reclassification are budget neutral as indicated by the zero effect on payments to hospitals overall. The rural hospital row shows a 0.3 percent benefit from this provision as these hold harmless hospitals are now considered geographically rural.

I. Effects of MGCRB Reclassifications (Column 8)

Our impact analysis to this point has assumed hospitals are paid on the basis of their actual geographic location (with the exception of ongoing policies that provide that certain hospitals receive payments on other bases than where they are geographically located, such as hospitals in rural counties that are deemed urban under section 1886(d)(8)(B) of the Act). The changes in Column 8 reflect the per case payment impact of moving from this baseline to a simulation incorporating the MGCRB decisions for FY 2007 which affect hospitals' wage index area assignments.

By February 28 of each year, the MGCRB makes reclassification determinations that will be effective for the next fiscal year, which begins on October 1. The MGCRB may approve a hospital's reclassification request for the purpose of using another area's wage index value. The proposed FY 2007 wage index values incorporate all of the MGCRB's reclassification decisions for FY 2007. The wage index values also reflect any decisions made by the CMS Administrator through the appeals and review process through February 28, 2006.

For FY 2007, as stated in the FY 2006 IPPS final rule (70 FR 47382, August 12, 2005), we established procedural rules under section 1886(d)(10)(D)(v) of the Act to address specific circumstances where individual and group reclassifications involve a section 508 hospital. The rules were designed to recognize the special circumstances of section 508 hospital reclassifications ending mid-year during FY 2007 and were intended to allow previously approved reclassifications to continue through March 31, 2007, and new section 1886(d)(10) reclassifications to begin April 1, 2007, upon the conclusion of the section 508 reclassifications. Under these procedural rules, some section 1886(d)(10) hospital reclassifications are only in effect for the second half of the fiscal year.

The first and second half fiscal year section 1886(d)(10) reclassifications permitted under these procedural rules have implications for the calculation of the reclassified wage indices and the reclassification budget neutrality factor. Section 1886(d)(8)(c) of the Act provides requirements for determining the wage index values for hospitals that were reclassified as a result of the MGCRB decisions under 1886(d)(10) of the Act. As provided in the statute, we are required to calculate a separate wage index for hospitals reclassified to an area if including the wage data for the reclassified hospitals would reduce the area wage index by more than 1 percent.

Because of the half-year reclassifications permitted under the procedural rules, in this proposed rule we are proposing to issue two separate wage indexes for affected areas (one effective from October 1, 2006 through March 31, 2007 and a second reclassified wage index effective April 1, 2007 through September 30, 2007). The proposed FY 2007 wage index values are calculated based on the wage data for hospitals reclassified to the area in the respective half of the fiscal year. The impact of this policy is modeled in Column 8 of Table I above.

The overall effect of geographic reclassification is required by section 1886(d)(8)(D) of the Act to be budget neutral. In this proposed rule, we are proposing to calculate one budget neutrality adjustment that reflects the average of the adjustments required for first and second half fiscal year reclassifications, respectively. Therefore, we applied an adjustment of 0.991727 to ensure that the effects of the section 1886(d)(10) reclassifications are budget neutral. (See section II.A. of the Addendum to this proposed rule.)

As a group, rural hospitals benefit from geographic reclassification. We estimate that their payments will rise 2.2 percent as shown in Column 8. Payments to urban hospitals will decline by 0.3 percent. Hospitals in other urban areas will experience an overall decrease in payments of 0.2 percent, while large urban hospitals will lose 0.5 percent. Among urban hospital groups (that is, bed size, census division, and special payment status), payments generally would decline.

A positive impact is evident among all of the rural hospital groups. The smallest increase among the rural census divisions is 0.6 percent for the Mountain region. The largest increases are in the rural East South Central region, with an increase of 2.8 percent, and in the West South Central region, which would experience an increase of 3.0 percent.

Urban hospitals reclassified for the first half of FY 2007 are expected to receive an increase of 2.1 percent and urban hospitals reclassified for the second half of FY 2007 are expected to receive a 1.9 percent increase in payments. The same set of rural hospital providers are reclassified for the entire FY 2007 year and are expected to receive a 3.8 percent increase in payments from the MGCRB changes. Payments to urban hospitals that did not reclassify for either the first or second half of FY 2007 are expected to decrease slightly (by 0.7 percent) due to the MGCRB changes. FY 2007 payments to non-reclassifying rural hospitals are not affected by the MGCRB changes.

J. Effects of the Proposed Wage Index Adjustment for Out-Migration (Column 9)

Section 1886(d)(13) of the Act, as added by section 505 of Pub. L. 108-173, provides for an increase in the wage index for hospitals located in certain counties that have a relatively high percentage of hospital employees who reside in the county, but work in a different area with a higher wage index. Hospitals located in counties that qualify for the payment adjustment are to receive an increase in the wage index that is equal to a weighted average of the difference between the wage index of the resident county and the higher wage index work area(s), weighted by the overall percentage of workers who are employed in an area with a higher wage index. Using our established criteria, 321 counties and 586 hospitals qualify to receive a commuting adjustment in FY 2007.

Due to the statutory formula to calculate the adjustment and the small number of counties that qualify, the impact on hospitals is minimal, with an overall impact on all hospitals of 0.1 percent.

K. Effects of All Changes (Column 10)

Column 10 compares our estimate of payments per case, incorporating all changes reflected in this proposed rule for FY 2007 (including statutory changes), to our estimate of payments per case in FY 2006. This column includes all of the proposed policy changes. Column 10 reflects all FY 2007 changes relative to FY 2006, shown in Columns 2 through 9 and those not applied until the final rates are calculated. The average increase for all hospitals is approximately 3.4 percent. This increase includes the effects of the 3.4 percent market basket update. It also reflects the 0.4 percentage point difference between the projected outlier payments in FY 2006 (5.1 percent of total DRG payments) and the current estimate of the percentage of actual outlier payments in FY 2006 (4.7 percent), as described in the introduction to this Appendix and the Addendum to this proposed rule. As a result, payments are projected to be 0.4 percentage points lower in FY 2006 than originally estimated, resulting in a 0.4 percentage point greater increase for FY 2007 than would otherwise occur. In addition, the impact of section 505 adjustments accounted for a 0.1 percent increase. Indirect medical education formula changes for teaching hospitals under section 502 of Pub. L. 108-173, changes in payments due to the difference between the FY 2006 and FY 2007 wage index values assigned to providers reclassified under section 508 of Pub. L. 108-173, and changes in the incremental increase in payments from section 505 of Pub. L. 108-173 out-migration adjustments account for the remaining −0.5 percent.

There might also be interactive effects among the various factors comprising the payment system that we are not able to isolate. For these reasons, the values in Column 10 may not equal the product of the percentage changes described above.

The overall change in payments per case for hospitals in FY 2007 would increase by 3.4 percent. Hospitals in urban areas would experience a 3.0 percent increase in payments per case compared to FY 2006. Hospitals in large urban areas would experience a 3.4 percent increase in payments and hospitals in other urban areas would experience a 2.5 percent increase in payments. Hospitals in rural areas, meanwhile, would experience a 6.7 percent payment increase.

Among urban census divisions, the largest payment increases would be 4.6 percent in the Pacific region and 5.0 percent in Puerto Rico. The smallest urban increase would occur in the West North Central region, with an increase of 2.1 percent.

Among rural regions in Column 10, no hospital category would experience overall payment decreases. The New England and Middle Atlantic regions would benefit the most, with 7.7 percent increases. The smallest increase would occur in the Mountain region, with a 5.6 percent increase in payments.

Among special categories of rural hospitals in Column 10, MDH/RRC providers receive an increase in payments of 17.5 percent and MDH providers receive an increase of 14.6 percent, primarily due to the changes to MDH payments set forth in section 5003 of Pub. L. 109-171. SCHs also see a positive increase of 7.5 percent.

Urban hospitals reclassified for the first half of FY 2007 are anticipated to receive an increase of 3.1 percent, while urban hospitals that reclassified for the second half of FY 2007 are expected to receive an increase of 3.2 percent. The same set of rural hospitals is reclassified for the first and second half of FY 2007. Rural hospitals reclassifying for the entire year of FY 2007 are anticipated to receive a 5.3 percent payment increase. Those hospitals located in rural counties, but deemed to be urban under section 1886(d)(8)(B) of the Act are expected to receive an increase in payments of 8.7 percent. Hospitals that were reclassified under section 508 of Pub. L. 108-173, which is only effective through March 31, 2007, are expected to receive an increase of 0.6 percent. This is due in large part to the fact that the 508 wage index is only in effect for 6 months of FY 2007. Of the 95 section 508 providers listed in this row, 28 have a reduction in their FY 2007 blended final wage index (relative to their FY 2006 final wage index) of between 5 and 10 percent while 55 others have a reduction of 0 to 5 percent in their wage index values.

L. Effects of Policy on Payment Adjustments for Low-Volume Hospitals

For FY 2007, we are proposing to continue to apply the volume adjustment criteria we specified in the FY 2005 IPPS final rule (69 FR 49099). We expect that two providers would receive the low-volume adjustment for FY 2007. We estimate the impact of these providers receiving the additional 25-percent payment increase to be approximately $90,000.

M. Impact Analysis of Table II

Table II presents the projected impact of the proposed changes for FY 2007 for urban and rural hospitals and for the different categories of hospitals shown in Table I. It compares the estimated payments per case for FY 2006 with the average estimated per case payments for FY 2007, as calculated under our models. Thus, this table presents, in terms of the average dollar amounts paid per discharge, the combined effects of the changes presented in Table I. The percentage changes shown in the last column of Table II equal the percentage changes in average payments from Column 10 of Table I.

Table II.—Impact Analysis of Changes for FY 2007 Operating Prospective Payment System
[Payments Per Case]
| Number of hospitals | Average FY 2006 payment per case ¹ | Average FY 2007 payment per case ¹ | All FY 2007 changes;
| (1) | (2) | (3) | (4)
All hospitals | 3,522 | 8,529 | 8,820 | 3.4
By Geographic Location:
Urban hospitals | 2,517 | 8,933 | 9,201 | 3.0
Large urban areas (populations over 1 million) | 1,391 | 9,335 | 9,652 | 3.4
Other urban areas (populations of 1 million or fewer) | 1,126 | 8,449 | 8,657 | 2.5
Rural hospitals | 1,005 | 6,268 | 6,685 | 6.7
Bed Size (Urban):
0-99 beds | 590 | 6,736 | 7,015 | 4.1
100-199 beds | 865 | 7,465 | 7,856 | 5.2
200-299 beds | 482 | 8,377 | 8,666 | 3.4
300-499 beds | 414 | 9,437 | 9,647 | 2.2
500 or more beds | 166 | 11,294 | 11,470 | 1.6
Bed Size (Rural):
0-49 beds | 349 | 5,285 | 5,817 | 10.1
50-99 beds | 366 | 5,669 | 6,199 | 9.3
100-149 beds | 179 | 6,218 | 6,604 | 6.2
150-199 beds | 64 | 7,053 | 7,351 | 4.2
200 or more beds | 47 | 7,871 | 8,102 | 2.9
Urban by Region:
New England | 127 | 9,406 | 9,706 | 3.2
Middle Atlantic | 353 | 9,735 | 10,026 | 3.0
South Atlantic | 381 | 8,483 | 8,702 | 2.6
East North Central | 388 | 8,555 | 8,815 | 3.0
East South Central | 163 | 8,252 | 8,460 | 2.5
West North Central | 156 | 8,681 | 8,860 | 2.1
West South Central | 350 | 8,447 | 8,663 | 2.6
Mountain | 143 | 8,872 | 9,140 | 3.0
Pacific | 404 | 10,705 | 11,193 | 4.6
Puerto Rico | 52 | 4,187 | 4,395 | 5.0
Rural by Region:
New England | 19 | 8,209 | 8,838 | 7.7
Middle Atlantic | 72 | 6,283 | 6,766 | 7.7
South Atlantic | 175 | 6,057 | 6,477 | 6.9
East North Central | 125 | 6,482 | 6,860 | 5.8
East South Central | 181 | 6,013 | 6,396 | 6.4
West North Central | 118 | 6,460 | 6,864 | 6.3
West South Central | 191 | 5,730 | 6,137 | 7.1
Mountain | 80 | 6,723 | 7,099 | 5.6
Pacific | 44 | 7,707 | 8,278 | 7.4
By Payment Classification:
Urban hospitals | 2,539 | 8,916 | 9,185 | 3.0
Large urban areas (populations over 1 million) | 1,400 | 9,321 | 9,639 | 3.4
Other urban areas (populations of 1 million or fewer) | 1,139 | 8,426 | 8,636 | 2.5
Rural areas | 983 | 6,317 | 6,732 | 6.6
Teaching Status:
Non-teaching | 2,449 | 7,131 | 7,475 | 4.8
Fewer than 100 Residents | 836 | 8,634 | 8,857 | 2.6
100 or more Residents | 237 | 12,590 | 12,857 | 2.1
Urban DSH:
Non-DSH | 854 | 7,716 | 7,915 | 2.6
100 or more beds | 1,513 | 9,398 | 9,691 | 3.1
Less than 100 beds | 333 | 6,217 | 6,664 | 7.2
Rural DSH:
SCH | 383 | 5,860 | 6,371 | 8.7
RRC | 196 | 7,013 | 7,338 | 4.6
Other Rural:
100 or more beds | 55 | 5,729 | 6,144 | 7.2
Less than 100 beds | 188 | 5,140 | 5,606 | 9.1
Urban teaching and DSH:
Both teaching and DSH | 809 | 10,329 | 10,590 | 2.5
Teaching and no DSH | 198 | 8,614 | 8,752 | 1.6
No teaching and DSH | 1,037 | 7,624 | 7,982 | 4.7
No teaching and no DSH | 495 | 7,246 | 7,446 | 2.8
Rural Hospital Types:
Non special status hospitals | 288 | 5,367 | 5,807 | 8.2
RRC | 140 | 6,982 | 7,282 | 4.3
SCH | 341 | 6,079 | 6,535 | 7.5
MDH | 126 | 5,245 | 6,012 | 14.6
SCH and RRC | 80 | 7,261 | 7,562 | 4.1
MDH and RRC | 8 | 6,483 | 7,619 | 17.5
Type of Ownership:
Voluntary | 2,087 | 8,658 | 8,930 | 3.1
Proprietary | 831 | 7,734 | 8,023 | 3.7
Government | 604 | 8,783 | 9,192 | 4.7
Medicare Utilization as a Percent of Inpatient Days:
0-25 | 252 | 12,185 | 12,897 | 5.8
25-50 | 1,302 | 9,712 | 9,982 | 2.8
50-65 | 1,490 | 7,458 | 7,745 | 3.9
Over 65 | 459 | 6,668 | 6,940 | 4.1
Unknown | 19 | 6,427 | 6,956 | 8.2
Hospitals Reclassified by the Medicare Geographic Classification Review Board: FY 2005 Reclassifications
Urban Hospitals Reclassified by the Medicare Geographic Classification Review Board: First Half FY 2007 Reclassifications | 319 | 8,750 | 9,024 | 3.1
Urban Nonreclassified, First Half FY 2007 | 2,119 | 8,933 | 9,212 | 3.1
All Urban Hospitals Reclassified Second Half FY 2007 | 339 | 8,746 | 9,027 | 3.2
Urban Nonreclassified Hospitals Second Half FY 2007 | 2,099 | 8,935 | 9,213 | 3.1
All Rural Hospitals Reclassified Second Half FY 2007 | 385 | 6,782 | 7,143 | 5.3
Rural Nonreclassified Hospitals Second Half FY 2007 | 604 | 5,616 | 6,108 | 8.8
All Section 401 Reclassified Hospitals | 38 | 6,945 | 7,580 | 9.2
Other Reclassified Hospitals (Section 1886(d)(8)(B)) | 54 | 5,871 | 6,380 | 8.7
Section 508 Hospitals | 95 | 9,341 | 9,401 | 0.6
¹ These payment amounts per case do not reflect any estimates of annual case-mix increase.

VII. Effects of Other Proposed Policy Changes

In addition to those proposed changes discussed above that we are able to model using our IPPS payment simulation model, we are making various other changes in this proposed rule. Generally, we have limited or no specific data available with which to estimate the impacts of these changes. Our estimates of the likely impacts associated with these other changes are discussed below.

A. Effects of LTC-DRG Reclassifications and Relative Weights for LTCHs

In section II.F. of the preamble to this proposed rule, we discuss the proposed changes in the LTC-DRG relative weights for FY 2007, which are based on the proposed version 24.0 of the CMS GROUPER (including the proposed changes in the classifications, relative weights and geometric mean length of stay for each LTC-DRG). As also discussed in that same section of this proposed rule, currently, there is no statutory or regulatory requirement that the annual update to the LTC-DRG classifications and relative weights be done in a budget neutral manner. As discussed in the FY 2006 IPPS final rule (70 FR 47701), the LTCH PPS is still in the midst of a transition from a reasonable cost-based payment system to fully Federal PPS payments, during which time LTCH coding and data are still in flux.

The LTCH PPS was implemented for cost reporting periods beginning on or after October 1, 2002 (FY 2003). Therefore, the FY 2005 MedPAR data used to compute the proposed FY 2007 LTC-DRG relative weights are based on LTCH claims data taken from only the second full year of the LTCH PPS. Based on LTCH cases in the December 2005 update of the FY 2005 MedPAR files, we estimate that the proposed changes to the LTC-DRG classifications and relative weights for FY 2007 would result in an aggregate decrease in LTCH PPS payments of approximately 1.4 percent based on the data from the 363 LTCHs in our database. (We note that this estimated aggregate decrease in LTCH PPS payments of approximately 1.4 percent was determined based on the current payment rates and policies established in the RY 2006 LTCH PPS final rule (70 FR 24168 through 24261, May 6, 2005) and do not include any proposed policy or changes presented in the RY 2007 LTCH PPS proposed rule (71 FR 4648-4779, January 27, 2006).)

When we compared the GROUPER Version 23.0 (FY 2006) LTC-DRG relative weights to the proposed GROUPER Version 24.0 (FY 2007) proposed LTC-DRG relative weights, we found that approximately 62 percent of the LTC-DRGs would have a higher relative weight under Version 23.0, while the remaining approximately 38 percent of the LTC-DRGs would have a higher relative weight under Version 24.0. We also found that, based on FY 2005 LTCH cases, the GROUPER Version 23.0 LTC-DRG relative weights were, on average, approximately 3.1 percent higher than the proposed GROUPER Version 24.0 LTC-DRG relative weights. In addition, based on an analysis of the most recent available LTCH claims data from the FY 2005 MedPAR file, we continue to observe that the average proposed LTC-DRG relative weight decreases due to an increase of relatively lower charge cases being assigned to LTC-DRGs with higher relative weights in the prior year.

Contributing to this increase in these relatively lower charge cases being assigned to proposed LTC-DRGs with higher relative weights in the prior year are improvements in coding practices, which are typical when moving from a reasonable cost-based payment system to a PPS. The impact of including additional cases with relatively lower charges into LTC-DRGs that had a relatively higher relative weight in the GROUPER Version 23.0 (FY 2006) is a decrease in the average relative weight for those LTC-DRGs in the proposed GROUPER Version 24.0. As noted above in section II.F. of the preamble to this proposed rule, LTCHs are a specialized provider type that typically do not treat a broad spectrum of patients in their facilities with many different diagnoses. While there are 526 valid proposed GROUPER Version 24.0 LTC-DRGs, 191 LTC-DRGs have no LTCH cases. In addition, another 173 LTC-DRGs are categorized as “low volume” (that is, have less than 25 cases annually). Consequently, only about 162 LTC-DRGs are used by most LTCHs on a “regular basis” (that is, nationally LTCHs discharge, in total, an average of 25 or more of these cases annually).

Of these 162 LTC-DRGs that are used on a “regular basis,” we found that approximately 60 percent of the LTC-DRGs would have higher relative weights under GROUPER Version 23.0 in comparison to proposed GROUPER Version 24.0, and the remaining 40 percent of the 162 LTC-DRGs that are used on a “regular basis” would have higher relative weights under proposed GROUPER Version 24 in comparison to GROUPER Version 23.0. In addition, about 25 percent of the 162 LTC-DRGs that are used on a “regular basis” would experience a decrease in the average charge per case as compared to the average charge per case in that DRG based on FY 2004 data, which generally results in a lower relative weight. Moreover, of the162 LTC-DRGs that are used on a “regular basis,” approximately 63 percent of those LTC-DRGs would experience a change in the average charge per case from FY 2004 LTCH data as compared to FY 2005 LTCH data that is less than the increase in overall average LTCH charges across all LTC-DRGs from FY 2004 to FY 2005 of about 8.3 percent. Accordingly, those LTC-DRGs would also have a proposed reduction in their relative weight as compared to the relative weight in FY 2006. For those LTC-DRGs in which the average charge within the LTC-DRG increase is less than 8.3 percent, the proposed relative weights for those LTC-DRGs would decrease because the average charge for each of those LTC-DRGs is being divided by a larger number (that is, the average charge across all LTC-DRGs). For the reasons discussed above, we believe that the proposed changes in the LTC-DRG relative weights, which include a significant number of LTC-DRGs with lower proposed relative weights, would result in approximately a 1.4 percent decrease in estimated aggregate LTCH PPS payments.

B. Effects of Proposed New Technology Add-On Payments

In section II.G. of the preamble to this proposed rule, we discuss proposed add-on payments for new medical services and technologies. As explained in that section, we are no longer required to ensure that any add-on payments for new technology under section 1886(d)(5)(K) of the Act are budget neutral. However, we are still providing an estimate of the payment increases here, as they will have an impact on total payments made in FY 2007. New technology add-on payments are limited to the lesser of 50 percent of the costs of the technology, or 50 percent of the costs in excess of the DRG payment for the case. Because it is difficult to predict the actual new technology add-on payment for each case, we are estimating the increase in payment for FY 2007 as if every claim with these add-on payments will receive the maximum add-on payment. As discussed in section II.G. of the preamble to this proposed rule, we are not proposing to approve any of the new technology applications that were filed for FY 2007 for new technology add-on payment at this time.

However, we are proposing to continue to make add-on payments in FY 2007 for two technologies that were approved for FY 2006 new technology add-on payments: Restore® Rechargeable Implantable Neurostimulator and GORE TAG. We estimate these payments for these technologies will increase overall FY 2007 payments by $6.01 million and $16.61 million, respectively. The total increase in payments for these two new technologies, approximately $22.6 million, is not reflected in the tables.

C. Effects of Requirements for Hospital Reporting of Quality Data for Annual Hospital Payment Update

In section IV.A. of the preamble to this proposed rule, we discuss new requirements for hospital reporting of quality data based on our continuing experience with this program and recent legislation. Section 5001(a) of Pub. L. 109-171 (DRA) sets out extensive new requirements for the Reporting Hospital Quality Data for Annual Payment Update (RHQDAPU) program. The RHQDAPU program was established to implement section 501(b) of Pub. L. 108-173 (MMA). Section 5001(a) of Pub. L. 109-171 revised the mechanism used to update the standardized amount for payment for hospital inpatient operating costs. New sections 1886(b)(3)(B)(viii)(I) and (II) of the Act provide that the payment update for FY 2007 and each subsequent fiscal year will be reduced by 2.0 percentage points for any “subsection (d) hospital” that does not submit certain quality data in a form and manner, and at a time, specified by the Secretary.

We have modeled the payment impact of this change in Table 1 of this Appendix, and discussed it in section VI. of this Appendix. We discuss other policy changes we propose to make to the RHQDAPU program in section IV.A. of the preamble to this proposed rule.

We also note that, for the FY 2007 payment update, hospitals must pass our validation requirement of a minimum of 80 percent reliability, based upon our chart-audit validation process, for the first three quarters of data from CY 2005. These data were due to the QIO Clinical Warehouse by July 15, 2005 (first quarter CY 2005 discharges), November 15, 2005 (second quarter CY 2005 discharges), and February 15, 2005 (third quarter CY 2005 discharges). We have continued our efforts to ensure that QIOs provide assistance to all hospitals that wish to submit data. In the preamble of this proposed rule, we are providing additional validation criteria to ensure that the quality data being sent to CMS are accurate. The requirement of 5 charts per hospital will result in approximately 19,000 charts per quarter total submitted to the agency. We reimburse hospitals for the cost of sending charts to the Clinical Data Abstraction Center (CDAC) at the rate of 12 cents per page for copying and approximately $4.00 per chart for postage. Our experience shows that the average chart received at the CDAC is approximately 140 pages. Thus, the agency will have expenditures of approximately $380,000 per quarter to collect the charts. Given that we reimburse for the data collection effort, we believe that a requirement for five charts per hospital per quarter represents a minimal burden to the participating hospital.

D. Effects of Other Proposed Policy Changes Affecting Sole Community Hospitals (SCHs) and Medicare-Dependent, Small Rural Hospitals (MDHs)

In section IV.C. of the preamble to this proposed rule, we discuss the payment changes for MDHs made by section 5003 of Pub. L. 109-171. We modeled the payment impact of these changes in Table 1 of this Appendix and discussed them in section VI. of this Appendix.

In addition, in section IV.C.2. of the preamble to this proposed rule, we discussed a proposed change to the data source and methodology that we would use to compute the volume decrease adjustment for MDHs and SCHs. If certain requirements are met, this adjustment may be made if the hospital's total discharges decrease by more than 5 percent from one cost reporting period to the next. We do not believe that these proposed changes, which would not take effect until FY 2008, will have any significant impact on Medicare payment to these hospitals.

E. Effects of Proposed Policy on Payment for Direct Costs of Graduate Medical Education

1. Determination of Weighted Average GME PRAs for Merged Teaching Hospitals

In section IV.H.2. of the preamble to this proposed rule, we discuss our proposed changes related to determining the weighted average GME PRA for a merged teaching hospital. Our current policy is that when two or more teaching hospitals merge, we determine a weighted PRA for the surviving merged hospital using GME costs and resident data from the base year cost report for each teaching hospital in the merger. We are proposing to revise our policy to determine a merged teaching hospital's PRA by using PRA data and FTE resident data from the most recent settled cost reports of the merging hospitals, rather than using the direct GME cost data from the hospitals' base year cost report. This proposed policy revision is administrative in nature, and we do not foresee that the proposed revision would result in payment increases to merged teaching hospitals.

2. Determination of PRAs for New Teaching Hospitals

In section IV.H.3. of the preamble to this proposed rule, we discuss the methodology for determining the hospital-specific PRA for new teaching hospitals and propose to make a change to the existing regulations at § 413.77(e) in order to specify a base period for certain situations, that is, for new teaching hospitals that did not have residents on duty during the first month of the cost reporting period in which the hospital became a new teaching hospital. The proposed base period for these hospitals would be the next cost reporting period following the cost reporting period where any residents were on duty at the new teaching hospital. Because this proposed change is administrative in nature, we do not foresee that it would result in a financial impact for FY 2007.

3. Requirements for Counting and Appropriate Documentation of FTE Residents

In section IV.H.4. of the preamble to this proposed rule, we are proposing to clarify the policies that apply in determining hospitals' FTE resident counts for Medicare GME payment purposes. Because this is a clarification of existing policy, there is no financial impact for FY 2007.

4. Resident Time Spent in Nonpatient Care Activities as Part of an Approved Residency Program

In section IV.H.5. of the preamble to this proposed rule, we are proposing to clarify our policy that, with respect to residency training in nonhospital settings, only the time residents spend in patient care activities may be counted for purposes of direct GME and IME payments; and with respect to training in the hospital, residents training in all areas of the hospital complex may be counted for direct GME purposes, but may only be counted for IME purposes if the residents are furnishing patient care. Because we are proposing to clarify existing policy, there is no financial impact of this proposed clarification for FY 2007.

F. Effects of Proposed Policy Changes Relating to Emergency Services Under EMTALA

In section IV.J. of the preamble to this proposed rule, we discuss several proposed policy changes under the EMTALA requirements. We are proposing to clarify that any participating hospital with specialized capabilities or facilities, even if it does not have a dedicated emergency department, may not refuse to accept an appropriate transfer if the hospital has the capacity to treat the individual. We note that this proposed revision does not reflect any change in current CMS policy. We further note that the revision would not require hospitals without dedicated emergency departments to open dedicated emergency departments nor would it impose any EMTALA obligation on these hospitals with respect to individuals who come to the hospital as their initial point of entry into the medical system seeking a medical screening examination or treatment for a medical condition. Thus, there would be no impact on Medicare payment policies or practices.

In addition, we are proposing to modify the definition of “labor” to state that a woman experiencing contractions is in true labor unless a physician, certified nurse-midwife, or other qualified medical person acting within his or her scope of practice as defined in hospital medical staff bylaws and State law, certifies that, after a reasonable time of observation, the woman is in false labor. The effect of this change would be to have a single, uniform policy on the personnel who are authorized to make a determination as to whether an individual has an emergency medical condition. This proposal would have a Medicare payment effect, if any, only on payments to physicians and nonphysician practitioners under the physician fee schedule. The amount of any impact would be negligible because only a very small number of Medicare beneficiaries are women of childbearing age.

G. Effects of Policy on Rural Community Hospital Demonstration Program

In section IV.L. of the preamble to this proposed rule, we discuss our implementation of section 410A of Pub.L. 108-173 that required the Secretary to establish a demonstration that will modify reimbursement for inpatient services for up to 15 small rural hospitals. Section 410A(c)(2) requires that “in conducting the demonstration program under this section, the Secretary shall ensure that the aggregate payments made by the Secretary do not exceed the amount which the Secretary would have paid if the demonstration program under this section was not implemented.” As discussed in section IV.L. of the preamble to this proposed rule, we are satisfying this requirement by adjusting national IPPS rates by a factor that is sufficient to account for the added costs of this demonstration. We estimate that the average additional annual payment for FY 2007 that will be made to each participating hospital under the demonstration will be approximately $1,021,985. We based this estimate on the recent historical experience of the difference between inpatient cost and payment for hospitals that are participating in the demonstration. For the 9 participating hospitals, the total annual impact of the demonstration program is estimated to be $9,197,870. The proposed adjustment factor to the Federal rate used in calculating Medicare inpatient prospective payments as a result of the demonstration is 0.999905.

H. Effects of Proposed Policy on Hospitals-Within-Hospitals and Satellite Facilities

In section VI.A.5. of the preamble to this proposed rule, we discuss our proposal to revise the regulations for grandfathered HwHs, grandfathered hospital satellites and grandfathered satellite units at §§ 412.22(f), 412.22(h)(3), and 412.25(e)(3), respectively, to allow these facilities to reduce their square footage or number of beds without jeopardizing their grandfathered status. We also discuss our proposal to revise the HwH provision at § 412.22(f)(3) that would allow for increases or decreases in square footage, or decreases in the number of beds of the HwH that are made necessary by the relocation of a hospital in order to permit construction or renovation necessary to comply with Federal, State, or local law affecting the physical facility or because of catastrophic events such as fires, floods, earthquakes, or tornadoes.

Because we are proposing to allow these currently grandfathered HwHs, hospital satellites and satellite units to retain their grandfathered status if they reduce their square footage or number of beds, there would be no effect on the treatment of such hospitals as a result of this proposal. Because payments to HwHs and satellites are made on a per discharge basis (either under a PPS or under reasonable cost principles), if grandfathered HwHs and satellites were to reduce their size in the event this proposal is implemented, the effect of this change would likely be a reduction in Medicare payments to such hospitals and satellites because they would probably have fewer discharges. However, we cannot predict which HwHs or satellite facilities will opt to decrease their size or bed numbers nor can we predict the conditions under which HwHs would have to seek CMS approval for changes in the terms and conditions of their present construction or renovation of square footage or bed numbers made necessary by relocation of a hospital to permit compliance with Federal, State or local law affecting the physical facility or because of catastrophic events, and therefore, we are unable to quantify the impact of these proposed changes.

I. Effects of Proposed Policy Changes to the Methodology for Determining LTCH CCRs and the Reconciliation of LTCH PPS Outlier Payments

In section VI.A.6. of the preamble to this proposed rule, we discuss our proposal to revise and clarify the existing policies governing the determination of LTCHs' CCRs and the reconciliation of high-cost and short-stay outlier payments under the LTCH PPS. Under the LTCH PPS high-cost outlier and short-stay outlier policies, CCRs are used to determine the estimated cost of the case by multiplying the LTCH's overall CCR by the Medicare allowable charges for the case.

In that section, specifically, we present our proposal to revise our methodology for determining the annual LTCH CCR ceiling. Based on the most recent complete IPPS total CCR data, we are proposing a total CCR ceiling of 1.313 under the LTCH PPS effective October 1, 2006. This proposed ceiling was determined based on the same data used to determine the separate proposed IPPS operating CCR ceiling (1.25) and proposed IPPS capital CCR ceiling (0.158). The LTCH CCR ceiling determined under our current “combined” methodology would result in a slightly higher LTCH CCR ceiling (that is, 1.25 + 0.158 = 1.408) for FY 2007 compared to the proposed “total” CCR ceiling of 1.313 for FY 2007. However, we note that, based on the most recent complete IPPS and LTCH CCR data, there are no LTCHs that currently have a CCR that is greater than the proposed ceiling of 1.313 (the highest LTCH CCR in the database of 363 LTCHs is 1.132). Therefore, based on these data, because no LTCHs currently have a CCR that is in excess of the proposed LTCH CCR ceiling, we believe that there would be no significant impact on LTCH PPS payments based on this proposed policy.

Also in section VI.A.6. of the preamble to this proposed rule, we discuss our proposal to revise our methodology for determining the applicable statewide average LTCH CCRs. Based on the most recent complete IPPS total CCR data, the proposed LTCH PPS statewide average CCRs that would be effective October 1, 2006, are presented in Table 8C of the Addendum to this proposed rule. A comparison of the proposed statewide average total CCRs in Table 8C of the Addendum to this proposed rule to the “combined” statewide average CCRs that would be calculated under our existing methodology from the proposed operating PPS statewide average CCRs in Table 8A of the Addendum to this proposed rule and the proposed capital PPS statewide average CCRs in Table 8B of the Addendum to this proposed rule shows that the proposed changes to our methodology for determining LTCH statewide average CCRs would result in minor changes in the average CCR for each state. In particular, the largest decrease in a statewide average CCR (with the exception of Maryland, which would be assigned the national average total CCR as discussed in section VI.A.6 of the preamble of this proposed rule) would be in urban Indiana (−1.9 percent), and there are currently no LTCHs located in Indiana. The largest increase in a statewide average CCR would be in urban District of Columbia (2.8 percent), and there are currently only two LTCHs located in the District of Columbia. Thus, we believe that the proposed change in the methodology for determining the applicable statewide average LTCH CCRs would result in no significant impact on LTCH PPS payments.

In addition, in section VI.A.6 of the preamble of this proposed rule we discussed our proposal to codify in Subpart O of 42 CFR Part 412 the provisions governing the determination of LTCHs' CCRs and the reconciliation of high cost and short-stay outlier payments under the LTCH PPS, including proposed modifications and editorial clarifications to our existing methodology. These proposals are similar or almost identical (except for the minor clarifications and modifications) to our current policy governing the determination of LTCHs' CCRs and the reconciliation of high cost and short-stay outlier payments under the LTCH PPS, and therefore, there would be no expected impact if such policies were codified.

J. Effects of Proposed Policy on Payment for Services Furnished Outside the United States

In section VII. of the preamble to this proposed rule, we discuss our proposed clarification of our regulations regarding payment for Medicare services furnished outside the United States. The clarification proposes to revise references in our regulations that could be read to limit Medicare payment for certain services furnished outside the United States to services furnished in Canada or Mexico, contrary to the provisions of the Act. Only a small fraction of Medicare claims are paid as a result of services furnished outside of the United States. Moreover, we are unaware of any claims for payment that would otherwise satisfy the requirements under the Act that have not been paid due to the language in our current regulations. Therefore, because we are proposing to clarify existing policy, this proposed clarification has little or no financial impact for FY 2007.

K. Effects of Proposed Policy on Limitation on Payments to SNFs

In section IX. of the preamble to this proposed rule, we discuss our proposed implementation of section 5004 of Pub. L. 109-171, which mandated that, for cost reporting periods beginning on or after October 1, 2005, Medicare payments to SNFs for certain otherwise allowable debt amounts attributable to the coinsurance amounts for patients who are not full-benefit dual eligible individuals be reduced by 30 percent. We anticipate that the provisions of section 5004 of Pub. L. 109-171 will result in a decrease in payments to SNFs of $490 million over the 5-year period from FY 2006 to FY 2010.

VIII. Impact of Proposed Changes in the Capital PPS

A. General Considerations

Fiscal year (FY) 2001 was the last year of the 10-year transition period established to phase in the PPS for hospital capital-related costs. During the transition period, hospitals were paid under one of two payment methodologies: fully prospective or hold harmless. Under the fully prospective methodology, hospitals were paid a blend of the capital Federal rate and their hospital-specific rate (see § 412.340). Under the hold-harmless methodology, unless a hospital elected payment based on 100 percent of the capital Federal rate, hospitals were paid 85 percent of reasonable costs for old capital costs (100 percent for SCHs) plus an amount for new capital costs based on a proportion of the capital Federal rate (see § 412.344). As we state in section V. of the preamble of this proposed rule, with the 10-year transition period ending with hospital cost reporting periods beginning on or after October 1, 2001 (FY 2002), beginning in FY 2002 capital prospective payment system payments for most hospitals are based solely on the capital Federal rate. Therefore, we no longer include information on obligated capital costs or projections of old capital costs and new capital costs, which were factors needed to calculate payments during the transition period, for our impact analysis.

In accordance with § 412.312, the basic methodology for determining a capital PPS payment is:

(Standard Federal Rate) x (DRG weight) x (Geographic Adjustment Factor (GAF)) x (Large Urban Add-on, if applicable) x (COLA for hospitals located in Alaska and Hawaii) x (1 + Disproportionate Share (DSH) Adjustment Factor + Indirect Medical Education (IME) Adjustment Factor, if applicable).

In addition, hospitals may also receive outlier payments for those cases that qualify under the threshold established for each fiscal year.

The data used in developing the impact analysis presented below are taken from the December 2005 update of the FY 2005 MedPAR file and the December 2005 update of the Provider-Specific File that is used for payment purposes. Although the analyses of the changes to the capital prospective payment system do not incorporate cost data, we used the December 2005 update of the most recently available hospital cost report data (FYs 2003-2004) to categorize hospitals. Our analysis has several qualifications. First, we do not make adjustments for behavioral changes that hospitals may adopt in response to policy changes. Second, due to the interdependent nature of the IPPS, it is very difficult to precisely quantify the impact associated with each change. Third, we draw upon various sources for the data used to categorize hospitals in the tables. In some cases (for instance, the number of beds), there is a fair degree of variation in the data from different sources. We have attempted to construct these variables with the best available sources overall. However, for individual hospitals, some miscategorizations are possible.

Using cases from the December 2005 update of the FY 2005 MedPAR file, we simulated payments under the capital PPS for FY 2006 and FY 2007 for a comparison of total payments per case. Any short-term, acute care hospitals not paid under the general IPPS (Indian Health Service hospitals and hospitals in Maryland) are excluded from the simulations.

As we explain in section III.A. of the Addendum to this proposed rule, payments are no longer made under the regular exceptions provision under §§ 412.348(b) through (e). Therefore, we no longer use the actuarial capital cost model (described in Appendix B of the August 1, 2001 proposed rule (66 FR 40099)). We modeled payments for each hospital by multiplying the capital Federal rate by the GAF and the hospital's case-mix. We then added estimated payments for indirect medical education, disproportionate share, large urban add-on, and outliers, if applicable. For purposes of this impact analysis, the model includes the following assumptions:

• We estimate that the Medicare case-mix index will increase by 1.0 percent in both FYs 2006 and 2007.

• We estimate that the Medicare discharges will be 13.5 million in FY 2006 and 13.1 million in FY 2007 for a 3.0 percent decrease from FY 2006 to FY 2007.

• The capital Federal rate was updated beginning in FY 1996 by an analytical framework that considers changes in the prices associated with capital-related costs and adjustments to account for forecast error, changes in the case-mix index, allowable changes in intensity, and other factors. The proposed FY 2007 update is 0.8 percent (see section III.A.1. of the Addendum to this proposed rule).

• In addition to the proposed FY 2007 update factor, the proposed FY 2007 capital Federal rate was calculated based on a proposed GAF/DRG budget neutrality factor of 1.0012, a proposed outlier adjustment factor of 0.9513, and a proposed exceptions adjustment factor of 0.9997.

B. Results

We used the actuarial model described above to estimate the potential impact of our proposed changes for FY 2007 on total capital payments per case, using a universe of 3,522 hospitals. As described above, the individual hospital payment parameters are taken from the best available data, including the December 2005 update of the FY 2005 MedPAR file, the December 2005 update to the Provider-Specific File, and the most recent cost report data from the December 2005 update of HCRIS. In Table III, we present a comparison of total payments per case for FY 2006 compared to FY 2007 based on the proposed FY 2007 payment policies. Column 2 shows estimates of payments per case under our model for FY 2006. Column 3 shows estimates of payments per case under our model for FY 2007. Column 4 shows the total percentage change in payments from FY 2006 to FY 2007. The change represented in Column 4 includes the proposed 0.8 percent update to the capital Federal rate, a proposed 0.0 percent increase in case-mix, proposed changes in the adjustments to the capital Federal rate (for example, the effect of the proposed hospital wage index on the GAF), and reclassifications by the MGCRB. The comparisons are provided by: (1) Geographic location; (2) region; and (3) payment classification.

The simulation results show that, on average, capital payments per case can be expected to increase 2.0 percent in FY 2007. In addition to the 0.8 percent increase due to the capital market basket update, this projected increase in capital payments per case is largely attributable to the proposed change in the DRG recalibration process methodology for FY 2007 as discussed in section II.C. of the preamble, and to a lesser extent, an estimated increase in capital PPS outlier payments. The results of our comparisons by geographic location and by region are indicative of the results we expected after applying the proposed changes to the DRG recalibration methodology.

The geographic comparison shows that urban hospitals are expected to experience a 1.7 percent increase in IPPS capital payments per case, while rural hospitals are expected to experience a 4.6 percent increase in capital payments per case. This difference is mostly due to the proposed changes to the methodology used to recalibrate DRGs discussed in section II.C. of the preamble of this proposed rule. As discussed in greater detail in that section of this proposed rule, analysis of our current methodology for setting DRG weights (using gross charges) indicates that bias is introduced into the weighting process. Specifically, we have also observed that ancillary service cost centers, in general, have higher charge markups than routine and ICU service cost centers, and therefore, higher weights for DRGs that use more ancillary services as opposed to DRGs that use more routine services. Surgical DRGs tend to have charges concentrated in ancillary cost center groups while medical DRGs tend to have charges concentrated in routine or ICU cost center groups. The bias in our current methodology results in artificially higher DRG relative weights for hospitals that are generally more expensive, such as teaching hospitals and specialty hospitals. Hospitals with these characteristics are generally found in urban locations.

Since the proposed HSRVcc weighting methodology (discussed in section II.C. of the preamble of this proposed rule) would adjust the weights to remove differential markups in charges, the proposed FY 2007 DRG relative weights are redistributed among medical and surgical DRGs, which translates into a redistribution of payments among hospitals. For instance, hospitals that perform more surgical procedures (such as many urban hospitals) are likely to experience decreases in payments, while hospitals with heavy concentrations of medical DRGs (such as many rural hospitals) are expected to experience increases in payments as a result of this proposed change in our DRG recalibration methodology.

All regions are estimated to receive an increase in total capital payments per case from FY 2006 to FY 2007. Changes by region vary from a minimum increase of 0.7 percent (West North Central urban) to a maximum increase of 6.1 percent (Pacific rural). As previously discussed, the relatively small increase in projected capital payments per discharge for hospitals located in the urban regions and the larger increase for hospitals in rural regions is largely attributable to the proposed changes in the DRG recalibration methodology. Hospitals located in Puerto Rico are expected to experience an increase in total capital payments per case of 2.4 percent. This slightly higher than average increase in payment per case for hospitals located in Puerto Rico is, again, largely due to the proposed changes in the DRG recalibration methodology. By type of ownership, government hospitals are projected to have the largest rate of increase of total payment changes (3.2 percent). Similarly, payments to voluntary and proprietary hospitals are expected to increase 1.8 percent and 2.1 percent, respectively. As noted above, this slightly larger projected increase in capital payments per case for government hospitals is mostly due to the changes in the DRG calibration methodology.

Section 1886(d)(10) of the Act established the MGCRB. Before FY 2005, hospitals could apply to the MGCRB for reclassification for purposes of the standardized amount, wage index, or both. Section 401(c) of Pub. L. 108-173 equalized the standardized amounts under the operating IPPS. Therefore, beginning in FY 2005, there is no longer reclassification for the purposes of the standardized amounts; however, hospitals still may apply for reclassification for purposes of the wage index for FY 2007. Reclassification for wage index purposes also affects the GAF because that factor is constructed from the hospital wage index.

As discussed in section III.H.5. of the preamble of this proposed rule, procedural rules were established in the FY 2006 final rule (70 FR 47382) to recognize the special circumstances of section 508 hospital reclassifications ending mid-year during FY 2007. Under these procedural rules, some § 1886(d)(10) hospital reclassifications are only in effect for the second half of the fiscal year. These half fiscal year reclassifications have implications for the calculation of reclassified wage indices and therefore, affect capital payments since GAF values are calculated from the hospital wage index.

To present the effects of the hospitals being reclassified for FY 2007, we show the average payments per case for reclassified hospitals for each half of FY 2007 compared to the average payments per case for the same time period in FY 2006. The reclassified groups are compared to all other nonreclassified hospitals for the same time period. These categories are further identified by urban and rural designation. In general, the average payments per case in the first half of FY 2007 is the same as the average payments per case in the second half of FY 2007 with the exception of urban reclassifications, which increases by 0.1 percent (1.9 percent to 2.0 percent) for the second half of FY 2007. Rural hospitals, both reclassified and non-reclassified, are expected to have the largest increases in payments, although rural non-reclassified hospitals are projected to have the greater increase of 6.3 percent (for both halves of FY 2007) as compared to the 3.5 percent increase for rural reclassified hospitals (for both halves of FY 2007). As explained above in this section, this larger than average increase in payments per case from FY 2006 to FY 2007 for both rural reclassified and non-reclassified hospitals is mostly due to the redistributive effects of the proposed changes in the DRG recalibration methodology. Conversely, for urban hospitals, reclassified (urban) hospitals are projected to have increases of 1.9 percent and 2.0 percent in the first and second halves of FY 2007, respectively, while non-reclassified (urban) hospitals are projected to have a slightly lesser increase of 1.7 percent.

As discussed in section VI.B. of the preamble of this proposed rule, we are proposing a technical revision to § 412.316(b) and § 412.320 to clarify that hospitals reclassified as rural under § 412.103 are not eligible for the large urban add-on or for capital DSH to reflect our historic policy that hospitals reclassified as rural under § 412.103 also are considered rural under capital PPS regulations. Currently, there are 38 hospitals that reclassified under this regulation and only 12 of these hospitals (about 0.3 percent of all IPPS hospitals) would be affected by the proposed technical revisions to sections § 412.316(b) and § 412.320 concerning the treatment of hospitals reclassified as rural under section § 412.103. Based on the most recent available data, we estimate that the impact of these proposed changes would be less than a 0.00001 percent decrease in aggregate IPPS payments.

Table III.—Comparison of Total Payments Per Case
[FY 2006 Payments Compared To Proposed FY 2007 Payments]
| Number of hospitals | Average FY 2006 payments/case | Average FY 2007 payments/case | Change
By Geographic Location:
All hospitals | 3,522 | 740 | 755 | 2.0
Large urban areas (populations over 1 million) | 1,391 | 823 | 840 | 2.1
Other urban areas (populations of 1 million of fewer) | 1,126 | 729 | 738 | 1.2
Rural areas | 1,005 | 512 | 535 | 4.6
Urban hospitals | 2,517 | 780 | 794 | 1.7
0-99 beds | 590 | 607 | 624 | 2.7
100-199 beds | 865 | 660 | 684 | 3.8
200-299 beds | 482 | 735 | 750 | 2.0
300-499 beds | 414 | 816 | 823 | 0.9
500 or more beds | 166 | 978 | 984 | 0.7
Rural hospitals | 1,005 | 512 | 535 | 4.6
0-49 beds | 349 | 422 | 454 | 7.6
50-99 beds | 366 | 472 | 501 | 6.3
100-149 beds | 179 | 514 | 537 | 4.3
150-199 beds | 64 | 567 | 582 | 2.7
200 or more beds | 47 | 630 | 642 | 1.8
By Region:
Urban by Region | 2,517 | 780 | 794 | 1.7
New England | 127 | 831 | 853 | 2.7
Middle Atlantic | 353 | 844 | 862 | 2.1
South Atlantic | 381 | 746 | 754 | 1.1
East North Central | 388 | 766 | 781 | 1.9
East South Central | 163 | 713 | 720 | 0.9
West North Central | 156 | 769 | 775 | 0.7
West South Central | 350 | 729 | 737 | 1.1
Mountain | 143 | 787 | 799 | 1.6
Pacific | 404 | 899 | 926 | 3.0
Puerto Rico | 52 | 342 | 351 | 2.4
Rural by Region | 1,005 | 512 | 535 | 4.6
New England | 19 | 685 | 709 | 3.5
Middle Atlantic | 72 | 516 | 539 | 4.5
South Atlantic | 175 | 497 | 522 | 5.0
East North Central | 125 | 544 | 566 | 4.2
East South Central | 181 | 475 | 496 | 4.4
West North Central | 118 | 533 | 555 | 4.1
West South Central | 191 | 470 | 494 | 5.1
Mountain | 80 | 535 | 554 | 3.5
Pacific | 44 | 615 | 652 | 6.1
By Payment Classification:
All hospitals | 3,522 | 740 | 755 | 2.0
Large urban areas (populations over 1 million) | 1,400 | 821 | 839 | 2.1
Other urban areas (populations of 1 million of fewer) | 1,139 | 728 | 737 | 1.3
Rural areas | 983 | 513 | 536 | 4.5
Teaching Status
Non-teaching | 2,449 | 621 | 640 | 3.0
Fewer than 100 Residents | 836 | 753 | 762 | 1.2
100 or more Residents | 237 | 1,075 | 1,090 | 1.4
Urban DSH:
100 or more beds | 1,513 | 806 | 821 | 1.8
Less than 100 beds | 333 | 542 | 572 | 5.6
Rural DSH:
Sole Community (SCH/EACH) | 383 | 465 | 493 | 6.1
Referral Center (RRC/EACH) | 196 | 567 | 585 | 3.0
Other Rural:
100 or more beds | 55 | 469 | 496 | 5.8
Less than 100 beds | 188 | 425 | 457 | 7.4
Urban teaching and DSH:
Both teaching and DSH | 809 | 884 | 896 | 1.4
Teaching and no DSH | 198 | 792 | 798 | 0.7
No teaching and DSH | 1,037 | 658 | 678 | 3.1
No teaching and no DSH | 495 | 682 | 691 | 1.3
Rural Hospital Types:
Non special status hospitals | 288 | 448 | 477 | 6.6
RRC/EACH | 40 | 575 | 590 | 2.6
SCH/EACH | 341 | 479 | 507 | 5.8
Medicare-dependent hospitals (MDH) | 126 | 433 | 463 | 6.9
SCH, RRC and EACH | 80 | 577 | 596 | 3.3
Hospitals Reclassified by the Medicare Geographic Classification Review Board:
FY2007 Reclassifications:
All Urban Reclassified 1st Half | 316 | 767 | 782 | 1.9
All Urban Non-Reclassified 1st Half | 2,178 | 783 | 796 | 1.7
All Rural Reclassified 1st Half | 373 | 556 | 576 | 3.5
All Rural Non-Reclassified 1st Half | 563 | 451 | 480 | 6.3
All Urban Reclassified 2nd Half | 374 | 785 | 801 | 2.0
All Urban Non-Reclassified 2nd Half | 2,120 | 780 | 793 | 1.7
All Rural Reclassified 2nd Half | 373 | 556 | 576 | 3.5
All Rural Non-Reclassified 2nd Half | 563 | 451 | 480 | 6.3
All Section 401 Reclassified Hospitals | 38 | 516 | 537 | 4.1
Other Reclassified Hospitals (Section 1886(d)(8)(B)) | 54 | 513 | 544 | 6.1
Type of Ownership:
Voluntary | 2,087 | 757 | 770 | 1.8
Proprietary | 831 | 670 | 685 | 2.1
Government | 604 | 727 | 751 | 3.2
Medicare Utilization as a Percent of Inpatient Days:
0-25 | 252 | 970 | 1,016 | 4.7
25-50 | 1,302 | 838 | 851 | 1.5
50-65 | 1,490 | 655 | 670 | 2.4
Over 65 | 459 | 589 | 601 | 2.1

IX. Alternatives Considered

This proposed rule contains a range of policies, including some proposals related to specific DRA and MMA provisions. The preamble of this proposed rule provides descriptions of the statutory provisions that are addressed, identifies those policies when discretion has been exercised, presents rationale for our decisions and, where relevant, alternatives that were considered.

X. Overall Conclusion

The changes in this proposed rule would affect all classes of hospitals. Some hospitals are expected to experience significant gains and others less significant gains, but overall hospitals are projected to experience positive updates in IPPS payments in FY 2007. Table I of section VI of this Appendix demonstrates the estimated distributional impact of the IPPS budget neutrality requirements for DRG and wage index changes, for the hold harmless transition for rural hospitals formerly classified as urban, and for the wage index reclassifications under the MGCRB. Table I also shows an overall increase of 3.4 percent in operating payments, which, in conjunction with the estimated 2.0 percent increase in capital payments to IPPS providers shown in Table III of section VIII of this Appendix, should result in a net increase of $3.33 billion to IPPS providers. The discussions presented in the previous pages, in combination with the rest of this proposed rule, constitute a regulatory impact analysis.

XI. Accounting Statement

As required by OMB Circular A-4 (available at http://www.whitehousegov/omb/circulars/a004/a-4.pdf), in Table IV below, we have prepared an accounting statement showing the classification of the expenditures associated with the provisions of this proposed rule. This table provides our best estimate of the increase in Medicare payments on providers as a result of the proposed changes to the IPPS, the LTCH case-mix, and the limitation on payments to SNFs for bad debt presented in this rule. All expenditures are classified as transfers to Medicare providers.

Table IV.—Accounting Statement: Classification of Estimated Expenditures from FY 2006 to FY 2007
Category | Transfers
Annualized Monetized Transfers | $3.809 Billion.
From Whom to Whom | Federal Government to IPPS Medicare Providers, LTCHs, and SNFs.
Total | $3.809 Billion.

XII. Executive Order 12866

In accordance with the provisions of Executive Order 12866, the Office of Management and Budget reviewed this proposed rule.

Appendix B: Recommendation of Update Factors for Operating Cost Rates of Payment for Inpatient Hospital Services

(If you choose to comment on issues in this section, please include the caption “Update Factors” at the beginning of your comment.)

I. Background

Section 1886(e)(4)(A) of the Act requires that the Secretary, taking into consideration the recommendations of the Medicare Payment Advisory Commission (MedPAC), recommend update factors for inpatient hospital services for each fiscal year that take into account the amounts necessary for the efficient and effective delivery of medically appropriate and necessary care of high quality. Under section 1886(e)(5)(B) of the Act, we are required to publish the proposed and final update factors recommended by the Secretary in the proposed and final IPPS rules respectively. Accordingly, this Appendix provides the recommendations of appropriate update factors for the IPPS standardized amount, the hospital-specific rates for SCHs and MDHs, and the rate-of-increase limits for hospitals and hospital units excluded from the IPPS. We also discuss our response to MedPAC's recommended update factors for inpatient hospital services.

II. Inpatient Hospital Update for FY 2007

Section 1886(b)(3)(B)(i)(XX) of the Act, as amended by section 5001(a) of Pub. L. 109-171, sets the FY 2007 percentage increase in the operating cost standardized amount equal to the rate-of-increase in the hospital market basket for IPPS hospitals in all areas, subject to the hospital submitting quality information under rules established by the Secretary under section 1886(b)(3)(B)(viii) of the Act. For hospitals that do not provide these data, the update is equal to the market basket percentage increase less 2.0 percentage points. Consistent with current law, based on the Office of the Actuary's first quarter 2006 forecast of the FY 2007 market basket increase, we are estimating that the FY 2007 update to the standardized amount will be 3.4 percent (that is, the current estimate of the market basket rate-of-increase) for hospitals in all areas, provided the hospital submits quality data in accordance with our rules. For hospitals that do not submit quality data, we are estimating that the update to the standardized amount will be 1.4 percent (that is, the current estimate of the market basket rate-of-increase minus 2.0 percentage points).

Section 1886(b)(3)(B)(iv) of the Act sets the FY 2007 percentage increase in the hospital-specific rates applicable to SCHs and MDHs equal to the rate set forth in section 1886(b)(3)(B)(i) of the Act (that is, the same update factor as for all other hospitals subject to the IPPS, or the rate-of-increase in the market basket). Therefore, the update to the hospital-specific rates applicable to SCHs and MDHs is also estimated to be 3.4 percent.

Section 1886(b)(3)(B)(ii) of the Act is used for purposes of determining the percentage increase in the rate-of-increase limits for children's and cancer hospitals. Section 1886(b)(3)(B)(ii) of the Act sets the percentage increase in the rate-of-increase limits equal to the market basket percentage increase for years after FY 2002. In accordance with § 403.752(a) of the regulations, RNHCIs are paid under § 413.40, which also uses section 1886(b)(3)(B)(ii) of the Act to update the percentage increase in the rate-of-increase limits. Section 1886(j)(3)(C) of the Act addresses the increase factor for the Federal prospective payment rate of IRFs. Section 123 of Pub. L. 106-113, as amended by section 307(b) of Pub. L. 106-554, provides the statutory authority for updating payment rates under the LTCH PPS. In addition, section 124 of the BBRA provides the statutory authority for updating the payment rates of IPFs. Under this broad authority, IPFs that are not defined as new under § 412.426(c) will be paid under a blend methodology for cost reporting periods beginning on or after January 1, 2005, through June 30, 2008. The blend methodology consists of a blend of the estimated Federal per diem payment amount and a facility-specific payment amount. Under the authority of section 124 of the BBRA, the estimated Federal per diem payment amount is updated and the facility-specific payment is updated in accordance with 42 CFR Part 413, which uses section 1886(b)(3)(B)(ii) of the Act to determine the percentage increase in the rate-of-increase limits. New IPFs are paid based on 100 percent of the Federal per diem payment amount, which is updated under the authority of section 124 of the BBRA.

In addition, some LTCHs and IPFs are transitioning to 100 percent of the Federal rate and currently receive a blend of reasonable cost-based payments computed under the TEFRA methodology and their respective Federal payment rates. As discussed below, the transition ends for LTCHs (not defined as new and that have not elected to be paid under 100 percent of the Federal rate) for cost reporting periods beginning on or after October 1, 2006. Therefore, because no portion of LTCHs' prospective payments will be based on reasonable costs for cost reporting periods beginning on or after October 1, 2006, we are not proposing an FY 2007 rate-of-increase adjustment under section 1886(b)(3)(B)(ii) of the Act for LTCHs. Any IPFs that receive reasonable cost-based payments will have that portion of its payments determined subject to the TEFRA rate-of-increase limits for FY 2007.

Currently, children's hospitals, cancer hospitals and RNHCIs are the remaining three types of hospitals still reimbursed fully under reasonable costs. As we discuss in section IV. of the Addendum to this proposed rule, we are proposing to provide an estimate of the FY 2007 IPPS operating market basket percentage increase (3.4 percent) that will be used to update the target limits for children's hospitals, cancer hospitals, and RNHCIs.

Effective since cost reporting periods beginning FY 2003, LTCHs have been paid under the LTCH PPS, which was implemented with a 5-year transition period for LTCHs not defined as new under § 412.23(e)(4) (hereafter referred to as “existing”). (Refer to 67 FR 55954, August 30, 2002.) An existing LTCH could have elected to be paid on 100 percent of the Federal prospective rate at the start of any of its cost reporting periods during the 5-year transition period. During this transition period, if an existing LTCH did not elect to be paid 100 percent of the Federal prospective payment rate, it received a payment which consisted of a blend of its reasonable cost-based payment (subject to the TEFRA rate-of-increase limits) and the Federal prospective payment rate. Because the transition period ends with LTCH cost reporting periods beginning on or after October 1, 2006, those LTCHs who now receive blended payments will be paid based on 100 percent of the Federal prospective rate.

Effective for cost reporting periods beginning on or after January 1, 2005, IPFs are paid under the IPF PPS. IPF PPS payments are based on a Federal per diem rate that is based on the sum of the average routine operating, ancillary, and capital costs for each patient day of psychiatric care in an IPF, adjusted for budget neutrality. During a transition period between January 1, 2005 and January 1, 2008, existing IPFs are paid based on a blend of the reasonable cost-based payments, subject to the TEFRA limit, and the Federal per diem base rate. For cost reporting periods beginning on or after January 1, 2008, IPFs will be paid based on 100 percent of the Federal per diem rate. For purposes of the update factor for FY 2007, the portion of the IPF PPS transitional blend payment based on reasonable costs would be determined by updating the IPF's TEFRA limit by the current estimate of the excluded hospital market basket, which is estimated to be 3.6 percent. The estimated update to the Federal per diem rate for July 1, 2006, through June 30, 2007, was provided in the RY 2007 IPF proposed rule (71 FR 3620).

IRFs are paid under the IRF PPS for cost reporting periods beginning on or after January 1, 2002. For cost reporting periods beginning on or after October 1, 2002 (FY 2003), and thereafter, the Federal prospective payments to IRFs are based on 100 percent of the adjusted Federal IRF prospective payment amount, updated annually. (Refer to the IRF final rule (69 FR 45721).)

III. Secretary's Recommendation

In previous years, in making a recommendation, we included an update framework that analyzed hospital productivity, scientific and technological advances, practice pattern changes, changes in case-mix, the effects of reclassification on recalibration and forecast error correction. Although we have used this framework in past years, as we stated in the FY 2006 proposed rule, we are no longer including this analysis in our recommendation for the update (70 FR 23672, May 4, 2005).

MedPAC is recommending an inpatient hospital update equal to the market basket rate of increase for FY 2007 minus an adjustment factor of 0.45 percentage points. The 0.45 percentage point reduction represents half of estimated productivity growth in the general economy for 2007 that the Commission expects the hospital industry to achieve. MedPAC's rationale for this update recommendation is described in more detail below. Using the 2006 first quarter forecast from the Office of the Actuary of the FY 2007 market basket increase and an adjustment factor based on the FY 2007 President's budget, we are recommending an update to the standardized amount of 2.95 percent (that is, the market basket rate-of-increase of 3.4 minus an adjustment factor of 0.45 percentage points). Our update recommendation is the same as MedPAC's.

In addition to making a recommendation for IPPS hospitals, in accordance with section 1886(e)(4)(A) of the Act, we are also recommending update factors for all other types of hospitals. Using the 2006 first quarter forecast from the Office of the Actuary of the FY 2007 market basket increase and an adjustment factor based on the FY 2007 President's budget, for FY 2007, for SCHs and MDHs, we are recommending an update of 2.95 percent.

For FY 2007, for children's hospitals, cancer hospitals, and RNHCIs, based on the first quarter forecast from the Office of the Actuary of the FY 2007 market basket increase and an adjustment factor from the FY 2007 President's budget, we are also recommending an update of 2.95 percent to the target limits.

For IPFs that are currently paid a blend of reasonable cost-based (subject to the TEFRA limits) and Federal prospective payment amounts, based on the latest estimate from the Office of the Actuary and an adjustment factor from the FY 2007 President's budget, we are recommending an update factor of 3.15 percent for the portion of the payment that is based on reasonable costs, subject to the TEFRA limits.

We note that section 1886(e)(3) of the Act directs the Secretary to report to Congress an initial estimate of the recommendation of an appropriate payment inflation update for inpatient hospital services for the upcoming fiscal year. In the Secretary's Report to Congress this year, the Secretary recommended the President's FY 2007 update of 2.95 percent (3.4 percent minus an adjustment factor of 0.45 percentage points) for the market basket update for the TEFRA portion of IPF blended payment rates. The difference between the update recommendation in the Secretary's Report to Congress and the update we are recommending in this proposed rule (3.15 percent) is due to the availability and use of more recent data for the market basket than were available at the time the Secretary's recommendation was developed.

Consistent with our proposal in the RY 2007 LTCH PPS proposed rule (71 FR 4667, January 27, 2006), we are recommending the Federal rate remain unchanged for RY 2007. In the RY 2007 IPF PPS proposed rule (71 FR 3620, January 23, 2006), we proposed an update factor of 4.5 percent to the IPF PPS for RY 2007. The proposed update reflects an increase from the 18-month period beginning January 1, 2005, when the IPF PPS was first adopted. Consistent with the RY 2007 IPF proposed rule, we are recommending an update factor of 4.5 percent for inpatient psychiatric facilities. Finally, consistent with the President's FY 2007 budget, we are recommending the Federal rate to the IRF PPS remain unchanged for FY 2007.

IV. MedPAC Recommendation for Assessing Payment Adequacy and Updating Payments in Traditional Medicare

In the past, MedPAC has suggested specific adjustments to its update recommendation for each of the factors discussed under section III. of this Appendix. In its March 2006 Report to Congress, MedPAC assessed the adequacy of current payments and costs and the relationship between payments and an appropriate cost base, utilizing an established methodology used by the Commission in the past several years.

Despite a projected negative overall Medicare margin of −2.2 percent in 2006, the Commission recommended an update to the hospital inpatient rates equal to the increase in the hospital market basket minus an adjustment factor of 0.45 percentage points. The 0.45 percentage point reduction represents half of an estimate of productivity growth in the general economy for 2007 that the Commission expects the hospital industry to achieve.

MedPAC noted that, notwithstanding negative overall Medicare margins, most of the indicators of Medicare payment adequacy to hospitals are positive, including beneficiaries' access to care, increased access to capital, and service volume increases. MedPAC also noted that Medicare payment rates should cover the costs of efficient hospitals and that, “more efficient hospitals may not be performing as poorly as the [hospital] industry's aggregate margin would suggest.”

Response: We agree with MedPAC and are also recommending an inpatient hospital update equal to the market basket minus an adjustment factor of 0.45 percentage points. However, we note that the law would need to be changed in order for the MedPAC recommendation and our update recommendation to be applied. Without a change in law, we will update the IPPS rates by the full market basket, which we currently estimate to be 3.4 percent for FY 2007, for hospitals that submit quality data that meet our validation requirements. For all other hospitals, the IPPS update will equal the market basket minus 2.0 percentage points.

In addition, because the operating and capital prospective payment systems remain separate, we are proposing to continue to use separate updates for operating and capital payments. The proposed update to the capital payment rate is discussed in section III. of the Addendum to this proposed rule.

Appendix C.—Combinations of Proposed Consolidated Severity-Adjusted DRGs
Type | MDC | Consolidated severity-adjusted DRG | Consolidated severity-adjusted DRG description
S | 0 | 1 | LIVER TRANSPLANT AND/OR INTESTINAL TRANSPLANT SOI 1 & 2.
S | 0 | 2 | LIVER TRANSPLANT AND/OR INTESTINAL TRANSPLANT SOI 3.
S | 0 | 3 | LIVER TRANSPLANT AND/OR INTESTINAL TRANSPLANT SOI 4.
S | 0 | 4 | HEART &/OR LUNG TRANSPLANT SOI 1 & 2.
S | 0 | 5 | HEART &/OR LUNG TRANSPLANT SOI 3.
S | 0 | 6 | HEART &/OR LUNG TRANSPLANT SOI 4.
S | 0 | 7 | BONE MARROW TRANSPLANT SOI 1.
S | 0 | 8 | BONE MARROW TRANSPLANT SOI 2.
S | 0 | 9 | BONE MARROW TRANSPLANT SOI 3.
S | 0 | 10 | BONE MARROW TRANSPLANT SOI 4.
S | 0 | 11 | TRACHEOSTOMY W LONG TERM MECHANICAL VENTILATION W EXTENSIVE PROCEDURE SOI 1 & 2.
S | 0 | 12 | TRACHEOSTOMY W LONG TERM MECHANICAL VENTILATION W EXTENSIVE PROCEDURE SOI 3.
S | 0 | 13 | TRACHEOSTOMY W LONG TERM MECHANICAL VENTILATION W EXTENSIVE PROCEDURE SOI 4.
S | 0 | 14 | TRACHEOSTOMY W LONG TERM MECHANICAL VENTILATION W/O EXTENSIVE PROCEDURE SOI 1 & 2.
S | 0 | 15 | TRACHEOSTOMY W LONG TERM MECHANICAL VENTILATION W/O EXTENSIVE PROCEDURE SOI 3.
S | 0 | 16 | TRACHEOSTOMY W LONG TERM MECHANICAL VENTILATION W/O EXTENSIVE PROCEDURE SOI 4.
S | 0 | 17 | PANCREAS TRANSPLANT SOI 1 & 2.
S | 0 | 18 | PANCREAS TRANSPLANT SOI 3.
S | 0 | 19 | PANCREAS TRANSPLANT SOI 4.
S | 1 | 20 | NERVOUS SYSTEM PROCDURES SOI 4.
S | 1 | 21 | CRANIOTOMY FOR TRAUMA SOI 1.
S | 1 | 22 | CRANIOTOMY FOR TRAUMA SOI 2.
S | 1 | 23 | CRANIOTOMY FOR TRAUMA SOI 3.
S | 1 | 24 | CRANIOTOMY EXCEPT FOR TRAUMA SOI 1.
S | 1 | 25 | CRANIOTOMY EXCEPT FOR TRAUMA SOI 2.
S | 1 | 26 | CRANIOTOMY EXCEPT FOR TRAUMA SOI 3.
S | 1 | 27 | VENTRICULAR SHUNT PROCEDURES SOI 1.
S | 1 | 28 | VENTRICULAR SHUNT PROCEDURES SOI 2.
S | 1 | 29 | VENTRICULAR SHUNT PROCEDURES SOI 3.
S | 1 | 30 | SPINAL PROCEDURES SOI 1.
S | 1 | 31 | SPINAL PROCEDURES SOI 2.
S | 1 | 32 | SPINAL PROCEDURES SOI 3.
S | 1 | 33 | EXTRACRANIAL VASCULAR PROCEDURES SOI 1.
S | 1 | 34 | EXTRACRANIAL VASCULAR PROCEDURES SOI 2.
S | 1 | 35 | EXTRACRANIAL VASCULAR PROCEDURES SOI 3.
S | 1 | 36 | OTHER NERVOUS SYSTEM & RELATED PROCEDURES SOI 1.
S | 1 | 37 | OTHER NERVOUS SYSTEM & RELATED PROCEDURES SOI 2.
S | 1 | 38 | OTHER NERVOUS SYSTEM & RELATED PROCEDURES SOI 3.
M | 1 | 39 | NERVOUS SYSTEM MEDICAL DIAGNOSES EXCEPT INFECTIONS SOI 4.
M | 1 | 40 | INFECTIONS OF NERVOUS SYSTEM SOI 4.
M | 1 | 41 | SPINAL DISORDERS & INJURIES SOI 1.
M | 1 | 42 | SPINAL DISORDERS & INJURIES SOI 2.
M | 1 | 43 | SPINAL DISORDERS & INJURIES SOI 3.
M | 1 | 44 | NERVOUS SYSTEM MALIGNANCY SOI 1.
M | 1 | 45 | NERVOUS SYSTEM MALIGNANCY SOI 2.
M | 1 | 46 | NERVOUS SYSTEM MALIGNANCY SOI 3.
M | 1 | 47 | DEGENERATIVE NERVOUS SYSTEM DISORDERS EXC MULT SCLEROSIS SOI 1.
M | 1 | 48 | DEGENERATIVE NERVOUS SYSTEM DISORDERS EXC MULT SCLEROSIS SOI 2.
M | 1 | 49 | DEGENERATIVE NERVOUS SYSTEM DISORDERS EXC MULT SCLEROSIS SOI 3.
M | 1 | 50 | MULTIPLE SCLEROSIS & OTHER DEMYELINATING DISEASES SOI 1.
M | 1 | 51 | MULTIPLE SCLEROSIS & OTHER DEMYELINATING DISEASES SOI 2.
M | 1 | 52 | MULTIPLE SCLEROSIS & OTHER DEMYELINATING DISEASES SOI 3.
M | 1 | 53 | INTRACRANIAL HEMORRHAGE SOI 1.
M | 1 | 54 | INTRACRANIAL HEMORRHAGE SOI 2.
M | 1 | 55 | INTRACRANIAL HEMORRHAGE SOI 3.
M | 1 | 56 | CVA & PRECEREBRAL OCCLUSION W INFARCT SOI 1.
M | 1 | 57 | CVA & PRECEREBRAL OCCLUSION W INFARCT SOI 2.
M | 1 | 58 | CVA & PRECEREBRAL OCCLUSION W INFARCT SOI 3.
M | 1 | 59 | NONSPECIFIC CVA & PRECEREBRAL OCCLUSION W/O INFARCT SOI 1.
M | 1 | 60 | NONSPECIFIC CVA & PRECEREBRAL OCCLUSION W/O INFARCT SOI 2.
M | 1 | 61 | NONSPECIFIC CVA & PRECEREBRAL OCCLUSION W/O INFARCT SOI 3.
M | 1 | 62 | TRANSIENT ISCHEMIA SOI 1.
M | 1 | 63 | TRANSIENT ISCHEMIA SOI 2.
M | 1 | 64 | TRANSIENT ISCHEMIA SOI 3.
M | 1 | 65 | PERIPHERAL, CRANIAL & AUTONOMIC NERVE DISORDERS SOI 1.
M | 1 | 66 | PERIPHERAL, CRANIAL & AUTONOMIC NERVE DISORDERS SOI 2.
M | 1 | 67 | PERIPHERAL, CRANIAL & AUTONOMIC NERVE DISORDERS SOI 3.
M | 1 | 68 | BACTERIAL & TUBERCULOUS INFECTIONS OF NERVOUS SYSTEM SOI 1.
M | 1 | 69 | BACTERIAL & TUBERCULOUS INFECTIONS OF NERVOUS SYSTEM SOI 2.
M | 1 | 70 | BACTERIAL & TUBERCULOUS INFECTIONS OF NERVOUS SYSTEM SOI 3.
M | 1 | 71 | NON-BACTERIAL INFECTIONS OF NERVOUS SYSTEM EXC VIRAL MENINGITIS SOI 1.
M | 1 | 72 | NON-BACTERIAL INFECTIONS OF NERVOUS SYSTEM EXC VIRAL MENINGITIS SOI 2.
M | 1 | 73 | NON-BACTERIAL INFECTIONS OF NERVOUS SYSTEM EXC VIRAL MENINGITIS SOI 3.
M | 1 | 74 | VIRAL MENINGITIS SOI 1.
M | 1 | 75 | VIRAL MENINGITIS SOI 2.
M | 1 | 76 | VIRAL MENINGITIS SOI 3.
M | 1 | 77 | NONTRAUMATIC STUPOR & COMA SOI 1.
M | 1 | 78 | NONTRAUMATIC STUPOR & COMA SOI 2.
M | 1 | 79 | NONTRAUMATIC STUPOR & COMA SOI 3.
M | 1 | 80 | SEIZURE SOI 1.
M | 1 | 81 | SEIZURE SOI 2.
M | 1 | 82 | SEIZURE SOI 3.
M | 1 | 83 | MIGRAINE & OTHER HEADACHES SOI 1.
M | 1 | 84 | MIGRAINE & OTHER HEADACHES SOI 2.
M | 1 | 85 | MIGRAINE & OTHER HEADACHES SOI 3.
M | 1 | 86 | HEAD TRAUMA W COMA >1 HR OR HEMORRHAGE SOI 1.
M | 1 | 87 | HEAD TRAUMA W COMA >1 HR OR HEMORRHAGE SOI 2.
M | 1 | 88 | HEAD TRAUMA W COMA >1 HR OR HEMORRHAGE SOI 3.
M | 1 | 89 | BRAIN CONTUSION/LACERATION & COMPLICATED SKULL FX, COMA < 1 HR OR NO COMA SOI 1.
M | 1 | 90 | BRAIN CONTUSION/LACERATION & COMPLICATED SKULL FX, COMA < 1 HR OR NO COMA SOI 2.
M | 1 | 91 | BRAIN CONTUSION/LACERATION & COMPLICATED SKULL FX, COMA < 1 HR OR NO COMA SOI 3.
M | 1 | 92 | CONCUSSION, CLOSED SKULL FX NOS,UNCOMPLICATED INTRACRANIAL INJURY, COMA < 1 HR OR NO COMA SOI 1.
M | 1 | 93 | CONCUSSION, CLOSED SKULL FX NOS,UNCOMPLICATED INTRACRANIAL INJURY, COMA < 1 HR OR NO COMA SOI 2.
M | 1 | 94 | CONCUSSION, CLOSED SKULL FX NOS,UNCOMPLICATED INTRACRANIAL INJURY, COMA < 1 HR OR NO COMA SOI 3.
M | 1 | 95 | OTHER DISORDERS OF NERVOUS SYSTEM SOI 1.
M | 1 | 96 | OTHER DISORDERS OF NERVOUS SYSTEM SOI 2.
M | 1 | 97 | OTHER DISORDERS OF NERVOUS SYSTEM SOI 3.
S | 2 | 98 | EYE PROCEDURES SOI 4.
S | 2 | 99 | ORBITAL PROCEDURES SOI 1.
S | 2 | 100 | ORBITAL PROCEDURES SOI 2.
S | 2 | 101 | ORBITAL PROCEDURES SOI 3.
S | 2 | 102 | EYE PROCEDURES EXCEPT ORBIT SOI 1.
S | 2 | 103 | EYE PROCEDURES EXCEPT ORBIT SOI 2.
S | 2 | 104 | EYE PROCEDURES EXCEPT ORBIT SOI 3.
M | 2 | 105 | EYE DIAGNOSES SOI 4.
M | 2 | 106 | ACUTE MAJOR EYE INFECTIONS SOI 1.
M | 2 | 107 | ACUTE MAJOR EYE INFECTIONS SOI 2.
M | 2 | 108 | ACUTE MAJOR EYE INFECTIONS SOI 3.
M | 2 | 109 | EYE DISORDERS EXCEPT MAJOR INFECTIONS SOI 1.
M | 2 | 110 | EYE DISORDERS EXCEPT MAJOR INFECTIONS SOI 2.
M | 2 | 111 | EYE DISORDERS EXCEPT MAJOR INFECTIONS SOI 3.
S | 3 | 112 | EAR, NOSE, MOUTH & THROAT PROCEDURES SOI 4.
S | 3 | 113 | MAJOR CRANIAL/FACIAL BONE PROCEDURES SOI 1.
S | 3 | 114 | MAJOR CRANIAL/FACIAL BONE PROCEDURES SOI 2.
S | 3 | 115 | MAJOR CRANIAL/FACIAL BONE PROCEDURES SOI 3.
S | 3 | 116 | MAJOR LARYNX & TRACHEA PROCEDURES SOI 1.
S | 3 | 117 | MAJOR LARYNX & TRACHEA PROCEDURES SOI 2.
S | 3 | 118 | MAJOR LARYNX & TRACHEA PROCEDURES SOI 3.
S | 3 | 119 | OTHER MAJOR HEAD & NECK PROCEDURES SOI 1.
S | 3 | 120 | OTHER MAJOR HEAD & NECK PROCEDURES SOI 2.
S | 3 | 121 | OTHER MAJOR HEAD & NECK PROCEDURES SOI 3.
S | 3 | 122 | FACIAL BONE PROCEDURES EXCEPT MAJOR CRANIAL/FACIAL BONE PROCEDURES SOI 1.
S | 3 | 123 | FACIAL BONE PROCEDURES EXCEPT MAJOR CRANIAL/FACIAL BONE PROCEDURES SOI 2.
S | 3 | 124 | FACIAL BONE PROCEDURES EXCEPT MAJOR CRANIAL/FACIAL BONE PROCEDURES SOI 3.
S | 3 | 125 | SINUS & MASTOID PROCEDURES SOI 1.
S | 3 | 126 | SINUS & MASTOID PROCEDURES SOI 2.
S | 3 | 127 | SINUS & MASTOID PROCEDURES SOI 3.
S | 3 | 128 | CLEFT LIP & PALATE REPAIR SOI 1.
S | 3 | 129 | CLEFT LIP & PALATE REPAIR SOI 2.
S | 3 | 130 | CLEFT LIP & PALATE REPAIR SOI 3.
S | 3 | 131 | TONSIL & ADENOID PROCEDURES SOI 1.
S | 3 | 132 | TONSIL & ADENOID PROCEDURES SOI 2.
S | 3 | 133 | TONSIL & ADENOID PROCEDURES SOI 3.
S | 3 | 134 | OTHER EAR, NOSE, MOUTH & THROAT PROCEDURES SOI 1.
S | 3 | 135 | OTHER EAR, NOSE, MOUTH & THROAT PROCEDURES SOI 2.
S | 3 | 136 | OTHER EAR, NOSE, MOUTH & THROAT PROCEDURES SOI 3
M | 3 | 137 | EAR, NOSE, MOUTH & THROAT DIAGNOSES SOI 4.
M | 3 | 138 | EAR, NOSE, MOUTH, THROAT, CRANIAL/FACIAL MALIGNANCIES . SOI 1.
M | 3 | 139 | EAR, NOSE, MOUTH, THROAT, CRANIAL/FACIAL MALIGNANCIES . SOI 2.
M | 3 | 140 | EAR, NOSE, MOUTH, THROAT, CRANIAL/FACIAL MALIGNANCIES . SOI 3.
M | 3 | 141 | VERTIGO & OTHER LABYRINTH DISORDERS SOI 1.
M | 3 | 142 | VERTIGO & OTHER LABYRINTH DISORDERS SOI 2.
M | 3 | 143 | VERTIGO & OTHER LABYRINTH DISORDERS SOI 3.
M | 3 | 144 | INFECTIONS OF UPPER RESPIRATORY TRACT SOI 1.
M | 3 | 145 | INFECTIONS OF UPPER RESPIRATORY TRACT SOI 2.
M | 3 | 146 | INFECTIONS OF UPPER RESPIRATORY TRACT SOI 3.
M | 3 | 147 | DENTAL & ORAL DISEASES & INJURIES SOI 1.
M | 3 | 148 | DENTAL & ORAL DISEASES & INJURIES SOI 2.
M | 3 | 149 | DENTAL & ORAL DISEASES & INJURIES SOI 3.
M | 3 | 150 | OTHER EAR, NOSE, MOUTH,THROAT & CRANIAL/FACIAL DIAGNOSES SOI 1.
M | 3 | 151 | OTHER EAR, NOSE, MOUTH,THROAT & CRANIAL/FACIAL DIAGNOSES SOI 2.
M | 3 | 152 | OTHER EAR, NOSE, MOUTH,THROAT & CRANIAL/FACIAL DIAGNOSES SOI 3.
S | 4 | 153 | RESPIRATORY & CHEST PROCEDURES SOI 4.
S | 4 | 154 | MAJOR RESPIRATORY & CHEST PROCEDURES SOI 1.
S | 4 | 155 | MAJOR RESPIRATORY & CHEST PROCEDURES SOI 2.
S | 4 | 156 | MAJOR RESPIRATORY & CHEST PROCEDURES SOI 3.
S | 4 | 157 | OTHER RESPIRATORY & CHEST PROCEDURES SOI 1.
S | 4 | 158 | OTHER RESPIRATORY & CHEST PROCEDURES SOI 2.
S | 4 | 159 | OTHER RESPIRATORY & CHEST PROCEDURES SOI 3.
M | 4 | 160 | RESPIRATORY SYSTEM DIAGNOSES EXCEPT W VENTILATOR . SUPPORT 96+ HOURS SOI 4.
M | 4 | 161 | RESPIRATORY SYSTEM DIAGNOSIS W VENTILATOR SUPPORT 96+ HOURS SOI 1.
M | 4 | 162 | RESPIRATORY SYSTEM DIAGNOSIS W VENTILATOR SUPPORT 96+ HOURS SOI 2.
M | 4 | 163 | RESPIRATORY SYSTEM DIAGNOSIS W VENTILATOR SUPPORT 96+ HOURS SOI 3.
M | 4 | 164 | RESPIRATORY SYSTEM DIAGNOSIS W VENTILATOR SUPPORT 96+ HOURS SOI 4.
M | 4 | 165 | CYSTIC FIBROSIS - PULMONARY DISEASE SOI 1.
M | 4 | 166 | CYSTIC FIBROSIS - PULMONARY DISEASE SOI 2.
M | 4 | 167 | CYSTIC FIBROSIS - PULMONARY DISEASE SOI 3.
M | 4 | 168 | PULMONARY EDEMA & RESPIRATORY FAILURE SOI 1.
M | 4 | 169 | PULMONARY EDEMA & RESPIRATORY FAILURE SOI 2.
M | 4 | 170 | PULMONARY EDEMA & RESPIRATORY FAILURE SOI 3.
M | 4 | 171 | PULMONARY EMBOLISM SOI 1.
M | 4 | 172 | PULMONARY EMBOLISM SOI 2.
M | 4 | 173 | PULMONARY EMBOLISM SOI 3.
M | 4 | 174 | MAJOR CHEST & RESPIRATORY TRAUMA SOI 1.
M | 4 | 175 | MAJOR CHEST & RESPIRATORY TRAUMA SOI 2.
M | 4 | 176 | MAJOR CHEST & RESPIRATORY TRAUMA SOI 3.
M | 4 | 177 | RESPIRATORY MALIGNANCY SOI 1.
M | 4 | 178 | RESPIRATORY MALIGNANCY SOI 2.
M | 4 | 179 | RESPIRATORY MALIGNANCY SOI 3.
M | 4 | 180 | MAJOR RESPIRATORY INFECTIONS & INFLAMMATIONS SOI 1.
M | 4 | 181 | MAJOR RESPIRATORY INFECTIONS & INFLAMMATIONS SOI 2.
M | 4 | 182 | MAJOR RESPIRATORY INFECTIONS & INFLAMMATIONS SOI 3.
M | 4 | 183 | BRONCHIOLITIS & RSV PNEUMONIA SOI 1.
M | 4 | 184 | BRONCHIOLITIS & RSV PNEUMONIA SOI 2.
M | 4 | 185 | BRONCHIOLITIS & RSV PNEUMONIA SOI 3.
M | 4 | 186 | OTHER PNEUMONIA SOI 1.
M | 4 | 187 | OTHER PNEUMONIA SOI 2.
M | 4 | 188 | OTHER PNEUMONIA SOI 3.
M | 4 | 189 | CHRONIC OBSTRUCTIVE PULMONARY DISEASE SOI 1.
M | 4 | 190 | CHRONIC OBSTRUCTIVE PULMONARY DISEASE SOI 2.
M | 4 | 191 | CHRONIC OBSTRUCTIVE PULMONARY DISEASE SOI 3.
M | 4 | 192 | ASTHMA SOI 1.
M | 4 | 193 | ASTHMA SOI 2.
M | 4 | 194 | ASTHMA SOI 3.
M | 4 | 195 | INTERSTITIAL LUNG DISEASE SOI 1.
M | 4 | 196 | INTERSTITIAL LUNG DISEASE SOI 2.
M | 4 | 197 | INTERSTITIAL LUNG DISEASE SOI 3.
M | 4 | 198 | OTHER RESPIRATORY DIAGNOSES EXCEPT SIGNS, SYMPTOMS & . MINOR DIAGNOSES SOI 1.
M | 4 | 199 | OTHER RESPIRATORY DIAGNOSES EXCEPT SIGNS, SYMPTOMS & . MINOR DIAGNOSES SOI 2.
M | 4 | 200 | OTHER RESPIRATORY DIAGNOSES EXCEPT SIGNS, SYMPTOMS & . MINOR DIAGNOSES SOI 3.
M | 4 | 201 | RESPIRATORY SIGNS, SYMPTOMS & MINOR DIAGNOSES SOI 1.
M | 4 | 202 | RESPIRATORY SIGNS, SYMPTOMS & MINOR DIAGNOSES SOI 2.
M | 4 | 203 | RESPIRATORY SIGNS, SYMPTOMS & MINOR DIAGNOSES SOI 3.
S | 5 | 204 | CARDIOTHORACIC PROCEDURES SOI 4.
S | 5 | 205 | VASCULAR PROCEDURES SOI 4.
S | 5 | 206 | OTHER CIRCULATORY SYSTEM PROCEDURES SOI 4.
S | 5 | 207 | CARDIAC DEFIBRILLATOR & HEART ASSIST IMPLANT SOI 1.
S | 5 | 208 | CARDIAC DEFIBRILLATOR & HEART ASSIST IMPLANT SOI 2.
S | 5 | 209 | CARDIAC DEFIBRILLATOR & HEART ASSIST IMPLANT SOI 3.
S | 5 | 210 | CARDIAC VALVE PROCEDURES W CARDIAC CATHETERIZATION . SOI 1.
S | 5 | 211 | CARDIAC VALVE PROCEDURES W CARDIAC CATHETERIZATION . SOI 2.
S | 5 | 212 | CARDIAC VALVE PROCEDURES W CARDIAC CATHETERIZATION . SOI 3.
S | 5 | 213 | CARDIAC VALVE PROCEDURES W/O CARDIAC CATHETERIZATION SOI 1.
S | 5 | 214 | CARDIAC VALVE PROCEDURES W/O CARDIAC CATHETERIZATION SOI 2.
S | 5 | 215 | CARDIAC VALVE PROCEDURES W/O CARDIAC CATHETERIZATION SOI 3.
S | 5 | 216 | CORONARY BYPASS W CARDIAC CATH OR PERCUTANEOUS CARDIAC PROCEDURE SOI 1.
S | 5 | 217 | CORONARY BYPASS W CARDIAC CATH OR PERCUTANEOUS CARDIAC PROCEDURE SOI 2.
S | 5 | 218 | CORONARY BYPASS W CARDIAC CATH OR PERCUTANEOUS CARDIAC PROCEDURE SOI 3.
S | 5 | 219 | CORONARY BYPASS W/O CARDIAC CATH OR PERCUTANEOUS CARDIAC PROCEDURE SOI 1.
S | 5 | 220 | CORONARY BYPASS W/O CARDIAC CATH OR PERCUTANEOUS CARDIAC PROCEDURE SOI 2.
S | 5 | 221 | CORONARY BYPASS W/O CARDIAC CATH OR PERCUTANEOUS CARDIAC PROCEDURE SOI 3.
S | 5 | 222 | OTHER CARDIOTHORACIC PROCEDURES SOI 1.
S | 5 | 223 | OTHER CARDIOTHORACIC PROCEDURES SOI 2.
S | 5 | 224 | OTHER CARDIOTHORACIC PROCEDURES SOI 3.
S | 5 | 225 | MAJOR THORACIC & ABDOMINAL VASCULAR PROCEDURES SOI 1.
S | 5 | 226 | MAJOR THORACIC & ABDOMINAL VASCULAR PROCEDURES SOI 2.
S | 5 | 227 | MAJOR THORACIC & ABDOMINAL VASCULAR PROCEDURES SOI 3.
S | 5 | 228 | PERMANENT CARDIAC PACEMAKER IMPLANT W AMI, HEART FAILURE OR SHOCK SOI 1.
S | 5 | 229 | PERMANENT CARDIAC PACEMAKER IMPLANT W AMI, HEART FAILURE OR SHOCK SOI 2.
S | 5 | 230 | PERMANENT CARDIAC PACEMAKER IMPLANT W AMI, HEART FAILURE OR SHOCK SOI 3.
S | 5 | 231 | PERM CARDIAC PACEMAKER IMPLANT W/O AMI, HEART FAILURE OR SHOCK SOI 1.
S | 5 | 232 | PERM CARDIAC PACEMAKER IMPLANT W/O AMI, HEART FAILURE OR SHOCK SOI 2.
S | 5 | 233 | PERM CARDIAC PACEMAKER IMPLANT W/O AMI, HEART FAILURE OR SHOCK SOI 3.
S | 5 | 234 | OTHER VASCULAR PROCEDURES SOI 1.
S | 5 | 235 | OTHER VASCULAR PROCEDURES SOI 2.
S | 5 | 236 | OTHER VASCULAR PROCEDURES SOI 3.
S | 5 | 237 | PERCUTANEOUS CARDIOVASCULAR PROCEDURES W AMI SOI 1.
S | 5 | 238 | PERCUTANEOUS CARDIOVASCULAR PROCEDURES W AMI SOI 2.
S | 5 | 239 | PERCUTANEOUS CARDIOVASCULAR PROCEDURES W AMI SOI 3.
S | 5 | 240 | PERCUTANEOUS CARDIOVASCULAR PROCEDURES W/O AMI SOI 1.
S | 5 | 241 | PERCUTANEOUS CARDIOVASCULAR PROCEDURES W/O AMI SOI 2.
S | 5 | 242 | PERCUTANEOUS CARDIOVASCULAR PROCEDURES W/O AMI SOI 3.
S | 5 | 243 | CARDIAC PACEMAKER & DEFIBRILLATOR DEVICE REPLACEMENT SOI 1.
S | 5 | 244 | CARDIAC PACEMAKER & DEFIBRILLATOR DEVICE REPLACEMENT SOI 2.
S | 5 | 245 | CARDIAC PACEMAKER & DEFIBRILLATOR DEVICE REPLACEMENT SOI 3.
S | 5 | 246 | CARDIAC PACEMAKER & DEFIBRILLATOR REVISION EXCEPT DEVICE REPLACEMENT SOI 1.
S | 5 | 247 | CARDIAC PACEMAKER & DEFIBRILLATOR REVISION EXCEPT DEVICE REPLACEMENT SOI 2.
S | 5 | 248 | CARDIAC PACEMAKER & DEFIBRILLATOR REVISION EXCEPT DEVICE REPLACEMENT SOI 3.
S | 5 | 249 | OTHER CIRCULATORY SYSTEM PROCEDURES SOI 1.
S | 5 | 250 | OTHER CIRCULATORY SYSTEM PROCEDURES SOI 2.
S | 5 | 251 | OTHER CIRCULATORY SYSTEM PROCEDURES SOI 3.
M | 5 | 252 | CIRCULATORY SYSTEM DIAGNOSES SOI 4.
M | 5 | 253 | ACUTE MYOCARDIAL INFARCTION SOI 1.
M | 5 | 254 | ACUTE MYOCARDIAL INFARCTION SOI 2.
M | 5 | 255 | ACUTE MYOCARDIAL INFARCTION SOI 3.
M | 5 | 256 | CARDIAC CATHETERIZATION W CIRC DISORD EXC ISCHEMIC HEART DISEASE SOI 1.
M | 5 | 257 | CARDIAC CATHETERIZATION W CIRC DISORD EXC ISCHEMIC HEART DISEASE SOI 2.
M | 5 | 258 | CARDIAC CATHETERIZATION W CIRC DISORD EXC ISCHEMIC HEART DISEASE SOI 3.
M | 5 | 259 | CARDIAC CATHETERIZATION FOR ISCHEMIC HEART DISEASE SOI 1.
M | 5 | 260 | CARDIAC CATHETERIZATION FOR ISCHEMIC HEART DISEASE SOI 2.
M | 5 | 261 | CARDIAC CATHETERIZATION FOR ISCHEMIC HEART DISEASE SOI 3.
M | 5 | 262 | ACUTE & SUBACUTE ENDOCARDITIS SOI 1.
M | 5 | 263 | ACUTE & SUBACUTE ENDOCARDITIS SOI 2.
M | 5 | 264 | ACUTE & SUBACUTE ENDOCARDITIS SOI 3.
M | 5 | 265 | HEART FAILURE SOI 1.
M | 5 | 266 | HEART FAILURE SOI 2.
M | 5 | 267 | HEART FAILURE SOI 3.
M | 5 | 268 | CARDIAC ARREST SOI 1.
M | 5 | 269 | CARDIAC ARREST SOI 2.
M | 5 | 270 | CARDIAC ARREST SOI 3.
M | 5 | 271 | PERIPHERAL & OTHER VASCULAR DISORDERS SOI 1.
M | 5 | 272 | PERIPHERAL & OTHER VASCULAR DISORDERS SOI 2.
M | 5 | 273 | PERIPHERAL & OTHER VASCULAR DISORDERS SOI 3.
M | 5 | 274 | ANGINA PECTORIS & CORONARY ATHEROSCLEROSIS SOI 1.
M | 5 | 275 | ANGINA PECTORIS & CORONARY ATHEROSCLEROSIS SOI 2.
M | 5 | 276 | ANGINA PECTORIS & CORONARY ATHEROSCLEROSIS SOI 3.
M | 5 | 277 | HYPERTENSION SOI 1.
M | 5 | 278 | HYPERTENSION SOI 2.
M | 5 | 279 | HYPERTENSION SOI 3.
M | 5 | 280 | CARDIAC STRUCTURAL & VALVULAR DISORDERS SOI 1.
M | 5 | 281 | CARDIAC STRUCTURAL & VALVULAR DISORDERS SOI 2.
M | 5 | 282 | CARDIAC STRUCTURAL & VALVULAR DISORDERS SOI 3.
M | 5 | 283 | CARDIAC ARRHYTHMIA & CONDUCTION DISORDERS SOI 1.
M | 5 | 284 | CARDIAC ARRHYTHMIA & CONDUCTION DISORDERS SOI 2.
M | 5 | 285 | CARDIAC ARRHYTHMIA & CONDUCTION DISORDERS SOI 3.
M | 5 | 286 | CHEST PAIN SOI 1.
M | 5 | 287 | CHEST PAIN SOI 2.
M | 5 | 288 | CHEST PAIN SOI 3.
M | 5 | 289 | SYNCOPE & COLLAPSE SOI 1.
M | 5 | 290 | SYNCOPE & COLLAPSE SOI 2.
M | 5 | 291 | SYNCOPE & COLLAPSE SOI 3.
M | 5 | 292 | CARDIOMYOPATHY SOI 1.
M | 5 | 293 | CARDIOMYOPATHY SOI 2.
M | 5 | 294 | CARDIOMYOPATHY SOI 3.
M | 5 | 295 | MALFUNCTION, REACTION, COMPLICATION OF CARDIAC/VASC DEVICE OR PROCEDURE SOI 1.
M | 5 | 296 | MALFUNCTION, REACTION, COMPLICATION OF CARDIAC/VASC DEVICE OR PROCEDURE SOI 2.
M | 5 | 297 | MALFUNCTION, REACTION, COMPLICATION OF CARDIAC/VASC DEVICE OR PROCEDURE SOI 3.
M | 5 | 298 | OTHER CIRCULATORY SYSTEM DIAGNOSES SOI 1.
M | 5 | 299 | OTHER CIRCULATORY SYSTEM DIAGNOSES SOI 2.
M | 5 | 300 | OTHER CIRCULATORY SYSTEM DIAGNOSES SOI 3.
S | 6 | 301 | MAJOR GASTROINTESTINAL PROCEDURES SOI 4.
S | 6 | 302 | OTHER GASTROINTESTINAL & ABDOMINAL PROCEDURES SOI 4.
S | 6 | 303 | MAJOR STOMACH, ESOPHAGEAL & DUODENAL PROCEDURES SOI 1.
S | 6 | 304 | MAJOR STOMACH, ESOPHAGEAL & DUODENAL PROCEDURES SOI 2.
S | 6 | 305 | MAJOR STOMACH, ESOPHAGEAL & DUODENAL PROCEDURES SOI 3.
S | 6 | 306 | MAJOR SMALL & LARGE BOWEL PROCEDURES SOI 1.
S | 6 | 307 | MAJOR SMALL & LARGE BOWEL PROCEDURES SOI 2.
S | 6 | 308 | MAJOR SMALL & LARGE BOWEL PROCEDURES SOI 3.
S | 6 | 309 | OTHER STOMACH, ESOPHAGEAL & DUODENAL PROCEDURES SOI 1.
S | 6 | 310 | OTHER STOMACH, ESOPHAGEAL & DUODENAL PROCEDURES SOI 2.
S | 6 | 311 | OTHER STOMACH, ESOPHAGEAL & DUODENAL PROCEDURES SOI 3.
S | 6 | 312 | OTHER SMALL & LARGE BOWEL PROCEDURES SOI 1.
S | 6 | 313 | OTHER SMALL & LARGE BOWEL PROCEDURES SOI 2.
S | 6 | 314 | OTHER SMALL & LARGE BOWEL PROCEDURES SOI 3.
S | 6 | 315 | PERITONEAL ADHESIOLYSIS SOI 1.
S | 6 | 316 | PERITONEAL ADHESIOLYSIS SOI 2.
S | 6 | 317 | PERITONEAL ADHESIOLYSIS SOI 3.
S | 6 | 318 | APPENDECTOMY SOI 1.
S | 6 | 319 | APPENDECTOMY SOI 2.
S | 6 | 320 | APPENDECTOMY SOI 3.
S | 6 | 321 | ANAL PROCEDURES SOI 1.
S | 6 | 322 | ANAL PROCEDURES SOI 2.
S | 6 | 323 | ANAL PROCEDURES SOI 3.
S | 6 | 324 | HERNIA PROCEDURES EXCEPT INGUINAL, FEMORAL & UMBILICAL SOI 1.
S | 6 | 325 | HERNIA PROCEDURES EXCEPT INGUINAL, FEMORAL & UMBILICAL SOI 2.
S | 6 | 326 | HERNIA PROCEDURES EXCEPT INGUINAL, FEMORAL & UMBILICAL SOI 3.
S | 6 | 327 | INGUINAL, FEMORAL & UMBILICAL HERNIA PROCEDURES SOI 1.
S | 6 | 328 | INGUINAL, FEMORAL & UMBILICAL HERNIA PROCEDURES SOI 2.
S | 6 | 329 | INGUINAL, FEMORAL & UMBILICAL HERNIA PROCEDURES SOI 3.
S | 6 | 330 | OTHER DIGESTIVE SYSTEM & ABDOMINAL PROCEDURES SOI 1.
S | 6 | 331 | OTHER DIGESTIVE SYSTEM & ABDOMINAL PROCEDURES SOI 2.
S | 6 | 332 | OTHER DIGESTIVE SYSTEM & ABDOMINAL PROCEDURES SOI 3.
M | 6 | 333 | DIGESTIVE SYSTEM DIAGNOSES SOI 4.
M | 6 | 334 | DIGESTIVE MALIGNANCY SOI 1.
M | 6 | 335 | DIGESTIVE MALIGNANCY SOI 2.
M | 6 | 336 | DIGESTIVE MALIGNANCY SOI 3.
M | 6 | 337 | PEPTIC ULCER & GASTRITIS SOI 1.
M | 6 | 338 | PEPTIC ULCER & GASTRITIS SOI 2.
M | 6 | 339 | PEPTIC ULCER & GASTRITIS SOI 3.
M | 6 | 340 | MAJOR ESOPHAGEAL DISORDERS SOI 1.
M | 6 | 341 | MAJOR ESOPHAGEAL DISORDERS SOI 2.
M | 6 | 342 | MAJOR ESOPHAGEAL DISORDERS SOI 3.
M | 6 | 343 | OTHER ESOPHAGEAL DISORDERS SOI 1.
M | 6 | 344 | OTHER ESOPHAGEAL DISORDERS SOI 2.
M | 6 | 345 | OTHER ESOPHAGEAL DISORDERS SOI 3.
M | 6 | 346 | DIVERTICULITIS & DIVERTICULOSIS SOI 1.
M | 6 | 347 | DIVERTICULITIS & DIVERTICULOSIS SOI 2.
M | 6 | 348 | DIVERTICULITIS & DIVERTICULOSIS SOI 3.
M | 6 | 349 | INFLAMMATORY BOWEL DISEASE SOI 1.
M | 6 | 350 | INFLAMMATORY BOWEL DISEASE SOI 2.
M | 6 | 351 | INFLAMMATORY BOWEL DISEASE SOI 3.
M | 6 | 352 | GASTROINTESTINAL VASCULAR INSUFFICIENCY SOI 1.
M | 6 | 353 | GASTROINTESTINAL VASCULAR INSUFFICIENCY SOI 2.
M | 6 | 354 | GASTROINTESTINAL VASCULAR INSUFFICIENCY SOI 3.
M | 6 | 355 | INTESTINAL OBSTRUCTION SOI 1.
M | 6 | 356 | INTESTINAL OBSTRUCTION SOI 2.
M | 6 | 357 | INTESTINAL OBSTRUCTION SOI 3.
M | 6 | 358 | MAJOR GASTROINTESTINAL & PERITONEAL INFECTIONS SOI 1.
M | 6 | 359 | MAJOR GASTROINTESTINAL & PERITONEAL INFECTIONS SOI 2.
M | 6 | 360 | MAJOR GASTROINTESTINAL & PERITONEAL INFECTIONS SOI 3.
M | 6 | 361 | NON-BACTERIAL GASTROENTERITIS, NAUSEA & VOMITING SOI 1.
M | 6 | 362 | NON-BACTERIAL GASTROENTERITIS, NAUSEA & VOMITING SOI 2.
M | 6 | 363 | NON-BACTERIAL GASTROENTERITIS, NAUSEA & VOMITING SOI 3.
M | 6 | 364 | ABDOMINAL PAIN SOI 1.
M | 6 | 365 | ABDOMINAL PAIN SOI 2.
M | 6 | 366 | ABDOMINAL PAIN SOI 3.
M | 6 | 367 | MALFUNCTION, REACTION & COMPLICATION OF GI DEVICE OR PROCEDURE SOI 1.
M | 6 | 368 | MALFUNCTION, REACTION & COMPLICATION OF GI DEVICE OR PROCEDURE SOI 2.
M | 6 | 369 | MALFUNCTION, REACTION & COMPLICATION OF GI DEVICE OR PROCEDURE SOI 3.
M | 6 | 370 | OTHER & UNSPECIFIED GASTROINTESTINAL HEMORRHAGE SOI 1.
M | 6 | 371 | OTHER & UNSPECIFIED GASTROINTESTINAL HEMORRHAGE SOI 2.
M | 6 | 372 | OTHER & UNSPECIFIED GASTROINTESTINAL HEMORRHAGE SOI 3.
M | 6 | 373 | OTHER DIGESTIVE SYSTEM DIAGNOSES SOI 1.
M | 6 | 374 | OTHER DIGESTIVE SYSTEM DIAGNOSES SOI 2.
M | 6 | 375 | OTHER DIGESTIVE SYSTEM DIAGNOSES SOI 3.
S | 7 | 376 | MAJOR HEPATOBILIARY, PANCREAS & LIVER PROCEDURES SOI 4.
S | 7 | 377 | CHOLECYSTECTOMY AND OTHER HEPATOBILIARY, PANCREAS & ABDOMINAL PROCEDURES SOI 4.
S | 7 | 378 | MAJOR PANCREAS, LIVER & SHUNT PROCEDURES SOI 1.
S | 7 | 379 | MAJOR PANCREAS, LIVER & SHUNT PROCEDURES SOI 2.
S | 7 | 380 | MAJOR PANCREAS, LIVER & SHUNT PROCEDURES SOI 3.
S | 7 | 381 | MAJOR BILIARY TRACT PROCEDURES SOI 1.
S | 7 | 382 | MAJOR BILIARY TRACT PROCEDURES SOI 2.
S | 7 | 383 | MAJOR BILIARY TRACT PROCEDURES SOI 3.
S | 7 | 384 | CHOLECYSTECTOMY EXCEPT LAPAROSCOPIC SOI 1.
S | 7 | 385 | CHOLECYSTECTOMY EXCEPT LAPAROSCOPIC SOI 2.
S | 7 | 386 | CHOLECYSTECTOMY EXCEPT LAPAROSCOPIC SOI 3.
S | 7 | 387 | LAPAROSCOPIC CHOLECYSTECTOMY SOI 1.
S | 7 | 388 | LAPAROSCOPIC CHOLECYSTECTOMY SOI 2.
S | 7 | 389 | LAPAROSCOPIC CHOLECYSTECTOMY SOI 3.
S | 7 | 390 | OTHER HEPATOBILIARY, PANCREAS & ABDOMINAL PROCEDURES SOI 1.
S | 7 | 391 | OTHER HEPATOBILIARY, PANCREAS & ABDOMINAL PROCEDURES SOI 2.
S | 7 | 392 | OTHER HEPATOBILIARY, PANCREAS & ABDOMINAL PROCEDURES SOI 3.
M | 7 | 393 | HEPATOBILIARY, PANCREAS & ABDOMINAL DIAGNOSES SOI 4.
M | 7 | 394 | HEPATIC COMA & OTHER MAJOR ACUTE LIVER DISORDERS SOI 1.
M | 7 | 395 | HEPATIC COMA & OTHER MAJOR ACUTE LIVER DISORDERS SOI 2.
M | 7 | 396 | HEPATIC COMA & OTHER MAJOR ACUTE LIVER DISORDERS SOI 3.
M | 7 | 397 | ALCOHOLIC LIVER DISEASE SOI 1.
M | 7 | 398 | ALCOHOLIC LIVER DISEASE SOI 2.
M | 7 | 399 | ALCOHOLIC LIVER DISEASE SOI 3.
M | 7 | 400 | MALIGNANCY OF HEPATOBILIARY SYSTEM & PANCREAS SOI 1.
M | 7 | 401 | MALIGNANCY OF HEPATOBILIARY SYSTEM & PANCREAS SOI 2.
M | 7 | 402 | MALIGNANCY OF HEPATOBILIARY SYSTEM & PANCREAS SOI 3.
M | 7 | 403 | DISORDERS OF PANCREAS EXCEPT MALIGNANCY SOI 1.
M | 7 | 404 | DISORDERS OF PANCREAS EXCEPT MALIGNANCY SOI 2.
M | 7 | 405 | DISORDERS OF PANCREAS EXCEPT MALIGNANCY SOI 3.
M | 7 | 406 | OTHER DISORDERS OF THE LIVER SOI 1.
M | 7 | 407 | OTHER DISORDERS OF THE LIVER SOI 2.
M | 7 | 408 | OTHER DISORDERS OF THE LIVER SOI 3.
M | 7 | 409 | DISORDERS OF GALLBLADDER & BILIARY TRACT SOI 1.
M | 7 | 410 | DISORDERS OF GALLBLADDER & BILIARY TRACT SOI 2.
M | 7 | 411 | DISORDERS OF GALLBLADDER & BILIARY TRACT SOI 3.
S | 8 | 412 | MUSCULOSKELETAL SYSTEM & CONNECTIVE TISSUE PROCEDURES EXCEPT SPINAL FUSION SOI 4.
S | 8 | 413 | SPINAL FUSION PROCEDURES SOI 4.
S | 8 | 414 | HIP JOINT REPLACEMENT SOI 1.
S | 8 | 415 | HIP JOINT REPLACEMENT SOI 2.
S | 8 | 416 | HIP JOINT REPLACEMENT SOI 3.
S | 8 | 417 | KNEE JOINT REPLACEMENT SOI 1.
S | 8 | 418 | KNEE JOINT REPLACEMENT SOI 2.
S | 8 | 419 | KNEE JOINT REPLACEMENT SOI 3.
S | 8 | 420 | DORSAL & LUMBAR FUSION PROC FOR CURVATURE OF BACK SOI 1.
S | 8 | 421 | DORSAL & LUMBAR FUSION PROC FOR CURVATURE OF BACK SOI 2.
S | 8 | 422 | DORSAL & LUMBAR FUSION PROC FOR CURVATURE OF BACK SOI 3.
S | 8 | 423 | DORSAL & LUMBAR FUSION PROC EXCEPT FOR CURVATURE OF BACK SOI 1.
S | 8 | 424 | DORSAL & LUMBAR FUSION PROC EXCEPT FOR CURVATURE OF BACK SOI 2.
S | 8 | 425 | DORSAL & LUMBAR FUSION PROC EXCEPT FOR CURVATURE OF BACK SOI 3.
S | 8 | 426 | AMPUTATION OF LOWER LIMB EXCEPT TOES SOI 1.
S | 8 | 427 | AMPUTATION OF LOWER LIMB EXCEPT TOES SOI 2.
S | 8 | 428 | AMPUTATION OF LOWER LIMB EXCEPT TOES SOI 3.
S | 8 | 429 | HIP & FEMUR PROCEDURES FOR TRAUMA EXCEPT JOINT REPLACEMENT SOI 1.
S | 8 | 430 | HIP & FEMUR PROCEDURES FOR TRAUMA EXCEPT JOINT REPLACEMENT SOI 2.
S | 8 | 431 | HIP & FEMUR PROCEDURES FOR TRAUMA EXCEPT JOINT REPLACEMENT SOI 3.
S | 8 | 432 | HIP & FEMUR PROCEDURES FOR NON-TRAUMA EXCEPT JOINT REPLACEMENT SOI 1.
S | 8 | 433 | HIP & FEMUR PROCEDURES FOR NON-TRAUMA EXCEPT JOINT REPLACEMENT SOI 2.
S | 8 | 434 | HIP & FEMUR PROCEDURES FOR NON-TRAUMA EXCEPT JOINT REPLACEMENT SOI 3.
S | 8 | 435 | INTERVERTEBRAL DISC EXCISION & DECOMPRESSION SOI 1.
S | 8 | 436 | INTERVERTEBRAL DISC EXCISION & DECOMPRESSION SOI 2.
S | 8 | 437 | INTERVERTEBRAL DISC EXCISION & DECOMPRESSION SOI 3.
S | 8 | 438 | SKIN GRAFT, EXCEPT HAND, FOR MUSCULOSKELETAL & CONNECTIVE TISSUE DIAGNOSES SOI 1.
S | 8 | 439 | SKIN GRAFT, EXCEPT HAND, FOR MUSCULOSKELETAL & CONNECTIVE TISSUE DIAGNOSES SOI 2.
S | 8 | 440 | SKIN GRAFT, EXCEPT HAND, FOR MUSCULOSKELETAL & CONNECTIVE TISSUE DIAGNOSES SOI 3.
S | 8 | 441 | SKIN GRAFT, EXCEPT HAND, FOR MUSCULOSKELETAL & CONNECTIVE TISSUE DIAGNOSES SOI 4.
S | 8 | 442 | KNEE & LOWER LEG PROCEDURES EXCEPT FOOT SOI 1.
S | 8 | 443 | KNEE & LOWER LEG PROCEDURES EXCEPT FOOT SOI 2.
S | 8 | 444 | KNEE & LOWER LEG PROCEDURES EXCEPT FOOT SOI 3.
S | 8 | 445 | FOOT & TOE PROCEDURES SOI 1.
S | 8 | 446 | FOOT & TOE PROCEDURES SOI 2.
S | 8 | 447 | FOOT & TOE PROCEDURES SOI 3.
S | 8 | 448 | SHOULDER, UPPER ARM & FOREARM PROCEDURES SOI 1.
S | 8 | 449 | SHOULDER, UPPER ARM & FOREARM PROCEDURES SOI 2.
S | 8 | 450 | SHOULDER, UPPER ARM & FOREARM PROCEDURES SOI 3.
S | 8 | 451 | HAND & WRIST PROCEDURES SOI 1.
S | 8 | 452 | HAND & WRIST PROCEDURES SOI 2.
S | 8 | 453 | HAND & WRIST PROCEDURES SOI 3.
S | 8 | 454 | TENDON, MUSCLE & OTHER SOFT TISSUE PROCEDURES SOI 1.
S | 8 | 455 | TENDON, MUSCLE & OTHER SOFT TISSUE PROCEDURES SOI 2.
S | 8 | 456 | TENDON, MUSCLE & OTHER SOFT TISSUE PROCEDURES SOI 3.
S | 8 | 457 | OTHER MUSCULOSKELETAL SYSTEM & CONNECTIVE TISSUE PROCEDURES SOI 1.
S | 8 | 458 | OTHER MUSCULOSKELETAL SYSTEM & CONNECTIVE TISSUE PROCEDURES SOI 2.
S | 8 | 459 | OTHER MUSCULOSKELETAL SYSTEM & CONNECTIVE TISSUE PROCEDURES SOI 3.
S | 8 | 460 | OTHER MUSCULOSKELETAL SYSTEM & CONNECTIVE TISSUE PROCEDURES SOI 4.
S | 8 | 461 | CERVICAL SPINAL FUSION & OTHER BACK/NECK PROC EXC DISC EXCIS/DECOMP SOI 1.
S | 8 | 462 | CERVICAL SPINAL FUSION & OTHER BACK/NECK PROC EXC DISC EXCIS/DECOMP SOI 2.
S | 8 | 463 | CERVICAL SPINAL FUSION & OTHER BACK/NECK PROC EXC DISC EXCIS/DECOMP SOI 3.
M | 8 | 464 | MUSCULOSKELETAL SYSTEM & CONNECTIVE TISSUE DIAGNOSES SOI 4.
M | 8 | 465 | FRACTURE OF FEMUR SOI 1.
M | 8 | 466 | FRACTURE OF FEMUR SOI 2.
M | 8 | 467 | FRACTURE OF FEMUR SOI 3.
M | 8 | 468 | FRACTURE OF PELVIS OR DISLOCATION OF HIP SOI 1.
M | 8 | 469 | FRACTURE OF PELVIS OR DISLOCATION OF HIP SOI 2.
M | 8 | 470 | FRACTURE OF PELVIS OR DISLOCATION OF HIP SOI 3.
M | 8 | 471 | FRACTURES & DISLOCATIONS EXCEPT FEMUR, PELVIS & BACK SOI 1.
M | 8 | 472 | FRACTURES & DISLOCATIONS EXCEPT FEMUR, PELVIS & BACK SOI 2.
M | 8 | 473 | FRACTURES & DISLOCATIONS EXCEPT FEMUR, PELVIS & BACK SOI 3.
M | 8 | 474 | MUSCULOSKELETAL MALIGNANCY & PATHOL FRACTURE D/T MUSCSKEL MALIG SOI 1.
M | 8 | 475 | MUSCULOSKELETAL MALIGNANCY & PATHOL FRACTURE D/T MUSCSKEL MALIG SOI 2.
M | 8 | 476 | MUSCULOSKELETAL MALIGNANCY & PATHOL FRACTURE D/T MUSCSKEL MALIG SOI 3.
M | 8 | 477 | OSTEOMYELITIS, SEPTIC ARTHRITIS & OTHER MUSCULOSKELETAL INFECTIONS SOI 1.
M | 8 | 478 | OSTEOMYELITIS, SEPTIC ARTHRITIS & OTHER MUSCULOSKELETAL INFECTIONS SOI 2.
M | 8 | 479 | OSTEOMYELITIS, SEPTIC ARTHRITIS & OTHER MUSCULOSKELETAL INFECTIONS SOI 3.
M | 8 | 480 | CONNECTIVE TISSUE DISORDERS SOI 1.
M | 8 | 481 | CONNECTIVE TISSUE DISORDERS SOI 2.
M | 8 | 482 | CONNECTIVE TISSUE DISORDERS SOI 3.
M | 8 | 483 | OTHER BACK & NECK DISORDERS, FRACTURES & INJURIES SOI 1.
M | 8 | 484 | OTHER BACK & NECK DISORDERS, FRACTURES & INJURIES SOI 2.
M | 8 | 485 | OTHER BACK & NECK DISORDERS, FRACTURES & INJURIES SOI 3.
M | 8 | 486 | MALFUNCTION, REACTION, COMPLIC OF ORTHOPEDIC DEVICE OR PROCEDURE SOI 1.
M | 8 | 487 | MALFUNCTION, REACTION, COMPLIC OF ORTHOPEDIC DEVICE OR PROCEDURE SOI 2.
M | 8 | 488 | MALFUNCTION, REACTION, COMPLIC OF ORTHOPEDIC DEVICE OR PROCEDURE SOI 3.
M | 8 | 489 | OTHER MUSCULOSKELETAL SYSTEM & CONNECTIVE TISSUE DIAGNOSES SOI 1.
M | 8 | 490 | OTHER MUSCULOSKELETAL SYSTEM & CONNECTIVE TISSUE DIAGNOSES SOI 2.
M | 8 | 491 | OTHER MUSCULOSKELETAL SYSTEM & CONNECTIVE TISSUE DIAGNOSES SOI 3.
S | 9 | 492 | SKIN, SUBCUTANEOUS TISSUE, BREAST & RELATED PROCEDURES SOI 4.
S | 9 | 493 | SKIN GRAFT FOR SKIN & SUBCUTANEOUS TISSUE DIAGNOSES SOI 1.
S | 9 | 494 | SKIN GRAFT FOR SKIN & SUBCUTANEOUS TISSUE DIAGNOSES SOI 2.
S | 9 | 495 | SKIN GRAFT FOR SKIN & SUBCUTANEOUS TISSUE DIAGNOSES SOI 3.
S | 9 | 496 | MASTECTOMY PROCEDURES SOI 1.
S | 9 | 497 | MASTECTOMY PROCEDURES SOI 2.
S | 9 | 498 | MASTECTOMY PROCEDURES SOI 3.
S | 9 | 499 | BREAST PROCEDURES EXCEPT MASTECTOMY SOI 1.
S | 9 | 500 | BREAST PROCEDURES EXCEPT MASTECTOMY SOI 2.
S | 9 | 501 | BREAST PROCEDURES EXCEPT MASTECTOMY SOI 3.
S | 9 | 502 | OTHER SKIN, SUBCUTANEOUS TISSUE & RELATED PROCEDURES SOI 1.
S | 9 | 503 | OTHER SKIN, SUBCUTANEOUS TISSUE & RELATED PROCEDURES SOI 2.
S | 9 | 504 | OTHER SKIN, SUBCUTANEOUS TISSUE & RELATED PROCEDURES SOI 3.
M | 9 | 505 | SKIN, SUBCUTANEOUS TISSUE & BREAST DIAGNOSES SOI 4.
M | 9 | 506 | SKIN ULCERS SOI 1.
M | 9 | 507 | SKIN ULCERS SOI 2.
M | 9 | 508 | SKIN ULCERS SOI 3.
M | 9 | 509 | MAJOR SKIN DISORDERS SOI 1.
M | 9 | 510 | MAJOR SKIN DISORDERS SOI 2.
M | 9 | 511 | MAJOR SKIN DISORDERS SOI 3.
M | 9 | 512 | MALIGNANT BREAST DISORDERS SOI 1.
M | 9 | 513 | MALIGNANT BREAST DISORDERS SOI 2.
M | 9 | 514 | MALIGNANT BREAST DISORDERS SOI 3.
M | 9 | 515 | CELLULITIS & OTHER BACTERIAL SKIN INFECTIONS SOI 1.
M | 9 | 516 | CELLULITIS & OTHER BACTERIAL SKIN INFECTIONS SOI 2.
M | 9 | 517 | CELLULITIS & OTHER BACTERIAL SKIN INFECTIONS SOI 3.
M | 9 | 518 | CONTUSION, OPEN WOUND & OTHER TRAUMA TO SKIN & SUBCUTANEOUS TISSUE SOI 1.
M | 9 | 519 | CONTUSION, OPEN WOUND & OTHER TRAUMA TO SKIN & SUBCUTANEOUS TISSUE SOI 2.
M | 9 | 520 | CONTUSION, OPEN WOUND & OTHER TRAUMA TO SKIN & SUBCUTANEOUS TISSUE SOI 3.
M | 9 | 521 | OTHER SKIN, SUBCUTANEOUS TISSUE & BREAST DISORDERS SOI 1.
M | 9 | 522 | OTHER SKIN, SUBCUTANEOUS TISSUE & BREAST DISORDERS SOI 2.
M | 9 | 523 | OTHER SKIN, SUBCUTANEOUS TISSUE & BREAST DISORDERS SOI 3.
S | 10 | 524 | PROCEDURES FOR ENDOCRINE, NUTRITIONAL & METABOLIC DISORDERS SOI 4.
S | 10 | 525 | PITUITARY & ADRENAL PROCEDURES SOI 1.
S | 10 | 526 | PITUITARY & ADRENAL PROCEDURES SOI 2.
S | 10 | 527 | PITUITARY & ADRENAL PROCEDURES SOI 3.
S | 10 | 528 | PROCEDURES FOR OBESITY SOI 1.
S | 10 | 529 | PROCEDURES FOR OBESITY SOI 2.
S | 10 | 530 | PROCEDURES FOR OBESITY SOI 3.
S | 10 | 531 | THYROID, PARATHYROID & THYROGLOSSAL PROCEDURES SOI 1.
S | 10 | 532 | THYROID, PARATHYROID & THYROGLOSSAL PROCEDURES SOI 2.
S | 10 | 533 | THYROID, PARATHYROID & THYROGLOSSAL PROCEDURES SOI 3.
S | 10 | 534 | OTHER PROCEDURES FOR ENDOCRINE, NUTRITIONAL & METABOLIC DISORDERS SOI 1.
S | 10 | 535 | OTHER PROCEDURES FOR ENDOCRINE, NUTRITIONAL & METABOLIC DISORDERS SOI 2.
S | 10 | 536 | OTHER PROCEDURES FOR ENDOCRINE, NUTRITIONAL & METABOLIC DISORDERS SOI 3.
M | 10 | 537 | ENDOCRINE DIAGNOSES SOI 4.
M | 10 | 538 | DIABETES SOI 1.
M | 10 | 539 | DIABETES SOI 2.
M | 10 | 540 | DIABETES SOI 3.
M | 10 | 541 | MALNUTRITION, FAILURE TO THRIVE & OTHER NUTRITIONAL DISORDERS SOI 1.
M | 10 | 542 | MALNUTRITION, FAILURE TO THRIVE & OTHER NUTRITIONAL DISORDERS SOI 2.
M | 10 | 543 | MALNUTRITION, FAILURE TO THRIVE & OTHER NUTRITIONAL DISORDERS SOI 3.
M | 10 | 544 | HYPOVOLEMIA & RELATED ELECTROLYTE DISORDERS SOI 1.
M | 10 | 545 | HYPOVOLEMIA & RELATED ELECTROLYTE DISORDERS SOI 2.
M | 10 | 546 | HYPOVOLEMIA & RELATED ELECTROLYTE DISORDERS SOI 3.
M | 10 | 547 | INBORN ERRORS OF METABOLISM SOI 1.
M | 10 | 548 | INBORN ERRORS OF METABOLISM SOI 2.
M | 10 | 549 | INBORN ERRORS OF METABOLISM SOI 3.
M | 10 | 550 | OTHER ENDOCRINE DISORDERS SOI 1.
M | 10 | 551 | OTHER ENDOCRINE DISORDERS SOI 2.
M | 10 | 552 | OTHER ENDOCRINE DISORDERS SOI 3.
M | 10 | 553 | ELECTROLYTE DISORDERS EXCEPT HYPOVOLEMIA RELATED SOI 1.
M | 10 | 554 | ELECTROLYTE DISORDERS EXCEPT HYPOVOLEMIA RELATED SOI 2.
M | 10 | 555 | ELECTROLYTE DISORDERS EXCEPT HYPOVOLEMIA RELATED SOI 3.
S | 11 | 556 | URINARY TRACT & RELATED PROCEDURES EXCEPT KIDNEY TRANSPLANT SOI 4.
S | 11 | 557 | KIDNEY TRANSPLANT SOI 1.
S | 11 | 558 | KIDNEY TRANSPLANT SOI 2.
S | 11 | 559 | KIDNEY TRANSPLANT SOI 3.
S | 11 | 560 | KIDNEY TRANSPLANT SOI 4.
S | 11 | 561 | MAJOR BLADDER PROCEDURES SOI 1.
S | 11 | 562 | MAJOR BLADDER PROCEDURES SOI 2.
S | 11 | 563 | MAJOR BLADDER PROCEDURES SOI 3.
S | 11 | 564 | KIDNEY & URINARY TRACT PROCEDURES FOR MALIGNANCY SOI 1.
S | 11 | 565 | KIDNEY & URINARY TRACT PROCEDURES FOR MALIGNANCY SOI 2.
S | 11 | 566 | KIDNEY & URINARY TRACT PROCEDURES FOR MALIGNANCY SOI 3.
S | 11 | 567 | KIDNEY & URINARY TRACT PROCEDURES FOR NONMALIGNANCY SOI 1.
S | 11 | 568 | KIDNEY & URINARY TRACT PROCEDURES FOR NONMALIGNANCY SOI 2.
S | 11 | 569 | KIDNEY & URINARY TRACT PROCEDURES FOR NONMALIGNANCY SOI 3.
S | 11 | 570 | RENAL DIALYSIS ACCESS DEVICE PROCEDURE ONLY SOI 1.
S | 11 | 571 | RENAL DIALYSIS ACCESS DEVICE PROCEDURE ONLY SOI 2.
S | 11 | 572 | RENAL DIALYSIS ACCESS DEVICE PROCEDURE ONLY SOI 3.
S | 11 | 573 | OTHER BLADDER PROCEDURES SOI 1.
S | 11 | 574 | OTHER BLADDER PROCEDURES SOI 2.
S | 11 | 575 | OTHER BLADDER PROCEDURES SOI 3.
S | 11 | 576 | URETHRAL & TRANSURETHRAL PROCEDURES SOI 1.
S | 11 | 577 | URETHRAL & TRANSURETHRAL PROCEDURES SOI 2.
S | 11 | 578 | URETHRAL & TRANSURETHRAL PROCEDURES SOI 3.
S | 11 | 579 | OTHER KIDNEY, URINARY TRACT & RELATED PROCEDURES SOI 1.
S | 11 | 580 | OTHER KIDNEY, URINARY TRACT & RELATED PROCEDURES SOI 2.
S | 11 | 581 | OTHER KIDNEY, URINARY TRACT & RELATED PROCEDURES SOI 3.
M | 11 | 582 | KIDNEY & URINARY TRACT DIAGNOSES SOI 4.
M | 11 | 583 | RENAL FAILURE SOI 1.
M | 11 | 584 | RENAL FAILURE SOI 2.
M | 11 | 585 | RENAL FAILURE SOI 3.
M | 11 | 586 | KIDNEY & URINARY TRACT MALIGNANCY SOI 1.
M | 11 | 587 | KIDNEY & URINARY TRACT MALIGNANCY SOI 2.
M | 11 | 588 | KIDNEY & URINARY TRACT MALIGNANCY SOI 3.
M | 11 | 589 | NEPHRITIS & NEPHROSIS SOI 1.
M | 11 | 590 | NEPHRITIS & NEPHROSIS SOI 2.
M | 11 | 591 | NEPHRITIS & NEPHROSIS SOI 3.
M | 11 | 592 | KIDNEY & URINARY TRACT INFECTIONS SOI 1.
M | 11 | 593 | KIDNEY & URINARY TRACT INFECTIONS SOI 2.
M | 11 | 594 | KIDNEY & URINARY TRACT INFECTIONS SOI 3.
M | 11 | 595 | URINARY STONES & ACQUIRED UPPER URINARY TRACT OBSTRUCTION SOI 1.
M | 11 | 596 | URINARY STONES & ACQUIRED UPPER URINARY TRACT OBSTRUCTION SOI 2.
M | 11 | 597 | URINARY STONES & ACQUIRED UPPER URINARY TRACT OBSTRUCTION SOI 3.
M | 11 | 598 | MALFUNCTION, REACTION, COMPLIC OF GENITOURINARY DEVICE OR PROC SOI 1.
M | 11 | 599 | MALFUNCTION, REACTION, COMPLIC OF GENITOURINARY DEVICE OR PROC SOI 2.
M | 11 | 600 | MALFUNCTION, REACTION, COMPLIC OF GENITOURINARY DEVICE OR PROC SOI 3.
M | 11 | 601 | OTHER KIDNEY & URINARY TRACT DIAGNOSES, SIGNS & SYMPTOMS SOI 1.
M | 11 | 602 | OTHER KIDNEY & URINARY TRACT DIAGNOSES, SIGNS & SYMPTOMS SOI 2.
M | 11 | 603 | OTHER KIDNEY & URINARY TRACT DIAGNOSES, SIGNS & SYMPTOMS SOI 3.
S | 12 | 604 | MALE REPRODUCTIVE SYSTEM & RELATED PROCEDURES SOI 4.
S | 12 | 605 | MAJOR MALE PELVIC PROCEDURES SOI 1.
S | 12 | 606 | MAJOR MALE PELVIC PROCEDURES SOI 2.
S | 12 | 607 | MAJOR MALE PELVIC PROCEDURES SOI 3.
S | 12 | 608 | PENIS PROCEDURES SOI 1.
S | 12 | 609 | PENIS PROCEDURES SOI 2.
S | 12 | 610 | PENIS PROCEDURES SOI 3.
S | 12 | 611 | TRANSURETHRAL PROSTATECTOMY SOI 1.
S | 12 | 612 | TRANSURETHRAL PROSTATECTOMY SOI 2.
S | 12 | 613 | TRANSURETHRAL PROSTATECTOMY SOI 3.
S | 12 | 614 | TESTES & SCROTAL PROCEDURES SOI 1.
S | 12 | 615 | TESTES & SCROTAL PROCEDURES SOI 2.
S | 12 | 616 | TESTES & SCROTAL PROCEDURES SOI 3.
S | 12 | 617 | OTHER MALE REPRODUCTIVE SYSTEM & RELATED PROCEDURES SOI 1.
S | 12 | 618 | OTHER MALE REPRODUCTIVE SYSTEM & RELATED PROCEDURES SOI 2.
S | 12 | 619 | OTHER MALE REPRODUCTIVE SYSTEM & RELATED PROCEDURES SOI 3.
M | 12 | 620 | MALE REPRODUCTIVE SYSTEM DIAGNOSES SOI 4.
M | 12 | 621 | MALIGNANCY, MALE REPRODUCTIVE SYSTEM SOI 1.
M | 12 | 622 | MALIGNANCY, MALE REPRODUCTIVE SYSTEM SOI 2.
M | 12 | 623 | MALIGNANCY, MALE REPRODUCTIVE SYSTEM SOI 3.
M | 12 | 624 | MALE REPRODUCTIVE SYSTEM DIAGNOSES EXCEPT MALIGNANCY SOI 1.
M | 12 | 625 | MALE REPRODUCTIVE SYSTEM DIAGNOSES EXCEPT MALIGNANCY SOI 2.
M | 12 | 626 | MALE REPRODUCTIVE SYSTEM DIAGNOSES EXCEPT MALIGNANCY SOI 3.
S | 13 | 627 | FEMALE REPRODUCTIVE SYSTEM & RELATED PROCEDURES SOI 4.
S | 13 | 628 | PELVIC EVISCERATION, RADICAL HYSTERECTOMY & OTHER RADICAL GYN PROCS SOI 1.
S | 13 | 629 | PELVIC EVISCERATION, RADICAL HYSTERECTOMY & OTHER RADICAL GYN PROCS SOI 2.
S | 13 | 630 | PELVIC EVISCERATION, RADICAL HYSTERECTOMY & OTHER RADICAL GYN PROCS SOI 3.
S | 13 | 631 | UTERINE & ADNEXA PROCEDURES FOR OVARIAN & ADNEXAL MALIGNANCY SOI 1.
S | 13 | 632 | UTERINE & ADNEXA PROCEDURES FOR OVARIAN & ADNEXAL MALIGNANCY SOI 2.
S | 13 | 633 | UTERINE & ADNEXA PROCEDURES FOR OVARIAN & ADNEXAL MALIGNANCY SOI 3.
S | 13 | 634 | UTERINE & ADNEXA PROCEDURES FOR NON-OVARIAN & NON-ADNEXAL MALIG SOI 1.
S | 13 | 635 | UTERINE & ADNEXA PROCEDURES FOR NON-OVARIAN & NON-ADNEXAL MALIG SOI 2.
S | 13 | 636 | UTERINE & ADNEXA PROCEDURES FOR NON-OVARIAN & NON-ADNEXAL MALIG SOI 3.
S | 13 | 637 | UTERINE & ADNEXA PROCEDURES FOR NON-MALIGNANCY EXCEPT LEIOMYOMA SOI 1.
S | 13 | 638 | UTERINE & ADNEXA PROCEDURES FOR NON-MALIGNANCY EXCEPT LEIOMYOMA SOI 2.
S | 13 | 639 | UTERINE & ADNEXA PROCEDURES FOR NON-MALIGNANCY EXCEPT LEIOMYOMA SOI 3.
S | 13 | 640 | FEMALE REPRODUCTIVE SYSTEM RECONSTRUCTIVE PROCEDURES SOI 1.
S | 13 | 641 | FEMALE REPRODUCTIVE SYSTEM RECONSTRUCTIVE PROCEDURES SOI 2.
S | 13 | 642 | FEMALE REPRODUCTIVE SYSTEM RECONSTRUCTIVE PROCEDURES SOI 3.
S | 13 | 643 | DILATION & CURETTAGE FOR NON-OBSTETRIC DIAGNOSES SOI 1.
S | 13 | 644 | DILATION & CURETTAGE FOR NON-OBSTETRIC DIAGNOSES SOI 2.
S | 13 | 645 | DILATION & CURETTAGE FOR NON-OBSTETRIC DIAGNOSES SOI 3.
S | 13 | 646 | OTHER FEMALE REPRODUCTIVE SYSTEM & RELATED PROCEDURES SOI 1.
S | 13 | 647 | OTHER FEMALE REPRODUCTIVE SYSTEM & RELATED PROCEDURES SOI 2.
S | 13 | 648 | OTHER FEMALE REPRODUCTIVE SYSTEM & RELATED PROCEDURES SOI 3.
S | 13 | 649 | UTERINE & ADNEXA PROCEDURES FOR LEIOMYOMA SOI 1.
S | 13 | 650 | UTERINE & ADNEXA PROCEDURES FOR LEIOMYOMA SOI 2.
S | 13 | 651 | UTERINE & ADNEXA PROCEDURES FOR LEIOMYOMA SOI 3.
M | 13 | 652 | FEMALE REPRODUCTIVE SYSTEM DIAGNOSES SOI 4.
M | 13 | 653 | FEMALE REPRODUCTIVE SYSTEM MALIGNANCY SOI 1.
M | 13 | 654 | FEMALE REPRODUCTIVE SYSTEM MALIGNANCY SOI 2.
M | 13 | 655 | FEMALE REPRODUCTIVE SYSTEM MALIGNANCY SOI 3.
M | 13 | 656 | FEMALE REPRODUCTIVE SYSTEM INFECTIONS SOI 1.
M | 13 | 657 | FEMALE REPRODUCTIVE SYSTEM INFECTIONS SOI 2.
M | 13 | 658 | FEMALE REPRODUCTIVE SYSTEM INFECTIONS SOI 3.
M | 13 | 659 | MENSTRUAL & OTHER FEMALE REPRODUCTIVE SYSTEM DISORDERS SOI 1.
M | 13 | 660 | MENSTRUAL & OTHER FEMALE REPRODUCTIVE SYSTEM DISORDERS SOI 2.
M | 13 | 661 | MENSTRUAL & OTHER FEMALE REPRODUCTIVE SYSTEM DISORDERS SOI 3.
S | 14 | 662 | O.R. PROC FOR OBSTETRIC DIAGNOSES EXCEPT CESAREAN DELIVERY SOI 4.
S | 14 | 663 | CESAREAN DELIVERY SOI 1.
S | 14 | 664 | CESAREAN DELIVERY SOI 2.
S | 14 | 665 | CESAREAN DELIVERY SOI 3.
S | 14 | 666 | CESAREAN DELIVERY SOI 4.
S | 14 | 667 | VAGINAL DELIVERY PROCEDURES SOI 1.
S | 14 | 668 | VAGINAL DELIVERY PROCEDURES SOI 2.
S | 14 | 669 | VAGINAL DELIVERY PROCEDURES SOI 3.
S | 14 | 670 | OTHER PROCEDURES FOR OBSTETRIC DIAGNOSES EXCEPT DELIVERY DIAGNOSES SOI 1.
S | 14 | 671 | OTHER PROCEDURES FOR OBSTETRIC DIAGNOSES EXCEPT DELIVERY DIAGNOSES SOI 2.
S | 14 | 672 | OTHER PROCEDURES FOR OBSTETRIC DIAGNOSES EXCEPT DELIVERY DIAGNOSES SOI 3.
M | 14 | 673 | ANTEPARTUM DIAGNOSES EXCEPT VAGINAL DELIVERY DIAGNOSIS SOI 4.
M | 14 | 674 | VAGINAL DELIVERY SOI 1.
M | 14 | 675 | VAGINAL DELIVERY SOI 2.
M | 14 | 676 | VAGINAL DELIVERY SOI 3.
M | 14 | 677 | VAGINAL DELIVERY SOI 4.
M | 14 | 678 | POSTPARTUM & ABORTION DIAGNOSES W/O PROCEDURE SOI 1.
M | 14 | 679 | POSTPARTUM & ABORTION DIAGNOSES W/O PROCEDURE SOI 2.
M | 14 | 680 | POSTPARTUM & ABORTION DIAGNOSES W/O PROCEDURE SOI 3.
M | 14 | 681 | ANTEPARTUM DIAGNOSES SOI 1.
M | 14 | 682 | ANTEPARTUM DIAGNOSES SOI 2.
M | 14 | 683 | ANTEPARTUM DIAGNOSES SOI 3.
M | 15 | 684 | NEONATE, TRANSFERRED <5 DAYS OLD SOI 1 & 2.
M | 15 | 685 | NEONATE, TRANSFERRED <5 DAYS OLD SOI 3 & 4.
M | 15 | 686 | EXTREME IMMATURITY OR RESPIRATORY DISTRESS SYNDROME, NEONATE SOI 1 & 2.
M | 15 | 687 | EXTREME IMMATURITY OR RESPIRATORY DISTRESS SYNDROME, NEONATE SOI 3 & 4.
M | 15 | 688 | PREMAUTRITY WITH MAJOR PROBLEMS SOI 1 & 2.
M | 15 | 689 | PREMAUTRITY WITH MAJOR PROBLEMS SOI 3 & 4.
M | 15 | 690 | PREMAUTRITY WITHOUT MAJOR PROBLEMS SOI 1 & 2.
M | 15 | 691 | PREMAUTRITY WITHOUT MAJOR PROBLEMS SOI 3 & 4.
M | 15 | 692 | FULL TERM NEONATE WITH MAJOR PROBLEMS SOI 1 & 2.
M | 15 | 693 | FULL TERM NEONATE WITH MAJOR PROBLEMS SOI 3 & 4.
M | 15 | 694 | NEONATE WITH OTHER SIGNIFICANT PROBLEMS SOI 1 & 2.
M | 15 | 695 | NEONATE WITH OTHER SIGNIFICANT PROBLEMS SOI 3 & 4.
M | 15 | 696 | NEONATE > 2,000 GRAMS WITHOUT SIGNIFICANT PROBLEMS SOI 1 & 2.
M | 15 | 697 | NEONATE > 2,000 GRAMS WITHOUT SIGNIFICANT PROBLEMS SOI 3 & 4.
S | 16 | 698 | PROCEDURES OF BLOOD & BLOOD-FORMING ORGANS SOI 4.
S | 16 | 699 | SPLENECTOMY SOI 1.
S | 16 | 700 | SPLENECTOMY SOI 2.
S | 16 | 701 | SPLENECTOMY SOI 3.
S | 16 | 702 | OTHER PROCEDURES OF BLOOD & BLOOD-FORMING ORGANS SOI 1.
S | 16 | 703 | OTHER PROCEDURES OF BLOOD & BLOOD-FORMING ORGANS SOI 2.
S | 16 | 704 | OTHER PROCEDURES OF BLOOD & BLOOD-FORMING ORGANS SOI 3.
M | 16 | 705 | ANEMIA & DIAGNOSES OF BLOOD & BLOOD-FORMING ORGANS SOI 4.
M | 16 | 706 | MAJOR HEMATOLOGIC/IMMUNOLOGIC DIAG EXC SICKLE CELL CRISIS & COAGUL SOI 1.
M | 16 | 707 | MAJOR HEMATOLOGIC/IMMUNOLOGIC DIAG EXC SICKLE CELL CRISIS & COAGUL SOI 2.
M | 16 | 708 | MAJOR HEMATOLOGIC/IMMUNOLOGIC DIAG EXC SICKLE CELL CRISIS & COAGUL SOI 3.
M | 16 | 709 | COAGULATION & PLATELET DISORDERS SOI 1.
M | 16 | 710 | COAGULATION & PLATELET DISORDERS SOI 2.
M | 16 | 711 | COAGULATION & PLATELET DISORDERS SOI 3.
M | 16 | 712 | SICKLE CELL ANEMIA CRISIS SOI 1.
M | 16 | 713 | SICKLE CELL ANEMIA CRISIS SOI 2.
M | 16 | 714 | SICKLE CELL ANEMIA CRISIS SOI 3.
M | 16 | 715 | OTHER ANEMIA & DISORDERS OF BLOOD & BLOOD-FORMING ORGANS SOI 1.
M | 16 | 716 | OTHER ANEMIA & DISORDERS OF BLOOD & BLOOD-FORMING ORGANS SOI 2.
M | 16 | 717 | OTHER ANEMIA & DISORDERS OF BLOOD & BLOOD-FORMING ORGANS SOI 3.
S | 17 | 718 | PROCEDURES FOR LYMPHATIC/HEMATOPOIETIC/OTHER NEOPLASMS SOI 4.
S | 17 | 719 | MAJOR O.R. PROCEDURES FOR LYMPHATIC/HEMATOPOIETIC/OTHER NEOPLASMS SOI 1.
S | 17 | 720 | MAJOR O.R. PROCEDURES FOR LYMPHATIC/HEMATOPOIETIC/OTHER NEOPLASMS SOI 2.
S | 17 | 721 | MAJOR O.R. PROCEDURES FOR LYMPHATIC/HEMATOPOIETIC/OTHER NEOPLASMS SOI 3.
S | 17 | 722 | OTHER O.R. PROCEDURES FOR LYMPHATIC/HEMATOPOIETIC/OTHER NEOPLASMS SOI 1.
S | 17 | 723 | OTHER O.R. PROCEDURES FOR LYMPHATIC/HEMATOPOIETIC/OTHER NEOPLASMS SOI 2.
S | 17 | 724 | OTHER O.R. PROCEDURES FOR LYMPHATIC/HEMATOPOIETIC/OTHER NEOPLASMS SOI 3.
M | 17 | 725 | LEUKEMIA, LYMPHOMA, MYELOMA, CHEMOTHERAPY, AND RADIOTHERAPY SOI 4.
M | 17 | 726 | ACUTE LEUKEMIA SOI 1.
M | 17 | 727 | ACUTE LEUKEMIA SOI 2.
M | 17 | 728 | ACUTE LEUKEMIA SOI 3.
M | 17 | 729 | LYMPHOMA, MYELOMA & NON-ACUTE LEUKEMIA SOI 1.
M | 17 | 730 | LYMPHOMA, MYELOMA & NON-ACUTE LEUKEMIA SOI 2.
M | 17 | 731 | LYMPHOMA, MYELOMA & NON-ACUTE LEUKEMIA SOI 3.
M | 17 | 732 | RADIOTHERAPY SOI 1.
M | 17 | 733 | RADIOTHERAPY SOI 2.
M | 17 | 734 | RADIOTHERAPY SOI 3.
M | 17 | 735 | CHEMOTHERAPY SOI 1.
M | 17 | 736 | CHEMOTHERAPY SOI 2.
M | 17 | 737 | CHEMOTHERAPY SOI 3.
M | 17 | 738 | LYMPHATIC & OTHER MALIGNANCIES & NEOPLASMS OF UNCERTAIN BEHAVIOR SOI 1.
M | 17 | 739 | LYMPHATIC & OTHER MALIGNANCIES & NEOPLASMS OF UNCERTAIN BEHAVIOR SOI 2.
M | 17 | 740 | LYMPHATIC & OTHER MALIGNANCIES & NEOPLASMS OF UNCERTAIN BEHAVIOR SOI 3.
M | 17 | 741 | LYMPHATIC & OTHER MALIGNANCIES & NEOPLASMS OF UNCERTAIN BEHAVIOR SOI 4.
S | 18 | 742 | INFECTIOUS & PARASITIC DISEASES W O.R. PROCEDURE SOI 4.
S | 18 | 743 | INFECTIOUS & PARASITIC DISEASES INCLUDING HIV W O.R. PROCEDURE SOI 1.
S | 18 | 744 | INFECTIOUS & PARASITIC DISEASES INCLUDING HIV W O.R. PROCEDURE SOI 2.
S | 18 | 745 | INFECTIOUS & PARASITIC DISEASES INCLUDING HIV W O.R. PROCEDURE SOI 3.
S | 18 | 746 | POST-OP, POST-TRAUMA, OTHER DEVICE INFECTIONS W O.R. PROCEDURE SOI 1.
S | 18 | 747 | POST-OP, POST-TRAUMA, OTHER DEVICE INFECTIONS W O.R. PROCEDURE SOI 2.
S | 18 | 748 | POST-OP, POST-TRAUMA, OTHER DEVICE INFECTIONS W O.R. PROCEDURE SOI 3.
M | 18 | 749 | INFECTIOUS & PARASITIC DISEASES SOI 4.
M | 18 | 750 | SEPTICEMIA & DISSEMINATED INFECTIONS SOI 1.
M | 18 | 751 | SEPTICEMIA & DISSEMINATED INFECTIONS SOI 2.
M | 18 | 752 | SEPTICEMIA & DISSEMINATED INFECTIONS SOI 3.
M | 18 | 753 | POST-OPERATIVE, POST-TRAUMATIC, OTHER DEVICE INFECTIONS SOI 1.
M | 18 | 754 | POST-OPERATIVE, POST-TRAUMATIC, OTHER DEVICE INFECTIONS SOI 2.
M | 18 | 755 | POST-OPERATIVE, POST-TRAUMATIC, OTHER DEVICE INFECTIONS SOI 3.
M | 18 | 756 | FEVER SOI 1.
M | 18 | 757 | FEVER SOI 2.
M | 18 | 758 | FEVER SOI 3.
M | 18 | 759 | VIRAL ILLNESS SOI 1.
M | 18 | 760 | VIRAL ILLNESS SOI 2.
M | 18 | 761 | VIRAL ILLNESS SOI 3.
M | 18 | 762 | OTHER INFECTIOUS & PARASITIC DISEASES SOI 1.
M | 18 | 763 | OTHER INFECTIOUS & PARASITIC DISEASES SOI 2.
M | 18 | 764 | OTHER INFECTIOUS & PARASITIC DISEASES SOI 3.
S | 19 | 765 | MENTAL ILLNESS DIAGNOSIS W O.R. PROCEDURE SOI 1.
S | 19 | 766 | MENTAL ILLNESS DIAGNOSIS W O.R. PROCEDURE SOI 2.
S | 19 | 767 | MENTAL ILLNESS DIAGNOSIS W O.R. PROCEDURE SOI 3.
S | 19 | 768 | MENTAL ILLNESS DIAGNOSIS W O.R. PROCEDURE SOI 4.
M | 19 | 769 | MAJOR DEPRESSIVE, SCHIZOPHRENIA & BIPOLAR DISORDERS SOI 1.
M | 19 | 770 | MAJOR DEPRESSIVE, SCHIZOPHRENIA & BIPOLAR DISORDERS SOI 2.
M | 19 | 771 | MAJOR DEPRESSIVE, SCHIZOPHRENIA & BIPOLAR DISORDERS SOI 3.
M | 19 | 772 | MAJOR DEPRESSIVE, SCHIZOPHRENIA & BIPOLAR DISORDERS SOI 4.
M | 19 | 773 | ORGANIC MENTAL HEALTH DISTURBANCES SOI 1.
M | 19 | 774 | ORGANIC MENTAL HEALTH DISTURBANCES SOI 2.
M | 19 | 775 | ORGANIC MENTAL HEALTH DISTURBANCES SOI 3.
M | 19 | 776 | ORGANIC MENTAL HEALTH DISTURBANCES SOI 4.
M | 19 | 777 | OTHER MENTAL HEALTH DISORDERS SOI 1.
M | 19 | 778 | OTHER MENTAL HEALTH DISORDERS SOI 2.
M | 19 | 779 | OTHER MENTAL HEALTH DISORDERS SOI 3.
M | 19 | 780 | OTHER MENTAL HEALTH DISORDERS SOI 4.
M | 20 | 781 | DRUG & ALCOHOL ABUSE OR DEPENDENCE, LEFT AGAINST MEDICAL ADVICE SOI 1 & 2.
M | 20 | 782 | DRUG & ALCOHOL ABUSE OR DEPENDENCE, LEFT AGAINST MEDICAL ADVICE SOI 3 & 4.
M | 20 | 783 | DRUG ABUSE & DEPENDENCE DIAGNOSES SOI 1.
M | 20 | 784 | DRUG ABUSE & DEPENDENCE DIAGNOSES SOI 2.
M | 20 | 785 | DRUG ABUSE & DEPENDENCE DIAGNOSES SOI 3.
M | 20 | 786 | DRUG ABUSE & DEPENDENCE DIAGNOSES SOI 4.
S | 21 | 787 | O.R. PROCEDURE FOR OTHER COMPLICATIONS OF TREATMENT SOI 1.
S | 21 | 788 | O.R. PROCEDURE FOR OTHER COMPLICATIONS OF TREATMENT SOI 2.
S | 21 | 789 | O.R. PROCEDURE FOR OTHER COMPLICATIONS OF TREATMENT SOI 3.
S | 21 | 790 | O.R. PROCEDURE FOR OTHER COMPLICATIONS OF TREATMENT SOI 4.
M | 21 | 791 | INJURIES, POISONINGS & TOXIC EFFECTS OF DRUGS DIAGNOSES SOI 4.
M | 21 | 792 | ALLERGIC REACTIONS SOI 1.
M | 21 | 793 | ALLERGIC REACTIONS SOI 2.
M | 21 | 794 | ALLERGIC REACTIONS SOI 3.
M | 21 | 795 | POISONING OF MEDICINAL AGENTS SOI 1.
M | 21 | 796 | POISONING OF MEDICINAL AGENTS SOI 2.
M | 21 | 797 | POISONING OF MEDICINAL AGENTS SOI 3.
M | 21 | 798 | OTHER COMPLICATIONS OF TREATMENT SOI 1.
M | 21 | 799 | OTHER COMPLICATIONS OF TREATMENT SOI 2.
M | 21 | 800 | OTHER COMPLICATIONS OF TREATMENT SOI 3.
M | 21 | 801 | OTHER INJURY, POISONING & TOXIC EFFECT DIAGNOSES SOI 1.
M | 21 | 802 | OTHER INJURY, POISONING & TOXIC EFFECT DIAGNOSES SOI 2.
M | 21 | 803 | OTHER INJURY, POISONING & TOXIC EFFECT DIAGNOSES SOI 3.
S | 22 | 804 | BURN PROCEDURES SOI 4.
S | 22 | 805 | EXTENSIVE 3RD DEGREE OR FULL THICKNESS BURNS W SKIN GRAFT SOI 1.
S | 22 | 806 | EXTENSIVE 3RD DEGREE OR FULL THICKNESS BURNS W SKIN GRAFT SOI 2.
S | 22 | 807 | EXTENSIVE 3RD DEGREE OR FULL THICKNESS BURNS W SKIN GRAFT SOI 3.
M | 22 | 808 | BURN DIAGNOSES SOI 4.
M | 22 | 809 | EXTENSIVE 3RD DEGREE OR FULL THICKNESS BURNS W/O SKIN GRAFT SOI 1.
M | 22 | 810 | EXTENSIVE 3RD DEGREE OR FULL THICKNESS BURNS W/O SKIN GRAFT SOI 2.
M | 22 | 811 | EXTENSIVE 3RD DEGREE OR FULL THICKNESS BURNS W/O SKIN GRAFT SOI 3.
M | 22 | 812 | PARTIAL THICKNESS BURNS W OR W/O SKIN GRAFT SOI 1.
M | 22 | 813 | PARTIAL THICKNESS BURNS W OR W/O SKIN GRAFT SOI 2.
M | 22 | 814 | PARTIAL THICKNESS BURNS W OR W/O SKIN GRAFT SOI 3.
S | 23 | 815 | PROCEDURE W DIAG OF REHAB, AFTERCARE OR OTH CONTACT W HEALTH SERVICE SOI 1.
S | 23 | 816 | PROCEDURE W DIAG OF REHAB, AFTERCARE OR OTH CONTACT W HEALTH SERVICE SOI 2.
S | 23 | 817 | PROCEDURE W DIAG OF REHAB, AFTERCARE OR OTH CONTACT W HEALTH SERVICE SOI 3.
S | 23 | 818 | PROCEDURE W DIAG OF REHAB, AFTERCARE OR OTH CONTACT W HEALTH SERVICE SOI 4.
M | 23 | 819 | REHABILITATION / AFTERCARE / CONVALESCENCE EXCEPT NEONATAL AFTERCARE SOI 4.
M | 23 | 820 | REHABILITATION SOI 1.
M | 23 | 821 | REHABILITATION SOI 2.
M | 23 | 822 | REHABILITATION SOI 3.
M | 23 | 823 | SIGNS, SYMPTOMS & OTHER FACTORS INFLUENCING HEALTH STATUS SOI 1.
M | 23 | 824 | SIGNS, SYMPTOMS & OTHER FACTORS INFLUENCING HEALTH STATUS SOI 2.
M | 23 | 825 | SIGNS, SYMPTOMS & OTHER FACTORS INFLUENCING HEALTH STATUS SOI 3.
M | 23 | 826 | OTHER AFTERCARE & CONVALESCENCE SOI 1.
M | 23 | 827 | OTHER AFTERCARE & CONVALESCENCE SOI 2.
M | 23 | 828 | OTHER AFTERCARE & CONVALESCENCE SOI 3.
M | 24 | 829 | HIV DIAGNOSES SOI 4.
M | 24 | 830 | HIV W MULTIPLE MAJOR HIV RELATED CONDITIONS SOI 1 & 2.
M | 24 | 831 | HIV W MULTIPLE MAJOR HIV RELATED CONDITIONS SOI 3.
M | 24 | 832 | HIV W MAJOR HIV RELATED CONDITION SOI 1 & 2.
M | 24 | 833 | HIV W MAJOR HIV RELATED CONDITION SOI 3.
M | 24 | 834 | HIV W MULTIPLE SIGNIFICANT HIV RELATED CONDITIONS SOI 1 & 2.
M | 24 | 835 | HIV W MULTIPLE SIGNIFICANT HIV RELATED CONDITIONS SOI 3.
M | 24 | 836 | HIV W ONE SIGNIF HIV COND OR W/O SIGNIF RELATED COND SOI 1.
M | 24 | 837 | HIV W ONE SIGNIF HIV COND OR W/O SIGNIF RELATED COND SOI 2.
M | 24 | 838 | HIV W ONE SIGNIF HIV COND OR W/O SIGNIF RELATED COND SOI 3.
S | 25 | 839 | MULTIPLE SIGNIFICANT TRAUMA PROCEDURES SOI 4.
S | 25 | 840 | CRANIOTOMY FOR MULTIPLE SIGNIFICANT TRAUMA SOI 1 & 2.
S | 25 | 841 | CRANIOTOMY FOR MULTIPLE SIGNIFICANT TRAUMA SOI 3.
S | 25 | 842 | EXTENSIVE ABDOMINAL/THORACIC PROCEDURES FOR MULT SIGNIFICANT TRAUMA SOI 1 & 2.
S | 25 | 843 | EXTENSIVE ABDOMINAL/THORACIC PROCEDURES FOR MULT SIGNIFICANT TRAUMA SOI 3.
S | 25 | 844 | MUSCULOSKELETAL & OTHER PROCEDURES FOR MULTIPLE SIGNIFICANT TRAUMA SOI 1 & 2.
S | 25 | 845 | MUSCULOSKELETAL & OTHER PROCEDURES FOR MULTIPLE SIGNIFICANT TRAUMA SOI 3.
M | 25 | 846 | MULTIPLE SIGNIFICANT TRAUMA W/O O.R. PROCEDURE SOI 1 & 2.
M | 25 | 847 | MULTIPLE SIGNIFICANT TRAUMA W/O O.R. PROCEDURE SOI 3.
M | 25 | 848 | MULTIPLE SIGNIFICANT TRAUMA W/O O.R. PROCEDURE SOI 4.
S | 25 | 987 | EXTENSIVE PROCEDURE UNRELATED TO PRINCIPAL DIAGNOSIS SOI 1.
S | 25 | 988 | EXTENSIVE PROCEDURE UNRELATED TO PRINCIPAL DIAGNOSIS SOI 2.
S | 25 | 989 | EXTENSIVE PROCEDURE UNRELATED TO PRINCIPAL DIAGNOSIS SOI 3.
S | 25 | 990 | EXTENSIVE PROCEDURE UNRELATED TO PRINCIPAL DIAGNOSIS SOI 4.
S | 25 | 991 | NON MAJOR PROCEDURE UNRELATED TO PRINCIPAL DIAGNOSIS SOI 4.
S | 25 | 992 | MODERATELY EXTENSIVE PROCEDURE UNRELATED TO PRINCIPAL DIAGNOSIS SOI 1.
S | 25 | 993 | MODERATELY EXTENSIVE PROCEDURE UNRELATED TO PRINCIPAL DIAGNOSIS SOI 2.
S | 25 | 994 | MODERATELY EXTENSIVE PROCEDURE UNRELATED TO PRINCIPAL DIAGNOSIS SOI 3.
S | 25 | 995 | NONEXTENSIVE PROCEDURE UNRELATED TO PRINCIPAL DIAGNOSIS SOI 1.
S | 25 | 996 | NONEXTENSIVE PROCEDURE UNRELATED TO PRINCIPAL DIAGNOSIS SOI 2.
S | 25 | 997 | NONEXTENSIVE PROCEDURE UNRELATED TO PRINCIPAL DIAGNOSIS SOI 3.
| 26 | 998 | PRINCIPAL DIAGNOSIS INVALID AS DISCHARGE DIAGNOSIS.
| 26 | 999 | UNGROUPABLE.
M = Medical.
S = Surgical.
SOI = Severity of Illness Subclass

Appendix D.—Crosswalk of Proposed Consolidated Severity-Adjusted DRGs To Respective APR DRGs
TYPE | MDC | Consolidated severity-adjusted DRG | Consolidated severity-adjusted DRG description | APR DRG | SOI | APR DRG description
S | 0 | 1 | LIVER TRANSPLANT AND/OR INTESTINAL TRANSPLANT SOI 1 & 2 | 001 | 1 | LIVER TRANSPLANT AND/OR INTESTINAL TRANSPLANT SOI 1.
S | 0 | 1 | LIVER TRANSPLANT AND/OR INTESTINAL TRANSPLANT SOI 1 & 2 | 001 | 2 | LIVER TRANSPLANT AND/OR INTESTINAL TRANSPLANT SOI 2.
S | 0 | 2 | LIVER TRANSPLANT AND/OR INTESTINAL TRANSPLANT SOI 3 | 001 | 3 | LIVER TRANSPLANT AND/OR INTESTINAL TRANSPLANT SOI 3.
S | 0 | 3 | LIVER TRANSPLANT AND/OR INTESTINAL TRANSPLANT SOI 4 | 001 | 4 | LIVER TRANSPLANT AND/OR INTESTINAL TRANSPLANT SOI 4.
S | 0 | 4 | HEART &/OR LUNG TRANSPLANT SOI 1 & 2 | 002 | 1 | HEART &/OR LUNG TRANSPLANT SOI 1.
S | 0 | 4 | HEART &/OR LUNG TRANSPLANT SOI 1 & 2 | 002 | 2 | HEART &/OR LUNG TRANSPLANT SOI 2.
S | 0 | 5 | HEART &/OR LUNG TRANSPLANT SOI 3 | 002 | 3 | HEART &/OR LUNG TRANSPLANT SOI 3.
S | 0 | 6 | HEART &/OR LUNG TRANSPLANT SOI 4 | 002 | 4 | HEART &/OR LUNG TRANSPLANT SOI 4.
S | 0 | 7 | BONE MARROW TRANSPLANT SOI 1 | 003 | 1 | BONE MARROW TRANSPLANT SOI 1.
S | 0 | 8 | BONE MARROW TRANSPLANT SOI 2 | 003 | 2 | BONE MARROW TRANSPLANT SOI 2.
S | 0 | 9 | BONE MARROW TRANSPLANT SOI 3 | 003 | 3 | BONE MARROW TRANSPLANT SOI 3.
S | 0 | 10 | BONE MARROW TRANSPLANT SOI 4 | 003 | 4 | BONE MARROW TRANSPLANT SOI 4.
S | 0 | 11 | TRACHEOSTOMY W LONG TERM MECHANICAL VENTILATION W EXTENSIVE PROCEDURE SOI 1 & 2 | 004 | 1 | TRACHEOSTOMY W LONG TERM MECHANICAL VENTILATION W EXTENSIVE PROCEDURE SOI 1.
S | 0 | 11 | TRACHEOSTOMY W LONG TERM MECHANICAL VENTILATION W EXTENSIVE PROCEDURE SOI 1 & 2 | 004 | 2 | TRACHEOSTOMY W LONG TERM MECHANICAL VENTILATION W EXTENSIVE PROCEDURE SOI 2.
S | 0 | 12 | TRACHEOSTOMY W LONG TERM MECHANICAL VENTILATION W EXTENSIVE PROCEDURE SOI 3 | 004 | 3 | TRACHEOSTOMY W LONG TERM MECHANICAL VENTILATION W EXTENSIVE PROCEDURE SOI 3.
S | 0 | 13 | TRACHEOSTOMY W LONG TERM MECHANICAL VENTILATION W EXTENSIVE PROCEDURE SOI 4 | 004 | 4 | TRACHEOSTOMY W LONG TERM MECHANICAL VENTILATION W EXTENSIVE PROCEDURE SOI 4.
S | 0 | 14 | TRACHEOSTOMY W LONG TERM MECHANICAL VENTILATION W/O EXTENSIVE PROCEDURE SOI 1 & 2 | 005 | 1 | TRACHEOSTOMY W LONG TERM MECHANICAL VENTILATION W/O EXTENSIVE PROCEDURE SOI 1.
S | 0 | 14 | TRACHEOSTOMY W LONG TERM MECHANICAL VENTILATION W/O EXTENSIVE PROCEDURE SOI 1 & 2 | 005 | 2 | TRACHEOSTOMY W LONG TERM MECHANICAL VENTILATION W/O EXTENSIVE PROCEDURE SOI 2.
S | 0 | 15 | TRACHEOSTOMY W LONG TERM MECHANICAL VENTILATION W/O EXTENSIVE PROCEDURE SOI 3 | 005 | 3 | TRACHEOSTOMY W LONG TERM MECHANICAL VENTILATION W/O EXTENSIVE PROCEDURE SOI 3.
S | 0 | 16 | TRACHEOSTOMY W LONG TERM MECHANICAL VENTILATION W/O EXTENSIVE PROCEDURE SOI 4 | 005 | 4 | TRACHEOSTOMY W LONG TERM MECHANICAL VENTILATION W/O EXTENSIVE PROCEDURE SOI 4.
S | 0 | 17 | PANCREAS TRANSPLANT SOI 1 & 2 | 006 | 1 | PANCREAS TRANSPLANT SOI 1.
S | 0 | 17 | PANCREAS TRANSPLANT SOI 1 & 2 | 006 | 2 | PANCREAS TRANSPLANT SOI 2.
S | 0 | 18 | PANCREAS TRANSPLANT SOI 3 | 006 | 3 | PANCREAS TRANSPLANT SOI 3.
S | 0 | 19 | PANCREAS TRANSPLANT SOI 4 | 006 | 4 | PANCREAS TRANSPLANT SOI 4.
S | 1 | 20 | NERVOUS SYSTEM PROCDURES SOI 4 | 020 | 4 | CRANIOTOMY FOR TRAUMA SOI 4.
S | 1 | 20 | NERVOUS SYSTEM PROCDURES SOI 4 | 021 | 4 | CRANIOTOMY EXCEPT FOR TRAUMA SOI 4.
S | 1 | 20 | NERVOUS SYSTEM PROCDURES SOI 4 | 022 | 4 | VENTRICULAR SHUNT PROCEDURES SOI 4.
S | 1 | 20 | NERVOUS SYSTEM PROCDURES SOI 4 | 023 | 4 | SPINAL PROCEDURES SOI 4.
S | 1 | 20 | NERVOUS SYSTEM PROCDURES SOI 4 | 024 | 4 | EXTRACRANIAL VASCULAR PROCEDURES SOI 4.
S | 1 | 20 | NERVOUS SYSTEM PROCDURES SOI 4 | 026 | 4 | OTHER NERVOUS SYSTEM & RELATED PROCEDURES SOI 4.
S | 1 | 21 | CRANIOTOMY FOR TRAUMA SOI 1 | 020 | 1 | CRANIOTOMY FOR TRAUMA SOI 1.
S | 1 | 22 | CRANIOTOMY FOR TRAUMA SOI 2 | 020 | 2 | CRANIOTOMY FOR TRAUMA SOI 2.
S | 1 | 23 | CRANIOTOMY FOR TRAUMA SOI 3 | 020 | 3 | CRANIOTOMY FOR TRAUMA SOI 3.
S | 1 | 24 | CRANIOTOMY EXCEPT FOR TRAUMA SOI 1 | 021 | 1 | CRANIOTOMY EXCEPT FOR TRAUMA SOI 1.
S | 1 | 25 | CRANIOTOMY EXCEPT FOR TRAUMA SOI 2 | 021 | 2 | CRANIOTOMY EXCEPT FOR TRAUMA SOI 2.
S | 1 | 26 | CRANIOTOMY EXCEPT FOR TRAUMA SOI 3 | 021 | 3 | CRANIOTOMY EXCEPT FOR TRAUMA SOI 3.
S | 1 | 27 | VENTRICULAR SHUNT PROCEDURES SOI 1 | 022 | 1 | VENTRICULAR SHUNT PROCEDURES SOI 1.
S | 1 | 28 | VENTRICULAR SHUNT PROCEDURES SOI 2 | 022 | 2 | VENTRICULAR SHUNT PROCEDURES SOI 2.
S | 1 | 29 | VENTRICULAR SHUNT PROCEDURES SOI 3 | 022 | 3 | VENTRICULAR SHUNT PROCEDURES SOI 3.
S | 1 | 30 | SPINAL PROCEDURES SOI 1 | 023 | 1 | SPINAL PROCEDURES SOI 1.
S | 1 | 31 | SPINAL PROCEDURES SOI 2 | 023 | 2 | SPINAL PROCEDURES SOI 2.
S | 1 | 32 | SPINAL PROCEDURES SOI 3 | 023 | 3 | SPINAL PROCEDURES SOI 3.
S | 1 | 33 | EXTRACRANIAL VASCULAR PROCEDURES SOI 1 | 024 | 1 | EXTRACRANIAL VASCULAR PROCEDURES SOI 1.
S | 1 | 34 | EXTRACRANIAL VASCULAR PROCEDURES SOI 2 | 024 | 2 | EXTRACRANIAL VASCULAR PROCEDURES SOI 2.
S | 1 | 35 | EXTRACRANIAL VASCULAR PROCEDURES SOI 3 | 024 | 3 | EXTRACRANIAL VASCULAR PROCEDURES SOI 3.
S | 1 | 36 | OTHER NERVOUS SYSTEM & RELATED PROCEDURES SOI 1 | 026 | 1 | OTHER NERVOUS SYSTEM & RELATED PROCEDURES SOI 1.
S | 1 | 37 | OTHER NERVOUS SYSTEM & RELATED PROCEDURES SOI 2 | 026 | 2 | OTHER NERVOUS SYSTEM & RELATED PROCEDURES SOI 2.
S | 1 | 38 | OTHER NERVOUS SYSTEM & RELATED PROCEDURES SOI 3 | 026 | 3 | OTHER NERVOUS SYSTEM & RELATED PROCEDURES SOI 3.
M | 1 | 39 | NERVOUS SYSTEM MEDICAL DIAGNOSES EXCEPT INFECTIONS SOI 4 | 040 | 4 | SPINAL DISORDERS & INJURIES SOI 4.
M | 1 | 39 | NERVOUS SYSTEM MEDICAL DIAGNOSES EXCEPT INFECTIONS SOI 4 | 041 | 4 | NERVOUS SYSTEM MALIGNANCY SOI 4.
M | 1 | 39 | NERVOUS SYSTEM MEDICAL DIAGNOSES EXCEPT INFECTIONS SOI 4 | 042 | 4 | DEGENERATIVE NERVOUS SYSTEM DISORDERS EXC MULT SCLEROSIS SOI 4.
M | 1 | 39 | NERVOUS SYSTEM MEDICAL DIAGNOSES EXCEPT INFECTIONS SOI 4 | 043 | 4 | MULTIPLE SCLEROSIS & OTHER DEMYELINATING DISEASES SOI 4.
M | 1 | 39 | NERVOUS SYSTEM MEDICAL DIAGNOSES EXCEPT INFECTIONS SOI 4 | 044 | 4 | INTRACRANIAL HEMORRHAGE SOI 4.
M | 1 | 39 | NERVOUS SYSTEM MEDICAL DIAGNOSES EXCEPT INFECTIONS SOI 4 | 045 | 4 | CVA & PRECEREBRAL OCCLUSION W INFARCT SOI 4.
M | 1 | 39 | NERVOUS SYSTEM MEDICAL DIAGNOSES EXCEPT INFECTIONS SOI 4 | 046 | 4 | NONSPECIFIC CVA & PRECEREBRAL OCCLUSION W/O INFARCT SOI 4.
M | 1 | 39 | NERVOUS SYSTEM MEDICAL DIAGNOSES EXCEPT INFECTIONS SOI 4 | 047 | 4 | TRANSIENT ISCHEMIA SOI 4.
M | 1 | 39 | NERVOUS SYSTEM MEDICAL DIAGNOSES EXCEPT INFECTIONS SOI 4 | 048 | 4 | PERIPHERAL, CRANIAL & AUTONOMIC NERVE DISORDERS SOI 4.
M | 1 | 39 | NERVOUS SYSTEM MEDICAL DIAGNOSES EXCEPT INFECTIONS SOI 4 | 051 | 4 | VIRAL MENINGITIS SOI 4.
M | 1 | 39 | NERVOUS SYSTEM MEDICAL DIAGNOSES EXCEPT INFECTIONS SOI 4 | 052 | 4 | NONTRAUMATIC STUPOR & COMA SOI 4.
M | 1 | 39 | NERVOUS SYSTEM MEDICAL DIAGNOSES EXCEPT INFECTIONS SOI 4 | 053 | 4 | SEIZURE SOI 4.
M | 1 | 39 | NERVOUS SYSTEM MEDICAL DIAGNOSES EXCEPT INFECTIONS SOI 4 | 054 | 4 | MIGRAINE & OTHER HEADACHES SOI 4.
M | 1 | 39 | NERVOUS SYSTEM MEDICAL DIAGNOSES EXCEPT INFECTIONS SOI 4 | 055 | 4 | HEAD TRAUMA W COMA >1 HR OR HEMORRHAGE SOI 4.
M | 1 | 39 | NERVOUS SYSTEM MEDICAL DIAGNOSES EXCEPT INFECTIONS SOI 4 | 056 | 4 | BRAIN CONTUSION/LACERATION & COMPLICATED SKULL FX, COMA <1 HR OR NO COMA SOI 4.
M | 1 | 39 | NERVOUS SYSTEM MEDICAL DIAGNOSES EXCEPT INFECTIONS SOI 4 | 057 | 4 | CONCUSSION, CLOSED SKULL FX NOS, UNCOMPLICATED INTRACRANIAL INJURY, COMA <1 HR OR NO COMA SOI 4.
M | 1 | 39 | NERVOUS SYSTEM MEDICAL DIAGNOSES EXCEPT INFECTIONS SOI 4 | 058 | 4 | OTHER DISORDERS OF NERVOUS SYSTEM SOI 4.
M | 1 | 40 | INFECTIONS OF NERVOUS SYSTEM SOI 4 | 049 | 4 | BACTERIAL & TUBERCULOUS INFECTIONS OF NERVOUS SYSTEM SOI 4.
M | 1 | 40 | INFECTIONS OF NERVOUS SYSTEM SOI 4 | 050 | 4 | NON-BACTERIAL INFECTIONS OF NERVOUS SYSTEM EXC VIRAL MENINGITIS SOI 4.
M | 1 | 41 | SPINAL DISORDERS & INJURIES SOI 1 | 040 | 1 | SPINAL DISORDERS & INJURIES SOI 1.
M | 1 | 42 | SPINAL DISORDERS & INJURIES SOI 2 | 040 | 2 | SPINAL DISORDERS & INJURIES SOI 2.
M | 1 | 43 | SPINAL DISORDERS & INJURIES SOI 3 | 040 | 3 | SPINAL DISORDERS & INJURIES SOI 3.
M | 1 | 44 | NERVOUS SYSTEM MALIGNANCY SOI 1 | 041 | 1 | NERVOUS SYSTEM MALIGNANCY SOI 1.
M | 1 | 45 | NERVOUS SYSTEM MALIGNANCY SOI 2 | 041 | 2 | NERVOUS SYSTEM MALIGNANCY SOI 2.
M | 1 | 46 | NERVOUS SYSTEM MALIGNANCY SOI 3 | 041 | 3 | NERVOUS SYSTEM MALIGNANCY SOI 3.
M | 1 | 47 | DEGENERATIVE NERVOUS SYSTEM DISORDERS EXC MULT SCLEROSIS SOI 1 | 042 | 1 | DEGENERATIVE NERVOUS SYSTEM DISORDERS EXC MULT SCLEROSIS SOI 1.
M | 1 | 48 | DEGENERATIVE NERVOUS SYSTEM DISORDERS EXC MULT SCLEROSIS SOI 2 | 042 | 2 | DEGENERATIVE NERVOUS SYSTEM DISORDERS EXC MULT SCLEROSIS SOI 2.
M | 1 | 49 | DEGENERATIVE NERVOUS SYSTEM DISORDERS EXC MULT SCLEROSIS SOI 3 | 042 | 3 | DEGENERATIVE NERVOUS SYSTEM DISORDERS EXC MULT SCLEROSIS SOI 3.
M | 1 | 50 | MULTIPLE SCLEROSIS & OTHER DEMYELINATING DISEASES SOI 1 | 043 | 1 | MULTIPLE SCLEROSIS & OTHER DEMYELINATING DISEASES SOI 1.
M | 1 | 51 | MULTIPLE SCLEROSIS & OTHER DEMYELINATING DISEASES SOI 2 | 043 | 2 | MULTIPLE SCLEROSIS & OTHER DEMYELINATING DISEASES SOI 2.
M | 1 | 52 | MULTIPLE SCLEROSIS & OTHER DEMYELINATING DISEASES SOI 3 | 043 | 3 | MULTIPLE SCLEROSIS & OTHER DEMYELINATING DISEASES SOI 3.
M | 1 | 53 | INTRACRANIAL HEMORRHAGE SOI 1 | 044 | 1 | INTRACRANIAL HEMORRHAGE SOI 1.
M | 1 | 54 | INTRACRANIAL HEMORRHAGE SOI 2 | 044 | 2 | INTRACRANIAL HEMORRHAGE SOI 2.
M | 1 | 55 | INTRACRANIAL HEMORRHAGE SOI 3 | 044 | 3 | INTRACRANIAL HEMORRHAGE SOI 3.
M | 1 | 56 | CVA & PRECEREBRAL OCCLUSION W INFARCT SOI 1 | 045 | 1 | CVA & PRECEREBRAL OCCLUSION W INFARCT SOI 1.
M | 1 | 57 | CVA & PRECEREBRAL OCCLUSION W INFARCT SOI 2 | 045 | 2 | CVA & PRECEREBRAL OCCLUSION W INFARCT SOI 2.
M | 1 | 58 | CVA & PRECEREBRAL OCCLUSION W INFARCT SOI 3 | 045 | 3 | CVA & PRECEREBRAL OCCLUSION W INFARCT SOI 3.
M | 1 | 59 | NONSPECIFIC CVA & PRECEREBRAL OCCLUSION W/O INFARCT SOI 1 | 046 | 1 | NONSPECIFIC CVA & PRECEREBRAL OCCLUSION W/O INFARCT SOI 1.
M | 1 | 60 | NONSPECIFIC CVA & PRECEREBRAL OCCLUSION W/O INFARCT SOI 2 | 046 | 2 | NONSPECIFIC CVA & PRECEREBRAL OCCLUSION W/O INFARCT SOI 2.
M | 1 | 61 | NONSPECIFIC CVA & PRECEREBRAL OCCLUSION W/O INFARCT SOI 3 | 046 | 3 | NONSPECIFIC CVA & PRECEREBRAL OCCLUSION W/O INFARCT SOI 3.
M | 1 | 62 | TRANSIENT ISCHEMIA SOI 1 | 047 | 1 | TRANSIENT ISCHEMIA SOI 1.
M | 1 | 63 | TRANSIENT ISCHEMIA SOI 2 | 047 | 2 | TRANSIENT ISCHEMIA SOI 2.
M | 1 | 64 | TRANSIENT ISCHEMIA SOI 3 | 047 | 3 | TRANSIENT ISCHEMIA SOI 3.
M | 1 | 65 | PERIPHERAL, CRANIAL & AUTONOMIC NERVE DISORDERS SOI 1 | 048 | 1 | PERIPHERAL, CRANIAL & AUTONOMIC NERVE DISORDERS SOI 1.
M | 1 | 66 | PERIPHERAL, CRANIAL & AUTONOMIC NERVE DISORDERS SOI 2 | 048 | 2 | PERIPHERAL, CRANIAL & AUTONOMIC NERVE DISORDERS SOI 2.
M | 1 | 67 | PERIPHERAL, CRANIAL & AUTONOMIC NERVE DISORDERS SOI 3 | 048 | 3 | PERIPHERAL, CRANIAL & AUTONOMIC NERVE DISORDERS SOI 3.
M | 1 | 68 | BACTERIAL & TUBERCULOUS INFECTIONS OF NERVOUS SYSTEM SOI 1 | 049 | 1 | BACTERIAL & TUBERCULOUS INFECTIONS OF NERVOUS SYSTEM SOI 1.
M | 1 | 69 | BACTERIAL & TUBERCULOUS INFECTIONS OF NERVOUS SYSTEM SOI 2 | 049 | 2 | BACTERIAL & TUBERCULOUS INFECTIONS OF NERVOUS SYSTEM SOI 2.
M | 1 | 70 | BACTERIAL & TUBERCULOUS INFECTIONS OF NERVOUS SYSTEM SOI 3 | 049 | 3 | BACTERIAL & TUBERCULOUS INFECTIONS OF NERVOUS SYSTEM SOI 3.
M | 1 | 71 | NON-BACTERIAL INFECTIONS OF NERVOUS SYSTEM EXC VIRAL MENINGITIS SOI 1 | 050 | 1 | NON-BACTERIAL INFECTIONS OF NERVOUS SYSTEM EXC VIRAL MENINGITIS SOI 1.
M | 1 | 72 | NON-BACTERIAL INFECTIONS OF NERVOUS SYSTEM EXC VIRAL MENINGITIS SOI 2 | 050 | 2 | NON-BACTERIAL INFECTIONS OF NERVOUS SYSTEM EXC VIRAL MENINGITIS SOI 2.
M | 1 | 73 | NON-BACTERIAL INFECTIONS OF NERVOUS SYSTEM EXC VIRAL MENINGITIS SOI 3 | 050 | 3 | NON-BACTERIAL INFECTIONS OF NERVOUS SYSTEM EXC VIRAL MENINGITIS SOI 3.
M | 1 | 74 | VIRAL MENINGITIS SOI 1 | 051 | 1 | VIRAL MENINGITIS SOI 1.
M | 1 | 75 | VIRAL MENINGITIS SOI 2 | 051 | 2 | VIRAL MENINGITIS SOI 2.
M | 1 | 76 | VIRAL MENINGITIS SOI 3 | 051 | 3 | VIRAL MENINGITIS SOI 3.
M | 1 | 77 | NONTRAUMATIC STUPOR & COMA SOI 1 | 052 | 1 | NONTRAUMATIC STUPOR & COMA SOI 1.
M | 1 | 78 | NONTRAUMATIC STUPOR & COMA SOI 2 | 052 | 2 | NONTRAUMATIC STUPOR & COMA SOI 2.
M | 1 | 79 | NONTRAUMATIC STUPOR & COMA SOI 3 | 052 | 3 | NONTRAUMATIC STUPOR & COMA SOI 3.
M | 1 | 80 | SEIZURE SOI 1 | 053 | 1 | SEIZURE SOI 1.
M | 1 | 81 | SEIZURE SOI 2 | 053 | 2 | SEIZURE SOI 2.
M | 1 | 82 | SEIZURE SOI 3 | 053 | 3 | SEIZURE SOI 3.
M | 1 | 83 | MIGRAINE & OTHER HEADACHES SOI 1 | 054 | 1 | MIGRAINE & OTHER HEADACHES SOI 1.
M | 1 | 84 | MIGRAINE & OTHER HEADACHES SOI 2 | 054 | 2 | MIGRAINE & OTHER HEADACHES SOI 2.
M | 1 | 85 | MIGRAINE & OTHER HEADACHES SOI 3 | 054 | 3 | MIGRAINE & OTHER HEADACHES SOI 3.
M | 1 | 86 | HEAD TRAUMA W COMA >1 HR OR HEMORRHAGE SOI 1 | 055 | 1 | HEAD TRAUMA W COMA >1 HR OR HEMORRHAGE SOI 1.
M | 1 | 87 | HEAD TRAUMA W COMA >1 HR OR HEMORRHAGE SOI 2 | 055 | 2 | HEAD TRAUMA W COMA >1 HR OR HEMORRHAGE SOI 2.
M | 1 | 88 | HEAD TRAUMA W COMA >1 HR OR HEMORRHAGE SOI 3 | 055 | 3 | HEAD TRAUMA W COMA >1 HR OR HEMORRHAGE SOI 3.
M | 1 | 89 | BRAIN CONTUSION/LACERATION & COMPLICATED SKULL FX, COMA <1 HR OR NO COMA SOI 1 | 056 | 1 | BRAIN CONTUSION/LACERATION & COMPLICATED SKULL FX, COMA <1 HR OR NO COMA SOI 1.
M | 1 | 90 | BRAIN CONTUSION/LACERATION & COMPLICATED SKULL FX, COMA <1 HR OR NO COMA SOI 2 | 056 | 2 | BRAIN CONTUSION/LACERATION & COMPLICATED SKULL FX, COMA <1 HR OR NO COMA SOI 2.
M | 1 | 91 | BRAIN CONTUSION/LACERATION & COMPLICATED SKULL FX, COMA <1 HR OR NO COMA SOI 3 | 056 | 3 | BRAIN CONTUSION/LACERATION & COMPLICATED SKULL FX, COMA <1 HR OR NO COMA SOI 3.
M | 1 | 92 | CONCUSSION, CLOSED SKULL FX NOS, UNCOMPLICATED INTRACRANIAL INJURY, COMA <1 HR OR NO COMA SOI 1 | 057 | 1 | CONCUSSION, CLOSED SKULL FX NOS, UNCOMPLICATED INTRACRANIAL INJURY, COMA <1 HR OR NO COMA SOI 1.
M | 1 | 93 | CONCUSSION, CLOSED SKULL FX NOS, UNCOMPLICATED INTRACRANIAL INJURY, COMA <1 HR OR NO COMA SOI 2 | 057 | 2 | CONCUSSION, CLOSED SKULL FX NOS, UNCOMPLICATED INTRACRANIAL INJURY, COMA <1 HR OR NO COMA SOI 2.
M | 1 | 94 | CONCUSSION, CLOSED SKULL FX NOS, UNCOMPLICATED INTRACRANIAL INJURY, COMA <1 HR OR NO COMA SOI 3 | 057 | 3 | CONCUSSION, CLOSED SKULL FX NOS, UNCOMPLICATED INTRACRANIAL INJURY, COMA <1 HR OR NO COMA SOI 3.
M | 1 | 95 | OTHER DISORDERS OF NERVOUS SYSTEM SOI 1 | 058 | 1 | OTHER DISORDERS OF NERVOUS SYSTEM SOI 1.
M | 1 | 96 | OTHER DISORDERS OF NERVOUS SYSTEM SOI 2 | 058 | 2 | OTHER DISORDERS OF NERVOUS SYSTEM SOI 2.
M | 1 | 97 | OTHER DISORDERS OF NERVOUS SYSTEM SOI 3 | 058 | 3 | OTHER DISORDERS OF NERVOUS SYSTEM SOI 3.
S | 2 | 98 | EYE PROCEDURES SOI 4 | 070 | 4 | ORBITAL PROCEDURES SOI 4.
S | 2 | 98 | EYE PROCEDURES SOI 4 | 073 | 4 | EYE PROCEDURES EXCEPT ORBIT SOI 4.
S | 2 | 99 | ORBITAL PROCEDURES SOI 1 | 070 | 1 | ORBITAL PROCEDURES SOI 1.
S | 2 | 100 | ORBITAL PROCEDURES SOI 2 | 070 | 2 | ORBITAL PROCEDURES SOI 2.
S | 2 | 101 | ORBITAL PROCEDURES SOI 3 | 070 | 3 | ORBITAL PROCEDURES SOI 3.
S | 2 | 102 | EYE PROCEDURES EXCEPT ORBIT SOI 1 | 073 | 1 | EYE PROCEDURES EXCEPT ORBIT SOI 1.
S | 2 | 103 | EYE PROCEDURES EXCEPT ORBIT SOI 2 | 073 | 2 | EYE PROCEDURES EXCEPT ORBIT SOI 2.
S | 2 | 104 | EYE PROCEDURES EXCEPT ORBIT SOI 3 | 073 | 3 | EYE PROCEDURES EXCEPT ORBIT SOI 3.
M | 2 | 105 | EYE DIAGNOSES SOI 4 | 080 | 4 | ACUTE MAJOR EYE INFECTIONS SOI 4.
M | 2 | 105 | EYE DIAGNOSES SOI 4 | 082 | 4 | EYE DISORDERS EXCEPT MAJOR INFECTIONS SOI 4.
M | 2 | 106 | ACUTE MAJOR EYE INFECTIONS SOI 1 | 080 | 1 | ACUTE MAJOR EYE INFECTIONS SOI 1.
M | 2 | 107 | ACUTE MAJOR EYE INFECTIONS SOI 2 | 080 | 2 | ACUTE MAJOR EYE INFECTIONS SOI 2.
M | 2 | 108 | ACUTE MAJOR EYE INFECTIONS SOI 3 | 080 | 3 | ACUTE MAJOR EYE INFECTIONS SOI 3.
M | 2 | 109 | EYE DISORDERS EXCEPT MAJOR INFECTIONS SOI 1 | 082 | 1 | EYE DISORDERS EXCEPT MAJOR INFECTIONS SOI 1.
M | 2 | 110 | EYE DISORDERS EXCEPT MAJOR INFECTIONS SOI 2 | 082 | 2 | EYE DISORDERS EXCEPT MAJOR INFECTIONS SOI 2.
M | 2 | 111 | EYE DISORDERS EXCEPT MAJOR INFECTIONS SOI 3 | 082 | 3 | EYE DISORDERS EXCEPT MAJOR INFECTIONS SOI 3.
S | 3 | 112 | EAR, NOSE, MOUTH & THROAT PROCEDURES SOI 4 | 089 | 4 | MAJOR CRANIAL/FACIAL BONE PROCEDURES SOI 4.
S | 3 | 112 | EAR, NOSE, MOUTH & THROAT PROCEDURES SOI 4 | 090 | 4 | MAJOR LARYNX & TRACHEA PROCEDURES SOI 4.
S | 3 | 112 | EAR, NOSE, MOUTH & THROAT PROCEDURES SOI 4 | 091 | 4 | OTHER MAJOR HEAD & NECK PROCEDURES SOI 4.
S | 3 | 112 | EAR, NOSE, MOUTH & THROAT PROCEDURES SOI 4 | 092 | 4 | FACIAL BONE PROCEDURES EXCEPT MAJOR CRANIAL/FACIAL BONE PROCEDURES SOI 4.
S | 3 | 112 | EAR, NOSE, MOUTH & THROAT PROCEDURES SOI 4 | 093 | 4 | SINUS & MASTOID PROCEDURES SOI 4.
S | 3 | 112 | EAR, NOSE, MOUTH & THROAT PROCEDURES SOI 4 | 095 | 4 | CLEFT LIP & PALATE REPAIR SOI 4.
S | 3 | 112 | EAR, NOSE, MOUTH & THROAT PROCEDURES SOI 4 | 097 | 4 | TONSIL & ADENOID PROCEDURES SOI 4.
S | 3 | 112 | EAR, NOSE, MOUTH & THROAT PROCEDURES SOI 4 | 098 | 4 | OTHER EAR, NOSE, MOUTH & THROAT PROCEDURES SOI 4.
S | 3 | 113 | MAJOR CRANIAL/FACIAL BONE PROCEDURES SOI 1 | 089 | 1 | MAJOR CRANIAL/FACIAL BONE PROCEDURES SOI 1.
S | 3 | 114 | MAJOR CRANIAL/FACIAL BONE PROCEDURES SOI 2 | 089 | 2 | MAJOR CRANIAL/FACIAL BONE PROCEDURES SOI 2.
S | 3 | 115 | MAJOR CRANIAL/FACIAL BONE PROCEDURES SOI 3 | 089 | 3 | MAJOR CRANIAL/FACIAL BONE PROCEDURES SOI 3.
S | 3 | 116 | MAJOR LARYNX & TRACHEA PROCEDURES SOI 1 | 090 | 1 | MAJOR LARYNX & TRACHEA PROCEDURES SOI 1.
S | 3 | 117 | MAJOR LARYNX & TRACHEA PROCEDURES SOI 2 | 090 | 2 | MAJOR LARYNX & TRACHEA PROCEDURES SOI 2.
S | 3 | 118 | MAJOR LARYNX & TRACHEA PROCEDURES SOI 3 | 090 | 3 | MAJOR LARYNX & TRACHEA PROCEDURES SOI 3.
S | 3 | 119 | OTHER MAJOR HEAD & NECK PROCEDURES SOI 1 | 091 | 1 | OTHER MAJOR HEAD & NECK PROCEDURES SOI 1.
S | 3 | 120 | OTHER MAJOR HEAD & NECK PROCEDURES SOI 2 | 091 | 2 | OTHER MAJOR HEAD & NECK PROCEDURES SOI 2.
S | 3 | 121 | OTHER MAJOR HEAD & NECK PROCEDURES SOI 3 | 091 | 3 | OTHER MAJOR HEAD & NECK PROCEDURES SOI 3.
S | 3 | 122 | FACIAL BONE PROCEDURES EXCEPT MAJOR CRANIAL/FACIAL BONE PROCEDURES SOI 1 | 092 | 1 | FACIAL BONE PROCEDURES EXCEPT MAJOR CRANIAL/FACIAL BONE PROCEDURES SOI 1.
S | 3 | 123 | FACIAL BONE PROCEDURES EXCEPT MAJOR CRANIAL/FACIAL BONE PROCEDURES SOI 2 | 092 | 2 | FACIAL BONE PROCEDURES EXCEPT MAJOR CRANIAL/FACIAL BONE PROCEDURES SOI 2.
S | 3 | 124 | FACIAL BONE PROCEDURES EXCEPT MAJOR CRANIAL/FACIAL BONE PROCEDURES SOI 3 | 092 | 3 | FACIAL BONE PROCEDURES EXCEPT MAJOR CRANIAL/FACIAL BONE PROCEDURES SOI 3.
S | 3 | 125 | SINUS & MASTOID PROCEDURES SOI 1 | 093 | 1 | SINUS & MASTOID PROCEDURES SOI 1.
S | 3 | 126 | SINUS & MASTOID PROCEDURES SOI 2 | 093 | 2 | SINUS & MASTOID PROCEDURES SOI 2.
S | 3 | 127 | SINUS & MASTOID PROCEDURES SOI 3 | 093 | 3 | SINUS & MASTOID PROCEDURES SOI 3.
S | 3 | 128 | CLEFT LIP & PALATE REPAIR SOI 1 | 095 | 1 | CLEFT LIP & PALATE REPAIR SOI 1.
S | 3 | 129 | CLEFT LIP & PALATE REPAIR SOI 2 | 095 | 2 | CLEFT LIP & PALATE REPAIR SOI 2.
S | 3 | 130 | CLEFT LIP & PALATE REPAIR SOI 3 | 095 | 3 | CLEFT LIP & PALATE REPAIR SOI 3.
S | 3 | 131 | TONSIL & ADENOID PROCEDURES SOI 1 | 097 | 1 | TONSIL & ADENOID PROCEDURES SOI 1.
S | 3 | 132 | TONSIL & ADENOID PROCEDURES SOI 2 | 097 | 2 | TONSIL & ADENOID PROCEDURES SOI 2.
S | 3 | 133 | TONSIL & ADENOID PROCEDURES SOI 3 | 097 | 3 | TONSIL & ADENOID PROCEDURES SOI 3.
S | 3 | 134 | OTHER EAR, NOSE, MOUTH & THROAT PROCEDURES SOI 1 | 098 | 1 | OTHER EAR, NOSE, MOUTH & THROAT PROCEDURES SOI 1.
S | 3 | 135 | OTHER EAR, NOSE, MOUTH & THROAT PROCEDURES SOI 2 | 098 | 2 | OTHER EAR, NOSE, MOUTH & THROAT PROCEDURES SOI 2.
S | 3 | 136 | OTHER EAR, NOSE, MOUTH & THROAT PROCEDURES SOI 3 | 098 | 3 | OTHER EAR, NOSE, MOUTH & THROAT PROCEDURES SOI 3.
M | 3 | 137 | EAR, NOSE, MOUTH & THROAT DIAGNOSES SOI 4 | 110 | 4 | EAR, NOSE, MOUTH, THROAT, CRANIAL/FACIAL MALIGNANCIES SOI 4.
M | 3 | 137 | EAR, NOSE, MOUTH & THROAT DIAGNOSES SOI 4 | 111 | 4 | VERTIGO & OTHER LABYRINTH DISORDERS SOI 4.
M | 3 | 137 | EAR, NOSE, MOUTH & THROAT DIAGNOSES SOI 4 | 113 | 4 | INFECTIONS OF UPPER RESPIRATORY TRACT SOI 4.
M | 3 | 137 | EAR, NOSE, MOUTH & THROAT DIAGNOSES SOI 4 | 114 | 4 | DENTAL & ORAL DISEASES & INJURIES SOI 4.
M | 3 | 137 | EAR, NOSE, MOUTH & THROAT DIAGNOSES SOI 4 | 115 | 4 | OTHER EAR, NOSE, MOUTH,THROAT & CRANIAL/FACIAL DIAGNOSES SOI 4.
M | 3 | 138 | EAR, NOSE, MOUTH, THROAT, CRANIAL/FACIAL MALIGNANCIES SOI 1 | 110 | 1 | EAR, NOSE, MOUTH, THROAT, CRANIAL/FACIAL MALIGNANCIES SOI 1.
M | 3 | 139 | EAR, NOSE, MOUTH, THROAT, CRANIAL/FACIAL MALIGNANCIES SOI 2 | 110 | 2 | EAR, NOSE, MOUTH, THROAT, CRANIAL/FACIAL MALIGNANCIES SOI 2.
M | 3 | 140 | EAR, NOSE, MOUTH, THROAT, CRANIAL/FACIAL MALIGNANCIES SOI 3 | 110 | 3 | EAR, NOSE, MOUTH, THROAT, CRANIAL/FACIAL MALIGNANCIES SOI 3.
M | 3 | 141 | VERTIGO & OTHER LABYRINTH DISORDERS SOI 1 | 111 | 1 | VERTIGO & OTHER LABYRINTH DISORDERS SOI 1.
M | 3 | 142 | VERTIGO & OTHER LABYRINTH DISORDERS SOI 2 | 111 | 2 | VERTIGO & OTHER LABYRINTH DISORDERS SOI 2.
M | 3 | 143 | VERTIGO & OTHER LABYRINTH DISORDERS SOI 3 | 111 | 3 | VERTIGO & OTHER LABYRINTH DISORDERS SOI 3.
M | 3 | 144 | INFECTIONS OF UPPER RESPIRATORY TRACT SOI 1 | 113 | 1 | INFECTIONS OF UPPER RESPIRATORY TRACT SOI 1.
M | 3 | 145 | INFECTIONS OF UPPER RESPIRATORY TRACT SOI 2 | 113 | 2 | INFECTIONS OF UPPER RESPIRATORY TRACT SOI 2.
M | 3 | 146 | INFECTIONS OF UPPER RESPIRATORY TRACT SOI 3 | 113 | 3 | INFECTIONS OF UPPER RESPIRATORY TRACT SOI 3.
M | 3 | 147 | DENTAL & ORAL DISEASES & INJURIES SOI 1 | 114 | 1 | DENTAL & ORAL DISEASES & INJURIES SOI 1.
M | 3 | 148 | DENTAL & ORAL DISEASES & INJURIES SOI 2 | 114 | 2 | DENTAL & ORAL DISEASES & INJURIES SOI 2.
M | 3 | 149 | DENTAL & ORAL DISEASES & INJURIES SOI 3 | 114 | 3 | DENTAL & ORAL DISEASES & INJURIES SOI 3.
M | 3 | 150 | OTHER EAR, NOSE, MOUTH, THROAT & CRANIAL/FACIAL DIAGNOSES SOI 1 | 115 | 1 | OTHER EAR, NOSE, MOUTH, THROAT & CRANIAL/FACIAL DIAGNOSES SOI 1.
M | 3 | 151 | OTHER EAR, NOSE, MOUTH, THROAT & CRANIAL/FACIAL DIAGNOSES SOI 2 | 115 | 2 | OTHER EAR, NOSE, MOUTH, THROAT & CRANIAL/FACIAL DIAGNOSES SOI 2.
M | 3 | 152 | OTHER EAR, NOSE, MOUTH, THROAT & CRANIAL/FACIAL DIAGNOSES SOI 3 | 115 | 3 | OTHER EAR, NOSE, MOUTH, THROAT & CRANIAL/FACIAL DIAGNOSES SOI 3.
S | 4 | 153 | RESPIRATORY & CHEST PROCEDURES SOI 4 | 120 | 4 | MAJOR RESPIRATORY & CHEST PROCEDURES SOI 4.
S | 4 | 153 | RESPIRATORY & CHEST PROCEDURES SOI 4 | 121 | 4 | OTHER RESPIRATORY & CHEST PROCEDURES SOI 4.
S | 4 | 154 | MAJOR RESPIRATORY & CHEST PROCEDURES SOI 1 | 120 | 1 | MAJOR RESPIRATORY & CHEST PROCEDURES SOI 1.
S | 4 | 155 | MAJOR RESPIRATORY & CHEST PROCEDURES SOI 2 | 120 | 2 | MAJOR RESPIRATORY & CHEST PROCEDURES SOI 2.
S | 4 | 156 | MAJOR RESPIRATORY & CHEST PROCEDURES SOI 3 | 120 | 3 | MAJOR RESPIRATORY & CHEST PROCEDURES SOI 3.
S | 4 | 157 | OTHER RESPIRATORY & CHEST PROCEDURES SOI 1 | 121 | 1 | OTHER RESPIRATORY & CHEST PROCEDURES SOI 1.
S | 4 | 158 | OTHER RESPIRATORY & CHEST PROCEDURES SOI 2 | 121 | 2 | OTHER RESPIRATORY & CHEST PROCEDURES SOI 2.
S | 4 | 159 | OTHER RESPIRATORY & CHEST PROCEDURES SOI 3 | 121 | 3 | OTHER RESPIRATORY & CHEST PROCEDURES SOI 3.
M | 4 | 160 | RESPIRATORY SYSTEM DIAGNOSES EXCEPT W VENTILATOR SUPPORT 96+ HOURS SOI 4 | 131 | 4 | CYSTIC FIBROSIS—PULMONARY DISEASE SOI 4.
M | 4 | 160 | RESPIRATORY SYSTEM DIAGNOSES EXCEPT W VENTILATOR SUPPORT 96+ HOURS SOI 4 | 132 | 4 | BPD & OTH CHRONIC RESPIRATORY DISEASES ARISING IN PERINATAL PERIOD SOI 4.
M | 4 | 160 | RESPIRATORY SYSTEM DIAGNOSES EXCEPT W VENTILATOR SUPPORT 96+ HOURS SOI 4 | 133 | 4 | PULMONARY EDEMA & RESPIRATORY FAILURE SOI 4.
M | 4 | 160 | RESPIRATORY SYSTEM DIAGNOSES EXCEPT W VENTILATOR SUPPORT 96+ HOURS SOI 4 | 134 | 4 | PULMONARY EMBOLISM SOI 4.
M | 4 | 160 | RESPIRATORY SYSTEM DIAGNOSES EXCEPT W VENTILATOR SUPPORT 96+ HOURS SOI 4 | 135 | 4 | MAJOR CHEST & RESPIRATORY TRAUMA SOI 4.
M | 4 | 160 | RESPIRATORY SYSTEM DIAGNOSES EXCEPT W VENTILATOR SUPPORT 96+ HOURS SOI 4 | 136 | 4 | RESPIRATORY MALIGNANCY SOI 4.
M | 4 | 160 | RESPIRATORY SYSTEM DIAGNOSES EXCEPT W VENTILATOR SUPPORT 96+ HOURS SOI 4 | 137 | 4 | MAJOR RESPIRATORY INFECTIONS & INFLAMMATIONS SOI 4.
M | 4 | 160 | RESPIRATORY SYSTEM DIAGNOSES EXCEPT W VENTILATOR SUPPORT 96+ HOURS SOI 4 | 138 | 4 | BRONCHIOLITIS & RSV PNEUMONIA SOI 4.
M | 4 | 160 | RESPIRATORY SYSTEM DIAGNOSES EXCEPT W VENTILATOR SUPPORT 96+ HOURS SOI 4 | 139 | 4 | OTHER PNEUMONIA SOI 4.
M | 4 | 160 | RESPIRATORY SYSTEM DIAGNOSES EXCEPT W VENTILATOR SUPPORT 96+ HOURS SOI 4 | 140 | 4 | CHRONIC OBSTRUCTIVE PULMONARY DISEASE SOI 4.
M | 4 | 160 | RESPIRATORY SYSTEM DIAGNOSES EXCEPT W VENTILATOR SUPPORT 96+ HOURS SOI 4 | 141 | 4 | ASTHMA SOI 4.
M | 4 | 160 | RESPIRATORY SYSTEM DIAGNOSES EXCEPT W VENTILATOR SUPPORT 96+ HOURS SOI 4 | 142 | 4 | INTERSTITIAL LUNG DISEASE SOI 4.
M | 4 | 160 | RESPIRATORY SYSTEM DIAGNOSES EXCEPT W VENTILATOR SUPPORT 96+ HOURS SOI 4 | 143 | 4 | OTHER RESPIRATORY DIAGNOSES EXCEPT SIGNS, SYMPTOMS & MINOR DIAGNOSES SOI 4.
M | 4 | 160 | RESPIRATORY SYSTEM DIAGNOSES EXCEPT W VENTILATOR SUPPORT 96+ HOURS SOI 4 | 144 | 4 | RESPIRATORY SIGNS, SYMPTOMS & MINOR DIAGNOSES SOI 4.
M | 4 | 161 | RESPIRATORY SYSTEM DIAGNOSIS W VENTILATOR SUPPORT 96+ HOURS SOI 1 | 130 | 1 | RESPIRATORY SYSTEM DIAGNOSIS W VENTILATOR SUPPORT 96+ HOURS SOI 1.
M | 4 | 162 | RESPIRATORY SYSTEM DIAGNOSIS W VENTILATOR SUPPORT 96+ HOURS SOI 2 | 130 | 2 | RESPIRATORY SYSTEM DIAGNOSIS W VENTILATOR SUPPORT 96+ HOURS SOI 2.
M | 4 | 163 | RESPIRATORY SYSTEM DIAGNOSIS W VENTILATOR SUPPORT 96+ HOURS SOI 3 | 130 | 3 | RESPIRATORY SYSTEM DIAGNOSIS W VENTILATOR SUPPORT 96+ HOURS SOI 3.
M | 4 | 164 | RESPIRATORY SYSTEM DIAGNOSIS W VENTILATOR SUPPORT 96+ HOURS SOI 4 | 130 | 4 | RESPIRATORY SYSTEM DIAGNOSIS W VENTILATOR SUPPORT 96+ HOURS SOI 4.
M | 4 | 165 | CYSTIC FIBROSIS—PULMONARY DISEASE SOI 1 | 131 | 1 | CYSTIC FIBROSIS—PULMONARY DISEASE SOI 1.
M | 4 | 166 | CYSTIC FIBROSIS—PULMONARY DISEASE SOI 2 | 131 | 2 | CYSTIC FIBROSIS—PULMONARY DISEASE SOI 2.
M | 4 | 167 | CYSTIC FIBROSIS—PULMONARY DISEASE SOI 3 | 131 | 3 | CYSTIC FIBROSIS—PULMONARY DISEASE SOI 3.
M | 4 | 168 | PULMONARY EDEMA & RESPIRATORY FAILURE SOI 1 | 133 | 1 | PULMONARY EDEMA & RESPIRATORY FAILURE SOI 1.
M | 4 | 169 | PULMONARY EDEMA & RESPIRATORY FAILURE SOI 2 | 133 | 2 | PULMONARY EDEMA & RESPIRATORY FAILURE SOI 2.
M | 4 | 170 | PULMONARY EDEMA & RESPIRATORY FAILURE SOI 3 | 133 | 3 | PULMONARY EDEMA & RESPIRATORY FAILURE SOI 3.
M | 4 | 171 | PULMONARY EMBOLISM SOI 1 | 134 | 1 | PULMONARY EMBOLISM SOI 1.
M | 4 | 172 | PULMONARY EMBOLISM SOI 2 | 134 | 2 | PULMONARY EMBOLISM SOI 2.
M | 4 | 173 | PULMONARY EMBOLISM SOI 3 | 134 | 3 | PULMONARY EMBOLISM SOI 3.
M | 4 | 174 | MAJOR CHEST & RESPIRATORY TRAUMA SOI 1 | 135 | 1 | MAJOR CHEST & RESPIRATORY TRAUMA SOI 1.
M | 4 | 175 | MAJOR CHEST & RESPIRATORY TRAUMA SOI 2 | 135 | 2 | MAJOR CHEST & RESPIRATORY TRAUMA SOI 2.
M | 4 | 176 | MAJOR CHEST & RESPIRATORY TRAUMA SOI 3 | 135 | 3 | MAJOR CHEST & RESPIRATORY TRAUMA SOI 3.
M | 4 | 177 | RESPIRATORY MALIGNANCY SOI 1 | 136 | 1 | RESPIRATORY MALIGNANCY SOI 1.
M | 4 | 178 | RESPIRATORY MALIGNANCY SOI 2 | 136 | 2 | RESPIRATORY MALIGNANCY SOI 2.
M | 4 | 179 | RESPIRATORY MALIGNANCY SOI 3 | 136 | 3 | RESPIRATORY MALIGNANCY SOI 3.
M | 4 | 180 | MAJOR RESPIRATORY INFECTIONS & INFLAMMATIONS SOI 1 | 137 | 1 | MAJOR RESPIRATORY INFECTIONS & INFLAMMATIONS SOI 1.
M | 4 | 181 | MAJOR RESPIRATORY INFECTIONS & INFLAMMATIONS SOI 2 | 137 | 2 | MAJOR RESPIRATORY INFECTIONS & INFLAMMATIONS SOI 2.
M | 4 | 182 | MAJOR RESPIRATORY INFECTIONS & INFLAMMATIONS SOI 3 | 137 | 3 | MAJOR RESPIRATORY INFECTIONS & INFLAMMATIONS SOI 3.
M | 4 | 183 | BRONCHIOLITIS & RSV PNEUMONIA SOI 1 | 138 | 1 | BRONCHIOLITIS & RSV PNEUMONIA SOI 1.
M | 4 | 184 | BRONCHIOLITIS & RSV PNEUMONIA SOI 2 | 138 | 2 | BRONCHIOLITIS & RSV PNEUMONIA SOI 2.
M | 4 | 185 | BRONCHIOLITIS & RSV PNEUMONIA SOI 3 | 138 | 3 | BRONCHIOLITIS & RSV PNEUMONIA SOI 3.
M | 4 | 186 | OTHER PNEUMONIA SOI 1 | 139 | 1 | OTHER PNEUMONIA SOI 1.
M | 4 | 187 | OTHER PNEUMONIA SOI 2 | 139 | 2 | OTHER PNEUMONIA SOI 2.
M | 4 | 188 | OTHER PNEUMONIA SOI 3 | 139 | 3 | OTHER PNEUMONIA SOI 3.
M | 4 | 189 | CHRONIC OBSTRUCTIVE PULMONARY DISEASE SOI 1 | 140 | 1 | CHRONIC OBSTRUCTIVE PULMONARY DISEASE SOI 1.
M | 4 | 190 | CHRONIC OBSTRUCTIVE PULMONARY DISEASE SOI 2 | 140 | 2 | CHRONIC OBSTRUCTIVE PULMONARY DISEASE SOI 2.
M | 4 | 191 | CHRONIC OBSTRUCTIVE PULMONARY DISEASE SOI 3 | 140 | 3 | CHRONIC OBSTRUCTIVE PULMONARY DISEASE SOI 3.
M | 4 | 192 | ASTHMA SOI 1 | 141 | 1 | ASTHMA SOI 1.
M | 4 | 193 | ASTHMA SOI 2 | 141 | 2 | ASTHMA SOI 2.
M | 4 | 194 | ASTHMA SOI 3 | 141 | 3 | ASTHMA SOI 3.
M | 4 | 195 | INTERSTITIAL LUNG DISEASE SOI 1 | 132 | 1 | BPD & OTH CHRONIC RESPIRATORY DISEASES ARISING IN PERINATAL PERIOD SOI 1.
M | 4 | 195 | INTERSTITIAL LUNG DISEASE SOI 1 | 142 | 1 | INTERSTITIAL LUNG DISEASE SOI 1.
M | 4 | 196 | INTERSTITIAL LUNG DISEASE SOI 2 | 132 | 2 | BPD & OTH CHRONIC RESPIRATORY DISEASES ARISING IN PERINATAL PERIOD SOI 2.
M | 4 | 196 | INTERSTITIAL LUNG DISEASE SOI 2 | 142 | 2 | INTERSTITIAL LUNG DISEASE SOI 2.
M | 4 | 197 | INTERSTITIAL LUNG DISEASE SOI 3 | 132 | 3 | BPD & OTH CHRONIC RESPIRATORY DISEASES ARISING IN PERINATAL PERIOD SOI 3.
M | 4 | 197 | INTERSTITIAL LUNG DISEASE SOI 3 | 142 | 3 | INTERSTITIAL LUNG DISEASE SOI 3.
M | 4 | 198 | OTHER RESPIRATORY DIAGNOSES EXCEPT SIGNS, SYMPTOMS & MINOR DIAGNOSES SOI 1 | 143 | 1 | OTHER RESPIRATORY DIAGNOSES EXCEPT SIGNS, SYMPTOMS & MINOR DIAGNOSES SOI 1.
M | 4 | 199 | OTHER RESPIRATORY DIAGNOSES EXCEPT SIGNS, SYMPTOMS & MINOR DIAGNOSES SOI 2 | 143 | 2 | OTHER RESPIRATORY DIAGNOSES EXCEPT SIGNS, SYMPTOMS & MINOR DIAGNOSES SOI 2.
M | 4 | 200 | OTHER RESPIRATORY DIAGNOSES EXCEPT SIGNS, SYMPTOMS & MINOR DIAGNOSES SOI 3 | 143 | 3 | OTHER RESPIRATORY DIAGNOSES EXCEPT SIGNS, SYMPTOMS & MINOR DIAGNOSES SOI 3.
M | 4 | 201 | RESPIRATORY SIGNS, SYMPTOMS & MINOR DIAGNOSES SOI 1 | 144 | 1 | RESPIRATORY SIGNS, SYMPTOMS & MINOR DIAGNOSES SOI 1.
M | 4 | 202 | RESPIRATORY SIGNS, SYMPTOMS & MINOR DIAGNOSES SOI 2 | 144 | 2 | RESPIRATORY SIGNS, SYMPTOMS & MINOR DIAGNOSES SOI 2.
M | 4 | 203 | RESPIRATORY SIGNS, SYMPTOMS & MINOR DIAGNOSES SOI 3 | 144 | 3 | RESPIRATORY SIGNS, SYMPTOMS & MINOR DIAGNOSES SOI 3.
S | 5 | 204 | CARDIOTHORACIC PROCEDURES SOI 4 | 160 | 4 | MAJOR CARDIOTHORACIC REPAIR OF HEART ANOMALY SOI 4.
S | 5 | 204 | CARDIOTHORACIC PROCEDURES SOI 4 | 161 | 4 | CARDIAC DEFIBRILLATOR & HEART ASSIST IMPLANT SOI 4.
S | 5 | 204 | CARDIOTHORACIC PROCEDURES SOI 4 | 162 | 4 | CARDIAC VALVE PROCEDURES W CARDIAC CATHETERIZATION SOI 4.
S | 5 | 204 | CARDIOTHORACIC PROCEDURES SOI 4 | 163 | 4 | CARDIAC VALVE PROCEDURES W/O CARDIAC CATHETERIZATION SOI 4.
S | 5 | 204 | CARDIOTHORACIC PROCEDURES SOI 4 | 165 | 4 | CORONARY BYPASS W CARDIAC CATH OR PERCUTANEOUS CARDIAC PROCEDURE SOI 4.
S | 5 | 204 | CARDIOTHORACIC PROCEDURES SOI 4 | 166 | 4 | CORONARY BYPASS W/O CARDIAC CATH OR PERCUTANEOUS CARDIAC PROCEDURE SOI 4.
S | 5 | 204 | CARDIOTHORACIC PROCEDURES SOI 4 | 167 | 4 | OTHER CARDIOTHORACIC PROCEDURES SOI 4.
S | 5 | 205 | VASCULAR PROCEDURES SOI 4 | 169 | 4 | MAJOR THORACIC & ABDOMINAL VASCULAR PROCEDURES SOI 4.
S | 5 | 205 | VASCULAR PROCEDURES SOI 4 | 173 | 4 | OTHER VASCULAR PROCEDURES SOI 4.
S | 5 | 206 | OTHER CIRCULATORY SYSTEM PROCEDURES SOI 4 | 170 | 4 | PERMANENT CARDIAC PACEMAKER IMPLANT W AMI, HEART FAILURE OR SHOCK SOI 4.
S | 5 | 206 | OTHER CIRCULATORY SYSTEM PROCEDURES SOI 4 | 171 | 4 | PERM CARDIAC PACEMAKER IMPLANT W/O AMI, HEART FAILURE OR SHOCK SOI 4.
S | 5 | 206 | OTHER CIRCULATORY SYSTEM PROCEDURES SOI 4 | 174 | 4 | PERCUTANEOUS CARDIOVASCULAR PROCEDURES W AMI SOI 4.
S | 5 | 206 | OTHER CIRCULATORY SYSTEM PROCEDURES SOI 4 | 175 | 4 | PERCUTANEOUS CARDIOVASCULAR PROCEDURES W/O AMI SOI 4.
S | 5 | 206 | OTHER CIRCULATORY SYSTEM PROCEDURES SOI 4 | 176 | 4 | CARDIAC PACEMAKER & DEFIBRILLATOR DEVICE REPLACEMENT SOI 4.
S | 5 | 206 | OTHER CIRCULATORY SYSTEM PROCEDURES SOI 4 | 177 | 4 | CARDIAC PACEMAKER & DEFIBRILLATOR REVISION EXCEPT DEVICE REPLACEMENT SOI 4.
S | 5 | 206 | OTHER CIRCULATORY SYSTEM PROCEDURES SOI 4 | 180 | 4 | OTHER CIRCULATORY SYSTEM PROCEDURES SOI 4.
S | 5 | 207 | CARDIAC DEFIBRILLATOR & HEART ASSIST IMPLANT SOI 1 | 161 | 1 | CARDIAC DEFIBRILLATOR & HEART ASSIST IMPLANT SOI 1.
S | 5 | 208 | CARDIAC DEFIBRILLATOR & HEART ASSIST IMPLANT SOI 2 | 161 | 2 | CARDIAC DEFIBRILLATOR & HEART ASSIST IMPLANT SOI 2.
S | 5 | 209 | CARDIAC DEFIBRILLATOR & HEART ASSIST IMPLANT SOI 3 | 161 | 3 | CARDIAC DEFIBRILLATOR & HEART ASSIST IMPLANT SOI 3.
S | 5 | 210 | CARDIAC VALVE PROCEDURES W CARDIAC CATHETERIZATION SOI 1 | 162 | 1 | CARDIAC VALVE PROCEDURES W CARDIAC CATHETERIZATION SOI 1.
S | 5 | 211 | CARDIAC VALVE PROCEDURES W CARDIAC CATHETERIZATION SOI 2 | 162 | 2 | CARDIAC VALVE PROCEDURES W CARDIAC CATHETERIZATION SOI 2.
S | 5 | 212 | CARDIAC VALVE PROCEDURES W CARDIAC CATHETERIZATION SOI 3 | 162 | 3 | CARDIAC VALVE PROCEDURES W CARDIAC CATHETERIZATION SOI 3.
S | 5 | 213 | CARDIAC VALVE PROCEDURES W/O CARDIAC CATHETERIZATION SOI 1 | 163 | 1 | CARDIAC VALVE PROCEDURES W/O CARDIAC CATHETERIZATION SOI 1.
S | 5 | 214 | CARDIAC VALVE PROCEDURES W/O CARDIAC CATHETERIZATION SOI 2 | 163 | 2 | CARDIAC VALVE PROCEDURES W/O CARDIAC CATHETERIZATION SOI 2.
S | 5 | 215 | CARDIAC VALVE PROCEDURES W/O CARDIAC CATHETERIZATION SOI 3 | 163 | 3 | CARDIAC VALVE PROCEDURES W/O CARDIAC CATHETERIZATION SOI 3.
S | 5 | 216 | CORONARY BYPASS W CARDIAC CATH OR PERCUTANEOUS CARDIAC PROCEDURE SOI 1 | 165 | 1 | CORONARY BYPASS W CARDIAC CATH OR PERCUTANEOUS CARDIAC PROCEDURE SOI 1.
S | 5 | 217 | CORONARY BYPASS W CARDIAC CATH OR PERCUTANEOUS CARDIAC PROCEDURE SOI 2 | 165 | 2 | CORONARY BYPASS W CARDIAC CATH OR PERCUTANEOUS CARDIAC PROCEDURE SOI 2.
S | 5 | 218 | CORONARY BYPASS W CARDIAC CATH OR PERCUTANEOUS CARDIAC PROCEDURE SOI 3 | 165 | 3 | CORONARY BYPASS W CARDIAC CATH OR PERCUTANEOUS CARDIAC PROCEDURE SOI 3.
S | 5 | 219 | CORONARY BYPASS W/O CARDIAC CATH OR PERCUTANEOUS CARDIAC PROCEDURE SOI 1 | 166 | 1 | CORONARY BYPASS W/O CARDIAC CATH OR PERCUTANEOUS CARDIAC PROCEDURE SOI 1.
S | 5 | 220 | CORONARY BYPASS W/O CARDIAC CATH OR PERCUTANEOUS CARDIAC PROCEDURE SOI 2 | 166 | 2 | CORONARY BYPASS W/O CARDIAC CATH OR PERCUTANEOUS CARDIAC PROCEDURE SOI 2.
S | 5 | 221 | CORONARY BYPASS W/O CARDIAC CATH OR PERCUTANEOUS CARDIAC PROCEDURE SOI 3 | 166 | 3 | CORONARY BYPASS W/O CARDIAC CATH OR PERCUTANEOUS CARDIAC PROCEDURE SOI 3.
S | 5 | 222 | OTHER CARDIOTHORACIC PROCEDURES SOI 1 | 160 | 1 | MAJOR CARDIOTHORACIC REPAIR OF HEART ANOMALY SOI 1.
S | 5 | 222 | OTHER CARDIOTHORACIC PROCEDURES SOI 1 | 167 | 1 | OTHER CARDIOTHORACIC PROCEDURES SOI 1.
S | 5 | 223 | OTHER CARDIOTHORACIC PROCEDURES SOI 2 | 160 | 2 | MAJOR CARDIOTHORACIC REPAIR OF HEART ANOMALY SOI 2.
S | 5 | 223 | OTHER CARDIOTHORACIC PROCEDURES SOI 2 | 167 | 2 | OTHER CARDIOTHORACIC PROCEDURES SOI 2.
S | 5 | 224 | OTHER CARDIOTHORACIC PROCEDURES SOI 3 | 160 | 3 | MAJOR CARDIOTHORACIC REPAIR OF HEART ANOMALY SOI 3.
S | 5 | 224 | OTHER CARDIOTHORACIC PROCEDURES SOI 3 | 167 | 3 | OTHER CARDIOTHORACIC PROCEDURES SOI 3.
S | 5 | 225. | MAJOR THORACIC & ABDOMINAL VASCULAR PROCEDURES SOI 1 | 169 | 1 | MAJOR THORACIC & ABDOMINAL VASCULAR PROCEDURES SOI 1.
S | 5 | 226. | MAJOR THORACIC & ABDOMINAL VASCULAR PROCEDURES SOI 2 | 169 | 2 | MAJOR THORACIC & ABDOMINAL VASCULAR PROCEDURES SOI 2.
S | 5 | 227 | MAJOR THORACIC & ABDOMINAL VASCULAR PROCEDURES SOI 3 | 169 | 3 | MAJOR THORACIC & ABDOMINAL VASCULAR PROCEDURES SOI 3.
S | 5 | 228 | PERMANENT CARDIAC PACEMAKER IMPLANT W AMI, HEART FAILURE OR SHOCK SOI 1 | 170 | 1 | PERMANENT CARDIAC PACEMAKER IMPLANT W AMI, HEART FAILURE OR SHOCK SOI 1.
S | 5 | 229 | PERMANENT CARDIAC PACEMAKER IMPLANT W AMI, HEART FAILURE OR SHOCK SOI 2 | 170 | 2 | PERMANENT CARDIAC PACEMAKER IMPLANT W AMI, HEART FAILURE OR SHOCK SOI 2.
S | 5 | 230 | PERMANENT CARDIAC PACEMAKER IMPLANT W AMI, HEART FAILURE OR SHOCK SOI 3 | 170 | 3 | PERMANENT CARDIAC PACEMAKER IMPLANT W AMI, HEART FAILURE OR SHOCK SOI 3.
S | 5 | 231 | PERM CARDIAC PACEMAKER IMPLANT W/O AMI, HEART FAILURE OR SHOCK SOI 1 | 171 | 1 | PERM CARDIAC PACEMAKER IMPLANT W/O AMI, HEART FAILURE OR SHOCK SOI 1.
S | 5 | 232 | PERM CARDIAC PACEMAKER IMPLANT W/O AMI, HEART FAILURE OR SHOCK SOI 2 | 171 | 2 | PERM CARDIAC PACEMAKER IMPLANT W/O AMI, HEART FAILURE OR SHOCK SOI 2.
S | 5 | 233 | PERM CARDIAC PACEMAKER IMPLANT W/O AMI, HEART FAILURE OR SHOCK SOI 3 | 171 | 3 | PERM CARDIAC PACEMAKER IMPLANT W/O AMI, HEART FAILURE OR SHOCK SOI 3.
S | 5 | 234 | OTHER VASCULAR PROCEDURES SOI 1 | 173 | 1 | OTHER VASCULAR PROCEDURES SOI 1.
S | 5 | 235 | OTHER VASCULAR PROCEDURES SOI 2 | 173 | 2 | OTHER VASCULAR PROCEDURES SOI 2.
S | 5 | 236 | OTHER VASCULAR PROCEDURES SOI 3 | 173 | 3 | OTHER VASCULAR PROCEDURES SOI 3.
S | 5 | 237 | PERCUTANEOUS CARDIOVASCULAR PROCEDURES W AMI SOI 1 | 174 | 1 | PERCUTANEOUS CARDIOVASCULAR PROCEDURES W AMI SOI 1.
S | 5 | 238 | PERCUTANEOUS CARDIOVASCULAR PROCEDURES W AMI SOI 2 | 174 | 2 | PERCUTANEOUS CARDIOVASCULAR PROCEDURES W AMI SOI 2.
S | 5 | 239 | PERCUTANEOUS CARDIOVASCULAR PROCEDURES W AMI SOI 3 | 174 | 3 | PERCUTANEOUS CARDIOVASCULAR PROCEDURES W AMI SOI 3.
S | 5 | 240 | PERCUTANEOUS CARDIOVASCULAR PROCEDURES W/O AMI SOI 1 | 175 | 1 | PERCUTANEOUS CARDIOVASCULAR PROCEDURES W/O AMI SOI 1.
S | 5 | 241 | PERCUTANEOUS CARDIOVASCULAR PROCEDURES W/O AMI SOI 2 | 175 | 2 | PERCUTANEOUS CARDIOVASCULAR PROCEDURES W/O AMI SOI 2.
S | 5 | 242 | PERCUTANEOUS CARDIOVASCULAR PROCEDURES W/O AMI SOI 3 | 175 | 3 | PERCUTANEOUS CARDIOVASCULAR PROCEDURES W/O AMI SOI 3.
S | 5 | 243 | CARDIAC PACEMAKER & DEFIBRILLATOR DEVICE REPLACEMENT SOI 1 | 176 | 1 | CARDIAC PACEMAKER & DEFIBRILLATOR DEVICE REPLACEMENT SOI 1.
S | 5 | 244 | CARDIAC PACEMAKER & DEFIBRILLATOR DEVICE REPLACEMENT SOI 2 | 176 | 2 | CARDIAC PACEMAKER & DEFIBRILLATOR DEVICE REPLACEMENT SOI 2.
S | 5 | 245 | CARDIAC PACEMAKER & DEFIBRILLATOR DEVICE REPLACEMENT SOI 3 | 176 | 3 | CARDIAC PACEMAKER & DEFIBRILLATOR DEVICE REPLACEMENT SOI 3.
S | 5 | 246 | CARDIAC PACEMAKER & DEFIBRILLATOR REVISION EXCEPT DEVICE REPLACEMENT SOI 1 | 177 | 1 | CARDIAC PACEMAKER & DEFIBRILLATOR REVISION EXCEPT DEVICE REPLACEMENT SOI 1.
S | 5 | 247 | CARDIAC PACEMAKER & DEFIBRILLATOR REVISION EXCEPT DEVICE REPLACEMENT SOI 2 | 177 | 2 | CARDIAC PACEMAKER & DEFIBRILLATOR REVISION EXCEPT DEVICE REPLACEMENT SOI 2.
S | 5 | 248 | CARDIAC PACEMAKER & DEFIBRILLATOR REVISION EXCEPT DEVICE REPLACEMENT SOI 3 | 177 | 3 | CARDIAC PACEMAKER & DEFIBRILLATOR REVISION EXCEPT DEVICE REPLACEMENT SOI 3.
S | 5 | 249 | OTHER CIRCULATORY SYSTEM PROCEDURES SOI 1 | 180 | 1 | OTHER CIRCULATORY SYSTEM PROCEDURES SOI 1.
S | 5 | 250 | OTHER CIRCULATORY SYSTEM PROCEDURES SOI 2 | 180 | 2 | OTHER CIRCULATORY SYSTEM PROCEDURES SOI 2.
S | 5 | 251 | OTHER CIRCULATORY SYSTEM PROCEDURES SOI 3 | 180 | 3 | OTHER CIRCULATORY SYSTEM PROCEDURES SOI 3.
M | 5 | 252 | CIRCULATORY SYSTEM DIAGNOSES SOI 4 | 190 | 4 | ACUTE MYOCARDIAL INFARCTION SOI 4.
M | 5 | 252 | CIRCULATORY SYSTEM DIAGNOSES SOI 4 | 191 | 4 | CARDIAC CATHETERIZATION W CIRC DISORD EXC ISCHEMIC HEART DISEASE SOI 4.
M | 5 | 252 | CIRCULATORY SYSTEM DIAGNOSES SOI 4 | 192 | 4 | CARDIAC CATHETERIZATION FOR ISCHEMIC HEART DISEASE SOI 4.
M | 5 | 252 | CIRCULATORY SYSTEM DIAGNOSES SOI 4 | 193 | 4 | ACUTE & SUBACUTE ENDOCARDITIS SOI 4.
M | 5 | 252 | CIRCULATORY SYSTEM DIAGNOSES SOI 4 | 194 | 4 | HEART FAILURE SOI 4.
M | 5 | 252 | CIRCULATORY SYSTEM DIAGNOSES SOI 4 | 196 | 4 | CARDIAC ARREST SOI 4.
M | 5 | 252 | CIRCULATORY SYSTEM DIAGNOSES SOI 4 | 197 | 4 | PERIPHERAL & OTHER VASCULAR DISORDERS SOI 4.
M | 5 | 252 | CIRCULATORY SYSTEM DIAGNOSES SOI 4 | 198 | 4 | ANGINA PECTORIS & CORONARY ATHEROSCLEROSIS SOI 4.
M | 5 | 252 | CIRCULATORY SYSTEM DIAGNOSES SOI 4 | 199 | 4 | HYPERTENSION SOI 4.
M | 5 | 252 | CIRCULATORY SYSTEM DIAGNOSES SOI 4 | 200 | 4 | CARDIAC STRUCTURAL & VALVULAR DISORDERS SOI 4.
M | 5 | 252 | CIRCULATORY SYSTEM DIAGNOSES SOI 4 | 201 | 4 | CARDIAC ARRHYTHMIA & CONDUCTION DISORDERS SOI 4.
M | 5 | 252 | CIRCULATORY SYSTEM DIAGNOSES SOI 4 | 203 | 4 | CHEST PAIN SOI 4.
M | 5 | 252 | CIRCULATORY SYSTEM DIAGNOSES SOI 4 | 204 | 4 | SYNCOPE & COLLAPSE SOI 4.
M | 5 | 252 | CIRCULATORY SYSTEM DIAGNOSES SOI 4 | 205 | 4 | CARDIOMYOPATHY SOI 4.
M | 5 | 252 | CIRCULATORY SYSTEM DIAGNOSES SOI 4 | 206 | 4 | MALFUNCTION, REACTION, COMP LICATION OF CARDIAC/VASC DEVICE OR PROCEDURE SOI 4.
M | 5 | 252 | CIRCULATORY SYSTEM DIAGNOSES SOI 4 | 207 | 4 | OTHER CIRCULATORY SYSTEM DIAGNOSES SOI 4.
M | 5 | 253 | ACUTE MYOCARDIAL INFARCTION SOI 1 | 190 | 1 | ACUTE MYOCARDIAL INFARCTION SOI 1.
M | 5 | 254 | ACUTE MYOCARDIAL INFARCTION SOI 2 | 190 | 2 | ACUTE MYOCARDIAL INFARCTION SOI 2.
M | 5 | 255 | ACUTE MYOCARDIAL INFARCTION SOI 3 | 190 | 3 | ACUTE MYOCARDIAL INFARCTION SOI 3.
M | 5 | 256 | CARDIAC CATHETERIZATION W CIRC DISORD EXC ISCHEMIC HEART DISEASE SOI 1 | 191 | 1 | CARDIAC CATHETERIZATION W CIRC DISORD EXC ISCHEMIC HEART DISEASE SOI 1.
M | 5 | 257 | CARDIAC CATHETERIZATION W CIRC DISORD EXC ISCHEMIC HEART DISEASE SOI 2 | 191 | 2 | CARDIAC CATHETERIZATION W CIRC DISORD EXC ISCHEMIC HEART DISEASE SOI 2.
M | 5 | 258 | CARDIAC CATHETERIZATION W CIRC DISORD EXC ISCHEMIC HEART DISEASE SOI 3 | 191 | 3 | CARDIAC CATHETERIZATION W CIRC DISORD EXC ISCHEMIC HEART DISEASE SOI 3.
M | 5 | 259 | CARDIAC CATHETERIZATION FOR ISCHEMIC HEART DISEASE SOI 1 | 192 | 1 | CARDIAC CATHETERIZATION FOR ISCHEMIC HEART DISEASE SOI 1.
M | 5 | 260 | CARDIAC CATHETERIZATION FOR ISCHEMIC HEART DISEASE SOI 2 | 192 | 2 | CARDIAC CATHETERIZATION FOR ISCHEMIC HEART DISEASE SOI 2.
M | 5 | 261 | CARDIAC CATHETERIZATION FOR ISCHEMIC HEART DISEASE SOI 3 | 192 | 3 | CARDIAC CATHETERIZATION FOR ISCHEMIC HEART DISEASE SOI 3.
M | 5 | 262 | ACUTE & SUBACUTE ENDOCARDITIS SOI 1 | 193 | 1 | ACUTE & SUBACUTE ENDOCARDITIS SOI 1.
M | 5 | 263 | ACUTE & SUBACUTE ENDOCARDITIS SOI 2 | 193 | 2 | ACUTE & SUBACUTE ENDOCARDITIS SOI 2.
M | 5 | 264 | ACUTE & SUBACUTE ENDOCARDITIS SOI 3 | 193 | 3 | ACUTE & SUBACUTE ENDOCARDITIS SOI 3.
M | 5 | 265 | HEART FAILURE SOI 1 | 194 | 1 | HEART FAILURE SOI 1.
M | 5 | 266 | HEART FAILURE SOI 2 | 194 | 2 | HEART FAILURE SOI 2.
M | 5 | 267 | HEART FAILURE SOI 3 | 194 | 3 | HEART FAILURE SOI 3.
M | 5 | 268 | CARDIAC ARREST SOI 1 | 196 | 1 | CARDIAC ARREST SOI 1.
M | 5 | 269 | CARDIAC ARREST SOI 2 | 196 | 2 | CARDIAC ARREST SOI 2.
M | 5 | 270 | CARDIAC ARREST SOI 3 | 196 | 3 | CARDIAC ARREST SOI 3.
M | 5 | 271 | PERIPHERAL & OTHER VASCULAR DISORDERS SOI 1 | 197 | 1 | PERIPHERAL & OTHER VASCULAR DISORDERS SOI 1.
M | 5 | 272 | PERIPHERAL & OTHER VASCULAR DISORDERS SOI 2 | 197 | 2 | PERIPHERAL & OTHER VASCULAR DISORDERS SOI 2.
M | 5 | 273 | PERIPHERAL & OTHER VASCULAR DISORDERS SOI 3 | 197 | 3 | PERIPHERAL & OTHER VASCULAR DISORDERS SOI 3.
M | 5 | 274 | ANGINA PECTORIS & CORONARY ATHEROSCLEROSIS SOI 1 | 198 | 1 | ANGINA PECTORIS & CORONARY ATHEROSCLEROSIS SOI 1.
M | 5 | 275 | ANGINA PECTORIS & CORONARY ATHEROSCLEROSIS SOI 2 | 198 | 2 | ANGINA PECTORIS & CORONARY ATHEROSCLEROSIS SOI 2.
M | 5 | 276 | ANGINA PECTORIS & CORONARY ATHEROSCLEROSIS SOI 3 | 198 | 3 | ANGINA PECTORIS & CORONARY ATHEROSCLEROSIS SOI 3.
M | 5 | 277 | HYPERTENSION SOI 1 | 199 | 1 | HYPERTENSION SOI 1.
M | 5 | 278 | HYPERTENSION SOI 2 | 199 | 2 | HYPERTENSION SOI 2.
M | 5 | 279 | HYPERTENSION SOI 3 | 199 | 3 | HYPERTENSION SOI 3.
M | 5 | 280 | CARDIAC STRUCTURAL & VALVULAR DISORDERS SOI 1 | 200 | 1 | CARDIAC STRUCTURAL & VALVULAR DISORDERS SOI 1.
M | 5 | 281 | CARDIAC STRUCTURAL & VALVULAR DISORDERS SOI 2 | 200 | 2 | CARDIAC STRUCTURAL & VALVULAR DISORDERS SOI 2.
M | 5 | 282 | CARDIAC STRUCTURAL & VALVULAR DISORDERS SOI 3 | 200 | 3 | CARDIAC STRUCTURAL & VALVULAR DISORDERS SOI 3.
M | 5 | 283 | CARDIAC ARRHYTHMIA & CONDUCTION DISORDERS SOI 1 | 201 | 1 | CARDIAC ARRHYTHMIA & CONDUCTION DISORDERS SOI 1.
M | 5 | 284 | CARDIAC ARRHYTHMIA & CONDUCTION DISORDERS SOI 2 | 201 | 2 | CARDIAC ARRHYTHMIA & CONDUCTION DISORDERS SOI 2.
M | 5 | 285 | CARDIAC ARRHYTHMIA & CONDUCTION DISORDERS SOI 3 | 201 | 3 | CARDIAC ARRHYTHMIA & CONDUCTION DISORDERS SOI 3.
M | 5 | 286 | CHEST PAIN SOI 1 | 203 | 1 | CHEST PAIN SOI 1.
M | 5 | 287 | CHEST PAIN SOI 2 | 203 | 2 | CHEST PAIN SOI 2.
M | 5 | 288 | CHEST PAIN SOI 3 | 203 | 3 | CHEST PAIN SOI 3.
M | 5 | 289 | SYNCOPE & COLLAPSE SOI 1 | 204 | 1 | SYNCOPE & COLLAPSE SOI 1.
M | 5 | 290 | SYNCOPE & COLLAPSE SOI 2 | 204 | 2 | SYNCOPE & COLLAPSE SOI 2.
M | 5 | 291 | SYNCOPE & COLLAPSE SOI 3 | 204 | 3 | SYNCOPE & COLLAPSE SOI 3.
M | 5 | 292 | CARDIOMYOPATHY SOI 1 | 205 | 1 | CARDIOMYOPATHY SOI 1.
M | 5 | 293 | CARDIOMYOPATHY SOI 2 | 205 | 2 | CARDIOMYOPATHY SOI 2.
M | 5 | 294 | CARDIOMYOPATHY SOI 3 | 205 | 3 | CARDIOMYOPATHY SOI 3.
M | 5 | 295 | MALFUNCTION, REACTION, CO MPLICATION OF CARDIAC/VASC DEVICE OR PROCEDURE SOI 1 | 206 | 1 | MALFUNCTION, REACTION, COMP LICATION OF CARDIAC/VASC DEVICE OR PROCEDURE SOI 1.
M | 5 | 296 | MALFUNCTION, REACTION, CO. MPLICATION OF CARDIAC/VASC DEVICE OR PROCEDURE SOI 2 | 206 | 2 | MALFUNCTION, REACTION, COMP LICATION OF CARDIAC/VASC DEVICE OR PROCEDURE SOI 2.
M | 5 | 297 | MALFUNCTION, REACTION, CO. MPLICATION OF CARDIAC/VASC DEVICE OR PROCEDURE SOI 3 | 206 | 3 | MALFUNCTION, REACTION, COMP LICATION OF CARDIAC/VASC DEVICE OR PROCEDURE SOI 3.
M | 5 | 298 | OTHER CIRCULATORY SYSTEM DIAGNOSES SOI 1 | 207 | 1 | OTHER CIRCULATORY SYSTEM DIAGNOSES SOI 1.
M | 5 | 299 | OTHER CIRCULATORY SYSTEM DIAGNOSES SOI 2 | 207 | 2 | OTHER CIRCULATORY SYSTEM DIAGNOSES SOI 2.
M | 5 | 300 | OTHER CIRCULATORY SYSTEM DIAGNOSES SOI 3 | 207 | 3 | OTHER CIRCULATORY SYSTEM DIAGNOSES SOI 3.
S | 6 | 301 | MAJOR GASTROINTESTINAL PROCEDURES SOI 4 | 220 | 4 | MAJOR STOMACH, ESOPHAGEAL & DUODENAL PROCEDURES SOI 4.
S | 6 | 301 | MAJOR GASTROINTESTINAL PROCEDURES SOI 4 | 221 | 4 | MAJOR SMALL & LARGE BOWEL PROCEDURES SOI 4.
S | 6 | 301 | MAJOR GASTROINTESTINAL PROCEDURES SOI 4 | 222 | 4 | OTHER STOMACH, ESOPHAGEAL & DUODENAL PROCEDURES SOI 4.
S | 6 | 301 | MAJOR GASTROINTESTINAL PROCEDURES SOI 4 | 223 | 4 | OTHER SMALL & LARGE BOWEL PROCEDURES SOI 4.
S | 6 | 302 | OTHER GASTROINTESTINAL & ABDOMINAL PROCEDURES SOI 4 | 224 | 4 | PERITONEAL ADHESIOLYSIS SOI 4.
S | 6 | 302 | OTHER GASTROINTESTINAL & ABDOMINAL PROCEDURES SOI 4 | 225 | 4 | APPENDECTOMY SOI 4.
S | 6 | 302 | OTHER GASTROINTESTINAL & ABDOMINAL PROCEDURES SOI 4 | 226 | 4 | ANAL PROCEDURES SOI 4.
S | 6 | 302 | OTHER GASTROINTESTINAL & ABDOMINAL PROCEDURES SOI 4 | 227 | 4 | HERNIA PROCEDURES EXCEPT INGUINAL, FEMORAL & UMBILICAL SOI 4.
S | 6 | 302 | OTHER GASTROINTESTINAL & ABDOMINAL PROCEDURES SOI 4 | 228 | 4 | INGUINAL, FEMORAL & UMBILICAL HERNIA PROCEDURES SOI 4.
S | 6 | 302 | OTHER GASTROINTESTINAL & ABDOMINAL PROCEDURES SOI 4 | 229 | 4 | OTHER DIGESTIVE SYSTEM & ABDOMINAL PROCEDURES SOI 4.
S | 6 | 303 | MAJOR STOMACH, ESOPHAGEAL & DUODENAL PROCEDURES SOI 1 | 220 | 1 | MAJOR STOMACH, ESOPHAGEAL & DUODENAL PROCEDURES SOI 1.
S | 6 | 304 | MAJOR STOMACH, ESOPHAGEAL & DUODENAL PROCEDURES SOI 2 | 220 | 2 | MAJOR STOMACH, ESOPHAGEAL & DUODENAL PROCEDURES SOI 2.
S | 6 | 305 | MAJOR STOMACH, ESOPHAGEAL & DUODENAL PROCEDURES SOI 3 | 220 | 3 | MAJOR STOMACH, ESOPHAGEAL & DUODENAL PROCEDURES SOI 3.
S | 6 | 306 | MAJOR SMALL & LARGE BOWEL PROCEDURES SOI 1 | 221 | 1 | MAJOR SMALL & LARGE BOWEL PROCEDURES SOI 1.
S | 6 | 307 | MAJOR SMALL & LARGE BOWEL PROCEDURES SOI 2 | 221 | 2 | MAJOR SMALL & LARGE BOWEL PROCEDURES SOI 2.
S | 6 | 308 | MAJOR SMALL & LARGE BOWEL PROCEDURES SOI 3 | 221 | 3 | MAJOR SMALL & LARGE BOWEL PROCEDURES SOI 3.
S | 6 | 309 | OTHER STOMACH, ESOPHAGEAL & DUODENAL PROCEDURES SOI 1 | 222 | 1 | OTHER STOMACH, ESOPHAGEAL & DUODENAL PROCEDURES SOI 1.
S | 6 | 310 | OTHER STOMACH, ESOPHAGEAL & DUODENAL PROCEDURES SOI 2 | 222 | 2 | OTHER STOMACH, ESOPHAGEAL & DUODENAL PROCEDURES SOI 2.
S | 6 | 311 | OTHER STOMACH, ESOPHAGEAL & DUODENAL PROCEDURES SOI 3 | 222 | 3 | OTHER STOMACH, ESOPHAGEAL & DUODENAL PROCEDURES SOI 3.
S | 6 | 312 | OTHER SMALL & LARGE BOWEL PROCEDURES SOI 1 | 223 | 1 | OTHER SMALL & LARGE BOWEL PROCEDURES SOI 1.
S | 6 | 313 | OTHER SMALL & LARGE BOWEL PROCEDURES SOI 2 | 223 | 2 | OTHER SMALL & LARGE BOWEL PROCEDURES SOI 2.
S | 6 | 314 | OTHER SMALL & LARGE BOWEL PROCEDURES SOI 3 | 223 | 3 | OTHER SMALL & LARGE BOWEL PROCEDURES SOI 3.
S | 6 | 315 | PERITONEAL ADHESIOLYSIS SOI 1 | 224 | 1 | PERITONEAL ADHESIOLYSIS SOI 1.
S | 6 | 316 | PERITONEAL ADHESIOLYSIS SOI 2 | 224 | 2 | PERITONEAL ADHESIOLYSIS SOI 2.
S | 6 | 317 | PERITONEAL ADHESIOLYSIS SOI 3 | 224 | 3 | PERITONEAL ADHESIOLYSIS SOI 3.
S | 6 | 318 | APPENDECTOMY SOI 1 | 225 | 1 | APPENDECTOMY SOI 1.
S | 6 | 319 | APPENDECTOMY SOI 2 | 225 | 2 | APPENDECTOMY SOI 2.
S | 6 | 320 | APPENDECTOMY SOI 3 | 225 | 3 | APPENDECTOMY SOI 3.
S | 6 | 321 | ANAL PROCEDURES SOI 1 | 226 | 1 | ANAL PROCEDURES SOI 1.
S | 6 | 322 | ANAL PROCEDURES SOI 2 | 226 | 2 | ANAL PROCEDURES SOI 2.
S | 6 | 323 | ANAL PROCEDURES SOI 3 | 226 | 3 | ANAL PROCEDURES SOI 3.
S | 6 | 324 | HERNIA PROCEDURES EXCEPT INGUINAL, FEMORAL & UMBILICAL SOI 1 | 227 | 1 | HERNIA PROCEDURES EXCEPT INGUINAL, FEMORAL & UMBILICAL SOI 1.
S | 6 | 325 | HERNIA PROCEDURES EXCEPT INGUINAL, FEMORAL & UMBILICAL SOI 2 | 227 | 2 | HERNIA PROCEDURES EXCEPT INGUINAL, FEMORAL & UMBILICAL SOI 2.
S | 6 | 326 | HERNIA PROCEDURES EXCEPT INGUINAL, FEMORAL & UMBILICAL SOI 3 | 227 | 3 | HERNIA PROCEDURES EXCEPT INGUINAL, FEMORAL & UMBILICAL SOI 3.
S | 6 | 327 | INGUINAL, FEMORAL & UMBILICAL HERNIA PROCEDURES SOI 1 | 228 | 1 | INGUINAL, FEMORAL & UMBILICAL HERNIA PROCEDURES SOI 1.
S | 6 | 328 | INGUINAL, FEMORAL & UMBILICAL HERNIA PROCEDURES SOI 2 | 228 | 2 | INGUINAL, FEMORAL & UMBILICAL HERNIA PROCEDURES SOI 2.
S | 6 | 329 | INGUINAL, FEMORAL & UMBILICAL HERNIA PROCEDURES SOI 3 | 228 | 3 | INGUINAL, FEMORAL & UMBILICAL HERNIA PROCEDURES SOI 3.
S | 6 | 330 | OTHER DIGESTIVE SYSTEM & ABDOMINAL PROCEDURES SOI 1 | 229 | 1 | OTHER DIGESTIVE SYSTEM & ABDOMINAL PROCEDURES SOI 1.
S | 6 | 331 | OTHER DIGESTIVE SYSTEM & ABDOMINAL PROCEDURES SOI 2 | 229 | 2 | OTHER DIGESTIVE SYSTEM & ABDOMINAL PROCEDURES SOI 2.
S | 6 | 332 | OTHER DIGESTIVE SYSTEM & ABDOMINAL PROCEDURES SOI 3 | 229 | 3 | OTHER DIGESTIVE SYSTEM & ABDOMINAL PROCEDURES SOI 3.
M | 6 | 333 | DIGESTIVE SYSTEM DIAGNOSES SOI 4 | 240 | 4 | DIGESTIVE MALIGNANCY SOI 4.
M | 6 | 333 | DIGESTIVE SYSTEM DIAGNOSES SOI 4 | 241 | 4 | PEPTIC ULCER & GASTRITIS SOI 4.
M | 6 | 333 | DIGESTIVE SYSTEM DIAGNOSES SOI 4 | 242 | 4 | MAJOR ESOPHAGEAL DISORDERS SOI 4.
M | 6 | 333 | DIGESTIVE SYSTEM DIAGNOSES SOI 4 | 243 | 4 | OTHER ESOPHAGEAL DISORDERS SOI 4.
M | 6 | 333 | DIGESTIVE SYSTEM DIAGNOSES SOI 4 | 244 | 4 | DIVERTICULITIS & DIVERTICULOSIS SOI 4.
M | 6 | 333 | DIGESTIVE SYSTEM DIAGNOSES SOI 4 | 245 | 4 | INFLAMMATORY BOWEL DISEASE SOI 4.
M | 6 | 333 | DIGESTIVE SYSTEM DIAGNOSES SOI 4 | 246 | 4 | GASTROINTESTINAL VASCULAR INSUFFICIENCY SOI 4.
M | 6 | 333 | DIGESTIVE SYSTEM DIAGNOSES SOI 4 | 247 | 4 | INTESTINAL OBSTRUCTION SOI 4.
M | 6 | 333 | DIGESTIVE SYSTEM DIAGNOSES SOI 4 | 248 | 4 | MAJOR GASTROINTESTINAL & PERITONEAL INFECTIONS SOI 4.
M | 6 | 333 | DIGESTIVE SYSTEM DIAGNOSES SOI 4 | 249 | 4 | NON-BACTERIAL GASTROENTERITIS, NAUSEA & VOMITING SOI 4.
M | 6 | 333 | DIGESTIVE SYSTEM DIAGNOSES SOI 4 | 251 | 4 | ABDOMINAL PAIN SOI 4.
M | 6 | 333 | DIGESTIVE SYSTEM DIAGNOSES SOI 4 | 252 | 4 | MALFUNCTION, REACTION & COMPLICATION OF GI DEVICE OR PROCEDURE SOI 4.
M | 6 | 333 | DIGESTIVE SYSTEM DIAGNOSES SOI 4 | 253 | 4 | OTHER & UNSPECIFIED GASTROINTESTINAL HEMORRHAGE SOI 4.
M | 6 | 333 | DIGESTIVE SYSTEM DIAGNOSES SOI 4 | 254 | 4 | OTHER DIGESTIVE SYSTEM DIAGNOSES SOI 4.
M | 6 | 334 | DIGESTIVE MALIGNANCY SOI 1 | 240 | 1 | DIGESTIVE MALIGNANCY SOI 1.
M | 6 | 335 | DIGESTIVE MALIGNANCY SOI 2 | 240 | 2 | DIGESTIVE MALIGNANCY SOI 2.
M | 6 | 336 | DIGESTIVE MALIGNANCY SOI 3 | 240 | 3 | DIGESTIVE MALIGNANCY SOI 3.
M | 6 | 337 | PEPTIC ULCER & GASTRITIS SOI 1 | 241 | 1 | PEPTIC ULCER & GASTRITIS SOI 1.
M | 6 | 338 | PEPTIC ULCER & GASTRITIS SOI 2 | 241 | 2 | PEPTIC ULCER & GASTRITIS SOI 2.
M | 6 | 339 | PEPTIC ULCER & GASTRITIS SOI 3 | 241 | 3 | PEPTIC ULCER & GASTRITIS SOI 3.
M | 6 | 340 | MAJOR ESOPHAGEAL DISORDERS SOI 1 | 242 | 1 | MAJOR ESOPHAGEAL DISORDERS SOI 1.
M | 6 | 341 | MAJOR ESOPHAGEAL DISORDERS SOI 2 | 242 | 2 | MAJOR ESOPHAGEAL DISORDERS SOI 2.
M | 6 | 342 | MAJOR ESOPHAGEAL DISORDERS SOI 3 | 242 | 3 | MAJOR ESOPHAGEAL DISORDERS SOI 3.
M | 6 | 343 | OTHER ESOPHAGEAL DISORDERS SOI 1 | 243 | 1 | OTHER ESOPHAGEAL DISORDERS SOI 1.
M | 6 | 344 | OTHER ESOPHAGEAL DISORDERS SOI 2 | 243 | 2 | OTHER ESOPHAGEAL DISORDERS SOI 2.
M | 6 | 345 | OTHER ESOPHAGEAL DISORDERS SOI 3 | 243 | 3 | OTHER ESOPHAGEAL DISORDERS SOI 3.
M | 6 | 346 | DIVERTICULITIS & DIVERTICULOSIS SOI 1 | 244 | 1 | DIVERTICULITIS & DIVERTICULOSIS SOI 1.
M | 6 | 347 | DIVERTICULITIS & DIVERTICULOSIS SOI 2 | 244 | 2 | DIVERTICULITIS & DIVERTICULOSIS SOI 2.
M | 6 | 348 | DIVERTICULITIS & DIVERTICULOSIS SOI 3 | 244 | 3 | DIVERTICULITIS & DIVERTICULOSIS SOI 3.
M | 6 | 349 | INFLAMMATORY BOWEL DISEASE SOI 1 | 245 | 1 | INFLAMMATORY BOWEL DISEASE SOI 1.
M | 6 | 350 | INFLAMMATORY BOWEL DISEASE SOI 2 | 245 | 2 | INFLAMMATORY BOWEL DISEASE SOI 2.
M | 6 | 351 | INFLAMMATORY BOWEL DISEASE SOI 3 | 245 | 3 | INFLAMMATORY BOWEL DISEASE SOI 3.
M | 6 | 352 | GASTROINTESTINAL VASCULAR INSUFFICIENCY SOI 1 | 246 | 1 | GASTROINTESTINAL VASCULAR INSUFFICIENCY SOI 1.
M | 6 | 353 | GASTROINTESTINAL VASCULAR INSUFFICIENCY SOI 2 | 246 | 2 | GASTROINTESTINAL VASCULAR INSUFFICIENCY SOI 2.
M | 6 | 354 | GASTROINTESTINAL VASCULAR INSUFFICIENCY SOI 3 | 246 | 3 | GASTROINTESTINAL VASCULAR INSUFFICIENCY SOI 3.
M | 6 | 355 | INTESTINAL OBSTRUCTION SOI 1 | 247 | 1 | INTESTINAL OBSTRUCTION SOI 1.
M | 6 | 356 | INTESTINAL OBSTRUCTION SOI 2 | 247 | 2 | INTESTINAL OBSTRUCTION SOI 2.
M | 6 | 357 | INTESTINAL OBSTRUCTION SOI 3 | 247 | 3 | INTESTINAL OBSTRUCTION SOI 3.
M | 6 | 358 | MAJOR GASTROINTESTINAL & PERITONEAL INFECTIONS SOI 1 | 248 | 1 | MAJOR GASTROINTESTINAL & PERITONEAL INFECTIONS SOI 1.
M | 6 | 359 | MAJOR GASTROINTESTINAL & PERITONEAL INFECTIONS SOI 2 | 248 | 2 | MAJOR GASTROINTESTINAL & PERITONEAL INFECTIONS SOI 2.
M | 6 | 360 | MAJOR GASTROINTESTINAL & PERITONEAL INFECTIONS SOI 3 | 248 | 3 | MAJOR GASTROINTESTINAL & PERITONEAL INFECTIONS SOI 3.
M | 6 | 361 | NON-BACTERIAL GASTROENTERITIS, NAUSEA & VOMITING SOI 1 | 249 | 1 | NON-BACTERIAL GASTROENTERITIS, NAUSEA & VOMITING SOI 1.
M | 6 | 362 | NON-BACTERIAL GASTROENTERITIS, NAUSEA & VOMITING SOI 2 | 249 | 2 | NON-BACTERIAL GASTROENTERITIS, NAUSEA & VOMITING SOI 2.
M | 6 | 363 | NON-BACTERIAL GASTROENTERITIS, NAUSEA & VOMITING SOI 3 | 249 | 3 | NON-BACTERIAL GASTROENTERITIS, NAUSEA & VOMITING SOI 3.
M | 6 | 364 | ABDOMINAL PAIN SOI 1 | 251 | 1 | ABDOMINAL PAIN SOI 1.
M | 6 | 365 | ABDOMINAL PAIN SOI 2 | 251 | 2 | ABDOMINAL PAIN SOI 2.
M | 6 | 366 | ABDOMINAL PAIN SOI 3 | 251 | 3 | ABDOMINAL PAIN SOI 3.
M | 6 | 367 | MALFUNCTION, REACTION & COMPLICATION OF GI DEVICE OR PROCEDURE SOI 1 | 252 | 1 | MALFUNCTION, REACTION & COMPLICATION OF GI DEVICE OR PROCEDURE SOI 1.
M | 6 | 368 | MALFUNCTION, REACTION & COMPLICATION OF GI DEVICE OR PROCEDURE SOI 2 | 252 | 2 | MALFUNCTION, REACTION & COMPLICATION OF GI DEVICE OR PROCEDURE SOI 2.
M | 6 | 369 | MALFUNCTION, REACTION & COMPLICATION OF GI DEVICE OR PROCEDURE SOI 3 | 252 | 3 | MALFUNCTION, REACTION & COMPLICATION OF GI DEVICE OR PROCEDURE SOI 3.
M | 6 | 370 | OTHER & UNSPECIFIED GASTROINTESTINAL HEMORRHAGE SOI 1 | 253 | 1 | OTHER & UNSPECIFIED GASTROINTESTINAL HEMORRHAGE SOI 1.
M | 6 | 371 | OTHER & UNSPECIFIED GASTROINTESTINAL HEMORRHAGE SOI 2 | 253 | 2 | OTHER & UNSPECIFIED GASTROINTESTINAL HEMORRHAGE SOI 2.
M | 6 | 372 | OTHER & UNSPECIFIED GASTROINTESTINAL HEMORRHAGE SOI 3 | 253 | 3 | OTHER & UNSPECIFIED GASTROINTESTINAL HEMORRHAGE SOI 3.
M | 6 | 373 | OTHER DIGESTIVE SYSTEM DIAGNOSES SOI 1 | 254 | 1 | OTHER DIGESTIVE SYSTEM DIAGNOSES SOI 1.
M | 6 | 374 | OTHER DIGESTIVE SYSTEM DIAGNOSES SOI 2 | 254 | 2 | OTHER DIGESTIVE SYSTEM DIAGNOSES SOI 2.
M | 6 | 375 | OTHER DIGESTIVE SYSTEM DIAGNOSES SOI 3 | 254 | 3 | OTHER DIGESTIVE SYSTEM DIAGNOSES SOI 3.
S | 7 | 376 | MAJOR HEPATOBILIARY, PANCREAS & LIVER PROCEDURES SOI 4 | 260 | 4 | MAJOR PANCREAS, LIVER & SHUNT PROCEDURES SOI 4.
S | 7 | 376 | MAJOR HEPATOBILIARY, PANCREAS & LIVER PROCEDURES SOI 4 | 261 | 4 | MAJOR BILIARY TRACT PROCEDURES SOI 4.
S | 7 | 377 | CHOLECYSTECTOMY AND OTHER HEPATOBILIARY, PANCREAS & ABDOMINAL PROCEDURES SOI 4 | 262 | 4 | CHOLECYSTECTOMY EXCEPT LAPAROSCOPIC SOI 4.
S | 7 | 377 | CHOLECYSTECTOMY AND OTHER HEPATOBILIARY, PANCREAS & ABDOMINAL PROCEDURES SOI 4 | 264 | 4 | OTHER HEPATOBILIARY, PANCREAS & ABDOMINAL PROCEDURES SOI 4.
S | 7 | 377 | CHOLECYSTECTOMY AND OTHER HEPATOBILIARY, PANCREAS & ABDOMINAL PROCEDURES SOI 4 | 263 | 4 | LAPAROSCOPIC CHOLECYSTECTOMY SOI 4.
S | 7 | 378 | MAJOR PANCREAS, LIVER & SHUNT PROCEDURES SOI 1 | 260 | 1 | MAJOR PANCREAS, LIVER & SHUNT PROCEDURES SOI 1.
S | 7 | 379 | MAJOR PANCREAS, LIVER & SHUNT PROCEDURES SOI 2 | 260 | 2 | MAJOR PANCREAS, LIVER & SHUNT PROCEDURES SOI 2.
S | 7 | 380 | MAJOR PANCREAS, LIVER & SHUNT PROCEDURES SOI 3 | 260 | 3 | MAJOR PANCREAS, LIVER & SHUNT PROCEDURES SOI 3.
S | 7 | 381 | MAJOR BILIARY TRACT PROCEDURES SOI 1 | 261 | 1 | MAJOR BILIARY TRACT PROCEDURES SOI 1.
S | 7 | 382 | MAJOR BILIARY TRACT PROCEDURES SOI 2 | 261 | 2 | MAJOR BILIARY TRACT PROCEDURES SOI 2.
S | 7 | 383 | MAJOR BILIARY TRACT PROCEDURES SOI 3 | 261 | 3 | MAJOR BILIARY TRACT PROCEDURES SOI 3.
S | 7 | 384 | CHOLECYSTECTOMY EXCEPT LAPAROSCOPIC SOI 1 | 262 | 1 | CHOLECYSTECTOMY EXCEPT LAPAROSCOPIC SOI 1.
S | 7 | 385 | CHOLECYSTECTOMY EXCEPT LAPAROSCOPIC SOI 2 | 262 | 2 | CHOLECYSTECTOMY EXCEPT LAPAROSCOPIC SOI 2.
S | 7 | 386 | CHOLECYSTECTOMY EXCEPT LAPAROSCOPIC SOI 3 | 262 | 3 | CHOLECYSTECTOMY EXCEPT LAPAROSCOPIC SOI 3.
S | 7 | 387 | LAPAROSCOPIC CHOLECYSTECTOMY SOI 1 | 263 | 1 | LAPAROSCOPIC CHOLECYSTECTOMY SOI 1.
S | 7 | 388 | LAPAROSCOPIC CHOLECYSTECTOMY SOI 2 | 263 | 2 | LAPAROSCOPIC CHOLECYSTECTOMY SOI 2.
S | 7 | 389 | LAPAROSCOPIC CHOLECYSTECTOMY SOI 3 | 263 | 3 | LAPAROSCOPIC CHOLECYSTECTOMY SOI 3.
S | 7 | 390 | OTHER HEPATOBILIARY, PANCREAS & ABDOMINAL PROCEDURES SOI 1 | 264 | 1 | OTHER HEPATOBILIARY, PANCREAS & ABDOMINAL PROCEDURES SOI 1.
S | 7 | 391 | OTHER HEPATOBILIARY, PANCREAS & ABDOMINAL PROCEDURES SOI 2 | 264 | 2 | OTHER HEPATOBILIARY, PANCREAS & ABDOMINAL PROCEDURES SOI 2.
S | 7 | 392 | OTHER HEPATOBILIARY, PANCREAS & ABDOMINAL PROCEDURES SOI 3 | 264 | 3 | OTHER HEPATOBILIARY, PANCREAS & ABDOMINAL PROCEDURES SOI 3.
M | 7 | 393 | HEPATOBILIARY, PANCREAS & ABDOMINAL DIAGNOSES SOI 4 | 279 | 4 | HEPATIC COMA & OTHER MAJOR ACUTE LIVER DISORDERS SOI 4.
M | 7 | 393 | HEPATOBILIARY, PANCREAS & ABDOMINAL DIAGNOSES SOI 4 | 280 | 4 | ALCOHOLIC LIVER DISEASE SOI 4.
M | 7 | 393 | HEPATOBILIARY, PANCREAS & ABDOMINAL DIAGNOSES SOI 4 | 281 | 4 | MALIGNANCY OF HEPATOBILIARY SYSTEM & PANCREAS SOI 4.
M | 7 | 393 | HEPATOBILIARY, PANCREAS & ABDOMINAL DIAGNOSES SOI 4 | 282 | 4 | DISORDERS OF PANCREAS EXCEPT MALIGNANCY SOI 4.
M | 7 | 393 | HEPATOBILIARY, PANCREAS & ABDOMINAL DIAGNOSES SOI 4 | 283 | 4 | OTHER DISORDERS OF THE LIVER SOI 4.
M | 7 | 393 | HEPATOBILIARY, PANCREAS & ABDOMINAL DIAGNOSES SOI 4 | 284 | 4 | DISORDERS OF GALLBLADDER & BILIARY TRACT SOI 4.
M | 7 | 394 | HEPATIC COMA & OTHER MAJOR ACUTE LIVER DISORDERS SOI 1 | 279 | 1 | HEPATIC COMA & OTHER MAJOR ACUTE LIVER DISORDERS SOI 1.
M | 7 | 395 | HEPATIC COMA & OTHER MAJOR ACUTE LIVER DISORDERS SOI 2 | 279 | 2 | HEPATIC COMA & OTHER MAJOR ACUTE LIVER DISORDERS SOI 2.
M | 7 | 396 | HEPATIC COMA & OTHER MAJOR ACUTE LIVER DISORDERS SOI 3 | 279 | 3 | HEPATIC COMA & OTHER MAJOR ACUTE LIVER DISORDERS SOI 3.
M | 7 | 397 | ALCOHOLIC LIVER DISEASE SOI 1 | 280 | 1 | ALCOHOLIC LIVER DISEASE SOI 1.
M | 7 | 398 | ALCOHOLIC LIVER DISEASE SOI 2 | 280 | 2 | ALCOHOLIC LIVER DISEASE SOI 2.
M | 7 | 399 | ALCOHOLIC LIVER DISEASE SOI 3 | 280 | 3 | ALCOHOLIC LIVER DISEASE SOI 3.
M | 7 | 400 | MALIGNANCY OF HEPATOBILIARY SYSTEM & PANCREAS SOI 1 | 281 | 1 | MALIGNANCY OF HEPATOBILIARY SYSTEM & PANCREAS SOI 1.
M | 7 | 401 | MALIGNANCY OF HEPATOBILIARY SYSTEM & PANCREAS SOI 2 | 281 | 2 | MALIGNANCY OF HEPATOBILIARY SYSTEM & PANCREAS SOI 2.
M | 7 | 402 | MALIGNANCY OF HEPATOBILIARY SYSTEM & PANCREAS SOI 3 | 281 | 3 | MALIGNANCY OF HEPATOBILIARY SYSTEM & PANCREAS SOI 3.
M | 7 | 403 | DISORDERS OF PANCREAS EXCEPT MALIGNANCY SOI 1 | 282 | 1 | DISORDERS OF PANCREAS EXCEPT MALIGNANCY SOI 1.
M | 7 | 404 | DISORDERS OF PANCREAS EXCEPT MALIGNANCY SOI 2 | 282 | 2 | DISORDERS OF PANCREAS EXCEPT MALIGNANCY SOI 2.
M | 7 | 405 | DISORDERS OF PANCREAS EXCEPT MALIGNANCY SOI 3 | 282 | 3 | DISORDERS OF PANCREAS EXCEPT MALIGNANCY SOI 3.
M | 7 | 406 | OTHER DISORDERS OF THE LIVER SOI 1 | 283 | 1 | OTHER DISORDERS OF THE LIVER SOI 1.
M | 7 | 407 | OTHER DISORDERS OF THE LIVER SOI 2 | 283 | 2 | OTHER DISORDERS OF THE LIVER SOI 2.
M | 7 | 408 | OTHER DISORDERS OF THE LIVER SOI 3 | 283 | 3 | OTHER DISORDERS OF THE LIVER SOI 3.
M | 7 | 409 | DISORDERS OF GALLBLADDER & BILIARY TRACT SOI 1 | 284 | 1 | DISORDERS OF GALLBLADDER & BILIARY TRACT SOI 1.
M | 7 | 410 | DISORDERS OF GALLBLADDER & BILIARY TRACT SOI 2 | 284 | 2 | DISORDERS OF GALLBLADDER & BILIARY TRACT SOI 2.
M | 7 | 411 | DISORDERS OF GALLBLADDER & BILIARY TRACT SOI 3 | 284 | 3 | DISORDERS OF GALLBLADDER & BILIARY TRACT SOI 3.
S | 8 | 412 | MUSCULOSKELETAL SYSTEM & CONNECTIVE TISSUE PROCEDURES EXCEPT SPINAL FUSION SOI 4 | 301 | 4 | HIP JOINT REPLACEMENT SOI 4.
S | 8 | 412 | MUSCULOSKELETAL SYSTEM & CONNECTIVE TISSUE PROCEDURES EXCEPT SPINAL FUSION SOI 4 | 302 | 4 | KNEE JOINT REPLACEMENT SOI 4.
S | 8 | 412 | MUSCULOSKELETAL SYSTEM & CONNECTIVE TISSUE PROCEDURES EXCEPT SPINAL FUSION SOI 4 | 305 | 4 | AMPUTATION OF LOWER LIMB EXCEPT TOES SOI 4.
S | 8 | 412 | MUSCULOSKELETAL SYSTEM & CONNECTIVE TISSUE PROCEDURES EXCEPT SPINAL FUSION SOI 4 | 308 | 4 | HIP & FEMUR PROCEDURES FOR TRAUMA EXCEPT JOINT REPLACEMENT SOI 4.
S | 8 | 412 | MUSCULOSKELETAL SYSTEM & CONNECTIVE TISSUE PROCEDURES EXCEPT SPINAL FUSION SOI 4 | 309 | 4 | HIP & FEMUR PROCEDURES FOR NON-TRAUMA EXCEPT JOINT REPLACEMENT SOI 4.
S | 8 | 412 | MUSCULOSKELETAL SYSTEM & CONNECTIVE TISSUE PROCEDURES EXCEPT SPINAL FUSION SOI 4 | 310 | 4 | INTERVERTEBRAL DISC EXCISION & DECOMPRESSION SOI 4.
S | 8 | 412 | MUSCULOSKELETAL SYSTEM & CONNECTIVE TISSUE PROCEDURES EXCEPT SPINAL FUSION SOI 4 | 313 | 4 | KNEE & LOWER LEG PROCEDURES EXCEPT FOOT SOI 4.
S | 8 | 412 | MUSCULOSKELETAL SYSTEM & CONNECTIVE TISSUE PROCEDURES EXCEPT SPINAL FUSION SOI 4 | 314 | 4 | FOOT & TOE PROCEDURES SOI 4.
S | 8 | 412 | MUSCULOSKELETAL SYSTEM & CONNECTIVE TISSUE PROCEDURES EXCEPT SPINAL FUSION SOI 4 | 315 | 4 | SHOULDER, UPPER ARM & FOREARM PROCEDURES SOI 4.
S | 8 | 412 | MUSCULOSKELETAL SYSTEM & CONNECTIVE TISSUE PROCEDURES EXCEPT SPINAL FUSION SOI 4 | 316 | 4 | HAND & WRIST PROCEDURES SOI 4.
S | 8 | 412 | MUSCULOSKELETAL SYSTEM & CONNECTIVE TISSUE PROCEDURES EXCEPT SPINAL FUSION SOI 4 | 317 | 4 | TENDON, MUSCLE & OTHER SOFT TISSUE PROCEDURES SOI 4.
S | 8 | 413 | SPINAL FUSION PROCEDURES SOI 4 | 303 | 4 | DORSAL & LUMBAR FUSION PROC FOR CURVATURE OF BACK SOI 4.
S | 8 | 413 | SPINAL FUSION PROCEDURES SOI 4 | 304 | 4 | DORSAL & LUMBAR FUSION PROC EXCEPT FOR CURVATURE OF BACK SOI 4.
S | 8 | 413 | SPINAL FUSION PROCEDURES SOI 4 | 321 | 4 | CERVICAL SPINAL FUSION & OTHER BACK/NECK PROC EXC DISC EXCIS/DECOMP SOI 4.
S | 8 | 414 | HIP JOINT REPLACEMENT SOI 1 | 301 | 1 | HIP JOINT REPLACEMENT SOI 1.
S | 8 | 415 | HIP JOINT REPLACEMENT SOI 2 | 301 | 2 | HIP JOINT REPLACEMENT SOI 2.
S | 8 | 416 | HIP JOINT REPLACEMENT SOI 3 | 301 | 3 | HIP JOINT REPLACEMENT SOI 3.
S | 8 | 417 | KNEE JOINT REPLACEMENT SOI 1 | 302 | 1 | KNEE JOINT REPLACEMENT SOI 1.
S | 8 | 418 | KNEE JOINT REPLACEMENT SOI 2 | 302 | 2 | KNEE JOINT REPLACEMENT SOI 2.
S | 8 | 419 | KNEE JOINT REPLACEMENT SOI 3 | 302 | 3 | KNEE JOINT REPLACEMENT SOI 3.
S | 8 | 420 | DORSAL & LUMBAR FUSION PROC FOR CURVATURE OF BACK SOI 1 | 303 | 1 | DORSAL & LUMBAR FUSION PROC FOR CURVATURE OF BACK SOI 1.
S | 8 | 421 | DORSAL & LUMBAR FUSION PROC FOR CURVATURE OF BACK SOI 2 | 303 | 2 | DORSAL & LUMBAR FUSION PROC FOR CURVATURE OF BACK SOI 2.
S | 8 | 422 | DORSAL & LUMBAR FUSION PROC FOR CURVATURE OF BACK SOI 3 | 303 | 3 | DORSAL & LUMBAR FUSION PROC FOR CURVATURE OF BACK SOI 3.
S | 8 | 423 | DORSAL & LUMBAR FUSION PROC EXCEPT FOR CURVATURE OF BACK SOI 1 | 304 | 1 | DORSAL & LUMBAR FUSION PROC EXCEPT FOR CURVATURE OF BACK SOI 1.
S | 8 | 424 | DORSAL & LUMBAR FUSION PROC EXCEPT FOR CURVATURE OF BACK SOI 2 | 304 | 2 | DORSAL & LUMBAR FUSION PROC EXCEPT FOR CURVATURE OF BACK SOI 2.
S | 8 | 425 | DORSAL & LUMBAR FUSION PROC EXCEPT FOR CURVATURE OF BACK SOI 3 | 304 | 3 | DORSAL & LUMBAR FUSION PROC EXCEPT FOR CURVATURE OF BACK SOI 3.
S | 8 | 426 | AMPUTATION OF LOWER LIMB EXCEPT TOES SOI 1 | 305 | 1 | AMPUTATION OF LOWER LIMB EXCEPT TOES SOI 1.
S | 8 | 427 | AMPUTATION OF LOWER LIMB EXCEPT TOES SOI 2 | 305 | 2 | AMPUTATION OF LOWER LIMB EXCEPT TOES SOI 2.
S | 8 | 428 | AMPUTATION OF LOWER LIMB EXCEPT TOES SOI 3 | 305 | 3 | AMPUTATION OF LOWER LIMB EXCEPT TOES SOI 3.
S | 8 | 429 | HIP & FEMUR PROCEDURES FOR TRAUMA EXCEPT JOINT REPLACEMENT SOI 1 | 308 | 1 | HIP & FEMUR PROCEDURES FOR TRAUMA EXCEPT JOINT REPLACEMENT SOI 1.
S | 8 | 430 | HIP & FEMUR PROCEDURES FOR TRAUMA EXCEPT JOINT REPLACEMENT SOI 2 | 308 | 2 | HIP & FEMUR PROCEDURES FOR TRAUMA EXCEPT JOINT REPLACEMENT SOI 2.
S | 8 | 431 | HIP & FEMUR PROCEDURES FOR TRAUMA EXCEPT JOINT REPLACEMENT SOI 3 | 308 | 3 | HIP & FEMUR PROCEDURES FOR TRAUMA EXCEPT JOINT REPLACEMENT SOI 3.
S | 8 | 432 | HIP & FEMUR PROCEDURES FOR NON-TRAUMA EXCEPT JOINT REPLACEMENT SOI 1 | 309 | 1 | HIP & FEMUR PROCEDURES FOR NON-TRAUMA EXCEPT JOINT REPLACEMENT SOI 1.
S | 8 | 433 | HIP & FEMUR PROCEDURES FOR NON-TRAUMA EXCEPT JOINT REPLACEMENT SOI 2 | 309 | 2 | HIP & FEMUR PROCEDURES FOR NON-TRAUMA EXCEPT JOINT REPLACEMENT SOI 2.
S | 8 | 434 | HIP & FEMUR PROCEDURES FOR NON-TRAUMA EXCEPT JOINT REPLACEMENT SOI 3 | 309 | 3 | HIP & FEMUR PROCEDURES FOR NON-TRAUMA EXCEPT JOINT REPLACEMENT SOI 3.
S | 8 | 435 | INTERVERTEBRAL DISC EXCISION & DECOMPRESSION SOI 1 | 310 | 1 | INTERVERTEBRAL DISC EXCISION & DECOMPRESSION SOI 1.
S | 8 | 436 | INTERVERTEBRAL DISC EXCISION & DECOMPRESSION SOI 2 | 310 | 2 | INTERVERTEBRAL DISC EXCISION & DECOMPRESSION SOI 2.
S | 8 | 437 | INTERVERTEBRAL DISC EXCISION & DECOMPRESSION SOI 3 | 310 | 3 | INTERVERTEBRAL DISC EXCISION & DECOMPRESSION SOI 3.
S | 8 | 438 | SKIN GRAFT, EXCEPT HAND, FOR MUSCULOSKELETAL & CONNECTIVE TISSUE DIAGNOSES SOI 1 | 312 | 1 | SKIN GRAFT, EXCEPT HAND, FOR MUSCULOSKELETAL & CONNECTIVE TISSUE DIAGNOSES SOI 1.
S | 8 | 439 | SKIN GRAFT, EXCEPT HAND, FOR MUSCULOSKELETAL & CONNECTIVE TISSUE DIAGNOSES SOI 2 | 312 | 2 | SKIN GRAFT, EXCEPT HAND, FOR MUSCULOSKELETAL & CONNECTIVE TISSUE DIAGNOSES SOI 2.
S | 8 | 440 | SKIN GRAFT, EXCEPT HAND, FOR MUSCULOSKELETAL & CONNECTIVE TISSUE DIAGNOSES SOI 3 | 312 | 3 | SKIN GRAFT, EXCEPT HAND, FOR MUSCULOSKELETAL & CONNECTIVE TISSUE DIAGNOSES SOI 3.
S | 8 | 441 | SKIN GRAFT, EXCEPT HAND, FOR MUSCULOSKELETAL & CONNECTIVE TISSUE DIAGNOSES SOI 4 | 312 | 4 | SKIN GRAFT, EXCEPT HAND, FOR MUSCULOSKELETAL & CONNECTIVE TISSUE DIAGNOSES SOI 4.
S | 8 | 442 | KNEE & LOWER LEG PROCEDURES EXCEPT FOOT SOI 1 | 313 | 1 | KNEE & LOWER LEG PROCEDURES EXCEPT FOOT SOI 1.
S | 8 | 443 | KNEE & LOWER LEG PROCEDURES EXCEPT FOOT SOI 2 | 313 | 2 | KNEE & LOWER LEG PROCEDURES EXCEPT FOOT SOI 2.
S | 8 | 444 | KNEE & LOWER LEG PROCEDURES EXCEPT FOOT SOI 3 | 313 | 3 | KNEE & LOWER LEG PROCEDURES EXCEPT FOOT SOI 3.
S | 8 | 445 | FOOT & TOE PROCEDURES SOI 1 | 314 | 1 | FOOT & TOE PROCEDURES SOI 1.
S | 8 | 446 | FOOT & TOE PROCEDURES SOI 2 | 314 | 2 | FOOT & TOE PROCEDURES SOI 2.
S | 8 | 447 | FOOT & TOE PROCEDURES SOI 3 | 314 | 3 | FOOT & TOE PROCEDURES SOI 3.
S | 8 | 448 | SHOULDER, UPPER ARM & FOREARM PROCEDURES SOI 1 | 315 | 1 | SHOULDER, UPPER ARM & FOREARM PROCEDURES SOI 1.
S | 8 | 449 | SHOULDER, UPPER ARM & FOREARM PROCEDURES SOI 2 | 315 | 2 | SHOULDER, UPPER ARM & FOREARM PROCEDURES SOI 2.
S | 8 | 450 | SHOULDER, UPPER ARM & FOREARM PROCEDURES SOI 3 | 315 | 3 | SHOULDER, UPPER ARM & FOREARM PROCEDURES SOI 3.
S | 8 | 451 | HAND & WRIST PROCEDURES SOI 1 | 316 | 1 | HAND & WRIST PROCEDURES SOI 1.
S | 8 | 452 | HAND & WRIST PROCEDURES SOI 2 | 316 | 2 | HAND & WRIST PROCEDURES SOI 2.
S | 8 | 453 | HAND & WRIST PROCEDURES SOI 3 | 316 | 3 | HAND & WRIST PROCEDURES SOI 3.
S | 8 | 454 | TENDON, MUSCLE & OTHER SOFT TISSUE PROCEDURES SOI 1 | 317 | 1 | TENDON, MUSCLE & OTHER SOFT TISSUE PROCEDURES SOI 1.
S | 8 | 455 | TENDON, MUSCLE & OTHER SOFT TISSUE PROCEDURES SOI 2 | 317 | 2 | TENDON, MUSCLE & OTHER SOFT TISSUE PROCEDURES SOI 2.
S | 8 | 456 | TENDON, MUSCLE & OTHER SOFT TISSUE PROCEDURES SOI 3 | 317 | 3 | TENDON, MUSCLE & OTHER SOFT TISSUE PROCEDURES SOI 3.
S | 8 | 457 | OTHER MUSCULOSKELETAL SYSTEM & CONNECTIVE TISSUE PROCEDURES SOI 1 | 320 | 1 | OTHER MUSCULOSKELETAL SYSTEM & CONNECTIVE TISSUE PROCEDURES SOI 1.
S | 8 | 458 | OTHER MUSCULOSKELETAL SYSTEM & CONNECTIVE TISSUE PROCEDURES SOI 2 | 320 | 2 | OTHER MUSCULOSKELETAL SYSTEM & CONNECTIVE TISSUE PROCEDURES SOI 2.
S | 8 | 459 | OTHER MUSCULOSKELETAL SYSTEM & CONNECTIVE TISSUE PROCEDURES SOI 3 | 320 | 3 | OTHER MUSCULOSKELETAL SYSTEM & CONNECTIVE TISSUE PROCEDURES SOI 3.
S | 8 | 460 | OTHER MUSCULOSKELETAL SYSTEM & CONNECTIVE TISSUE PROCEDURES SOI 4 | 320 | 4 | OTHER MUSCULOSKELETAL SYSTEM & CONNECTIVE TISSUE PROCEDURES SOI 4.
S | 8 | 461 | CERVICAL SPINAL FUSION & OTHER BACK/NECK PROC EXC DISC EXCIS/DECOMP SOI 1 | 321 | 1 | CERVICAL SPINAL FUSION & OTHER BACK/NECK PROC EXC DISC EXCIS/DECOMP SOI 1.
S | 8 | 462 | CERVICAL SPINAL FUSION & OTHER BACK/NECK PROC EXC DISC EXCIS/DECOMP SOI 2 | 321 | 2 | CERVICAL SPINAL FUSION & OTHER BACK/NECK PROC EXC DISC EXCIS/DECOMP SOI 2.
S | 8 | 463 | CERVICAL SPINAL FUSION & OTHER BACK/NECK PROC EXC DISC EXCIS/DECOMP SOI 3 | 321 | 3 | CERVICAL SPINAL FUSION & OTHER BACK/NECK PROC EXC DISC EXCIS/DECOMP SOI 3.
M | 8 | 464 | MUSCULOSKELETAL SYSTEM & CONNECTIVE TISSUE DIAGNOSES SOI 4 | 340 | 4 | FRACTURE OF FEMUR SOI 4.
M | 8 | 464 | MUSCULOSKELETAL SYSTEM & CONNECTIVE TISSUE DIAGNOSES SOI 4 | 341 | 4 | FRACTURE OF PELVIS OR DISLOCATION OF HIP SOI 4.
M | 8 | 464 | MUSCULOSKELETAL SYSTEM & CONNECTIVE TISSUE DIAGNOSES SOI 4 | 342 | 4 | FRACTURES & DISLOCATIONS EXCEPT FEMUR, PELVIS & BACK SOI 4.
M | 8 | 464 | MUSCULOSKELETAL SYSTEM & CONNECTIVE TISSUE DIAGNOSES SOI 4 | 343 | 4 | MUSCULOSKELETAL MALIGNANCY & PATHOL FRACTURE D/T MUSCSKEL MALIG SOI 4.
M | 8 | 464 | MUSCULOSKELETAL SYSTEM & CONNECTIVE TISSUE DIAGNOSES SOI 4 | 344 | 4 | OSTEOMYELITIS, SEPTIC ARTHRITIS & OTHER MUSCULOSKELETAL INFECTIONS SOI 4.
M | 8 | 464 | MUSCULOSKELETAL SYSTEM & CONNECTIVE TISSUE DIAGNOSES SOI 4 | 346 | 4 | CONNECTIVE TISSUE DISORDERS SOI 4.
M | 8 | 464 | MUSCULOSKELETAL SYSTEM & CONNECTIVE TISSUE DIAGNOSES SOI 4 | 347 | 4 | OTHER BACK & NECK DISORDERS, FRACTURES & INJURIES SOI 4.
M | 8 | 464 | MUSCULOSKELETAL SYSTEM & CONNECTIVE TISSUE DIAGNOSES SOI 4 | 349 | 4 | MALFUNCTION, REACTION, COMPLIC OF ORTHOPEDIC DEVICE OR PROCEDURE SOI 4.
M | 8 | 464 | MUSCULOSKELETAL SYSTEM & CONNECTIVE TISSUE DIAGNOSES SOI 4 | 351 | 4 | OTHER MUSCULOSKELETAL SYSTEM & CONNECTIVE TISSUE DIAGNOSES SOI 4.
M | 8 | 465 | FRACTURE OF FEMUR SOI 1 | 340 | 1 | FRACTURE OF FEMUR SOI 1.
M | 8 | 466 | FRACTURE OF FEMUR SOI 2 | 340 | 2 | FRACTURE OF FEMUR SOI 2.
M | 8 | 467 | FRACTURE OF FEMUR SOI 3 | 340 | 3 | FRACTURE OF FEMUR SOI 3.
M | 8 | 468 | FRACTURE OF PELVIS OR DISLOCATION OF HIP SOI 1 | 341 | 1 | FRACTURE OF PELVIS OR DISLOCATION OF HIP SOI 1.
M | 8 | 469 | FRACTURE OF PELVIS OR DISLOCATION OF HIP SOI 2 | 341 | 2 | FRACTURE OF PELVIS OR DISLOCATION OF HIP SOI 2.
M | 8 | 470 | FRACTURE OF PELVIS OR DISLOCATION OF HIP SOI 3 | 341 | 3 | FRACTURE OF PELVIS OR DISLOCATION OF HIP SOI 3.
M | 8 | 471 | FRACTURES & DISLOCATIONS EXCEPT FEMUR, PELVIS & BACK SOI 1 | 342 | 1 | FRACTURES & DISLOCATIONS EXCEPT FEMUR, PELVIS & BACK SOI 1.
M | 8 | 472 | FRACTURES & DISLOCATIONS EXCEPT FEMUR, PELVIS & BACK SOI 2 | 342 | 2 | FRACTURES & DISLOCATIONS EXCEPT FEMUR, PELVIS & BACK SOI 2.
M | 8 | 473 | FRACTURES & DISLOCATIONS EXCEPT FEMUR, PELVIS & BACK SOI 3 | 342 | 3 | FRACTURES & DISLOCATIONS EXCEPT FEMUR, PELVIS & BACK SOI 3.
M | 8 | 474 | MUSCULOSKELETAL MALIGNANCY & PATHOL FRACTURE D/T MUSCSKEL MALIG SOI 1 | 343 | 1 | MUSCULOSKELETAL MALIGNANCY & PATHOL FRACTURE D/T MUSCSKEL MALIG SOI 1.
M | 8 | 475 | MUSCULOSKELETAL MALIGNANCY & PATHOL FRACTURE D/T MUSCSKEL MALIG SOI 2 | 343 | 2 | MUSCULOSKELETAL MALIGNANCY & PATHOL FRACTURE D/T MUSCSKEL MALIG SOI 2.
M | 8 | 476 | MUSCULOSKELETAL MALIGNANCY & PATHOL FRACTURE D/T MUSCSKEL MALIG SOI 3 | 343 | 3 | MUSCULOSKELETAL MALIGNANCY & PATHOL FRACTURE D/T MUSCSKEL MALIG SOI 3.
M | 8 | 477 | OSTEOMYELITIS, SEPTIC ARTHRITIS & OTHER MUSCULOSKELETAL INFECTIONS SOI 1 | 344 | 1 | OSTEOMYELITIS, SEPTIC ARTHRITIS & OTHER MUSCULOSKELETAL INFECTIONS SOI 1.
M | 8 | 478 | OSTEOMYELITIS, SEPTIC ARTHRITIS & OTHER MUSCULOSKELETAL INFECTIONS SOI 2 | 344 | 2 | OSTEOMYELITIS, SEPTIC ARTHRITIS & OTHER MUSCULOSKELETAL INFECTIONS SOI 2.
M | 8 | 479 | OSTEOMYELITIS, SEPTIC ARTHRITIS & OTHER MUSCULOSKELETAL INFECTIONS SOI 3 | 344 | 3 | OSTEOMYELITIS, SEPTIC ARTHRITIS & OTHER MUSCULOSKELETAL INFECTIONS SOI 3.
M | 8 | 480 | CONNECTIVE TISSUE DISORDERS SOI 1 | 346 | 1 | CONNECTIVE TISSUE DISORDERS SOI 1.
M | 8 | 481 | CONNECTIVE TISSUE DISORDERS SOI 2 | 346 | 2 | CONNECTIVE TISSUE DISORDERS SOI 2.
M | 8 | 482 | CONNECTIVE TISSUE DISORDERS SOI 3 | 346 | 3 | CONNECTIVE TISSUE DISORDERS SOI 3.
M | 8 | 483 | OTHER BACK & NECK DISORDERS, FRACTURES & INJURIES SOI 1 | 347 | 1 | OTHER BACK & NECK DISORDERS, FRACTURES & INJURIES SOI 1.
M | 8 | 484 | OTHER BACK & NECK DISORDERS, FRACTURES & INJURIES SOI 2 | 347 | 2 | OTHER BACK & NECK DISORDERS, FRACTURES & INJURIES SOI 2.
M | 8 | 485 | OTHER BACK & NECK DISORDERS, FRACTURES & INJURIES SOI 3 | 347 | 3 | OTHER BACK & NECK DISORDERS, FRACTURES & INJURIES SOI 3.
M | 8 | 486 | MALFUNCTION, REACTION, COMPLIC OF ORTHOPEDIC DEVICE OR PROCEDURE SOI 1 | 349 | 1 | MALFUNCTION, REACTION, COMPLIC OF ORTHOPEDIC DEVICE OR PROCEDURE SOI 1.
M | 8 | 487 | MALFUNCTION, REACTION, COMPLIC OF ORTHOPEDIC DEVICE OR PROCEDURE SOI 2 | 349 | 2 | MALFUNCTION, REACTION, COMPLIC OF ORTHOPEDIC DEVICE OR PROCEDURE SOI 2.
M | 8 | 488 | MALFUNCTION, REACTION, COMPLIC OF ORTHOPEDIC DEVICE OR PROCEDURE SOI 3 | 349 | 3 | MALFUNCTION, REACTION, COMPLIC OF ORTHOPEDIC DEVICE OR PROCEDURE SOI 3.
M | 8 | 489 | OTHER MUSCULOSKELETAL SYSTEM & CONNECTIVE TISSUE DIAGNOSES SOI 1 | 351 | 1 | OTHER MUSCULOSKELETAL SYSTEM & CONNECTIVE TISSUE DIAGNOSES SOI 1.
M | 8 | 490 | OTHER MUSCULOSKELETAL SYSTEM & CONNECTIVE TISSUE DIAGNOSES SOI 2 | 351 | 2 | OTHER MUSCULOSKELETAL SYSTEM & CONNECTIVE TISSUE DIAGNOSES SOI 2.
M | 8 | 491 | OTHER MUSCULOSKELETAL SYSTEM & CONNECTIVE TISSUE DIAGNOSES SOI 3 | 351 | 3 | OTHER MUSCULOSKELETAL SYSTEM & CONNECTIVE TISSUE DIAGNOSES SOI 3.
S | 9 | 492 | SKIN, SUBCUTANEOUS TISSUE, BREAST & RELATED PROCEDURES SOI 4 | 361 | 4 | SKIN GRAFT FOR SKIN & SUBCUTANEOUS TISSUE DIAGNOSES SOI 4.
S | 9 | 492 | SKIN, SUBCUTANEOUS TISSUE, BREAST & RELATED PROCEDURES SOI 4 | 362 | 4 | MASTECTOMY PROCEDURES SOI 4.
S | 9 | 492 | SKIN, SUBCUTANEOUS TISSUE, BREAST & RELATED PROCEDURES SOI 4 | 363 | 4 | BREAST PROCEDURES EXCEPT MASTECTOMY SOI 4.
S | 9 | 492 | SKIN, SUBCUTANEOUS TISSUE, BREAST & RELATED PROCEDURES SOI 4 | 364 | 4 | OTHER SKIN, SUBCUTANEOUS TISSUE & RELATED PROCEDURES SOI 4.
S | 9 | 493 | SKIN GRAFT FOR SKIN & SUBCUTANEOUS TISSUE DIAGNOSES SOI 1 | 361 | 1 | SKIN GRAFT FOR SKIN & SUBCUTANEOUS TISSUE DIAGNOSES SOI 1.
S | 9 | 494 | SKIN GRAFT FOR SKIN & SUBCUTANEOUS TISSUE DIAGNOSES SOI 2 | 361 | 2 | SKIN GRAFT FOR SKIN & SUBCUTANEOUS TISSUE DIAGNOSES SOI 2.
S | 9 | 495 | SKIN GRAFT FOR SKIN & SUBCUTANEOUS TISSUE DIAGNOSES SOI 3 | 361 | 3 | SKIN GRAFT FOR SKIN & SUBCUTANEOUS TISSUE DIAGNOSES SOI 3.
S | 9 | 496 | MASTECTOMY PROCEDURES SOI 1 | 362 | 1 | MASTECTOMY PROCEDURES SOI 1.
S | 9 | 497 | MASTECTOMY PROCEDURES SOI 2 | 362 | 2 | MASTECTOMY PROCEDURES SOI 2.
S | 9 | 498 | MASTECTOMY PROCEDURES SOI 3 | 362 | 3 | MASTECTOMY PROCEDURES SOI 3.
S | 9 | 499 | BREAST PROCEDURES EXCEPT MASTECTOMY SOI 1 | 363 | 1 | BREAST PROCEDURES EXCEPT MASTECTOMY SOI 1.
S | 9 | 500 | BREAST PROCEDURES EXCEPT MASTECTOMY SOI 2 | 363 | 2 | BREAST PROCEDURES EXCEPT MASTECTOMY SOI 2.
S | 9 | 501 | BREAST PROCEDURES EXCEPT MASTECTOMY SOI 3 | 363 | 3 | BREAST PROCEDURES EXCEPT MASTECTOMY SOI 3.
S | 9 | 502 | OTHER SKIN, SUBCUTANEOUS TISSUE & RELATED PROCEDURES SOI 1 | 364 | 1 | OTHER SKIN, SUBCUTANEOUS TISSUE & RELATED PROCEDURES SOI 1.
S | 9 | 503 | OTHER SKIN, SUBCUTANEOUS TISSUE & RELATED PROCEDURES SOI 2 | 364 | 2 | OTHER SKIN, SUBCUTANEOUS TISSUE & RELATED PROCEDURES SOI 2.
S | 9 | 504 | OTHER SKIN, SUBCUTANEOUS TISSUE & RELATED PROCEDURES SOI 3 | 364 | 3 | OTHER SKIN, SUBCUTANEOUS TISSUE & RELATED PROCEDURES SOI 3.
M | 9 | 505 | SKIN, SUBCUTANEOUS TISSUE & BREAST DIAGNOSES SOI 4 | 380 | 4 | SKIN ULCERS SOI 4.
M | 9 | 505 | SKIN, SUBCUTANEOUS TISSUE & BREAST DIAGNOSES SOI 4 | 381 | 4 | MAJOR SKIN DISORDERS SOI 4.
M | 9 | 505 | SKIN, SUBCUTANEOUS TISSUE & BREAST DIAGNOSES SOI 4 | 382 | 4 | MALIGNANT BREAST DISORDERS SOI 4.
M | 9 | 505 | SKIN, SUBCUTANEOUS TISSUE & BREAST DIAGNOSES SOI 4 | 383 | 4 | CELLULITIS & OTHER BACTERIAL SKIN INFECTIONS SOI 4.
M | 9 | 505 | SKIN, SUBCUTANEOUS TISSUE & BREAST DIAGNOSES SOI 4 | 384 | 4 | CONTUSION, OPEN WOUND & OTHER TRAUMA TO SKIN & SUBCUTANEOUS TISSUE SOI 4.
M | 9 | 505 | SKIN, SUBCUTANEOUS TISSUE & BREAST DIAGNOSES SOI 4 | 385 | 4 | OTHER SKIN, SUBCUTANEOUS TISSUE & BREAST DISORDERS SOI 4.
M | 9 | 506 | SKIN ULCERS SOI 1 | 380 | 1 | SKIN ULCERS SOI 1.
M | 9 | 507 | SKIN ULCERS SOI 2 | 380 | 2 | SKIN ULCERS SOI 2.
M | 9 | 508 | SKIN ULCERS SOI 3 | 380 | 3 | SKIN ULCERS SOI 3.
M | 9 | 509 | MAJOR SKIN DISORDERS SOI 1 | 381 | 1 | MAJOR SKIN DISORDERS SOI 1.
M | 9 | 510 | MAJOR SKIN DISORDERS SOI 2 | 381 | 2 | MAJOR SKIN DISORDERS SOI 2.
M | 9 | 511 | MAJOR SKIN DISORDERS SOI 3 | 381 | 3 | MAJOR SKIN DISORDERS SOI 3.
M | 9 | 512 | MALIGNANT BREAST DISORDERS SOI 1 | 382 | 1 | MALIGNANT BREAST DISORDERS SOI 1.
M | 9 | 513 | MALIGNANT BREAST DISORDERS SOI 2 | 382 | 2 | MALIGNANT BREAST DISORDERS SOI 2.
M | 9 | 514 | MALIGNANT BREAST DISORDERS SOI 3 | 382 | 3 | MALIGNANT BREAST DISORDERS SOI 3.
M | 9 | 515 | CELLULITIS & OTHER BACTERIAL SKIN INFECTIONS SOI 1 | 383 | 1 | CELLULITIS & OTHER BACTERIAL SKIN INFECTIONS SOI 1.
M | 9 | 516 | CELLULITIS & OTHER BACTERIAL SKIN INFECTIONS SOI 2 | 383 | 2 | CELLULITIS & OTHER BACTERIAL SKIN INFECTIONS SOI 2.
M | 9 | 517 | CELLULITIS & OTHER BACTERIAL SKIN INFECTIONS SOI 3 | 383 | 3 | CELLULITIS & OTHER BACTERIAL SKIN INFECTIONS SOI 3.
M | 9 | 518 | CONTUSION, OPEN WOUND & OTHER TRAUMA TO SKIN & SUBCUTANEOUS TISSUE SOI 1 | 384 | 1 | CONTUSION, OPEN WOUND & OTHER TRAUMA TO SKIN & SUBCUTANEOUS TISSUE SOI 1.
M | 9 | 519 | CONTUSION, OPEN WOUND & OTHER TRAUMA TO SKIN & SUBCUTANEOUS TISSUE SOI 2 | 384 | 2 | CONTUSION, OPEN WOUND & OTHER TRAUMA TO SKIN & SUBCUTANEOUS TISSUE SOI 2.
M | 9 | 520 | CONTUSION, OPEN WOUND & OTHER TRAUMA TO SKIN & SUBCUTANEOUS TISSUE SOI 3 | 384 | 3 | CONTUSION, OPEN WOUND & OTHER TRAUMA TO SKIN & SUBCUTANEOUS TISSUE SOI 3.
M | 9 | 521 | OTHER SKIN, SUBCUTANEOUS TISSUE & BREAST DISORDERS SOI 1 | 385 | 1 | OTHER SKIN, SUBCUTANEOUS TISSUE & BREAST DISORDERS SOI 1.
M | 9 | 522 | OTHER SKIN, SUBCUTANEOUS TISSUE & BREAST DISORDERS SOI 2 | 385 | 2 | OTHER SKIN, SUBCUTANEOUS TISSUE & BREAST DISORDERS SOI 2.
M | 9 | 523 | OTHER SKIN, SUBCUTANEOUS TISSUE & BREAST DISORDERS SOI 3 | 385 | 3 | OTHER SKIN, SUBCUTANEOUS TISSUE & BREAST DISORDERS SOI 3.
S | 10 | 524 | PROCEDURES FOR ENDOCRINE, NUTRITIONAL & METABOLIC DISORDERS SOI 4 | 401 | 4 | PITUITARY & ADRENAL PROCEDURES SOI 4.
S | 10 | 524 | PROCEDURES FOR ENDOCRINE, NUTRITIONAL & METABOLIC DISORDERS SOI 4 | 403 | 4 | PROCEDURES FOR OBESITY SOI 4.
S | 10 | 524 | PROCEDURES FOR ENDOCRINE, NUTRITIONAL & METABOLIC DISORDERS SOI 4 | 404 | 4 | THYROID, PARATHYROID & THYROGLOSSAL PROCEDURES SOI 4.
S | 10 | 524 | PROCEDURES FOR ENDOCRINE, NUTRITIONAL & METABOLIC DISORDERS SOI 4 | 405 | 4 | OTHER PROCEDURES FOR ENDOCRINE, NUTRITIONAL & METABOLIC DISORDERS SOI 4.
S | 10 | 525 | PITUITARY & ADRENAL PROCEDURES SOI 1 | 401 | 1 | PITUITARY & ADRENAL PROCEDURES SOI 1.
S | 10 | 526 | PITUITARY & ADRENAL PROCEDURES SOI 2 | 401 | 2 | PITUITARY & ADRENAL PROCEDURES SOI 2.
S | 10 | 527 | PITUITARY & ADRENAL PROCEDURES SOI 3 | 401 | 3 | PITUITARY & ADRENAL PROCEDURES SOI 3.
S | 10 | 528 | PROCEDURES FOR OBESITY SOI 1 | 403 | 1 | PROCEDURES FOR OBESITY SOI 1.
S | 10 | 529 | PROCEDURES FOR OBESITY SOI 2 | 403 | 2 | PROCEDURES FOR OBESITY SOI 2.
S | 10 | 530 | PROCEDURES FOR OBESITY SOI 3 | 403 | 3 | PROCEDURES FOR OBESITY SOI 3.
S | 10 | 531 | THYROID, PARATHYROID & THYROGLOSSAL PROCEDURES SOI 1 | 404 | 1 | THYROID, PARATHYROID & THYROGLOSSAL PROCEDURES SOI 1.
S | 10 | 532 | THYROID, PARATHYROID & THYROGLOSSAL PROCEDURES SOI 2 | 404 | 2 | THYROID, PARATHYROID & THYROGLOSSAL PROCEDURES SOI 2.
S | 10 | 533 | THYROID, PARATHYROID & THYROGLOSSAL PROCEDURES SOI 3 | 404 | 3 | THYROID, PARATHYROID & THYROGLOSSAL PROCEDURES SOI 3.
S | 10 | 534 | OTHER PROCEDURES FOR ENDOCRINE, NUTRITIONAL & METABOLIC DISORDERS SOI 1 | 405 | 1 | OTHER PROCEDURES FOR ENDOCRINE, NUTRITIONAL & METABOLIC DISORDERS SOI 1.
S | 10 | 535 | OTHER PROCEDURES FOR ENDOCRINE, NUTRITIONAL & METABOLIC DISORDERS SOI 2 | 405 | 2 | OTHER PROCEDURES FOR ENDOCRINE, NUTRITIONAL & METABOLIC DISORDERS SOI 2.
S | 10 | 536 | OTHER PROCEDURES FOR ENDOCRINE, NUTRITIONAL & METABOLIC DISORDERS SOI 3 | 405 | 3 | OTHER PROCEDURES FOR ENDOCRINE, NUTRITIONAL & METABOLIC DISORDERS SOI 3.
M | 10 | 537 | ENDOCRINE DIAGNOSES SOI 4 | 420 | 4 | DIABETES SOI 4.
M | 10 | 537 | ENDOCRINE DIAGNOSES SOI 4 | 421 | 4 | MALNUTRITION, FAILURE TO THRIVE & OTHER NUTRITIONAL DISORDERS SOI 4.
M | 10 | 537 | ENDOCRINE DIAGNOSES SOI 4 | 422 | 4 | HYPOVOLEMIA & RELATED ELECTROLYTE DISORDERS SOI 4.
M | 10 | 537 | ENDOCRINE DIAGNOSES SOI 4 | 423 | 4 | INBORN ERRORS OF METABOLISM SOI 4.
M | 10 | 537 | ENDOCRINE DIAGNOSES SOI 4 | 424 | 4 | OTHER ENDOCRINE DISORDERS SOI 4.
M | 10 | 537 | ENDOCRINE DIAGNOSES SOI 4 | 425 | 4 | ELECTROLYTE DISORDERS EXCEPT HYPOVOLEMIA RELATED SOI 4.
M | 10 | 538 | DIABETES SOI 1 | 420 | 1 | DIABETES SOI 1.
M | 10 | 539 | DIABETES SOI 2 | 420 | 2 | DIABETES SOI 2.
M | 10 | 540 | DIABETES SOI 3 | 420 | 3 | DIABETES SOI 3.
M | 10 | 541 | MALNUTRITION, FAILURE TO THRIVE & OTHER NUTRITIONAL DISORDERS SOI 1 | 421 | 1 | MALNUTRITION, FAILURE TO THRIVE & OTHER NUTRITIONAL DISORDERS SOI 1.
M | 10 | 542 | MALNUTRITION, FAILURE TO THRIVE & OTHER NUTRITIONAL DISORDERS SOI 2 | 421 | 2 | MALNUTRITION, FAILURE TO THRIVE & OTHER NUTRITIONAL DISORDERS SOI 2.
M | 10 | 543 | MALNUTRITION, FAILURE TO THRIVE & OTHER NUTRITIONAL DISORDERS SOI 3 | 421 | 3 | MALNUTRITION, FAILURE TO THRIVE & OTHER NUTRITIONAL DISORDERS SOI 3.
M | 10 | 544 | HYPOVOLEMIA & RELATED ELECTROLYTE DISORDERS SOI 1 | 422 | 1 | HYPOVOLEMIA & RELATED ELECTROLYTE DISORDERS SOI 1.
M | 10 | 545 | HYPOVOLEMIA & RELATED ELECTROLYTE DISORDERS SOI 2 | 422 | 2 | HYPOVOLEMIA & RELATED ELECTROLYTE DISORDERS SOI 2.
M | 10 | 546 | HYPOVOLEMIA & RELATED ELECTROLYTE DISORDERS SOI 3 | 422 | 3 | HYPOVOLEMIA & RELATED ELECTROLYTE DISORDERS SOI 3.
M | 10 | 547 | INBORN ERRORS OF METABOLISM SOI 1 | 423 | 1 | INBORN ERRORS OF METABOLISM SOI 1.
M | 10 | 548 | INBORN ERRORS OF METABOLISM SOI 2 | 423 | 2 | INBORN ERRORS OF METABOLISM SOI 2.
M | 10 | 549 | INBORN ERRORS OF METABOLISM SOI 3 | 423 | 3 | INBORN ERRORS OF METABOLISM SOI 3.
M | 10 | 550 | OTHER ENDOCRINE DISORDERS SOI 1 | 424 | 1 | OTHER ENDOCRINE DISORDERS SOI 1.
M | 10 | 551 | OTHER ENDOCRINE DISORDERS SOI 2 | 424 | 2 | OTHER ENDOCRINE DISORDERS SOI 2.
M | 10 | 552 | OTHER ENDOCRINE DISORDERS SOI 3 | 424 | 3 | OTHER ENDOCRINE DISORDERS SOI 3.
M | 10 | 553 | ELECTROLYTE DISORDERS EXCEPT HYPOVOLEMIA RELATED SOI 1 | 425 | 1 | ELECTROLYTE DISORDERS EXCEPT HYPOVOLEMIA RELATED SOI 1.
M | 10 | 554 | ELECTROLYTE DISORDERS EXCEPT HYPOVOLEMIA RELATED SOI 2 | 425 | 2 | ELECTROLYTE DISORDERS EXCEPT HYPOVOLEMIA RELATED SOI 2.
M | 10 | 555 | ELECTROLYTE DISORDERS EXCEPT HYPOVOLEMIA RELATED SOI 3 | 425 | 3 | ELECTROLYTE DISORDERS EXCEPT HYPOVOLEMIA RELATED SOI 3.
S | 11 | 556 | URINARY TRACT & RELATED PROCEDURES EXCEPT KIDNEY TRANSPLANT SOI 4 | 441 | 4 | MAJOR BLADDER PROCEDURES SOI 4.
S | 11 | 556 | URINARY TRACT & RELATED PROCEDURES EXCEPT KIDNEY TRANSPLANT SOI 4 | 442 | 4 | KIDNEY & URINARY TRACT PROCEDURES FOR MALIGNANCY SOI 4.
S | 11 | 556 | URINARY TRACT & RELATED PROCEDURES EXCEPT KIDNEY TRANSPLANT SOI 4 | 443 | 4 | KIDNEY & URINARY TRACT PROCEDURES FOR NONMALIGNANCY SOI 4.
S | 11 | 556 | URINARY TRACT & RELATED PROCEDURES EXCEPT KIDNEY TRANSPLANT SOI 4 | 444 | 4 | RENAL DIALYSIS ACCESS DEVICE PROCEDURE ONLY SOI 4.
S | 11 | 556 | URINARY TRACT & RELATED PROCEDURES EXCEPT KIDNEY TRANSPLANT SOI 4 | 445 | 4 | OTHER BLADDER PROCEDURES SOI 4.
S | 11 | 556 | URINARY TRACT & RELATED PROCEDURES EXCEPT KIDNEY TRANSPLANT SOI 4 | 446 | 4 | URETHRAL & TRANSURETHRAL PROCEDURES SOI 4.
S | 11 | 556 | URINARY TRACT & RELATED PROCEDURES EXCEPT KIDNEY TRANSPLANT SOI 4 | 447 | 4 | OTHER KIDNEY, URINARY TRACT & RELATED PROCEDURES SOI 4.
S | 11 | 557 | KIDNEY TRANSPLANT SOI 1 | 440 | 1 | KIDNEY TRANSPLANT SOI 1.
S | 11 | 558 | KIDNEY TRANSPLANT SOI 2 | 440 | 2 | KIDNEY TRANSPLANT SOI 2.
S | 11 | 559 | KIDNEY TRANSPLANT SOI 3 | 440 | 3 | KIDNEY TRANSPLANT SOI 3.
S | 11 | 560 | KIDNEY TRANSPLANT SOI 4 | 440 | 4 | KIDNEY TRANSPLANT SOI 4.
S | 11 | 561 | MAJOR BLADDER PROCEDURES SOI 1 | 441 | 1 | MAJOR BLADDER PROCEDURES SOI 1.
S | 11 | 562 | MAJOR BLADDER PROCEDURES SOI 2 | 441 | 2 | MAJOR BLADDER PROCEDURES SOI 2.
S | 11 | 563 | MAJOR BLADDER PROCEDURES SOI 3 | 441 | 3 | MAJOR BLADDER PROCEDURES SOI 3.
S | 11 | 564 | KIDNEY & URINARY TRACT PROCEDURES FOR MALIGNANCY SOI 1 | 442 | 1 | KIDNEY & URINARY TRACT PROCEDURES FOR MALIGNANCY SOI 1.
S | 11 | 565 | KIDNEY & URINARY TRACT PROCEDURES FOR MALIGNANCY SOI 2 | 442 | 2 | KIDNEY & URINARY TRACT PROCEDURES FOR MALIGNANCY SOI 2.
S | 11 | 566 | KIDNEY & URINARY TRACT PROCEDURES FOR MALIGNANCY SOI 3 | 442 | 3 | KIDNEY & URINARY TRACT PROCEDURES FOR MALIGNANCY SOI 3.
S | 11 | 567 | KIDNEY & URINARY TRACT PROCEDURES FOR NONMALIGNANCY SOI 1 | 443 | 1 | KIDNEY & URINARY TRACT PROCEDURES FOR NONMALIGNANCY SOI 1.
S | 11 | 568 | KIDNEY & URINARY TRACT PROCEDURES FOR NONMALIGNANCY SOI 2 | 443 | 2 | KIDNEY & URINARY TRACT PROCEDURES FOR NONMALIGNANCY SOI 2.
S | 11 | 569 | KIDNEY & URINARY TRACT PROCEDURES FOR NONMALIGNANCY SOI 3 | 443 | 3 | KIDNEY & URINARY TRACT PROCEDURES FOR NONMALIGNANCY SOI 3.
S | 11 | 570 | RENAL DIALYSIS ACCESS DEVICE PROCEDURE ONLY SOI 1 | 444 | 1 | RENAL DIALYSIS ACCESS DEVICE PROCEDURE ONLY SOI 1.
S | 11 | 571 | RENAL DIALYSIS ACCESS DEVICE PROCEDURE ONLY SOI 2 | 444 | 2 | RENAL DIALYSIS ACCESS DEVICE PROCEDURE ONLY SOI 2.
S | 11 | 572 | RENAL DIALYSIS ACCESS DEVICE PROCEDURE ONLY SOI 3 | 444 | 3 | RENAL DIALYSIS ACCESS DEVICE PROCEDURE ONLY SOI 3.
S | 11 | 573 | OTHER BLADDER PROCEDURES SOI 1 | 445 | 1 | OTHER BLADDER PROCEDURES SOI 1.
S | 11 | 574 | OTHER BLADDER PROCEDURES SOI 2 | 445 | 2 | OTHER BLADDER PROCEDURES SOI 2.
S | 11 | 575 | OTHER BLADDER PROCEDURES SOI 3 | 445 | 3 | OTHER BLADDER PROCEDURES SOI 3.
S | 11 | 576 | URETHRAL & TRANSURETHRAL PROCEDURES SOI 1 | 446 | 1 | URETHRAL & TRANSURETHRAL PROCEDURES SOI 1.
S | 11 | 577 | URETHRAL & TRANSURETHRAL PROCEDURES SOI 2 | 446 | 2 | URETHRAL & TRANSURETHRAL PROCEDURES SOI 2.
S | 11 | 578 | URETHRAL & TRANSURETHRAL PROCEDURES SOI 3 | 446 | 3 | URETHRAL & TRANSURETHRAL PROCEDURES SOI 3.
S | 11 | 579 | OTHER KIDNEY, URINARY TRACT & RELATED PROCEDURES SOI 1 | 447 | 1 | OTHER KIDNEY, URINARY TRACT & RELATED PROCEDURES SOI 1.
S | 11 | 580 | OTHER KIDNEY, URINARY TRACT & RELATED PROCEDURES SOI 2 | 447 | 2 | OTHER KIDNEY, URINARY TRACT & RELATED PROCEDURES SOI 2.
S | 11 | 581 | OTHER KIDNEY, URINARY TRACT & RELATED PROCEDURES SOI 3 | 447 | 3 | OTHER KIDNEY, URINARY TRACT & RELATED PROCEDURES SOI 3.
M | 11 | 582 | KIDNEY & URINARY TRACT DIAGNOSES SOI 4 | 460 | 4 | RENAL FAILURE SOI 4.
M | 11 | 582 | KIDNEY & URINARY TRACT DIAGNOSES SOI 4 | 461 | 4 | KIDNEY & URINARY TRACT MALIGNANCY SOI 4.
M | 11 | 582 | KIDNEY & URINARY TRACT DIAGNOSES SOI 4 | 462 | 4 | NEPHRITIS & NEPHROSIS SOI 4.
M | 11 | 582 | KIDNEY & URINARY TRACT DIAGNOSES SOI 4 | 463 | 4 | KIDNEY & URINARY TRACT INFECTIONS SOI 4.
M | 11 | 582 | KIDNEY & URINARY TRACT DIAGNOSES SOI 4 | 465 | 4 | URINARY STONES & ACQUIRED UPPER URINARY TRACT OBSTRUCTION SOI 4.
M | 11 | 582 | KIDNEY & URINARY TRACT DIAGNOSES SOI 4 | 466 | 4 | MALFUNCTION, REACTION, COMPLIC OF GENITOURINARY DEVICE OR PROC SOI 4.
M | 11 | 582 | KIDNEY & URINARY TRACT DIAGNOSES SOI 4 | 468 | 4 | OTHER KIDNEY & URINARY TRACT DIAGNOSES, SIGNS & SYMPTOMS SOI 4.
M | 11 | 583 | RENAL FAILURE SOI 1 | 460 | 1 | RENAL FAILURE SOI 1.
M | 11 | 584 | RENAL FAILURE SOI 2 | 460 | 2 | RENAL FAILURE SOI 2.
M | 11 | 585 | RENAL FAILURE SOI 3 | 460 | 3 | RENAL FAILURE SOI 3.
M | 11 | 586 | KIDNEY & URINARY TRACT MALIGNANCY SOI 1 | 461 | 1 | KIDNEY & URINARY TRACT MALIGNANCY SOI 1.
M | 11 | 587 | KIDNEY & URINARY TRACT MALIGNANCY SOI 2 | 461 | 2 | KIDNEY & URINARY TRACT MALIGNANCY SOI 2.
M | 11 | 588 | KIDNEY & URINARY TRACT MALIGNANCY SOI 3 | 461 | 3 | KIDNEY & URINARY TRACT MALIGNANCY SOI 3.
M | 11 | 589 | NEPHRITIS & NEPHROSIS SOI 1 | 462 | 1 | NEPHRITIS & NEPHROSIS SOI 1.
M | 11 | 590 | NEPHRITIS & NEPHROSIS SOI 2 | 462 | 2 | NEPHRITIS & NEPHROSIS SOI 2.
M | 11 | 591 | NEPHRITIS & NEPHROSIS SOI 3 | 462 | 3 | NEPHRITIS & NEPHROSIS SOI 3.
M | 11 | 592 | KIDNEY & URINARY TRACT INFECTIONS SOI 1 | 463 | 1 | KIDNEY & URINARY TRACT INFECTIONS SOI 1.
M | 11 | 593 | KIDNEY & URINARY TRACT INFECTIONS SOI 2 | 463 | 2 | KIDNEY & URINARY TRACT INFECTIONS SOI 2.
M | 11 | 594 | KIDNEY & URINARY TRACT INFECTIONS SOI 3 | 463 | 3 | KIDNEY & URINARY TRACT INFECTIONS SOI 3.
M | 11 | 595 | URINARY STONES & ACQUIRED UPPER URINARY TRACT OBSTRUCTION SOI 1 | 465 | 1 | URINARY STONES & ACQUIRED UPPER URINARY TRACT OBSTRUCTION SOI 1.
M | 11 | 596 | URINARY STONES & ACQUIRED UPPER URINARY TRACT OBSTRUCTION SOI 2 | 465 | 2 | URINARY STONES & ACQUIRED UPPER URINARY TRACT OBSTRUCTION SOI 2.
M | 11 | 597 | URINARY STONES & ACQUIRED UPPER URINARY TRACT OBSTRUCTION SOI 3 | 465 | 3 | URINARY STONES & ACQUIRED UPPER URINARY TRACT OBSTRUCTION SOI 3.
M | 11 | 598 | MALFUNCTION, REACTION, COMPLIC OF GENITOURINARY DEVICE OR PROC SOI 1 | 466 | 1 | MALFUNCTION, REACTION, COMPLIC OF GENITOURINARY DEVICE OR PROC SOI 1.
M | 11 | 599 | MALFUNCTION, REACTION, COMPLIC OF GENITOURINARY DEVICE OR PROC SOI 2 | 466 | 2 | MALFUNCTION, REACTION, COMPLIC OF GENITOURINARY DEVICE OR PROC SOI 2.
M | 11 | 600 | MALFUNCTION, REACTION, COMPLIC OF GENITOURINARY DEVICE OR PROC SOI 3 | 466 | 3 | MALFUNCTION, REACTION, COMPLIC OF GENITOURINARY DEVICE OR PROC SOI 3.
M | 11 | 601 | OTHER KIDNEY & URINARY TRACT DIAGNOSES, SIGNS & SYMPTOMS SOI 1 | 468 | 1 | OTHER KIDNEY & URINARY TRACT DIAGNOSES, SIGNS & SYMPTOMS SOI 1.
M | 11 | 602 | OTHER KIDNEY & URINARY TRACT DIAGNOSES, SIGNS & SYMPTOMS SOI 2 | 468 | 2 | OTHER KIDNEY & URINARY TRACT DIAGNOSES, SIGNS & SYMPTOMS SOI 2.
M | 11 | 603 | OTHER KIDNEY & URINARY TRACT DIAGNOSES, SIGNS & SYMPTOMS SOI 3 | 468 | 3 | OTHER KIDNEY & URINARY TRACT DIAGNOSES, SIGNS & SYMPTOMS SOI 3.
S | 12 | 604 | MALE REPRODUCTIVE SYSTEM & RELATED PROCEDURES SOI 4 | 480 | 4 | MAJOR MALE PELVIC PROCEDURES SOI 4.
S | 12 | 604 | MALE REPRODUCTIVE SYSTEM & RELATED PROCEDURES SOI 4 | 481 | 4 | PENIS PROCEDURES SOI 4.
S | 12 | 604 | MALE REPRODUCTIVE SYSTEM & RELATED PROCEDURES SOI 4 | 482 | 4 | TRANSURETHRAL PROSTATECTOMY SOI 4.
S | 12 | 604 | MALE REPRODUCTIVE SYSTEM & RELATED PROCEDURES SOI 4 | 483 | 4 | TESTES & SCROTAL PROCEDURES SOI 4.
S | 12 | 604 | MALE REPRODUCTIVE SYSTEM & RELATED PROCEDURES SOI 4 | 484 | 4 | OTHER MALE REPRODUCTIVE SYSTEM & RELATED PROCEDURES SOI 4.
S | 12 | 605 | MAJOR MALE PELVIC PROCEDURES SOI 1 | 480 | 1 | MAJOR MALE PELVIC PROCEDURES SOI 1.
S | 12 | 606 | MAJOR MALE PELVIC PROCEDURES SOI 2 | 480 | 2 | MAJOR MALE PELVIC PROCEDURES SOI 2.
S | 12 | 607 | MAJOR MALE PELVIC PROCEDURES SOI 3 | 480 | 3 | MAJOR MALE PELVIC PROCEDURES SOI 3.
S | 12 | 608 | PENIS PROCEDURES SOI 1 | 481 | 1 | PENIS PROCEDURES SOI 1.
S | 12 | 609 | PENIS PROCEDURES SOI 2 | 481 | 2 | PENIS PROCEDURES SOI 2.
S | 12 | 610 | PENIS PROCEDURES SOI 3 | 481 | 3 | PENIS PROCEDURES SOI 3.
S | 12 | 611 | TRANSURETHRAL PROSTATECTOMY SOI 1 | 482 | 1 | TRANSURETHRAL PROSTATECTOMY SOI 1.
S | 12 | 612 | TRANSURETHRAL PROSTATECTOMY SOI 2 | 482 | 2 | TRANSURETHRAL PROSTATECTOMY SOI 2.
S | 12 | 613 | TRANSURETHRAL PROSTATECTOMY SOI 3 | 482 | 3 | TRANSURETHRAL PROSTATECTOMY SOI 3.
S | 12 | 614 | TESTES & SCROTAL PROCEDURES SOI 1 | 483 | 1 | TESTES & SCROTAL PROCEDURES SOI 1.
S | 12 | 615 | TESTES & SCROTAL PROCEDURES SOI 2 | 483 | 2 | TESTES & SCROTAL PROCEDURES SOI 2.
S | 12 | 616 | TESTES & SCROTAL PROCEDURES SOI 3 | 483 | 3 | TESTES & SCROTAL PROCEDURES SOI 3.
S | 12 | 617 | OTHER MALE REPRODUCTIVE SYSTEM & RELATED PROCEDURES SOI 1 | 484 | 1 | OTHER MALE REPRODUCTIVE SYSTEM & RELATED PROCEDURES SOI 1.
S | 12 | 618 | OTHER MALE REPRODUCTIVE SYSTEM & RELATED PROCEDURES SOI 2 | 484 | 2 | OTHER MALE REPRODUCTIVE SYSTEM & RELATED PROCEDURES SOI 2.
S | 12 | 619 | OTHER MALE REPRODUCTIVE SYSTEM & RELATED PROCEDURES SOI 3 | 484 | 3 | OTHER MALE REPRODUCTIVE SYSTEM & RELATED PROCEDURES SOI 3.
M | 12 | 620 | MALE REPRODUCTIVE SYSTEM DIAGNOSES SOI 4 | 500 | 4 | MALIGNANCY, MALE REPRODUCTIVE SYSTEM SOI 4.
M | 12 | 620 | MALE REPRODUCTIVE SYSTEM DIAGNOSES SOI 4 | 501 | 4 | MALE REPRODUCTIVE SYSTEM DIAGNOSES EXCEPT MALIGNANCY SOI 4.
M | 12 | 621 | MALIGNANCY, MALE REPRODUCTIVE SYSTEM SOI 1 | 500 | 1 | MALIGNANCY, MALE REPRODUCTIVE SYSTEM SOI 1.
M | 12 | 622 | MALIGNANCY, MALE REPRODUCTIVE SYSTEM SOI 2 | 500 | 2 | MALIGNANCY, MALE REPRODUCTIVE SYSTEM SOI 2.
M | 12 | 623 | MALIGNANCY, MALE REPRODUCTIVE SYSTEM SOI 3 | 500 | 3 | MALIGNANCY, MALE REPRODUCTIVE SYSTEM SOI 3.
M | 12 | 624 | MALE REPRODUCTIVE SYSTEM DIAGNOSES EXCEPT MALIGNANCY SOI 1 | 501 | 1 | MALE REPRODUCTIVE SYSTEM DIAGNOSES EXCEPT MALIGNANCY SOI 1.
M | 12 | 625 | MALE REPRODUCTIVE SYSTEM DIAGNOSES EXCEPT MALIGNANCY SOI 2 | 501 | 2 | MALE REPRODUCTIVE SYSTEM DIAGNOSES EXCEPT MALIGNANCY SOI 2.
M | 12 | 626 | MALE REPRODUCTIVE SYSTEM DIAGNOSES EXCEPT MALIGNANCY SOI 3 | 501 | 3 | MALE REPRODUCTIVE SYSTEM DIAGNOSES EXCEPT MALIGNANCY SOI 3.
S | 13 | 627 | FEMALE REPRODUCTIVE SYSTEM & RELATED PROCEDURES SOI 4 | 510 | 4 | PELVIC EVISCERATION, RADICAL HYSTERECTOMY & OTHER RADICAL GYN PROCS SOI 4.
S | 13 | 627 | FEMALE REPRODUCTIVE SYSTEM & RELATED PROCEDURES SOI 4 | 511 | 4 | UTERINE & ADNEXA PROCEDURES FOR OVARIAN & ADNEXAL MALIGNANCY SOI 4.
S | 13 | 627 | FEMALE REPRODUCTIVE SYSTEM & RELATED PROCEDURES SOI 4 | 512 | 4 | UTERINE & ADNEXA PROCEDURES FOR NON-OVARIAN & NON-ADNEXAL MALIG SOI 4.
S | 13 | 627 | FEMALE REPRODUCTIVE SYSTEM & RELATED PROCEDURES SOI 4 | 513 | 4 | UTERINE & ADNEXA PROCEDURES FOR NON-MALIGNANCY EXCEPT LEIOMYOMA SOI 4.
S | 13 | 627 | FEMALE REPRODUCTIVE SYSTEM & RELATED PROCEDURES SOI 4 | 514 | 4 | FEMALE REPRODUCTIVE SYSTEM RECONSTRUCTIVE PROCEDURES SOI 4.
S | 13 | 627 | FEMALE REPRODUCTIVE SYSTEM & RELATED PROCEDURES SOI 4 | 517 | 4 | DILATION & CURETTAGE FOR NON-OBSTETRIC DIAGNOSES SOI 4.
S | 13 | 627 | FEMALE REPRODUCTIVE SYSTEM & RELATED PROCEDURES SOI 4 | 518 | 4 | OTHER FEMALE REPRODUCTIVE SYSTEM & RELATED PROCEDURES SOI 4.
S | 13 | 627 | FEMALE REPRODUCTIVE SYSTEM & RELATED PROCEDURES SOI 4 | 519 | 4 | UTERINE & ADNEXA PROCEDURES FOR LEIOMYOMA SOI 4.
S | 13 | 628 | PELVIC EVISCERATION, RADICAL HYSTERECTOMY & OTHER RADICAL GYN PROCS SOI 1 | 510 | 1 | PELVIC EVISCERATION, RADICAL HYSTERECTOMY & OTHER RADICAL GYN PROCS SOI 1.
S | 13 | 629 | PELVIC EVISCERATION, RADICAL HYSTERECTOMY & OTHER RADICAL GYN PROCS SOI 2 | 510 | 2 | PELVIC EVISCERATION, RADICAL HYSTERECTOMY & OTHER RADICAL GYN PROCS SOI 2.
S | 13 | 630 | PELVIC EVISCERATION, RADICAL HYSTERECTOMY & OTHER RADICAL GYN PROCS SOI 3 | 510 | 3 | PELVIC EVISCERATION, RADICAL HYSTERECTOMY & OTHER RADICAL GYN PROCS SOI 3.
S | 13 | 631 | UTERINE & ADNEXA PROCEDURES FOR OVARIAN & ADNEXAL MALIGNANCY SOI 1 | 511 | 1 | UTERINE & ADNEXA PROCEDURES FOR OVARIAN & ADNEXAL MALIGNANCY SOI 1.
S | 13 | 632 | UTERINE & ADNEXA PROCEDURES FOR OVARIAN & ADNEXAL MALIGNANCY SOI 2 | 511 | 2 | UTERINE & ADNEXA PROCEDURES FOR OVARIAN & ADNEXAL MALIGNANCY SOI 2.
S | 13 | 633 | UTERINE & ADNEXA PROCEDURES FOR OVARIAN & ADNEXAL MALIGNANCY SOI 3 | 511 | 3 | UTERINE & ADNEXA PROCEDURES FOR OVARIAN & ADNEXAL MALIGNANCY SOI 3.
S | 13 | 634 | UTERINE & ADNEXA PROCEDURES FOR NON-OVARIAN & NON-ADNEXAL MALIG SOI 1 | 512 | 1 | UTERINE & ADNEXA PROCEDURES FOR NON-OVARIAN & NON-ADNEXAL MALIG SOI 1.
S | 13 | 635 | UTERINE & ADNEXA PROCEDURES FOR NON-OVARIAN & NON-ADNEXAL MALIG SOI 2 | 512 | 2 | UTERINE & ADNEXA PROCEDURES FOR NON-OVARIAN & NON-ADNEXAL MALIG SOI 2.
S | 13 | 636 | UTERINE & ADNEXA PROCEDURES FOR NON-OVARIAN & NON-ADNEXAL MALIG SOI 3 | 512 | 3 | UTERINE & ADNEXA PROCEDURES FOR NON-OVARIAN & NON-ADNEXAL MALIG SOI 3.
S | 13 | 637 | UTERINE & ADNEXA PROCEDURES FOR NON-MALIGNANCY EXCEPT LEIOMYOMA SOI 1 | 513 | 1 | UTERINE & ADNEXA PROCEDURES FOR NON-MALIGNANCY EXCEPT LEIOMYOMA SOI 1.
S | 13 | 638 | UTERINE & ADNEXA PROCEDURES FOR NON-MALIGNANCY EXCEPT LEIOMYOMA SOI 2 | 513 | 2 | UTERINE & ADNEXA PROCEDURES FOR NON-MALIGNANCY EXCEPT LEIOMYOMA SOI 2.
S | 13 | 639 | UTERINE & ADNEXA PROCEDURES FOR NON-MALIGNANCY EXCEPT LEIOMYOMA SOI 3 | 513 | 3 | UTERINE & ADNEXA PROCEDURES FOR NON-MALIGNANCY EXCEPT LEIOMYOMA SOI 3.
S | 13 | 640 | FEMALE REPRODUCTIVE SYSTEM RECONSTRUCTIVE PROCEDURES SOI 1 | 514 | 1 | FEMALE REPRODUCTIVE SYSTEM RECONSTRUCTIVE PROCEDURES SOI 1.
S | 13 | 641 | FEMALE REPRODUCTIVE SYSTEM RECONSTRUCTIVE PROCEDURES SOI 2 | 514 | 2 | FEMALE REPRODUCTIVE SYSTEM RECONSTRUCTIVE PROCEDURES SOI 2.
S | 13 | 642 | FEMALE REPRODUCTIVE SYSTEM RECONSTRUCTIVE PROCEDURES SOI 3 | 514 | 3 | FEMALE REPRODUCTIVE SYSTEM RECONSTRUCTIVE PROCEDURES SOI 3.
S | 13 | 643 | DILATION & CURETTAGE FOR NON-OBSTETRIC DIAGNOSES SOI 1 | 517 | 1 | DILATION & CURETTAGE FOR NON-OBSTETRIC DIAGNOSES SOI 1.
S | 13 | 644 | DILATION & CURETTAGE FOR NON-OBSTETRIC DIAGNOSES SOI 2 | 517 | 2 | DILATION & CURETTAGE FOR NON-OBSTETRIC DIAGNOSES SOI 2.
S | 13 | 645 | DILATION & CURETTAGE FOR NON-OBSTETRIC DIAGNOSES SOI 3 | 517 | 3 | DILATION & CURETTAGE FOR NON-OBSTETRIC DIAGNOSES SOI 3.
S | 13 | 646 | OTHER FEMALE REPRODUCTIVE SYSTEM & RELATED PROCEDURES SOI 1 | 518 | 1 | OTHER FEMALE REPRODUCTIVE SYSTEM & RELATED PROCEDURES SOI 1.
S | 13 | 647 | OTHER FEMALE REPRODUCTIVE SYSTEM & RELATED PROCEDURES SOI 2 | 518 | 2 | OTHER FEMALE REPRODUCTIVE SYSTEM & RELATED PROCEDURES SOI 2.
S | 13 | 648 | OTHER FEMALE REPRODUCTIVE SYSTEM & RELATED PROCEDURES SOI 3 | 518 | 3 | OTHER FEMALE REPRODUCTIVE SYSTEM & RELATED PROCEDURES SOI 3.
S | 13 | 649 | UTERINE & ADNEXA PROCEDURES FOR LEIOMYOMA SOI 1 | 519 | 1 | UTERINE & ADNEXA PROCEDURES FOR LEIOMYOMA SOI 1.
S | 13 | 650 | UTERINE & ADNEXA PROCEDURES FOR LEIOMYOMA SOI 2 | 519 | 2 | UTERINE & ADNEXA PROCEDURES FOR LEIOMYOMA SOI 2.
S | 13 | 651 | UTERINE & ADNEXA PROCEDURES FOR LEIOMYOMA SOI 3 | 519 | 3 | UTERINE & ADNEXA PROCEDURES FOR LEIOMYOMA SOI 3.
M | 13 | 652 | FEMALE REPRODUCTIVE SYSTEM DIAGNOSES SOI 4 | 530 | 4 | FEMALE REPRODUCTIVE SYSTEM MALIGNANCY SOI 4.
M | 13 | 652 | FEMALE REPRODUCTIVE SYSTEM DIAGNOSES SOI 4 | 531 | 4 | FEMALE REPRODUCTIVE SYSTEM INFECTIONS SOI 4.
M | 13 | 652 | FEMALE REPRODUCTIVE SYSTEM DIAGNOSES SOI 4 | 532 | 4 | MENSTRUAL & OTHER FEMALE REPRODUCTIVE SYSTEM DISORDERS SOI 4.
M | 13 | 653 | FEMALE REPRODUCTIVE SYSTEM MALIGNANCY SOI 1 | 530 | 1 | FEMALE REPRODUCTIVE SYSTEM MALIGNANCY SOI 1.
M | 13 | 654 | FEMALE REPRODUCTIVE SYSTEM MALIGNANCY SOI 2 | 530 | 2 | FEMALE REPRODUCTIVE SYSTEM MALIGNANCY SOI 2.
M | 13 | 655 | FEMALE REPRODUCTIVE SYSTEM MALIGNANCY SOI 3 | 530 | 3 | FEMALE REPRODUCTIVE SYSTEM MALIGNANCY SOI 3.
M | 13 | 656 | FEMALE REPRODUCTIVE SYSTEM INFECTIONS SOI 1 | 531 | 1 | FEMALE REPRODUCTIVE SYSTEM INFECTIONS SOI 1.
M | 13 | 657 | FEMALE REPRODUCTIVE SYSTEM INFECTIONS SOI 2 | 531 | 2 | FEMALE REPRODUCTIVE SYSTEM INFECTIONS SOI 2.
M | 13 | 658 | FEMALE REPRODUCTIVE SYSTEM INFECTIONS SOI 3 | 531 | 3 | FEMALE REPRODUCTIVE SYSTEM INFECTIONS SOI 3.
M | 13 | 659 | MENSTRUAL & OTHER FEMALE REPRODUCTIVE SYSTEM DISORDERS SOI 1 | 532 | 1 | MENSTRUAL & OTHER FEMALE REPRODUCTIVE SYSTEM DISORDERS SOI 1.
M | 13 | 660 | MENSTRUAL & OTHER FEMALE REPRODUCTIVE SYSTEM DISORDERS SOI 2 | 532 | 2 | MENSTRUAL & OTHER FEMALE REPRODUCTIVE SYSTEM DISORDERS SOI 2.
M | 13 | 661 | MENSTRUAL & OTHER FEMALE REPRODUCTIVE SYSTEM DISORDERS SOI 3 | 532 | 3 | MENSTRUAL & OTHER FEMALE REPRODUCTIVE SYSTEM DISORDERS SOI 3.
S | 14 | 662 | O.R. PROC FOR OBSTETRIC DIAGNOSES EXCEPT CESAREAN DELIVERY SOI 4 | 541 | 4 | VAGINAL DELIVERY W STERILIZATION &/OR D&C SOI 4.
S | 14 | 662 | O.R. PROC FOR OBSTETRIC DIAGNOSES EXCEPT CESAREAN DELIVERY SOI 4 | 542 | 4 | VAGINAL DELIVERY W COMPLICATING PROCEDURES EXC STERILIZATION &/OR D&C SOI 4.
S | 14 | 662 | O.R. PROC FOR OBSTETRIC DIAGNOSES EXCEPT CESAREAN DELIVERY SOI 4 | 544 | 4 | D&C, ASPIRATION CURETTAGE OR HYSTEROTOMY FOR OBSTETRIC DIAGNOSES SOI 4.
S | 14 | 662 | O.R. PROC FOR OBSTETRIC DIAGNOSES EXCEPT CESAREAN DELIVERY SOI 4 | 545 | 4 | ECTOPIC PREGNANCY PROCEDURE SOI 4.
S | 14 | 662 | O.R. PROC FOR OBSTETRIC DIAGNOSES EXCEPT CESAREAN DELIVERY SOI 4 | 546 | 4 | OTHER O.R. PROC FOR OBSTETRIC DIAGNOSES EXCEPT DELIVERY DIAGNOSES SOI 4.
S | 14 | 663 | CESAREAN DELIVERY SOI 1 | 540 | 1 | CESAREAN DELIVERY SOI 1.
S | 14 | 664 | CESAREAN DELIVERY SOI 2 | 540 | 2 | CESAREAN DELIVERY SOI 2.
S | 14 | 665 | CESAREAN DELIVERY SOI 3 | 540 | 3 | CESAREAN DELIVERY SOI 3.
S | 14 | 666 | CESAREAN DELIVERY SOI 4 | 540 | 4 | CESAREAN DELIVERY SOI 4.
S | 14 | 667 | VAGINAL DELIVERY PROCEDURES SOI 1 | 541 | 1 | VAGINAL DELIVERY W STERILIZATION &/OR D&C SOI 1.
S | 14 | 667 | VAGINAL DELIVERY PROCEDURES SOI 1 | 542 | 1 | VAGINAL DELIVERY W COMPLICATING PROCEDURES EXC STERILIZATION &/OR D&C SOI 1.
S | 14 | 668 | VAGINAL DELIVERY PROCEDURES SOI 2 | 541 | 2 | VAGINAL DELIVERY W STERILIZATION &/OR D&C SOI 2.
S | 14 | 668 | VAGINAL DELIVERY PROCEDURES SOI 2 | 542 | 2 | VAGINAL DELIVERY W COMPLICATING PROCEDURES EXC STERILIZATION &/OR D&C SOI 2.
S | 14 | 669 | VAGINAL DELIVERY PROCEDURES SOI 3 | 541 | 3 | VAGINAL DELIVERY W STERILIZATION &/OR D&C SOI 3.
S | 14 | 669 | VAGINAL DELIVERY PROCEDURES SOI 3 | 542 | 3 | VAGINAL DELIVERY W COMPLICATING PROCEDURES EXC STERILIZATION &/OR D&C SOI 3.
S | 14 | 670 | OTHER PROCEDURES FOR OBSTETRIC DIAGNOSES EXCEPT DELIVERY DIAGNOSES SOI 1 | 544 | 1 | D&C, ASPIRATION CURETTAGE OR HYSTEROTOMY FOR OBSTETRIC DIAGNOSES SOI 1.
S | 14 | 670 | OTHER PROCEDURES FOR OBSTETRIC DIAGNOSES EXCEPT DELIVERY DIAGNOSES SOI 1 | 545 | 1 | ECTOPIC PREGNANCY PROCEDURE SOI 1.
S | 14 | 670 | OTHER PROCEDURES FOR OBSTETRIC DIAGNOSES EXCEPT DELIVERY DIAGNOSES SOI 1 | 546 | 1 | OTHER O.R. PROC FOR OBSTETRIC DIAGNOSES EXCEPT DELIVERY DIAGNOSES SOI 1.
S | 14 | 671 | OTHER PROCEDURES FOR OBSTETRIC DIAGNOSES EXCEPT DELIVERY DIAGNOSES SOI 2 | 544 | 2 | D&C, ASPIRATION CURETTAGE OR HYSTEROTOMY FOR OBSTETRIC DIAGNOSES SOI 2.
S | 14 | 671 | OTHER PROCEDURES FOR OBSTETRIC DIAGNOSES EXCEPT DELIVERY DIAGNOSES SOI 2 | 545 | 2 | ECTOPIC PREGNANCY PROCEDURE SOI 2.
S | 14 | 671 | OTHER PROCEDURES FOR OBSTETRIC DIAGNOSES EXCEPT DELIVERY DIAGNOSES SOI 2 | 546 | 2 | OTHER O.R. PROC FOR OBSTETRIC DIAGNOSES EXCEPT DELIVERY DIAGNOSES SOI 2.
S | 14 | 672 | OTHER PROCEDURES FOR OBSTETRIC DIAGNOSES EXCEPT DELIVERY DIAGNOSES SOI 3 | 544 | 3 | D&C, ASPIRATION CURETTAGE OR HYSTEROTOMY FOR OBSTETRIC DIAGNOSES SOI 3.
S | 14 | 672 | OTHER PROCEDURES FOR OBSTETRIC DIAGNOSES EXCEPT DELIVERY DIAGNOSES SOI 3 | 545 | 3 | ECTOPIC PREGNANCY PROCEDURE SOI 3.
S | 14 | 672 | OTHER PROCEDURES FOR OBSTETRIC DIAGNOSES EXCEPT DELIVERY DIAGNOSES SOI 3 | 546 | 3 | OTHER O.R. PROC FOR OBSTETRIC DIAGNOSES EXCEPT DELIVERY DIAGNOSES SOI 3.
M | 14 | 673 | ANTEPARTUM DIAGNOSES EXCEPT VAGINAL DELIVERY DIAGNOSIS SOI 4 | 561 | 4 | POSTPARTUM & POST ABORTION DIAGNOSES W/O PROCEDURE SOI 4.
M | 14 | 673 | ANTEPARTUM DIAGNOSES EXCEPT VAGINAL DELIVERY DIAGNOSIS SOI 4 | 563 | 4 | THREATENED ABORTION SOI 4.
M | 14 | 673 | ANTEPARTUM DIAGNOSES EXCEPT VAGINAL DELIVERY DIAGNOSIS SOI 4 | 564 | 4 | ABORTION W/O D&C, ASPIRATION CURETTAGE OR HYSTEROTOMY SOI 4.
M | 14 | 673 | ANTEPARTUM DIAGNOSES EXCEPT VAGINAL DELIVERY DIAGNOSIS SOI 4 | 565 | 4 | FALSE LABOR SOI 4.
M | 14 | 673 | ANTEPARTUM DIAGNOSES EXCEPT VAGINAL DELIVERY DIAGNOSIS SOI 4 | 566 | 4 | OTHER ANTEPARTUM DIAGNOSES SOI 4.
M | 14 | 674 | VAGINAL DELIVERY SOI 1 | 560 | 1 | VAGINAL DELIVERY SOI 1.
M | 14 | 675 | VAGINAL DELIVERY SOI 2 | 560 | 2 | VAGINAL DELIVERY SOI 2.
M | 14 | 676 | VAGINAL DELIVERY SOI 3 | 560 | 3 | VAGINAL DELIVERY SOI 3.
M | 14 | 677 | VAGINAL DELIVERY SOI 4 | 560 | 4 | VAGINAL DELIVERY SOI 4.
M | 14 | 678 | POSTPARTUM & ABORTION DIAGNOSES W/O PROCEDURE SOI 1 | 561 | 1 | POSTPARTUM & POST ABORTION DIAGNOSES W/O PROCEDURE SOI 1.
M | 14 | 678 | POSTPARTUM & ABORTION DIAGNOSES W/O PROCEDURE SOI 1 | 564 | 1 | ABORTION W/O D&C, ASPIRATION CURETTAGE OR HYSTEROTOMY SOI 1.
M | 14 | 679 | POSTPARTUM & ABORTION DIAGNOSES W/O PROCEDURE SOI 2 | 561 | 2 | POSTPARTUM & POST ABORTION DIAGNOSES W/O PROCEDURE SOI 2.
M | 14 | 679 | POSTPARTUM & ABORTION DIAGNOSES W/O PROCEDURE SOI 2 | 564 | 2 | ABORTION W/O D&C, ASPIRATION CURETTAGE OR HYSTEROTOMY SOI 2.
M | 14 | 680 | POSTPARTUM & ABORTION DIAGNOSES W/O PROCEDURE SOI 3 | 561 | 3 | POSTPARTUM & POST ABORTION DIAGNOSES W/O PROCEDURE SOI 3.
M | 14 | 680 | POSTPARTUM & ABORTION DIAGNOSES W/O PROCEDURE SOI 3 | 564 | 3 | ABORTION W/O D&C, ASPIRATION CURETTAGE OR HYSTEROTOMY SOI 3.
M | 14 | 681 | ANTEPARTUM DIAGNOSES SOI 1 | 563 | 1 | THREATENED ABORTION SOI 1.
M | 14 | 681 | ANTEPARTUM DIAGNOSES SOI 1 | 565 | 1 | FALSE LABOR SOI 1.
M | 14 | 681 | ANTEPARTUM DIAGNOSES SOI 1 | 566 | 1 | OTHER ANTEPARTUM DIAGNOSES SOI 1.
M | 14 | 682 | ANTEPARTUM DIAGNOSES SOI 2 | 563 | 2 | THREATENED ABORTION SOI 2.
M | 14 | 682 | ANTEPARTUM DIAGNOSES SOI 2 | 565 | 2 | FALSE LABOR SOI 2.
M | 14 | 682 | ANTEPARTUM DIAGNOSES SOI 2 | 566 | 2 | OTHER ANTEPARTUM DIAGNOSES SOI 2.
M | 14 | 683 | ANTEPARTUM DIAGNOSES SOI 3 | 563 | 3 | THREATENED ABORTION SOI 3.
M | 14 | 683 | ANTEPARTUM DIAGNOSES SOI 3 | 565 | 3 | FALSE LABOR SOI 3.
M | 14 | 683 | ANTEPARTUM DIAGNOSES SOI 3 | 566 | 3 | OTHER ANTEPARTUM DIAGNOSES SOI 3.
M | 15 | 684 | NEONATE, TRANSFERRED <5 DAYS OLD SOI 1 & 2 | 580 | 1 | NEONATE, TRANSFERRED <5 DAYS OLD, NOT BORN HERE SOI 1.
M | 15 | 684 | NEONATE, TRANSFERRED <5 DAYS OLD SOI 1 & 2 | 580 | 2 | NEONATE, TRANSFERRED <5 DAYS OLD, NOT BORN HERE SOI 2.
M | 15 | 684 | NEONATE, TRANSFERRED <5 DAYS OLD SOI 1 & 2 | 581 | 1 | NEONATE, TRANSFERRED <5 DAYS OLD, BORN HERE SOI 1.
M | 15 | 684 | NEONATE, TRANSFERRED <5 DAYS OLD SOI 1 & 2 | 581 | 2 | NEONATE, TRANSFERRED <5 DAYS OLD, BORN HERE SOI 2.
M | 15 | 685 | NEONATE, TRANSFERRED <5 DAYS OLD SOI 3 & 4 | 580 | 3 | NEONATE, TRANSFERRED <5 DAYS OLD, NOT BORN HERE SOI 3.
M | 15 | 685 | NEONATE, TRANSFERRED <5 DAYS OLD SOI 3 & 4 | 580 | 4 | NEONATE, TRANSFERRED <5 DAYS OLD, NOT BORN HERE SOI 4.
M | 15 | 685 | NEONATE, TRANSFERRED <5 DAYS OLD SOI 3 & 4 | 581 | 3 | NEONATE, TRANSFERRED <5 DAYS OLD, BORN HERE SOI 3.
M | 15 | 685 | NEONATE, TRANSFERRED <5 DAYS OLD SOI 3 & 4 | 581 | 4 | NEONATE, TRANSFERRED <5 DAYS OLD, BORN HERE SOI 4.
M | 15 | 686 | EXTREME IMMATURITY OR RESPIRATORY DISTRESS SYNDROME, NEONATE SOI 1 & 2 | 583 | 1 | NEONATE W ECMO SOI 1.
M | 15 | 686 | EXTREME IMMATURITY OR RESPIRATORY DISTRESS SYNDROME, NEONATE SOI 1 & 2 | 583 | 2 | NEONATE W ECMO SOI 2.
M | 15 | 686 | EXTREME IMMATURITY OR RESPIRATORY DISTRESS SYNDROME, NEONATE SOI 1 & 2 | 588 | 1 | NEONATE BWT <1500G W MAJOR PROCEDURE SOI 1.
M | 15 | 686 | EXTREME IMMATURITY OR RESPIRATORY DISTRESS SYNDROME, NEONATE SOI 1 & 2 | 588 | 2 | NEONATE BWT <1500G W MAJOR PROCEDURE SOI 2.
M | 15 | 686 | EXTREME IMMATURITY OR RESPIRATORY DISTRESS SYNDROME, NEONATE SOI 1 & 2 | 589 | 1 | NEONATE BWT <500G SOI 1.
M | 15 | 686 | EXTREME IMMATURITY OR RESPIRATORY DISTRESS SYNDROME, NEONATE SOI 1 & 2 | 589 | 2 | NEONATE BWT <500G SOI 2.
M | 15 | 686 | EXTREME IMMATURITY OR RESPIRATORY DISTRESS SYNDROME, NEONATE SOI 1 & 2 | 591 | 1 | NEONATE BIRTHWT 500-749G W/O MAJOR PROCEDURE SOI 1.
M | 15 | 686 | EXTREME IMMATURITY OR RESPIRATORY DISTRESS SYNDROME, NEONATE SOI 1 & 2 | 591 | 2 | NEONATE BIRTHWT 500-749G W/O MAJOR PROCEDURE SOI 2.
M | 15 | 686 | EXTREME IMMATURITY OR RESPIRATORY DISTRESS SYNDROME, NEONATE SOI 1 & 2 | 593 | 1 | NEONATE BIRTHWT 750-999G W/O MAJOR PROCEDURE SOI 1.
M | 15 | 686 | EXTREME IMMATURITY OR RESPIRATORY DISTRESS SYNDROME, NEONATE SOI 1 & 2 | 593 | 2 | NEONATE BIRTHWT 750-999G W/O MAJOR PROCEDURE SOI 2.
M | 15 | 687 | EXTREME IMMATURITY OR RESPIRATORY DISTRESS SYNDROME, NEONATE SOI 3 & 4 | 583 | 3 | NEONATE W ECMO SOI 3.
M | 15 | 687 | EXTREME IMMATURITY OR RESPIRATORY DISTRESS SYNDROME, NEONATE SOI 3 & 4 | 583 | 4 | NEONATE W ECMO SOI 4.
M | 15 | 687 | EXTREME IMMATURITY OR RESPIRATORY DISTRESS SYNDROME, NEONATE SOI 3 & 4 | 588 | 3 | NEONATE BWT <1500G W MAJOR PROCEDURE SOI 3.
M | 15 | 687 | EXTREME IMMATURITY OR RESPIRATORY DISTRESS SYNDROME, NEONATE SOI 3 & 4 | 588 | 4 | NEONATE BWT <1500G W MAJOR PROCEDURE SOI 4.
M | 15 | 687 | EXTREME IMMATURITY OR RESPIRATORY DISTRESS SYNDROME, NEONATE SOI 3 & 4 | 589 | 3 | NEONATE BWT <500G SOI 3.
M | 15 | 687 | EXTREME IMMATURITY OR RESPIRATORY DISTRESS SYNDROME, NEONATE SOI 3 & 4 | 589 | 4 | NEONATE BWT <500G SOI 4.
M | 15 | 687 | EXTREME IMMATURITY OR RESPIRATORY DISTRESS SYNDROME, NEONATE SOI 3 & 4 | 591 | 3 | NEONATE BIRTHWT 500-749G W/O MAJOR PROCEDURE SOI 3.
M | 15 | 687 | EXTREME IMMATURITY OR RESPIRATORY DISTRESS SYNDROME, NEONATE SOI 3 & 4 | 591 | 4 | NEONATE BIRTHWT 500-749G W/O MAJOR PROCEDURE SOI 4.
M | 15 | 687 | EXTREME IMMATURITY OR RESPIRATORY DISTRESS SYNDROME, NEONATE SOI 3 & 4 | 593 | 3 | NEONATE BIRTHWT 750-999G W/O MAJOR PROCEDURE SOI 3.
M | 15 | 687 | EXTREME IMMATURITY OR RESPIRATORY DISTRESS SYNDROME, NEONATE SOI 3 & 4 | 593 | 4 | NEONATE BIRTHWT 750-999G W/O MAJOR PROCEDURE SOI 4.
M | 15 | 688 | PREMAUTRITY WITH MAJOR PROBLEMS SOI 1 & 2 | 602 | 1 | NEONATE BWT 1000-1249G W RESP DIST SYND/OTH MAJ RESP OR MAJ ANOM SOI 1.
M | 15 | 688 | PREMAUTRITY WITH MAJOR PROBLEMS SOI 1 & 2 | 602 | 2 | NEONATE BWT 1000-1249G W RESP DIST SYND/OTH MAJ RESP OR MAJ ANOM SOI 2.
M | 15 | 688 | PREMAUTRITY WITH MAJOR PROBLEMS SOI 1 & 2 | 607 | 1 | NEONATE BWT 1250-1499G W RESP DIST SYND/OTH MAJ RESP OR MAJ ANOM SOI 1.
M | 15 | 688 | PREMAUTRITY WITH MAJOR PROBLEMS SOI 1 & 2 | 607 | 2 | NEONATE BWT 1250-1499G W RESP DIST SYND/OTH MAJ RESP OR MAJ ANOM SOI 2.
M | 15 | 688 | PREMAUTRITY WITH MAJOR PROBLEMS SOI 1 & 2 | 609 | 1 | NEONATE BWT 1500-2499G W MAJOR PROCEDURE SOI 1.
M | 15 | 688 | PREMAUTRITY WITH MAJOR PROBLEMS SOI 1 & 2 | 609 | 2 | NEONATE BWT 1500-2499G W MAJOR PROCEDURE SOI 2.
M | 15 | 688 | PREMAUTRITY WITH MAJOR PROBLEMS SOI 1 & 2 | 611 | 1 | NEONATE BIRTHWT 1500-1999G W MAJOR ANOMALY SOI 1.
M | 15 | 688 | PREMAUTRITY WITH MAJOR PROBLEMS SOI 1 & 2 | 611 | 2 | NEONATE BIRTHWT 1500-1999G W MAJOR ANOMALY SOI 2.
M | 15 | 688 | PREMAUTRITY WITH MAJOR PROBLEMS SOI 1 & 2 | 612 | 1 | NEONATE BWT 1500-1999G W RESP DIST SYND/OTH MAJ RESP COND SOI 1.
M | 15 | 688 | PREMAUTRITY WITH MAJOR PROBLEMS SOI 1 amp; 2 | 612 | 2 | NEONATE BWT 1500-1999G W RESP DIST SYND/OTH MAJ RESP COND SOI 2.
M | 15 | 688 | PREMAUTRITY WITH MAJOR PROBLEMS SOI 1 & 2 | 613 | 1 | NEONATE BIRTHWT 1500-1999G W CONGENITAL/PERINATAL INFECTION SOI 1.
M | 15 | 688 | PREMAUTRITY WITH MAJOR PROBLEMS SOI 1 & 2 | 613 | 2 | NEONATE BIRTHWT 1500-1999G W CONGENITAL/PERINATAL INFECTION SOI 2.
M | 15 | 688 | PREMAUTRITY WITH MAJOR PROBLEMS SOI 1 & 2 | 621 | 1 | NEONATE BWT 2000-2499G W MAJOR ANOMALY SOI 1.
M | 15 | 688 | PREMAUTRITY WITH MAJOR PROBLEMS SOI 1 & 2 | 621 | 2 | NEONATE BWT 2000-2499G W MAJOR ANOMALY SOI 2.
M | 15 | 688 | PREMAUTRITY WITH MAJOR PROBLEMS SOI 1 & 2 | 622 | 1 | NEONATE BWT 2000-2499G W RESP DIST SYND/OTH MAJ RESP COND SOI 1.
M | 15 | 688 | PREMAUTRITY WITH MAJOR PROBLEMS SOI 1 & 2 | 622 | 2 | NEONATE BWT 2000-2499G W RESP DIST SYND/OTH MAJ RESP COND SOI 2.
M | 15 | 688 | PREMAUTRITY WITH MAJOR PROBLEMS SOI 1 & 2 | 623 | 1 | NEONATE BWT 2000-2499G W CONGENITAL/PERINATAL INFECTION SOI 1.
M | 15 | 688 | PREMAUTRITY WITH MAJOR PROBLEMS SOI 1 & 2 | 623 | 2 | NEONATE BWT 2000-2499G W CONGENITAL/PERINATAL INFECTION SOI 2.
M | 15 | 689 | PREMAUTRITY WITH MAJOR PROBLEMS SOI 3 & 4 | 602 | 3 | NEONATE BWT 1000-1249G W RESP DIST SYND/OTH MAJ RESP OR MAJ ANOM SOI 3.
M | 15 | 689 | PREMAUTRITY WITH MAJOR PROBLEMS SOI 3 & 4 | 602 | 4 | NEONATE BWT 1000-1249G W RESP DIST SYND/OTH MAJ RESP OR MAJ ANOM SOI 4.
M | 15 | 689 | PREMAUTRITY WITH MAJOR PROBLEMS SOI 3 & 4 | 607 | 3 | NEONATE BWT 1250-1499G W RESP DIST SYND/OTH MAJ RESP OR MAJ ANOM SOI 3.
M | 15 | 689 | PREMAUTRITY WITH MAJOR PROBLEMS SOI 3 & 4 | 607 | 4 | NEONATE BWT 1250-1499G W RESP DIST SYND/OTH MAJ RESP OR MAJ ANOM SOI 4.
M | 15 | 689 | PREMAUTRITY WITH MAJOR PROBLEMS SOI 3 & 4 | 609 | 3 | NEONATE BWT 1500-2499G W MAJOR PROCEDURE SOI 3.
M | 15 | 689 | PREMAUTRITY WITH MAJOR PROBLEMS SOI 3 & 4 | 609 | 4 | NEONATE BWT 1500-2499G W MAJOR PROCEDURE SOI 4.
M | 15 | 689 | PREMAUTRITY WITH MAJOR PROBLEMS SOI 3 & 4 | 611 | 3 | NEONATE BIRTHWT 1500-1999G W MAJOR ANOMALY SOI 3.
M | 15 | 689 | PREMAUTRITY WITH MAJOR PROBLEMS SOI 3 & 4 | 611 | 4 | NEONATE BIRTHWT 1500-1999G W MAJOR ANOMALY SOI 4.
M | 15 | 689 | PREMAUTRITY WITH MAJOR PROBLEMS SOI 3 & 4 | 612 | 3 | NEONATE BWT 1500-1999G W RESP DIST SYND/OTH MAJ RESP COND SOI 3.
M | 15 | 689 | PREMAUTRITY WITH MAJOR PROBLEMS SOI 3 & 4 | 612 | 4 | NEONATE BWT 1500-1999G W RESP DIST SYND/OTH MAJ RESP COND SOI 4.
M | 15 | 689 | PREMAUTRITY WITH MAJOR PROBLEMS SOI 3 & 4 | 613 | 3 | NEONATE BIRTHWT 1500-1999G W CONGENITAL/PERINATAL INFECTION SOI 3.
M | 15 | 689 | PREMAUTRITY WITH MAJOR PROBLEMS SOI 3 & 4 | 613 | 4 | NEONATE BIRTHWT 1500-1999G W CONGENITAL/PERINATAL INFECTION SOI 4.
M | 15 | 689 | PREMAUTRITY WITH MAJOR PROBLEMS SOI 3 & 4 | 621 | 3 | NEONATE BWT 2000-2499G W MAJOR ANOMALY SOI 3.
M | 15 | 689 | PREMAUTRITY WITH MAJOR PROBLEMS SOI 3 & 4 | 621 | 4 | NEONATE BWT 2000-2499G W MAJOR ANOMALY SOI 4.
M | 15 | 689 | PREMAUTRITY WITH MAJOR PROBLEMS SOI 3 & 4 | 622 | 3 | NEONATE BWT 2000-2499G W RESP DIST SYND/OTH MAJ RESP COND SOI 3.
M | 15 | 689 | PREMAUTRITY WITH MAJOR PROBLEMS SOI 3 & 4 | 622 | 4 | NEONATE BWT 2000-2499G W RESP DIST SYND/OTH MAJ RESP COND SOI 4.
M | 15 | 689 | PREMAUTRITY WITH MAJOR PROBLEMS SOI 3 & 4 | 623 | 3 | NEONATE BWT 2000-2499G W CONGENITAL/PERINATAL INFECTION SOI 3.
M | 15 | 689 | PREMAUTRITY WITH MAJOR PROBLEMS SOI 3 & 4 | 623 | 4 | NEONATE BWT 2000-2499G W CONGENITAL/PERINATAL INFECTION SOI 4.
M | 15 | 690 | PREMAUTRITY WITHOUT MAJOR PROBLEMS SOI 1 & 2 | 603 | 1 | NEONATE BIRTHWT 1000-1249G W OR W/O OTHER SIGNIFICANT CONDITION SOI 1.
M | 15 | 690 | PREMAUTRITY WITHOUT MAJOR PROBLEMS SOI 1 & 2 | 603 | 2 | NEONATE BIRTHWT 1000-1249G W OR W/O OTHER SIGNIFICANT CONDITION SOI 2.
M | 15 | 690 | PREMAUTRITY WITHOUT MAJOR PROBLEMS SOI 1 & 2 | 608 | 1 | NEONATE BWT 1250-1499G W OR W/O OTHER SIGNIFICANT CONDITION SOI 1.
M | 15 | 690 | PREMAUTRITY WITHOUT MAJOR PROBLEMS SOI 1 & 2 | 608 | 2 | NEONATE BWT 1250-1499G W OR W/O OTHER SIGNIFICANT CONDITION SOI 2.
M | 15 | 690 | PREMAUTRITY WITHOUT MAJOR PROBLEMS SOI 1 & 2 | 614 | 1 | NEONATE BWT 1500-1999G W OR W/O OTHER SIGNIFICANT CONDITION SOI 1.
M | 15 | 690 | PREMAUTRITY WITHOUT MAJOR PROBLEMS SOI 1 & 2 | 614 | 2 | NEONATE BWT 1500-1999G W OR W/O OTHER SIGNIFICANT CONDITION SOI 2.
M | 15 | 690 | PREMAUTRITY WITHOUT MAJOR PROBLEMS SOI 1 & 2 | 625 | 1 | NEONATE BWT 2000-2499G W OTHER SIGNIFICANT CONDITION SOI 1.
M | 15 | 690 | PREMAUTRITY WITHOUT MAJOR PROBLEMS SOI 1 & 2 | 625 | 2 | NEONATE BWT 2000-2499G W OTHER SIGNIFICANT CONDITION SOI 2.
M | 15 | 691 | PREMAUTRITY WITHOUT MAJOR PROBLEMS SOI 3 & 4 | 603 | 3 | NEONATE BIRTHWT 1000-1249G W OR W/O OTHER SIGNIFICANT CONDITION SOI 3.
M | 15 | 691 | PREMAUTRITY WITHOUT MAJOR PROBLEMS SOI 3 & 4 | 603 | 4 | NEONATE BIRTHWT 1000-1249G W OR W/O OTHER SIGNIFICANT CONDITION SOI 4.
M | 15 | 691 | PREMAUTRITY WITHOUT MAJOR PROBLEMS SOI 3 & 4 | 608 | 3 | NEONATE BWT 1250-1499G W OR W/O OTHER SIGNIFICANT CONDITION SOI 3.
M | 15 | 691 | PREMAUTRITY WITHOUT MAJOR PROBLEMS SOI 3 & 4 | 608 | 4 | NEONATE BWT 1250-1499G W OR W/O OTHER SIGNIFICANT CONDITION SOI 4.
M | 15 | 691 | PREMAUTRITY WITHOUT MAJOR PROBLEMS SOI 3 & 4 | 614 | 3 | NEONATE BWT 1500-1999G W OR W/O OTHER SIGNIFICANT CONDITION SOI 3.
M | 15 | 691 | PREMAUTRITY WITHOUT MAJOR PROBLEMS SOI 3 & 4 | 614 | 4 | NEONATE BWT 1500-1999G W OR W/O OTHER SIGNIFICANT CONDITION SOI 4.
M | 15 | 691 | PREMAUTRITY WITHOUT MAJOR PROBLEMS SOI 3 & 4 | 625 | 3 | NEONATE BWT 2000-2499G W OTHER SIGNIFICANT CONDITION SOI 3.
M | 15 | 691 | PREMAUTRITY WITHOUT MAJOR PROBLEMS SOI 3 & 4 | 625 | 4 | NEONATE BWT 2000-2499G W OTHER SIGNIFICANT CONDITION SOI 4.
M | 15 | 692 | FULL TERM NEONATE WITH MAJOR PROBLEMS SOI 1 & 2 | 630 | 1 | NEONATE BIRTHWT >2499G W MAJOR CARDIOVASCULAR PROCEDURE SOI 1.
M | 15 | 692 | FULL TERM NEONATE WITH MAJOR PROBLEMS SOI 1 & 2 | 630 | 2 | NEONATE BIRTHWT >2499G W MAJOR CARDIOVASCULAR PROCEDURE SOI 2.
M | 15 | 692 | FULL TERM NEONATE WITH MAJOR PROBLEMS SOI 1 & 2 | 631 | 1 | NEONATE BIRTHWT >2499G W OTHER MAJOR PROCEDURE SOI 1.
M | 15 | 692 | FULL TERM NEONATE WITH MAJOR PROBLEMS SOI 1 & 2 | 631 | 2 | NEONATE BIRTHWT >2499G W OTHER MAJOR PROCEDURE SOI 2.
M | 15 | 692 | FULL TERM NEONATE WITH MAJOR PROBLEMS SOI 1 & 2 | 633 | 1 | NEONATE BIRTHWT >2499G W MAJOR ANOMALY SOI 1.
M | 15 | 692 | FULL TERM NEONATE WITH MAJOR PROBLEMS SOI 1 & 2 | 633 | 2 | NEONATE BIRTHWT >2499G W MAJOR ANOMALY SOI 2.
M | 15 | 692 | FULL TERM NEONATE WITH MAJOR PROBLEMS SOI 1 & 2 | 634 | 1 | NEONATE, BIRTHWT >2499G W RESP DIST SYND/OTH MAJ RESP COND SOI 1.
M | 15 | 692 | FULL TERM NEONATE WITH MAJOR PROBLEMS SOI 1 & 2 | 634 | 2 | NEONATE, BIRTHWT >2499G W RESP DIST SYND/OTH MAJ RESP COND SOI 2.
M | 15 | 692 | FULL TERM NEONATE WITH MAJOR PROBLEMS SOI 1 & 2 | 636 | 1 | NEONATE BIRTHWT >2499G W CONGENITAL/PERINATAL INFECTION SOI 1.
M | 15 | 692 | FULL TERM NEONATE WITH MAJOR PROBLEMS SOI 1 & 2 | 636 | 2 | NEONATE BIRTHWT >2499G W CONGENITAL/PERINATAL INFECTION SOI 2.
M | 15 | 693 | FULL TERM NEONATE WITH MAJOR PROBLEMS SOI 3 & 4 | 630 | 3 | NEONATE BIRTHWT >2499G W MAJOR CARDIOVASCULAR PROCEDURE SOI 3.
M | 15 | 693 | FULL TERM NEONATE WITH MAJOR PROBLEMS SOI 3 & 4 | 630 | 4 | NEONATE BIRTHWT >2499G W MAJOR CARDIOVASCULAR PROCEDURE SOI 4.
M | 15 | 693 | FULL TERM NEONATE WITH MAJOR PROBLEMS SOI 3 & 4 | 631 | 3 | NEONATE BIRTHWT >2499G W OTHER MAJOR PROCEDURE SOI 3.
M | 15 | 693 | FULL TERM NEONATE WITH MAJOR PROBLEMS SOI 3 & 4 | 631 | 4 | NEONATE BIRTHWT >2499G W OTHER MAJOR PROCEDURE SOI 4.
M | 15 | 693 | FULL TERM NEONATE WITH MAJOR PROBLEMS SOI 3 & 4 | 633 | 3 | NEONATE BIRTHWT >2499G W MAJOR ANOMALY SOI 3.
M | 15 | 693 | FULL TERM NEONATE WITH MAJOR PROBLEMS SOI 3 & 4 | 633 | 4 | NEONATE BIRTHWT >2499G W MAJOR ANOMALY SOI 4.
M | 15 | 693 | FULL TERM NEONATE WITH MAJOR PROBLEMS SOI 3 & 4 | 634 | 3 | NEONATE, BIRTHWT >2499G W RESP DIST SYND/OTH MAJ RESP COND SOI 3.
M | 15 | 693 | FULL TERM NEONATE WITH MAJOR PROBLEMS SOI 3 & 4 | 634 | 4 | NEONATE, BIRTHWT >2499G W RESP DIST SYND/OTH MAJ RESP COND SOI 4.
M | 15 | 693 | FULL TERM NEONATE WITH MAJOR PROBLEMS SOI 3 & 4 | 636 | 3 | NEONATE BIRTHWT >2499G W CONGENITAL/PERINATAL INFECTION SOI 3.
M | 15 | 693 | FULL TERM NEONATE WITH MAJOR PROBLEMS SOI 3 & 4 | 636 | 4 | NEONATE BIRTHWT >2499G W CONGENITAL/PERINATAL INFECTION SOI 4.
M | 15 | 694 | NEONATE WITH OTHER SIGNIFICANT PROBLEMS SOI 1 & 2 | 639 | 1 | NEONATE BIRTHWT >2499G W OTHER SIGNIFICANT CONDITION SOI 1.
M | 15 | 694 | NEONATE WITH OTHER SIGNIFICANT PROBLEMS SOI 1 & 2 | 639 | 2 | NEONATE BIRTHWT >2499G W OTHER SIGNIFICANT CONDITION SOI 2.
M | 15 | 695 | NEONATE WITH OTHER SIGNIFICANT PROBLEMS SOI 3 & 4 | 639 | 3 | NEONATE BIRTHWT >2499G W OTHER SIGNIFICANT CONDITION SOI 3.
M | 15 | 695 | NEONATE WITH OTHER SIGNIFICANT PROBLEMS SOI 3 & 4 | 639 | 4 | NEONATE BIRTHWT >2499G W OTHER SIGNIFICANT CONDITION SOI 4.
M | 15 | 696 | NEONATE >2,000 GRAMS WITHOUT SIGNIFICANT PROBLEMS SOI 1 & 2 | 626 | 1 | NEONATE BWT 2000-2499G, NORMAL NEWBORN OR NEONATE W OTHER PROBLEM SOI 1.
M | 15 | 696 | NEONATE >2,000 GRAMS WITHOUT SIGNIFICANT PROBLEMS SOI 1 & 2 | 626 | 2 | NEONATE BWT 2000-2499G, NORMAL NEWBORN OR NEONATE W OTHER PROBLEM SOI 2.
M | 15 | 696 | NEONATE >2,000 GRAMS WITHOUT SIGNIFICANT PROBLEMS SOI 1 & 2 | 640 | 1 | NEONATE BIRTHWT >2499G, NORMAL NEWBORN OR NEONATE W OTHER PROBLEM SOI 1.
M | 15 | 696 | NEONATE >2,000 GRAMS WITHOUT SIGNIFICANT PROBLEMS SOI 1 & 2 | 640 | 2 | NEONATE BIRTHWT >2499G, NORMAL NEWBORN OR NEONATE W OTHER PROBLEM SOI 2.
M | 15 | 697 | NEONATE >2,000 GRAMS WITHOUT SIGNIFICANT PROBLEMS SOI 3 & 4 | 626 | 3 | NEONATE BWT 2000-2499G, NORMAL NEWBORN OR NEONATE W OTHER PROBLEM SOI 3.
M | 15 | 697 | NEONATE >2,000 GRAMS WITHOUT SIGNIFICANT PROBLEMS SOI 3 & 4 | 626 | 4 | NEONATE BWT 2000-2499G, NORMAL NEWBORN OR NEONATE W OTHER PROBLEM SOI 4.
M | 15 | 697 | NEONATE >2,000 GRAMS WITHOUT SIGNIFICANT PROBLEMS SOI 3 & 4 | 640 | 3 | NEONATE BIRTHWT >2499G, NORMAL NEWBORN OR NEONATE W OTHER PROBLEM SOI 3.
M | 15 | 697 | NEONATE >2,000 GRAMS WITHOUT SIGNIFICANT PROBLEMS SOI 3 & 4 | 640 | 4 | NEONATE BIRTHWT >2499G, NORMAL NEWBORN OR NEONATE W OTHER PROBLEM SOI 4.
S | 16 | 698 | PROCEDURES OF BLOOD & BLOOD-FORMING ORGANS SOI 4 | 650 | 4 | SPLENECTOMY SOI 4.
S | 16 | 698 | PROCEDURES OF BLOOD & BLOOD-FORMING ORGANS SOI 4 | 651 | 4 | OTHER PROCEDURES OF BLOOD & BLOOD-FORMING ORGANS SOI 4.
S | 16 | 699 | SPLENECTOMY SOI 1 | 650 | 1 | SPLENECTOMY SOI 1.
S | 16 | 700 | SPLENECTOMY SOI 2 | 650 | 2 | SPLENECTOMY SOI 2.
S | 16 | 701 | SPLENECTOMY SOI 3 | 650 | 3 | SPLENECTOMY SOI 3.
S | 16 | 702 | OTHER PROCEDURES OF BLOOD & BLOOD-FORMING ORGANS SOI 1 | 651 | 1 | OTHER PROCEDURES OF BLOOD & BLOOD-FORMING ORGANS SOI 1.
S | 16 | 703 | OTHER PROCEDURES OF BLOOD & BLOOD-FORMING ORGANS SOI 2 | 651 | 2 | OTHER PROCEDURES OF BLOOD & BLOOD-FORMING ORGANS SOI 2.
S | 16 | 704 | OTHER PROCEDURES OF BLOOD & BLOOD-FORMING ORGANS SOI 3 | 651 | 3 | OTHER PROCEDURES OF BLOOD & BLOOD-FORMING ORGANS SOI 3.
M | 16 | 705 | ANEMIA & DIAGNOSES OF BLOOD & BLOOD-FORMING ORGANS SOI 4 | 660 | 4 | MAJOR HEMATOLOGIC/IMMUNOLOGIC DIAG EXC SICKLE CELL CRISIS & COAGUL SOI 4.
M | 16 | 705 | ANEMIA & DIAGNOSES OF BLOOD & BLOOD-FORMING ORGANS SOI 4 | 661 | 4 | COAGULATION & PLATELET DISORDERS SOI 4.
M | 16 | 705 | ANEMIA & DIAGNOSES OF BLOOD & BLOOD-FORMING ORGANS SOI 4 | 662 | 4 | SICKLE CELL ANEMIA CRISIS SOI 4.
M | 16 | 705 | ANEMIA & DIAGNOSES OF BLOOD & BLOOD-FORMING ORGANS SOI 4 | 663 | 4 | OTHER ANEMIA & DISORDERS OF BLOOD & BLOOD-FORMING ORGANS SOI 4.
M | 16 | 706 | MAJOR HEMATOLOGIC/IMMUNOLOGIC DIAG EXC SICKLE CELL CRISIS & COAGUL SOI 1 | 660 | 1 | MAJOR HEMATOLOGIC/IMMUNOLOGIC DIAG EXC SICKLE CELL CRISIS & COAGUL SOI 1.
M | 16 | 707 | MAJOR HEMATOLOGIC/IMMUNOLOGIC DIAG EXC SICKLE CELL CRISIS & COAGUL SOI 2 | 660 | 2 | MAJOR HEMATOLOGIC/IMMUNOLOGIC DIAG EXC SICKLE CELL CRISIS & COAGUL SOI 2.
M | 16 | 708 | MAJOR HEMATOLOGIC/IMMUNOLOGIC DIAG EXC SICKLE CELL CRISIS & COAGUL SOI 3 | 660 | 3 | MAJOR HEMATOLOGIC/IMMUNOLOGIC DIAG EXC SICKLE CELL CRISIS & COAGUL SOI 3.
M | 16 | 709 | COAGULATION & PLATELET DISORDERS SOI 1 | 661 | 1 | COAGULATION & PLATELET DISORDERS SOI 1.
M | 16 | 710 | COAGULATION & PLATELET DISORDERS SOI 2 | 661 | 2 | COAGULATION & PLATELET DISORDERS SOI 2.
M | 16 | 711 | COAGULATION & PLATELET DISORDERS SOI 3 | 661 | 3 | COAGULATION & PLATELET DISORDERS SOI 3.
M | 16 | 712 | SICKLE CELL ANEMIA CRISIS SOI 1 | 662 | 1 | SICKLE CELL ANEMIA CRISIS SOI 1.
M | 16 | 713 | SICKLE CELL ANEMIA CRISIS SOI 2 | 662 | 2 | SICKLE CELL ANEMIA CRISIS SOI 2.
M | 16 | 714 | SICKLE CELL ANEMIA CRISIS SOI 3 | 662 | 3 | SICKLE CELL ANEMIA CRISIS SOI 3.
M | 16 | 715 | OTHER ANEMIA & DISORDERS OF BLOOD & BLOOD-FORMING ORGANS SOI 1 | 663 | 1 | OTHER ANEMIA & DISORDERS OF BLOOD & BLOOD-FORMING ORGANS SOI 1.
M | 16 | 716 | OTHER ANEMIA & DISORDERS OF BLOOD & BLOOD-FORMING ORGANS SOI 2 | 663 | 2 | OTHER ANEMIA & DISORDERS OF BLOOD & BLOOD-FORMING ORGANS SOI 2.
M | 16 | 717 | OTHER ANEMIA & DISORDERS OF BLOOD & BLOOD-FORMING ORGANS SOI 3 | 663 | 3 | OTHER ANEMIA & DISORDERS OF BLOOD & BLOOD-FORMING ORGANS SOI 3.
S | 17 | 718 | PROCEDURES FOR LYMPHATIC/HEMATOPOIETIC/OTHER NEOPLASMS SOI 4 | 680 | 4 | MAJOR O.R. PROCEDURES FOR LYMPHATIC/HEMATOPOIETIC/OTHER NEOPLASMS SOI 4.
S | 17 | 718 | PROCEDURES FOR LYMPHATIC/HEMATOPOIETIC/OTHER NEOPLASMS SOI 4 | 681 | 4 | OTHER O.R. PROCEDURES FOR LYMPHATIC/HEMATOPOIETIC/OTHER NEOPLASMS SOI 4.
S | 17 | 719 | MAJOR O.R. PROCEDURES FOR LYMPHATIC/HEMATOPOIETIC/OTHER NEOPLASMS SOI 1 | 680 | 1 | MAJOR O.R. PROCEDURES FOR LYMPHATIC/HEMATOPOIETIC/OTHER NEOPLASMS SOI 1.
S | 17 | 720 | MAJOR O.R. PROCEDURES FOR LYMPHATIC/HEMATOPOIETIC/OTHER NEOPLASMS SOI 2 | 680 | 2 | MAJOR O.R. PROCEDURES FOR LYMPHATIC/HEMATOPOIETIC/OTHER NEOPLASMS SOI 2.
S | 17 | 721 | MAJOR O.R. PROCEDURES FOR LYMPHATIC/HEMATOPOIETIC/OTHER NEOPLASMS SOI 3 | 680 | 3 | MAJOR O.R. PROCEDURES FOR LYMPHATIC/HEMATOPOIETIC/OTHER NEOPLASMS SOI 3.
S | 17 | 722 | OTHER O.R. PROCEDURES FOR LYMPHATIC/HEMATOPOIETIC/OTHER NEOPLASMS SOI 1 | 681 | 1 | OTHER O.R. PROCEDURES FOR LYMPHATIC/HEMATOPOIETIC/OTHER NEOPLASMS SOI 1.
S | 17 | 723 | OTHER O.R. PROCEDURES FOR LYMPHATIC/HEMATOPOIETIC/OTHER NEOPLASMS SOI 2 | 681 | 2 | OTHER O.R. PROCEDURES FOR LYMPHATIC/HEMATOPOIETIC/OTHER NEOPLASMS SOI 2.
S | 17 | 724 | OTHER O.R. PROCEDURES FOR LYMPHATIC/HEMATOPOIETIC/OTHER NEOPLASMS SOI 3 | 681 | 3 | OTHER O.R. PROCEDURES FOR LYMPHATIC/HEMATOPOIETIC/OTHER NEOPLASMS SOI 3.
M | 17 | 725 | LEUKEMIA, LYMPHOMA, MYELOMA, CHEMOTHERAPY, AND RADIOTHERAPY SOI 4 | 690 | 4 | ACUTE LEUKEMIA SOI 4.
M | 17 | 725 | LEUKEMIA, LYMPHOMA, MYELOMA, CHEMOTHERAPY, AND RADIOTHERAPY SOI 4 | 691 | 4 | LYMPHOMA, MYELOMA & NON-ACUTE LEUKEMIA SOI 4.
M | 17 | 725 | LEUKEMIA, LYMPHOMA, MYELOMA, CHEMOTHERAPY, AND RADIOTHERAPY SOI 4 | 692 | 4 | RADIOTHERAPY SOI 4.
M | 17 | 725 | LEUKEMIA, LYMPHOMA, MYELOMA, CHEMOTHERAPY, AND RADIOTHERAPY SOI 4 | 693 | 4 | CHEMOTHERAPY SOI 4.
M | 17 | 726 | ACUTE LEUKEMIA SOI 1 | 690 | 1 | ACUTE LEUKEMIA SOI 1.
M | 17 | 727 | ACUTE LEUKEMIA SOI 2 | 690 | 2 | ACUTE LEUKEMIA SOI 2.
M | 17 | 728 | ACUTE LEUKEMIA SOI 3 | 690 | 3 | ACUTE LEUKEMIA SOI 3.
M | 17 | 729 | LYMPHOMA, MYELOMA & NON-ACUTE LEUKEMIA SOI 1 | 691 | 1 | LYMPHOMA, MYELOMA & NON-ACUTE LEUKEMIA SOI 1.
M | 17 | 730 | LYMPHOMA, MYELOMA & NON-ACUTE LEUKEMIA SOI 2 | 691 | 2 | LYMPHOMA, MYELOMA & NON-ACUTE LEUKEMIA SOI 2.
M | 17 | 731 | LYMPHOMA, MYELOMA & NON-ACUTE LEUKEMIA SOI 3 | 691 | 3 | LYMPHOMA, MYELOMA & NON-ACUTE LEUKEMIA SOI 3.
M | 17 | 732 | RADIOTHERAPY SOI 1 | 692 | 1 | RADIOTHERAPY SOI 1.
M | 17 | 733 | RADIOTHERAPY SOI 2 | 692 | 2 | RADIOTHERAPY SOI 2.
M | 17 | 734 | RADIOTHERAPY SOI 3 | 692 | 3 | RADIOTHERAPY SOI 3.
M | 17 | 735 | CHEMOTHERAPY SOI 1 | 693 | 1 | CHEMOTHERAPY SOI 1.
M | 17 | 736 | CHEMOTHERAPY SOI 2 | 693 | 2 | CHEMOTHERAPY SOI 2.
M | 17 | 737 | CHEMOTHERAPY SOI 3 | 693 | 3 | CHEMOTHERAPY SOI 3.
M | 17 | 738 | LYMPHATIC & OTHER MALIGNANCIES & NEOPLASMS OF UNCERTAIN BEHAVIOR SOI 1 | 694 | 1 | LYMPHATIC & OTHER MALIGNANCIES & NEOPLASMS OF UNCERTAIN BEHAVIOR SOI 1.
M | 17 | 739 | LYMPHATIC & OTHER MALIGNANCIES & NEOPLASMS OF UNCERTAIN BEHAVIOR SOI 2 | 694 | 2 | LYMPHATIC & OTHER MALIGNANCIES & NEOPLASMS OF UNCERTAIN BEHAVIOR SOI 2.
M | 17 | 740 | LYMPHATIC & OTHER MALIGNANCIES & NEOPLASMS OF UNCERTAIN BEHAVIOR SOI 3 | 694 | 3 | LYMPHATIC & OTHER MALIGNANCIES & NEOPLASMS OF UNCERTAIN BEHAVIOR SOI 3.
M | 17 | 741 | LYMPHATIC & OTHER MALIGNANCIES & NEOPLASMS OF UNCERTAIN BEHAVIOR SOI 4 | 694 | 4 | LYMPHATIC & OTHER MALIGNANCIES & NEOPLASMS OF UNCERTAIN BEHAVIOR SOI 4.
S | 18 | 742 | INFECTIOUS & PARASITIC DISEASES W O.R. PROCEDURE SOI 4 | 710 | 4 | INFECTIOUS & PARASITIC DISEASES INCLUDING HIV W O.R. PROCEDURE SOI 4.
S | 18 | 742 | INFECTIOUS & PARASITIC DISEASES W O.R. PROCEDURE SOI 4 | 711 | 4 | POST-OP, POST-TRAUMA, OTHER DEVICE INFECTIONS W O.R. PROCEDURE SOI 4.
S | 18 | 743 | INFECTIOUS & PARASITIC DISEASES INCLUDING HIV W O.R. PROCEDURE SOI 1 | 710 | 1 | INFECTIOUS & PARASITIC DISEASES INCLUDING HIV W O.R. PROCEDURE SOI 1.
S | 18 | 744 | INFECTIOUS & PARASITIC DISEASES INCLUDING HIV W O.R. PROCEDURE SOI 2 | 710 | 2 | INFECTIOUS & PARASITIC DISEASES INCLUDING HIV W O.R. PROCEDURE SOI 2.
S | 18 | 745 | INFECTIOUS & PARASITIC DISEASES INCLUDING HIV W O.R. PROCEDURE SOI 3 | 710 | 3 | INFECTIOUS & PARASITIC DISEASES INCLUDING HIV W O.R. PROCEDURE SOI 3.
S | 18 | 746 | POST-OP, POST-TRAUMA, OTHER DEVICE INFECTIONS W O.R. PROCEDURE SOI 1 | 711 | 1 | POST-OP, POST-TRAUMA, OTHER DEVICE INFECTIONS W O.R. PROCEDURE SOI 1.
S | 18 | 747 | POST-OP, POST-TRAUMA, OTHER DEVICE INFECTIONS W O.R. PROCEDURE SOI 2 | 711 | 2 | POST-OP, POST-TRAUMA, OTHER DEVICE INFECTIONS W O.R. PROCEDURE SOI 2.
S | 18 | 748 | POST-OP, POST-TRAUMA, OTHER DEVICE INFECTIONS W O.R. PROCEDURE SOI 3 | 711 | 3 | POST-OP, POST-TRAUMA, OTHER DEVICE INFECTIONS W O.R. PROCEDURE SOI 3.
M | 18 | 749 | INFECTIOUS & PARASITIC DISEASES SOI 4 | 720 | 4 | SEPTICEMIA & DISSEMINATED INFECTIONS SOI 4.
M | 18 | 749 | INFECTIOUS & PARASITIC DISEASES SOI 4 | 721 | 4 | POST-OPERATIVE, POST-TRAUMATIC, OTHER DEVICE INFECTIONS SOI 4.
M | 18 | 749 | INFECTIOUS & PARASITIC DISEASES SOI 4 | 722 | 4 | FEVER SOI 4.
M | 18 | 749 | INFECTIOUS & PARASITIC DISEASES SOI 4 | 723 | 4 | VIRAL ILLNESS SOI 4.
M | 18 | 749 | INFECTIOUS & PARASITIC DISEASES SOI 4 | 724 | 4 | OTHER INFECTIOUS & PARASITIC DISEASES SOI 4.
M | 18 | 750 | SEPTICEMIA & DISSEMINATED INFECTIONS SOI 1 | 720 | 1 | SEPTICEMIA & DISSEMINATED INFECTIONS SOI 1.
M | 18 | 751 | SEPTICEMIA & DISSEMINATED INFECTIONS SOI 2 | 720 | 2 | SEPTICEMIA & DISSEMINATED INFECTIONS SOI 2.
M | 18 | 752 | SEPTICEMIA & DISSEMINATED INFECTIONS SOI 3 | 720 | 3 | SEPTICEMIA & DISSEMINATED INFECTIONS SOI 3.
M | 18 | 753 | POST-OPERATIVE, POST-TRAUMATIC, OTHER DEVICE INFECTIONS SOI 1 | 721 | 1 | POST-OPERATIVE, POST-TRAUMATIC, OTHER DEVICE INFECTIONS SOI 1.
M | 18 | 754 | POST-OPERATIVE, POST-TRAUMATIC, OTHER DEVICE INFECTIONS SOI 2 | 721 | 2 | POST-OPERATIVE, POST-TRAUMATIC, OTHER DEVICE INFECTIONS SOI 2.
M | 18 | 755 | POST-OPERATIVE, POST-TRAUMATIC, OTHER DEVICE INFECTIONS SOI 3 | 721 | 3 | POST-OPERATIVE, POST-TRAUMATIC, OTHER DEVICE INFECTIONS SOI 3.
M | 18 | 756 | FEVER SOI 1 | 722 | 1 | FEVER SOI 1.
M | 18 | 757 | FEVER SOI 2 | 722 | 2 | FEVER SOI 2.
M | 18 | 758 | FEVER SOI 3 | 722 | 3 | FEVER SOI 3.
M | 18 | 759 | VIRAL ILLNESS SOI 1 | 723 | 1 | VIRAL ILLNESS SOI 1.
M | 18 | 760 | VIRAL ILLNESS SOI 2 | 723 | 2 | VIRAL ILLNESS SOI 2.
M | 18 | 761 | VIRAL ILLNESS SOI 3 | 723 | 3 | VIRAL ILLNESS SOI 3.
M | 18 | 762 | OTHER INFECTIOUS & PARASITIC DISEASES SOI 1 | 724 | 1 | OTHER INFECTIOUS & PARASITIC DISEASES SOI 1.
M | 18 | 763 | OTHER INFECTIOUS & PARASITIC DISEASES SOI 2 | 724 | 2 | OTHER INFECTIOUS & PARASITIC DISEASES SOI 2.
M | 18 | 764 | OTHER INFECTIOUS & PARASITIC DISEASES SOI 3 | 724 | 3 | OTHER INFECTIOUS & PARASITIC DISEASES SOI 3.
S | 19 | 765 | MENTAL ILLNESS DIAGNOSIS W O.R. PROCEDURE SOI 1 | 740 | 1 | MENTAL ILLNESS DIAGNOSIS W O.R. PROCEDURE SOI 1.
S | 19 | 766 | MENTAL ILLNESS DIAGNOSIS W O.R. PROCEDURE SOI 2 | 740 | 2 | MENTAL ILLNESS DIAGNOSIS W O.R. PROCEDURE SOI 2.
S | 19 | 767 | MENTAL ILLNESS DIAGNOSIS W O.R. PROCEDURE SOI 3 | 740 | 3 | MENTAL ILLNESS DIAGNOSIS W O.R. PROCEDURE SOI 3.
S | 19 | 768 | MENTAL ILLNESS DIAGNOSIS W O.R. PROCEDURE SOI 4 | 740 | 4 | MENTAL ILLNESS DIAGNOSIS W O.R. PROCEDURE SOI 4.
M | 19 | 769 | MAJOR DEPRESSIVE, SCHIZOPHRENIA & BIPOLAR DISORDERS SOI 1 | 750 | 1 | SCHIZOPHRENIA SOI 1.
M | 19 | 769 | MAJOR DEPRESSIVE, SCHIZOPHRENIA & BIPOLAR DISORDERS SOI 1 | 751 | 1 | MAJOR DEPRESSIVE DISORDERS & OTHER/UNSPECIFIED PSYCHOSES SOI 1.
M | 19 | 769 | MAJOR DEPRESSIVE, SCHIZOPHRENIA & BIPOLAR DISORDERS SOI 1 | 753 | 1 | BIPOLAR DISORDERS SOI 1.
M | 19 | 770 | MAJOR DEPRESSIVE, SCHIZOPHRENIA & BIPOLAR DISORDERS SOI 2 | 750 | 2 | SCHIZOPHRENIA SOI 2.
M | 19 | 770 | MAJOR DEPRESSIVE, SCHIZOPHRENIA & BIPOLAR DISORDERS SOI 2 | 751 | 2 | MAJOR DEPRESSIVE DISORDERS & OTHER/UNSPECIFIED PSYCHOSES SOI 2.
M | 19 | 770 | MAJOR DEPRESSIVE, SCHIZOPHRENIA & BIPOLAR DISORDERS SOI 2 | 753 | 2 | BIPOLAR DISORDERS SOI 2.
M | 19 | 771 | MAJOR DEPRESSIVE, SCHIZOPHRENIA & BIPOLAR DISORDERS SOI 3 | 750 | 3 | SCHIZOPHRENIA SOI 3.
M | 19 | 771 | MAJOR DEPRESSIVE, SCHIZOPHRENIA & BIPOLAR DISORDERS SOI 3 | 751 | 3 | MAJOR DEPRESSIVE DISORDERS & OTHER/UNSPECIFIED PSYCHOSES SOI 3.
M | 19 | 771 | MAJOR DEPRESSIVE, SCHIZOPHRENIA & BIPOLAR DISORDERS SOI 3 | 753 | 3 | BIPOLAR DISORDERS SOI 3.
M | 19 | 772 | MAJOR DEPRESSIVE, SCHIZOPHRENIA & BIPOLAR DISORDERS SOI 4 | 750 | 4 | SCHIZOPHRENIA SOI 4.
M | 19 | 772 | MAJOR DEPRESSIVE, SCHIZOPHRENIA & BIPOLAR DISORDERS SOI 4 | 751 | 4 | MAJOR DEPRESSIVE DISORDERS & OTHER/UNSPECIFIED PSYCHOSES SOI 4.
M | 19 | 772 | MAJOR DEPRESSIVE, SCHIZOPHRENIA & BIPOLAR DISORDERS SOI 4 | 753 | 4 | BIPOLAR DISORDERS SOI 4.
M | 19 | 773 | ORGANIC MENTAL HEALTH DISTURBANCES SOI 1 | 757 | 1 | ORGANIC MENTAL HEALTH DISTURBANCES SOI 1.
M | 19 | 774 | ORGANIC MENTAL HEALTH DISTURBANCES SOI 2 | 757 | 2 | ORGANIC MENTAL HEALTH DISTURBANCES SOI 2.
M | 19 | 775 | ORGANIC MENTAL HEALTH DISTURBANCES SOI 3 | 757 | 3 | ORGANIC MENTAL HEALTH DISTURBANCES SOI 3.
M | 19 | 776 | ORGANIC MENTAL HEALTH DISTURBANCES SOI 4 | 757 | 4 | ORGANIC MENTAL HEALTH DISTURBANCES SOI 4.
M | 19 | 777 | OTHER MENTAL HEALTH DISORDERS SOI 1 | 752 | 1 | DISORDERS OF PERSONALITY & IMPULSE CONTROL SOI 1.
M | 19 | 777 | OTHER MENTAL HEALTH DISORDERS SOI 1 | 754 | 1 | DEPRESSION EXCEPT MAJOR DEPRESSIVE DISORDER SOI 1.
M | 19 | 777 | OTHER MENTAL HEALTH DISORDERS SOI 1 | 755 | 1 | ADJUSTMENT DISORDERS & NEUROSES EXCEPT DEPRESSIVE DIAGNOSES SOI 1.
M | 19 | 777 | OTHER MENTAL HEALTH DISORDERS SOI 1 | 756 | 1 | ACUTE ANXIETY & DELIRIUM STATES SOI 1.
M | 19 | 777 | OTHER MENTAL HEALTH DISORDERS SOI 1 | 758 | 1 | CHILDHOOD BEHAVIORAL DISORDERS SOI 1.
M | 19 | 777 | OTHER MENTAL HEALTH DISORDERS SOI 1 | 759 | 1 | EATING DISORDERS SOI 1.
M | 19 | 777 | OTHER MENTAL HEALTH DISORDERS SOI 1 | 760 | 1 | OTHER MENTAL HEALTH DISORDERS SOI 1.
M | 19 | 778 | OTHER MENTAL HEALTH DISORDERS SOI 2 | 752 | 2 | DISORDERS OF PERSONALITY & IMPULSE CONTROL SOI 2.
M | 19 | 778 | OTHER MENTAL HEALTH DISORDERS SOI 2 | 754 | 2 | DEPRESSION EXCEPT MAJOR DEPRESSIVE DISORDER SOI 2.
M | 19 | 778 | OTHER MENTAL HEALTH DISORDERS SOI 2 | 755 | 2 | ADJUSTMENT DISORDERS & NEUROSES EXCEPT DEPRESSIVE DIAGNOSES SOI 2.
M | 19 | 778 | OTHER MENTAL HEALTH DISORDERS SOI 2 | 756 | 2 | ACUTE ANXIETY & DELIRIUM STATES SOI 2.
M | 19 | 778 | OTHER MENTAL HEALTH DISORDERS SOI 2 | 758 | 2 | CHILDHOOD BEHAVIORAL DISORDERS SOI 2.
M | 19 | 778 | OTHER MENTAL HEALTH DISORDERS SOI 2 | 759 | 2 | EATING DISORDERS SOI 2.
M | 19 | 778 | OTHER MENTAL HEALTH DISORDERS SOI 2 | 760 | 2 | OTHER MENTAL HEALTH DISORDERS SOI 2.
M | 19 | 779 | OTHER MENTAL HEALTH DISORDERS SOI 3 | 752 | 3 | DISORDERS OF PERSONALITY & IMPULSE CONTROL SOI 3.
M | 19 | 779 | OTHER MENTAL HEALTH DISORDERS SOI 3 | 754 | 3 | DEPRESSION EXCEPT MAJOR DEPRESSIVE DISORDER SOI 3.
M | 19 | 779 | OTHER MENTAL HEALTH DISORDERS SOI 3 | 755 | 3 | ADJUSTMENT DISORDERS & NEUROSES EXCEPT DEPRESSIVE DIAGNOSES SOI 3.
M | 19 | 779 | OTHER MENTAL HEALTH DISORDERS SOI 3 | 756 | 3 | ACUTE ANXIETY & DELIRIUM STATES SOI 3.
M | 19 | 779 | OTHER MENTAL HEALTH DISORDERS SOI 3 | 758 | 3 | CHILDHOOD BEHAVIORAL DISORDERS SOI 3.
M | 19 | 779 | OTHER MENTAL HEALTH DISORDERS SOI 3 | 759 | 3 | EATING DISORDERS SOI 3.
M | 19 | 779 | OTHER MENTAL HEALTH DISORDERS SOI 3 | 760 | 3 | OTHER MENTAL HEALTH DISORDERS SOI 3.
M | 19 | 780 | OTHER MENTAL HEALTH DISORDERS SOI 4 | 752 | 4 | DISORDERS OF PERSONALITY & IMPULSE CONTROL SOI 4.
M | 19 | 780 | OTHER MENTAL HEALTH DISORDERS SOI 4 | 754 | 4 | DEPRESSION EXCEPT MAJOR DEPRESSIVE DISORDER SOI 4.
M | 19 | 780 | OTHER MENTAL HEALTH DISORDERS SOI 4 | 755 | 4 | ADJUSTMENT DISORDERS & NEUROSES EXCEPT DEPRESSIVE DIAGNOSES SOI 4.
M | 19 | 780 | OTHER MENTAL HEALTH DISORDERS SOI 4 | 756 | 4 | ACUTE ANXIETY & DELIRIUM STATES SOI 4.
M | 19 | 780 | OTHER MENTAL HEALTH DISORDERS SOI 4 | 758 | 4 | CHILDHOOD BEHAVIORAL DISORDERS SOI 4.
M | 19 | 780 | OTHER MENTAL HEALTH DISORDERS SOI 4 | 759 | 4 | EATING DISORDERS SOI 4.
M | 19 | 780 | OTHER MENTAL HEALTH DISORDERS SOI 4 | 760 | 4 | OTHER MENTAL HEALTH DISORDERS SOI 4.
M | 20 | 781 | DRUG & ALCOHOL ABUSE OR DEPENDENCE, LEFT AGAINST MEDICAL ADVICE SOI 1 & 2 | 770 | 1 | DRUG & ALCOHOL ABUSE OR DEPENDENCE, LEFT AGAINST MEDICAL ADVICE SOI 1.
M | 20 | 781 | DRUG & ALCOHOL ABUSE OR DEPENDENCE, LEFT AGAINST MEDICAL ADVICE SOI 1 & 2 | 770 | 2 | DRUG & ALCOHOL ABUSE OR DEPENDENCE, LEFT AGAINST MEDICAL ADVICE SOI 2.
M | 20 | 782 | DRUG & ALCOHOL ABUSE OR DEPENDENCE, LEFT AGAINST MEDICAL ADVICE SOI 3 & 4 | 770 | 3 | DRUG & ALCOHOL ABUSE OR DEPENDENCE, LEFT AGAINST MEDICAL ADVICE SOI 3.
M | 20 | 782 | DRUG & ALCOHOL ABUSE OR DEPENDENCE, LEFT AGAINST MEDICAL ADVICE SOI 3 & 4 | 770 | 4 | DRUG & ALCOHOL ABUSE OR DEPENDENCE, LEFT AGAINST MEDICAL ADVICE SOI 4.
M | 20 | 783 | DRUG ABUSE & DEPENDENCE DIAGNOSES SOI 1 | 772 | 1 | ALCOHOL & DRUG DEPENDENCE W REHAB OR REHAB/DETOX THERAPY SOI 1.
M | 20 | 783 | DRUG ABUSE & DEPENDENCE DIAGNOSES SOI 1 | 773 | 1 | OPIOID ABUSE & DEPENDENCE SOI 1.
M | 20 | 783 | DRUG ABUSE & DEPENDENCE DIAGNOSES SOI 1 | 774 | 1 | COCAINE ABUSE & DEPENDENCE SOI 1.
M | 20 | 783 | DRUG ABUSE & DEPENDENCE DIAGNOSES SOI 1 | 775 | 1 | ALCOHOL ABUSE & DEPENDENCE SOI 1.
M | 20 | 783 | DRUG ABUSE & DEPENDENCE DIAGNOSES SOI 1 | 776 | 1 | OTHER DRUG ABUSE & DEPENDENCE SOI 1.
M | 20 | 784 | DRUG ABUSE & DEPENDENCE DIAGNOSES SOI 2 | 772 | 2 | ALCOHOL & DRUG DEPENDENCE W REHAB OR REHAB/DETOX THERAPY SOI 2.
M | 20 | 784 | DRUG ABUSE & DEPENDENCE DIAGNOSES SOI 2 | 773 | 2 | OPIOID ABUSE & DEPENDENCE SOI 2.
M | 20 | 784 | DRUG ABUSE & DEPENDENCE DIAGNOSES SOI 2 | 774 | 2 | COCAINE ABUSE & DEPENDENCE SOI 2.
M | 20 | 784 | DRUG ABUSE & DEPENDENCE DIAGNOSES SOI 2 | 775 | 2 | ALCOHOL ABUSE & DEPENDENCE SOI 2.
M | 20 | 784 | DRUG ABUSE & DEPENDENCE DIAGNOSES SOI 2 | 776 | 2 | OTHER DRUG ABUSE & DEPENDENCE SOI 2.
M | 20 | 785 | DRUG ABUSE & DEPENDENCE DIAGNOSES SOI 3 | 772 | 3 | ALCOHOL & DRUG DEPENDENCE W REHAB OR REHAB/DETOX THERAPY SOI 3.
M | 20 | 785 | DRUG ABUSE & DEPENDENCE DIAGNOSES SOI 3 | 773 | 3 | OPIOID ABUSE & DEPENDENCE SOI 3.
M | 20 | 785 | DRUG ABUSE & DEPENDENCE DIAGNOSES SOI 3 | 774 | 3 | COCAINE ABUSE & DEPENDENCE SOI 3.
M | 20 | 785 | DRUG ABUSE & DEPENDENCE DIAGNOSES SOI 3 | 775 | 3 | ALCOHOL ABUSE & DEPENDENCE SOI 3.
M | 20 | 785 | DRUG ABUSE & DEPENDENCE DIAGNOSES SOI 3 | 776 | 3 | OTHER DRUG ABUSE & DEPENDENCE SOI 3.
M | 20 | 786 | DRUG ABUSE & DEPENDENCE DIAGNOSES SOI 4 | 772 | 4 | ALCOHOL & DRUG DEPENDENCE W REHAB OR REHAB/DETOX THERAPY SOI 4.
M | 20 | 786 | DRUG ABUSE & DEPENDENCE DIAGNOSES SOI 4 | 773 | 4 | OPIOID ABUSE & DEPENDENCE SOI 4.
M | 20 | 786 | DRUG ABUSE & DEPENDENCE DIAGNOSES SOI 4 | 774 | 4 | COCAINE ABUSE & DEPENDENCE SOI 4.
M | 20 | 786 | DRUG ABUSE & DEPENDENCE DIAGNOSES SOI 4 | 775 | 4 | ALCOHOL ABUSE & DEPENDENCE SOI 4.
M | 20 | 786 | DRUG ABUSE & DEPENDENCE DIAGNOSES SOI 4 | 776 | 4 | OTHER DRUG ABUSE & DEPENDENCE SOI 4.
S | 21 | 787 | O.R. PROCEDURE FOR OTHER COMPLICATIONS OF TREATMENT SOI 1 | 791 | 1 | O.R. PROCEDURE FOR OTHER COMPLICATIONS OF TREATMENT SOI 1.
S | 21 | 788 | O.R. PROCEDURE FOR OTHER COMPLICATIONS OF TREATMENT SOI 2 | 791 | 2 | O.R. PROCEDURE FOR OTHER COMPLICATIONS OF TREATMENT SOI 2.
S | 21 | 789 | O.R. PROCEDURE FOR OTHER COMPLICATIONS OF TREATMENT SOI 3 | 791 | 3 | O.R. PROCEDURE FOR OTHER COMPLICATIONS OF TREATMENT SOI 3.
S | 21 | 790 | O.R. PROCEDURE FOR OTHER COMPLICATIONS OF TREATMENT SOI 4 | 791 | 4 | O.R. PROCEDURE FOR OTHER COMPLICATIONS OF TREATMENT SOI 4.
M | 21 | 791 | INJURIES, POISONINGS & TOXIC EFFECTS OF DRUGS DIAGNOSES SOI 4 | 811 | 4 | ALLERGIC REACTIONS SOI 4.
M | 21 | 791 | INJURIES, POISONINGS & TOXIC EFFECTS OF DRUGS DIAGNOSES SOI 4 | 812 | 4 | POISONING OF MEDICINAL AGENTS SOI 4.
M | 21 | 791 | INJURIES, POISONINGS & TOXIC EFFECTS OF DRUGS DIAGNOSES SOI 4 | 813 | 4 | OTHER COMPLICATIONS OF TREATMENT SOI 4.
M | 21 | 791 | INJURIES, POISONINGS & TOXIC EFFECTS OF DRUGS DIAGNOSES SOI 4 | 815 | 4 | OTHER INJURY, POISONING & TOXIC EFFECT DIAGNOSES SOI 4.
M | 21 | 791 | INJURIES, POISONINGS & TOXIC EFFECTS OF DRUGS DIAGNOSES SOI 4 | 816 | 4 | TOXIC EFFECTS OF NON-MEDICINAL SUBSTANCES SOI 4.
M | 21 | 792 | ALLERGIC REACTIONS SOI 1 | 811 | 1 | ALLERGIC REACTIONS SOI 1.
M | 21 | 793 | ALLERGIC REACTIONS SOI 2 | 811 | 2 | ALLERGIC REACTIONS SOI 2.
M | 21 | 794 | ALLERGIC REACTIONS SOI 3 | 811 | 3 | ALLERGIC REACTIONS SOI 3.
M | 21 | 795 | POISONING OF MEDICINAL AGENTS SOI 1 | 812 | 1 | POISONING OF MEDICINAL AGENTS SOI 1.
M | 21 | 796 | POISONING OF MEDICINAL AGENTS SOI 2 | 812 | 2 | POISONING OF MEDICINAL AGENTS SOI 2.
M | 21 | 797 | POISONING OF MEDICINAL AGENTS SOI 3 | 812 | 3 | POISONING OF MEDICINAL AGENTS SOI 3.
M | 21 | 798 | OTHER COMPLICATIONS OF TREATMENT SOI 1 | 813 | 1 | OTHER COMPLICATIONS OF TREATMENT SOI 1.
M | 21 | 799 | OTHER COMPLICATIONS OF TREATMENT SOI 2 | 813 | 2 | OTHER COMPLICATIONS OF TREATMENT SOI 2.
M | 21 | 800 | OTHER COMPLICATIONS OF TREATMENT SOI 3 | 813 | 3 | OTHER COMPLICATIONS OF TREATMENT SOI 3.
M | 21 | 801 | OTHER INJURY, POISONING & TOXIC EFFECT DIAGNOSES SOI 1 | 815 | 1 | OTHER INJURY, POISONING & TOXIC EFFECT DIAGNOSES SOI 1.
M | 21 | 801 | OTHER INJURY, POISONING & TOXIC EFFECT DIAGNOSES SOI 1 | 816 | 1 | TOXIC EFFECTS OF NON-MEDICINAL SUBSTANCES SOI 1.
M | 21 | 802 | OTHER INJURY, POISONING & TOXIC EFFECT DIAGNOSES SOI 2 | 815 | 2 | OTHER INJURY, POISONING & TOXIC EFFECT DIAGNOSES SOI 2.
M | 21 | 802 | OTHER INJURY, POISONING & TOXIC EFFECT DIAGNOSES SOI 2 | 816 | 2 | TOXIC EFFECTS OF NON-MEDICINAL SUBSTANCES SOI 2.
M | 21 | 803 | OTHER INJURY, POISONING & TOXIC EFFECT DIAGNOSES SOI 3 | 815 | 3 | OTHER INJURY, POISONING & TOXIC EFFECT DIAGNOSES SOI 3.
M | 21 | 803 | OTHER INJURY, POISONING & TOXIC EFFECT DIAGNOSES SOI 3 | 816 | 3 | TOXIC EFFECTS OF NON-MEDICINAL SUBSTANCES SOI 3.
S | 22 | 804 | BURN PROCEDURES SOI 4 | 841 | 4 | EXTENSIVE 3RD DEGREE BURNS W SKIN GRAFT SOI 4.
S | 22 | 804 | BURN PROCEDURES SOI 4 | 842 | 4 | FULL THICKNESS BURNS W SKIN GRAFT SOI 4.
S | 22 | 805 | EXTENSIVE 3RD DEGREE OR FULL THICKNESS BURNS W SKIN GRAFT SOI 1 | 841 | 1 | EXTENSIVE 3RD DEGREE BURNS W SKIN GRAFT SOI 1.
S | 22 | 805 | EXTENSIVE 3RD DEGREE OR FULL THICKNESS BURNS W SKIN GRAFT SOI 1 | 842 | 1 | FULL THICKNESS BURNS W SKIN GRAFT SOI 1.
S | 22 | 806 | EXTENSIVE 3RD DEGREE OR FULL THICKNESS BURNS W SKIN GRAFT SOI 2 | 841 | 2 | EXTENSIVE 3RD DEGREE BURNS W SKIN GRAFT SOI 2.
S | 22 | 806 | EXTENSIVE 3RD DEGREE OR FULL THICKNESS BURNS W SKIN GRAFT SOI 2 | 842 | 2 | FULL THICKNESS BURNS W SKIN GRAFT SOI 2.
S | 22 | 807 | EXTENSIVE 3RD DEGREE OR FULL THICKNESS BURNS W SKIN GRAFT SOI 3 | 841 | 3 | EXTENSIVE 3RD DEGREE BURNS W SKIN GRAFT SOI 3.
S | 22 | 807 | EXTENSIVE 3RD DEGREE OR FULL THICKNESS BURNS W SKIN GRAFT SOI 3 | 842 | 3 | FULL THICKNESS BURNS W SKIN GRAFT SOI 3.
M | 22 | 808 | BURN DIAGNOSES SOI 4 | 843 | 4 | EXTENSIVE 3RD DEGREE OR FULL THICKNESS BURNS W/O SKIN GRAFT SOI 4.
M | 22 | 808 | BURN DIAGNOSES SOI 4 | 844 | 4 | PARTIAL THICKNESS BURNS W OR W/O SKIN GRAFT SOI 4.
M | 22 | 809 | EXTENSIVE 3RD DEGREE OR FULL THICKNESS BURNS W/O SKIN GRAFT SOI 1 | 843 | 1 | EXTENSIVE 3RD DEGREE OR FULL THICKNESS BURNS W/O SKIN GRAFT SOI 1.
M | 22 | 810 | EXTENSIVE 3RD DEGREE OR FULL THICKNESS BURNS W/O SKIN GRAFT SOI 2 | 843 | 2 | EXTENSIVE 3RD DEGREE OR FULL THICKNESS BURNS W/O SKIN GRAFT SOI 2.
M | 22 | 811 | EXTENSIVE 3RD DEGREE OR FULL THICKNESS BURNS W/O SKIN GRAFT SOI 3 | 843 | 3 | EXTENSIVE 3RD DEGREE OR FULL THICKNESS BURNS W/O SKIN GRAFT SOI 3.
M | 22 | 812 | PARTIAL THICKNESS BURNS W OR W/O SKIN GRAFT SOI 1 | 844 | 1 | PARTIAL THICKNESS BURNS W OR W/O SKIN GRAFT SOI 1.
M | 22 | 813 | PARTIAL THICKNESS BURNS W OR W/O SKIN GRAFT SOI 2 | 844 | 2 | PARTIAL THICKNESS BURNS W OR W/O SKIN GRAFT SOI 2.
M | 22 | 814 | PARTIAL THICKNESS BURNS W OR W/O SKIN GRAFT SOI 3 | 844 | 3 | PARTIAL THICKNESS BURNS W OR W/O SKIN GRAFT SOI 3.
S | 23 | 815 | PROCEDURE W DIAG OF REHAB, AFTERCARE OR OTH CONTACT W HEALTH SERVICE SOI 1 | 850 | 1 | PROCEDURE W DIAG OF REHAB, AFTERCARE OR OTH CONTACT W HEALTH SERVICE SOI 1.
S | 23 | 816 | PROCEDURE W DIAG OF REHAB, AFTERCARE OR OTH CONTACT W HEALTH SERVICE SOI 2 | 850 | 2 | PROCEDURE W DIAG OF REHAB, AFTERCARE OR OTH CONTACT W HEALTH SERVICE SOI 2.
S | 23 | 817 | PROCEDURE W DIAG OF REHAB, AFTERCARE OR OTH CONTACT W HEALTH SERVICE SOI 3 | 850 | 3 | PROCEDURE W DIAG OF REHAB, AFTERCARE OR OTH CONTACT W HEALTH SERVICE SOI 3.
S | 23 | 818 | PROCEDURE W DIAG OF REHAB, AFTERCARE OR OTH CONTACT W HEALTH SERVICE SOI 4 | 850 | 4 | PROCEDURE W DIAG OF REHAB, AFTERCARE OR OTH CONTACT W HEALTH SERVICE SOI 4.
M | 23 | 819 | REHABILITATION/AFTERCARE/CONVALESCENCE EXCEPT NEONATAL AFTERCARE SOI 4 | 860 | 4 | REHABILITATION SOI 4.
M | 23 | 819 | REHABILITATION/AFTERCARE/CONVALESCENCE EXCEPT NEONATAL AFTERCARE SOI 4 | 861 | 4 | SIGNS, SYMPTOMS & OTHER FACTORS INFLUENCING HEALTH STATUS SOI 4.
M | 23 | 819 | REHABILITATION/AFTERCARE/CONVALESCENCE EXCEPT NEONATAL AFTERCARE SOI 4 | 862 | 4 | OTHER AFTERCARE & CONVALESCENCE SOI 4.
M | 23 | 819 | REHABILITATION/AFTERCARE/CONVALESCENCE EXCEPT NEONATAL AFTERCARE SOI 4 | 863 | 4 | NEONATAL AFTERCARE SOI 4.
M | 23 | 820 | REHABILITATION SOI 1 | 860 | 1 | REHABILITATION SOI 1.
M | 23 | 821 | REHABILITATION SOI 2 | 860 | 2 | REHABILITATION SOI 2.
M | 23 | 822 | REHABILITATION SOI 3 | 860 | 3 | REHABILITATION SOI 3.
M | 23 | 823 | SIGNS, SYMPTOMS & OTHER FACTORS INFLUENCING HEALTH STATUS SOI 1 | 861 | 1 | SIGNS, SYMPTOMS & OTHER FACTORS INFLUENCING HEALTH STATUS SOI 1.
M | 23 | 824 | SIGNS, SYMPTOMS & OTHER FACTORS INFLUENCING HEALTH STATUS SOI 2 | 861 | 2 | SIGNS, SYMPTOMS & OTHER FACTORS INFLUENCING HEALTH STATUS SOI 2.
M | 23 | 825 | SIGNS, SYMPTOMS & OTHER FACTORS INFLUENCING HEALTH STATUS SOI 3 | 861 | 3 | SIGNS, SYMPTOMS & OTHER FACTORS INFLUENCING HEALTH STATUS SOI 3.
M | 23 | 826 | OTHER AFTERCARE & CONVALESCENCE SOI 1 | 862 | 1 | OTHER AFTERCARE & CONVALESCENCE SOI 1.
M | 23 | 826 | OTHER AFTERCARE & CONVALESCENCE SOI 1 | 863 | 1 | NEONATAL AFTERCARE SOI 1.
M | 23 | 827 | OTHER AFTERCARE & CONVALESCENCE SOI 2 | 862 | 2 | OTHER AFTERCARE & CONVALESCENCE SOI 2.
M | 23 | 827 | OTHER AFTERCARE & CONVALESCENCE SOI 2 | 863 | 2 | NEONATAL AFTERCARE SOI 2.
M | 23 | 828 | OTHER AFTERCARE & CONVALESCENCE SOI 3 | 862 | 3 | OTHER AFTERCARE & CONVALESCENCE SOI 3.
M | 23 | 828 | OTHER AFTERCARE & CONVALESCENCE SOI 3 | 863 | 3 | NEONATAL AFTERCARE SOI 3.
M | 24 | 829 | HIV DIAGNOSES SOI 4 | 890 | 4 | HIV W MULTIPLE MAJOR HIV RELATED CONDITIONS SOI 4.
M | 24 | 829 | HIV DIAGNOSES SOI 4 | 892 | 4 | HIV W MAJOR HIV RELATED CONDITION SOI 4.
M | 24 | 829 | HIV DIAGNOSES SOI 4 | 893 | 4 | HIV W MULTIPLE SIGNIFICANT HIV RELATED CONDITIONS SOI 4.
M | 24 | 829 | HIV DIAGNOSES SOI 4 | 894 | 4 | HIV W ONE SIGNIF HIV COND OR W/O SIGNIF RELATED COND SOI 4.
M | 24 | 830 | HIV W MULTIPLE MAJOR HIV RELATED CONDITIONS SOI 1 & 2 | 890 | 1 | HIV W MULTIPLE MAJOR HIV RELATED CONDITIONS SOI 1.
M | 24 | 830 | HIV W MULTIPLE MAJOR HIV RELATED CONDITIONS SOI 1 & 2 | 890 | 2 | HIV W MULTIPLE MAJOR HIV RELATED CONDITIONS SOI 2.
M | 24 | 831 | HIV W MULTIPLE MAJOR HIV RELATED CONDITIONS SOI 3 | 890 | 3 | HIV W MULTIPLE MAJOR HIV RELATED CONDITIONS SOI 3.
M | 24 | 832 | HIV W MAJOR HIV RELATED CONDITION SOI 1 & 2 | 892 | 1 | HIV W MAJOR HIV RELATED CONDITION SOI 1.
M | 24 | 832 | HIV W MAJOR HIV RELATED CONDITION SOI 1 & 2 | 892 | 2 | HIV W MAJOR HIV RELATED CONDITION SOI 2.
M | 24 | 833 | HIV W MAJOR HIV RELATED CONDITION SOI 3 | 892 | 3 | HIV W MAJOR HIV RELATED CONDITION SOI 3.
M | 24 | 834 | HIV W MULTIPLE SIGNIFICANT HIV RELATED CONDITIONS SOI 1 & 2 | 893 | 1 | HIV W MULTIPLE SIGNIFICANT HIV RELATED CONDITIONS SOI 1.
M | 24 | 834 | HIV W MULTIPLE SIGNIFICANT HIV RELATED CONDITIONS SOI 1 & 2 | 893 | 2 | HIV W MULTIPLE SIGNIFICANT HIV RELATED CONDITIONS SOI 2.
M | 24 | 835 | HIV W MULTIPLE SIGNIFICANT HIV RELATED CONDITIONS SOI 3 | 893 | 3 | HIV W MULTIPLE SIGNIFICANT HIV RELATED CONDITIONS SOI 3.
M | 24 | 836 | HIV W ONE SIGNIF HIV COND OR W/O SIGNIF RELATED COND SOI 1 | 894 | 1 | HIV W ONE SIGNIF HIV COND OR W/O SIGNIF RELATED COND SOI 1.
M | 24 | 837 | HIV W ONE SIGNIF HIV COND OR W/O SIGNIF RELATED COND SOI 2 | 894 | 2 | HIV W ONE SIGNIF HIV COND OR W/O SIGNIF RELATED COND SOI 2.
M | 24 | 838 | HIV W ONE SIGNIF HIV COND OR W/O SIGNIF RELATED COND SOI 3 | 894 | 3 | HIV W ONE SIGNIF HIV COND OR W/O SIGNIF RELATED COND SOI 3.
S | 25 | 839 | MULTIPLE SIGNIFICANT TRAUMA PROCEDURES SOI 4 | 910 | 4 | CRANIOTOMY FOR MULTIPLE SIGNIFICANT TRAUMA SOI 4.
S | 25 | 839 | MULTIPLE SIGNIFICANT TRAUMA PROCEDURES SOI 4 | 911 | 4 | EXTENSIVE ABDOMINAL/THORACIC PROCEDURES FOR MULT SIGNIFICANT TRAUMA SOI 4.
S | 25 | 839 | MULTIPLE SIGNIFICANT TRAUMA PROCEDURES SOI 4 | 912 | 4 | MUSCULOSKELETAL & OTHER PROCEDURES FOR MULTIPLE SIGNIFICANT TRAUMA SOI 4.
S | 25 | 840 | CRANIOTOMY FOR MULTIPLE SIGNIFICANT TRAUMA SOI 1 & 2 | 910 | 1 | CRANIOTOMY FOR MULTIPLE SIGNIFICANT TRAUMA SOI 1.
S | 25 | 840 | CRANIOTOMY FOR MULTIPLE SIGNIFICANT TRAUMA SOI 1 & 2 | 910 | 2 | CRANIOTOMY FOR MULTIPLE SIGNIFICANT TRAUMA SOI 2.
S | 25 | 841 | CRANIOTOMY FOR MULTIPLE SIGNIFICANT TRAUMA SOI 3 | 910 | 3 | CRANIOTOMY FOR MULTIPLE SIGNIFICANT TRAUMA SOI 3.
S | 25 | 842 | EXTENSIVE ABDOMINAL/THORACIC PROCEDURES FOR MULT SIGNIFICANT TRAUMA SOI 1 & 2 | 911 | 1 | EXTENSIVE ABDOMINAL/THORACIC PROCEDURES FOR MULT SIGNIFICANT TRAUMA SOI 1.
S | 25 | 842 | EXTENSIVE ABDOMINAL/THORACIC PROCEDURES FOR MULT SIGNIFICANT TRAUMA SOI 1 & 2 | 911 | 2 | EXTENSIVE ABDOMINAL/THORACIC PROCEDURES FOR MULT SIGNIFICANT TRAUMA SOI 2.
S | 25 | 843 | EXTENSIVE ABDOMINAL/THORACIC PROCEDURES FOR MULT SIGNIFICANT TRAUMA SOI 3 | 911 | 3 | EXTENSIVE ABDOMINAL/THORACIC PROCEDURES FOR MULT SIGNIFICANT TRAUMA SOI 3.
S | 25 | 844 | MUSCULOSKELETAL & OTHER PROCEDURES FOR MULTIPLE SIGNIFICANT TRAUMA SOI 1 & 2 | 912 | 1 | MUSCULOSKELETAL & OTHER PROCEDURES FOR MULTIPLE SIGNIFICANT TRAUMA SOI 1.
S | 25 | 844 | MUSCULOSKELETAL & OTHER PROCEDURES FOR MULTIPLE SIGNIFICANT TRAUMA SOI 1 & 2 | 912 | 2 | MUSCULOSKELETAL & OTHER PROCEDURES FOR MULTIPLE SIGNIFICANT TRAUMA SOI 2.
S | 25 | 845 | MUSCULOSKELETAL & OTHER PROCEDURES FOR MULTIPLE SIGNIFICANT TRAUMA SOI 3 | 912 | 3 | MUSCULOSKELETAL & OTHER PROCEDURES FOR MULTIPLE SIGNIFICANT TRAUMA SOI 3.
M | 25 | 846 | MULTIPLE SIGNIFICANT TRAUMA W/O O.R. PROCEDURE SOI 1 & 2 | 930 | 1 | MULTIPLE SIGNIFICANT TRAUMA W/O O.R. PROCEDURE SOI 1.
M | 25 | 846 | MULTIPLE SIGNIFICANT TRAUMA W/O O.R. PROCEDURE SOI 1 & 2 | 930 | 2 | MULTIPLE SIGNIFICANT TRAUMA W/O O.R. PROCEDURE SOI 2.
M | 25 | 847 | MULTIPLE SIGNIFICANT TRAUMA W/O O.R. PROCEDURE SOI 3 | 930 | 3 | MULTIPLE SIGNIFICANT TRAUMA W/O O.R. PROCEDURE SOI 3.
M | 25 | 848 | MULTIPLE SIGNIFICANT TRAUMA W/O O.R. PROCEDURE SOI 4 | 930 | 4 | MULTIPLE SIGNIFICANT TRAUMA W/O O.R. PROCEDURE SOI 4.
S | 25 | 987 | EXTENSIVE PROCEDURE UNRELATED TO PRINCIPAL DIAGNOSIS SOI 1 | 950 | 1 | EXTENSIVE PROCEDURE UNRELATED TO PRINCIPAL DIAGNOSIS SOI 1.
S | 25 | 988 | EXTENSIVE PROCEDURE UNRELATED TO PRINCIPAL DIAGNOSIS SOI 2 | 950 | 2 | EXTENSIVE PROCEDURE UNRELATED TO PRINCIPAL DIAGNOSIS SOI 2.
S | 25 | 989 | EXTENSIVE PROCEDURE UNRELATED TO PRINCIPAL DIAGNOSIS SOI 3 | 950 | 3 | EXTENSIVE PROCEDURE UNRELATED TO PRINCIPAL DIAGNOSIS SOI 3.
S | 25 | 990 | EXTENSIVE PROCEDURE UNRELATED TO PRINCIPAL DIAGNOSIS SOI 4 | 950 | 4 | EXTENSIVE PROCEDURE UNRELATED TO PRINCIPAL DIAGNOSIS SOI 4.
S | 25 | 991 | NON MAJOR PROCEDURE UNRELATED TO PRINCIPAL DIAGNOSIS SOI 4 | 951 | 4 | MODERATELY EXTENSIVE PROCEDURE UNRELATED TO PRINCIPAL DIAGNOSIS SOI 4.
S | 25 | 991 | NON MAJOR PROCEDURE UNRELATED TO PRINCIPAL DIAGNOSIS SOI 4 | 952 | 4 | NONEXTENSIVE PROCEDURE UNRELATED TO PRINCIPAL DIAGNOSIS SOI 4.
S | 25 | 992 | MODERATELY EXTENSIVE PROCEDURE UNRELATED TO PRINCIPAL DIAGNOSIS SOI 1 | 951 | 1 | MODERATELY EXTENSIVE PROCEDURE UNRELATED TO PRINCIPAL DIAGNOSIS SOI 1.
S | 25 | 993 | MODERATELY EXTENSIVE PROCEDURE UNRELATED TO PRINCIPAL DIAGNOSIS SOI 2 | 951 | 2 | MODERATELY EXTENSIVE PROCEDURE UNRELATED TO PRINCIPAL DIAGNOSIS SOI 2.
S | 25 | 994 | MODERATELY EXTENSIVE PROCEDURE UNRELATED TO PRINCIPAL DIAGNOSIS SOI 3 | 951 | 3 | MODERATELY EXTENSIVE PROCEDURE UNRELATED TO PRINCIPAL DIAGNOSIS SOI 3.
S | 25 | 995 | NONEXTENSIVE PROCEDURE UNRELATED TO PRINCIPAL DIAGNOSIS SOI 1 | 952 | 1 | NONEXTENSIVE PROCEDURE UNRELATED TO PRINCIPAL DIAGNOSIS SOI 1.
S | 25 | 996 | NONEXTENSIVE PROCEDURE UNRELATED TO PRINCIPAL DIAGNOSIS SOI 2 | 952 | 2 | NONEXTENSIVE PROCEDURE UNRELATED TO PRINCIPAL DIAGNOSIS SOI 2.
S | 25 | 997 | NONEXTENSIVE PROCEDURE UNRELATED TO PRINCIPAL DIAGNOSIS SOI 3 | 952 | 3 | NONEXTENSIVE PROCEDURE UNRELATED TO PRINCIPAL DIAGNOSIS SOI 3.
| 26 | 998 | PRINCIPAL DIAGNOSIS INVALID AS DISCHARGE DIAGNOSIS | 955 | 0 | PRINCIPAL DIAGNOSIS INVALID AS DISCHARGE DIAGNOSIS.
| 26 | 999 | UNGROUPABLE | 956 | 0 | UNGROUPABLE.
M = Medical.
S = Surgical.
SOI = Severity of Illness Subclass

[FR Doc. 06-3629 Filed 4-12-06; 4:22 pm]

BILLING CODE 4120-01-P